DEPARTMENT OF HOUSING AND URBAN DEVELOPMENT

[Docket No. FR-4630-N-01]

Super Notice of Funding Availability (SuperNOFA) for HUD's Housing, Community Development and Empowerment Programs and Section 8 Housing Voucher Assistance for Fiscal Year 2001

AGENCY: Office of the Secretary, HUD.

ACTION: Super Notice of Funding Availability (SuperNOFA) for HUD Grant Programs.

SUMMARY: This Fiscal Year 2001 Super Notice of Funding Availability (SuperNOFA) announces the availability of approximately $2.75 billion in HUD program funds covering 45 grant categories within programs operated and administered by HUD offices and Section 8 housing voucher assistance.

The General Section of this SuperNOFA provides the application procedures and requirements that are applicable to all the programs in this SuperNOFA. The Programs Section of this SuperNOFA provides a description of the specific programs for which funding is made available and describes any additional procedures and requirements that are applicable to a specific program. Please be sure you read both the General Section and the Program Section of this SuperNOFA to ensure you respond to all the requirements for funding.

APPLICATION DUE DATES: The information in this APPLICATION DUE DATES section applies to all programs that are part of this SuperNOFA. You, the applicant, must submit a completed application to HUD no later than the application due date established for the program for which you are seeking funding. HUD will not accept for review and evaluation any applications sent by facsimile (fax).

ADDRESSES AND APPLICATION SUBMISSION PROCEDURES: Addresses. You, the applicant, must submit a complete application to the location identified in the Programs Section of this SuperNOFA. When submitting your application, please refer to the name of the program for which you are seeking funding.

For Applications to HUD Headquarters. If your application is due to HUD Headquarters, you must send the application to the following address: Department of Housing and Urban Development, 451 Seventh Street, SW, Washington, DC 20410 (see the Program Chart or Programs Section for Room location and additional information regarding the addresses for application submission). Please make sure that you note the room number. The correct room number is very important to ensure that your application is not misdirected.

For Applications to HUD Field Offices. If your application is required to be submitted to a HUD Field Office, please see the Programs Section for the exact office location for submission of your application.

Applications Submission Procedures. Mailed Applications. Your application will be considered timely filed if your application is postmarked on or before 12:00 midnight on the application due date and received by the designated HUD Office on or within ten (10) days of the application due date.

Applications Sent by Overnight/Express Mail Delivery. If your application is sent by overnight delivery or express mail, your application will be timely filed if it is received before or on the application due date, or when you submit documentary evidence that your application was placed in transit with the overnight delivery/express mail service by no later than the application due date.

Hand Carried Applications. Hand-carried to HUD Headquarters. If your application is required to be submitted to HUD Headquarters, and you arrange for the application to be hand carried, hand carried applications delivered before and on the application due date must be brought to the specified location at HUD Headquarters and room number between the hours of 8:45 am to 5:15 pm, Eastern time. Applications hand carried on the application due date will be accepted in the South Lobby of the HUD Headquarters Building at the above address from 5:15 pm until 12:00 midnight, Eastern time. This deadline date is firm. Please make appropriate arrangements to arrive at the HUD Headquarters Building before 12:00 midnight, Eastern time, on the application due date.

Hand-carried to HUD Field Office. If your application is required to be submitted to a HUD Field Office, your application must be delivered to the appropriate HUD Field Office in accordance with the instructions specified in the Programs Section of the SuperNOFA. A hand carried application will be accepted at the specified HUD Field Office during normal business hours before the application due date. On the application due date, business hours will be extended to 6:00 pm, local time. (Appendix A-1 to this General Section of the SuperNOFA lists the HUD Field Offices. Please call to find out the hours of operation.) Please be sure to arrive at the HUD Field Office with adequate time to submit the application before the 6:00 pm deadline on the application due date.

Copies of Applications to HUD Offices. The Programs Section of this SuperNOFA may specify that to facilitate the processing and review of your application, a copy of the application also must be sent to an additional HUD location (for example, a copy to the HUD Field Office if the original application is to be submitted to HUD Headquarters, or a copy to HUD Headquarters, if the original application is to be submitted to a HUD Field Office). Please follow the directions of the Programs Section to ensure that you submit your application to the proper location. For some programs, HUD requests additional copies in order to expeditiously review your application, and to ensure that all reviewers receive complete applications to review. HUD appreciates your assistance in providing the copies. Please note that for those applications for which copies are to be submitted to the Field Offices and HUD Headquarters, timeliness of submission will be based on the time your application is received at HUD Headquarters.

FOR APPLICATION KITS, FURTHER INFORMATION AND TECHNICAL ASSISTANCE: The information in this section is applicable to all programs that are part of this SuperNOFA. This section describes how you may obtain application kits, further information about the SuperNOFA and technical assistance. A guidebook to HUD programs, titled “Connecting with Communities: A User's Guide to the HUD Programs and the 2001 SuperNOFA process” is available from the SuperNOFA Information Center and the HUD website at www.hud.gov/grants. This guidebook provides a brief description of all of HUD's programs, a description of the SuperNOFA programs, and eligible applicants for these programs, and examples of how programs can work in combination to serve local community needs. The main sources for obtaining this information are:

The SuperNOFA Information Center, which you may reach by calling 1-800-HUD-8929 or the Center's TTY number at 1-800-HUD-2209; and

HUD's web site on the Internet at http://www.hud.gov/grants.

For Application Kits and SuperNOFA User Guide. HUD is pleased to provide you with the FY 2001 application kits and/or a guidebook to all HUD programs that are part of this SuperNOFA. For some announcements of funding availability in this SuperNOFA, the process for applying for funds is so simple no application kit is required. Where this is the case, the program section for that funding will note that there is no application kit. The application kits are designed to guide you through the application process and ensure that your application addresses all requirements for the program funding you are seeking. Please note that if there is a discrepancy between information provided in the application kit and the information provided in the published SuperNOFA, the information in the published SuperNOFA prevails. Therefore, please be sure to review your application submission against the requirements in the SuperNOFA.

You may request general information and application kits from the SuperNOFA Information Center. When requesting an application kit from the SuperNOFA Information Center, please refer to the name of the program of the application kit you are interested in receiving. Please be sure to provide your name, address (including zip code), and telephone number (including area code). To ensure sufficient time to prepare your application, requests for application kits can be made immediately following publication of the SuperNOFA. The SuperNOFA Information Center opens for business simultaneously with the publication of the SuperNOFA.

The SuperNOFA Information Center (1-800-HUD-8929) can provide you with assistance, application kits, and guidance in determining which HUD Office(s) should receive a copy of your application. Persons with hearing or speech impairments may call the Center's TTY number at 1-800-HUD-2209. Additionally, you can obtain information on this SuperNOFA and application kits for this SuperNOFA through the HUD web site on the Internet at http://www.hud.gov/grants.

Consolidated Application Submissions. If you, the applicant, would like to apply for funding under more than one program in this SuperNOFA, you need only submit one originally signed SF-424 and one set of original signatures for the other standard assurances and certifications, accompanied by the matrix that is provided in each application kit. As long as you submit one originally signed set of these documents with an application, you need only submit copies of these documents with any additional application you submit. Your application should identify the program for which you have submitted the original signatures for the standard assurances and certifications. Additionally, the Programs Section may specify additional forms, certifications, assurances, or other information that may be required for a particular program in this SuperNOFA.

For Further Information. For answers to your questions about this SuperNOFA, you have several options. You may call, during business hours, the SuperNOFA Information Center at 1-800-HUD-8929, or you may contact the HUD Office or Processing Center serving your area at the telephone number listed in the application kit for the program in which you are interested. If you are a person with a hearing or speech impairment you may call the Center's TTY number at 1-800-HUD-2209. You may also obtain information on this SuperNOFA and application kits for this SuperNOFA through the HUD web site on the Internet at http://www.hud.gov/grants.

For Technical Assistance. Before the application due date, HUD staff will be available to provide you with general guidance and technical assistance about this SuperNOFA. HUD staff, however, are not permitted to assist in preparing your application. Following selection of applicants, but before awards are made, HUD staff are available to assist in clarifying or confirming information that is a prerequisite to the offer of an award or Annual Contributions Contract (ACC) by HUD.

Satellite Broadcasts. HUD will hold information broadcasts via satellite for potential applicants to learn more about the programs in this SuperNOFA and preparation of the applications. For more information about the date and time of the broadcast, you should consult the HUD web site at http://www.hud.gov/grants.

For Federal Grant Information. The Federal Financial Assistance Management Improvement Act of 1999 (Pub. L. 106-107) directs each Federal agency to develop and implement a plan that, among other things, streamlines and simplifies the application, administrative and reporting procedures for Federal financial assistance programs administered by the agency. This law also requires the Director of the Office of Management and Budget (OMB) to direct, coordinate, and assist Federal agencies in establishing: (1) a common application and reporting system; and (2) an interagency process for addressing ways to streamline and simplify Federal financial assistance application and administrative procedures and reporting requirements for program applicants.

This law also requires OMB to consult with the grantee community as it works with the Federal agencies to develop and implement the course of action that would be undertaken by the Federal agencies to establish an electronic site for accessing grant information and applications. Over the last few months, OMB has been conducting outreach sessions informing you of the goals of this new law and seeking your input as the Federal agencies work together to achieve implementation.

HUD has been an active member in the Federal agency working groups and has established a common website where you can find information about all the grant programs within HUD. You can access this site from our homepage at www.hud.gov/grants and checking on grant program inventory. This site will be linked with other Federal agencies as the grants common website develops. If you are interested in finding out more about the “Federal Commons” and the work being done by other agencies, please visit the Inter-Agency Electronic Grants Committee (IAEGC) website at www.fedcommons.gov.

INTRODUCTION TO THE FY 2001 SUPERNOFA

HUD'S FY 2001 SuperNOFA Process

Background

This year marks the fourth year that HUD is issuing a SuperNOFA for almost all of its competitive grant programs, and additional programs have been added as noted below. The SuperNOFA approach, in which the great majority of HUD's competitive funds are announced in one document, is designed to simplify the application process, bring consistency and uniformity to the application and selection process, and accelerate the availability of funding. Equally important, the SuperNOFA approach is designed to increase the ability of applicants to consider and apply for funding under a wide variety of HUD programs. The SuperNOFA provides a “menu” of HUD competitive programs. From this menu, communities will be made aware of funding available for their jurisdictions. Nonprofits, public housing agencies, local and State governments, tribal governments and tribally designated housing entities, veterans service organizations, faith-based organizations and others will be able to identify the programs for which they are eligible for funding.

The most creative and novel element of the SuperNOFA is that it places heavy emphasis on the coordination of activities assisted by HUD funds to provide (1) greater flexibility and responsiveness by potential grantees in meeting local housing and community development needs, and (2) greater flexibility for eligible applicants to determine what HUD program resources best fit the community's needs. The SuperNOFA's promotion of coordination and comprehensive planning of HUD assistance reduces duplication in the delivery of services by organizations and communities, and allows for delivery of a wider more integrated array of services, thereby resulting in more efficient use of HUD funds to more effectively serve a greater number of those most in need of HUD assistance.

Changes Made in the SuperNOFA Process for FY 2001

The FY 2001 SuperNOFA includes more grant assistance funding than in previous years and therefore further increases the ability of applicants to consider and apply for funding under a wide variety of HUD programs. Funding availability announcements that are being added to the Fiscal Year 2001 SuperNOFA are the following:

• Assisted Living Conversion Program (ALCP) for Eligible Multifamily Projects

• Community Development Block Grants for Indian Tribes and Alaska Native Villages

• Early Doctoral Research Program

• Doctoral Research Program

• HUD Urban Scholars Fellowship Program (a post doctoral program)

• Family Self-Sufficiency (FSS) Program Coordinators Program

• Healthy Homes Demonstration and Education Program (replacing the Healthy Homes Initiative Program of Fiscal Year 2000)

• Healthy Homes Research Program (replacing the program for Research to Improve the Evaluation and Control of Residential Lead-Based Paint)

• Indian Housing Drug Elimination Program

• Service Coordinators in Multifamily Housing

With respect to the program NOFA for the Community Development Block Grants for Indian Tribes and Alaska Native Villages (ICDBG), a rule that amends the regulations for this program was published on January 17, 2001 (66 FR 4578) and takes effect on April 16, 2001.

Funding availability announcements that were part of the Fiscal Year 2000 SuperNOFA but for which there will be no funding availability announcements in FY 2001 are the following:

• Public Housing Drug Elimination Technical Assistance for Safety and Security

• Outreach and Assistance Training Grants

Organization of the SuperNOFA

The SuperNOFA is divided into two major sections. The General Section of the SuperNOFA describes the procedures and requirements applicable to all applications. The Programs Section of the SuperNOFA describes each program that is part of this SuperNOFA. For each program, the Programs Section describes the eligible applicants, eligible activities, factors for award, and any additional requirements or limitations that apply to the program.

Please read carefully both the General Section and the Programs Section of the SuperNOFA for the program(s) for which you are applying. Your careful reading will ensure that you apply for program funding for which your organization is eligible to receive funds and that you fulfill all the requirements for that program(s).

As part of the simplification of this funding process, and to avoid duplication of effort, the SuperNOFA provides for consolidated applications for several of the programs that are part of this SuperNOFA. HUD programs that provide assistance for, or complement, similar activities (for example, the Continuum of Care programs and CPD Technical Assistance programs) have a consolidated application that reduces the administrative and paperwork burden applicants would otherwise encounter in submitting a separate application for each program. The Program Chart in this introductory section of the SuperNOFA identifies the programs that have been consolidated and for which a consolidated application is made available to eligible applicants.

As we did in last year's SuperNOFA, HUD is providing copies of the application forms in this publication. The standard forms, certifications and assurances applicable to all programs, or the great majority of programs, in the SuperNOFA follow the General Section as Appendix B. The forms and any additional certifications and assurances that are unique to the individual program will follow that program section of the SuperNOFA.

The specific statutory and regulatory requirements of the programs that are part of this SuperNOFA continue to apply to each program. The SuperNOFA will identify, where necessary, the statutory requirements and differences applicable to the specific programs. Please pay careful attention to the individual program requirements that are identified for each program. Note that not all applicants are eligible to receive assistance under all programs identified in this SuperNOFA.

THE PROGRAMS OF THIS SUPERNOFA AND THE AMOUNT OF FUNDS ALLOCATED

The programs that are part of this SuperNOFA are identified in the chart below. The approximate available funds for each program are based on appropriated funds, and for some programs, the available funding includes funds already recaptured. In the event (1) HUD recaptures funds (either for programs for which funding already reflects recaptured funds or other programs for which funding does not reflect recaptured funds), or (2) other funds become available for any program, HUD reserves the right to increase the available funding amount for a program by the additional amounts that become available.

The chart also includes the application due date for each program, the OMB approval number for the information collection requirements contained in the specific program, and the Catalog of Federal Domestic Assistance (CFDA) number.

BILLING CODE 4210-32-P

BILLING CODE 4210-32-C

Paperwork Reduction Act Statement. The information collection requirements in this SuperNOFA have been approved by the Office of Management and Budget (OMB) under the Paperwork Reduction Act of 1995 (44 U.S.C. 3501-3520). The chart shown above provides the OMB approval number for each program that is part of this SuperNOFA. Where the chart notes that an OMB number is pending, this means that HUD has submitted the information to OMB to obtain an approval number and HUD's request for the number is pending. As soon as HUD receives the approval number, the number will be published in the Federal Register and provided to the SuperNOFA Information Center. Under the Paperwork Reduction Act, an agency may not conduct or sponsor, and a person is not required to respond to, a collection of information unless the collection displays a valid control number.

GENERAL SECTION OF THE SUPERNOFA

I. Authority; Purposes of the FY 2001 SuperNOFA; Funding Amount; Eligible Applicants and Eligible Activities

(A) Authority. HUD's authority for making funding under this SuperNOFA is the Fiscal Year 2001 Department of Veterans Affairs and Housing and Urban Development and Independent Agencies Appropriations Act, 2001 (Pub.L. 106-377, approved October 27, 2000) (FY 2001 HUD Appropriations Act). Generally, the authority is not repeated in the individual program sections of this SuperNOFA. The authority provision of the program sections identify additional laws and regulations that authorize the requirements listed for the funding competitions that make up this SuperNOFA.

(B) Purposes. The purposes of this SuperNOFA are to:

(1) Make funding available to empower communities and residents. The funding made available by this SuperNOFA will assist community leaders and residents, particularly low-and moderate-income residents, in using HUD funds to develop viable communities and provide decent housing for all citizens, without discrimination.

(2) Simplify the application process for funding under HUD programs. For the majority of funding that is part of this year's SuperNOFA, the SuperNOFA continues to provide a single, uniform set of rating factors and submission requirements. This year's SuperNOFA also allows, as did last year's, for you, the applicant, to apply for more than one program with a single application. This year's SuperNOFA also includes funding for the Housing Choice Voucher Program that is available on a first come, first serve basis.

(3) Promote comprehensive approaches to housing and community development. Through the SuperNOFA process, HUD encourages you, the applicant, to focus on the interrelationships that exist in a community and in HUD's funding programs, and to build community-wide efforts that coordinate the resources of multiple applicants and programs. To successfully address community needs and solve community problems, and to take advantage of existing resources, HUD encourages members of a community to join together and pool all available resources in a common, coordinated effort. By making all of HUD's competitive funding available in one document, HUD allows you, the applicant, to be able to relate the activities proposed for funding under this SuperNOFA to the community's Consolidated Plan and Analysis of Impediments to Fair Housing Choice.

(C) Funding Available. As noted in the Introduction Section to the SuperNOFA, the HUD programs that are part of this SuperNOFA are allocated amounts based on appropriated funds. If HUD recaptures funds in any program, HUD reserves the right to increase the available funding amounts by the amount of funds recaptured.

(D) Restrictions on the Use of HUD Funds in Support of the Sale of Tobacco Products. Section 211 of the FY 2001 HUD Appropriations Act requires that funds appropriated to HUD may not be used to construct, operate, or otherwise benefit a facility or facilities with a designated portion of that facility which sells or intends to sell predominantly cigarettes or other tobacco products. The Act defines the predominant sale of cigarettes or other tobacco products to mean sales representing more than 35 percent of the annual total in-store, non-fuel sales.

(E) Eligible Applicants and Eligible Activities. The Programs Section of the SuperNOFA describes the eligible applicants and eligible activities for each program.

II. Requirements and Procedures Applicable to All Programs

Except as may be modified in the Programs Section of this SuperNOFA, or as noted within the specific provisions of this Section II, the requirements, procedures and principles listed below apply to all programs that are part of this SuperNOFA. Please be sure to read the Programs Section of the SuperNOFA for additional requirements or information.

(A) Statutory Requirements. To be eligible for funding under this SuperNOFA, you, the applicant, must meet all statutory and regulatory requirements applicable to the program or programs for which you are seeking funding. If you need copies of the program regulations, they are available from the SuperNOFA Information Center or through the Internet at the HUD web site located at http://www.hud.gov. Among the reasons that HUD may find an application ineligible to receive further funding consideration is if the activities or projects proposed in the application are not eligible activities and projects. In addition (with the exception of the Section 202 and Section 811 programs) HUD may eliminate the ineligible activities from funding consideration and reduce the grant amount accordingly.

(B) Threshold Requirements. (1) Compliance with Fair Housing and Civil Rights Laws. With the exception of Federally recognized Indian tribes and their instrumentalities, all applicants and their subrecipients must comply with all Fair Housing and civil rights laws, statutes, regulations and executive orders as enumerated in 24 CFR 5.105(a). If you are a Federally recognized Indian tribe, you must comply with the nondiscrimination provisions enumerated at 24 CFR 1000.12.

If you, the applicant—

(a) Have been charged with a systemic violation of the Fair Housing Act by the Secretary alleging ongoing discrimination;

(b) Are a defendant in a Fair Housing Act lawsuit filed by the Department of Justice alleging an ongoing pattern or practice of discrimination; or

(c) Have received a letter of noncompliance findings under Title VI, Section 504, or Section 109,—

HUD will not rate and rank your application under this SuperNOFA if the charge, lawsuit, or letter of findings has not been resolved to the satisfaction of the Department before the application deadline stated in the individual program NOFA. HUD's decision regarding whether a charge, lawsuit, or a letter of findings has been satisfactorily resolved will be based upon whether appropriate actions have been taken to address allegations of ongoing discrimination in the policies or practices involved in the charge, lawsuit, or letter of findings.

(2) Other Threshold Requirements. The program section for the funding for which you are applying may specify other threshold requirements. Additional threshold requirements may be identified in the discussion of “eligibility” requirements in the program section.

(C) Additional Nondiscrimination Requirements. You, the applicant and your subrecipients, must comply with the Americans with Disabilities Act of 1990 (42 U.S.C. 1201 et seq.), and Title IX of the Education Amendments Act of 1972 (20 U.S.C. 1681 et seq).

(D) Affirmatively Furthering Fair Housing. Unless otherwise specified in the Programs Section of this SuperNOFA, if you are a successful applicant, you will have a duty to affirmatively further fair housing. Again, except as may be provided otherwise in the Programs Section of this SuperNOFA, you, the applicant, should include in your application or work plan the specific steps that you will take to:

(1) Address the elimination of impediments to fair housing that were identified in the jurisdiction's Analysis of Impediments (AI) to Fair Housing Choice;

(2) Remedy discrimination in housing; or

(3) Promote fair housing rights and fair housing choice.

Further, you, the applicant, have a duty to carry out the specific activities provided in your responses to the SuperNOFA rating factors that address affirmatively furthering fair housing. Please see the Programs Section of this SuperNOFA for further information.

(E) Economic Opportunities for Low and Very Low-Income Persons (Section 3). Certain programs in this SuperNOFA require recipients of assistance to comply with section 3 of the Housing and Urban Development Act of 1968, 12 U.S.C. 1701u (Economic Opportunities for Low and Very Low-Income Persons in Connection with assisted Projects) and the HUD regulations at 24 CFR part 135, including the reporting requirements subpart E of this part. Section 3 requires recipients to ensure that, to the greatest extent feasible, training, employment and other economic opportunities will be directed to (1) low and very low income persons, particularly those who are recipients of government assistance for housing and (2) business concerns which provide economic opportunities to low-and very low-income persons. As noted in the Programs Section of this SuperNOFA, Section 3 is applicable to the following programs:

• Community Development Block Grant Program for Indian Tribes and Alaska Native Villages;

• Historically Black Colleges and Universities (HBCU);

• Hispanic-Serving Institutions Assisting Communities (HSIAC);

• Alaska Native/Native Hawaiian Institutions Assisting Communities (AN/NHIAC)

• Lead-Based Paint Hazard Control;

• Healthy Homes Demonstration and Education Program;

• Healthy Homes Research Program;

• HOPE VI Public Housing Revitalization and Demolition;

• Indian Housing Drug Elimination Program;

• Public Housing Drug Elimination Program—New Approach Anti-Drug Program

• Resident Opportunities and Self-Sufficiency Program

• Economic Development Initiative (EDI);

• Brownfields Economic Development Initiative (BEDI);

• Self-Help Homeownership Opportunity Program (SHOP);

• Youthbuild Program;

• Continuum of Care Homeless Assistance Programs;

• Housing Opportunities for Persons with AIDS (HOPWA);

• Section 202 Supportive Housing for the Elderly Program;

• Assisted Living Conversion Program;

• Section 811 Supportive Housing for Persons with Disabilities Program;

(F) Relocation. Any person (including individuals, partnerships, corporations or associations) who moves from real property or moves personal property from real property directly (1) because of a written notice to acquire real property in whole or in part, or (2) because of the acquisition of the real property, in whole or in part, for a HUD-assisted activity is covered by Federal relocation statute and regulations. Specifically, this type of move is covered by the acquisition policies and procedures and the relocation requirements of the Uniform Relocation Assistance and Real Property Acquisition Policies Act of 1970, as amended (URA), and the implementing governmentwide regulation at 49 CFR part 24. The relocation requirements of the URA and the governmentwide regulations cover any person who moves permanently from real property or moves personal property from real property directly because of acquisition, rehabilitation or demolition for an activity undertaken with HUD assistance.

(G) Forms, Certifications and Assurances. You, the applicant, are required to submit signed copies of the standard forms, certifications, and assurances listed in this section, unless the requirements in the Programs Section specify otherwise. Also, the Programs Section may specify additional forms, certifications, assurances or other information that may be required for a particular program in this SuperNOFA.

As part of HUD's continuing efforts to improve the SuperNOFA process, several of the required standard forms have been simplified this year. The standard forms, certifications, and assurances are as follows:

• Standard Form for Application for Federal Assistance (SF-424) (which includes civil rights/fair housing certification);

• Federal Assistance Funding Matrix and Certifications, HUD-424M;

• Standard Form for Budget Information—Non-Construction Programs (SF-424A) or

• Standard Form for Budget Information-Construction Programs (SF-424C), as applicable;

• Standard Form for Assurances—Non-Construction Programs (SF-424B) or

• Standard Form for Assurances—Construction Programs (SF-424D), as applicable; Drug-Free Workplace Certification (HUD-50070);

• Certification of Payments to Influence Federal Transaction (HUD-50071) and if engaged in lobbying, the Disclosure Form Regarding Lobbying (SF-LLL); (Tribes and tribally designated housing entities (TDHEs) established by an Indian tribe as a result of the exercise of the tribe's sovereign power are not required to submit this certification. Tribes and TDHEs established under State law are required to submit this certification.)

• Applicant/Recipient Disclosure/Update Report (HUD-2880);

• Certification Regarding Debarment and Suspension (HUD-2992). This is the certification required by 24 CFR 24.510. (The provisions of 24 CFR part 24 apply to the employment, engagement of services, awarding of contracts, subgrants, or funding of any recipients, or contractors or subcontractors, during any period of debarment, suspension, or placement in ineligibility status, and a certification is required.);

• Certification of Consistency with EZ/EC Strategic Plan (HUD-2990);

• Certification of Consistency with the Consolidated Plan (HUD-2991) if applicable;

• Acknowledgment of Application Receipt (HUD-2993);

• Client Comments and Suggestions (HUD 2994)

Copies of these standard forms follow this General Section of the SuperNOFA. Copies of forms that are particular to an individual program, follow the funding information for that program.

Also included in the Appendix B to the General Section is the Funding Application for the Section 8 Housing Choice Voucher Program (HUD 52515). Note that Forms SF-424A and SF-424C ask for information which is similar to the same information that is required by form HUD 4123-Cost Summary which is listed as a required form under the ICDBG program section of this SuperNOFA and which is a required application for that program. Also note that there are assurances separate from SF-424B and 424D for the ICDBG program which are specific to that program.

(H) OMB Circulars and Governmentwide Regulations Applicable to Grant Programs. Certain OMB circulars also apply to programs in this SuperNOFA. The policies, guidance, and requirements of: OMB Circular No. A-87 (Cost Principles Applicable to Grants, Contracts and Other Agreements with State and Local Governments); OMB Circular A-21 (Cost Principles for Education Institutions) OMB Circular No. A-122 (Cost Principles for Nonprofit Organizations); OMB Circular A-133 (Audits of States, Local Governments, and Non-Profit Organizations); and the regulations in 24 CFR part 84 (Grants and Agreements with Institutions of Higher Education, Hospitals, and other Non-Profit Organizations) and 24 CFR part 85 (Administrative Requirements for Grants and Cooperative Agreements to State, Local, and Federally recognized Indian tribal governments)—may apply to the award, acceptance and use of assistance under the programs of this SuperNOFA, and to the remedies for noncompliance, except when inconsistent with the provisions of the FY 2001 HUD Appropriations Act, other Federal statutes or the provisions of this SuperNOFA. Compliance with additional OMB Circulars or governmentwide regulations may be specified for a particular program in the Programs Section of the SuperNOFA. Copies of the OMB Circulars may be obtained from EOP Publications, Room 2200, New Executive Office Building, Washington, DC 20503, telephone (202) 395-7332 (this is not a toll free number) or from the website at http://whitehouse.gov/wh/eop/omb/html/circulars.

(I) Environmental Requirements. If you become a grantee under one of the programs in this SuperNOFA that assist physical development activities or property acquisition, you are generally prohibited from acquiring, rehabilitating, converting, leasing, repairing or constructing property, or committing or expending HUD or non-HUD funds for these types of program activities, until one of the following has occurred:

(1) HUD has completed an environmental review in accordance with 24 CFR part 50; or

(2) For programs subject to 24 CFR part 58, HUD has approved a grantee's Request for Release of Funds (HUD Form 7015.15) following a Responsible Entity's completion of an environmental review.

You, the applicant, should consult the Programs Section of the SuperNOFA for the applicable program to determine the procedures for, timing of, and any exclusions from environmental review under a particular program. For applicants applying for funding under the Sections 202 or 811 Programs, please note the environmental review requirements for these programs.

(J) Conflicts of Interest. If you are a consultant or expert who is assisting HUD in rating and ranking applicants for funding under this SuperNOFA, you are subject to 18 U.S.C. 208, the Federal criminal conflict of interest statute, and the Standards of Ethical Conduct for Employees of the Executive Branch regulation published at 5 CFR part 2635. As a result, if you have assisted or plan to assist applicants with preparing applications for this SuperNOFA, you may not serve on a selection panel and you may not serve as a technical advisor to HUD for this SuperNOFA. All individuals involved in rating and ranking this SuperNOFA, including experts and consultants, must avoid conflicts of interest or the appearance of conflicts. Individuals involved in the rating and ranking of applications must disclose to HUD's General Counsel or HUD's Ethics Law Division the following information if applicable: how the selection or non-selection of any applicant under this SuperNOFA will affect the individual's financial interests, as provided in 18 U.S.C. 208; or how the application process involves a party with whom the individual has a covered relationship under 5 CFR 2635.502. The individual must disclose this information prior to participating in any matter regarding this SuperNOFA. If you have questions regarding these provisions or if you have questions concerning a conflict of interest, you may call the Office of General Counsel, Ethics Law Division, at 202-708-3815 and ask to speak to one of HUD's attorneys in this division.

(K) Accessible Technology. The Rehabilitation Act Amendments of 1998 apply to all electronic information technology (EIT) used by a grantee for transmitting, receiving, using, or storing information to carry out the responsibilities of any federal grant awarded. It includes, but is not limited to, computers (hardware, software, wordprocessing, email and web pages) facsimile machines, copiers and telephones. Recipients of HUD funds when developing, procuring, maintaining or using EIT must ensure that the EIT allows (1) employees with disabilities to have access to and use information and data that is comparable to the access and use of data by employees who do not have disabilities; and (2) members of the public with disabilities seeking information or service from a grantee must have access to and use of information and data and comparable to the access and use of data by members of the public who do not have disabilities. If these standards impose on a funding recipient, they may provide an alternative means to allow the individual to use the information and data. However, no grantee will be required to provide information services to a person with disabilities at any location other than the location at which the information services is generally provided.

III. Application Selection Process

(A) Rating Panels. To review and rate your applications, HUD may establish panels. These panels may include persons not currently employed by HUD. HUD may include these non-HUD employees to obtain certain expertise and outside points of view, including views from other Federal agencies.

(1) Rating. HUD will evaluate and rate all applications for funding that meet the threshold requirements and rating factors for award described in this SuperNOFA. The rating of you, as the “applicant,” or of your organization, “the applicant's organization and staff,” for technical merit or threshold compliance will include any sub-contractors, consultants, sub-recipients, and members of consortia which are firmly committed to the project.

(2) Ranking. HUD will rank applicants within each program (or, for Continuum of Care applicants, across the three programs identified in the Continuum of Care section of this SuperNOFA). HUD will rank applicants only against other applicants that applied for the same program funding. Where there are set-asides within a program competition, you, the applicant, will compete against only those applicants in the same set-aside competition.

(B) Threshold Requirements. HUD will review your application to determine whether it meets all of the threshold requirements described in Section II(B), above. Only if your application meets all of the threshold requirements will it be eligible to be rated and ranked.

(C) Factors For Award Used To Evaluate and Rate Applications. For each program that is part of this SuperNOFA, the points awarded for the rating factors total 100. Depending upon the program for which you the applicant seek funding, the program may provide for up to four bonus points as provided in paragraphs (1) and (2) of this Section III(C).

(1) Bonus Points. The SuperNOFA provides for the award of up to two bonus points for eligible activities/projects that the applicant proposes to be located in federally designated Empowerment Zones (EZs), Enterprise Communities (ECs), Urban Enhanced Enterprise Communities (EECs), or Strategic Planning Communities and serve the residents of these federally designated areas, and are certified to be consistent with the strategic plan of these federally designated areas. (For ease of reference in the SuperNOFA, these federally designated areas are collectively referred to as “EZs/ECs” and residents of these federally designated areas as EZ/EC residents.) ¹ The individual funding announcement will indicate if the bonus points are available for that funding. The application kit contains a certification which must be completed for the applicant to be considered for EZ/EC bonus points. A list of EZs, ECs, EECs and Strategic Planning Communities is attached to this General Section of the SuperNOFA as Appendix A-2 and is also available from the SuperNOFA Information Center, through the HUD web site at http://www.hud.gov/grants.

¹ In December 1994, 72 urban areas and 33 rural communities were designated as Empowerment Zones or Enterprise Communities. These designated areas receive more than $1.5 billion in performance grants and more than $2.5 billion in tax incentives. The Taxpayers Relief Act of 1997 established a second round of designations for 15 new Empowerment Zones. Round II designees were announced in December 1998. Strategic Planning Communities are HUD designations that ranked competitively in the Round II competition but were not selected for EZ designation.

In the BEDI competition, two bonus points are available for federally designated Brownfields Show Case Communities. (Please see BEDI section of this SuperNOFA for additional information). A listing of the federally designated EZs, ECs, and Enhanced ECs and Brownfields Showcase Communities is available from the SuperNOFA Information Center, or through the HUD web site on the Internet at http://www.hud.gov/grants.

(2) Court-Ordered Consideration. For any application submitted by the City of Dallas, Texas, for funds under this SuperNOFA for which the City of Dallas is eligible to apply, HUD will consider the extent to which the strategies or plans in the city's application or applications will be used to eradicate the vestiges of racial segregation in the Dallas Housing Authority's low income housing programs. The City of Dallas should address the effect, if any, that vestiges of racial segregation in Dallas Housing Authority's low income housing programs have on potential participants in the programs covered by this NOFA, and identify proposed actions for remedying those vestiges. HUD may add up to 2 points to the score based on this consideration. This special consideration results from an order of the U.S. District Court for the Northern District of Texas, Dallas, Division. (This Section III(C)(2) is limited to applications submitted by the City of Dallas.)

(3) The Five Standard Rating Factors. The majority of programs in this SuperNOFA use the five rating factors described below. Additional details about the five rating factors listed below, and the maximum points for each factor, are provided in the Programs Section of the SuperNOFA. You, the applicant, should carefully read the factors for award as described in the Programs Section of the SuperNOFA. HUD has established these five factors as the basic factors for award in every program that is part of this SuperNOFA. For a specific HUD program, however, HUD may have modified these factors to take into account specific program needs, or statutory or regulatory limitations imposed on a program. The standard factors for award, except as modified in the program area section are:

Factor 1: Capacity of the Applicant and Relevant Organizational Staff

Factor 2: Need/Extent of the Problem

Factor 3: Soundness of Approach

Factor 4: Leveraging Resources

Factor 5: Comprehensiveness and Coordination

The Continuum of Care Homeless Assistance Programs have only two factors that receive points: Need and Continuum of Care.

(D) Negotiation. After HUD has rated and ranked all applications and has made selections, HUD may require, depending upon the program, that all winners participate in negotiations to determine the specific terms of the grant agreement and budget. In cases where HUD cannot successfully conclude negotiations with a selected applicant or a selected applicant fails to provide HUD with requested information, an award will not be made to that applicant. In this instance, HUD may offer an award to the next highest ranking applicant, and proceed with negotiations with the next highest ranking applicant.

(E) Adjustments to Funding.

(1) HUD reserves the right to fund less than the full amount requested in your application to ensure the fair distribution of the funds and to ensure that the purposes of a specific program are met.

(2) HUD will not fund any portion of your application that is not eligible for funding under specific program statutory or regulatory requirements; which does not meet the requirements of this SuperNOFA or which may be duplicative of other funded programs or activities from previous years' awards or other selected applicants. Only the eligible portions of your application (including non-duplicative portions) may be funded.

(3) If funds remain after funding the highest ranking applications, HUD may fund all or part of the next highest ranking application in a given program. If you, the applicant, turn down the award offer, HUD will make the same determination for the next highest ranking application. If funds remain after all selections have been made, remaining funds may be available for other competitions for each program where there is a balance of funds.

(4) In the event HUD commits an error that, when corrected, would result in selection of an otherwise eligible applicant during the funding round of this SuperNOFA, HUD may select that applicant when sufficient funds become available.

(F) Performance and Compliance Actions of Grantees. HUD will measure and address the performance and compliance actions of grantees in accordance with the applicable standards and sanctions of their respective programs.

IV. Application Submission Requirements

As discussed in the Introduction Section of this SuperNOFA, part of the simplification of this funding process is to reduce the duplication of effort that has been required of applicants in the past. Before the SuperNOFA process, many of HUD's applicants were required to complete and submit similar applications for HUD funded programs. As the Program Chart above shows, the FY 2001 SuperNOFA provides, as did the previous SuperNOFAs, for consolidated applications for several of the programs for which funding is available under this SuperNOFA.

V. Corrections to Deficient Applications

After the application due date, HUD may not, consistent with its regulations in 24 CFR part 4, subpart B, consider any unsolicited information you, the applicant, may want to provide. HUD may contact you, however, to clarify an item in your application or to correct technical deficiencies. You should note, however, that HUD may not seek clarification of items or responses that improve the substantive quality of your response to any rating factors. In order not to unreasonably exclude applications from being rated and ranked, HUD may, however, contact applicants to ensure proper completion of the application and will do so on a uniform basis for all applicants. Examples of curable (correctable) technical deficiencies include your failure to submit the proper certifications or your failure to submit an application that contains an original signature by an authorized official. In each case, HUD will notify you in writing by describing the clarification or technical deficiency. HUD will notify applicants by facsimile or by return receipt requested. You must submit clarifications or corrections of technical deficiencies in accordance with the information provided by HUD within 14 calendar days of the date of receipt of the HUD notification. (If the due date falls on a Saturday, Sunday, or Federal holiday, your correction must be received by HUD on the next day that is not a Saturday, Sunday, or Federal holiday.) If your deficiency is not corrected within this time period, HUD will reject your application as incomplete, and it will not be considered for funding. (Note that the Sections 202 and 811 Programs provide for appeal of rejection of an application on technical deficiency. Please see the Programs Sections for these programs for additional information and instructions.)

VI. Promoting Comprehensive Approaches to Housing and Community Development

(A) General. HUD believes the best approach for addressing community problems is through a community-based process that provides a comprehensive response to identified needs. This Section VI of the General Section of the SuperNOFA describes important initiatives that applicants should be aware of.

(B) Linking Program Activities With AmeriCorps. You are encouraged to link your proposed activities with AmeriCorps, a national service program engaging thousands of Americans on a full or part-time basis to help communities address their toughest challenges, while earning support for college, graduate school, or job training. For information about AmeriCorps, call the Corporation for National Service at (202) 606-5000, or visit the Americorps website at www.cns.gov/americorps.

(C) Linking Program Activities with USDA. In this year's SuperNOFA, HUD is working with the Department of Agriculture (USDA) to provide technical assistance to public housing authorities to develop a natural resource stewardship program to enhance the natural environment through activities such as tree planting, creating green spaces in areas devoid of vegetation and protecting areas from erosion and storm water runoff. Further information about this initiative can be found on the U.S. Forest Service website at www.fs.us/research/rvur/urban/urbanforest.html.

(D) Encouraging Visitability in New Construction and Substantial Rehabilitation Activities. In addition to applicable accessible design and construction requirements, you are encouraged to incorporate visitability standards where feasible in new construction and substantial rehabilitation projects. Visitability standards allow a person with mobility impairments access into the home, but do not require that all features be made accessible. Visitability means at least one entrance at grade (no steps), approached by an accessible route such as a sidewalk; the entrance door and all interior passage doors are at least 2 feet 10 inches wide, allowing 32 inches of clear passage space. A visitable home also serves persons without disabilities, such as a mother pushing a stroller, or a person delivering a large appliance. Copies of the Uniform Federal Accessibility Standards (UFAS) are available from the SuperNOFA Information Center (1-800-HUD-8929 or 1-800-HUD-2209 (TTY)) and also from the Office of Fair Housing and Equal Opportunity, U.S. Department of Housing and Urban Development, Room 5230, 451 Seventh Street, SW, Washington, DC 20410, telephone (202) 755-5404 or the TTY telephone number, 1-800-877 8399 (Federal Information Relay Service).

(E) Encouraging Universal Design. Universal design is the design of products and environments to be usable by all people, to the greatest extent possible, without the need for adaptation or specialized design. The intent of universal design is to simplify life for everyone by making products, communications and the built environment more usable by as many people as possible at little or no extra cost. Universal design benefits people of all ages and abilities. In addition to any applicable required accessibility features under section 504 of the Rehabilitation Act of 1973 or the design and construction requirements of the Fair Housing Act, the Department encourages applicants to incorporate the principles of universal design when developing housing, community facilities, electronic communication mechanisms, or when communicating with community residents at public meetings or events.

(F) Developing Healthy Homes. HUD's Healthy Homes Initiative is one of the initiatives developed by the White House Task Force on Environmental Health Risks and Safety Risks to Children that was established under Executive Order 13045 (“Protection of Children from Environmental Health Risks and Safety Risks”). HUD encourages the funding of activities (to the extent eligible under specific programs) that promote healthy homes, or that promote education on what is a healthy home. These activities may include, but are not limited to, the following: educating homeowners or renters about the need to protect children in their home from dangers that can arise from items such as curtain cords, electrical outlets, hot water, poisons, fire, and sharp table edges, among others; incorporating child safety measures in the construction, rehabilitation or maintenance of housing, which include but are not limited to: child safety latches on cabinets, hot water protection devices, proper ventilation and moisture control to protect from mold, window guards to protect children from falling, proper pest management to prevent cockroaches which can trigger asthma, and activities directed to control of lead-based paint hazards. The National Lead Information Hotline is 1-800-424-5323, and information is also available at the following website— www.hud.gov:80/health/safehome.html.

(G) Participation in PATH. If you are applying for funds that may be utilized for construction or rehabilitation, HUD encourages participation in Partnership for Advancing Technology in Housing (PATH). PATH's goal is to achieve dramatic improvement in the quality of American housing by the year 2010. PATH encourages leaders from the home building, product manufacturing, insurance and financial industries and representatives from federal agencies dealing with housing issues to work together to spur housing design and construction innovations. PATH has a FY 2001 budget of $10 million. PATH will provide technical support in design and cost analysis of advanced technologies to be incorporated in project construction.

Applicants should see www.pathnet.org on the Internet for more information, the list of technologies, latest PATH Newsletter, results from field demonstrations and PATH projects. Applicants are encouraged to employ PATH technologies to exceed prevailing national building practices by: reducing costs; improving durability; increasing energy efficiency; improving disaster resistance; and reducing environmental impact.

HUD's objective is to select projects funded under this SuperNOFA which demonstrate high potential opportunities for application of PATH technologies. HUD will provide technical assistance in the form of architectural, engineering and financial analysis to incorporate the specific technologies appropriate to the type of construction and climate. More information about PATH is available at the following website— www.pathnet.org/about/about.html.

(H) Bridging the Digital Divide. Bridging the Digital Divide is an initiative whose objective is to provide access to computers to low and moderate income families and children who do not have access and therefore may be disadvantaged with respect to education, work and training opportunities. HUD encourages applicants to incorporate education and job training opportunities through initiatives such as HUD's Neighborhood Networks and Twenty/20 Education communities in their programs.

(1) Neighborhood Networks. The Neighborhood Networks Initiative enhances the self-sufficiency, employability and economic self-reliance of low-income families and the elderly living in HUD insured and HUD assisted properties by providing them with on-site access to computer and training resources.

(2) The Twenty/20 Education Communities Initiative. This initiative (formerly known as Campus of Learners) is designed to transform public housing into safe and livable communities where families undertake training in new telecommunications and computer technology and partake in educational opportunities and job training initiatives.

(I) Bridging the Gap Initiative. Bridging the Gap is a HUD initiative aimed at expanding economic and skills building opportunities offered through registered apprenticeship programs in HUD assisted construction related and maintenance activities. Apprenticeship programs have a long history of providing structured, highly competent, safe and comprehensive occupational training which produces highly qualified journey level workers. Through this initiative, HUD seeks to encourage and promote the use of apprenticeship programs in programs sponsored with HUD funds and to ensure the beneficiaries of such apprenticeship programs are HUD's client community of public housing and low-and moderate-income residents of our nation's communities.

VII. Findings and Certifications

(A) Environmental Impact. A Finding of No Significant Impact with respect to the environment has been made in accordance with HUD regulations at 24 CFR part 50 that implement section 102(2)(C) of the National Environmental Policy Act of 1969 (42 U.S.C. 4332). The Finding of No Significant Impact is available for public inspection during regular business hours in the Office of the General Counsel, Regulations Division, Room 10276, U.S. Department of Housing and Urban Development, 451 Seventh Street, SW, Washington, DC 20410-0500.

(B) Executive Order 13132, Federalism. Executive Order 13132 (entitled “Federalism”) prohibits, to the extent practicable and permitted by law, an agency from promulgating policies that have federalism implications and either impose substantial direct compliance costs on State and local governments and are not required by statute, or preempt State law, unless the relevant requirements of section 6 of the Executive Order are met. This SuperNOFA does not have federalism implications and does not impose substantial direct compliance costs on State and local governments or preempt State law within the meaning of the Executive Order.

(C) Prohibition Against Lobbying Activities. You, the applicant, are subject to the provisions of section 319 of the Department of Interior and Related Agencies Appropriation Act for Fiscal Year 1991, 31 U.S.C. 1352 (the Byrd Amendment), which prohibits recipients of Federal contracts, grants, or loans from using appropriated funds for lobbying the executive or legislative branches of the Federal Government in connection with a specific contract, grant, or loan. You are required to certify, using the certification found at Appendix A to 24 CFR part 87, that you will not, and have not, used appropriated funds for any prohibited lobbying activities. In addition, you must disclose, using Standard Form LLL, “Disclosure of Lobbying Activities,” any funds, other than Federally appropriated funds, that will be or have been used to influence Federal employees, members of Congress, and congressional staff regarding specific grants or contracts. Tribes and tribally designated housing entities (TDHEs) established by an Indian tribe as a result of the exercise of the tribe's sovereign power are excluded from coverage of the Byrd Amendment, but tribes and TDHEs established under State law are not excluded from the statute's coverage.

(D) Section 102 of the HUD Reform Act; Documentation and Public Access Requirements. Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992 (57 FR 1942), HUD published a notice that also provides information on the implementation of section 102. The documentation, public access, and disclosure requirements of section 102 apply to assistance awarded under this SuperNOFA as follows:

(1) Documentation and public access requirements. HUD will ensure that documentation and other information regarding each application submitted pursuant to this SuperNOFA are sufficient to indicate the basis upon which assistance was provided or denied. This material, including any letters of support, will be made available for public inspection for a 5-year period beginning not less than 30 days after the award of the assistance. Material will be made available in accordance with the Freedom of Information Act (5 U.S.C. 552) and HUD's implementing regulations in 24 CFR part 15.

(2) Disclosures. HUD will make available to the public for 5 years all applicant disclosure reports (HUD Form 2880) submitted in connection with this SuperNOFA. Update reports (update information also reported on Form 2880) will be made available along with the applicant disclosure reports, but in no case for a period less than 3 years. All reports—both applicant disclosures and updates—will be made available in accordance with the Freedom of Information Act (5 U.S.C. 552) and HUD's implementing regulations at 24 CFR part 5.

(3) Publication of Recipients of HUD Funding. HUD's regulations at 24 CFR 4.7 provide that HUD will publish a notice in the Federal Register to notify the public of all decisions made by the Department to provide:

(i) Assistance subject to section 102(a) of the HUD Reform Act; or

(ii) Assistance that is provided through grants or cooperative agreements on a discretionary (non-formula, non-demand) basis, but that is not provided on the basis of a competition.

(E) Section 103 HUD Reform Act. HUD's regulations implementing section 103 of the Department of Housing and Urban Development Reform Act of 1989 (42 U.S.C. 3537a), codified in 24 CFR part 4, subpart B, apply to this funding competition. The regulations continue to apply until the announcement of the selection of successful applicants. HUD employees involved in the review of applications and in the making of funding decisions are limited by the regulations from providing advance information to any person (other than an authorized employee of HUD) concerning funding decisions, or from otherwise giving any applicant an unfair competitive advantage. Persons who apply for assistance in this competition should confine their inquiries to the subject areas permitted under 24 CFR part 4.

Applicants or employees who have ethics related questions should contact the HUD Ethics Law Division at (202) 708-3815. (This is not a toll-free number.) For HUD employees who have specific program questions, the employee should contact the appropriate field office counsel, or Headquarters counsel for the program to which the question pertains.

VIII. The FY 2001 SuperNOFA Process and Future HUD Funding Processes

Each year, HUD strives to improve its SuperNOFA. The FY 2001 SuperNOFA was revised based on comments received during the FY 2000 funding process. HUD continues to welcome comments and feedback from applicants and other members of the public on how HUD may further improve its competitive funding process.

The description of programs for which funding is available under this SuperNOFA follows this General Section and its appendices.

Dated: February 15, 2001.
Mel Martinez,
Secretary.

Appendix A-1.—List of Hud Field Offices
Jurisdiction | Office | Address and phone numbers
NEW ENGLAND | Boston, MA | HUD—Boston Office, O'Neil Federal Building, 10 Causeway Street, Rm. 375, Boston, MA 02222-1092, OFC PHONE (617) 565-5236
| Hartford, CT | HUD—Hartford Office, One Corporate Center, Hartford, CT 06103-3220, OFC PHONE (860) 240-4844
| Manchester, NH | HUD—Manchester Office, Norris Cotton Federal Bldg., 275 Chestnut Street, Manchester, NH 03101-2487, OFC PHONE (603) 666-7510
| Providence, RI | HUD—Providence Office, 10 Weybosset Street, Sixth Floor, Providence, RI 02903-2808, OFC PHONE (401) 528-5352
| Bangor, ME | HUD—Bangor Office, 202 Harlow Street—Chase Bldg., Suite 101, Bangor, ME 04401-4925, OFC PHONE (207) 945-0468
| Burlington, VT | HUD—Burlington Office, Room 237—Federal Building, 11 Elmwood Avenue, PO Box 879, Burlington, VT 05401-0879, OFC PHONE (802) 951-6290
NY/NEW JERSEY | New York, NY | HUD—New York Office, 26 Federal Plaza—Suite 3541, New York, NY 10278-0068, OFC PHONE (212) 264-4377
| Buffalo, NY | HUD—Buffalo Office, Lafayette Court, 5th Floor, 465 Main Street, Buffalo, NY 14203-1780, OFC PHONE (716) 551-5755
| Camden, NJ | HUD—Camden Office, 2nd Floor—Hudson Bldg., 800 Hudson Square, Camden, NJ 08102-1156, OFC PHONE (856) 757-5088
| Newark, NJ | HUD—Newark Office—13th Floor, One Newark Center, Newark, NJ 07102-5260, OFC PHONE (973) 622-7619
| Albany, NY | HUD—Albany Office, 52 Corporate Circle, Albany, NY 12203-5121, OFC PHONE (518) 464-4200
MID-ATLANTIC | Philadelphia, PA | HUD Philadelphia Office, The Wanamaker Building, 100 Penn Square, East, Philadelphia, PA 19107-3380, OFC PHONE (215) 656-0600
| Baltimore, MD | HUD Baltimore Office, 5th Floor, 10 South Howard Street, Baltimore, MD 21201-2505, OFC PHONE (410) 962-2520
| Pittsburgh, PA | HUD Pittsburgh Office, 339 Sixth Avenue—Sixth Floor, Pittsburgh, PA 15222-2515, OFC PHONE (412) 644-5945
| Washington, DC | (Office Temporarily covered), HUD Washington, DC Office, Suite 300, 820 First Street, NE., Washington, DC 20002-4205, OFC PHONE (202) 275-9200
| Richmond, VA | HUD Richmond Office, 3600 West Broad Street, Richmond, VA 23230-4920, OFC PHONE (804) 278-4500
| Charleston, WV | HUD—Charleston Office, 405 Capitol Street, Suite 708, Charleston, WV 25301-1795, OFC PHONE (304) 347-7036
| Wilmington, DE | HUD—Delaware State Office, One Rodney Square, 920 King Street, Suite 404, Wilmington, DE 19801, OFC PHONE (302) 573-6300
SOUTHEAST/CARRIBEAN | Atlanta, GA | HUD—Atlanta Office, 40 Marietta Street—Five Points Plaza, Atlanta, GA 30303-2806, OFC PHONE (404) 331-4111
| Birmingham, AL | HUD—Birmingham Office, Medical Forum Building, 950 22nd St., North, Suite 900, Birmingham, AL 35203-5301, OFC PHONE (205) 731-2630
| Louisville, KY | HUD—Louisville Office, 601 West Broadway, PO Box 1044, Louisville, KY 40201-1044, OFC PHONE (502) 582-5251
| Jackson, MS | HUD—Jackson Office, McCoy Federal Building, 100 W. Capitol Street, Room 910, Jackson, MS 39269-1096, OFC PHONE (601) 965-4700
| Memphis, TN | HUD—Memphis Office, 200 Jefferson Avenue, Suite 1200, Memphis, TN 38103-2335, OFC PHONE (901) 544-3403
| Nashville, TN | HUD—Nashville Office, 235 Cumberland Bend Drive, Suite 200, Nashville, TN 37228-1803, OFC PHONE (615) 736-5213
| Jacksonville, FL | HUD—Jacksonville Office, 301 West Bay Street, Suite 2200, Jacksonville, FL 32202-5121, OFC PHONE (904) 232-2627
| Miami, FL | HUD—Florida State Office, 909 SE First Avenue, Miami, FL 33131, OFC PHONE (305) 536-5676
| Greensboro, NC | HUD—Greensboro Office, Koger Building, 2306 West Meadowview Road, Greensboro, NC 27407-3707, OFC PHONE (336) 547-4001, 4002, 4003
| San Juan, PR | HUD—Caribbean Office, 171 Carlos E. Chardon Avenue, San Juan, PR 00918-0903, OFC PHONE (787) 766-5201
| Columbia, SC | HUD—Columbia Office, 1835 Assembly Street, Columbia, SC 29201-2430, OFC PHONE (803) 765-5592
| Knoxville, TN | HUD—Knoxville Office, 710 Locust Street, SW, Knoxville, TN 37902-2526, OFC PHONE (423) 545-4384
| Orlando, FL | HUD—Orlando Office, 3751 Maguire Boulevard, Room 270, Orlando, FL 32803-3032, OFC PHONE (407) 648-6441
| Tampa, FL | HUD—Tampa Office, 500, Zack St., #402, Tampa, FL 33602-3945, OFC PHONE (813) 228-2431
MIDWEST | Chicago, IL | HUD—Chicago Office, Ralph Metcalfe Federal Building, 77 West Jackson Boulevard, Chicago, IL 60604-3507, OFC PHONE (312) 353-5680
| Detroit, MI | HUD—Detroit Office, 477 Michigan Avenue, Detroit, MI 48226-2592, OFC PHONE (313) 226-7900
| Indianapolis, IN | HUD—Indianapolis Office, 151 North Delaware Street, Suite 1200, Indianapolis, IN 46204-2526, OFC PHONE (317) 226-7034
| Grand Rapids, MI | HUD—Grand Rapids Office, Trade Center Building, 50 Louis Street, N.W., Grand Rapids, MI 49503-2648, OFC PHONE (616) 456-2125
| Minneapolis, MN | HUD—Minneapolis Office, 220 Second Street, South, Minneapolis, MN 55401-2195, OFC PHONE (612) 370-3000
| Cincinnati, OH | HUD—Cincinnati Office, 525 Vine Street, Suite 700, Cincinnati, OH 45202-3188, OFC PHONE (513) 684-2967
| Cleveland, OH | HUD—Cleveland Office, 1350 Euclid Avenue, Suite 500, Cleveland, OH 44115-1815, OFC PHONE (216) 522-4058
| Columbus, OH | (Office Temporarily Covered), HUD—Columbus Office, 200 North High Street, Columbus, OH 43215-2499, OFC PHONE (614) 469-2540
| Milwaukee, WI | HUD—Milwaukee Office, 310 West Wisconsin Avenue, Room 1380, Milwaukee, WI 53203-2289, OFC PHONE (414) 297-3214
| Flint, MI | HUD—Flint Office, 1101 S. Saginaw Street, North Building, Flint, MI 48502-1953, OFC PHONE (810) 766-5082
| Springfield, IL | HUD—Springfield Office, 320 West Washington, 7th Floor, Springfield, IL 62707, OFC PHONE (217) 492-4120
SOUTHWEST | Fort Worth, TX | HUD—Fort Worth Office, 801 Cherry Street, PO Box 2905, Ft. Worth, TX 76113-2905, OFC PHONE (817) 978-5965
| Dallas, TX | HUD—Dallas Office, 525 Griffin Street, Room 860, Dallas, TX 75202-5007, OFC PHONE (214) 767-8300
| Albuquerque, NM | HUD—Albuquerque Office, 625 Silver Avenue SW, Suite 100, Albuquerque, NM 87102-3185, OFC PHONE (505) 346-6463
| Houston, TX | HUD—Houston Office, 2211 Norfolk, #200, Houston, TX 77098-4096, OFC PHONE (713) 313-2274
| Lubbock, TX | HUD—Lubbock Office, 1205 Texas Avenue, Rm. 511, Lubbock, TX 79401-4093, OFC PHONE (806) 472-7265
| San Antonio, TX | HUD—San Antonio Office, 800 Dolorosa, San Antonio, TX 78207-4563, OFC PHONE (210) 475-6806
| Little Rock, AR | HUD—Little Rock Office, 425 West Capitol Avenue #900, Little Rock, AR 72201-3488, OFC PHONE (501) 324-5401
| New Orleans, LA | HUD—New Orleans Office, Hale Boggs Bldg.—501 Magazine Street, 9th Floor, New Orleans, LA 70130-3099, OFC PHONE (504) 589-7201
| Shreveport, LA | HUD—Shreveport Office, 401 Edwards Street, Rm. 1510, Shreveport, LA 71101-3289, OFC PHONE (318) 676-3440
| Oklahoma City, OK | HUD—Oklahoma City Office, 500 W. Main Street, Suite 400, Oklahoma City, OK 73102-2233, OFC PHONE (405) 553-7500
| Tulsa, OK | HUD Tulsa Office, 50 East 15th Street Tulsa, OK 74119-4030, OFC PHONE (918) 581-7496
GREAT PLAINS | Kansas City, KS | HUD—Kansas City Office, 400 State Avenue, Room 200, Kansas City, KS 66101-2406, OFC PHONE (913) 551-5462
| Omaha, NE | HUD—Omaha Office, 10909 Mill Valley Road, Suite 100, Omaha, NE 68154-3955, OFC PHONE (402) 492-3103
| St. Louis, MO | HUD—St. Louis Office, 1222 Spruce Street #3207, St. Louis, MO 63103-2836, OFC PHONE (314) 539-6560
| Des Moines, IA | HUD—Des Moines Office, 210 Walnut Street, Room 239, Des Moines, IA 50309-2155, OFC PHONE (515) 284-4573
ROCKY MOUNTAINS | Denver, CO | HUD—Denver Office, 633 17th Street, 14th Floor, Denver, CO 80202-3607, OFC PHONE (303) 672-5440
| Salt Lake City, UT | HUD—Salt Lake City Office, 257 East, 200 South, Rm. 550, Salt Lake City, UT 84111-2048, OFC PHONE (801) 524-6071
| Helena, MT | HUD—Helena Office, 7 West Sixth Avenue, Power Block Building, Helena, MT 59601, OFC PHONE (406) 449-5048
| Sioux Falls, SD | HUD—Sioux Falls Office, 2400 West 49th Street, Rm. I-201, Sioux Falls, SD 57105-6558, OFC PHONE (605) 330-4223
| Fargo, ND | HUD—Fargo Office, 657 2nd Avenue North, Room 366, Fargo, ND 58108, OFC PHONE (701) 239-5040
| Casper, WY | HUD—Wyoming Office, 150 East B Street, Room 1010, Casper, WY 82601-1969, OFC PHONE (307) 261-6250
PACIFIC/HAWAII | San Francisco, CA | HUD—San Francisco Office, 450 Golden Gate Avenue, Box 36003, San Francisco, CA 94102-3448, OFC PHONE (415) 436-6532
| Honolulu, HI | HUD—Honolulu Office, 7 Waterfront Plaza, #500 Ala Moana Blvd. #500, Honolulu, HI 96813-4918, OFC PHONE (808) 522-8175
| Los Angeles, CA | HUD—Los Angeles Office, 611 W. Sixth Street, Suite 800, Los Angeles, CA 90017, OFC PHONE (213) 894-8007
| Sacramento, CA | HUD—Sacramento Office, 925 L Street, Sacramento, CA 95814, OFC PHONE (916) 498-5220
| Reno, NV | HUD—Reno Office, 3702 S. Virginia Street, Suite G-2, Reno, NV 89502-6581, OFC PHONE (775) 784-5383
| San Diego, CA | HUD—San Diego Office, Symphony Towers, 750 B Street, Suite 1600, San Diego, CA 92101-8131, OFC PHONE (619) 557-5310
| Las Vegas, NV | HUD—Las Vegas Office, 333 N. Rancho Drive-Atrium Bldg., Suite 700, Las Vegas, NV 89106-3714, OFC PHONE (702) 388-6208/6500
| Phoenix, AZ | HUD—Phoenix Office, 400 North Fifth Street, Suite 1600, Phoenix, AZ 85004-2361, OFC PHONE (602) 379-4434
| Santa Ana, CA | HUD—Santa Ana Office, 1600 N. Broadway, Suite 100, Santa Ana, CA 92706-3927, OFC PHONE (714) 796-5577
| Tucson, AZ | HUD—Tucson Office, 33 North Stone Avenue #700, Tucson, AZ 85701-1467, OFC PHONE (520) 670-6000
| Fresno, CA | HUD—Fresno Office, 2135 Fresno Street, Suite 100, Fresno, CA 93721-1718, OFC PHONE (559) 487-5032
NORTHWEST/ALASKA | Seattle, WA | HUD—Seattle Office, 909 First Avenue, Suite 200, Seattle, WA 98104-1000, OFC PHONE (206) 220-5101
| Portland, OR | HUD—Portland Office, 400 SW 6th Avenue #700, Portland, OR 97204-1632, OFC PHONE (503) 326-2561
| Anchorage, AK | HUD—Anchorage Office, 949 East 36th Avenue, Suite 401, Anchorage, AK 99508-4399, OFC PHONE (907) 271-4170
| Boise, ID | HUD—Boise Office, Suite 220, Plaza IV, 800 Park Boulevard, Boise, Idaho 83712-7743, OFC PHONE (208) 334-1990
| Spokane, WA | HUD—Spokane Office, US Courthouse Bldg., 920 W. Riverside, Suite 588, Spokane, WA 99201-1010, OFC PHONE (509) 353-0682

Appendix A-2—List of EZs, ECs, Urban Enhanced Enterprise Communities, Strategic Planning Communities

AK, Anchorage

Ms. Linda Yarbrough, Municipality of Anchorage, Department of Community Planning and Development, P.O. Box 196650, Anchorage, AK 99501, 907-343-4303 (Phone), 907-343-4220 (Fax)

Terrence Booth, Metlakatla Indian Enterprise Community, Metlakatla, AK 99926, 907-886-4441 (Phone), 907-886-7997 (Fax)

AL, Anniston

David Umling, Chambers County Enterprise Community, Anniston, AL 36202, 256-237-6741 (Phone), 256-237-6763 (Fax)

AL, Birmingham

Mr. Keith Strother, City of Birmingham, 710 N. 20th St. City Hall, Third Floor, Birmingham, AL 35203, 205-254-2870 (Phone), 205-254-7741 (Fax)

AL, Epes

John Zippert, Greene and Sumter Enterprise Community, Epes, AL 35460, 205-652-9676 (Phone), 205-652-9678 (Fax)

AR, Blytheville

Sam Scruggs, Mississippi County Enterprise Community, Blytheville, AR 72316, 870-532-2348 (Phone), 870-532-2625 (Fax)

AR, Forrest City

Robert Cole, Eastern Arkansas Enterprise Community, Forrest City, AR 72335, 870-630-2005 (Phone), 870-630-2035 (Fax)

AR, Little Rock

Mr. Henry L. McHenry, County of Pulaski, Enterprise Community Alliance, Inc., 3805 W. 12th St. Suite 205, Little Rock, AR 72204, 501-379-1543 (Phone), 501-379-1571 (Fax)

AZ, Douglas

Art Macias, Jr., Arizona Border Region Enterprise Community, Douglas, AZ 85607, 520-364-7501 (Phone), 520-364-7507 (Fax)

AZ, Nogales

Laura Ornelas, Arizona Border Region Enterprise Community, Nogales, AZ 85621, 520-287-6571 (Phone), 520-287-9159 (Fax)

AZ, Phoenix

Steve Capobres, Arizona Border Region Enterprise Community, Phoenix, AZ 85012-1920, 602-280-1365 (Phone), 602-280-1470 (Fax)

Ms. Jennifer Harper, City of Phoenix, Department of Neighborhood Services, 200 W. Washington St. Fourth Floor, Phoenix, AZ 85003-1611, 602-262-4730 (Phone), 602-534-1555 (Fax)

AZ, San Luis

Frank Carrillo, Arizona Border Region Enterprise Community, San Luis, AZ 85349, 520-627-2027 (Phone), 520-627-3879 (Fax)

AZ, Window Rock

Anthony Perry, Four Corners Enterprise Communities (Navajo Nation, Window Rock, AZ 86515, 520 871-6504 (Phone), 520-871-7381 (Fax)

CA, El Centro

Ken Hollis, Imperial County Enterprise Community, El Centro, CA 92243, 760-337-7814 (Phone), 760-337-8907 (Fax)

CA, Fresno

Becki Mendibles Central California Enterprise Community, Fresno, CA 93727, 559-452-0881 (Phone), 559-452-8038 (Fax)

CA, Indio

John Thurman, Desert Communities Empowerment Zone, Indio, CA 92201, 760-863-8225 (Phone), 760-863-7049 (Fax)

CA, Los Angeles

Ms. Alicia DeCastro, City of Los Angeles, Department of Community Development, 215 W. Sixth St., Third Floor, Los Angeles, CA 90014, 213-485-1023 (Phone), 213-847-0890 (Fax)

Mr. Robert Perez, City of Los Angeles, Department of Community Development, 215 W. Sixth St., Third Floor, Los Angeles, CA 90014, 213-485-8161 (Phone), 213-847-0890 (Fax)

CA, Oakland

Mr. Mahlon Harmon, One Stop Capital Shop, 519 17th St. Sixth Floor, Oakland, CA 94612-2032, 510-238-2353 (Phone), 510-238-7999 (Fax)

CA, San Diego,

Ms. Bonnie Contreras, City of San Diego, Division of Economic Development, 1200 Third Ave. Suite 1300, San Diego, CA 92101-3863, 619-236-6846 (Phone), 619-533-6515 (Fax)

CA, San Francisco

Ms. Anna Yee, City of San Francisco, Enterprise Community Program, 25 Van Ness Ave. Suite 700, San Francisco, CA 94102, 415-252-3130 (Phone), 415-252-3110 (Fax)

CA, Santa Ana

Ms. Shawna Lahey, City of Santa Ana, Community Development Agency, P.O. Box 1988, Santa Ana, CA 92702, 714-647-5372 (Phone), 714-647-6580 (Fax)

CA, Watsonville

Anna Espinoza, Watsonville/City of Santa Cruz Enterprise Community, Watsonville, CA 95076, 831-763-4033 (Phone), 831-761-0736 (Fax)

CO, Denver

Mr. Ernest Hughes, City and County of Denver, Community Planning and Development Agency, 216 16th St. Suite 1400, Denver, CO 80202, 720-913-1547 (Phone), 720-913-1800 (Fax)

CT, Bridgeport

Ms. Janice B. Willis, City of Bridgeport, Office of Central Grants, 999 Broad St. City Hall Annex Chase Bldg., Bridgeport, CT 06604, 203-332-5662 (Phone), 203-332-3060 (Fax)

CT, New Haven

Ms. Diana E. Edmonds, City of New Haven, Office of Business Development, 200 Orange St. Fifth Floor, New Haven, CT 06510, 203-946-7727 (Phone), 203-946-8049 (Fax)

Ms. Sherri Killins, Empower New Haven, Inc., 59 Elm St. Fourth Floor, Suite 410, New Haven, CT 06510, 203-776-2777 (Phone), 203-776-0537 (Fax)

DC, Washington

Ms. Judy Brown, Enterprise Community Programs, Office of Economic Development EZ/EC Urban Task Force, 801 N. Capitol St., Sixth Floor, Washington, DC 20002, 202-442-7205 (Phone), 202-442-7090 (Fax)

DE, Wilmington

Ms. Edwina Bell-Mitchell, Wilmington Enterprise Community/New Castle County, 800 French St. Louis L. Redding Bldg., Ninth Floor, Wilmington, DE 19801, 302-571-4472 (Phone), 302-571-4326 (Fax)

FL, Marianna

Bill Stanton, Jackson County Enterprise Community, Marianna, FL 32447, 850-526-4005 (Phone), 850-526-4008 (Fax)

Stan Whitehurst, Jackson County Enterprise Community, Marianna, FL 32447, 850-526-7669 (Phone), 850-526-4008 (Fax)

FL, Miami

Mr. Bryan K. Finnie, Miami-Dade Empowerment Trust, Inc., 140 W. Flagler St., Suite 1107, Miami, FL 33130, 305-372-7620 (Phone), 305-372-7629 (Fax)

FL, Naples

Barbara Cacchione, Empowerment Alliance of Southwest Florida EC, Naples, FL 34103, 941-649-5000 (Phone), 941-649-5337 (Fax)

FL, Tampa

Ms. Jeanette LaRussa-Fenton, City of Tampa, Department of Business and Community Services, 2105 N. Nebraska Ave. Ybor Service Center, Tampa, FL 33602-2529, 813-274-7966 (Phone), 813-274-7927 (Fax)

GA, Albany

Ms. Julie Duke, City of Albany, Office of the City Manager, P.O. Box 447, Albany, GA 31702, 229-431-3234 (Phone), 229-431-3223 (Fax)

GA, Atlanta

Ms. Charisse Richardson, Atlanta Empowerment Zone Corp., 675 Ponce De Leon Ave., N.E. City Hall East, Second Floor, Atlanta, GA 30308, 404-853-7610 (Phone), 404-853-7315 (Fax)

GA, Augusta

Hilda Alexander, CSRA Enterprise Community, Augusta, GA 30904, 706-667-4179 (Phone), 706-737-1459 (Fax)

GA, Cordele

Robert Cooke, Southwest Georgia United Empowerment Zone, Cordele, GA 31010, 912-273-9111 (Phone), 912-276-0450 (Fax)

Bambi Hayes, Southwest Georgia United Empowerment Zone, Cordele, GA 31010, 912-273-9111 (Phone), 912-276-0450 (Fax)

HI, Kaunakakai

Stacy Crivello, Molokai Enterprise Community, Kaunakakai, HI 96748, 808-553-5123 (Phone), 808-553-3735 (Fax)

Karen M. Holt, Molokai Enterprise Community, Kaunakakai, HI 96748, 808-553-3244 (Phone), 808-553-3370 (Fax)

IA, Des Moines

Ms. Caroline Gathright, City of Des Moines, Division of Neighborhood Planning, 602 E. First St., Des Moines, IA 50309, 515-283-4151 (Phone), 515-237-1713 (Fax)

IL, Chicago

Mr. Wallace Goode, City of Chicago, 20 N. Clark St., 28th Floor, Chicago, IL 60602-5086, 312-744-9623 (Phone), 312-744-9696 (Fax)

IL, E. St. Louis

Mr. Ralph Muhammed, East St. Louis Enterprise Community, 301 River Park Dr., Third Floor, E. St. Louis, IL 62201, 618-482-6642 (Phone), 618-482-6788 (Fax)

IL, Springfield

Ms. Cleatia Bowen, City of Springfield, Office of Economic Development, 231 S. Sixth St., Springfield, IL 62701, 217-789-2377 (Phone), 217-789-2380 (Fax)

IL, Ullin

Donna Raynalds, Southernmost Illinois Delta Empowerment Zone, Ullin, IL 62992, 618-634-9471 (Phone), 618-634-9452 (Fax)

IN, Austin

Donald Campbell, Town of Austin Enterprise Community, Austin, IN 47102, 812-794-2877 (Phone), 812-794-2859 (Fax)

Charlotte Mathis, Town of Austin Enterprise Community, Austin, IN 47102, 812-794-9446 (Phone), 812-794-8765 (Fax)

IN, East Chicago

Mr. John D. Artis, City of East Chicago, Department of Redevelopment and Housing Authority, P.O. Box 498, East Chicago, IN 46312-0498, 219-397-9974 (Phone), 219-397-4249 (Fax)

IN, Gary

Ms. Venus Cobb, City of Gary, Empowerment Zone Office, 840 Broadway First Floor, Gary, IN 46404, 219-886-9047 (Phone), 219-886-9051 (Fax)

IN, Hammond

Ms. Rocharda Moore-Harris, City of Hammond, Department of Planning, 649 Conkey St., Hammond, IN 46324, 219-853-6371 (Phone), 219-853-6334 (Fax)

IN, Indianapolis

Ms. Renia Colbert, City of Indianapolis, Division of Community Development and Financial Services, 200 E. Washington St., City County Bldg., Suite 1841, Indianapolis, IN 46204, 317-327-5869 (Phone), 317-327-5908 (Fax)

KS, Leoti

Sharla Krenzel, Wichita County Enterprise Community, Leoti, KS 67861, 316-375-2182 (Phone), 316-375-4350 (Fax)

Elmer Ridder, Wichita County Enterprise Community, Leoti, KS 67861, 316-375-2731 (Phone), 316-375-4350 (Fax)

KY, Bowling Green

Lisa Ryan, City of Bowling Green Enterprise Community, Bowling Green, KY 42102-0430, 270-393-3658 (Phone), 502-393-3698 (Fax)

KY, London

Jerry Rickett, Kentucky Highlands Empowerment Zone, London, KY 40743, 606-864-5175 (Phone), 606-864-5194 (Fax)

KY, Louisville

Mr. Walter Munday, City of Louisville, Empowerment Zone Community, 200 S. Seventh St., Louisville, KY 40202, 502-574-2682 (Phone), 502-574-4227 (Fax)

KY, Whitley City

Bruce Murphy, McCreary County Enterprise Community, Whitley City, KY 42653, 606-376-2413 (Phone), 606-376-9499 (Fax)

LA, Ferriday

Chip Rogers, Macon Ridge Enterprise Community, Ferriday, LA 71334, 318-757-3033 (Phone), 318-757-4212 (Fax)

LA, Monroe

Mr. Eric Loewe, Ouachita Enterprise Community, P.O. Box 4268, Monroe, LA 71211, 318-329-4031 (Phone), 318-329-4034 (Fax)

LA, New Orleans

Ms. Thelma H. French, City of New Orleans, Office of Federal and State Programs, 1300 Perdido St., Room 2E04, New Orleans, LA 70112, 504-565-6445 (Phone), 504-565-6423 (Fax)

LA, Tallulah

Moses Jr. Williams, Northeast Louisiana Delta Enterprise Community, Tallulah, LA 71282, 318-574-0995 (Phone), 318-574-3132 (Fax)

MA, Lowell

Ms. Kathy Muldoon, City of Lowell, Department of Planning and Development, 50 Arcand Dr., City Hall, JFK Civic Center Bldg., Lowell, MA 01852, 978-446-7150 (Phone), 978-446-7014 (Fax)

MA, Roxbury

Mr. Reginald Nunnally, Boston Empowerment Zone, Boston Business Assistance Center, 20 Hampdon St., Roxbury, MA 02119, 617-445-3413 (Phone), 617-445-5675 (Fax)

MA, Springfield

Mr. Miguel Rivas, City of Springfield, Department of Community Development, 36 Court St., City Hall, Room 313, Springfield, MA 01103, 413-750-2240 (Phone), 413-787-6027 (Fax)

MD, Baltimore

Ms. Diane Bell, Empower Baltimore Management Corp., 34 Market Place, Suite 800, Baltimore, MD 21202, 410-783-4400 (Phone), 410-783-0526 (Fax)

ME, Lewiston

Carole J. Ansheles, City of Lewiston Enterprise Community, Lewiston, ME 04240-7282, 207-777-5144 (Phone), 207-786-4412 (Fax)

MI, Detroit

Ms. Denise Gray, Detroit Empowerment Zone Development Corp., One Ford Place, Suite 1F, Detroit, MI 48202, 313-872-8050 (Phone), 313-872-8002 (Fax)

MI, Flint

Ms. Nancy Jurkiewicz, City of Flint, Flint Area Enterprise Community, 805 Welch Blvd., Flint, MI 48504, 810-341-1499 (Phone), 810-766-7351 (Fax)

MI, Harrison

Edward Kerr, Clare County Enterprise Community, Harrison, MI 48625-0439, 517-539-7805 (Phone), 517-539-2791 (Fax)

MI, Muskegon

Ms. Cathy Brubaker-Clarke, City of Muskegon, Department of Community and Economic Development, P.O. Box 536, Muskegon, MI 49443-0536, 231-724-6702 (Phone), 231-724-6790 (Fax)

MI, Scottville

Mary L. Trucks, Lake County Enterprise Community, Scottville, MI 49454, 616-757-3785 (Phone), 616-757-9669 (Fax)

MN, Minneapolis

Ms. Kim W. Havey, Minneapolis Empowerment Zone, 350 S. Fifth St., City Hall, Room 200, Minneapolis, MN 55415, 612-673-5415 (Phone), 612-673-3724 (Fax)

MN, St. Paul

Mr. Jeremy Lenz, City of St. Paul, Department of Planning and Economic Development, 25 W. Fourth St., 1200 City Hall Annex, St. Paul, MN 55102, 651-266-6603 (Phone), 651-228-3341 (Fax)

MO, East Prairie

Martha Ellen Black, City of East Prairie Enterprise Community, East Prairie, MO 63845, 573-649-3731 (Phone), 573-649-5028 (Fax)

MO, Kansas City

Ms. Marlene Nagel, Mid-American Regional Council (MARC), 600 Broadway 300 Rivergate Center, Kansas City, MO 64105-1554, 816-474-4240 (Phone), 816-421-7758 (Fax)

MO, St. Louis

Ms. A. Danine Lard, Greater St., Louis Regional Empowerment Zone Management, 1015 Locust St., Suite 1030, St. Louis, MO 63101, 314-622-3400 (Phone), 314-436-7983 (Fax)

MS, Itta Bena

Arthur Peyton, Mid-Delta Empowerment Zone, Itta Bena, MS 38941, 662-254-9957 (Phone), 662-254-9941 (Fax)

MS, Jackson

Mr. Roosevelt T. Sanders, Jackson Urban Enterprise Community Council, Inc., P.O. Box 10353, Jackson, MS 39289, 601-949-7879 (Phone), 601-981-2407 (Fax)

MS, Sardis

Stuart Guernsey, North Delta Enterprise Community, Sardis, MS 38666, 662-487-1968 (Phone), 662-487-0088 (Fax)

MT, Poplar

Mark Sansaver, Fort Peck Assiniboine and Sioux Tribe EC, Poplar, MT 59255, 406-768-3155 (Phone), 406-768-3581 (Fax)

NC, Charlotte

Mr. Franklin McCrary, Jr., City of Charlotte, Department of Neighborhood Development, 600 E. Trade St., Charlotte, NC 28202, 704-336-5577 (Phone), 704-336-2527 (Fax)

NC, Lumberton

Cynthia Johnson, Robeson County Enterprise Community, Lumberton, NC 28358, 910-618-0722 (Phone), 910-618-1504 (Fax)

NC, Rocky Mount

Terri Anderson, Halifax/Edgecombe/Wilson Enterprise Community, Rocky Mount, NC 27802, 252-972-1609 (Phone), 252-972-1590 (Fax)

ND, Cando

Joanne Rodenbiker, Center of North America REAP Zone, Cando, ND 58324, 701-968-3314 (Phone), 701-968-1747 (Fax)

ND, Dickenson

Shirley Brentrup, Southwest REAP Zone, Dickenson, ND 58601, 701-227-1241 (Phone),

ND, Finley

Kim Sheffield, Griggs-Steele Empowerment Zone, Finley, ND 58230, 701-524-2240 (Phone), 701-524-2241 (Fax)

NE, Omaha

Mr. Herb Patten, City of Omaha, Omaha Enterprise Community/Enterprise Zone, 2421 N. 24th St., Blue Lion Centre, Omaha, NE 68110-2282, 402-444-3514 (Phone), 402-444-3755 (Fax)

NH, Manchester

Mr. William J. Jabjiniak, City of Manchester, Department of Planning and Community Development, One City Hall Plaza, Manchester, NH 03101, 603-624-6505 (Phone), (603-624-6529 (Fax)

NJ, Bridgeton

Mr. Gerard Velasquez, Cumberland Empowerment Zone Corp., 50 E. Broad St., Bridgeton, NJ 08302, 856-459-1700 (Phone), 856-459-4099 (Fax)

NJ, Camden

Mr. Richard H. Cumming, Jr., Camden Empowerment Zone Corp., 817 Carpenter St., Hudson Square Complex, Camden, NJ 08102, 856-365-0300 (Phone), 856-365-1058 (Fax)

NJ, Newark

Ms. Angela Corbo, City of Newark, Department of Administration, 920 Broad St., City Hall, Room B-16, Newark, NJ 07102, 973-733-4331 (Phone), 973-733-3769 (Fax)

NM, Albuquerque

Ms. Sylvia Fettes, City of Albuquerque, Department of Family and Community Services, P.O. Box 1293, Albuquerque, NM 87103, 505-768-2932 (Phone), 505-768-3204 (Fax)

NM, Deming

Richard McInturff, City of Deming Enterprise Community, Deming, NM 88031, 505-546-8848 (Phone), 505-546-6442 (Fax)

John Strand, City of Deming Enterprise Community, Deming, NM 88031, 505-546-8848 (Phone), 505-546-6442 (Fax)

NM, Penasco

Ron Martinez, La Jicarita Enterprise Community, Penasco, NM 87553, 800-458-7323 (Phone), 505-587-1687 (Fax)

NV, Las Vegas

Mr. Douglas Bell, County of Clark, Department of Community Resources Management, P.O. Box 551212, Las Vegas, NV 89106-1212, 702-455-5025 (Phone), 702-455-5038 (Fax)

NY, Bronx

Ms. Maria Canales, Bronx Overall Economic Development Corp., 198 E. 161st St., Suite 201, Bronx, NY 10451, 718-590-6201 (Phone), 718-590-3499 (Fax)

NY, Buffalo

Ms. Paula Alcala Rosner, City of Buffalo, Federal Enterprise Community of Buffalo, Inc., 911 City Hall, Buffalo, NY 14202, 716-851-5032 (Phone), 716-851-4388 (Fax)

NY, Ferndale

Rick Bishop, Sullivan-Wawarsing REAP Zone, Ferndale, NY 12734, 845-295-2632 (Phone), 845-295-2633 (Fax)

NY, New York

Mr. Fernando Fernandez, Upper Manhattan Empowerment Zone Development Corp., Department of Community Affairs, 290 Lenox Ave. Third Floor, New York, NY 10027, 212-410-0030 (Phone), 212-410-9616 (Fax)

Mr. George Glatter, City of New York, Department of Business Services, 110 William St., Third Floor, New York, NY 10038, 212-513-6442 (Phone), 212-618-8987 (Fax)

Mr. James Ilako, New York EZ Corp., 633 Third Ave. 32nd Floor, New York, NY 10017, 212-803-3235 (Phone), 212-803-3294 (Fax)

Mr. Marion Phillips, III, New York Empowerment Zone Corp., 633 Third Ave. 32nd Floor, New York, NY 10017, 212-803-3240 (Phone), 212-803-3294 (Fax)

Ms. June Van Brackle, City of New York, Mayor's Office of the New York City EZ, 100 Gold St., Second Floor, New York, NY 10038, 212-788-6777 (Phone), 212-788-2718 (Fax)

NY, Newburgh

Ms. Sharon Hyder, Kingston-Newburgh Enterprise Corp., 62 Grand St., Suite 211, Newburgh, NY 12550, 914-569-1680 (Phone), 914-569-1630 (Fax)

NY, Owego

Michael Morse, Tioga County REAP Zone, Owego, NY 13827, 607-687-8254 (Phone), 607-687-1435 (Fax)

NY, Rochester

Mr. Philip Banks, City of Rochester, Department of Economic Development, 30 Church St., Room 005A, Rochester, NY 14614, 716-428-6965 (Phone), 716-428-6042 (Fax)

NY, Schenectady

Mr. Anthony Tozzi, City of Schenectady, Department of Development, Jay St., Schenectady, NY 12305, 518-382-5054 (Phone), 518-382-5275 (Fax)

OH, Akron

Mr. Jerry Egan, City of Akron, Department of Planning and Urban Development, 166 S. High St., Akron, OH 44308-1628, 330-375-2090 (Phone), 330-375-2387 (Fax)

OH, Cincinnati

Ms. Susan Paddock, City of Cincinnati, 801 Plum St., City Hall, Room 104, Cincinnati, OH 45202, 513-352-4648 (Phone), 513-352-2458 (Fax)

OH, Cleveland

Ms. Valarie McCall, Cleveland Empowerment Zone, 601 Lakeside Ave. City Hall, Room 335, Cleveland, OH 44114, 216-664-2804 (Phone), 216-420-8522 (Fax)

OH, Columbus

Mr. Jon C. Beard, Columbus Compact Corp., 1000 E. Main St., Columbus, OH 43205, 614-251-0926 (Phone), 614-251-2243 (Fax)

OH, Portsmouth

Bob Walton, Greater Portsmouth Enterprise Community, Portsmouth, OH 45662, 740-354-7541 (Phone), 740-354-3933 (Fax)

OK, Ada

Chris Fields, Tri-County Indian Nations Enterprise Community, Ada, OK 74820, 580-310-2264 (Phone), 580-436-0236 (Fax)

OK, Hugo

Bob Yandell, Southeast Oklahoma EC, Hugo, OK 74743, 580-326-3351 (Phone), 580-326-2305 (Fax)

OK, Oklahoma City

Mr. Carl D. Friend, City of Oklahoma City, Division of Community Development, 420 W. Main St., Suite 920, Oklahoma City, OK 73102, 405-297-2574 (Phone), 405-297-3796 (Fax)

OR, Cave Junction

Tena Marrington, Illinois Valley Community Response Team, Cave Junction, OR 97523, 541-592-2838 (Phone), 541-592-4106 (Fax)

OR, Portland

Ms. Regena S. Warren, County of Multnomah, 421 S.W. Sixth Ave. Suite 200, Portland, OR 97204, 503-988-3020 (Phone), 503-988-3710 (Fax)

OR, Wolf Creek

Louise Dix, Josephine County Enterprise Community, Wolf Creek, OR 97497, 541-866-2600 (Phone), 541-866-2449 (Fax)

PA, Harrisburg

Ms. Terri Martini, City of Harrisburg, Department of Building and Housing Development, Ten N. Second St., MLK City Government Center, Suite 206, Harrisburg, PA 17101-1681, 717-255-6408 (Phone), 717-255-6421 (Fax)

PA, Lock Haven

Maria Boileau, City of Lock Haven Enterprise Community, Lock Haven, PA 17745, 570-893-5907 (Phone), 570-893-5905 (Fax)

PA, Philadelphia

Ms. Eva Gladstein, City of Philadelphia, 1515 Arch St., I Pkwy. Ninth Floor, Philadelphia, PA 19103, 215-683-0462 (Phone), 215-683-0493 (Fax)

PA, Pittsburgh

Ms. Joan Blaustein, City of Pittsburgh, Department of Planning, 200 Ross St., Fourth Floor, Pittsburgh, PA 15219, 412-255-2206 (Phone), 412-255-2838 (Fax)

PA, Uniontown

Joanne Hunt, Fayette Enterprise Community, Uniontown, PA 15401, 724-437-7913 (Phone), 724-437-7315 (Fax)

RI, Providence

Ms. Kim Santos Rose, The Providence Plan, 56 Pine St., Suite 3B, Providence, RI 02903, 401-455-8880 (Phone), 401-331-6840 (Fax)

SC, Allendale

Manuel, Tammy “Lynn” Futch, Allendale County ALIVE Enterprise Community, Allendale, SC 29810, 803-584-3600 (Phone), 803-584-0700 (Fax)

Henry Lefite, Allendale County ALIVE Enterprise Community, Allendale, SC 29810, 803-584-7117 (Phone), 803-584-0700 (Fax)

SC, Charleston

Ms. Geona Shaw Johnson, City of Charleston, Department of Housing and Community Development, 75 Calhoun St., Third Floor, Charleston, SC 29401, 843-973-7285 (Phone), 843-720-3836 (Fax)

SC, Columbia

Mr. Milton Smalls, Sumter/Columbia Empowerment Zone, Department of Community Service, 1225 Laurel St., Columbia, SC 29201, 803-733-8314 (Phone), 803-733-8312 (Fax)

SC, Kingstree

John H. Whittleton, Williamsburg/Lake City Enterprise Community, Kingstree, SC 29558, 843-354-9070 (Phone), 843-354-3252 (Fax)

SC, Sumter

Mr. Talmadge Tobias, City of Sumter, P.O. Box 1449, Sumter, SC 29151-1449, 803-436-2577 (Phone), 803-436-2615 (Fax)

SD, Kyle

Head Herb Wounded, Oglala Sioux-Pine Ridge Empowerment Zone, Kyle, SD 57752, 605-455-1570 (Phone), 605-455-1571 (Fax)

SD, Yale

Lori Hintz, Beadle & Spink Enterprise Community, Yale, SD 57752, 605-599-2991 (Phone), 605-599-2992 (Fax)

TN, Huntsville

Leslie Winningham, Scott-McCreary Enterprise Community, Huntsville, TN 37756, 423-663-3280 (Phone), 423-663-3290 (Fax)

TN, Knoxville

Ms. Jeanette Kelleher, City of Knoxville, Department of Community Development, P.O. Box 1631, Knoxville, TN 37901, 865-215-2116 (Phone), 865-215-2962 (Fax)

Ms. Sherry Kelley Marshall, Partnership for Neighborhood Improvement, P.O. Box 2464, Knoxville, TN 37901, 865-251-5300 (Phone), 865-522-5085 (Fax)

TN, Memphis

Mr. Joseph C. Gibbs, City of Memphis, Business Development Center, 555 Beale St., Memphis, TN 38103-3297, 901-526-9300 (Phone), 901-525-2357 (Fax)

John Sicola, Fayette/Haywood Enterprise Community, Memphis, TN 38103, 901-545-4610 (Phone), 901-545-3519 (Fax)

TN, Nashville

Mr. Paul Johnson, Metropolitan Development and Housing Agency, Department of Community Development, 701 S. Sixth St., Nashville, TN 37206, 616-252-8543 (Phone), 615-252-8559 (Fax)

TN, Rutledge

Marvin Hammond, Clinch-Powell Enterprise Community, Rutledge, TN 37861, 865-828-5927 (Phone), 865-828-5212 (Fax)

Lindy Turner, Clinch-Powell Enterprise Community, Rutledge, TN 37861, 865-828-5927 (Phone), 865-828-5212 (Fax)

TX, Dallas

Mr. Mark G. Obeso, City of Dallas, Department of Housing, 1500 Marilla St., Suite 6D N., Dallas, TX 75201, 214-670-3601 (Phone), 214-670-0156 (Fax)

TX, El Paso

Ms. Cecilia Vazquez, El Paso Empowerment Zone, 201 S. Main St., Suite 1603, El Paso, TX 79901, 915-351-1680 (Phone), 915-351-1679 (Fax)

TX, Houston

Ms. Judith Garrett Butler, City of Houston, Office of the Mayor, P.O. Box 1562, Houston, TX 77252-1562, 713-247-2666 (Phone), 713-247-3985 (Fax)

TX, Mercedes

Yvonne “Bonnie” Gonzalez, Rio Grande Valley Empowerment Zone, Mercedes, TX 78570, 956-514-4000 (Phone), 956-514-4007 (Fax)

TX, San Antonio

Mr. Curley Spears, City of San Antonio, Department of Housing and Community Development, 419 S. Main St., Suite 200, San Antonio, TX 78204, 210-207-6605 (Phone), 210-886-0006 (Fax)

TX, Uvalde

Tammye Carpinteyro, Futuro Enterprise Community, Uvalde, TX 78801, 830-278-6817 (Phone), 830-278-6905 (Fax)

TX, Waco

Mr. George Johnson, Jr., City of Waco, 300 Austin Ave., Waco, TX 76701-2570, 254-750-5640 (Phone), 254-750-5880 (Fax)

UT, Blanding

Larry Rogers, Four Corners Enterprise Community, Blanding, UT 84511, 435-678-1468 (Phone), 435-678-1464 (Fax)

UT, Ogden

Ms. Karen Thurber, City of Ogden, Department of Neighborhood Development, 2484 Washington Blvd. Suite 211, Ogden, UT 84401, 801-629-8943 (Phone), 801-629-8902 (Fax)

VA, Nassawadox

Arthur Carter, Accomack/Northampton Enterprise Community, Nassawadox, VA 23413, 757-442-4509 (Phone), 757-442-7530 (Fax)

VA, Norfolk

Mr. Landis Faulcon, Norfolk Works, Inc., Empowerment 2010, 201 Granby St., Suite 100A, Norfolk, VA 23510, 757-624-8650 (Phone), 757-622-4623 (Fax)

VT, Burlington

Ms. Margaret Bozik, City of Burlington, Office of Community and Economic Development, 149 Church St., City Hall, Room 32, Burlington, VT 05401, 802-865-7171 (Phone), 802-865-7024 (Fax)

WA, Colville

Martin E. Wold, Five Star Enterprise Community, Colville, WA 99114, 509-684-4571 (Phone), 509-684-4788 (Fax)

WA, Seattle

Mr. Ben Wolters, City of Seattle, Office of Economic Development, 600 Fourth Ave., Seattle Municipal Bldg., Room 205, Seattle, WA 98104-1826, 206-684-8591 (Phone), 206-684-0379 (Fax)

WA, Sunnyside

Mike Gregory, Lower Yakima County Enterprise Community, Sunnyside, WA 98944, 509-839-6847 (Phone), 509-839-7462 (Fax)

WA, Tacoma

Dr. Shirl E. Gilbert, III, Tacoma Urban League, 2550 S. Yakima Ave., Tacoma, WA 98405, 253-383-2007 (Phone), 253-383-4818 (Fax)

Ms. Cynthia Spry, Tacoma/Pierce County Chamber of Commerce, P.O. Box 1933, Tacoma, WA 98401-1933, 253-627-2175 (Phone), 253-597-7305 (Fax)

WI, Lac du Flambeau

Karlene Zajicek, Northwoods NiiJii Enterprise Community, Lac du Flambeau, WI 54135, 715-588-3303 (Phone), 715-588-9408 (Fax)

WI, Milwaukee

Mr. Glen Mattison, City of Milwaukee, Community Block Grant Administration, 200 E. Wells St., City Hall, Room 606, Milwaukee, WI 53202, 414-286-3760 (Phone), 414-286-5003 (Fax)

WV, Charleston

Ben Newhouse, Upper Kanawha Valley Enterprise Community, Charleston, WV 25301, 304-340-7060 (Phone), 304-343-3774 (Fax)

WV, Clay

Jerry Sizemore, Central Appalachia Enterprise Community, Clay, WV 25043, 304-587-2034 (Phone), 304-587-2027 (Fax)

WV, Huntington

Ms. Cathy Burns, Huntington WV/Ironton OH Empowerment Zone Inc., P.O. Box 1659, Huntington, WV 25717, 304-696-5533 (Phone), 304-696-4465 (Fax)

WV, Wilcoe

Dr. Clif Moore, McDowell County Enterprise Community, Wilcoe, WV 24895, 304-448-2118 (Phone), 304-448-3287 (Fax)

Appendix B

This appendix to the General Section of the SuperNOFA contains the standard forms, certifications and assurances used by the majority if not all of the programs that are part of the SuperNOFA.

BILLING CODE 4210-32-P

FUNDING AVAILABILITY FOR COMMUNITY DEVELOPMENT TECHNICAL ASSISTANCE (CD-TA) PROGRAMS—CHDO, HOME, McKINNEY-VENTO ACT HOMELESS ASSISTANCE AND HOPWA

Program Overview

Purpose of the Program. The purposes of the technical assistance programs in this SuperNOFA are:

CHDO Technical Assistance. To promote the ability of Community Housing Development Organizations (CHDOs) to maintain, rehabilitate and construct housing for low-income and moderate-income families and to effectively use HOME program funds and other sources of funding to produce affordable housing; facilitate the education of low-income homeowners and tenants; and help women who reside in low- and moderate-income neighborhoods to rehabilitate and construct housing in these neighborhoods.

HOME Technical Assistance. To help HOME participating jurisdictions design and implement HOME programs, including: improving their ability to design and implement housing strategies and incorporate energy efficiency into affordable housing; facilitating the exchange of information to help participating jurisdictions carry out their programs; facilitating the establishment and efficient operation of employer-assisted housing programs and land bank programs; and encouraging private lenders and for-profit developers of low-income housing to participate in public-private partnerships.

McKinney-Vento Act Homeless Assistance Programs Technical Assistance. To provide applicants, potential applicants, grantees, and project sponsors for McKinney-Vento Act funded Emergency Shelter Grants, Supportive Housing Program, Section 8 Moderate Rehabilitation Single Room Occupancy and Shelter Plus Care projects with technical assistance to promote the development of housing and supportive services as part of the Continuum of Care approach, including innovative approaches to assist homeless persons in the transition from homelessness, and to enable them to live as independently as possible.

Housing Opportunities for Persons with AIDS (HOPWA). To train HOPWA grantees, project sponsors, and potential recipients of program funds in comprehensive housing strategies and responsive area programs that assist residents who are living with HIV/AIDS; in the sound management of HOPWA programs to support program operations in an efficient and effective manner, including undertaking community consultations, program planning, housing development and operations, program evaluation and reporting on accomplishments; and to build the capacity of nonprofit organizations to carry out activities as HOPWA project sponsors.

Available Funds. Up to $21.18 million is available for the four CD-TA programs.

Eligible Applicants. Specific eligibility requirements for the four CD-TA programs are found below in Section III(C). Forty percent of the CHDO, HOME and McKinney-Vento Act Homeless Assistance technical assistance funds is limited to qualified providers who have not previously received a CPD technical assistance award. This limitation is not applicable to HOPWA technical assistance.

Application Deadline. May 22, 2001.

Match. None.

Additional Information

If you are interested in applying for funding under this program, please review carefully the General Section of this SuperNOFA and the following additional information.

I. Application Due Date, Application Kits, Further Information, and Technical Assistance

Application Due Date. Submit your completed applications (an original and one copy) on or before 12:00 midnight, Eastern time, on May 22, 2001, at the address shown below.

The original application that you submit to Headquarters is considered the official application. Send a copy of your application on or before the application deadline date to the HUD CPD Field Office(s) in which you are seeking to provide services. Only one application per applicant is permitted; however, one application can include as few as one or as many as all four CD-TA programs.

See the General Section of this SuperNOFA for specific procedures governing the form of application submission (e.g., mailed applications, express mail, overnight delivery, or hand carried).

Addresses for Submitting Applications. HUD Headquarters. Your completed application consists of one original application and one copy. Submit your original application to HUD Headquarters, U.S. Department of Housing and Urban Development, CPD Processing and Control Branch, Room 7251, 451 Seventh Street, SW, Washington, DC 20410.

Copy to Field Office. Send a copy of the application to the appropriate CPD Field Office(s) at the address shown on the list of HUD CPD Field Offices included in the application kit.

When submitting your application, please refer to the Community Development Technical Assistance Program. Be sure to include your name, mailing address (including zip code), telephone number (including area code), and fax number (including area code).

For Application Kits. For an application kit and any supplemental information, please call the SuperNOFA Information Center at 1-800-HUD-8929. Persons with hearing or speech impairments may call the Center's TTY number at 1-800-HUD-2209. When requesting an application kit, please refer to “Community Development Technical Assistance Programs or CD-TA.” Please be sure to provide your name, address (including zip code), telephone number (including area code), and fax number (including area code).

For Further Information and Technical Assistance. You may contact the HUD CPD Office serving your area at the telephone number listed in the list of HUD CPD Field Offices included in the application kit, or you may contact Penny McCormack at 202-708-3176, x4391 in HUD Headquarters. Information on this SuperNOFA also may be obtained through the HUD web site on the Internet at http://www/HUD.gov/grants.

Satellite Broadcast. HUD will hold an information broadcast via satellite for potential applicants to learn more about the program and preparation of the application. For more information about the date and time of the broadcast, you should consult the HUD web site at http://www/hud.gov/grants

II. Amount Allocated

(A) The amounts allocated for each CD-TA program are as follows:

CHDO TA funds:

up to $7,600,000 Total

$3,200,000 Single State

$4,400,000 Multi-State

HOME TA funds:

up to $8,000,000

McKinney-Vento Act Homeless Assistance Programs TA funds:

up to $3,000,000

HOPWA TA funds:

up to $2,580,000

(B) Each HUD/CPD Field Office has been allocated a “fair-share” of CD-TA funds for purposes of this competition, except for the HOPWA TA funds which will be awarded only through a national competition (see CD-TA Appendix A for the fair share allocations). The amounts are based on allocations of HOME and McKinney-Vento Act Homeless Assistance formula funds and competitive programs for which Field Offices have management oversight. These amounts are only for guidance purposes for you to develop your program budgets by Field Office jurisdiction and are not the exact amounts to be awarded to you in each area.

HUD will determine the total amount to be awarded to any provider based upon the size and needs of the provider's service area within each Field Office jurisdiction in which the provider is selected to operate, the funds available for that area, the number of other awardees selected in that area, and the scope of the technical assistance to be provided. Additionally, HUD may reduce the amount of funds allocated for Field Office jurisdictions to fund national CD-TA providers and other CD-TA providers for activities which cannot be budgeted or estimated by Field Office jurisdiction. HUD may require selected applicants, as a condition of funding, to provide coverage on a geographically broader basis than applied for in order to supplement or strengthen the intermediary network in terms of the location (service area), types and scope of technical assistance proposed.

(C) In order to reach new technical assistance providers in the HOME, CHDO and McKinney-Vento Act Homeless Assistance program areas, 40% of the funds in each of these three program areas within a Field Office (or at the national level) will be awarded to applicants who have not previously been funded under a CPD technical assistance competition. Therefore, approximately $3.2 million will be awarded to new providers in HOME; $3 million in CHDO; and $1.2 million in McKinney-Vento Act Homeless Assistance. With respect to CHDO funds, 40% of the total funds (single state and multi-state combined) are earmarked for new providers. If qualified new applicants are not found in each program area in each Field Office and/or at the national level, the remaining funds will be made available for previously funded providers. The reverse also is true.

(D) To the extent permitted by funding constraints, HUD intends to provide coverage for as full a range as possible, of eligible CD-TA activities of each CD-TA program in each Field Office jurisdiction. To achieve this objective, HUD will fund the highest ranking providers that bring the required expertise in one or more specialized activity areas, and fund portions of providers' proposed programs in which they have the greatest skill and capability for given geographic areas or on a national basis. HUD also may require national, multi-jurisdictional, or other providers to provide coverage to Field Office jurisdictions which cannot otherwise receive cost-effective support from a CD-TA provider. In selecting applicants for funding, in addition to the rating factors, HUD will apply program policy criteria identified in Section V of this CD-TA Program section of SuperNOFA to select a range of providers and activities that would best serve program objectives for each program serviced by the CD-TA funded under this SuperNOFA.

III. Program Description; Program Award Period; Eligible Applicants; Eligible Activities; and Sub-Grants/Pass Through Funds

(A) Program Description. Up to $21.18 million in technical assistance (TA) funds is available from four separate technical assistance programs: Community Housing Development Organization (CHDO) TA, HOME TA, McKinney-Vento Act Homeless Assistance TA, and HOPWA TA (collectively “CD-TA”).

The funding of these four CD-TA programs through a single funding availability announcement will not affect the ability of eligible applicants to seek CD-TA funding. Eligible applicants are able to apply for funding under as few as one, and as many as four, separate CD-TA programs, individually or collectively, singularly or in combination. The specific provisions of the four separate CD-TA programs have not been changed. This Community Development Technical Assistance Programs section of the SuperNOFA reflects the statutory requirements and differences in the four different CD-TA programs.

(B) Program Award Period.

(1) Cooperative Agreements will be for a period of up to 36 months. HUD, however, reserves the right to:

(a) Terminate awards in accordance with provisions contained in OMB Circular A-102, and 24 CFR parts 84 and 85 anytime after 12 months;

(b) Withdraw funds from a specific provider, if HUD determines that the urgency of need for the assistance is greater in other Field Office jurisdictions or the need for assistance is not commensurate with the award for assistance;

(c) Extend the performance period of individual awardees up to a total of 12 additional months.

(2) In cases where an applicant selected for funding under this CD-TA program section of the SuperNOFA currently is providing CD technical assistance under an existing CD-TA grant/cooperative agreement, HUD reserves the right to adjust the start date of funding under this program to coincide with the conclusion of the previous award, or to incorporate the remaining activities from the previous award into the new agreement, adjusting the funding levels as necessary.

(C) Eligible Applicants.

(1) General. The eligible applicants for each of the four CD-TA programs are listed in paragraphs (2), (3), (4) and (5) of this Section (C). This paragraph (1) lists requirements applicable to all applicants.

(a) Many organizations are eligible to apply for more than one CD-TA program and are encouraged to do so to the extent they have the requisite experience, expertise and capability.

(b) All applicant organizations must have demonstrated ability to provide CD-TA in a geographic area larger than a single city or county and must propose to serve an area larger than a single city or county.

(c) An organization may not provide assistance to itself, and any organization funded to assist CHDOs under this CD-TA Program section of the SuperNOFA may not act as a CHDO itself within its service area while under award with HUD.

(d) A consortium of organizations may apply for one or more CD-TA programs, but HUD will require that one organization be designated as the legal applicant, where legally feasible. Where one organization cannot be so designated for all proposed activities, HUD may execute more than one cooperative agreement with the members of a consortium. However, in general HUD will not award more than one cooperative agreement per application unless necessary due to legal requirements.

(e) All applicants must meet minimum statutory eligibility requirements for each CD-TA program for which they are chosen in order to be awarded a cooperative agreement. Copies of the Technical Assistance program regulations will be provided with the application kit.

(f) All eligible CD-TA providers may propose assistance using in-house staff, consultants, sub-contractors and sub-recipients, networks of private consultants and/or local organizations with requisite experience and capabilities. Whenever possible, applicants should make use of technical assistance providers located in the Field Office jurisdiction receiving services. This draws upon local expertise and persons familiar with the opportunities and resources available in the area to be served while reducing travel and other costs associated with delivering the proposed technical assistance services.

(g) All applicants must meet the applicable threshold requirements of Section II(B) of the General Section of the SuperNOFA.

(2) McKinney-Vento Act Homeless Assistance Programs TA Eligible Applicants.

(a) States, units of general local government, and public housing authorities.

(b) Public and private non-profit or for-profit groups, including educational institutions and area-wide planning organizations, qualified to provide technical assistance on McKinney-Vento Act Homeless Assistance projects.

(3) CHDO TA Eligible Applicants. Public and private non-profit intermediary organizations that customarily provide services (in more than one community) related to affordable housing or neighborhood revitalization to CHDOs, or similar organizations that engage in community revitalization, including all eligible organizations under section 233 of the Cranston-Gonzalez National Affordable Housing Act, as amended.

HUD will consider an intermediary as a primarily single State technical assistance provider if it can document that more than 50% of its past activities in working with CHDOs or similar nonprofit and other organizations (on the production of affordable housing or revitalization of deteriorating neighborhoods and/or the delivery of technical assistance to these groups) was confined to the geographic limits of a single State.

(4) HOME TA Eligible Applicants.

(a) A for-profit or non-profit professional and technical services company or firm that has demonstrated capacity to provide technical assistance services;

(b) A HOME participating jurisdiction (PJ) or agency thereof;

(c) A public purpose organization responsible to the chief elected official of a PJ and established pursuant to State or local legislation;

(d) An agency or authority established by two or more PJs to carry out activities consistent with the purposes of the HOME program;

(e) A national or regional non-profit organization that has membership comprised predominantly of entities or officials of entities of PJs or PJs' agencies or established organizations.

(5) HOPWA TA Eligible Applicants.

(a) Non-profit organizations; and

(b) States and units of general local government.

(D) Eligible Activities. Eligible activities as appropriate for each of the four CD-TA programs are listed below:

(1) CHDO Technical Assistance. CHDO Technical Assistance funds may be used only for the following eligible activities:

(a) Organizational Support—Organizational support assistance may be made available to community housing development organizations to cover operational expenses and to cover expenses for training and technical, legal, engineering and other assistance to the board of directors, staff, and members of the community housing development organization;

(b) Housing Education—Housing education assistance may be made available to community housing development organizations to cover expenses for providing or administering programs for educating, counseling, organizing homeowners and tenants who are eligible to receive assistance under other provisions of the HOME Program;

(c) Program-Wide Support of Nonprofit Development and Management—Technical assistance, training, and continuing support may be made available to eligible community housing development organizations for managing and conserving properties developed under the HOME Program;

(d) Benevolent Loan Funds—Technical assistance may be made available to increase the investment of private capital in housing for very low-income families, particularly by encouraging the establishment of benevolent loan funds through which private financial institutions will accept deposits at below-market interest rates and make those funds available at favorable rates to developers of low-income housing and to low-income homebuyers;

(e) Community Development Banks and Credit Unions—Technical assistance may be made available to establish privately owned, local community development banks and credit unions to finance affordable housing;

(f) Community Land Trusts—Organizational support, technical assistance, education, training and continuing support under this subsection may be made available to community land trusts (as such term is defined in section 233(f) of the Cranston-Gonzalez National Affordable Housing Act) and to community groups for the establishment of community land trusts; and

(g) Facilitating Women in Homebuilding Professions—Technical assistance may be made available to businesses, unions, and organizations involved in construction and rehabilitation of housing in low- and moderate-income areas to assist women residing in the area to obtain jobs involving such activities, which may include facilitating access by helping such women develop nontraditional skills, recruiting women to participate in such programs, providing continuing support for women at job sites, counseling and educating businesses regarding suitable work environments for women, providing information to such women regarding opportunities for establishing small housing construction and rehabilitation businesses, and providing materials and tools for training such women (in an amount not exceeding 10% of any assistance provided under this paragraph). HUD shall give priority under this paragraph to providing technical assistance for organizations rehabilitating single family or multifamily housing owned or controlled by HUD pursuant to title II of the National Housing Act and which have women members in occupations in which women constitute 25% or less of the total number of workers in the occupation (in this section referred to as “nontraditional occupations”).

(2) HOME Technical Assistance. HUD will provide assistance to:

(a) Facilitate the exchange of information that would help participating jurisdictions carry out the purposes of the HOME statute, including information on program design and accessibility, housing finance, land use controls, and building construction techniques;

(b) Improve the ability of States and units of local government to design and implement housing strategies, particularly those States and units of local government that are relatively inexperienced in the development of affordable housing;

(c) Encourage private lenders and for-profit developers of low-income housing to participate in public-private partnerships to achieve the purposes of the HOME statute;

(d) Improve the ability of States and units of local government, community housing development organizations, private lenders, and for-profit developers of low-income housing to incorporate energy efficiency into the planning, design, financing, construction and operation of affordable housing;

(e) Facilitate the establishment and efficient operation of employer-assisted housing programs, through research, technical assistance, and demonstration projects; and

(f) Facilitate the establishment and efficient operation of land bank programs, under which title to vacant and abandoned parcels of real estate located in or causing blighted neighborhoods is cleared for use consistent with the purposes of the HOME statute.

(3) McKinney-Vento Act Homeless Assistance Programs Technical Assistance. Funds are available to provide technical assistance to McKinney-Vento Act funded Homeless Assistance projects. Funds may be used to provide technical assistance to prospective applicants, applicants, recipients or other providers (project sponsors) of McKinney-Vento Act funded housing and supportive services for homeless persons. The assistance may include, but is not limited to, written information such as papers, manuals, guides and brochures; person-to-person exchanges; on-site assessments and provision of technical expertise; and training and related costs.

(4) HOPWA Technical Assistance. For the purposes of this CD-TA program section of the SuperNOFA, HOPWA technical assistance shall mean the transfer to HOPWA grantees and project sponsors and potential recipients of program funds, the skills and knowledge needed to develop, operate and support HOPWA-eligible projects and activities.

An applicant for HOPWA TA funds must propose activities on a national basis, a regional basis (e.g. serving a multi-state area) or within a State or community. The application should emphasize how activities will advise and train communities and project sponsors in undertaking program planning, community consultations, housing development and operations, coordination with related health-care and other supportive services, and evaluation and reporting on program performance. The Department has established the following national goal for all HOPWA TA projects:

• National Goal—Sound Management of HOPWA Programs and Projects.

HOPWA TA funds can be used to help to strengthen the management, operation, and capacity of grantees, project sponsors, and potential applicants to ensure that organizations use funds in a manner that upholds the public trust in the operation of programs. To achieve this goal, HOPWA TA can be used in the following areas:

(i) Management and operations through such activities as:

(A) Advising on management practices to ensure responsive, efficient and cost effective facility and program operations;

(B) Advising on fiscal management to ensure accountability in the use of funds; and

(C) Assisting projects in using the Department's information technology, financial systems and information management systems.

(ii) State, local, and community planning through such activities as:

(A) Advising on the coordination of housing with health-care and other related supportive services for eligible persons;

(B) Assisting in developing collaborations with local, State and Federal agencies that administer HIV/AIDS-related programs, including programs funded under the Ryan White CARE Act;

(C) Creating or linking to existing needs assessments of the area's housing needs of persons living with HIV/AIDS and their families;

(D) Creating or linking to comprehensive multiple-year HIV/AIDS housing plans that are undertaken in collaboration with local, State and federal programs including the Ryan White CARE Act programs; and

(E) Creating or linking to existing plans that address specialized needs of clients, including assistance for clients with serious mental illness, chronic alcohol and other drug abuse issues, and homelessness.

(iii) Program evaluation through such activities as:

(A) Advising on data collection and program evaluation; and

(B) Developing and providing program handbooks, guidance materials, audio/visual products, training, and other activities to promote good management practices.

As a part of providing for the sound management of HOPWA programs and projects, HOPWA TA providers should demonstrate an outreach and assistance program to identified underserved populations. The Department has been advised by persons living with HIV/AIDS, HIV/AIDS housing providers, and national organizations, of the continuing disparity in accessing health-care and HIV/AIDS treatment among underserved populations, such as, racial and ethnic minority populations, women, youth, post-incarcerated populations and persons living in rural areas. For the purposes of the HOPWA TA portion of this NOFA, underserved populations are defined as low-income populations living with HIV/AIDS and their families, such as racial or ethnic minority groups, women, persons living in rural areas, youth, post-incarcerated populations, or other underserved groups as determined by your service area, whose housing and related service needs are not currently being met in your service area. To meet this definition of an underserved population, you must present reliable statistics and data sources (i.e. Census, health department statistics, research, scientific studies, Consolidated Plan, and Continuum of Care documentation), showing the unmet need in the provision of housing and supportive services for the identified underserved population under Rating Factor 2, (1). HUD will consider your presentation of statistics and data sources based on soundness and reliability and the specificity of information to the underserved population and the area to be served.

In an effort to meet this continuing need, the highest rated applicants will demonstrate an outreach and assistance program to an identified underserved population as detailed under Rating Factor 3, Soundness of Approach (2) and will support the National HOPWA Goal of Sound Management. Such assistance could include, linking HOPWA grantees and project sponsors to other community based organizations serving an underserved population but may have no or limited experience with providing housing services. Additionally, HOPWA TA providers could provide assistance to collaborations targeting as underserved population funded under the HOPWA competitive program.

(E) Sub-Grants/Pass-Through Funds. Applicants may propose to make sub-grants to achieve the purposes of their proposed CD-TA programs in accordance with program requirements in Section IV of this CD-TA Program section of the SuperNOFA. In the case of CHDO TA, these sub-grants (also called “pass-through” funds) may be made for eligible activities and to eligible entities as identified in Section 233(b)(1), (2), and (7) of the Cranston-Gonzalez National Affordable Housing Act. When CHDO TA sub-grants are made to CHDOs, two statutory provisions apply:

(1) The sub-grant amount, when combined with other capacity building and operating support available through the HOME program, cannot exceed the greater of 50% of the CHDO's operating budget for the year in which it receives the funds, or $50,000 annually;

(2) An amount not exceeding 10% of the total funds awarded for the “Women in the Homebuilding Professions” eligible activity may be used to provide materials and tools for training such women.

IV. Program Requirements

In addition to the program requirements listed in the General Section of this SuperNOFA, applicants are subject to the following requirements:

(A) Program Requirements for CHDO, HOME and McKinney-Vento Act Homeless Assistance.

(1) Profit/Fee. No increment above cost, no fee or profit, may be paid to any recipient or subrecipient of an award under this CD-TA Program section of the SuperNOFA.

(2) Demand/Response Delivery System.

(a) As an awardee, you must operate within the structure of the demand/response system described in this section. You must coordinate your plans with, and operate under the direction of, each HUD Field Office within whose jurisdiction you are operating. When so directed by a Field Office, you will coordinate your activities instead through a lead CD-TA provider or other organization designated by the Field Office.

(b) If selected as the lead CD-TA provider in any Field Office jurisdiction, as an awardee you must coordinate the activities of other CD-TA providers selected under this CD-TA Program section of the SuperNOFA under the direction of the HUD Field Office. Joint activities by CD-TA providers may be required.

(c) Under the demand/response system, CD-TA providers will be required to:

(i) When requested by a Field Office or Government Technical Representative (GTR), market the availability of their services to existing and potential clients to include local jurisdictions in which the assistance will be delivered.

(ii) Respond to requests for assistance from the HUD Field Office(s) with oversight of the geographic service area for which the technical assistance will be delivered, including responding to priorities established by the Field Office in its Grants Management System. CHDOs, HOME PJs, and McKinney-Vento Act Homeless Assistance grantees may request assistance from the CD-TA provider directly, but such requests must be approved by the local HUD Field Office.

(iii) When requested by a Field Office or GTR, conduct a Needs Assessment to identify the type and nature of the assistance needed by the recipients of the assistance. These needs assessments should typically identify the nature of the problem to be addressed by the technical assistance services; the plan of action to address the need including the type of technical assistance services to be provided, the duration of the service, the staff assigned to provide the assistance, anticipated products and/or outcomes, and the estimated cost for the provision of services; and the relationship of the proposed services to the planned or expected Consolidated Plan submission to HUD and to other technical assistance providers providing service within the locality.

(iv) Obtain approval for the Technical Assistance Delivery Plan (TADP) from the HUD Field Office(s) with oversight for the area in which service will be provided. (See Section 3 below).

(v) Work cooperatively with other CD-TA providers in their geographic areas to ensure that clients are provided with the full range of CD-TA services needed and available. CD-TA providers are expected to be knowledgeable about the range of services available from other providers, make referrals and arrange visits by other CD-TA providers when appropriate, and carry out CD-TA activities concurrently when it is cost-effective and in the interests of the client to do so. HUD Field Offices may direct CD-TA providers to conduct joint activities.

(3) Technical Assistance Delivery Plan (TADP).

(a) After selection for funding but prior to award, you must develop a TADP for each Field Office jurisdiction or National Program for which you have been selected, in consultation with the Field office and/or GTR.

(b) In developing the TADP, you must follow the Field Office's Business Operating Plan (BOP) and management strategies/workplans for each community/State in the Field Office's jurisdiction. You must use these BOP/management strategies/workplans in determining your priority work activities, location of activities, and organizations to be assisted during the cooperative agreement performance period.

(c) The BOP/grantee management strategies/workplans are part of the Field Office's Grants Management Process (GMP) and should indicate the issues to be addressed by CD-TA, the improved performance expected as a result of CD-TA, and methods for measuring the success of the CD-TA.

(d) The TADP must delineate all the tasks and sub-tasks for each CD program the applicant will undertake in each Field Office jurisdiction. The TADP must show the location of the community/State in which the CD-TA activities will occur, the level of CD-TA funding and proposed activities by location, the improved program performance or other results expected from the CD-TA and the methodology to be used for measuring the success of the CD-TA. A time schedule for delivery of the activities, budget summary, budget-by-task and staffing plan must be included in the TADP.

(4) Negotiation. After all applications have been rated and ranked and a selection has been made, HUD requires that all winners participate in negotiations to determine the specific terms of the TADP and the budget. HUD will follow the negotiation procedures described in Section III(D) of the General Section of the SuperNOFA.

(5) Forms, Certifications and Assurances. You must submit with your application the forms, certifications and assurances listed in the General Section of this SuperNOFA. After selection for funding but prior to your providing services to a specific community you must submit the CHDO TA designation letter (where applicable).

(6) Financial Management and Audit Information. After selection for funding but prior to award, you must submit a certification from an Independent Public Accountant or the cognizant government auditor, stating that your financial management system meets prescribed standards for fund control and accountability required by 24 CFR part 84 for Institutions of Higher Education and other Non-Profit Institutions, 24 CFR part 85 for States and local governments, or the Federal Acquisition Regulations (for all other applicants). The information should include the name and telephone number of the independent auditor, cognizant Federal auditor, or other audit agency as applicable.

(7) Designation for CHDO Technical Assistance Providers. CHDO TA providers will be responsible for securing a technical assistance designation letter from a PJ stating that a CHDO or prospective CHDO to be assisted by the provider is a recipient or intended recipient of HOME funds and indicating, at its option, subject areas of assistance that are most important to the PJ.

(8) Training Sessions. When conducting training sessions as part of its CD-TA activities, CD-TA providers are required to:

(a) Design the course materials as “step-in” packages (also called “train-the trainer” packages) so that a Field Office or other CD-TA provider may separately give the course on its own;

(b) Arrange for joint delivery of the training with Field Office participation when so requested by the Field Office or by the GTR for national grants; and

(c) When requested by a Field Office and/or GTR, provide for professional videotaping of the workshops/courses and ensure their production in a professional and high-quality manner, suitable for viewing by other CD clients (if this requirement is implemented, additional funds may be requested).

(d) When required by HUD, deliver HUD-approved training courses that have been designed and developed by other HUD contractors or HUD cooperating parties on a “step-in” basis for CD-TA clients, and send trainers to HUD-approved Train-the Trainer sessions.

(9) Reports to Field Offices and/or GTRs. CD-TA providers will be required to report to the HUD Field Office(s) with oversight of the geographic area(s) in which CD-TA services are provided or to Headquarters GTRs in the case of national providers. At a minimum, this reporting will be on a quarterly basis unless otherwise specified in the approved TADP.

(10) Active Participation. HUD Field Offices will be active participants in the delivery of all technical assistance by funded providers throughout the term of the cooperative agreement.

(11) CHDO Pass-Through Funds. CD-TA providers proposing pass-through grants are required to:

(a) Establish written criteria for selection of CHDOs receiving pass-through funds which includes the following:

(i) Participating jurisdictions (PJs) must designate the organizations as CHDOs.

(ii) Generally, the organizations should not have been in existence more than 3 years.

(b) Enter into an agreement with the CHDO that the agreement and pass-through funding may be terminated at the discretion of the Department if no written legally binding agreement to provide assistance for a specific housing project (for acquisition, rehabilitation, new construction or tenant-based rental assistance) has been made by the PJ with the CHDO within 24 months of receiving the pass-through funding.

(12) CHDO TA Program Limitations. (a) Pursuant to section 233(d)(1) and (2) of the Cranston-Gonzalez National Affordable Housing Act, funding to any single eligible nonprofit intermediary organization seeking to provide CHDO TA, whether as an independent or joint applicant, is limited to the lesser of 20% of all funds, or an amount not to exceed 20% of the organization's operating budget for any one year (not including funds sub-awarded or passed through the intermediary to CHDOs).

(b) Pursuant to section 233(e), HUD is making available through this CD-TA program section of the SuperNOFA 40% of the total CHDO TA funds to single state providers within the Field Offices. As discussed in Section III(C)(3), CHDO Eligible Applicants, to be considered a single state provider you must be able to document that 50% of your past activities working with CHDOs or similar nonprofits and other organizations was confined to the geographic limits of a single state. Therefore, you can be designated a single state provider in one Field Office jurisdiction only and you should so indicate on your funding matrix submission. In all other Field Offices in which you are applying for CHDO TA funding, you are a multi-state provider. If there are no single state applicants or the qualified single state applicants utilize less than the 40% set-aside in a given Field Office, that Field Office's single state CHDO set-aside will be redistributed among the qualified multi-state providers in that Field Office. Field Offices also may utilize their multi-state set-aside for single state applicants if the reverse is true.

(13) HOME TA Program Limitations. Pursuant to section 243(b) of the Cranston-Gonzalez National Affordable Housing Act, funding to any single eligible HOME TA organization, whether as an independent or joint applicant, is limited to not more than 20% of the operating budget of the recipient organization in any one year and is limited to 20% of the funds available under this CD-TA program section of the SuperNOFA.

(14) CHDO and HOME National TA Program Guidance. With the funds designated for a national TA program, HUD intends to fund applications which propose activities to support the following purposes:

(a) CHDO Technical Assistance. To promote the ability of Community Housing Development Organizations (CHDOs) to own, develop or sponsor housing for low and very-low income families; to facilitate the education of low-income homebuyers, homeowners and tenants; and/or to help women who reside in low-income neighborhoods to rehabilitate or construct housing in their communities. Proposals should directly address how the capacity of CHDOs may be improved to ensure that HOME funds are used effectively, efficiently and in compliance with the HOME rules to develop affordable housing. Emphasis should be placed on basic skills needed to develop, maintain and manage well designed and constructed affordable housing over the long term when using Federal funds.

(b) HOME Technical Assistance. To help HOME participating jurisdictions design and implement HOME programs, including: improving their ability to design and implement housing strategies and incorporate energy efficiency into affordable housing, facilitating the exchange of information to help participating jurisdictions carry out their programs; facilitating the establishment and efficient operation of employer-assisted housing programs; and/or encouraging private lenders and for-profit developers of low-income housing to participate in public-private partnerships. Proposals should directly address how the capacity of participating jurisdictions may be improved to ensure that HOME funds are used effectively, efficiently and in compliance with the HOME rules to develop affordable housing. Emphasis should be placed on the basic skills and systems needed to develop, maintain and manage well designed and constructed affordable housing over the long term when using Federal funds.

(15) Affirmatively Furthering Fair Housing. Section II(D) of the General Section of the SuperNOFA does not apply to these technical assistance programs.

(B) Program Requirements for HOPWA Technical Assistance.

(1) General Requirements. The items listed below specify the requirements that apply to the HOPWA TA applications as follows: in Section (A), Paragraphs: (1) On Profit/Fee; (4) Negotiation, except that the TADP reference will apply to a workplan negotiated between the applicant and the GTR for the HOPWA TA grant in HUD Headquarters; (5) Forms, Certifications and Assurances; (6) Financial Management and Audit Information; (8) Training Sessions; (9) Reports to Field Offices and/or GTRs, except that you must report to the HOPWA Headquarters GTR, at a minimum, on a quarterly basis, unless otherwise specified in an approved HOPWA TA workplan and you will be expected to meet the following performance benchmarks: (i) You are required to begin technical assistance activities within one year of your selection (i.e., one year from the date of the signing of your selection letter by HUD); and (ii) you are requested to provide an initial report to the Field Office and the Headquarters GTR on the startup of the planned activities within six months of your selection. Please outline any accomplishments in implementing the funds along with identifying any barriers or issues for which the Department may provide assistance. If a selected project does not meet the appropriate performance benchmark, HUD reserves the right to cancel or withdraw the grant funds.

(2) Coordination of HOPWA TA Requests. Except for national meetings, research, information and other activities that are conducted on a program-wide basis in cooperation with HUD Headquarters, as the grantee of HOPWA TA funds, you must work cooperatively with HUD Field Offices. You must notify the applicable HUD Field Office of the planned activities; must consider the views or recommendations of that office, if any; must follow those recommendations, to the degree practicable; and must report to the applicable Field Office on the accomplishments of this assistance.

V. Application Selection Process

(A) Rating and Ranking

(1) HUD will evaluate applications competitively and rank them against all other applicants that have applied for the same CD-TA program (HOME, McKinney-Vento Act Homeless Assistance) within each Field Office or as a National Provider under HOPWA. CHDO applications are similarly evaluated and ranked but are separated into two sub-groups—single State providers and multi-State providers. There will be separate rankings for each CD-TA program, and you will be ranked only against others that have applied for the same CD-TA program.

(2) Once scores are assigned, all applications will be listed in rank order for each CD-TA program for which they applied by Field Office jurisdiction and/or the HOPWA National Program. In each Field Office jurisdiction or National Program area, all applications for the HOME TA program will be listed in rank order on another list, all applications for the McKinney-Vento Act Homeless Assistance TA program will be listed in rank order on another list, and all applications for the HOPWA TA national projects will be ranked separately on another list. All applications for the CHDO TA program will be ranked separately on either the single state provider list or the multi-state provider list. Under this system, a single application from one organization for all CD-TA programs could be assigned different scores and different rankings for each program in different Field Offices.

(3) Applications will be funded in rank order for each CD-TA program by Field Office jurisdiction, except for HOPWA TA national providers and others which cannot be ranked by Field Office jurisdiction. National providers and others will be ranked separately and funded in rank order for each CD-TA program. Irrespective of final scores, HUD may apply program policy criteria to select one applicant in each of the three (CHDO, HOME and McKinney-Vento Act Homeless Assistance) CD-TA programs in each Field Office or nationally, to ensure diversity of methods, approaches, or kinds of projects. HUD will apply these program policy criteria to provide coverage of CD-TA services for minorities; women, particularly women in the homebuilding professions under section 233(b)(7) of the Cranston-Gonzalez National Affordable Housing Act; persons with disabilities; homeless; persons with special needs; and rural areas.

(4) In addition to the authority in the General Section to adjust funding, HUD reserves the right to adjust funding levels for each applicant for each CD-TA program, as follows:

(a) Adjust funding levels for any provider based upon the size and needs of the provider's service area within each Field Office jurisdiction in which the provider is selected to operate, the funds available for that area, the number of other awardees selected in that area, funds available on a national basis for providers that will be operating nationally, or the scope of the technical assistance to be provided;

(b) To negotiate increased grant awards with applicants approved for funding if HUD requests them to offer coverage to geographic areas for which they did not apply or budget, or if HUD receives an insufficient amount of applications.

(5) If funds remain after all selections have been made, remaining funds may be:

(a) Distributed among all HUD Field Offices (in proportion to their fair-share awards) and/or the National Program, or

(b) Made available for other CD-TA program competitions.

(6) If you apply for HOPWA TA funds, you must propose activities that will be carried out on a national, regional, State or community basis. The Department reserves the right to adjust the amount of requested funds that are awarded to correspond with the size of the intended service area in comparison to the planned national scope of activities to ensure the best use of these limited resources. Additionally, HUD may also modify the service area of a selected application, if practicable.

(B) Factors for Award Used to Evaluate and Rate Applications. The factors and maximum points for each factor are provided below. The maximum number of points to be awarded for a CD-TA application is 100. The minimum score for an applicant to be considered in funding range is 55, with a minimum of 11 points in Factor 1. The CD-TA program is not an eligible program for the EZ/EC bonus points, as described in Section III(C)(1) of the General Section of the SuperNOFA.

Rating of the “applicant” or the “applicant's organization and staff”, unless otherwise specified, will include any sub-contractors, consultants, sub-recipients, and members of consortia which are firmly committed to the project.

When addressing the Factors for Award, you should discuss the specific TA projects, activities, tasks, etc. that you suggest be carried out during the term of the cooperative agreement. See Sections IV(A)(2) and (3) of this CD-TA program section for a discussion of the extent to which such activities may be revised at or after the time of award. You should also be specific when detailing the communities, populations (HOPWA only) and/or organizations which you propose to serve, especially in response to Factor 3, Subfactor 2 and in detailing the dollar amounts you have leveraged in Factor 4.

Rating Factor 1: Capacity of the Applicant and Relevant Organizational Experience (20 Points) (Minimum for Funding Eligibility—11 Points)

In rating this factor, HUD will consider the extent to which the application demonstrates in relation to CD-TA program funding that is requested:

(1) (10 points) Recent, relevant and successful experience of your organization and staff in providing technical assistance in all eligible activities and to all eligible entities for the CD-TA program(s) applied for, as described in the regulations;

(2) (5 points) The relevant experience and competence of your key personnel in managing complex, multi-faceted or multi-disciplinary programs that require coordination with other CD-TA entities or multiple, diverse units in an organization;

(3) (5 points) You have sufficient personnel or access to qualified experts or professionals to deliver the proposed level of technical assistance in each proposed service area in a timely and effective fashion.

Rating Factor 2: Potential Effectiveness of the Application in Meeting Needs of Target Groups/Localities and Accomplishing Project Objectives for Each CD-TA Program for which Funds Are Requested (20 Points)

In rating this factor, HUD will consider the extent to which your application:

(1) (10 points) Identifies high priority needs and issues for the CD program in each community or Field Office jurisdiction for which CD-TA funding is requested, or on a national or regional basis for national HOPWA grants;

(2) (5 points) Outlines a clear and cost-effective plan of suggested TA activities for addressing those needs and aiding a broad diversity of eligible grantees and/or beneficiaries, including those which traditionally have been under-served; and

(3) (5 points) Identifies creative activities to assist eligible grantees in participating in the development of, and improving, local Consolidated Plans and comprehensive strategies.

Rating Factor 3: Soundness of Approach (40 Points)

In rating this factor, HUD will consider the extent to which your application evidences a sound approach in addressing identified needs and:

(1) (15 points) Provides a cost effective plan for designing, organizing, and carrying out the suggested technical assistance activities within the framework of the Demand/Response System or, for HOPWA TA applicants, in addressing the HOPWA TA goal.

(2) (15 points) Demonstrates an effective outreach and assistance program to specifically identified disadvantaged communities, populations (HOPWA only) and/or organizations which previously have been underserved and have the potential to participate in CPD programs.

(3) (5 points) Provides for full geographic coverage, including urban and rural areas, (directly or through a consortium of providers) of a single State or Field Office jurisdiction or is targeted to address the needs of rural areas, minority groups or other under-served groups or for HOPWA TA applicants, addresses other approaches that respond to identified needs.

(4) (5 points) Proposes a feasible, creative plan, which uses state of the art or new promising technology, to transfer models and lessons learned in each of its CD-TA program's activities to grantees and/or program beneficiaries in other CD-TA programs.

Rating Factor 4: Leveraging Resources (10 Points)

This factor addresses your ability to secure community resources (note: financing is a community resource) which can be combined with HUD's program resources to achieve program purposes. In evaluating this factor HUD will consider:

The extent to which you have partnered with other entities to secure additional resources to increase the effectiveness of the proposed program activities. Resources may include funding or in-kind contributions, such as services or equipment, allocated to the purpose(s) of the award you are seeking. Resources may be provided by governmental entities, public or private nonprofit organizations, for-profit private organizations, or other entities willing to partner with the applicant. You also may partner with other program funding recipients to coordinate the use of resources in the target area.

You must provide evidence of leveraging/partnerships by including in the application letters of firm commitments, memoranda of understanding, or agreements to participate from those entities identified as partners in the application. Each letter of commitment, memorandum of understanding, or agreement to participate should include the organization's name, proposed level of commitment and responsibilities as they relate to the proposed program. The commitment must also be signed by an official of the organization legally able to make commitments on behalf of the organization.

Rating Factor 5: Comprehensiveness and Coordination (10 Points)

This factor addresses the extent to which you coordinate your activities with other known organizations, participate or promote participation in a community's Consolidated Planning process and Continuum of Care homeless assistance strategy, and are working towards addressing a need in a holistic and comprehensive manner through linkages with other activities in the community.

In evaluating this factor, HUD will consider the extent to which you demonstrate you have:

(1) Coordinated your proposed activities with those of other groups or organizations prior to submission in order to best complement, support and coordinate all known activities and if funded, the specific steps you will take to share information on solutions and outcomes with others. Describe any written agreements, memoranda of understanding in place, or that will be in place after award.

(2) Taken or will take specific steps to work with recipients of technical assistance services to become active in the community's Consolidated Planning process (including the Analysis of Impediments to Fair Housing Choice) established to identify and address a need/problem that is related to the activities you propose.

(3) Taken or will take specific steps to develop linkages to coordinate comprehensive solutions through meetings, information networks, planning processes or other mechanisms with:

(a) Other HUD-funded projects/activities outside the scope of those covered by the Consolidated Plan; and

(b) Other Federal, State or locally funded activities, including those proposed or on-going in the community.

VI. Application Submission Requirements

In addition to the forms, certifications and assurances listed in Section II(G) of the General Section of the SuperNOFA (collectively referred to as the “standard forms”), your application must, at a minimum, contain the following items (except that the following paragraphs (C), (D), (E), (F), and (G) do not apply to HOPWA TA applicants). The standard forms can be found in Appendix B to the General Section of the SuperNOFA.

(A) Transmittal Letter which identifies the SuperNOFA, the CD-TA programs for which funds are requested and the dollar amount requested for each program, and the applicant or applicants submitting the application. If your organization has never received a CPD technical assistance award, please include a statement to this effect in the transmittal letter. Additionally, HOPWA TA applicants are requested to submit a two-page executive summary outlining the key elements of the proposed TA activities.

(B) Narrative statement addressing the Factors for Award described in Section V(B) of this CD-TA Program section of this SuperNOFA. You should number the narrative response in accordance with each factor for award. This narrative statement will be the basis for evaluating your application. It should include a plan of suggested TA activities as described in Factors 2, 3, and elsewhere. These suggested TA activities may form a starting point for negotiating the TADP described in Section IV(A)(3) of this CD-TA Program section of the SuperNOFA. However, they are used primarily for purposes of rating and evaluation and may be substantially altered and revised during negotiations with the Field Offices on the content of the TADPs (see Section IV(A)(3)) or Headquarters program office for national projects.

(C) Statement that identifies the Field Office jurisdictions in which you propose to offer services. If you will not offer services throughout the full jurisdictional area of the Field Office, your statement should identify the service areas involved (e.g., States, counties, etc.), as well as the communities in which you propose to offer services.

(D) A matrix that summarizes the amount of funds you are requesting for each CD-TA program in each Field Office jurisdiction. (See the CD-TA application kit for a copy of the matrix to be submitted.)

(E) A statement as to whether you propose to use pass-through funds for CHDOs under the CHDO TA program, and, if so, the amount and proposed uses of such funds.

(F) If applying for the CHDO TA program, a certification as to whether you qualify as a primarily single-State provider under section 233(e) of the Cranston-Gonzalez Affordable Housing Act and as discussed in Section III(C)(3) of this CD-TA Program section of this SuperNOFA.

(G) A statement as to whether you propose to be considered for the role of lead CD-TA provider in one or more specific program areas in a Field Office jurisdiction, and if so, your organization's capabilities and attributes that qualify you for the role.

(H) Budget Summary identifying costs for implementing the plan of suggested TA activities by cost category for each CD-TA program for which funds are requested by Field Office or as a National Provider (in accordance with the following):

(1) Direct Labor by position or individual, indicating the estimated hours per position, the rate per hour, estimated cost per staff position and the total estimated direct labor costs;

(2) Fringe Benefits by staff position identifying the rate, the salary base the rate was computed on, estimated cost per position, and the total estimated fringe benefit cost;

(3) Material Costs indicating the item, quantity, unit cost per item, estimated cost per item, and the total estimated material costs;

(4) Transportation Costs, as applicable.

(5) Equipment charges, if any. Equipment charges should identify the type of equipment, quantity, unit costs and total estimated equipment costs;

(6) Consultant Costs, if applicable. Indicate the type, estimated number of consultant days, rate per day, total estimated consultant costs per consultant and total estimated costs for all consultants;

(7) Subcontract Costs, if applicable. Indicate each individual subcontract and amount;

(8) Other Direct Costs listed by item, quantity, unit cost, total for each item listed, and total other direct costs for the award;

(9) Indirect Costs should identify the type, approved indirect cost rate, base to which the rate applies and total indirect costs.

These line items should total the amount requested for each CD-TA program area. The grand total of all CD-TA program funds requested should reflect the grand total of all funds for which application is made.

VII. Corrections to Deficient Applications

The General Section of the SuperNOFA provides the procedures for corrections to deficient applications.

VIII. Environmental Requirements

In accordance with 24 CFR 50.19(b)(9) and 58.34(a)(9), the assistance provided by these programs relates only to the provision of technical assistance and is categorically excluded from the requirements of the National Environmental Policy Act and not subject to environmental review under the related laws and authorities. This determination is based on the ineligibility of real property acquisition, construction, rehabilitation, conversion, leasing or repair for HUD assistance under these technical assistance programs.

IX. Authority

CHDO Technical Assistance. The CHDO Technical Assistance Program is authorized by the HOME Investment Partnerships Act (42 U.S.C. 12773); 24 CFR part 92.

HOME Technical Assistance. The HOME Technical Assistance Program is authorized by the HOME Investment Partnerships Act (42 U.S.C. 12781-12783); 24 CFR part 92.

McKinney-Vento Act Homeless Assistance Programs Technical Assistance. The Supportive Housing Program is authorized under 42 U.S.C. 11381 et seq.; 24 CFR 583.140. The Emergency Shelter Grant, Section 8 Moderate Rehabilitation Single Room Occupancy Program and Shelter Plus Care Technical Assistance Programs are authorized by the FY 2001 HUD Appropriations Act.

HOPWA Technical Assistance. The HOPWA Technical Assistance program is authorized under the FY 2001 HUD Appropriations Act. The HOPWA program is authorized under the AIDS Housing Opportunities Act (42 U.S.C. 12901) and the HOPWA regulations are found at 24 CFR part 574.

Appendix A to CD-TA Program: “Fair-Share” Amounts Allocated to Each HUD CPD Office
HUD CPD field office | CHDO TA single state | CHDO TA multi-state | HOME TA | McKinney-vento act homeless assistance TA | HOPWA TA
Alabama State Office | $48,000 | $42,000 | $90,000 | $40,000 |
Alaska State Office | 30,000 | 30,000 | 50,000 | 40,000 |
Arkansas State Office | 30,000 | 30,000 | 54,000 | 40,000 |
California State Office | 256,000 | 224,000 | 480,000 | 242,000 |
Los Angeles Area Office | 224,000 | 196,000 | 420,000 | 255,000 |
Caribbean Office | 57,600 | 50,400 | 108,000 | 40,000 |
Colorado State Office | 89,600 | 78,400 | 168,000 | 40,000 |
Connecticut State Office | 35,200 | 30,800 | 66,000 | 40,000 |
District of Columbia Office | 30,000 | 30,000 | 54,000 | 83,000 |
Florida State Office | 38,400 | 33,600 | 72,000 | 70,000 |
Jacksonville Area Office | 76,800 | 67,200 | 144,000 | 49,000 |
Georgia State Office | 73,600 | 64,400 | 138,000 | 40,000 |
Hawaii State Office | 30,000 | 30,000 | 50,000 | 40,000 |
Illinois State Office | 156,800 | 137,200 | 294,000 | 145,000 |
Indiana State Office | 57,600 | 50,400 | 108,000 | 40,000 |
Kansas/ Missouri State Office | 64,000 | 56,000 | 120,000 | 40,000 |
St. Louis Area Office | 30,000 | 30,000 | 50,000 | 40,000 |
Kentucky State Office | 48,000 | 42,000 | 90,000 | 40,000 |
Louisiana State Office | 64,000 | 56,000 | 120,000 | 40,000 |
Maryland State Office | 38,400 | 33,600 | 72,000 | 40,000 |
Massachusetts State Office | 131,200 | 114,800 | 246,000 | 182,000 |
Michigan State Office | 118,400 | 103,600 | 222,000 | 138,000 |
Minnesota State Office | 41,600 | 36,400 | 78,000 | 52,000 |
Mississippi State Office | 32,000 | 30,000 | 60,000 | 40,000 |
Nebraska State Office | 44,800 | 39,200 | 84,000 | 40,000 |
New Jersey State Office | 89,600 | 78,400 | 168,000 | 52,000 |
New Mexico State Office | 30,000 | 30,000 | 50,000 | 40,000 |
New York State Office | 261,600 | 204,400 | 500,000 | 239,000 |
Buffalo Area Office | 44,800 | 39,200 | 104,000 | 57,000 |
North Carolina State Office | 67,200 | 58,800 | 126,000 | 40,000 |
Ohio State Office | 140,800 | 123,200 | 264,000 | 104,000 |
Oklahoma State Office | 35,200 | 30,800 | 66,000 | 40,000 |
Oregon State Office | 54,400 | 47,600 | 102,000 | 40,000 |
Pennsylvania State Office | 124,800 | 109,200 | 234,000 | 106,000 |
Pittsburgh Area Office | 54,400 | 47,600 | 102,000 | 57,000 |
South Carolina State Office | 35,200 | 30,800 | 66,000 | 40,000 |
Tennessee Knoxville Area Office | 57,600 | 50,400 | 108,000 | 40,000 |
Texas State Office | 160,000 | 140,000 | 300,000 | 88,000 |
San Antonio Area Office | 35,200 | 30,800 | 66,000 | 40,000 |
Virginia State Office | 51,200 | 44,800 | 96,000 | 40,000 |
Washington State Office | 54,400 | 47,600 | 102,000 | 67,000 |
Wisconsin State Office | 57,600 | 50,400 | 108,000 | 54,000 |
National |  | 1,600,000 | 2,000,000 |  | 2,580,000
Total | 3,200,000 | 4,400,000 | 8,000,000 | 3,000,000 | 2,580,000

BILLING CODE 4210-32-P

FUNDING AVAILABILITY FOR THE COMMUNITY DEVELOPMENT BLOCK GRANT PROGRAM FOR INDIAN TRIBES AND ALASKA NATIVE VILLAGES

Program Overview

Purpose of the Program. The purpose of the Community Development Block Grant Program for Indian Tribes and Alaska Native Villages (ICDBG) is the development of viable Indian and Alaska Native communities, including the creation of decent housing, suitable living environments, and economic opportunities primarily for persons with low and moderate incomes as defined in 24 CFR 1003.4.

Available Funds. Approximately $71,284,661 is available for the ICDBG Program.

Eligible Applicants. Eligible applicants are Indian tribes or tribal organizations on behalf of Indian tribes.

Application Deadline. May 23, 2001.

Match. None.

Additional Information

If you are interested in applying for funding under this program, please review carefully the General Section of this SuperNOFA and the following additional information.

I. Application Due Date, Application Kits, Further Information, and Technical Assistance

Application Due Date. Your completed application (one original and two copies) is due on or before 12:00 midnight, Eastern time, on May 23, 2001.

See the General Section of this SuperNOFA for specific procedures that you must follow for the form of application submission (e.g., mailed applications, express mail, overnight delivery, or hand carried).

Addresses for Submitting Applications to the Appropriate Area ONAP. Submit original signed application and two copies to the appropriate Area Office of Native American Programs for your jurisdiction. A list of jurisdictions is given below. A hand carried application will be accepted at the specified HUD Area ONAP during normal business hours before the application due date. On the application due date, business hours will be extended to 6:00 p.m. local time. Please be sure to arrive at the Area ONAP with adequate time to submit the application before the 6:00 p.m. deadline by the application due date.

If you are applying from this geographic location then . . . | send your application to this Area ONAP:
All States East of the Mississippi River, plus Iowa and Minnesota | Eastern/Woodlands Office of Native American Programs, Grants Management Division, 77 West Jackson Blvd., Room 2400, Chicago, IL 60604-3507, Telephone: (312) 886-4532, Ext. 2815.
Louisiana, Kansas, Oklahoma, and Texas, except West Texas | Southern Plains Office of Native American Programs, Grants Management Division, 500 W. Main Street, Suite 400, Oklahoma City, OK 73102-3202, Telephone: (405) 553-7525.
Colorado, Montana, Nebraska, North Dakota, South Dakota, Utah, and Wyoming | Northern Plains Office of Native American Programs, Grants Management Division, First Interstate Tower North, 633 17th Street, Denver, CO 80202-3607, Telephone: (303) 672-5465.
Arizona, California, and Nevada | Southwest Office of Native American Programs, Grants Management Division, Two Arizona Center, Suite 1650, 400 N. Fifth Street, Phoenix, AZ 85004-2361, Telephone: (602) 379-3865.
New Mexico and West Texas | Southwest Office of Native American Programs, Grants Management Division, Albuquerque Plaza, 201 3rd Street N.W., Suite 1830, Albuquerque, NM 87102-3368, Telephone: (505) 346-6923.
Idaho, Oregon, Washington | Northwest Office of Native American Programs, Grants Management Division, Federal Office Building, 909 First Avenue, Suite 300, Seattle, WA 98104-1000, Telephone: (206) 220-5271.
Alaska | Alaska Office of Native American Programs, Grants Management Division, 949 E. 36th Avenue, Suite 401, Anchorage, AK 99508-4399, (907) 271-4603.

In order to expedite the review of your application and to ensure that your application is given a thorough and complete review of all responses to each of the components of the selection criteria, HUD strongly requests that you use separate tabs for each selection criterion and sub-criterion. In order to be rated, make sure the response is beneath the appropriate heading. Keep the responses in the same order as the NOFA. Limit your narrative explanations to 200 words or less and provide the necessary data such as a market analysis, a pro forma, housing survey data, etc., that support the response. Include all relevant material to a response under the same tab. Do not assume the reviewer will search for the answer or information to support the answer elsewhere in the application. Do not include documentation that is not required by the selection criteria because irrelevant information will be disregarded during the review of your application. HUD asks that you do a preliminary rating for your project, providing a score according to the NOFA point system and submit your preliminary rating with your application. This will help to show you how your project might be scored by reviewers. Also, it will help to show you where the strengths and weaknesses of the application are located so that you may improve your application prior to its submission by the deadline date.

For Application Kits. For an application kit and any supplemental material please call the SuperNOFA Information Center at 1-800-HUD-8929 or the appropriate Area ONAP for your jurisdiction as listed above. Persons with hearing or speech impairments may call the Center's TTY number at 1-800-HUD-2209. An application kit also will be available on the Internet through the HUD web site at http://www.hud.gov. When requesting an application kit, please refer to ICDBG and provide your name, address (including zip code), and telephone number (including area code).

For Further Information. You should direct general program questions to the Area ONAP serving your area or to Jackie Kruszek, Office of Native American Programs, Office of Public and Indian Housing, Department of Housing and Urban Development, 1999 Broadway, Suite 3390, Denver, C0 80202; telephone (800) 561-5913. Persons with speech or hearing impairments may call HUD's TTY number (202) 708-0770, or 1-800-877-8399 (the Federal Information Relay Service TTY). Other than the “800” number, these numbers are not toll-free.

For Technical Assistance. Before the application deadline, we will be available to provide you with general guidance. We cannot, however, provide you with guidance on the actual contents of your application. If applicable, after selection but before award, we will be available to assist you in clarifying or confirming information that is required to address a pre-award requirement or condition.

II. Amount Allocated

Approximately $70,843,800 is available for the ICDBG Program.

General. Title I of the Housing and Community Development Act of 1974 (the CDBG statute) requires grants for Indian tribes be awarded on a competitive basis in accordance with selection criteria contained in a regulation promulgated by the Secretary after notice and public comment. All grant funds awarded in accordance with this NOFA are subject to the requirements of 24 CFR part 1003. Applicants within an Area ONAP's geographic jurisdiction compete only against each other for that Area ONAP's allocation of funds.

Allocations. The requirements for allocating funds to Area ONAPs responsible for program administration are found at 24 CFR 1003.101. Following these requirements, based on an appropriation of $ 70,843,800, the allocations for FY 2001 are as follows:

Eastern/Woodland | $5,481,761
Southern Plains | 12,972,631
Northern Plains | 10,941,946
Southwest | 29,848,823
Northwest | 4,180,664
Alaska | 5,858,836
Total | $69,284,661

The total allocation includes $440,861 in unused funds from the amount reserved by the Assistant Secretary in Fiscal Year 2000 for Imminent Threat grants. As indicated below, $2,000,000 will be retained to fund Imminent Threat grants.

Grant Ceilings. The authority to establish grant ceilings is found at 24 CFR 1003.100(b)(1). Grant ceilings are established for FY 2001 funding at the following levels:

Area ONAP | Population | Ceiling
Eastern/Woodlands: | ALL | $500,000
Southern Plains: | ALL | 750,000
Northern Plains: | ALL | 800,000
Southwest: | 50,001+ | 5,000,000
| 10,501-50,000 | 2,500,000
| 7,501-10,500 | 2,000,000
| 6,001-7,500 | 1,000,000
| 1,501-6,000 | 750,000
| 0-1,500 | 550,000
Northwest: | ALL | 350,000
Alaska: | ALL | 500,000

For the Southwest Area ONAP jurisdiction, the population used to determine ceiling amounts is the Native American population that resides on a reservation or rancheria. Please contact that office before submitting your application if you are unsure of the population level to use to determine the ceiling amount for your tribe or if you believe that the level used for previous years needs to be revised or corrected. The Southwest ONAP must accept any corrections or revisions before you submit your application.

Imminent Threats. The criteria for grants to alleviate or remove imminent threats to health or safety that require an immediate solution are described at 24 CFR part 1003, subpart E. In order to satisfy these criteria, the problem to be addressed must be such that an emergency situation exists or would exist if the problem were not addressed. In addition, you may use funds provided under that subpart only to address imminent threats that are not of a recurring nature and that represent a unique and unusual circumstance that impacts an entire service area. In accordance with the provisions of 24 CFR part 1003, subpart E, we will retain $2,000,000 to meet the funding needs of imminent threat applications submitted to any of the Area ONAPs. The grant ceiling for imminent threat applications for FY 2001 is $350,000. We established this ceiling pursuant to the provisions of 24 CFR 1003.400(c).

You do not have to submit a request for assistance under the imminent threat set-aside (24 CFR part 1003, subpart E) by the deadline established in this NOFA; the deadline applies only to applications submitted for assistance under 24 CFR part 1003, subpart D, Single purpose grants.

If, in response to a request for assistance, an Area ONAP issues you a letter to proceed under the authority of 1003.401(a), then your application must be submitted to and approved by the Area ONAP before a grant agreement may be executed. This application must contain: Standard Form 424, Application for Federal Assistance; a brief description of the proposed project; Form HUD-4123, Cost Summary; Form HUD-4125, Implementation Schedule; Form HUD-2880, Applicant/Recipient Disclosure/Update Report; Form HUD-4126, Certifications; and, Form HUD-50070, Certification for a Drug-Free Workplace.

III. Program Description; Eligible Applicants; and Eligible Activities

Program Description. The purpose of the ICDBG Program is the development of viable Indian and Alaska Native communities, including the creation of decent housing, suitable living environments, and economic opportunities primarily for persons with low and moderate incomes.

Eligible Applicants. To apply for funding you must be eligible as an Indian Tribe (or as a tribal organization) by the application submission date.

Tribal organizations are permitted to submit applications under 24 CFR 1003.5(b) on behalf of eligible tribes when one or more eligible tribe(s) authorize the organization to do so under concurring resolutions. As is stated in this regulatory section, the tribal organization must itself be eligible under title I of the Indian Self-Determination and Education Assistance Act. A determination of such eligibility must be made by the Bureau of Indian Affairs or the Indian Health Service, as appropriate. This determination must be provided to the ONAPs by the application submission date.

If a tribe or tribal organization claims that it is a successor to an eligible entity, the ONAPs must review the documentation to determine whether it is in fact the successor entity.

Due to the unique structure of tribal entities eligible to submit ICDBG applications in Alaska, and as only one ICDBG application may be submitted for each area within the jurisdiction of an entity eligible under 24 CFR 1003.5, a tribal organization that submits an application for activities in the jurisdiction of one or more eligible tribes or villages must include a concurring resolution from each such tribe or village authorizing the submittal of the application. Each such resolution must also indicate that the tribe or village does not itself intend to submit an ICDBG application for that funding round. The hierarchy for funding priority continues to be the IRA Council, the Traditional Village Council, the ANCSA Village Corporation, and the ANCSA Regional Corporation.

On March 13, 2000 (65 FR 13298), the Bureau of Indian Affairs published a Federal Register notice entitled “Indian Entities Recognized and Eligible to Receive Services From the United States Bureau of Indian Affairs.” This notice provides a listing of Indian Tribal Entities in Alaska found to be Indian Tribes as the term is defined and used in 25 CFR part 83. Additionally, pursuant to title I of the Indian Self-Determination and Education Assistance Act, ANCSA Village Corporations and Regional Corporations are also considered tribes and therefore eligible applicants for the ICDBG program.

Any questions regarding eligibility determinations and related documentation requirements for entities in Alaska should be referred to the Alaska Area ONAP prior to the application submission date. (See 24 CFR 1003.5 for a complete description of eligible applicants.)

Please note: when used in this NOFA the word “tribe” means an Indian tribe, band, group or nation, including Alaska Indians, Aleuts, Eskimos, Alaska Native Villages, ANCSA Village Corporations, and ANCSA Regional Corporations.

Eligible Activities. Activities that are eligible for ICDBG funding are identified at 24 CFR part 1003, subpart C. Please note that although this subpart has not yet been revised to include the restrictions on activity eligibility which was added to section 105 of the CDBG statute by section 588 of the Quality Housing and Work Responsibility Act of 1998, these restrictions apply. Specifically, ICDBG funds may not be used to assist directly in the relocation of any industrial or commercial plant, facility, or operation, from one area to another, if the relocation is likely to result in a significant loss of employment in the labor market area from which the relocation occurs. The rating factors included under IV (K) specify many of the activities listed as eligible under part 1003, subpart C. Those listed include new housing construction, housing rehabilitation, land acquisition, homeownership assistance, public facilities and improvements, economic development, and micro-enterprise programs. However, the following eligible activities not clearly identified by the rating factors may be proposed and rated as described below. For a complete description of eligible activities, please refer to 24 CFR Part 1003 Subpart C.

Acquisition of property. This activity can be proposed as Land to Support New Housing or as part of New Housing Construction, Community Facilities or Economic Development depending on the purpose of the land acquisition.

Assistance to Institutions of Higher Learning. If such entities have the capacity, they can help the ICDBG grantees to implement eligible projects.

Assistance to Community Based Development Organizations (CBDO's). Grantees may provide assistance to these organizations to undertake activities related to neighborhood revitalization, community economic development or energy conservation.

Clearance, Demolition. These activities can be proposed as part of Housing Rehabilitation, New Housing Construction, Community Facilities or Land to Support New Housing.

Code Enforcement. This activity can be proposed as Housing Rehabilitation. The activity must comply with the requirements at 24 CFR 1003.202. HUD approval is required prior to demolition of any assisted housing.

Comprehensive Planning. This activity is eligible, and can be proposed, as part of any otherwise eligible project to the extent allowed by the 20 percent cap on the grant for planning/administration.

Energy Efficiency. Associated activities can be proposed under Housing Rehabilitation or Community Facilities depending upon the type of energy efficiency activity.

Lead Based Paint Abatement and Evaluation. These activities can be proposed under Housing Rehabilitation.

Non-Federal Share. ICDBG funds can be used as a match for any non-ICDBG funding to the extent allowed by such funding and the activity is eligible under 24 CFR part 1003, Subpart C.

Privately and Publicly Owned Commercial or Industrial Buildings (real property improvements). These activities can be proposed under Economic Development. Privately owned commercial rehabilitation is subject to the requirements at 24 CFR 1003.202.

Privately Owned Utilities. Assistance to privately owned utilities can be proposed under Community Facilities.

Removal of Architectural Barriers. This includes removing barriers that restrict mobility and access for elderly and severely disabled persons. This activity can be proposed under Housing Rehabilitation or Community Facilities depending upon the type of structure where the barrier will be removed.

IV. Program Requirements

In addition to the program requirements listed in the General Section of this SuperNOFA, as an applicant you must comply with the following requirements:

Indian Preference. HUD has determined that the ICDBG program is subject to section 7(b) of the Indian Self-Determination and Education Assistance Act (25 U.S.C. 450e(b)). The provisions and requirements for implementing this section are in 24 CFR 1003.510.

Anti-discrimination Provisions. Under the authority of section 107(e)(2) of the CDBG statute, HUD waived the requirement that recipients comply with the anti-discrimination provisions in section 109 of the CDBG statute with respect to race, color, and national origin. You must comply with the other prohibitions against discrimination in section 109 (HUD's regulations for section 109 are in 24 CFR part 6) and with the Indian Civil Rights Act.

Conflict of Interest. In addition to the conflict of interest requirements with respect to procurement transactions found in 24 CFR 85.36 and 84.42, as applicable, the provisions of 24 CFR 1003.606 apply to such activities as the provision of assistance by the recipient or sub-recipients to businesses, individuals, and other private entities under eligible activities that authorize such assistance.

Economic Opportunities for Low and Very Low-Income Persons (Section 3). Section 3 requirements apply to the ICDBG Program, but as stated in § 135.3(c), the procedures and requirements of 24 CFR part 135 apply to the maximum extent consistent with, but not in derogation of, compliance with Indian Preference.

Please note that the requirements in the General Section regarding applicability of affirmatively furthering fair housing do not apply. The requirement is inconsistent with section 106(a) of the Housing and Community Development Act of 1974, as amended, which specifically makes inapplicable to the ICDBG program the requirement of section 104(b)(2) that the grantee certify that it will affirmatively further fair housing.

V. Application Selection Process

You, the applicant, must meet all of the applicable threshold requirements of Section II(B) of the General Section of the SuperNOFA. HUD will review each application and assign points in accordance with the selection factors described in this section. The maximum number of points is 100.

(A) Screening for acceptance. ONAPs will screen applications for single purpose grants. The ONAPs will reject an application that fails this screening and will return the application unrated. The ONAPs will accept your application if it meets all the criteria listed below as items (1) through (6):

(1) Your application is received or submitted in accordance with the requirements set forth under APPLICATION DUE DATE in this NOFA;

(2) You are eligible;

(3) The proposed activities are eligible;

(4) Your application contains substantially all the components specified in VI of this notice;

(5) Your application shows that at least 70% of the grant funds are to be used for activities that benefit low and moderate income persons, in accordance with the requirements of 24 CFR 1003.208; and

(6) Your application is for an amount that does not exceed the grant ceilings that are established by the NOFA.

(B) Threshold review. ONAPs will rate and rank each application that passes the screening process to ensure that each applicant and each proposed project meets the applicant threshold requirements set forth in 24 CFR 1003.301(a) and the project specific threshold requirements set forth in 1003.302.

(C) Rating. The ONAPs will review and rate each project that meets the acceptance criteria and threshold requirements. The total points for all rating factors is 100. This is the maximum any project can receive. As indicated below, please note that to be considered for funding, a project must receive a minimum of 25 points under Rating Factor 1.

(D) Public Service Projects. Because there is a statutory 15 percent cap on the amount of grant funds that may be used for public services activities, you may not receive a single purpose grant solely to fund public services activities. Your application, however, may contain a public services component for up to 15 percent of the total grant. This component may be unrelated to the other project(s) included in your application. If your application does not receive full funding, we will reduce the public services allocation proportionately so that it comprises no more than 15 percent of the total grant award. In making such reductions, the feasibility of the proposed project will be taken into consideration. If a proportionate reduction of the public services allocation renders such a project infeasible, the project will not be funded.

(E) Final Ranking. We will rank all projects against each other according to the point totals they receive, regardless of the type of project or component under which the points were awarded. We will select projects for funding based on this final ranking, to the extent that funds are available. We will determine individual grant amounts in a manner consistent with the considerations set forth in 24 CFR 1003.100(b)(2). Specifically, ONAPs may approve a grant amount less than the amount requested. In doing so, ONAPs may take into account the size of the applicant, the level of demand, the scale of the activity proposed relative to need and operational capacity, the number of persons to be served, the amount of funds required to achieve project objectives, the reasonableness of the project costs, and the administrative capacity of the applicant to complete the activities in a timely manner.

If the ONAPs determine that there are not enough funds available to fund a project as proposed by the applicant, they may decline to fund that project and may fund the next highest ranking project or projects for which adequate funds are available. The ONAPs may select, in rank order, additional projects for funding if one of the higher ranking projects is not funded or if additional funds become available.

(F) Tiebreakers. When rating results in a tie among projects and insufficient resources remain to fund all tied projects, the ONAPs will approve projects that can be fully funded over those that cannot be fully funded. When that does not resolve the tie, the ONAPs will use the following factors in the order listed to resolve the tie:

(1) The applicant that has not received an ICDBG over the longest period of time.

(2) The applicant with the fewest active ICDBGs.

(3) The project that would benefit the highest percentage of low and moderate income persons.

(G) Pre-award requirements. If there are technical deficiencies in successful applications, you must satisfactorily address these deficiencies before we can make a grant award. Please see Section VIII of this NOFA for a definition of such a deficiency and a description of the process to address and correct the deficiency. You must correct all technical deficiencies within the timeframe established by HUD. If they are not corrected, we will not make the grant award and will reject your application.

We also may require a successful applicant to provide supporting documentation concerning the management, maintenance, operation, or financing of proposed projects before a grant agreement can be executed. We will normally give you no less than thirty (30) calendar days to respond to these requirements. If you do not respond within the prescribed time period or you make an insufficient response, the ONAPs may determine that you have not met the requirements and may withdraw the grant offer. The ONAPs require you to submit supporting documentation if specific questions remain concerning the scope, magnitude, timing, or method of implementing the project; or you have not provided information verifying the commitment of other resources required to complete, operate, or maintain the proposed project. You may not substitute new projects for those originally proposed in your application. We will award, in accordance with the provisions of this NOFA, grant amounts that had been allocated for applicants unable to meet pre-award requirements.

(H) Definitions.

Adopt means to approve by formal tribal resolution.

Assure means to comply with a specific NOFA requirement. As an applicant, you should state your compliance or your intent to comply in your application.

Document means to supply supporting written information and/or data in the application that satisfies the NOFA requirement.

Entity Other than Tribe. A distinction is made between the requirements for point award under Rating Factor 3 if a tribe or an entity other than the tribe will assume maintenance and related responsibilities for projects other than economic development and land acquisition for housing. Entities other than the tribe must have the following characteristics: must be legally distinct from the tribal government; their assets and liabilities cannot be considered to be assets and liabilities of the tribal government; claims against such entities cannot be made against the tribal government; and, must have governing boards, boards of directors, or groups or individuals similar in function and responsibility to such boards which are separate from the tribe's general council, tribal council, or business council, as applicable.

Entities other than the tribe may be completely external to the tribe, e.g., a Federal agency, or may be an entity formed or chartered under provisions of tribal law, e.g., a tribally chartered non-profit or for-profit corporation, tribal utility authority, or tribal political subdivision.

If the nature of the entity is such that it is apparent that it is not the tribe, e.g., it is a Federal or state department or agency, information establishing that it is an entity other than the tribe need not be provided. However, if it is not apparent that the entity has all of the characteristics stated above, it is the applicant's responsibility to provide information to HUD to establish that this is true. If potential applicants are unsure whether or not a specific entity has the necessary characteristics, a request for review should be submitted to the ONAPs prior to the submission of the application for assistance. If an applicant waits to submit the information on entity characteristics with an application and HUD found the information to be inadequate or inconclusive, the award of points would be jeopardized.

Homeownership Assistance Programs. Tribes may apply for assistance to provide direct homeownership assistance to low- and moderate-income households to: subsidize interest rates and mortgage principal amounts for low- and moderate-income homebuyers; finance the acquisition by low- and moderate-income homebuyers of housing that is occupied by the homebuyers; acquire guarantees for mortgage financing obtained by low- and moderate-income homebuyers from private lenders (except that ICDBG funds may not be used to guarantee such mortgage financing directly, and grantees may not provide such guarantees directly); provide up to 50 percent of any downpayment required from a low- and moderate-income homebuyer; or, pay reasonable closing costs (normally associated with the purchase of a home) incurred by a low- or moderate-income homebuyer.

Leverage means resources that you will use in conjunction with ICDBG funds to achieve the objectives of the project. Resources include, but are not limited to: tribal trust funds; loans from individuals or organizations; State or Federal loans or guarantees; other grants; and non-cash contributions and donated services. (See Rating Factor 4 of this NOFA for documentation requirements for point award for leveraged resources.)

Microenterprise Programs. Tribes may apply for assistance to operate programs to fund the development, expansion and stabilization of microenterprises. Microenterprises are defined as commercial entities with five or fewer employees, including the owner. Microenterprise program activities may entail the following assistance to eligible businesses: providing credit, including, but not limited to, grants, loans, loan guarantees, and other forms of financial support for the establishment, stabilization, and expansion of microenterprises; providing technical assistance, advice, and business support services to owners of microenterprises and persons developing microenterprises; and, providing general support, including, but not limited to, peer support programs, counseling, child care, transportation, and other similar services to owners of microenterprises and persons developing microenterprises.

Operations and Maintenance (O&M) for Community Facilities. While various items of cost will vary in importance and significance depending on the type of facility proposed, there are items of expense related to the operation of the physical plant which must be addressed in a maintenance and operation plan (tribe assumes responsibility) or letter of commitment (entity other than tribe will assume these responsibilities). These items include daily or other periodic maintenance activities; repairs such as replacing broken windows; capital improvements or replacement reserves for repairs such as replacing the roof; fire and liability insurance (may not be applicable to most types of infrastructure projects such as water and sewer lines); and, security (may not be applicable to many types of infrastructure projects such as roads).

Please note that while it is possible that the service provider may, in its agreement with a tribe, commit itself to cover certain or all facility O&M costs, as defined, these O&M costs do not include the program service provision costs related to the delivery of services (social, health, recreational, educational or other) which may be provided in a facility.

Project Cost means the total cost to implement the project. Project cost includes both ICDBG and non-ICDBG funds and resources.

Section 8 standards means housing quality standards contained in 24 CFR 982.401 (Section 8 Tenant-Based Assistance: Unified Rule for Tenant-Based Assistance Under the Section 8 Rental Certificate Program and the Section 8 Rental Voucher Program).

Standard Housing/Standard Condition means housing that meets the housing quality standards (HQS) adopted by the applicant. The HQS adopted by the applicant must be at least as stringent as the Section 8 standards unless the ONAPs approve less stringent standards based on a determination that local conditions make the use of Section 8 standards infeasible. You may submit, before the application due date, a request for the approval of standards less stringent than Section 8 standards. If you submit the request with your application, you should not assume automatic approval by the ONAPs. The adopted standards must provide for a safe house, in physically sound condition with all systems performing their intended design functions; a livable home environment and an energy efficient building and systems that incorporate energy conservation measures; and, an adequate space and privacy for all intended household members.

(I) General threshold requirement. According to 24 CFR 1003.301(a), an applicant that has an outstanding ICDBG obligation to HUD that is in arrears, or one that has not agreed to a repayment schedule, will be disqualified from the competition.

(J) Project specific threshold requirements. (1) Housing Projects (New Construction, Rehabilitation, Land Acquisition and Homeownership Assistance). For housing projects, you must provide an assurance that households that have been evicted from HUD-assisted housing within the past five years will not be assisted by the proposed project except in emergency situations. The ONAP Administrator will review each emergency situation proposed by an applicant on a case-by-case basis to determine whether an exception is warranted.

You also must provide an assurance that the proposed housing category project is consistent with and, to the extent possible, identified in the Indian Housing Plan (IHP) (One-Year Financial Resources Narrative; Table 2, Financial Resources, Part I., Line 1E; and, Table 2, Financial Resources, Part II) submitted by you or on your behalf for the Indian Housing Block Grant Program under the Native American Housing Assistance and Self Determination Act of 1996 (25 U.S.C. 4101 et seq.). If the IHP for the IHBG program year that coincides with the implementation of the ICDBG proposed project has not been submitted, you must provide an assurance that when submitted, the IHP will specifically reference the proposed housing category project.

(2) Housing Rehabilitation Projects. For housing rehabilitation projects, you must adopt rehabilitation standards and rehabilitation policies before you submit an application. You must submit these standards and policies with the application. You must also provide an assurance that:

(a) All households that receive grant assistance under a housing rehabilitation project will be of low and moderate income status.

(b) Any house to be rehabilitated will be the permanent non-seasonal residence of the occupants; the residents will live in the unit at least nine months per year.

(c) Houses designated for eventual replacement will only receive repairs essential for the health and safety of the occupants.

(d) Project funds will be used to rehabilitate HUD-assisted houses only when the tenant/homebuyer's payments are current or the tenant/homebuyer is current in a repayment agreement. In emergency situations, the ONAP Administrator may grant exceptions to this requirement on a case-by-case basis.

(e) Houses that have received comprehensive rehabilitation assistance from any ICDBG or other federal grant program within the past 8 years will not be assisted with ICDBG funds to make the same repairs if the repairs are needed as a result of abuse or neglect.

(f) Although you do not have to provide an assurance, grant funds spent on rehabilitation per house must fall within the following limits for each Area ONAP jurisdiction:

(i) Eastern/Woodlands | $35,000
(ii) Southern Plains | 20,000
(iii) Northern Plains | 35,000
(iv) Southwest | 40,000
(v) Northwest | 40,000
(vi) Alaska | 55,000

(3) Land Acquisition Projects. For land acquisition projects, your application must contain information and documentation, such as a preliminary plot plan or its equivalent, establishing that there is a reasonable ratio between the number of net usable acres to be acquired and the number of low and moderate income households with documented housing needs. A clear objective of the applicant must be to make the most effective and economic use of the land proposed for acquisition.

Your application must clearly demonstrate and document housing assistance needs with a survey that identifies the households to be served, their size, income levels, and the condition of current housing or, if applicable, Table I, Statement of Needs from your Tribe's Indian Housing Plan (IHP). The survey and/or Table I from the IHP must be submitted with the application.

Your application must include evidence of a commitment and an ability to construct at least 25 percent of the housing units to be built on the land proposed for acquisition. This evidence must consist of one (or more) of the following: a firm or conditional commitment to construct (or to finance the construction of) the units; documentation that an approvable application for the construction of these units has been submitted to a funding source or entity; or, documentation that these units are specifically identified in the Indian Housing Plan submitted on or on behalf of the applicant as an affordable housing resource with a commensurate commitment of Indian Housing Block Grant (IHBG) resources.

(4) New Housing Construction. New housing construction can only be implemented through a Community Based Development Organization (CBDO). Eligible CBDOs are described in 24 CFR 1003.204(c). You must provide an assurance that you understand this requirement.

You must include in the application, documentation supporting the following determinations: all households to be assisted under a new housing construction project must be of low or moderate income status; no other housing is available in the immediate reservation area that is suitable for the households to be assisted; no other funding sources including an Indian Housing Block Grant can meet the needs of the household(s) to be served; the house occupied by the household to be assisted is not in standard condition and rehabilitation is not economically feasible, the household is currently in an overcrowded house (sharing house with another household(s)), or the household to be assisted has no current residence.

Before you submit an application for new housing construction projects, you must adopt construction standards and construction policies. You must identify the building code to be used when constructing the houses and must document that this code has been adopted. The building code may be a tribal building code or a nationally recognized model code. If it is a tribal code, it must regulate all of the areas and sub-areas identified in 24 CFR 200.925(b). If the code is recognized nationally, it must be the latest edition of one of the codes incorporated by reference in 24 CFR 200.925(c).

You must provide an assurance that any house to be constructed will be the permanent non-seasonal residence of the household to be assisted. This household must live in the house at least nine months per year.

(5) Homeownership Assistance Projects. No project specific thresholds.

(6) Infrastructure. No project specific thresholds.

(7) Buildings. If you propose a facility that would provide health care services funded by the Indian Health Service (IHS), you must assure that the facility meets all applicable IHS facility requirements. We recognize that tribes that are contracting services from the IHS may establish other facility standards. These tribes must assure that these standards at least compare to nationally accepted minimum standards.

(8) Economic Development. Economic development assistance may be provided only when a financial analysis is provided that shows public benefit commensurate with the assistance to the business can reasonably be expected to result from the assisted project. The analysis should also establish that to the extent practicable, reasonable financial support will be committed from non-federal sources prior to disbursement of federal funds; any grant amount provided will not substantially reduce the amount of non-federal financial support for the activity; not more than a reasonable rate of return on investment is provided to the owner; and that grant funds used for the project will be disbursed on a pro-rata basis with amounts from other sources. In addition, it must be established that the project is financially feasible and has a reasonable chance of success.

Microenterprise Projects. No project specific thresholds.

(K) Factors for Award Used To Evaluate and Rate Applications. The factors for rating and ranking applications and the points for each factor are provided below. The maximum number of points for all rating factors is 100. This is the maximum any project can receive.

Rating Factor 1: Capacity of the Applicant (35 Points)

This factor addresses the extent to which you have the organizational resources necessary to successfully implement the proposed activities in a timely manner. If applicable, past performance in administering previous ICDBG will be taken into consideration. Please specifically address the existence or availability of these resources for the specific type of activity for which you are applying. You must receive a minimum of 25 points under this factor for your proposed activity to be eligible for funding. HUD will not rate any projects further that do not receive a minimum of 25 points under this factor.

Your application must include documentation demonstrating that you possess or can obtain managerial, technical, and/or administrative capability necessary to carry out the proposed project. Your application must address who will administer the project and how you plan to handle the technical aspects of executing the project.

Your application describes the experience and expertise of existing staff in the implementation of the specific activity for which you are applying and what responsibilities they will have in project implementation, as well as those aspects of project implementation that will be contracted to outside parties. (5 points)

Your application addresses overall project management. (5 Points)

Your application addresses financial management. (4 Points)

Your application addresses procurement and contract administration. (3 Points)

Your application addresses environmental reviews. (3 Points)

Your performance in administering ICDBG grants over the preceding 12-month period on any open grant will be evaluated based on the following performance measures. If you do not have any open ICDBG grants, then you will receive 15 points under this sub-factor.

You have had satisfactory progress in meeting the time frames established in the HUD-approved Implementation Schedule for the ICDBG Program. (3 Points)

You have had timely submission of required reports including the Annual Status and Evaluation Report and Federal Cash Transaction Report for the ICDBG Program. (3 Points)

You have submitted close-out documents to HUD in a timely manner. Close-out documents are required for the ICDBG program within 90 days of completion of project activities. (3 Points)

You have submitted in a timely fashion annual audits in accordance with the ICDBG Program requirements. (3 Points)

You have resolved in a timely fashion ICDBG monitoring findings and controlled audit findings or no findings in current reports. (3 Points)

Rating Factor 2: Need/Extent of the Problem (25 Points)

This factor addresses the extent to which there is a need for the proposed project to address a documented problem among the intended beneficiaries.

Your application includes documentation demonstrating that the proposed project meets an essential community development need by fulfilling a function that is critical to the continued existence or orderly development of the community. (10 points)

For public facilities and improvements and economic development projects, the proposed activities benefit the neediest segment of the population, as identified below. You must include information demonstrating that income data were collected in a statistically reliable and independently verifiable manner.

85 percent or more of the beneficiaries are low or moderate income. (15 points)

At least 75 percent but less than 85 percent of the beneficiaries are low or moderate income. (10 points)

At least 55 percent but less than 75 percent of the beneficiaries are low or moderate income. (5 points)

Less than 55 percent of the beneficiaries are low or moderate income. (0 points)

For new housing, housing rehabilitation, land acquisition, and homeownership assistance projects, the proposed activities are limited to low or moderate income beneficiaries. To evaluate need, the applicant must demonstrate that the amount of the Indian Housing Block Grant (IHBG) most recently received by the tribe or its tribally designated housing entity (TDHE) is not sufficient to have a significant impact on identified housing needs of low or moderate income households.

The Indian tribe's IHBG amount was $100,000 or less in IHBG funds. (15 points)

The Indian tribe's IHBG amount was more than $100,000 but at most $300,000 in IHBG funds. (10 points)

The Indian tribe's IHBG amount was more than $300,000 but at most $500,000 in IHBG funds. (5 points)

The Indian tribe's IHBG amount was more than $500,000 in IHBG funds. (0 points)

For programs which will assist in the development, expansion, or stabilization of microenterprises, the owner(s) of the microenterprise must be low or moderate income and the majority of the jobs created or retained will be for low or moderate income persons. To evaluate need, the nature of the jobs created or retained will be evaluated. The owners of the microenterprises are low and moderate income and:

All employees are low or moderate income. (15 points)

At least 75 percent but less than 100 percent of the employees are low or moderate income. (10 points)

At least 55 percent but less than 75 percent of the employees are low or moderate income. (5 points)

Less than 55 percent of the employees are low and moderate income. (0 points)

Rating Factor 3: Soundness of Approach (25 Points)

This factor addresses the quality and cost effectiveness of your proposal, the degree to which your project provides other benefits to community members, and the commitment to sustain your proposed activities.

(1) Your proposed project is a viable and cost effective approach to address the identified need. Appropriate information to include in the application to address this factor is a description of other options considered during project planning, an explanation of how the size, type, and location of the project, if applicable and appropriate, were determined, and a discussion of anticipated cost savings due to innovative program design and/or construction methods. (5 points)

(2) Your proposed project will contribute to community objectives other than the direct objective of the project, such as job creation or retention, education and job training opportunities, economic self-sufficiency, homeownership, and reduction of drug-related crime. (5 points)

(3) Your application demonstrates your commitment to sustain your proposed activities. This commitment must be demonstrated in the following project specific ways:

(a) Public facilities and improvements. (i) If the tribe assumes operation and maintenance responsibilities for public facilities and improvements, a resolution that both adopts the operation and maintenance plan and commits necessary funds must be included in the application.

The plan itself is included and addresses maintenance, repairs, insurance, replacement reserves and includes a cost breakdown for annual expenses; for community buildings only, the source of operating funds is identified for any recreation, social or other services to be provided by other entity/ies and letters of commitment from service providers are included which address both operating expenses and space needs. (15 points)

A resolution adopting the operation and maintenance plan and committing funds is included; the plan is included and addresses most, but not all above items, but does include a satisfactory cost breakdown; for community buildings only, above service provider commitments (if applicable) as well as the source of operating funds are included. Information provided is sufficient to determine that the project will proceed effectively. (10 points)

A resolution adopting the plan and committing funds, or a plan addressing most of the above items is included. Information provided is sufficient to determine that the project will proceed effectively. (5 points)

None of the above criteria are met. (0 points)

(ii) If an entity other than the tribe commits to pay for operation and maintenance for public facilities and improvements, the application must contain a letter of commitment from the entity that assumes the operation and maintenance responsibilities.

Your application contains a letter of commitment from the entity that identifies the maintenance responsibilities and, if applicable, responsibilities for operations the entity will assume, as well as its financial capacity to provide for these responsibilities; for community buildings only, the source of funds for program service provision is identified for any recreation, social or other services to be provided by other entities and letters of commitment from service providers are included which address both these funds and space needs. (15 points)

Your application contains a letter of commitment identifying maintenance responsibilities and, if applicable, responsibilities for operations the entity will assume, but no information regarding the entity's financial capacity is included; for community buildings only, the source of funds for program service provision is identified for any applicable services to be provided and letters of commitment from applicable providers are included which address both these funds and space needs. (10 points)

Your application identifies the maintenance provider and, if applicable, responsibilities for operations the entity will assume, but a letter of commitment is not provided; for community buildings only, letters of commitment to provide services are included but no information regarding the provision of these funds or space needs is provided. (5 points)

None of the above criteria are met. (0 points)

(b) New housing construction, housing rehabilitation, and homeownership assistance projects.

The ongoing maintenance responsibilities are clearly identified for the tribe and/or the participants, as applicable. All participant maintenance responsibilities are included on a statement to be signed by the participant as a condition of receiving grant assistance and the statement to be used is included in the application. (15 points)

Maintenance responsibilities are identified, but in insufficient detail, and the above statement to be signed by the participant is submitted. (10 points)

Tribal maintenance responsibilities are identified but participant responsibilities are either not addressed or do not exist. (5 points)

None of the above criteria are met. (0 points)

(c) Economic development. You must include information or documentation which addresses or provides the following in the application: a description of the organizational system and capacity of the entity that will operate the business; the feasibility and market analysis of the proposed business activity and the financial viability of the project.

Appropriate documents to include in the application to address these items include:

(i) Articles of incorporation, by-laws, resumes of key management positions and board members.

(ii) Business operating plan.

(iii) Market study no more than two years old.

(iv) Feasibility study indicating how the proposed business will capture a fair share of the market.

(v) Detailed cost summary for the development of the project.

(vi) Five year operating or cash flow financial projections.

(vii) For the expansion of an existing business, copies of financial statements for the most recent three years (or the life of the business, if less than three years).

All above documents applicable to the proposed project are included in your application and the chances for financial success are excellent. (15 points)

All or most of the above documents applicable to the proposed project are included in your application and the chances for financial success are reasonable. (8 points)

Neither of the above criteria are met. (0 points)

(d) Micro enterprise assistance. You must include the following information or documentation in the application:

(i) Program description: You must submit a description of the proposed microenterprise program, including the types of entities that will be eligible to apply for funds through the microenterprise program.

(ii) Business plan. You must demonstrate that you will require each microenterprise applicant to submit a business plan. You must describe your process for reviewing and analyzing these plans.

(iii) Underwriting. If a credit program is intended, you must indicate what your underwriting criteria will be. A thorough description of the process for how you will analyze the financial status of microenterprise applications is included.

(iv) Loan terms. If a credit program is intended, you must indicate their range of loan terms (i.e. interest rate, maximum loan amount, duration, loan servicing provisions) and you must also indicate how you will determine the terms offered to individual microenterprise applicants.

(v) Market. You must indicate how you will analyze the market for the proposed microenterprise businesses and ensure that each funded business has a well defined market strategy.

All above documents applicable to the proposed project are included in the application and the chances for success are excellent. (15 points)

All or most of the above documents applicable to the proposed project are included in the application and the chances for success are reasonable. (8 points)

Neither of the above criteria are met. (0 points)

(e) Land Acquisition: Submissions should include the results of a preliminary investigation conducted by a qualified independent entity demonstrating that the proposed site has suitable soil conditions for housing and related infrastructure, available drinking water, access to utilities, vehicular access, drainage, nearby social and community services, and no known environmental problems.

The submissions include all of the above mentioned items and all necessary infrastructure is in place. (15 points)

The submissions demonstrate that the proposed site(s) is/are suitable for housing but that not all necessary infrastructure is in place. A detailed description of resources to be used and a detailed implementation schedule for development of all necessary infrastructure demonstrates that such infrastructure, as needed for proposed housing development, will be developed in time for such development, but no later than two years after site purchase. (8 points)

Neither of the above criteria are met. (0 points)

Rating Factor 4: Leveraging Resources (10 Points)

HUD believes that ICDBG funds can be used more effectively to benefit a larger number of Native American persons and communities if projects are developed that use tribal resources and resources from other entities in conjunction with ICDBG funds. To encourage this, we will award points based on the percentage of non-ICDBG resources provided relative to project costs as follows:

Non-ICDBG resources to project costs | Points
Less than 5 percent | 0
At least 5 percent but less than 10 percent | 2
At least 10 percent but less than 15 percent | 4
At least 15 percent but less than 20 percent | 6
At least 20 percent but less than 25 percent | 8
25 percent or more | 10

Contributions which could be considered as leveraged resources for point award include, but are not limited to: tribal trust funds; loans from individuals or organizations; State or Federal loans or guarantees; other grants; donated goods and services needed for the project; land needed for the project; and, direct administrative costs.

Contributions that will not be considered include, but are not limited to: indirect administrative costs as identified in OMB Circular A-87, attachment A, section F; contributions of resources to pay for anticipated operations and maintenance costs of the proposed project; and, in the cases of expansions to existing facilities, the value of the existing facility.

To be considered for point award, firm and projected commitments must be demonstrated at the time of application.

To demonstrate the commitment of tribal resources, the application must contain a council resolution or legal equivalent that identifies and commits the tribal resources to the project, subject to approval of the ICDBG assistance and favorable outcome of any environmental review required under 24 CFR part 58 for the project.

To demonstrate the commitment of public agency, foundation, or other private party resources, a letter of commitment, memorandum of understanding, and/or agreement to participate, including any conditions to which the contribution may be subject, must be submitted with the application. All letters of commitment must include the donor organization's name, the specific resource proposed, the dollar amount of the financial or in-kind resource and method for valuation, and the purpose of that resource within the proposed project. The commitment must be signed by an official of the organization legally authorized to make commitments on behalf of the organization and must be conditional upon favorable outcome of any environmental review required under 24 CFR part 58 for the project.

HUD recognizes that in some cases, firm commitments of non-tribal resources may not be obtainable by your tribe by the application due date. For such projected resources, your application must include a statement from the contributing entity that describes why the firm commitment cannot be made at the current time and affirms that your tribe and the proposed project meets eligibility criteria for receiving the resource. In addition, a date by which the funding decisions will be made must be included. This date cannot be more than six months from the anticipated date of grant approval notification by HUD. Should HUD not receive notification of the firm commitment within 6 months of the date of grant approval, HUD will recapture the grant funds approved and will use them in accordance with the requirement of 24 CFR 1003.102.

In addition to the above requirements, for all contributions of goods, services and land, you must demonstrate that the donated items are necessary to the actual development of the project and include comparable costs (or time estimates, if appropriate) that support the donation. Land valuation must be established using one of the following methods and the documentation must be contained in the application: a site specific appraisal no more than two years old; an appraisal of a nearby comparable site also no more than two years old; or a reasonable extrapolation of land value based on current area realtor value guides.

Rating Factor 5: Comprehensiveness and Coordination (5 Points)

This factor addresses the extent to which your project planning and proposed implementation reflect a coordinated, community-based process of identifying and addressing needs.

Your application includes a tribal resolution stating that the proposed project is included in an adopted comprehensive community plan. In the case of new housing, housing rehabilitation, land acquisition projects, and homeownership assistance projects, the NAHASDA Indian Housing Plan may be considered a comprehensive community plan. The resolution must identify the title and approval date of the plan and indicate how project implementation will be coordinated with tribal and other efforts directed towards addressing the identified needs. (5 Points)

Your application documents active participation in tribal planning efforts to coordinate your proposed project, but the project is not included in an adopted comprehensive community plan. (3 Points)

Your application contains no documentation regarding the inclusion of the project in a comprehensive community plan or planning process. (0 Points)

VI. Application Submission Requirements

(A) Demographic data. You may submit data that are unpublished and not generally available in order to meet the requirements of this section. You must certify that:

(1) Generally available, published data are substantially inaccurate or incomplete;

(2) Data provided have been collected systematically and are statistically reliable;

(3) Data are, to the greatest extent feasible, independently verifiable; and

(4) Data differentiate between reservation and BIA service area populations, when applicable.

(B) Publication of Community Development Statement. You must prepare and publish or post the community development statement portion of your application according to the citizen participation requirements of 1003.604.

(C) Application Submission. Your application must contain the items listed below. You must also include the forms, standard forms, certifications, and assurances listed in the General Section of the SuperNOFA that are applicable to this funding and can be found in Appendix B to the General Section of the SuperNOFA. Those forms listed in that Appendix which are not applicable to this funding are: SF 424 A—Standard Form for Budget Information—Non-Construction Programs; SP 424-B—Standard Form for Assurances—Non-Construction Programs; SP 424 C—Standard Form for Budget Information—Construction Programs; and, SP 424 D—Standard Form for Assurances—Construction Programs. In addition, if the application has been submitted by a tribal organization as defined in 24 CFR 1003.5(b), on behalf of an Indian tribe, you must submit concurring resolutions from the Indian tribe stating that the tribal organization is applying on the tribe's behalf. The other required items are as follows:

(1) Community Development Statement that includes:

(a) Components that address the relevant selection criteria;

(b) A brief description or an updated description of community development needs;

(c) A brief description of projects proposed to address needs, including scope, magnitude, and method of implementing the project;

(d) A schedule for implementing the project (form HUD-4125, Implementation Schedule); and

(e) Cost information for each separate project, including specific activity costs, administration, planning, technical assistance, and total HUD share (form HUD-4123, Cost Summary);

(2) Certifications (form HUD 4126);

(3) A map showing project location, if appropriate;

(4) If the proposed project will result in displacement or temporary relocation, a statement that identifies:

(a) The number of persons (families, individuals, businesses, and nonprofit organizations) occupying the property on the date of the submission of the application (or date of initial site control, if later);

(b) The number to be displaced or temporarily relocated;

(c) The estimated cost of relocation payments and other services;

(d) The source of funds for relocation; and

(e) The organization that will carry out the relocation activities;

(5) If applicable, evidence of the disclosure required by 24 CFR 1003.606(e) regarding conflict of interest.

(6) If applicable, the demographic data certification described in Section IV(B) of the NOFA. The data accompanying the certification must identify the total number of persons benefiting from the project and the total number of low-and-moderate persons benefiting from the project. Supporting documentation should include a sample copy of a completed survey form and an explanation of the methods used to collect the data, and a listing of incomes by household.

VII. Clarifying Information

After the application due date, the ONAPs may not, consistent with 24 CFR part 4, subpart B, consider unsolicited information from you. The ONAPs may, however, but is under no obligation to, contact you to clarify an item in the application. You should note, however, that the ONAPs may not seek clarification of items or responses that improve the substantive quality of the applicant's response to any eligibility or selection criterion. The ONAPs will make any requests for clarifying information in writing and will specify the item, or items, that need clarification and a timeframe for response. Failure on your part to provide such requested information will result in the rejection of the application.

VIII. Correction of Technical Deficiencies

The General Section of the SuperNOFA provides the procedures for corrections to deficient applications. Additionally, as indicated under Section V(G) above, only successful applicants will be required to address technical deficiencies and this must be done before we make a grant award. If you do not provide the information necessary to address the deficiency within the time allowed, we will not award you the grant and will reject your application. The ONAPs will notify you in writing and will describe the technical deficiency, what must be done to correct it, and the date by which you must submit this information. The ONAPs will notify you by facsimile or by return receipt requested. Your response must be submitted (postmarked) by no later than the date established by the ONAPs. The ONAPs must provide you at least 14 calendar days to respond to the request.

IX. Error and Appeals

Judgments made within the provisions of this NOFA and the program regulations (24 CFR part 1003) are not subject to claims of error. You may bring arithmetic errors in the rating and ranking of applications to the attention of the ONAPs within 30 days of being informed of your score. If an arithmetic error was made in the application review and rating process that, when corrected, would result in the award of sufficient points to warrant the funding of an otherwise approvable project, the ONAPs may fund that project in the next funding round without further competition.

X. Environmental Requirements

As required by 24 CFR 1003.605, ICDBG grantees must perform environmental reviews of ICDBG activities in accordance with 24 CFR part 58. Grantees may not commit or expend any ICDBG or nonfederal funds on project activities (other than those listed in 24 CFR 58.34 or 58.35(b)) until HUD has approved a Request for Release of Funds and environmental certification submitted by the grantee. The expenditure or commitment of ICDBG or nonfederal funds for such activities prior to this HUD approval may result in the denial of assistance for the project or activities under consideration.

XI. Authority

Title I of the Housing and Community Development Act of 1974 (42 U.S.C. 5301 et seq.) and the regulations in 24 CFR part 1003.

Appendix A

The non-standard forms, which follow, are required for your ICDBG application.

BILLING CODE 4210-32-P

FUNDING AVAILABILITY FOR THE COMMUNITY OUTREACH PARTNERSHIP CENTERS PROGRAM (COPC)

Program Overview

Purpose of the Program. To provide funds to community colleges, four-year colleges, and universities to establish and operate Community Outreach Partnership Centers (COPCs) to address the problems of urban areas.

Available Funds. Approximately $8 million.

Eligible Applicants. Public and private nonprofit institutions of higher education granting two- or four-year degrees and accredited by a national or regional accrediting agency recognized by the U.S. Department of Education.

Application Deadline. June 1, 2001.

Match. 50% of the total costs of establishing and operating research activities and 25% of the total costs of establishing and operating outreach activities.

Additional Information

If you are interested in applying for funding under this program, please review carefully the General Section of this SuperNOFA and the following additional information.

I. Application Due Date, Application Kits, Further Information, and Technical Assistance

Application Due Date. Your completed application is due on or before 12:00 midnight, Eastern time, on June 1, 2001, at HUD Headquarters.

See the General Section of this SuperNOFA for specific procedures governing the form of application submission (e.g., mailed applications, express mail, overnight delivery, or hand carried).

Address for Submitting Applications. Your completed application consists of an original and two copies. Submit your completed application to: Processing and Control Branch, Office of Community Planning and Development, U.S. Department of Housing and Urban Development, 451 Seventh Street, SW, Room 7251, Washington, DC 20410. When submitting your application, please refer to COPC and include your name, mailing address (including zip code) and telephone number (including area code).

For Application Kits. For an application kit and supplemental material you should call the SuperNOFA Information Center at 1-800-HUD-8929. Persons with hearing or speech impairments may call the Center's TTY number at 1-800-HUD-2209. When requesting an application kit, you should refer to COPC and provide your name, address (including zip code), and telephone number (including area code). You may also download the application kit on the Internet through the HUD web site at http://www.hud.gov.

For Further Information and Technical Assistance. You may contact Jane Karadbil of HUD's Office of University Partnerships at (202) 708-1537, ext. 5918. If you have a speech or hearing impairment, you may call HUD's TTY number (202) 708-0770, or 1-800-877-8399 (the Federal Information Relay Service TTY). Other than the “800” number, these numbers are not toll-free. You may also reach Ms. Karadbil via the Internet at Jane_R._Karadbil@hud.gov.

Satellite Broadcast. HUD will hold an information broadcast via satellite for potential applicants to learn more about the program and preparation of an application. For more information about the date and time of this broadcast, you should consult the HUD web site at the web address listed above.

II. Amount Allocated

Up to $8 million has been allocated to fund grants under the program. This year, HUD will award two kinds of grants—(A) New Grants to applicants who have never received a COPC grant before to undertake eligible work and (B) New Directions Grants to fund previous COPC recipients (as identified in Section III.(B) below) to undertake new directions in their activities. Institutionalization Grants will not be funded under this funding announcement for COPC. HUD will use up to $6.4 million to fund approximately 16 New Grants and up to $1.2 million to fund approximately 8 New Directions Grants.

III. Program Description; Eligible Applicants; Eligible Activities

(A) Program Description. The main purpose of this COPC Program is to assist in establishing or carrying out outreach and applied research activities addressing the problems of urban areas. But HUD also looks to the program to encourage structural change, both within an institution of higher education and in the way the institution relates to its neighbors. Funding under this program is used to establish and operate local Community Outreach Partnership Centers (COPC). The five key concepts that your COPC Program should include are:

(1) Outreach, technical assistance, and applied research should be provided to neighborhoods and neighborhood-based organizations based on what the residents decide is needed, rather than what the institution concludes is appropriate for that neighborhood;

(2) Community-based organizations and residents should be empowered by the project and be your partners throughout the life of the project and beyond, from planning to implementation to activities beyond the grant;

(3) Your applied research should be related to the outreach activities and be used to influence your activities within the grant period or shortly after it ends. HUD will not fund research without practical application;

(4) The assistance you provide should be primarily by faculty, students, or to a limited extent, by neighborhood residents or community-based organizations funded by the university; and

(5) Your program should be part of your institution's broader effort to meet its urban mission, and be supported by its senior officials, rather than just the work of a few faculty members. Your proposed activities should not duplicate those of other entities in the community and should be appropriate for an institution of higher education to undertake in light of its teaching, and research, and service missions.

(B) Eligible Applicants. Eligible applicants for both New Grants and New Directions Grants are public or private nonprofit institutions of higher education granting two- or four-year degrees and accredited by a national or regional accrediting agency recognized by the U.S. Department of Education. For New Grants, only applicants that have never previously received a New Grant, a New Directions Grant, or an Institutionalization Grant are eligible. For New Directions Grants, applicants must meet the following requirements: you must have received a New Grant in FY 1994, 1995, 1996, 1997, or 1998; you must never have received a New Directions Grant; and you must have drawn down (i.e., requests for reimbursement have been processed), by the application due date, at least 75% of the funds you received from any previous COPC award. Joint Community Development Program grantees are not eligible for either kind of funding, nor are FY 1999 and 2000 COPC Grantees.

Consortia of eligible institutions may apply, as long as one institution is designated the lead applicant. Since the Statement of Work and other facets of the technical review are assessed in the context of the proposed staffing, and in order to fund as many eligible applicants as possible, HUD has determined that you may be part of only one consortium or submit only one application or you will be disqualified. HUD will hold you responsible for ensuring that neither you nor any part of your institution, including specific faculty, participate in more than one application. For New Directions Grants, if you originally received funding as a consortium, you are not required to submit again with all the consortium members. Members of a previously approved consortium may submit on their own or as part of their old consortium. However, as with New Grants, only one application from an institution will be permitted.

Different campuses of the same university system are eligible to apply, even if one campus has already received COPC funding. Such campuses are eligible as separate applicants only if they have administrative and budgeting structures independent of other campuses in the system.

(C) Eligible Activities. Your COPC Program must combine research with outreach, work with communities and local governments and address the multidimensional problems that beset urban areas. To meet the threshold requirements, your New Grant application must be multifaceted and address three or more urban problems and you must propose at least one distinct activity to address each separate urban problem. Urban problems include issues related to housing, economic development, neighborhood revitalization, infrastructure, health care, job training, education, crime prevention, planning, the environment, community organizing, and other areas deemed appropriate by the Secretary. Single purpose applications are not eligible. For example, if you propose to undertake health education for elementary school children, organizing around health issues, and job readiness for the health professions, HUD will deem your application as single purpose, because it really only addresses the problem of health care. Likewise, if you propose to address housing, economic development, and health care problems by developing a Geographic Information System, your application would also be considered single purpose because it does not propose separate and distinct activities for each of the problems you will address. As examples of eligible projects, if you propose a health care project for the elderly, a job training program on construction trades for high school seniors, and an affordable housing fair, you would meet the test of addressing three urban problems, each with a separate activity. Alternatively, if you propose a Geographic Information System to identify economic development potential, an oral history of the neighborhood, and the creation of block watches, you would also meet the test. These are just examples. For more information about the projects that have actually been funded under the program, you should look at the Office of University Partnerships' web site at www.oup.org. If you are applying for a New Directions Grant, you will only be required to address two urban problems and undertake at least one activity for each of these problems.

The statute creating COPC is very specific that the program address the problems of urban areas. HUD uses the Census definition of an urban area: a single geographic place (e.g., a city, town, or village, but not a county) with a population of 2,500 or more. You cannot meet this test by aggregating several places smaller than the population threshold in order to meet this requirement.

Funded research must have a clear near-term potential for solving specific, significant urban problems. You must have the capacity to apply your research results and to work with communities and local institutions, including neighborhood groups, local governments, and other appropriate community stakeholders, in applying these results to specific real-life urban problems.

While the list of eligible and ineligible activities is the same for both New Grant applicants and New Directions Grant applicants, New Directions Grant applicants must demonstrate that the proposed activities either implement new eligible projects in the current target neighborhood(s) or implement eligible projects in a new target neighborhood(s).

Eligible activities include:

(1) Research activities that have practical application for solving specific problems in designated communities and neighborhoods, including evaluation of the effectiveness of the outreach activities. In order to ensure that the primary focus of your project is on outreach, research may not total more than one-quarter of the total project costs contained in any grant made under this COPC funding announcement (including the required 50% match).

(2) Outreach, technical assistance and information exchange activities which are designed to address specific urban problems in designated communities and neighborhoods. Such activities must total no less than three-quarters of your total project costs (including the required 25% match). Examples of outreach activities include, but are not limited to:

(a) Job training and other training projects, such as workshops, seminars, and one-on-one and on-the-job training;

(b) Design of community or metropolitan strategies to resolve urban problems of communities and neighborhoods;

(c) Innovative use of funds to provide direct technical expertise and assistance to local community groups, residents, and other appropriate community stakeholders to assist them in resolving local problems such as homelessness, housing discrimination, and impediments to fair housing choice;

(d) Technical assistance in business start-up activities for low-and moderate-income individuals and organizations, including business start-up training and technical expertise and assistance, mentor programs, assistance in developing small loan funds, business incubators, etc;

(e) Technical assistance to local public housing authorities on welfare-to-work initiatives and physical transformations of public or assisted housing, including development of accessible and visitable housing;

(f) Assistance to communities to improve consolidated housing and community development plans and remove impediments to the design and implementation of such plans;

(g) Assistance to communities to design ways to use HUD's Partnership for Advancing Technology in Housing (PATH) technology such as analyzing building codes and building materials or designing new building systems. (Remember that actual physical development activities are not eligible under COPC.) For more information, see the General Section of the SuperNOFA or visit the website at www.pathnet.org;

(h) Assistance to communities to improve their fair housing planning process;

(i) Services to assist low-income students to attend college, as part of the U.S. Department of Education's Gaining Awareness and Readiness for Undergraduate Program (GEAR UP). (For more information call 202-502-7676 or visit the Department of Education's website at www.ed.gov.); and

(j) Regional projects that maximize the interaction of targeted inner city distressed neighborhoods with suburban job opportunities similar to HUD's Bridges-to-Work or Moving to Opportunity programs.

(3) Funds for faculty development including paying for course time or summer support to enable faculty members to work on the COPC.

(4) Funds for stipends or salaries for students (but the program cannot cover tuition and fees) while they are working on the COPC.

(5) Activities to carry out the “Responsibilities” listed under Section IV (B) below. These activities may include leases for office space in which to house the Community Outreach Partnership Center, under the following conditions:

(a) The lease must be for existing facilities not requiring rehabilitation or construction;

(b) No repairs or renovations of the property may be undertaken with Federal funds; and

(c) Properties in the Coastal Barrier Resource System designated under the Coastal Barrier Resources Act (16 U.S.C. 3501) cannot be leased with Federal funds.

(6) Components of your program may address metropolitan or regional strategies. You must clearly demonstrate how:

(a) Your strategies are directly related to what the targeted neighborhoods and neighborhood-based organizations have decided is needed; and

(b) Neighborhoods and neighborhood organizations are involved in the development and implementation of the metropolitan or regional strategies.

(D) Ineligible Activities. Activities ineligible for funding under this program are as follows:

(1) Research activities that have no clear and immediate practical application for solving urban problems or do not address specific problems in designated communities and neighborhoods.

(2) Any type of construction, rehabilitation, or other physical development costs.

(3) Costs used for routine operations and day-to-day administration of institutions of higher education, local governments or neighborhood groups.

IV. Program Requirements

In addition to the program requirements listed in the General Section of this SuperNOFA, grantees must meet the following program requirements:

(A) Grant Sizes and Terms. If you are applying for a New Grant, you may not request less than $250,000 nor more than $400,000. This amount must be spent over a three-year period, and your budget must reflect this period. Since the Statement of Work (in Section VI.(G)) and the Narrative Statement Addressing the Factors for Award (in Section VI.(H)) are assessed in the context of the proposed budget and grant request, and in the interest of fairness to all applicants, HUD will not accept a New Grant application that is under $250,000 or over $400,000.

If you are applying for a New Directions Grant, you may not request a grant that exceeds $150,000. This amount must be spent over a two-year period. Since the Statement of Work and other facets of the technical review are assessed in the context of the proposed budget and grant request, and in the interest of fairness to all applicants, HUD will not accept a New Directions application that is over $150,000.

(B) Responsibilities. You are required to:

(1) Employ the research and outreach resources of your institution of higher education to solve specific urban problems identified by communities served by your Center;

(2) Establish outreach activities in areas identified in your application as the communities to be served;

(3) Establish a community advisory committee comprised of representatives of local institutions and residents of the communities to be served to assist in identifying local needs and advise on the development and implementation of strategies to address those issues;

(4) Coordinate outreach activities in communities to be served by your Center;

(5) Facilitate public service projects in the communities served by your Center;

(6) Act as a clearinghouse for dissemination of information;

(7) Develop instructional programs, convene conferences, and provide training for local community leaders, when appropriate; and

(8) Exchange information with other Centers.

The clearinghouse function in Section IV(B)(6) above refers to a local or regional clearinghouse for dissemination of information and is separate and distinct from the functions in (8) above, which relate to the provision of information to the University Partnerships Clearinghouse, which is the national clearinghouse for the program.

(C) Cap on Research Costs. No more than 25% of your total project costs (Federal share plus match) can be spent on research activities. You are, however, not required to undertake any research as part of your project. You may apply for a project that is totally for outreach activities.

(D) Match. The non-Federal share may include cash or the value of non-cash contributions, equipment and other allowable in-kind contributions as detailed in 24 CFR part 84, and in particular § 84.23 entitled “cost sharing or matching.” You may not count as match any costs that would be ineligible for funding under the program (e.g., housing rehabilitation).

(1) If you are a New Grant applicant, you must meet the following match requirements:

(a) Research Activities. 50% of the total project costs of establishing and operating research activities.

(b) Outreach Activities. 25% of the total project costs of establishing and operating outreach activities.

(2) If you are a New Directions Grant applicant, you must meet the following match requirements:

(a) Research Activities. 60% of the total project costs of establishing and operating research activities.

(b) Outreach Activities. 35% of the total project costs of establishing and operating outreach activities.

In previous competitions, some applicants incorrectly based their match calculations on the Federal grant amount, not the total project costs. An example of how you should calculate the match correctly and a worksheet for the calculation are included in the application kit. The worksheet, which is also included in the program area section of the SuperNOFA, should be included with your application.

(E) Administrative. Your grant will be governed by the provisions of 24 CFR part 84 (Grants and Agreements with Institutions of Higher Education, Hospitals, and Other Non-Profit Organizations), A-21 (Cost Principles for Education Institutions), and A-133 (Audits of States, Local Governments, and Non-Profit Organizations. You may not spend more than 20% of your grant on planning or administrative costs. The application kit contains a detailed explanation of what these costs are. You can access the OMB circulars at the White House website at http://whitehouse.gov/WH/EOP/OMB/html/circulars.

V. Application Selection Process

There will be two separate competitions—one for New Grants and one for New Directions Grants. For each type of grant, applications will be rated, ranked, and selected separately. Two types of reviews will be conducted: a threshold review to determine your application's eligibility; and a technical review to rate your application based on the rating factors in Section V.(A) below.

(A) Additional Threshold Requirements For Funding Consideration. Under the threshold review, your application can only be rated if you are both in compliance with the requirements of the General Section of the SuperNOFA and if the following additional standards are met:

(1) You have met the statutory match requirements, if applying for a New Grant or the higher match levels described above, if applying for a New Directions Grant.

(2) You have proposed a program in which at least 75% of the total project costs will be for outreach activities.

(3) For New Grants, you have requested a Federal grant between $250,000 and $400,000. For New Directions Grants, you have requested a Federal grant that is no more than $150,000.

(4) You have addressed at least three urban problems, such as affordable housing, fair housing, economic development, neighborhood revitalization, infrastructure, health care; job training, education, crime prevention, planning, the environment, and community organizing and have proposed at least one separate and distinct activity for each problem you propose to address.

(5) You and any part of your organization are participating in only one application.

(6) Your project will operate in an urban area.

(B) Factors For Award Used To Evaluate and Rate Applications. The factors for rating and ranking applicants, and maximum points for each factor, are provided below. The maximum number of points for this program is 102. This includes two EZ/EC bonus points, as described in the General Section of the SuperNOFA. Unless otherwise noted, New Grant applications and New Directions Grant applications will receive the same number of points on a given factor.

Rating Factor 1: Capacity of the Applicant and Relevant Organizational Experience (15 Points)

This factor addresses the extent to which you have the organizational resources necessary to successfully implement the proposed activities in a timely manner. In rating this factor HUD will consider the extent to which the proposal demonstrates:

(1) For New Grants (15 points): For New Direction Grants (7 points).

(a) The knowledge and experience of your overall proposed project director and staff, including the day-to-day program manager, consultants and contractors in planning and managing programs for which funding is being requested. Experience will be judged in terms of recent, relevant and successful experience of your staff to undertake eligible program activities. In rating this factor, HUD will consider experience within the last 5 years to be recent; experience pertaining to the specific activities being proposed to be relevant; and experience producing specific accomplishments to be successful. The more recent the experience and the more experience your own staff members who work on the project have in successfully conducting and completing similar activities, the greater the number of points you will receive for this rating factor. The following categories will be evaluated:

(i) Undertaking research activities in specific communities that have a clear near-term potential for practical application to significant urban issues, such as affordable housing, fair housing including accessible and visitable housing, economic development, neighborhood revitalization, infrastructure, health care, job training, education, crime prevention, planning, and community organizing;

(ii) Undertaking outreach activities in specific communities to solve or ameliorate significant urban issues;

(iii) Undertaking projects with community-based organizations or local governments; and

(iv) Providing leadership in solving community problems and making national contributions to solving long-term and immediate urban problems.

(2) For New Directions Grants only (8 points). The extent to which you performed successfully under your previous COPC grant(s), as measured by:

(a) Your achievement of specific measurable outcome objectives;

(b) Your leveraging of funding beyond the funds originally proposed to be leveraged for that project; and

(c) The effectiveness of your administration of any previous COPC grants (including the timeliness and completeness of your compliance with COPC reporting requirements and your ability to have resolved problems which presented themselves during the grant period). In addressing timeliness of reports, you should compare when your reports were due with when they were actually submitted.

Rating Factor 2: Need/Extent of the Problem (15 Points)

This factor addresses the extent to which there is a need for funding your proposed program activities and your indication of the urgency of meeting the need in the target area. In responding to this factor, you will be evaluated on the extent to which you document the level of need for the proposed activity and the urgency in meeting the need.

You should use statistics and analyses contained in a data source(s) that is sound and reliable. To the extent that the targeted community's Consolidated Plan and Analysis of Impediments to Fair Housing Choice (AI) identify the level of the problem and the urgency in meeting the need, you should include references to these documents in your response.

If the proposed activity is not covered under the scope of the Consolidated Plan and Analysis of Impediments to Fair Housing Choice (AI), you should indicate such, and use other sound data sources to identify the level of need and the urgency in meeting the need. Types of other sources include Census reports, Continuum of Care gaps analysis, law enforcement agency crime reports, Public Housing Authorities' Comprehensive Plan, and other sound and reliable sources appropriate for your program. You may also address needs in terms of fulfilling court orders or consent decrees, settlements, conciliation agreements, and voluntary compliance agreements.

To the extent possible, the data you use should be specific to the area where the proposed activity will be carried out. You should document needs as they apply to the area where activities will be targeted, rather than the entire locality or state.

Rating Factor 3: Soundness of Approach (50 Points)

This factor addresses the quality and cost-effectiveness of your proposed work plan. There must be a clear relationship between your proposed activities, community needs and the purpose of the program funding for you to receive points for this factor. The factor will be evaluated based on the extent to which the proposed work plan will:

(1) (10 points) Identify the specific services or activities to be performed. Note that you are not required to undertake research as part of the grant. In reviewing this subfactor, HUD will consider the extent to which:

(a) There is a clear research agenda;

(i) With identifiable research projects and outcomes (e.g., reports, surveys, etc.)

(ii) That identifies each task and who will be responsible for it;

(iii) Which is tied to the outreach agenda (e.g., if you proposed to study the extent of housing abandonment in a neighborhood and then design a plan for reusing this housing, you would be able to demonstrate the link between your proposed research and outreach strategies); and

(iv) Which does not duplicate research by your institution or by others for the target area previously completed or currently underway. If other complementary research is underway, you need to describe how the proposed research agenda would complement it.

(b) There is a clear outreach agenda:

(i) With identifiable outreach projects;

(ii) That identifies each task and who will be responsible for it;

(iii) That involves your institution as a whole (i.e., many academic disciplines and administrative offices);

(iv) That provides for on-site or frequent presence in the target area; and

(v) That does not duplicate outreach activities by your institution or others for the target area previously completed or currently underway.

(2) (10 points) Involve the communities to be served in a partnership for the planning and implementation of your activities. In reviewing this subfactor, HUD will look at the extent to which:

(a) You have formed or will form one or more Community Advisory Committees, representative of the communities' diversity (including businesses, community groups, residents, and others) to be served to develop and implement strategies to address the needs identified in Factor 2. You will be expected to demonstrate that you have already formed such a committee(s) or secured the commitment of the appropriate persons to serve on the committee(s), rather than just describing generally the types of people whose involvement you will seek.

(b) You have involved a wide range of neighborhood organizations and local government entities in the identification of your research and outreach activities.

(c) The committee and your partners will play an active role in all stages of the project and will not serve as merely advisors or monitors.

(d) Your outreach agenda includes training projects for local community leaders, for example, to increase their capacity to direct their organizations or undertake various kinds of community development projects.

(3) (6 points) Help solve or address an urgent problem as identified in Rating Factor 2 and will achieve the purposes of the program within the grant period. In reviewing this subfactor, HUD will look at the extent to which:

(a) You identify specific time phased and measurable objectives to be accomplished; your proposed short and long term program objectives to be achieved as a result of the proposed activities; the tangible and measurable impacts your work program will have on the community in general and the target area or population in particular including affirmatively furthering fair housing for classes protected under the Fair Housing Act; and the relationship of your proposed activities to other ongoing or proposed efforts to improve the economic, social or living environment in the impact area; and

(b) Grant funds will pay for activities you conduct directly, rather than passing funds through to other entities (In order for your application to be competitive, no more than 25 percent of your grant funds should be passed to other entities); and

(c) The activities you propose to undertake are pressing and urgent needs, as identified in the documents described in Factor 2.

(4) (4 points) Potentially yield innovative strategies or “best practices” that can be replicated and disseminated to other organizations, including nonprofit organizations, State and local governments. In reviewing this subfactor, HUD will assess your demonstrated ability to disseminate results of research and outreach activities to other COPCs and communities. HUD will evaluate your past experience and the scope and quality of your plan to disseminate information on COPC results, strategies, and lessons learned through such means as conferences, cross-site technical assistance, publications, etc. The more proactive your plan for providing information to a wide range of audiences, the greater the number of points you will receive.

(5) (8 points) HUD priorities;

(a) (3 points) Further and support the policy priorities of HUD including:

(i) Promoting healthy homes;

(ii) Providing opportunities for self-sufficiency, particularly for persons enrolled in welfare to work programs;

(iii) Enhancing ongoing efforts to eliminate drugs and crime from neighborhoods through program policy efforts such as “One Strike and You're Out” or the “Officer or Teacher Next Door” initiative;

(iv) Providing educational and job training opportunities through such initiatives as GEAR UP, Neighborhood Networks, Twenty/20 Education Communities (formerly known as Campus of Learners) and linking to AmeriCorps activities; or

(v) HUD's Partnership for Advancing Technology in Housing (PATH) initiative.

The Healthy Homes initiative implements a series of activities to protect children from home hazards such as lead-based paint, radon, fires, and accidents around the home.

The GEAR UP initiative promotes partnerships between colleges and middle or junior high schools in low-income communities, to help teach students how they can go to college by informing them about college options, academic requirements, costs, and financial aid, and by providing support services, including tutoring, counseling, and mentoring.

The Neighborhood Networks initiative enhances the self-sufficiency, employability, and economic self-reliance of low-income families and the elderly living in HUD-insured and HUD-assisted properties by providing them with on-site access to computer and training resources.

The Twenty/20 Education Communities initiative is designed to transform public housing into safe and livable communities where families undertake training in new telecommunications and computer technology and partake in educational opportunities and job training initiatives.

The Partnership for Advancing Technology in Housing (PATH) initiative is a voluntary public/private partnership that seeks to speed the creation and widespread use of advanced technologies in order to radically improve the quality, durability, energy efficiency, and environmental performance and affordability of housing. For more information, you can go to the PATH web site at www.pathnet.org.

(b) (5 points) Include activities that affirmatively further fair housing, for example:

(i) Working with other entities in the community to overcome impediments to fair housing, such as discrimination in the sale or rental of housing or in advertising, provision of brokerage services, or lending;

(ii) Promoting fair housing choice through the expansion of homeownership opportunities and improved quality of services for minorities, families with children, and persons with disabilities; or

(iii) Providing housing mobility counseling services.

(6) For New Grants (12 points): For New Directions Grants (7 points). Result in the COPC function and activities becoming part of the urban mission of your institution and being funded in the future by sources other than HUD. The bases for rating an application for this selection factor will be different, depending on whether the application is for a New Grant or a New Directions Grant.

In reviewing this subfactor for a New Grant, HUD will consider the extent to which:

(a) COPC activities relate to your institution's urban mission; demonstrate support and involvement of the institution's executive leadership; are linked by a formal organizational structure to other units related to outreach and community partnerships; are reflected in budget and planning documents; are part of a climate that rewards faculty work on these activities through promotion and tenure policies; benefit students because they are part of a service learning program or professional training at your institution (rather than just volunteer activities); and are reflected in your curriculum. HUD will look at your institution's commitment to faculty and staff continuing work in COPC neighborhoods or replicating successes in other neighborhoods and to your longer term commitment (e.g., five years after the start of the COPC) of hard dollars to COPC work. HUD will consider the extent to which your proposed activities are appropriate for an institution of higher education because they are tied to your institution's teaching or research mission. In addition, HUD will consider the extent to which your faculty, staff and students from across many disciplines are involved in COPC-like activities as a way of demonstrating your institution's commitment to these kinds of activities.

(b) You have received commitments for funding from sources outside the university for related COPC-like projects and activities in the targeted neighborhood or other distressed neighborhoods. Funding sources to be considered include, but are not limited to, local governments, neighborhood organizations, private businesses, your institution, and foundations.

In reviewing this subfactor for a New Directions Grant, HUD will consider the extent to which your New Directions project will sustain the institutional capacity and commitment of your institution to undertake outreach activities. HUD will be looking for increases in the number of faculty undertaking this kind of work, increases in the number of courses linked to outreach activities and the number of students taking these courses, formal changes in institutional policies related to support of outreach, and other measures of the impact of this work on your institution.

(7) For New Direction Grants only (5 points). Previous grantees have a wealth of knowledge that they can and should share with other institutions. If you send a faculty member of your team who has been listed in your application to participate in the peer review process for New Grants, you will receive 5 points.

Rating Factor 4: Leveraging Resources (10 Points)

This factor addresses the ability of the applicant to secure community resources which can be combined with HUD's program resources to achieve program purposes. This factor measures the extent to which you have established partnerships with other entities to secure additional resources to increase the effectiveness of your proposed program activities. Resources may include funding or in-kind contributions, such as services or equipment, allocated to the purpose(s) of the award you are seeking. Resources may be provided by governmental entities, public or private nonprofit organizations, for-profit private organizations, or other entities willing to establish partnerships with you. You may also establish partnerships with funding recipients in other grant programs to coordinate the use of resources in the target area. In evaluating this factor, HUD will allocate points as follows:

(1) Five (5) points will be awarded for a match that is 50% over the required match, as described in Section IV(D) above. Fewer points will be assigned depending on the extent of the match. Matching funds must be provided unconditionally in order to be counted for this factor.

HUD is concerned that applicants should be providing hard dollars as part of their matching contributions to enhance the tangible resources going into targeted neighborhoods. Thus, while indirect costs can count towards meeting the required match, they will not be used in calculating match overage. Only direct costs can count in this factor.

(2) Up to an additional 5 points will be awarded for the extent to which you document that matching funds are provided from eligible sources other than your institution (e.g., funds from the city, including CDBG, other State or local government agencies, public or private organizations, or foundations). Fewer points will be assigned depending on the extent of the outside match.

You must provide evidence of leveraging/partnerships by including in the application letters of firm commitment, memoranda of understanding, or agreements to participate from any entity, including your own institution, that will be providing matching funds to the project. Each letter of commitment, memorandum of understanding, or agreement to participate should include the organization's name, proposed total level of commitment and responsibilities as they relate to the proposed program. The commitment must also be signed by an official of the organization legally able to make commitments on behalf of the organization. Unless matching funds are accompanied by a commitment letter, they will not be counted towards the match.

Rating Factor 5: Comprehensiveness and Coordination (10 Points)

This factor addresses the extent to which you coordinated your activities with other known organizations, participate or promote participation in your community's Consolidated Planning process, and are working towards addressing a need in a holistic and comprehensive manner through linkages with other activities in the community. If you propose to work in a Community Development Block Grant (CDBG) non-entitlement jurisdiction, you will only need to address subfactors (1) and (3). If you are working in a CDBG non-entitlement area, please note that at the beginning of the discussion of this factor.

In evaluating this factor, HUD will consider the extent to which you have:

(1) Coordinated your proposed activities with those of other groups or organizations prior to submission in order to best complement, support and coordinate all known activities and, if funded, the specific steps you will take to share information on solutions and outcomes with others. Any written agreements, memoranda of understanding in place, or that will be in place after award, should be described.

(2) Taken or will take specific steps to become active in the community's Consolidated Planning process (including the Analysis of Impediments to Fair Housing Choice) established to identify and address a need/problem that is related to the activities the applicant proposes.

(3) Taken or will take specific steps to develop linkages to coordinate comprehensive solutions through meetings, information networks, planning processes or other mechanisms with:

(a) Other HUD-funded projects/activities outside the scope of those covered by the Consolidated Plan; and

(b) Other Federal, State or locally funded activities, including those proposed or ongoing in the community.

(c) Selections. In order to be funded under COPC, you must receive a minimum score of 70. HUD intends to fund at least one eligible applicant that serves colonias, as defined by section 916(d) of the Cranston-Gonzalez National Affordable Housing Act, as long as the applicant receives a minimum score of 70. HUD will select the highest ranking colonias application from among the rated colonias applications.

If two or more applications have the same number of points, the application with the most points for Factor 3, Soundness of Approach, shall be selected. If there is still a tie, the application with the most points for Factor 4, Leveraging Resources shall be selected.

HUD reserves the right to make selections out of rank order to provide for geographic distribution of funded COPCs. If HUD decides to use this option, it will do so only if two adjacent HUD regions do not yield at least one fundable COPC on the basis of rank order. If this occurs, HUD will fund the highest ranking applicant within the two regions as long as the minimum score of 70 points is achieved.

After all applications have been rated and ranked and selections have been made, HUD may require you, if you are selected, to participate in negotiations to determine the specific terms of your Statement of Work and grant budget. In cases where HUD cannot successfully conclude negotiations, or you fail to provide HUD with requested information, an award will not be made. In such instances, HUD may elect to offer an award to the next highest ranking applicant, and proceed with negotiations with that applicant.

VI. Application Submission Requirements

You should include an original and two copies of the items listed below. In order to be able to recycle paper, please do not submit applications in bound form; binder clips or loose leaf binders are acceptable. Also, please do not use colored paper. Please note the page limits for some of the items listed below and do not exceed them.

Your application must contain the items listed in this section. These items include the standard forms, certifications, and assurances listed in the General Section of the SuperNOFA that are applicable to this funding (collectively, referred to as the “standard forms”). The standard forms can be found in Appendix B to the General Section of the SuperNOFA. The remaining application items that are forms (i.e., excluding such items as narratives), referred to as the “non-standard” forms, can be found as Appendix A to this program section of the SuperNOFA. The items are as follows:

(A) SF-424, Application for Federal Assistance.

(B) HUD-424M, Federal Assistance Funding Matrix.

(C) Application Checklist.

(D) Transmittal Letter signed by the Chief Executive Officer of your institution or his or her designee. If a designee signs, your application must include the official delegation of signatory authority;

(E) Abstract. (1 page limit) An abstract describing the goals and activities of your program.

(F) Narrative statement addressing the Factors for Award in Section V(B). (50 page limit, including letters of commitment, tables and maps, but not including letters of matching commitments, the match calculation worksheet, and budget forms). (Please note that although submitting pages in excess of the page limit will not disqualify your application, HUD will not consider the information on any excess pages, which may result in a lower score or failure to meet a threshold.) For FY 2001 the statement of work and the budget are now a part of Factor 3, Soundness of Approach.

(1) The Statement of Work incorporates all activities to be funded in your application and details how your proposed work will be accomplished. Following an activity and tasks under each activity format, your Statement of Work must:

(a) Arrange the presentation of related major activities by project functional category (e.g., economic development, affordable housing, capacity building), summarize each activity, identify the primary persons involved in carrying out the activity, and delineate the major tasks involved in carrying it out.

(b) Indicate the sequence in which the tasks are to be performed, noting areas of work which must be performed simultaneously.

(c) Identify specific numbers of quantifiable intermediate and end products and objectives you will deliver by the end of the award agreement period as a result of the work performed.

(c) Identify whether you propose to work in a Community Development Block Grant (CDBG) entitlement area or not.

(2) Your budget presentation should be consistent with your Statement of Work and include:

(a) Budget Form—The budget form (Form HUD-30003) should be used to prepare the budget.

(b) A narrative explanation of how you arrived at your cost estimates, for any line item over $5,000.

(c) A statement of your compliance with the 20% limitation on “Planning and Administration” Costs.

(d) An explanation of your compliance with the requirement that not more than 25% of the total budget be allocated to research activities (Form HUD-30002).

(e) An explanation of your compliance with the matching requirements (Form).

(3) Your narrative response should be numbered in accordance with each factor and subfactor.

(G) Certifications.

(1) SF-424B, Assurances for Non-Construction Programs.

(2) HUD-50071, Certification of Payments to Influence Certain Federal Transactions;

(3) SF-LLL, Disclosure of Lobbying Activities (if applicable);

(4) HUD-2880, Applicant/Recipient Disclosure/Update Form;

(5) HUD-50070, Certification of Drug-Free Workplace;

(6) HUD-2992, Certification Regarding Debarment and Suspension;

(7) HUD-2991, Certification of Consistency with the Consolidated Plan; and

(8) HUD-2990, Certification of Consistency with the EZ/EC Strategic Plan (if applicable);

(H) Acknowledgment of Receipt of Applications (HUD-2993). If you wish to confirm that HUD received your application, please complete this form. This form is optional.

(I) Client Comments and Suggestions (HUD-2994). If you wish to offer comments on the COPC NOFA of this SuperNOFA or the SuperNOFA process, please complete this form. This form is optional.

VII. Corrections to Deficient Applications

The General Section of the SuperNOFA provides the procedures for corrections to deficient applications.

VIII. Environmental Requirements

In accordance with 24 CFR 50.19(b) of the HUD regulations, activities assisted under this program are categorically excluded from the requirements of the National Environmental Policy Act and are not subject to environmental review under the related laws and authorities.

IX. Authority

This program is authorized under the Community Outreach Partnership Act of 1992 (42 U.S.C. 5307 note; the “ COPC Act”). The COPC Act is contained in section 851 of the Housing and Community Development Act of 1992 (Pub.L. 102-550, approved October 28, 1992) (HCD Act of 1992). Section 801(c) of the HCD Act of 1992 authorized $7.5 million for each year of the 5-year demonstration to create Community Outreach Partnership Centers as authorized in the COPC Act. The FY 2001 HUD Appropriations Act continued the program beyond the initial five-year demonstration by providing funding for Community Outreach Partnership Centers for FY 2001.

Appendix A

The non-standard forms, which follow, are required for your COPC application.

BILLING CODE 4210-32-P

FUNDING AVAILABILITY FOR THE HISTORICALLY BLACK COLLEGES AND UNIVERSITIES PROGRAM

Program Overview

Purpose of the Program. To assist HBCUs expand their role and effectiveness in addressing community development needs in their localities, including neighborhood revitalization, housing, and economic development, principally for persons of low and moderate income, consistent with the purposes of Title I of the Housing and Community Development Act of 1974.

Available Funds. Approximately $10 million.

Eligible Applicants. Only HBCUs as determined by the Department of Education in 34 CFR 608.2 in accordance with that Department's responsibilities under Executive Order 12876, dated November 1, 1993, are eligible for funding under the HBCU Program.

Application Deadline. June 1, 2001.

Match: None

Additional Information

If you are interested in applying for funding under the HBCU program, please review carefully the General Section of this SuperNOFA and the following additional information.

I. Application Due Date, Application Kits, Further Information, and Technical Assistance

Application Due Date. Your completed application is due on or before 12:00 midnight, Eastern time, on June 1, 2001, at HUD Headquarters with a copy to the appropriate HUD CPD Field Office.

See the General Section of this SuperNOFA for specific procedures covering the form of application submission (e.g., mailed applications, express mail, overnight delivery, or hand carried).

Address for Submitting Applications. Your completed application consists of one original and two copies of your application. Submit your original signed application and one of the two copies to the following address: Processing and Control Branch, Office of Community Planning and Development, Department of Housing and Urban Development, 451 Seventh Street, SW, Room 7251, Washington, DC, 20410. When submitting your application, please refer to the HBCU Program, and include your name, mailing address (including zip code) and telephone number (including area code).

Copies of Applications to HUD Offices. To facilitate processing and review of your application, submit one copy (the second copy) to the Community Planning and Development (CPD) Director in the appropriate HUD Field Office for the HBCU by 6:00 pm, local time, on June 1, 2001.The list of HUD Field Offices with CPD Directors is included in Appendix A.

HUD will accept only one application per HBCU. If HUD receives more than one application from a single HBCU, HUD will ask the HBCU to identify which application it wants evaluated. If the HBCU does not respond within the stipulated period (see Section V of the General Section of this SuperNOFA), all of the applications received from the HBCU will be disqualified. You should take this policy into account to ensure that multiple applications are not submitted.

For Application Kits. For an application kit and any supplemental materials, you should call the SuperNOFA Information Center at 1-800-HUD-8929. If you have a hearing or speech impairment please call the Center's TTY number at 1-800-HUD-2209. When requesting an application kit, you should refer to the HBCU Program and provide your name, address (including zip code), and telephone number (including area code). You may also download the application on the Internet through the HUD web site at http://www.hud.gov.

For Further Information and Technical Assistance. You may contact Delores Pruden or Ophelia Wilson, Historically Black Colleges and Universities Program, Office of the Deputy Assistant Secretary for Economic Development, Community Planning and Development, Department of Housing and Urban Development, 451 Seventh St, SW, Washington, DC 20410; telephone (202) 401-6367. (This is not a toll-free number.) If you have a hearing or speech impairment, you may access this number via TTY by calling the Federal Information Relay Service toll-free at 1-800-877-8339. You may also obtain information from the HUD Field Office located in your geographic area. Appendix A contains the names, addresses and telephone numbers of the HUD Field Offices. For general information and information regarding training on this HBCU Program section of the SuperNOFA, you can call the SuperNOFA Information Center at 1-800-HUD-8929.

Satellite Broadcast. HUD will hold an information broadcast via satellite for potential applicants to learn more about the program and preparation of the application. For more information about the date and time of the broadcast, you should consult the HUD web site at http://www.hud.gov.

II. Amount Allocated

Approximately $10 million is being made available for funding under this program section of the SuperNOFA. Additional funds may be available if funds are recaptured, deobligated, appropriated or otherwise made available during the fiscal year.

(A) Allocation of Funding. In order to ensure that some previously unfunded HBCUs will receive awards in this competition, approximately $1.5 million of the available funds will be awarded to HBCUs that have not previously been funded under the HUD HBCU program. The FY 1991 competition was the first funded under the current HBCU Program authorization, section 107(b)(3) of the Housing and Community Development Act of 1974. Previously unfunded HBCUs are listed in Appendix B of this HBCU Program section of the SuperNOFA.

The remaining approximately $8.5 million of FY 2001 funds will be awarded to HBCUs that have received funding under such competitions. Previously funded HBCUs are listed in Appendix C of this HBCU Program section of the SuperNOFA.

If recaptured funds are made available, those funds will also be divided proportionately between the two types of applicant funding pools.

HUD reserves the right to make awards for less than the maximum amount or less than the amount requested in a particular application. Awards will be made in the form of grants. The maximum amount awarded to previously unfunded applicants will be up to $300,000 and the maximum amount awarded to previously funded applicants will be up to $500,000.

(B) Term of Grant. The maximum period for performance of your proposed program under this SuperNOFA for the HBCU Program is 24 months. The performance period will commence on the effective date of your grant agreement.

III. Program Description; Eligible Applicants; Eligible Activities

(A) Program Description. Approximately $10,000,000 is available in funding for the Historically Black Colleges and Universities (HBCU) Program. The HBCU Program assists HBCUs expand their role and effectiveness in addressing community development needs in their localities, including neighborhood revitalization, housing, and economic development, consistent with the purposes of Title I of the Housing and Community Development Act of 1974.

(1) For the purposes of this program, the term “locality” includes any city, county, town, township, parish, village, or other general political subdivision of a State or the U.S. Virgin Islands within which an HBCU is located.

(2) If your HBCU is located in a metropolitan statistical area (MSA), as established by the Office of Management and Budget, you may consider your locality to be one or more of these entities within the entire MSA. The nature of the locality for each HBCU may differ, therefore, depending on its location.

(3) A “target area” is the locality or the area within the locality in which your HBCU will implement its proposed HUD grant activities.

(B) Eligible Applicants. Only HBCUs as determined by the Department of Education in 34 CFR 608.2 in accordance with that Department's responsibilities under Executive Order 12876, dated November 1, 1993, are eligible for funding under the HBCU Program. As indicated in Section II(A)(1) and (2), funds available under this program will be split between two classes of HBCU applicant, which will be rated, ranked, and selected separately.

(C) Eligible Activities. (1) General. Each activity you propose for funding must meet both a Community Development Block Grant (CDBG) Program national objective AND the CDBG eligibility requirements. Eligible activities that may be funded under the HBCU Program are those activities eligible for CDBG funding. The eligible activities are listed in 24 CFR part 570, subpart C, particularly §§ 570.201 through 570.206. Additionally, not less than 51% of the aggregated expenditures of a grant must benefit low and moderate income persons under the criteria specified in 24 CFR 570.208(a) or 570.208(d)(5) or (6).

(2) National Objectives. Each activity that may be funded under this SuperNOFA for the HBCU Program must meet one of the three national objectives of the Community Development Block Grant program which are:

(a) Benefit to low- or moderate-income persons;

(b) Aid in the prevention or elimination of slums or blight; or

(c) Meet other community development needs having a particular urgency because existing conditions pose a serious and immediate threat to the health and welfare of the community, and other financial resources are not available to meet such needs.

Criteria for determining whether an activity addresses one or more of these objectives are provided at 24 CFR 570.208.

(3) Examples of Eligible Activities. Examples of activities that generally can be carried out with these funds include, but are not limited to:

(a) Acquisition of real property;

(b) Clearance and demolition;

(c) Rehabilitation of residential structures including lead-based paint hazard evaluation and reduction; and making accessibility and visitability modifications in accordance with the requirements of section 504 of the Rehabilitation Act of 1973;

(d) Acquisition, construction, reconstruction, rehabilitation, or installation of public facilities and improvements, such as water and sewer facilities and streets;

If you are proposing to undertake any of the activities listed in (a) through (d), you will be required to provide at least two reasonable appraisals/estimates, from a qualified entity other than the HBCU, of the cost to complete the activities. This information is to be submitted with your application. Such an entity must be involved in the business of housing rehabilitation, construction, and/or management;

(e) Relocation payments and other assistance for permanently and temporarily relocated individuals, families, businesses, nonprofit organizations, and farm operations where the assistance is:

(i) Required under the provisions of 24 CFR 570.606(b) or (c); or

(ii) Determined by the grantee to be appropriate under the provisions of 24 CFR 570.606(d);

(f) Direct homeownership assistance to low- and moderate-income persons, as provided in section 105(a)(25) of the Housing and Community Development Act of 1974;

(g) Special economic development activities described at 24 CFR 570.203;

(h) Assistance to facilitate economic development by providing technical or financial assistance for the establishment, stabilization, and expansion of microenterprises, including minority enterprises;

(i) Establishment of a new or stabilization of an existing Community Development Corporation (CDC) to undertake or continue HBCU eligible activities. If you are proposing a Community Development Corporation (CDC) component, it may qualify for Community Based Development Organization (CBDO) activities;

(j) Assistance to a (CBDO) to carry out a CDBG neighborhood revitalization, community economic development, or energy conservation project, in accordance with 24 CFR 570.204. This could include activities in support of a HUD approved local entitlement grantee CDBG Neighborhood Revitalization Strategy (NRS) or HUD approved State CDBG Community Revitalization Strategy (CRS); and

(k) Eligible public service activities, including activities that provide a continuum of care for the homeless; adult basic education classes; GED preparation and testing; HBCU curriculum development of courses which will lead to a certificate or degree in community planning and development; job and career counseling and assessment; citizen participation academies, and public access telecommunications centers; social and medical services; and/or other support activities for low- and moderate-income residents, senior citizens and youth, including the U.S. Department of Education's Gaining Early Awareness and Readiness for Undergraduate Programs (GEAR UP). (For more information regarding GEAR UP, call 202-502-7676 or visit the Department of Education's website at www.ed.gov);

(l) Fair housing services designed to further the fair housing objectives of the Fair Housing Act (42 U.S.C. 3601-20) by making all persons, without regard to race, color, religion, sex, national origin, family status and/or disability aware of the range of housing opportunities available to them; and

(m) Payment of reasonable grant administrative costs and carrying charges related to the planning and execution of community development activities assisted in whole or in part with grant funds. HBCU program administrative costs may include capacity building to enhance your HUD HBCU previously funded activities, and/or the creation of new activities under this HUD HBCU grant. Administrative activities in connection with strengthening previous and new activities include hiring staff, supporting and training existing staff, providing software and other tools to provide administrative capability.

(4) Activities Designed to Promote Training and Employment Opportunities. In selecting proposed eligible activities, we urge you to consider undertaking activities designed to promote opportunities for training and employment of low-income residents in connection with HUD initiatives such as “Twenty/20 Education Communities (TEC) formerly known as the Campus of Learners” (COL) in public housing and “Neighborhood Networks” (NN) in other Federally-assisted or insured housing. We also encourage you, whenever feasible, to propose implementing activities in a Federally-designated Urban or Rural (HUD or Department of Agriculture) Empowerment Zone, Urban or Rural Enterprise Community (EZ or EC), or a HUD-approved local CDBG Neighborhood Revitalization Strategy Area or HUD-approved State CDBG Community Revitalization Strategy Area.

(5) Use of Grant Funds for the Provision of Public Services. If you plan to use grant funds to provide public services, you are bound by the CDBG statutory requirement that not more than 15% of the total grant amount be used for public service activities that benefit low and moderate income persons. Therefore, you must propose to use at least 85% of the grant amount for activities qualifying under an eligibility category other than public services (as described at 24 CFR 570.201(e)). For example, while HUD encourages HBCUs to use a portion of their grant funds for curriculum development of courses that would lead to a certificate or degree in community planning and development, this activity is considered a public service and subject to the public service cap of 15%.

If you propose an activity which otherwise is eligible it may not be funded if State or local law requires that it be carried out by a governmental entity.

The CDBG Publication entitled “Everything You Wanted to Know About CDBG” discusses the regulations, and a copy can be ordered from HUD's SuperNOFA Information Center at 1-800-HUD-8929 or 1-800-HUD-2209 for the hearing impaired.

(D) Ineligible CDBG Activities are listed at § 570.207.

IV. Program Requirements

In addition to the program requirements listed in the General Section of this SuperNOFA, you are subject to the following requirements:

(A) Leveraging. Although a match is not required to qualify for funding, applicants that provide letters evidencing a firm commitment from other Federal (e.g., Americorps Programs), State, local, and/or private sources to provide funding, and/or in-kind goods or services to implement the proposed activities will receive points under Rating Factor 4. These letters must be dated no earlier than the date of this published SuperNOFA. If you do not have evidence of leveraging, you will receive zero (0) points for Rating Factor 4.

Potential Sources of Assistance

• Federal, State and local governments

• Housing Authorities

• Local or national nonprofit organizations

• Banks and private businesses

• Foundations

• Faith Based Communities

• The HBCU

For each match, cash or in-kind contribution to your program, you must submit a letter from the provider on the provider's letterhead. A firm commitment letter should address the following:

• The cash amount contributed or dollar value of the in-kind goods and/or services committed;

• How the match is to be used;

• The date the match will be made available and a statement that it will be for the duration of the grant period;

• Any terms and conditions affecting the commitment, other than receipt of a HUD HBCU Grant; and

• The signature of the appropriate executive officer authorized to commit the funds and/or goods and/or services.

(B) Employment of Local Area Residents (Section 3). Please see Section II(E) of the General Section of this SuperNOFA. The requirements are applicable to certain activities that may be funded under this program section of the SuperNOFA.

(C) Labor Standards. If you are awarded a grant, you must comply with the labor standards (Davis-Bacon) as found at 24 CFR 570.603.

(D) OMB Circulars. Your grant will be governed by: (1) OMB Circular A-21 entitled “Cost Principles for Educational Institutions”; (2) OMB Circular A-133 entitled “Audits of States, Local Governments, and Non-Profit Organizations”; and (3) the provisions of 24 CFR part 84 entitled “Grants and Agreements with Institutions of Higher Education, Hospitals and Other Nonprofit Organizations. You can access the OMB Circulars at the White House website at http://whitehouse.gov/wh/eop/omb/html/circulars.

(E) Nondiscrimination. In addition to the fair housing and other civil rights assurances described under Section II (B) of the SuperNOFA General Section, applicants for the HBCU Program must comply with Section 109 of the Housing and Community Development Act of 1974, as amended. Implementing regulations for Section 109 are found under 24 CFR part 570, including, but not limited to, reporting and record-keeping requirements under 24 CFR 570.506 and 570.507.

V. Application Selection Process

(A) Rating and Ranking. (1) Threshold Review. HUD will conduct a review to insure that applications are complete and consistent with the threshold requirements of Section II(B), Compliance with Fair Housing and Civil Rights Laws, of the General Section of the SuperNOFA, this HBCU Program section of the SuperNOFA and the HBCU Program regulations (24 CFR 570.404) before reviewing the application for rating and ranking. The General Section of the SuperNOFA provides the procedures for corrections to deficient applications.

(2) Funding of Applications. To be considered for funding, your application must receive a minimum score of 70 out of the possible total of 100 points possible for Factors 1 through 5. In addition, two bonus points may be awarded for EZ/EC, as described in the General Section of the SuperNOFA. Within each category of eligible applicants, HUD will fund applications in rank order, until it has awarded all available funds for that category of applicant, or until there are no fundable applications remaining in that category. If there is a tie in the point scores of two applications, the rank order will be determined by the score on Rating Factor 3, 4, 2, 1, 5 in that order. HUD will give the higher rank to the application with the most points for a factor in the above order.

If funds remain after approving all fundable applications within a category of applicants, HUD may choose to add those funds to the funds available for the other category of applicants.

(3) After Selection. After selection, but prior to award, you will be required to:

(a) Negotiate. After HUD has rated and ranked all applications and HUD has selected the competition winners, HUD requires that all winners participate in negotiations to determine the specific terms of the Statement of Work and the final grant budget. HUD will follow the negotiation procedures described in Section III(D) of the General Section of the SuperNOFA.

(b) Provide Financial Management and Audit Information. If you are selected for funding, you will be required to submit a copy of your most recent audit from an Independent Public Accountant, or the cognizant government auditor, stating that your financial management system meets prescribed standards for fund control and accountability required by OMB Circular A-133, as codified at 24 CFR part 84 and provides your approved fringe benefit and overhead rates.

(B) Factors For Award Used To Evaluate and Rate Applications. HUD will use the Factors For Award set forth below to evaluate applications. Your application must contain sufficient information for HUD to review it for its merits. The score for each factor will be based on the qualitative and quantitative aspects of your response to that factor. You are not to exceed a total of twenty-five (25) pages to respond to Rating Factor 1 through 5. This limitation applies to your narrative response, tables, and maps, and NOT to firm commitment letters, the performance narrative and progress reports for previously funded HBCUs.

The maximum number of points that may be awarded is 102. This includes two EZ/EC bonus points, as described in the General Section of the SuperNOFA.

Rating Factor 1: Capacity of the Applicant and Relevant Organizational Experience (25 Points)

This factor addresses the extent to which you have the organizational resources necessary to successfully implement your proposed activities in a timely manner. In rating this factor, HUD will consider the extent to which:

(1) Knowledge and Experience. (5 Points for previously funded applicants and 25 Points for previously unfunded applicants). Your application demonstrates the knowledge and experience of the overall project director and staff, including the day-to-day program manager, consultants (including technical assistance providers) and contractors in planning and managing the kinds of programs for which funding is being requested. Experience will be judged in terms of recent, relevant and successful experience of your staff to undertake eligible program activities. In rating this factor, HUD will consider the extent to which your organization and staff have recent, relevant, and successful experience in:

(a) Undertaking specific successful community development projects with community-based organizations or local governments; and

(b) Providing proven leadership in solving community problems which have a direct bearing on the proposed activity.

(2) Past Performance (20 Points for previously funded applicants) For previously funded HBCUs, the extent to which you have been successful with past HUD/HBCU projects. For each open HUD HBCU grant, you must submit copies of the last two progress reports and a performance narrative as outlined in Appendix D. In applying the rating for this subfactor, HUD will consider your performance, including meeting established target dates and schedules, and amount of funds drawdown.

Rating Factor 2: Need/Extent of the Problem (5 Points)

This factor addresses the extent to which there is a need for funding your proposed program activities and an indication of the importance of meeting the need in the target area. In responding to this factor, you will be evaluated on the extent to which you document the level of need for the proposed activities and the importance of meeting the need.

You should use statistics and analyses contained in one or more data sources that are sound and reliable. To the extent that your community's (State or local government's) Consolidated Plan and Analysis of Impediments to Fair Housing Choice (AI) identify the level of the problem and the urgency in meeting the need, you should include references to these documents in your response to this factor. If your proposed activities are not covered under the scope of the Consolidated Plan and AI, you should indicate such, and use other sound data sources to identify the level of need and the urgency in meeting the need. Types of other sources include, but are not limited to, Census reports, HUD's Continuum of Care gaps analysis and its E-MAPS (www.hud.gov/emaps), law enforcement agency crime reports, Public Housing Authorities' Comprehensive Plan, community needs analysis such as provided by the United Way, local Urban League, the HBCU and other sound and reliable sources appropriate for the HBCU program. You also may address needs in terms of fulfilling court orders or consent decrees, settlements, conciliation agreements, and voluntary compliance agreements.

To the extent possible, the data you use should be specific to the area where your proposed activities will be carried out. You should document needs as they apply to the area where the activities will be targeted, rather than the entire locality or State, unless the target area is the entire locality or State.

Rating Factor 3: Soundness of Approach (45 Points)

This factor addresses the quality and cost-effectiveness of your proposed work plan, the commitment of your institution to sustain the proposed activities, and your actions regarding Affirmatively Furthering Fair Housing.

(1) Quality of the Work Plan (35 Points)

(a) Work Plan Impact (15 Points) Describe how your proposed activities will:

(i) Expand the role of the HBCU in its community;

(ii) Alleviate and/or fulfill the needs identified in Factor 2;

(iii) Relate to and not duplicate other activities in the target area. Duplicative efforts will be acceptable, if you are able to demonstrate that there is a population in need that is not being served;

(iv) Involve and empower the citizens of the target area; and

(v) Be disseminated to a wide variety of audiences, both academic and community-based, using a wide variety of media, including print and Internet technology.

(b) Specific Services and/or Activities. (15 Points) Your work plan must incorporate all proposed activities. HUD will consider the feasibility of success of your program, the measurable objectives, and how timely your products will be delivered.

Describe each proposed activity, and the tasks required to implement and complete the activity. If your proposed work activity triggers federal relocation laws, you should discuss your plan for temporary or permanent relocation of occupants of units affected, including storage or moving of household goods, stipends and/or incentives with your local Community Planning and Development (CPD) Office.

Also, for each activity, describe:

(i) How it meets a CDBG national objective;

(ii) The sequence, duration, and the products to be delivered in 6 month intervals, up to 24 months. You should indicate which staff member, described in your response to Factor 1, will be responsible and accountable for the deliverables; and

(iii) Measurable objectives to be accomplished, e.g. the number of: persons to be trained and employed; houses to be built (pursuant to 24 CFR 570.207) or rehabilitated; minority owned businesses to be started, etc.

(c) HUD Priorities. (5 points) The extent to which your proposed application will further and support the policy priorities of HUD including:

(i) Promoting healthy homes;

(ii) Providing opportunities for self-sufficiency, particularly for persons enrolled in welfare-to-work programs;

(iii) Enhancing on-going efforts to eliminate drugs and crime from neighborhoods through program policy efforts such as “One Strike and You Are Out” or the “Officer or Teacher Next Door” Initiatives;

(iv) Providing educational, job training, and homeownership opportunities through such initiatives as Neighborhood Networks and Twenty/20 Education Communities (TEC) (formerly known as the Campus of Learners (COL)), and linking programs to Americorps activities; and

(v) The Partnership for Advancing Technology in the Housing (PATH) Initiative.

The Healthy Homes initiative implements a series of activities to protect children from home hazards such as lead-based paint, radon, fires and accidents around the home.

The Neighborhood Networks (NN) Initiative enhances the self-sufficiency, employability, and economic self-reliance of low-income families and the elderly living in HUD-insured and HUD-assisted properties by providing such residents with on-site access to computer and training resources.

The Twenty/20 Education Communities (TEC) (formerly known as the Campus of Learners (COL)) Initiative is designed to transform public housing into safe and livable communities where families undertake training in new telecommunications and computer technology and partake in educational opportunities and job training initiatives.

The Partnership for Advancing Technology in the Housing (PATH) Initiative is a voluntary public/private partnership that seeks to speed the creation and widespread use of advanced technologies in order to radically improve the quality, durability, energy efficiency, and environmental performance and affordability of housing. For more information, you can go to the PATH website at www.pathnet.org.

(2) Institutionalization of Project Activities (5 Points) The extent to which your project will result in the kinds of activities that will be sustained by the HBCU by becoming part of the mission of the HBCU. HUD will look at the HBCU's monetary commitment to continuing to work in the target area or other similar areas and to its longer term commitment of hard dollars to similar work.

(3) Affirmatively Furthering Fair Housing (5 Points) The extent to which you propose to undertake activities designed to affirmatively further fair housing, for example:

(a) Working with other entities in the community to overcome impediments to fair housing, such as discrimination in the sale or rental of housing or in advertising, provision of brokerage services, or lending;

(b) Promoting fair housing through the expansion of homeownership opportunities and improved quality of services for minorities, families with children, and persons with disabilities; or

(c) Providing mobility counseling.

In evaluating this factor, HUD will consider the extent to which your budget is consistent with the Work Plan and the dollars indicated on the Standard Form (SF) 424. Your budget submission must include:

(i) A budget summary covering the Federal and non-Federal share of the costs proposed by cost category (Appendix D). You should pay particular attention to accurately estimating costs, determining the necessity for and reasonableness of costs; and correctly computing all budget items and totals. Indirect costs must be substantiated and approved by the cognizant Federal agency or you must provide an indirect cost rate plan. The indirect cost rate should be indicated in your budget;

(ii) A budget justification, which should be a narrative statement indicating how you arrived at your costs. When possible, you should use quotes from vendors or historical data. You must support all direct labor and salaries with mandated city/state pay scales or other documentation; and

(iii) A budget-by-activity (Appendix D) which includes a listing of tasks to be completed for each activity needed to implement the program, the overall costs for each activity, and the cost for each funding source.

You must submit at least two reasonable appraisals/estimates supplied by qualified entities, other than the HBCU, if you are proposing to do any of the following: acquisition of real property; clearance and demolition; rehabilitation of residential, commercial and/or industrial structures; and/or acquisition, construction, or installation of public facilities and improvements. You may obtain guidance for securing these estimates from the local HUD's Office of Community Planning and Development.

Rating Factor 4: Leveraging Resources (20 Points)

This factor addresses your ability to secure resources which can be combined with HUD program funds to implement the proposed activities.

In evaluating this factor, HUD will consider the extent to which you have secured firm commitments for additional resources to increase the effectiveness of your proposed activities. Resources may include funding or in-kind contributions, such as services or equipment, allocated solely for the purpose(s) of the award you are seeking. A higher number of points will be awarded for a cash match than in-kind goods or services of the same value. The maximum number of rating points you can receive for leveraging is twenty (20). If you do not have evidence of a firm commitment you will receive zero points for this factor. Use the format in Appendix D, to respond to this factor.

Rating Factor 5: Comprehensiveness and Coordination (5 Points)

This factor addresses the extent to which you have coordinated your activities with other known organizations, participate or promote participation in your community's Consolidated Planning process, and are working towards addressing a need in a holistic and comprehensive manner through linkages with other activities in the community. For specific information about your locality's planning process, contact the local Community Development Agency or the local HUD Field Office.

In evaluating this factor, HUD will consider the extent to which you demonstrate you have:

(1) Coordinated your proposed activities with those of other groups or organizations before submission in order to best complement, support and coordinate all known activities, and if funded, the specific steps you will take to share information on solutions and outcomes with others. You should describe any written agreements, memoranda of understanding in place, or that will be in place after award.

(2) Taken or will take specific steps to become active in the community's Consolidated Planning process (including the Analysis of Impediments to Fair Housing Choice) established to identify and address a need/problem that is related to your proposed activities.

(3) Taken or will take specific steps to develop linkages to coordinate comprehensive solutions through meetings, information networks, planning processes or other mechanisms with:

(a) Other HUD-funded projects/activities outside the scope of those covered by the Consolidated Plan; and

(b) Other Federal, State or locally funded activities, including those proposed or on-going in the community.

VI. Application Submission Requirements

(A) Forms, Certifications and Assurances. Your application must contain the items listed in this Section VI. These items include the standard forms, certifications, and assurances listed in the General Section of the SuperNOFA that are applicable to this funding (collectively referred to as the “standard forms”). The standard forms follow the General Section of the SuperNOFA. The remaining application items that are forms (i.e., excluding such items as narratives), referred to as the “non-standard forms” can be found in Appendix D to this program section of the SuperNOFA.

Forms applicable to the HBCU application are as follows:

(1) Standard Form SF-424, Application for Federal Assistance.

(2) Standard Form SF-424B, Assurances for Non-Construction Programs.

(3) Standard Form SF-4240, Assurances for Construction Programs.

(4) Form HUD-HUD-50070, Certification for a Drug-Free Workplace.

(5) Form HUD-50071, Certification of Payments to Influence Federal Transactions. If you did do any lobbying then you must also complete the Certification and Disclosure Form Regarding Lobbying (SF-LLL).

(6) Form HUD-2880, Applicant/Recipient Disclosure Update Report.

(7) Form HUD-2992, Certification Regarding Debarment and Suspension. This certification is required by 24 CFR 24.510. (The provisions of 24 CFR part 24 apply to the employment, engagement of services, awarding of contracts, subgrants, or funding of any recipients, or contractors or subcontractors, during any period of debarment, suspension, or placement in ineligibility status, and a certification is required).

(8) Form HUD-2991, Certification of Consistency with the Consolidated Plan; and

(9) Form HUD-2990, Certification of Consistency with the EZ/EC Strategic Plan. EZ/EC bonus points will only be awarded when the HBCU is located within the geographic boundaries of a HUD or Department of Agriculture EZ/EC. If applicable, you will need to indicate on this form if the college or university is located within the geographic boundaries of the EZ/EC.

(B) Transmittal Letter. A transmittal letter must accompany your application. Your cover letter must be signed by the Chief Executive Officer (usually the President or Provost) of your institution. If the Chief Executive Officer has delegated this responsibility to another official, that person may sign, but a copy of the delegation must also be included.

(C) Letter Certifying Local Approval. This letter certifies that the jurisdiction in which your activities will take place approve the implementation of your activities.

(D) Application Checklist (Appendix D).

(E) Abstract/Executive Summary (one page limit) describing the goals and activities of your project.

(F) Narrative Statement Responding To the Factors For Award (25 page limit, including tables and maps, but not including firm commitment letters, the performance narrative and progress reports). The narrative should be numbered in accordance with each factor and subfactor.

Please note that all certification forms must be signed by the authorized certifying official.

Also, HUD will not consider appendices to an application. You must submit your documentation, including firm commitment letters, the performance narrative and progress reports, with your responses to the pertinent factors in order to receive points for it.

VII. Corrections to Deficient Applications

The General Section of the SuperNOFA provides the procedures for corrections to deficient applications.

VIII. Environmental Requirements

Selection for award does not constitute approval of any proposed sites. Following selection for award, HUD will perform an environmental review of activities proposed for assistance under this program part, in accordance with 24 CFR part 50. The results of the environmental review may require that your proposed activities be modified or that your proposed sites be rejected. You are particularly cautioned not to undertake or commit funds for acquisition or development of proposed properties prior to HUD approval of specific properties or areas. Your application constitutes an assurance that your institution will assist HUD to comply with part 50; will supply HUD with all available and relevant information to perform an environmental review for each proposed property; will carry out mitigating measures required by HUD or select an alternate property; and will not acquire, rehabilitate, convert, lease, repair or construct property and not commit or expend HUD or local funds for these program activities with respect to any eligible property, until HUD approval of the property is received. In supplying HUD with environmental information, you should use the same guidance as provided in the HUD Handbook entitled “Field Environmental Review Processing for HUD Colonias Initiative Grants,” issued January 27, 1998.

IX. Authority

This program is authorized under section 107(b)(3) of the Housing and Community Development Act of 1974 (42 U.S.C. 5307(b)(3)), which was added by section 105 of the Department of Housing and Urban Development Reform Act of 1989 (Pub. L. 101-235, approved December 15, 1989). The HBCU Program is governed by regulations contained in 24 CFR 570.400 and 570.404, and in 24 CFR part 570, subparts A, C, J, K, and O.

Appendices to the HBCU NOFA

A Field Office Community Planning and Development Directors With Historically Black Colleges And Universities Located Within Their Jurisdiction

B Historically Black Colleges and Universities Previously Unfunded By HUD During Fiscal Years 1991-2000

C Historically Black Colleges and Universities Previously Funded By HUD During Fiscal Years 1991-2000

D HBCU Application Forms

Appendix A—Community Planning and Development (CPD) Directors with Historically Black Colleges and Universities Located Within Their Jurisdiction

Harold Cole, Beacon Ridge Tower, 600 Beacon Parkway West, Suite 300, Birmingham, AL 35209-3144, 205-290-7630 ext. 1027

Anne Golnik, TCBY Tower, 425 West Capitol Avenue, Suite 900, Little Rock, AR 72201-3488, 501-324-6375

John Perry, Richard B. Russell Federal Building, 49 Marietta Street-Five Points Plaza, Atlanta, GA 30303-2806, 404-331-5001 ext. 2449

Ben Cook, 601 West Broadway, PO Box 1044, Louisville, KY, 40201-1044, 502-582-6163 ext. 214

Gregory Hamilton, Hale Boggs Federal Building, 501 Magazine Street, 9th Floor, New Orleans, LA 70130-3099, 504-589-7212 ext. 3047

Joseph O'Connor, City Crescent Building, 10 South Howard Street, 5th Floor, Baltimore, MD 21201-2505, 410-962-2520 ext. 3071

Raymond Perry, Acting, Patrick V. McNamara Federal Building, 477 Michigan Avenue, Detroit, MI 48226-2592, 313-226-7908 ext. 8055

Emily Eberhardt, Doctor A. H. McCoy Federal Building, 100 West Capitol Street, Room 910, Jackson, MS 39269-1096, 601-965-4700 ext. 3140

Ann Wiedl, Robert A. Young Federal Building, 1222 Spruce Street, Third Floor, St. Louis, MO 63103-2836, 314-539-6524

Charles T. Ferebee, Koger Building, 2306 West Meadowview Rd., Greensboro, NC 27407-3707, 336-547-4005

James Nichol, Southern Bell Tower, 301 West Bay Street, Suite 2200, Jacksonville, FL 32202-5121, 904-232-1777 ext. 2136

Carmen R. Cabrera, New San Juan Office Building, 159 Carlos E. Chardon Avenue, San Juan, PR 00918-0903, 787-766-5576 ext. 2005

Lana Vacha, 200 North High Street, Columbus, OH 43215-2499, 614-469-5737 ext. 8240

David Long, 500 West Main Street, Suite 400, Oklahoma City, OK 73102, 405-553-7569

Joyce Gaskins, The Wanamaker Building, 100 Penn Square East, Philadelphia, PA 19107-3380, 215-656-0624 ext. 3201

Louis E. Bradley, Strom Thurmond Federal Building, 1835 Assembly Street, Columbia, SC 29201-2480, 803-765-5564

Virginia Peck, John J. Duncan Federal Building, 710 Locust Street SW, Third Floor, Knoxville, TN 37902-2526, 865-545-4391 ext. 121

Katie Worsham, 801 Cherry Street, Fort Worth, TX 76102, 817-978-5951

John T. Maldonado, Washington Square, 800 Dolorosa Street, San Antonio, TX 78207-4563, 210-475-6820 ext. 2293

Carlos Renteria, The 3600 Centre, 3600 West Broad Street, Richmond, VA 23230-4920, 804-278-4503 ext. 3229

Ronald J. Herbert, 820 First Street NE, Suite 450, Washington, DC 20002-4205, 202-275-0994 ext. 3163

Lynn Daniels, 339 Sixth Avenue, Sixth Floor, Pittsburgh, PA 15222-2512, 412-644-2999

Jack Johnson, 909 SE First Avenue, Room 500, Miami, FL 33131-3028, 305-536-4431 ext. 2223

Appendix B—Historically Black Colleges and Universities Previously Unfunded By HUD During Fiscal Years 1991-2000

Alabama

Concordia College

Fredd State Technical College

Selma University

Trenholm State Technical College

Arkansas

Delaware

Delaware State University

Florida

Florida Memorial College

Georgia

Morehouse School of Medicine

Paine College

Louisiana

Southern University at Shreveport/Bossier City

Maryland

University Of Maryland Eastern Shore

Michigan

Lewis College of Business

Mississippi

Hinds Community College

Mary Holmes College

North Carolina

Barber-Scotia College

Ohio

Wilberforce University

Pennsylvania

Cheyney University of Pennsylvania

South Carolina

Clinton Junior College

Denmark Technical College

Morris College

Tennessee

Knoxville College

Lane College

Texas

Jarvis Christian College

Southwestern Christian College

Virginia

West Virginia

Bluefield State College

U.S. Virgin Islands

University of the Virgin Islands

Appendix C—Historically Black Colleges and Universities Previously Funded By HUD During Fiscal Years 1991-2000

Alabama

Alabama A&M University

Alabama State University

Bishop State Community College

Gadsden State Community College

J.F. Drake Technical College

Lawson State Community College

Miles College

Oakwood College

Stillman College

Talladega College

Tuskegee University

Arkansas

Arkansas Baptist College

Philander Smith College

Shorter College

University of Arkansas at Pine Bluff

District of Columbia

Howard University

University of the District of Columbia

Florida

Bethune-Cookman College

Edward Waters College

Florida A&M University

Georgia

Albany State University

Clark Atlanta University

Fort Valley State University

Interdenominational Theological Center

Morehouse College

Morris Brown College

Savannah State University

Spelman College

Kentucky

Kentucky State University

Louisiana

Dillard

Grambling State University

Southern University A & M College System at Baton Rouge

Southern University at New Orleans

Xavier University of New Orleans

Maryland

Bowie State University

Coppin State College

Morgan State University

Mississippi

Alcorn State University

Coahoma Community College

Jackson State University

Mississippi Valley State University

Rust College

Tougaloo College

Missouri

Harris-Stowe State College

Lincoln University

North Carolina

Barber-Scotia College

Bennett College

Elizabeth City State University

Fayetteville State University

Johnson C. Smith University

North Carolina A&T State University

North Carolina Central University

St. Augustine's College

Shaw University

Winston-Salem State University

Ohio

Central State University

Oklahoma

Langston University

Pennsylvania

Lincoln University

South Carolina

Allen University

Benedict College

Claflin College

South Carolina State University

Voorhees College

Tennessee

Fisk University

Lemoyne-Owen College

Meharry Medical College

Tennessee State University

Texas

Huston-Tillotson College

Paul Quinn College

Prairie View A&M University

Saint Philip's College

Texas Southern University

Texas College

Wiley College

Virginia

Hampton University

Norfolk State University

Saint Paul's College

Virginia State University

Virginia Union University

West Virginia

West Virginia State University

Appendix D

The non-standard forms, which follow, are required for your HBCU application.

BILLING CODE 4210-32-P

FUNDING AVAILABILITY FOR THE HISPANIC-SERVING INSTITUTIONS ASSISTING COMMUNITIES PROGRAM (HSIAC)

Program Overview

Purpose of the Program. To assist Hispanic-serving institutions of higher education (HSIs) expand their role and effectiveness in addressing community development needs in their localities, consistent with the purposes of Title I of the Housing and Community Development Act of 1974, as amended.

Available Funds. Approximately $6.5 million.

Eligible Applicants: Only nonprofit Hispanic-serving institutions of higher education that meet the definition of an HSI established in Title V of the 1998 Amendments to the Higher Education Act of 1965 (Pub.L. 105-244; enacted October 7, 1998).

Application Deadline. June 1, 2001.

Match. None.

Additional Information

If you are interested in applying for funds under the Hispanic-serving Institutions Assisting Communities Program (HSIAC), please review carefully the General Section of this SuperNOFA and the following additional information.

I. Application Due Date, Application Kits, Further Information, and Technical Assistance

Application Due Date. Your completed application is due on or before 12:00 midnight, Eastern time, on June 1, 2001 at HUD Headquarters.

See the General Section of this SuperNOFA for specific procedures covering the form of the application submission (e.g., mailed applications, express mail, overnight delivery, or hand carried).

Address for Submitting Applications. Your completed application consists of an original signed application and two copies of the application. Submit your completed application to the following address: Processing and Control Branch, Office of Community Planning and Development, Department of Housing and Urban Development, 451 Seventh Street, SW, Room 7251, Washington, DC, 20410. When submitting your application, please refer to HSIAC and include your name, mailing address (including zip code), and telephone number (including area code).

HUD will accept only one application per HSI campus for this program. If your institution submits more than one application, per campus, HUD will ask you to identify which application you want evaluated. Only one application may be evaluated. If you do not respond within the stipulated cure period (see Section V of the General Section of this SuperNOFA), all of your applications will be disqualified. You should take this policy into account and take steps to ensure that multiple applications are not submitted.

For Application Kits. For an application kit and any supplemental material, you should call the SuperNOFA Information Center at 1-800-HUD-8929. If you have a hearing or speech impairment, please call the Center's TTY number at 1-800-HUD-2209. When requesting an application kit, you should refer to HSIAC and provide your name and address (including zip code) and telephone number (including area code). You may also access the application on the Internet through the HUD web site at www.hud.gov/grants.

For Further Information and Technical Assistance. You may contact Jane Karadbil of HUD's Office of University Partnerships at 202-708-1537, extension 5918. If you have a hearing or speech impairment, you may access this number via TTY by calling the Federal Information Relay Service toll-free at 1-800-877-8339. You may also write to Ms. Karadbil via email at Jane_R._Karadbil@hud.gov.

Satellite Broadcast. HUD will hold an information broadcast via satellite for potential applicants to learn more about the program and preparation of the application. For more information about the date and time of the broadcast, you should consult the HUD web site at http://www.hud.gov/grants.

II. Amount Allocated

Approximately $6.5 million in FY 2001 funds is being made available under this SuperNOFA for HSIAC.

The maximum grant period is 24 months. The performance period will commence on the effective date of the grant agreement.

The maximum amount to be requested and awarded is $400,000. Since the Statement of Work and other facets of the technical review are assessed in the context of the proposed budget and grant request, and in the interest of fairness to all applicants, if you submit an application requesting more than $400,000 in HUD funds, the application will be ruled ineligible. HUD reserves the right to make awards for less than the maximum amount or less than the amount requested in your application.

III. Program Description; Eligible Applicants; Eligible Activities

(A) Program Description. The purpose of HSIAC is to assist HSIs expand their role and effectiveness in addressing community development needs in their localities, including neighborhood revitalization, housing, and economic development.

(1) For the purposes of this program, the term “locality” includes any city, county, township, parish, village, or other general political subdivision of a State, Puerto Rico, or the U.S. Virgin Islands within which your HSI is located.

(2) A “target area” is the locality or the area within the locality in which your institution will implement its proposed HUD grant.

(B) Eligible Applicants. Only if your institution is a nonprofit institution of higher education and meets the statutory definition of an HSI in Title V of the 1998 Amendments to the Higher Education Act of 1965 (P.L. 105-244) are you eligible to apply. In order for you to meet this definition, at least 25 percent of the full-time undergraduate students enrolled in your institution must be Hispanic and not less than 50 percent of these Hispanic students must be low-income individuals. You are not required to be on the list of eligible institutions prepared by the U.S. Department of Education. However, if you are not, you will be required to certify in the application that you meet the statutory definition. If you are one of several campuses of the same institution, you may apply separately from the other campuses as long as your campus has a separate administrative structure and budget from the other campuses. In addition, in order to fund as many different HSIs as possible, you can only apply if you did not receive an HSIAC grant in FY 2000. If you received an HSIAC grant in FY 1999, you may reapply as long as: (1) you propose an entirely new project for a different activity;

(2) you propose a different project director; and (3) you have drawn down at least 75% of your previous grant by the application due date.

(C) Eligible Activities. (1) General. Each activity you propose for funding must meet both a Community Development Block Grant Program (CDBG) national objective and the CDBG eligibility requirements. A discussion of the national objectives can be found at 24 CFR part 570.208. There are three national objectives:

(a) Benefit to low- and moderate-income persons;

(b) Aid in the prevention or elimination of slums or blight; or

(c) Meet other community development needs having a particular urgency because existing conditions pose a serious and immediate threat to the health and welfare of the community, and other financial resources are not available to meet such needs.

(You must ensure that of your aggregate grant expenditures under paragraphs (a), (b), and (c) above, at least 51% are for activities benefiting low- and moderate-income persons.)

You can find the regulations governing activities eligible under the CDBG program at 24 CFR part 570, subpart C, particularly §§ 570.201 through 570.206. Ineligible activities are listed at § 570.207. The CDBG publication entitled “Everything You Wanted to Know About CDBG” discusses the regulations. You can obtain a copy from the SuperNOFA Information Center. If you propose an activity which otherwise is eligible, it may not be funded if State or local law requires that it be carried out by a governmental entity.

In addition, you may not propose the construction or rehabilitation of your institution's facilities unless you can demonstrate that such activities would meet the purpose of this program to expand the role and effectiveness of an HSI in its locality. HUD will scrutinize proposed activities for eligibility. As examples of eligible and ineligible on-campus activities, rehabilitating a library for use by your students would not be an eligible activity, but rehabilitating it to convert it to a micro-business enterprise center for the community would be; or as another example, just undertaking your normal activities (e.g., offering English as a Second Language classes) would not be considered eligible activities because they would not expand your role and effectiveness in community development activities. You should call Jane Karadbil at 202-708-1537, extension 5918 if you have any questions about the eligibility of any activities you may propose. You may also look at the Office of University Partnerships website at www.oup.org for summaries of last year's winners.

(2) Examples of Eligible Activities. Examples of activities that generally can be carried out with these funds, under one of the three national objectives, include, but are not limited to:

(a) Acquisition of real property;

(b) Clearance and demolition;

(c) Rehabilitation of residential structures to increase housing opportunities for low- and moderate-income persons and rehabilitation of commercial or industrial buildings to correct code violations or for certain other purposes, e.g., making accessibility and visitability modifications to housing;

(d) Direct homeownership assistance to low- and moderate-income persons, as provided in section 105(a)(25) of the Housing and Community Development Act of 1974;

(e) Acquisition, construction, reconstruction, rehabilitation, or installation of public facilities and improvements, such as water and sewer facilities and streets;

(f) Relocation payments and other assistance for temporarily and permanently relocated individuals, families, businesses, and non-profit organizations where the assistance is:

(1) Required under the provision of 24 CFR 570.606 (b) or (c); or (2) Determined by your institution to be appropriate under the provisions of 24 CFR 570.606(d).

(g) Lead-based paint hazard reduction, pursuant to the CDBG regulations;

(h) Special economic development activities described at 24 CFR 570.203, including activities designed to promote training and employment opportunities;

(i) Assistance to facilitate economic development by providing technical assistance or financial assistance for the establishment, stabilization, and expansion of microenterprises, including minority enterprises.

(j) Assistance to community-based development organizations (CBDO) to carry out a CDBG neighborhood revitalization, community economic development, or energy conservation project, in accordance with 24 CFR 570.204. This could include activities in support of a HUD approved local CDBG Neighborhood Revitalization Strategy (NRS) or HUD approved State CDBG Community Revitalization Strategy (CRS);

(k) Establishment of a Community Development Corporation (CDC) at the institution to undertake eligible activities. If you are proposing a Community Development Corporation (CDC) component, it may qualify for CBDO activities;

(l) Up to 15 percent of the grant for eligible public services activities including:

(i) Work study programs that meet the program requirements of the Hispanic-serving Institutions Work Study program, which can be found at 24 CFR 570.416;

(ii) Outreach and other program activities as described in the Community Outreach Partnership Centers Program section of the SuperNOFA;

(iii) Educational activities including English as a Second Language (ESL) classes, adult basic education classes, GED preparation and testing, and curriculum development of courses that will lead to a certificate or degree in community planning and development;

(iv) Job and career counseling, assessment, training, and other activities designed to promote employment opportunities, not related to special economic development activities;

(v) Capacity building for community organizations;

(vi) Social and medical services for youths, adults, senior citizens, and the homeless;

(vii) Fair housing services designed to further the fair housing objectives of the Fair Housing Act (42 U.S.C. 3601-20) by making all persons, without regard to race, color, religion, sex, national origin, familial status and/or disability aware of the range of housing opportunities available to them;

(viii) Day care services and costs for the children of students attending your institution;

(ix) Continuum of care services for the homeless;

(x) Public access telecommunications centers including Twenty/20 Education Communities (formerly known as Campus of Learners) and Neighborhood Networks;

(xi) Activities to use HUD's Partnership for Advancing Technology in Housing (PATH) technology;

(xii) Services to assist low-income students to attend college, as part of the U.S. Department of Education's Gaining Awareness and Readiness for Undergraduate Program (GEAR UP). (For more information, call 202-502-7676 or visit the U.S. Department of Education's website at www.ed.gov).

(m) Up to 20% of your grant for program administration costs related to the planning and execution of community development activities assisted in whole or in part with grant funds. Pre-award planning costs may not be paid out of grant funds.

(D) Other Requirements. (1) Leveraging. Although a match is not required to qualify for funding, if you claim leveraging from any source, including your own institution, you must provide letters or other documentation evidencing the extent and firmness of commitments of leveraging from other Federal (e.g., Americorps Programs), State, local, and/or private sources (including the applicant's own resources). These letters or documents must be dated no earlier than the date of this published SuperNOFA. Potential sources of leveraging assistance include: your own institution (for both direct and indirect costs);

Federal, State and local governments;

Housing authorities

Local or national nonprofit organizations

Banks and private businesses; foundations; and

Faith-based communities.

(2) Employment of Local Area Residents (Section 3). Please see Section II(E) of the General Section of this SuperNOFA. The requirements are applicable to certain activities that may be funded under this program section of the SuperNOFA.

(3) Labor Standards. If you are awarded a grant, you must comply with the labor standards (Davis-Bacon) as found at 24 CFR 570.603.

(4) OMB Circulars. Your grant will be governed by the provisions of 24 CFR part 84 (Grants and Agreements with Institutions of Higher Education, Hospitals and other Nonprofit Organizations), A-21 (Cost Principles for Education Institutions, and A-133 (Audits of States, Local Governments, and Non-Profit Organizations. The application kit contains a detailed explanation of what these costs are. You can access the OMB circulars at the White House website at http://whitehouse.gov/wh/eop/omb/html/circulars.

(5) Nondiscrimination. In addition to the fair housing and other civil rights assurances described under Section II (B) of the SuperNOFA General Section, you must comply with Section 109 of the Housing and Community Development Act of 1974, as amended. Implementing regulations for Section 109 are found under 24 CFR 570, including, but not limited to, reporting and record-keeping requirements under 24 CFR 570.506 and 570.507.

IV. Application Selection Process

HUD will conduct two types of review: a threshold review to determine applicant eligibility; and a technical review to rate the application based on the rating factors in this section.

(A) Threshold Factors for Funding Consideration. Under this threshold review, your application can only be rated if it is both in compliance with the requirements of the General Section of the SuperNOFA and the following additional standards are met:

(1) You must be an eligible HSI and meet the other eligibility requirements under Section III(B) of this program NOFA;

(2) Your application requests a Federal grant of $400,000 or less over the two-year grant period;

(3) There is only one application from your institution or a campus of your institution;

(4) At least one of the activities in your application is eligible.

(B) Factors for Award Used to Evaluate and Rate Applications. The factors for rating and ranking applicants, and maximum points for each factor, are provided below. The maximum number of points for this program is 102. This includes two EZ/EC bonus points, as described in the General Section of the SuperNOFA.

Rating Factor 1: Capacity of the Applicant and Relevant Organizational Experience (15 Points)

This factor addresses the extent to which you have the organizational resources necessary to successfully implement the proposed activities in a timely manner. In rating this factor, HUD will consider the extent to which your application demonstrates the knowledge and experience of the overall project director and staff, including the day-to-day program manager, consultants, and contractors in planning and managing the kinds of programs for which funding is being requested. If this experience is found within the HSI, you will receive higher points on this factor than if you have secured this experience from consultants, contractors, and other staff outside your institution. In addition, if you demonstrate that the previous experience is for the project team from the institution proposed for this project, you will receive higher points than if the experiences are for people not proposed to work on this project. Experience will be judged in terms of recent, relevant, and successful experience of your staff to undertake activities in:

(a) Outreach activities in specific communities to solve or ameliorate significant housing and community development issues;

(b) Undertaking specific successful community development projects with community-based organizations; and

(c) Providing proven leadership in solving community problems which have a direct bearing on the proposed activity.

Rating Factor 2: Need/Extent of the Problem (15 Points)

This factor addresses the extent to which there is a need for funding the proposed program activities and an indication of the importance of meeting the need in the target area. In responding to this factor, you will be evaluated on the extent to which you document the level of need for the proposed activities and the importance of meeting the need.

You should use statistics and analyses contained in one or more data sources that are sound and reliable. To the extent that your targeted community's Five (5) Year Consolidated Plan and Analysis of Impediments to Fair Housing Choice (AI) identify the level of the problem and the urgency in meeting the need, you should include references to these documents in your response to this factor.

If your proposed activities are not covered under the scope of the Consolidated Plan and AI, you should indicate such, and use other sound data sources to identify the level of need and the urgency in meeting the need. Types of other sources include Census reports, HUD Continuum of Care gaps analysis, law enforcement agency crime reports, Public Housing Authorities' Comprehensive Plans, community needs analyses such as provided by the United Way, your institution, etc., and other sound and reliable sources appropriate for HSIAC. You may also address needs in terms of fulfilling court orders or consent decrees, settlements, conciliation agreements, and voluntary compliance agreements. To the extent possible, the data you use should be specific to the area where the proposed activities will be carried out. You should document needs as they apply to the area where the activities will be targeted, rather than the entire locality or State, unless the target area is the entire locality or State.

Rating Factor 3: Soundness of Approach (50 Points)

This factor addresses the quality and cost-effectiveness of your proposed work plan, the commitment of your institution to sustain the proposed activities, and your actions regarding affirmatively furthering fair housing.

(1) Quality of the Work Plan (35 Points) This factor includes your statement of work and budget.

(a) Specific Services and/or Activities (12 Points). Specifically, HUD will consider the extent to which your proposed activities will:

(i) Expand the role of your institution in its community;

(ii) Alleviate and/or fulfill the needs identified in Factor 2;

(iii) Relate to and not duplicate other activities in the target area;

(iv) Involve and empower the citizens of the target area in all stages of the proposed project (particularly through an committee, representative of the target community, to guide the project); and

(v) Be disseminated to a wide variety of audiences, both academic and community-based, using a wide variety of media, including print and Internet technology.

(b) Work Plan Impact (13 Points). HUD will consider the feasibility of success of your program, the measurable objectives, and how timely your products will be delivered. Specifically, HUD will examine the extent to which:

(i) The project you propose can be completed within the two year grant period; and

(ii) The objectives are measurable (e.g., the number of loans made, the number of jobs created), result in measurable improvement to the community (e.g., fifteen more homeowners, twenty more jobs in a specific field), and how well you demonstrate that these objectives will be achieved by your proposed management plan and team and will result directly from your activities.

(c) Involvement of the Faculty and Students (5 Points). The extent to which your application proposes to involve your students and faculty, as part of their coursework in outreach and applied research activities. HUD's goal is to encourage you to fund activities similar to those eligible under the COPC program to be undertaken as a complement to those proposed in your HSIAC application. For more information about the COPC program, you can look at the University Partnerships Clearinghouse web site at http://www.oup.org/techassist/copc/techcopc.html.

(d) HUD Priorities (5 Points). The extent to which your application will further and support at least one of the following priorities of HUD:

(1) Promoting healthy homes;

(2) Providing opportunities for self-sufficiency, particularly for persons enrolled in welfare-to-work programs;

(3) Enhancing ongoing efforts to eliminate drugs and crime from neighborhoods through program policy efforts such as “One Strike and You Are Out” or the “Officer or Teacher Next Door” initiative;

(4) Providing educational, job training, and homeownership opportunities through such initiatives as GEAR UP, Neighborhood Networks, Twenty/20 Education Communities, and linking programs to Americorps; or

(5) HUD's Partnership for Advancing Technology in Housing (PATH) initiative.

The Healthy Homes initiative implements a series of activities to protect children from home hazards such as lead-based paint, radon, fires, and accidents around the home.

The GEAR UP initiative promotes partnerships between colleges and middle or junior high schools in low-income communities, to help teach students how they can go to college by informing them about college options, academic requirements, costs, and financial aid, and by providing support services, including tutoring, counseling, and mentoring.

The Neighborhood Networks initiative enhances the self-sufficiency, employability, and economic self-reliance of low-income families and the elderly living in HUD-insured and HUD-assisted properties by providing them with on-site access to computer and training resources.

The Twenty/20 Education Community initiative (formerly known as Campus of Learners) is designed to transform public housing into safe and livable communities where families undertake training in new telecommunications and computer technology and partake in educational opportunities and job training initiatives.

The Partnership for Advancing Technology in Housing (PATH) initiative is a voluntary public/private partnership that seeks to speed the creation and widespread use of advanced technologies in order to radically improve the quality, durability, energy efficiency, and environmental performance and affordability of housing. For more information, you can go to the PATH web site at www.pathnet.org.

(2) Institutionalization of Project Activities (10 Points). The extent to which your project will result in the kinds of proposed activities being sustained by becoming part of the mission of your institution. In reviewing this subfactor, HUD will consider the extent to which program activities relate to your institution's mission; demonstrate support and involvement of the institution's executive leadership; are linked by a formal organizational structure to other units related to outreach and community partnerships; are reflected in budget and planning documents; are part of a climate that rewards faculty work on these kinds of activities through promotion and tenure; benefits students because they are part of a service learning program at your institution; and are reflected in the curriculum. HUD will look at your monetary and non-monetary commitments to faculty and staff continuing work in the target area or other similar areas and to your longer term commitment (five years after the start of the grant) of hard dollars to similar work. If you have previously received an HSIAC grant, you must describe the progress your institution has made since you received the HSIAC grant in institutionalizing your project activities.

(3) Affirmatively Furthering Fair Housing (5 Points). The extent to which you propose to undertake activities designed to affirmatively further fair housing, for example:

(a) Working with other entities in the community to overcome impediments to fair housing, such as discrimination in the sale or rental of housing or in advertising, provision of brokerage services or lending:

(b) Promoting fair housing choice through the expansion of homeownership opportunities and improved quality of services for minorities, families with children, and persons with disabilities; or

(c) Providing housing mobility counseling services.

Rating Factor 4: Leveraging Resources (10 Points)

This factor addresses your ability to secure community resources, which can be combined with HUD program funds to achieve program objectives.

In evaluating this factor, HUD will consider the extent to which you have established partnerships with other entities to secure additional resources to increase the effectiveness of the proposed activities. Resources may include funding or in-kind contributions, such as services or equipment. Resources may be provided by governmental entities, public or private nonprofit organizations, for-profit private organizations, or other entities. You may also establish partnerships with other program funding recipients to coordinate the use of resources in the target area.

You may count overhead and other institutional costs (e.g., salaries) that are waived as leveraging. However, higher points will be awarded if you secure leveraging resources from sources outside your institution.

You must provide letters or other documentation showing the extent and firmness of commitments of leveraged funds (including your own resources) in order for these resources to count in determining points under this factor. Any resource for which there is no commitment letter will not be counted, nor will the resource be counted without the proposed level of commitment being quantified. If your application does not include evidence of leveraging, it will receive zero (0) points for this Factor.

Rating Factor 5: Comprehensiveness and Coordination (10 Points)

This factor addresses the extent to which you have coordinated your activities with other known organizations, participate or promote participation in a community's Consolidated Planning process, and are working towards addressing a need in a holistic and comprehensive manner through linkages with other activities in the community. For specific information about your locality's process, contact the local Community Development Agency or the local HUD field office. If you propose to work in a Community Development Block Grant (CDBG) non-entitlement jurisdiction, you will only need to address subfactors (1) and (3).

In evaluating this factor, HUD will consider the extent to which you demonstrate that you have:

(1) Coordinated your proposed activities with those of other groups or organizations prior to submission in order to best complement, support, and coordinate all known activities and, if funded, the specific steps you will take to share information on solutions with others. Any written agreements, memoranda of understanding in place, or that will be in place after award, should be described.

(2) Taken or will take specific steps to become active in the community's Consolidated Planning process (including the Analysis of Impediments to Fair Housing Choice) established to identify and address a need/problem that is related to the activities you propose.

(3) Taken or will take specific steps to develop linkages to coordinate comprehensive solutions through meetings, information networks, planning processes or other mechanisms with:

(a) Other HUD-funded projects/activities outside the scope of those covered by the Consolidated Plan; and

(b) Other Federal, State or locally-funded activities, including those proposed or ongoing in the community.

(C) Selections. In order to be funded, you must receive a minimum score of 70 points. HUD will fund applications in rank order, until it has awarded all available funds. If two or more applications have the same number of points, the application with the most points for Factor 3, Soundness of Approach, shall be selected. If there is still a tie, the application with the most points for Factor 4, Leveraging, shall be selected.

HUD will not fund specific proposed activities that do not meet eligibility requirements (see 24 CFR part 570, subpart C) or do not meet a national objective in accordance with 24 CFR 570.208.

HUD reserves the right to make selections out of rank order to provide for geographic distribution of funded HSIACs. If HUD decides to use this option, it will do so only if two adjacent HUD regions do not yield at least one fundable HSIAC on the basis of rank order. If this occurs, HUD will fund the highest ranking applicant within the two regions as long as the minimum score of 70 points is achieved.

After all application selections have been made, HUD may require that you participate in negotiations to determine the specific terms of the Statement of Work and the grant budget. In cases where HUD cannot successfully complete negotiations, or you fail to provide HUD with requested information, an award will not be made. In such instances, HUD may elect to offer an award to the next highest ranking applicant, and proceed with negotiations with that applicant.

V. Application Submission Requirements

You should include an original and two copies of the items listed below. In order to be able to recycle paper, please do not submit applications in bound form; binder clips or loose leaf binders are acceptable. Also, please do not use colored paper. Please note the page limits for some of the items listed below and do not exceed them.

Your application must contain the items listed in this section. These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found as Appendix A to this program section of the SuperNOFA. The items are as follows:

(A) SF-424, Application for Federal Assistance.

(B) HUD-424M, Federal Assistance Funding Matrix.

(C) Application Checklist.

(D) Transmittal Letter, signed by the Chief Executive Officer of your institution or his or her designee. If a designee signs, your application must include the official designation of signatory authority.

(E) Abstract/Executive Summary (one page limit) describing the goals and activities of the project.

(F) Narrative Statement Addressing the Factors for Award. (50 page limit, including tables, and maps, but not including any letters of commitment and budget forms) (Please note that although submitting pages in excess of the page limit will not disqualify your application, HUD will not consider the information on any excess pages, which may result in a lower score or failure to meet a threshold.) For FY 2001, the statement of work and the budget are now part of Factor 3, Soundness of Approach.

(1) The Statement of Work incorporates all activities to be funded in your application and details how your proposed work will be accomplished. For each proposed activity, your Statement of Work must:

(a) Arrange the presentation of major related activities (e.g., rehabilitation of a child care center, provision of tutoring services), summarize each activity, identify the primary persons (as described in addressing Rating Factor 1) involved in carrying out the activity and accountable for the deliverables, and delineate the major tasks involved in carrying it out. You should also describe how each activity meets a CDBG national objective.

(b) Indicate the sequence in which tasks are to be performed, noting areas of work that must be performed simultaneously. The sequence, duration, and the products to be delivered should be presented in six month intervals, up to 24 months.

(c) Identify the specific numbers of quantifiable intermediate and end products and objectives (e.g., the number of houses of be rehabilitated, the number of people to be trained, the number of minority businesses started, etc.) you aim to deliver by the end of the grant period as a result of the work performed.

(2) The budget presentation should be consistent with the Statement of Work and include:

(a) A budget by activity, using Form HUD-30004 included in the application kit and in the program area section of the SuperNOFA. This form separates the Federal and non-Federal costs of each program activity. Particular attention should be paid to accurately estimating costs; determining the necessity for and reasonableness of costs; and correctly computing all budget items and totals.

(b) A narrative statement of how you arrived at your costs, for any line item over $5,000. Indirect costs must be substantiated and the rate must have been approved by the cognizant Federal agency. If you are proposing to undertake rehabilitation of residential, commercial, or industrial structures or acquisition, construction, or installation of public facilities and improvements, you must submit reasonable costs supplied by a qualified entity other than your institution. Guidance for securing these estimates can be obtained from the CPD Director in your HUD field office or from your local government.

(c) A statement of compliance with the 20 percent limitation on “Planning and Administration” costs.

(3) Your narrative statement addressing the factors for award should address all factors for award. You should number the narrative in accordance with each factor and subfactor. (Please note that although submitting pages in excess of the page limit will not disqualify your application, HUD will not consider the information on any excess pages, which may result in a lower score or failure to meet a threshold.)

In addressing Factor 4, for each leveraging source, cash or in kind, you must submit a letter, dated no earlier than the date of this SuperNOFA, from the provider on the provider's letterhead that addresses the following:

The dollar amount or dollar value of the in-kind goods and/or services committed. For each leveraging source, the dollar amount in the commitment letter must be consistent with the dollar amount you indicated in the Budget; How the leveraging amount is to be used; The date the leveraging amount will be made available and a statement that it will be for the duration of the grant period; Any terms and conditions affecting the commitment, other than receipt of a HUD HSIAC Grant; and The signature of the appropriate executive officer authorized to commit the funds and/or goods and/or services. (See the application kit and the program area section of the SuperNOFA for a sample commitment letter.)

(G) Certifications.

(1) SF-424B, Assurances for Non-Construction Programs.

(2) HUD-50071, Certification of Payments to Influence Certain Federal Transactions;

(3) SF-LLL, Disclosure of Lobbying Activities (if applicable);

(4) HUD-2880, Applicant/Recipient Disclosure/Update Form;

(5) HUD-50070, Certification of Drug-Free Workplace;

(6) HUD-2992, Certification Regarding Debarment and Suspension;

(7) HUD-2991, Certification of Consistency with the Consolidated Plan; and

(8) HUD-2990, Certification of Consistency with the EZ/EC Strategic Plan (if applicable);

(H) Acknowledgment of Receipt of Applications (HUD-2993). If you wish to confirm that HUD received your application, please complete this form. This form is optional.

(I) Client Comment and Suggestions (HUD-2994). If you wish to offer comments on the HSIAC NOFA of this SuperNOFA or the SuperNOFA process, please complete this form. This form is optional.

You may not submit appendices or general support letters or resumes. If you submit letters of leveraging commitment, they must be included in your response to Factor 4. If you submit other documentation, it must be included with the pertinent factor responses (taking note of the page limit).

VI. Corrections to Deficient Applications

The General Section of the SuperNOFA provides the procedures for corrections to deficient applications.

VII. Environmental Requirements

Selection for award does not constitute approval of any proposed sites. Following selection for award, HUD will perform an environmental review of activities proposed for assistance under this program, in accordance with 24 CFR part 50. The results of the environmental review may require that your proposed activities be modified or that your proposed sites be rejected. You are particularly cautioned not to undertake or commit funds for acquisition or development of proposed properties prior to HUD approval of specific properties or areas. Your application constitutes an assurance that your institution will assist HUD to comply with part 50; will supply HUD with all available and relevant information to perform an environmental review for each proposed property; will carry out mitigating measures required by HUD or select alternate property; and will not acquire, rehabilitate, convert, lease, repair, or construct property and not commit or expend HUD or local funds for these program activities with respect to any eligible property until HUD approval of the property is received. In supplying HUD with environmental information, you should use the same guidance as provided in the HUD Handbook entitled “Field Environmental Review Processing for HUD Colonias Initiative Grants” issued January 27, 1999.

VIII. Authority

This program was approved by the Congress under the section 107 of the CDBG appropriation for Fiscal Year 2001, as part of the FY 2001 HUD Appropriations Act. HSIAC is being implemented through this program section of the SuperNOFA and the policies governing its operation are contained herein.

Appendix A

The non-standard forms, which follow, are required for your HSIAC application.

BILLING CODE 4210-32-P

FUNDING AVAILABILITY FOR THE ALASKA NATIVE/NATIVE HAWAIIAN INSTITUTIONS ASSISTING COMMUNITIES PROGRAM (AN/NHIAC)

Program Overview

Purpose of the Program. To assist Alaska Native/Native Hawaiian institutions of higher education (AN/NHIs) expand their role and effectiveness in addressing community development needs in their localities, consistent with the purposes of Title I of the Housing and Community Development Act of 1974, as amended.

Available Funds. Approximately $3 million, plus $1.2 million in previously unexpended funds, to be divided evenly between Alaska Native institutions of higher education (ANIs) and Native Hawaiian institutions of higher education (NHIs).

Eligible Applicants: Only nonprofit Alaska Native and Native Hawaiian institutions of higher education that meet the definitions of Alaska Native and Native Hawaiian institutions of higher education established in Title III, Part A, Section 317 of the Higher Education Act of 1965, as amended by the Higher Education Amendments of 1998 (Pub.L. 105-244; enacted October 7, 1998).

Application Deadline. June 1, 2001.

Match. None.

Additional Information

If you are interested in applying for funds under the Alaska Native/Native Hawaiian Institutions Assisting Communities (AN/NHIAC) Program, please review carefully the General Section of this SuperNOFA and the following additional information.

I. Application Due Date, Application Kits, Further Information, and Technical Assistance

Application Due Date. Your completed application is due on or before 12:00 midnight, Eastern time, on June 1, 2001, at HUD Headquarters.

See the General Section of this SuperNOFA for specific procedures covering the form of the application submission (e.g., mailed applications, express mail, overnight delivery, or hand carried).

Address for Submitting Applications. Your completed application consists of an original signed application and two copies. Submit your completed application to the following address: Processing and Control Branch, Office of Community Planning and Development, Department of Housing and Urban Development, 451 Seventh Street, SW, Room 7251, Washington, DC, 20410. When submitting your application, please refer to AN/NHIAC and include your name, mailing address (including zip code) and telephone number (including area code).

For ANIs, HUD will only accept one application per campus. For NHIs, HUD will only accept one application per institution. If your institution submits more than one application per campus (for ANIs) or more than one application per institution (for NHIs), HUD will ask you to identify which application you want evaluated. Only one application may be evaluated. If you do not respond within the stipulated cure period (see Section V of the General Section of this SuperNOFA), all of your applications will be disqualified. You should take this policy into account and take steps to ensure that multiple applications are not submitted.

For Application Kits. For an application kit and any supplemental material, you should call the SuperNOFA Information Center at 1-800-HUD-8929. If you have a hearing or speech impairment, please call the Center's TTY number at 1-800-HUD-2209. When requesting an application kit, you should refer to AN/NHIAC Program and provide your name and address (including zip code) and telephone number (including area code). You may also access the application on the Internet through the HUD web site at www.hud.gov.

For Further Information and Technical Assistance. You may call Jane Karadbil of HUD's Office of University Partnerships at 202-708-1537, extension 5918. If you have a hearing or speech impairment, you may access this number via TTY by calling the Federal Information Relay Service toll-free at 1-800-877-8339. You may also write to Ms. Karadbil via email at Jane_R._Karadbil@hud.gov.

Satellite Broadcast. HUD will hold an information broadcast via satellite for potential applicants to learn more about the program and preparation of the application. For more information about the date and time of the broadcast, you should consult the HUD web site at http://www.hud.gov.

II. Amount Allocated

Approximately $3 million in FY 2001 funds and $1.2 million in previously unexpended funds is being made available under this SuperNOFA for AN/NHIAC. Of this amount, $2.1 million is being made available for Alaska Native institutions (ANIs) of higher education and $2.1 million is being made available for Native Hawaiian institutions of higher education (NHIs). The performance period of 24 months will commence on the effective date of the grant agreement. The maximum amount which can be requested and awarded to a particular Alaska Native institutions of higher education is $400,000. The maximum amount which can be requested and awarded for a particular Native Hawaiian institution of higher education is $2 million with each application composed of no more than five separate projects, each in a different neighborhood. Each separate project can be for no more than $400,000.

Since the Statement of Work and other facets of the technical review are assessed in the context of the proposed budget and grant request, and in the interest of fairness to all applicants, if you are an ANI and submit an application requesting more than $400,000 in HUD funds, it will be ruled ineligible. If you are an NHI and you submit an application for more than $2 million, it will be ruled ineligible. If you are an NHI and you submit an application in which you request more than $400,000 for any one project, that particular project will be ruled ineligible. HUD reserves the right to make awards for less than the maximum amount or less than the amount requested in your application.

III. Program Description; Eligible Applicants; Eligible Activities

(A) Program Description. The purpose of AN/NHIAC is to assist AN/NHIs expand their role and effectiveness in addressing community development needs in their localities, including neighborhood revitalization, housing, and economic development.

(1) For the purposes of this program, the term “locality” includes any city, county, township, parish, village, or other general political subdivision of a State within which your AN/NHI is located.

(2) A “target area” is the locality or the area within the locality in which your institution will implement its proposed HUD grant.

(B) Eligible Applicants. Only if your institution is a nonprofit institution of higher education and meets the statutory definition of either an Alaska Native institution of higher education or a Native Hawaiian institution of higher education, as contained in Title III, Part A, Section 317 of the Higher Education Act of 1965, as amended by the Higher Education Amendments of 1998 (Pub.L. 105-244) are you eligible to apply. If you are an Alaska Native institution of higher education, in order for you to meet this definition, at least 20 percent of your undergraduate headcount enrollment must be Alaska Native students. If you are a Native Hawaiian institution of higher education, in order to meet this definition at least 10 percent of your undergraduate headcount enrollment must be Native Hawaiian students. You are not required to be on a list of eligible AN/NHIs prepared by the U.S. Department of Education. However, if you are not, you will be required to certify in the application that you meet the statutory definition. If you are an ANI and received a grant in FY 2000, you are not eligible to submit an application in FY 2001. If you are an NHI and received a grant in FY 2000, you are not permitted to submit an application for the same project in a different neighborhood, another project in the same neighborhood, or another project with the same project director as the project funded in FY 2000.

If you are an ANI and your institution has multiple campuses, each one is eligible to apply separately, as long as it meets the above enrollment test. You may undertake as many projects and activities as you want, as long as you do not exceed the $400,000 cap for an application. If you are an NHI, you are permitted to submit only one application, no matter how many separate campuses you have, as long as your institution meets the above enrollment test. You may undertake up to five separate projects, each in a different neighborhood, with each project requesting no more than $400,000. In your application you must describe how each project is separate and distinct; how your proposed activities relate to that project; and that each project will not rely on any part of another project for its successful completion. A project can include one or more of the eligible activities listed below. For example, if you propose a homeownership project, you might rehabilitate housing in a neighborhood, demolish some structures to create spaces for lawns, and provide a loan pool for purchasers of this housing. All these activities could still be viewed as one project. You might also undertake a job training program for welfare-to-work families by rehabilitating a warehouse and offering the job training there. These activities could also be viewed as one project. But if you proposed to create a homeownership loan program and a job training program, these activities would be viewed as two separate projects. Your institution could undertake both, but they would have to be in two different neighborhoods.

(C) Eligible Activities. (1) General. Each activity you propose for funding must meet both a Community Development Block Grant Program (CDBG) national objective and the CDBG eligibility requirements. A discussion of the national objectives can be found at 24 CFR part 570.208. There are three national objectives:

(a) Benefit to low-and moderate-income persons;

(b) Aid in the prevention or elimination of slums or blight; or

(c) Meet other community development needs having a particular urgency because existing conditions pose a serious and immediate threat to the health and welfare of the community, and other financial resources are not available to meet such needs.

(You must ensure that of your aggregate grant expenditures under paragraphs (a), (b), and (c) above at least 51% are for activities benefiting low-and moderate-income persons).

You can find the regulations governing activities eligible under the CDBG program at 24 CFR part 570, subpart C, particularly §§ 570.201 through 570.206. Ineligible activities are listed at § 570.207. The CDBG publication entitled “Everything You Wanted to Know About CDBG” discusses the regulations. You can obtain a copy from the SuperNOFA Information Center. If you propose an activity which otherwise is eligible, it may not be funded if State or local law requires that it be carried out by a governmental entity.

In addition, you may not propose the construction or rehabilitation of your institution's facilities unless you can demonstrate that such activities would meet the purpose of this program to expand the role and effectiveness of an AN/NHI in its locality. HUD will scrutinize proposed activities for eligibility. As examples of eligible and ineligible on-campus activities, rehabilitating a library for use by your students would not be an eligible activity, but rehabilitating it to convert it to a micro-business enterprise center for the community would be; or as another example, just undertaking your normal activities (e.g., offering English as a Second Language classes) would not be considered eligible activities because they would not expand your role and effectiveness in community development activities. You should call Jane Karadbil at 202-708-1537, extension 5918 if you have any questions about the eligibility of any activities you may propose. You may also look at the Office of University Partnerships website at www.oup.org for summaries of last year's winners under the Hispanic-serving Institutions Assisting Communities program, a program very similar to this one.

(2) Examples of Eligible Activities. Examples of activities that generally can be carried out with these funds, under one the three national objectives, include, but are not limited to:

(a) Acquisition of real property;

(b) Clearance and demolition;

(c) Rehabilitation of residential structures to increase housing opportunities for low- and moderate-income persons and rehabilitation of commercial or industrial buildings to correct code violations or for certain other purposes, e.g., making accessibility and visitability modifications to housing;

(d) Direct homeownership assistance to low- and moderate-income persons, as provided in section 105(a)(25) of the Housing and Community Development Act of 1974;

(e) Acquisition, construction, reconstruction, rehabilitation, or installation of public facilities and improvements, such as water and sewer facilities and streets;

(f) Relocation payments and other assistance for temporarily and permanently relocated individuals, families, businesses, and non-profit organizations where the assistance is (1) required under the provision of 24 CFR 570.606(b) or (c); or (2) determined by your institution to be appropriate under the provisions of 24 CFR 570.606(d).

(g) Lead-based paint hazard reduction, pursuant to the CDBG regulations

(h) Special economic development activities described at 24 CFR 570.203, including activities designed to promote training and employment opportunities;

(i) Assistance to facilitate economic development by providing technical assistance or financial assistance for the establishment, stabilization, and expansion of microenterprises, including minority enterprises.

(j) Assistance to community-based development organizations (CBDO) to carry out a CDBG neighborhood revitalization, community economic development, or energy conservation project, in accordance with 24 CFR 570.204. This could include activities in support of a HUD approved local CDBG Neighborhood Revitalization Strategy (NRS) or HUD approved State CDBG Community Revitalization Strategy (CRS);

(k) Establishment of a Community Development Corporation (CDC) at the institution to undertake eligible activities. If you are proposing a Community Development Corporation (CDC) component, it may qualify for CBDO activities;

(l) Up to 15 percent of the grant for eligible public services activities including:

(i) Work study programs that meet the program requirements of the Hispanic-serving Institutions Work Study program, which can be found at 24 CFR 570.416;

(ii) Outreach and other program activities as described in the Community Outreach Partnership Centers Program section of the SuperNOFA;

(iii) Educational activities including English as a Second Language (ESL) classes, adult basic education classes, GED preparation and testing, and curriculum development of courses that will lead to a certificate or degree in community planning and development;

(iv) Job and career counseling assessment, training, and other activities designed to promote employment opportunities, not related to special economic development activities;

(v) Capacity building for community organizations;

(vi) Social and medical services for youths, adults, senior citizens, and the homeless;

(vii) Fair housing services designed to further the fair housing objectives of the Fair Housing Act (42 U.S.C. 3601-20) by making all persons, without regard to race, color, religion, sex, national origin, familial status and/or disability aware of the range of housing opportunities available to them;

(viii) Day care services and costs for the children of students attending your institution;

(ix) Continuum of care services for the homeless;

(x) Public access telecommunications centers including Twenty/20 Education Communities (formerly known as Campus of Learners) and Neighborhood Networks;

(xi) Activities to use HUD's Partnership for Advancing Technology in Housing (PATH) technology;

(xii) Services to assist low-income students to attend college, as part of the U.S. Department of Education's Gaining Awareness and Readiness for Undergraduate Program (GEAR UP). (For more information, call 202-502-7676 or visit the U.S. Department of Education's website at www.ed.gov).

(m) Up to 20% of your grant for program administration costs related to the planning and execution of community development activities assisted in whole or in part with grant funds. Pre-award planning costs may not be paid out of grant funds.

(D) Other Requirements. (1) Leveraging. Although a match is not required to qualify for funding, if you claim leveraging from any source, including your own institution, you must provide letters or other documentation evidencing the extent and firmness of commitments of leveraging from other Federal (e.g., Americorps Programs), State, local, and/or private sources (including the applicant's own resources). These letters or documents must be dated no earlier than the date of this published SuperNOFA. Potential sources of leveraging assistance include: your own institution (for both direct and indirect costs); State and local governments; housing authorities; local or national nonprofit organizations; banks and private businesses; foundations; and faith-based communities.

(2) Employment of local area residents (Section 3). Please see Section II(E) of the General Section of this SuperNOFA. The requirements are applicable to certain activities that may be funded under this program section of the SuperNOFA.

(3) Labor Standards. If you are awarded a grant, you must comply with the labor standards (Davis-Bacon) as found at 24 CFR 570.603.

(4) OMB Circulars. Your grant will be governed by the provisions of 24 CFR part 84 (Grants and Agreements with Institutions of Higher Education, Hospitals and other Nonprofit Organizations), A-21 (Cost Principles for Education Institutions, and A-133 (Audits of States, Local Governments, and Non-Profit Organizations. The application kit contains a detailed explanation of what these costs are. You can access the OMB circulars at the White House website at http://whitehouse.gov/WH/EOP/OMB/html/circulars.

(5) Nondiscrimination. In addition to the fair housing and other civil rights assurances described under Section II (B) of the SuperNOFA General Section, you must comply with Section 109 of the Housing and Community Development Act of 1974, as amended. Implementing regulations for Section 109 are found under 24 CFR 570, including, but not limited to, reporting and record-keeping requirements under 24 CFR 570.506 and 570.507.

IV. Application Selection Process

HUD will conduct two types of review: a threshold review to determine applicant eligibility; and a technical review to rate the application based on the rating factors in this section.

(A) Threshold Factors for Funding Consideration. Under this threshold review, your application can only be considered for rating and ranking if it is in compliance with both the requirements of the General Section of the SuperNOFA and the following additional standards are met:

(1) You must be an eligible Alaska Native or Native Hawaiian institution of higher education and meet the other eligibility requirements in Section III(B) of this program NOFA;

(2) If you are an ANI, you request a Federal grant of $400,000 or less over the two-year grant period; or

(3) If you are an NHI, you request a Federal grant of $2 million or less over the two year grant period composed of no more than five separate projects, each in a different neighborhood, and each of no more than $400,000.

(4) If you are an ANI, there is only one application from your institution or a campus of your institution. If you are an NHI, there is only one application from your institution, no matter how many campuses there are.

(5) At least one of the activities in your application is eligible.

(B) Factors for Award Used to Evaluate and Rate Applications. The factors for rating and ranking applicants, and maximum points for each factor, are provided below. The maximum number of points for this program is 102. This includes two EZ/EC bonus points, as described in the General Section of the SuperNOFA.

Rating Factor 1: Capacity of the Applicant and Relevant Organizational Experience (15 Points)

This factor addresses the extent to which you have the organizational resources necessary to successfully implement the proposed activities in a timely manner. In rating this factor, HUD will consider the extent to which your application demonstrates the knowledge and experience of the overall project director and staff, including the day-to-day program manager, consultants, and contractors in planning and managing the kinds of programs for which funding is being requested. If this experience is found within the AN/NHI, you will receive higher points on this factor than if you have secured this experience from consultants, contractors, and other staff outside your institution. In addition, if you demonstrate that the previous experience is for the project team from the institution proposed for this project, you will receive higher points than if the experiences are for people not proposed to work on this project. Experience will be judged in terms of recent, relevant, and successful experience of your staff to undertake activities in:

(a) Outreach activities in specific communities to solve or ameliorate significant housing and community development issues;

(b) Undertaking specific successful community development projects with community-based organizations; and

(c) Providing proven leadership in solving community problems which have a direct bearing on the proposed activity.

Rating Factor 2: Need/Extent of the Problem (15 Points)

This factor addresses the extent to which there is a need for funding the proposed program activities and an indication of the importance of meeting the need in the target area. In responding to this factor, you will be evaluated on the extent to which you document the level of need for the proposed activities and the importance of meeting the need.

You should use statistics and analyses contained in one or more data sources that are sound and reliable. To the extent that your targeted community's Five (5) Year Consolidated Plan and Analysis of Impediments to Fair Housing Choice (AI) identify the level of the problem and the urgency in meeting the need, you should include references to these documents in your response to this factor.

If your proposed activities are not covered under the scope of the Consolidated Plan and AI, you should indicate such, and use other sound data sources to identify the level of need and the urgency in meeting the need. Types of other sources include Census reports, HUD Continuum of Care gaps analysis, law enforcement agency crime reports, Public Housing Authorities' Comprehensive Plans, community needs analyses such as provided by the United Way, your institution, etc., and other sound and reliable sources appropriate for AN/NHIAC. You may also address needs in terms of fulfilling court orders or consent decrees, settlements, conciliation agreements, and voluntary compliance agreements.

To the extent possible, the data you use should be specific to the area where the proposed activities will be carried out. You should document needs as they apply to the area where the activities will be targeted, rather than the entire locality or State, unless the target area is the entire locality or State.

Rating Factor 3: Soundness of Approach (50 Points)

This factor addresses the quality and cost-effectiveness of your proposed work plan, the commitment of your institution to sustain the proposed activities, and your actions regarding affirmatively furthering fair housing.

(1) Quality of the Work Plan (35 Points).

(a) Specific Services and/or Activities (12 Points). Specifically, HUD will consider the extent to which your proposed activities will:

(i) Expand the role of your institution in its community;

(ii) Alleviate and/or fulfill the needs identified in Factor 2;

(iii) Relate to and not duplicate other activities in the target area.

(iv) Involve and empower the citizens of the target area in all stages of the proposed project (particularly through a committee, representative of the target community, to guide the project); and

(v) Be disseminated to a wide variety of audiences, both academic and community-based, using a wide variety of media, including print and Internet technology.

(b) Work Plan Impact (13 Points). HUD will consider the feasibility of success of your program, the measurable objectives, and how timely your products will be delivered. Specifically, HUD will examine the extent to which:

(i) The project you propose can be completed within the two year grant period; and

(ii) The objectives are measurable (e.g., the number of loans made, the number of jobs created), result in measurable improvement to the community (e.g., fifteen more homeowners, twenty more jobs in a specific field), and how well you demonstrate that these objectives will be achieved by your proposed management plan and team and will result directly from your activities.

(c) Involvement of the Faculty and Students (5 points). The extent to which your application proposes to involve your students and faculty, as part of their coursework in outreach and applied research activities. HUD's goal is to encourage you to fund activities similar to those eligible under the COPC program to be undertaken as a complement to those proposed in your AN/NHIAC application.

(d) HUD Priorities (5 points). The extent to which your application will further and support at least one of the following priorities of HUD:

(1) Promoting healthy homes;

(2) Providing opportunities for self-sufficiency, particularly for persons enrolled in welfare-to-work programs;

(3) Enhancing ongoing efforts to eliminate drugs and crime from neighborhoods through program policy efforts such as “One Strike and You Are Out” or the “Officer or Teacher Next Door” initiative;

(4) Providing educational, job training, and homeownership opportunities through such initiatives as GEAR UP, Neighborhood Networks, Twenty/20 Education Communities, and linking programs to Americorps; or

(5) HUD's Partnership for Advancing Technology in Housing (PATH) initiative.

The Healthy Homes initiative implements a series of initiatives to protect children from home hazards such as lead-based paint, radon, fires, and accidents around the home.

The GEAR UP initiative promotes partnerships between colleges and middle or junior high schools in low-income communities, to help teach students how they can go to college by informing them about college options, academic requirements, costs, and financial aid, and by providing support services, including tutoring, counseling, and mentoring.

The Neighborhood Networks initiative enhances the self-sufficiency, employability, and economic self-reliance of low-income families and the elderly living in HUD-insured and HUD-assisted properties by providing them with on-site access to computer and training resources.

The Twenty/20 Education Communities initiative (formerly known as Campus of Learners) is designed to transform public housing into safe and livable communities where families undertake training in new telecommunications and computer technology and partake in educational opportunities and job training initiatives.

The Partnership for Advancing Technology in Housing (PATH) initiative is a voluntary public/private partnership that seeks to speed the creation and widespread use of advanced technologies in order to radically improve the quality, durability, energy efficiency, and environmental performance and affordability of housing. For more information, you can go to the PATH web site at www.pathnet.org.

(6) Institutionalization of Project Activities (10 points). The extent to which your project will result in the kinds of proposed activities being sustained by becoming part of the mission of your institution. In reviewing this subfactor, HUD will consider the extent to which program activities relate to your institution's mission; demonstrate support and involvement of the institution's executive leadership; are linked by a formal organizational structure to other units related to outreach and community partnerships; are reflected in budget and planning documents; are part of a climate that rewards faculty work on these kinds of activities through promotion and tenure; benefits students because they are part of a service learning program at your institution; and are reflected in the curriculum. HUD will look at your monetary and non-monetary commitments to faculty and staff continuing work in the target area or other similar areas and to your longer term commitment (five years after the start of the grant) of hard dollars to similar work.

(3) Affirmatively Furthering Fair Housing (5 points). The extent to which you propose to undertake activities designed to affirmatively further fair housing, for example:

(a) Working with other entities in the community to overcome impediments to fair housing, such as discrimination in the sale or rental of housing or in advertising, provision of brokerage services or lending:

(b) Promoting fair housing choice through the expansion of homeownership opportunities and improved quality of services for minorities, families with children, and persons with disabilities; or

(c) Providing housing mobility counseling services.

Rating Factor 4: Leveraging Resources (10 Points)

This factor addresses your ability to secure community resources, which can be combined with HUD program funds to achieve program objectives.

In evaluating this factor, HUD will consider the extent to which you have established partnerships with other entities to secure additional resources to increase the effectiveness of the proposed activities. Resources may include funding or in-kind contributions, such as services or equipment. Resources may be provided by governmental entities, public or private nonprofit organizations, for-profit private organizations, or other entities. You may also establish partnerships with other program funding recipients to coordinate the use of resources in the target area.

You may count overhead and other institutional costs (e.g., salaries) that are waived as leveraging. However, higher points will be awarded if you secure leveraging resources from sources outside the institution.

You must provide letters or other documentation showing the extent and firmness of commitments of leveraged funds (including your own resources) in order for these resources to count in determining points under this factor. Any resource for which there is no commitment letter will not be counted, nor will the resource be counted without the proposed level of commitment being quantified. If your application does not include evidence of leveraging, it will receive zero (0) points for this Factor.

Rating Factor 5: Comprehensiveness and Coordination (10 Points)

This factor addresses the extent to which you have coordinated your activities with other known organizations, participate or promote participation in a community's Consolidated Planning process, and are working towards addressing a need in a holistic and comprehensive manner through linkages with other activities in the community. For specific information about your locality's process, contact the local Community Development Agency or the local HUD field office. If you propose to work in a Community Development Block Grant (CDBG) non-entitlement jurisdiction, you will only need to address subfactors (1) and (3).

In evaluating this factor, HUD will consider the extent to which you demonstrate that you have:

(1) Coordinated your proposed activities with those of other groups or organizations prior to submission in order to best complement, support, and coordinate all known activities and, if funded, the specific steps you will take to share information on solutions with others. Any written agreements, memoranda of understanding in place, or that will be in place after award, should be described.

(2) Taken or will take specific steps to become active in the community's Consolidated Planning process (including the Analysis of Impediments to Fair Housing Choice) established to identify and address a need/problem that is related to the activities you propose.

(3) Taken or will take specific steps to develop linkages to coordinate comprehensive solutions through meetings, information networks, planning processes or other mechanisms with:

(a) Other HUD-funded projects/activities outside the scope of those covered by the Consolidated Plan; and

(b) Other Federal, State or locally-funded activities, including those proposed or ongoing in the community.

(C) Selections. For ANI applications, each application will be reviewed and rated based on these selection criteria. For NHI applicants, each project in an application will be reviewed and rated separately. If you are an ANI, you must receive a score of at least 70 points on your application in order to be eligible for funding. If you are an NHI, you must receive a score of at least 70 points for a project in order for that project to be eligible for funding. HUD will fund applications (for ANIs) or projects (for NHIs) in rank order, until it has awarded all available funds. HUD will rank and select applications from Alaska Native institutions and Native Hawaiian institutions separately. If, within either of these two categories, two or more applications (for ANIs) or projects (for NHIs) have the same number of points, the application (for ANIs) or project (for NHIs) with the most points for Factor 3, Soundness of Approach, shall be selected. If there is still a tie, the application (for ANIs) or project (for NHIs) with the most points for Factor 4, Leveraging, shall be selected. If all the funds in one category are not awarded, they cannot be transferred to the other category.

HUD will not fund specific proposed activities that do not meet eligibility requirements (see 24 CFR part 570, subpart C), or do not meet a national objective in accordance with 24 CFR 570.208.

After all application selections have been made, HUD may require that you participate in negotiations to determine the specific terms of the Statement of Work and the grant budget. In cases where HUD cannot successfully complete negotiations, or you fail to provide HUD with requested information, an award will not be made. In such instances, HUD may elect to offer an award to the next highest ranking applicant, and proceed with negotiations with that applicant.

V. Application Submission Requirements

You should include an original and two copies of the items listed below. In order to be able to recycle paper, please do not submit applications in bound form; binder clips or loose leaf binders are acceptable. Also, please do not use colored paper. Please note the page limits for some of the items listed below and do not exceed them.

Your application must contain the items listed in this section. These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found as Appendix A to this program section of the SuperNOFA. The items are as follows:

(A) SF-424, Application for Federal Assistance.

(B) HUD-424M, Federal Assistance Funding Matrix.

(C) Application Checklist.

(D) Transmittal Letter, signed by the Chief Executive Officer of your institution or his or her designee. If a designee signs, your application must include the official designation of signatory authority. If you are an NHI, this letter should cover your entire application, no matter how many projects are proposed.

(E) Abstract/Executive Summary (one page limit for ANIs and three pages for NHIs) describing the goals and activities of the project. If you are an NHI, the abstract should cover your entire application, no matter how many projects are proposed.

(F) Narrative Statement Addressing the Factors for Award. (If you are an ANI, there is a 50 page limit including tables and maps, but not including any letters of commitment or budget forms.; If you are an NHI, there is a 50 page limit for each separate project, including tables and maps, but not including any letters of commitment or budget forms, with each project responding to all of the Narrative Statement Addressing the Factors for Award Requirements) (Please note that although submitting pages in excess of the page limit will not disqualify your application, HUD will not consider the information on any excess pages, which may result in a lower score or failure to meet a threshold.) For FY 2001, the statement of work and the budget are now part of Factor 3, Soundness of Approach.

(1) The Statement of Work incorporates all activities to be funded in your application and details how your proposed work will be accomplished. For each proposed activity, your Statement of Work must:

(a) Arrange the presentation of major related activities (e.g., rehabilitation of a child care center, provision of tutoring services), summarize each activity, identify the primary persons (as described in addressing Rating Factor 1) involved in carrying out the activity and accountable for the deliverables, and delineate the major tasks involved in carrying it out. You should also describe how each activity meets a CDBG national objective.

(b) Indicate the sequence in which tasks are to be performed, noting areas of work that must be performed simultaneously. The sequence, duration, and the products to be delivered should be presented in six month intervals, up to 24 months.

(c) Identify the specific numbers of quantifiable intermediate and end products and objectives (e.g., the number of houses to be rehabilitated, the number of people to be trained, the number of minority businesses started, etc.) you aim to deliver by the end of the grant period as a result of the work performed.

(2) The budget presentation should be consistent with the Statement of Work and include:

(a) A budget by activity, using Form HUD-30004 included in the application kit and in the program area section of the SuperNOFA. This form separates the Federal and non-Federal costs of each program activity. Particular attention should be paid to accurately estimating costs; determining the necessity for and reasonableness of costs; and correctly computing all budget items and totals.

(b) A narrative statement of how you arrived at your costs, for any line item over $5,000. Indirect costs must be substantiated and the rate must have been approved by the cognizant Federal agency. If you are proposing to undertake rehabilitation of residential, commercial, or industrial structures or acquisition, construction, or installation of public facilities and improvements, you must submit reasonable costs supplied by a qualified entity other than your institution. Guidance for securing these estimates can be obtained from the CPD Director in your HUD field office or from your local government.

(c) A statement of compliance with the 20 percent limitation on “Planning and Administration” costs.

(3) Your narrative statement addressing the factors for award should address all factors for award. You should number the narrative in accordance with each factor and subfactor. Please do not repeat material in the Statement of Work.

In addressing Factor 4, for each leveraging source, cash or in kind, you must submit a letter, dated no earlier than the date of this SuperNOFA, from the provider on the provider's letterhead that addresses the following:

• The dollar amount or dollar value of the in-kind goods and/or services committed. For each leveraging source, the dollar amount in the commitment letter must be consistent with the dollar amount you indicated in the Budget;

• How the leveraging amount is to be used;

• The date the leveraging amount will be made available and a statement that it will be for the duration of the grant period;

• Any terms and conditions affecting the commitment, other than receipt of a HUD AN/NHIAC Grant; and

• The signature of the appropriate executive officer authorized to commit the funds and/or goods and/or services. (See the application kit and the program area section of the SuperNOFA for a sample commitment letter.) If you are an NHI, you should separate your leveraging sources by project and include the appropriate letters in the Narrative Statement for that project.

(G) Certifications.

(1) SF-424B, Assurances for Non-Construction Programs.

(2) HUD-50071, Certification of Payments to Influence Certain Federal Transactions;

(3) SF-LLL, Disclosure of Lobbying Activities (if applicable);

(4) HUD-2880, Applicant/Recipient Disclosure/Update Form;

(5) HUD-50070, Certification of Drug-Free Workplace;

(6) HUD-2992, Certification Regarding Debarment and Suspension;

(7) HUD-2991, Certification of Consistency with the Consolidated Plan; and

(8) HUD-2990, Certification of Consistency with the EZ/EC Strategic Plan (if applicable);

(H) Acknowledgment of Receipt of Applications (HUD-2993). If you wish to confirm that HUD received your application, please complete this form. This form is optional.

(I) Client Comments and Suggestion Form (HUD-2994). If you wish to offer comments on the AN/NHIAC NOFA of this SuperNOFA or the SuperNOFA process, please complete this form. This form is optional.

You may not submit appendices or general support letters or resumes. If you submit letters of leveraging commitment, they must be included in your response to Factor 4. If you submit other documentation, it must be included with the pertinent factor responses (taking note of the page limit).

VI. Corrections to Deficient Applications

The General Section of the SuperNOFA provides the procedures for corrections to deficient applications.

VII. Environmental Requirements

Selection for award does not constitute approval of any proposed sites. Following selection for award, HUD will perform an environmental review of activities proposed for assistance under this program, in accordance with 24 CFR part 50. The results of the environmental review may require that your proposed activities be modified or that your proposed sites be rejected. You are particularly cautioned not to undertake or commit funds for acquisition or development of proposed properties prior to HUD approval of specific properties or areas. Your application constitutes an assurance that your institution assist HUD to comply with part 50; will supply HUD with all available and relevant information to perform an environmental review for each proposed property; will carry out mitigating measures required by HUD or select alternate property; and will not acquire, rehabilitate, convert, lease, repair, or construct property and not commit or expend HUD or local funds for these program activities with respect to any eligible property until HUD approval of the property is received. In supplying HUD with environmental information, you should use the same guidance as provided in the HUD Handbook entitled “Field Environmental Review Processing for HUD Colonias Initiative Grants” issued January 27, 1998.

VIII. Authority

This program was approved by Congress under the section 107 of the CDBG appropriation for fiscal year 2001, as part of the FY 2001 HUD Appropriations Act. AN/NHIAC is being implemented through this program section of the SuperNOFA and the policies governing its operation are contained herein.

Appendix A

The non-standard forms, which follow, are required for your AN/NHIAC application.

BILLING CODE 4210-32-P

FUNDING AVAILABILITY FOR THE FAIR HOUSING INITIATIVES PROGRAM (FHIP)

Program Overview

Purpose of the Program. To increase compliance with the Fair Housing Act (the Act) and with substantially equivalent State and local fair housing laws.

Available Funds. Approximately $16.5 million is allocated to three (3) Initiatives as follows:

A. Private Enforcement Initiative (PEI) $10.5 million.

B. Education and Outreach Initiative (EOI) $3.9 million.

C. Fair Housing Organizations Initiative (FHOI) $2.1 million.

Eligible Applicants. Eligibility requirements are described in detail under each of the funded Initiatives and Components, set forth below, and eligible applicants may include: Qualified Fair Housing Organizations (QFHOs); Fair Housing Enforcement Organizations (FHOs); public or private, for-profit or not-for-profit organizations or institutions, or other public or private entities that are working to prevent or eliminate discriminatory housing practices; State and local governments or their agencies; and Fair Housing Assistance Program (FHAP) agencies (as defined in Section IV of this program section).

Application Deadline. May 2, 2001.

Match: No matching funds are required for the Education and Outreach or Private Enforcement Initiatives. However, sponsored organizations under the Fair Housing Organizations Initiative (FHOI) must meet the requirements described in Section IV (D)(1)(a) below.

Additional Information

If you are interested in applying for funding under the Fair Housing Initiatives Program (FHIP), please review carefully the General Section of this SuperNOFA, the FHIP Authorizing Statute (Sec. 561 of the Housing and Community Development Act of 1987, as amended) and the FHIP Regulations (24 CFR 125.103-501).

I. Application Due Date, Further Information, and Technical Assistance

Application Due Date. You must submit completed applications for all Initiatives and Components by 12 midnight, Eastern time, on or before May 2, 2001, at HUD Headquarters, at the address shown below.

See the General Section of this SuperNOFA for specific procedures governing the method of application submission (e.g., mailed applications, express mail, overnight delivery, or hand-carried).

Address for Submitting Applications. Your application consists of an original signed application form (SF 424) and all items listed in the Checklist (See Appendix B). Submit your completed application (one original and five copies) to: FHIP SuperNOFA 2001 [Specify the Initiative/Component to which you apply], FHIP/FHAP Support Division, Fair Housing and Equal Opportunity, U.S. Department of Housing and Urban Development 451 Seventh Street SW., Room 5224, Washington, DC 20410.

When you submit your application, please provide the following information at the front top left corner of the mailing envelope: your organization's name, name of contact person, mailing address (including zip code), telephone number (including area code), and fax number. Applicants for more than one Initiative or Component must submit a separate signed original and five copies for each Initiative or Component.

For Further Information and Technical Assistance. You may contact Myron P. Newry of the FHIP Division, at 202-708-0800 (this is not a toll-free number). Persons with hearing or speech impairments may contact the Division by calling 1-800-290-1617 (this is a toll-free number).

Satellite Broadcast. HUD will hold an information broadcast via satellite for potential applicants to learn more about the program and preparing applications. For more information about the date and time of this broadcast, you should consult the HUD web site http://www.hud.gov/grants.

II. Amounts Allocated

In Fiscal Year 2001, $24.0 million was appropriated for the Fair Housing Initiatives Program. Approximately $16.5 million is being made available on a competitive basis to eligible organizations responding to this SuperNOFA. The remaining approximately $7.5 million has been designated for the National Housing Discrimination Audit 2001.

The amount available for each Initiative or Component and the award cap (the maximum amount of funds that can be awarded for each grant) are allocated as follows:

(A) Private Enforcement Initiative (PEI). Approximately $10.5 million is allocated; award cap is $250,000; project duration is 12 months.

(B) Education and Outreach Initiative (EOI). Approximately $3.9 million is allocated to the Regional/Local/Community-Based Program; award cap is $100,000; project duration is 12 months; applications will be submitted to the following Components:

(1) EOI-General Component. Approximately $3.1 million is allocated.

(2) EOI-Disability Component. Approximately $800,000 is allocated.

(C) Fair Housing Organizations Initiative (FHOI). Approximately $2.1 million is allocated; project duration is three years. Award caps are as follows:

Year 1: $350,000; no more than 15 percent of the award may be used by the sponsoring organization for its administrative costs,

Year 2: $350,000; no more than 15 percent of the award may be used by the sponsoring organization for its administrative costs,

Year 3: $350,000; no more than 15 percent of the award may be used by the sponsoring organization for its administrative costs.

III. Program Description; Eligible Applicants; Eligible Activities

Changes to this year's NOFA. This year's FHIP NOFA is substantially different from previous years. The project duration for PEI and EOI awards is 12 months, and three years for FHOI. No FY 2001 funds have been allocated to the EOI-National Program. The instances where the Selecting Official may exercise discretionary authority to select applications out of rank order in each Initiative or Component have been revised as well: (a) the funding diversity provision has been eliminated; and (b) the geographic diversity provision, if applied, will be used to ensure that, to the extent possible, awards from each Initiative or Component will be distributed across more states. Changes also have been made in how the applications are rated. For example, up to five points will be awarded to applications where the applicant and proposed activities are located in areas not served by a State or local agency that participates in the Fair Housing Assistance Program (FHAP). In addition, under PEI and FHOI, points will be deducted if organizations that have received FHIP funding to conduct enforcement-related activities have not complied with the program requirements regarding mandatory referrals and reimbursement of the federal government for compensation resulting from FHIP-funded enforcement activity.

Other Changes. There is no Application Kit; however, a hard copy of the Housing Counseling and this Program NOFA and necessary forms will be available from the SuperNOFA Information Center at www.HUD.gov/grants. We believe the NOFA more clearly describes the requirements for completing a successful application; all of the forms and certifications needed to complete your application are included in the General and FHIP Sections of the SuperNOFA. [Additional clarification is provided in Appendix A, Most Frequently Asked Questions]

Bonus Points: The SuperNOFA provides for the award of up to two bonus points for eligible activities/projects that the applicant proposes be located in federally designated Empowerment Zones (EZs), Enterprise Communities (ECs), Urban Enhancement Enterprise Communities (EECs), or Strategic Planning Communities and serve the residents of these federally designated areas, and are certified to be consistent with the strategic plan of these federally designated references. (For ease of reference in the SuperNOFA, these federally designated areas are collectively referred to as “EZ/ECs” and residents of these federally designated areas as EZ/EC residents). This NOFA contains a certification which must be completed for the applicant to be considered for EZ/EC bonus points. A list of EZs, ECs, EECs and Strategic Planning Communities is available from the SuperNOFA Information Center, through the HUD web site at http://www.hud.gov/grants, and is included in the Appendix to the General Section of the SuperNOFA.

Court Ordered Consideration. For any application submitted by the City of Dallas, Texas, for funds under this SuperNOFA for which the City of Dallas is eligible to apply, HUD will consider the extent to which the strategies or plans in the city's application or applications will be used to eradicate the vestiges of racial segregation in the Dallas Housing Authority's low income housing programs. The City of Dallas should address the effect, if any, that vestiges of racial segregation in the Dallas Housing Authority's low income housing programs have on potential participants in the programs covered by this NOFA, and identify proposed actions for remedying those vestiges. HUD may add up to 2 points to the score based on this consideration. This special consideration results from an order to the U.S. District Court for the Northern District of Texas, Dallas, Division. (This Section is limited to applications submitted by the City of Dallas).

Program Description. The Fair Housing Initiatives Program (FHIP) assists fair housing activities that increase compliance with the Fair Housing Act (the Act) and with the substantially equivalent fair housing laws administered by state and local government agencies (FHAP agencies). All activities funded under this NOFA must support the Department's goal to increase its enforcement actions. Applications selected for funding under EOI will support this goal by developing a complaint referral process that should result in referrals to HUD of credible, legitimate fair housing claims and other information regarding discriminatory housing practices. Applications selected for funding under PEI and FHOI must support this goal by complying with the Mandatory Referral requirement described in Section IV.

Activities that are not eligible for funding. You are reminded to read carefully the eligibility requirements for each Initiative and Component. Although all applications selected for funding under this NOFA must contribute to HUD's enforcement goal, enforcement-related activities are not eligible for funding under EOI and there is a limit on the amount of education-related activities that can be funded in an enforcement grant (PEI or FHOI). No awardee may use FHIP funds to settle a claim, satisfy a judgment, or fulfill a court order in any defensive litigation.

Underserved Populations. Immigrant populations (especially racial and ethnic minorities who are not English-speaking) are increasingly responsible for new household formations in the United States, and they often face formidable barriers because of discriminatory housing practices. Congress has recognized that where we live, perhaps more than any other factor, shapes our life prospects and who we become as individuals. It is especially important that fair housing services be directed to these immigrant populations and to the specific types of discrimination they may encounter. All applicants are encouraged to address the fair housing needs of these populations as follows:

EOI and PEI. In a tie-breaking situation, applications that list a specific example or examples of the outreach that will be conducted to advise immigrant and other underserved populations, as defined in Section IV, below, of the services offered by the project will be ranked higher than applications that do not. It is not sufficient to merely assert you will conduct outreach to these populations.

FHOI. HUD has determined that rural areas and areas with immigrant populations (especially racial and ethnic minorities who are not English speaking) are underserved. HUD has targeted for funding priority those projects which serve rural and immigrant populations that contain large concentrations of persons protected under the Act where either no public or private fair housing enforcement organization exists or the jurisdiction is not sufficiently served by one or more public or private fair housing enforcement organizations. HUD expects to select one application that covers a rural area (see definition in Section IV (17) below) and one in an area with large concentrations of individuals who fall within one or more categories protected under the Act who are immigrants (especially racial and ethnic minorities who are not English speaking).

(A) Private Enforcement Initiative (PEI). This Initiative assists private, tax-exempt fair housing enforcement organizations in the investigation and enforcement of alleged violations of the Fair Housing Act and substantially equivalent State and local fair housing laws. As a condition of funding, you will be required to refer to HUD all cases arising from FHIP-funded enforcement activities (see Mandatory Referrals, Section IV below).

(1) Eligible Applicants. Eligible applicants are fair housing enforcement organizations (FHOs) with at least one year of experience in complaint intake, complaint investigation, testing for fair housing violations, and meritorious claims in the two years prior to the filing of this application (see, 24 CFR 125.401(b)(2) and qualified fair housing enforcement organizations (QFHOs) with at least two years of enforcement-related experience, as noted above, within the three years prior to filing this application, see 24 CFR 125.103. You must certify, in the Statement of Eligibility that you submit with this application, that your organization is an FHO or a QFHO and document in the Statement of Eligibility that your organization has the required one or two years of enforcement-related experience. If you fail to submit the completed Statement of Eligibility, your application will be declared ineligible. You are required also to submit with your application a copy of your Letter of Determination from the Internal Revenue Service (IRS) in support of your 501(c)(3) tax-exempt status. However, failure to provide this document with your application is a technical deficiency and you will have 14 days to provide the requested information (see Section V of the General Section of the SuperNOFA). If you do not provide the requested tax-exempt documentation within the prescribed timeframe, your application will be declared ineligible. You are not eligible if you are currently receiving PEI General Component funding awarded to you under a previous NOFA, and, your grant agreement expires after June 30, 2002.

Eligibility of Successor Organization. HUD recognizes that QFHOs and FHOs may merge with each other or other organizations. The merger of a QFHO or an FHO with a new organization, that has a separate Employer Identification Number (EIN), does not confer QFHO or FHO status upon the successor. To determine whether the successor organization meets the eligibility requirements for this Initiative, HUD will look at the enforcement-related experience of the successor organization (based upon the successor organization's EIN). The successor organization is not eligible to apply under this Initiative unless it establishes in the Statement of Eligibility that it is a private, tax-exempt organization with the requisite two years for a QFHO or one year experience for an FHO.

(2) Eligible Activities include:

(a) Complaint intake of allegations of housing discrimination, testing, evaluating testing results, or providing other investigative and complaint support for administrative and judicial enforcement of fair housing laws;

(b) Investigations of individual complaints and systemic housing discrimination for further enforcement processing by HUD, through testing and other investigative methods;

(c) Mediation or other voluntary resolution of allegations of fair housing discrimination after a complaint has been filed; and

(d) Costs and expenses of litigating fair housing cases, including expert witness fees.

(B) Education and Outreach Initiative (EOI). This Initiative assists projects that inform and educate the public about the rights and obligations under the Act and substantially equivalent State and local fair housing laws. Under this Initiative, you must develop a complaint referral process so that activities funded under this Initiative will result in referrals to HUD of credible, legitimate fair housing claims and other information regarding possible discriminatory housing practices. HUD is not soliciting EOI National Program applications under this program NOFA. Applications are solicited for the EOI-Regional/Local/Community-Based Program only—where activities are conducted on a regional/local/community-based level. You may submit your application as a General Component or a Disability Component, depending upon its focus. These Components are explained below.

(1) Eligible Applicants. Eligible applicants are QFHOs; FHOs (under this Initiative an FHO need not have engaged in enforcement-related activity for at least one year, see 24 CFR 125.103); public or private, for-profit or not-for-profit organizations or institutions and other public or private entities that are formulating or carrying out programs to prevent or eliminate discriminatory housing practices (this category includes entities that will be established as a result of receiving an award under this FHIP NOFA); State or local governments or their agencies; and agencies that participate in the Fair Housing Assistance Program (see the list of FHAP agencies at Appendix C). If you are a disability advocacy group or traditional civil rights organization, you are encouraged to apply under this Initiative.

(2) Eligible Activities. The following are eligible activities for either Component: conducting educational symposia; distributing existing fair housing materials throughout your project area; providing outreach and information on fair housing through printed and electronic media; and providing outreach to persons with disabilities and/or their support organizations and service housing providers, and the general public regarding the rights of persons with disabilities under the Act. When conducting your outreach activities, we encourage the use of existing, locally or nationally available fair housing materials; except that you may modify those existing materials in languages other than English or Braille.

Disability Component. Applications that have a special focus on the fair housing needs of persons with disabilities, so that persons with disabilities, housing providers and the general public better understand the rights and obligations under the Act and more fully appreciate the forms of housing discrimination that persons with disabilities may encounter, should submit their applications to the an EOI-Disability Component. Although the Component has a disability focus, the funded activities must provide education and outreach to all persons protected under the Act.

General Component. Applications for all other fair housing education and outreach activities should be submitted to the EOI-General Component.

(C) Fair Housing Organizations Initiative (FHOI). This Initiative provides assistance to projects that build the capacity of organizations to become viable fair housing enforcement organizations that conduct fair housing enforcement activities in underserved areas (as defined in Section IV) with large concentrations of persons protected by the Act. This is accomplished with the assistance of a sponsoring organization. It is the sponsoring organization that submits the application under this Initiative. The sponsored organization whose enforcement capacity is enhanced by funding under this Initiative, will be allowed to participate in this Initiative for three years contingent upon annual performance reviews. Funds are allocated under this NOFA for three years, and may be distributed to the sponsored organization by the sponsoring organization. The sponsoring organization may receive administrative cost as described below. HUD has targeted for funding under this Initiative, projects that will provide fair housing enforcement services to rural areas or to areas with large concentrations of individuals who fall within one or more categories protected under the Act who are immigrants (especially racial and ethnic minorities who are not English speaking).

(1) Eligible Applicants. Only the sponsoring organization is eligible to apply under this Initiative. The sponsoring organization must be a qualified fair housing enforcement organization (QFHO) with at least two years of experience in complaint intake, complaint investigation, testing for fair housing violations, and meritorious claims in the three years prior to the filing of this application, as defined at 24 CFR 125.103. You must certify in the Statement of Eligibility that you submit with this application that your organization is a QFHO. If you fail to submit the completed Statement of Eligibility, your application will be declared ineligible. You are also required to submit a copy of your IRS tax-exempt status with your application. However, failure to provide this document with your application is a technical deficiency, and you will have 14 days to provide the requested information (see Section V of the General Section of the SuperNOFA). If you do not provide the requested tax-exempt documentation within the prescribed timeframe, your application will be declared ineligible.

Eligibility of Successor Organization. HUD recognizes that a QFHO may merge with one or more organizations. The merger of a QFHO into a new organization, that has a separate Employer Identification Number (EIN), does not confer QFHO status upon the successor organization. To determine whether the successor organization meets the eligibility requirements for this Initiative, HUD will consider the enforcement-related experience of the successor organization (based upon the successor organization's EIN). The successor organization is not eligible to apply under this Initiative unless it can establish that it is a private, tax-exempt organization with the requisite two years experience of a QFHO.

(2) Eligible Activities. The proposed activities must build the enforcement capacity of the sponsored organization so that it can undertake all of the following activities by the conclusion of year three of the grant cycle:

(a) Complaint intake of allegations of housing discrimination, testing, evaluating testing results or providing other investigative and complaint support for administrative and judicial enforcement of fair housing laws;

(b) Investigations of individual complaints and systemic housing discrimination for further enforcement processing by HUD, through testing and other investigative methods;

(c) Mediation or other voluntary resolution of allegations of fair housing discrimination after a complaint has been filed; and

(D) Costs and expenses of litigating fair housing cases, including expert witness fees.

(3) Administrative Costs for the Sponsoring Organization. The sponsoring organization may use no more than 15 percent of the annually awarded funds to cover its costs to administer the grant.

IV. Program Requirements

(A) Requirements For All Initiatives. In addition to the Civil Rights Threshold requirements in Section II(B) of the General Section of this SuperNOFA, you must also meet the following requirements:

(1) All FHIP-funded projects must address housing discrimination based upon race, color, religion, sex, disability, familial status, or national origin.

(2) Performance Measures and Products. Your application must demonstrate how your project activities will support HUD goals, identify performance measures/outcomes in support of those goals, and identify current (baseline) conditions and target levels of the performance measures that you plan to achieve. Your application also must contain a strategy for generating project products, with related timelines and milestones. If selected for funding, your final performance measures and products will be negotiated between you and HUD as part of your executed grant agreement.

(3) Reports and Meetings on Performance Measures and Products. You are required to report quarterly on the status of project products against your approved milestones and timelines and meet at least semi-annually with HUD to ensure that project activities satisfy grant requirements. In your final grant report, you must describe the status of performance measures in a spreadsheet format or other manner specified by the Department.

(4) Single Award Limitation/Preference Must Be Stated. You may submit applications under all Initiatives and Components but you will receive only one grant with the exception that successful FHOI applicants may receive a grant award under one of the other Initiatives. If you submit more than one application for funding, you must clearly state your preference in two places in each application you submit: (i) The Transmittal Letter and (ii) the Cover Page. If you are selected for funding in more than one Initiative or Component, the Selecting Official may honor your preference if it is in the best interests of the Program. Failure to submit your preference at the time of application will be treated as a technical deficiency, which may be corrected as noted in Section V of the General Section of this SuperNOFA.

(5) Independence of Awards. HUD will review each application separately and without reference to other applications submitted by you or others. Although there is no limit on the number of applications that you may submit, applications must be independent and capable of being implemented without reliance on the selection of other applications submitted by you or other applicants.

(6) Project Starting Period. For planning purposes, assume a start date no later than September 30, 2001.

(7) Page Limitation and Formatting Requirements. The narrative response for each of the five Factors for Award is limited to ten pages per factor (this page limit does not include attachments or documents, which also should be numbered, that are required under each factor). Narrative pages exceeding the ten-page limit, including unrequested items, such as brochures and news articles, will not be considered. The text must be double-spaced, and pages must be numbered consecutively (from the beginning of the Factor 1 narrative to the end of the Factor 5 narrative). Please use Courier 12 as the typeface or font for your narrative responses. You should respond fully to each factor. Failure to provide narrative responses to all factors and omitting requested information will result in full points not being allocated under the Factors for Award, which may significantly affect your overall score.

(8) Training Funds. All projects, except for FHOI, are 12-month projects. Your proposed budget must set-aside funds to participate in HUD-sponsored or approved training ($3,000 for EOI and PEI; and $6,000 annually for FHOI). Requests to attend HUD-approved training must be submitted to the Governmental Technical Representative (GTR) for approval in advance of the requested training.

(9) Payment Contingent on Completion. Payments are contingent on the satisfactory completion of your project activities and products as reflected in your grant or cooperative agreement.

(10) Accessibility Requirements. All activities and materials funded by this Program must be accessible to persons with disabilities (24 CFR 8.4, 8.6, and 8.54).

(11) Copyright Materials. You may copyright any work that is eligible for copyright protection; however, HUD reserves the right to reproduce, publish, or otherwise use your work for Federal purposes, and to authorize others to do so as outlined in 24 CFR 84.36.

(12) Complaints Against Grantees. Complaints from the public against FHIP grantees should be forwarded to the Fair Housing and Equal Opportunity (FHEO) Hub Director in the region where the project is located (see Appendix C for list of FHEO Hub Directors). If, after notice and consideration of relevant information, HUD concludes that there has been inappropriate conduct, such as a violation of FHIP program requirements, grant, or cooperative agreement terms or conditions or any other applicable statute, regulation or other requirement, HUD will take appropriate action in accordance with 24 CFR 84.62. Such action may include: written reprimand; consideration of past performance in ranking future FHIP applications; reimbursement to HUD of the funds received under the grant; or temporary or permanent denial of participation in the FHIP in accordance with 24 CFR part 24.

(13) Avoiding Double Payments. If you are awarded funds under this SuperNOFA, you (and any subcontractor or consultant) may not charge or claim credit for the activities performed under this project to any other Federal project.

(14) Ineligible Applications. Your application will be declared ineligible for any of the following reasons:

(a) General Section Requirements and Procedures. If you do not meet the Civil Rights Threshold Requirements set forth in Section II (B) of the General Section of this SuperNOFA.

(b) Debarment and Suspension. If you are presently debarred, suspended, proposed for debarment, declared ineligible, or voluntarily excluded from covered transactions by any Federal debarment or agency.

(c) Award Caps. If you request funding in excess of the maximum allowed under the Initiative or Component for which you are applying. Any amount over the award cap, even if less than one dollar, will be considered excessive. In addition, inconsistencies in the amount requested and/or miscalculations that result in amounts over the award caps will be considered excessive.

(d) Research Activities. If your project is aimed solely and primarily at research, including but not limited to surveys or questionnaires.

(e) Statement of Eligibility. Your application will be declared ineligible if you fail to submit the completed Statement of Eligibility with your application.

(f) Ineligible PEI and FHOI Applicants. (i) If you are not a private, tax-exempt organization. You must submit a copy of the Letter of Determination from the Internal Revenue Service declaring your 501(c)(3) tax-exempt status as a tax-exempt organization, with your application. This documentation should be readable and included as an attachment to your Statement of Eligibility. Failure to submit this documentation with your application will be treated as a technical deficiency, which may be corrected as noted in Section V of the General Section of this SuperNOFA. (ii) If you do not conduct a broad-based and full-service enforcement project that addresses discrimination against all persons protected by the Fair Housing Act on the basis of race, color, religion, sex, disability, familial status, or national origin. (iii) If you are currently receiving PEI General Component funding awarded to you under a previous NOFA, and, your grant agreement expires after June 30, 2002.

(15) Ineligible Activities.

(a) Fair Housing and Free Speech. None of the amounts made available under this NOFA may be used to investigate or prosecute under the Act any activity engaged in by one or more persons, including the filing or maintaining of a non-frivolous legal action, that is protected by the First Amendment to the U.S. Constitution. This includes activities engaged in for the purpose of achieving or preventing action by a government official or entity.

(b) Suits against the United States. No recipient of assistance under this Program may use any funds provided by HUD for the payment of expenses in connection with litigation against the United States (24 CFR 125.104(f)).

(c) Other Litigation. No recipient of assistance under this Program may use any funds provided by HUD to settle a claim, satisfy a judgment, or fulfill a court order in any defensive litigation.

(16) Key Personnel. If your organization is selected for award, you must certify to HUD whether any key personnel have been convicted of a felony or crime involving fraud or perjury. In advising HUD, you must describe the type of conviction, the date entered and the penalty received and submit a copy of the report from the police or court documenting the conviction. Depending upon the facts, HUD may place special conditions upon the grant.

(17) Definitions. The definitions that apply to this FHIP section of the SuperNOFA are as follows:

Broad-based proposals are not limited to a single fair housing issue; instead, they cover multiple issues related to housing discrimination covered under the Act, such as: rental, sales and financing of housing. (See also Full Service Projects below).

Disability advocacy groups mean organizations that traditionally have provided for the civil rights of persons with disabilities. This would include organizations such as Independent Living Centers, and cross-disability legal services groups. Organizations must be experienced in providing services to persons with a broad range of disabilities, including physical, cognitive, and psychiatric/mental disabilities. Organizations must demonstrate actual involvement of persons with disabilities throughout their activities, including on staff and board levels.

Enforcement actions include investigations and charges issued under the Act, settlements with relief equivalent to, or greater than, what HUD would seek had a charge been issued; settlements with relief for a broad class of victims; referrals to the Department of Justice (DOJ), where it has legal authority to take further action: zoning and land use cases [42 U.S.C. 3614(b)]; pattern and practice cases (42 U.S.C. 3614(a)); requests for prompt judicial action; [42 U.S.C. 3610(e)]; and allegations of criminal violations of the Act (42 U.S.C. 3631).

Enforcement proposals are potential complaints under the Act that are timely, jurisdictional, and well-developed, that could reasonably be expected to become enforcement actions if an impartial investigation finds evidence supporting the allegations and the cases proceeded to a resolution with HUD involvement.

Fair Housing Assistance Program (FHAP) Agencies mean State and local government agencies that administer laws substantially equivalent to the Act, as described in 24 CFR part 115.

Fair Housing Enforcement Organization (FHO) means an organization engaged in fair housing activities as defined in 24 CFR 125.103.

Full-service projects must include the following enforcement-related activities in your project application: interviewing potential victims of discrimination; analyzing housing-related issues; taking in complaints; testing; evaluating testing results; conducting preliminary investigations; conducting mediation; enforcing meritorious claims through litigation or referral to administrative enforcement agencies; and disseminating information about fair housing laws.

Meritorious claims mean enforcement activities by an organization as defined in 24 CFR 125.103.

Operating budget means your organization's total planned budget expenditures from all sources, including the value of in-kind and monetary contributions, in the period for which funding is requested.

Qualified Fair Housing Enforcement Organization (QFHO) means an organization engaged in fair housing activities as defined in 24 CFR 125.103.

Regional/Local/Community-Based Activities are defined at 24 CFR 125.301(a) & (d).

Rural Areas, according to the Rural Housing and Economic Development Program of Community Planning and Development (CPD), may be defined in one of five ways:

(i) A place having fewer than 2,500 inhabitants (within or outside of metropolitan areas).

(ii) A county with no urban population (i.e., city) or 20,000 inhabitants or more; territory, persons and housing units in the rural portions of “extended cities.”

(iii) The rural portions of extended cities in the United States as identified by the U.S. Census Bureau.

(iv) Open country which is not part of or associated with an urban area. The United States Department of Agriculture (USDA) describes open country as a site separated by open space from any adjacent densely populated urban area. Open space includes undeveloped land, agricultural land, or sparsely settled areas, but does not include physical barriers (such as rivers or canals) public parks, commercial and industrial developments, small areas reserved for recreational purposes, and open space set aside for future development.

(v) Any place with a population not in excess of 20,000 and that is not located in a Metropolitan Statistical Area.”

Traditional Civil Rights Organizations mean non-profit organizations or institutions and/or private entities with a history and primary mission of securing Federal civil rights protection for groups and individuals protected under the Act or substantially equivalent State or local laws and that are engaged in programs to prevent or eliminate discriminatory housing practices.

Underserved Areas mean jurisdictions that contain large concentrations of persons protected under the Act and where either no public or private fair housing enforcement organizations exist or the jurisdiction is not sufficiently served by one or more public or private enforcement fair housing organizations.

Underserved Populations mean individuals who fall within one or more of the categories protected under the Act and who are also: (1) Of an immigrant population (especially racial and ethnic minorities who are not English-speaking), (2) in rural populations, (3) among the homeless, and (4) among persons with disabilities who can be historically documented to have been subject to discriminatory practices not having been the focus of Federal, State or local fair housing enforcement efforts.

(B) Additional Requirements For Private Enforcement Initiative (PEI) and Fair Housing Organizations Initiative (FHOI).

(1) Mandatory Referrals. You must refer to HUD all cases arising from FHIP-funded enforcement activities. In all FHIP-funded cases where you find a basis for filing a complaint on behalf of a bona fide complainant other than your organization, you must file the complaint with HUD unless the complainant refuses, in writing, to do so. In addition to filing with HUD, a bona fide complainant may file in Federal or State Court.

(2) Outreach Expenses. The funds awarded for enforcement grants may be used for outreach and education activities (outreach activities) in order to promote awareness of your project's services, as follows: under FHOI, you may designate up to 10 percent of the requested funds for outreach activities; under PEI, you may designate up to 5 percent of the requested funds for outreach activities.

(3) Tester Requirements. Testers in your FHIP-funded testing activities must not have prior felony convictions or convictions of crimes involving fraud or perjury. All testers must receive training acceptable to HUD or be experienced in testing procedures and techniques. Testers and the organizations conducting tests, and the employees and agents of these organizations may not:

(a) Have an economic interest in the outcome of the test; however, testers retain their right to recover damages as provided by law;

(b) Be a relative related by adoption, blood, or marriage of any party in a case;

(c) Have had any employment or other affiliation, within the past year, with the person or organization to be tested; or

(d) Be a licensed competitor of the person or organization to be tested in the listing, rental, sale, or financing of real estate.

(4) Review and Approval of Testing Methodology. If your Statement of Work (SOW) proposes testing, other than rental testing, prior to your carrying out the testing activities, HUD reserves the right to require, as a product under the SOW, copies of the following documents to be reviewed and approved by HUD prior to your carrying out the testing activities:

(a) The testing methodology to be used, and

(b) The training materials to be provided to testers.

The testing methodology and training materials that you submit to HUD for review and approval are for enforcement purposes and will remain confidential.

(5) Conflict of Interest and Use of Settlement Funds Certifications.

(a) You must certify that you will not solicit funds from or seek to provide fair housing educational or other services or products for compensation either directly or indirectly to any person or organization that has been the subject of FHIP-funded testing by your organization during the 12 month period following the test. This does not preclude providing training or technical assistance that is court ordered or contained in a negotiated settlement. HUD reserves the right to negotiate with awardees additional provisions addressing potential conflicts of interest.

(b) You must reimburse the United States for FHIP-funded activities whenever you receive funds as the result of enforcement activities funded in whole or in part by the FHIP program, including testing. You must provide information about reimbursements and/or potential reimbursements in a report that you submit to HUD (see Reports below). To accomplish this, you must reimburse the United States for the FHIP-funded activities in accordance with procedures set forth in your grant or cooperative agreement. This reimbursement requirement does not apply to compensation received as a result of a judgment in State or Federal court. For example:

FHIP grant $15,000 ($10,000 which is for testing: 20 tests @ $500 each). One test results in a $15,000 conciliation. Additional expenses paid from non-FHIP funds: $100.
Amount of reimbursement to United States: | $400.00
= $500 (Amt. of FHIP funds to conciliate) |
−$100 (Deduct non-FHIP funds used) |
Subtotal $400 |

(6) Reports. You must provide reports in a format (which may be computer-generated), at a frequency and with contents specified by HUD. At a minimum, the report must include the number and basis of claims/complaints filed with HUD, a FHAP agency, or in Federal/State court and the number and terms of settlements or other outcomes achieved. In the event HUD does not prescribe a format or frequency, you will provide a narrative report within 90 days after all grant activities have ended. You do not have to produce the terms of settlements that a court or other tribunal orders be kept confidential. You will also be required to provide status reports on case referrals you have made to HUD or a FHAP agency. These reports are for enforcement purposes and will remain confidential.

(7) Enforcement Log. You are required to record information about the funded project in a case tracking log (or Fair Housing Enforcement Log) in a format prescribed by HUD. Such information must include: the number of complaints of possible discrimination you have received; the protected basis of these complaints; the issue, test type, and number of tests utilized in the investigation of each allegation; the respondent type and testing results; the time for case processing, including administrative or judicial proceedings; the cost of testing activities and case processing; the entity to which the case was referred; and the resolution and type of relief sought and received. You must agree to make this log available to HUD. This log will be considered confidential for enforcement purposes.

(C) Additional Requirements For Education and Outreach Initiative. Complaint Referral Process: You must develop a process for referring complaints to HUD. HUD expects this complaint referral process will result in an increased number of referrals to HUD of credible, legitimate fair housing claims and other information regarding discriminatory practices.

(D) Additional Requirements For Fair Housing Organizations Initiative. Sponsored organization's viability and fair housing enforcement capacity. Over the duration of the grant, the sponsored organization must demonstrate its capacity to become a viable, fair housing enforcement organization that conducts fair housing-related enforcement activities and leverages non-FHIP resources. These are the performance measures that, if not met, may result in termination of the grant, and your description for achieving these measures will be considered when evaluating your application. We will look for this description in your response to Rating Factor 3: Soundness of Approach. Specifically:

(a) Fair Housing-related enforcement activities. The sponsored organization must conduct all of these enforcement-related activities by the conclusion of year 3 of the grant: complaint intake, complaint investigation, testing for fair housing violations, and meritorious claims. Your application must identify which activities the sponsored organization will conduct at the end of the grant year 1, 2 and 3. Your performance measures will be based upon this description, and failure to meet them may result in termination of the grant.

(b) Organizational resources. The sponsored organization must not rely exclusively on FHIP funding. At the conclusion of each grant year, the sponsored organization must show increasing support from sources other than what is awarded under this program. Specifically, at the conclusion of year 1, no less than 5% of the funds supporting the sponsored organization's fair housing enforcement-related activities must be funded from non-FHIP funds; at the conclusion of year 2, no less than 10% of the funds supporting the sponsored organization's fair housing enforcement-related activities must be from non-FHIP funds; and at the conclusion of year 3, no less than 20% of the funds supporting the sponsored organization's fair housing enforcement-related activities must be from non-FHIP funds. Your application must state how you will meet these requirements. Your performance measures will be based upon these requirements, and failure to meet them may result in termination of the grant.

V. Application Selection Process

(A) Rating and Ranking. Your application for funding will be evaluated competitively against all other applications submitted under one of the following Initiatives or Components:

(1) Private Enforcement Initiative (PEI)

(2) Education and Outreach Initiative (EOI)-Regional/Local/Community-Based Program:

a. General Component (EOI-GC)

b. Disability Component (EOI-DC)

(3) Fair Housing Organizations Initiative (FHOI)

All eligible applications will be reviewed and points awarded based upon: (1) your narrative responses to the Factors for Award and (2) bonus points, if entitled. The maximum number of points to be awarded for the Factors for Award is 100. This SuperNOFA provides for the award of up to two bonus points for eligible activities/projects located in EZ/EC areas, if applicable. In addition, for applications submitted by the City of Dallas, Texas, HUD may add up to 2 more points to the score based on a special consideration from a court order as described in Section III of the General Section of this SuperNOFA). Applications with a score of seventy (70) points (bonus points are included in this score) or more will be considered of sufficient quality for funding. The Selecting Official will not select for award any application with a score below seventy (70) points. Generally, applications of sufficient quality for funding will be selected in rank order under each Initiative or Component. HUD reserves the right to select applicants out of rank order to achieve greater geographic distribution of awards under each Initiative or Component, as described in Section V (C) below. Selections under each Initiative or Component will continue to be made until either all allocated funds have been obligated or until no applications of sufficient quality remain.

(B) Tie Breaking. PEI and EOI-General Component. When two or more applications have the same score, HUD will rank as higher the application that lists one or more examples of the outreach it will engage in to advise immigrant (especially racial and ethnic minorities who are not English-speaking) and other underserved populations, as defined in Section IV of this NOFA, of the services offered by the project. If applying this procedure does not break the tie, the application with the higher score under Rating Factor 3: Soundness of Approach will be ranked higher. If Rating Factor 3 does not break the tie, the application with the higher score under Rating Factor 1: Capacity of the Applicant and Relevant Organizational Experience will be ranked higher. If Rating Factor 1 does not break the tie, the application requesting the lower FHIP funding will be ranked higher.

FHOI. When two or more applications have the same overall score, the application with the higher score under Rating Factor 3: Soundness of Approach will be ranked higher. If this does not break the tie, the application with the higher score under Rating Factor 1: Capacity of the Applicant and Relevant Organizational Experience will be ranked higher. If this does not break the tie, the application requesting the lower FHIP funding will be ranked higher.

(C) Achieving Geographic Diversity of Awards. HUD reserves the right to select applications out of rank order to ensure that, to the extent possible, applications from more states for each Initiative or Component are selected for funding. If the Selecting Official exercises this discretion, it shall be applied to all qualified applications (applications of sufficient quality for funding “ applications that received a score of 70 or more points) in each Initiative or Component in which the Selecting Official applies geographic diversity. The geographic diversity provision will be applied as follows: when there are two or more applications of sufficient quality from the same state, the application(s) with the lower score(s) will be moved to the end of the qualified applicant queue. The applications moved to the end of the qualified applicant queue will retain their rank order.

(D) Factors for Award Used to Evaluate and Rate All Applications. The factors for rating and ranking applications and the maximum points for each factor are provided below. Failure to provide the required information under the appropriate Factor will result in a lower score for that Factor—for example, information in the Project Abstract, although useful for developing a project synopsis, is not considered in the evaluation of applications.

Please respond fully to each Factor for Award and, when directed, identify other sources in support of your response. The Factors for Award are set out as follows:

In general. This section applies to all applicants. Your responses to this and the In Addition section below must not exceed 10 pages per factor.

In addition. This section identifies issues to which you must respond, if required, by the particular Initiative or Component for which you are applying.

Attachments. Where certain forms or documents are required for the Initiative or Component under which you are applying, these attachments, will not be counted toward the 10-page limit on narrative responses for each factor.

Rating Factor 1: Capacity of Applicant and Relevant Organizational Experience (20 Points)

You must describe staff expertise and your organization's ability to complete the proposed activities within the grant period. You must also provide performance assessments conducted by your funding sources, including HUD, that have been done of your organization's performance of these activities. This performance assessment must be signed by or attached to a transmittal signed by the authorized representative of the funding source(s).

In General. HUD recognizes that, in carrying out the proposed activities, you may have persons already on staff, plan to hire additional staff, or rely on subcontractors or consultants to perform specific tasks.

(a) (10 Points) Number and expertise of staff (this includes subcontractors and consultants). You must show that you have sufficient, qualified staff who will be available to complete the proposed activities. Provide the following information for all staff assigned to or hired for this project, not just key personnel (those persons identified in attachments to Rating Factor 3: Soundness of Approach):

(i) Identify, by name and/or title, all persons that will be assigned to the project. You must describe the knowledge and experience of the proposed overall project director and day-to-day program manager in planning and managing large and complex interdisciplinary programs. Indicate the percentage of time that key personnel will devote to your project. To receive maximum points, your day-to-day program manager must devote a minimum of 75% of his/her time to the project. You may demonstrate capacity by thoroughly describing your prior experience in fair housing. You should indicate how this prior experience will be used in carrying out your proposed activities. Your application must clearly identify those persons that are on staff at the time this application is filed, and those persons who will be assigned at a later date; describe each person's duties and responsibilities and their expertise (including years of experience) to perform project tasks; indicate whether the staff person is assigned to work full-time or part-time (if part-time, indicate the percentage of time each person is assigned to the project).

(ii) Attach resumes for all key personnel.

(iii) Describe the qualifications to be considered in the selection of staff who will be assigned or hired at a later date, when you expect they will begin working on the project (for example, 30 days from the execution of the grant or cooperative agreement), and how project activities will be carried out until then.

(iv) Describe the racial/ethnic diversity of project staff and the applicant's governing board. If there is no diversity, please explain.

(b) (5 Points) Organizational experience. In responding to this subfactor, you must show that your organization has either: (i) conducted a past project or past projects identical or similar in scope and complexity to the project proposed in this application (whether FHIP-funded or not), or (ii) engaged in activities that, although not identical or similar, are readily transferable to the proposed project. Experience will be judged in terms of recent, relevant and successful experience of your staff to undertake eligible activities. In rating this factor, HUD will consider experience within the last 5 years to be recent, experience pertaining to the specific activities to be relevant, and experience producing specific accomplishments to be successful. The more recent the experience and the more experience your own staff members who work on the project have in successfully conducting and completing similar activities, the greater the number of points you will receive for this rating factor. If the applicant organization has not engaged in projects similar to the scope and activities proposed in the application, two (2) points will be deducted.

In addition. If you are applying for funding under PEI or FHOI, provide the following information when responding to this subfactor:

(i) Respond completely to all questions in the Statement of Eligibility. For PEI, you must clearly state whether you are a QFHO or an FHO. The requested information must establish that your organization has engaged in each of the enforcement-related activities, for at least one year (if you are an FHO) or two years (if you are a QFHO). For FHOI, you must be a QFHO.

(ii) Describe the procedure you will use to ensure that testers comply with the requirements in Section IV (B) (4) of this program NOFA.

(iii) If you propose to conduct testing other than rental or accessibility testing, document that, at a minimum, you have conducted successful rental or accessibility testing. Provide a general description of when and where the tests occurred, the entities tested, and the overall results of the tests, including complaints filed and the settlements or remedies secured.

FHOI. Provide a statement of organizational capacity and experience of the sponsored organization.

In general.

(c) (5 Points) Performance on past project(s). You must describe your organization's past performance record in the projects you cite in the preceding sub-factor in support of your capacity and expertise to perform the project for which you are seeking funding under this NOFA. Include a description of the purpose of the past project and what was accomplished. Attach a copy of the funding entity's performance assessment/review of this project, whether FHIP-funded or not. If the past project was HUD-funded, include a copy of the most recent SF 269A, Financial Status Report.

—Indicate if complaints were filed with HUD or a FHAP agency, the number of complaints that were filed [unless you received a prior PEI or FHOI FHIP award (see (a)(i) below), this number will not be considered when evaluating this response] and provide a status report on the cases filed.

In addition.

(a) If you have received an FHOI or a PEI award under the FY 1998, 1999 or 2000 FHIP NOFA, you must:

(i) discuss your compliance with the mandatory referral requirement of all cases arising from FHIP-funded activities requirement, as described in those NOFAs. Three (3) points will be deducted for this subfactor if you have not complied with the requirement.

(ii) discuss your compliance with the requirement to reimburse the Federal government for compensation received from FHIP-funded enforcement activities. If you have not reimbursed the Federal government for such compensation, explain why you have not. Also, state whether you reported to HUD any likely compensation that may result in such reimbursement. One (1) point will be deducted for this sub-factor if you have not complied with the requirement.

Attachments. All applicants must submit: Statement of Eligibility; resumes of all key personnel; for those who have received funding for other projects, a copy of the most recent performance assessment from the funding source, if it was a HUD funded project, the most recent SF 269. In addition, FHOI, and PEI applicants must submit the Internal Revenue Service's, Letter of Determination declaring your 501(c)(3) status as a tax exempt organization.

Rating Factor 2: Need/Distress/Extent of the Problem (20 Points)

(a) (15 Points) Documentation of Need. You must describe the fair housing need, its urgency and how your project is responsive to that need. To justify the need for your project, you must describe the following:

(1) The fair housing need, including:

(a) Geographic area to be served;

(b) Populations protected by the Act that will be served—your project must serve all persons protected by the Act; and

(c) The presence of housing discrimination, segregation and/or other indices of discrimination in the project area based upon race, color, religion, sex, national origin, familial status, or disability and submit data and studies that support this indication.

(2) The urgency of the identified need. For example:

(a) The consequences to persons protected by the Act if your application is not selected for funding;

(b) Whether other fair housing public or private agencies or organizations provide the services identified in your application;

(3) Other sources that support the need and urgency for this project. For example, use reports, statistics, and other data sources that are sound and reliable, including but not limited to, HUD or other Federal, state or local government reports analyses, relevant economic and/or demographic data, including those that show segregation, foundation reports and studies, news articles, and other information that relate to the identified need. Chapter V of the Fair Housing Planning Guide, Vol. 1 has other suggestions for supporting documentation. You may access the Guide from the HUD web at “www.hud.gov.” If the proposed activity is not covered under the scope of the Consolidated Plan and Analysis of Impediments to Fair Housing Choice (AI), you should so indicate, and use other sound data sources to identify the level of need and the urgency in meeting the need. If your application addresses needs that are identified in the AI, you will receive more points than applicants that do not relate their program to the identified needs. For you to receive maximum points for this factor, there must be a direct relationship between your proposed activities, community needs, and the purpose of the program funding.

To the extent possible, the data you use should be specific to the area where the proposed activity will be carried out. You should document needs as they apply to the area where activities will be targeted, rather than the entire locality or state. If the data presented does not specifically represent your target area, you should discuss why the target areas were proposed.

(4) The link between the need and your proposed activities:

(a) how the proposed activities augment or improve upon on-going efforts by public and private agencies, organizations and institutions in the target area, and/or why, in light of other on-going efforts, the additional funding you are requesting is necessary.

In addition, with respect to (a) Documentation of Need, the following apply to specific FHIP Initiatives or Components:

EOI-Disability Component. Your project must serve all persons protected by the Act. However, your project may, in addition, focus on the need to inform persons with disabilities, housing providers and the public about the rights and obligations under the Act so that these persons more fully appreciate the forms of housing discrimination that those with disabilities may encounter.

PEI and EOI-General Component. If you intend to conduct outreach and inform immigrant (especially racial and ethnic minorities who are not English-speaking) and other underserved populations of the services being offered by the project, please identify the underserved population and list one or more examples of the outreach you will conduct.

FHOI. HUD has targeted for funding under this Initiative, projects that will provide fair housing enforcement services to rural areas or to areas with large concentrations of individuals who fall within one or more categories protected under the Act who are immigrants (especially racial and ethnic minorities who are not English-speaking). Although HUD has targeted these areas, you are still required to justify the need for the sponsored organization by: (i) Demonstrating the presence of housing discrimination, segregation and/or other indices of discrimination in the project area based upon race, color, religion, sex, national origin, familial status, or disability and submit data and studies that support your claim; and (ii) explain why the project area is underserved and why the proposed sponsored organization is needed.

(b) (5 Points) Underserved Areas. Up to five points will be awarded when the applicant and project area are not served by a State or local FHAP agency. In instances where the applicant is located in an area not served by a FHAP agency but the project activities are conducted in various geographic areas, some that are not served by a State or local FHAP agency, points will be awarded as follows:

5 points will be awarded if more than 80% of the activities are conducted in areas not served by a State or local FHAP agency.

4 points will be awarded if more than 60% but less than 80% of the activities are conducted in areas not served by a State or local FHAP agency.

3 points will be awarded if more than 40% but less than 60% of the activities are conducted in areas not served by a State or local FHAP agency.

2 points will be awarded if more than 20% but less than 40% of the activities are conducted in areas not served by a State or local FHAP agency.

1 point will be awarded if less than 20% of the activities are conducted in areas not served by a State or local FHAP agency.

You must indicate whether (a) you are located in an area that is served by a State or local FHAP agency (see Appendix C for a list of FHAP agencies); (b) the activities you propose will be conducted in a project areas served by a State or local FHAP agency; and (c) explain why the project area is underserved and/or why the proposed organization or activity is needed.

Attachments. None required.

Rating Factor 3: Soundness of Approach (40 Points)

You must describe your project in detail, demonstrate how your project activities will support HUD goals, propose suggested performance measures/outcomes in support of these goals, and identify current baseline conditions and target levels of the performance measures that you plan to achieve. Also attach a Statement of Work (SOW) and budget. Your proposed activities must support HUD's goal to substantially increase the number of enforcement actions.

(5 Points) Describe Project. Describe in broad terms the design and objectives of your project and your plan for accomplishing those objectives. Please discuss the following:

(i) Project purpose.

(ii) Persons to be served.

(iii) Geographic area to be served.

(iv) Proposed activities and who will conduct these activities, you or a subcontractor(s) or consultant(s).

(v) The methodology you will use to carryout these activities and tasks.

Information Requirements. Your application must include a description of the enforcement proposals to be referred to HUD to increase enforcement actions. Your description must explain the information you intend to collect and analyze, the type of complaints you anticipate referring to HUD for enforcement purposes, and describe the procedure you will implement for referring such complaints. If you propose a testing program, you must explain how you plan to structure the tests, train investigators, conduct investigations, etc. This description should make clear the safeguards to be used to ensure that complaints referred to HUD for enforcement action are fully jurisdictional under the Act and supported by credible and legitimate evidence that the Act has been violated. Describe the procedures you will put in place to ensure that referrals of all complaints are sent to HUD. Failure to provide this description will result in reduced points for this subfactor.

In addition. If you apply under the:

EOI. Enforcement-related activities are not eligible for funding. Describe how activities or final products can be used by other organizations and agencies.

PEI/FHOI. You may conduct limited outreach activities (5% for PEI and 10% for FHOI), as described in Section IV (B) (2). This must be reflected clearly in your SOW and Budget. In general.

(b) (5 Points) Describe Budget and Financial Controls. HUD will also assess the soundness of your approach by evaluating the quality, thoroughness, and reasonableness of the budget and financial controls of your organization, including information on your proposed program cost categories. As part of your response, you must prepare a budget that: (1) Is reasonable and cost-effective in achieving the goals identified in your proposed SOW; (2) relates tasks in the SOW to the proposed budget costs; (3) is cost-effective in achieving its anticipated results, as well as in achieving significant impact on fair housing; and (4) documents and justifies all cost categories in accordance with the cost categories indicated in the Budget Narrative Workplan that is discussed in more detail in (a) through (k) below:

Management of project over grant period.

Cost Effectiveness of Program. Discuss and provide supportive facts concerning the extent to which your proposed program is cost effective in achieving the anticipated results of the proposed activities. Also, indicate how the proposed project will achieve a significant impact on the community.

Financial Management Capacity. Identify and provide documentation to support your organization's financial management system. In addition, provide documentation about your capabilities in handling financial resources and maintenance of an adequate accounting and internal control procedures.

FHOI. Provide a statement of transfer of programmatic and management responsibilities from the sponsoring to sponsored organization by the end of grant year 3.

(c) (5 Points) Describe Support of HUD Goals.In addition. If you are applying under the:

EOI. Describe the elements of the complaint referral process you will develop as a task under this grant. Explain how the process will result in an increased number of referrals to HUD of credible, legitimate fair housing claims and other information regarding discriminatory practices.

FHOI. Over the course of the grant, the sponsored organization must conduct fair housing-related enforcement activities and leverage non-FHIP resources. These are the performance measures that, if not met, may result in termination of the grant, and your description for achieving these measures will be considered when evaluating your application. Specify:

1. Fair Housing related enforcement activity. The sponsored organization must conduct all of these enforcement related activities by the conclusion of year 3 of the grant: complaint intake, complaint investigation, testing for fair housing violations, and meritorious claims. Your application must identify which activities the sponsored organization will conduct at the end of the grant year 1, 2 and 3. Your performance measures will be based upon this description, and failure to meet them may result in termination of the grant.

2. Organizational resources. The sponsored organization must not rely exclusively on FHIP funding. Your application must show that at the conclusion of each grant year, the sponsored organization is leveraging non-FHIP resources. Specifically, at the conclusion of year 1, no less than 5% of the funds supporting the sponsored organization's fair housing enforcement-related activities must be from non-FHIP funds; year 2, no less than 10% of the funds supporting the sponsored organization's fair housing enforcement related activities must be from non-FHIP funds.

PEI/FHOI. Describe a procedure to ensure that referrals of all complaints are made as required by this NOFA. Your description should include safeguards to ensure that referred complaints are fully jurisdictional under the Act and supported by credible and legitimate evidence that the Act has been violated.

(d) (5 Points) Proposed Performance Measures and Products. Identify and discuss the specific methods and measures you will use (in addition to HUD reporting requirements) to measure progress, evaluate program effectiveness, and identify program changes necessary to improve performance. Describe how you will obtain, document and report the information. The more descriptive and illustrative your plan is for documenting and providing this information, the greater the number of points you will receive. You should: identify current (baseline) conditions and set appropriate target levels and milestones with timelines for such performance measures and proposed products. FHIP funded projects must address housing discrimination based upon race, color, religion, sex, disability, familial status, or national origin.

Attachments.

(e) (10 Points) Proposed Statement of Work (SOW), and Financial Management and Audits Information. The Statement of Work and budget are attachments that will not count toward the 10-page limit on the narrative response to this factor. However, points will be assigned based on the quality and accuracy of the SOW and budget.

Statement of Work—Submit a proposed SOW that comprehensively outlines in chronological order the administrative and program activities and tasks to be performed during the grant period. Your outline should identify all activities and tasks to be performed and by whom (i.e., you or a sub-contractor), and the products that will be provided to HUD and when. The tasks identified in the SOW should be related to the proposed budget costs reflected in the budget.

(f) (10 Points) The Budget Form and the Budget Information—Non-Construction Programs SF-424A, must show the total cost of the project and indicate other sources of funds that will be used for the project. While the costs are based only on estimates, the budget narrative work plan must include information such as quotes obtained from various vendors, or you may rely on historical data. Applicants must round all budget items to the nearest dollar.

A written budget narrative must accompany the proposed budget. It must explain and attach back-up documentation for each cost category. Generally, estimated costs for high-cost items or subcontractors/consultants should be supported by bids from at least three (3) sources. Where there are travel costs for subcontractors/consultants, you must show that local subcontractors/consultants are not available and that the combined travel costs (per diem rates should be consistent with Federal Travel Regulations) and rates and fees of the out-of-town subcontractors/consultants do not exceed the rates and fees charged by local subcontractors and consultants.

(a) Direct Labor—by position or individual, specify the estimated hours per position, the rate per hour, estimated cost per staff position and the total estimated direct labor costs;

(b) Fringe Benefits—by staff position, identify the rate, the salary base on which the rate was computed, estimate the cost per position, and the total estimated fringe benefits cost;

(c) Material Costs—indicate the item, unit costs per item, the number of items to be purchased, estimated cost per item, and the total estimated material costs;

(d) Transportation Costs—where use of a local private vehicle is proposed, costs must indicate the proposed number of miles (travel costs should be consistent with Federal Travel Regulations), rate per mile of travel identified by item, and estimated total private vehicle costs. Where air transportation is proposed, costs should identify the destination(s), number of trips per destination, estimated air fare and total estimated air transportation costs. If other transportation costs are listed, you should identify the other method of transportation selected, the number of trips to be made and destinations, the estimated costs, and the total estimated costs for any other transportation costs.

(e) Per diem—you must identify per diem or subsistence costs per travel day, the number of travel days, and the estimated costs for per diem/subsistence which should total estimated transportation costs. You must use the Federal Travel Regulation for per diem rate for cities listed under “Transportation Costs” in your costs estimates.

(f) Equipment charges—must identify the type of equipment, quantity, unit costs and total estimated equipment costs;

(g) Consultant Costs—indicate the type, estimated number of consultant days, rate per day, total estimated consultant costs per consultant and total estimated costs for all consultants;

(h) Subcontract Costs—identify each proposed subcontract and amount (each proposed subcontract must include a separate budget that identifies proposed costs by cost categories). [In addition, your project budget should include any costs related to subcontract(s) with the FHAP agencies and disability advocacy and/or traditional civil rights organizations that account for activities related to the subcontractor's role in the project.] Your application must include a separate detailed budget for each subcontract.

(i) Other Direct Costs—listed by item, quantity, unit costs, total for each item listed, and total direct costs for the award; and

(j) Indirect Costs—should identify your approved indirect cost rate base to which the rate applies and total indirect costs. If you do not have an accepted, Federally negotiated indirect cost rate, you may use direct cost for all of your program costs. Alternately, you may develop a proposed indirect cost rate in accordance with Office of Management and Budget (OMB) Circular A-122, Cost Principles and Procedures for Non-Profit Organizations, and provide supportive documentation on this calculation.

(k) Audit Information—You must submit a certification from an Independent Public Accountant or your cognizant government auditor, stating that the financial management system you employ meets prescribed standards for fund control and accountability required by: OMB Circular A-133, Audits of States, Local Governments and Non-Profit Organizations; OMB Circular A-110 (as codified at 24 CFR part 84), Uniform Administrative Requirements for Grants and Agreements With Institutions of Higher Education, Hospitals, and other Non-Profit Organizations; and/or OMB Circular A-102 (as codified at 24 CFR part 85) Uniform Administrative Requirements for Grants and Cooperative Agreements to State, Local and Federally-Recognized Indian Tribal Governments. This information must contain the name and telephone number of the Independent Auditor, cognizant Federal auditor, or other audit agency, as applicable.

Include All Tasks Shown On This Form

Statement of Work For _____

The applicant, _____, agrees to undertake the following activities in accordance with its FY 2001 application for funding under the _____ Initiative_____Component (if applicable) for a_-month project commencing_____, 2001 in the geographic area of _____. For FHOI, provide a timetable for transfer of activities/responsibilities from the sponsoring to the sponsored organization.

—

—

—

—

—

Administrative Activities
Activities | Tasks | Submitted by | Submitted to
1. |  |  | GTR/GTM
2. |  |  | GTR/GTM
3. |  |  | GTR/GTM
4. |  |  | GTR/GTM
5. |  |  | GTR/GTM
6. Complete HUD-2880 Disclosure Statements | Submit Disclosure Statement. If no changes occur, submit statement of no change with final report | When changes occur | GTR/GTM
7. Complete SF-269A Financial Status Report and Written Quarterly Status Reports on All Activities | Submit SF-269A and Copy of Written Report | Quarterly | GTR/GTM
8. Voucher for Payment | Submit payment request to LOCCS | Per Payment Schedule | GTR/GTM
9. Complete Listing of Current or Pending Grants/Contracts/Other Financial Agreeemnts | Submit Listing for Recipient and any contractors | 45 Days and At end of Grant | GTR/GTM
10. Prepare summary of First Year (24 month grants) | Submit summary of first year accomplishments | 395 days | GTR/GTM
11. Prepare and Submit Draft of Final Report | Submit Draft of Report. Report Summary should include objectives, accomplishments and results. Complaint and testing activities should summarize data on complaints received and tests conducted by basis and issue and outcomes including Number of credible, legitimate Complaints Filed with HUD, State or local Fair Housing Agency, Department of Justice or Private Litigator; and Types of Relief/Results. | One month before end of grant term. | GTR/GTM
12. Complete Final Report and Provide Copies of All Final Products Not Previously Submitted | Submit a copy of the Final Report and All Final Products not previously submitted to GTR and GTM. | Within 90 days after end of grant term. | GTR/GTM
13. Submit 2 copies of Final Report and all Final Program Products produced under the Grant (with diskette, where feasible) to HUD. | Activities and database entry sheet(s) to HUD. Copy of HUD database entry sheet(s) or detailed description of items submitted to GTR and GTM | Within 90 days after end of grant term. | GTR/GTM

Key Personnel
Title Name
Activities | Tasks | Submitted by | Submitted to
1. Contact HUD and/or other information sources to obtain any appropriate materials prior to development of new materials | List of materials requested | 90 days | GTR/GTM. Submit one copy of all final products to HUD
2. Review/refine referral process to refer potential victims to HUD, DOJ, a state or local agency, or a private attorney | Copy of Referral Process. All audit-based enforcement actions should be referred to HUD | 45 days | GTR/GTM
3. Intake and process complaints, including testing and referral. Complete Enforcement Log which details complaints received; dates; the protected basis of these complaints; the issue, test type, and number of tests utilized in the investigation of each allegation; the respondent type and testing results; the time for case processing, including administrative or judicial proceedings; the cost of testing activities and case processing; to whom the case was referred; and resolution/type of relief sought and received. (PEI and FHOI PROJECTS ONLY) | Submit copy of Enforcement Log and a Report on number of enforcement proposals referred to HUD | Quarterly | GTR/GTM
4. Non-rental Testing methodology and tester training must be received/approved by HUD | Submit testing methodology and tester training to HUD for review and approval | 60 days | GTR/GTM
|  |  | GTR/GTM
|  |  | GTR/GTM
|  |  | GTR/GTM
|  |  | GTR/GTM
|  |  | GTR/GTM
|  |  | GTR/GTM
|  |  | GTR/GTM
|  |  | GTR/GTM
|  |  | GTR/GTM
|  |  | GTR/GTM
|  |  | GTR/GTM
|  |  | GTR/GTM

If you have a Federally negotiated indirect rate, you should use that rate as the appropriate base in this section. In all other instances, you should include your current overhead rate, if any, which has been tailored to your organization's operating budget. The rate and base used here is illustrative only.

Budget Narrative Workplan Format
Name of Organization: XXXXXXXXXX Budget Period: XXXX months
Position or individual | Estimated hours | Rate per hour | Estimated cost | Federal cost | In-kind cost
|  | $ | $ | $ | $
|  | $ | $ | $ | $
|  | $ | $ | $ | $
|  | $ | $ | $ | $
Total direct labor | $ |  |  | $ | $
Fringe benefits | Rate | Base | Estimated cost | Federal cost | In-kind cost
F.I.C.A. |  | $ | $ | $ | $
Unemployment Insurance ¹ |  | $ | $ | $ | $
Health Insurance ² |  | $ | $ | $ | $
Workers Compensation ¹ |  | $ | $ | $ | $
Total fringe benefits | $ |  |  | $ | $
Materials | Quality | Unit cost | Estimated cost | Federal cost | In-kind cost
|  | $ | $ | $ | $
|  | $ | $ | $ | $
|  | $ | $ | $ | $
|  | $ | $ | $ | $
Total materials | $ |  |  | $* | $
Local travel | Mileage/fare | Rate/mile | Estimated cost | Federal cost | In-kind cost
|  | $ | $ | $ | $
|  | $ | $ | $ | $
Subtotal local travel | $ |  |  | $ | $
* Materials/Equipment prices must be supported by vouchers/cash register receipts of same or similar item or lease quotes from vendor at time of budget negotiation.
¹ Rates may vary by State.
² Rates may vary by organization.

Air travel destination | Number of travelers | Roundtrip fare | Estimated cost | Federal cost | In-kind cost
| $ | $ | $ | $ | $
Subtotal air travel | $ |  |  | $ | $
Other travel items | Quantity | Unit cost | Estimated cost | Federal cost | In-kind cost
|  | $ | $ | $ | $
|  | $ | $ | $ | $
Subtotal other travel | $ |  |  | $ | $
Per diem subsistence | Number of travelers | Number of days/rate per day | Estimated cost | Federal cost | In-kind cost
|  | $ | $ | $ | $
Per diem subsistence | $ |  |  | $ | $
Total travel | $ |  |  | $* | $
Equipment | Quantity | Unit cost | Estimated cost | Federal cost | In-kind cost
|  | $ | $ | $ | $
|  | $ | $ | $ | $
|  | $ | $ | $ | $
Total equipment costs | $ |  |  | $** | $
Consultants | Days | Rate per day | Estimated cost | Federal cost | In-kind cost
|  | $ | $ | $ | $
|  | $ | $ | $ | $
|  | $ | $ | $ | $
|  | $ | $ | $ | $
|  | $ | $ | $ | $
Total consultants | $ |  |  | $*** | $
* All travel must be grant related and rates cannot exceed the Federal rate.
** Lease/purchase of equipment must be supported by three quotes at time of budget negotiation.
*** Daily rate cannot exceed $406 per day unless waiver is obtained from Grant Officer.

Subcontracts | Rate/service | Quantity | Estimated cost | Federal cost | In-kind cost
|  |  | $ | $ | $
Total subcontracts | $ |  |  | $* | $
Other direct | Quantity | Unit cost | Estimated cost | Federal cost | In-kind cost
|  | $ | $ | $ | $
|  | $ | $ | $ | $
|  | $ | $ | $ | $
|  | $ | $ | $ | $
Total other direct | $ |  |  | $ | $
Indirect | Rate | Base | Estimated cost | Federal cost | In-kind cost
| ** |  | $ | $ | $
Total indirect | $ |  |  | $ | $
| Total estimated cost |  |  | Total federal cost | Total in-kind cost
Total costs | $ |  |  | $ | $
Amount to enter on Form 424 funding matrix | $ |  |  | $ | $
* When individual subcontract fees exceed 10% of your grant amount, an itemized budget is required.
** If you have a Federally negotiated indirect rate, you should use that rate as the appropriate base in this section. In all other instances, you should include your current overhead rate, if any, which has been tailored to your organization's operating budget. The rate and base used here is illustrative only.

Rating Factor 4: Leveraging Resources (10 Points)

This factor addresses your ability to secure additional community resources to support your project. Points will be awarded on the basis of the percentage of non-FHIP resources you have identified and how firm the commitment is for those resources.

(10 Points) Firm Commitment of Leveraging. HUD encourages you to secure resources from sources other than what is requested from this program. Community resources may include funding or in-kind contributions, such as work space or services or equipment, allocated to the purpose(s) of your proposal. Resources may be provided by governmental entities (including other HUD programs), public or private non-profit organizations, for-profit private organizations, or other entities willing to work with you. In order to secure points you must establish leveraging of community resources by providing letters of firm commitment from the organizations and/or individuals who will support your project. Each letter of firm commitment must: (i) Identify the organization and/or individual committing resources to the project, (ii) identify the sources and amounts of the leveraged resources (the total FHIP and non-FHIP amounts must match those in your proposed budget submitted under Factor 3), and (iii) describe how these resources will be used as part of your SOW. The letter must be signed by the individual or organization official legally able to make commitments for the organization. If the resources are in-kind or donated goods, the commitment letter must indicate the dollar value of those resources. No points will be awarded for general letters of support endorsing the project from organizations and/or individuals (including elected officials) in your community. The commitment is firm if the offerer conditions it on the making of an award under this program NOFA.

If your project will not be supported by non-FHIP resources, then you will not receive any points under this factor. Points will be assigned based on the following scale:

Two points will be awarded if your project will be supported by non-FHIP funds, but those funds are less than 5% of the project's total costs are from non-FHIP funds.

Four points will be awarded if more than 5%, but less than 10% of the project's total costs are from non-FHIP funds.

Six points will be awarded if more than 10% but less than 20% of the project's total costs are from non-FHIP funds.

Eight points will be awarded if more than 20% but less than 30% of the project's total costs are from non-FHIP funds.

Ten points will be awarded if more than 30% of the project's total costs are from non-FHIP funds.

Rating Factor 5: Comprehensiveness and Coordination (10 Points)

This factor addresses the extent to which you coordinate your activities with other organizations in the project area, participate or promote participation in the project area's Consolidated Planning process (including Analysis of Impediments to Fair Housing Choice), and create linkages with other activities in the community. In other words, to what extent are you working with others to address community needs in your project area. In evaluating this factor, HUD will consider the extent to which you demonstrate:

(a) (5 points) How your proposed activities are linked to and coordinated with activities of other organizations in the target community. This includes a discussion of how FHIP-funded activities will augment and improve on-going efforts by public and private agencies, organizations, and institutions in the target area. Describe in your proposal how your project activities will be coordinated with organizations in your project area, and linked with:

(i) Other proposed or on-going HUD-funded program activities;

(ii) Other proposed or on-going State, Federal, local or privately-funded activities which, taken as a whole, support and sustain a comprehensive system to address the purpose of these programs; and

(iii) Other activities undertaken to address barriers to housing choice identified in the Consolidated Plan's Analysis of Impediments to Fair Housing Choice.

In addition, describe how you will participate in, and/or promote participation in the project area's Consolidated Planning process.

(b) (5 points) Outreach activities to promote awareness of project activities. This includes (i) a discussion of how your methods or approaches will ensure that project activities and materials are made available to local groups and organizations, (ii) identification of such groups and organizations in your project area, and (iii) an explanation of how your project will promote coordination with various groups or organizations in your project area. At a minimum, your application should discuss procedures you will use to promote awareness of the services provided by your proposal.

(F) Applicant Notification and Award Procedures.

(1) Notification. No information will be available to you during the period of HUD evaluation, which begins on the closing date of this program NOFA and lasts approximately 90 days thereafter, except to advise you, in writing or by telephone, if HUD determines that your application is ineligible or has technical deficiencies which may be corrected as described in Section V of the General Section of the SuperNOFA. Selections will be announced by HUD when the evaluation and selection process is completed. HUD will also advise applicants who were not selected of the scores they received. HUD will not release the names of applicants or their scores to third parties. Selections do not become final until final negotiations with HUD are successfully concluded.

(2) Negotiations. If you are selected, HUD will require you to participate in negotiations to determine the specific terms of your cooperative or grant agreement. HUD will follow the negotiation procedures described at Section III of the General Section of the SuperNOFA. The selection is conditional and does not become final until the negotiations between the applicant and the Department are successfully concluded and the grant or cooperative agreement is executed. HUD will negotiate only with the person identified in the application as the Director of the organization or if specifically identified in the application, the Project Director. HUD will not negotiate with any third party (i.e, a subcontractor, etc.)

(3) Funding Instrument. HUD expects to award a cost reimbursable or fixed-price cooperative or grant agreement to each applicant selected for award. Upon completion of negotiations, HUD reserves the right to use the funding instrument it determines is most appropriate.

(4) Adjustments to Grant Amounts. As provided in Section III of the General Section of the SuperNOFA, HUD may approve an application for an amount lower than the amount requested, fund only portions of your application, withhold funds after approval, and/or require that special conditions be added to your grant agreement, in accordance with 24 CFR 84.14, the requirements of this SuperNOFA, or where:

(a) HUD determines the amount requested for one or more eligible activities is unreasonable or unnecessary;

(b) An ineligible activity is proposed in an otherwise eligible project;

(c) Insufficient amounts remain to fund the full amount requested in the application, and HUD determines that partial funding is a viable option;

(d) The past record of key personnel warrants special conditions, or

(e) The Selecting Official determines it is in the best interests of the Program.

(5) Performance Sanctions. A grantee or subcontractor failing to comply with the procedures set forth in its grant agreement will be liable for such sanctions as may be authorized by law, including repayment of improperly used funds, termination of further participation in the FHIP, and denial of further participation in programs of HUD or any Federal agency.

VI. Application Submission Requirements

In addition to the forms, certifications and assurances required of applicants to all HUD programs, which can be found at Section II of the General Section of the SuperNOFA, you must submit with each FHIP application, the forms, certifications and assurances described below and found at Appendix B.

In general.

When applying under any Initiative or Component you must submit the following:

(A) Transmittal Letter. Your transmittal letter must identify: (1) The dollar amount requested, (2) the specific FHIP Initiative, or in the case of EOI, the specific Component (General or Disability), for which you are applying, and (3) your preference for selection, if you are applying to more than one Initiative or Component.

(B) Narrative Statement. Respond completely to each of the five Factors for Award. Failure to provide the required information in the appropriate Factor will result in a lower score for that Factor—for example, information in the Project Abstract, although useful for developing a project synopsis, will not be considered when evaluating applications. The narrative responses must not exceed 10 pages per factor (required attachments are not counted); text must be double-spaced and pages numbered consecutively (starting with Factor 1 through the end of Factor 5). Please use Courier 12 as the typeface or font for your narrative responses.

Listed below are requirements by Factor:

Award Factor 1: Capacity of Applicant and Relevant Organizational Experience—Statement of Eligibility; Performance Assessments/Evaluation of Past Projects, and if HUD funded, the SF 269a, PEI and FHOI Applicants:

(1) Testing Experience. You must document your prior testing experience (see Factor 1: Capacity of the Applicant and Relevant Organizational Experience), and

(2) Letter of Determination from IRS of your 501(c)(3) tax-exempt status.

Award Factor 2: Need/Distress/Extent of the Problem.

Submit data and studies that indicate the presence of housing discrimination, segregation and/or other indices of discrimination in the project area based upon race, color, religion, sex, national origin, familial status or disability, and explain why the project area is underserved and why the proposed organization is needed.

Award Factor 3: Soundness of Approach—Statement of Work, Budget Form(s), Budget Narrative. You must submit a certification from an Independent Public Accountant or your cognizant government auditor on your financial management and audit information. In addition, you must describe the information you intend to collect and analyze, the type of complaints you anticipate referring to HUD for enforcement purposes, and describe the procedure you will implement for referring such complaints.

In addition:

Depending upon the Initiative or Component for which you are seeking funding, you must respond to the following points in your narrative responses:

(C) EOI Applicants:

(1) You must describe the elements you will use to develop the process for referring fair housing complaints to HUD.

(D) FHOI Applicants

(1) The sponsored organization must conduct all of these enforcement-related activities by the conclusion of year 3 of the grant: complaint intake, complaint investigation, testing for fair housing violations, and meritorious claims. The application must specify which activities will be conducted in year 1, year 2, and year 3. Even though HUD has targeted for award projects that assist rural and immigrant populations, you must explain why the proposed fair housing enforcement organization is needed.

(2) Performance Measures. You must address the following:

(a) The sponsored organization's capacity to become a viable, fair housing enforcement organization that conducts fair housing related enforcement activities and leverages non-FHIP resources.

(b) That the sponsored organization will meet the required performance measures for sponsored organizations and how these measures will be achieved.

Award Factor 4: Leveraging Resources—Letter(s) of Firm Commitment.

Award Factor 5: Comprehensiveness and Coordination—No Attachments Required.

VII. Corrections to Deficient Applications

Section V of the General Section of the SuperNOFA provides the procedures for corrections to deficient applications.

VIII. Environmental Requirements

In accordance with 24 CFR 50.19(b)(3), (4), (9), (12), and (13) of HUD regulations, activities assisted under this program are categorically excluded from the requirements of the National Environmental Policy Act and are not subject to environmental review under related laws and authorities.

IX. Authority

Section 561 of the Housing and Community Development Act of 1987, as amended, (42 U.S.C. 3616) established the Fair Housing Initiatives Program (FHIP)) and the implementing regulations are found at 24 CFR part 125.

Appendix A—Frequently Asked Questions

Q. In previous years, FHIP applicants were not required to submit the Certification of Consistency with the Consolidated Plan, is the Certification required this year?

A. Yes.

Q. Where can I find a copy of the Application Kit?

A. There will be no Application Kit for the FY2001 FHIP SuperNOFA. The NOFA more clearly describes the requirements for completing a successful application and all forms and certifications needed to complete the application are included in the General and FHIP Sections of the SuperNOFA.

Q. What are the maximum number of narrative pages that can be submitted for each Rating Factor?

A. The maximum number is 10 pages per factor. This does not include any attachments that may be required under each factor (for example, the proposed statement of work and budget required under Factor 3: Soundness of Approach). The narrative pages must be double spaced and you are encouraged to use Courier 12 font or typeface.

Q. The FHIP SuperNOFA refers to QFHOs and FHOs. What is the difference between them?

A. These terms are defined in the FHIP regulations. Both organizations must be organized as private, tax-exempt, charitable organizations, that have engaged in enforcement-related activities. The amount of enforcement-related experience is an eligibiliity requirement for PEI, least one year for and FHOI, at least two years. (See 24 CFR 125.103, for a QFHO; and 24 CFR 125.401(b)(2) for an FHO.)

Applicants to PEI and FHOI are required to complete the Statement of Eligibility—where they self-identify as a QFHO or an FHO and provide information, including dates of your enforcement-related activities. The information you provide should enable HUD to determine if your organization meets at least one or two year enforcement-related experience requirement. Your application will be declared ineligible, if you fail to submit the completed Statement of Eligibility with your application.

Q. May an applicant subcontract out a percentage of its activities to subcontactors or consultants, if it is selected for an FHIP award?

A. Yes. However, when the fees to a particular subcontractor or consultant exceed 10% of the grant amount, an itemized budget is required.

Q. Is an organization “engaged in testing for fair housing violations” if it hires a subcontractor or consultant to conduct its testing program?

A. Yes, so long as the applicant analyzes the test results.

Q. Does the SuperNOFA identify what makes an application ineligible?

A. Yes. See the eligibility requirements for each Initiative and Section IV(B)(14) and (15) of the FHIP SuperNOFA.

Q. Are there major differences between this year's SuperNOFA and last year's?

A. Yes, those differences are explained in Section III of the FHIP NOFA. The differences are: (1) Fewer components; (2) Uniform Project Duration and Award Caps; (3) Redesign of FHOI; (4) Changes to Rating system; (5) Changes to Selection Process; (6) No Applicaiton Kit; and (7) No EOI-National Program NOFA.

Q. At what point may an FHOI “sponsored organization” apply under any FHIP Initiative?

A. A sponsored organization is eligible after three (3) years to apply for funds under EOI and, depending upon its record of conducting enforcement-related activities, may be eligible to apply for funds under PEI.

Q. What are award caps?

A. An award cap is the maximum amount that will be awarded under the Initiative for which you are applying. If you request an amount over this maximum amount, your application will be declared ineligible.

Q. Where do you send completed applications?

A. All completed applications must be received by the FHIP Office in Washington, DC. These applications should be mailed to the address stated in the SuperNOFA under the Section Address for Submitting Applications.

Q. What is the best method of knowing that the appropriate person has received my application? Should I follow up with a call?

A. Include with your completed application a complete copy of the Acknowledgment of Application Receipt. Be sure to include your correct mailing address and the person to whom the Acknowledgment should be sent. HUD will not acknowledge the receipt of applications over the telephone.

Q. What is the website address?

A. Http//www.hud.gov/grants.

Q. What is the due date?

A. The due date is outlined in the SuperNOFA under Section I, Application Due Date.

Q. If I have a technical question, can I call HUD?

A. Yes, technical questions should be directed to Myron P. Newry of the [FHIP/FHAP Support Division, at (202) 708-0800 (this is not a toll-free number).] Persons with hearing or speech impairments may call 1-800-290-1617 (this is a toll-free number).

Q. What is meant by geographic diversity?

A. In order to ensure a wider distribution of FHIP funding, the Assistant Secretary may apply the geographic diversity procedure to select qualified applicants out of rank order. It applies only when more than one qualified organization is in the same State, i.e., when more than one qualified organization is in the same State, the selecting official may select the highest ranked among them and the other(s) is moved to the bottom of the qualified applicant queue. If sufficient funds remain, it is possible that applications moved to the end of the queue may be selected for award.

Appendices B and C

Forms that must be filed with all FHIP applications, in addition to the forms found at Section III of the General Section of the SuperNOFA and the list of HUD offices and FHAP agencies are in Appendices B and C that follow:

BILLING CODE 4210-32-P

BILLING CODE 4210-32-C

FUNDING AVAILABILITY FOR THE HOUSING COUNSELING PROGRAM

Program Overview

Purpose of the Program. The purpose of this program is to provide comprehensive housing counseling through national, regional, multi-state housing counseling agencies, State housing finance agencies, and local HUD-approved housing counseling agencies. Counseling assists homebuyers, homeowners, and tenants to meet their housing needs and resolve their housing problems.

Available Funds. Approximately $17.55 million.

Eligible Applicants. (1) HUD-approved national, regional, or multi-state intermediaries; (2) HUD-approved local housing counseling agencies; and (3) State housing finance agencies.

Application Deadline. May 3, 2001.

Match. None.

Additional Information

If you are interested in applying for funding under this program, please review carefully the General Section of this SuperNOFA and the following additional information.

I. Application Due Date, Further Information, and Technical Assistance

Application Due Date. If you are a Local Housing Counseling Agency or a State Housing Finance Agency you must submit to the Homeownership Center designated below, and the HOC must receive, a completed application on or before 6:00 pm, local time, May 3, 2001.

If you are a National, Regional or Multi-State Housing Counseling Intermediary, you must submit a completed application on or before 12:00 midnight, Eastern time, on May 3, 2001, to the HUD Headquarters Office designated below.

See the General Section of this SuperNOFA for specific procedures governing the form of application submission (e.g., mailed applications, express mail, overnight delivery, or hand carried).

Addresses for Submitting Applications. If you are a Local Housing Counseling Agency or State Housing Finance Agency, your completed application consists of an original and two copies. Send your completed application to the respective HUD Homeownership Center (HOC) having jurisdiction over the locality, area or State in which your proposed program is located. Your application should be sent to the attention of the Program Support Division Director, and the envelope should be clearly marked “FY 2001 Housing Counseling Grant Application.” A list of the HUD Homeownership Centers, including their field office and State jurisdictions, and the Program Support Division Directors appears below.

Homeownership center | Field office | States
U.S. Department of HUD—Detroit Office
Mr. John Niebieszczanski, Patrick V. McNamara Building, SF Program Support Branch 4, 477 Michigan Ave. Rm. 1600, Detroit, MI 48226. For technical questions Contact: Robert Wright (215) 656-0527 x3406 | Albany, Baltimore, Bangor, Boston, Buffalo, Burlington, Camden, Charleston, Cincinnati, Cleveland, Columbus, Detroit, Flint, Grand Rapids, Hartford, Manchester, New York, Newark, Philadelphia, Pittsburgh, Providence, Richmond, Washington, DC, Wilmington | Connecticut, Delaware, District of Columbia, Maine, Maryland, Massachusetts, Michigan, New Hampshire, New Jersey, New York, Ohio, Pennsylvania, Rhode Island, Vermont, Virginia, West Virginia.
Atlanta Homeownership Center
Ms. Gayle Knowlson, 40 Marietta Street, 8th Floor, Atlanta, GA 30303-2806. Contact: Fellece Sawyer-Coleman (404) 331-5001, x2675 | Atlanta, Birmingham, Caribbean, Chicago and Springfield, Columbia, Coral Gables, Greensboro, Indianapolis, Jackson, Jacksonville, Knoxville, Louisville, Memphis, Nashville, Orlando, Tampa | Alabama, Puerto Rico, Florida, Georgia, Illinois, Indiana, Kentucky, Mississippi, North Carolina, South Carolina, Tennessee.
Denver Homeownership Center
Ms. Dawn Davis, Wells Fargo Building, 633 17th Street, Denver, CO 80202-3607. Contact: Irma Devich (303) 672-5216 x1980 | Albuquerque, Denver (Casper, Fargo, Sioux Falls), Dallas, Des Moines, Denver, Fort Worth, Helena, Houston, Kansas City, Little Rock, Lubbock, Milwaukee, Minneapolis, New Orleans, Oklahoma City, Omaha, Salt Lake City, San Antonio, Shreveport, St. Louis, Tulsa | Arkansas, Colorado, Iowa, Kansas, Louisiana, Minnesota, Missouri, Montana, Nebraska, New Mexico, North Dakota, Oklahoma, South Dakota, Texas, Utah, Wisconsin, Wyoming.
Santa Ana Homeownership Center
Mr. Jerrold Mayer, 1600 N. Broadway, Suite 100, Santa Ana, CA 92706-3927. Contact: Rhonda J. Rivera, Chief 1-888-827-5605 (714) 796-1200 x3210 | Anchorage, Boise, Fresno, Honolulu, Las Vegas, Los Angeles, Phoenix, Portland, Reno Sacramento, San Diego, San Francisco, Santa Ana, Seattle, Spokane, Tucson | Alaska, Arizona, California, Hawaii, Oregon, Idaho, Nevada, Washington.

If you are a National, Regional or Multi-State Housing Counseling Intermediary, your completed application also consists of an original and two copies. Submit your completed application to Director, Program Support Division, Office of Single Family Housing, HUD Headquarters, 451 Seventh Street, S.W., Washington, DC 20410, Room 9166. The envelope should be clearly marked, “FY 2001 Intermediary Application.:

Application Kits. Application kits will not be used this year.

For Further Information and Technical Assistance. If you are a local housing counseling agency or State housing finance agency, you may call the HUD Homeownership Center serving your area. If you are a national, regional, or multi-state intermediary, you may call HUD Headquarters, Program Support Division at (202) 708-0317 (this is not a toll-free number). Persons with hearing or speech impairments may access this number via TTY by calling the toll-free Federal Information Relay Service at 1-800-877-8339. Please see above for a list of offices and telephone numbers you can call to receive assistance. Before the application deadline, HUD staff will be available to provide general guidance.

Satellite Broadcast. HUD will hold an informational broadcast via satellite for potential applicants to learn more about the program and preparation of the application. For more information about the date and time of the broadcast, you should consult the HUD web site at http://www.hud.gov.

New data collection and performance measurement system. To improve HUD's ability to measure performance and target resources to the most effective housing counseling programs, HUD is undertaking an effort to modify both the Housing Counseling Handbook and the associated 9902 form, our primary data collection instrument. HUD plans to gather quantitative information (to supplement the qualitative and anecdotal information already collected) to measure the performance of each housing counseling program. To ensure that our modifications to the data collection instrument are most effective, however, we would like to hear from you, the potential grantees. If you would like to offer any suggestions or recommendations on how best to measure and assess the impact and outcomes of housing counseling services, please send your comments to Director, Program Support Division, Office of Single Family Housing, HUD Headquarters, Room 9166, 451 Seventh Street, SW, Washington, DC, 20410.

II. Amount Allocated

Under this SuperNOFA, approximately $17.55 million of the $20 million appropriated is made available for eligible applicants. An allocation of up to $1.8 million of the $20 million total in program funding has been set aside for Housing Counseling support which may include continuation of the Housing Counseling Clearinghouse, tuition assistance for housing counselors, and/or other HUD counseling initiatives and activities. An allocation of up to $500,000 of the $20 million appropriated is available for the Home Equity Conversion Mortgage (HECM) Program, as provided in section 255(k) of the National Housing Act (12 U.S.C. 1715z-20). An allocation up to $150,000 is available to assist HUD's Office of Public and Indian Housing with housing counseling support in the Native American Programs.

Local housing counseling agencies, State housing finance agencies, and national, regional and multi-state intermediaries may apply for and receive a grant only under one of the three categories described below. Affiliates and branches of State housing finance agencies or national, regional and multi-state intermediaries that are not HUD-approved can apply for a subgrant under either Category 2 or 3, but not both. (The term “affiliate” or “affiliates” includes the term “branch” or “branches” of the affiliate unless otherwise stated.) A HUD-approved local housing counseling agency applying as an affiliate for a subgrant under either Category 2 or 3 cannot apply directly to HUD for separate funding. Only one source of HUD funds is permissible under any of the three categories or within Category 2 or Category 3. For example, an organization affiliated with two or more intermediaries can only apply to one intermediary for a housing counseling subgrant. Another example is an organization affiliated with an intermediary and a State housing finance agency. This organization can apply to either the intermediary or the State housing finance agency for a housing counseling subgrant but not both.

In situations where an applicant submitted an application under two or more categories or submitted an application to two or more intermediaries within Categories 2 or 3, a decision must be made by the applicant to affirm one funding source. If two or more applications were submitted then the applicant must select one category or one intermediary within Categories 2 or 3, under which to apply and must withdraw all other applications. If two or more grants were awarded then one grant source must be selected and all others forfeited.

III. Applicant Categories

The amount of funds available for allocation are set forth below in three competing categories. Applicants must submit an application under the specific category for which they are eligible to apply for a grant.

(A) Category 1—Local Housing Counseling Agencies (LHCA). Approximately $6.6 million has been made available for grants to local HUD-approved housing counseling agencies. Funding is allocated to each HUD field office jurisdiction by a formula that reflects the increased emphasis on the expansion of homeownership opportunities for first-time homebuyers and HUD's intent to ensure appropriate geographical distribution of program funds. For FY 2001, no individual local housing counseling agency may be awarded more than $100,000.

A local HUD-approved housing counseling agency may apply for a grant to HUD, or a subgrant to a state housing finance agency, as an affiliate, or a subgrant to a national, regional, and multi-state intermediary as an affiliate. However, the local HUD-approved housing counseling agency can apply for only one grant or subgrant under any of the three categories or within Category 2 or 3.

There will be no suballocations for field office jurisdictions this year. Allocations for use in local agency programs by HUD Homeownership Centers are as follows:

Philadelphia HOC | 1,861,698
Atlanta HOC | 1,924,468
Denver HOC | 1,469,281
Santa Ana | 1,344,553

(B) Category 2—National, Regional, and Multi-State Intermediaries. Approximately $9.95 million is being set aside to fund HUD-approved national, regional and multi-state intermediaries that apply for funding under this SuperNOFA. Awards for HUD-approved housing counseling intermediaries may not exceed $1.2 million, except for regional intermediaries, whose awards may not exceed $250,000.

A national, regional or multi-state intermediary may provide a subgrant to an affiliate, but not to an affiliate that applies directly to HUD, a State housing finance agency, or another intermediary in Category 2.

(C) Category 3—State Housing Finance Agencies (SHFA). Approximately $1 million is being set aside to fund State housing finance agencies that have a role as a housing counseling agency and/or as an intermediary to affiliates, offering housing counseling services. (State housing finance agencies are defined in 24 CFR 266.5 under the definition of “housing finance agency”). The amount of funding available to each of the four HUD Homeownership Center jurisdictions is as follows:

Homeownership center | Funding allocation
Atlanta, GA | $254,285
Denver, CO | 254,285
Philadelphia, PA | 267,145
Santa Ana, CA | 224,285
Total | $1,000,000

There is no cap on the award amount that a State housing finance agency, or its affiliates, may receive, but HUD will take into consideration prior usage of grant funds as stated in Factor 1. A State housing finance agency may provide a subgrant to an affiliate, but not to an affiliate that applies to HUD or a national, regional, and multi-state intermediary or another State housing finance agency.

IV. Funding Policies

(A) Remaining and Deobligated Funds/Reallocations. If funds remain after HUD has funded all approvable grant applications in its Homeownership Center jurisdictions, or Headquarters, or if any funds become available due to deobligation or refusal to accept an award, that amount will be retained by HUD for future housing counseling use or HUD may use that amount (or any part thereof) by allocating it to another HUD office jurisdiction, and/or another allocation category.

(B) Funding Levels. The Factors for Award will be used to evaluate your application for funding. If you are a successful applicant, HUD may require that you participate in negotiations to determine the specific grant amount and the terms of the grant agreement. HUD will follow the negotiation procedures described in Section III(D) of the General Section of the SuperNOFA. Housing Counseling grants are fundable for a period of twelve (12) calendar months. This period may begin from the date that your award is executed by HUD, or may begin on a date that is not more than 90 days prior to the date that you are notified of your award, which beginning date shall be determined by HUD.

(C) Funding Methodology. As described below, in Section VII(B) of this program section of the SuperNOFA, the Factors for Award will be used to evaluate your application and a maximum of 100 points may be awarded for each application. Only applicants who receive at least 50 points out of the 100 will be considered eligible for funding. All eligible applicants will then be funded in proportion to the score they receive, or as negotiated.

This year's formula will work as follows: every agency that receives a score of 50 points will receive a base award of $2500, then will receive additional funds for every point above that 50 point cutoff. The total number of agencies with scores above 50 will be multiplied by $2500 and that amount will be subtracted from the total available to the HOC. Then, the remaining balance will be divided by the total number of points each agency scores that are above the 50 point cutoff. The division will result in a dollar value for each point. The number of points that each agency scores above the 50 point base will be multiplied by that dollar value. The result of that multiplication will be added to the $2500 base for the total award amount. For example, an agency with a score of 85 would receive $2500 plus the dollar value for each point times 35 (35 being the number of points above the 50 point cutoff). $66,128

(D) Award Instrument. All Housing Counseling Program awards shall be made on a cost reimbursement basis in accordance with the requirements in OMB Circular A-87, Cost Principles for State and Local Governments and Indian Tribal Governments; or OMB Circular A-122, Cost Principles for Non-Profit Organizations, as applicable to your organization; and the administrative requirements established in OMB Circular A-102, which was implemented by 24 CFR part 85 (Administrative Requirements for Grants and Cooperative Agreements to State and Local Governments and Indian Tribal Governments); OMB Circular A-110, which was implemented by 24 CFR part 84 (Grants and Agreements with Institutions of Higher Education, Hospitals and Other Non-Profit Organizations); and OMB Circular A-133 which was implemented by 24 CFR parts 84 and 85. If you receive an award you are also required to ensure that any sub-recipients also comply with the requirements in these circulars.

After selection, but prior to award of funds, you will be required to submit to ensure to HUD's satisfaction that your financial accounting system meets the federal requirements for fund control and accountability as required by these OMB Circulars. You must also submit documentation establishing your organization's indirect cost rate. Such documentation may consist of a certification from, or your most recent audit by, the cognizant Federal agency or an Independent Public Accountant. If your organization does not have an established indirect cost rate, you will be required to develop and submit an indirect cost proposal to HUD or the cognizant Federal Agency as applicable, for determination of an indirect cost rate which will govern your award. Funds will not be awarded until the determination of the Indirect cost rate.

Your submission should include the name and telephone number of the Independent Auditor or the cognizant Federal Auditor. HUD cannot award funds to an organization unless its financial management system meets Federal requirements for funds control and accountability.

V. Program Description; Eligible Applicants; Eligible Activities

(A) Program Description. HUD-approved housing counseling agencies provide counseling and advice to tenants and homeowners on property maintenance, financial management, and other matters appropriate to assist tenants and homeowners in improving their housing conditions and meeting responsibilities of tenancy and homeownership. In addition, HUD-approved housing counseling agencies conduct community outreach activities and provide counseling to individuals, including persons with visual or hearing impairments or other disabilities, with the objective of increasing awareness of homeownership opportunities and improving access of low and moderate income households to sources of mortgage credit. HUD believes that this activity is key to the revitalization and stabilization of low income and minority neighborhoods. Agencies assist first-time homebuyers by offering Homebuyer Education and Learning Program (HELP) training sessions. Agencies also meet the counseling needs of eligible persons 62 or older who desire to use the Home Equity Conversion Mortgage (HECM) to convert equity in their homes into a lump sum payment or an income stream that can be used for home improvements, medical costs, and/or living expenses.

(B) Eligible Applicants. Under the Housing Counseling Program, HUD contracts with qualified public or private nonprofit organizations to provide housing counseling services. There are three categories of applicants that are eligible to submit applications:

(1) HUD-approved Housing Counseling Intermediaries. If you are a housing counseling intermediary, you are responsible for distributing grant funds to affiliated local housing counseling agencies. In FY 2001, you must list all of your affiliates and the cities and states in which you and your affiliates maintain offices, then identify which affiliates will receive funding through this grant award. Your local affiliates are eligible to undertake any or all of the housing counseling activities described for HUD-approved local housing counseling agencies. Local affiliates receiving funding through your organization do not need to be HUD-approved in order to receive funds from you. However, you must be HUD-approved as of the date of this SuperNOFA. You must identify all of your affiliates in your application that will be seeking a subgrant. If your affiliate is not HUD-approved, you must certify the quality of services provided will meet, or exceed, standards for local HUD-approved housing counseling agencies.

HUD will permit you wide discretion in implementing your housing counseling programs with your affiliates, but your application must clearly define your management responsibilities, the service delivery responsibilities of your affiliates and appropriate time frames for reporting results to HUD.

You can decide how to allocate funding among your affiliates with the understanding that a written record must be kept of how you determined your funding levels. This record must be made available to your affiliates and to HUD. You should budget an amount that reflects your best estimate of the cost to oversee and fund the housing counseling efforts of your affiliates. You must seek other private and public sources of funding to supplement HUD funding. HUD does not intend for its counseling grant funds to cover all costs incurred by an agency participating in this program.

(2) HUD-approved local housing counseling agencies. These agencies are private and public non-profit organizations, approved by HUD to provide housing counseling services directly to clients. If you are a HUD-approved local housing counseling agency, HUD will fund your activities according to the budget submitted with your application. The amounts you request should reflect anticipated operating needs for your housing counseling activities, based upon your counseling experience during the previous fiscal year and your current agency capacity.

If you apply directly to HUD, you cannot apply as an affiliate for a subgrant to a State housing finance agency or to a national, regional or multi-state intermediary. In addition, you must disclose all funding sources to HUD. If you are a local housing counseling agency that is not currently HUD-approved, you may receive FY 2001 funding only as an affiliate of a HUD-approved national, regional, or multi-state intermediary; or State housing finance agency.

(3) State housing finance agencies. Your primary activity under this grant as a State housing finance agency is to provide housing counseling services as a local housing counseling agency and/or serve as an intermediary distributing counseling funding to local housing counseling organizations that operate in your State or territory. You and your local affiliates are eligible to undertake any or all of the housing counseling activities described for HUD-approved local housing counseling agencies.

As either a housing counseling agency or intermediary, you and your local affiliates do not need to be HUD-approved in order to receive these funds.

As an intermediary, you must list all of your affiliates in your application and designate those affiliates that will be seeking a subgrant. The amount you request should reflect anticipated operating needs for housing counseling activities, based upon the counseling experience during FY 2000 and your current capacity.

In your role as an intermediary, the amount you request should reflect your best estimate of costs to oversee and fund your housing counseling affiliates. The amount you request should reflect anticipated operating needs for housing counseling activities, based on past experience. For State Housing Finance Agencies who participated in the program in FY 1998 or FY 1999, the request should reflect your past usage of HUD housing counseling grant funds. HUD will give you wide discretion to implement your housing counseling program with your affiliates.

As an intermediary, you must execute subgrant agreements with your affiliates that clearly delineate the mutual responsibilities for program management, including appropriate time frames for reporting results to HUD. As part of the subgrant agreement, your affiliate must certify that it has not applied for a grant from any other Housing Counseling grant allocation or category, or another State housing finance agency. Your affiliate may be a local housing counseling agency. Local housing counseling agencies may also be affiliates of national, regional, or multi-State intermediaries or HUD approved local housing counseling agencies. You must decide how to allocate funding among your affiliates and keep a written record of how your determination was made. This record must be made available to the affiliates and to HUD. You must certify that, if your affiliate is not HUD-approved, the quality of services provided will meet, or exceed, standards for local HUD-approved housing counseling agencies.

You must seek other private and public sources of funding to supplement HUD funding. HUD does not expect its counseling grant funds to cover all costs incurred by your organization's participation in this program. You may use the HUD grant to undertake any of the eligible counseling activities.

(C) Eligible Activities. Housing counseling services/activities include:

(1) Homebuyer Education Programs that offer potential purchasers general information on the homebuying process. These types of programs include HUD's Homebuyer Education and Learning Program (HELP), where HUD's educational materials are used in sessions consisting of approximately eight to twelve (8-12) hours of training. HUD staff at each HUD Homeownership Center will be available to provide you with the HELP materials.

(2) Pre-purchase Homeownership Counseling, which focuses more specifically on the client's needs and circumstances. This type of counseling covers purchase procedures, mortgage financing, down payment/closing cost fund accumulation, accessibility requirements, and if appropriate, credit improvement, and debt consolidation.

(3) Post-purchase Counseling, including property maintenance, and personal money management.

(4) Mortgage delinquency and default resolution counseling including restructuring debt, arrangement of reinstatement plans, loan forbearance, and other loss mitigation tools available.

(5) Home Equity Conversion Mortgage (HECM) counseling to assist clients who are 62 years old or older with the complexities of converting the equity in their homes into income to pay living expenses or medical expenses.

(6) Loss Mitigation Counseling for clients who may be facing default and foreclosure, and need mortgage default resolution and foreclosure avoidance counseling.

(7) Marketing and Outreach Initiatives including providing general information about housing opportunities within your target area and providing housing counseling services and information to persons with disabilities. Under this program, you are required to extend marketing and outreach services to all segments of the population.

(8) Renter Assistance Counseling including information about rent subsidy programs, rights and responsibilities of tenants, and lease and rental agreements.

(9) Fair Housing Assistance including:

(a) Advocating with lenders, appraisers and developers on behalf of clients to recognize the value of non-traditional lending standards, the vitality of housing values in all areas, and the added value of accessible housing design; and

(b) Advising clients on how to recognize discriminatory acts, and how to file a Fair Housing complaint. (This will require being familiar with the provisions of the Fair Housing Act.)

Your potential clients may include: first-time homebuyers, homebuyers and homeowners eligible for, and applying for HUD, VA, FmHA (or its successor agency), State, local, or conventionally financed housing or housing assistance; or persons who occupy such housing and seek the assistance of a housing counseling agency to address a housing need. You may elect to offer this assistance in conjunction with any HUD housing program; however, to do this, you must be familiar with FHA's single family and multifamily housing programs.

(10) Mobility Counseling, to help families and individuals who are seeking new rental housing opportunities understand the wide range of housing options available.

VI. Program Requirements

(A) General Requirements. The requirements listed in Section II of the General Section of the SuperNOFA apply to this program.

(B) Specific Requirements.

(1) Civil Rights Threshold Requirements—All eligible applicants and subrecipients must meet the Civil Rights Threshold requirements that are listed in Section II(B) of the General Section of the SuperNOFA.

(2) Accessibility—All eligible applicants and subrecipients will make counseling offices and services accessible to persons with a wide range of disabilities and help persons locate suitable housing in locations throughout the applicant's community, target area, or metropolitan area, as defined by the applicant.

(C) Requirements Applicable to Religious Organizations. Where your organization is, or you propose to contract with, a primarily religious organization, or a wholly secular organization established by a primarily religious organization, to provide, manage, or operate a housing counseling program, you and your subrecipients must undertake your responsibilities in accordance with the following principles:

(1) You will not discriminate on behalf of or against any segment of the population in the provision of services or in outreach, including those of other religious affiliations.

(2) You will not provide religious instruction or religious counseling, conduct religious services or worship, engage in religious proselytizing, and exert religious influence in the provision of assistance under your housing counseling program.

(D) Performance Measurement. You are required to complete and submit a form HUD-9902, Fiscal Year Activity Report. The information compiled from this report provides HUD with its primary means of measuring your program performance.

VII. Application Selection Process

(A) General. Your application will be evaluated competitively, and ranked against all other applicants that applied in the same funding category. National, regional, and multi-State applications will be rated and ranked in HUD Headquarters, and initially selected for funding in rank order. Local agency and State housing finance agency applications will be rated and ranked by the HUD Homeownership Centers and initially selected for funding in rank order. However, after the initial selection, the actual amount funded will be based on successful completion of negotiations.

(B) Factors for Award Used to Rate and Rank Applications. The factors for rating and ranking applicants, and maximum points for each factor, are provided below. The maximum number of points for each applicant is 100. Your response to the following rating factors should provide HUD with detailed information regarding the housing counseling work of your organization. Please be specific, providing relevant examples and complete descriptions of your services.

Rating Factor 1: Capacity, Experience, and Effective Use of Resources (35 Points)

This factor addresses the scope and effective use of your organizational resources in successfully implementing your proposed activities and complying with the OMB Circulars set forth in this Notice. Your rating or the rating of your organization and staff for technical merit will include any subcontractors, consultants, subrecipients, and members of consortia that are identified as participants in your proposal. In rating this factor, HUD will consider the extent to which your proposal demonstrates:

(1) (10 points) The knowledge and experience of your proposed project director and staff, including the day-to-day program manager, consultants and contractors in planning and managing programs for which you are requesting funding. Your experience will be judged in terms of recent and relevant experience of your staff to undertake eligible program activities. You are expected to have sufficient personnel, or be able to quickly access qualified experts or professionals, to deliver the proposed activities in a timely and effective fashion. HUD will assess the readiness and ability of your organization to immediately begin your proposed work program. To demonstrate that you have sufficient personnel, you must submit the proposed number of staff for each task to be conducted, by the employees and experts allocated to each activity you plan to undertake in your program. You must identify their titles and relevant professional background and experience related to the tasks they are to perform. In addition, you must allocate the staff hours for each task of these employees and experts.

(2) (25 points) Your past performance, specifically your ability to attain measurable progress in the implementation of your most recent activities where your performance has been assessed and the costs associated with that performance.

HUD will consider your performance as measured by your expenditures of previous year's grant awards and demonstrated progress in achieving the purpose of the activities associated with those grant dollars. HUD will also consider any documented evidence, such as form HUD-9902, of your ability under past awards to comply with grant award provisions. Any organization that used less than 90 percent of its grant award in FY 99 will receive no points under this subsection.

The extent to which your services are reasonable and cost-effective in meeting the needs identified in Factor 2 and in complying with OMB Circular A-122, by: relating your service tasks to your proposed budget costs providing cost estimates for salary levels, staff assignments, number of staff hours, and all other budget items to show they are reasonable, allowable, and appropriate for the proposed activities; and documenting and justifying all costs.

Rating Factor 2: Need/Extent of the Problem (10 Points)

This factor addresses the extent to which there is a need for funding your proposed program activities to address a documented problem in your target area. To the extent that the community served by your housing counseling organization has documented the need in the community's Consolidated Plan or Analysis of Impediments to Fair Housing Choice (AI); or requirements of court orders or consent decrees, settlements and voluntary compliance agreements, references to these documents should be included in the response. If your proposed activities are not covered under the scope of the Consolidated Plan or AI, you should indicate such and use other sound data sources to identify the level of need for your proposed program of activities.

In responding to this factor, you will be evaluated on the extent to which you document a critical level of need for your proposed activities in the area where activities will be carried out. The documentation of need should demonstrate the extent of the problem addressed by the proposed activities. Examples of data that might be used to demonstrate need, include economic and demographic data relevant to the target area and your proposed activities. There must be a clear relationship between the proposed activities, community needs and the purposes of this program for an applicant to receive points for this factor.

HUD will also consider your involvement in addressing barriers to equal homeownership or rental housing opportunities, including:

(a) The extent to which your proposed activities undertake Affirmatively Furthering Fair Housing (AFFH) may be undertaken in a variety of ways, as appropriate to your target area. The following are some suggestions for all housing counseling agencies:

(i) Implementing affirmative marketing strategies to attract all segments of the population regardless of race, color, religion, national origin, sex, familial status, and disability, especially those least likely to request housing counseling services to purchase or retain their homes.

(ii) Being pro-active in reducing concentrations of poverty and/or minority populations in the target area. This could include working with, or adopting the counseling practices of, agencies which conduct housing opportunity counseling to encourage low-income and minority persons to move to low-minority-concentration areas, and helping to locate suitable housing in such areas if the client chooses to move to one.

(iii) Working with local lenders to develop alternative lending criteria. For instance, you may make referrals to lenders of clients with good credit and payment histories, but who do not fit the standard profiles for lending practices, or advocate with financial institutions on behalf of clients with financial patterns which reflect cultural differences (such as family savings pools, which are common among some Asian populations). Your activities should also focus on finding appropriate housing, free from environmental hazards, for all segments of the population in neighborhoods with good transportation, schools, employment opportunities, and other services.

(b) The following are some suggested activities for national, regional, or multi-state intermediaries and State housing finance agencies:

(i) Training affiliates in Fair Housing issues.

(ii) Making national or regional agreements with lenders, insurers, and organizations which train appraisers and loan appraisers on fair housing requirements, accessibility, and financing methods which support your organization's fair housing and housing opportunity efforts.

Rating Factor 3: Scope of Housing Counseling Services (35 Points)

This factor addresses the quality and effectiveness of your proposed housing counseling plan (work plan), which describes your housing counseling needs, goals, and objectives related to the scope of services you propose to provide, including a description of all counseling activities to be performed. In rating this factor, HUD will consider:

(1) The scope of housing counseling services and/or activities that you will provide, how these services/activities will be delivered, and the extent to which the design and scope of your services/activities provide geographic coverage for the target areas as defined by the applicant and meet the needs of persons traditionally underserved in the community as identified in Rating Factor 2. In addition, you should identify the immediate benefits to be achieved, indicators by which these benefits will be measured, and the costs associated with providing your services, to prove cost-effectiveness.

(2) The number of clients served by your organization and the complexity of the services offered. The rater will consider the variety and complexity of the housing counseling services you provide, taking into account the level of work involved in meeting the needs of your clients. For example, if you offer comprehensive default counseling, you should explicitly describe the comprehensive nature of the counseling activities, such as stating that it takes approximately 16 hours of one-on-one sessions to help one family. Or, if your offer homebuyer education workshops, explain that you can serve 10 families at a time, completing a full course in 12 hours total. Again, you should identify the benefits associated with your services, citing relevant past experience as evidence of your potential achievement, and identifying indicators by which these benefits can be measured. The rater will be assessing the level of effort required to provide your services and the costs associated with that effort.

Intermediaries, including state Housing Finance Agencies, must provide details on the activities of the intermediary organization (e.g. training affiliates or coordinating partnerships with lenders) and the activities of the affiliates or branches, explicitly stating the types of services offered and the time and resources associated with providing those services.

Rating Factor 4: Leveraging Resources (10 Points)

This factor addresses your ability to secure private and public resources which can be combined with HUD's program resources to provide housing counseling services. In evaluating this factor HUD will consider:

(1) The extent to which you have obtained additional resources, or partnered with other entities to secure additional resources, to increase the effectiveness of your housing counseling activities. Resources may include funding or in-kind contributions, such as services or equipment, allocated to the purpose(s) of your program. Resources may be provided by governmental entities, public or private nonprofit organizations, for-profit private organizations, or other entities willing to partner with you. You may also partner with other program funding recipients to coordinate the use of housing counseling and support services in your target area.

(2) You must provide evidence of leveraging/partnerships by including in your application letters of firm commitments, memoranda of understanding, or agreements to participate from entities identified as partners in your application. Each letter of commitment, memoranda of understanding, or agreement to participate should include the partnering organization's name, proposed level of commitment and responsibilities as they relate to your proposed program. The commitment letter must also be signed by an official of the organization legally able to make commitments on behalf of the partnering organization.

(3) If you are a housing counseling agency funded under this SuperNOFA, you may use your HUD and leveraged funds to deliver comprehensive housing counseling, or may specialize in delivery of particular housing counseling services. Either way, your services/activities must reflect the housing counseling needs you submitted in your funding application for your target area and identified in your plan. You may conduct a wide range of housing counseling services that are eligible under this program.

(4) If you are a national, regional or multi-state intermediary or a State housing finance agency, you must distribute the majority of your HUD award and leveraged funds to your housing counseling affiliates and branches. HUD will give you wide discretion to implement your housing counseling program with your affiliates and branches. You must execute subgrant agreements with your affiliates and branches that clearly delineates the mutual responsibilities for program management and appropriate time frames for reporting results to HUD. You can decide how to allocate the HUD and leveraged funding among your affiliates with the understanding that a written record must be kept of how you determined your funding levels. This record must be made available to your affiliates and to HUD.

Note: HUD housing counseling funding is not intended to fully fund either an organization's housing counseling program, nor that of its local affiliates. All organizations that use housing counseling grant funds and their local affiliates are expected to seek other private and public sources of funding for housing counseling to supplement HUD funding.

Rating Factor 5: Comprehensiveness and Coordination (10 Points)

This factor addresses the extent to which you have coordinated your activities with other known organizations, participated or promoted participation in a community's Consolidated Planning process and are working towards addressing identified needs in a holistic and comprehensive manner through linkages with other activities in your community. In evaluating this factor, HUD will consider the extent to which you can demonstrate you have:

(1) Coordinated your proposed activities with those of other groups or organizations prior to submission in order to best complement, support and coordinate all known activities; and, if funded, the specific steps you will take to share information on solutions and outcomes with others. Any written agreements or memoranda of understanding in place should be described.

(2) Taken or will take specific steps to become active in the Consolidated Planning process (including the Analysis of Impediments to Fair Housing Choice) established in your target area to identify and address needs/problems related to the activities you propose in your application. If you reported in your FY 1999 application that you “will take specific steps”, describe what steps you have taken.

(3) Taken or will take specific steps to develop linkages to coordinate comprehensive solutions through meetings, information networks, planning processes or other mechanisms with:

(a) Other HUD-funded projects/activities outside the scope of those covered by the target area's Consolidated Plan; and

(b) Other Federal, State or locally funded activities, including those proposed or on-going in your target area.

If you reported in your FY 2000 application that you “will take specific steps,” describe what steps you have taken.

VIII. Application Submission Requirements

(A) General. The contents of your application will differ if you are a local housing counseling agency; or a national, regional, or multi-state intermediary; or a State housing finance agency. For all applicants, however, your application must include the standard forms, certifications, and assurances listed in the General Section of the SuperNOFA (collectively, referred to as the “standard forms”). The standard forms can be found in Appendix B to the General Section of the SuperNOFA. The remaining application items that are forms (i.e., excluding such items as narratives, letters), referred to as the “non-standard forms” can be found as Appendix A to this program section of the SuperNOFA. The items are as follows:

(1) Narrative statements addressing the five Rating Factors in Section VII.(B) of this program section of the SuperNOFA. Your narrative responses should be numbered in accordance with the rating factors and subfactors identified in Section V(B) of this program section of the SuperNOFA. The narrative responses must include the quantitative, as well as qualitative, information requested in the rating factors.

(2) Form HUD-9902, Housing Counseling Agency Fiscal Year Activity Report, for fiscal year October 1, 1998 through September 30, 1999. If you did not participate in HUD's Housing Counseling Program during FY 1999, this report should be completed to reflect your counseling workload during that period. This form must be fully completed and submitted by every applicant for FY 2000 HUD funding. A copy of this form is included in the Appendix to the program section of this SuperNOFA.

(3) Budget Work Sheet. A proposed budget for use of the requested HUD funds.

(4) Evidence of Housing Counseling Funding Sources (required of all applicants).

(5) Narrative of Prior Fiscal Year Performance. You must provide a descriptive narrative that sets forth your (and, if applicable, your affiliate organizations) prior fiscal year's performance as related to its goals, objectives, and mission. Your narrative must describe the most recent operational and program activities of your organization.

(6) Current Housing Counseling Plan. See Rating Factor 3 for a description.

(7) Direct-labor and Hourly-labor rate and Counseling Time Per Client for proposed tasks.

(8) The Congressional District in which your proposed activities are to occur.

(9) Intermediary. If you are an intermediary, you must provide and certify to the number of states in which you maintain offices, including the national office and all affiliate or branch offices.

(10) Authority to Operate as State housing finance agency. If you are a State housing finance agency, you must submit your statutory authority to operate as a State housing finance agency.

(B) National, Regional, and Multi-State Intermediaries and State Housing Finance Agencies. If you are a national, regional, or multi-state intermediary or a State housing finance agency, you must submit an application that covers both your network organization and your affiliated agencies. In FY 2001, you must list all of your affiliates and the cities and states in which you and your affiliates maintain offices, then identify which affiliates will receive funding through this grant award. Your application must include:

(1) A description of your affiliated agencies. For each affiliated agency, list the following information:

(a) Organization name;

(b) Address (city, state, and zip code);

(c) Director and contact person (if different);

(d) Phone/FAX numbers (including TTY, if available);

(e) Federal tax identification number;

(f) ZIP code service areas;

(g) Number of staff providing counseling;

(h) Type of services offered (defined by homebuyer education programs, pre-purchase counseling, post-purchase counseling, mortgage default and delinquency counseling, HECM counseling, outreach initiatives, renter assistance, mobility counseling, and other);

(i) Number of years of housing counseling experience.

(2) Relationship with Affiliates. You must briefly describe your relationship with your affiliates (i.e. membership organization, field or branch office, subsidiary organization, etc.).

(3) Oversight System. You must briefly describe the process that will be used to determine affiliate funding levels, distribute funds, and monitor affiliate performance.

VIII. Corrections to Deficient Applications

The General Section of the SuperNOFA provides the procedures for corrections to deficient applications.

IX. Environmental Requirements

In accordance with 24 CFR 50.19(b)(9) and (12) of the HUD regulations, activities assisted under this program are categorically excluded from the requirements of the National Environmental Policy Act and are not subject to environmental review under the related laws and authorities.

X. Authority

HUD's Housing Counseling Program is authorized by section 106 of the Housing and Urban Development Act of 1968 (12 U.S.C. 1701x), and is generally governed by HUD Handbook 7610.1, REV-4, dated August 9, 1995.

Appendix A

The non-standard forms, which follow, are required for your Housing Counseling Program application.

BILLING CODE 4210-32-P

FUNDING AVAILABILITY FOR THE LEAD-BASED PAINT HAZARD CONTROL GRANT PROGRAM

Program Overview

Purpose of the Program. The purpose of the Lead-Based Paint Hazard Control Grant Program is to assist States, Indian Tribes and local governments in undertaking comprehensive programs to identify and control lead-based paint hazards in eligible privately-owned housing for rental or owner-occupants in partnership with community-based organizations.

Available Funds. Approximately $59 million.

Eligible Applicants. States, Indian Tribes or local governments. If you are a State or Tribal applicant, you must have a Lead-Based Paint Contractor Certification and Accreditation Program authorized by EPA.

Application Deadline. May 17, 2001.

Match. A minimum of 10% match in local funds.

Additional Information

I. Application Due Date, Application Kits, Further Information, and Technical Assistance

Application Due Date. Submit your completed application (an original and four copies) to HUD on or before 12:00 midnight, Eastern time, on May 17, 2001, at the address shown below.

See the General Section of the SuperNOFA for specific procedures concerning the form of application submission (e.g., mailed applications, express mail, overnight deliver, or hand carried).

Address for Submitting Applications. For Mailed Applications. The address for mailed applications is: Department of Housing and Urban Development, Office of Healthy Homes and Lead Hazard Control, 451 Seventh Street, SW, Room P3206, Washington, DC 20410.

For Overnight/Express Mail or Hand Carried Applications. The address for applications that are hand carried or sent via overnight delivery is: HUD Office of Healthy Homes and Lead Hazard Control, Suite 3206, 490 East L'Enfant Plaza, SW, Washington, DC 20024. Hand carried applications will be accepted at this address (490 East L'Enfant) up until 5:00 pm on the application due date.

After 5:00 pm on the application due date, hand carried applications will be accepted until 12:00 midnight, in the South Lobby of HUD Headquarters, 451 Seventh Street, SW, Washington, DC 20410.

For Application Kits. You may obtain an application kit from the SuperNOFA Information Center at 1-800-HUD-8929. Persons with speech or hearing impairments, may call the Center's TTY number at 1-800-HUD-2209. When requesting an application kit, please refer to the Lead-Based Paint Hazard Control Grant Program. Please be sure to provide your name, address (including zip code), and telephone number (including area code).

For Further Information and Technical Assistance. You may contact Ellis G. Goldman, Director, Program Management Division, Office of Healthy Homes and Lead Hazard Control, at the address above; telephone (202) 755-1785, extension 112 (this is not a toll-free number). If you are a hearing- or speech-impaired person, you may reach the above telephone numbers via TTY by calling the toll-free Federal Information Relay Service at 1-800-877-8339.

Satellite Broadcast. HUD will hold an information broadcast via satellite for potential applicants to learn more about the program and preparation of the application. For more information about the date and time of the broadcast, you should consult the HUD web site at http://www.hud.gov.

II. Amount Allocated

(A) Available Funding. Approximately $59 million will be available for the Lead-Based Paint Hazard Control Grant Program.

(B) Allocation of Funds/Grant Awards. Both existing grantees or previously unfunded applicants are eligible to apply for grants of $1 million to $3 million. Approximately 20 to 25 grants will be awarded. Approximately 70% of the funds shall be available to existing Lead-Based Paint Hazard Control grantees. Applications from existing (or previous) grantees will be evaluated and scored as a separate group and will not be in direct competition with applications from previously unfunded applicants.

III. Program Description, Eligible Applicants; Eligible Activities

(A) Program Description. The Lead-Based Paint Hazard Control Grant Program assists States, Indian Tribes and local governments in undertaking programs for the identification and control of lead-based paint hazards in eligible privately-owned housing units for rental and owner-occupants. The application kit for this program section of the SuperNOFA lists HUD-associated housing programs which also meet the definition of eligible housing.

(1) Because lead-based paint is a national problem, these funds will be awarded to:

(a) Maximize both the number of children protected from lead poisoning and housing units where lead-hazards are controlled;

(b) Target lead hazard control efforts at housing in which children are at greatest risk of lead poisoning;

(c) Stimulate cost-effective approaches that can be replicated;

(d) Emphasize lower cost methods of hazard control;

(e) Build local capacity to safely and effectively address lead hazards during lead hazard control, renovation, remodeling, and maintenance activities; and

(f) Affirmatively further fair housing, Partnership for Advancing Technology in Housing (PATH), and environmental justice.

(2) The objectives of this program include:

(a) Implementation of a national strategy, as defined in Title X of the Housing and Community Development Act of 1992 (42 U.S.C. 4851 et. seq.) (Title X), to build the community's capacity necessary to eliminate lead-based paint hazards in all housing, as widely and quickly as possible by establishing a workable framework for lead-based paint hazard identification and control;

(b) Mobilization of public and private resources, involving cooperation among all levels of government, the private sector, and community-based organizations to develop cost-effective methods for identifying and controlling lead-based paint hazards;

(c) Development of comprehensive community approaches which result in integration of all community resources (governmental, community-based, and private businesses) to address lead hazards in housing;

(d) Integration of lead-safe work practices into housing maintenance, repair, weatherization, rehabilitation, and other programs which will continue beyond your grant period;

(e) Establishment of a public registry (listing) of lead-safe housing; and

(f) To the greatest extent feasible, promotion of job training, employment, and other economic opportunities for low-income and minority residents and businesses that are owned by and/or employ low-income and minority residents as defined in 24 CFR 135.5 (See 59 FR 33881, June 30, 1994).

(B) Eligible Applicants. (1) To be eligible to apply for funding under this program, you must be a State, Indian Tribe, or unit of local government. Multiple units of a local government (or multiple local governments) may apply as part of a consortium; however, you must identify a single lead primary government or agency as “the applicant.” You may submit only one application. In the event you submit multiple applications, this will be considered a curable (minor) defect and the application review process delayed until you notify HUD in writing which application should be reviewed. Your other applications will be returned unevaluated.

(2) Threshold Requirements. As an applicant, you must meet all of the threshold requirements of Section II(B) of the General Section of the SuperNOFA.

(3) Consolidated Plans.

(a) If your jurisdiction has a current HUD approved Consolidated Plan, you must submit, as an appendix, a copy of the lead-based paint element included in the approved Consolidated Plan.

(b) If your jurisdiction does not have a currently approved Consolidated Plan, but it is otherwise eligible for this grant program, you must include your jurisdiction's abbreviated Consolidated Plan, which includes a lead-based paint hazard control strategy developed in accordance with 24 CFR 91.235.

(4) Contracts or other formal arrangements with Community-Based Organizations. If selected for funding, local and State applicants must enter into contractual relationships or other formal arrangements with community-based organizations. Such relationships must be established prior to actual execution of the grant agreement. This requirement does not apply to Indian Tribes.

(5) EPA Authorization. If you are a State government or an Indian Tribal government, you must have an EPA authorized Lead-Based Paint Contractor Certification and Accreditation Program on the application deadline to be eligible. Your program approval date in the Federal Register notice published by the EPA will be used.

(6) If you were funded under the FY 2000 Lead-Based Paint Hazard Control Funding competition in the FY 2000 SuperNOFA issued February 24, 2000 (65 FR 9539), you are not eligible for funding under this program section of the SuperNOFA.

(7) The eligibility factors discussed in paragraphs (1) through (6) above are threshold requirements. If you do not satisfy the appropriate eligibility requirements stated in these paragraphs, HUD will not review your application.

(C) Eligible Activities. HUD is interested in promoting lead hazard control approaches that result in the reduction of this health threat for the maximum number of low-income families with children under six, for the longest period of time, and that demonstrate techniques which are cost-effective, efficient, and can be used elsewhere. HUD will allow flexibility within the parameters established below. Funds will be available only for projects conducted by contractors, risk assessors, inspectors, workers and others engaged in lead-based paint activities who meet the requirements of an EPA authorized State or Tribal Lead-Based Paint Contractor Certification and Accreditation Program under the requirements of section 404 of the Toxic Substances Control Act (TSCA). However, low level hazard interventions (e.g., dust control and minor paint stabilization) do not require certified personnel unless required by state or local laws or regulations. All applicants must use personnel certified under the state, tribal, or EPA administered program for their state or tribe.

(1) Direct Project Elements that you may undertake directly or through subrecipients, include:

(a) Performing dust testing, hazard screens, inspections, and risk assessments of eligible housing constructed before 1978 to determine the presence of lead-based paint and/or lead hazards from paint, dust, or soil.

(b) Conducting the required pre-hazard control blood lead testing of children under the age of six years (72 months) residing in units undergoing inspection, risk assessment, or hazard control, unless reimbursable from Medicaid or another source.

(c) Conducting lead hazard control, which may include any combination of the following: interim control of lead-based paint hazards in housing (which may include specialized cleaning techniques to address lead dust); abatement of lead-based paint hazards using different methods for each unit (based on the condition of the unit and the extent of hazards); and abatement of lead-based paint hazards, including soil and dust, by means of removal, enclosure, encapsulation, or replacement methods. Complete abatement of all lead-based paint or lead-contaminated soil is not acceptable as a cost effective strategy unless justification is provided and approved by HUD. Abatement of lead contaminated soil should be limited to areas with bare soil in the immediate vicinity of the structure, i.e., dripline or foundation of the structure being treated, and children's play areas.

(d) Carrying out temporary relocation of families and individuals during the period in which hazard control is conducted and until the time the affected unit receives clearance for reoccupancy.

(e) Performing blood lead testing and air sampling to protect the health of the hazard control workers, supervisors, and contractors.

(f) Undertaking minimal housing rehabilitation activities that are specifically required to carry out effective hazard control, and without which the hazard control could not be completed and maintained. Hazard Control grant funds may be used for lead hazard control work done in conjunction with other housing rehabilitation programs. HUD strongly encourages integration of this grant program with housing rehabilitation and PATH technologies.

(g) Conducting clearance dust-wipe testing and laboratory analysis.

(h) Engineering and architectural activities that are required for, and in direct support of, lead hazard control.

(i) Providing lead-based paint worker or contractor certification training and/or licensing to low-income persons.

(j) Providing free training on lead-safe, essential maintenance practices to homeowners, renters, painters, remodelers, and apartment maintenance staff working in low-income private housing.

(k) Providing cleaning supplies for lead-hazard control to community/neighborhood-based organizations, homeowners, and renters in low-income private housing.

(l) Conducting planning, coordination, and training activities to facilitate local implementation of HUD's regulations on Lead-Based Paint Poisoning Prevention in Certain Residential Structures, published on September 15, 1999 (64 FR 50140), and which became effective on September 15, 2000. These activities are intended to allow the creation of a workforce properly trained in lead-safe work practices and which is available to conduct interim controls on HUD assisted housing covered by these regulations. These regulations are available from the National Lead Information Center at 1-800-424-LEAD.

(m) Conducting general or targeted community awareness, education or outreach programs on lead hazard control and lead poisoning prevention. This includes educating owners of rental properties on the Fair Housing Act and training on lead-safe maintenance and renovation practices and management. Upon request, this also would include making all materials available in alternative formats to persons with disabilities (e.g.; Braille, audio, large type).

(n) Procuring liability insurance for lead-hazard control activities.

(o) Supporting data collection, analysis, and evaluation of grant program activities. This includes compiling and delivering such information and data as may be required by HUD. This activity is separate from administrative costs.

(p) Conducting applied research activities directed at demonstration of cost effective methods for lead hazard control.

(q) Purchasing or leasing equipment having a per unit cost under $5,000.

(r) Purchasing or leasing up to two (2) X-ray fluorescence analyzers for use by the Lead-Based Paint Hazard Control Grant Program, if not already available.

(s) Preparing a final report at the conclusion of grant activities.

(2) Support Elements.

(a) Administrative costs. There is a 10% maximum for administrative costs. Specific information on administrative costs is included in this Lead-Based Paint Hazard Control Grant Program section of this SuperNOFA.

(b) Program planning and management costs of sub-grantees and other sub-recipients.

(D) Ineligible Activities. You may not use grant funds for any of the following:

(1) Purchase of real property.

(2) Purchase or lease of equipment having a per unit cost in excess of $5,000, except for X-ray fluorescence analyzers.

(3) Chelation or other medical treatment costs related to children with elevated blood lead levels. Non-Federal funds used to cover these costs may be counted as part of the required matching contribution.

(4) Lead hazard control activities in publicly owned housing, or project-based Section 8 housing.

IV. Program Requirements

In addition to the program requirements listed in the General Section of this SuperNOFA, you, the applicant, must comply with the following requirements:

(A) Budgeting. (1) Matching Contribution. You must provide a matching contribution of at least 10% of the requested grant sum. This may be in the form of a cash or in-kind (non-cash) contribution or a combination of both. With the sole exception of Community Development Block Grant (CDBG) funds, Federal funds may not be used to satisfy the statutorily required ten (10) percent matching requirement. Federal funds may be used, however, for contributions above the statutory requirement. If you do not show a minimum 10% match in your application, you will be rated lower during the evaluation process, and, if selected, you will be required to provide the matching contribution before being given the grant.

(2) Direct Lead Hazard Control Activities. The budget proposed must show a minimum of 60 percent of the total Federal amount requested identified for direct lead hazard control activities. Direct lead hazard control activities consist of inspections, risk assessments, contracts for lead hazard control services, and clearance evaluations. Direct hazard control activities do not include relocation, blood testing of residents or workers, housing rehabilitation, training, community education, applied research, purchase of supplies or equipment, or administrative costs.

(3) Lead-Safe Work Practice Training Activities. The budget proposed must include a minimum of two (2) percent of the total Federal amount to promote the creation of a workforce properly trained in lead-safe work practices and which is available to conduct interim controls on HUD assisted housing units being treated under the provisions of the HUD Lead Safe Housing Regulation (Sections 1012 and 1013 of Title X of the Housing and Community Development Act of 1992), 24 CFR Part 35(in particular, paragraphs 35.1330 (a) (4) (iii)-(v), published September 15, 1999 (64 FR 50201 et eq.).

(4) Applied Research Activities. You may identify a maximum of five (5%) percent of the total grant request for applied research activities.

(5) Administrative Costs. There is a 10% maximum for administrative costs.

(B) Period of Performance. The period of performance is 36 months for previously unfunded applicants. Existing grantee applicants will be allowed 30 months.

(C) Certified Performers. You may use grant funds only for projects conducted by certified contractors, risk assessors, inspectors, workers and others engaged in lead-based paint activities. The individuals and firms (if applicable) must be certified under an EPA authorized State or Tribal program or a program operated by the EPA in the absence of a State or Tribal program.

(D) Coastal Barrier Resources Act. Pursuant to the Coastal Barrier Resources Act (16 U.S.C. 3501), you may not use grant funds for properties located in the Coastal Barrier Resources System.

(E) Flood Disaster Protection Act. Under the Flood Disaster Protection Act of 1973 (42 U.S.C. 4001-4128), you may not use grant funds for lead-based paint hazard control of a building or mobile home that is located in an area identified by the Federal Emergency Management Agency (FEMA) as having special flood hazards unless:

(1) The community in which the area is situated is participating in the National Flood Insurance Program in accordance with the applicable regulations (44 CFR parts 59-79), or less than a year has passed since FEMA notification regarding these hazards; and

(2) Where the community is participating in the National Flood Insurance Program, flood insurance on the property is obtained in accordance with section 102(a) of the Flood Disaster Protection Act (42 U.S.C. 4012a(a)). You are responsible for assuring that flood insurance is obtained and maintained for the appropriate amount and term.

(F) National Historic Preservation Act. The National Historic Preservation Act of 1966 (16 U.S.C. 470) and the regulations at 36 CFR part 800 apply to the lead-based paint hazard control activities that are undertaken pursuant to this program. HUD and the Advisory Council for Historic Preservation have developed an optional Model Agreement for use by grantees and State Historic Preservation Officers in carrying out activities under this program. This may be obtained from the SuperNOFA Clearinghouse.

(G) Waste Disposal. You must handle waste disposal according to the requirements of the appropriate local, State and Federal regulatory agencies. You must handle disposal of wastes from hazard control activities that contain lead-based paint but are not classified as hazardous in accordance with the HUD Guidelines for the Evaluation and Control of Lead-Based Hazards in Housing (HUD Guidelines). The Guidelines may be purchased from HUD User (1-800-245-2691) or downloaded from the HUD website (www.hud.gov/offices/lead).

(H) Worker Protection Procedures. You must observe the procedures for worker protection established in the HUD Guidelines, as well as the requirements of the Occupational Health and Safety Administration (OSHA) (29 CFR 1926.62—Lead Exposure in Construction), or the State or local occupational safety and health regulations, whichever are most protective. If other applicable requirements contain more stringent requirements than the HUD Guidelines, the more rigorous standards shall be followed.

(I) Prohibited Practices. You must not engage in practices that are not allowed because of health and safety risks. Methods that generate high levels of lead dust shall be undertaken only with requisite worker protection, containment of dust and debris, suitable clean-up, and clearance. Prohibited practices include:

(1) Open flame burning or torching;

(2) Machine sanding or grinding without a high-efficiency particulate air (HEPA) exhaust control;

(3) Uncontained hydroblasting or high pressure wash;

(4) Abrasive blasting or sandblasting without HEPA exhaust control;

(5) Heat guns operating above 1100 degrees Fahrenheit;

(6) Chemical paint strippers containing methylene chloride or other volatile hazardous chemicals in a poorly ventilated space; and

(7) Dry scraping or dry sanding, except scraping in conjunction with heat guns or around electrical outlets or when treating no more than two (2) square feet in any one interior room or space, or totaling no more than 20 square feet on exterior surfaces.

(J) Proposed Modifications From Current Procedures. Proposed methods that differ from currently approved standards or procedures will be considered on their merits through a separate HUD review and approval process after the grant award is made and a specific justification has been presented. HUD may consult with experts from both the public and private sector as part of its final determinations and will document its findings in an environmental assessment. HUD will not approve proposed modifications that, in HUD's opinion, involve a lowering of standards with potential to adversely affect the health of residents, contractors or workers, or the quality of the environment.

(K) Written Policies and Procedures. You must have clearly established, written policies and procedures for all phases of lead hazard control, including risk assessment, inspection, development of specifications, pre-hazard control blood lead testing, financing, relocation and clearance testing. Grantees, subcontractors, sub-grantees, sub-recipients, and their contractors must adhere to these policies and procedures.

(L) Continued Availability of Lead Safe Housing to Low-Income Families. Units in which lead hazards have been controlled under this program shall be occupied by and/or continue to be available to low-income residents as required by Title X. You must maintain a registry (listing) of units in which lead hazards have been controlled for distribution and marketing to agencies and families as suitable housing for families with children under six.

(M) Testing. In developing your application budget, include costs for inspection, risk assessment, and clearance testing for each dwelling that will receive lead hazard control, as follows:

(1) Testing. (a) General. All testing and sampling shall conform to the current HUD Guidelines and Federal, state or tribal regulations developed as part of the appropriate contractor certification program. It is particularly important to provide this full cycle of testing for lead hazard control, including interim controls. Testing must be conducted according to the HUD Guidelines and the EPA lead hazard standards rule at 40 CFR part 745, subparts D and L. All test results must be provided to the owner, together with a notice describing the owner's legal duty to disclose the results to tenants and buyers.

(b) Pre-Hazard Control. A combined inspection and risk assessment is recommended. You should ensure that the results of the pre-hazard control investigation are sufficient to support hazard control decisions. When appropriate, you may elect to perform a lead hazard screen in lieu of an inspection or risk assessment.

(c) Non-Identification of Lead Hazards from Paint, Dust, Soil. In the event you propose to conduct lead hazard control work without identification of lead hazards from paint, dust, and soil, you must fully justify the technical and other rationale for such a proposal. HUD must approve such proposals. Approval is subject to HUD environmental review under 24 CFR part 50.

(d) Clearance Testing. Clearance dust testing must be conducted according to the HUD Guidelines and the EPA lead hazards standards rule at 40 CFR part 745, subparts D and L. You are required to meet the post-hazard control dust-wipe test clearance thresholds at 40 CFR 745.227(e)(8)(viii). Wipe tests shall be conducted by an appropriately certified individual who is independent of the lead hazard control contractor. Dust-wipe and soil samples, and any paint samples to be analyzed by a laboratory, must be analyzed by a laboratory recognized by the EPA National Lead Laboratory Accreditation Program (NLLAP). Units treated shall not be reoccupied until clearance is achieved.

(2) Blood lead testing. Before lead hazard control work begins, each occupant who is under six years old must be tested for lead poisoning within the six months preceding the housing intervention. Any child with an elevated blood lead level must be referred for appropriate medical follow-up. The standards for such testing are described in the Centers for Disease Control and Prevention publications Preventing Lead Poisoning in Young Children (1991), and Screening Young Children for Lead Poisoning: Guidance for State and Local Public Health Officials (1997).

(N) Cooperation With Related Research and Evaluation. You shall cooperate fully with any research or evaluation sponsored by HUD, CDC, EPA or other government agency and associated with this grant program, including preservation of project data and records and compiling requested information in formats provided by the researchers, evaluators or HUD. This also may include the compiling of certain relevant local demographic, dwelling unit, and participant data not contemplated in your original proposal. Participant data shall be subject to Privacy Act protection.

(O) Data collection. You will be required to collect and maintain the data necessary to document the various lead hazard control methods used and the relative cost of these methods.

(P) Section 3 Employment Opportunities. Please see Section II(E) of the General Section of the SuperNOFA. The requirements of Section 3 of the Housing and Urban Development Act of 1968 are applicable to the Lead-Based Paint Hazard Control Program.

(Q) Replacing Existing Resources. Funds received under this grant program should not be used to replace existing community resources dedicated to any ongoing project.

(R) Certifications and Assurances. You must include the certifications and assurances listed in the General Section of the SuperNOFA with your application.

(S) Davis-Bacon Act. The Davis-Bacon Act does not apply to this program. However, if you use grant funds in conjunction with other Federal programs in which Davis-Bacon prevailing wage rates apply, then Davis-Bacon provisions would apply to the extent required under the other Federal programs.

V. Application Selection Process

(A) Rating and Ranking. HUD intends to fund the highest ranked applications within the limits of funding, but reserves the right to advance other eligible applicants in funding rank. A decision to advance an applicant will be based on programs that: foster innovative local approaches or lead hazard control methods.

(B) Award Offers. In the selection process, once available funds have been allocated to meet the requested or negotiated amounts of the top eligible applicants, HUD reserves the right to offer any residual amount as partial funding to the next eligible applicant, provided HUD is satisfied that the residual amount is sufficient to support a viable, though reduced effort, by such applicant(s). If you are an applicant offered a reduced grant amount you will have a maximum of seven (7) calendar days to accept such a reduced award. If you fail to respond within the seven day limit, you shall be considered to have declined the award.

(C) Budget. HUD will evaluate your proposed budget (for a 36 month period for previously unfunded applicants and a 30 month period for existing grantee applicants) to determine if it is reasonable, clearly justified, and consistent with the intended use of grant funds. HUD is not required to approve or fund all proposed activities. You may devote up to 36 months (30 months for existing grantee applicants) for the planning, implementation, and completion of lead hazard control activities. You must thoroughly document and justify all budget categories and costs (Part B of Standard Form 424A).

(D) Factors for Award Used to Evaluate and Rate Applications. The factors for rating and ranking applicants, and maximum points for each factor, are stated below. The maximum number of points to be awarded is 102. This maximum includes two EZ/EC bonus points as described in the General Section of the SuperNOFA. Also, Section III(C)(2) of the General Section, which addresses a court-ordered consideration, is applicable to this program.

Rating Factor 1: Capacity of the Applicant and Relevant Organizational Experience (15 points for previously unfunded applicants; 30 points for existing grantees)

This factor addresses your organizational capacity necessary to successfully implement the proposed activities in a timely manner. The rating of the “applicant” or the “applicant's staff” for technical merit or threshold compliance, unless otherwise specified, includes any community-based organizations, sub-contractors, consultants, sub-recipients, and members of consortia which are firmly committed to your project. In rating this factor, HUD will consider:

(1) Your recent, relevant and successful demonstrated experience (including governmental and community-based partners) to undertake eligible program activities. You must describe the knowledge and experience of the proposed overall project director and day-to-day program manager in planning and managing large and complex interdisciplinary programs, especially involving housing rehabilitation, public health, or environmental programs. You must demonstrate that you have sufficient personnel or will be able to quickly retain qualified experts or professionals, to immediately begin your proposed work program and to perform your proposed activities in a timely and effective fashion. In the narrative response for this factor, you should include information on your program staff, their experience, commitment to the program, salary information, and position titles. Resumes (for up to three key personnel), position descriptions, and a clearly identified organizational chart for the lead hazard control grant program effort must be included in an appendix. Indicate the percentage of time that key personnel will devote to your project. To receive maximum points, your day-to-day program manager must be dedicated for a minimum of 75% of the time. Describe how other principal components of your agency or other organizations will participate in or otherwise support the grant program. You may demonstrate capacity by thoroughly describing your prior experience in initiating and implementing lead hazard control efforts and/or related environmental, health, or housing projects. You should indicate how this prior experience will be used in carrying out your proposed comprehensive Lead-Based Paint Hazard Control Grant Program.

(2) If you have received previous HUD Lead-Based Paint Hazard Control Grant funding, your past experience will be evaluated in terms of progress under the most recent previous grant. You must provide a description of your progress in implementing your most recent grant award within the period of performance, including the total number of housing units completed as of the most recent calendar quarter.

Rating Factor 2: Needs/Extent of the Problem (20 points)

This factor addresses the extent to which there is a need for the proposed program activities to address a documented problem in the target area.

(1) Document a critical level of need for your proposed activities in the area where activities will be carried out. Since an objective of the program is to prevent at-risk children from being poisoned, specific attention must be paid to documenting such need as it applies to the targeted areas, rather than the entire locality or state. If the target area is an entire locality or state, then documenting need at this level is appropriate. So the threat to your jurisdiction's children can be thoroughly assessed, you should describe the need in both the target areas as well as the entire jurisdiction.

(2) Document the following:

(a) Numbers and percentages of children with elevated blood lead levels, particularly in the areas targeted in your proposal;

(b) Economic and demographic data relevant to the target area, including poverty and unemployment rates;

(c) Housing market data available from HUD, or other data sources, including the Consolidated Plan/Analysis of Impediments, Public Housing Authority's Five Year Comprehensive Plan, State or local Welfare Department's Welfare Reform Plan;

(d) Other data relevant to the target area or jurisdiction that may document an unmet need. These data may include the number of lead poisoned children where the identified lead-based paint hazards have not been remediated, the number of lead-based paint health and/or housing code violations, or the number of pre-1978 housing units anticipated to undergo rehabilitation in the next 12 months; or

(3) To the extent that statistics and other data contained in your community's Consolidated Plan or Analysis of Impediments to Fair Housing Choice (AI) support the extent of the problem, you should include references to the Consolidated Plan and the AI in your response.

(4) Provide information on your jurisdiction, and, the areas targeted for the lead hazard control activities (data may be available in your currently approved Consolidated Plan, derived from 1990 Census Data, or special local studies):

(a) The age and condition of housing;

(b) The number and percentage of very-low (income less than 50% of the area median) and low (income less than 80% of the area median) income families, as determined by HUD, with adjustments for smaller and larger families;

(c) The number and proportion of children under six years (72 months) of age at risk of lead poisoning;

(d) The extent of the lead poisoning problem in children under six years of age in target areas and the overall jurisdiction; and

(e) Other socioeconomic or environmental factors that demonstrate a need to establish or continue lead hazard control work in your jurisdiction.

(5) You also must provide documentation of the priority that the community's Consolidated Plan and Analysis of Impediments has placed on addressing the needs you described.

(6) If your application addresses needs that are in the Consolidated Plan, Analysis of Impediments to Fair Housing Choice, court orders or consent decrees, settlements, conciliation agreements, and voluntary compliance agreements, you will receive more points than applicants that do not relate their program to identified needs.

(7) For you to receive maximum points for this factor, there must be a direct relationship between your proposed activities, community needs, and the purpose of the program funding. If the data presented in your response does not specifically represent your target area, you should discuss why the target areas were proposed.

Rating Factor 3: Soundness of Approach (45 points for previously unfunded applicants and 30 points for existing grantees)

This factor addresses the quality and cost-effectiveness of your proposed work plan. You should present information on your proposed lead-based paint hazard control program and describe how it will satisfy the identified needs. To the extent possible, describe a comprehensive strategy to address the need to protect targeted neighborhoods rather than individual units or homes. Your response to this factor must include the following elements:

(1) Lead Hazard Control Strategy (37 points for previously unfunded applicants; 22 points for existing grantees). Describe your strategy to plan and execute your lead hazard control grant program. You should provide information on:

(a) Implementing a Lead Hazard Control Program (16 points for previously unfunded applicants; 8 points for existing grantees). Describe how you will implement the strategy for your proposed lead hazard control program. The description must include information on:

(i) How your previous experience in reducing or eliminating lead-based paint hazards in conjunction with other Federal, State or locally funded programs will facilitate such implementation.

(ii) Your overall strategy for the identification, selection, prioritization, and enrollment of units of eligible privately-owned housing for lead hazard control. Describe the proposed activities that will occur in an EZ/EC and how they will benefit the residents of those zones or communities. Provide estimates of the total number of owner occupied and/or rental units which will receive lead hazard control. You should describe how you will respond to the needs of EBL children located outside the targeted areas.

(iii) The degree to which the work plan focuses on eligible privately-owned housing units with children under six years (72 months) old. Describe your planned approach to control lead hazards before children are poisoned and/or to control lead hazards in units where children have already been identified with an elevated blood lead level. Describe your process for referring and tracking children with elevated blood lead levels for medical case management. Provide estimates of the number of children you will assist through this program.

(iv) The financing strategy, including eligibility requirements, terms, conditions, and amounts available, you will use in carrying out lead hazard control activities. You must discuss the way these funds will be administered (e.g. use of grants, deferred loans, forgivable loans, other resources, private sector financing, etc.), as well as the agency that will administer the financing process. Describe any matching requirements proposed for assistance to investor-owned properties. Investor-owner match that is a program requirement should also be reflected in your response to Factor 4.

(v) You should describe how your proposed program will satisfy the stated needs or will assist in addressing the impediments in the AI. Describe how your proposed program will further and support the policy priorities of the Department, including promoting healthy homes; providing opportunities for self-sufficiency, particularly for persons enrolled in welfare to work programs; or providing educational and job training opportunities. Describe how your strategy will provide long-term benefits to families with children under six years of age.

(b) Lead Hazard Control Outreach and Community Involvement (5 points for all applicants). Your application must describe:

(i) Proposed methods of community education. These may include community awareness, education, training, and outreach programs in support of the work plan and objectives. This description should include general and/or targeted efforts undertaken to assist your program in reducing lead exposure. Programs should be culturally sensitive, targeted, and linguistically appropriate. Upon request, this would include making materials available in alternative formats to persons with disabilities (e.g., Braille, audio, large type), and in other languages common to the community to the extent possible.

(ii) How you intend to involve neighborhood or community-based organizations in your proposed activities. Your activities may include training, outreach, community education, marketing, inspection (including dust lead testing), and the conduct of lead hazard control activities. HUD will evaluate the level of substantive involvement during the review process.

(iii) Outreach strategies and methodologies to affirmatively further fair housing and provide lead-safe housing to all segments of the population: homeowners, owners of rental properties, and tenants. Once the population to which outreach will be “targeted” is identified, outreach strategies directed specifically to them should be multifaceted. This criterion goes beyond testing and hazard control; it concerns what happens to the units after lead hazard control activities are completed and tries to ensure, for the long term, that all families will have adequate, lead-safe housing choices.

(c) Technical Approach for Conducting Lead Hazard Control Activities (16 points for previously unfunded applicants; 9 points for existing grantees).

(i) Describe your process for the conduct of risk assessments and/or inspections in units of eligible privately-owned housing in which you will undertake lead hazard control. You may include housing which has a valid risk assessment or inspection which had been previously performed by certified inspectors or risk assessors, in accordance with the HUD Guidelines and identified with lead-based paint hazards.

(ii) Describe your testing methods, schedule, and costs for performing blood lead testing, risk assessments and/or inspections to be used. If you propose to use a more restrictive standard than the HUD thresholds (e.g., 0.5% or 1.0 mg/cm2), identify the lead-based paint threshold for undertaking lead hazard control which will be used. All testing shall be performed in accordance with the HUD Guidelines.

(iii) Describe the lead hazard control methods you will undertake and the number of units you will treat for each method selected (interim controls, hazard abatement, and complete abatement). Provide an estimate of the per unit costs (and a basis for those estimates) for each lead hazard control method proposed and a schedule for initiating and completing lead hazard control work in the selected units. Discuss efforts to incorporate cost-effective lead hazard control methods (if you propose complete abatement, provide HUD with a detailed rationale for that decision). Explain your cost estimates, providing detail on how the estimates were developed, with particular references to cost effectiveness.

(iv) Schedule. Describe your expected schedule for the overall project. Discuss when you plan to complete planning and receive approval of your workplan; perform lead hazard control on your first unit; and complete lead hazard control on all units in your workplan and grant agreement.

Describe the schedule for a typical unit which will receive lead hazard control. Discuss the duration for enrollment and qualification; evaluation; hazard control; and clearance.

(v) Describe how you will integrate proposed lead hazard control activities with rehabilitation activities, including the training needed to create a workforce properly trained in lead-safe work practices for units being treated under other HUD programs.

(vi) Describe your contracting process, including development of specifications for selected lead hazard control methods. Describe the management processes you will use to ensure the cost-effectiveness of your lead hazard control methods. Your application must include a discussion of the contracting process for the conduct of lead hazard control activities in the selected units.

(vii) Describe your plan for occupant protection or the temporary relocation of occupants of units selected for lead hazard control work. You should address the use of safe houses and other housing arrangements, storage of household goods, stipends, incentives, etc.

(viii) If you are an existing grantee, you must describe the actions you will take to ensure that your proposed lead hazard control work will occur concurrently with other ongoing HUD lead hazard control grant work. Your application must provide the detail necessary to assure HUD that you will implement the proposed work immediately and perform it concurrently with existing lead hazard control grant work.

(ix) If you are an existing grantee, you must describe your progress in implementing your most recent lead hazard control grant award. If the production achieved is below the performance values (percentages of units completed) provided in the application kit, and no changes are proposed, you should explain why the strategy in the earlier grant remains appropriate. Failure to provide this discussion will result in reduced points for this subfactor.

(2) Economic Opportunity (4 points for all applicants). Describe the ways you will train individuals and contractors in housing related trades, such as painters, remodelers, renovators, maintenance personnel, and rehabilitation specialists, and others in lead-safe practices. Describe how you will integrate such practices into lead hazard control activities including interim control work conducted on HUD assisted housing units being treated under the provisions of the HUD Lead-Safe Housing Regulation.

Describe the methods to be used to provide economic opportunities for residents and businesses in the community. This discussion should include information on how you will promote training, employment, business development, and contract opportunities as part of your lead hazard control program. Describe how you will accomplish the requirements of section 3 of the Housing and Urban Development Act of 1968 to give preference to hiring of low-and very low-income persons or contracting with businesses owned by or employing low-and very low-income persons.

(3) Program Evaluation, Data Collection, and Research (4 points for all applicants).

(a) Identify and discuss the specific methods and measures you will use (in addition to HUD reporting requirements) to measure progress, evaluate program effectiveness, and identify program changes necessary to improve performance. Describe how you will obtain, document and report the information.

(b) Provide a detailed description of any proposed applied research activities. Describe the objectives, methodology and impact at the local level of the proposed research activities.

Rating Factor 4: Leveraging Resources (10 Points)

This factor addresses your ability to obtain other community resources (financing is a community resource) and private resources that can be combined with HUD's program resources to achieve program objectives.

(1) In evaluating this factor, HUD will consider the extent to which you have established working partnerships with other entities to get additional resources or commitments to increase the effectiveness of the proposed program activities. Resources may include cash or in-kind contributions (such as services or equipment) allocated to the proposed program. Resources may be provided by governmental entities, public or private organizations, or other entities partnering with you. Leveraging arrangements with investor-owners may have the benefits of increasing the efficiency of public lead hazard expenditures and creating a financial stake for investor owners in the quality of lead hazard control work. In advance of the actual agreements with investor-owners, however, it may be difficult to predict the precise amount of contributions they will generate. Contractual or other formal relationships with community-based organizations are a requirement for State and local government applicants. Applicants which do not have such partnerships at the time of application will be required to establish partnership relationships with community-based organizations immediately following notification of grant award (this requirement does not apply to you if you are an Indian Tribe applicant). You also may partner with other program funding recipients to coordinate the use of resources in your target area.

(2) You should detail any activities to increase the understanding of lead poisoning prevention activities in your community. This could include partnerships with childhood lead screening programs or collaboration with ongoing health, housing or environmental research efforts which could result in a greater availability of resources.

(3) Matching funds must be shown to be specifically dedicated to and integrated into supporting the lead-based paint hazard control program. You may not include funding from any Federally funded program (except the CDBG program) as part of your required 10% match. Other resources committed to the program that exceed the required 10% match will provide points for this rating factor and may include funds from other Federally funded programs. You must support each source of contributions, cash or in-kind, both for the required minimum and additional amounts, by a letter of commitment from the contributing entity, whether a public or private source. This letter must describe the contributed resources that you will use in the program. Staff in-kind contributions should be given a monetary value. If you do not provide letters specifying details and the amount of the actual contributions, those contributions will not being counted. Matching contributions required of investor-owners may be included as part of your match. Documentation and estimates for the amount of the match should be provided in the annex for this factor.

(4) For meeting the required match, you must provide evidence of leveraging or partnerships by including letters of firm commitment, memoranda of understanding, or agreements to participate from those entities identified as partners in your application. Each letter of commitment, memorandum of understanding, or agreement to participate should include the organization's name, the proposed level of commitment and responsibilities as they relate to your proposed program. The commitment must be signed by an official of the organization legally able to make commitments on behalf of the organization. Describe the role of community-based organizations in specific program activities, such as hazard evaluation and control; monitoring; and awareness, education, and outreach within the community.

Rating Factor 5: Comprehensiveness and Coordination (10 Points)

This factor addresses the extent to which your program reflects a coordinated, community-based process of identifying needs and building a system to address current and future needs by using available HUD and other community resources. In evaluating this factor, HUD will consider how you have:

(1) Coordinated your proposed activities with those of other groups or organizations to best support and coordinate all known activities and the specific steps you will take to share information on solutions and outcomes with others. Any written agreements or memoranda of understanding in place or proposed should be described. You should, at a minimum, describe the activities, in your metropolitan area or region, of other HUD Lead-Based Paint Hazard Control grantees, Centers for Disease Control and Prevention (CDC) Childhood Lead Poisoning Prevention grantees, HUD or EPA Lead Outreach and Education grantees, and other programs which are addressing lead poisoning prevention needs. Coordination also includes providing technical assistance and training to neighboring or regional jurisdictions to facilitate the implementation of lead-based paint hazard control activities in those jurisdictions.

(2) Become actively involved (or if not currently active, the specific steps it will take to become active) in your community's Consolidated Planning and Analysis of Impediments process established to identify and address a need/problem that is related in whole, or part, directly, or indirectly to the activities you propose.

(3) Developed linkages, or the specific steps you will take to develop linkages with other activities, programs or projects through meetings, information networks, task forces, planning processes or other mechanisms to coordinate your activities so solutions are comprehensive, including linkages with:

(a) Other HUD funded projects/activities outside the scope of those covered by the Consolidated Plan; and

(b) Other HUD, Federal, State or locally funded activities, including those proposed or on-going in the community(s) served.

(4) Coordinated and integrated lead hazard control work with housing rehabilitation, housing and health codes, other related housing programs, or including work of community development corporations and childhood lead poisoning prevention programs.

(a) Describe the degree to which lead hazard control work will be done in conjunction with other housing-related activities (i.e., rehabilitation, weatherization, correction of code violations, and other similar work), or your plan for the integration and coordination of lead hazard control activities into those activities in the future.

(b) Describe plans to incorporate lead-based paint maintenance, essential maintenance practices, and hazard control standards with the applicable housing codes and health regulations, including training of workers to conduct such activities.

(c) Describe plans to generate and use public subsidies or other resources (such as revolving loan funds) to finance future lead hazard control activities.

(d) Describe plans to develop public-private lending partnerships to finance lead hazard control as part of acquisition and rehabilitation financing including the use of Community Reinvestment Act “credits” by lending institutions.

(e) Evidence firm commitments from participating organizations by describing:

(i) The name of each organization;

(ii) The capabilities or focus of each organization;

(iii) The proposed level of effort of each organization; and

(iv) The resources and responsibilities of each organization, including the applicant's clearly proposed plans for the training and employment of low-income residents.

(f) Described specific plans and objectives to implement a registry of lead-safe housing into your community's planning. Such plans could include strategies on how the information would be managed and made available to the public so that families (particularly low income families with children under age six) can make informed decisions regarding their housing options. Existing grantee applicants must address any registry of lead-safe housing and specifically discuss the availability, amount of information contained, and the use by members of the community. Describe your plans to develop and maintain a registry of publicly available information on lead-safe units.

(g) Detail the extent to which the policy of affirmatively furthering fair housing for all segments of the population is advanced by the proposed activities. Detail how your proposed work plan will support the community's efforts to further housing choices for all segments of the population. If you have an existing grant, you should discuss activities which have contributed to enhanced lead safe housing opportunities to all segments of the population.

(h) Describe plans to adopt or amend statutes, regulations, or policies which will more fully integrate lead hazard control into community policies and priorities.

(5) Describe how the lead hazard control efforts which are focused in the Empowerment Zone/Enterprise Community will directly benefit the residents or community in that EC/EZ.

(6) Describe efforts to coordinate and cooperate with other organizations which will lead to a reduction in lead risks to community residents. This could include such activities as free training to create a workforce properly trained in lead safe work practices, lead-safe repainting and remodeling; promotion of essential maintenance practices; and provision of lead dust testing to low-income, privately-owned homes which may not receive lead hazard control assistance under this grant program.

VI. Application Submission Requirements

(A) Applicant Information. (1) Application Format. The application narrative response to the Rating Factors is limited to a maximum of 25 pages. Your response must be typewritten on one (1) side only on 8 1/2” x 11” paper using a 12 point (minimum) font with not less than 3/4” margins on all sides. Appendices should be referenced and discussed in the narrative response. Materials provided in the appendices should directly apply to the rating factor narrative.

(2) Application Checklist. Your application must contain the items listed in this Section VI(A)(B). These items include the standard forms, certifications, and assurances listed in the General Section of the SuperNOFA that are applicable to this funding (collectively, referred to as the “standard forms”). The standard forms can be found in Appendix B to the General Section of the SuperNOFA. The remaining application items that are forms (i.e., excluding such items as narratives, letters), referred to as the “non-standard forms” can be found as Appendix A to this program section of the SuperNOFA. The application items are as follows:

(a) Transmittal Letter that identifies “the applicant” (or applicants) submitting the application, the dollar amount requested, what the program funds are requested for, and the nature of involvement with community-based organizations.

(b) The name, mailing address, telephone number, and principal contact person of “the applicant.” If you have consortium associates, sub-grantees, partners, major subcontractors, joint venture participants, or others contributing resources to your project, you must provide similar information for each of these partners.

(c) Checklist and Submission Table of Contents.

(d) Applicant Abstract. An abstract describing the goals and objectives of your proposed program (2 page maximum).

(e) Standard Form 424, Application for Federal Assistance.

(f) HUD 424M, Federal Assistance Funding Matrix.

(g) A detailed budget (total budget is the federal share and matching contribution) with supporting cost justifications for all budget categories of your grant request. You must provide a separate estimate for the overall grant management element (Administrative Costs), which is more fully defined in the application kit for this program section of the SuperNOFA. The budget shall include not more than 10% for administrative costs and not less than 90% for direct project elements. A minimum of 60% of the total Federal amount requested must be dedicated to direct lead hazard control activities. A minimum of 2% of the total Federal amount must be dedicated to activities to create a workforce properly trained in lead-safe work practices. In the event of a discrepancy between grant amounts requested in various sections of the application, the amount you indicate on the SF-424 will govern as the correct value.

(h) An itemized breakout (using the SF-424A) of your required matching contribution, including:

—Values placed on donated in-kind services;

—Letters or other evidence of commitment from donors; and

—The amounts and sources of contributed resources.

(i) Standard Forms SF-LLL and SF-424B, and HUD Forms 2880, 2990, 2991, 2992, 2993, 2994, 50070 and 50071.

(j) Contracts, Memoranda of Understanding or Agreement, letters of commitment or other documentation describing the proposed roles of agencies, local broad-based task forces, participating community or neighborhood-based groups or organizations, local businesses, and others working with the program.

(k) A copy of the lead hazard control element included in your current program year's Consolidated Plan. You should include the discussion of any lead-based paint issues in your jurisdiction's Analysis of Impediments, particularly as it addresses your target areas.

(l) Narrative responses to the five rating factors.

(B) Proposed Activities. All applications must, at a minimum, describe the proposed activities in the narrative responses to the rating factors. Your narrative statement must be numbered in accordance with each factor for award (Rating Factors 1 through 5).

VII. Corrections to Deficient Applications

The General Section of the SuperNOFA provides the procedures for corrections to deficient applications.

VIII. Environmental Requirements

In accordance with HUD regulations in 24 CFR part 58, recipients of lead-based paint hazard control grants will assume Federal environmental review responsibilities. Recipients of a grant under this funded program will be given guidance in these responsibilities.

IX. Authority

The Lead-Based Paint Hazard Control Program is authorized by section 1011 of the Residential Lead-Based Paint Hazard Reduction Act of 1992 (Title X of the Housing and Community Development Act of 1992).

Appendix A

The non-standard forms, which follow, are required for your Lead-Based Paint Hazard Control Program application. They are the Checklist and Submission Table of Contents and the Total Budget (Federal Share and Matching Contribution, including instructions).

BILLING CODE 4210-32-P

FUNDING AVAILABILITY FOR HEALTHY HOMES RESEARCH PROGRAM OVERVIEW

Purpose of the Program. To fund research to improve methods for detecting and controlling residential environmental health and safety (EHS) hazards. The purpose of the Healthy Homes Initiative is to develop, demonstrate and promote cost effective, preventive measures to correct multiple safety and health hazards in the home environment which produce serious diseases and injuries in children.

Available Funds. Approximately $1.5 million.

Eligible Applicants. Academic and not-for-profit institutions located in the U.S., State and local governments, and Federally-recognized Indian tribes are eligible to apply. For-profit firms also are eligible; however, they are not allowed to earn a fee.

Application Deadline. May 17, 2001.

Match. None required.

Additional Information

If you are interested in applying for funding under this program, please review carefully the General Section of this SuperNOFA and the following additional information.

I. Application Due Date, Application Kits, Further Information, and Technical Assistance

Application Due Date. Submit an original and four copies of your completed application on or before 12:00 midnight, Eastern time, on May 17, 2001, at the address shown below.

See the General Section of this SuperNOFA for specific procedures that you must follow for the form of application submission (e.g., mailed applications, express mail, overnight delivery, or hand carried).

Address for Submitting Applications. For Mailed Applications. The address for mailed applications is: Department of Housing and Urban Development, Office of Healthy Homes and Lead Hazard Control, 451 Seventh Street, SW, Room P3206, Washington, DC 20410.

For Overnight/Express Mail or Hand Carried Applications. The address for applications that are hand carried or sent via overnight/express mail delivery is: HUD Office of Healthy Homes and Lead Hazard Control, Suite 3206, 490 L'Enfant Plaza, SW, Washington, DC 20024. Hand carried applications will be accepted at this address (490 L'Enfant) up until 5:00 pm on the application due date.

After 5:00 pm on the application due date, hand carried applications will be accepted until 12:00 midnight, in the South Lobby of HUD Headquarters, 451 Seventh Street, SW, Washington, DC 20410.

For Application Kits. You may obtain an application kit from the SuperNOFA Information Center at 1-800-HUD-8929. Persons with speech or hearing impairments may call the Center's TTY number at 1-800-HUD-2209. When requesting an application kit, please refer to the Healthy Homes Research grant program. Please be sure to provide your name, address (including zip code), and telephone number (including area code).

For Further Information and Technical Assistance. You may contact: Ms. Ellen Taylor, Office of Healthy Homes and Lead Hazard Control, at the address above; telephone (202) 755-1785, extension 116, or Ms. Karen Williams, Grants Officer, extension 118 (these are not toll-free numbers). Hearing- and speech-impaired persons may access the above telephone number via TTY by calling the toll-free Federal Information Relay Service at 1-800-877-8339.

Satellite Broadcast. HUD will hold an information broadcast via satellite for potential applicants to learn more about the program and preparation of the application. For more information about the date and time of the broadcast, you should consult the HUD web site at http://www.hud.gov.

II. Amount Allocated

Approximately $1.5 million will be available to fund research proposals in FY 2001. Grants or cooperative agreements will be awarded on a competitive basis according to the Rating Factors described in Section V(B). HUD anticipates awarding three to five grants ranging from approximately $200,000 to approximately $600,000.

III. Program Description; Eligible Applicants; Eligible Activities

(A) Program Description. Background. In the FY 2001 Budget, HUD received a third year of funding to continue the Healthy Homes Initiative (sometimes referred to as the “Initiative” or “HHI”) that protects children from housing conditions responsible for multiple diseases and injuries. The Initiative departs from the more traditional approach of attempting to correct one hazard at a time (e.g., asbestos, radon). In April 1999, HUD submitted to Congress a preliminary plan containing a full description of the Initiative. This description (Summary and Full Report) is available on the HUD website at www.hud.gov/offices/lead.

In addition to deficiencies in basic housing facilities that may impact health, changes in the U.S. housing stock and more sophisticated epidemiological methods and biomedical research have led to the identification of new and often more subtle health hazards in the residential environment (e.g., indoor air quality hazards). While such hazards will tend to be found disproportionately in housing that is substandard (e.g. structural problems, lack of adequate heat, etc.), such housing-related environmental hazards may also exist in housing that is otherwise of good quality. Appendix A to this Healthy Homes Research program section of the SuperNOFA briefly describes the housing-associated health and injury hazards HUD considers key targets for intervention. Appendix B to this Healthy Homes Research program section of the SuperNOFA lists the references that serve as the basis for the information provided in this Healthy Homes Research section of this SuperNOFA.

HUD is interested in promoting approaches that are cost-effective and efficient and that result in the reduction of health threats for the maximum number of residents for the long run, and in particular low-income children. The overall goals and objectives of the HHI are:

(1) Mobilize public and private resources, involving cooperation among all levels of government, the private sector, and community-based organizations to develop the most promising, cost-effective methods for identifying and controlling housing-based hazards.

(2) Build local capacity to operate sustainable programs that will continue to prevent and, where they occur, minimize and control housing-based hazards in low and very low income residences when HUD funding is exhausted.

(3) Affirmatively further fair housing and environmental justice. HUD recognizes that there are many key scientific and implementation questions related to this Initiative, some of which were articulated in the HHI Preliminary Plan. With this NOFA, HUD hopes to advance the recognition and control of residential environmental health and safety hazards and more closely examine the link between housing and health.

(B) Eligible Applicants. Academic and not-for-profit institutions located in the U.S., State and local governments and Federally-recognized Indian tribes are eligible under all existing authorizations. For-profit firms also are eligible; however, they are not allowed to earn a fee (i.e., no profit can be made from the project). Federal agencies and Federal employees are not eligible to submit applications. The General Section of the SuperNOFA provides additional eligibility requirements.

(C) Eligible Activities. (1) General Goals and Objectives. The overall goal of this research is to gain knowledge to improve the efficacy and cost-effectiveness of methods for evaluation and control of environmental health and safety hazards in the home. Through the Healthy Homes Initiative, HUD is assessing and promoting new risk reduction techniques and research on the control of key hazards described in Appendix A. Objectives to be addressed by these projects are:

(a) Investigation of the epidemiology of housing-related hazards and illness and injury.

(b) Development and assessment of low-cost test methods and protocols for identification and assessment of housing-related hazards.

(c) Development and assessment of cost-effective methods for reducing or eliminating housing-related hazards.

(d) Evaluation of the effectiveness of housing interventions and public education campaigns, and barriers and incentives affecting future use of the most cost-effective strategies.

(f) Investigation of the environmental health effects on children living in deteriorated housing and the impact on their development and productivity.

A table of examples of current Healthy Homes and lead-related research projects being funded by HUD can be found in Appendix C.

(2) HUD is interested in the following research topics:

(a) Evaluation of residential Environmental Health and Safety (EHS) hazard control methodologies.

—Controlling excess moisture and dust, and improving indoor air quality (e.g., controlling combustion products) have been identified as key areas in the HHI Preliminary Plan.

(b) Low-cost analytical techniques for the rapid, on-site determination of environmental contaminants of concern (e.g., bioaerosols, pesticides, allergens).

—Establish and validate any necessary procedures, such as extraction and/or digestion, that would work well with the field device/procedure.

—Examine old technology (e.g., colorimetric tests, titrimetric procedures) as well as newer techniques.

—Consider the safety and environmental impacts of the procedure, particularly as used in the field.

(c) New or Novel Methods of EHS Hazard Evaluation or Control, or other areas of research that are consistent with the overall goals of this research program section of the SuperNOFA.

—Identify and evaluate new methods and/or techniques for EHS hazard control in the residential environment.

—Identify materials and/or procedures that may be used for abatement or for interim controls.

—Show the potential utility of these methods for hazard control and risk reduction.

—Evaluate critical elements and potential weaknesses of the methods or techniques, and address how to minimize the effect of each critical element and/or eliminate or mitigate each weakness.

—Demonstrate where and how these methods have been applied and tested, and/or perform demonstration activities.

—Illustrate the results obtained, and the costs involved.

—Recommend cost-effective changes to the Program for inclusion in future HUD Healthy Homes Initiative grants.

—Additional ideas will be considered with an open mind toward novel techniques and applications.

Although HUD is soliciting proposals for research on these specific topics, the Department will also consider funding applications for research on topics which are relevant under the overall goals and objectives of this research, as described above. In such instances, the applicant should describe how the proposed research activity addresses these overall goals and objectives.

Applicants should consider the efficiencies that might be gained by working cooperatively with some of the recipients of HUD Healthy Homes and Lead Hazard Control grants, who are widely distributed throughout the U.S. Information on current grantees is available at www.hud.gov/offices/lead.

You may address one or more of the research topic areas within your proposal, or submit separate applications for different topic areas. Projects need not address all of the objectives within a given topic area.

IV. Program Requirements.

(A) Applicable Requirements. Please refer to Section II of the General Section of the SuperNOFA, Requirements and Procedures Applicable to All Programs. The threshold requirements are listed in Section II.B of the General Section of this SuperNOFA.

(B) Certifications and Assurances. In addition to the certifications mentioned in the Section II(G) of the General Section of the SuperNOFA, you must comply with the following:

(1) All relevant State and Federal regulations regarding exposure to and proper disposal of hazardous materials.

(2) Any blood lead testing, blood lead level test results, and medical referral and follow-up for children under six years of age will be conducted according to the recommendations of the Centers for Disease Control and Prevention (CDC) Preventing Lead Poisoning in Young Children, (See Appendix B of this research program section of the SuperNOFA).

(3) HUD research grant funds will not replace existing resources dedicated to any ongoing project.

(4) Laboratory analysis covered by the National Lead Laboratory Accreditation Program (NLLAP) will be conducted by a laboratory recognized under the program.

(5) Human research subjects will be protected from research risks in conformance with Federal Policy for the Protection of Human Subjects, codified by HUD at 24 CFR part 60.

(6) The requirements of OSHA (e.g., 29 CFR part 1910 and/or 1926, as applicable), or the State or local occupational safety and health regulations, whichever are most stringent, will be met.

(C) Period of Performance. The period of performance cannot exceed 36 months from the time of award.

V. Application Selection Process

(A) Submitting Applications for Grants. Applications that meet all of the threshold requirements will be eligible to be scored and ranked, based on the total number of points allocated for each of the rating factors described below in Section V(B) of this program section of the SuperNOFA. Your application must receive a total score of at least 65 points to remain in consideration for funding.

Awards will be made in rank order, within the limits of funding availability.

You may address more than one of the research topic areas within your proposal, or submit separate applications for different topic areas. Projects need not address all of the objectives within a given topic area. While you will not be penalized for not addressing all of the specific objectives for a given topic area, if two applications for research in a given topic have equal scores, HUD will select the applicant whose project addresses the most objectives.

You are encouraged to plan projects that can be completed over a short time period (e.g., 12 to 24 months from the date of award) so useful information generated from the research can be available for policy or program decisions and disseminated to the public as quickly as possible.

Regarding the amount to be awarded to the selected applicants, please refer to the Negotiations section in the General Section of this SuperNOFA.

(1) Use of Residual Funds. In the selection process, HUD reserves the right to offer partial funding to any or all applicants. If you are offered a reduced grant amount, you will have a maximum of seven (7) calendar days to accept such a reduced award. If you fail to respond within the seven day limit, you shall be considered to have declined the award.

(B) Rating Factors. The factors for rating and ranking applicants, and maximum points for each factor, are provided below. The maximum number of points to be awarded is 100. The EZ/EC bonus points described in the General Section of the SuperNOFA do not apply to this Research NOFA.

Rating Factor 1: Capacity of the Applicant and Relevant Organizational Experience (20 Points)

This factor addresses the extent to which you have the ability and organizational resources necessary to successfully implement your proposed activities in a timely manner. The rating of you, the “applicant,” will include any sub-grantees, consultants, sub-recipients, and members of consortia that are firmly committed to the project (generally, “subordinate organizations”). In rating this factor HUD will consider the extent to which your application demonstrates:

(1) The capability and qualifications of the principal investigator and key personnel (10 points). Qualifications to carry out the proposed study as evidenced by academic background, relevant publications, and recent (within the past 10 years) relevant research experience. Publications and research experience are considered relevant if they required the acquisition and use of knowledge and skills that can be applied in the planning and execution of the research that is proposed under this program section of this SuperNOFA.

(2) Past performance of the research team in managing similar research (10 points). Demonstrated ability to successfully manage various aspects of a complex research study in such areas as logistics, research personnel management, data management, quality control, community research involvement (if applicable), and report writing, as well as overall success in project completion (i.e., research completed on time and within budget). You should also demonstrate that your project would have adequate administrative support, including clerical and specialized support in areas such as accounting and equipment maintenance.

Rating Factor 2: Need/Extent of the Problem (15 Points)

This factor addresses the extent to which there is a need for your proposed program activities to address documented problems, target areas or target groups. In responding to this factor, you should document in detail how your research would make a significant contribution towards achieving some or all of HUD's stated goals and objectives for one or more of the topic areas described in Sections III (A) and (C)(2)(a)-(c) of this program section of the SuperNOFA.

(1) Your rating will be based on the scope and completeness of your documentation which should include available data linking housing-based hazards to disease or injuries to children. Examples of data that might be used to demonstrate need include:

(a) Rates of childhood illnesses or injuries (e.g., asthma, burns) that could be caused or exacerbated by exposure to conditions in the home environment and/or rates of environmentally-related disease or adverse health effects (e.g., hypertension, elevated blood lead levels) that would be addressed by your research;

(b) Unavailability of other Federal, State or local funding or private sector resources that could be, or is used, to address the problem. This includes current research projects for which funding will be terminated or significantly reduced in the next 12 months.

(c) Data documenting affected groups or areas that are traditionally underserved or have special needs.

(2) If your application addresses needs that are in the Consolidated Plan, Analysis of Impediments to Fair Housing Choice (AI), court orders or consent decrees, settlements, conciliation agreements, and voluntary compliance agreements, you will receive more points than applicants that do not relate their program to identified need.

(3) In addition, if you are seeking funding for “other” research, as is described in section III(C)(2)(c), you must document the importance and need for the research with respect to addressing the overall goal of this research program, and providing measurable positive impact on children's health.

Rating Factor 3: Soundness of Approach (45 Points)

This factor addresses the quality of your proposed research plan. Specific components include the following:

(1) Soundness of the study design (25 points). The project description/study design must be thorough and feasible, and reflect your knowledge of the relevant scientific literature. You should include a plan for analyzing and archiving data. You should approach your study design as a project with a goal, some activities with associated tasks, a time frame, and an associated cost.

(2) Quality assurance mechanisms (8 points). You must describe the quality assurance mechanisms which will be integrated into your research design to ensure the validity and quality of the results. Areas to be addressed include acceptance criteria for data quality, procedures for selection of samples/sample sites, sample handling, measurement and analysis, and any standard/nonstandard quality assurance/control procedures to be followed. Documents (e.g., government reports, peer-reviewed academic literature) which provide the basis for your quality assurance mechanisms should be cited.

(3) Project management plan (5 points). The proposal should include a management plan that provides a schedule for the completion of major activities, tasks and deliverables, with an indication that there will be adequate resources (e.g., personnel, financial) to successfully meet the proposed schedule. Projects with a duration of 24 months or less will be awarded more points in this category than projects with a longer duration.

(4) Project Evaluation (5 points). You are required to identify and discuss the specific methods you will use to measure progress towards your goals, track and report results of your research, and evaluate the effectiveness of your project:

(i) Discuss the performance goals for your project and identify specific outcome measures;

(ii) Describe how the outcome information will be obtained, documented, and reported; and

(iii) Identify the major milestones for your project, and describe how your progress towards these milestones will be tracked, recorded and reported.

(5) Budget Proposal (2 Points). Your budget proposal should thoroughly estimate all applicable direct and indirect costs, and be presented in a clear and coherent format in accordance with the requirements listed in the General Section of this SuperNOFA. HUD is not required to approve or fund all proposed activities. Your budget should be submitted in the format recommended; an electronic spreadsheet is available on HUD's website, www.hud.gov/offices/lead. You must thoroughly document and justify all budget categories and costs (Part B of Standard Form 424A) and all major tasks, for yourself, sub-recipients, partners, major subcontractors, joint venture participants, or others contributing resources to the project. Your budget proposal should be activity and task related.

Rating Factor 4: Leveraging Resources (10 Points)

Your proposal should demonstrate that the effectiveness of the HUD research grant funds are being increased by securing other public and/or private resources or by structuring the research in a cost-effective manner, such as integrating the project into an existing research effort. Resources may include funding or in-kind contributions (such as services, facilities or equipment) allocated to the purpose(s) of your research. Staff and in-kind contributions should be given a monetary value.

You should provide evidence of leveraging/partnerships by attaching to your application the following: letters of firm commitment, memoranda of understanding, or agreements to participate from those entities identified as partners in the research efforts. Each letter of commitment, memorandum of understanding, or agreement to participate should include the organization's name, proposed level of commitment (with monetary value) and responsibilities as they relate to specific activities or tasks of your proposed program. The commitment must also be signed by an official of the organization legally able to make commitments on behalf of the organization.

Rating Factor 5: Comprehensiveness and Coordination (10 Points)

You should describe how the results of your proposed research efforts will support planning, policy development, implementation of healthy homes programs, and/or public education in the area of residential EHS hazard control or in accordance with the goals and operations of the Partnership for Advancing Technology in Housing (PATH) (refer to Section VI(E) of the General Section of the SuperNOFA). If your application involves a particular community, it should relate to the community's Consolidated Plan and Analysis Impediments to Fair Housing Choice. In addition, you should also address the extent to which your research could be used to expand fair housing choice and to affirmatively further fair housing.

VI. Application Submission Requirements

(A) Applicant Data. Your application must contain the items listed in this Section (VI(A)). These items include the standard forms, certifications, and assurances listed in the General Section of the SuperNOFA that are applicable to this funding (collectively, referred to as the “standard forms”). The standard forms can be found in Appendix B to the General Section of the SuperNOFA. The remaining application items that are forms (i.e., excluding such items as narratives), referred to as the non-standard forms can be found as Appendix D to this program section of the SuperNOFA: The items are as follows:

(1) Transmittal Letter that identifies what the research program funds are requested for, the dollar amount requested, and the applicant or applicants submitting the application. If two or more organizations are working together on the research, a primary applicant must be designated.

(2) Checklist and Submission Table of Contents (see Appendix D).

(3) The name, mailing address, telephone number, and principal contact person of the prime applicant. If you have consortium associates, sub-grantees, partners, major subcontractors, joint venture participants, or others contributing resources to your project, similar information must be provided for each of these entities.

(4) Completed Forms HUD-2880, Applicant/Recipient Disclosure/Update Report; Certification Regarding Lobbying; and/or SF-LLL, Disclosure of Lobbying Activities, where applicable.

(5) Completed Standard Forms SF-424, 424M, 424A, 424B, and other certifications and assurances listed in the General Section of the SuperNOFA and in Section VII(B) of this program section of the SuperNOFA.

(6) A detailed total budget with supporting cost justification for all budget categories of the Federal grant request. Use the budget format discussed in Section V(B) Rating Factor 3:5, above. (See Appendix D.)

(7) A two-page (maximum) abstract containing the following information: The project title, the names and affiliations of all investigators, and a summary of the objectives, expected results, and study design described in the proposal.

(8) A project description/narrative statement addressing the rating factors for award of funding under this program section of the SuperNOFA. The narrative statement must be numbered in accordance with each factor for award (Rating Factors 1 through 5). The response to the rating factors should not exceed a total of 25 pages for each research topic area. Any pages in excess of this limit will not be read.

(9) Any important attachments, appendices, references, or other relevant information may accompany the project description, but must not exceed twenty (20) pages for the entire application. Any pages in excess of this limit will not be read.

(10) The resumes of the principal investigator and other key personnel. Resumes shall not exceed three pages each, and are limited to information that is relevant in assessing the qualifications of key personnel to conduct and/or manage the proposed research.

VII. Corrections to Deficient Applications

The General Section of the SuperNOFA provides the procedures for corrections to deficient applications.

VIII. Environmental Requirements

In accordance with 24 CFR 50.19(b)(1) and (5) of the HUD regulations, activities assisted under this program are categorically excluded from the requirements of the National Environmental Policy Act of 1969 (42 U.S.C. 4321) and are not subject to environmental review under the related laws and authorities.

IX. Authority

These grants are authorized under sections 1051 and 1052 of the Residential Lead Based Paint Hazard Reduction Act of 1992, which is Title X of the Housing and Community Development Act of 1992, sections 501 and 502 of the Housing and Urban Development Act of 1970, and the Departments of Veterans Affairs and Housing and Urban Development, and Independent Agencies Appropriations Act, 2001, Public Law 106-377, approved October 27, 2000.

Appendix A

The following briefly describes the housing-associated health and injury hazards HUD considers key targets for intervention:

Allergens and asthma: Experts estimate that 14 million Americans have asthma, with an associated annual cost of $14 billion. Asthma is now recognized as the leading cause of school and work absence, emergency room visits and hospitalization. For sensitized children, exposure to antigens from dust mites, certain pets, and cockroaches has been associated with more severe asthma. There is a preponderance of evidence showing a dose-response relationship between exposure and prevalence of asthma and allergies; some evidence also indicates that exposure to antigens early in life may predispose or hasten the onset of allergies and asthma. Dust mites have been identified as the largest trigger for asthma and allergies. Cockroach allergens appear to be excessive in 30-50% of inner-city housing and affect 5-15% of the population, whereas dust mite appears to be the dominant allergen in other environments.

Interventions known to have beneficial effects include installation of impervious mattress and pillow covers, which can reduce allergen exposure by 90%. Other dust mite control measures include dehumidification, laundering bedding, and removal of carpets and other dust sinks. Cleaning carpets with tannic acid solution has also been demonstrated to greatly reduce dust mites. Asthma prevention program costs have been estimated at about $500 per unit, which includes about $150 for educational interventions.

Asbestos: Asbestos is a mineral fiber that has been used commonly in a variety of building construction materials and household products for insulation and as a fire-retardant. The Environmental Protection Agency (EPA) and the Consumer Product Safety Commission (CPSC) have banned most asbestos products. Manufacturers have also voluntarily limited uses of asbestos. Today, asbestos is most commonly found in older homes: in pipe and furnace insulation materials, asbestos shingles, millboard, textured paints and other coating materials, and floor tiles. Elevated concentrations of airborne asbestos can occur when asbestos-containing materials (ACM) are disturbed by cutting, sanding or other remodeling activities. Improper attempts to remove these materials can release asbestos fibers into the air in homes, increasing asbestos levels and endangering people living in those homes. The most dangerous asbestos fibers are too small to be visible. After they are inhaled, they can remain and accumulate in the lungs. Asbestos can cause lung cancer, mesothelioma (a cancer of the chest and abdominal linings), and asbestosis (irreversible lung scarring that can be fatal). Most people with asbestos-related diseases were exposed to elevated concentrations on the job; some developed disease from exposure to clothing and equipment brought home from job sites. As with radon, dose-response extrapolations suggest that lower level exposures, as may occur when asbestos-containing building materials deteriorate or are disturbed, may also cause cancer.

Intact asbestos-containing materials are not a hazard; they should be monitored for damage or deterioration and isolated if possible. Repair of damaged or deteriorating ACM usually involves either sealing (encapsulation) or covering (enclosure) it. Repair is usually cheaper than removal, but it may make later removal of asbestos more difficult and costly. Repairs should be done only by a professional trained and certified to handle asbestos safely and can cost from a few hundred to a few thousand dollars; removal can be more expensive.

Combustion products of heating and cooking appliances: Burning of oil, natural gas, kerosene, and wood for heating or cooking purposes can release a variety of combustion products of health concern. Depending upon the fuel, these may include carbon monoxide (a chemical asphyxiant), oxides of nitrogen (respiratory irritants), polycyclic aromatic hydrocarbons (e.g., the carcinogen benzo[a]pyrene), and airborne particulate matter (respiratory irritants). Carbon monoxide, an odorless gas, can be fatal. Nitrogen dioxide can damage the respiratory tract, and sulfur dioxide can irritate the eyes, nose and respiratory tract. Smoke and other particulates irritate the eyes, nose and throat, and can cause lung cancer.

Improper venting and poor maintenance of heating systems and cooking appliances can dramatically increase exposure to combustion products. Experts recommend having combustion heating systems inspected by a trained professional every year to identify blocked openings to flues and chimneys; cracked or disconnected flue pipe; dirty filters; rust or cracks in the heat exchanger; soot or creosote build-up; and exhaust or gas odors. Installing a carbon monoxide detector is also recommended; however, such a detector will not detect other combustion by-products.

Insect and rodent pests: The observed association between exposure to cockroach antigen and asthma severity has already been noted above. In addition, cockroaches may act as vehicles to contaminate environmental surfaces with certain pathogenic organisms. Rodents can transmit a number of communicable diseases to humans, either through bites, arthropod vectors, or exposure to aerosolized excreta. In addition, humans can become sensitized to proteins in rodent urine, dander and saliva. Such sensitization may contribute to asthma severity among children. Insect and rodent infestation is frequently associated with substandard housing that makes it difficult to eliminate. Treatment of rodent and insect infestations often includes the use of toxic pesticides which may present hazards to occupants (see below). Integrated pest management (IPM) for rodents and cockroaches, which reduces the use of pesticides, is estimated to cost approximately $150 per unit. IPM control measures include sealing holes and cracks, removing food sources and use of traps.

Lead: Exposure to lead, especially from deteriorating lead-based paint, remains one of the most important and best-studied of the household environmental hazards to children. Although blood lead levels have fallen nationally, a large reservoir of lead remains in housing. The most recent national survey, conducted from 1991-94, showed that nearly one million U.S. preschoolers still have elevated blood lead levels. Overall, the prevalence rate among all children under six years of age is 4.4%. Among low-income children living in older housing where lead-based paint is most prevalent, the rate climbs to 16%; and for African-American children living in such housing, it reaches 21%.

HUD estimates that 64 million dwellings have some lead-based paint, and that 20 million have lead-based paint hazards. Of those, about 3.6 million have young children and of those, about 500,000 units have inadequate cash flow to respond to lead-based paint hazards. Costs can range anywhere from $500 to $15,000 per unit. Corrective measures include paint stabilization, enclosure and removal of certain building components coated with lead paint, and cleanup and “clearance testing”, which ensures the unit is safe for young children.

Mold and moisture: An analysis of several pulmonary disease studies estimates that 25% of airways disease, and 60% of interstitial lung disease may be associated with moisture in the home or work environment. Moisture is a precursor to the growth of mold and other biological agents, which is also associated with respiratory symptoms. An investigation of a cluster of pulmonary hemosiderosis (PH) cases in infants showed PH was associated with a history of recent water damage to homes and with levels of the mold Stachybotrys atra (SA) in air and in cultured surface samples. Associations between exposure to SA and “sick building” symptoms in adults have also been observed. Other related toxigenic fungi have been found in association with SA-associated illness and could play a role. For sensitive individuals, exposure to a wide variety of common molds may also aggravate asthma. Addressing mold problems in housing requires coordination among the medical, public health, microbiological, housing, and building science communities.

The cost of mold/moisture-related intervention work (e.g., integrated pest management, clean and tune furnace, remove debris, vent clothes dryer, cover dirt floor with impermeable vapor barrier) is a few hundred dollars, unless major modification of the ventilation system is needed. In Cleveland, mold interventions, including repairs to ventilation systems and basement flooring, in the most heavily-contaminated homes range from $500-$5,000, with some costs also being dedicated to lead hazard control simultaneously through its lead+asthma program.

Pesticide residues: According to the EPA, 75 percent of U.S. households used at least one pesticide product indoors during the past year. Products used most often are insecticides and disinfectants. Another study suggests 80 percent of most people's exposure to pesticides occurs indoors and that measurable levels of up to a dozen pesticides have been found in the air inside homes. The amount of pesticides found in homes appears to be greater than can be explained by recent pesticide use in those households; other possible sources include contaminated soil or dust that migrates in from outside, stored pesticide containers, and household surfaces that collect and then release the pesticides. Pesticides used in and around the home include products to control insects (insecticides), termites (termiticides), rodents (rodenticides), molds and fungi (fungicides), and microbes (disinfectants). In 1990, the American Association of Poison Control Centers reported that some 79,000 children were involved in common household pesticide poisonings or exposures. In households with children under five years old, almost one-half stored at least one pesticide product within reach of children. Exposure to chlorpyriphos (CP), a commonly used organophosphate insecticide, in the prenatal and early postnatal period may impair neurodevelopment. While CP is a biodegradable pesticide, substantial persistence of CP in house dust has been demonstrated. Exposure to high levels of cyclodiene pesticides, commonly associated with misapplication, has produced various symptoms, including headaches, dizziness, muscle twitching, weakness, tingling sensations, and nausea. In addition, EPA is concerned that cyclodienes might cause long-term damage to the liver and the central nervous system, as well as an increased risk of cancer.

There are available data on hazard evaluation methods and remediation effectiveness regarding pesticide residues in the home environment.

Radon progeny: The National Academy of Sciences estimates that approximately 15,000 cases of lung cancer per year are related to radon exposure. Epidemiologic studies of miners exposed to high levels of radon in inhaled air have defined the dose response relation for radon-induced lung cancer at high exposure levels. Extrapolation of these data has been used to estimate the excess risk of lung cancer attributable to exposure to radon gas at the lower levels found in homes. These estimates indicate that radon gas is an important cause of lung cancer deaths in the U.S. Excessive exposures are typically related to home ventilation, structural integrity and location.

Radon measurement and remediation methods are well-developed, and the Environmental Protection Agency (EPA) recommends that every home be measured for radon. EPA estimates that materials and labor costs for radon reduction in an existing home are $800-$2500. Including radon resistant techniques in new home construction costs $350-$500, and can save up to $65 annually in energy costs, according to the EPA.

Take home hazards from work/hobbies and work at home: When the clothing, hair, skin, or shoes of workers become contaminated with hazardous materials in the workplace, such contaminants may inadvertently be carried to the home environment and/or an automobile. Such “take-home” exposures have been demonstrated, for example, in homes of lead-exposed workers. In addition, certain hobbies or workplaces located in the home may provide an especially great risk of household contamination.

Control methods include storing and laundering work clothes separately, and showering and changing before leaving work, or immediately after arriving home. Once a home becomes contaminated, cleaning floors and contact surfaces and replacing furnishings may be necessary to reduce exposures.

Unintentional injuries/fire: Unintentional injury is now the leading cause of death and disability among children younger than 15 years of age. In 1997, nearly 7 million persons in the United States were disabled for at least 1 full day by unintentional injuries received at home. During the same year, 28,400 deaths were attributable to unintentional home injuries, of which 1800 occurred among children 0-4 years of age. Among young children, three types of events accounted for more than ¾ of deaths: fires/ burns, drownings, and mechanical suffocation. Falls and poisoning are the next most common.

Home visitation protocols have been shown to be effective in reducing exposure to such hazards. The “add-on” cost of injury prevention measures, when combined with other housing interventions are estimated at about $100 per unit. This includes the cost of some injury prevention devices, such as smoke alarms, electrical socket covers, etc.

Appendix B—Relevant Publications and Guidelines

To secure any of the documents listed, call the listed telephone number (generally, the telephone numbers are not toll-free).

Regulations: 1. Worker Protection: OSHA publication—Telephone: 202-693-1888 (OSHA Regulations) (available for a charge)—Government Printing Office—Telephone: 202-512-1800 (not a toll-free number):

—General Industry Lead Standard, 29 CFR 1910.1025 (Document Number 869022001124). Can be downloaded from the Internet without charge from www.osha-slc.gov/OshStd_data/1910_1025.html.

—Lead Exposure in Construction, 29 CFR 1926.62, and appendices A, B, C, and D (Document Number 869022001141). Can be downloaded from the Internet without charge from www.osha-slc.gov/OshStd_data/1926_0062.html.

2. Waste Disposal: 40 CFR parts 260-268 (EPA regulations) (available for a charge)—Telephone 1-800-424-9346, or, from the Washington, DC, metropolitan area, 1-703-412-9810 (not a toll-free number). Can be downloaded from the Internet without charge from www.epa.gov/docs/epacfr40/chapt-I.info/subch-I/.

3. Lead; Requirements for Lead-Based Paint Activities in Target Housing and Child-Occupied Facilities; Final Rule: 40 CFR part 745 (EPA) (Lead Hazard Standards, Work Practice Standards, EPA and State Certification and Accreditation Programs for those engaged in lead-based paint activities)—Telephone: 1-202-554-1404 (Toxic Substances Control Act Hotline) (not a toll-free number). Can be downloaded from the Internet without charge from www.epa.gov/opptintr/lead/index.html.

4. Requirements for Notification, Evaluation and Reduction of Lead-Based Paint Hazards in Federally Owned Residential Property and Housing Receiving Federal Assistance; Final Rule: 24 CFR part 35, subparts A through R, published September 15, 1999, at Federal Register pages 50201 through 50231(HUD)—Telephone: 1-800-424-LEAD (National Lead Information Center). Can be downloaded from the Internet without charge from www.hud.gov/lea/leadwnlo.html or www.epa.gov/lead/leadbase.htm.

5. U.S. Environmental Protection Agency. Lead; Identification of Dangerous Levels of Lead; Final Rule at 66 FR 1205-1240, January 5, 2001. TSCA Hotline: 202-554-1404 (not a toll-free number). Can be downloaded from the Internet without charge from www.epa.gov/lead/leadhaz.htm.

Guidelines: 1. Guidelines for the Evaluation and Control of Lead-Based Paint Hazards in Housing; HUD, June 1995, and amended September, 1997. (Available for a charge)—Telephone: 800-245-2691. Can be downloaded from the Internet without charge from www.hud.gov/lea/leadwnlo.html.

2. Preventing Lead Poisoning in Young Children; Centers for Disease Control, October 1991: Telephone: 888-232-6789.

3. Screening Young Children for Lead Poisoning: Guidance for State and Local Public Health Officials, November 1997; Centers for Disease Control and Prevention (CDC): Telephone: 888-232-6789. Can be downloaded from the Internet without charge from www.hud.gov/lea/leadwnlo.html.

Reports and Articles: 1. Putting the Pieces Together: Controlling Lead Hazards in the Nation's Housing, (Summary and Full Report); HUD, July 1995 (available for a charge)—Telephone 800-245-2691. Can be downloaded from the Internet without charge from www.hud.gov/lea/leadwnlo.html.

2. The Healthy Homes Initiative: A Preliminary Plan (Summary and Full Report); HUD, July 1995. Can be downloaded from the Internet without charge from www.hud.gov/lea/leadwnlo.html.

3. Institute of Medicine. Indoor Allergens. Assessing and Controlling Adverse Health Effects. National Academy Press. Washington, D.C. 1993.

4. Mott L., Our Children at Risk. Natural Resources Defense Council. Washington, D.C. 1997. Can be ordered from the Internet from www.nrdc.org

5. Rom W.N., Ed. Environmental and Occupational Medicine. Little, Brown and Co., Boston. 1992.

6. President's Task Force on Environmental Health Risks and Safety Risks to Children. Asthma and The Environment: An Action Plan to Protect Children. Washington, D.C. 1999. Eliminating Childhood Lead Poisoning: A Federal Strategy Targeting Lead Paint Hazards. Washington, D.C., 2000. Can be downloaded from the Internet without charge from www.epa.gov/children.

BILLING CODE 4210-32-P

FUNDING AVAILABILITY FOR THE HEALTHY HOMES DEMONSTRATION AND EDUCATION PROGRAM

Program Overview

Purpose of the Program. The purpose of the Healthy Homes Demonstration and Education Program is to develop, demonstrate and promote cost effective, preventive measures to correct multiple safety and health hazards in the home environment which produce serious diseases and injuries in children. HUD is interested in reducing health threats to the maximum number of residents, especially children, in a cost efficient manner.

Available Funds. Approximately $5.5 million.

Eligible Applicants. Not-for-profit institutions, and for-profit firms located in the U.S., State and local governments, and Federally-recognized Indian Tribes are eligible to apply. For-profit firms are not allowed to include a fee in the cost proposal (i.e., no profit can be made from the project). Federal agencies and federal employees are not eligible to apply for this program.

Application Deadline. May 17, 2001.

Match. None.

Additional Information

If you are interested in applying for funding under this initiative, please review carefully the General Section of this SuperNOFA and the following additional information.

I. Application Due Date, Application Kits, Further Information, and Technical Assistance

Application Due Date. Your completed application (an original and four copies) is due on or before 12:00 midnight, Eastern time, on May 17, 2001, at the address shown below.

See the General Section of the SuperNOFA for specific procedures concerning the form of application submission (e.g., mailed applications, express mail, overnight deliver, or hand carried).

Address for Submitting Applications. For Mailed Applications. The address for mailed applications is: Department of Housing and Urban Development, Office of Healthy Homes and Lead Hazard Control, 451 Seventh Street, SW., Room P3206, Washington, DC 20410.

For Overnight/Express Mail or Hand Carried Applications. The address for applications that are hand carried or sent via overnight/express mail delivery is: HUD Office of Healthy Homes and Lead Hazard Control, Suite 3206, 490 L'Enfant Plaza, SW., Washington, DC 20024. Hand carried applications will be accepted at this address (490 L'Enfant) up until 5 pm on the application due date.

After 5 pm on the application due date, hand carried applications will be accepted until 12:00 midnight, in the South Lobby of HUD Headquarters, 451 Seventh Street, SW., Washington, DC 20410.

For Application Kits. You may obtain an application kit from the SuperNOFA Information Center at 1-800-HUD-8929, or the TTY number at 1-800-HUD-2209. When requesting an application kit, please refer to Healthy Homes Demonstration and Education Program. Please be sure to provide your name, address (including zip code), and telephone number (including area code). Alternatively, you may obtain an application kit by downloading it from the internet at http://www.hud.gov.

For Further Information and Technical Assistance. You may contact Ms. Ellen Taylor, Planning and Standards Division, Office of Healthy Homes and Lead Hazard Control, at the address above; telephone (202) 755-1785, extension 116, or Ms. Karen Williams, Grants Officer, extension 118 (these are not toll-free numbers). Hearing- and speech-impaired persons may access the above telephone numbers via TTY by calling the toll-free Federal Information Relay Service at 1-800-877-8339.

Satellite Broadcast. HUD will hold an information broadcast via satellite for potential applicants to learn more about the program and preparation of the application. For more information about the date and time of the broadcast, you should consult the HUD web site at http://www.hud.gov.

II. Amount Allocated

Approximately $5.5 million will be available in FY 2001. Grants will be awarded on a competitive basis following evaluation of all proposals according to the Rating Factors described in Section V(C). HUD anticipates that approximately 6 to 8 grants will be awarded, ranging from approximately $250,000 to approximately $1,000,000.

III. Program Description; Eligible Applicants; Eligible Activities

(A) Program Description. (1) Background. In the FY 2001 Budget, HUD received a third year of funding to continue the Healthy Homes Initiative (sometimes referred to as the “Initiative” or “HHI”) that protects children from housing conditions responsible for multiple diseases and injuries. The Initiative departs from the more traditional approach of attempting to correct one hazard at a time (e.g., asbestos, radon). In April 1999, HUD submitted to Congress a preliminary plan containing a full description of the Initiative. This description (Summary and Full Report) is available on the HUD website at www.hud.gov/offices/lead.

The Healthy Homes Initiative builds upon HUD's existing housing-related health and safety issues, including lead hazard control, building structural safety, electrical safety, and fire protection to address multiple childhood diseases and injuries related to housing in a more coordinated fashion. A coordinated effort is feasible because a limited number of building deficiencies contribute to many hazards. Substantial savings are possible using this approach, because separate visits to a home by an inspector, public health nurse, or outreach worker can add significant costs to efforts to eliminate hazards.

In addition to deficiencies in basic housing facilities that may impact health, changes in the U.S. housing stock and more sophisticated epidemiological methods and biomedical research have led to the identification of new and often more subtle health hazards in the residential environment (e.g., indoor air quality hazards). While such hazards will tend to be found disproportionately in housing that is substandard (e.g., structural problems, lack of adequate heat, etc.), such housing-related environmental hazards may also exist in housing that is otherwise of good quality. Appendix A to the Healthy Homes (HH) Demonstration and Education program section of the SuperNOFA briefly describes the housing-associated health and injury hazards HUD considers key targets for intervention. Appendix B to the HH Demonstration and Education program section of the SuperNOFA lists the references that serve as the basis for the information provided in this section of the SuperNOFA.

HUD is interested in promoting approaches that are cost-effective and efficient and that result in the reduction of health threats for the maximum number of residents for the long run, and in particular low-income children. The overall goals and objectives of the HHI are:

(1) Mobilize public and private resources, involving cooperation among all levels of government, the private sector, and community-based organizations to develop the most promising, cost-effective methods for identifying and controlling housing-based hazards.

(2) Build local capacity to operate sustainable programs that will continue to prevent and, where they occur, minimize and control housing-based hazards in low and very low income residences when HUD funding is exhausted.

(3) Affirmatively further fair housing and environmental justice.

(B) Healthy Homes Demonstration and Education Activities. Through the Healthy Homes Demonstration and Education program, HUD will initiate projects to promote implementation of available risk reduction techniques for the control of key hazards described in Appendix A. HUD has decided to initiate the HH Demonstration and Education projects through this competition. There are two categories of grants being awarded. These are:

• Demonstration projects implementing housing assessment, maintenance, renovation and construction techniques to identify and correct housing-related illness and injury risk factors, and

• Education projects disseminating healthy homes information and replicating successful interventions.

HUD will evaluate proposals based on the elements described below. Although you are expected to focus your efforts in one of the two categories, the activities of a proposed project may also address the other category. Applicants are required to be specific as to the locations where they are targeting their intervention activities to occur, the residents, individuals, or groups targeted to receive interventions, and the organizations targeted to continue to operate effective intervention strategies over the life of the award and hereafter.

(1) Demonstration Projects. Objectives to be addressed by these projects are:

(a) Identification of target areas and homes where intervention would be appropriate.

(b) Identification and evaluation of effective methods of hazard abatement and risk reduction.

(c) Development of appropriately-scaled, flexible, cost-effective and efficient intervention strategies that take into account the range of conditions likely to be encountered in older housing, and that maximize the number of housing units that receive an intervention.

(d) Development of methodologies for evaluating intervention effectiveness.

(e) Development of local capacity in target areas and target groups to operate sustainable programs to prevent and control housing-based hazards, especially in low and very-low income residences.

(f) Development of a cost-effective protocol for identifying homes that are candidates for interventions, identifying hazards in these homes, and screening out homes where structural or other condition factors (e.g., cost) make interventions infeasible or impractical.

(2) Education Projects. Objectives to be addressed by these projects are:

(a) Development and delivery of public outreach programs to prevent and eradicate both emerging and well-recognized housing-related childhood diseases and injuries, and promote the use of identified solutions.

(b) Increased identification and control of housing based hazards through education and outreach to specific high-risk communities and other identified audiences such as health care deliverers, pregnant women, children, residential construction contractors, maintenance personnel, housing inspectors, real estate professionals, home buyers and homeowners.

(c) Implementation of media strategies to use print, radio and television to increase public awareness of housing related hazards that threaten children.

(d) Dissemination of materials that inform parents and caregivers about housing-related hazards and enable them to take prompt corrective action.

(C) Eligible Activities. The following direct activities and support activities are eligible under this grant program.

(1) Direct Project Elements (activities conducted by you and any sub-recipients):

(a) Performing evaluations of eligible housing to determine the presence of housing-based hazards (e.g., mold growth, allergens, unvented appliances, exposed steam pipes or radiators, deteriorated lead-based paint) through the use of generally accepted testing procedures.

(b) Conducting medical examinations of young children for conditions caused or exacerbated by exposure to hazards where this is considered essential to your project, and there are no alternative sources to cover these costs.

(c) Conducting housing interventions to remediate existing housing-based hazards and address conditions that could result in their recurrence. Any lead hazard evaluation and control work shall be conducted by certified performers in accordance with the HUD Guidelines for the Evaluation and Control of Lead-Based Paint Hazards in Housing (“Guidelines”) and applicable regulations. You may obtain the Guidelines and applicable regulations by downloading them from the Internet at http://www.hud.gov/offices/lead. All pest control activities shall incorporate the principles and methods of integrated pest management (IPM).

(d) Carrying out temporary relocation of families and individuals, when necessary, during the period in which intervention is conducted and until the time the affected unit receives clearance for reoccupancy. Residents relocated must be guaranteed the choice of returning to the unit after the intervention.

(e) Performing medical testing recommended by a physician or applicable occupational or public health agency for individuals in hazardous conditions and environmental sampling to protect the health of the intervention workers, supervisors, and contractors.

(f) Undertaking housing rehabilitation activities that are specifically required to carry out effective control of housing-based hazards, and without which the intervention could not be completed and maintained. Grant funds under this program may also be used to control lead-based paint hazards, but such controls may not be a principal focus of the grant.

(g) Conducting clearance testing and analysis for lead, mold, carbon monoxide and/or other toxins as appropriate, with respect to generally accepted standards or criteria, or where not available, other appropriate levels justified in conjunction with the project.

(h) Carrying out architectural, engineering and work specification development and other construction management services to control housing-based hazards and remediate existing hazards.

(i) Providing training on safe maintenance practices to homeowners, renters, painters, remodelers, and housing maintenance staff working in low- or very-low income housing.

(j) Providing cleaning supplies for hazard intervention and hazard control to community/neighborhood-based organizations for use by homeowners and tenants in low-income housing, or to such homeowners, and tenants directly.

(k) Conducting general or targeted community education programs on environmental health and safety hazards. This activity would include training on safe maintenance and renovation practices, among other topics, and further fair housing and environmental justice goals. It would also include making materials available, upon request, in alternative formats for persons with disabilities (e.g., Braille, audio, large type), and in languages other than English that are common in the community, whenever possible.

(l) Securing liability insurance for hazard intervention and hazard evaluation and control activities to be performed.

(m) Supporting data collection, analysis, and evaluation of project activities. This activity is separate from administrative costs.

(n) Conducting activities directed at demonstration of cost-effective evaluation and intervention methods for assessing and preventing housing-based hazards.

(o) Maintaining a registry (updated at least monthly) of housing units in which housing-based hazards were not found during evaluation, and those in which such problems and hazards have been controlled. Units on the registry should be given priority for affirmatively marketing to low-income families with young children and such families should be given preference for occupancy when they are vacant.

(p) Preparing quarterly progress reports and an overall final grant report detailing activities (e.g., number of units tested, types of interventions provided, evaluation of most cost efficient methodologies by type of unit), findings, and recommended future actions for cost effective interventions, at the conclusion of grant activities.

(2) Support Elements. (a) Your administrative costs.

(b) Program planning and management costs of sub-grantees and other sub-recipients.

(D) Ineligible Activities

(1) Purchase of real property.

(2) Purchase or lease of equipment having a per unit cost in excess of $5,000, unless prior written approval is obtained from HUD.

(3) Medical treatment costs.

IV. Program Requirements

In addition to program requirements listed in the General Section of the SuperNOFA, you, the applicant must comply with the following requirements:

(A) Budgeting—Administrative Costs. There is a 10% maximum for administrative costs. The application kit contains specific information on allowable administrative costs.

(B) Period of Performance. The period of performance cannot exceed 36 months from the time of the award.

(C) Coastal Barrier Resources Act. Pursuant to the Coastal Barrier Resources Act (16 U.S.C. 3501), funds may not be used for properties located in the Coastal Barrier Resources System.

(D) Flood Disaster Protection Act. Under the Flood Disaster Protection Act of 1973 (42 U.S.C. 4001-4128), funds may not be used for construction, reconstruction, repair or improvement of a building or mobile home which is located in an area identified by the Federal Emergency Management Agency (FEMA) as having special flood hazards unless:

(1) The community in which the area is situated is participating in the National Flood Insurance Program in accordance with the applicable regulations (44 CFR parts 59-79), or less than a year has passed since FEMA notification regarding these hazards; and

(2) Where the community is participating in the National Flood Insurance Program, flood insurance on the property is obtained in accordance with section 102(a) of the Flood Disaster Protection Act (42 U.S.C. 4012a(a)). You are responsible for assuring that flood insurance is obtained and maintained for the appropriate amount and term.

(E) National Historic Preservation Act. The National Historic Preservation Act of 1966 (16 U.S.C. 470) (NHPA) and the regulations at 36 CFR part 800 apply to the mold intervention and related hazard control activities that are undertaken pursuant to this program. HUD and the Advisory Council for Historic Preservation have developed an optional Model Agreement for use by grantees and State Historic Preservation Officers in carrying out any lead hazard control activities under this program. This must be obtained from the SuperNOFA Information Center at 1-800-HUD-8929.

(F) Waste Disposal. Waste disposal will be handled according to the requirements of the Occupational Health and Safety Administration (OSHA) (e.g., 29 CFR part 1910 and/or 1926, as applicable), the Environmental Protection Agency (EPA) (e.g., 40 CFR parts 61, 260-282, 300-374, and/or 700-799, as applicable), the Department of Transportation (e.g., 49 CFR parts 171-177), and/or appropriate State or local regulatory agency(ies). Disposal of wastes from intervention activities that contain lead-based paint but are not classified as hazardous will be handled in accordance with the HUD Guidelines and applicable EPA regulations and guidance.

(G) Worker Protection Procedures. You must comply with the requirements of OSHA (e.g., 29 CFR part 1910 and/or 1926, as applicable), or the State or local occupational safety and health regulations, whichever are most stringent.

(H) Written Policies and Procedures. You must have written policies and procedures for all phases of intervention, including evaluation, development of specifications, financing, occupant relocation, independent project inspection, and clearance testing (e.g., for mold, lead, carbon monoxide or other hazards, as applicable). You and all your subcontractors, sub-recipients, and their contractors must comply with these policies and procedures.

(I) Clearance Testing for Lead Hazard Control Activities. Clearance dust testing for lead hazard control activities must be conducted according to the HUD Guidelines and the EPA lead hazards standards rule at 40 CFR 745 subparts D, L, and Q. You are required to meet the post-hazard control dust-wipe test clearance thresholds at 40 CFR 745.227(e)(8)(viii). Wipe tests shall be conducted by an appropriately certified individual who is independent of the lead hazard control contractor. Dust-wipe and soil samples and any paint samples to be analyzed by a laboratory, must be analyzed by a laboratory recognized by the EPA National Lead Laboratory Accreditation Program (NLLAP). Units treated shall not be reoccupied until clearance is achieved.

(J) Continued Availability of Safe Housing to Low-Income Families. Units in which housing-based hazards have been controlled under this program shall be occupied by and/or continue to be available to low-income residents for not less than 3 years following the completion of intervention activities according to Section 1011(a) of the Residential Lead-Based Paint Hazard Reduction Act of 1992 (Title X), as amended by Section 217 of Public Law 104-134 (the Omnibus Consolidated Rescissions and Appropriations Act of 1996, 110 Stat. 1321, approved April 26, 1996).

(K) Environmental Review. You must comply with HUD's regulations in 24 CFR 50.3(h) in carrying out responsibilities regarding HUD's environmental review. Recipients of a grant under this NOFA will be given guidance in these responsibilities.

(L) Economic Opportunities for Low-and Very Low-Income Persons (Section 3). Recipients of assistance must comply with Section 3 of the Housing and Urban Development Act of 1968, 12 U.S.C. 1701u (Economic Opportunities for Low- and Very Low-Income Persons in Connection with Assisted Projects) and the HUD regulations at 24 CFR part 135, including the reporting requirements of subpart E. Section 3 requires recipients to ensure that, to the greatest extent feasible, training, employment and other economic opportunities will be directed to (1) low and very low income persons, particularly those who are recipients of government assistance for housing, and (2) business concerns which provide economic opportunities to low and very low income persons.

(M) Data collection and provision. You must collect, maintain and provide to HUD the data necessary to document the various approaches used to evaluate and control housing-based hazards, including evaluation and control methods, building conditions, medical and familial information (with confidentiality of individually-identifiable information ensured) in order to determine the effectiveness and relative cost of these methods.

(N) Certifications and Assurances. You must include the certifications and assurances listed in Section II(G) of the General Section of the SuperNOFA with your application.

(O) Davis-Bacon Act. The Davis-Bacon Act does not apply to this program. However, if program funds are used in conjunction with other Federal programs in which Davis-Bacon prevailing wage rates apply, then Davis-Bacon provisions would apply to the extent required under the other Federal programs.

V. Application Selection Process

(A) Threshold Requirements. Please see Section III of the General Section of this SuperNOFA. As an applicant, you must meet all of the threshold requirements of Section II(B) of the General Section of the SuperNOFA. Applications that meet all of the threshold requirements will be eligible to be scored and ranked based on the total number of points allocated for each of the rating factors described below. Your application must receive a total score of at least 65 points to remain in consideration for funding.

(B) Rating and Ranking. HUD intends to make awards to qualifying applications in the following order:

STEP 1. An award will be made to the highest ranked application in each of the two categories listed in Section III(B) of this program section of the SuperNOFA within the limits of funding availability. If there are insufficient funds to award in both categories, HUD will make awards in the demonstration category (1), then the education category (2), in order.

STEP 2. After following Step 1 if funding remains available, an award will be made each of the two categories, demonstration (1) and education (2), in order.

STEP 3. After following Step 2 if funding remains available, awards will be made in rank order, regardless of category.

You must state the category for which you are applying. If an applicant wishes to apply under more than one category they must submit a separate application for each category. While you will not be penalized for not addressing all the specific objectives within a given category, if two applications have equal scores, HUD will first select the applicant whose project addresses the most objectives.

(C) Factors for Award Used to Evaluate and Rate Applications. This section provides the factors for rating and ranking your application and the maximum points for each factor. The maximum number of points to be awarded is 102. This maximum includes two EZ/EC bonus points as described in the General Section of the SuperNOFA. Also, Section III(C)(2) of the General Section, which addresses a court-ordered consideration, is applicable to this program.

Rating Factor 1: Capacity of the Applicant and Relevant Organizational Experience (20 Points)

This factor addresses your organizational capacity necessary to successfully implement your proposed activities in a timely manner. The rating of you or your staff includes any community-based organizations, sub-contractors, consultants, sub-recipients, and members of consortia that are firmly committed to your project. In rating this factor HUD will consider:

(1) Your recent, relevant and successful demonstrated experience in undertaking eligible program activities. You must describe the knowledge and experience of the proposed overall project director and day-to-day project manager in planning and managing large and complex interdisciplinary programs, especially those involving housing rehabilitation, public health, or environmental programs. In your narrative response for this factor, you should include information on your project staff, their experience, commitment to the project, and position titles. Resumes of up to three (3) pages each and position descriptions for up to three personnel in addition to the project director and project manager, and a clearly delineated organizational chart for your project must be included as an appendix. Copies of job announcements (including salary range) should be included for any key positions that are currently vacant. Indicate the percentage of time that key personnel will devote to your project and any salary costs to be paid by funds from this program. Include descriptions of the experience and qualifications of subcontractors and consultants.

(2) Your qualifications to carry out the proposed activities as evidenced by experience, academic background, training, and/or relevant publications of project staff.

(3) Whether you have sufficient personnel or will be able to quickly retain qualified experts or professionals to begin your proposed project immediately and to perform your proposed activities in a timely and effective fashion. Describe how principal components of your organization will participate in or support your project. You should thoroughly describe capacity, as demonstrated by experience in initiating and implementing related environmental, health, or housing projects.

Rating Factor 2: Need/Extent of the Problem (15 Points)

This factor addresses the extent to which there is a need for your proposed project activities to address documented problems, target area(s) and target groups.

(1) Document a critical level of need for your proposed activities in the area where activities will be carried out. You should pay specific attention to documenting the need as it applies to your target area(s), rather than the larger geographic area.

(2) Your documentation should summarize available data linking housing-based hazards to disease or injuries to children in your target area(s). Examples of data that might be used to demonstrate need, include:

(a) Economic and demographic data relevant to your target area(s), including poverty and unemployment rates;

(b) Rates of childhood illnesses or injuries (e.g., asthma, burns) that could be caused or exacerbated by exposure to conditions in the home environment, among children residing in your target area(s), and/or rates of environmentally-related disease or adverse health effects (e.g., hypertension, elevated blood lead levels) in your target area(s); and

(c) Unavailability of other Federal, State or local funding or private sector resources that could be, or is being, used to address the problem.

(3) For the areas targeted for your project activities, provide data available in your jurisdiction's currently approved Consolidated Plan, or derived from 1990 Census Data, or derived from other sources, including the Analysis of Impediments to Fair Housing Choice, AI, (all data should be documented) that address:

(a) The age and condition of housing;

(b) The number and percentage of very-low and low-income families with incomes less than 80% of the median income, as determined by HUD, for the area, with adjustments for smaller and larger families (See application kit for additional information).

(c) To the extent that statistics and other data contained in your community's Consolidated Plan or Analysis of Impediments to Fair Housing Choice (AI) support the extent of the problem, you should include references to the Consolidated Plan and the AI in your response.

(d) Data documenting targeted groups that are traditionally underserved or have special needs. If the data presented in your response does not specifically represent your target area, you should discuss why the target areas are being proposed. If your application addresses needs that are in the Consolidated Plan, AI, court orders or consent decrees, settlements, conciliation agreements, and voluntary compliance agreements, you will receive more points than applicants that do not relate their project to identified need.

Rating Factor 3: Soundness of Approach (45 Points)

This factor addresses the quality and cost-effectiveness of your proposed work plan. You should present information on the proposed approach for addressing housing-based hazards and describe how proposed activities would help HUD achieve its goals for this program area. For you to receive maximum points for this factor, there must be a direct relationship between the proposed activities, community needs, and the purpose of the project. The response to this factor should include the following elements:

(1) Strategy (25 points). Describe your project goals and objectives and the strategy you will use in planning and executing the project. You should provide information on the general approach and overall plan employed:

(a) Baseline Plan for Project Management (10 points). Include a management plan that:

(i) Lists the project objectives, major tasks and activities. All specific activities necessary to complete the proposed project must be included in the task listing;

(ii) Identifies appropriate performance goals and benchmarks;

(iii) Provides a schedule for the assignment and completion of major tasks and activities, and a timeframe for delivery;

(iv) Designates resources and identifies responsible entities; and

(v) Provides an estimate of per unit (or other appropriate apportionment) costs (and a basis for those estimates) for the type of interventions that are planned.

(b) Budget Justification (2 points). Your proposed budget will be evaluated for the extent to which it is reasonable, clearly justified, and consistent with the project management plan and intended use of program funds. HUD is not required to approve or fund all proposed activities. Your budget should be submitted in the format recommended; an electronic spreadsheet is available on HUD's website, at www.hud.gov/lea/leaforms.html. You must thoroughly document and justify all budget categories and costs (Part B of Standard Form 424A) and all major tasks, for yourself, sub-recipients, partners, major subcontractors, joint venture participants, or others contributing resources to the project. Describe clearly and in detail your budgeted costs for each required program element (major task) included in your overall plan.

(c) Project Evaluation (8 points). You are required to identify and discuss the specific methods you will use to measure progress towards your goals, track and report results of interventions, and evaluate the effectiveness of interventions:

(i) Discuss the performance goals for your project and identify specific outcome measures;

(ii) Describe how the outcome information will be obtained, documented, and reported; and (P)(iii) Identify the major milestones for your project, and describe how your progress towards these milestones will be tracked, recorded and reported.

(d) Economic Opportunity (5 points). To the greatest extent feasible, your project should promote job training, employment, and other economic opportunities for low-income and minority residents and businesses which are owned by, and/or employ, low-income and minority residents as defined in 24 CFR 135.5. You should:

(i) Describe methods that will result in economic opportunities for residents and businesses in the community where activities will be carried out. Include information on how you will provide employment, business development, and contract opportunities;

(ii) Describe how you or your partners will satisfy the requirements of Section 3 of the Housing and Urban Development Act of 1968 to give preference to hiring low-and very low-income persons or contracting with businesses owned by or employing low-and very-low income persons;

(iii) Describe how your proposed project will further and support the policy priorities of the Department, including providing opportunities for self-sufficiency, particularly for persons enrolled in welfare-to-work programs; or providing educational and job training opportunities; and

(iv) Describe the extent to which your proposed activities will occur in an Empowerment Zone or Enterprise Community (EZ/EC), if applicable.

(2) Approach for Implementing the Project (20 points). Describe your overall approach for your proposed project. The description must include a discussion of specific planned project activities which address one or more of the following categories:

(a) Demonstration activities.

(i) Describe in detail how you will identify, select, prioritize, and enroll units of eligible housing in which you will undertake housing-based hazards interventions, how you will integrate safe work practices into housing maintenance, repair, and improvements, and then target such units to low-income families with young children. You should use all reasonably available sources of information on controlling housing-based hazards in buildings and protecting workers and occupants during and after the intervention process.

(ii) Describe any assessment tools you would employ to establish baseline data.

(iii) Provide the estimated total number of owner occupied and/or rental units in which you will conduct interventions.

(iv) Describe your process for evaluating units of eligible housing in which you will undertake housing-based hazard interventions.

(v) Describe any specialized testing or visual inspection that you will conduct during unit inspection with reference to source(s) of the protocol(s).

(vi) Discuss efforts to incorporate cost-effective methods to address multiple environmental health and safety hazards, and describe the specific interventions you will utilize to control housing-based hazards before children are affected; and/or to control these hazards in units where children have already been treated for illnesses or injuries associated with housing-based hazards (e.g., burns, lead poisoning, asthma).

(vii) Describe the process for your referral of children for medical case management if this is not ongoing.

(viii) Describe your process for the development of work specifications for the selected interventions.

(ix) Describe your management processes to be used to ensure the cost-effectiveness of the housing interventions, and provide cost estimates per intervention and per unit.

(x) Discuss your contracting process to obtain contractors to conduct interventions in selected units.

(xi) Describe your plan for the temporary relocation of occupants of units selected for intervention, if relocation is necessary, and how you will determine the need for relocation. Address the use of safe houses and other housing arrangements, storage of household goods, stipends, incentives, etc.

(xii) Describe your plan for ensuring right of return and/or first referral for occupants of units selected for intervention who have had to move for intervention to occur.

(xiii) Describe how you will affirmatively further fair housing.

(xiv) Describe the financing strategy, including eligibility requirements, terms, conditions, and amounts available, to be employed in conducting housing-based hazards activities. You must discuss the way funds will be administered (e.g., use of grants, deferred loans, forgivable loans, other resources, private sector financing, etc.) as well as the agency which will administer the process.

(b) Education Activities. This should include general and/or targeted efforts undertaken to assist your efforts in reducing exposure to housing-based hazards. You must describe:

(i) Proposed methods of community education. These should include community awareness, education, training, and outreach programs in support of your work plan and objectives that are culturally sensitive, targeted, and linguistically appropriate.

(ii) Proposed involvement of neighborhood or community-based organizations in the proposed activities. These activities may include outreach, community education, marketing, inspection, and housing evaluations and interventions.

(iii) Proposed methods to reach high risk groups and communities, vulnerable populations and persons traditionally underserved (see Rating Factor 2(d)).

Rating Factor 4: Leveraging Resources (10 Points)

This factor addresses your ability to secure other community resources (such as financing, supplies or services) which can be combined with HUD's resources to achieve project purposes.

(1) In evaluating this factor, HUD will consider the extent to which you have partnered with other entities to secure additional resources to increase the effectiveness of your proposed project. Describe how other organizations will participate in or support your project. Resources may include funding or in-kind contributions (such as services or equipment) allocated to your proposed project. Resources may be provided by governmental entities, public or private organizations, or other entities willing to be your partner in this effort.

(2) Each source of contributions (financial or in-kind) must be supported by a letter of commitment from the contributing entity, whether a public or private source, which must describe the contributed resources that will be used in your project. Staff in-kind contributions should be given a market-based monetary value. If you fail to provide letters of commitment with specific details including the amount of the actual contributions, you will not get rating points for this factor. Each letter of commitment, memorandum of understanding, or agreement to participate shall include the organization's name and the proposed level of commitment and responsibilities as they relate to the proposed project. The commitment must be signed by an official legally able to make commitments on behalf of the organization.

Rating Factor 5: Comprehensiveness and Coordination (10 Points)

This factor addresses the extent to which your project reflects a coordinated, community-based process of identifying needs and building a system to address the needs by using available HUD and other community resources. In evaluating this factor, HUD will consider:

(1) The degree of coordination of your proposed project with those of other groups or organizations to best support and coordinate all activities, and the specific steps you will take to share information on solutions and outcomes with others. Any written agreements or memoranda of understanding in place must be described.

(2) The extent to which you have developed linkages, or the specific steps you will take to develop linkages, to coordinate your activities so solutions are holistic and comprehensive. Linkages include those with other HUD, Federal, State, the Partnership for Advancing Technology in Homebuilding (PATH) (see Section VI(E) of the General Section of the SuperNOFA), or locally funded activities through meetings, information networks, planning processes, or other means.

(3) The degree of coordination with housing rehabilitation, housing and health inspection, and other related housing programs.

(a) Describe your plan for integrating and coordinating housing-based hazard interventions with other housing-related activities (e.g., rehabilitation, weatherization, removal of code violations, and other similar work).

(b) Describe your plans to consolidate housing-based hazard interventions with applicable housing codes and health regulations.

(c) Describe your plans to generate and use public subsidies or other resources (such as revolving loan funds) to finance future interventions to prevent and control housing-based hazards, particularly in low-and very-low-income housing.

(d) Detail the extent to which you will ensure that the needs of minorities and persons with disabilities will be addressed adequately during your intervention activities; and that housing in which environmental hazards have been addressed will remain available and affordable in the long run for low income, minority, large families, and for persons with disabilities.

(4) If applicable, the application should demonstrate a knowledge of the target community's Consolidated Plan and/or Analysis of Impediments to Fair Housing Choice and detail the Consolidated Plan issue areas in which your organization participates. Describe the degree to which you have become actively involved (or if not currently active, the specific steps you will take to become active) in your community's Consolidated Planning and/or AI process established to identify and address a need/problem that is related in whole or part, directly, or indirectly the activities you propose.

VI. Application Submission Requirements

(A) Applicant Information. You should submit your application in accordance with the format and instructions contained in this program section of this SuperNOFA (the application kit repeats this information). The following is a checklist of required application contents. Your application must contain the items listed in this section (VI(A)). These items include the standard forms, certifications, and assurances listed in the General Section of the SuperNOFA that are applicable to this funding (collectively, referred to as the “standard forms”). The standard forms can be found in Appendix B to the General Section of the SuperNOFA. The remaining application items that are forms (i.e., excluding such items as narratives), referred to as the “non-standard forms” can be found as Appendix C to this program section of the SuperNOFA. The items are as follows:

(1) Transmittal letter that summarizes your proposed project, provides the dollar amount requested, and identifies you and your partners in the application.

(2) The name, mailing address, telephone number, and principal contact person. If you are a consortium of associates, sub-recipients, partners, major subcontractors, joint venture participants, or others contributing resources to the project, similar information shall also be provided for each of these entities and you must specify the lead entity.

(3) Checklist and Submission Table of Contents.

(4) Completed Forms HUD-2880, Applicant/Recipient Disclosure/Update Report; Certification Regarding Lobbying; and SF-LLL, Disclosure of Lobbying Activities, where applicable.

(5) Standard Forms SF-424, 424M, 424A, 424B, and other certifications and assurances listed in this program section.

(6) A narrative statement addressing the rating factors for award. The narrative statement must be numbered in accordance with each factor for award (Rating Factors 1 through 5). The response to the rating factors must not exceed a total of 25 pages. Any pages in excess of this limit will not be read.

(7) Any attachments, appendices, references, or other relevant information that directly support the narrative may accompany it, but must not exceed twenty (20) pages for your entire application. Any pages in excess of this limit will not be read.

(8) A detailed budget with supporting cost justification for all budget categories of your funding request (in accordance with Rating Factor 3(1)(b)). This information will not be counted towards the page limits.

(9) The resumes and position descriptions of your project director and project manager and up to three additional key personnel, not to exceed three pages each (in accordance with Rating Factor 1). This information will not be counted towards the page limits.

VII. Corrections to Deficient Applications

The General Section of the SuperNOFA provides the procedures for corrections to deficient applications.

VIII. Environmental Requirements

Activities assisted under this program are subject to HUD environmental review to the extent required under 24 CFR part 50. An award under the Healthy Homes Initiative does not constitute approval of specific sites where activities may be carried out. Following award execution, HUD will perform environmental reviews for activities to be carried out on properties proposed by your organization. You may not rehabilitate, convert, repair or construct a property, or commit or expend program funds or non-HUD funds for these program activities for any eligible property, until you receive written notification from the appropriate HUD official that HUD has completed its environmental review and the property has been approved. The results of environmental reviews may require that proposed activities be modified or proposed sites rejected.

IX. Authority

The authority for this program is Sections 501 and 502 of the Housing and Urban Development Act of 1970 and the Departments of Veterans Affairs and Housing and Urban Development, and Independent Agencies Appropriations Act, 2001, Pub.L. 106-377, approved October 27, 2000.

Appendix A

The following briefly describes the housing-associated health and injury hazards HUD considers key targets for intervention:

Allergens and asthma: Experts estimate that 14 million Americans have asthma, with an associated annual cost of $14 billion. Asthma is now recognized as the leading cause of school and work absence, emergency room visits and hospitalization. For sensitized children, exposure to antigens from dust mites, certain pets, and cockroaches has been associated with more severe asthma. There is a preponderance of evidence showing a dose-response relationship between exposure and prevalence of asthma and allergies; some evidence also indicates that exposure to antigens early in life may predispose or hasten the onset of allergies and asthma. Dust mites have been identified as the largest trigger for asthma and allergies. Cockroach allergens appear to be excessive in 30-50% of inner-city housing and affect 5-15% of the population, whereas dust mite appears to be the dominant allergen in other environments.

Interventions known to have beneficial effects include installation of impervious mattress and pillow covers, which can reduce allergen exposure by 90%. Other dust mite control measures include dehumidification, laundering bedding, and removal of carpets and other dust sinks. Cleaning carpets with tannic acid solution has also been demonstrated to greatly reduce dust mites. Asthma prevention program costs have been estimated at about $500 per unit, which includes about $150 for educational interventions.

Asbestos: Asbestos is a mineral fiber that has been used commonly in a variety of building construction materials and household products for insulation and as a fire-retardant. The Environmental Protection Agency (EPA) and the Consumer Product Safety Commission (CPSC) have banned most asbestos products. Manufacturers have also voluntarily limited uses of asbestos. Today, asbestos is most commonly found in older homes: in pipe and furnace insulation materials, asbestos shingles, millboard, textured paints and other coating materials, and floor tiles. Elevated concentrations of airborne asbestos can occur when asbestos-containing materials (ACM) are disturbed by cutting, sanding or other remodeling activities. Improper attempts to remove these materials can release asbestos fibers into the air in homes, increasing asbestos levels and endangering people living in those homes. The most dangerous asbestos fibers are too small to be visible. After they are inhaled, they can remain and accumulate in the lungs. Asbestos can cause lung cancer, mesothelioma (a cancer of the chest and abdominal linings), and asbestosis (irreversible lung scarring that can be fatal). Most people with asbestos-related diseases were exposed to elevated concentrations on the job; some developed disease from exposure to clothing and equipment brought home from job sites. As with radon, dose-response extrapolations suggest that lower level exposures, as may occur when asbestos-containing building materials deteriorate or are disturbed, may also cause cancer.

Intact asbestos-containing materials are not a hazard; they should be monitored for damage or deterioration and isolated if possible. Repair of damaged or deteriorating ACM usually involves either sealing (encapsulation) or covering (enclosure) it. Repair is usually cheaper than removal, but it may make later removal of asbestos more difficult and costly. Repairs should be done only by a professional trained and certified to handle asbestos safely and can cost from a few hundred to a few thousand dollars; removal can be more expensive.

Combustion products of heating and cooking appliances: Burning of oil, natural gas, kerosene, and wood for heating or cooking purposes can release a variety of combustion products of health concern. Depending upon the fuel, these may include carbon monoxide (a chemical asphyxiant), oxides of nitrogen (respiratory irritants), polycyclic aromatic hydrocarbons (e.g., the carcinogen benzo[a]pyrene), and airborne particulate matter (respiratory irritants). Carbon monoxide, an odorless gas, can be fatal. Nitrogen dioxide can damage the respiratory tract, and sulfur dioxide can irritate the eyes, nose and respiratory tract. Smoke and other particulates irritate the eyes, nose and throat, and can cause lung cancer.

Improper venting and poor maintenance of heating systems and cooking appliances can dramatically increase exposure to combustion products. Experts recommend having combustion heating systems inspected by a trained professional every year to identify blocked openings to flues and chimneys; cracked or disconnected flue pipe; dirty filters; rust or cracks in the heat exchanger; soot or creosote build-up; and exhaust or gas odors. Installing a carbon monoxide detector is also recommended; however, such a detector will not detect other combustion by-products.

Insect and rodent pests: The observed association between exposure to cockroach antigen and asthma severity has already been noted above. In addition, cockroaches may act as vehicles to contaminate and environmental surfaces with certain pathogenic organisms. Rodents can transmit a number of communicable diseases to humans, either through bites, arthropod vectors, or exposure to aerosolized excreta. In addition, humans can become sensitized to proteins in rodent, urine, dander and saliva. Such sensitization may contribute to asthma severity among children. Insect and rodent infestation is frequently associated with substandard housing that makes it difficult to eliminate. Treatment of rodent and insect infestations often includes the use of toxic pesticides which may present hazards to occupants (see below). Integrated pest management (IPM) for rodents and cockroaches, which reduces the use of pesticides, is estimated to cost approximately $150 per unit. IPM control measures include sealing holes and cracks, removing food sources and use of traps.

Lead: Exposure to lead, especially from deteriorating lead-based paint, remains one of the most important and best-studied of the household environmental hazards to children. Although blood lead levels have fallen nationally, a large reservoir of lead remains in housing. The most recent national survey, conducted from 1991-94, showed that nearly one million U.S. preschoolers still have elevated blood lead levels. Overall, the prevalence rate among all children under six years of age is 4.4%. Among low-income children living in older housing where lead-based paint is most prevalent, the rate climbs to 16%; and for African-American children living in such housing, it reaches 21%.

HUD estimates that 64 million dwellings have some lead-based paint, and that 20 million have lead-based paint hazards. Of those, about 3.6 million have young children and of those, about 500,000 units have inadequate cash flow to respond to lead-based paint hazards. Costs can range anywhere from $500 to $15,000 per unit. Corrective measures include paint stabilization, enclosure and removal of certain building components coated with lead paint, and cleanup and “clearance testing,” which ensures the unit is safe for young children.

Mold and moisture: An analysis of several pulmonary disease studies estimates that 25% of airways disease, and 60% of interstitial lung disease may be associated with moisture in the home or work environment. Moisture is a precursor to the growth of mold and other biological agents, which is also associated with respiratory symptoms. An investigation of a cluster of pulmonary hemosiderosis (PH) cases in infants showed PH was associated with a history of recent water damage to homes and with levels of the mold Stachybotrys atra (SA) in air and in cultured surface samples. Associations between exposure to SA and “sick building” symptoms in adults have also been observed. Other related toxigenic fungi have been found in association with SA-associated illness and could play a role. For sensitive individuals, exposure to a wide variety of common molds may also aggravate asthma. Addressing mold problems in housing requires coordination among the medical, public health, microbiological, housing, and building science communities.

The cost of mold/moisture-related intervention work (e.g., integrated pest management, clean and tune furnace, remove debris, vent clothes dryer, cover dirt floor with impermeable vapor barrier) is a few hundred dollars, unless major modification of the ventilation system is needed. For example, in Cleveland, mold interventions, including repairs to ventilation systems and basement flooring, in the most heavily-contaminated homes range from $500—$5,000, with some costs also being dedicated to lead hazard control simultaneously through its Lead+Asthma program.

Pesticide residues: According to the EPA, 75 percent of U.S. households used at least one pesticide product indoors during the past year. Products used most often are insecticides and disinfectants. Another study suggests 80 percent of most people's exposure to pesticides occurs indoors and that measurable levels of up to a dozen pesticides have been found in the air inside homes. The amount of pesticides found in homes appears to be greater than can be explained by recent pesticide use in those households; other possible sources include contaminated soil or dust that migrates in from outside, stored pesticide containers, and household surfaces that collect and then release the pesticides. Pesticides used in and around the home include products to control insects (insecticides), termites (termiticides), rodents (rodenticides), molds and fungi( fungicides), and microbes (disinfectants). In 1990, the American Association of Poison Control Centers reported that some 79,000 children were involved in common household pesticide poisonings or exposures. In households with children under five years old, almost one-half stored at least one pesticide product within reach of children. Exposure to chlorpyriphos (CP), a commonly used organophosphate insecticide, in the prenatal and early postnatal period may impair neurodevelopment. While CP is a biodegradable pesticide, substantial persistence of CP in house dust has been demonstrated. Exposure to high levels of cyclodiene pesticides, commonly associated with misapplication, has produced various symptoms, including headaches, dizziness, muscle twitching, weakness, tingling sensations, and nausea. In addition, EPA is concerned that cyclodienes might cause long-term damage to the liver and the central nervous system, as well as an increased risk of cancer.

There are available data on hazard evaluation methods and remediation effectiveness regarding pesticide residues in the home environment.

Radon progeny: The National Academy of Sciences estimates that approximately 15,000 cases of lung cancer per year are related to radon exposure. Epidemiologic studies of miners exposed to high levels of radon in inhaled air have defined the dose response relation for radon-induced lung cancer at high exposure levels. Extrapolation of these data has been used to estimate the excess risk of lung cancer attributable to exposure to radon gas at the lower levels found in homes. These estimates indicate that radon gas is an important cause of lung cancer deaths in the U.S. Excessive exposures are typically related to home ventilation, structural integrity and location.

Radon measurement and remediation methods are well-developed, and the Environmental Protection Agency (EPA) recommends that every home be measured for radon. EPA estimates that materials and labor costs for radon reduction in an existing home are $800-$2500. Including radon resistant techniques in new home construction costs $350-$500, and can save up to $65 annually in energy costs, according to the EPA.

Take-home hazards from work/hobbies and work at home: When the clothing, hair, skin, or shoes of workers become contaminated with hazardous materials in the workplace, such contaminants may inadvertently be carried to the home environment and/or an automobile. Such “take-home” exposures have been demonstrated, for example, in homes of lead-exposed workers. In addition, certain hobbies or workplaces located in the home may provide an especially great risk of household contamination.

Control methods include storing and laundering work clothes separately, and showering and changing before leaving work, or immediately after arriving home. Once a home becomes contaminated, cleaning floors and contact surfaces and replacing furnishings may be necessary to reduce exposures.

Unintentional injuries/fire: Unintentional injury is now the leading cause of death and disability among children younger than 15 years of age. In 1997, nearly 7 million persons in the United States were disabled for at least 1 full day by unintentional injuries received at home. During the same year, 28,400 deaths were attributable to unintentional home injuries, of which 1800 occurred among children 0-4 years of age. Among young children, three types of events accounted for more than 3/4 of deaths: fires/ burns, drownings, and mechanical suffocation. Falls and poisoning are the next most common.

Home visitation protocols have been shown to be effective in reducing exposure to such hazards. The “add-on” cost of injury prevention measures, when combined with other housing interventions are estimated at about $100 per unit. This includes the cost of some injury prevention devices, such as smoke alarms, electrical socket covers, etc.

Appendix B

References: To secure any of the documents listed, call the listed telephone number (generally, the telephone numbers are not toll-free).

Regulations: 1. Worker Protection: OSHA publication—Telephone: 202-693-1888 (OSHA Regulations) (available for a charge)—Government Printing Office—Telephone: 202-512-1800 (not a toll-free number):

—General Industry Lead Standard, 29 CFR 1910.1025 (Document Number 869022001124). Can be downloaded from the Internet without charge from www.osha-slc.gov/OshStd_data/1910_1025.html.

—Lead Exposure in Construction, 29 CFR 1926.62, and appendices A, B, C, and D (Document Number 869022001141). Can be downloaded from the Internet without charge from www.osha-slc.gov/OshStd_data/1926_0062.html.

2. Waste Disposal: 40 CFR parts 260-268 (EPA regulations) (available for a charge)—Telephone 1-800-424-9346, or, from the Washington, DC, metropolitan area, 1-703-412-9810 (not a toll-free number). Can be downloaded from the Internet without charge from www.epa.gov/docs/epacfr40/chapt-I.info/subch-I/.

3. Lead; Requirements for Lead-Based Paint Activities in Target Housing and Child-Occupied Facilities; Final Rule: 40 CFR Part 745, (EPA) (Lead Hazard Standards, Work Practice Standards, EDP and State Certification and Accreditation programs for those engaged in lead-based paint activities)—Telephone: 1-202-554-1404 (Toxic Substances Control Act Hotline) (not a toll-free number). Can be downloaded from the Internet without charge from www.epa.gov/opptintr/lead/index.html.

Guidelines: 1. Guidelines for the Evaluation and Control of Lead-Based Paint Hazards in Housing; HUD, June 1995, and amended September, 1997. (available for a charge)—Telephone: 800-245-2691. Can be downloaded from the Internet without charge from www.hud.gov/lea/leadwnlo.html.

2. Preventing Lead Poisoning in Young Children; Centers for Disease Control, October 1991: Telephone: 888-232-6789.

3. Screening Young Children for Lead Poisoning: Guidance for State and Local Public Health Officials, November 1997; Centers for Disease Control and Prevention (CDC): Telephone: 888-232-6789. Can be downloaded from the Internet without charge from www.hud.gov/lea/leadwnlo.html.

Reports: 1. Putting the Pieces Together: Controlling Lead Hazards in the Nation's Housing, (Summary and Full Report); HUD, July 1995 (available for a charge)—Telephone 800-245-2691. Can be downloaded from the Internet without charge from www.hud.gov/lea/leadwnlo.html

2. The Healthy Homes Initiative: A Preliminary Plan (Summary and Full Report); HUD, July 1995. Can be downloaded from the Internet without charge from www.hud.gov/lea/leadwnlo.html

3. Institute of Medicine. Indoor Allergens. Assessing and Controlling Adverse Health Effects. National Academy Press. Washington, D.C. 1993.

4. Mott L., Our Children at Risk. Natural Resources Defense Council. Washington, D.C. 1997. Can be ordered from the Internet from www.nrdc.org

5. Rom W.N., Ed. Environmental and Occupational Medicine. Little, Brown and Co., Boston. 1992.

6. President's Task Force on Environmental Health Risks and Safety Risks to Children. Asthma and The Environment: An Action Plan to Protect Children. Washington, D.C. 1999. Eliminating Childhood Lead Poisoning: A Federal Strategy Targeting Lead Paint Hazards. Washington, D.C., 2000. Can be downloaded from the Internet without charge from www.epa.gov/children.

Appendix C

The non-standard forms, which follow, are required for your Healthy Homes Demonstration and Education application. They are the Checklist and Submission Table of Contents and the Total Budget (Federal Share and Matching Contribution, including instructions).

BILLING CODE 4210-32-P

FUNDING AVAILABILITY FOR THE HOPE VI PROGRAM

Program Overview

Purpose of the Program. HOPE VI Revitalization Grants. In accordance with section 24(a) of the U.S. Housing Act of 1937 (1937 Act), the purpose of HOPE VI Revitalization grants is to assist public housing agencies (PHAs) to:

(1) Improve the living environment for public housing residents of severely distressed public housing projects through the demolition, rehabilitation, reconfiguration, or replacement of obsolete public housing projects (or portions thereof);

(2) Revitalize sites (including remaining public housing dwelling units) on which such public housing projects are located and contribute to the improvement of the surrounding neighborhood;

(3) Provide housing that will avoid or decrease the concentration of very low-income families; and

(4) Build sustainable communities.

HOPE VI Demolition Grants. Demolition grants enable PHAs to expedite the demolition of severely distressed public housing units. Any subsequent new construction or revitalization of any remaining units must be funded from other resources, which may include a HOPE VI Revitalization Grant.

Available Funds. Approximately $565 million, as allocated in accordance with Section II of this HOPE VI section of the SuperNOFA, below.

Eligible Applicants. PHAs that meet the requirements at Section III(B) of this HOPE VI section of the SuperNOFA, below.

Application Deadlines. Revitalization grant applications are due on June 22, 2001. Demolition grant applications are due on July 10, 2001.

Additional Information

If you are interested in applying for a HOPE VI grant, please review the following information, the General Section of this SuperNOFA, and the HOPE VI Application Kit.

I. Application Due Date, Application Kits, Further Information, and Technical Assistance

(A) Application Due Dates. (1) Revitalization grant applications are due at HUD Headquarters on or before 12:00 midnight, Eastern time on June 22, 2001.

(2) Demolition grant applications are due at HUD Headquarters on or before 12:00 midnight, Eastern time on July 10, 2001. See Section VII(B)(3) of this HOPE VI section of the SuperNOFA, below, for important information regarding the application deadline and deficiency cure period for Demolition grant applications.

(3) See the General Section of this SuperNOFA for specific procedures governing the form of application submission (e.g., mailed applications, express mail, overnight delivery, or hand carried).

(B) Submission of Applications.

(1) Revitalization Grants. (a) Send an original and one copy of your completed application to HUD Headquarters, 451 Seventh Street, SW, Room 4130, Washington, DC 20410, Attention: Mr. Milan Ozdinec, Acting Deputy Assistant Secretary for Public Housing Investments.

(b) Send one copy of your completed application to your local HUD Field Office.

(2) Demolition Grants. (a) Send one copy of your completed application to HUD Headquarters, 451 Seventh Street, SW, Room 4130, Washington, DC 20410, Attention: Mr. Milan Ozdinec, Acting Deputy Assistant Secretary for Public Housing Investments.

(b) Send one copy of your completed application to your local HUD Field Office.

(3) Field Offices: Appendix A-1.

A list of HUD Field Offices and their hours of operation is included as Appendix A of the General Section of this SuperNOFA. If you wish to hand carry your application(s) to your local HUD Field Office, you may do so during normal business hours before the application deadline dates. On each application deadline date, HUD Field Office business hours will be extended to 6:00 pm. HUD will determine whether your application is timely filed based on the date and time of receipt at HUD Headquarters, not the date and time of receipt at your local Field Office.

(C) Application Kits. HUD will mail an Application Kit to every eligible PHA. To obtain an Application Kit and any supplemental materials, please call the SuperNOFA Information Center at 1-800-HUD-8929. Persons with hearing or speech impairments may call the Center's TTY number at 1-800-HUD-2209. When requesting an Application Kit, please refer to HOPE VI and provide your name, address (including zip code), and telephone number (including area code). The Application Kit also will be available on the HUD Grant Information Website (www.hud.gov/grants) and the HOPE VI Home Page (www.hud.gov/hopevi).

(D) Further Information and Technical Assistance. You may call, fax, or write Mr. Milan Ozdinec, Acting Deputy Assistant Secretary for Public Housing Investments, Department of Housing and Urban Development, 451 Seventh Street, SW, Room 4130, Washington, DC 20410; telephone (202) 708-0614x4166; fax (202) 401-2370 (these are not toll free numbers). Persons with hearing or speech impairments may call via TTY by calling the Federal Information Relay Service at 1-800-877-8339.

(E) Satellite Broadcast. HUD will hold an information broadcast via satellite for potential applicants HOPE VI staff will review the NOFA and answer questions from members of the audience. For more information about the date and time of the broadcast, consult the HUD Grant Information Website (www.hud.gov/grants).

II. Amount Allocated

Type of Assistance | Allocation of funds (approximate) | Funds Available for Award in this HOPE VI section of the SuperNOFA (Approximate)
A. Revitalization Grants for projects with 300+ units; preference for Section 202 projects scoring 80+ points | $225,000,000 | $225,000,000
B. Revitalization Grants for all Housing Authorities | 265,000,000 | 265,000,000
Demolition Grants | 75,000,000 | 75,000,000
Technical Assistance | 10,000,000 |
Total | 575,000,000 | 565,000,000

(A) Revitalization Grants. (1) Allocation of Funds.

(a) Total Allocation. Approximately $490 million of the FY 2001 HOPE VI appropriation has been allocated to fund HOPE VI Revitalization grants and will be awarded in accordance with this HOPE VI section of the SuperNOFA.

(b) Group A Applications.

(i) Section 202 Priority. Approximately $225 million of the FY 2001 HOPE VI appropriation has been allocated to fund Revitalization applications that propose to revitalize severely distressed public housing projects that:

(A) have 300 or more units. If your application proposes to revitalize more than one development or a scattered site development, as described in section II(A)(5)(b) and (c) of this HOPE VI section of the SuperNOFA, all of the units will be counted toward the 300 unit minimum; and

(B) receive a score of 80 points or more; and

(C) propose to provide replacement housing (including on-site replacement housing) for public housing developments that:

(i) have been identified by HUD, in HUD's sole determination, to be subject to conversion or assessment under Section 202 of the Omnibus Consolidated Rescissions and Appropriations Act of 1996 (“Section 202”); and

(ii) as of January 1, 2000, have not subsequently been determined by HUD to have satisfied the requirements of Section 202; and

(iii) as of January 1, 2000, have not approved Section 202 Mandatory Conversion plan (i.e., a plan for removal of units from the public housing inventory in accordance with the requirements at 24 CFR 971.7(d)), approved demolition or disposition application under section 18 of the U.S. Housing Act, or approved HOPE VI Revitalization Grant (“Section 202 Developments”).

(ii) Section 202 Priority Guidelines.

(A) If you intend to submit an application for a Section 202 Development, discuss your proposal with your Field Office to ensure that it qualifies under the standards set forth above.

(B) If more than one development is targeted in your application (in accordance with section II(A)(5)(b) and (c) of this HOPE VI section of the SuperNOFA), and one or more qualify under Section 202, all developments targeted in the application will be considered to qualify under Section 202.

(iii) Other Priority A Applications.

(A) If funds remain of the $225 million allocated for Group A application after all applications described in (b)(i) above are funded, applications that target developments with 300 or more units will be funded, in score order, to the approximately $225 million allocation.

(B) If funds remain of the $225 million allocated for all eligible Group A applications described in (b)(i) and (b)(iii) above are funded, those remaining funds will be combined with the $265 allocation for Group B applications.

(c) Group B Applications.

Approximately $265 million has been allocated to fund all other Revitalization applications without regard to the size of the project to be revitalized, including any eligible Group A applications that were not funded.

(2) Application Submission.

(a) If you submit an application that targets a Section 202 Development, you may also submit a second application, regardless of whether it targets a 202 Development or the number of units in the development.

(b) If you do not submit an application that targets a Section 202 Development, you may submit only one application.

(3) Total Grant Amount. The total amount you may request per Revitalization Application is limited to $35 million or the sum of the amounts in paragraph (4) below, of this Section II(A)(3), whichever is lower.

(4) Revitalization Grant Limitations.

(a) Total Development Cost (TDC). TDCs are limited by the HUD-published TDC Cost Tables, which are issued for each fiscal year (FY) for the building type and bedroom distribution for the public housing replacement units. Use the TDCs in effect at the time the SuperNOFA is published when making your TDC calculations. The total cost of development, including relocation costs, is limited to the sum of:

(i) HUD's TDCs up to 100 percent of HUD's published TDC limits for the costs of demolition and new construction, multiplied by the number of HOPE VI replacement units; and/or

(ii) 90 percent of the TDC limits, multiplied by the number of public housing units after substantial rehabilitation and reconfiguration.

(b) Community and Supportive Services (CSS). You may request an amount up to 15 percent of the total HOPE VI grant to pay the costs of CSS activities, as described in Section IV(C)(3) of this HOPE VI section of the SuperNOFA. These costs are in addition to the TDC calculation in subparagraph (a) above.

(c) Demolition and Site Remediation Costs of Unreplaced On-site Units. You may request an amount necessary for demolition and site remediation costs of units that will not be replaced on-site. This cost is in addition to the TDC calculation in subparagraph (a) above.

(d) Extraordinary Site Costs. (i) You may request a reasonable amount to pay extraordinary site costs necessary to complete the proposed revitalization. These costs are in addition to the TDC calculation in paragraph (a) above. Extraordinary site costs may be incurred in the remediation and demolition of existing property, as well as in the development of new and rehabilitated units. Examples of such costs include, but are not limited to: abatement of extraordinary environmental site hazards; removal or replacement of extensive underground utility systems; extensive rock and/or soil removal and replacement; removal of hazardous underground tanks; work to address unusual site conditions such as slopes, terraces, water catchments, lakes, etc.; and work to address flood plain and other environmental remediation issues. Costs to abate asbestos and lead-based paint should be included in normal demolition costs where such items are found within the structures themselves. An example of extraordinary lead-based paint would be where the lead has leached into the soil and extraordinary measures are needed to remove the lead.

(ii) Extraordinary site costs must be justified and verified by an engineer or architect licensed by his or her state licensing board who is not an employee of the housing authority or the city. The engineer or architect must provide his or her license number and state of registration. An Extraordinary Site Costs Certification is included in the HOPE VI Application Kit.

(e) You may not use HOPE VI Revitalization Grant funds to pay for any revitalization activities carried out before the date of the letter announcing the award of the HOPE VI Grant.

(f) You may use any non-public housing funds to supplement public housing funds for any project cost.

(g) Your application must disclose all prior HUD public housing grant assistance received for the project(s) you have targeted for the physical revitalization related to the proposed revitalization activities. Do not include Modernization or Capital Funds used for prior rehabilitation activities unrelated to the proposed HOPE VI revitalization activities.

(5) Revitalization Site and Unit Application Guidelines.

(a) Except as provided in subparagraphs (b) and (c) below, each application must target one severely distressed public housing project (i.e., a project with one development number).

(b) Each application may request funds for more than one project if those projects are immediately adjacent to one another or within a quarter-mile of each other. If you include more than one project in a single application, you must provide a map that clearly indicates that the projects are within a quarter-mile of each other.

(c) Your application may request funds to revitalize a scattered site public housing project. The sites targeted in an application proposing to revitalize scattered sites (regardless of whether the scattered sites are under multiple project numbers) must fall within a one square mile area, except that you may identify a larger site if you can show that all of the targeted scattered site units are located within the hard edges (e.g., major highways, railroad tracks, lakeshore, etc.) of a neighborhood.

(d) You may request funds for as few or as many units as you wish in your application. HUD will review requests for small numbers of units on an equal basis with requests for large numbers of units.

(e) You may submit a Revitalization application that targets a project that is being revitalized or replaced under a previously-funded HOPE VI Revitalization grant or another source of HUD funds. However, you may not apply for new HOPE VI Revitalization funds for units in that project that were funded by the previous HOPE VI Revitalization grant or other HUD funds, even if the previously-awarded HUD funds turned out to be inadequate to pay the costs to revitalize or replace all of the targeted units. For example, if a project has 700 units and you were awarded HOPE VI Revitalization grant funds or other HUD public housing funds to address 300 of those units, you may submit an FY 2001 HOPE VI Revitalization application to revitalize the remaining 400 units. You may not apply for supplemental funds to supplement work on the original 300 units.

(B) Demolition Grants. (1) Allocation of Funds. Approximately $75 million of the FY 2001 HOPE VI appropriation has been allocated to fund HOPE VI Demolition grants and will be awarded in accordance with this HOPE VI section of the SuperNOFA.

(2) Demolition Grant Limitations.

(a) Demolition. You may request up to $5,000 per unit for demolition and other eligible related costs.

(b) Relocation. (i) You may request up to $3,000 in relocation costs for each unit that is occupied as of the date you submit your HOPE VI Demolition grant application.

(ii) At least half of the funds requested for relocation must be used to provide mobility counselling and other services to promote the self-sufficiency of displaced residents, and must be matched by non-HOPE VI funds in accordance with Section IV(E)(2)(d)(ii) of this HOPE VI section of the SuperNOFA, below.

(c) Extraordinary Site Costs. (i) You may request a reasonable amount to pay extraordinary site costs necessary to complete the proposed demolition. If requested, extraordinary site costs must be included as part of an application for funding of demolition of public housing units; you may not apply for them by themselves. For Priority Group 4 applications, as described in Section VII(A)(1)(d) below, these costs are in addition to the TDC calculation in Section II(A)(3)(a) of this HOPE VI section of the SuperNOFA, above. Examples of such costs include, but are not limited to: abatement of extraordinary environmental site hazards; removal of extensive underground utility systems; extensive rock and/or soil removal and replacement; removal of hazardous underground tanks; work to address unusual site conditions such as slopes, terraces, water catchments, lakes, etc.; and work to address flood plain and other environmental remediation issues. Costs to abate asbestos and lead-based paint should be included in normal demolition costs where such items are found within the structures themselves. An example of extraordinary lead-based paint would be where the lead has leached into the soil and extraordinary measures are needed to remove the lead.

(ii) Extraordinary site costs must be justified and verified by an engineer or architect licensed by his or her state licensing board who is not an employee of the housing authority or the city. The engineer or architect must provide his or her license number and state of registration. An Extraordinary Site Costs Certification is included in the HOPE VI Application Kit.

(d) Nondwelling Facilities.

(i) You may request reasonable amounts to pay for the demolition of significant nondwelling facilities related to the demolition of dwelling units. These costs must be included as part of an application for funding of demolition of public housing units; you may not apply for them by themselves. Examples of such costs include, but are not limited to, the demolition of heating plants, community buildings, or streets.

(ii) Such costs must be justified and verified by an engineer or architect, as described in subparagraph (c)(ii) above. A Nondwelling Facilities Cost Certification is included in the Demolition Grant Application section of the HOPE VI Application Kit.

(e) HUD recognizes that the HOPE VI grant may not cover the total costs of relocation, abatement, and demolition in all cases and that you may have to provide additional funding from other sources.

(f) You may not use HOPE VI Demolition Grant funds to pay for any demolition or related activities carried out before the date of the letter announcing the award of the HOPE VI Grant.

(3) Demolition Site and Unit Application Guidelines.

(a) You may submit up to 10 HOPE VI Demolition grant applications that target a total of no more than 4,500 severely distressed public housing units.

(b) You may target units in only one public housing project per application.

(c) You may submit more than one application targeting units in a single housing project.

(d) You may target as many or as few units per application as you wish.

(C) Section 8. (1) If you anticipate that you will need Section 8 assistance in order to carry out necessary relocation in conjunction with proposed revitalization or demolition during FY 2002, you must state the number of certificates you will need, both in total and in FY 2002, and include a completed Section 8 Application (HUD-52515) for the units you will need in FY 2002 with your HOPE VI application. The Section 8 Application Form can be found in the HOPE VI Application Kit and from HUDCLIPS (www.hudclips.org). If you are selected for HOPE VI funding, the HUD Field Office will detach the Section 8 application and process it in accordance with Section 8 Guidelines. If you are successful in receiving a HOPE VI Revitalization grant, you should confirm with your Field Office that your Section 8 application is processed.

(2) If you will need Section 8 assistance in fiscal years beyond FY 2002 for revitalization or demolition that is being carried out in phases, or if you have unused Section 8 vouchers that are available to be used for HOPE VI-related relocation in FY 2002 but will need more for subsequent years, you must request additional vouchers only as needed during the appropriate fiscal years.

(3) Section 8 assistance cannot be awarded or used to relocate residents from units that are to be demolished until those units have been approved by HUD for demolition.

(4) If you have already applied for FY 2002 Section 8 assistance for the targeted units, include a copy of your Section 8 application with your HOPE VI application.

(5) If you have previously received Section 8 assistance to relocate residents from the targeted severely distressed units, you may still apply for a HOPE VI Revitalization Grant to physically replace those same units, or a HOPE VI Demolition Grant to demolish the units without replacement.

(6) You may request Section 8 assistance to provide temporary relocation to families who intend to move back to the site upon completion of the demolition and revitalization of the severely distressed project.

(7) You may request Section 8 assistance for all units covered under a HOPE VI Revitalization or Demolition application to relocate residents from units that will not be replaced with hard units.

(8) Under standard HUD policy, Section 8 vouchers are available as replacement units for all units (occupied or vacant) that will be demolished, sold, or otherwise disposed of, minus the number of public housing units replaced with Federal funds. To the extent that the resulting number exceeds the number of units requested for relocation as a result of activities funded by a HOPE VI Revitalization or Demolition grant under this NOFA, you should apply for Section 8 vouchers in accordance with the funding notices issued by HUD. For more information, see Notice PIH 2000-27, which is available through HUDCLIPS (www.hudclips.org).

(D) Technical Assistance. The FY 2001 appropriation for HOPE VI allocated $10 million to provide Technical Assistance in the planning, development, and implementation of the HOPE VI Program. Those funds will be administered by the Office of Public Housing Investments.

III. Program Description; Eligible Applicants; Eligible Activities

(A) Program Description. The HOPE VI Program, through its Revitalization funding component, assists PHAs in improving the living environment for public housing residents of severely distressed public housing projects through the demolition, rehabilitation, reconfiguration, or replacement of obsolete public housing projects (or portions thereof), in revitalizing sites in which public housing sites are located, and providing housing that avoids or decreases the concentration of very low-income families. The demolition funding component of the HOPE VI Program enables PHAs to expedite the demolition of severely distressed public housing units.

(B) Eligible Applicants. (1) Troubled Status. In accordance with section 24(j) of the 1937 Act, the term “applicant” means:

(a) Any PHA that is not designated as “troubled” pursuant to section 6(j)(2) of the 1937 Act;

(b) Any PHA for which a private housing management agent has been selected, or a receiver has been appointed, pursuant to section 6(j)(3) of the 1937 Act; and

(c) Any PHA that is designated as “troubled” pursuant to section 6(j)(2) of the 1937 Act and that:

(i) Is designated as troubled principally for reasons that will not affect its capacity to carry out a revitalization program;

(ii) Is making substantial progress toward eliminating the deficiencies of the agency that resulted in its troubled status; or

(iii) Is otherwise determined by HUD to be capable of carrying out a revitalization program.

(2) MTCS Reporting. (a) To be eligible to submit an application under this HOPE VI Section of the SuperNOFA, you must:

(i) have a minimum reporting rate of not less than 85 percent for public housing resident records to HUD's MTCS (see 24 CFR part 908 and Notices PIH 98-30, 99-2, and 2000-13) for the period ending December 1999, and

(ii) submit a certification with your application certifying that you have met this requirement.

(b) If you received less than an 85 percent rate of reporting under MTCS for the period ending December 1999, you will still be considered to have passed this threshold requirement if:

(i) you subsequently achieved a minimum rate of not less than 85 percent for public housing resident records under the MTCS as of the December 2000 reporting period, or

(ii) you were granted forbearance by HUD under the applicable procedures under PIH Notice 2000-13 for the semi-annual assessment period ending December 2000, and

(iii) you submit a certification with your application indicating that you have either:

(A) achieved the minimum reporting rate as of the December 2000 reporting period, or

(B) obtained a forbearance from HUD for the semi-annual assessment period ending December 2000.

(C) Eligible Activities. The following are the activities that are eligible to be carried out using HOPE VI Revitalization and Demolition Grant funds. Other activities may also be eligible at future dates as Congress may authorize. Keep in mind that, until HUD has approved a Request for Release of Funds following a responsible entity's environmental review under 24 CFR part 58, or until HUD has completed an environmental review and given approval for the action under 24 CFR part 50, you may not undertake any actions that are choice-limiting or could have environmentally adverse effects, including demolishing, acquiring, rehabilitating, converting, leasing, repairing, or constructing property, and you may not commit or spend HUD or local funds for these activities.

(1) Eligible Revitalization Activities. HOPE VI Revitalization grants may be used for activities to carry out revitalization programs for severely distressed public housing in accordance with section 24(d) of the 1937 Act. If HOPE VI Revitalization Grant funds are used for any of the following activities, you must conduct them in accordance with the following program requirements.

(a) Relocation, including reasonable moving expenses, for residents displaced as a result of the revitalization of the project.

(i) General. You must provide suitable, decent, safe, and sanitary housing for each family required to relocate as a result of revitalization activities under the Revitalization Plan.

(ii) Standard Relocation Requirements. You must carry out relocation activities in compliance with the following statutory and regulatory requirements, as applicable:

(A) Relocation or temporary relocation carried out as a result of rehabilitation under an approved Revitalization Plan is subject to the Uniform Relocation Assistance and Real Property Policies Act (42 U.S.C. 4601 et seq; 49 CFR part 24) (URA) and regulations at 24 CFR 968.108 or successor regulations.

(B) Relocation carried out as a result of acquisition under an approved Revitalization Plan is subject to the URA and regulations at 24 CFR 941.207 or successor regulations.

(C) Relocation carried out as a result of disposition under an approved Revitalization Plan is subject to section 18 of the 1937 Act, as amended.

(D) Relocation carried out as a result of demolition under an approved Revitalization Plan is subject to the URA.

(iii) Relocation Application Information. In your application, you will provide:

(A) information on your plans for relocation in your response to Rating Factor 3(5) (Relocation and Section 8); and

(B) a list of the names of current residents to be relocated as of the date the HOPE VI Revitalization application is submitted.

(iv) The HOPE VI Revitalization Relocation Plan. If you are selected to receive a HOPE VI Revitalization grant, you will be required to submit to HUD a HOPE VI Revitalization Relocation Plan, including a Reoccupancy Agreement executed with the recognized resident body, as described in Section IV(D)(1)(c) of this HOPE VI Section of the SuperNOFA.

(b) Demolition of dwelling units and nondwelling facilities, in whole or in part. You may not carry out, nor permit others to carry out the demolition of any units or nondwelling facilities until HUD approves one of the following:

(i) information in your HOPE VI Revitalization Application, along with any supplemental information requested by HUD after the award of the grant. Section 24(g) of the 1937 Act provides that severely distressed public housing demolished pursuant to a Revitalization Plan is not required to be approved by a demolition application under section 18 of the 1937 Act or regulations at 24 CFR part 970;

(A) If you do not receive a HOPE VI Revitalization grant, the information in your application will not be used to process a request for demolition.

(B) Please note that demolition is not a required element of a HOPE VI Revitalization application.

(ii) a demolition application under Section 18 of the Act. While not required in order to proceed with demolition, you may carry out demolition based on an existing Section 18 demolition approval, or apply for Section 18 approval; or

(iii) a Section 202 Mandatory Conversion Plan, if the project is subject to the requirements of Section 202.

(c) Disposition of a severely distressed public housing site, by sale or lease, in whole or in part, in accordance with section 18 of the 1937 Act and implementing regulations at 24 CFR part 970. A long term lease of one year or more which is not incident to the normal operation of the development is considered a disposition.

(d) Rehabilitation and physical improvement of public housing and/or community facilities primarily intended to facilitate the delivery of community and supportive services for residents of the project and residents of off-site replacement housing, in accordance with 24 CFR 968.112(b), (d), (e), and (g)-(o) and 24 CFR 968.130 and 968.135(b) and (d) or successor regulations, as applicable.

(e) Development. (i) For any standard (non-mixed finance) public housing development activity, (whether on-site reconstruction or off-site development), you must obtain HUD approval of a Standard Development Proposal submitted under 24 CFR part 941 (or successor part).

(ii) For mixed-finance housing development, you must obtain HUD approval of a Mixed Finance Proposal, submitted under 24 CFR part 941, subpart F (or successor part and subpart).

(iii) For new construction of community facilities primarily intended to facilitate the delivery of community and supportive services for residents of the project and residents of off-site replacement housing, you must comply with 24 CFR part 941 (or successor part). Information required for this activity must be included in either a Standard or Mixed Finance Development Proposal.

(f) Homeownership Activities. For homeownership replacement units developed under a Revitalization Plan, you must obtain HUD approval of a homeownership proposal submitted under section 24(d)(1)(J) or Section 32 of the 1937 Act. The Homeownership Proposal must be consistent with the 80 percent of Area Median Income (AMI) limitations under the 1937 Act.

Assistance may include:

(i) Downpayment or closing cost assistance;

(ii) Provision of second mortgages; and/or

(iii) Construction or permanent financing for new construction, acquisition, or rehabilitation costs related to homeownership replacement units.

(g) Acquisition.

(i) Rental Units. For acquisition of rental units in existing or new apartment buildings, single family subdivisions, etc., with or without rehabilitation, for use as public housing replacement units, you must comply with 24 CFR part 941 or successor part.

(ii) Land for Housing, Off-Site Units. For acquisition of land for public housing development, you must comply with 24 CFR part 941 or successor part.

(iii) Land for Economic Development. (A) For acquisition of land for economic development-related activities that promote the economic self-sufficiency of residents, you must comply with 24 CFR part 941, subpart F, or successor part.

(B) With HUD approval, you may also use HOPE VI grant funds for limited infrastructure and site improvements associated with developing retail, commercial, or office facilities, such as rough grading and bringing utilities to (but not on) the site.

(C) You must enter into a long-term ground lease to govern the development and use of land acquired for economic development purposes.

(D) You may not use HOPE VI Grant funds to pay hard development costs or to buy equipment for retail, commercial, or office facilities.

(h) Necessary management improvements, including transitional security activities.

(i) Reasonable costs for administration, planning, technical assistance, and fees and costs, as established by HUD guidance and policies regarding cost controls. These costs are limited to the incremental costs of implementing the Revitalization Plan, as specifically approved by HUD, such as fees for architectural and engineering work, program management (if any), and reasonable legal fees.

(j) Community and Supportive Services (CSS). (i) The CSS Component of the HOPE VI Program encompasses all activities that are designed to promote upward mobility, self-sufficiency, and improved quality of life for the residents of the public housing project involved, including literacy training, job training, day care, transportation, and economic development activities. The CSS Component is further described in Section IV(C)(3) of this HOPE VI section of the SuperNOFA.

(ii) Consistent with section 24(j)(3) of the 1937 Act, you may use an amount up to 15 percent of the total HOPE VI Grant to pay the costs of CSS activities. You may spend additional sums on CSS activities using donations, HUD funds made available for that purpose, or other PHA funds.

(iii) Consistent with section 24(d)(2) of the Act, you may deposit up to 15 percent of your HOPE VI grant amount into an endowment trust to provide CSS activities, in accordance with section IV(C)(3)(d) of this HOPE VI section of the SuperNOFA, below.

(k) Leveraging other resources, including additional housing resources, supportive services, job creation, and other economic development uses on or near the project that will benefit future residents of the site.

(l) Rental assistance under Section 8.

(2) Eligible Demolition Activities. The following are the specific activities that are eligible using HOPE VI Demolition grant funds and the corresponding program requirements.

(a) Relocation, including reasonable moving expenses and self-sufficiency programs related to the permanent relocation of families.

(i) General. You must provide suitable, decent, safe, and sanitary housing for each family required to relocate as a result of demolition activities.

(ii) Standard Relocation Requirements. You must carry out relocation activities in compliance with the following statutory and regulatory requirements, as applicable:

(A) Relocation as a result of demolition approved by a Section 18 demolition application is subject to the URA and Section 18 of the Act.

(B) Relocation as a result of demolition approved as part of a Section 202 Mandatory Conversion Plan is subject to the URA.

(iii) The HOPE VI Demolition Relocation Plan. You will be required to provide a HOPE VI Demolition Relocation Plan in your application, as described in Section IV(E)(2) of this HOPE VI section of the SuperNOFA.

(b) Demolition of dwelling units in buildings, in whole or in part, including the abatement of environmentally hazardous materials such as asbestos, in accordance with section 18 of the 1937 Act as amended.

(c) Demolition of nondwelling facilities, if such demolition is directly related to the demolition of severely distressed dwelling units to be demolished with funds from the HOPE VI Demolition Grant.

(d) Restoration of the site to a “greenfield,” clean state by removing all demolished materials, filling in the site, and establishing a lawn. No additional improvements, such as constructing new curbs and gutters, installing playground equipment, or planting gardens may be paid for with HOPE VI Demolition grant funds.

(e) In the case of partial demolition of a site, minimal site restoration after demolition and subsequent site improvements to benefit the remaining portion of the project in order to provide project accessibility or to make the site more marketable.

(f) Reasonable costs for administration, planning, technical assistance, and fees and costs which are deemed to be incremental costs of carrying out the demolition as specifically approved by HUD.

IV. Program Requirements

(A) HOPE VI Application Requirements. In addition to the Fair Housing requirements provided in Section II(B) of the General Section of this SuperNOFA, all HOPE VI applications (Revitalization and Demolition) must comply with the following program requirements:

(1) Severe Distress. The targeted public housing project or building in a project must be severely distressed. In accordance with section 24(j)(2) of the 1937 Act, the term “severely distressed public housing” means a public housing project (or building in a project) that:

(a) Requires major redesign, reconstruction or redevelopment, or partial or total demolition, to correct serious deficiencies in the original design (including inappropriately high population density), deferred maintenance, physical deterioration or obsolescence of major systems, and other deficiencies in the physical plant of the project;

(b) Is a significant contributing factor to the physical decline of and disinvestment by public and private entities in the surrounding neighborhood;

(c) (i) Is occupied predominantly by families who are very low-income families with children, are unemployed, and dependent on various forms of public assistance; or

(ii) Has high rates of vandalism and criminal activity (including drug-related criminal activity) in comparison to other housing in the area;

(d) Cannot be revitalized through assistance under other programs, such as the Capital and Operating Funds Programs for public housing under the Act, or the programs under sections 9 and 14 of the 1937 Act (as in effect before the effective date under section 503(a) of the Quality Housing and Work Responsibility Act of 1998 (Pub.L. 105-276, approved October 21, 1998, referred to as the Public Housing Reform Act), because of cost constraints and inadequacy of available amounts; and

(e) In the case of individual buildings, is sufficiently separated from the remainder of the project of which the building is part to make use of the building feasible for revitalization; or

(f) That was a project described in paragraphs (a) through (e) above that has been legally vacated or demolished, but for which HUD has not yet provided replacement housing assistance (other than tenant-based assistance).

(2) Appropriateness. In accordance with section 24(e)(1) of the 1937 Act, an application for any HOPE VI grant must demonstrate the appropriateness of the proposal in the context of the local housing market relative to other alternatives.

(3) Litigation. You may not have any litigation pending which would preclude timely startup of activities.

(4) Desegregation Orders. You must be in full compliance with any desegregation or other court order related to Fair Housing (e.g., Title VI of the Civil Rights Act of 1964, the Fair Housing Act, and section 504 of the Rehabilitation Act of 1973) that affects your public housing program and that is in effect on the date of application submission.

(5) Flood Insurance. In accordance with the Flood Disaster Protection Act of 1973 (42 U.S.C. 4001-4128), your application may not propose to provide financial assistance for acquisition or construction (including rehabilitation) of properties located in an area identified by the Federal Emergency Management Agency (FEMA) as having special flood hazards, unless:

(a) The community in which the area is situated is participating in the National Flood Insurance program (see 44 CFR parts 59 through 79), or less than one year has passed since FEMA notification regarding such hazards; and

(b) Where the community is participating in the National Flood Insurance Program, flood insurance is obtained as a condition of execution of a Grant Agreement and approval of any subsequent demolition or disposition application.

(6) Coastal Barrier Resources Act. In accordance with the Coastal Barrier Resources Act (16 U.S.C. 3501), your application may not target properties in the Coastal Barrier Resources System.

(B) HOPE VI Post-Award Requirements. If you are selected for funding, in addition to the Fair Housing requirements provided in Sections II(B), (C) and (D) of the General Section of this SuperNOFA, all HOPE VI Grantees (Revitalization and Demolition) must comply with the following requirements:

(1) Internet Access. You must have access to the Internet and provide HUD with email addresses of key staff and contact people.

(2) Labor Standards. (a) Revitalization Grant Labor Standards. Davis-Bacon or HUD-determined wage rates apply to development or operation of revitalized housing to the extent required under section 12(a) of the 1937 Act. Davis-Bacon wage rates apply to demolition followed by construction on the site.

(b) Demolition Grant Labor Standards. HUD-determined wage rates apply to demolition followed only by filling in the site and establishing a lawn.

(c) Under section 12(b) of the 1937 Act, wage rate requirements do not apply to individuals who:

(i) Perform services for which they volunteered;

(ii) Do not receive compensation for those services or are paid expenses, reasonable benefits, or a nominal fee for the services; and

(iii) Are not otherwise employed in the work involved (24 CFR part 70).

(d) If other Federal programs are used in connection with your HOPE VI activities, labor standards requirements apply to the extent required by the other Federal programs on portions of the project that are not subject to Davis-Bacon rates under the Act.

(3) Section 3. You must comply with the requirements of section 3 of the Housing and Urban Development Act of 1968 (12 U.S.C. 1701u) (Employment Opportunities for Lower Income Persons in Connection with Assisted Projects) and its implementing regulation at 24 CFR part 135 (“Section 3”). Section 3 requires that, to the greatest extent feasible, HOPE VI Grantees direct training, employment, and other economic opportunities to low- and very low-income persons—particularly those who are recipients of government assistance for housing—and business concerns which provide economic opportunities to low- and very low-income persons. More information about Section 3 can be found at HUD's Section 3 website (www.hud.gov/fhe/sec3over.html).

(4) MBE/WBE. You must adopt the goal of awarding a specified percentage of the dollar value of the total of the HOPE VI contracts to be awarded during subsequent fiscal years to minority business enterprises and take appropriate affirmative action to assist resident-controlled and women's business enterprises, in accordance with the requirements of Executive Orders 11246, 11625, 12432, and 12138.

(5) OMB Circulars and Administrative Requirements. You and your Team, as defined in Rating Factor 1, Capacity, must comply with the following administrative requirements related to the expenditure of Federal funds. OMB Circulars can be found at www.whitehouse.gov/omb/grants/index.html#circulars, and the Code of Federal Regulations can be found at www.access.gpo.gov/nara/cfr/index.html.

(a) Administrative requirements applicable to PHAs are:

(i) 24 CFR part 85 (Administrative Requirements for Grants and Cooperative Agreements to State, Local and Federally Recognized Indian Tribal Governments), as modified by 24 CFR 941 or successor part, subpart F, relating to the procurement of partners in mixed finance developments, except when inconsistent with the provisions of the FY 2001 HUD Appropriations Act or other applicable Federal statutes. Requests for Proposals (RFPs) and Requests for Qualifications (RFQs) must reflect pertinent language from the HOPE VI section of this SuperNOFA; e.g., seeking diversity, accessibility, fair housing requirements, etc.

(ii) OMB Circular A-87 (Cost Principles for State, Local and Indian Tribal Governments);

(iii) 24 CFR 85.26 (audit requirements).

(b) Administrative requirements applicable to non-profit organizations are:

(i) 24 CFR part 84 (Grants and Agreements with Institutions of Higher Education, Hospitals, and other Non-Profit Organizations);

(ii) OMB Circular A-122 (Cost Principles for Non-Profit Organizations);

(iii) 24 CFR 84.26 (audit requirements).

(c) Administrative requirements applicable to for profit organizations are:

(i) 24 CFR part 84 (Grants and Agreements with Institutions of Higher Education, Hospitals, and other Non-Profit Organizations);

(ii) 48 CFR part 31 (contract cost principles and procedures);

(iii) 24 CFR 84.26 (audit requirements).

(6) Environmental Review. (a) If you are selected for funding and an environmental review has not been conducted on the targeted site, the responsible entity, as defined in 24 CFR 58.2(a)(7), must assume the environmental review responsibilities for projects being funded by HOPE VI. If you object to the responsible entity conducting the environmental review, on the basis of performance, timing or compatibility of objectives, HUD will review the facts and determine who will perform the environmental review. At any time, HUD may reject the use of a responsible entity to conduct the environmental review in a particular case on the basis of performance, timing or compatibility of objectives, or in accordance with 24 CFR 58.77(d)(1). If a responsible entity objects to performing an environmental review, or if HUD determines that the responsible entity should not perform the environmental review, HUD may designate another responsible entity to conduct the review or may itself conduct the environmental review in accordance with the provisions of 24 CFR part 50. After selection by HUD for Joint Review, you must provide any documentation to the responsible entity (or HUD, where applicable) that is needed to perform the environmental review.

(b) If you are selected for funding, you must have a Phase I environmental site assessment completed in accordance with the American Society for Testing and Material (ASTM) Standards E 1527-97, as amended, for each affected site. A Phase I assessment is required whether the environmental review is completed under 24 CFR part 50 or 24 CFR part 58. The results of the Phase I assessment must be included in the documents that must be provided to the responsible entity (or HUD) for the environmental review. If the Phase I assessment recognizes environmental concerns or if the results are inconclusive, a Phase II environmental site assessment will be required.

(c) You may not undertake any actions with respect to the Development, or with respect to any off-site replacement public housing, that are choice-limiting or could have environmentally adverse effects, including demolishing, acquiring, rehabilitating, converting, leasing, repairing, or constructing property proposed to be assisted under this NOFA, and you may not commit or expend HUD or local funds for these activities, until HUD has approved a Request for Release of Funds following a responsible entity's environmental review under 24 CFR part 58, or until HUD has completed an environmental review and given approval for the action under 24 CFR part 50.

(d) If the environmental review is completed before HUD approval of the HOPE VI Supplemental Submissions and you have submitted your Request for Release of Funds (RROF), the Supplemental Submissions approval letter shall state any conditions, modifications, prohibitions, etc. as a result of the environmental review, including the need for any further environmental review. You must carry out any mitigating/remedial measures required by HUD, or select an alternate eligible property, if permitted by HUD. If the remediation plan is not approved by HUD and a fully-funded contract with a qualified contractor licensed to perform the required type of remediation is not executed, HUD reserves the right to determine that the grant is in default.

(e) If the environmental review is not completed and/or you have not submitted the RROF before HUD approval of the Supplemental Submissions, the letter approving the Supplemental Submissions will instruct you to refrain from undertaking, or obligating or expending funds on, physical activities or other choice-limiting actions, until HUD approves your RROF and the related certification of the responsible entity (or HUD has completed the environmental review). The RP approval letter also will advise you that the approved RP may be modified on the basis of the results of the environmental review.

(f) In accordance with the Grant Agreement, the costs of environmental reviews and hazard remediation are eligible costs under the HOPE VI Program.

(7) Environmental Justice. In accordance with Executive Order 12898,

(a) public housing may be developed only in environmentally sound and desirable locations that will avoid disproportionately high and adverse environmental effects on minority and low-income communities, and

(b) proposed activities may not have the effect of excluding or denying persons (including populations) from participation in or benefits from those activities, or subjecting persons (including populations) to discrimination because of their race, color, or national origin.

(C) Revitalization Application Requirements. Your HOPE VI Revitalization application must comply with the following requirements:

(1) Resident Training Session. (a) You must conduct at least one Training Session for residents of the severely distressed project(s) on the HOPE VI development process.

(b) The Resident Training Session must be held after the publication date of the FY 2001 HOPE VI NOFA.

(c) You must provide a certification in your application that you addressed the following issues during the resident training session:

(i) relocation policies, procedures, and options;

(ii) reoccupancy criteria;

(iii) number of units to be built, on-site and off-site;

(iv) partners that will provide community and supportive services;

(v) the requirements of section 3 and plans to ensure compliance;

(vi) plans for continued resident and community involvement; and

(vii) community and supportive service activities to be provided for residents during the course of the grant term.

(d) Notice of the Resident Training Session must be provided to each affected resident.

(e) As practical and applicable, the meetings should be conducted in English and the language(s) most appropriate for the community.

(f) The meeting space must be accessible for persons with disabilities, i.e., the meeting space must be accessible for wheelchairs, signing must be provided for the hearing impaired, if applicable, etc.

(2) Public Meetings.

(a) You must conduct at least three public meetings with residents and the broader community, including young people between the ages of 16 and 21, to involve them in a meaningful way in the process of planning the revitalization and preparing the application.

(b) In addition to other means of notification, at least one notice for each meeting must be placed in a commercial newspaper or journal that serves both the public housing project and the broader community.

(c) At least two of the public meetings must be held after the publication date of this HOPE VI NOFA.

(d) One of the public meetings may have been held before the publication of this NOFA, but no more than six months before such publication.

(e) at least one of the public meetings must be held after the plan which will form the basis of the application has been established, so that residents and the community are fully informed about the basics of the proposed Revitalization Plan.

(f) You must provide a certification in your application that you addressed the following issues during the three public meetings:

(i) The HOPE VI planning and implementation process;

(ii) The proposed physical plan, including site and unit design;

(iii) The extent of proposed demolition;

(iv) Planned community and supportive service activities;

(v) Other proposed revitalization activities;

(vi) Relocation issues, including relocation planning, mobility counseling, and maintaining the HOPE VI community planning process during the demolition and reconstruction phases where temporary relocation is involved;

(vii) reoccupancy plans and policies, including site-based waiting lists; and

(viii) Section 3 and employment opportunities to be created as a result of redevelopment activities.

(g) As practical and applicable, the meetings should be conducted in English and the language(s) most appropriate for the community.

(h) Meeting spaces must be accessible for persons with disabilities, i.e., the meeting space must be accessible for wheelchairs, signing must be provided for the hearing impaired, if applicable, etc.

(3) Community and Supportive Services (CSS). (a) General. Each HOPE VI Revitalization application must include a CSS Component that includes activities designed to help residents achieve self-sufficiency, upward mobility, economic independence with sustainable “living wage” jobs, educational achievement, and improved quality of life for the maximum number of public housing residents in the existing project and in the revitalized community. This section lists the requirements for the CSS component, the kinds of activities that should be included in your CSS Workplan, and the types of organizations that you should consider when developing your CSS team, creating partnerships, and developing resources to fund your CSS activities. You will refer to this section of the NOFA when describing your CSS Capacity and Experience (Rating Factor 1(2)), Quality of CSS Plan (Rating Factor 3(6)), and CSS Resources (Rating Factor 4(2)).

(b) Subgrant Agreements. (i) If you wish to form a formal partnership with a private nonprofit agency(ies) for the provision of specific CSS activities, you may do so by entering into a subgrant agreement with the selected agency(ies).

(ii) While you are not required to undertake a competitive procurement under 24 CFR part 85 to select a subgrantee, HUD nevertheless requires your assurance that you have:

(A) evaluated alternative service providers for the specific activities to be provided,

(B) selected the entity that you reasonably believe will most effectively provide such activities, and

(C) ensured that the amount to be awarded under the subgrant agreement is consistent with the cost principles of OMB Circular A-87.

(iii) HUD encourages you to leverage your HOPE VI grant funds by selecting subgrantees that will provide, in addition to the agreed upon fee-for-service amount, in-kind services on a gratis basis (e.g., leased space at no cost, etc.).

(iv) The selected nonprofit subgrantee must comply with the requirements of 24 CFR part 84.

(v) You may not enter into a subgrant agreement with a for-profit entity or for a CSS coordinator. Instead, you must conduct a competitive procurement for the services of such entities under 24 CFR part 85. However, if you can demonstrate that the services to be provided by the proposed for-profit entity or by the proposed CSS coordinator can be obtained only from that source, you may request HUD approval to carry out a non-competitive procurement under 24 CFR 85.36(d)(4).

(c) Requirements of the Community and Supportive Services Workplan. (i) The objectives of your CSS Workplan must be results-oriented, with quantifiable goals and outcomes that can be used to measure progress, make changes in activities as necessary, and demonstrate the success of the CSS component of the HOPE VI Program.

(ii) CSS activities must be developed in response to a rigorous resident needs identification process and directly respond to the identified needs.

(iii) CSS activities must be of an appropriate scale, type, and variety to meet the needs of all residents (including adults, youth ages 16 to 21, and children) of the severely distressed project, including residents remaining on-site, residents who will relocate permanently to other PHA units or Section 8 housing, residents who will relocate temporarily during the construction phase, and new residents of the revitalized units.

(iv) Non-public housing residents may also participate in CSS activities, as long as the primary participants in the activities are residents as described in subparagraph (iii) above.

(v) Your plan must include procedures to track HOPE VI site residents who relocate to alternative housing to assure that everything possible is done to support them to become self-sufficient and live successfully in the alternative housing of their choice.

(vi) CSS activities such as life skills training must be designed to begin promptly after grant award so that residents who will be relocated have time to participate and benefit from such activities before leaving the site.

(vii) Resident training activities must begin promptly after grant award and Section 3 firms must be in place quickly so that residents are trained in time to take advantage of employment opportunities such as jobs and other contractual opportunities in the pre-development, demolition, and construction phases of the revitalization.

(viii) Modern computer technology must be integrated into the education component of the CSS Workplan.

(ix) CSS activities must be coordinated with the efforts of other service providers in your locality, including non-profit organizations, educational institutions, and state and local programs.

(x) CSS activities must be consistent with state and local welfare reform requirements and goals. The social and learning environment must encourage and enable low-income residents to achieve long-term self-sufficiency, particularly persons enrolled in welfare-to-work programs. To that end, it is crucial that local welfare agencies and workforce development agencies are active members of your HOPE VI partnership. Many HOPE VI residents are directly affected by Temporary Assistance to Needy Families (TANF), making these self-sufficiency efforts critical to their success.

(xi) CSS activities must be well integrated with the physical development process, both in terms of timing and the provision of facilities to house on-site service and educational activities.

(d) CSS Activities may include, but are not limited to:

(i) Educational activities that promote learning and serve as the foundation for young people from infancy through high school graduation, helping them to succeed in academia and the professional world. Such activities, which include after school programs, mentoring, and tutoring, must be created with strong partnerships with public and private educational institutions.

(ii) Adult educational activities, including remedial education, literacy training, tutoring for completion of secondary or post-secondary education, assistance in the attainment of certificates of high school equivalency, and English as a Second Language courses, as needed.

(iii) Job readiness and retention activities which frequently are key to securing private sector commitments to the provision of jobs.

(iv) Employment training activities that include results-based job training, preparation, counseling, development, placement, and follow-up assistance after job placement.

(v) Life skills training on topics such as parenting, consumer education, and family budgeting, aided by the creation and operation of on-site credit unions.

(vi) Motivational and self-empowerment training.

(vii) Homeownership counseling that is scheduled to begin promptly after grant award so that, to the maximum extent possible, qualified residents will be ready to purchase new homeownership units when they are completed.

(viii) Coordinating with health care services providers or providing on-site space for a health clinic, doctors, a wellness center, dentists, etc. that will primarily serve the public housing residents. HOPE VI funds may not be used to provide direct medical care to residents.

(ix) Substance/alcohol abuse treatment and counseling.

(x) Domestic violence prevention.

(xi) Child care services which provide sufficient hours of operation for parents to achieve self-sufficiency goals, serve appropriate ages as needed to facilitate parental access to education and job opportunities, and stimulate children to learn.

(xii) Transportation, as necessary, to enable all family members to participate in available CSS activities and/or to commute to their places of employment.

(xiii) Entrepreneurship training and mentoring, with the goal of establishing resident-owned businesses.

(e) CSS Partnerships and Resources. The following are the kinds of organizations and agencies that can provide you with in-kind, financial, and other types of resources necessary to carry out and sustain your CSS activities.

(i) Local Boards of Education, public libraries, local community colleges, institutions of higher learning, non-profit or for-profit educational institutions and public/private mentoring programs that will lead to new or improved educational facilities and improved educational achievement of young people in the revitalized development, from birth through higher education.

(ii) National corporations, local businesses, and other large institutions such as hospitals that can commit to provide entry-level jobs. Employers may agree to train residents or commit to hire residents after they complete jobs preparedness or training programs that are provided by you, other partners, or the employer itself. Such private sector and non-profit partners must be given the opportunity to participate in the development of your CSS programs to assure that they will result in adequate training to prospective employees.

(iii) Job development organizations which link private sector or non-profit employers with low-income prospective employees.

(iv) Workforce Development Agencies.

(v) University Schools of Public Health.

(vi) Organizations that provide residents with job readiness and retention training and support.

(vii) Economic development agencies such as the Small Business Administration, which provide entrepreneurial training and small business development centers.

(viii) Where applicable, Empowerment Zone and Enterprise Community Boards.

(ix) Programs that integrate employment training, education, and counseling, and where creative partnerships with local boards of education, state charter schools, TANF, foundations, and private funding sources have been or could be established, such as:

(A) Youthbuild (www.hud.gov/progdesc/youthb.cfm).

(B) Step-Up (www.hud.gov/progdesc/stepup.cfm).

(C) AmeriCorps (www.cns.gov/americorps). See Section VI(B) of the General Section of this SuperNOFA for more information on AmeriCorps.

(x) Sources of capital such as foundations, banks, and charitable, fraternal, and business organizations.

(xi) TANF Agencies/welfare departments.

(xii) Non-profit organizations such as the Girl Scouts and the Urban League, both of which have Memoranda of Agreement (MOA) with HUD. Copies of these MOAs can be found on the HOPE VI Home Page (www.hud.gov/hopevi).

(xiii) Civil rights organizations.

(xiv) Local area agencies on aging, if applicable.

(xv) Local agencies and organizations serving persons with disabilities.

(xvi) Faith-based organizations.

(xvii) Federal, state, and local crime prevention programs and policy efforts, such as:

(A) Local law enforcement agencies;

(B) Your local United States Attorney;

(C) HUD's “One Strike and You're Out” (www.hud.gov:80/progdesc/1strike.cfm);

(D) HUD's “Officer Next Door” initiative (www.hud.gov:80/ond/ond.html);

(E) The local Department of Justice “Weed and Seed” Program task force (if the targeted project is located in a designated Weed and Seed area) (www.ojp.usdoj.gov/eows);

(F) HUD's “Operation Safe Home” Program (www.hud.gov:80/progdesc/opsafe.cfm); and

(G) HUD's Drug Elimination Programs.

(f) Endowment Trust for Community and Supportive Services. Consistent with section 24(d)(2) of the Act, you may deposit up to 15 percent of your HOPE VI grant (the maximum amount of the award allowable for CSS activities) into an endowment trust to provide CSS activities. HUD will review the amount of your proposed HOPE VI allocations to an endowment trust as part of its review and approval of your CSS Workplan. In reviewing your proposed allocations to the endowment trust, HUD will take into account your demonstrated ability to pay for current CSS activities with HOPE VI or other funds, and the projected long-term sustainability of the trust to carry out CSS activities. HUD intends to issue separate guidance concerning the establishment, operation and management of HOPE VI-funded endowment trusts. These provisions will be incorporated into the FY 2001 HOPE VI grant agreement that you execute with HUD. Once HUD approves your CSS Workplan and determines that the endowment trust has been established and will thereafter be operated and maintained, in accordance with the HOPE VI grant agreement, HUD will release HOPE VI funds to you in a lump sum for deposit into the endowment trust. You must invest the endowment funds in a wise and prudent manner. Although HUD considers the deposit of endowment trust funds in certificates of deposit and other types of securities that are insured, guaranteed, or issued by the United States of America to be wise and prudent investments, other investment options also are available. These options will be described in the guidance that HUD will be issuing. Endowment funds (together with any income earned on those funds) may only be used for eligible CSS activities, as provided in section IV(C)(3)(d) of this HOPE VI section of the SuperNOFA, below. You may use amounts in an endowment trust in conjunction with other amounts donated or otherwise made available to the trust for similar purposes.

(D) Revitalization Grant Post-Award Requirements. If you are selected for funding, you must comply with the following requirements:

(1) Revitalization Plan. After HUD conducts a post-award review of your application and makes a visit to the site, you will be required to submit components of your Revitalization Plan to HUD, as provided in the HOPE VI Revitalization Grant Agreement. These components include, but are not limited to:

(a) Supplemental Submissions, that may include revisions and clarifications to your application;

(b) a Community and Supportive Services Workplan, in accordance with guidance provided by HUD; and

(c) a HOPE VI Revitalization Relocation Plan, in conformance with the requirements of HOPE VI relocation guidance as provided by HUD, that describes the assistance and the services to be provided to affected families.

(i) The HOPE VI Revitalization Relocation Plan is intended to ensure that residents who have been temporarily or permanently relocated, as well as any residents yet to be relocated, by activities funded by a HOPE VI Revitalization Grant are provided with CSS activities such as mobility counseling and direct assistance in locating housing.

(ii) The HOPE VI Revitalization Relocation Plan must include a Reoccupancy Agreement that establishes the criteria for relocated residents to occupy the revitalized units, executed between the recognized resident body, the PHA, and, if applicable, the entity that will own the public housing units.

(iii) You may not begin relocation activities until your HOPE VI Revitalization Relocation Plan has been approved by HUD.

(d) a standard or mixed-finance development proposal, as applicable;

(e) a disposition application, as applicable; and

(f) a homeownership proposal, as applicable.

(2) Neighborhood Networks. All Revitalization Grantees will be required to be approved as Neighborhood Networks Centers. This Program, which supports HUD's Bridging the Digital Divide policy initiative, as described in Section VI(H) of the General Section, provides on-site access to computer and training resources. These Centers, originally designed for HUD-insured and HUD-assisted properties, have helped hundreds of residents improve computer technology skills which in turn has increased job and education opportunities. HUD will make technical assistance available to each PHA where needed. More information on the requirements of the Neighborhood Network Center Program is available on the Neighborhood Networks website (www.hud.gov/nnw/nnwindex.html).

(3) Match. (a) Overall Match. In accordance with section 24(c) of the 1937 Act, if you are selected for funding, you must supplement your HOPE VI Revitalization grant with funds from other sources equal to not less than 5 percent of the HOPE VI funds provided. You will make this certification by signing the HOPE VI Revitalization Grant Applicant Certifications. The Certification Form is included in the HOPE VI Application Kit, and the text of the certifications is included as Appendix A to this HOPE VI section of the SuperNOFA, below.

(b) Additional Community and Supportive Services Match. In addition to supplemental amounts provided in accordance with subparagraph (a) above, if you are selected for funding and propose to use more than 5 percent of your HOPE VI grant for CSS activities (you may use up to 15 percent of your grant for such activities), you must certify that you will provide supplemental funds from sources other than HOPE VI, dollar for dollar, for the amount over 5 percent of the grant that you will use for CSS activities. You will make this certification by signing the HOPE VI Revitalization Applicant Certifications. The Certification Form is included in the HOPE VI Application Kit, and the text of the certifications is included as Appendix A to this HOPE VI section of the SuperNOFA, below.

(c) Matching Funds. In accordance with section 24(c)(2) of the 1937 Act, in calculating the amount of supplemental funds provided by a Grantee for purposes of subparagraphs (a) and (b) above, you may include amounts from other Federal sources, any State or local government sources, any private contributions, the value of any donated material or building, the value of any lease on a building, the value of the time and services contributed by volunteers, and the value of any other in-kind services or administrative costs provided. Other Federal sources may include funds provided by the MROP, Comprehensive Grant, CIAP, or Public Housing Capital Fund Programs or other HUD-provided public housing funds, including funds derived from program income. Matching funds must be directly applicable to the revitalization of the site and the transformation of the lives of residents.

(4) Program Income. If you receive program income prior to grant closeout (e.g., from sale of homeownership replacement units or the disposition of improved land), the program income:

(a) must be reflected in your approved sources and uses statement;

(b) must be reinvested in the Development and used for low-income housing purposes, as approved by HUD; and

(c) must be used for eligible activities before you may draw down additional cash payments from the (HOPE VI Grant.)

(5) Replacement Units.

(a) Homeownership units will be deemed to be replacement units only if, combined with rental ACC units, they do not exceed the total number of units demolished and/or disposed of at the targeted severely distressed project and otherwise meet the requirements listed in Section III(C)(1)(f), above, of this HOPE VI section of the SuperNOFA.

(b) Rental units will be deemed to be public housing replacement units and qualify for operating subsidy only if:

(i) Combined with public housing homeownership replacement units, the units do not exceed the lesser of:

(A) The number of units that you had under ACC on August 21, 1996; or

(B) The number of units for which you were receiving operating subsidy on August 21, 1996; and

(ii) The units are to be placed under an ACC and operated as public housing units.

(c) HOPE VI funds may not be used to develop market rate units or affordable housing units which do not qualify as public housing or homeownership replacement units, as described in subparagraphs (a) and (b) above.

(6) Timeliness of Construction. (a) If you are selected for funding, you must proceed within a reasonable timeframe, as indicated below. In determining reasonableness of such timeframe, HUD will take into consideration those delays caused by factors beyond your control.

(b) You must start construction within 12 months from the date of HUD's approval of the Supplemental Submissions as requested by HUD after grant award. This time period may not exceed 18 months from the date the Grant Agreement is executed.

(c) You must complete construction within 48 months from the date of HUD's approval of your Supplemental Submissions. This time period for completion may not exceed 54 months from the date the Grant Agreement is executed.

(d) In accordance with section 24(i) of the 1937 Act, if you do not proceed within a reasonable timeframe, as described in paragraphs (a) through (c) above, HUD shall withdraw any grant amounts that you have not obligated. HUD shall redistribute any withdrawn amounts to one or more other applicants eligible for HOPE VI assistance or to one or more other entities capable of proceeding expeditiously in the same locality in carrying out the Revitalization Plan of the original Grantee.

(7) Building Standards. (a) All activities that include construction, rehabilitation, lead-based paint removal, and related activities must meet or exceed local building codes.

(b) Your new construction must comply with the accessibility standards of the Fair Housing Act, section 504 of the Rehabilitation Act of 1973, the Americans with Disabilities Act of 1990, and the Architectural Barriers Act of 1968. You are also encouraged to read the policy statement and Final Report of the HUD Review of Model Building Codes that identifies the variances between the design and construction requirements of the Fair Housing Act and several model building codes. That report can be found on the HUD Home Page (www.hud.gov/fhe/modelcodes).

(c) New construction must comply with the latest HUD-adopted Model Energy Code issued by the Council of American Building Officials. In addition, HUD encourages you to set higher standards for energy and water efficiency in HOPE VI new construction, which can achieve utility savings of 30 to 50 percent with minimal extra cost. Upon request, HUD will provide technical assistance and training in design and financing to assist your authority, architects, and contractors in improving resource efficiency.

(d) HUD encourages you to design programs that incorporate sustainable construction and demolition practices, such as the dismantling or “deconstruction” of public housing units, recycling demolition debris, and reusing salvage materials in new construction. “A Guide to Deconstruction” can be found at (www.hud.gov/deconstr.pdf). Articles about specific deconstruction projects can be found on the U.S. Forest Service website (www.fpl.fs.fed.us/query.asp); enter deconstruction as the search term.

(e) HUD encourages you to use PATH technologies in the construction and delivery of replacement housing. PATH (Partnership for Advancing Technology in Housing) is a voluntary initiative that seeks to accelerate the creation and widespread use of advanced technologies to radically improve the quality, durability, environmental performance, energy efficiency, and affordability of our Nation's housing. Further information about PATH can be found in Section VI(G) of the General Section of this SuperNOFA and on the PATH website (www.pathnet.org).

(f) In accordance with Section VI(E) of the General Section of this SuperNOFA, HUD encourages you to incorporate the principles of Universal Design when developing housing and community facilities. The intent of Universal Design is to make housing units and community facilities more usable by as many people as possible, regardless of age and ability, at little or no extra cost. Examples include designing wider doorways, installing levers instead of doorknobs, and putting bathtub/shower grab bars in all units. Computers and telephones can also be set up in ways that enable as many residents as possible to use them.

(g) There must not be any environmental or public policy factors such as sewer moratoriums that would preclude development in the requested locality.

(8) Lead-Based Paint. You must comply with lead-based paint testing and abatement requirements for HUD-associated housing, as provided for under the Lead-Based Paint Poisoning Prevention Act (42 U.S.C. 4821, et seq.). You must also comply with regulations at 24 CFR part 35, 24 CFR 965.701, and 24 CFR 968.110(k), as they may be amended or revised from time to time. Unless otherwise provided, you will be responsible for testing and abatement activities.

(9) Site and Neighborhood Standards for Replacement Housing. You must comply with the Fair Housing Act and Title VI of the Civil Rights Act of 1964, and regulations thereunder. In determining the location of any replacement housing, you must comply with either the site and neighborhood standards regulations at 24 CFR 941.202 (b-d) or with the standards outlined below.

(a) Goals of the HOPE VI Program. The HOPE VI Program provides resources to address the needs of severely distressed public housing developments within an administrative framework of less intrusive Federal oversight and increased reliance on informed local decisionmaking. HOPE VI Grants are made so that Grantees can develop and implement comprehensive strategies that address not only the physical and management needs of the developments, but also the social and economic needs of the residents and the surrounding community. You are expected to ensure that your Revitalization Plan will expand assisted housing opportunities in non-poor and non-minority neighborhoods and/or will accomplish substantial revitalization in the Development and its surrounding neighborhood. You are also expected to ensure that eligible households of all races and ethnic groups will have equal and meaningful access to the housing.

(b) Objectives in Selecting HUD-Assisted Sites. The fundamental goal of HUD's fair housing policy is to make full and free housing choice a reality. Housing choice requires that households of all races can freely decide the type of neighborhood where they wish to reside, that minority neighborhoods are no longer deprived of essential public and private resources, and that stable, racially-mixed neighborhoods are available as a meaningful choice for all. To make full and free housing choice a reality, sites for HUD-assisted housing investment should be selected so as to advance two complementary goals:

(i) expand assisted housing opportunities in non-minority neighborhoods, opening up choices throughout the metropolitan area for all assisted households; and

(ii) reinvest in minority neighborhoods, improving the quality and affordability of housing there to represent a real choice for assisted households.

(c) Compliance with Fair Housing Act and Title VI of the Civil Rights Act of 1964. You must comply with the Fair Housing Act and Title VI of the Civil Rights Act of 1964, and implementing regulations, in determining the location of any replacement housing.

(d) Grantee's Election of Requirements. You may, at your election, separately with regard to each site you propose, comply with the development regulations regarding Site and Neighborhood Standards (24 CFR 941.202 (b)-(d)), or with the Site and Neighborhood Standards contained in this Section.

(e) Replacement Housing Located On Site or in the Surrounding Neighborhood. Replacement housing under HOPE VI that is located on the site of the existing project or in its surrounding neighborhood will not require independent approval under Site and Neighborhood Standards, since HUD will consider the scope and impact of the proposed revitalization to alleviate severely distressed conditions at the public housing project and its surrounding neighborhood in assessing the application to be funded under this NOFA. For the purposes of this review, the term “surrounding neighborhood” means the neighborhood within a three mile radius of the site of the existing project.

(f) Off-Site Replacement Housing Located Outside of the Surrounding Neighborhood. Unless you demonstrate that there are already significant opportunities in the metropolitan area for assisted households to choose non-minority neighborhoods (or these opportunities are under development), HOPE VI replacement housing not covered by (9)(e) of this Section may not be located in an area of minority concentration (as defined in paragraph (g) below) without the prior approval of HUD. Such approval may be granted if you demonstrate to the satisfaction of HUD that:

(i) you have made determined and good faith efforts, and found it impossible with the resources available, to acquire an appropriate site(s) in an area not of minority concentration;

(ii) the replacement housing, taking into consideration both the CSS activities or other revitalizing activities included in the Revitalization Plan, and any other revitalization activities in operation or firmly planned, will contribute to the stabilization or improvement of the neighborhood in which it is located, by addressing any serious deficits in services, safety, economic opportunity, educational opportunity, and housing stock; or

(iii) the replacement housing is located in a neighborhood that is not an area of high poverty rate (30 percent or more).

(iv) HUD recognizes that in some metropolitan areas, factors including the cost of land, jurisdictional limits, or political opposition may make it extremely difficult for you to acquire and develop non-impacted sites. If you seek approval under the condition stated in subparagraph (9)(f)(i) above, you must detail your efforts with sufficient specificity for HUD to determine whether HUD can contribute other resources, such as legal assistance. If you experience or anticipate that you will experience difficulty acquiring and developing non-impacted sites to implement your Revitalization Plan, you are strongly encouraged to consult with HUD prior to concluding that you have demonstrated impossibility.

(g) Area of Minority Concentration. The term “area of minority concentration” is any neighborhood in which:

(i) the percentage of households in a particular racial or ethnic minority group is at least 20 points higher than the percentage for the housing market area; i.e., the Metropolitan Statistical Area in which the proposed housing is to be located, or

(ii) the neighborhood's total percentage minority is at least 20 points higher than the percentage for the housing market area as a whole.

(E) Demolition Grant Application Requirements. (1) Eligible Units. Severely distressed public housing units to be demolished with HOPE VI Demolition grant funds must meet one of the criteria in the description of priority groups in Section VII(A)(1) of this HOPE VI Section of the SuperNOFA.

(2) The HOPE VI Demolition Relocation Plan.

(a) General. You will be required to provide a HOPE VI Demolition Relocation Plan in your application. It is as important to provide relocating families in demolition-only situations with supportive services as it is to provide such services in connection with HOPE VI Revitalization grants.

(b) HOPE VI Demolition Relocation Plan. Your HOPE VI Demolition Relocation Plan that you include in your application must describe how you will:

(i) provide a reasonable time between notification and date to vacate units;

(ii) provide one-on-one move counseling to ensure that families fully understand the choices open to them for alternative housing throughout the jurisdiction and secure units in neighborhoods of their choice;

(iii) provide self-sufficiency programs that will help residents; acquire the skills to live in the selected community, sustain their new living arrangement for the foreseeable future, and facilitate a smooth transition from public to private rental housing, both for relocatees and for members of their new communities; and (iv) ensure that Section 8 housing complies with the Section 8 requirements regarding lead-based paint and other hazardous materials. If necessary, HOPE VI funds may be used to modify Section 8 relocation units to make them accessible for residents with disabilities.

(c) Current Residents. In your application, you must list the names of each resident in occupancy as of the date the application is submitted.

(F) Demolition Post-Award Requirements. If you are selected for funding, your HOPE VI Demolition program must comply with the following requirements:

(1) Timeliness of Demolition. (a) you must complete the proposed demolition within a reasonable timeframe, which is two years from the date of Grant Agreement execution. HUD will take into consideration delays caused by factors beyond your control when enforcing this requirement or as otherwise approved by HUD to accommodate reasonable relocation and demolition schedules.

(b) In accordance with section 24(i) of the 1937 Act, if you do not proceed within a reasonable timeframe, in the determination of HUD, HUD shall withdraw any grant amounts that you have not obligated. HUD shall redistribute any withdrawn amounts to one or more other applicants eligible for HOPE VI assistance or to one or more other entities capable of proceeding expeditiously in the same locality in carrying out the activities of the original Grantee.

(2) Match Requirement. In accordance with section 24(c)(3) of the 1937 Act, if assistance will be used only for demolition of public housing (without replacement), you are exempt from the requirement to match physical demolition activities using non-HOPE VI funds. However, throughout the life of the HOPE VI grant, you must partner with other agencies to obtain goods, services, and additional non-HOPE VI funding to enhance the self-sufficiency activities funded by HOPE VI, in an amount that is at least twice the amount of the HOPE VI grant funds received for relocation.

V. Threshold Criteria

(A) All HOPE VI Applications. In addition to the Compliance with Fair Housing and Civil Rights Laws threshold requirement listed in Section II(B)(1) of the General Section of this SuperNOFA, your HOPE VI application must meet the following HOPE VI Threshold Criteria to be considered for funding.

(1) Eligible Applicant. You must be an eligible PHA, as defined in Section III(B), above, of this HOPE VI section of the SuperNOFA. If HUD has designated your housing authority as troubled pursuant to section 6(j)(2) of the 1937 Act, HUD's Troubled Agency Recovery Centers will use documents and information available to it to determine whether you qualify as an eligible applicant under Section III(B) of this HOPE VI section of the SuperNOFA.

(2) Severe Distress. (a) The targeted public housing project, or buildings in a project, must be severely distressed.

(b) To meet the severe distress requirement, you must certify that the public housing project or building in a project targeted in your HOPE VI application meets the definition of severe distress provided in Section IV(A)(1) of this HOPE VI section of the SuperNOFA (in accordance with section 24(j)(2) of the 1937 Act). You will make this certification by signing the HOPE VI Grant Applicant Certifications. The Certifications are included in the HOPE VI Application Kit, and the text of the Certifications is included as Appendix A (Revitalization) and Appendix B (Demolition) to this HOPE VI section of the SuperNOFA.

(c) For Revitalization applications, a severely distressed project that has been legally vacated or demolished (but for which HUD has not yet provided replacement housing assistance, other than tenant-based assistance) must also satisfy the requirements of paragraph (b) above as to the condition of the site before vacation or demolition.

(d) For Demolition applications, a severely distressed project that has been legally vacated (but for which HUD has not yet provided replacement housing assistance, other than tenant-based assistance) must also satisfy the requirements of paragraph (b) above as to the condition of the site before vacation.

(3) Appropriateness of Proposal. In accordance with section 24(e)(2) of the 1937 Act, your application must demonstrate the appropriateness of your proposal in the context of the local housing market relative to other alternatives. Examples of inappropriate proposals would be to rebuild on the site and/or build off-site replacement public housing in isolated or non-residential areas, or propose unit types or costs which cannot be supported by a market analysis. Examples of how you can demonstrate appropriateness of your Revitalization proposal follow. However, HUD will carry out the actual determination on a case-by-case basis.

(a) Your application might demonstrate appropriateness of your proposal in terms of marketability if it proposes the maximum range of incomes and housing types (rental vs. homeownership, market rate vs. public housing, townhouse vs. detached house, etc.) possible given local conditions.

(b) Your application might demonstrate that the land is being used for the highest and best use, given market conditions and the social goals of your agency.

(c) Your application might demonstrate that there is a demand for the physical development you propose, including residential public, subsidized and market rate units, community facilities, and economic development and retail structures.

(B) Revitalization Threshold Criteria. (1) Severe Physical Distress.

(a) Your application must include the Severe Physical Distress Certification that the project meets the definition of severe physical distress in Section IV(A)(1)(a), above, of this HOPE VI section of the SuperNOFA. The Certification must be signed by an engineer or architect licensed by their state licensing board. The engineer or architect must include his or her license number and state of registration on the certification. The engineer or architect may not be an employee of the housing authority or the city. The certification must be signed on or before the application deadline date, in order to indicate the condition of the project at the time of application submission. If you neglect to include this certification in your application, you will have an opportunity to submit the certification, but it must still be signed on or before the application deadline date. You may not submit a certification signed after the deadline date in order to cure this deficiency.

(b) A severely distressed project that has been legally demolished (but for which HUD has not yet provided replacement housing assistance, other than tenant-based assistance) must also satisfy the requirements of paragraph (a) above as to the condition of the site before demolition. Your application must include a Severe Physical Distress Certification Form, as provided in the HOPE VI Application Kit, signed by an engineer or architect, that the project met the definition of physical distress as of the day the demolition application approval letter was dated by HUD.

(2) Separability. (a) In accordance with section 24(j)(2)(A)(v) of the 1937 Act, if you propose to target only individual buildings of a project for revitalization, you must demonstrate to HUD's satisfaction that the severely distressed public housing is sufficiently separated from the remainder of the project of which the building is part to make use of the building feasible for revitalization.

(b) You must demonstrate that the site plan and building designs of the revitalized portion will provide defensible space for the occupants of the revitalized building(s) and that the properties which remain will not have a negative influence on the revitalized buildings(s), either physically or socially. Separations may include a road, berm, catch basin, or other recognized neighborhood distinction.

(3) Resident Training Session. (a) You must conduct at least one training session in accordance with the requirements of Section IV(C)(1), above, of this HOPE VI section of the SuperNOFA. To demonstrate that you have met each requirement, you must include the following evidence in your application:

(i) a copy of the notice of the resident training session and a description of how it was distributed to each affected resident;

(ii) the agenda for the resident training session, indicating that the training session was held after the publication of the FY 2001 SuperNOFA;

(iii) a copy of the first page of the sign-in sheets, with a certification at the bottom of the page stating the total number of signatures collected at the training session; and

(iv) a certification, as provided in the HOPE VI Application Kit, that the issues itemized in Section (IV)(C)(1)(c) of this HOPE VI section of the SuperNOFA were addressed at the resident training session.

(b) The training session may take place on the same day as one of the public meetings as provided by Section IV(C)(2), but it must be a separate meeting, i.e., one session may not be considered both a training session and a public meeting.

(4) Public Meetings. You must conduct at least three public meetings, in accordance with the requirements of Section IV(C)(2), above. To demonstrate that you have met each requirement, you must include the following evidence for each meeting in your application:

(a) The notices announcing the meetings:

(i) Provide a copy of the notice for each meeting as it appeared in a commercial newspaper or journal that serves both the public housing project and the broader community.

(ii) HUD will use the dates of the notices to determine whether the following requirements were met:

(A) No more than one public meeting that was held more than six months before the publication of this SuperNOFA may be counted as one of the three required public meetings;

(B) at least two of the public meetings must be held after the publication of this SuperNOFA;

(C) at least one of the public meetings must be held after the plan which will form the basis of the application was established.

(b) Provide a copy of the first page of the meeting sign-in sheets for each meeting, and a certification at the bottom of the page stating the total number of signatures collected.

(c) Provide a copy of the minutes of each meeting that constitutes a summary (not a word-for-word transcription) of the discussion. (A one-page summary of each meeting is suggested.) Each set of minutes must include the notarized signature of the person who took the minutes. Please note that all pages of the minutes will be counted toward your total page limit for attachments, as provided in Section IX(A)(2) of this HOPE VI section of the SuperNOFA.

(d) Provide a certification, as provided in the HOPE VI Application Kit, that, during the course of the three meetings, all of the issues listed in section (IV)(C)(2)(f) of the HOPE VI section of this SuperNOFA were addressed (i.e., all issues need not be addressed at each meeting).

(5) Submission of the documentation required for the resident training session and the public meetings is a curable item and is not rated. If you fail to submit all of the required documentation that you have conducted the training session and all of the required meetings, after being provided with the opportunity to correct any deficiencies in accordance with Section VI(B) of this HOPE VI section of the SuperNOFA, below, your application will not be eligible for funding. You may not conduct a required training session or public meeting after the application deadline date in order to cure a deficiency identified by HUD.

(6) Location. In accordance with Section II(A)(5)(b) and (c) of this HOPE VI section of the SuperNOFA, above:

(a) if your application requests funds for more than one project, those projects must be immediately adjacent to one another or within a quarter-mile of each other. If you include more than one project in a single application, you must provide a map that clearly indicates that the projects are within a quarter-mile of each other.

(b) If your application requests funds for a scattered site public housing project, regardless of whether the scattered sites are under multiple project numbers, all of the properties must fall within a one square mile area, except that you may identify a larger site if you can show that all of the targeted scattered site units are located within the hard edges (e.g., major highways, railroad tracks, lakeshore, etc.) of a neighborhood.

(C) Demolition Grant Threshold Criteria. Each required element of a HOPE VI Demolition grant application is a threshold requirement. Your application will not be eligible for funding unless each requirement listed in Section IX(B) of this HOPE VI section of the SuperNOFA, below, is included in your application. HUD will give you the opportunity to submit any missing information up to the application deadline date, as provided in Section VII(B) of this HOPE VI section of the SuperNOFA, below.

VI. Revitalization Application Selection Process

(A) Revitalization Grant Application Evaluation. (1) HUD's selection process is designed to ensure that HOPE VI Revitalization grants are awarded to eligible PHAs with the most meritorious applications and serious need.

(2) In accordance with Section III(E)(4) of the General Section of this SuperNOFA, in the event that HUD commits an error that, when corrected, would result in the selection of an otherwise eligible applicant, HUD may select that application for funding when sufficient funds become available.

(3) Although Section III(B) of the General Section of this SuperNOFA states that only applications that meet all threshold requirements are eligible to be rated, HUD will rate all HOPE VI Revitalization applications submitted by Public Housing Authorities, regardless of whether the applicants are eventually deemed to be eligible applicants, in accordance with Section III(B) of this HOPE VI section of the SuperNOFA, or whether the applications meet the threshold requirements of Sections V(A) and (B) of this HOPE VI section of the SuperNOFA. This will be done:

(a) To provide applicants with the most complete evaluations of their applications as possible;

(b) To provide applicants with technical assistance for any future applications; and (c) Because HUD will conduct eligibility review, threshold review, completeness review, and rating activities concurrently, and determinations of threshold eligibility are often not finalized before rating begins.

Regardless of score, however, HUD will not select an application for funding that is submitted by an ineligible applicant or that does not meet all of the threshold requirements of Sections V(A) and (B) above.

(B) Threshold and Completeness Review. HUD will screen each application to determine if it is complete and meets the threshold criteria in Sections V(A) and (B), above. In accordance with Section V of the General Section of this SuperNOFA, after the application deadline HUD may not consider any unsolicited information that you may want to provide. However, after your application has been screened, HUD may contact you to clarify an item in your application or to give you an opportunity to correct a technical deficiency. HUD may not seek clarification of items or responses that improve the substantive quality of your response to any rating factor. Examples of curable technical deficiencies include your failure to include a required certification or a missing signature. If HUD identifies a technical deficiency, it will notify you by fax of the clarification or deficiency. You must submit information to cure the deficiency to HUD within 14 calendar days from the date of HUD notification. If the deficiency is not corrected within this time period, HUD will reject your application as incomplete, and it will not be eligible for funding. Note, however, that in accordance with Section VI(A)(3), above, of this HOPE VI section of the SuperNOFA, HUD has committed to rate each application, regardless of its eligibility.

(C) Preliminary Rating and Ranking. (1) Rating. HUD will preliminarily review and rate each eligible application on the basis of the rating factors described in Section VI(G) of this HOPE VI section of the SuperNOFA, below, and assign a score to each application.

(2) Ranking. After preliminary review, applications will be ranked in score order. Applications will be deemed “competitive” if they have a preliminary score above a base score that encompasses all applications that represent approximately twice the amount of funds available.

(D) Final Panel Review. A Final Review Panel will:

(1) Assess each competitive application;

(2) Assign the final scores; and

(3) Recommend for funding the most highly-rated eligible applications, up to the amount of available funding, in accordance with the allocation of funds described in section II(A)(1) of this HOPE VI section of the SuperNOFA.

(4) HUD reserves the right to make adjustments to funding in accordance with Section III(E) of the General Section of this SuperNOFA.

(5) In accordance with the FY 2001 HOPE VI appropriation (Title II of Pub. Law 106-377), HUD may not use HOPE VI funds to grant competitive advantage in awards to settle litigation or pay judgments.

(E) Tie Scores. If two or more applications within any of the funding categories listed in section II(A)(1) above have the same score and there are insufficient funds to select all of them, HUD will select for funding the application(s) with the highest score for Rating Factor 3, Soundness of Approach. If a tie still remains, HUD will select for funding the application(s) with the highest score for the Rating Factor 2, Need. HUD will select further tied applications on the basis of their scores in Capacity, Leveraging Resources, and Comprehensiveness and Coordination rating factors, in that order.

(F) Transfer to Demolition Grants. If funds remain after all eligible HOPE VI Revitalization grant applications are funded, or if the amount remaining is inadequate to feasibly fund the next eligible Revitalization application, HUD reserves the right to:

(1) reallocate unused funds to fund or supplement the next eligible HOPE VI Demolition grant application(s), in Priority and Ordinal order, and/or

(2) carry over unused funds to the next fiscal year.

(G) Revitalization Application Rating Factors. The following are the factors HUD will use to rate and rank your HOPE VI Revitalization application and the maximum points for each factor. The maximum number of points for each Revitalization application is 102, which includes two Empowerment Zone/Enterprise Community (EZ/EC) bonus points, as described in Section III(C)(1) of the General Section of this SuperNOFA.

Rating Factor 1: Capacity (20 Points)

This factor measures the capability and record of you and the members of your Team to carry out the revitalization activities proposed in your application. The term “your Team” includes the HOPE VI Coordinator and PHA staff, developers, program managers, property managers, subcontractors, consultants, and any other public and private entities identified and/or proposed to carry out program activities. You and your Team will be rated on your capacity to manage large-scale redevelopment or modernization projects, manage effective community and supportive service programs, and manage private and/or public housing.

For each major aspect of the revitalization effort (physical redevelopment, CSS activities, and property management), HUD will evaluate the extent to which you have (or will have) the capacity to carry out the work yourself and/or select and manage appropriate members of your Team. HUD will award the most points to applications that demonstrate the highest degree of capacity to implement activities in a timely manner upon grant award, whether the capacity is within the PHA or by members of your Team with overall management by the PHA.

HUD does not require you to select a developer and/or program manager, if any, prior to submission of your application, although you may choose to do so. Rather, HUD will evaluate your current capacity to implement large scale revitalization; and/or your ability to identify needs in your current staffing and fill such gaps internally or externally in a timely manner in order to successfully implement your proposed program; and/or your proposed method and criteria for securing a program manager and/or development partner to implement your plan; and your current or planned capacity to manage such entity(ies). If you are selected for funding, HUD may require you to use an outside entity as directed by HUD to carry out the revitalization activities.

(1) Physical Redevelopment Capacity and Experience: 7 Points.

(a) You will receive 5 to 7 points if:

(i) Your development team, including the developer, program manager (if any), financial consultant (if any) attorneys, etc., is in place and you have identified staff capacity needs which you are prepared to fill promptly upon award. You must demonstrate, using specific data or other documentation, where applicable, that your Team has extensive knowledge and recent, successful experience and capacity in planning, implementing, and managing previous large scale revitalization activities, including physical development, financing, leveraging, and partnership activities. You must document the experience of each relevant member of your Team. If tax credits are proposed, you must document the tax credit experience of each relevant member of your Team.

(ii) If you have not yet procured member(s) of your Team to plan, implement, and manage the revitalization activities, including physical development, financing, leveraging, and partnership activities, you have a feasible plan for securing such an entity in a timely manner and your description of what you will include in the Request For Proposal (RFP) or Request for Qualifications (RFQ), as appropriate, to secure such team members is well articulated and will result in the selection of a highly capable Team.

(iii) If you were awarded a HOPE VI grant(s) previously, you have demonstrated that the progress of activities is on schedule and you have the capacity to manage an additional HOPE VI revitalization project. HUD will evaluate the current status of development, and your explanation of any delays in implementation of your HOPE VI grant(s), including planning or construction delays. HUD will use information on file to verify any information you provide regarding current HOPE VI grant status.

(iv) You have demonstrated that implementation of your plan can begin immediately after grant award.

(v) You do not have any outstanding capital program audit findings.

(b) You will receive 1 to 4 points if you describe and demonstrate that your Team has some knowledge, experience, and capacity to plan, implement, and manage large scale revitalization, or your method and criteria for selecting members of your team is good. Your current HOPE VI activity is mostly on schedule, and you have the ability to begin implementing your plan with minor adjustments and additional planning after grant award.

(c) You will receive 0 points if:

(i) you cannot describe and demonstrate that you can procure a qualified development team;

(ii) your current HOPE VI grant is behind schedule;

(iii) you do not demonstrate your ability to implement your plan quickly upon grant award; or

(iv) there is not enough information in your application to enable HUD to rate this factor.

(2) Community and Supportive Services (CSS) Capacity and Experience: 5 Points.

(a) You will receive 4 to 5 points if you demonstrate, using specific data or other documentation, where applicable, that:

(i) You have recent, successful experience in planning, implementing, and managing the types of CSS activities proposed in your application;

(ii) You have procured a member(s) of your Team who has the qualifications and experience to manage and coordinate the activities in your CSS Workplan, and/or you have a plan for promptly hiring staff or procuring a Team member to do so;

(iii) You have strong relationships and commitments from members of your team which will enable you to carry out the activities in your CSS Workplan. Your Team members represent a wide variety of organizations, including TANF and Workforce Development Agencies, that have excellent experience providing the kinds of activities proposed.

(b) You will receive 2 to 3 points if you have demonstrated and documented limited experience and capacity on the part of your Team in the above elements (paragraphs (a)(i) through (a)(iii) above).

(c) You will receive 1 point if you have demonstrated minimal experience and capacity on the part of your Team in the above elements (paragraphs (a)(i) through (a)(iii) above).

(d) You will receive 0 points if:

(i) you demonstrate no experience or capacity on the part of your Team in the above elements, or

(ii) there is not enough information in your application to enable HUD to rate this factor.

(3) Property Management Capacity and Experience: 4 Points. Property management activities may be the responsibility of the PHA, or a member of the Team. You may also procure a separate entity to carry out property management activities.

(a) You will receive 3 to 4 points if you demonstrate that you and/or the property management member of your Team currently has excellent knowledge and recent, successful experience in property management of market rate, affordable and/or public housing. If you will procure outside property management expertise, you have demonstrated outstanding capacity to secure a Team member with excellent experience by thoroughly describing the qualifications you will include in the RFP to procure such services. In demonstrating your Team's current property management experience or your capacity to procure a team member with excellent experience, you must address the following elements:

(i) Property maintenance

(ii) Rent collection

(iii) MTCS reporting

(iv) Site-based management experience

(v) Tenant grievances

(vi) Evictions

(vii) Occupancy rate

(viii) Unit turnaround

(ix) Preventive maintenance

(x) Work order completion

(xi) Project-based budgeting

(b) You will receive 1 to 2 points if you demonstrate that you or the management member of your Team currently have moderate management capacity with respect to the above elements. If you will seek outside property management expertise, the qualifications you describe in the RFP to procure such services are likely to result in the procurement of an entity with moderate management capacity with respect to the above elements.

(c) You will receive 0 points if:

(i) you demonstrate that you or the management member of your Team currently has little management capacity with respect to the above elements, or

(ii) the qualifications you describe to procure a management team are unlikely to result in the procurement of an entity with moderate management capacity with respect to the above elements, or

(iii) there is not enough information in your application to enable HUD to rate this factor.

(4) Diversity of Team: 1 Point. You will receive 1 point if you clearly articulate an achievable plan for including minority(ies), women, and/or individuals with disabilities on your Team who will be involved in planning, development, and management of the HOPE VI revitalization effort. HUD encourages cost-effective joint ventures to provide opportunities for such diverse firms, individuals, and/or employees. HUD has entered into a Cooperative Agreement with the National Organization of African-Americans in Housing to reach out and identify minority professionals (developers, program managers, lenders, accountants, attorneys, etc.) who are interested in participating in the HOPE VI Program. More information about NOAAH can be found on their website (www.noaah.org).

(5) Obligation of Capital Funds: 3 Points. HUD will evaluate the extent to which you have obligated Capital Fund amounts (including the Comprehensive Improvement Assistance Program (CIAP) or Comprehensive Grant Program (CGP) in a timely manner.

(a) You will receive 3 points if you have obligated at least 90 percent of your FY 1997-1999 Capital Fund amounts by the quarter ending before the Revitalization grant application deadline date. HUD will use the LOCCS disbursement system as of the quarter ending before the grant application deadline date to verify your obligation rate.

(b) You will receive 2 points if you have obligated between 70 and 89 percent of your 1997-1999 Capital Fund amounts.

(c) You will receive 1 point if you have obligated between 50 and 69 percent of your 1997-1999 Capital Grant amounts.

(d) You will receive 0 points if:

(i) you have obligated less than 50 percent of your 1997-1999 Capital Grant amounts, or

(ii) there is not enough information in your application to enable HUD to rate this factor.

Rating Factor 2: Need (20 Points)

This factor addresses the extent of the need for the revitalization program; the potential impact of the proposed revitalization on the surrounding neighborhood, the need for funding under the HOPE VI program, the identification of need in the community, and the need for affordable housing in the community.

(1) Need for Revitalization: 7 Points. All applicants must certify that the public housing targeted for revitalization is severely distressed, in accordance with Section V(A)(2) of this HOPE VI section of the SuperNOFA, above. For this rating factor, HUD will evaluate the extent of the severe distress of the targeted units and the urgency of addressing the severe distress. HUD will evaluate your description and documentation of the severity of the physical distress in terms of the deficiencies listed below. If the targeted units have already been demolished, HUD will evaluate your description of the condition of the site before demolition.

(a) You will receive 6 or 7 points if you demonstrate the need for revitalization due to conditions which present an immediate threat to the health or safety of the residents, as indicated by the following criteria:

(i) There are major structural and system deficiencies in its infrastructure, roofs, electrical, plumbing, and mechanical systems, lead based paint, settlement, and other deficiencies in Housing Quality Standards;

(ii) There are major site deficiencies, including poor soil conditions, inadequate drainage, deteriorated laterals and sewers, and inappropriate topography;

(iii) There are major design deficiencies, including inappropriately high population density, room, and/or unit size and configurations; isolation; indefensible space; inaccessibility for persons with disabilities with regard to individual units, entrance ways, and/or common areas; and

(iv) There are major building and/or site conditions, such as extreme levels of lead-based paint and/or asbestos, that make the site or a portion of the site and its housing structures unsuitable for residential use.

(b) You will receive 3 to 5 points if you demonstrate the need for revitalization with regard to criteria listed above in paragraph (a), but conditions do not present an immediate threat to the health or safety of the residents.

(c) You will receive 0 points if there is not enough information in your application to enable HUD to rate this factor.

(2) Impact on Neighborhood: 7 Points. HUD will evaluate the extent to which the severely distressed public housing is a significant contributing factor to the physical decline of, and disinvestment by public and private entities in the surrounding neighborhood. HUD will also evaluate the extent to which the proposed revitalization through HOPE VI, including retail, office, and other economic development, as appropriate, will enhance the neighborhood in which the project is located and enhance economic opportunities for residents. In making this determination, HUD will evaluate your narrative, crime statistics, photographs or renderings, socio-economic data, trends in property values, evidence of property deterioration and abandonment, evidence of underutilization of surrounding properties, and other indications of neighborhood distress and/or disinvestment that you provide in your application to demonstrate your case.

(a) You will receive 4 to 6 points if you demonstrate that revitalization of the severely distressed project with HOPE VI funds will significantly improve the overall health of the neighborhood and spur outside investment into the surrounding community.

(b) You will receive 1 to 3 points if you demonstrate that revitalization of the severely distressed project with HOPE VI funds will improve the overall health of the neighborhood and community immediately surrounding the revitalized site, but will have only limited likelihood of spurring significant neighborhood revitalization activities or slowing the rate of decline in the greater neighborhood and community.

(c) You will receive 0 points if you:

(i) demonstrate that revitalization of the severely distressed project will have only a minor impact on the surrounding neighborhood and community; or,

(ii) based on the data submitted, HUD determines that the proposed project and/or the surrounding neighborhood is so severely deteriorated that even if the public housing site is revitalized, it will neither stop the decline nor have any impact on the surrounding neighborhood and community; or

(iii) there is not enough information in your application to enable HUD to rate this factor.

(3) Need for Funding: 3 Points. HUD will evaluate the extent to which you could undertake the proposed revitalization activities without a HOPE VI grant. HUD will use data from the latest quarterly obligation report available at the time of the grant application deadline date to confirm the amount of unobligated FY 1998-2000 Capital Grant (including CIAP and CGP) funds currently available that could be used to carry out the proposed revitalization activities.

(a) You will receive 3 points if your unobligated Capital Funds balance is up to 25 percent of the amount of HOPE VI funds requested.

(b) You will receive 2 points if your unobligated balance is 26-50 percent of the amount of HOPE VI funds requested.

(c) You will receive 1 point if your unobligated balance is 51-75 percent of the amount of HOPE VI funds requested.

(d) You will receive 0 points if:

(i) your unobligated balance is 76 to 100 percent or greater than the amount of HOPE VI funds requested, or

(ii) there is not enough information in your application to enable HUD to rate this factor.

(4) Need for Affordable Housing in the Community: 3 Points. HUD will evaluate the extent to which you have demonstrated that there is a need for affordable housing in the community, and there is an inadequate supply of other affordable housing available to accommodate families receiving tenant-based assistance under Section 8.

(a) You will receive 2 to 3 points if you have:

(i) Documented the need for affordable housing in the community with statistics and analyses contained in a data source(s) that is sound and reliable, including information on market rental costs as compared to Section 8 fair market rents (FMRs); and

(ii) Provided a thorough analysis that demonstrates that the supply of other affordable housing is inadequate to accommodate families that would be displaced if the targeted severely distressed project was demolished and not replaced. Your analysis must be documented by a comparison of the number of Section 8-eligible rental apartment listings in a newspaper of general circulation in the community over the most recent complete month prior to the Revitalization grant application deadline date compared to the number of units needed if the site were to be demolished and residents relocated within the community.

(b) You will receive 1 point if your analysis is less than thorough but nevertheless demonstrates a general need for affordable housing in the community.

(c) You will receive 0 points if:

(i) your analysis fails to show a need for affordable housing in the community, or

(ii) there is not enough information in your application to enable HUD to rate this factor.

Rating Factor 3: Soundness of Approach (40 Points)

HUD is seeking Revitalization Plans that are innovative, locally appropriate, and address the unique needs of residents, the community, and the city as a whole. This rating factor evaluates the quality of the main components of your Revitalization Plan, including the proposed design, feasibility of activities, efforts to lessen concentration, relocation plan, CSS Workplan, efforts to reach out to residents and members of the community, proposed management principles and policies, plans to evaluate your HOPE VI activities, and your efforts to affirmatively further fair housing.

(1) Overall Quality of Plan: 5 Points. HUD will evaluate your entire application to rate this factor.

(a) You will receive up to 5 points if you demonstrate that all aspects of your plan, including your physical, social, and economic approach, are the most appropriate possible given your local conditions, constraints, and opportunities, i.e. your application demonstrates excellence in each of the following elements:

(i) Design and planning;

(ii) Cost effectiveness of proposed revitalization activities;

(iii) Appropriateness in the context of the immediate neighborhood and the broader community;

(iv) Integration of physical and social aspects of your strategy;

(v) Appropriateness in the context of local housing markets. You must demonstrate that the income mix is as great as possible given local conditions. Typically, HUD has found that a mix of one-third public housing, one-third tax credit or other subsidized housing, and one-third market rate rental or homeownership housing is a good balance. However, each situation is unique and should be treated as such. For example, in a situation where the surrounding community is middle or high income, it might be appropriate to have a greater number of units of public and/or subsidized housing to assure housing opportunities for low-income people. If so, indicate that the on-site income mix is more heavily weighted to low-income residents, and that, combined with the higher incomes of off-site residents, the income mix is appropriate. If you cannot achieve development of housing that is one-third public housing, one-third tax credit or other subsidized housing, and one-third market rate or homeownership housing, explain why the alternate mix of units you propose is appropriate in the context of your local housing market.

(vi) The likelihood that a HOPE VI grant will result in a revitalized site that will enhance the neighborhood in which the project is located and enhance economic opportunities for residents.

(b) You will receive up to 3 points if your plan has serious flaws in one of the above elements.

(c) You will receive 0 points if:

(i) your plan has flaws in more than one of the above elements, or

(ii) there is not enough information in your application to enable HUD to rate this factor.

(2) Design: 3 Points. HUD is seeking excellence in design. We urge you to carefully select your architects and/or planners, and to enlist local affiliates of national architectural and planning organizations such as the American Institute of Architects, the American Society of Landscape Architects, the American Planning Association, the Congress for the New Urbanism, and/or the departments of architecture at a local college or university to assist you in assessing qualifications of design professionals and/or participating on a selection panel that results in the procurement of excellent design services. HUD encourages you to select a design team(s) that is committed to a participatory design process through charettes, whereby residents, including young people and seniors, the broader community, and other stakeholders such as disability advocates, are actively involved in designing the new community.

Your proposed site plan, new units, and other buildings must be designed to be compatible with and enrich the surrounding neighborhood and promote mixed-income, mixed-use communities. Local architecture and design elements and amenities should be incorporated into the new or rehabilitated homes so that the revitalized sites and structures will blend into the broader community and appeal to the market segments for which they are intended. Housing, community facilities, and economic development space must be well integrated. You must select members of your Team who have the ability to meet these requirements, and/or demonstrate that you have the capacity to secure such Team members.

HUD encourages you to propose enhancements to the natural environment such as tree and shrub planting to address natural resource issues such as erosion, stormwater management, and water quality that will result in physical improvements to the site; convert public open space now devoid of green vegetation to a natural, inviting, and more livable environment; encourage bike paths and other environmental and recreational enhancements; and plan for the sustainability of such resources after the revitalization activities are completed. Through an MOU between the Department of Agriculture and HUD, technical assistance to develop a natural resource stewardship program is available to public housing authorities. See Section VI(C) of the General Section of the SuperNOFA for more information on Urban Forestry. Further information can be found on the Forest Service website (www.fs.fed/us/research/rvur/urban/urbanforestry/urbanforest.htm).

(a) You will receive 3 points if your proposed site plan, new units, and buildings demonstrate that:

(i) Your proposed plan incorporates design elements and amenities into the revitalized homes that will enable them to blend into and enrich the neighborhood and appeal to intended market segments;

(ii) Your proposed housing, community facilities, and economic development space are thoroughly integrated into the community; and

(iii) Your plan proposes extensive and appropriate enhancements of the natural environment.

(b) You will receive 2 points if your proposed site plan, new units, and buildings demonstrate design that adequately addresses the elements above.

(c) You will receive 1 point if your proposed design addresses the above elements in only a perfunctory manner.

(d) You will receive 0 points if:

(i) your proposed design does not address the above elements, or

(ii) there is not enough information in your application to enable HUD to rate this factor.

(3) Feasibility of Plan: 4 Points. In awarding points under this rating factor, HUD will consider the following:

(a) Income and Unit Mix. You will receive 1 point if you demonstrate that the range of incomes to be served in the revitalized community and the mix of unit types is as great as possible given the location and other local market and community factors.

(b) Market. You will receive 1 point if you demonstrate that there is a market for the revitalized and/or replacement units of the type, number, and size proposed in the location you have chosen.

(i) Your demonstration of the market for non-public housing units must be based on a preliminary market assessment letter prepared by an independent, third party, credentialed market resource firm or professional.

(ii) Your demonstration of the need for public housing units will be based on the number and percentage of existing families on site that are projected to return and the number of families on your public housing and Section 8 waiting list(s).

(c) Hard and Soft Development Costs. You will receive 1 point if:

(i) Your projected hard development costs are realistic, developed through the use of technically competent methodologies, including cost estimating services, and are comparable to industry standards for the kind of construction to be performed in the proposed geographic area;

(ii) Your cost estimates represent an economically viable preliminary plan for designing, planning and carrying out your proposed activities in accordance with local costs of labor, materials, and services; and

(iii) Your projected soft costs (developer's fees, PHA administration costs, legal fees, program manager's fees, consultants' fees, etc.) are justified, comparable to industry standards, and you have demonstrated how you will control such costs. HUD is particularly concerned that soft costs be minimized and will review carefully the proposed soft cost structure.

(d) Coherence and Consistency. You will receive 1 point if the information and strategies described in your application are coherent and internally consistent, particularly the data provided for types and numbers of units, budgets and other financial estimates, and other numerical information. It is critical that you carefully review all numbers for unit mix, costs, etc. to make sure that all numbers are consistent throughout the application. HUD will make this determination based on your entire application.

(4) Lessen Concentration: 3 Points. This factor addresses how the activities you propose are designed to lessen concentration of low-income households, create opportunities for desegregation and accessibility, and offer viable housing choices to displaced residents. In awarding points under this rating factor, HUD will consider the following:

(a) On-site housing. You will receive 1 point if your proposed unit mix (i.e., rental vs. homeownership, public housing, market, and subsidized units) will significantly reduce the isolation and/or concentration of low-income residents and/or significantly achieve a mixed-income, well functioning community on the revitalized site.

(b) Off-site housing. Although not required, the development of off-site housing is desirable to lessen the concentration of low-income residents on site, while maximizing the overall number of replacement units. You will receive 1 point if you intend to develop off-site housing that will lessen the concentration of low-income residents on-site and create opportunities for desegregated, mixed-income communities by locating such off-site housing in neighborhoods with low levels of poverty and/or low concentrations of minorities. You are encouraged to maximize off-site hard units as replacement housing and to locate such units such that they do not cause an over-concentration of low-income housing. You do not have to identify the precise location of off-site units in your application to receive full points for this subfactor, but you must identify the types of neighborhoods where such housing will be planned and demonstrate the feasibility of such off-site development (i.e., land is available at an economically feasible price, community acceptance is likely, etc.).

(c) Access to Services. You will receive 1 point if, for both on-site and any off-site units, your overall plan will result in increased access to municipal services, jobs, mentoring opportunities, transportation, and educational facilities; i.e., the physical plan and self-sufficiency strategy are well integrated and strong linkages will be established with the appropriate Federal and state and local agencies, non-profits, and the private sector to achieve such access.

(5) Relocation and Section 8: 5 Points. HUD encourages one-for-one replacement of demolished units, using a combination of hard units and Section 8 assistance. In order to receive any points for this rating factor, you must propose to use Section 8 assistance as a means of temporary and/or permanent relocation of families currently living in the targeted units so that families will have the full range of housing options available to them. To receive points, you must go beyond the requirements of the Uniform Relocation Act and propose a comprehensive, results-based HOPE VI Relocation Plan in which residents are actively involved. Your plan must conform with the requirements of the HOPE VI relocation guidance as provided by HUD. In awarding points under this rating factor, HUD will consider the following:

(a) Relocation Support. You will receive up to 2 points if you demonstrate to HUD's satisfaction your team's plan and capacity to effectively implement each of the following elements of relocation support:

(i) Provide counseling to residents who choose Section 8 assistance that will help them to fully understand the full range of housing opportunities available to them in neighborhoods throughout the jurisdiction and to find housing in non-poverty areas;

(ii) Conduct programs designed to prepare residents for the transition to private rental housing, including one-on-one move counseling and life skills training, so that they may sustain their new living arrangement for the foreseeable future; and

(iii) If necessary, propose to use HOPE VI or other funds to modify Section 8 relocation units to make them accessible for residents with disabilities.

(b) Community Outreach. You will receive 1 point if you demonstrate that you have an effective plan to involve faith-based, non-profit and/or other organizations and/or individuals in the community to which relocatees choose to move, in order to ease the transition and minimize the impact on the neighborhood. You must also describe an effective plan for working with surrounding jurisdictions to assure a smooth transition if residents choose to move from your jurisdiction to the surrounding area. HUD will view favorably innovative programs such as community mentors, support groups, and the like.

(c) Self-sufficiency. You will receive 1 point if you demonstrate that your Team has both the capacity and an effective plan to provide results-based community and supportive service program support to Section 8 relocatees to achieve and maintain their self-sufficiency.

(d) Tracking. You will receive 1 point if you demonstrate that your Team has both the capacity and an effective plan for implementing a tracking system that will enable you and/or your CSS Team members to identify and track relocatees from the site to be revitalized and make regular follow-up services available to families receiving Section 8 assistance.

(6) Community and Supportive Services: 4 Points. This factor evaluates the quality of your proposed CSS Workplan as described in your application. It is important that you review Section IV(C)(3)(c) of this HOPE VI section of the SuperNOFA for a detailed description of the requirements of a CSS Workplan, and Section IV(C)(3)(d) for a list of possible CSS activities. You are encouraged to go beyond these lists and propose CSS activities that break new ground by responding to unique needs in your community and/or which may serve as a national model for self-sufficiency and educational achievement.

(a) You will receive 4 points if:

(i) You propose a high-quality, results-oriented CSS Workplan that includes strong components of the basic elements of education, job training, and services that will enable all affected residents to transform their lives;

(ii) The CSS Workplan is well coordinated with strong, experienced service providers;

(iii) The CSS Workplan was developed using an effective needs assessment; and

(iv) Mechanisms are in place to effectively measure the goals of the CSS Component and evaluate its success.

(b) You will receive 2 to 3 points if your CSS Workplan has a flaw in one of the elements listed in paragraphs (i) through (iv) above.

(c) You will receive 1 point if your CSS Workplan has a flaw in more than one of the elements listed in (a)(i) through (iv) above.

(d) You will receive 0 points if:

(i) you merely repeat information from the NOFA, or

(ii) there is not enough information in your application to enable HUD to rate this factor.

(7) Apprenticeship Program: 2 Points. As described Section VI(I) of the General Section, Bridging the Gap is a program in which HUD encourages you to assist public housing residents in obtaining construction apprenticeships. This will involve working with the local unions to provide entry level apprenticeships in construction, construction-related, and maintenance activities.

(a) You will receive 2 points if you propose to implement a program that offers apprenticeships to residents or relocated residents of the targeted development. You must identify the union(s) you will work with and the number and types of jobs for which apprenticeships can be obtained.

(b) You will receive 0 points if:

(i) your program does not propose to assist residents in obtaining construction, construction-related, or maintenance-related apprenticeships, or

(ii) there is not enough information in your application to enable HUD to rate this factor.

(8) Resident and Community Outreach and Involvement: 4 Points. In addition to the Threshold requirement for a resident training session and three public meetings provided in Section V(B)(3) and (4) of this HOPE VI section of the SuperNOFA, above, this rating subfactor evaluates the extent of involvement of residents and the broader community in the planning, proposed implementation, and management of your Revitalization Plan. HUD will evaluate the nature, extent, and quality of the resident and community outreach and involvement you have achieved by the time your application is submitted, as well as your plans for continued and/or additional outreach and involvement. HUD will evaluate your efforts to include affected residents and members of the surrounding community in the planning, implementation, and management of your proposed revitalization activities. In awarding points under this factor, HUD will consider the following:

(a) Collaboration and Inclusiveness. You will receive 1 point if you demonstrate that you have:

(i) communicated regularly and significantly with affected residents and members of the surrounding community about your application;

(ii) Provided affected residents with substantive opportunities to participate in the development of the Revitalization Plan, including seniors and young people aged 16 to 21;

(iii) Included other interested parties, especially members of the surrounding community, in the development of your plans and application;

(iv) Developed specific plans for continued involvement and participation of residents and the broader community in the planning and implementation of revitalization activities if your application is successful; and

(v) consulted with any duly elected resident organization (resident council or resident management corporation) in the development of your Revitalization Plan.

(b) Logistics. You will receive 1 point if you demonstrate that you have:

(i) Scheduled training session(s) and public meetings with affected residents and other interested parties during the development of your application at frequent and convenient times, over and above the requirements of Section IV(C)(1) and (2) of this HOPE VI section of the SuperNOFA, above;

(ii) Announced meetings in ways that are in addition to the requirements of Section IV(C)(1)(d) and (2)(b), above, designed to generate the most participation. Methods of announcing upcoming meetings include, but are not limited to:

(A) Hand distributing flyers to residences and in locations likely to attract notice; and

(B) Posting meeting information in adequate time to allow residents and other interested parties to plan to attend.

(iii) Provided services needed to maximize participation, including day care, translators, sign language interpreters, and transportation to and from the meetings. If such services are not needed, explain why they are not.

(iv) Ensured that all meetings are held in facilities that are accessible to persons with disabilities.

(c) Communication. You will receive 1 point if you demonstrate that you have communicated effectively with affected residents and members of the surrounding community by:

(i) Providing reasonable training and technical assistance on the HOPE VI development process and general principles of development to affected residents, in order to enable them to participate meaningfully in the development of your application, and developing plans to provide further training and technical assistance if your application is successful;

(ii) Providing information to and receiving input from affected residents and other interested parties about your planned revitalization;

(iii) Incorporating input and recommendations of interested parties, especially affected residents, to the extent possible, into your application;

(iv) Generating support for your application among interested parties;

(v) Providing status reports on the development of your application to residents; and

(vi) Providing that appropriate HUD communications are made available to affected residents and the broader community (i.e., a copy of the NOFA, notification of any HUD video conferences regarding the NOFA, computer access to the HUD website, etc.)

(d) Dissention. You will receive 1 point if you have acknowledged and attempted to address any dissenting viewpoints among affected residents and other interested parties, as expressed by letters of dissent.

(i) If there has been no opposition to your plan, you will automatically earn this point.

(ii) Where there is resident or community opposition to the plan, HUD will evaluate your analysis of the reasons for and extent of the opposition, and your current and proposed plans for dealing with the opposition.

(iii) In order to give you the opportunity to respond to any letters of dissent, HUD will only consider copies of letters of dissent that are received by HUD at least ten days before the Revitalization grant application deadline date. To ensure that you have received each letter of dissent that is sent to HUD, letters of dissent must be sent to you by return receipt, and must include a copy of the return receipt acknowledgement demonstrating that you have received the letter. The sole purpose of this provision is to allow HUD to evaluate your response to the dissent expressed in such letters, and is for application rating purposes only; HUD will not respond directly to dissent letters. The ten day deadline is also for application rating purposes only, and does not preclude residents, members of the community, or any other interested party from registering dissenting opinions with you after the deadline has passed.

(iv) You will not earn this point if HUD receives a properly documented copy of a letter of dissent that has been sent to you and you have not acknowledged and attempted to address the dissenting viewpoints in your application.

(9) Operation and Management Principles and Policies: 3 Points. Any HOPE VI-funded activities at public housing projects are subject to statutory requirements applicable to public housing projects under the 1937 Act, other statutes, and the Annual Contributions Contract (ACC). Within such restrictions, HUD seeks innovative solutions to the long-standing problems of severely distressed public housing projects. You may request, for the revitalized development, a waiver of HUD regulations (that are not statutory requirements) governing rents, income eligibility, or other areas of public housing management that will permit you to undertake measures that enhance the long-term viability of a development revitalized under this program. HUD will assess each request to determine whether good cause is established to grant the waiver.

(a) You will receive 3 points if you demonstrate that your Team has an effective plan to carry out each of the following 10 elements of the “Self-Sufficiency and Economic Diversity” and “Safety and Security” categories listed below. You must adequately address every element in order to earn full points for this factor.

(b) You will receive 2 points if you demonstrate that your Team has an effective plan to carry out at least 7 of the 10 elements listed below, which must include elements 1—3 of the “Self-Sufficiency and Economic Diversity” category.

(c) You will receive 1 point if you demonstrate that your Team has an effective plan to carry out at least 5 of the 10 elements.

(d) You will receive 0 points if you demonstrate that:

(i) Your Team has an effective plan to carry out fewer than 5 elements; or

(ii) The operation and management principles you propose to implement at the revitalization site, regardless of the number of elements you propose to implement, are not likely to result in improved management; or

(iii) There is not enough information in your application to enable HUD to rate this factor.

Self-Sufficiency and Economic Diversity. You must propose operation and management principles and policies to be applied to on- and/or off-site public housing that will encourage residents to move in, move up, and move on. Such principles and policies must:

1. Reward work and promote family stability by promoting positive incentives such as income disregards and ceiling rents;

2. Promote economically and demographically diverse living patterns, e.g., inclusion of persons of different races/ethnic groups, families with or without children, persons with disabilities and able-bodied persons, and the elderly, by:

—Instituting a system of local preferences adopted in response to local housing needs and priorities, e.g., preferences for victims of domestic violence, residency preferences, disaster victims;

—Aggressively pursuing affirmative marketing which attracts individuals with a broad spectrum of incomes and attracts all segments of the eligible population to the project on a nondiscriminatory basis; and

—Reaching out to persons with disabilities;

3. Encourage self-sufficiency by including lease requirements that promote involvement in the resident association, performance of community service, participation in self-sufficiency activities, and transition from public housing;

4. Complement self-sufficiency activities by creating a revitalized development occupied by residents with a range of incomes;

5. Create strong, stable, well-run developments by implementing site-based waiting lists for the redeveloped public housing and/or following project-based management principles.

Safety and Security. You must demonstrate that your proposed operation and management principles and policies will provide greater safety and security for residents and the community. Such principles and policies must include the following activities:

6. Institute strict applicant screening requirements such as credit checks, references, home visits, and criminal records checks;

7. Strictly enforce lease and eviction provisions;

8. Enhance on-going efforts to eliminate drugs and crime from neighborhoods through collaborative efforts with local law enforcement agencies, the local United States Attorney, and Federal, state, and local crime prevention programs, and implement program policy efforts such as “One Strike and You're Out,” the “Officer Next Door” initiative, the Department of Justice's “Weed and Seed” Program task force (if the targeted project is located in a designated Weed and Seed area); HUD's “Operation Safe Home” Program; and/or HUD's Drug Elimination Programs;

9. Improve the safety and security of residents through the implementation of defensible space principles, anti-crime measures, and the installation of physical security systems such as surveillance equipment, control engineering systems, etc.;

10. Improve the safety of children by promoting the principles of Healthy Homes. Healthy Homes activities are described in Section VI(F) of the General Section of this SuperNOFA, the Glossary in the HOPE VI Application Kit, and on HUD's Healthy Homes website (www.hud.gov/consumer/hhchild.cfm).

(10) Affirmatively Furthering Fair Housing: 5 Points. You must affirmatively further fair housing through the physical design of the revitalized units, the location of new units, marketing of housing that will encourage diversity, and tenant selection and assignment strategies that promote fair housing choice. You are strongly encouraged to work with local advocacy groups that represent individuals with disabilities, the elderly, and other special needs populations to further these goals. Definitions of accessibility and adaptability can be found in the Glossary, which is located in the HOPE VI Application Kit and on the HOPE VI website (www.hud.gov/hopevi).

In awarding points under this rating factor, HUD will consider the following:

(a) Accessibility: 2 points. The design of your proposed site plan, non-residential structures and facilities, and new construction and/or rehabilitation of housing must conform to the civil rights statutes and regulations required in Section II(B) of the General Section of this SuperNOFA. Information on accessibility can be found on HUD's Fair Housing Home Page (www.hud.gov/groups/fairhousing.cfm). Over and above these accessibility requirements:

(i) You will receive 2 points if you clearly describe your plans to implement all of the following suggested accessibility priorities:

(A) Make at least 5 percent of the total dwelling units (or one unit per building where applicable) accessible to individuals with mobility impairments and 2 percent of the dwelling units (or one unit per building, where applicable) accessible to individuals who have visual or hearing impairments;

(B) Provide one-bedroom accessible rental units for single individuals with disabilities;

(C) Provide for accessibility modifications, where necessary, to Section 8 units of residents who relocate from the targeted project due to revitalization activities;

(D) Where playgrounds are planned, propose ways to make them accessible to children with disabilities, over and above statutory and regulatory requirements;

(E) Where possible, design units with accessible front entrances.

(ii) You will receive 1 point if you do not propose to implement all of the accessibility priorities above but you provide an adequate explanation as to why you cannot implement all of the priorities;

(iii) You will receive 0 points if:

(A) you do not propose to implement all of the accessibility priorities and you do not describe in detail why you cannot implement one or more of the priorities, or

(B) there is not enough information in your application to enable HUD to rate this factor.

(b) Adaptability and Visitability. You will receive 1 point if your physical plan meets the:

(i) adaptability standards adopted by HUD at 24 CFR 8.3 that apply to those units not otherwise covered by the accessibility requirements. The elements of adaptability are included in the HOPE VI Application Kit Glossary; and

(ii) the visitability standards adopted by HUD that apply to units not otherwise covered by the accessibility requirements. The elements of visitability are described in the HOPE VI Application Kit Glossary.

(c) Affirmative Marketing and Outreach. You will receive 2 points if your program activities are targeted to a broad range of eligible residents, including the elderly, persons with disabilities, etc. In addition, HUD will evaluate your efforts to increase community awareness of the need for and benefits from diversity, in a culturally sensitive manner, through education and outreach, as applicable. Your marketing and outreach activities must be targeted to all segments of the population on a nondiscriminatory basis, promote housing choice and opportunity throughout your jurisdiction, and contribute to the deconcentration of minority and low-income neighborhoods.

HUD will evaluate your description of the specific steps you will take to:

(i) Examine your own programs or proposed programs, including an identification of any impediments to fair housing (identified in your jurisdiction's Analysis of Impediments to Fair Housing Choice) and develop a plan to:

(A) address those impediments in a reasonable fashion in view of the resources available;

(B) work with local jurisdictions to implement any of the jurisdictions initiatives to affirmatively further fair housing; and

(C) maintain records reflecting this analysis and actions.

(ii) Remedy discrimination in housing; and

(iii) Promote fair housing rights and fair housing choice.

(11) Evaluation: 2 Points. In order to earn points under this rating factor, you must propose to work with local university(ies), other institutions of learning, foundations, and/or others to evaluate the performance and impact of your proposed HOPE VI Revitalization Plan. Where possible, HUD encourages you to form partnerships with Historically Black Colleges and Universities (HBCUs); Hispanic-Serving Institutions (HBIs); Community Outreach Partnership Centers (COPCs); the Alaskan Native/Native Hawaiian Institution Assisting Communities Program (as appropriate); and others in HUD's University Partnerships Program.

You will receive up to 2 points if you provide a letter(s) from an institution(s) of higher learning that provides a commitment to work with you to evaluate your program and describes its proposed approach to carry out the evaluation. The award of points will depend on the level of commitment and involvement, the degree to which you and the local institution of higher learning will cooperate, and the quality of the proposed approach. If you are selected for funding, HUD will work with you and your partners on the basic methodology to be used, but you may augment this methodology to study additional activity. The letter must address the following areas for evaluation:

(a) The impact of your HOPE VI effort on the lives of the residents;

(b) The nature and extent of economic development generated in the community;

(c) The effect of the revitalization effort on surrounding communities, including spillover revitalization activities, property values, etc.; and

(d) Your success at integrating the physical and social aspects of your strategy and achieving the goals stated in your application.

Rating Factor 4: Leveraging Resources (10 Points)

Match vs. Leverage. There is an important difference between the terms match and leverage. In accordance with Section IV(D)(3) of this HOPE VI section of the SuperNOFA, all HOPE VI Revitalization grant funds are subject to a matching requirement. By signing the HOPE VI Revitalization Grant Applicant Certifications (Appendix A to this HOPE VI section of the SuperNOFA), you will certify that, if selected for funding, you will provide matching funds which, combined with HOPE VI funds, will enable you to carry out revitalization activities, including CSS activities. If selected for funding, you will be required to show evidence of matching resources through your quarterly reports as your project proceeds. Evidence of match is not required up front in your application.

Leverage, on the other hand, consists of firm commitments of funds and other resources that you can demonstrate now, at the application stage. HUD will rate your application based on the amount of funds and other resources that will be leveraged by the HOPE VI Grant as a percentage of the amount of HOPE VI funds requested.

In your application, you will enter basic information about each source of leverage on the Leveraged Resources Summary Forms: name of the organization providing the resource, the dollar value of the resource, and its proposed use. For each source of leverage you list, you must provide a commitment document, such as a letter, memorandum of understanding, agreement to participate, city council resolution, or other evidence of the resource to be committed. Any conditions attached to the commitment of the resource must be stated in the document. Each commitment document must include the dollar value of the commitment, and that dollar value must be consistent with the amount entered on the Leveraged Resources Summary Forms. On the Forms you will also enter the page number of your application where the commitment document is located. Endorsements or general letters of support from organizations or vendors alone will not count as leverage and should not be included in the application or on the Leveraged Resources Summary Forms. The commitment document must be signed by an official of the organization legally authorized to make commitments on behalf of the organization. Commitment documents will not count in the 100 page limit for Attachments.

HUD recognizes that in some cases, firm commitments cannot be made at the application stage. In such a case, if the entity describes why the firm commitment cannot be made at the current time but affirms that your PHA and your HOPE VI Revitalization Plan meet the eligibility criteria for receiving the resource, HUD will consider the amount adequately documented. This is particularly important with regard to Low Income Housing Tax Credits, where forward commitments are typically not possible.

For each commitment document, HUD will evaluate the strength of commitment and add the amounts that are acceptably documented. HUD will then calculate the ratio of the amount of HUD funds requested to the amount of leveraged funds that HUD deems acceptably documented.

(1) Physical Development Resources: 6 Points. HUD seeks to fund mixed-finance developments that use HOPE VI funds to leverage the maximum amount of other physical development funds, particularly from private sources, that will result in revitalized public housing, other types of assisted and market rate housing, and private retail and economic development.

(a) Types of Physical Development Resources. Physical development resources that may be counted as leverage include, but are not limited to:

(i) Mortgage secured loans and other debt. Where there is both a construction loan and a permanent take-out loan, include only the take-out loan.

(ii) Insured loans.

(iii) Donations and contributions.

(iv) Housing trust funds.

(v) Homeowner loans.

(vi) Funds committed to build private sector housing in direct connection with the HOPE VI Revitalization Plan.

(vii) Funds committed for the physical development costs of schools, libraries, economic development and/or commercial facilities that would not otherwise be planned if not for the proposed HOPE VI Revitalization Plan.

(viii) Low Income Housing Tax Credits. If you propose to use tax credits as a part of your financing, you must include in your application a letter from your State or local Housing Finance Agency that provides information from the allocation plan regarding the total amount and type (4 percent vs. 9 percent) of tax credits available, any setasides available for PHAs, any per-project funding limits, the schedule of funding rounds, verification that your project meets eligibility criteria, phasing, and other pertinent information that will enhance your project's likelihood to receive the desired tax credits. If your application includes a letter from a Housing Finance Agency which addresses these issues, the tax credits will be considered documented and you may count their dollar value in your development resources leverage ratio. If your application does not include such a letter, the amount of tax credit dollars you propose will not be counted as leverage.

(b) Sources of Physical Development Resources. You must actively enlist other stakeholders who are vested in and can provide significant financial assistance to your revitalization effort. Sources of development resources that can be used for leveraging may include:

(i) Public, private, and non-profit entities.

(ii) State and local Housing Finance Agencies.

(iii) Local governments.

(iv) The city's housing and/or redevelopment agency or other comparable agency. HUD will consider this to be a separate entity with which you are partnering if your PHA is also a redevelopment agency or otherwise has citywide responsibilities.

(A) You are strongly urged to seek a pledge of Community Development Block Grant (CDBG) funds or other local funds from your city, county or state for improvements to public infrastructure such as streets, water mains, etc. related to the revitalization effort. Information on CDBG can be found on the HUD Home Page (www.hud.gov/cpd/cpd/cpdprog.html);

(B) The city, county or state may provide HOME funds to be used in conjunction with HOPE VI funds, but HOME funds may not be used in conjunction with Public Housing Capital Funds under section 9(d) of the 1937 Act. Information about the HOME Program can be found on HUD's HOME website (www.hud.gov/cpd/home/homeweb.html).

(v) Foundations.

(vi) Financial institutions, banks or insurers.

(vii) Other private funders.

(d) Other HUD Public Housing Funds. Although you may commit other Federal public housing funds such as Capital Funds under section 9(d) of the 1937 Act to meet your match requirement if you are selected for funding, your commitment of these types of funds will not count towards your leverage ratio for the purposes of rating your application.

(e) Anticipatory Resources. In many cases, PHAs, cities, or other entities may have carried out revitalization activities in previous years in anticipation of your receipt of a HOPE VI Revitalization grant. Expenditures that were made in anticipation of your receiving HOPE VI funding in previous years, even though you were unsuccessful in receiving a HOPE VI Revitalization grant, will count toward leverage in the FY 2001 funding competition, provided they meet the criteria described in this rating factor.

(f) Rating.

(i) You will receive 6 points if the ratio of the amount of HOPE VI funds requested for physical development activities to the dollar value of documented, committed development resources leveraged from other sources is 1:4 or higher.

(ii) You will receive 5 points if the ratio is between 1:3 and 1:4.

(iii) You will receive 4 points if the ratio is between 1:2.5 and 1:3.

(iv) You will receive 3 points if the ratio is between 1:2 and 1:2.5.

(v) You will receive 2 points if the ratio is between 1:1 and 1:2.

(vi) You will receive 1 point if the ratio is 1:1.

(vii) You will receive 0 points if:

(A) the ratio is less than 1:1, or

(B) there is not enough information in your application to enable HUD to rate this factor.

(2) Collateral Investment: 1 Point. Collateral Investments include physical redevelopment activities underway or projected to be completed before October 2006, such as schools, libraries, subway or light rail stations, or improved roads, which will enhance the new HOPE VI community but will occur whether or not the site is revitalized. Economic or other kinds of development activities that would have occurred with or without the anticipation of HOPE VI-funded revitalization of the site will count as leverage for this factor only.

(a) You will receive 1 point if the ratio of the amount of the total HOPE VI grant requested to the dollar value of documented collateral investments is 1:2 or higher.

(b) You will receive 0 points if:

(i) the ratio of the HOPE VI request to the collateral investment amount is less than 1:2, or

(ii) there is not enough information in your application to enable HUD to rate this factor.

(3) Community and Supportive Services Resources: 3 Points. In order to achieve quantifiable self-sufficiency results, you must form partnerships with organizations that are skilled in the delivery of services to residents of public housing and that can provide commitments of resources to support those services. Leveraging scarce HOPE VI CSS funds with other funds and services is critical to the sustainability of CSS activities so that they will continue after the HOPE VI funds have been expended.

(a) Types of resources. Resources for CSS activities may include financial contributions from Federal, State, or local governments or from private entities. Resources may also include the dollar value of in-kind contributions such as materials, a building, a lease on a building, other infrastructure, time and services contributed by volunteers, staff salaries and benefits, and supplies related to the provision of CSS activities that will contribute to the successful transformation of the lives of residents.

(b) Sources of resources.

(i) See Section IV(C)(3)(e) of this HOPE VI section of the SuperNOFA for a list of the kinds of organizations, agencies, and other possible resource providers that can provide you with resources for your CSS activities.

(ii) In accordance with Section IV(C)(3)(b) of this HOPE VI section of the SuperNOFA, you may enter into subgrantee agreements with nonprofit organizations to provide CSS activities. HUD encourages you to select subgrantees that can bring in-kind resources to the project.

(c) Rating. The number of points you receive will depend on the ratio of the amount of HOPE VI dollars requested for CSS activities to the dollar value of the resources committed from other sources for CSS programs. A letter of general commitment without a dollar figure of committed resources included will not be counted as a resource for this rating factor. Include only funds that will be newly-generated for HOPE VI CSS activities. HUD will not count as leverage any funds that have been provided routinely, such as TANF payments or funds that support ongoing CSS-type activities.

(i) You will receive 3 points if the ratio of the amount of HOPE VI funds requested for CSS activities to the dollar value of documented, committed CSS resources leveraged from other sources is 1:4 or higher. If no HOPE VI funds are requested for CSS activities because all CSS funds will come from outside sources, all adequately-documented funds from such outside sources will be counted and you will receive 3 points.

(ii) You will receive 2 points if the ratio is between 1:3 and 1:4.

(ii) You will receive 1 point if the ratio is between 1:2 and 1:3.

(iii) You will receive 0 points if:

(A) the ratio is less than or equal to 1:2, or

(B) there is not enough information in your application to enable HUD to rate this factor.

Rating Factor 5: Coordination and Community Planning (10 Points)

This factor evaluates your actions to address the need for revitalized public housing in a holistic and comprehensive manner by coordinating the revitalization of public housing with the overall plans for revitalization and related activities in the broader community. It also evaluates your participation in or commitment to participate in the community's Consolidated Planning process.

(1) Coordination of Revitalization Activities: 5 Points.

(a) This factor evaluates the actions you have taken to coordinate with other agencies—not to provide services, but to ensure that your activities are consistent with other revitalization, development, economic development, transportation, and other similar activities in the neighborhood, the surrounding community, and the city or county at large. Public housing revitalization must not happen in a vacuum, and it is critical that all parties work together to share information and coordinate ongoing and planned activities in order that those plans complement and reinforce each other activities.

(b) HUD will evaluate the specific steps you have taken to:

(i) coordinate your proposed activities with related activities of other agencies, groups, or organizations outside the scope of those covered by the Consolidated Plan;

(ii) develop comprehensive solutions that best complement, support, and coordinate other revitalization and related activities, such as plans for changes in transportation, infrastructure, land use, and other issues that may affect the planned public housing revitalization; and

(iii) share information about solutions and outcomes with relevant agencies through meetings, information networks, planning processes or other mechanisms.

(c) Rating. (i) You will receive 3 to 5 points if you provide letters, memoranda of agreement, or other documentation from organizations and agencies that describe your relationships and substantiate the actions you have taken to coordinate with a variety of relevant groups.

(ii) You will receive 1 to 2 points if you provide documentation that you have taken some actions to coordinate your proposed activities with relevant groups, but your overall effort does not include a variety of different kinds of groups and/or you do not show strong evidence of active coordination.

(iii) You will receive 0 points if:

(A) your actions to coordinate with relevant groups are not comprehensive; and/or

(B) your relationships are not strong or well documented; or

(C) there is not enough information in your application to enable HUD to rate this factor.

(2) Participation in Consolidated Plan/AI Process: 5 Points.

This factor evaluates your efforts to participate in your jurisdiction's Consolidated Planning process, whether the need for the revitalization of severely distressed public housing is identified in the Consolidated Plan, and whether severely distressed public housing is identified as an impediment to fair housing choice in your jurisdiction's Analysis of Impediments to Fair Housing Choice (AI). Information on the Consolidated Plan can be found on the HUD Home Page (www.hud.gov/cpd/conplan.html). (A Certification of Consistency with the Consolidated Plan, as provided in the HOPE VI Application Kit, is a required element of each HOPE VI Revitalization application.)

(a) You will receive 3 to 5 points if:

(i) you have cited language from your jurisdiction's Consolidated Plan that identifies revitalization of severely distressed public housing as an urgent need in the community, and indicates that your HOPE VI Revitalization Plan is tied to other revitalization planned in the broader community and in the jurisdiction as a whole; that they are consistent with plans or organizing efforts in the immediate, surrounding neighborhood; and you have cited language from your jurisdiction's AI that identifies severely distressed public housing as an impediment to fair housing choice; or

(ii) the Consolidated Plan and AI are applicable to your jurisdiction, but they do not identify severely distressed public housing as an urgent need or an impediment to fair housing choice; you have explained in detail why severe distress of public housing is not identified; described your efforts to alert the jurisdiction to the need for public housing revitalization as a priority; have begun work with the jurisdiction to amend the Consolidated Plan and AI to include revitalization of severely distressed public housing as an urgent need; and you have coordinated with other revitalization efforts in the community; or

(iii) if the Consolidated Plan and AI are not applicable to your community, you have demonstrated that you have participated in other community-wide planning efforts; used other sound and reliable data sources to show that the community has identified the need for revitalization of severely distressed public housing and the urgency in meeting the need; and submitted a letter from the Mayor or other Chief Executive Officer of the jurisdiction and a letter from the City Council or other elected legislative body confirming the need to revitalize severely distressed public housing, the urgency of meeting the need, and the jurisdiction's commitment to addressing this need.

(b) You will receive 1 to 2 points if you have demonstrated that you have participated in the Consolidated Planning process, but the Consolidated Plan does not address the revitalization of severely distressed public housing.

(c) You will receive 0 points if:

(i) your community's Consolidated Plan and AI do not identify the revitalization of severely distressed public housing as a need or as an impediment to fair housing choice, and you have not provided an adequate explanation of why they do not;

(ii) the Consolidated Plan and AI are not applicable to your community, and you have not thoroughly documented your level and urgency of need through other sound and reliable sources; or

(iii) there is not enough information in your application to enable HUD to rate this factor.

Empowerment Zone/Enterprise Community Bonus (2 Points)

You will receive up to 2 bonus points if you propose to revitalize severely distressed public housing that is located in a Federally-designated Empowerment Zone (EZ), Enterprise Community (EC), rural EC, or Urban Enhanced Enterprise Community (also referred to as EC). To be eligible for the bonus points, activities must serve EZ/EC residents and the application must include a certification that activities are consistent with the strategic plan for the EZ or EC. A listing of eligible EZs and ECs is attached to the General Section of the SuperNOFA as Appendix A-2, and also can be found on HUD's EZ/EC Website (www.hud.gov/cpd/ezec/ezbyec.html). To determine whether your site is within an EZ or EC, use the EZ/EC Locator (www.hud.gov/ezec/locator). Note that if the public housing project is located in a similar economic development area designated by your state or city, but is not located in a Federally-designated EZ or EC, your application will not be eligible for these bonus points.

VII. HOPE VI Demolition Grant Application Selection Process

(A) HOPE VI Demolition Grant Funding Categories. HUD will select HOPE VI Demolition grant applications on a first-come, first-served basis, by an application's Priority Group and Ordinal. HOPE VI Demolition grant applications are not rated.

(1) Priority Groups. You must identify each HOPE VI Demolition grant application by its appropriate Priority Group, as described below. Each application must target units of a single Priority Group; e.g., do not include Priority Group 1 units in the same application as Priority Group 2 units.

(a) Priority Group 1: Priority Group 1 applications target units included in an approved Section 202 Mandatory Conversion Plan. The Section 202 Conversion Plan must be approved by HUD on or before the HOPE VI Demolition grant application deadline date under this HOPE VI section of the SuperNOFA.

(b) Priority Group 2.

(i) Priority Group 2 applications:

(A) target units included in a Section 202 Mandatory Conversion Plan that you have submitted to HUD on or before the HOPE VI Demolition grant application deadline date, or

(B) target units that, in HUD's sole determination under section 537(c) of the Public Housing Reform Act of 1998, are subject to the removal requirements of 24 CFR part 971 and can be expected to be demolished in accordance with the time schedule required by Section IV(F)(1) of this HOPE VI section of the SuperNOFA, above.

(ii) If you submit a HOPE VI Demolition grant application for units that are targeted in a Section 202 Mandatory Conversion Plan that was submitted under 24 CFR part 971 but not yet approved (Priority Group 2), and HUD subsequently approves the Conversion Plan before the HOPE VI Demolition grant application deadline date, you may revise your application and it will be reclassified as Priority Group 1. HUD will change the original Ordinal to the Ordinal corresponding to the date that the revision was received.

(iii) If you submit a Section 202 Mandatory Conversion Plan but HUD determines that the targeted project does not qualify for conversion under 24 CFR part 971, your HOPE VI Demolition grant application will not be eligible for funding. If you intend to submit a Priority 1 or 2 application, discuss the project with your Field Office to ensure that it qualifies under the standards of 24 CFR part 971.

(c) Priority Group 3. Priority Group 3 applications target units that were included in a HUD-approved application for demolition that was developed in accordance with section 18 of the 1937 Act, as amended (“Section 18 demolition application”).

(i) Your Section 18 demolition application must be approved by HUD on or before the HOPE VI Demolition grant application deadline. You are advised that in order to allow for sufficient time for a new Section 18 demolition application to be processed, you should submit your Section 18 demolition application to HUD's Special Application Center (SAC) no later than March 30, 2001. If your Section 18 demolition application does not meet the statutory requirements of Section 18, including the requirement for HUD Field Office approval of the Interim or PHA Plan as required by 24 CFR part 903, HUD will not approve the Section 18 demolition application and your HOPE VI Demolition grant application will not be eligible for funding.

(ii) If you have submitted a Section 18 demolition application to the SAC but it has not yet been approved by HUD when you submit your HOPE VI Demolition grant application, your HOPE VI application will not be considered complete and you will not receive an Ordinal unless and until your Section 18 demolition application is approved on or before the HOPE VI Demolition Grant Application deadline.

(iii) If your Section 18 demolition application is approved by HUD on July 9 or 10, 2001 only, you are not required to submit your approval letter to HUD, and HUD will deem the approval letter to have been submitted in the application. In such a case, if your application is otherwise complete, your Ordinal will be the date that HUD approves your Section 18 demolition application.

(iv) If HUD has previously approved your Section 18 demolition application but HUD later rescinded the approval, your Section 18 demolition application will not be considered approved by HUD and your HOPE VI Demolition grant application will not be eligible for funding.

(d) Priority Group 4:

(i) Priority Group 4 applications target units that:

(A) were targeted for demolition in a previously-approved HOPE VI Revitalization application and the demolition that has not yet been carried out; or

(B) were not originally targeted for demolition in a previously-approved HOPE VI Revitalization application but are located in the same project and at the same site that will be revitalized using an existing Revitalization grant, and have not yet been demolished.

(ii) The requested HOPE VI Demolition grant funds, in combination with the existing HOPE VI Revitalization grant funds, may not exceed the TDC/Housing Cost Cap (HCC) limit in effect at the time the HOPE VI Revitalization Grant was approved by HUD.

(A) If the Revitalization grant is below TDC/HCC, any dollars freed up as a result of the proposed additional demolition grant funds may be used for any construction costs, up to the project's TDC/HCC limit.

(B) If the Revitalization grant is below or at TDC/HCC, the dollars freed up from the proposed additional demolition grant funds may be used for the demolition of additional units or for Community Renewal costs such as Extraordinary Site Costs that fall outside of HCC.

(iii) If a Priority Group 4 HOPE VI Demolition application is selected for funding, HUD will approve the planned demolition:

(A) in its approval of your Supplemental Submissions for the Revitalization grant;

(B) by amending its approval of your Supplemental Submissions, if they have already been approved by HUD; or

(C) by approving a Section 18 demolition application, if you choose to submit one.

(iv) HUD reserves the right to rescind a Priority Group 4 Demolition grant if it determines that the targeted units cannot be approved under section (d)(iii) above.

(2) Ordinals. Upon receipt, HUD will assign each HOPE VI Demolition grant application an Ordinal (i.e., ranking number) that reflects the date HUD Headquarters received the application. Ordinals correspond to business days, starting with the date HUD receives the first Demolition grant application and ending on the HOPE VI Demolition grant application deadline date, as specified in Section I of this HOPE VI section of the SuperNOFA, above. HUD will consider all applications received on the same date as received at the same time on that date, and those applications will all be assigned the same Ordinal.

(B) Demolition Screening. (1) HUD will screen the application to ensure that it:

(a) Meets each HOPE VI threshold criterion listed in Sections V(A) and V(C) of this HOPE VI section of the SuperNOFA, above; and

(b) Includes each application submission requirement listed in Section IX(B) of this HOPE VI section of the SuperNOFA, below.

(2) If HUD determines that an application is not eligible for funding (e.g., the applicant is not a PHA, the units have already been demolished, etc.), HUD will not consider the application further and will immediately notify the applicant that the application has been rejected.

(3) If HUD determines that an application is eligible but incomplete, within approximately two days of receipt of the application, HUD will contact you in writing by fax (followed up with a hard copy by mail) to request the missing information. If HUD finds your application and other applications received on the same day to be incomplete, HUD will notify all such applicants of their missing items on the same day. Since HOPE VI Demolition grant applications are not rated, you may submit information to complete your application at any time before the HOPE VI Demolition grant application deadline date. However, if your application is received on the deadline date and it is missing a required submission, you will have no opportunity to submit any missing item after the deadline date and your HOPE VI Demolition grant application will be ineligible for funding.

Please Note: This provision means that the nearer to the deadline date you submit your application, the less time you will have to correct any deficiencies, and if hud receives your application ON the deadline date and there is a deficiency, that application will NOT be eligible for funding. You are advised to submit your application as soon as possible, in the event that hud identifies a deficiency that you need to correct.

(4) If HUD determines that the information you submit in response to a notification of deficiency is correct and completes the application, HUD will change the application's Ordinal to the Ordinal corresponding to the date that HUD received the information.

(5) If HUD determines that the information submitted does not make the application complete, HUD will notify you of the remaining deficiency. You will have the opportunity to submit information in response to notifications of deficiency up until the HOPE VI Demolition grant application deadline date.

(6) If you do not submit the requested information by the HOPE VI Demolition grant deadline date, your application will be ineligible for funding.

(C) Funding. HUD will award HOPE VI Demolition grants in the following order, based on fund availability.

(1) HUD will fund Priority Group 1 applications by Ordinal.

(2) If funds remain after HUD has funded all eligible Priority Group 1 applications, HUD will fund Priority Group 2 applications by Ordinal.

(3) If funds remain after HUD has funded all eligible Priority Group 2 applications, HUD will fund Priority Group 3 applications by Ordinal.

(4) If funds remain after HUD has funded all eligible Priority Group 3 applications, HUD will fund Priority Group 4 applications by Ordinal.

(5) At any stage, if there is more than one application with next Ordinal to be funded and there are insufficient funds to fund all of them, HUD will conduct a lottery among those applications to determine which application(s) will be funded.

(6) HUD reserves the right to partially fund the next eligible application if insufficient funds remain to fund the entire amount requested, and HUD determines that the funds available are adequate to carry out some significant demolition activities.

(7) If funds remain after all eligible HOPE VI Demolition grant applications have been funded or if the amount remaining is inadequate to feasibly fund the next eligible Demolition grant application, HUD reserves the right to:

(a) reallocate unused funds to fund or supplement the next eligible HOPE VI Revitalization application(s), in rank order, or

(b) carry over unused funds to the next fiscal year.

VIII. Grant Award Procedures

(A) Revitalization Grants.

(1) Notification of Funding Decisions. The HUD Reform Act prohibits HUD from notifying you as to whether or not you have been selected to receive a Revitalization grant until it has announced all HOPE VI Revitalization grant recipients. If your Revitalization application has been found to be ineligible or if it did not receive enough points to be funded, you will not be notified until the successful applicants have been notified. HUD will provide written notification to all HOPE VI applicants, whether or not they have been selected for funding.

(2) Environmental Review. HUD notification that you have been selected to receive a HOPE VI grant constitutes only preliminary approval. Grant funds may not be released until the responsible entity completes an environmental review and you submit and obtain HUD approval of a request for release of funds and the responsible entity's environmental certification in accordance with 24 CFR part 58 and Section IV(B)(6) of this HOPE VI section of the SuperNOFA, above (or HUD has completed an environmental review under 24 CFR Part 50 where HUD has determined to do the environmental review).

(3) Revitalization Grant Agreement. When you are selected to receive a Revitalization grant, HUD will send you a HOPE VI Revitalization Grant Agreement, which constitutes the contract between you and HUD to carry out and fund public housing revitalization activities. Both you and HUD will sign the cover sheet of the Grant Agreement. It is effective on the date of HUD's signature. The Grant Agreement sets forth:

(a) The amount of the grant;

(b) The HOPE VI Requirements;

(c) Revitalization Plan components;

(d) Revitalization activities and requirements;

(e) Changes to the Revitalization Plan;

(f) Replacement unit and waiver information;

(g) Budget requirements;

(h) Drawdown procedures;

(i) Matching fund requirements;

(j) Finance and accounting procedures;

(k) Recordkeeping requirements;

(l) Requirements for subgrantees, contractors, and subcontractors;

(m) Resident and community involvement requirements;

(n) Environmental review procedures;

(o) Fair Housing certifications;

(p) Building standards and design components;

(q) Labor standards;

(r) Conflict of interest provisions;

(s) Reporting requirements;

(t) Technical assistance procedures

(u) Default provisions; and

(v) Grant closeout procedures.

(B) Demolition Grants. (1) Notification of Funding Decisions. Because the HOPE VI Demolition grants are awarded on a first-come, first-served basis, HUD reserves the right either to award funds to Priority 1 applications as soon as they are determined to be eligible for funding, or announce all awards after the HOPE VI Demolition grant application deadline date has passed. HUD will notify ineligible applicants of their ineligibility immediately after that determination has been made. HUD will provide written notification to all HOPE VI applicants, whether or not they have been selected for funding.

(2) Environmental Review. HUD notification that you have been selected to receive a HOPE VI Demolition grant constitutes only preliminary approval. Grant funds may not be released until the responsible entity completes an environmental review and you submit and obtain HUD approval of a request for release of funds and the responsible entity's environmental certification in accordance with 24 CFR part 58 and Section IV(B)(6) of this HOPE VI section of the SuperNOFA, above.

(3) Demolition Grant Agreement. If you are selected to receive a Demolition grant, HUD will send you a HOPE VI Demolition Grant Agreement. Both you and HUD will sign the Cover Sheet of the Grant Agreement, and it is effective on the date of HUD's signature. The Grant Agreement sets forth:

(a) The amount of the grant;

(b) The HOPE VI Demolition Requirements;

(c) Demolition Plan components;

(d) Relocation requirements;

(e) Program schedule;

(f) Finance and Accounting procedures;

(g) Drawdown procedures;

(h) Recordkeeping requirements;

(i) Requirements for subgrantees, contractors, and subcontractors;

(j) Environmental review procedures;

(k) Fair Housing Certifications;

(l) Labor standards;

(m) Conflict of interest provisions;

(n) Reporting requirements;

(o) Technical assistance procedures;

(p) Default provisions; and

(q) Grant closeout procedures.

IX. Application Submission Requirements

(A) Revitalization Application Requirements.

(1) Application Kit. The HOPE VI Application Kit provides explicit, specific instructions as to the format of a HOPE VI Revitalization application. Your application must conform to the requirements of this HOPE VI section of the SuperNOFA and follow the format described in the Kit. If you fail to adhere to the requirements of this NOFA, as detailed in the Kit, and omit critical requirements, your application may lose points. In addition to the narrative exhibits that respond to the rating criteria in this HOPE VI section of this SuperNOFA, your application will also include attachments that provide HUD with detailed information about your proposed revitalization, including forms and other documentation. Please note that resumes and videos are specifically excluded and will not be considered.

(2) Application Page Limits. (a) Each Revitalization application must contain no more than 75 pages of narrative exhibits. Any pages after the first 75 pages of narrative exhibits will not be reviewed. Although submitting pages in excess of the page limitations will not disqualify an application, HUD will not consider the information on any excess pages, which may result in a lower score or failure of a threshold (this page limit does not include additional pages requested by HUD as a result of technical deficiency corrections). No more than one page of text may be placed on one sheet of paper; i.e., you may not shrink pages to get two or more on a page.

(b) Revitalization applications are also limited to 100 pages of attachments. The documents listed below constitute the only exceptions and are not counted in the 100 page limit:

(i) Application Data Sheets;

(ii) Commitments of resources;

(iii) Section 8 application;

(iv) List of current residents, after the first page; and

(v) Certifications located after the Attachments.

(3) Narrative Exhibits. The following is a summary of the narratives required in a HOPE VI Revitalization application:

(a) An Executive Summary.

(b) Narrative responses to the rating factors described in Section VI(G) of this HOPE VI program section of the SuperNOFA. Be SURE to address each and every item in the rating factors in the most clear, concise, and complete manner possible given the page limitations.

(c) A narrative demonstrating the appropriateness of your proposal in the context of the local housing market relative to other alternatives.

(d) A description of your planned predevelopment activities: hazard reduction, demolition, disposition, acquisition, and site improvements.

(e) A description of your planned physical revitalization activities: rehabilitation, new construction, homeownership assistance, development of community and/or economic development activities, and extraordinary site work.

(f) If applicable, a description of your plans to establish an Endowment Trust to continue CSS activities beyond the life of the HOPE VI grant.

(g) If applicable, a listing of all prior HUD public housing grant assistance received for the revitalization of the targeted project that are related to the proposed activities.

(4) Attachments. The following is a summary of the attachments that will be required in a HOPE VI Revitalization application:

(a) Contextual map that identifies the location of the current site in the neighborhood, City, and region;

(b) Organizational Chart;

(c) Revitalization Schedule;

(d) A listing of and commitment letters from Team members, as applicable;

(e) Photographs of the housing units and site;

(f) A Section 8 application, if Section 8 assistance will be needed for FY 2002;

(g) Conceptual revitalized site plan, interior unit design illustrations, and building elevations;

(h) Application Data Forms;

(i) Leveraged Resources Summary;

(j) Basic elements of the HOPE VI Relocation Plan, in conformance with guidance provided by HUD, including a list of each resident in occupancy at the time the application is submitted;

(k) Training Meeting and Public meeting certifications and documentation;

(l) Preliminary market assessment letter;

(m) Letters and other documents that commit resources to be used for HOPE VI activities;

(n) Grant Limitations and TDC Worksheet;

(o) MTCS Certification;

(p) Extraordinary Site Costs Certification;

(q) Severe Physical Distress Certification;

(r) Other documentation that responds to specific rating factors, including letters of commitment to participate as partners, perform an evaluation of the program, etc.

(5) HOPE VI Revitalization Application Forms. The following HOPE VI forms are included in the HOPE VI Application Kit. Electronic versions also can be obtained from HUDCLIPS (www.hudclips.org) and the HOPE VI website (www.hud.gov/hopevi).

(a) HOPE VI Revitalization Application Data Form (HUD-52860-A);

(b) HOPE VI Budget (HUD-52825-A, Parts I and II);

(c) Section 8 Application (HUD-52515);

(d) HOPE VI Revitalization Grant Applicant Certifications (HUD-52820-A). See Appendix A of this HOPE VI section of the SuperNOFA for the text of these certifications.

(6) General Section Certification Forms. The following forms are appended to the General Section of the SuperNOFA and are also included in the HOPE VI Application Kit. Electronic versions of these forms also can be obtained from HUDCLIPS (www.hudclips.org).

(a) Application for Federal Assistance (SF-424)

(b) Assurances—Construction Programs (SF-424D)

(c) Certification for a Drug-Free Workplace (HUD-50070)

(d) Certification of Payments to Influence Federal Transactions (HUD-50071)

(e) Disclosure of Lobbying Activities (SF-LLL) (if applicable)

(f) Recipient Disclosure/Update Report (HUD-2880)

(g) Certification Regarding Debarment and Suspension (HUD-2992)

(h) Certification of Consistency with the EZ/EC Strategic Plan (HUD-2990)

(i) Certification of Consistency with the Consolidated Plan (HUD-2991)

(j) Acknowledgment of Application Receipt (HUD-2993)

(B) Demolition Application Requirements.

(1) Application Kit. The HOPE VI Application Kit provides specific instructions as to the format of a HOPE VI Demolition application. Your application must conform to the requirements of this HOPE VI section of the SuperNOFA and follow the format described in the kit.

(2) Application Information. The following is a summary of the information required in a HOPE VI Demolition application. Items (f) (HOPE VI Budget form) and (i) (Section 8 application) are available from HUDCLIPS (www.hudclips.org).

(a) Applicant, site, and unit information;

(b) Priority Group and Documentation of eligibility;

(c) Narrative of proposed activities, including:

(i) the number of original dwelling units and buildings in the project, the number of any units previously demolished or disposed of, and the number of units proposed for demolition;

(ii) any non-dwelling facilities to be demolished and the relationship between the non-dwelling facilities and the dwelling units to be demolished, in terms of proximity and use;

(iii) conditions that require extraordinary site costs, such as parking lots, streets, underground utilities, community buildings, etc.;

(iv) extent of any proposed hazard abatement activities, including the level of asbestos or any other contaminant present, if available;

(v) proposed site restoration and any subsequent site improvements to benefit the remaining portion of the development or to make the site more saleable;

(vi) if you propose activities other than filling in the site and establishing a lawn, a description of the non-HOPE VI funds to be used to carry out those activities;

(vii) a HOPE VI Demolition Relocation Plan, including a list of each resident in occupancy at the time the application is submitted;

(viii) a demonstration of the appropriateness of the proposal in the context of the local housing market relative to other alternatives; and

(ix) potential sources of matching funds for services to relocatees.

(d) Program Schedule;

(e) Grant Limitations Worksheet, which itemizes all funds requested for:

(i) demolition of severely distressed public housing units;

(ii) extraordinary site costs, as applicable;

(iii) demolition of nondwelling structures, as applicable;

(iv) relocation assistance to residents of occupied units; and

(v) community and supportive service activities to displaced residents.

(f) Program budget (HUD-52825-A, parts I and II);

(g) MTCS Certification;

(h) Extraordinary Site Costs Certification, as applicable, completed by an engineer or architect, verifying and justifying any extraordinary site costs requested;

(i) Non-Dwelling Structure Costs Certification, as applicable, completed by an engineer or architect, verifying and justifying the costs to demolish non-dwelling structures;

(j) A Section 8 application (HUD-52515) for Section 8 relocation assistance needed during FY 2002.

(3) HOPE VI Demolition Grant Applicant Certifications (HUD-52820-B). See Appendix B of this HOPE VI section of the SuperNOFA for the text of these certifications.

(4) General Section Certification Forms. The following forms are appended to the General Section of the SuperNOFA and are also included in the HOPE VI Application Kit. Electronic versions of these forms also can be obtained from HUDCLIPS (www.hudclips.org).

(a) Application for Federal Assistance (SF-424)

(b) Assurances—Construction Programs (SF-424D)

(c) Certification for a Drug-Free Workplace (HUD-50070)

(d) Certification of Payments to Influence Federal Transactions (HUD-50071)

(e) Disclosure of Lobbying Activities (SF-LLL)

(f) Recipient Disclosure/Update Report (HUD-2880)

(g) Certification Regarding Debarment and Suspension (HUD-2992)

X. Authority

(A) The funding authority for HOPE VI Revitalization and Demolition grants under this HOPE VI section of the SuperNOFA is provided by the FY 2001 HUD Appropriations Act under the heading “Revitalization of Severely Distressed Public Housing (HOPE VI).”

(B) The program authority for the HOPE VI Program is section 24 of the U.S. Housing Act of 1937 (42 U.S.C. 1437v), as added by section 535 of the Quality Housing and Work Responsibility Act of 1998 (Pub. L. 105-276, 112 Stat. 2461, approved October 21, 1998).

Appendix A—HOPE VI Revitalization Grant Applicant Certifications

Acting on behalf of the Board of Commissioners of the Housing Authority listed below, as its Chairman, I approve the submission of the HOPE VI Revitalization application of which this document is a part and make the following certifications to and agreements with the Department of Housing and Urban Development (HUD) in connection with the application and implementation thereof:

Applicant Certifications

1. The public housing project or building in a project targeted in this HOPE VI Revitalization grant application meets the definition of severe distress in accordance with Section 24(j)(2) of the U.S. Housing Act of 1937 (“the Act”).

2. The PHA has not received assistance from the Federal government, State, or unit of local government, or any agency or instrumentality, for the specific activities for which funding is requested in the HOPE VI Revitalization application.

3. The PHA does not have any litigation pending which would preclude timely startup of activities.

4. The PHA is in full compliance with any desegregation or other court order related to Fair Housing (e.g., Title VI of the Civil Rights Act of 1964, the Fair Housing Act, and Section 504 of the Rehabilitation Act of 1973) that affects the PHA's public housing program and that is in effect on the date of application submission.

5. PHA has returned any excess advances received during development or modernization, or amounts determined by HUD to constitute excess financing based on a HUD-approved Actual Development Cost Certificate (ADCC) or Actual Modernization Cost Certificate (AMCC), or that HUD has approved a pay-back plan.

6. There are no environmental factors, such as sewer moratoriums, precluding development in the requested locality.

7. The application is consistent with Environmental Justice Executive Order 12898, in that the proposed public housing will be developed only in environmentally sound and desirable locations and will avoid disproportionately high and adverse environmental effects on minority and low-income communities.

8. In accordance with the Flood Disaster Protection Act of 1973 (42 U.S.C. 4001-4128), the property targeted for acquisition or construction (including rehabilitation) is not located in an area identified by the Federal Emergency Management Agency (FEMA) as having special flood hazards, unless:

(a) The community in which the area is situated is participating in the National Flood Insurance program (see 44 CFR parts 59 through 79), or less than one year has passed since FEMA notification regarding such hazards; and

(b) Where the community is participating in the National Flood Insurance Program, flood insurance is obtained as a condition of execution of a Grant Agreement and approval of any subsequent demolition or disposition application.

9. The application does not target properties in the Coastal Barrier Resources System, in accordance with the Coastal Barrier Resources Act (16 U.S.C. 3501).

Grantee Certifications

If selected for HOPE VI Revitalization funding:

10. The PHA will comply with all policies, procedures, and requirements prescribed by HUD for the HOPE VI Program, including the implementation of HOPE VI revitalization activities, in a timely, efficient, and economical manner.

11. The PHA will not receive assistance from the Federal government, State, or unit of local government, or any agency or instrumentality, for the specific activities funded by the HOPE VI Revitalization grant. The PHA has established controls to ensure that any activity funded by the HOPE VI Revitalization grant is not also funded by any other HUD program, thereby preventing duplicate funding of any activity.

12. The PHA will not provide to any development more assistance under the HOPE VI Revitalization grant than is necessary to provide affordable housing after taking into account other governmental assistance provided.

13. The PHA will supplement the aggregate amount of the HOPE VI Revitalization grant with funds from sources other than HOPE VI in an amount not less than 5 percent of the amount of HOPE VI grant.

14. In addition to supplemental amounts provided in accordance with Certification 13 above, if the PHA uses more than 5 percent of the HOPE VI grant for the community and supportive services component, it will provide supplemental funds from sources other than HOPE VI, dollar for dollar, for the amount over 5 percent of the grant used for the community and supportive services component.

15. Disposition activity under the grant will be conducted in accordance with Section 18 of the Act.

16. The PHA will carry out acquisition of land, or acquisition of off-site units with or without rehabilitation to be used as public housing, in accordance with 24 CFR part 941, or successor part.

17. The PHA will carry out major rehabilitation and other physical improvements of housing and non-dwelling facilities in accordance with 24 CFR 968.11 2(b), (d), (e), and (g)-(o), 24 CFR 968.130, and 24 CFR 968.135(b) and (d) or successor part.

18. The PHA will carry out construction of public housing replacement housing, both on-site and off-site, and community facilities, in accordance with 24 CFR part 941 or successor part, including mixed-finance development in accordance with subpart F.

19. The PHA will carry out replacement homeownership activities in general conformance with the requirements of section 24(d)(1)(J) or section 32 of the 1937 Act and the income limitations of the Act.

20. The PHA will administer and operate rental units in accordance with all existing public housing rules and regulations, as those requirements now exist or as they may be amended from time to time.

21. The PHA will comply with the requirements of the Fair Housing Act (42 U.S.C. 3601-19) and regulations pursuant thereto (24 CFR part 100); Executive Order 11063 (Equal Opportunity in Housing) and regulations pursuant thereto (24 CFR part 107); the fair housing poster regulations (24 CFR part 110) and advertising guidelines (24 CFR part 109); and Title VI of the Civil Rights Act of 1964 (42 U.S.C. 2000d) and regulations pursuant thereto (24 CFR part 1).

22. The PHA will address the elimination of impediments to fair housing choice relating to its public housing and particularly to the revitalization of distressed public housing that were identified in the jurisdiction's Analysis of Impediments to Fair Housing Choice, remedy discrimination in housing, and promote fair housing rights and fair housing choice.

23. The PHA will comply with the prohibitions against discrimination on the basis of age pursuant to the Age Discrimination Act of 1975 (42 U.S.C. 6101-07) and regulations issued pursuant thereto (24 CFR part 146); the prohibitions against discrimination against, and reasonable modification and accommodation and accessibility requirements for, handicapped individuals under Section 504 of the Rehabilitation Act of 1973 (29 U.S.C. 794) and regulations issued pursuant thereto (24 CFR part 8); the Americans with Disabilities Act (42 U.S.C. 12101 et seq.) and regulations issued pursuant thereto (28 CFR Part 36); and the Architectural Barriers Act of 1968, as amended (42 U.S.C. 4151) and regulations issued pursuant thereto (24 CFR Part 40).

24. The PHA has adopted the goal of awarding a specified percentage of the dollar value of the total of the HOPE VI contracts to be awarded during subsequent fiscal years to minority business enterprises and will take appropriate affirmative action to assist resident-controlled and women's business enterprises in accordance with the requirements of Executive Orders 11246, 11625, 12432, and 12138.

25. The PHA will comply with the requirements of Section 3 of the Housing and Urban Development Act of 1968 (12 U.S.C. 1701u) (Employment Opportunities for Lower Income Persons in Connection with Assisted Projects) and its implementing regulation at 24 CFR part 135, including the reporting requirements of subpart E.

26. The PHA will comply with Davis-Bacon or HUD-determined prevailing wage rate requirements to the extent required under Section 12 of the U.S. Housing Act of 1937.

27. As applicable, the PHA will comply with the relocation assistance and real property acquisition requirements of the Uniform Relocation Assistance and Real Property Acquisition Policies Act of 1970 and government-wide implementing regulations at 49 CFR part 24; relocation regulations at 24 CFR 968.108 or successor regulation (rehabilitation, temporary relocation); 24 CFR 941.207 or successor regulation (acquisition); and 24 CFR Section 18 of the 1937 Act as amended (disposition).

28. The PHA will comply with the HOPE VI requirements for reporting and access to records as required in the HOPE VI Revitalization Grant Agreement.

29. The PHA will comply with the Lead-Based Paint Poisoning Prevention Act (42 U.S.C. 4821, et seq.) and is subject to 24 CFR part 35 and 24 CFR 965.701, as they may be amended from time to time, and Section 968.110(k) or successor regulation.

30. The PHA will comply with the policies, guidelines, and requirements of OMB Circular A-87 (Cost Principles Applicable to Grants, Contracts, and Other Agreements with State and Local Governments).

31. The PHA will comply with 24 CFR part 85 (Administrative Requirements for Grants and Cooperative Agreements to State, Local and Federally Recognized Indian Tribal Governments), as modified by 24 CFR 941 or successor part, subpart F, relating to the procurement of partners in mixed finance developments, except when inconsistent with the provisions of the 2001 Appropriations Act or other applicable Federal statutes. Requests for Proposals (RFPs) and Requests for Qualifications (RFQs) will reflect pertinent language from the program section of FY 2001 HOPE VI NOFA; e.g., seeking diversity, accessibility, fair housing requirements, etc.

32. The PHA will keep records in accordance with 24 CFR 85.20 that facilitate an effective audit to determine compliance with program requirements, and comply with the audit requirements of 24 CFR 85.26.

33. The PHA will start construction within 12 months from the date of HUD's approval of the Revitalization Plan's Supplemental Submissions. In no event may this time period exceed 18 months from the date the Grant Agreement is executed.

34. The PHA will complete construction within 48 months from the date of HUD's approval of the Revitalization Plan's Supplemental Submissions. In no event may the time period for completion exceed 54 months from the date the Grant Agreement is executed.

35. All activities that include construction, rehabilitation, lead-based paint removal, and related activities will meet or exceed local building codes. New construction will comply with the latest HUD-adopted Model Energy Code issued by the Council of American Building Officials.

Appendix B—HOPE VI Demolition Grant Applicant Certifications

Acting on behalf of the Board of Commissioners of the Public Housing Authority (PHA) listed below, as its Chairman, I approve the submission of the HOPE VI Demolition funding application of which this document is a part and make the following certifications to and agreements with the Department of Housing and Urban Development (HUD) in connection with the application and implementation thereof:

Applicant Certifications

1. The public housing project or building in a project targeted in this HOPE VI Demolition grant application meets the definition of severe distress in accordance with Section 24(j)(2) of the U.S. Housing Act of 1937 (“the Act”).

2. The PHA has not received assistance from the Federal government, State, or unit of local government, or any agency or instrumentality, for the specific demolition activities for which funding is requested in the HOPE VI Demolition grant application.

3. The PHA is in full compliance with any desegregation or other court order related to Fair Housing (e.g., Title VI of the Civil Rights Act of 1964, the Fair Housing Act, and Section 504 of the Rehabilitation Act of 1973) that affects the PHA's public housing program and that is in effect on the date of application submission.

4. The PHA does not have any litigation pending which would preclude timely startup of activities.

5. PHA has returned any excess advances received during development or modernization, or amounts determined by HUD to constitute excess financing based on a HUD-approved Actual Development Cost Certificate (ADCC) or Actual Modernization Cost Certificate (AMCC), or that HUD has approved a pay-back plan.

Grantee Certifications

If selected for HOPE VI Demolition grant funding:

6. The PHA will comply with all policies, procedures, and requirements prescribed by HUD for the HOPE VI Program, including the implementation of HOPE VI Demolition grant activities, in a timely, efficient, and economical manner.

7. The PHA will start construction within six months from the date of Grant Agreement execution, and complete the demolition within two years from the date of Grant Agreement execution.

8. The PHA will not receive assistance from the Federal government, State, or unit of local government, or any agency or instrumentality, for the specific activities funded by the HOPE VI Demolition grant. The PHA has established controls to ensure that any activity funded by the HOPE VI Demolition grant is not also funded by any other HUD program, thereby preventing duplicate funding of any activity.

9. The PHA will not provide to any development more assistance under the HOPE VI Demolition grant than is necessary to perform demolition activities after taking into account other governmental assistance provided.

10. The PHA will comply with the requirements of the Fair Housing Act (42 U.S.C. 3601-19) and regulations pursuant thereto (24 CFR part 100); Executive Order 11063 (Equal Opportunity in Housing) and regulations pursuant thereto (24 CFR part 107); the fair housing poster regulations (24 CFR part 110) and advertising guidelines (24 CFR part 109); and Title VI of the Civil Rights Act of 1964 (42 U.S.C. 2000d) and regulations pursuant thereto (24 CFR part 1).

11. The PHA will comply with the prohibitions against discrimination on the basis of age pursuant to the Age Discrimination Act of 1975 (42 U.S.C. 6101-07) and regulations issued pursuant thereto (24 CFR part 146); the prohibitions against discrimination against, and reasonable modification and accommodation and accessibility requirements for, handicapped individuals under Section 504 of the Rehabilitation Act of 1973 (29 U.S.C. 794) and regulations issued pursuant thereto (24 CFR part 8); the Americans with Disabilities Act (42 U.S.C. 12101 et seq.) and regulations issued pursuant thereto (28 CFR Part 36); and the Architectural Barriers Act of 1968, as amended (42 U.S.C. 4151) and regulations issued pursuant thereto (24 CFR Part 40).

12. The PHA will address the elimination of impediments to fair housing choice that were identified in the jurisdiction's Analysis of Impediments to Fair Housing Choice, remedy discrimination in housing, and promote fair housing rights and fair housing choice.

13. The PHA has adopted the goal of awarding a specified percentage of the dollar value of the total of the HOPE VI contracts to be awarded during subsequent fiscal years to minority business enterprises and will take appropriate affirmative action to assist resident-controlled and women's business enterprises in accordance with the requirements of Executive Orders 11246, 11625, 12432, and 12138.

14. The PHA will comply with the requirements of Section 3 of the Housing and Urban Development Act of 1968 (12 U.S.C. 1701u) (Employment Opportunities for Lower Income Persons in Connection with Assisted Projects) and its implementing regulation at 24 CFR part 135, including the reporting requirements of Subpart E.

15. The PHA will comply with HUD-determined prevailing wage rate requirements to the extent required under Section 12 of the Act.

16. As applicable, the PHA will comply with the relocation assistance and real property acquisition requirements of Section 18 of the Act, as amended (demolition approved by a Section 18 demolition application); and/or the Uniform Relocation Assistance and Real Property Acquisition Policies Act of 1970 and government-wide implementing regulations at 49 CFR part 24 (demolition pursuant to a Section 18 demolition application and demolition approved pursuant to a Section 202 Mandatory Conversion Plan).

17. The PHA will comply with the HOPE VI requirements for reporting and access to records as required in the HOPE VI Demolition Grant Agreement.

18. The PHA will keep records in accordance with 24 CFR 85.20 that facilitate an effective audit to determine compliance with program requirements, and comply with the audit requirements of 24 CFR 85.26.

19. The PHA will comply with the policies, guidelines, and requirements of OMB Circular A-87 (Cost Principles for State, Local and Indian Tribal Governments) and 24 CFR part 85 (Administrative Requirements for Grants and Cooperative Agreements to State, Local and Federally Recognized Indian Tribal Governments).

BILLING CODE 4210-32-P

FUNDING AVAILABILITY FOR PUBLIC AND INDIAN HOUSING DRUG ELIMINATION TECHNICAL ASSISTANCE PROGRAM (DETAP)

Program Overview

Purpose of the Program. The purpose of the Public and Indian Housing Drug Elimination Technical Assistance Program (DETAP) is to provide no more than thirty (30) billable days of technical assistance (TA) consultant services to assist public housing agencies (PHAs), Indian tribes and Tribally Designated Housing Entities (TDHEs), Resident Management Corporations (RMCs), incorporated Resident Councils (RCs), and Resident Organizations (ROs) to improve the management and effectiveness of the Public Housing Drug Elimination Program. The TA services may be conducted over a period of not more than 90 days.

Available Funds. Approximately $900,000.

Eligible Applicants. Public Housing Authorities (PHAs), Indian tribes and Tribally Designated Housing Entities (TDHEs); incorporated Resident Management Corporations (RMCs), incorporated Resident Councils (RCs), and Resident Organizations (ROs).

Application Deadline. July 27, 2001.

Match. None.

Additional Information

If you are interested in applying for Public Housing Drug Elimination Technical Assistance funding, please review carefully the General Section of this SuperNOFA and the following additional information.

I. Application Due Date, Application Kits, Further Information, and Technical Assistance

Application Due Date. Your completed application (an original and one copy) is due on or before 12:00 midnight, Eastern time, on July 27, 2001 at the address shown below. The only exception to this deadline is for HUD-Initiated Public Housing Drug Elimination Technical Assistance, for which there is no application deadline.

See the General Section of this SuperNOFA for specific procedures governing the form of application submission (e.g., mail applications, express mail, overnight delivery, or hand-carried).

Address for Submitting Applications. Your application consists of one original signed application and two copies. Submit one original application and one copy to the Community Safety and Conservation Division (CSCD), Room 4206 at the HUD Headquarters Building located at 451 Seventh Street, SW, Washington, DC, 20410.

Submit the second copy of your application to the appropriate HUD Field Office or HUB with delegated public housing responsibilities for your organization. See Appendix A for a list of HUD offices with delegated responsibilities. You may also call the SuperNOFA Information Center at 1-800-HUD-8929 if you have a question regarding where you should submit your application (persons with hearing or speech impairments may call the Center's TTY number at 1-800-HUD-2209).

You must submit with your application(s) to CSCD, a Confirmation Form documenting that the appropriate HUD Field Office or Hub (AONAP) received your TA application (this form is a threshold requirement). Tribes/TDHEs should submit a second copy of the DETAP application to the appropriate Area Office of Native American Programs (AONAP).

HUD will review and accept DETAP applications on a first come first serve basis until July 27, 2001 or until funds available under this program are expended.

For Application Kits. For an application kit and any supplemental information, please call the SuperNOFA Information Center at 1-800-HUD-8929. Persons with hearing or speech impairments may call the Center's TTY number at 1-800-HUD-2209. When requesting an application kit, please refer to the Public Housing Drug Elimination Technical Assistance Program, and provide your name, address (including zip code) and telephone number (including area code). An application kit is also available on the Internet through the HUD web site at http://www.hud.gov/pih/programs/ph/de/cscd.html.

For Further Information and Technical Assistance. You may contact the local HUD Field Office or Hub (AONAP) where you will be submitting your application or you may call the Drug Information Strategy Clearinghouse (DISC) at 1-800-955-2232. For further information on how to initiate an application for technical assistance, please contact Bertha Jones of the Community Safety and Conservation Division on (202) 708-1197, extension 4237. If you are a tribe/TDHE submitting an application and need technical assistance, please contact Tracy Outlaw of the Denver National Program Office at (303) 675-1600 or your local AONAP.

Satellite Broadcast. HUD will hold an information broadcast via satellite for potential applicants to learn more about the program and preparation of the application. For more information about the date and time of the broadcast, you should consult the HUD web site at http://www.hud.gov.

II. Amount Allocated

For FY 2001 approximately $900,000 (with an amount adjusted for carryover when actual carryover is known) is available for Public Housing Drug Elimination Technical Assistance.

III. Program Description; Eligible Applicants; Eligible Activities

(A) Program Description. (1) The purpose of this program is to provide not more than thirty (30) billable days of technical assistance (TA) consultant services to assist public housing agencies (PHAs), Indian tribes and Tribally Designated Housing Entities (TDHEs), Resident Management Corporations (RMCs), incorporated Resident Councils (RCs) and Resident Organizations (ROs) to improve the administration and effectiveness of the Public Housing Drug Elimination Program (PHDEP) grants. The TA services may be conducted over a period not to exceed 90 days. Housing Authorities, tribes and TDHEs are encouraged to use this program as a tool to evaluate, monitor and administer the Public Housing Drug Elimination Program grants.

(2) HUD may also initiate TA under this program to identify areas of high risk among HAs and to improve administration of PHDEP grants nationally. HUD initiated TA requires an application and accompanying standard forms found in Appendix B of this program NOFA with a letter of support from the HUD Field Office (AONAP). HUD initiated TA is also short-term assistance.

(3) The program will fund the use of consultants having demonstrated knowledge of or specialized experience in providing the following services:

(a) Crisis Intervention/Mediation;

(b) Defensible Space/Crime Prevention through Environmental Design;

(c) Guidance on the development of Five-year PHA Plans;

(d) Assistance in the development or evaluation of PHDEP performance indicators for each PHDEP activity;

(e) Tools and techniques for gathering crime statistics; crime mapping techniques;

(f) Technology Assessments: Determination of how computer software and hardware may be used to improve grant administration (e.g. establishment of a crime statistics database);

(g) Training on Best Practices (e.g. Peacemakers/Building Tolerance and Youth Violence Prevention, Wellness Training, Development and Implementation of Kobans, Development of Gun-Buyback programs);

(h) Establishment of Partnerships with Law enforcement agencies;

(i) Drafting memoranda of understanding with partners;

(j) Translation of the strategic plan components into measurable and attainable goals for the PHDEP Semi-Annual Performance Reporting System;

(k) Plan versus Performance Assessments;

(l) Internet-based computer training as it specifically relates to the administration of the PHDEP.

(B) Eligible Applicants. PHAs, Indian tribes and TDHEs, RCs, ROs in the case of Indian tribes and TDHEs, and RMCs that meet all of the applicable threshold requirements found in Section II(B) of the General Section of the SuperNofa, are eligible to receive short-term technical assistance services under DETAP. Specific eligibility requirements are:

(1) If you are an RC or RO, you must be an incorporated nonprofit organization or association that meets all seven of the following requirements:

(a) You must be representative of the residents you purport to represent.

(b) You may represent residents in more than one development or in all of the developments of a PHA but only the Former 1937 Housing Act Units for Indian tribes or TDHEs, but you must fairly represent residents from each development that you represent.

(c) You must adopt written procedures providing for the election of specific officers on a regular basis, but at least once every 3 years.

(d) You must have a democratically elected governing board. The voting membership of your board must consist of residents of the development or developments that you represent.

(e) You must be supported in your application by a PHA or an Indian tribe or TDHE.

(f) You must provide evidence of incorporation.

(g) You must provide evidence of adopted written procedures for electing officers.

(2) If you are an RMC, you must be an entity that proposes to enter into, or that enters into, a management contract with a PHA under 24 CFR part 964, or a management contract with an Indian tribe or TDHE. You must have all seven of the following characteristics:

(a) You must be a nonprofit organization incorporated under the laws of the State or Indian tribe where you are located.

(b) You may be established by more than one RO or RC, so long as each: approves the establishment of your corporation; and has representation on the Board of Directors of your corporation.

(c) You must have an elected Board of Directors.

(d) Your by-laws must require the Board of Directors to include representatives of each RO or RC involved in establishing the corporation.

(e) Your voting members must be residents of the development or developments you manage.

(f) You must be approved by the RC. If there is no organized resident organization, a majority of the households of the development must approve the establishment of your organization to determine the feasibility of establishing a corporation to manage the development.

(g) You may serve as either an RMC or RC, so long as your corporation meets the requirements of 24 CFR part 964 for a RC. (In the case of a RMC for an Indian tribe or TDHE, you may serve as both the RMC and the RO, so long as your corporation meets the requirements of this program for a RO.)

(3) You can only submit one application per award period. A PHA and its eligible resident groups, and an Indian tribe and its TDHE may apply during the same award period as long as there is no conflict or overlap in your proposed activities. You are eligible to apply to receive technical assistance even if you are already receiving technical assistance under this program, as long as your request creates no scheduling conflict with other DETAP requests. If HUD initiates TA with your organization, you may not receive more than one type of technical assistance concurrently unless HUD, in consultation with your organization, determines that the TA will not negatively affect the quality of the DETAP.

(4) You are eligible to apply to receive technical assistance whether or not you are already receiving drug elimination funds under the Public and Indian Housing Drug Elimination Program.

(5) You must comply with the laws, regulations, and Executive Orders applicable to the Drug Elimination TA Program, including applicable civil rights laws.

(C) Eligible Activities.

(1) Eligible activities under this funding. Funding is limited to technical assistance for carrying out activities authorized under Chapter 2, Subtitle C, Title V of the Anti-Drug Abuse Act of 1988 (42 U.S.C. 11901 et. seq.), as amended by section 581 of the National Affordable Housing Act of 1990 (Pub.L. 101-625, approved November 28, 1990), and section 161 of the Housing and Community Development Act of 1992 (Pub.L. 102-550, approved October 28, 1992). The following circumstances are eligible for HUD-Initiated Technical Assistance under the Public and Indian Housing Drug Elimination Technical Assistance Program. HUD-Initiated technical assistance may be requested by HUD staff for one or more of the following circumstances:

(a) Housing authorities, Indian tribes, TDHEs, RCs, ROs, and RMCs that are unable to document their drug and/or crime problems through crime statistics;

(b) Housing authorities, Indian tribes, TDHEs, RCs, ROs, and RMCs that do not have the expertise to develop effective drug and crime prevention programs;

(c) Housing authorities that need assistance in using the PHDEP Semi-Annual Performance Reporting System to evaluate their program.

(d) Housing Authorities that need assistance in developing performance indicators; Housing authorities, Indian tribes, TDHEs, RCs, ROs, and RMCs that need assistance in developing evaluation mechanisms for drug elimination programs and strategies.

(e) Housing authorities, Indian tribes, TDHEs, RCs, ROs, and RMCs with special circumstances whose needs fit under the scope of this program section of the SuperNOFA.

(2) Ineligible Activities. Funding is not permitted for:

(a) Any type of monetary compensation for residents.

(b) Any activity that is funded under any other HUD program, including TA and training for the incorporation of RCs or RMCs, and other management activities;

(c) Any type of resident or PHA staff member training and technical assistance that does not relate to crime, drug reduction/elimination, risk management or technical assistance to improve the overall administration and management of PHDEP grants and performance goals;

(d) Salary or fees to your staff, or your former staff within a year of their employment;

(e) Underwriting conferences;

(f) Grant Writing Training and Funding Research/Development;

(g) Graffiti Removal/Prevention;

(h) Resident Patrols;

(i) Peer Support;

(j) Alternative Programs;

(k) Leadership Training for Resident Organizations;

(l) Conference speakers;

(m) Program implementation, proposal writing, financial support for existing programs, or efforts requiring more than 30 billable days of technical assistance over a 90 day period or assistance that will require more than 90 days to complete; the purchase of hardware or equipment, or any activities deemed ineligible in the Drug Elimination Program, excluding consultant's fees.

IV. Program Requirements

Except as stated below in this section, you must meet the requirements listed in Section II of the General Section of this SuperNOFA. You must also meet these additional requirements:

(A) Individual Award Amounts. You may not submit an application for more than $15,000.

(1) Applications for short-term technical assistance may be funded up to $15,000, with HUD providing payment directly to your authorized consultant for the consultant's fee, travel, room and board, and other approved costs at the government rate approved by HUD.

(2) Technical assistance initiated by HUD may be for any amount up to $25,000 when HUD staff determine that more than 30 billable days of technical assistance over a 90-day period is justified.

(B) Receipt of More than One Application. If HUD receives more than one application from a HA, or a group of RCs, ROs, or RMCs, or an Indian tribe and a TDHE, in proximity to one another, HUD and its agent may exercise discretion to consider any two or more applications as one, recommending one or more consultants and executing contracts for any combination of applications.

(C) Affirmatively Furthering Fair Housing. Section II(D) of the General Section does not apply to this NOFA because its purpose is to address specific and targeted problems faced by Public Housing Authorities, Indian tribes, Tribally Designated Housing Entities, Resident Management Corporations, Resident Councils, or Resident Organizations in their management of the Public Housing Drug Elimination Program and to assist the applicants in the improvement of the effectiveness of that program.

(D) Eligible Consultants. HUD is seeking individuals or entities who have experience working with public or Tribal housing or other low-income populations to provide short-term technical assistance under this DETAP section of the SuperNOFA. Consultants who have previously been deemed eligible and are part of HUD's TA Consultant Database need not reapply, but must update their file with more recent experience and rate justification on an annual basis. HUD reserves the right to consider a consultant name inactive in the database if the consultant has not provided updated information for the database within the last two years. The updated skills should list strengths in priority order.

(1) To qualify as an eligible consultant, you should have demonstrated knowledge and specialized experience in one or more of the following general areas:

(a) PHA/Indian tribe or TDHE-related experience with:

(i) Agency organization and management;

(ii) Facility operations;

(iii) Strategic plan development, and

(iv) Prevention and intervention programs;

(b) Experience as an independent consultant, or as a consultant working with a firm with related experience and understanding of on-site work requirements, contractual, reporting and billing requirements;

(c) Crisis Intervention/Mediation;

(d) Defensible Space/Crime Prevention through Environmental Design Guidance on the development of Five-year PHA Plans;

(e) Assistance in the development or evaluation of PHDEP performance indicators for each PHDEP activity;

(f) Tools and techniques for gathering crime statistics; Crime mapping;

(g) Technology Assessments: Determination of how computer software and hardware may be used to improve grant administration (e.g. establishment of a crime statistics database; Training on Best Practices (e.g. Peacemakers/Building Tolerance and Youth Violence Prevention, Wellness Training, Development and Implementation of Kobans, Development of Gun-Buyback programs);

(h) Establishment of Partnerships with Law enforcement partnerships;

(i) Drafting memoranda of understanding with partners;

(j) Translation of the strategic plan components into measurable and attainable goals for the PHDEP Semi-Annual Performance Reporting System;

(k) Plan versus Performance Assessments;

(l) Internet-based computer training as it specifically relates to the administration of the PHDEP.

(2) Additional requirements for consultants include the following:

(a) In addition to the conflict of interest requirements in 24 CFR part 85, no person who is an employee, agent, officer, or appointed official of an eligible applicant may be funded as a consultant to that organization by this Drug Elimination Technical Assistance Program.

(b) If you are a consultant who wishes to provide drug elimination technical assistance services through this program, you must not have had any involvement in the preparation or submission of any DETAP proposal. Your involvement will be considered a conflict of interest, making you ineligible for providing consulting services to the eligible applicant and will disqualify you from future consideration. This prohibition shall also be invoked for preparing and distributing prepared generic or sample applications to entities eligible to apply for funding under this program. If HUD determines that any application submitted by a PHA, Indian tribe or TDHE, RC, RO or RMC duplicates a sufficient amount of any prepared sample to raise issues of possible conflict of interest, and HUD determines you provided and distributed the sample, you will be disqualified from receiving HUD funds.

(c) Consultants accepted into the DETAP are prohibited from soliciting their services to eligible applicants.

(d) HUD-registered consultants are eligible to receive funds to be reimbursed for up to $15,000 for conducting short-term technical assistance. HUD or its agent will carefully review the approved Statement of Work to ensure that resources allocated are appropriate and reasonable for the work to be performed (e.g. resources devoted to pre-on site preparation and on-site work). Long-term results are expected from each job. After your work is completed, evaluations from recipients of the technical assistance services will be submitted to HUD on your work performance. The evaluations will be carefully reviewed to make sure the recipients of TA are satisfied with your services. If your performance receives a satisfactory rating, you will be reimbursed by HUD. If the housing authority is not satisfied with the report that is provided by the consultant, HUD will require the consultant to correct the report or address and/or resolve any issues raised by the housing authority without additional costs. If these issues can not be resolved, HUD will not be under obligation to reimburse the consultant for any incurred costs except for transportation and per diem costs. In extreme cases of technical assistance needs, staff members of HUD Headquarters and field offices may recommend specialized technical assistance for which you can receive up to $25,000 in funds.

You may not be the lead consultant on any more than two active contracts or purchase orders at one time nor be involved with more than one company at a time that has active technical assistance contracts. You may not have any more than four contracts or purchase orders and enter into a purchase order agreement as a lead consultant within the calendar year. The lead consultant may enter into a collaborative agreement with other TA consultants listed in the database. In the case of collaborative agreements, only one purchase order will be issued to the lead consultant. The Department will have no obligation to reimburse or issue a separate purchase order agreement with collaborating consultants. Reimbursement to collaborating consultants will be the responsibility of the lead consultant. If you are working as a member of a multi-person firm, the key individual for the specific contract must be listed on each contract as the point of contact. The point of contact must be on-site more hours than any other contracted staff billing to the purchase order, and that individual may have no more than two purchase orders active at the same time. Consulting firms may bill the authorized daily rate only once per 24-hour period. Consultants shall not bill more than once for a single day's work; for example, if a firm consists of three consultants and the certified daily rate is $470, they may not bill HUD $1,410 per day for their services. Each individual consultant may not bill at his or her daily rate. The aggregate number of hours billed by one or all consultants on project must not exceed 8 hours per day.

(E) Ineligible Consultants. Consultants and/or companies currently debarred or suspended by HUD are not eligible to perform services under this program. Also, consultants that are not in the official Consultant database are considered ineligible for this program.

(F) Application Process for Consultants. (1) If you are an individual or entity interested in being listed in the DETAP Consultant Database, you must prepare your application and send it to the address specified in the application kit. Before you can be entered into the Consultant Database, you must submit an application that includes the following information:

(a) The Consultant Resource Inventory Questionnaire, including at least three written references, all related to the general areas listed in this DETAP section of the SuperNOFA. One or two of the written references must relate to work for a PHA, Indian tribe or TDHE, RC, RO or RMC;

(b) A resume;

(c) Documented evidence (e.g., w-2 Wage Statement, payment statement etc.) of the standard daily fee previously paid to you for technical assistance services similar to eligible activities under this DETAP. In light of the recent drastic reduction in Drug Elimination Technical Assistance funding, the standard daily fee will not exceed the Equivalent Rate for Level IV of the Executive Schedule.

(2) HUD will determine your specific fee based upon the evidence you submitted under this DETAP.

(3) If you are an employee of a housing agency (HA), Indian tribe, or TDHE, you may not serve as a consultant to your employer. If you serve as a consultant to other than your employer, you must be on annual leave to receive the consultant fee.

(i) Applicants are prohibited from selecting consultants by name from HUD's consultant database.

(ii) Consultants will be recommended to an organization seeking TA, based on factors including capacity to perform the technical assistance, their strengths identified in the consultant skill codes in the database, previous experience in the specified areas of technical assistance, previous performance evaluation for performing technical assistance, reasonableness of the fee, and geographic proximity to the site where TA will be provided. If no consultants in the database are within the geographical proximity, consultants will be selected from the closest region to the site where TA will be provided. The technical assistance to be provided will be based upon an assessment of a maximum of three priority areas of concern to the applicant. All of the skills that the consultants possess are not eligible for providing technical assistance under DETAP. If the priority areas of concern are not identified in the application, the applicant will be contacted by HUD or its agent to identify a maximum of three priority areas of concern to target the technical assistance.

V. Application Selection Process

(A) General. HUD will review applications on a first-come, first-served basis, until funds under this DETAP section of the SuperNOFA are no longer available. Eligible applications will be funded in the order in which negotiations for a statement of work are completed. HUD-Initiated applications will be received throughout the year with no deadline or until funds are expended.

(B) Threshold Submission Requirements for Funding Consideration. In addition to required forms, certifications and assurances, found in the General Section of the SuperNOFA, the following requirements must be included in your application to be considered and approved for funding:

If you are requesting TA services, you must meet the following requirements:

(1) The applicant must answer the following questions: Note: You cannot request technical assistance under DETAP by answering “to conduct a needs assessment or survey.” You must be able to discuss what prevents you from identifying, describing, and/or measuring the problems for which you are requesting technical assistance. You must list your needs for TA in order of priority:

(a) Describe in detail the problem, issue or weakness that hinders the proper administration or effectiveness of PHDEP.

(b) Identify what technical assistance you would like to receive.

(c) Explain how the technical assistance sought will improve the administration of the grant or the effectiveness of the PHDEP grant program.

(d) Describe how the technical assistance will be used in assisting you in strategic planning. You may wish to address any or all of the following:

(i) Establishment of a framework for annual program evaluation of PHDEP activities;

(ii) Scheduling data collection for evaluation;

(iii) Identification of appropriate performance indicators, interpretation of results of data collection;

(iv) Improving data collection and data elements;

(v) Guidance on the development of your 5-year plan;

(vi) Preparation assistance meeting your PHDEP semiannual performance reporting requirements; or

(vii) Crime mapping and identification of appropriate hardware and software.

(e) Specify what outcome you expect to achieve and how it will benefit PHDEP over the next five years.

(f) How will the proposed assistance allow you to develop an anti-drug, anti-crime strategy; or how will the proposed assistance fit into your current strategy?

(g) The application must include the form, “HUD Field Office/AONAP Confirmation Form.”

(h) If your application does not meet the requirements described above it will not be considered for funding.

(C) Application Awards. (1) If your application is deemed eligible for funding and sufficient funds are available, you will be contacted by HUD or its agent to confirm the work requirements. Only one application will be accepted from a HA, Indian tribe or TDHE; or group of RCs, ROs or RMCs in proximity to one another. HUD may exercise its discretion to consider any two or more applications as one, assuming that the applications are received at the same time, or before approval by the Chief Financial Officer and the Office of Procurement and Contracts, executing the contract, and providing notification to the consultant to proceed to work. If two or more applications from HAs or resident groups are combined, the consultant to provide the combined technical assistance should have the capability to administer both or all types of technical assistance being requested by each applicant.

(3) Once your application for TA has been reviewed and found acceptable by HUD, the TA Consultant Database will be searched for consultants who have:

(a) A principal place of business or residence located within the same geographic area as the applicant. For purposes of this program section of the SuperNOFA, the term “geographic area” refers to, in order of priority: city, state, region, and country;

(b) The requisite knowledge, skills, and abilities to respond to the request; and

(c) The most reasonable (least expensive) fees.

(4) HUD will then forward to you a list of suggested consultants from the consultant database. From this list, you must select a consultant to provide your requested TA.

(5)(a) From the list provided by HUD, you must contact and interview a minimum of three TA consultants. HUD may request confirmation from each contacted consultant that they were contacted. To obtain the three consultants, you must continue to call as many consultants as necessary from the list to complete the three interviews. If HUD determines that any consultant was not contacted, HUD (Headquarters) may consider your selection by the applicant void.

(b) After contacting each consultant, you must send a written justification for your recommended selection in order preference. If any are unacceptable, you must also indicate the consultant and the reasons you find them unacceptable.

(c) If you find that all referred consultants lack the requisite expertise, you must provide written detailed documentation justifying this decision. If HUD determines that your justification is adequate, you will be provided with a second list of potential consultants.

(d) If you do not provide HUD the written justification of consultant choice within 30 calendar days, HUD reserves the right to cancel your TA request.

(6)(a) HUD or its agent will work with your selected consultant and you to develop a “statement of work.” The statement of work should include:

(i) A time line and estimated budget;

(ii) A discussion of the kind of technical assistance and skills needed to address the problem, and how the technical assistance requested will address these needs; and

(iii) A description of the current crime and drug elimination strategy, and how the requested technical assistance will assist in improving the management and oversight of the PHDEP Grant Program.

(b)(i) When HUD has completed the authorization to begin work, your selected consultant will be contacted to start work. Your consultant must receive written authorization from HUD or its authorized agent before beginning to provide technical assistance. The requesting organization and the relevant Field Office or Area Office of Office of Native American Programs will also be notified that authorization to begin work has been given.

(ii) Work begun before the authorized date will be considered unauthorized and will not be compensated by HUD.

(iii) Consultants will only be reimbursed for a maximum of 30 days of work, which must be completed in fewer than 90 days from the date of the approved statement of work. The exception to this will be for HUD-Initiated technical assistance.

VI. Application Submission Requirements

(A) General. In addition to the program requirements listed in the General Section of this SuperNOFA, each DETAP application must include both the descriptive letter and certification statement to be eligible for funding.

(B) Forms, Certifications and Assurances. Your application must contain the items listed in this Section VI(B). These items include the standard forms, certifications, and assurances listed in Section II(G) of the General Section of the SuperNOFA that are applicable to this funding (collectively, referred to as the “standard forms”). The standard forms can be found in Appendix B to the General Section of the SuperNOFA. The remaining application items that are forms (i.e., excluding such items as narratives, letters), referred to as the “non-standard forms” can be found as Appendix B to this program section of the SuperNOFA. The items are as follows:

(1) Applications must be signed and certified by both the Executive Director or Tribal Council or authorized TDHE official and a resident leader.

(2) The certification must indicate that:

(a) A copy of the application was sent to the local HUD Field Office, Public Housing Directors, or Administrator, Office of Native American Programs;

(b) The application was reviewed by both the housing authority Executive Director or Tribal Council or authorized TDHE official, and a resident leader of your organization; and

(c) Any technical assistance received will be used in compliance with all requirements in the SuperNOFA.

(3) The application must contain a four page (or fewer) application letter responding to each of the requirements listed in Section V(B) of the DETAP section of the SuperNOFA.

VII. Corrections to Deficient Applications

The General Section of the SuperNOFA provides the procedures for corrections to deficient applications.

VIII. Environmental Requirements

In accordance with 24 CFR 50.19(b)(9), the assistance provided under this program relates only to the provision of technical assistance and therefore is categorically excluded from the requirements of the National Environmental Policy Act and is not subject to environmental review under the related laws and authorities. This determination is based on the ineligibility of real property acquisition, construction, rehabilitation, conversion, leasing, or repair for HUD assistance under this program.

IX. Authority

The FY 2001 HUD Appropriations Act under the heading, “Drug Elimination Grants for Low-Income Housing.”

Appendix A—Hud's Public Housing Area Offices

New England Region

Boston

Donna Ayala, Office of Public Housing, DHUD—Massachusetts State Office, Thomas P. O'Neill, Jr. Federal Building, 10 Causeway Street, Room 553, Boston, MA 02222-1092, (617) 565-5197 fax (617) 565-5257

Hartford

Raymond Jordan, Office of Public Housing, DHUD—Connecticut State Office, 19th Floor, One Corporate Center, Hartford, CT 06103-3220, (860) 240-4800 or (860) 240-4850

Manchester

Robin Gagnon, Office of Public Housing, DHUD—New Hampshire State Office, Norris Cotton Federal Building, 275 Chestnut Street, Manchester, NH 03101-2487, (603) 666-7674 or fax (603) 666-7714

Providence

Marlene Piekarsky, Office of Public Housing, DHUD—Rhode Island State Office, 10 Weybosset Street, 6th Floor, Providence, RI 02903-3234, (401) 528-5366 or (401) 528-5370

New York/New Jersey Region

New York

Mirza Del Rosario, Office of Public Housing, DHUD—New York State Office, 26 Federal Plaza, Suite 32-116, New York, New York 10278-0068, (212) 264-8931 fax (212) 264-9834

Buffalo

Joan Dpilman, Office of Public Housing, DHUD—Buffalo State Office, Lafayette Court, 465 Main Street, Fifth Floor, Buffalo, New York 14203-5755, (716) 551-5755 ext. 5050 fax (716) 551-4789

New Jersey

Carmen Valenti, Office of Public Housing, DHUD—New Jersey State Office, One Newark Center, 13th Floor, Newark, NJ 07102-5260, (973) 622-7900 ext. 3600 fax (973) 645-6239

Mid-Atlantic Region

Philadelphia

Malinda Roberts, Office of Public Housing, DHUD—Pennsylvania State Office, The Wanamaker Building, 100 Penn Square East, Philadelphia, PA 19107-3390, (215) 656-0576 or 0579, ext. 3308 fax (215) 656-3433

Baltimore

Dana Johnson, Office of Public Housing, DHUD—Maryland State Office, City Crescent Building, 10 South Howard Street, 5th Floor, Baltimore, Maryland 21201-2505, (410) 962-2520 ext. 3102 fax (410) 962-0668

West Virginia

Henry Miller, Office of Public Housing, DHUD—West Virginia State Office, Kanawha Valley Building, 405 Capitol Street, Suite 708, Charleston, WV 25301-1795, (304) 347-7057 fax (304) 347-7045

Pittsburgh

Office of Public Housing, DHUD—Pittsburgh Area Office, 339 Sixth Avenue, 6th Floor, Pittsburgh, PA 15222-2515, (412) 644-6571 fax (412) 644-6499

Virginia

Pat Anderson, Office of Public Housing, DHUD—Virginia State Office, The 3600 Centre, 3600 West Broad Street, P.O. Box 90331, Richmond, VA 23230-0331, (804) 278-4500 ext. 3217 fax (804) 278-4603

District of Columbia

Lee Palman, Office of Public Housing, DHUD—District of Columbia Office, 820 First Street, NE., Suite 450, Washington, DC 20002-4205, (202) 275-7965 ext 3175 fax (202) 275-0779

Southeast Region

Atlanta

Boyce Norris, Office of Public Housing, DHUD—Georgia State Office, Richard B. Russell Federal Building, 40 Marietta Street, Atlanta, GA 30303, (404) 331-4766 fax (404) 730-2365

Alabama

Debra Pippen, Office of Public Housing, DHUD—Alabama State Office, Beacon Ridge Tower, 600 Beacon Parkway West, #300, Birmingham, AL 35209-4144, (205) 290-7601 ext 1101 fax (205) 290-7593

Columbia

Larry Knightner, Office of Public Housing, DHUD—South Carolina State Office, Strom Thurmond Federal Building, 1835 Assembly Street, Columbia, SC 29201-2480, (803) 765-5831 or (806) 765-5515

Greensboro

Ledford Austin, Office of Public Housing, DHUD—North Carolina State Office, Koger Building, 2306 West Meadowview Road, Greensboro, NC 27407-3707, (336) 547-4038 fax (336) 547-4015

Mississippi

George Smith, Office of Public Housing, DHUD—Mississippi State Office, Doctor A. H. McCoy Federal Building, 100 West Capitol Street, Room 910, Jackson, MS 39269-1016, (601) 965-4761 fax (601) 965-4773

Miami

Karen Cato-Turner, Office of Public Housing, DHUD—Florida State Office, 909 SE First Avenue, Suite 500, Miami, FL 33131, (305) 536-4443 fax (305) 536-5663

Jacksonville

John Niesz, Office of Public Housing, DHUD—Jacksonville Area Office, Southern Bell Tower, 301 West Bay Street, Suite 2200, Jacksonville, FL 32202-5121, (904) 232-1777 ext. 2142 fax (904) 232-3759

Kentucky

Arthur Wasson, Office of Public Housing, DHUD—Kentucky State Office, 601 West Broadway, Post Office Box 1044, Louisville, KY 40201-1044, (502) 582-6163 ext. 370 fax (502) 582-6558

Knoxville, TN

Shelley Day, Office of Public Housing, DHUD—Knoxville Area Office, John J. Duncan Federal Building, 710 Locust Street, Third Floor, Knoxville, TN 37902-2526, (423) 545-4402 ext. 4 fax (423) 545-4569

Nashville, TN

Michael Farley, Office of Public Housing, DHUD—Tennessee State Office, 235 Cumberland Bend Drive, Suite 200, Nashville, TN 37228-1803, (615) 736-5063 ext. 6132 fax (615) 736-2886

San Juan, PR

Hildamar Ortiz, Office of Public Housing, DHUD—Caribbean Office, Administracion de Terrenos Building, 171 Carlos E. Chardon Avenue, Suite 301, San Juan, PR 00918-0903, (787) 766-5400 ext. 2031 fax (787) 766-6504

Mid-West Region

Chicago

Office of Public Housing, DHUD—Illinois State Office, Ralph H. Metcalfe Federal Building, 77 West Jackson Boulevard, Chicago, IL 60604-3507, (312) 353-1915 or (312) 353-6236 ext. 2302 fax (312) 353-0121

Cincinnati

Larry Dempsey, Office of Public Housing, DHUD—Cincinnati Area Office, 525 Vine Street, Suite 700, Cincinnati, OH 45202-3188, (513) 684-2654 fax (513) 684-6224

Cleveland

Tom Marshall, Office of Public Housing, DHUD—Cleveland Area Office, Renaissance Building, 1350 Euclid Avenue, Suite 500, Cleveland, OH 44115-1815, (216) 522-2700 fax (216) 522-2975

Columbus

David Kellner, Office of Public Housing, DHUD—Ohio State Office, 200 North High Street, Columbus, OH 43215-2499, (614) 469-5787, ext. 8224 or (614) 469-2949 fax (614) 469-2432

Detroit

Joann Adams, Office of Public Housing, DHUD—Michigan State Office, Patrick V. McNamara Federal Building, 477 Michigan Avenue, Detroit, MI 48226-2592, (313) 226-6880, ext. 8111 fax (313) 226-5611

Grand Rapids

Joann Adams, Office of Public Housing, DHUD—Grand Rapids Area Office, 50 Louis Street, NW, 3rd Floor, Grand Rapids, Michigan 49503, (616) 456-2100 fax (616) 456-2187

Indianapolis

Forrest Jones, Office of Public Housing, DHUD—Indiana State Office, 151 North Delaware Street, Suite 1200, Indianapolis, IN 46204-2556, (317) 226-6557 fax (317) 226-5594

Milwaukee

John Finger, Office of Public Housing, DHUD—Wisconsin State Office, Henry S. Reuss Federal Plaza, 310 West Wisconsin Avenue, Suite 600, Milwaukee, WI 53203-2289, (414) 297-3214 ext. 8200 fax (414) 297-1180

Minneapolis

Diane Cmiel, Office of Public Housing, DHUD—Minnesota State Office, 220 South Second Street, Minneapolis, Minnesota 55401-2195, (612) 370-3135 fax (612) 370-3003

Southwest Region

Fort Worth

Roman Palamores, Office of Public Housing, DHUD—Texas State Office, 1600 Throckmorton, Post Office Box 2905, Fort Worth, TX 76113-2905, (817) 978-5700, ext. 3332 fax (817) 978-9289

Albuquerque

Carmella Herrera, Office of Public Housing, DHUD—New Mexico State Office, 625 Silver Avenue, S.W., Suite 100, Albuquerque, N.M. 87102-3185, (505) 346-7355 fax (505) 346-6604

Houston

Debbie Alexander, Office of Public Housing, DHUD—Houston Area Office, Norfolk Tower, 2211 Norfolk, Suite 200, Houston, TX 77098-4096, (713) 313-2274 (alt. 2280) fax (713) 313-2319

Little Rock

Janie Allen, Office of Public Housing, DHUD—Arkansas State Office, TCBY Tower, 425 West Capitol Avenue, Suite 900, Little Rock, AR 72201-3488, 324-5933 fax (501) 324-5900

New Orleans

Jed Drozdowski, Office of Public Housing, DHUD—Louisiana State Office, 501 Magazine Street, Ninth Floor, New Orleans, LA 70130, (504) 589-7235 fax (504) 589-6619

Oklahoma City

Office of Public Housing, DHUD—Oklahoma State Office, 500 West Main Street, Oklahoma City, OK 73102, (405) 553-7454 fax (405) 553-7588

San Antonio

Diana Armstrong, Office of Public Housing, DHUD—San Antonio Area Office, Washington Square, 800 Dolorasa Street, San Antonio, TX 78207-4563, (210) 475-6865 fax (210 472-6816

Great Plains Region

Kansas City

Andrew Boeddeker, Office of Public Housing, DHUD-Kansas/Missouri State Office, Gateway Tower II, 400 State Avenue, Kansas City, KS 66101-2406, (913) 551-5582 or (913) 551-6916 fax (913) 551-5416

Des Moines

Kathy Winter, Office of Public Housing, DHUD—Iowa State Office, Federal Building, 210 Walnut Street, Room 29, Des Moines, IA 50309-2155, (515) 284-4315 fax (515) 284-4895

Omaha

Charlie Hill, Office of Public Housing, DHUD—Nebraska State Office, Executive Tower Centre, 10909 Mill Valley Road, Omaha, NE 68154-3955, (402) 492-3137 fax (402) 492-3163

St. Louis

Patricia Straussner, Office of Public Housing, DHUD—St. Louis Area Office, Robert A. Young Federal Building, 1222 Spruce Street, St. Louis, MO 63103-2836, (314) 539-6505 fax (314) 539-6508

Rocky Mountain Region

Denver

John DiBella, Office of Public Housing, DHUD—Colorado State Office, First Interstate Tower North, 633—17th Street, 12th Floor, Denver, CO 80202-3607, (405) 672-5380 fax (405) 672-5065

Pacific Hawaii Region

San Francisco

Joyce Lee, Office of Public Housing, DHUD—California State Office, Phillip Burton Federal Building/Courthouse, 450 Golden Gate Avenue, 9th Floor, San Francisco, CA 94102-3448, (415) 436-8375 fax (415) 436-6440

Phoenix

(Denver Office handles resident initiatives), Office of Public Housing, DHUD—Arizona State Office, Two Arizona Center, 400 North 5th Street, Suite 1600, Phoenix, AZ 85004-2361, (602) 379-3045 fax (602) 379-3985

Los Angeles

Bob Cook, Office of Public Housing, DHUD—Los Angeles Area Office, AT&T Center, 611 West 6th Street, Suite 800, Los Angeles, CA 90017-3127, (213) 894-8000 ext 3500 fax (213) 894-8096

Sacramento

Bill Armstead, Office of Public Housing, DHUD—Sacramento Area Office, 925 “L” Street, Sacramento, CA 95814, (916) 498-5220 ext. 421 fax (916) 498-5247

NW/Alaska Region

Seattle

Lynn Martin, Office of Public Housing, DHUD—Washington State Office, Seattle Federal Office Building, 909 1st Avenue, Suite 360, Seattle, WA 98104-1000, (206) 220-5290 Ext 3694 fax (206) 220-5133

Portland

Elizabeth Santone, Office of Public Housing, DHUD—Oregon State Office, 400 Southwest Sixth Avenue, Suite 700, Portland, OR 97204-1596, (503) 326-2619 fax (503) 326-2568

Area Offices of Native American Programs
If you are applying from this geographic location * * * | Send your application to “ONAP Administrator” of this Area ONAP
All States east of the Mississippi River, Plus Iowa and Minnesota | Eastern/Woodlands Office of Native American Programs, Grants Management Division, 77 West Jackson Blvd., Room 2400, Chicago, IL 60604-3507, Telephone: (312) 886-4532, Ext. 2815.
Louisiana, Kansas, Oklahoma, and Texas, except West Texas | Southern Plains Office of Native American Programs, Grants Management Division, 500 W. Main Street, Suite 400, Oklahoma City, OK 73102-3202, Telephone: (405) 553-7525.
Colorado, Montana, Nebraska, North Dakota, South Dakota, Utah, and Wyoming | Northern Plains Office of Native American Programs, Grants Management Division, First Wells Fargo Tower North, 633 17th Street, Denver, CO 80202-3607, Telephone: (303) 672-5465.
Arizona, California, and Nevada | Southwest Office of Native American Programs, Grants Management Division, Two Arizona Center, 400 N. Fifth Street, Suite 1650, Phoenix, AZ 85004-2361, Telephone: (602) 379-3865.
New Mexico and West Texas | Southwest Office of Native American Programs, Grants Management Division, Albuquerque Plaza, 201 3rd Street N.W., Suite 1830, Albuquerque, NM 87102-3368, Telephone: (505) 346-6923
Idaho, Oregon, Washington | Northwest Office of Native American Programs, Grants Management Division, Federal Office Building, 909 First Avenue, Suite 300, Seattle, WA 98104-1000, Telephone: (206) 220-5271.
Alaska | Alaska Office of Native American Programs, Grants Management Division, 949 E. 36th Avenue, Suite 401, Anchorage, AK 99508-4399, (907) 271-4603.

APPENDIX B

The non-standard forms, which follow, are required for your DETAP application.

BILLING CODE 4210-32-P

FUNDING AVAILABILITY FOR THE INDIAN HOUSING DRUG ELIMINATION PROGRAM

Program Overview

Purpose of the Program: The purpose of the Indian Housing Drug Elimination Program (IHDEP) is to provide grants to eliminate drugs and drug-related crime in American Indian and Alaskan Native communities.

Available Funds: Approximately $12,000,000 million is being made available for Indian Housing Drug Elimination Program (IHDEP) grants.

Eligible Applicants: Indian tribes who are eligible to be recipients of assistance under the Native American Housing Assistance and Self-Determination Act of 1996 (NAHASDA recipients) which means an Indian tribe or the entity for one or more Indian tribes that is authorized to receive grant amounts under NAHASDA on behalf of the tribe or tribes.

Application Deadline: April 24, 2001.

Match: None.

Additional Information

If you are interested in applying for funding under this program, please review carefully the General Section of this SuperNOFA and the following additional information.

I. Application Due Date, Submission Address, Application Kits, Further Information, and Technical Assistance

Application Due Date: Your completed application (one original and two copies) is due on or before April 24, 2001.

See the General Section of this SuperNOFA for specific procedures that you must follow for the form of application submission (e.g., mailed applications, express mail, overnight delivery, or hand carried).

Address For Submitting Applications. Please Note: We are instituting a new submission policy. Please submit an original and one identical copy to the Indian Housing Drug Elimination Information & Resource Center (IHDE-IRC), P.O. Box 14970, Silver Spring, MD 20911. You must also send one identical copy of your IHDEP application by the application due date to the local Area Office of Native American Programs (AONAP) Attention: HUD Administrator, Area Office of Native American Programs (AONAP). A list of local offices is provided below. The timely submission of your application will be based on the date and time it is submitted to the AONAP listed below, not the date and time it is received at the Indian Housing Drug Elimination Information & Resource Center. Again, please see the General Section of the SuperNOFA for specific procedures on the application due date.

If you are applying from this geographic location then * * * | Send your application to this AONAP
All states East of the Mississippi River, Plus Iowa and Minnesota | Eastern/Woodlands Office of Native American Programs, Grants Management Division, 77 West Jackson Blvd., Room 2400, Chicago, IL 60604-3507, Telephone: (312) 886-4532, Ext. 2815.
Louisiana, Kansas, Oklahoma, and Texas, except West Texas | Southern Plains Office of Native American Programs, Grants Management Division, 500 W. Main Street, Suite 400, Oklahoma City, OK 73102-3202, Telephone: (405) 553-7525.
Colorado, Montana, Nebraska, North Dakota, South Dakota, Utah, and Wyoming | Northern Plains Office of Native American Programs, Grants Management Division, Wells Fargo Tower North, 633 17th Street, Denver, CO 80202-3607, Telephone: (303) 672-5465.
Arizona, California, and Nevada | Southwest Office of Native American Programs, Grants Management Division, Two Arizona Center, 400 N. Fifth Street, Suite 1650, Phoenix, AZ 85004-2361, Telephone: (602) 379-3865.
New Mexico and West Texas | Southwest Office of Native American Programs, Grants Management Division, Albuquerque Plaza, 201 3rd Street N.W., Suite 1830, Albuquerque, NM 87102-3368, Telephone: (505) 346-6923.
Idaho, Oregon, Washington | Northwest Office of Native American Programs, Grants Management Division, Federal Office Building, 909 First Avenue, Suite 300, Seattle, WA 98104-1000, Telephone: (206) 220-5271.
Alaska | Alaska Office of Native American Programs, Grants Management Division, 949 E. 36th Avenue, Suite 401, Anchorage, AK 99508-4399, (907) 271-4603.

In order to expedite the review of your application and to ensure that your application is given a thorough and complete review of all responses to each of the components of the selection criteria, HUD strongly requests that when you respond to each of the selection criterion and sub-criterion that you separate each selection criterion and sub-criterion with tabs. In order for your IHDEP application to be rated, make sure the response for each criterion is beneath the appropriate tab (heading). Keep the responses in the same order as the NOFA. Limit your narrative explanations to 200 words or less and provide the necessary data that supports the response. Include all relevant material to a response under the same tab. Do not assume the reviewer will search for the answer or information to support the answer elsewhere in the application. Do not include documentation that is not required by the selection criteria because irrelevant information will be disregarded during the review of your application.

For Application Kits. To receive a copy of the IHDEP application kit, please call the Indian Housing Drug Elimination Information & Resource Center (IHDE-IRC) at 1-800-839-5561. Persons with hearing or speech impairments may call the Center's TTY number at 1-800-483-2209. When requesting an application kit, please refer to the Indian Housing Drug Elimination Program (IHDEP). Please provide your name, address, including zip code, and telephone number (including area code). The application kit contains information on all exhibits, forms, and certifications required for IHDEP.

For Further Information and Technical Assistance. Please call the AONAPs with jurisdiction over your tribe/tribally designated housing entity (TDHE) or HUD's IHDE-IRC at 1-800-839-5561 or Tracy C. Outlaw, Denver Program Office of Native American Programs (ONAP), Department of Housing and Urban Development, 1999 Broadway, Suite 3390, Denver, CO 80202, telephone 1-800-561-5913 or (303) 675-1600 (this is not a toll-free number). Hearing or speech-impaired individuals may access this number via TTY by calling the toll-free Federal Information Relay Service at 1-800-877-8339. Also, please see ONAP's website at http://www.codetalk.fed.us.html where you will be able to download a copy of the IHDEP NOFA and application kit from the Internet. Before the application deadline, we will be available to provide you with general guidance. We cannot, however, provide you with guidance on the actual contents of your application.

If applicable, after the rating and ranking process has been completed but before award, we will be available to assist you in clarifying or confirming technical, curable deficiency information that is required to address a pre-award requirement. If the pre-award conditions as outlined in Section VIII of the NOFA are not met by the applicant, we will award those grant amounts to another eligible applicant in accordance with the provisions of Section V of this NOFA.

II. Amount Allocated

Approximately $12 million is being made available under this NOFA from the FY 2001 HUD Appropriations Act (Pub.L. 106-377, approved October 27, 2000).

III. Program Description; Eligible Applicants; Eligible/Ineligible Activities

(A) Program Description. Funds are only available for Indian tribes who are eligible to be recipients under NAHASDA to develop and finance drug and drug-related crime elimination efforts in their affordable housing developments. You may use funds for enhancing security within your developments, making physical improvements to enhance security; and/or developing and implementing prevention, intervention and treatment programs to stop drug use in Indian housing communities.

(B) Eligible Applicants. Indian tribes who are eligible to be recipients under NAHASDA. “NAHASDA recipient” means an Indian tribe or the tribally designated housing entity (TDHE) for one or more Indian tribes that is authorized to receive grant amounts under NAHASDA on behalf of the tribe or tribes. “Tribe” means an Indian tribe, band, nation or other organized group or community of Indians, including any Alaska Native village or regional or village corporation as defined in or established pursuant to the Alaska Native Claims Settlement Act, that is recognized as eligible for the special programs and services provided by the United States to Indians because of their status as Indians pursuant to the Indian Self-Determination and Education Assistance Act of 1975. A tribe can apply either in its own name or through its TDHE. A TDHE cannot apply on behalf of a tribe that is applying on its own behalf. A tribe's application supersedes the application of a TDHE applying on behalf of that tribe. Resident Management Corporations (RMCs) and Resident Organizations (ROs) are eligible for funding as sub-grantees. RMCs, and ROs that were operating pursuant to 24 CFR part 950 are eligible for funding from tribes or TDHEs as subgrantees to develop security and substance abuse prevention programs. In addition, an applicant must meet all the applicable threshold requirements found in Section II(b) of the General Section of the SuperNOFA.

(C) Eligible/Ineligible Activities. IHDEP grants may be used for seven types of activities: (1) The employment of security personnel; (2) reimbursement of local law enforcement agencies for additional security and protective services; (3) physical improvements which are specifically designed to enhance security; (4) the employment of one or more individuals to (A) investigate drug-related crime on or about the real property comprising any public or other federally assisted affordable housing project; and (B) provide evidence relating to such crime in any administrative or judicial proceeding; (5) the provision of training, communications equipment, and other related equipment for use by voluntary tenant patrols acting in cooperation with local law enforcement officials; (6) programs designed to reduce use of drugs in and around public or other federally assisted affordable housing projects, including drug-abuse prevention, intervention, referral, and treatment programs; and (7) where a tribe or TDHE receives a grant, providing funding to nonprofit resident management corporations and resident organizations to develop security and drug abuse prevention programs involving site residents.

Following is a discussion by activity type of what can and cannot be funded and specific requirements or items that need to be discussed in your application if you are including that activity in your application.

(1) Physical Improvements to Enhance Security.

(a) Physical improvements specifically designed to enhance security may include: installing barriers, speed bumps, lighting systems, fences, surveillance equipment (e.g., Closed Circuit Television (CCTV), computers and software, fax machines, cameras, monitors, and supporting equipment), bolts, locks, and landscaping or reconfiguring common areas to discourage drug-related crime.

(i) All physical improvements must be accessible to persons with disabilities. For example, locks or buzzer systems that are not accessible to persons with restricted or impaired strength, mobility, or hearing may not be funded by IHDEP. Defensible space improvements must comply with civil rights requirements and cannot exclude or segregate people because of their race, color, or national origin from benefits, services, or other terms or conditions of housing. All physical improvements must meet the accessibility requirements of 24 CFR part 8 and the provisions found in section 504 of the Rehabilitation Act of 1973 and other relevant Federal, state and local statutes that apply.

(ii) Funding is permitted for the purchase or lease of house trailers of any type that are not designated as a building if they are used for eligible community policing, educational programs for youth and adults, employment training facility, youth activities, and drug abuse treatment activities. A justification of purchase versus lease must be supported by your cost-benefit analysis.

(2) Programs to Reduce Drug Use (Prevention, Intervention, Treatment, Structured Aftercare and Support Systems).

(a) Eligible activities may include:

(i) Drug abuse prevention, intervention, and referral programs;

(ii) Programs of local, social, faith-based and/or other organizations that provide treatment services (contractual or otherwise) for dependency/remission; and

(iii) Structured aftercare/support system programs.

(b) General Requirements and Strategies. HUD is looking for you to structure your drug abuse prevention, intervention, treatment, and aftercare program using a “continuum of care” approach. A “continuum of care” approach includes not just treating the addiction or dependency but also providing aftercare, mentoring, and support services such as day care, family counseling, education, training, employment development opportunities, and other activities.

You must develop a drug abuse/sobriety (remission)/treatment (dependency) strategy to adequately plan your drug abuse prevention, intervention, treatment, and structured aftercare efforts. In many cases, you may want to include education, training, and employment opportunities for residents. When undertaking these activities, you should be leveraging your IHDEP resources with other Federal, state, local and tribal resources. For example, your application may propose providing space and other infrastructure for these efforts with other tribal agencies providing staff and other resources at limited or no cost. Your application should also discuss how your strategy incorporates existing community resources and how they will be used in your program. The strategy should also document how community resources will be provided on-site or how participants will be referred and transported to treatment programs that are not on-site.

A community-based approach also requires you to develop a culturally appropriate strategy. Curricula, activities, and staff should address the cultural issues of the local community which requires your application to indicate your familiarity and facility with the language and cultural norms of the community. As applicable, your strategy should discuss cultural competencies associated specifically with your Native American or Alaskan Native community.

Your activities should focus resources directly to tribal residents and families.

For all activities involving education, training and employment, you should demonstrate efforts to coordinate with Federal, Tribal, state and local employment training and development services, including “welfare to work” efforts.

The current Diagnostic and Statistical Manual (DSM) of Mental Disorders of the American Psychiatric Association dated July 2000, contains information on drug abuse, dependency and structured aftercare. For more information about this reference, contact: APPI, 1400 K. Street, NW, Suite 1100, Washington, DC 20005 or 1(800) 368-5777 or World Wide Web site at http://ww.appi.org.

(c) Activities must be in and around the affordable housing development in your “Indian area”. IHDEP funding is permitted for programs that reduce/eliminate drug-related crime in affordable housing developments in the “Indian area”. “Indian area” is defined in 24 CFR 1000.10 of the NAHASDA regulations as the area in which an Indian tribe operates affordable housing programs or the area in which a TDHE is authorized by one or more Indian tribes to operate affordable housing programs.

(d) Eligible costs. (i) Funding is permitted for reasonable, necessary, and justified purchasing or leasing (whichever is documented as the most cost effective) of vehicles for transporting adult and youth residents for education, job training, and off-site treatment programs directly related to reducing drugs and drug-related crime. The cost reasonableness can be determined by a comparison of the number of participants in and anticipated costs of these programs compared to the purchase or lease cost of the vehicles. If these costs are included in your application, you must include a description of why the expenses are necessary. Under no circumstances are these vehicles to be used for other than their intended purpose under your grant.

(ii) Funding is permitted for reasonable, necessary and justified program costs, such as meals and beverages incurred only for training, education and employment activities, including provisions for daycare and youth services directly related to reducing drugs and drug-related crime. Refer to Office of Management and Budget (OMB) Circular A-87, Cost Principles for State, Local and Indian Tribal Governments.

(e) Prevention. Prevention programs must demonstrate that they will provide directly, or otherwise make available, services designed to distribute drug education information, to foster effective parenting skills, and to provide referrals for treatment and other available support services including daycare in the housing development or the community for tribal residents and families.

Prevention programs should provide a comprehensive prevention approach for residents that address the individual resident and his or her relationship to family, peers, and the community. Your prevention programs activities should identify and change the causal factors present in tribal communities that lead to drug-related crime thereby lowering the risk of drug usage. Many components of a comprehensive approach, including refusal and restraint skills training programs or drug, drug abuse/dependency and family counseling, and daycare may already be available in the tribal community developments and should be included to the maximum extent possible in your proposed program of activities.

The following eligible activities under a prevention program are discussed below:

(i) Educational Opportunities. The causes and effects of illegal drug abuse must be discussed in a culturally appropriate and structured setting. As a grantee, you may use contractors or subgrantees (in accordance with 24 CFR 85.36) to provide such knowledge and skills through training programs. The professionals contracted to provide these services are required to base their services on your needs assessment and program plan. These educational opportunities may be a part of resident meetings, youth activities, or other gatherings of tribal housing residents.

(ii) Family and Other Support Services. “Supportive services” are services that allow families to have access to prevention, educational and employment opportunities. Supportive services may include: child care, employment training, computer skills training, remedial education, drug abuse counseling, help in getting a high school equivalency certificate, and other services to reduce drug-related crime.

(iii) Youth Services. Proposed youth prevention programs must demonstrate that they have included groups composed of young people ages 8 through 18. Your youth prevention activities should be coordinated by adults but have tribal youth actively involved in organizing youth leadership, sports, recreational, cultural and other activities. Eligible youth services may include: youth sports, youth leadership skills training, cultural and recreational activities/camps, youth entrepreneurship, negotiation and mediation/peacemaking, and cross-cultural communication. These youth services provide an alternative to drugs and drug-related criminal activity for Native American youth. Youth leadership skills training may include training in leadership, peer pressure reversal, resistance or refusal skills, life skills, goal planning, parenting skills, youth entrepreneurship, negotiation and mediation/peacemaking, and cross-cultural communication and other relevant topics. Youth leadership training should be designed to place youth in leadership roles including: mentors to younger program participants, assistant coaches, managers, and team captains. Cultural and recreational activities may include ethnic heritage classes, art, dance, drama and music appreciation.

The following are eligible youth services expenses:

(1) Salaries and expenses for staff for youth sports programs and cultural activities and leadership training;

(2) Sports and recreation equipment to be used by participants;

(3) Funding for non-profit subgrantees that provide scheduled organized sports competitions, cultural, educational, recreational or other activities, including but not limited to: United National Indian Tribal Youth, Inc. (UNITY), Wings of America, Native America Sports Council, Boys and Girls Clubs of America, Girl Scouts of America, First Tee Program, YMCAs, YWCAs, the Inner City Games, Association of Midnight Basketball Leagues, and Big Brothers and Big Sisters of America.

(4) Liability insurance costs for youth sports activities.

(iv) Economic and Educational Opportunities for Resident Adult and Youth. Your proposed economic and educational activities must provide residents opportunities for interaction with, or referral to, established higher education, vocational institutions and/or private sector businesses in the immediate surrounding communities with the goal of developing or building on the residents' skills to pursue educational, vocational and economic goals and become self-sufficient.

You should discuss your economic and educational opportunities for residents and youth activities in the context of “welfare to work” and related Federal, tribal, state and local government efforts for employment training, education and employment opportunities related to the goals of “welfare to work.” Establishing or referring adults and youths to computer learning centers, employment service centers (coordinated with Federal, tribal, state and local employment offices), and micro-business centers are eligible activities. Funding is permitted for the purchase or lease of house trailers if they are used for the activities listed above and as specified in Section III.C(1)(a)(ii) of this NOFA.

Limited educational scholarships are permitted under this section. For the purpose of this IHDEP NOFA, educational scholarships will be defined as merit-based financial assistance for high-school and college students who have demonstrated a need for financial assistance and academic excellence. No one individual award may exceed $500, and there is a total maximum scholarship program cap of $10,000. Educational scholarship IHDEP funds must be obligated and expended during the term of your IHDEP grant which is (24) twenty-four months. You must demonstrate in your plan a timetable, the strategy or method for awarding scholarships to students, and, the financial/management controls that will be used and projected outcomes.

In addition, section 3 of the Housing and Urban Development Act of 1968, 12 U.S.C. 1701u is applicable to many of the activities eligible under this NOFA. Therefore, to the greatest extent feasible, training, employment and other economic opportunities that you develop must be directed to (1) low- and very low-income persons and (2) business concerns which provide economic opportunities to low- and very low- income persons. For more information about section 3, see Section II(E) of the General Section of the SuperNOFA or HUD's section 3 implementing regulations at 24 CFR Part 135.

(f) Intervention. The aim of intervention is to identify or detect residents with substance abuse issues, assist them in modifying their behavior, getting early treatment, and obtaining structured aftercare.

(g) Drug Abuse/Dependency Treatment.

(1) Treatment funded under this program should be “in and around” the premises of the affordable housing development(s) you proposed for funding. In undertaking drug abuse/dependency treatment programs, you must establish a confidentiality policy regarding medical and disability related information.

(i) Funds awarded for drug abuse/dependency treatment must be targeted towards developing and implementing, or expanding and improving sobriety maintenance, drug-free maintenance support groups, drug abuse counseling, referral treatment services, and short- or long-range structured aftercare for residents.

(ii) Your proposed drug program must address the following goals for residents:

(1) Increasing accessibility of treatment services;

(2) Decreasing drug-related crime “in and around” your affordable housing development(s) by reducing and/or eliminating drug use; and

(3) Providing services designed for youth and/or adult drug abusers and recovering addicts (e.g., prenatal and postpartum care, specialized family and parental counseling, parenting classes, domestic or youth violence counseling).

(iii) You must discuss in your overall strategy the following factors:

(1) Formal referral arrangements to other treatment programs in cases where the resident is able to obtain treatment costs from sources other than this program.

(2) Family/youth counseling.

(3) Linkages to educational and vocational training and employment counseling.

(4) Coordination of services from and to appropriate local drug abuse/treatment agencies, HIV-related service agencies, and mental and public health programs.

(iv) As applicable, you must demonstrate a working partnership with the Single State Agency or local, tribal or state license provider or authority with substance abuse program(s) coordination responsibilities to coordinate, develop and implement your drug dependency treatment proposal.

(v) You must demonstrate that counselors (contractual or otherwise) meet Federal, state, tribal, and local government licensing, bonding, training, certification and continuing training re-certification requirements.

(vi) You must get certification from the Single state Agency or tribal agency with drug abuse and dependency programs coordination responsibilities so that your proposed program is consistent with the tribal plan; and that the service(s) meets all Federal, state, tribal and local government medical licensing, training, bonding, and certification requirements.

(vii) Funding is permitted for drug treatment of tribal residents at local in-patient medical treatment programs and facilities. IHDEP funding for structured in-patient drug treatment using IHDEP funds is limited to 60 days, and structured drug out-patient treatment, which includes individual/family aftercare, is limited to 6 months. If you are undertaking drug treatment programs, your proposal must demonstrate how individuals who complete drug treatment will be provided employment training, education and employment opportunities.

(viii) Funding is permitted for detoxification procedures designed to reduce or eliminate the short-term presence of toxic substances in the body tissues of a patient.

(ix) Funding is not permitted for maintenance drug programs. Maintenance drugs are medications that are prescribed regularly for a short/long period of supportive therapy (e.g. methadone maintenance), rather than for immediate control of a disorder.

(3) Resident Management Corporations (RMCs) and Resident Organizations (ROs) Programs. RMCs, and incorporated ROs, may be a subcontractor to their tribe/TDHE, to develop security and drug abuse prevention programs for residents. Such programs may include voluntary tenant patrol activities, drug abuse education, intervention, and referral programs, youth programs, and outreach efforts. The elimination of drug-related crime within the tribal community must have the active involvement and commitment of tribal residents and their organizations.

To enhance the ability of tribes/TDHEs, to combat drug-related crime within their developments, RMCs, and ROs may undertake program management functions as subcontractors. Sub-contracts with the RMC/RO must comply with the requirements of 24 CFR 85.36 and 37 and include the amount of funding, applicable terms, conditions, financial controls, payment mechanism schedule, performance and financial report requirements, special conditions, including sanctions for violating the agreement, and monitoring requirements. Costs must not be incurred by the RMC or RO until a written contract is executed.

(4) Employment of Security Personnel. You may employ security personnel to provide services in and around your affordable housing developments. Contracts for security personnel must be awarded on a competitive basis. Security personnel must perform services that are over and above those usually performed by local municipal law enforcement agencies on a routine basis. Eligible services may include patrolling inside buildings, providing personnel services at building entrances to check for proper identification or patrolling and checking car parking lots for appropriate parking decals. You are encouraged to involve police officials residing in tribal housing to partake in IHDEP security-related programs. The following specific requirements apply to all employment of security personnel activities funded under IHDEP:

(a) Compliance. Security guard personnel must demonstrate compliance with all relevant Federal, state, tribal or local government insurance, licensing, certification, training, bonding, or other law enforcement requirements.

(b) Law Enforcement Service Agreement. You (the applicant), the local law enforcement agency, and if relevant, the contract provider of security personnel services, must enter into a law enforcement service agreement with the local law enforcement agency. Your service agreement must be submitted with your IHDEP application and include:

(i) The activities security guard personnel will perform; the scope of authority; written policies, procedures, and practices that will govern security personnel performance (i.e., a policy manual and how security guard personnel will coordinate activities with your local law enforcement agency);

(ii) The types of activities that your approved security guard personnel are expressly prohibited from undertaking.

(c) Policy Manual. Security guard personnel services must be guided by a policy manual that directs the activities of its personnel and contains the policies, procedures, and general orders that regulate conduct and describes in detail how jobs are to be performed. The policy manual must exist before you undertake this activity.

(d) Data Management. A daily activity and incident complaint form approved by the tribe/TDHE must be used by security personnel and officers for the collection and analysis of criminal incidents and responses to service calls. Security guard personnel and tribal police departments must establish and maintain a system of records management for the daily activity and incident complaint forms that appropriately ensures the confidentially of personal criminal information. Management Information Systems (MIS) (computers, software, and associated equipment) are eligible costs that the tribe/TDHE may include in support of collection and analysis activities.

(e) Employment of Residents. HUD encourages you to employ qualified resident(s) as security guard personnel, and/or to contract with security guard personnel firms that demonstrate a program to employ qualified residents as security guard personnel.

(5) Reimbursement of Local Law Enforcement Agencies for Additional Security and Protective Services (Supplemental—Over and Above Local Law Enforcement Baseline Services). Additional security and protective services are permitted if services are over and above the local police department's current level of baseline services. Tribes/TDHEs are required to identify the level of local law enforcement services they are required to received and the increased level of services to be received in their local Cooperation Agreement. Local police department baseline services are defined as ordinary and routine services, including patrols, police officer responses to 911 communications and other calls for service, and investigative follow-up of criminal activity, provided to residents as a part of the overall deployment of police resources by the local jurisdiction in which the tribe/TDHE is located.

(a) If you are an applicant seeking funding for this activity, you must describe the current level of local law enforcement agency baseline services being provided to the affordable housing development(s) proposed for assistance. Local law enforcement baseline services are defined as ordinary and routine services provided to the residents as part of the overall city and/or county wide deployment of police resources to respond to crime and other public safety incidents including: 911 communications, processing calls for service, routine patrol officer responses to calls for service and investigative follow-up of criminal activity.

(b) Tribal police departments funded under this program that are not employing a community policing concept but would like to establish such a program for affordable housing developments must submit a plan and timetable for the implementation of community policing. Community policing has a variety of definitions; however, for the purposes of this program, it is defined as a method of providing law enforcement services that stresses a partnership among residents, police, schools, churches, government services, the private sector and other local, state, tribal and Federal law enforcement agencies to prevent crime and improve the quality of life by addressing the conditions and problems that lead to crime and fear of crime. Community policing uses proactive measures including foot patrols, bicycle patrols and motor scooter patrols. It also includes activities where police officers operate out of police mini-stations and other community based facilities in tribal communities providing human resource activities with youth and citizen contacts. This concept empowers police officers at the beat and zone level and residents in neighborhoods to: reduce crime and fear of crime; ensure the maintenance of order; provide referrals of residents, victims and homeless persons to social services and government agencies; ensure feedback of police actions to victims of crime; and promote a law enforcement value system based on the needs and rights of residents.

(6) Employment of Investigators. Employment of, and equipment for, one or more individuals to investigate drug-related crime “in and around” the real property comprising your affordable housing development(s) for which the application is submitted and providing evidence relating to such crime in any administrative or judicial proceedings is permitted. Under this section, reimbursable costs associated with the investigation of drug-related crimes (e.g., travel directly related to the investigator's activities, or costs associated with the investigator's testimony at judicial or administrative proceedings) may only be those directly incurred by the investigator.

(a) If you are a tribe/TDHE that employs investigators funded by this program, you must demonstrate compliance with all relevant Federal, tribal, state or local government insurance, licensing, certification, training, bonding, or other similar law enforcement requirements.

(b) Both you and the provider of the investigative services are required to execute a written agreement that describes the following:

(i) The activities that your investigators will perform, their scope of authority, reports to be completed, established investigative policies, procedures, and practices that will govern their performance (i.e., a Policy Manual) and how your investigators will coordinate their activities with local, state, tribal, and Federal law enforcement agencies; and prohibited activities.

(ii) The activities the tribal investigators are expressly prohibited from undertaking.

(c) Your investigator(s) may use IHDEP funds to purchase or lease any law enforcement clothing or equipment, such as uniforms, ammunition, firearms/weapons, or vehicles; including cars, vans, buses, protective vests, and any other supportive equipment.

(d) Your investigator(s) shall report on drug-related crime in your developments. You must establish, implement and maintain a system of records management that ensures confidentiality of criminal records and information. Tribal-approved activity forms must be used for collection, analysis and reporting of activities by your investigators. You are encouraged to develop and use Management Information Systems (MIS) (computers, software, hardware, and associated equipment) and hire management personnel for crime and workload reporting in support of your crime prevention and security activities.

(7) Voluntary Tenant Patrols. Members of tenant patrols must be volunteers and must be residents of the affordable housing development(s). Volunteers must have extensive background investigations to ensure there are no outstanding warrants or arrest records for past crimes, especially crimes against children. Voluntary tenant patrols are expected to patrol in and around your affordable housing development(s) proposed for assistance, and to report illegal activities to appropriate local, state, tribal, and Federal law enforcement agencies, as appropriate.

(a) Training equipment, including uniforms for use by voluntary tenant patrols acting in cooperation with officials of local law enforcement agencies is permitted. All costs must be reasonable, necessary and justified. Bicycles, motor scooters, all-season uniforms, communications equipment and associated equipment to be used, exclusively, by the members of your voluntary tenant patrol are eligible items. Voluntary tenant patrol uniforms and equipment must be identified with your specific tribal development(s) identification and markings.

(b) Tribes/TDHEs are required to obtain liability insurance to protect themselves and the members of the voluntary tenant patrol against potential liability for the activities of the patrol under this program. The cost of this insurance is eligible.

(c) Before expending grant funds for voluntary tenant patrol activities, you, your local law enforcement agency, and the tenant patrol are required to execute a written agreement that includes:

(i) The nature of the activities to be performed by your voluntary tenant patrol, the patrol's scope of authority, assignment, policies, procedures, and practices that will govern the voluntary tenant patrol's performance and how the patrol will coordinate its activities with the law enforcement agency;

(ii) The activities the voluntary tenant patrol is expressly prohibited from undertaking including the carrying or use of firearms, weapons, nightsticks, clubs, handcuffs, or mace;

(iii) Required initial and on-going voluntary tenant patrol training members will receive from the local law enforcement agency; (please note that training by HUD-approved trainers and/or the local law enforcement agency is required before putting a voluntary tenant patrol into effect); and

(iv) That voluntary tenant patrol members will be subject to individual or collective liability for any actions undertaken outside the scope of their authority (described in paragraph (ii) above) and that such acts are not covered under your housing authority liability insurance.

(d) IHDEP grant funds must not be used for any type of financial compensation, such as full-time wages or salaries for voluntary tenant and/or patrol participants. Funding for tribe/TDHE personnel or resident(s) to be hired to coordinate this activity is permitted. Excessive staffing is not permitted.

(D) Ineligible Activities. IHDEP funding is not permitted for any of the activities listed below.

(1) Costs incurred before the effective date of your grant agreement (Form HUD-1044), including, but not limited to, consultant fees related to the development of your application or the actual writing of your application.

(2) The purchase of controlled substances for any purpose. Controlled substance shall have the meaning provided in section 102 of the Controlled Substance Act (21 U.S.C. 802).

(3) Compensation of informants, including confidential informants. These should be part of the baseline services provided and budgeted by local law enforcement agencies.

(4) Direct purchase or lease of clothing or equipment, vehicles (including cars, vans, and buses), uniforms, ammunition, firearms/weapons, protective vests, and any other supportive equipment for use in law enforcement or military enforcement except for eligible tribal police department, voluntary tenant patrols and investigator activities listed in this NOFA.

(5) Construction of facility space in a building or unit, and the costs of retrofitting/modifying existing buildings owned by the tribe/TDHE for purposes other than: community policing mini-station operations, adult/youth education, employment training facilities, and drug abuse treatment activities.

(6) Organized fund raising, advertising, financial campaigns, endowment drives, solicitation of gifts and bequests, rallies, marches, community celebrations, stipends and similar expenses.

(7) Court costs and attorneys fees related to screening or evicting residents for drug-related crime.

(8) Transfer of IHDEP grant funds to any Federal agency.

(9) Costs to establish resident associations, resident organizations, and resident corporations.

(10) Indirect costs.

(11) The supplanting of existing positions/activities. For purposes of the IHDEP, supplanting is defined as “taking the place of or to supersede”.

(12) Alcohol-exclusive activities and programs are not eligible for funding under this NOFA, although activities and programs may address situations of multiple abuse involving controlled substances and alcohol.

(13) Physical improvements that involve demolishing any units in a development or that would displace persons.

(14) Acquiring real property.

IV. Program Requirements

The following requirements apply to IHDEP funding:

(A) Grant Award Amounts. HUD is distributing grant funds for the IHDEP under this NOFA on a national competition basis. The maximum grant award amounts are computed for IHDEP on a sliding scale, using an overall maximum cap, depending upon the number of tribe/TDHE units eligible for funding. This figure (number of eligible units for funding) will determine the grant amount that the tribe/TDHE is eligible to receive if they meet the IHDEP criteria and score a minimum of 70 out of 100 points.

(1) Amount per unit. (a) For tribes/TDHEs with 1-1,250 units: The maximum grant award cap is $300 multiplied by the number of eligible units. (b) For tribes/TDHEs with 1,251 or more units: The maximum grant award cap is $260 multiplied by the number of eligible units; up to, but not to exceed, a maximum grant award of $1.5 million dollars.

(2) Units counted. (a) The unit count includes rental, Turnkey III and Mutual Help Homeownership units which have not been conveyed to a homebuyer, and Section 23 lease housing bond-financed projects. Such units must be counted as Formula Current Assisted Stock under the Indian Housing Block Grant Program for FY 2001.

(b) Eligible units are those units which are under management and fully developed.

(c) Use the number of units counted as Formula Current Assisted Stock for Fiscal Year 2001 as defined in 24 CFR 1000.316 and which is included in the FY 2001 IHDEP application kit. Please verify your Formula Current Assisted Stock figures with your local AONAP for accuracy.

(d) Affordable housing units that are developed or assisted under NAHASDA are not included in the unit count outlined above, however, they are eligible to receive assistance under the IHDEP.

(e) If it is determined that the unit count listed in your application is incorrect compared to the unit count listed in the application kit and your application is eligible for funding, you will be awarded the funding amount for which you are eligible based on the FCAS list or the amount requested in your application, whichever is less.

(B) Complying with Civil Rights Requirements. To protect and insure the civil rights of occupants of HUD-sponsored housing and residents around that housing, your proposed strategies should ensure that you do not undertake crime-fighting and drug prevention activities that violate civil rights and fair housing statutes. You may not use race, color, sex, religion, national origin, disability or familial status to profile persons as suspects or otherwise target them in conducting these activities. You are encouraged to involve as many segments of your intended population as possible in developing and implementing your strategies.

(C) Confidentiality of Records Requirements. You must establish a confidentiality policy regarding medical and disability-related information for programs involving prevention, intervention, or drug abuse/dependency treatment and aftercare.

(D) Term of Grant. Your grant funds must be expended within 24 months after HUD executes a Grant Agreement. The AONAP may grant a one-time extension of 6 months at the end of the grant term in accordance with the requirements of HUD Handbook 7490.1. However, if no extension is requested and granted and the grants funds are not expended within 24 months after execution of the Grant Agreement, the funds will be recaptured by the Department.

(E) Reports and Close-out. (1) In accordance with 24 CFR 761.35, if funded, you are required to submit semi-annually an IHDEP Semi-Annual Performance Report and the Semi-Annual Financial Status Report (SF-269A) to the appropriate HUD AONAP. These IHDEP Semi-Annual Performance Reports shall cover the periods ending June 30 and December 31, and must be submitted to HUD by July 30 and January 31 of each year. The grantee must also comply with additional reporting requirements to be outlined in the near future which will include an annual survey of residents and additional supporting documentation for the semi-annual report including the close-out report.

(2) At grant completion, you must comply with the close-out requirements described in Public Housing Notice PIH 98-60(HA), entitled “Grant Close-out Procedures,” and by the end of the grant term, return unexpended grant funds to the Department, according to applicable requirements.

(F) Federal Labor Standards. When grant funds are used to undertake physical improvements to increase security, Federal Labor standards set out in 24 CFR 761.40 apply.

V. Application Selection Process

(A) Rating and Ranking.

General. HUD will rate and rank applications based on the 5 rating factors listed in Section V.(B) of this NOFA, below. HUD will select and fund the highest ranking applications based on total score, and will continue the process until all funds allocated to it have been awarded or to the point where there are insufficient acceptable applications to award funds. The maximum number of points for this program is 100.

Tiebreakers. In the event of a tie, HUD will select the highest ranking application that can be fully funded. In the event that two eligible applications receive the same score, and both cannot be funded because of insufficient funds, the applicant with the highest score in rating factor two will be funded. If rating factor two is scored identically, the scores in rating factors one and four will be compared in that order, until one of the applications receives a higher score. If both applications still score the same then the application which requests the least funding will be selected in order to promote the more efficient use of resources.

Pre-award requirements. If there are technical deficiencies in successful applications, you must satisfactorily address these deficiencies before we can make a grant award. Please see Section VIII. Correction of Technical Deficiencies of this NOFA for a definition of such a deficiency and a description of the process to address and correct the deficiency. You must correct all technical deficiencies within the time frame established by HUD. If they are not corrected, we will not make the grant award and will reject your application.

(B) Factors For Award to Evaluate and Rank Applications. Your application must address the five (5) factors, and sub-factors listed below. If your application does not address each of the five factors and sub-factors, it will not be scored and will be considered ineligible for funding. The maximum number of points for this program is 100. Your application must receive a score of at least 70 points to be eligible for funding.

Rating Factor 1: Capacity of the Applicant and Relevant Organizational Experience (30 Points)

This factor addresses the extent to which you have the capacity, the proper organizational experience and resources to implement the proposed activities in a timely and effective manner. The rating of the “applicant” or the “applicant's organization and staff” for technical merit, unless otherwise specified, includes any subcontractors, consultants, sub-recipients, and members of consortia which are firmly committed to your project. Your application must include descriptive evidence demonstrating that you possess managerial, technical and/or administrative capability necessary to carry out the proposed project. Your application must address who will administer the project and how you plan to handle all aspects of executing the project. Your application must describe the experience and expertise of existing staff in the implementation of the specific activity for which you are applying and what responsibilities they will have in project implementation, as well as those aspects of project implementation that will be contracted to outside entities. If any subcontractors, consultants, sub-recipients and/or members of consortia are used, your application must demonstrate that the entity is firmly committed to the project. If applicable, past performance in administering previous IHDEP grants will be taken into consideration. In rating this factor, HUD will consider the following:

(15 points) The knowledge and experience of your staff and your administrative capability to manage grants of this size and type. This includes your administrative support and procurement entities, defined organizational lines of authority, and demonstrated fiscal management capacity.

(15 points) Past performance in administering Drug Elimination grants during the last three (3) years. If you do not have any open IHDEP grants, then you will receive 15 points under this sub-factor unless there are unresolved findings and/or outstanding recommendations from prior HUD reviews or audits undertaken by HUD, the Office of Inspector General, the General Accounting Office or independent public accountants. The extent of any findings or recommendations will then be considered. If you have an open IHDEP grant from FY 1998 or a prior year, you will receive 0 points for this sub-factor.

For tribes/TDHEs that had previously applied as IHAs under the Drug Elimination Program, HUD will consider any open grants for which the tribe/TDHE has the responsibility to administer.

Rating Factor 2: Need/Extent of the Problem (25 Points)

This factor examines the extent to which there is a need for funding the proposed program activities to address a documented problem in your proposed target area (i.e., the degree of the severity of the drug-related crime problem in the project proposed for funding). In responding to this factor, you will be evaluated on: (1) The extent to which a critical level of need for your proposed activities is explained; and (2) the urgency of meeting the need in the target area. You must include in your response a description of the extent and nature of drug-related crime “in or around” the housing units or developments proposed for funding.

Applicants will be evaluated on the following:

(1) (15 Points) Data Supporting the extent of Drug and Drug-related Crime. You must identify and include supporting data indicating the extent of drugs and drug-related crime problems in the developments proposed for assistance under your program. HUD will consider the extent and quality of the data provided. Examples of the data that should be included in your application include:

(a) Surveys of residents and staff in your targeted developments about drugs and drug-related crime or on-site reviews to determine drug/crime activity;

(b) Government or scholarly studies or other research in the past year that analyze drug-related crime activity in your targeted developments.

(c) Annual vandalism cost at your targeted developments, to include elevator vandalism (where appropriate) and other vandalism attributable to drug-related crime as a ratio to total annual approved budget for the targeted developments.

(d) Information from schools, health service providers, residents and Federal, state, local, and tribal officials, and the verifiable opinions and observations of individuals having direct knowledge of drug-related crime and the nature and frequency of these problems in developments proposed for assistance. (These individuals may include Federal, state, tribal, and local government law enforcement officials, resident or community leaders, school officials, community medical officials, drug abuse, treatment (dependency/remission) or counseling professionals, or other social service providers).

(e) The school dropout rate and level of absenteeism for youth that you can relate to drug-related crime as a percentage or ratio of the rate outside the area.

(f) The number of lease terminations or evictions for drug-related crime at the targeted developments; and

(g) The number of emergency room admissions for drug use or that result from drug-related crime. Such information may be obtained from police departments and/or fire departments, emergency medical service agencies and hospitals.

(h) The number of police calls for service from tribe/TDHE developments that include resident initiated calls, officer-initiated calls, domestic violence calls, drug distribution complaints, found drug paraphernalia, gang activity, graffiti that reflects drugs or gang-related activity, vandalism, drug arrests, and abandoned vehicles.

(2) (10 points) Objective Crime Data relevant to your target area. To the extent that you can provide objective drug-related crime data specific to the community or targeted development proposed for funding, you will be awarded up to 10 points or up to a total of 5 points if substantial information is provided as to why Objective Crime Data could not be obtained. Objective Crime Data must include the most current and specific local law enforcement crime statistics or Part I Crime data and relevant Part II Crime data available from the FBI's Uniform Crime Reporting Program (UCR) system. Part I Crimes include: homicide; rape; robbery; aggravated assault; burglary; larceny; auto theft; and arson. Part II drug-related crimes include: drug abuse violations; simple assault; vandalism; and weapons violations. You may also detail other crimes which you are proposing to be targeted as part of your grant. In assessing this sub-factor, HUD will consider the extent to which you provide specific statistical data (records, not anecdotes) and the data's specificity to the targeted sites (e.g., data specific to those targeted developments proposed for funding by crime type versus tribal/TDHE-community or county-wide data by aggregated crimes).

The objective crime data provided in your application will become a “baseline” tracking future changes in your crime rate.

If you did not provide objective crime data, please provide information as to why objective crime data could not be obtained; the efforts being made to obtain it; what efforts will be made during the grant period to begin obtaining the data; and an explanation of how you plan to measure how grant activities will result in reducing drug-related crime in the targeted developments and what will be used as a baseline.

Rating Factor 3: Soundness of Approach—(Quality of the Plan) (25 Points)

This factor examines the quality and effectiveness of your proposed work plan. In rating this factor, HUD will consider the impact of your activities on the drug and drug-related crime problems identified in Factor 2, as appropriate, and the extent to which you identify attainable goals, objectives, and performance measures to ensure that tangible benefits can be attained by the community and by your target population.

Your application must include a detailed narrative describing: each proposed activity for your developments proposed for assistance; the amount and extent of resources committed to each activity or service proposed; measurable goals and objectives for all major program activities that focus on outcome and results; and the process used to collect the data needed to report progress made against these goals.

In evaluating this factor, HUD will consider the following:

(1) (5 points) The strength of your plan to address the drug-related crime problem, and the problems associated with drug-related crime in your developments proposed for funding, the resources allocated, and how well the proposed activities fit with the plan: The rationale for your proposed activities and methods used including written, descriptive evidence that proposed activities have been effective in similar circumstances in controlling drug-related crime in your community.

(2) The extent to which you have:

(a) (5 points) Stated performance goals that will measure program outcomes and designed your major activities to meet stated, measurable goals and objectives for drug and drug-related crime reduction. Outcomes include accomplishments, results, impact and the ultimate effects of your program on the drug or crime problem in your target/project area. The goals must be objective, quantifiable, and/or qualitative and they must be stated in such a way that at the end of the 24 month grant, one can determine if the activities were effective. Specific crime reduction goals must be measurable. For example, “eliminating or reducing crime and drug-related crime” is not a specific nor measurable goal, whereas a goal of “reducing inhalant sniffing etc. by 5% in development X by the end of the 24 month grant period based on measurements against the baseline year crime selection rate in the targeted development X as stated in the application” is specific and measurable.

(b) (5 points) Provided the actual baseline data which will establish a starting point against which program outcomes will be measured and stated expected results for all major grant activities proposed in your application. For example: “The total population in community X is 1,400, we have 400 family units, 80% of the residents are under 18 years of age, total drug arrests is 23, there is still a lot of violence in our community and we want more programs to give youth positive influences. We conducted a resident survey in 1999 and 100 residents responded. Approximately 75% of the residents had the following concerns * * *”

(c) (5 points) Discussed what performance measurement system exists for providing information to HUD semi-annually on progress made in achieving the established outcome goals. For example: “Unit of measure: Number of youth participants with a 2.0 through a 2.9 grade-point average (GPA). Community X met with residents to establish a mentoring/tutoring program to assist youth. The following performance indicators/outcomes measures was developed: 90% of participants maintain a C average. The following types of records were maintained during the course of the year: compilation of all GPAs for all participants, semi-annual summary of GPAs for each participant based on school report cards, monthly reports which included number of mentor/tutor hours, number of participants for each session, and pre-post test results for each participant.”

(3) (5 points) Provide evidence of existing youth programs and activities in your community that reduce drug abuse among youth, aftercare services for youth involved in the juvenile justice system, social services for children with emotional and behavioral problems, programs to reduce delinquency and gang participation, programs that improve academic performance and reduce the dropout rate through the use of mentors, drug and alcohol education activities, conflict resolution and counseling sessions/programs that have been implemented.

Rating Factor 4: Leveraging Resources (10 Points)

This factor addresses your ability to secure community and government resources that can be combined with HUD's program resources to achieve program purposes.

In assessing this factor, HUD will consider the following:

(1) (5 points) Written evidence of firm commitment of funding, staff, or in-kind resources, partnership agreements, and on-going or planned cooperative efforts with law enforcement agencies, local, state, tribal or national entities who have committed services through a memoranda of understanding (MOU), or memorandum of agreements (MOA) to participate. Such commitments must be signed by an official of the organization legally able to make commitments for the organization. This evidence of commitment must include organization name, resources, and responsibilities of each participant to increase the effectiveness of the proposed program activities. The signed, written agreement may be contingent upon an applicant receiving a grant award. Commitments can include interagency activities already undertaken, participation in local, state, tribal or Federal anti-drug related crime efforts such as: education, training and employment provision components of Welfare Reform efforts which may include descriptions of tribal TANF plans and participation in Native Employment Works (NEW) program, or any of the following programs administered by the Department of Justice such as Operation Weed and Seed, Community Oriented Policing Services Tribal Resources Grant Program (COPS), Indian Tribal Courts, Drug-Free Communities Support Program, Tribal Youth Program, Safe Start Initiative, STOP Violence Against Indian Women Discretionary Grants and Mental Health and Juvenile Justice Program.

(2) (5 points) Successful coordination of your law enforcement, or other activities with local, state, Tribal or Federal law enforcement agencies to foster meaningful collaborations and strengthen community anti-drug coalition efforts to reduce drug abuse among youth and adults and actions implemented to eradicate violent crime.

Letters from various agencies supporting the submission of your IHDEP application do not constitute a letter for firm commitment. Firm commitment must be demonstrated by these agencies with exact details of the partnership between the applicant and the agency and/or provides a commitment that specifically states the amount of funding, number of staff committed and their roles and responsibilities and a description of in-kind resources available for this project.

Rating Factor 5: Comprehensiveness and Coordination (10 Points)

This factor addresses the extent to which you have coordinated your activities with other known organizations and are working towards addressing a need in a holistic and comprehensive manner through linkages with other activities in your community. In evaluating this factor, HUD will consider the extent to which you can demonstrate you have:

(1) (5 points) Coordinated your proposed activities with those of other groups or organizations prior to submission in order to best complement, support and address the needs of your community as identified in Rating Factor 2: Need/Extent of the Problem. Any firm written agreements, MOUs/MOAs in place, or that will be in place after award should be described and/or included.

(2) (2 points) Taken specific steps to become active in your community's Indian Housing Block Grant process by providing written evidence that you have addressed crime prevention and safety issues, and that your proposed activities reflect the priorities, needs, goals or objectives of crime prevention and safety in the Indian Housing Plan (IHP). Written evidence could include a copy of your tribe's Crime Prevention and Safety Plan that is included in your Indian Housing Plan (IHP) or a written statement or letter from the tribal official stating that the FY 2001 crime prevention and safety activities will be implemented in coordination with activities outlined in the IHP.

(3) (1 point) Taken specific steps to develop linkages to coordinate comprehensive solutions through meetings, information networks, planning processes or other mechanisms with:

(a) Other HUD-funded projects/activities outside the scope of those covered by the IHP; and other Federal, state, tribal, or locally funded activities, including those proposed, or on-going that will sustain a comprehensive system to address the needs of your community.

(4) (1 point) Your application must describe what role residents in your targeted developments, applicable community leaders and organizations and law enforcement agencies have had in planning the activities described in your application, what role they will have in implementing such activities for the duration of your grant and how services may be sustained beyond the grant term.

(5) (1 point) Your application must include a discussion and written evidence (i.e. comments from residents, minutes from community meetings) of the extent to which community representatives and tribal, local, state and Federal Government officials, including law enforcement agency officials were actively involved in the design and implementation of your plan and will continue to be involved in implementing such activities during and after the period of your IHDEP funding.

VI. Application Submission Requirements

(A) You must submit the required IHDEP FY 2001 Application Kit that contains all of the requisite forms in order to be considered for IHDEP funding. Your application submitted to HUD must also include items required under Section V. Application Selection Process, of this NOFA, including the plan to address the problem of drug-related crime in the developments proposed for funding. Please note that the address for submitting applications has changed. Please see the Program Overview, Section I., regarding the address for submitting applications.

(B) You must submit no more than one application per tribe or TDHE on behalf of the tribe for the IHDEP. An application from a tribe will supersede an application from a TDHE on behalf of that tribe. In addition, joint applications that include more than one TDHE representing the tribe are permitted only in those cases where they have a single administration (such as a TDHE managing several tribes under contract or TDHEs sharing a common executive director). In those cases, a separate budget, plan and timetable, and unit count shall be supplied in the application. In addition, you must respond to the factors for award for each tribe/TDHE for which you are acting as administrator and requesting funds, if your responses would be different (e.g., the tribes are in different jurisdictions and, therefore, the Indian Housing Plans, crime data, etc. would all be different). The application kit includes the forms, certifications and assurances required under this NOFA.

(C) To be considered eligible for review and scoring, each IHDEP application must include the following items:

(1) An application cover letter.

(2) A summary of the proposed program activities in five (5) sentences or less on the Congressional Notification Form.

(3) A list of the sub-grantees, if applicable. The list must include the names of the sub-grantees, as well as the relative roles and contributions of each sub-grantee in implementing the IHDEP grant activities (Factor 1).

(4) An overall budget and timetable that includes separate budgets, goals, and timetables for each activity, and addresses milestones towards achieving each described goal. You must also describe the contributions and implementation responsibilities of each partner for each activity, goal, and milestone.

(5) A description of the number of staff, the titles, professional qualifications, and respective roles of the staff assigned full or part-time to grant implementation. (Factor 1)

(6) Lines of accountability (including an organization chart) for implementing the grant activity, coordinating the partnership, and assuring that the commitment made by you and your sub-grantees, if any, will be met. (Rating Factor 1)

(7) A list of open IHDEP grants, the grant amount and amount expended as of the date of this application.

(8) A narrative of the plan that will address the problem of drug-related crime in the developments proposed for funding. (Rating Factor 3)

(9) Narrative responses to each of the five Rating Factors and their sub-factors in this NOFA: (1) Capacity of the Applicant and relevant organizational Experience, (2) Need/Extent of the Problem, (3) Soundness of Approach, (4) Leveraging Resources and (5) Comprehensiveness and Coordination.

(10) You must also include the following forms which are included in the FY 2001 IHDEP Application Kit:

FY 2001 IHDEP Applicant Data Input Form,

Application Cover Letter,

Project Summary—Congressional Notification Information Sheet,

Implementation Schedule,

Standard Form—424, Application for Federal Assistance,

Form HUD 424—M, Federal Assistance Funding Matrix,

Standard Form—424A, Budget Information (non-construction programs),

Standard Form—424B, Assurances (non-construction programs),

FY 2001 IHDEP Summary Budget Information,

Form HUD-2880, Applicant/Recipient Disclosure/Update Report,

Form HUD-50070, Drug-Free Workplace Certification,

Form HUD-50071, Lobbying Certification,

SF-LLL Disclosure of Lobbying Activities Certification,

Form HUD-2992, Certification of Debarment and Suspension,

Certification of Consistency with the Indian Housing Plan, and

Certification of Resident Management Corporations, Resident Organizations and Residents Acknowledgment of Application Receipt.

VII. Clarifying Information

After the application due date, HUD may not, consistent with its regulations in 24 CFR part 4, subpart B, consider any unsolicited information you, the applicant, may want to provide. HUD may contact you, however, to clarify an item in your application. You should note, however, that HUD may not seek clarification of items or responses that improve the substantive quality of your response to any selection factors. HUD will make any requests for clarifying information in writing and will specify the item, or items, that need clarification and a time frame for response. Failure on your part to provide such requested information will result in the rejection of the application.

VIII. Correction of Technical Deficiencies

The General Section of the SuperNOFA provides the procedures for corrections to deficient applications. Additionally, please note that as indicated under Section V.(A)(3), only successful applicants will be required to address technical deficiencies and this must be done before we make a grant award. If you do not provide the information necessary to address the deficiency within the time allowed, we will not award you the grant and will reject your application. The AONAP will notify you in writing and will describe the technical deficiency, what must be done to correct it, and the date by which you must submit this information. The AONAP will notify you by facsimile or by return receipt requested. Your response must be submitted (postmarked) within 14 calendar days from the date of receipt of the HUD notification.

IX. Error and Appeals

Judgments made within the provisions of this NOFA and the program regulations (24 CFR 761) are not subject to claims of error. You may bring arithmetic errors in the rating and ranking of applications to the attention of the AONAP Administrator within 30 days of being informed of your score. If an arithmetic error was made in the application review and rating process that, when corrected, would result in the award of sufficient points to warrant the funding of an otherwise approvable project, the AONAP may fund that project in the next funding round without further competition.

X. Environmental Requirements

Certain eligible activities under this IHDEP NOFA are categorically excluded from review under the National Environmental Policy Act of 1969 (42 U.S.C. 4321) and are not subject to review under related laws, in accordance with 24 CFR 50.19(b)(4), (b)(12), or (b)(13). If the IHDEP application proposes the use of grant funds to assist any non-exempt activities, HUD will perform an environmental review to the extent required by 24 CFR part 50, prior to grant award.

XI. Authority

Chapter 2, Subtitle C, Title V of the Anti-Drug Abuse Act of 1988 (42 U.S.C. 11901 et seq.), as amended.

Appendix A—Required Forms and Certifications

The non-standard forms, which follow this checklist, are required for your application (the standards form follow the General Section).

BILLING CODE 4210-32-P

FUNDING AVAILABILITY FOR THE NEW APPROACH ANTI-DRUG PROGRAM PROGRAM OVERVIEW

Purpose of the Program. The purpose of the New Approach to Anti-Drug Program is to provide funding to owners of certain housing developments to: (1) augment security; (2) assist in the investigation and prosecution of drug-related criminal activity in and around the housing developments; and (3) provide for the development of capital improvements directly relating to enhancing the security of the developments. Through these grants, HUD is taking a comprehensive neighborhood/community-based approach to crime prevention.

Available Funds. Approximately $20 million.

Eligible Applicants. Eligible applicants include: units of general local government, public housing agencies (PHAs), Indian tribes or Tribally Designated Housing Entities (TDHEs), and owners of assisted housing developments. To be an eligible applicant, you must be (1) an owner of an assisted housing development, as defined in this program section of the SuperNOFA; (2) a unit of general local government that operates an assisted housing development; or (3) PHA, TDHE, or an Indian tribe that owns a development with project-based Section 8 assistance, as defined in the U.S. Housing Act of 1937, whose development is included in the proposed plan and is located in the “project area” targeted to receive grant funds.

Application Deadline. June 19, 2001.

Match. None.

Additional Information

If you are interested in applying for funding under this program, please review carefully the General Section of this SuperNOFA and the following additional information.

I. Application Due Date, Application Kits, Further Information, and Technical Assistance

Application Due Date. Your completed application (an original and two copies) is due on or before 6:00 pm, local time on June 19, 2001, at your local HUD Field Office.

See the General Section of this SuperNOFA for specific procedures governing the form of application submission (e.g., mailed applications, express mail, overnight delivery, or hand carried).

Address for Submitting Applications. Submit your completed application on or before the application deadline at the local HUD Field Office. Please address your application to the Director, Multifamily Housing Hub, Program Center in your local HUD Field Office or, in the case of the Native American population, to the local HUD Administrator, Area Offices of Native American Programs (AONAPs), as appropriate. See Appendix A to the Drug Elimination Grants for Multifamily Low Income Housing program section of the SuperNOFA and Appendix A to the General Section of the SuperNOFA for lists of local HUD Field Offices.

For Application Kits. For an application kit and any supplemental information, please call the SuperNOFA Information Center at 1-800-HUD-8929. When requesting an application kit, please refer to the New Approach Anti-Drug Program, and provide your name, address (including zip code) and telephone number (including area code). Persons with hearing or speech impairments may call the Center's TTY number at 1-800-HUD-2209. An application kit also will be available on the Internet through the HUD web site at http://www.HUD.gov.

For Further Information and Technical Assistance. Your local HUD Field Office staff will be able to answer your question(s) regarding this program section of the SuperNOFA and/or your application kit. If however, the Field staff is unable to answer your question(s), please contact Alicia Anderson, Program Analysts, Office of Housing Assistance and Grant Administration, U.S. Department of Housing and Urban Development, 451 Seventh Street, SW, Room 6146, Washington, DC 20410; (202) 708-2866, extension 5787 or email Alicia_Anderson@hud.gov. If you are hearing or speech impaired, you may access this number via TTY by calling the Federal information Relay Services at 1-800-877-8339.

Satellite Broadcast. HUD will hold an information broadcast via satellite for potential applicants to learn more about the program and preparation of the application. For more information about the date and time of the broadcast, you should consult the HUD web site at http://www.hud.gov.

II. Amount Allocated

(A) Available Funding. Approximately $20 million is available for funding under the New Approach Anti-Drug Program, as provided in the FY 2001 HUD Appropriations Act.

The fair share allocation formula used for this program is based on the number of project-based assisted housing units within each HUD Multifamily Hub Office as a percentage of the total number of project-based assisted housing units for the United States as a whole (including Puerto Rico, the Virgin Island, and the Pacific Islands).

Based on the aforementioned formula, the following chart details the New Approach to Anti-Drug Program grant funds fair share allocation to each of the 18 Multifamily Hubs:

Fiscal Year 2001 Fair Share Allocations for the New Approach to Anti-Drug Program
HUB | Grant authority
Boston | $1,426,069
Buffalo | 378,535
New York * | 1,793,623
Philadelphia | 1,886,327
Baltimore | 1,047,633
Greensboro | 754,938
Atlanta | 2,127,040
Jacksonville | 1,343,238
Chicago | 1,463,479
Columbus | 978,706
Detroit | 731,901
Minneapolis | 750,821
Fort Worth ** | 1,648,418
Kansas City | 1,076,022
Denver | 526,228
San Francisco | 936,294
Los Angeles | 629,490
Seattle | 501,238
Total | 20,000,000
* This amount includes Grant Authority of $27,000 to fund the New York Society for the Deaf.
** This amount includes Grant Authority of $51,032 to fund the Garden City Apartments. Since funding for both applicants were reduced in FY2000 due to HUD error, the applications will be funded from the FY2001 allocation to the applicable Hub.

(B) Maximum Grant Award. The maximum grant award amount is limited to $250,000 per application. The amount of funding requested must be within this maximum grant award.

(C) Reduction of Requested Grant Amounts. You may be awarded an amount less than requested if:

(1) HUD determines that some elements of the proposed action plan are ineligible for funding;

(2) HUD determines the amount requested for an eligible activity and/or any budget line item is not cost effective;

(3) Insufficient amounts remain under the allocation to fund the full amount you requested, and HUD determines that partial funding is a viable option; or

(4) HUD determines that a reduced grant would prevent duplicative Federal funding.

III. Program Description; Eligible Applicants; Eligible Activities

(A) Program Description

(1) Purpose. The purpose of these competitive grants is to assist entities managing or operating Federally assisted multifamily housing developments, Public and Indian housing developments (including those Indian housing units formerly defined as public housing under section 3 of the U.S. Housing Act of 1937 and now counted as current assisted stock under the Indian Housing Block Grant Program), or other multifamily-housing developments for low-income families supported by non-Federal governmental housing entities or similar housing developments supported by nonprofit private sources, to augment security (including personnel costs), in an effort to solve security problems in the long-term; assist in the investigation and/or prosecution of drug-related criminal activity in and around such developments; and provide for capital improvements that comprehensively enhance security at these developments.

Drug- and crime-fighting activities, if only directed to a single assisted housing development, may have the unfortunate effect of simply moving the problem to nearby housing and businesses. The long term solution to the crime problems of assisted housing developments and their surrounding neighborhoods rest in a comprehensive approach that changes the conditions—and the culture that exists. HUD believes that crime fighting efforts are most effective when partnering takes place with law-enforcement agencies at various levels and with a full range of community stakeholders (such as PHAs and TDHEs). Therefore, to address crime in a comprehensive manner to receive funding, you must take the following actions:

(a) Have a subgrantee or subrecipient relationship with the local police department and the local district attorney or prosecutor's office. If the local police department, local district attorney, or prosecutor's office does not have the legal authority to accept program funds or enter into a binding agreement with you, then you must provide funds through the unit of general local government—city or county.

(b) Enter into partnerships with the owners of, and resident organizations in, assisted housing developments that receive grant funds from you. Multifamily housing developments that may lack the ability to oversee grant functions may delegate this task to a public housing authority or TDHE by making them a “fiduciary agent”, by signed agreement, which must be part of the application.

(c) Encourage other neighborhood based entities to participate in your program of activities through partnership arrangements. Such entities are community residents; neighborhood businesses; and non-profit providers of support services, including faith-based organizations and their affiliates.

(2) Implementation Principles. HUD has established the following principles in implementing the New Approach Anti-Drug Program Grants:

(a) Comprehensive Approach. With these grants, HUD is taking a comprehensive neighborhood/community-based approach to crime. The long term solution to the crime problems of assisted housing developments and their surrounding neighborhoods rests in changing the conditions—and the culture that exists.

(b) Required Partnerships. You will be required to demonstrate that partnerships have been formed with units of general local government, the local police department, and the local district attorney or prosecutor's office. You must also form partnerships with the following entities, if they are to receive funding from you:

(i) Owners of assisted housing developments in the targeted neighborhood, and

(ii) Resident organizations of these assisted housing developments.

(c) Encouraging Partnerships. HUD encourages the use of effective working partnerships in new locations to leverage the many Federal resources that are available to eliminate crime in and around public and assisted housing developments through the Drug Elimination Grant, Operation Safe Home, and Weed and Seed programs; and partnering with the U.S. Attorney's Office, the Federal Bureau of Investigation, and the Drug Enforcement Agency. HUD now wishes to encourage these successful partnerships to address similar problems in and around privately-owned, Federally assisted housing. In addition to providing points for applications which have established these partnerships, HUD requires that at least one project in each targeted neighborhood be multifamily housing with either:

(i) A HUD-insured, held, or direct mortgage and Rental Assistance Payments (RAP), Rent Supplement, or interest reduction payments, or

(ii) Section 8 project-based assistance with or without HUD interest in the project mortgage.

This emphasis on HUD assisted privately-owned housing does not negate the eligibility of other low-income housing developments assisted by Federal, State, and local government, and not-for-profit sources to apply for the New Approach Anti-Drug Program. By awarding points for neighborhoods with high concentrations of assisted housing, HUD is encouraging you to address the needs of multiple assisted housing developments which may consist of a mix of ownership types and subsidy sources.

(d) Complying with Civil Rights Requirements. With the very real need to protect occupants of HUD-sponsored housing and the areas around the housing, the civil rights of all citizens must be protected. Your proposed strategies should be developed to ensure that crime-fighting and drug prevention activities are not undertaken in such a manner that civil rights or fair housing statutes are violated. Profiling on any prohibited basis is not allowed. In addition, all segments of the population should be represented in developing and implementing crime-fighting strategies.

(e) Coordination with Other Law Enforcement Efforts. In addition to working closely with residents and local governing bodies, it is critically important that owners establish ongoing working relationships with Federal, State, and local law enforcement agencies in their efforts to address crime and violence in and around their housing developments. HUD firmly believes that the war on crime and violence in assisted housing can only be won through the concerted and cooperative efforts of owners and law enforcement agencies working together in cooperation with residents and local governing bodies. HUD encourages owners to participate in Departmental and other Federal law enforcement agencies' programs such as: Operation Safe Home, Operation Weed and Seed through the Department of Justice and the Safe Neighborhood Action Program (SNAP). The use of New Approach Anti-Drug funds, however, must be part of a comprehensive approach. These funds may indirectly support other Federal law enforcement activities provided that use is consistent with the comprehensive approach.

(f) Safe Neighborhood Action Program (SNAP) Grants. (i) The New Approach Anti-Drug Program was formerly known as the Safe Neighborhood Action Program, announced June 12, 1994 by HUD, the National Assisted Housing Management Association (NAHMA), and the U.S. Conference of Mayors (USCM). The New Approach Anti-Drug Program was expanded from the SNAP Program to include funds to augment security; assist in the investigation and prosecution of drug related criminal activity in and around the housing developments; and provide for the development of capital improvements directly related to the security of the developments. SNAP is an anti-crime and empowerment strategies initiative in HUD assisted housing neighborhoods in 14 SNAP cities. The major thrust of SNAP is the formation of local partnerships in 14 targeted cities where ideas and resources from government, owners and managers of assisted housing, residents, service providers, law enforcement officials, and other community groups are used to meet to work on innovative, neighborhood anti-crime strategies.

(ii) There is no funding associated with SNAP, which relies on existing ideas and resources of the participants. Some common initiatives from these SNAP teams have included the following: community policing, crime watch programs, tenant selection policies, leadership training, individual development or job skills training, expansion of youth activities, police tip line or form, community centers, anti-gang initiatives, police training for security officers, environmental improvements, and a needs assessment survey to determine community needs.

(iii) In addition, a HUD-sponsored initiative to increase the presence of AmeriCorps' Volunteers in Service to America (VISTAs) in assisted housing units has led to the placement of 25 VISTAs on 12 SNAP teams. The AmeriCorps VISTA program, which incorporates a theme of working within the community to find solutions to community needs, has provided additional technical assistance to the SNAP teams.

(iv) The cities participating in the SNAP initiative include: Atlanta, GA; Boston, Mass; Denver, CO; Houston, TX; Newark, NJ; Philadelphia, PA; Baltimore, MD; Columbus, OH; Detroit, MI; Los Angeles, CA; New Orleans, LA; Little Rock and North Little Rock, AR; Richmond, VA; and Washington, DC.

(3) Definitions. Assisted Housing Development. For purposes of this program, the term “assisted housing development” means five or more dwelling units in a building or five or more adjoining, adjacent, or scattered site (within a single neighborhood) dwelling units, having common ownership and project identity. Some or all of the units must be receiving a project-based subsidy from a unit of government at the Federal, State, or local level, or from a private nonprofit entity. This subsidy must be associated with a requirement and/or contractual agreement that all or a portion of the units be occupied by households with incomes at or below those of families at the low-income limit as defined by the United States Housing Act of 1937.

Assisted Housing Unit. For purposes of this program, the term “assisted housing unit” means a unit within an assisted housing development for which occupancy is restricted to households with incomes at or below that of “low-income families” as defined by the U.S. Housing Act of 1937, and rents are restricted to amounts that the owner/operator entity determines to be affordable.

Augmented Services. For purposes of this program, augmented services are activities which exceed current levels of services or “baseline” services provided by any other parties signing the memorandum of understanding required for this program.

Drug-related crime. For purposes of this New Approach Anti-Drug Program, the term “drug-related crime” means drug-related crime as defined in 42 U.S.C. 11905(2) and Part I Crime and Part II Crime as defined by the Uniform Crime Reporting System.

Eligible project area. For purposes of the New Approach Anti-Drug Program, the term “neighborhood” means a geographic area within a jurisdiction of a unit of general local government designated in comprehensive plans, ordinances, or other local documents as a neighborhood, village, or similar geographical designation. If, however, the unit of general local government has a population of less than 25,000 persons, then “neighborhood” means the entire jurisdiction of the unit of general local government. A project area must include at least one assisted housing development under:

(i) Section 221(d)(3), section 221(d)(4), or section 236 of the National Housing Act (12 U.S.C. 1715l, 1715z-1), provided that such development has been provided a Below Market Interest Rate mortgage, interest reduction payments, or project-based assistance under Rent Supplement, Rental Assistance Payments (RAP) or Section 8 programs. An FHA-insured project that has no project-based subsidy does not qualify as an assisted housing unit for eligibility even if it houses tenants receiving tenant-based assistance, such as Section 8 rental vouchers or certificates.

(ii) Section 101 of the Housing and Urban Development Act of 1965 (12 U.S.C. 1701s); or

(iii) Section 8 of the United States Housing Act of 1937 (42 U.S.C. 1437f). This includes housing with project-based Section 8 assistance, whether or not the mortgage was insured by HUD-FHA. This does not include projects which receive only Section 8 tenant-based assistance (i.e., certificates or vouchers).

Project-based Subsidies. For purposes of this program, the term “project-based subsidies” means financial assistance that is initially designated and assigned by the funding source specifically for the project rather than to eligible assisted resident households who might also benefit from these subsidies, and provided on a one time up-front or on a periodic basis to the project or its owner to write down, subsidize, or waive project development costs, costs of financing, project operating costs (which include but are not limited to the following types of expenses: utilities, taxes, fees, maintenance and debt service payments), owner taxes, unit rent levels, or tenant rent payments.

(B) Eligible Applicants

(1) General. (a) Eligible applicants are as follows:

(i) The owner of an assisted housing development. See definition in Section III (A)(3) of this program section of the SuperNOFA. If you are a unit of general local government you do not need to be the owner, but must be the operator of such housing (A TDHE is not a unit of general local government.);

(ii) The owner of an assisted housing development that is assisted by a non-Federal governmental entity or similar housing development supported by nonprofit sources. If you are a unit of general local government, you do not need to be the owner, but must be the operator of such housing;

(iii) PHAs, TDHEs, and Indian tribes are eligible applicants if they own a development with project-based Section 8 assistance, as defined in the U.S. Housing Act of 1937, and that development is included in the proposed plan and is located in the “project area” targeted to receive grant funds. If you do not own such an assisted housing development, you may still participate in the New Approach Anti-Drug Program as a subgrantee or subrecipient of an eligible applicant; or

(b) The development that makes you eligible must be in the neighborhood to be assisted; and You may not have any outstanding findings of civil rights violations. (See Section II(B) of the General Section of this SuperNOFA.)

If your eligibility status changes during the course of the grant term, thus making you ineligible to receive this grant, HUD reserves the right to terminate your grant.

(2) Lead Applicant. Two or more eligible applicants may file a joint application. If filing jointly, you must designate one entity to be the lead applicant. The lead applicant will be the grantee if HUD funds your application.

(3) Memorandum of Understanding. You must include with your application a Memorandum of Understanding (MOU) that you have entered into with each required party. (See Section III(B) of this program section of the SuperNOFA). A draft MOU may be acceptable provided a detailed explanation of why a fully ratified MOU is not being presented in your application. You must indicate that the draft MOU is contingent upon HUD funding the grant. In addition, written commitment from the proposed MOU partners must be included in your grant application. If a draft MOU is submitted in the grant application, the finalized MOU must be submitted to the local HUD Field Office within 15 calendar days after HUD's announcement of the award. The finalized MOU must be exactly the same as the draft MOU included in your application.

(4) Required Parties to the MOU. In order to receive full points in the applicable Rating Factor for a New Approach Anti-Drug grant:

(a) You MUST sign a MOU that provides funds through a subgrantee or subrecipient relationship with the following two entities:

(i) The local police department; and

(ii) The local prosecutor's office (district attorney).

(b) The two parties signing the MOU must have the legal authority to enter into a binding agreement with you. These two entities must have jurisdiction in your project area.

(5) Content of MOU. This MOU must commit these entities to actively support the grant project in partnership with you. The MOU must also describe:

(a) The level of current services (baseline) being provided by these entities;

(b) The level of services above this baseline which the entities are committed to providing in support of your grant;

(c) The amount of time to be devoted to the activities by each party;

(d) The skills each party brings to assist in implementation of your specific action plan activities.

Your MOU will be taken into account in reviewing and rating your application, so you should strive to be as specific as possible in your MOU document.

(6) Partnerships are encouraged. We encourage you to partner with other appropriate neighborhood and community stakeholders, including: neighborhood businesses and business associations; nonprofit service providers; neighborhood resident associations; and faith communities or religious institutions. You are encouraged to enter into MOUs with these entities; however, an MOU is not required.

(C) Eligible Project Areas

(1) HUD will award one grant per project neighborhood. The project area must be a “neighborhood.”

(2) The project area must include at least one assisted housing development. See definition in Section III(A)(1) of this program section of the SuperNOFA.

(3) You must provide documentation of the population used to define eligibility as a neighborhood. The documentation may include census data or documentation provided by local government officials or by HUD's Community 2020 program, available by calling 1-800-998-9999 (there may be a charge to you for this information).

(D) Eligible Activities

The following is a listing of eligible activities under this program and guidance as to their parameters:

(1) Augmenting Security (Including Personnel).

(a) General. You must document in your MOU(s) all security services above baseline established in your MOU. Anyone providing augmented security services must have liability insurance, be licensed, and trained in Fair Housing and other Civil Rights requirements arising out of their role in providing security services.

(b) Baseline Services. Additional security services are permitted but must be over and above the local police department's current level of baseline services. If you are seeking funding for augmenting security, you must describe the local police department's current level of baseline services to the neighborhood (including ordinary and routine services, patrols, police officer responses to 911 communications and other calls for services, and investigative follow-up of criminal activity). Your description of baseline services must include the number of officers on a per unit per hour basis, or the actual percentage of their time assigned to the development(s) proposed for funding. For a proposed activity to be considered eligible as an augmented security activity, you must demonstrate to what extent the proposed funded activity will represent an increase over and above the baseline. Funding is permitted for reasonable, necessary, and justified leasing of vehicles or any other equipment associated with the augmentation of security services.

(c) Police Presence. You may reimburse local law enforcement entities for the costs of additional police presence (police salaries and other expenses directly related to additional police presence or security that is over and above baseline services) in and around assisted housing developments in the neighborhood. Of the funds devoted to additional police presence, at least 70 percent of such reimbursed costs must be for police presence in assisted housing developments served and the remaining 30 percent must be for police presence around the assisted housing neighborhood area.

HUD is strongly encouraging that additional law enforcement in the assisted housing developments and surrounding neighborhoods be targeted to implementing an overall proactive crime fighting strategy, rather than merely responding to crime emergencies. Two potentially effective anti-crime strategies that can benefit from additional police presence are:

(i) Combined multi-agency task force initiatives, in which local and Federal law enforcement agencies pool resources, first, to infiltrate organizations that promote violent and/or drug-related crime in the neighborhood and, second, to initiate strategic and coordinated mass arrests to break up these organizations; and

(ii) Community policing (i.e., sustained proactive police presence in the development or neighborhood, often conducted from an on site substation or mini-station, that involves crime prevention, citizen involvement, and other community service activities, as well as traditional law enforcement).

If reimbursement is provided for community policing activities that are committed to occur over a period of at least 3 years and/or are conducted from a police substation or administration within the neighborhood, the costs during the grant period of constructing such a station or of equipping the substation with communications and security equipment to improve the collection, analysis and use of information about criminal activities in the properties and the neighborhood may be reimbursed.

(d) Security Services Provided by Other Entities (such as the Owner of an Assisted Housing Development).

(i) The activities of any contract security personnel funded under this Program must be coordinated with other law enforcement and crime prevention efforts under your proposed action plan. You must describe in your action plan your efforts to achieve this coordination. The coordination efforts must include frequent periodic scheduled meetings of security personnel with housing project management and residents, local police and, as appropriate, with other public law enforcement personnel, neighboring residents, landlords, and other neighborhood stakeholders. Any contract security personnel funded under this Program must meet State and local licensing requirements.

(ii) You may only contract with a security service provider that has a policy manual that directs the activities of its personnel and contains the policies, procedures, and general orders that regulate conduct and describe in detail how jobs are to be performed.

(2) Enhancing the Investigation and Prosecution of Drug-Related Crime.

(a) Reimbursement of State and Local Law Enforcement Agencies. As the grantee, you may reimburse local or State prosecuting offices and related public agencies for activities, other than salaries or ineligible activities in Section III(G) of this program section of the SuperNOFA, related to the prosecution or investigation of crime committed in the neighborhood identified in your application. These costs are subject to a cost reimbursement agreement. Reimbursement must be for costs over and above what the office or agency incurred for such purposes for crimes committed in the same neighborhood during the period equal in length and immediately before the period of reimbursement. For any grant, at least 70 percent of reimbursed costs must be in connection with crimes committed in and around the assisted housing developments and the remainder of reimbursed costs directly related to crime committed within the neighborhood.

(b) Hiring of Private Investigator Services. You may use grant funds to hire private investigator services to investigate crime in and around an assisted housing development and the surrounding neighborhood. You must explain why local law enforcement services are inadequate and justify the need for hiring private investigator services.

(3) Capital Improvements to Enhance Security. You may use grant funds for capital improvements to enhance security. You should, however, consider using other sources of funding for this purpose. These improvements must be accessible to persons with disabilities and must meet the accessibility requirements of 24 CFR part 8, Nondiscrimination Based on Handicap in Federally Assisted Programs and Activities of the Department of Housing and Urban Development. For example, locks or buzzer systems that are not accessible to people with restricted or impaired strength, mobility, or hearing may not be funded by your grant. Capital improvements to implement defensible space concepts in the design and implementation of your enhanced security measures are eligible provided such design elements permit accessibility and visibility by persons with disabilities. Capital improvements to enhance security or crime prevention through environmental design must comply with civil rights requirements and cannot exclude or segregate persons based upon their race, color, or national origin from benefits, services, and other terms and conditions of housing. Under Rating Factor 3, “Quality of Plan”, HUD will reward capital improvements to enhance the security of an entire neighborhood as opposed to specific projects at the expense of other dwellings in the neighborhood. The capital improvements may include, but are not limited to:

(a) New construction or rehabilitation of structures housing police substations or mini-stations;

(b) Installation of barriers (including speed bumps and fences) and appropriate use of close circuit television (CCTV), provided that the barriers make reasonable accommodations for persons with disabilities;

(c) Improved door or window security such as locks, bolts, or bars;

(d) Landscaping or other reconfiguration of common areas to discourage drug-related criminal activities; and

(e) Establishment of a Neighborhood Networks center and augmenting existing centers. Up to $35,000 of the grant funds awarded by HUD may be used towards developing and establishing a new Neighborhood Network center.

If there is an established Neighborhood Networks center you may include up to $25,000 for the center for further crime prevention activities, such as additional mentoring and/or tutorial education programs, improving job skill programs, and home buyer education. Other crime prevention activities may include, but are not limited to, resident participation in law enforcement community outreach activities such as Drug Abuse Resistance Education (DARE) days and the local office of the FBI's Race Against Drugs activities, etc. The aforementioned monetary limitations only apply to funds from the New Approach Anti-Drug Program. Additional funds may be obtained from other sources. No grant funds will be approved for expenditure until the local HUD Field Office approves the Neighborhood Network business plan for the Neighborhood Networks center. A sample of the Neighborhood Network business plan may be found on the Neighborhood Networks web page at www.neighborhoodnetworks.org.

(E) Ineligible Activities. In addition to the ineligible activities mentioned elsewhere in this program section of the SuperNOFA, New Approach Anti-Drug Program Grant funding is not permitted for any of the activities listed below, unless otherwise specified in this program section of the SuperNOFA:

(1) Drug abuse treatment or intervention activities;

(2) Costs incurred before the effective date of the grant agreement, including but not limited to consultant fees related to the development of your application or the actual writing of your application;

(3) Funding of any form of controlled substances for any purpose. Controlled substance has the meaning provided in section 102 of the Controlled Substance Act (21 U.S.C. 802);

(4) Purchase of motorized vehicles for any purpose;

(5) Funding of any form of weaponry for any purpose;

(6) Funding of any form of tenant patrols;

(7) Compensating informants, including confidential informants. These should be part of the baseline services provided and budgeted by local law enforcement agencies;

(8) Although participation in activities with Federal drug interdiction or drug enforcement agencies is encouraged, these grant funds may not be transferred to any Federal agency.

IV. Program Requirements

In addition to the program requirements listed in the General Section of this SuperNOFA, grantees must meet the following program requirements. These requirements apply to all activities, programs, or functions used to plan, budget, implement, and evaluate the work funded under this program.

(A) Grant Agreement. After applications have been ranked and selected, HUD and a successful applicant will enter into a grant agreement setting forth the amount of the grant, the physical improvements or other eligible activities to be undertaken, financial controls, and special conditions, including sanctions for violation of the agreement. The Grant Agreement will incorporate your HUD approved application as may be amended by any special condition in the Grant Agreement. HUD will monitor your grant using your Grant Agreement to ensure that you have achieved commitments set out in your approved grant agreement. Failure to honor such commitments would be the basis for HUD determining your default of the Grant Agreement, and exercising available sanctions, including grant suspension, termination, and/or the recapture of your grant funds.

(B) Requirements Governing Grant Administration, Audits and Cost Principles. The policies, guidelines, and requirements of this program section of the SuperNOFA, 48 CFR part 31, 24 CFR parts 44, 45, 84, 85, and/or 761.40, OMB Circulars A-87 and/or A-122, other applicable administrative, audit, and cost principles and requirements, and the terms of grant/special conditions and subgrant agreements apply to your acceptance and use of funds. The requirements cited above, as applicable, must be followed in determining procedures and practices related to the separate accounting of grant funds from other grant sources, personnel compensation, travel, procurement, the timing of drawdowns, the reasonableness and allocation of costs, audits, reporting and closet, budgeting, and preventing conflict of interests or duplicative charging of identical costs to two different funding sources. Federal labor standard provisions are applicable when grant funds are used to undertake physical improvements to increase security. All costs must be reasonable and necessary.

(C) Term of Grant. Your grant funds must be expended within 24 months after HUD executes a Grant Agreement with you. There will be no extensions or waivers of this grant term. Any remaining grant funds will be recaptured.

(D) Subgrants and Subcontracting. (1) In accordance with your approved grant agreement, you may directly undertake any of the eligible activities under this program section of the SuperNOFA, you may contract with a qualified third party, or you may make a subgrant to any entity approved by HUD as a member of the partnership, provided such entity is a unit of government, a prosecutor's office, a police department or a TDHE; is incorporated as a not-for-profit organization; or is an incorporated for-profit entity that owns and/or manages an assisted housing project benefiting from the grant. Multifamily housing agents/owners are authorized to make a PHA or THDE their Fiduciary Agent, if the PHA and/or the THDE has the capacity to implement, oversee and close out the grant activities. Resident groups that are not incorporated may participate in the implementation of the program, but may not receive funds as subgrantees. For-profit organizations other than owners or managers of an assisted housing development benefiting from the grant that have been approved by HUD as part of the partnership may only receive grant funds subject to the applicable Federal procurement procedures (See 24 CFR parts 84 or 85).

(2) Subgrants may be made only under a written agreement executed between you, the grantee, and your subgrantee. The agreement must include a program budget that is acceptable to you, and that is consistent with the eligible activities and requirements. The agreement must require the subgrantee to permit you to inspect your subgrantee's work and to follow applicable OMB and HUD administrative requirements, audit requirements, and cost principles, including those related to procurement, drawdown of funds for immediate use only, and accounting for the use of grant funds and implementation of program activities. In addition, your subgrant must describe the nature of the activities to be undertaken by the subgrantee, the scope of the subgrantee's authority, and the amount of any insurance to be carried by you and the subgrantee to protect your respective interests.

(3) You are responsible for monitoring, and for providing technical assistance to, any subgrantee to ensure compliance with applicable HUD and OMB requirements. You must also ensure that subgrantees have appropriate insurance liability coverage.

(E) Ineligible Contractors. The provisions of 24 CFR part 24 relating to the employment, engagement of services, awarding of contracts or funding of any contractors or subcontractors during any period of debarment, suspension, or placement in ineligibility status apply to this grant.

(F) Section 3 Economic Opportunity. See Section II(E) of the General Section of the SuperNOFA. The requirements of section 3 of the Housing and Urban Development Act of 1968 may apply to some of the activities that may be funded under this program section of the SuperNOFA.

(G) Drawdown of Grant Funds. You will be required to access your grant funds through HUD's Line of Credit Control System—Voice Response System (LOCS/VRS) in accordance with procedures for minimizing the time lapsing between drawdowns and use of funds for eligible purposes as described in 24 CFR parts 84 and/or 85, as applicable. If HUD changes the procedures for the draw of grant funds, HUD will notify you through the issuance of a grant amendment.

(H) Reports and Closeout. If you receive a grant, you will be required to submit to HUD a semi-annual progress report (Form 269). The narrative of the Form 269 must be sent in a format prescribed by HUD that indicates program expenditures and measures performance in achieving goals. At grant completion, you will be required to participate in a closeout process which shall include a final report in a format prescribed by HUD that reports final program expenditures and measures performance in achieving program goals. Closeout will culminate in a closeout agreement between you and HUD and, when appropriate, in the return of grant funds which have not been expended in accordance with applicable requirements, or which may be remaining after all activities have been completed and paid for.

(I) Suspension or Termination of Funding. HUD may suspend or terminate funding if you fail to undertake the approved program activities on a timely basis in accordance with your grant agreement, adhere to grant agreement requirements or special conditions, or submit timely and accurate reports.

(J) Affirmatively Furthering Fair Housing. You must address Section II(D) of the General Section of the SuperNOFA. You must also reference the certifications listed in Section II (G) the General section of the SuperNOFA.

V. Application Selection Process

(A) Ranking and Selection Procedures. Your application can only be rated if you are an eligible applicant and you are in compliance with the requirements of the General Section of the SuperNOFA.

(1) All applications will be evaluated competitvely and ranked against applications in the same Field Office. Only those applications that have a base score of at least 70 points (excluding the EZ/EC and Dallas bonus points) will be eligible for selection and will be placed in ranked order.

(2) This year HUD will distribute funds to each Multifamily Housing Hub Office based on the fair share allocation formula. (See Section II-A for a thoroughly detailed discussion of the fair share allocation formula). Each Multifamily Hub Office may recommend a total number of awards up to the dollar amount allocated for the area covered by the Hub Office. Hub Offices will receive the scores from each HUD Field Office which has received, rated, and ranked its applications.

The Hub Office will conduct the selection process as follows: Where a Multifamily Hub covers more than one Field Office jurisdiction, the Hub Office will first select the highest ranked application in each Field Office for funding. After this selection, the Hub will use remaining funds to fully fund as many applications as possible in rank order, regardless of Field Office. Hub Offices representing only one Field Office shall use their distribution of funds to fully fund in rank order as many applications as possible. Hub Offices must not skip over any applications in order to select one based on the remaining funds.

Any funds still remaining after Hub Office distribution by rank must be forwarded to Headquarters. Headquarters will use these funds for selecting applications based on field offices' ranking, beginning with the highest rated application nationwide. Only one application will be selected per Hub Office from the national residual amount. However, if there are no approvable applications in other Hub Office, the process will begin with the selection of the next highest rated application nationwide. This process will continue until all approvable applications are selected using the available remaining funds.

(3) In the event of a tie, HUD will select the applicant with the highest score in Rating Factor 1. If Rating Factor 1 is scored identically, the scores in Rating Factors 2, 3 and 4 will be compared in that order, until one of the applications receives a higher score. If both applications still score the same then the application which requests the least funding will be selected to promote the more efficient use of resources.

(4) HUD will evaluate all eligible applications based on the factors for award identified in this Section V.

(B) Factors For Award Used To Evaluate and Rate Applications. The maximum number of points for this program is 102 (except for an application submitted by the City of Dallas, Texas which would be eligible for a maximum of 104 points in accordance with Rating Factor 3, paragraph (6), below. This includes two EZ/EC bonus points, as described in the General Section of the SuperNOFA.

Rating Factor 1: Capacity of the Applicant and Relevant Organizational Experience (20 Points)

This factor addresses the extent to which you have proper organizational resources necessary to successfully implement the proposed New Approach Anti-Drug Program activities in an effective, efficient, and timely manner. In rating this factor, HUD will consider the extent to which the application demonstrates the capabilities described below:

(1) (5 Points) The applicants' administrative capacity to implement the grant. HUD will award points based on the quality and amount of staff allocated to the grant activity by you; the anticipated effectiveness of your systems for budgeting, procurement, drawdown, allocation, and accounting for grant funds and matching resources in accordance with OMB administrative requirements; and the lines of accountability for implementing your grant activity, coordinating your partnerships, measuring the effect of the expenditure of grant funds and ensuring that you and your MOU partners' commitments will be met. You must include in your narrative a discussion of financial capacity, staff resources, and prior experience that will enable you to effectively administer the grant and meet reporting requirements. This narrative must not exceed five pages. For an owner of an assisted housing development that is HUD-insured, HUD will consider the most recent Management Review (including Rural Housing Management Review), HUD's Uniform Physical Condition Standards review (as codified in 24 CFR part 5 subpart G), State Agency review and such other relevant information available to HUD on the capacity of the owner and manager to undertake the grant. You must include a copy of the most recent management review (not a physical inspection report) for the development(s) to be served by your grant. These documents will not be counted against your 5 page narrative limitation.

(2) (15 Points) The applicant's performance in administering Drug Elimination grants and/or other Federal, State, or local grants of similar size and complexity during the last 3 years. In assessing this factor, HUD will verify you and your partners' successful experience and performance based on information on file with HUD and will consider the following factors with the indicated total available points:

(a) (5 Points) Your successful experience combined with your MOU partners' successful experience in utilizing similar strategies to alleviate crime. You must identify your participation in HUD grant programs within the last three years and discuss the degree of your success in implementing planned activities measuring progress towards achieving program goals and objectives; timely drawdown of funds; timely submission of required reports and ability to complete activities on time and within budget; what if any audit findings were noted; whether there was audit compliance; whether there are and the extent of any unresolved findings and/or outstanding recommendations from prior HUD reviews or audits undertaken by HUD, HUD-Office of Inspector General, the General Accounting Office (GAO) or independent public accountants (IPAs). To receive maximum points under this section, you must have worked in partnership with one or more of your MOU partners (or two or more of your MOU partners may have worked together in partnership) using similar strategies to reduce crime in and around assisted housing developments. To demonstrate success in implementing past projects, you must identify the reduction in the occurrence of the types of crime as indicated in Rating Factor 2 of this program section of the SuperNOFA. In the absence of previous partnerships, your capacity will weigh more heavily than the experience of any of your partners, in HUD's assignment of points under this subfactor.

(b) (4 Points) Your performance in administering other Federal, State or local grant programs. You must identify your participation in HUD grant programs within the preceding three years, and discuss the degree of your success in implementing and managing these grant programs. This includes implementation, timely drawdown of funds, timely submission of required drawdown of funds, timely submission of required reports with satisfactory outcomes related to the plan and timetable, audit compliance and other HUD reviews.

(3) (6 Points) The strength of the applicants' partnership as it relates to eliminating the crime problem identified in Rating Factor 2. HUD will award points in this area based on the strength of resource commitments identified in your MOUs in terms of the amount of staff, time, money, or other assets committed by each MOU party toward implementing your program. Your description should include the following:

(a) Identification of the skills each party will bring to help successfully implement your program and the firmness of the commitments;

(b) evidence of your MOU partners' (and project tenants') pre-application role in developing the plan and prospective role in program implementation;

(c) Indications of the capacity of the assisted housing developments' ownership and management (based on available management reviews by governing public entities) to undertake their share of responsibilities in the partnership (including evidence of whether management carefully screens applicants for units and takes appropriate steps to deal with tenants known to exhibit or suspected of exhibiting criminal behavior) and to cooperate with law enforcement actions on their project premises;

(d) The willingness of the unit of general local government to use its prosecutor's office as its lead agency in implementing the grant;

(e) Participation of additional partners other than those required to sign MOUs (for example, neighborhood business organizations); and

(f) The effectiveness of the partnership structure.

Rating Factor 2: Need/Extent of the Problem (25 Points)

This factor addresses the extent to which there is a need for funding your proposed program activities to address the documented degree of the severity of the drug-related crime problem in the project area proposed for funding. Any collection of data should include summaries at the beginning of the data. In responding to this factor, HUD will evaluate the extent to which you have explained a critical level of need for your proposed activities and have indicated the urgency of meeting the need in the target area. You must include a description of the extent and nature of drug-related crime “in and around” the housing units or developments proposed for funding.

To the extent that you can provide objective crime data specific to the community or targeted development proposed for funding, your application is eligible to be awarded up to the full 25 points. If you do not provide documented objective crime data specific to the community or targeted development proposed for funding, your application is only eligible to receive up to 15 points for this factor.

You will be evaluated on the following:

(1) (25 Points) “Objective Crime Data” relevant to the target area. Your application must include the most current and specific Part I Crime data and relevant Part II Crime data available from the FBI's Uniform Crime Reporting Program (UCR) system or the local law enforcement's crime statistics. Part I Crimes include: homicide; rape; robbery; aggravated assault; burglary; larceny; auto theft; and arson. Part II drug-related crimes include: drug abuse violations; simple assault; vandalism; weapons violations; and other crimes which you are proposing to be targeted as part of your grant. In assessing this subfactor, HUD will consider the extent of specificity that the statistical data is provided (e.g., data specific to the neighborhood covered by your application). These data must consist of verifiable records and not anecdotal reports. Where appropriate, the statistics should be reported both in real numbers and as an annual percentage of the residents in each development (e.g., 20 arrests in a two-year period for distribution of heroin in a development with 100 residents reflects a 20% occurrence rate). These data may include:

(a) Police records or other verifiable information from records on the types or sources of drug related crime in your targeted developments and surrounding area;

(b) The number of lease termination's or evictions for drug-related crime at your targeted developments; and

(c) The number of emergency room admissions for drug use or that result from drug-related crime. Such information may be obtained from police departments and/or fire departments, emergency medical service agencies and hospitals. The number of police calls for service from the targeted developments that include resident initiated calls, officer-initiated calls, domestic violence calls, drug distribution complaints, found drug paraphernalia, gang activity, graffiti that reflects drugs or gang-related activity, vandalism, drug arrests, and abandoned vehicles.

For PHAs, such data should include housing authority police records on the types and sources of drug related crime “in and around” developments as reflected in crime statistics or other supporting data from Federal, State, Tribal or local law enforcement agencies.

If you submit objective data you do not need to submit other crime data. You should include summaries with the objective data that establish the drug related crime problem.

(2) (15 Points) Other Crime Data—Other supporting data on the extent of drug-related crime. To the extent that objective data as described above may not be available, you must use data from other verifiable sources that have a direct bearing on drug related crime in the developments proposed for assistance under this program. However, to qualify for points your application must indicate the reasons why you could not obtain objective data and what efforts you made to obtain it and what efforts you will make during the grant period to begin obtaining the data. Examples of the data should include (but are not necessarily limited to):

(a) Surveys of residents and staff in your targeted developments surveyed on drug-related crime or on-site reviews to determine drug/crime activity; and government or scholarly studies or other research in the past year that analyze drug-related crime activity in the targeted developments.

(b) Vandalism cost at your targeted developments, including elevator vandalism (where appropriate) and other vandalism attributable to drug-related crime.

(c) Information from schools, health service providers, residents and Federal, State, local, and Tribal officials, and the verifiable opinions and observations of individuals having direct knowledge of drug-related crime and the nature and frequency of these problems in developments proposed for assistance. (These individuals may include Federal, State, Tribal, and local government law enforcement officials, resident or community leaders, school officials, community medical officials, substance abuse, treatment (dependency/remission) or counseling professionals, or other social service providers.)

(d) The school dropout rate and level of absenteeism for youth that you can relate to drug-related crime. If crime or other statistics are not available at the development or precinct level, you must use other verifiable, reliable and objective data; and

(e) To the extent that your community's Consolidated Plan identifies the level of the problem and the urgency in meeting the need, references to the Consolidated Plan should be included in your response. HUD will review more favorably those applicants who used the Consolidated Plan to identify need, when applicable.

Rating Factor 3: Soundness of Approach (Quality of the Plan) (35 Points)

This factor addresses the quality and anticipated effectiveness of your proposed action plan using grant funds and other resources in taking a comprehensive community-based approach toward the problem of drugs and drug-related crime in the neighborhood identified in your application.

Your application must include an action plan for crime reduction and elimination efforts, describing in detail: the specific activities to be undertaken; the parties responsible for or involved in the activities for each development proposed for assistance; and the dollar amount and extent of resources committed to each activity or service proposed.

In evaluating this factor, HUD will consider the following:

(1) (25 Points) The quality and comprehensiveness of your action plan to address the drug-related crime problem and the problems associated with drug-related crime in the developments proposed for funding. You must include a description of your plan's anticipated effectiveness in reducing or eliminating drug-related crime problems immediately and over an extended period, as evidenced by:

(a) The extent to which your proposed activities provide services over the existing baseline of services currently provided to the project area;

(b) The extent to which the activities of the two required MOU entities are comprehensive and, as result of collective actions, will effectively work together. If you provide for a comprehensive approach, you will receive a higher number of rating points. HUD will provide only one-half of the eligible points under this subfactor if your application only includes an MOU with either:

(i) The local law enforcement entity; or

(ii) The local prosecutor (district attorney) with jurisdiction over the neighborhood identified in your application. If you include no MOUs with either party, you will receive zero points.

(c) The extent to which you have partnered with appropriate neighborhood and community stakeholders;

(d) The extent to which the resources allocated and the budget proposed are adequate to conduct the work plan as proposed; and

(e) Your rationale for the proposed activities and methods and why you believe the activities will be effective in reducing drug use and drug-related crime. If you are proposing new methods for which there is limited knowledge of the effectiveness, you should provide the basis for modifying past practices and rationale for why you believe the modification will yield more effective results.

(2) (10 Points) The adequacy of the process you will use to collect, maintain, analyze and report Part I and II crimes as defined by the Uniform Crime Reporting (UCR System), as well as police workload data. The process must include the collection of police workload data such as, but not limited to, all calls for service at the housing authority by individual development, patterns over a period of time, type of crime, and plans to improve data collection and reporting. Your proposed analysis of the data collected should include a method for assessing the impact of grant activities on the collected crime statistics on an on-going basis during the award period.

(3) Up to two (2) additional points will be awarded to any application submitted by the City of Dallas, Texas, to the extent this subfactor is addressed. Due to an order of the U.S. District Court for the Northern District of Texas, Dallas Division, with respect to any application submitted by the City of Dallas, Texas, HUD's consideration of this subfactor will consider the extent to which the applicant's plan for the use of New Approach Anti-Drug funds will be used to eradicate the vestiges of racial segregation in the Dallas Housing Authority's programs consistent with the Court's order.

Rating Factor 4: Leveraging Resources (Support of Residents, the Local Government and the Community in Planning and Implementing the Proposed Activities and Interagency Activities) (10 Points)

This factor addresses your ability to secure community and government resources, in-kind services from local governments, non-profit entities, including resident organizations, for-profit entities, or private organizations to be combined with HUD's program resources to achieve program purposes. To be considered as documented evidence of leveraging, you must submit a letter signed by the organization head authorized to commit the organization which details the amount of funds or type of services to be provided. The letter also must identify the dollar value of any services or goods in lieu of a cash contribution. Therefore, in responding to the factor you must translate the time or services provided into a dollar value. This dollar value will be added to any cash funding commitments identified as part of your leveraging of funds. For example, if you are receiving a donation of security alarm systems, you should indicate the number of security systems to be provided and give a dollar value for those alarm systems. The value will be added to any cash contributions you have noted from others. The letter may indicate that the commitment is predicated on the applicant receiving the grant from HUD. In assessing this factor, HUD will consider the following:

(1) Evidence of the extent and amount of the commitment of funding, staff, or in-kind resources, partnership agreements, and on-going or planned cooperative efforts with law enforcement agencies, memoranda of understanding, or agreements to participate. Such commitments must be signed by an official of the organization legally able to make commitments for the organization. This evidence of commitment must include organization name, resources, and responsibilities of each participant. This also includes interagency activities already undertaken, participation in local, state, Tribal, or Federal anti-drug related crime efforts such as: education, training and employment provision components of Welfare Reform efforts, Operation Weed and Seed, Operation Safe Home, local law enforcement initiatives and/or successful coordination of its law enforcement, or other activities with local, state, Tribal, or Federal law enforcement agencies.

(2) HUD may award more points for applications with a higher percentage of these resources as compared to New Approach Anti-Drug funds requested.

Rating Factor 5: Comprehensiveness and Coordination (10 Points)

This factor addresses the extent to which you have coordinated your activities with other known organizations, participants or have promoted participation in a community's Consolidated Planning process. You should demonstrate that you are working towards addressing a need in a holistic and comprehensive manner through linkages with other activities in the community.

In evaluating this factor, HUD will consider the extent to which:

(1) You have coordinated your proposed activities with those of other groups or organizations prior to submission in order to best complement, support, and coordinate all known activities and if funded, the specific steps you will take to share information on solutions and outcomes with others. Describe any written agreements and memoranda of understanding currently in place, or that will be in place after award.

(2) You have taken or will take specific steps to become active in the community's Consolidated Planning process (including the Analysis of Impediments to Fair Housing Choice) established to identify and address a need/problem that is related to the activities the applicant proposes.

(3) You have shared and coordinated information on solutions and outcomes with other law-enforcement and governmental agencies, and have described any written agreements in place or that will be put in place.

(4) You have taken or will take specific steps to develop linkages to coordinate comprehensive solutions through meetings, information networks, planning processes or other mechanisms with:

(a) Other HUD-funded project/activities outside the scope of those covered by the Consolidated Plan, and

(b) Other Federal, State, or locally funded activities, including those proposed or on-going in the community.

VI. Application Submission Requirements

Each New Approach Anti-Drug application must provide the items listed in this Section VI of this program section of the SuperNOFA. Your application must contain the items listed in this Section VI(B). These items include the standard forms, certifications, and assurances listed in the General Section of the SuperNOFA that are applicable to this funding (collectively, referred to as the “standard forms”). The standard forms can be found in Appendix B to the General Section of the SuperNOFA. The remaining application items that are forms (i.e., excluding such items as narratives, or letters), referred to as the “non-standard forms” can be found as Appendix B to this program section of the SuperNOFA. The items are as follows:

(A) Application Cover Letter.

(B) Congressional Summary—Summary of your proposed program activities in five (5) sentences or less.

(C) A Neighborhood Description. The neighborhood description must include a basic description (e.g., boundaries and size), population, number of housing units in the neighborhood, a map, a population profile (e.g., relevant census data on the socio-economic, ethnic and family makeup of neighborhood residents), and the basis on which the area meets the definition of “neighborhood” as described in this program section of the SuperNOFA (i.e., describe and include a copy of the comprehensive plan, ordinance or other official local document which defines the area as a neighborhood, village, or similar geographical designation). If the entire jurisdiction is defined as a neighborhood by virtue of having a population at less than 25,000, indicate the jurisdiction's population under the 1990 census and describe/include more recent information which gives the best indication as to the current population.

(D) The description of the assisted housing development(s) in the neighborhood. This must include the name of the project; the name of the project owner; the nature, sources, and program titles of all project-based subsidies or other assistance provided to the development by units of government or private nonprofit entities. Any names of public or nonprofit assisted housing programs other than programs sponsored by HUD should be accompanied by a description of the program and the name and business phone number of a contact person responsible for administering the program. For the subsidy provider, you must include the number of housing units in the development, and the number of housing units in the development that meet the definition of “assisted housing units” in this funding announcement, and a description of the restrictions on rents and resident incomes that, in combination with the subsidy provided to the development, qualify the units as assisted/affordable in accordance with the definition in this program section of the SuperNOFA; and the number, geographic proximity (adjoining, adjacent, or scattered site, and if scattered site, the distance between the two buildings which are furthest apart), and type (single family detached, townhouse, garden, elevator) of buildings in the development.

(E) Application for Federal Assistance, Standard Form (SF) 424, signed by the chief executive officer of your organization.

(F) An action plan which describes the activities and roles to be undertaken by you and each subgrantee or subrecipient of program funds. This action plan may be attached to and referenced in your MOU.

(G) Narrative responses to the factors for award including any required documentation identified under each factor.

(H) A line item budget which identifies salaries, fringe benefits, consultants or subgrantees, equipment, supplies, travel, and general and administrative expenses; as well as an estimated dollar amount for each activity to be undertaken as part of your action plan.

(I) Overall budget and timetable that includes separate budgets, goals, milestones, and timetables for each activity and addresses milestones towards achieving the goals described above; and indicates the contributions and implementation responsibilities of each partner for each activity, goal, and milestone.

(J) The number of staff years, the titles and professional qualifications, and respective roles of staff assigned full or part-time to grant implementation by the applicant/grantee.

(K) Your plan and lines of accountability (including an organization chart) for implementing your grant activity, coordinating the partnership, and assuring that your and your subgrantees' commitments will be met. There must be a discussion of the various agencies of the unit of government that will participate in grant implementation (which must include the prosecutor's office and the police department.

VII. Corrections to Deficient Applications

The General Section of this SuperNOFA provides the procedures for corrections to deficient applications.

VIII. Environmental Requirements

Prior to the award of grant funds under the program, HUD will perform an environmental review to the extent required under the provisions of 24 CFR part 50. Should the environmental review indicate adverse environmental impacts, your application may be downgraded or rejected. The General Section of this SuperNOFA provides additional guidance on Environmental Reviews.

IX. Authority

This program is authorized under the Departments of Veterans Affairs and Housing and Urban Development, and Independent Agencies Appropriations Act, 2001 (Pub.L. 106-377, approved October 18, 2000), under the heading “Drug Elimination Grants for Low-Income Housing.”

Appendix A—HUD Field Office List for Multifamily Housing

Please see Appendix A to the Multifamily Housing Drug Elimination Program section of this SuperNOFA for a list of the HUD Field Offices for Multifamily Housing.

Appendix B

The non-standard forms, which follow, are required for your New Approach Anti-Drug application.

BILLING CODE 4210-32-P

FUNDING AVAILABILITY FOR DRUG ELIMINATION GRANTS FOR FEDERALLY ASSISTED LOW-INCOME HOUSING (MULTIFAMILY HOUSING DRUG ELIMINATION)

Program Overview

Purpose of the Program. The purpose of this Multifamily Housing Drug Elimination Grant Program is to enable owners of federally assisted low-income housing developments to deal effectively with drug-related criminal activity in and around their developments, through a plan of activities including enhanced security measures, support of tenant patrols, and drug-abuse prevention, intervention, referral, and treatment programs.

Available Funds. Approximately $16.25 million.

Eligible Applicants. Only owners of eligible developments may apply for and become the recipient of grant funds. Property management companies may administer grant programs, but are not eligible applicants.

Application Deadline: May 23, 2001.

Match. None.

Additional Information

If you are interested in applying for funding under this program, please review carefully the General Section of this SuperNOFA and the following additional information.

I. Application Due Date, Application Kits, Further Information, and Technical Assistance

Application Due Date. Your completed application (an original and two copies) is due on or before 6:00 pm, local time, on May 23, 2001 at the address shown below.

See the General Section of this SuperNOFA for specific procedures concerning the form of application submission (e.g., mailed applications, express mail, overnight delivery, or hand carried).

Address for Submitting Applications. Appendix A to this program section contains a list of HUD Field Offices where you must send your application by the deadline. Please address your application to the Director, Multifamily Housing Hub or Program Center in your local HUD Field Office.

For Application Kits. For an application kit, please call the SuperNOFA Information Center at 1-800-HUD-8929. If you have a hearing or speech impairment, please call the Center's TTY number at 1-800-HUD-2209. When requesting an application kit, please refer to Multifamily Housing Drug Elimination Grants, and provide your name, address (including zip code) and telephone number (including area code). An application kit also will be available on the Internet at http://www.hud.gov/grants.

For Further Information and Technical Assistance. You may contact your local HUD Field Office staff for questions you have regarding this program section of the SuperNOFA and your application kit. Please contact the Resident Initiatives Specialist or Drug Elimination Grants contact person in your local office. If you have a question that the Field staff are unable to answer, please call Carissa Janis, Housing Project Manager, Office of Housing Assistance and Grants Administration, Department of Housing and Urban Development, 451 Seventh Street, SW, Room 6146, Washington, DC 20410; (202) 708-2866, extension 2487 (this number is not toll free). If you are hearing or speech impaired, you may access this number via TTY by calling the Federal Information Relay Service at 1-800-877-8339.

Satellite Broadcast. HUD will hold an information broadcast via satellite for potential applicants to learn more about the program and preparation of the application. For more information about the date and time of the broadcast, you should consult the HUD web site at http://www.hud.gov/grants.

II. Amount Allocated

(A) Available Funding. HUD is allocating funds under this Multifamily Drug Elimination Grant Program section of the SuperNOFA to the eighteen Multifamily Housing Hub Offices, in accordance with the following schedule:

Hub Offices and Field Office Jurisdictions
Atlanta Hub (Atlanta, Caribbean, Knoxville, Nashville, Louisville) | $1,219,019
Baltimore Hub (Baltimore, Richmond, Washington, DC) | 801,213
Boston Hub (Boston, Hartford, Manchester, Providence) | 1,310,033
Buffalo Hub | 329,658
Chicago Hub (Chicago, Indianapolis) | 989,691
Columbus Hub (Columbus, Cincinnati, Cleveland) | 945,259
Denver Hub | 757,497
Detroit Hub (Detroit, Grand Rapids) | 619,184
Ft. Worth Hub (Ft. Worth, Albuquerque, Houston, Little Rock, New Orleans, San Antonio, Shreveport) | 1,161,687
Greensboro Hub (Greensboro, Columbia) | 811,246
Jacksonville Hub (Jacksonville, Birmingham, Jackson) | 1,006,891
Kansas City Hub (Kansas City, Des Moines, Oklahoma City, Omaha, St. Louis, Tulsa) | 1,183,903
Los Angeles Hub | 761,080
Minneapolis Hub (Minneapolis, Milwaukee) | 999,008
New York Hub | 599,118
Philadelphia Hub (Philadelphia, Pittsburgh, Charleston, Newark) | 1,138,754
San Francisco Hub (San Francisco, Honolulu, Las Vegas, Phoenix, Sacramento) | 909,427
Seattle Hub (Seattle, Portland, Anchorage) | 707,332
Grand Total | 16,250,000

The Multifamily Housing Hub offices will select applicants for award according to the process discussed in Section V of this program section of the SuperNOFA.

(B) Maximum Grant Award. The maximum amount of funds you may receive for an application with one development is $125,000 and the maximum for an application for two or more developments is $200,000.

(C) Reduction of Requested Grant Amounts. You may be awarded an amount less than requested if:

(1) HUD determines that some elements of your proposed action plan are ineligible for funding;

(2) Insufficient amounts remain under the allocation to fund the full amount you requested, and HUD determines that partial funding is a viable option; or

(3) HUD determines that a reduced grant would prevent duplicative Federal funding.

III. Program Description; Eligible Applicants; Eligible Activities

(A) Program Description. The Federally Assisted Low-Income Housing Drug Elimination Grant program is designed to assist property owners to reduce or eliminate drug-related criminal activity in and around their developments and to provide programs to prevent or eliminate drug use and abuse among their residents. While this program is centered in and around the premises of one or more HUD assisted multifamily housing sites, you are expected to work closely with other community social service and law enforcement organizations to achieve specific program objectives to reduce or eliminate drug-related criminal activity. The development of these strong working partnerships is an essential part of this program and is seen by the Department as necessary for long-term strategies to fight crime and drug abuse. Thus, while your activities are targeted in and around one or more developments, HUD expects you to link your activities with services available in your community. In particular, HUD is seeking plans that provide successful, proven, and cost-effective deterrents to drug-related crime and drug abuse that are designed to address the realities of federally assisted low-income housing environments.

(B) Eligible Applicants

(1) To be eligible for funding, you must meet all of the applicable threshold requirements of Section II(B) of the General Section of the SuperNOFA and must be owners of developments assisted under the following programs:

(a) Sections 221(d)(3) below market interest rate, or 236 of the National Housing Act;

(b) Section 101 of the Housing and Urban Development Act of 1965; or

(c) Any development receiving project-based assistance under Section 8 of the United States Housing Act of 1937. This includes Section 202, Section 515, State Housing Finance Agency, Moderate Rehabilitation, Section 8 New Construction and Substantial Rehabilitation, 221(d)(3), 221(d)(4), and 236 developments.

(2) If you are a management agent, you may prepare applications and sign application documents if you provide written authorization from the owner as part of your application.

(3) If your eligibility status changes during the course of the grant term, making you ineligible to receive a grant (e.g. due to prepayment of mortgage, sale of property, or opting out of a Section 8 Housing Assistance Payment (HAP) contract), HUD has the right to terminate your grant.

(4) To be eligible, developments must also meet the following criteria:

(a) Are current in mortgage payments or are current under a workout agreement;

(b) Meet HUD's Uniform Physical Conditions Standards (codified in 24 CFR part 5, subpart G), based on the most recent physical inspection report and responses thereto, as evidenced by a score of 60 or better or an approved plan for developments scoring less than 60, and

(c) Are in compliance with your regulatory agreement, HAP Contract, and other outstanding directives.

(5) Eligible owners may apply for and receive both Multifamily Housing Drug Elimination Grants and New Approach Anti-Drug grants.

(C) Eligible Activities. Your proposed drug elimination program should foster interrelationships among the residents, the housing owner and management, the local law enforcement agencies, and other community groups affecting your development. Resident participation in the determination of programs and activities to be undertaken is critical to the success of all aspects of your program. In addition to working closely with the development's residents, your program must include working with community groups, the neighborhood law enforcement precinct, residents of adjacent developments, and the community as a whole to enhance and magnify the effect of your specific program activities. HUD seeks result-oriented programs that promote stability, positive and lasting changes in and around your development and the surrounding community, and which use proven cost-effective measures to reduce drug use or prevent criminal activity.

With the very real need to protect occupants of HUD-assisted housing and the areas around the housing, the civil rights of all citizens must be protected. Your proposed strategies should be developed to ensure that crime-fighting and drug prevention activities are not undertaken in such a manner that civil rights or fair housing statutes are violated. You may not use race, color, sex, religion, national origin, disability, or familial status to profile persons as suspects or otherwise target them in conducting these activities. In addition, all segments of the population should be represented in developing and implementing your crime-fighting strategies.

(1) Physical Improvements To Enhance Security. All physical improvements must be accessible to persons with disabilities and must meet the accessibility requirements of 24 CFR part 8, Nondiscrimination Based on Handicap in Federally Assisted Programs and Activities of the Department of Housing and Urban Development. In addition, such physical improvements must support or enhance visitability for people with mobility impairments.

Your physical improvements may include systems to limit building access to development residents; installation of barriers, lighting systems, fences, bolts, locks; landscaping or reconfiguration of common areas to discourage drug-related crime; or other physical improvements that enhance security and discourage drug-related activities. Rehabilitation of existing space for use by drug-related intervention and prevention programs is an eligible activity.

(2) The provision of training, communications equipment, and other related equipment for use by voluntary tenant patrols acting in cooperation with local law enforcement officials is an eligible activity.

(3) Programs to Reduce the Use of Drugs. Programs to reduce the use of drugs in and around your development, including drug-abuse prevention, intervention, referral, and treatment are eligible for funding. Where appropriate, you must establish a confidentiality policy regarding medical and disability-related information. Funding is permitted for reasonable, necessary, and justified leasing of vehicles for resident youth and adult education and training activities directly related to “programs to reduce the use of drugs” under this section. All such services and educational and training programs must be fully accessible to people with disabilities.

(a) Drug Prevention. Your drug prevention activities should provide a comprehensive drug prevention approach that will address the individual resident and his or her relationship to family, peers, and the community. Prevention activities should identify and change the conditions in federally assisted low-income housing that lead to drug-related problems and lower the risk of drug usage. Many components of a comprehensive approach, such as refusal and restraint skills training or drug-related family counseling, may already be available in your community. Your plan should include bringing program components already available in the community onto the premises. Proposed activities may include the following:

(i) Drug Education Opportunities for Residents. Activities should provide both young people and adults with the working knowledge and skills needed to avoid the potential and immediate dangers of illegal drugs. You may contract (in accordance with 24 CFR 85.36) with drug education professionals to provide training or workshops. Contracted drug education services must reflect or be tied to your program plan.

(ii) Family and Other Support Services. Prevention programs should be designed to help foster successful family relationships that may inhibit or reduce drug use. Examples of services include parenting skills workshops, short-term family counseling, child care, or family, cultural or educational programs. You may provide these programs directly or refer residents to such services already available in your community.

(iii) Youth Services. If you propose drug prevention services in your plan and your development has a substantial number of young residents, HUD strongly encourages you to include youth in your prevention programs. Your proposed prevention activities for youth must involve the active participation of youth in planning programs and service delivery. Such youth-oriented drug prevention programs may include youth leadership skills training; events incorporating dissemination of drug education information; and sports, recreational, cultural, and general education activities.

(iv) Economic/Educational Opportunities. Eligible economic or educational programs should have the objectives of assisting residents in improving their educational status, vocational and job readiness skills, and opportunities for obtaining employment. The ultimate goal of services should be to assist residents in obtaining suitable lifelong employment and self-sufficiency to deter drug use, abuse, and related crime.

(b) Intervention. The aim of intervention is to provide residents with substance abuse/dependency remission services to assist them in modifying their behavior; obtaining early treatment and structured aftercare; and maintaining remission. Your program should also be designed to prevent drug problems from continuing once detected. If you propose any intervention program that seeks to accomplish the above objectives, you must describe how you expect the activities to assist residents in reducing or ceasing their use of illicit drugs and involvement in drug-related crime.

(c) Drug Treatment. If your program provides treatment services, they must be targeted to the development and its residents. Your program should be conducted in and around the premises of the development, or residents must be referred to receive treatment from other available sources within the community. You may include implementing new drug referral treatment or aftercare services, or improve or expand currently available services. Your proposed drug treatment program should aim to reduce illicit drug use among residents by increasing resident accessibility to, and effective participation in, drug treatment activities, and decreasing criminal activity in and around your development. Your proposed plan must demonstrate a working partnership with your Single State Agency (or State license provider or authority with drug program coordination responsibilities in your State) to coordinate, develop, and implement your drug treatment program. In particular, you and the appropriate agency must confirm that your proposed drug treatment provider(s) has provided these services to similar populations for two prior years and your drug treatment program is consistent with the State treatment plan, meeting all State licensing requirements. Services eligible for funding may include:

(i) Drug treatment supportive services designed for youth and/or maternal drug abusers. Examples of services are: prenatal/postpartum care; specialized counseling for women; or, parenting classes. You are encouraged to draw upon approaches that have proven effective with similar populations.

(ii) Formal referral arrangements to treatment programs not in and around the development when treatment funding from sources other than this program are available.

(iii) Transportation for residents to out-patient treatment and/or support programs.

(iv) Family/collateral counseling.

(v) Linking programs with educational/vocational counseling.

(vi) Coordinating services with appropriate local drug agencies, HIV-related service agencies, and mental health and public health programs.

(D) Ineligible Activities. The following activities are not eligible for funding:

(1) Hiring of or contracting employment security guards to provide security services in and around the development.

(2) Any activity or improvement that is normally funded from project operating revenues for routine maintenance or repairs, or those activities or improvements that may be funded through reasonable and affordable rent increases;

(3) The acquisition of real property or those physical improvements that involve the demolition of any units in your development or displacement of tenants;

(4) Costs incurred prior to the effective date of your grant agreement, including consultant fees for surveys related to your application or its preparation;

(5) Reimbursement of local law enforcement agencies for additional security and protective services;

(6) Employment of one or more individuals to investigate drug-related crime in and around federally-assisted low-income developments and/or to provide evidence relating to such crime in any administrative or judicial proceeding;

(7) Treatment of residents at any in-patient medical treatment programs or facilities;

(8) Detoxification procedures designed to reduce or eliminate the presence of toxic substances in body tissues of a patient;

(9) Maintenance drug programs; [Maintenance drugs are medications that are prescribed regularly for a long period of supportive therapy (e.g., methadone maintenance), rather than for immediate control of a disorder.]

(10) Programs to treat alcoholism; and

(11) Funding of police informants who provide information about drug-related activity.

IV. Program Requirements

In addition to the requirements listed in Section II of the General Section of this SuperNOFA, you must also meet the additional requirements in Section IV of this program section of the SuperNOFA. These requirements apply to all activities, programs, and functions used to plan, budget, and evaluate the work funded under your program.

(A) Administrative Costs. Administrative costs cannot exceed 10% of your proposed program's total cost. HUD will look more favorably upon proposals that target grant funds to hard program costs and propose minimal, if any, administrative expenses.

(B) Term of Funded Activities. Your grant term cannot exceed twelve months.

(C) Multiple Developments. There is no limit to the number of developments that can be included in your application. However, if you include more than one development in your application, all developments must be eligible and located in the same Field Office jurisdiction. In addition, you must demonstrate in your response to Rating Factor 3 “Soundness of Approach—(Quality of the Plan)” that your program will be feasible to implement among all proposed developments.

(D) Subgrants and Subcontracting. You may directly undertake or subcontract for any of the eligible activities under this Multifamily Drug Elimination Program section of the SuperNOFA. Resident groups that are not incorporated may work with you in the implementation of your program, but may not receive funds as subgrantees.

(E) Collection of Crime Data. If you receive a grant, you will be required to collect and report on Parts I and II crime data. Parts I and II crime data are defined by the Uniform Crime Reporting (UCR) System (see Rating Factor 2, paragraph (1)(d)).

(F) Forms, Certifications and Assurances. See the General Section of the SuperNOFA for the applicable forms, certifications, and assurances that you must submit. This includes a certification that you are in compliance with Federal Civil Rights laws, as specified in Section II(G)(7) of the General Section of this SuperNOFA.

(G) Affirmatively Furthering Fair Housing. You must comply with Section II(D) of the General Section of this SuperNOFA.

(H) Federal Labor Standards. In accordance with 24 CFR 761.40, when grant funds are used to undertake physical improvements to assisted multifamily housing, you must comply with Davis-Bacon prevailing wage requirements.

V. Application Selection Process

(A) Rating and Ranking. All applications will be evaluated competitively and ranked against applications in the same Field Office.

The maximum number of points for this program is 102. This includes two Empowerment Zone/Enterprise Community (EZ/EC) bonus points, as described in the General Section of the SuperNOFA. For bonus points related to activities located in Empowerment Zones or Enterprise Communities, you must demonstrate that there is a connection between such EZ or EC and tenant, local government, and local community support and participation in the design and implementation of the proposed activities to be funded under this program.

(B) Distribution of Funds. This year HUD will distribute funds to each Multifamily Housing Hub Office, in proportion to the number of eligible developments in that area. Each Multifamily Hub Office may recommend a total number of awards up to the dollar amount allocated for the area covered by the Hub Office. Hub Offices will receive the scores from each HUD Field Office which has received, rated, and ranked its applications.

The Hub Offices will conduct the selection process as follows: Where a Multifamily Hub covers more than one Field Office jurisdiction, the Hub Office will first select the highest ranked application in each Field Office for funding. After this selection, the Hub will use remaining funds to fully fund as many applications as possible in rank order, regardless of Field Office. Hub Offices representing only one Field Office shall use their distribution of funds to fully fund in rank order as many applications as possible. Any funds still remaining after the Hub Office distribution by rank will be forwarded to Headquarters, which shall make awards to fund as many remaining applications as possible by national rank order. All applications must receive a score equal to or greater than the minimum score of 70 without bonus points to be considered for funding.

This process balances a geographic distribution with a process that gives priority to the most highly rated applications. Your application will primarily compete for funding with other applications submitted within that same Hub Office jurisdiction.

(C) Procedure to Resolve Tied Scores. If two or more applications have the same score and there are insufficient funds to fund all of them, the application with the highest score for the Soundness of Approach rating factor shall be selected for funding. If a tie still remains, the application with the highest score for the Capacity of the Applicant and Relevant Organizational Experience rating factor shall be selected. Further tied applications will be selected by their scores in the Need/Extent of Problem, Leveraging Resources, and Comprehensiveness and Coordination rating factors, in that order. If the applications received the same score for each of the five factors, the Multifamily Hub Office or Headquarters will break the remaining tie by selecting the application whose developments(s) are in most financial need based on a per unit negative cash flow analysis of the most recent Annual Financial Statement (AFS).

(D) Factors for Award Used to Evaluate and Rate Applications. The five factors in this section total 100 points. An application must receive a score of at least 70 points to be eligible for funding under this competition. Each application submitted will be evaluated using the following selection criteria set forth below.

Rating Factor 1: Capacity of the Applicant and Relevant Organizational Experience (20 Points)

This factor addresses the extent to which you have organizational resources necessary to successfully implement your proposed activities in a timely manner. In rating this factor, HUD will consider the extent to which you demonstrate the capabilities described below.

(1) (20 points) Administrative Capacity.

(a) The knowledge and experience of your staff and your administrative capacity to manage grants, including administrative support functions, procurement, lines of authority, and fiscal management capacity. Your narrative must include a discussion of financial capacity, staff resources, and prior experience that will enable you to effectively administer a grant and meet reporting requirements. Your narrative should not exceed five pages.

(b) HUD's evaluation approach. (i) For Public Housing Authorities (PHAs) and tribally designated housing entities (TDHEs) that had previously applied as IHAs, HUD will also consider such measurements as the uniform crime index, physical inspections, agency monitoring of records, Line of Credit Control System (LOCCS) Reports, audit and such other relevant information available to HUD on the capacity of the owner or manager to administer the grant.

(ii) For owners of federally-assisted low income housing, HUD will also consider the most recent Management Review (including Rural Housing Management Review), HUD's Uniform Physical Conditions Standards review, State Agency review, physical inspection, and other relevant information available to HUD on the capacity of the owner and manager to undertake the grant.

(2) (Deduct up to 5 points for prior poor performance) Your performance in administering Drug Elimination funding in the previous 5 years. HUD will consider your participation in HUD grant programs within the preceding five years and evaluate the degree of your success in implementing and managing these grant programs. HUD will look at program implementation, timely drawdown of funds, timely submission of required reports with satisfactory outcomes related to the plan and timetable, audit compliance, whether there are any unresolved findings from prior HUD reports (e.g., performance or finance) reviews of audits undertaken by HUD, the Office of Inspector General, the General Accounting Office or independent public accountants).

For PHAs, your past experience will be evaluated in terms of your ability to attain demonstrated measurable progress in tracking drug related crime, enforcement of screening and lease procedures in implementation of the “One Strike and You're Out Initiative” (as applicable), the extent to which you have formed a collaboration with Tribal, State and local law enforcement agencies and courts to gain access to criminal conviction records of potential tenants to determine their suitability for residence in public housing. Such data will be measured and evaluated based on your public housing assessment score (24 CFR parts 901/902).

Rating Factor 2: Need/Extent of the Problem (25 Points)

This factor addresses the extent to which there is a need for funding your proposed program activities to address a documented problem in the target area (i.e., the degree of the severity of the drug-related crime problem in the development(s) proposed for funding). In responding to this factor, HUD will evaluate your application based on the extent to which a critical level of need for your proposed activities is explained and you provide a justification for the urgency of meeting the need in your development(s) and the area around your development(s). Your application must include a description of the extent and nature of drug-related crime “in and around” the housing units or development(s) you propose for funding.

(1) Drug-Related Crime Statistics. (23 Points) You will receive up to 23 points for this factor if your statistics and explanation of need establish critical crime problems and an urgency to address these problems in and around your development(s). To receive the maximum number of points, you must provide statistics for both the premises of your development(s) and the smallest geographic area surrounding your development(s) for which objective statistics are available in your community, town, or city. If you use statistics from institutions (e.g. hospitals or schools), the institutions must directly serve the residents of the targeted development(s). If the statistics you provide do not indicate a critical need, urgency to meet this need, or you do not provide statistics that document the need within your development(s) or the area around your development(s), you will not receive the maximum number of points. If you do not submit the letter or documentation for the “non-objective” data, indicated in paragraph 2(a), below, you will also receive fewer points.

The statistics and information you provide must include the following:

(a) “Objective Crime Data” relevant to the target area. Such data should consist of verifiable records and not anecdotal reports. Where appropriate, the statistics should be reported both in real numbers and as an annual percentage of the residents in each development (e.g., 20 arrests in a one-year period for distribution of heroin in a development with 100 residents reflects a 20% occurrence rate). Such data may include:

(i) Police records or other verifiable information from records on the types or sources of drug related crime in the targeted development and surrounding area;

(ii) The number of lease terminations or evictions for drug-related crime at the targeted development; and

(iii) The number of emergency room admissions for drug use or that result from drug-related crime. Such information may be obtained from police Departments and/or fire departments, emergency medical service agencies and hospitals. The number of police calls for service from your development that include resident initiated calls, officer-initiated calls, domestic violence calls, drug distribution complaints, found drug paraphernalia, gang activity, graffiti that reflects drugs or gang-related activity, vandalism, drug arrests, and abandoned vehicles.

(iv) To the extent possible, you should obtain statistics on Part I and Part II crimes, as defined by the Uniform Crime Reporting (UCR) System. Part 1 crimes include: criminal homicide, forcible rape, robbery, aggravated assault two (including domestic violence through use of a weapon or by means likely to produce death or great bodily harm), burglary-breaking or entering, larceny-theft (except motor vehicle theft), motor vehicle theft, and arson. Part II crimes include: assaults, forgery and counterfeiting, fraud, embezzlement, vandalism, weapons (carrying or possessing), prostitution and commercialized vice, sex offenses (except forcible rape, prostitution, and commercialized vice), drug abuse violations, gambling, offenses against the family and children, driving under the influence, violation of liquor laws, drunkenness, disorderly conduct, vagrancy, all other offenses related to curfew and loitering laws and runaways.

For PHAs, such data should include housing authority police records on the types and sources of drug related crime “in and around” developments as reflected in crime statistics or other supporting data from Federal, State, Tribal, or local law enforcement agencies.

(b) Other Crime Data. If you are unable to attain objective crime statistics as mentioned above, you may submit other supporting, verifiable data on the extent of drug-related crime in the target area. If you submit other relevant information in place of objective data, you must provide the following to receive the maximum number of points:

(i) A letter or supporting documentation from your local law enforcement agency or another relevant neighborhood organization explaining why the objective data mentioned above is not available, and

(ii) A narrative explanation of the reasons why objective data could not be obtained, what efforts were made to obtain it, and what efforts will be made (if possible) during the grant period to begin obtaining the data. Such data may include the following:

—Surveys of residents and staff in the targeted development surveyed on drug-related crime or on-site reviews to determine drug/crime activity; and government or scholarly studies or other research in the past year that analyze drug-related crime activity in your targeted development.

—Vandalism cost at your targeted development, to include elevator vandalism (where appropriate) and other vandalism attributable to drug-related crime.

—Information from schools, health service providers, residents and Federal, State, local, and Tribal officials, and the verifiable opinions and observations of individuals having direct knowledge of drug-related crime, and the nature and frequency of these problems in your development proposed for assistance. (These individuals may include Federal, State, Tribal, and local government law enforcement officials, resident or community leaders, school officials, community medical officials, substance abuse, treatment (dependency/remission) or counseling professionals, or other social service providers.)

—The school dropout rate and level of absenteeism for youth that you can relate to drug-related crime.

—To the extent that the community's Consolidated Plan identifies the level of the drug abuse and related crime problems in and around your targeted development, and the urgency in meeting the need, references to these documents should be included in your response. You will receive more points if you use these documents to identify need.

(2) Development Need Based on Prior Award. (2 points) If you have not received an award for the development(s) submitted in your FY 2001 application in the FY 1998, 1999, or 2000 competitions, you will receive two points. If you submit an application with multiple developments and one or more developments did not receive an award in FY 1998, 1999, or 2000, you will receive one point.

Rating Factor 3: Soundness of Approach—(Quality of the Plan) (35 Points)

This factor addresses the quality and effectiveness of your proposed work plan. In rating this factor, HUD will consider the impact of your proposed activities and the tangible benefits that can be attained by the community and by the target population. Your application must include a detailed narrative describing each proposed activity for crime reduction and elimination efforts for each development proposed for assistance, the amount and extent of resources committed to each activity or service proposed, and process used to collect, maintain, analyze and report Part I and II crimes as defined by the Uniform Crime Reporting (UCR System, as well as police workload data.

In evaluating this factor, HUD will consider the following:

(1) (14 points) Your plan's approach to address the drug-related crime problem and associated problems in the development proposed for funding, the resources allocated, and the extent to which your proposed activities are targeted to residents, provide for linkages with existing community resources, and are likely to have long term impacts on reducing drug use and drug-related crime in and around your targeted development. Also, you must include the rationale for the proposed activities and methods to be used in developing your program and approach to reducing drug-related crime and drug abuse. If you propose drug prevention or intervention activities, these services must constitute a continuing and comprehensive approach to deter drug use or abuse among your residents and their neighbors. Your proposal must demonstrate how your activities work together with other on-going activities in the community and how these activities rely upon each other to form a holistic plan. Your plan must include the following items. If these are not included, you will receive fewer points under this subfactor:

(a) An explanation of how any proposed physical improvements, services, and training programs will be accessible and visitable to persons with disabilities and a statement that they will meet the accessibility requirements of 24 CFR part 8, Nondiscrimination Based on Handicap in Federally Assisted Programs and Activities of the Department of Housing and Urban Development;

(b) A discussion of how any drug education services that you propose to undertake directly or through a subcontract will reflect the objectives of your program plan;

(c) A specific explanation of how you plan to incorporate the active participation of youth in planning prevention programs and services targeted to their needs; and

(d) If you propose drug treatment activities, you must provide a letter from your Single State Agency (or State license provider or authority with drug program coordination responsibilities in your State) that states that your program is effectively coordinating, developing, and implementing drug treatment programs in partnership with that entity.

(2) (10 points) The anticipated effectiveness of your plan and proposed activities in reducing or eliminating drug-related crime problems immediately and over an extended period. This should include the following:

(a) A description of established performance goals for the results to be achieved during the period of your grant. The goals must be objective, quantifiable, and measurable, and they must be outcome or result-oriented. Outcomes include accomplishments, results, impact and the ultimate effects of the program on the drug or crime problem in the target/development area.

(b) An explanation of how your proposed activities enhance and are coordinated with on going or proposed programs sponsored by HUD, such as Neighborhood Networks, Campus of Learners, Operation Safe Home, “One Strike and You're Out”, Department of Justice Weed and Seed efforts, or any other prevention/intervention/treatment activities in your community. Explain the specific steps you will take to share and coordinate information on solutions and outcomes with other law-enforcement and governmental agencies, and a description of any written agreements in place or that will be put in place by you with these entities.

(3) (3 points) Evidence and explanation of how proposed activities have been effective in similar circumstances in controlling drug-related crime. If you are proposing new methods for which there is limited knowledge of effectiveness, you should provide the basis for modifying past practices and rationale for why you believe the modification will yield more effective results.

(4) (3 points) The process you will use to maintain, analyze, and report Part I and II crimes, as well as police workload data. Police workload data may include, but are not limited to: all calls for service by residents of your development, crime pattern over a period of time by type of crime, and plans to improve data collection and reporting. Your proposed analysis of the data collected must include a method for assessing the impact of activities on the collected crime statistics throughout your award period. The results of your activities and the effect on statistics is of much greater importance than the method you will use to collect such data, so you should pay attention to the benchmarks you establish for measuring and evaluating your performance, particularly measuring changes in crime rates by Part I and Part II crime data.

(5) (1 point deducted if not addressed) The extent to which your program to eliminate crime in your development or neighborhood will expand fair housing choice and will affirmatively further fair housing. Provide a brief statement outlining the benchmarks you will use to measure your success in affirmatively furthering fair housing through this program. This may include such items as making physical improvements accessible to persons with disabilities, lower vacancy and turnover rates and increased new applications for housing in your development and in other rental properties in your neighborhood, new businesses and other community development initiatives in your area, or increased rates of homeownership in your community.

(6) (5 points) Resident Support. The extent to which you have sought the support of residents in planning and implementing the proposed activities.

(a) You must provide evidence that you actively sought comments, suggestions, and support from residents for your proposed plan. State the steps you took to obtain this information and support. Demonstrate that you made your proposed plan available and that you requested comments in the language(s) of the tenants residing in your development(s).

(b) Describe and provide written documentation of these comments, suggestions, and support. HUD needs clear evidence that the residents agree with, support, and will work with your proposed program. If applicable, you must explain why you do not have written documentation of such support or did not receive any comments or suggestions.

(c) Describe how residents will be involved in implementing your program. If involvement would be minimal or not appropriate, please state and explain why.

Rating Factor 4: Leveraging Community Resources (10 Points)

To receive points under this rating factor, you must provide evidence of the level and type of participation and support by the local government or law enforcement agency for your proposed activities. This should include the level of assistance received from local government, community organizations, and/or law enforcement agencies. If a community organization is providing you with staff or supporting services, you must include a letter from each organization providing staff or support in order to receive maximum points. Each letter must specify what type of participation or contributions the organization will make to your program. Such letters must be from businesses, non-profit or public agencies within your unit of general local government (i.e. county, town, city) or incorporated resident organizations. Letters stating general support or from people or organizations not in and around your development are not relevant and you should not include them in your application.

Rating Factor 5: Comprehensiveness and Coordination (10 Points)

This factor addresses the extent to which you coordinate your activities with other known organizations, participate or promote participation in your community's Consolidated Planning process, and are working towards addressing a need in a holistic and comprehensive manner through linkages with other activities in the community.

In evaluating this factor, HUD will consider your prior efforts and future plans to coordinate with other local agencies and organizations as follows:

(1) (3 points) Describe past efforts to coordinate your proposed activities with those of other groups or organizations prior to submission of your application in order to best complement, support, and coordinate all known activities. Explain what specific steps you will take to share information on solutions and outcomes with others. Please describe any written agreements or memoranda of understanding that are or will be in place after award.

(2) (6 points) Explain what specific steps you have taken or will take to develop linkages or coordinate comprehensive solutions through meetings, information networks, planning processes, or other mechanisms. Explain your past efforts or planned efforts for involvement with such programs or other HUD-funded projects/activities outside the scope of those covered by the Consolidated Plan; and/or other Federal, State, or locally funded activities, including those proposed or on-going in the community.

(3) (1 point) Explain specific steps you have taken or will take to become active in your community's Consolidated Planning process (including the Analysis of Impediments to Fair Housing Choice) established to identify and address a need/problem that is related to the activities you propose.

VI. Application Submission Requirements

(A) There is no limit to the number of developments per application. However, all developments in one application must be eligible and located in the same Field Office jurisdiction. You must demonstrate in Rating Factor 3 “Soundness of Approach—(Quality of the Plan)” that your program will be feasible to implement among all proposed developments. In addition, you must provide pertinent information for each Rating Factor for each proposed development.

(B) Your application must contain the items listed in this Section VI(B). These items include the standard forms, certifications, and assurances listed in the General Section of the SuperNOFA that are applicable to this funding (collectively, referred to as the “standard forms”). The standard forms can be found in Appendix B to the General Section of the SuperNOFA. The remaining application items that are forms (i.e., excluding such items as narratives, letters, referred to as the “non-standard forms” can be found as Appendix B to this program section of the SuperNOFA: The items are as follows:

Standard Forms

—Standard Form for Application for Federal Assistance (SF-424) (which includes civil rights/fair housing certification);

—Federal Assistance Funding Matrix and Certifications (HUD-424M);

—Standard Form for Budget Information—Non-Construction Programs (SF 424A);

—Standard Form for Assurances—Non-Construction Programs (SF-424B);

—Drug Free Workplace Certification (HUD-50070);

—Certification of Payments to Influence Federal Transactions (HUD-50071) and if engaged in lobbying, the Disclosure Form Regarding Lobbying (SF-LLL):

—Applicant/Recipient Disclosure/Update Report Form (HUD-2880);

—Acknowledgment of Application Receipt (HUD-2993)

Other Application Items

(1) Application Cover Letter that outlines and explains the application structure; includes the name of a contact person and a number where he/she can be reached, and provides any other information you feel would assist HUD in reviewing your application.

(2) Applicant Data Input Form.

(3) Abstract of Proposed Program, consisting of one paragraph which summarizes your proposed program.

(4) Rating Factor 1 Narrative. A narrative, not to exceed five pages, which includes a discussion of your organization's financial capacity, staff resources, and prior experience that will enable you to effectively administer a grant and meet reporting requirements.

(5) Rating Factor 2 Narrative and Statistics. The narrative and data must describe critical level of need for your proposed activities and a justification for the urgency of meeting the need in your development(s) and the area around your development(s). The description must indicate the extent and nature of drug-related crime.

(a) “Objective Crime Data” (i.e. statistics and other information) relevant to the target area, or

(b) Other supporting, verifiable data on the extent of drug-related crime in the target area. If you submit other relevant information in place of objective data, you must also provide the following:

(i) A letter or supporting documentation from your local law enforcement agency or another relevant neighborhood organization explaining why objective data are not available, and

(ii) A narrative explanation of the reasons why objective data could not be obtained, what efforts were made to obtain them, and what efforts will be made (if possible) during the grant period to begin obtaining the data.

(6) Rating Factor 3 Narrative. A narrative describing your plan's approach to address the drug-related crime problem and associated problems in the development proposed for funding. The narrative must include:

(a) An explanation of the anticipated effectiveness of your plan and proposed activities in reducing or eliminating drug-related crime problems immediately and over an extended period.

(b) Evidence and explanation of how proposed activities have been effective in similar circumstances in controlling drug-related crime.

(c) A description of the process you will use to maintain, analyze, and report Part I and II crimes, as well as police workload data.

(d) An explanation of the extent to which your program to eliminate crime in your development or neighborhood will expand fair housing choice and will affirmatively further fair housing.

(e) Evidence that you actively sought comments, suggestions, and support from residents for your proposed plan. Provide written documentation of these comments, suggestions, and support. If applicable, you must explain why you do not have written documentation of such support or did not receive any comments or suggestions. Describe how residents will be involved in implementing your program.

(f) Drug Treatment Program Certification (if applicable).

(7) Rating Factor 4 Narrative and Letters. The narrative and letters must provide evidence of the specific type of participation, assistance, or other support received from local government, community organizations, and/or law enforcement agencies for your proposed activities. If a community organization is providing you with staff or supporting services, you must include a letter from each organization providing staff or support.

(8) Rating Factor 5 Narrative. The narrative must describe your past efforts to coordinate your proposed activities with those of other groups or organizations prior to submission of your application. The narrative must include;

(a) An explanation of the specific steps you have taken or will take to develop linkages or coordinate comprehensive solutions through meetings, information networks, planning processes, or other mechanisms. Explain your past efforts or planned efforts for involvement with relevant community activities.

(b) An explanation of the specific steps you have taken or will take to become active in your community's Consolidated Planning process.

VII. Corrections to Deficient Applications

The General Section of the SuperNOFA provides the procedures for corrections to deficient applications.

VIII. Environmental Requirements

It is anticipated that most activities under this program are categorically excluded from NEPA and related environmental authorities under 24 CFR 50.19(b)(3), (4), (12), or (13). If grant funds will be used to cover the cost of any activities which are not exempted from environmental review requirements—such as acquisition, leasing, construction, or building rehabilitation, HUD will perform an environmental review to the extent required by 24 CFR part 50, prior to grant award.

IX. Authority

This program is authorized under Chapter 2, subtitle C, title V of the Anti-Drug Abuse Act of 1988 (42 U.S.C. 11901 et. seq.), as amended by section 581 of the National Affordable Housing Act of 1990 (Pub.L. 102-550) and section 161 of the Housing and Community Development Act of 1992, (Pub.L. 102-550), and further amended by Title V, Subtitle F, section 586 of the Fiscal Year 1999 HUD Appropriations Act (Pub.L. 105-276, approved October 21, 1998). The regulations for the program are found in 24 CFR part 761, Drug Elimination Programs.

Appendix A—HUD Field Office List for Multifamily Housing

Alabama

Multifamily Housing Program Center, HUD—Birmingham Office, 600 Beacon Parkway West, Rm. 300, Birmingham, AL 35209-3144, OFC Phone: (205) 290-7611, FAX: (205) 290-7632

Alaska

Multifamily Housing Hub, HUD Seattle Office, 909 First Avenue, Suite 190, MS-0AHM, Seattle, WA 98104-1000, OFC Phone: (206) 220-5228 ext. 3250, FAX: (206) 220-5206

Arizona

Multifamily Housing Program Center, HUD Phoenix Office, 400 North Fifth Street, Suite 1600, Phoenix, AZ 85004-2361, OFC Phone: (602) 379-4434, FAX: (602) 379-3985

Arkansas

Multifamily Housing Program Center, HUD Little Rock Office, 425 West Capitol Avenue #900, Little Rock, AR 72201-3488, OFC Phone: (501) 324-5401, FAX: (501) 324-6142

California

Multifamily Housing Hub, HUD—San Francisco Office, 450 Golden Gate Avenue, PO Box 36003, San Francisco, CA 94102-3448, OFC Phone: (415) 436-6505, FAX: (415) 436-8996

Los Angeles Multifamily Hub, 611 West Sixth Street, Suite 800, Los Angeles, CA 90017, OFC Phone: (213) 894-8000 x 3634, Fax: (213) 894-8255

Colorado

Multifamily Housing Hub, HUD Denver Office, 633 17th Street, 11th Floor, Denver, CO 80202-3607, OFC Phone: (303) 672-5343, FAX: (303) 672-5153

Connecticut

Multifamily Housing Program Center, HUD—Hartford Office, One Corporate Center, 19th floor, Hartford, CT 06103-3220, OFC Phone: (860) 240-4800 Ext. 3068, FAX: (860) 240-4850

Delaware

Multifamily Housing Hub, HUD Philadelphia Office, The Wanamaker Building, 100 Penn Square, East, Philadelphia, PA 19107-3380, OFC Phone: (215) 656-0609 Ext. 3533, FAX: (215) 656-3427

District of Columbia

Multifamily Housing Program Center, HUD Washington, DC Office, Suite 300, 820 First Street, 0, Washington, DC 20012-4205, OFC Phone: (202) 275-9200, FAX: (202) 275-9212

Florida

Multifamily Housing Hub, HUD—Jacksonville Office, 301 West Bay Street, Suite 2200, Jacksonville, FL 32202-5121, OFC Phone: (904) 232-1777 x2144, FAX: (904) 232-2731

Georgia

Multifamily Housing Hub, HUD—Atlanta Office, Five Points Plaza Building, 40 Marietta Street, SW, Atlanta, Georgia 30303-2806, OFC Phone: (404) 331-4976, FAX: (404) 331-4028

Hawaii

Multifamily Housing Program Center, HUD Honolulu Office, 7 Waterfront Plaza, 500 Ala Moana Blvd. #500, Honolulu, HI 96813-4918, OFC Phone: (808) 522-8185 Ext. 244, FAX: (808) 522-8194

Idaho

Multifamily Housing Hub, HUD Seattle Office, 909 First Avenue, Suite 190, MS-0AHM, Seattle, WA 98104-1000, OFC Phone: (206) 220-5228 ext. 3250, FAX: (206) 220-5206

Illinois

Multifamily Housing Hub, HUD—Chicago Office, Ralph Metcalfe Federal Building, 77 West Jackson Boulevard, Chicago, IL 60604-3507, OFC Phone: (312) 353-6236 Ext. 2202, FAX: (312) 886-2729

Indiana

Multifamily Housing Program Center, HUD Indianapolis Office, 151 North Delaware Street, Suite 1200, Indianapolis, IN 46204-2526, OFC Phone: (317) 226-6303, FAX: (317) 226-7308

Iowa

Multifamily Housing Program Center, HUD Des Moines Office, 210 Walnut Street, Room 239, Des Moines, IA 50309-2155, OFC Phone: (515) 284-4736, FAX: (515) 284-4743

Kansas

Multifamily Housing Hub, HUD Kansas City Office, 400 State Avenue, Room 200, Kansas City, KS 66101-2406, OFC Phone: (913) 551-6844, FAX: (913) 551-5469

Kentucky

Multifamily Housing Program Center, HUD—Louisville Office, 601 West Broadway, PO Box 1044, Louisville, KY 40201-1044, OFC Phone: (502) 582-6124, FAX: (502) 582-6547

Louisiana

Multifamily Housing Program Center, HUD New Orleans Office, Hale Boggs Bldg.—501 Magazine Street, 9th Floor, New Orleans, LA 70130-3099, OFC Phone: (504) 589-7236, FAX: (504) 589-6834

Maine

Multifamily Housing Program Center, HUD—Manchester Office, Norris Cotton Federal Bldg., 275 Chestnut Street, Manchester, NH 03101-2487, OFC Phone: (603) 666-7684, FAX: (603) 666-7697

Maryland

Multifamily Housing Hub, HUD Baltimore Office, 5th Floor, 10 South Howard Street, Baltimore, MD 21201-2505, OFC Phone: (410) 962-2520 Ext. 3474, FAX: (410) 962-1849

Massachusetts

Multifamily Housing Hub, HUD—Boston Office, O'Neil Federal Building, 10 Causeway Street, Rm. 375, Boston, MA 02222-1092, OFC Phone: (617) 565-5162, FAX: (617) 565-6557

Michigan

Multifamily Housing Hub, HUD Detroit Office, 477 Michigan Avenue, Detroit, MI 48226-2592, OFC Phone: (313) 226-7900, FAX: (313) 226-5611

Multifamily Housing Program Center, HUD Grand Rapids, Trade Center Building, 50 Louis Street, NW., Grand Rapids, MI 49503-2648, OFC Phone: (616) 456-2100, FAX: (616) 456-2191

Minnesota

Multifamily Housing Hub, HUD Minneapolis Office, 220 Second Street, South, Minneapolis, MN 55401-2195, OFC Phone: (612) 370-3051 Ext. 0, FAX: (612) 370-3090

Mississippi

Multifamily Housing Program Center, HUD Jackson Office—McCoy, Federal Building, 100 W. Capitol Street, Room 910, Jackson, MS 39269-1096, OFC Phone: (601) 965-4738, FAX: (601) 965-4773

Missouri

Multifamily Housing Hub, HUD Kansas City Office, 400 State Avenue, Room 200, Kansas City, KS 66101-2406, OFC Phone: (913) 551-6844, FAX: (913) 551-5469

Multifamily Housing Program Center, HUD St. Louis Office, Robert A. Young Federal Building, 1222 Spruce Street—Third Floor, St. Louis, MO 63103-2836, OFC Phone: (314) 539-6382, FAX: (314) 539-6356

Montana

Multifamily Housing Hub, HUD Denver Office, 633 17th Street, 14th Floor, Denver, CO 80202-3607, OFC Phone: (303) 672-5343, FAX: (303) 672-5153

Nebraska

Multifamily Housing Program Center, HUD Omaha Office, 10909 Mill Valley Road, Suite 100, Omaha, NE 68154-3955, OFC Phone: (402) 492-3113, FAX: (402) 492-3184

Nevada

Multifamily Housing Program Center, HUD Las Vegas Office, 333 N. Rancho Drive—Atrium Bldg. Suite 700, Las Vegas, NV 89106-3714, OFC Phone: (702) 388-6525, FAX: (702) 388-6244

New Hampshire

Multifamily Housing Program Center, HUD—Manchester Office, Norris Cotton Federal Bldg., 275 Chestnut Street, Manchester, NH 03101-2487, OFC Phone: (603) 666-7684, FAX: (603) 666-7697

New Jersey

Multifamily Housing Program Center, HUD—Newark Office—13th Floor, One Newark Center, Newark, NJ 07102-5260, OFC Phone: (973) 622-7900 Ext. 3400, FAX: (973) 645-2271.

New Mexico

Multifamily Housing Hub, HUD Ft. Worth Office, 801 Cherry Street, PO Box 2905, Ft. Worth, TX 76102-2905, OFC Phone: (817) 978-5764, FAX: (817) 978-5520

New York

Multifamily Housing Hub, HUD—New York Office, 26 Federal Plaza—Room 3214, New York, NY 10278-0068, OFC Phone: (212) 264-0777 Ext. 3713, FAX: (212) 264-1277

Multifamily Housing Hub, HUD—Buffalo Office, Lafayette Court, 5th Floor, 465 Main Street, Buffalo, NY 14203-1780, OFC Phone: (716) 551-5755 Ext. 5506, FAX: (716) 551-3252

North Carolina

Multifamily Housing Hub, HUD Greensboro Office—Koger Building, 2306 West Meadowview Road, Greensboro, NC 27407, OFC Phone: (336) 547-4034, FAX: (336) 547-4121

North Dakota

Multifamily Housing Hub, HUD Denver Office, 633 17th Street, 14th Floor, Denver, CO 80202-3607, OFC Phone: (303) 672-5343, FAX: (303) 672-5153

Ohio

Multifamily Housing Hub, HUD Columbus Office, 200 North High Street, Columbus, OH 43215-2499, OFC Phone: (614) 469-5737, Ext. 8111 FAX:

(614) 469-2432

Multifamily Housing Program Center, HUD Cincinnati Office, 525 Vine Street, Suite 700, Cincinnati, OH, 45202-3188, OFC Phone: (513) 684-2350, FAX: (513) 684-6224

Multifamily Housing Program Center, HUD Cleveland Office, 1350 Euclid Avenue, Suite 500, Cleveland, OH 44115-1815, OFC Phone: (216) 522-4058 Ext. 7000, FAX: (216) 522-4067

Oklahoma

Multifamily Housing Program Center, HUD Oklahoma City Office, 500 W. Main Street, Suite 400, Oklahoma City, OK 73102-2233, OFC Phone: (405) 553-7410, FAX: (405) 553-7406

Oregon

Multifamily Housing Hub, HUD Seattle Office, 909 First Avenue, Suite 190, MS-0AHM, Seattle, WA 98104-1000, OFC Phone: (206) 220-5228 Ext. 3250, FAX: (206) 220-5206

Pennsylvania

Multifamily Housing Hub, HUD Philadelphia Office, The Wanamaker Building, 100 Penn Square, East, Philadelphia, PA 19107-3380, OFC Phone: (215) 656-0609 Ext. 3533, FAX: (215) 656-3427

Multifamily Housing Program Center, HUD Pittsburgh Office, 339 Sixth Avenue—Sixth Floor, Pittsburgh, PA 15222-2515, OFC Phone: (412) 644-6639, FAX: (412) 644-5872

Puerto Rico

Multifamily Housing Program Center, HUD Caribbean Office, 171 Carlos E. Chardon Avenue, San Juan, PR 00918-0903, OFC Phone: (787) 766-5401, FAX: (787) 766-5522

Rhode Island

Multifamily Housing Program Center, HUD—Providence Office, 10 Weybosset Street, Sixth Floor, Providence, RI 02903-2808, OFC Phone: (401) 528-5230, FAX: (401) 528-5097

South Carolina

Multifamily Housing Program Center, HUD Columbia Office, 1835, Assembly Street, Columbia, SC 29201-2480, OFC Phone: (803) 765-5162, FAX: (803) 253-3043

South Dakota

Multifamily Housing Hub, HUD Denver Office, 633 17th Street, 14th Floor, Denver, CO 80202-3607, OFC Phone: (303) 672-5343, FAX: (303) 672-5153

Tennessee

Multifamily Housing Program Center, HUD—Knoxville Office, 710 Locust Street, SW, Knoxville, TN 37902-2526, OFC Phone: (423) 545-4411, FAX: (423) 545-4578

Multifamily Housing Program Center, HUD—Nashville Office, 251 Cumberland Bend Drive, Suite 200, Nashville, TN 37228-1803, OFC Phone: (615) 736-5748, FAX: (615) 736-2018

Texas

Multifamily Housing Hub, HUD Ft. Worth Office, 801 Cherry Street, PO Box 2905, Ft. Worth, TX 76102-2905, OFC Phone: (817) 978-5764, FAX: (817) 978-5520

Multifamily Housing Program Center, HUD Houston Office, 2211 Norfolk, #200, Houston, TX 77098-4096, OFC Phone: (713) 313-2274 Ext. 7015, FAX: (713) 313-2319

Multifamily Housing Program Center, HUD San Antonio Office, 800 Dolorosa, San Antonio, TX 78207-4563, OFC Phone: (210) 475-6831, FAX: (210) 472-6897

Utah

Multifamily Housing Hub, HUD Denver Office, 633 17th Street, 14th Floor, Denver, CO 80202-3607, OFC Phone: (303) 672-5343, FAX: (303) 672-5153

Vermont

Multifamily Housing Program Center, HUD—Manchester Office, Norris Cotton Federal Bldg. 275 Chestnut Street, Manchester, NH 03101-2487, OFC Phone: (603) 666-7684, FAX: (603) 666-7697

VIrginia

Multifamily Housing Hub, HUD Richmond Office, 3600 West Broad Street, Richmond, VA 23230-4920, OFC Phone: (804) 278-4500 Ext. 3146, FAX: (804) 278-4613

Washington

Multifamily Housing Hub, HUD Seattle Office, 909 First Avenue, Suite 190, MS-0AHM, Seattle, WA 98104-1000, OFC Phone: (206) 220-5228 ext. 3250, FAX: (206) 220-5206

West Virginia

Multifamily Housing Program Center, HUD—Charleston Office, 405 Capitol Street, Suite 708, Charleston, WV 25301-1795, OFC Phone: (304) 347-7000 Ext. 103, FAX: (304) 347-7050

Wisconsin

Multifamily Housing Program Center, HUD Milwaukee Office, 310 West Wisconsin Avenue, Room 1380, Milwaukee, WI 53203-2289, OFC Phone: (414) 297-3214 Ext. 8662, FAX: (414) 297-3204

Wyoming

Multifamily Housing Hub, HUD Denver Office, 633 17th Street, 14th Floor, Denver, CO 80202-3607, OFC Phone: (303) 672-5343, FAX: (303) 672-5153

Appendix B

The non-standard forms, which follow, are required for your Multifamily Housing Drug Elimination Program application.

BILLING CODE 4210-32-P

FUNDING AVAILABILITY FOR THE ECONOMIC DEVELOPMENT INITIATIVE (EDI)

Program Overview

Purpose of the Program. EDI funds are used to enhance the security of a loan guaranteed by HUD under Section 108 of the Act (as defined in Section III(A)(1) below) for the same project, or to improve the viability of the project financed with the Section 108-guaranteed loan. HUD intends to make available $10,728,155 in EDI funds in FY 2001 to stimulate economic development by local governments and private sector parties. HUD desires to see EDI and Section 108 funds used to finance projects and activities that will provide near-term results and demonstrable economic benefits, such as job creation and increases in the local tax base. An EDI grant must be used in conjunction with a new Section 108 guaranteed loan commitment. In FY 2001, HUD seeks to increase economic development opportunity for those areas of the country having the greatest distress.

Available Funds. Although no new funds were appropriated for the EDI program in FY 2001, $10,728,155 from the past two fiscal years is unobligated and therefore HUD proposes to make these funds available for EDI grants in FY 2001. This amount includes $3,710,000 from the Community Empowerment Fund (CEF) Pilot. A notice announcing this pilot program was published in the Federal Register on June 30, 2000. On reconsideration, HUD has decided not to proceed with this pilot program. Please note that there is no separate category for regional economic development applications, unlike last year's SuperNOFA, in this year's competition. The maximum EDI grant awards will be in the amount of $1 million.

Eligible Applicants. Any public entity eligible to apply for and receive loan guarantee assistance under 24 CFR part 570, subpart M. Urban counties, as defined in 24 CFR 570.3 and 570.307, may apply for funding, but units of general local government which participate in the Urban County may not submit an application independent of the Urban County. (See Section III(B) below for additional information regarding eligible applicants.)

Application Deadline. July 6, 2001.

Additional Information

If you are interested in applying for funding under this program, please review carefully the General Section of this SuperNOFA and the following additional information.

I. Application Due Date, Application Kits, Further Information, and Technical Assistance

Application Due Date. Please submit your completed applications (one original and three copies) on or before 12:00 midnight, Eastern time, on July 6, 2001, to the addresses shown below.

See the General Section of this SuperNOFA for specific procedures governing the form of application submission (e.g., mailed applications, express mail, overnight delivery, or hand carried).

Address for Submitting Applications. To HUD Headquarters: The completed application (an original and two copies) should be submitted by mail or hand delivery to: Processing and Control Unit, Room 7251, Office of Community Planning and Development, Department of Housing and Urban Development, 451 Seventh Street, SW, Washington, DC 20410, Attention: EDI Grant.

To the Appropriate CPD Field Office: At the same time the EDI application and copies are submitted to HUD Headquarters, an additional copy should be submitted to the Community Planning and Development Division of the appropriate HUD Field Office for the applicant's jurisdiction.

When submitting the application, please refer to EDI, and include the applicant's name, mailing address (including zip code) and telephone number (including area code), along with the contact person's name and phone number.

For Application Kits. For an application kit and any supplemental information, please call HUD's SuperNOFA Information line toll free at 1-800-HUD-8929. When requesting the application kit, please refer to EDI. Please provide the applicant's name, address (including zip code), and telephone number (including area code), along with the contact person's name and phone number. The application kit also will be available on the Internet through the HUD web site at http://www.hud.gov/grants. Persons with hearing or speech impairments may call the Center's TTY number at 1-800-HUD-2209 to obtain an application kit.

For Further Information and Technical Assistance. Contact Bill Seedyke at (202) 708-1686, extension 4445, of the Office of Economic Development, Department of Housing and Urban Development, 451 Seventh Street, SW, Room 7158, Washington, DC 20410; (this is not a toll-free number). Persons with speech or hearing impairments may access this number via TTY by calling the toll-free Federal Information Relay Service at 1-800-877-8339.

See the General Section of this SuperNOFA for guidance on the provision of technical assistance for EDI grants. The Section 108 Loan Guarantee program is not a competitive program and therefore is not subject to the provisions of the HUD Reform Act pertaining to competitions. HUD staff will be available to provide advice and assistance to develop Section 108 loan applications.

Satellite Broadcast. HUD will hold an information broadcast via satellite for potential applicants to learn more about the program and preparation of the EDI application. For more information about the date and time of the broadcast, please consult the HUD web site at http://www.hud.gov/grants.

II. Amount Allocated

No new funds were appropriated for the EDI program under the FY 2001 HUD Appropriations Act. However, $10,728,155 in funds appropriated for Fiscal Years 1999 and 2000 remain unobligated and available for the EDI program for FY 2001. This amount includes $3,710,000 that had been set aside administratively for the Community Empowerment Fund (CEF) Pilot. A notice announcing this pilot program was published in the Federal Register on June 30, 2000 (65 FR 40836). On reconsideration, HUD has decided not to proceed with this pilot program. For the EDI program, if any additional funds become available during Fiscal Year 2001, HUD may either fund additional applicants in accordance with this program section of the SuperNOFA or may add these funds to any future EDI competitions.

III. Program Description; Eligible Applicants; Eligible Activities

(A) Program Description. EDI funds are used to enhance the security of a loan guaranteed by HUD under Section 108 of the Act (as defined in Section III(A)(1) below) for the same project, or to improve the viability of the project financed with the Section 108-guaranteed loan. An EDI grant must be used in conjunction with a new Section 108 guaranteed loan commitment. Both Section 108 loan guarantee proceeds and EDI grant funds are initially made available by HUD to public entities approved for assistance. Such public entities may re-loan the Section 108 loan proceeds and provide EDI funds to a business or other entity to carry out an approved economic development project, or the public entity may carry out the eligible project itself, as provided in the approved application. In either case, EDI grant funds and the 108 proceeds must be used together to support the same eligible project.

(1) Definitions. Terms used in this program section of the SuperNOFA have the meanings given in 24 CFR part 570 unless otherwise specified.

Act means Title I, Housing and Community Development Act of 1974, as amended (42 U.S.C. 5301-et seq.).

Application means a single set of documents submitted by an eligible applicant for EDI grant funds, in accordance with the provisions of this program section of the SuperNOFA to finance an economic development project. An EDI application must be accompanied by a Section 108 loan guarantee request, which may consist of either a brief summary of the proposed use of 108 funds, or a full application, which may either be submitted at the same time as the EDI application or be provided within 60 days of EDI grant award, as more fully explained in Section IV(C) of this program section. Note that the Section 108 application must be submitted to the appropriate HUD field office concurrently with its submission to Headquarters.

CDBG funds means those funds collectively so defined at 24 CFR 570.3, including grant funds received pursuant to section 108(q) of the Act and this program section of the SuperNOFA.

Economic Development Initiative (EDI) means the competitive award of economic development grant assistance under section 108(q) of the Act, as authorized by Section 232 of the Multifamily Housing Property Disposition Reform Act of 1994 (Pub.L. 103-233, approved April 11, 1994).

Economic development project means an activity or activities (including mixed use projects with housing components) that are eligible under the Act and under 24 CFR 570.703, and that increase economic opportunity for persons of low- and moderate-income, or that stimulate or retain businesses or jobs, or that otherwise lead to economic revitalization.

Empowerment Zone or Enterprise Community means an urban area so designated by the Secretary of HUD pursuant to 24 CFR part 597 or part 598, or a rural area so designated by the Secretary of Agriculture pursuant to 7 CFR part 25, subpart B.

Firm Commitment means either a written agreement or letter of understanding by which an applicant and/or its partner:

(1) agrees to perform an activity specified in the application, and demonstrates its relationship to the proposed EDI project;

(2) specifies the amount of the commitment, and demonstrates that it has the financial and organizational capacity to deliver the resources necessary to successfully complete the activity; if the committed activity is to be self-financed, the applicant's partner must evidence its financial capacity through a corporate or personal financial statement or other appropriate means; and

(3) irrevocably commits the resources to the activity either through cash or in-kind services or contributions; if any portion is to be financed through a grant or loan from another public or private organization, that institution's grant or loan commitment must be firmly committed as well.

Any such agreement or letter of understanding shall be understood as being contingent upon receipt of the EDI grant.

In order for an applicant's commitment of CDBG funds to be counted by HUD, a resolution from the local governing body (e.g., city/borough council) authorizing the amount and permitted use(s) of the funds must be provided. Each agreement or letter of commitment must include the organization's name and proposed total level of commitment and responsibilities as they relate to the proposed EDI project. The commitment must be signed by an official of the organization legally authorized to make commitments on behalf of the organization and have an effective date not earlier than the publication date of the NOFA.

Strategic Plan means a strategy developed and agreed to by the nominating local government(s) and State(s) and submitted in partial fulfillment of the application requirements for an Empowerment Zone or Enterprise Community designated pursuant to 24 CFR part 597 or part 598.

(2) Background. HUD has multiple programs which are intended to stimulate and promote economic and community development. Primary among HUD's resources are the Community Development Block Grant (CDBG) program and the Section 108 Loan Guarantee program.

(a) The CDBG program provides grant funds (approximately $4.44 billion in FY 2001) by formula to eligible local governments (either directly or through States) to carry out community and economic development activities. The Section 108 Loan Guarantee program provides local governments with a source of financing for economic development, public facilities and other eligible large scale physical development projects. HUD is authorized pursuant to Section 108 to guarantee notes issued by CDBG entitlement communities, and non-entitlement units of general local government eligible to receive funds under the State CDBG program. The Section 108 program is subject to the regulations of 24 CFR part 570 applicable to the CDBG program, as described in 24 CFR part 570, subpart M. EDI grants must support Section 108 loan guarantees as generally described in this program section of the SuperNOFA.

(b) For FY 2001, the Section 108 program is authorized at $1.26 billion in loan guarantee authority. The full faith and credit of the United States will be pledged to the payment of all guarantees made under Section 108. Under this program, communities (and States, if applicable) pledge their continuing CDBG allocations as security for loans guaranteed by HUD. The Section 108 program, however, does not require CDBG funds to be escrowed for loan repayment (unless such an arrangement is specifically negotiated as loan security and included in the applicable “Contract for Loan Guarantee Assistance”). This means that a community can ordinarily continue to spend its existing allocation for other CDBG purposes, unless needed for loan repayment.

(3) EDI Program. The EDI program was enacted in 1994 and is intended to complement and enhance the Section 108 Loan Guarantee program. A purpose of EDI grant funds is to reduce grantees' potential loss of future CDBG allocations:

(a) By strengthening the economic feasibility of the projects financed with Section 108 funds (and thereby increasing the probability that the project will generate enough cash to repay the guaranteed loan);

(b) By directly enhancing the security of the guaranteed loan; or

(c) Through a combination of these or other risk mitigation techniques.

(4) Purpose of EDI Funding. HUD intends the approximately $7.0 million in EDI funds to stimulate economic development by local governments and private sector parties. HUD desires to see EDI and Section 108 funds used to finance projects and activities that will provide near-term results and demonstrable economic benefits, such as job creation and increases in the local tax base.

(5) Additional Security for Section 108 Loan Guarantee. Public entities should be mindful of the need to provide additional security for the Section 108 loan guarantee pursuant to 24 CFR 570.705(b)(3). Although a public entity is required by the Act to pledge its current and future CDBG funds as security for the Section 108 loan guarantee, the public entity will usually be required to furnish additional collateral. In most cases, the additional collateral consists (in whole or in part) of the asset financed with the Section 108 loan funds (e.g., a loan made to a business as part of an economic development project). Applications proposing uses for EDI funding that directly enhance the value of the assets securing the Section 108 loan will help ensure that the project-based asset(s) will satisfy the additional collateral requirements.

(6) Typical Project Structures. Provided that proposals are consistent with other CDBG requirements, including national objectives, HUD envisions that the following project structures could be typical:

(a) Funding Reserves. The cash flow generated by an economic development project may be expected to be relatively “ ” in the early stages of the project, i.e., potentially insufficient to meet operating expenses and debt service obligations. The EDI grant can make it possible for reserves to be established in a way that enhances the economic feasibility of the project.

(b) Over-Collateralizing the Section 108 Loan.

(i) The use of EDI grant funds may be structured in appropriate cases to improve the likelihood that project-generated cash flow will be sufficient to cover debt service on the Section 108 loan directly and therefore enhance the security of the guaranteed loan. One technique for accomplishing this approach is over-collateralization of the Section 108 loan.

(ii) An example is the creation of a loan pool funded with both Section 108 and EDI grant funds. The community would make loans to various businesses from the combined pool at an interest rate equal to or greater than the rate on the Section 108 loan. The total loan portfolio would be pledged to the repayment of the Section 108 loan.

(c) Direct Enhancement of the Security of the Section 108 Loan. The EDI grant can be used to cover the cost of providing credit enhancements. An example of how the EDI grant can be used for this purpose is by using the grant funds to cover the cost of a standby letter of credit, issued in favor of HUD. This letter of credit will be available to fund amounts due on the Section 108 loan if other sources fail to materialize and thus will serve to protect the public entity's future CDBG funds.

(d) Provision of Financing to For-Profit Businesses at a Below Market Interest Rate.

(i) While the rates on loans guaranteed under Section 108 are only slightly above the rates on comparable U.S. Treasury obligations, they may nonetheless be higher than can be afforded by businesses in severely economically distressed neighborhoods. The EDI grant can be used to make Section 108 financing affordable.

(ii) EDI grant funds could serve to “buy down” the interest rate up front, or make full or partial interest payments, allowing the businesses to be financially viable in the early start-up period, which might not otherwise be possible with Section 108 alone. This strategy would be particularly useful where a community was undertaking a large commercial/retail project in a distressed neighborhood in order to act as a catalyst for other development in the area.

(e) Combination of Techniques. A combination of the above or other techniques could be employed in implementing an economic development project.

(7) Additional Project Structure. HUD will consider funding an EDI proposal in which the related Section 108-guaranteed obligation would be used solely as security only under the following conditions:

(a) If EDI funds are not the first source of funds injected into the project, and

(b) If project funds are disbursed according to a ratio that equals the amount of EDI funds to the amount of private or public debt that is firmly committed to the project, as required under Rating Factor 4 “Leveraging Resources” below, and

(c) If the grantee maintains in its records a listing of the amount of private funds being distributed by the private party (i.e., the financing institution) to the project.

Grantees are reminded that the EDI grantee/Section 108 borrower's loan guaranteed obligation cannot remain undisbursed for more than five years following the year in which the Section 108 commitment is made. Consequently, the borrower's 108-guaranteed obligation cannot have a term that exceeds five years plus the remaining portion of the fiscal year in which the commitment is made.

(B) Eligible Applicants. (1) Any public entity eligible to apply for Section 108 loan guarantee assistance pursuant to 24 CFR 570.702 may apply for EDI grant assistance under Section 108(q). Eligible applicants are CDBG entitlement units of general local government and non-entitlement units of general local government eligible to receive loan guarantees under 24 CFR part 570, subpart M. Urban Counties, as defined at 24 CFR 570.3 and 570.307, are eligible applicants for EDI funds; units of general local government which participate in an Urban County program are not independently eligible applicants. For non-entitlement applicants other than those subject to 24 CFR 570, subpart F, applicants will be required to provide evidence in the application from an authorized official of the State agency responsible for administering the State CDBG program stating its intention to support the related Section 108 loan with a pledge of its CDBG funds pursuant to the requirements of 24 CFR 570.705(b)(2). Such evidence shall take the form of the HUD Certification titled “SECTION 108 LOAN GUARANTEES: State Certifications Related to Nonentitlement Public Entities” which may be obtained either by downloading from the Internet or in the EDI Application Kit to be published shortly after publication of this SuperNOFA. Note that effective January 25, 1995, non-entitlement public entities in the State of Hawaii were authorized to apply to HUD for Section 108 loans (see 59 FR 47510, December 27, 1994). Thus, non-entitlement public entities in all 50 states and Puerto Rico are now eligible to participate in the Section 108 and EDI programs.

(2) Applicants for economic development projects under this section must comply with the threshold requirements of Section II of the General Section of the SuperNOFA.

(C) Eligible Activities and National Objectives. (1) EDI grant funds and section 108 loan guarantee funds may be used for activities listed at 24 CFR 570.703, provided such activities are carried out as part of an economic development project as described in this EDI section of the SuperNOFA. If the application fails to meet the requirements for an EDI project as set forth in this program section of the SuperNOFA, HUD will not give it a rating.

(2) Each activity assisted with Section 108 loan guarantee or EDI funds must meet a national objective of the CDBG program as described in 24 CFR 570.208. The applicant must clearly identify in its narrative statement (as described in Section V(B) below) the CDBG national objective the proposed project will achieve and provide the appropriate CDBG national objective's regulatory citation found at 24 CFR 570.208. Also, the applicant must address, when applicable, how the proposed activities will comply with the public benefit standards of the CDBG program as reflected in the regulation at 24 CFR 570.209 for the CDBG Entitlement and Small Cities programs, or 24 CFR 570.482 for the State CDBG program.

(3) In the aggregate, a grantee's use of CDBG funds, including any Section 108 loan guarantee proceeds and Section 108(q) (EDI) funds provided pursuant to this program section of the SuperNOFA, must comply with the CDBG primary objective requirement as described in Section 101(c) of the Act and 24 CFR 570.200(a)(3), or 24 CFR 570.484 in the case of State grantees.

IV. Program Requirements

(A) CDBG Program Regulations. In addition to 24 CFR 570.701 (Definitions), 570.702 (Eligible Applicants), and 570.703 (Eligible Activities), as explained in Section III(C) above of this SuperNOFA, the CDBG regulatory requirements in 24 CFR 570.707, including subparts J (Grant Administration), K (Other Program Requirements), and O (Performance Reviews) govern the use of EDI funds, as applicable.

(B) Compliance with Applicable Laws. An award of EDI funding does not in any way relieve grant recipients or third party users of EDI funds from compliance with all applicable Federal, State and local laws.

(C) Related Section 108 Loan Guarantee Request.

(1) Each EDI application must be accompanied by a request for new Section 108 loan guarantee assistance. Notwithstanding the form of the request for new Section 108 loan guarantee assistance under paragraphs (a), (b), (c), or (d) of this section below, the applicant must include citations to the specific regulatory subsections supporting activity eligibility and national objectives compliance for the project described in its application. Both the EDI and Section 108 funds must be used in conjunction with the same economic development project. This request may take any of several forms as defined below.

(a) A full application for new Section 108 loan guarantee(s), including the documents listed at 24 CFR 570.704(b).

(b) A brief description (not to exceed three pages) of the project to be applied for in a new Section 108 loan guarantee application. Such 108 application must be submitted within 60 days of written notice of EDI selection, with HUD reserving the right to extend such period on a case-by-case basis where HUD determines there is evidence of good cause. EDI awards will be conditioned on approval of actual Section 108 loan commitments. This Section 108 application description must be sufficient to support the basic eligibility of the proposed project and activities for Section 108 assistance. (See Section III(C) of this program section of this SuperNOFA.).

(c) A copy of a pending, unapproved Section 108 loan guarantee application, and any proposed amendments to the Section 108 application which are related to the EDI application. The applicant's submission of such an EDI/Section 108 application shall be deemed by HUD to constitute a request to suspend separate processing of the Section 108 application. The Section 108 application will not be approved until on or after the date of the related EDI award.

(d) A request for a Section 108 loan guarantee assistance (analogous to Section IV(C)(1)(a) or (b) above) that proposes to increase the amount of a previously approved application. However, any amount of Section 108 loan guarantee authority approved before HUD's announcement of an EDI grant for the same project is not eligible to be used in conjunction with an EDI grant under this program section.

(2) Further, a Section 108 loan guarantee amount that is required to be used in conjunction with a prior EDI or Brownfields Economic Development Initiative (BEDI) grant award, whether or not the Section 108 loan guarantee has been approved as of the date of this SuperNOFA, is not eligible for an EDI award under this SuperNOFA. For example, if a public entity has a previously approved Section 108 loan guarantee commitment of $12 million, even if none of the funds have been utilized, or if the public entity had previously been awarded an EDI grant of $1 million and had certified that it will submit a Section 108 loan application for $10 million in support of that EDI grant, the public entity's EDI application under this SuperNOFA must propose to increase the amount of its total Section 108 loan guarantee commitments beyond those amounts (the $12 million or $10 million in this example) to which it has previously agreed.

(D) Prohibitions on Use of EDI and Section 108 Funds. Certain restrictions shall apply to the use of EDI and Section 108 funds:

(1) EDI grants must not be used as a resource to immediately repay the principal of a loan guaranteed under Section 108. Repayment of principal is only permissible with EDI grant funds as a matter of security if other sources projected for repayment of principal prove to be unavailable.

(2) Section 108 loan obligations may not be subordinated, directly or indirectly, to federally tax exempt obligations. Pursuant to Office of Management and Budget (OMB) Circular A-129 (REV.), Appendix A, Sections II c.2 and d. (Policies for Federal Credit Programs and Non-Tax Receivables), Section 108 guaranteed loan funds may not directly or indirectly support federally tax-exempt obligations.

(E) Time-frames. EDI grant awards will contain conditions requiring grantees to adhere to their stated time-frames for implementing proposed projects and drawing Section 108 and EDI funds. If the related Section 108 application has not been submitted and approved and the Note guaranteed within fifteen (15) months of written HUD notification of grant award, HUD may deobligate the EDI funds. If EDI grant funds and Section 108 loan proceeds have not been disbursed to the applicant within the timeframes specified in the EDI Grant Agreement and the 108 Contract, HUD reserves the right to recapture the EDI funds, unless an extension of time has been authorized in writing by HUD, and either award them to the applicant that scored the next highest in that year's competition, provided that such applicant's application remains feasible and appropriate under this program section of the NOFA, or make them available as part of the next EDI NOFA.

(F) Limitations on Grant Amounts. (1) HUD expects to approve EDI grant amounts for approvable applications with a range of ratios of EDI grant funds awarded to new Section 108 loan guarantee commitments, but the minimum ratio will be $1 of Section 108 loan guarantee commitments for every $1 of EDI grant funds. However, if an applicant proposes a leverage ratio of 1:1, it will not receive any points under Rating Factor 4, paragraph (1): “Leverage of Section 108 Funds.” For example, an applicant requesting an EDI grant of $1 million will be required to leverage a minimum of at least $1 million in new Section 108 loan guarantee commitments. Even with a ratio of 1:1, applications with higher ratios will receive more points under Rating Factor 4, “Leveraging Resources”. Because the proposed ratio of EDI funds to Section 108 funds represents an applicant's financial commitment, HUD will condition the EDI grant award on the grantee's achievement of that specific ratio. Its failure to meet that condition by obtaining timely HUD approval of a commitment for, and issuance of, the required Section 108 guaranteed obligations ratio may result in the cancellation and recapture of all or a proportionate share of the EDI grant award.

HUD will cap EDI awards at a maximum of $1 million. An application in excess of $1 million will be reduced below the amount requested by the applicant to the extent HUD determines that such a reduction is appropriate.

After selection, but prior to grant award, if HUD determines that an application can be funded at a lesser EDI grant amount than requested and still be feasible and consistent with the proposed plan and the purposes of the Act, it reserves the right to reduce the amount of the EDI award and/or increase the required Section 108 loan guarantee commitment, if appropriate.

(4) If additional EDI grant funds become available to HUD (e.g., from recaptures or other appropriations), HUD reserves the right to award grants under this SuperNOFA during FY 2001 whose aggregate total may exceed the approximately $7 million announced in this program section of the SuperNOFA, up to the maximum amount authorized by law.

(5) If an applicant is awarded an EDI grant that has been reduced below the original request (e.g., the application contained some activities that were ineligible, the grant request exceeded the funding cap, there were insufficient funds to reach all applications (as defined in Section V(A) below) at the full amount requested, or there were technical deficiencies that could not be resolved), it will be asked to modify its project plan and application to conform to the terms of HUD's approval before HUD will execute a grant agreement. HUD also will proportionately reduce or deobligate the EDI award if an applicant does not submit an approvable Section 108 loan guarantee application and issue Section 108-guaranteed obligations on a timely basis in the amount required by the EDI/108 leveraging ratio which will be approved by HUD as a special condition of the EDI grant award (see Section IV(F)(1) above of this program section of the SuperNOFA). Any modifications or amendments to an application approved pursuant to this SuperNOFA, whether requested by the grantee or by HUD, must be within the scope of the approved original EDI application in all respects material to rating the application, unless HUD determines that the revised application scores above the level of the lowest funded application and is otherwise approvable under this SuperNOFA competition.

(6) In the case of a requested increase in guarantee assistance for a project with a previously approved Section 108 loan guarantee commitment (as further discussed in Section IV(C)(1)(d), above), the EDI assistance approved will be based on the increased amount of Section 108 loan guarantee assistance.

(7) Pursuant to another portion of this SuperNOFA, HUD is simultaneously announcing the availability of $25 million of Brownfields Economic Development Initiative (BEDI) funds.The BEDI program's principal purpose is to assist in the remediation of contaminated commercial and industrial sites, but economic development proposals that contain some limited amount of environmental site remediation as part of the overall cost may be submitted under the EDI portion of this SuperNOFA as well. While HUD will permit applicants to pursue BEDI and EDI funds for the same project, HUD requires that the BEDI and EDI applications (and their components) be independent of one another. Thus, each application should have an identifiable amount of Section 108 funding associated with its respective request for EDI and BEDI funds for purposes of determining the leverage of Section 108 funding to the corresponding amount of EDI or BEDI funds requested. Also, the proposed amount of Section 108 borrowing associated with the BEDI or EDI grant shall not be used to determine leverage of other financial resources under Rating Factor 4, paragraph (2). Further, if an applicant seeks both BEDI and EDI funds for the same project, it must include in its response to Rating Factor 3 a discussion of how the project can be financed and implemented if it fails to obtain either BEDI or EDI funds under this SuperNOFA.

(G) Timing of Grant Awards. (1) If an applicant submits a full Section 108 application with its EDI grant application, HUD will evaluate the Section 108 application concurrently with the request for EDI grant funds. Note that the 108 application must be submitted to the appropriate HUD field office concurrently with submission to Headquarters. In addition, EDI grant assistance cannot be used to leverage a Section 108 loan guarantee approved prior to the date of HUD's announcement of an EDI grant pursuant to this SuperNOFA. However, the EDI grant may be awarded before HUD approval of the Section 108 commitment if HUD determines that such award will further the purposes of the Act.

(2) HUD notice to a grant recipient of the amount and conditions of EDI funds awarded, based upon review of the EDI application, constitutes an obligation of grant funds, subject to compliance with the conditions of award and execution of a grant agreement. EDI funds must not be disbursed to the grantee before the issuance of the related Section 108-guaranteed obligations.

(H) Economic Opportunities for Low and Very Low-Income Persons (Section 3). Section 3 of the Housing and Urban Development Act of 1968 (12 U.S.C. 1701u) is applicable to EDI grant recipients. Please see Section II(E) of the General Section of the SuperNOFA.

(I) Nondiscrimination. Section 109 of the Housing and Community Development Act of 1974, as amended (42 U.S.C. 5309), is applicable to EDI grant recipients. Applicants must therefore adhere to HUD regulations at 24 CFR parts 6 and 570, including, but not limited to, reporting and record-keeping requirements under 24 CFR 570.506 and 570.507.

V. The Application Selection Process

(A) Rating and Ranking. (1) Each rating factor and the maximum number of points is provided below. The maximum number of points to be awarded is 104. To be eligible for funding, an EDI application must obtain a total score of at least 20 points in Rating Factors 1 (Capacity) and 3 (Soundness of Approach) combined.

(2) All applications meeting program and threshold requirements will be scored under the selection criteria below. Applications will be selected for funding as follows:

All EDI grant applications will be separately ranked in order of points assigned with the applications receiving more points ranking above those receiving fewer points.

In the event two or more applications are given the same score, but there are insufficient funds for all, the application(s) with the highest score(s) on Rating Factor 2 (Distress/Extent of the Problem) shall be selected. If there is still a tie, the following Factors will be considered sequentially as follows, with the application having the high score on that Factor taking precedence until the tie is broken: Rating Factor 3 (Soundness of Approach), Rating Factor 1 (Capacity and Experience), Rating Factor 4 (Leveraging Resources), and Rating Factor 5 (Comprehensiveness and Coordination).

Fundable economic development applications must meet the threshold requirements stipulated in the General Section of this SuperNOFA and be complete as required by the Submission requirements of this program section of the SuperNOFA. Economic development projects will be funded in rank order until the total aggregate amount of the applications funded is equal to the maximum amount available in the competition (subject to the Department's discretion as described in Section IV(F) below).

Bonus Points

An additional two points may be awarded for projects that are located either in federally-designated Empowerment Zones and Enterprise Communities; two points may also be awarded for qualifying projects in Dallas, Texas as mandated by a decision by the U.S. District Court for the Northern District of Texas, for a maximum of four points possible. For specific details, please see Section III(C)(1) in the General Section of the SuperNOFA, and Rating Factor 3, paragraph (6) below.

(B) Narrative Statements.

Applications must:

(1) Provide a narrative statement describing the activities that will be carried out with the EDI grant funds. The EDI narrative statement must not exceed three (3) 8.5″ by 11″ pages, doubled-spaced.

(2) Describe how the proposed uses of EDI funds will meet the national objectives under 24 CFR 570.208 for the CDBG program and qualify as eligible activities under 24 CFR 570.703. Applications must include citations to the specific regulatory subsections supporting eligibility of activities and compliance with national objectives. (See Section III(C) of this program section of this SuperNOFA).

(3) The applicant must also provide narrative statements in response to each of the rating factors below.

(4) Print all narrative statements in 12 point type/font, and use sequentially numbered pages.

(C) Factors for Award Used to Evaluate and Rate Applications. HUD will evaluate all applications for funding assistance based on the following factors, the responses to which demonstrate the quality of the proposed project or activities, and the applicant's capacity and commitment to use the EDI funds in accordance with the purposes of the Act. Responses to Rating Factors 1-5 below shall not exceed fifteen (15) pages combined.

Rating Factor 1: Capacity of the Applicant and Relevant Organizational Experience (15 Points)

This factor addresses the extent to which the applicant has the organizational resources necessary to successfully implement its proposed activities in a timely manner. The rating of the “applicant” or the “applicant's organization and staff” will include any subcontractors, consultants, and subrecipients that are firmly committed (see definition in Section III(A)(1) above) to participate in the activities described in the application. In rating this factor, HUD will consider the following:

(1) With regard to the EDI/Section 108 project, the applicant should demonstrate that it has the organization and the staff and financial resources in place to implement the specific steps required to successfully carry out its proposed EDI/Section 108 project. This includes factors such as:

(a) Performance in the administration of its CDBG, HOME or other programs;

(b) Performance, if any, in carrying out economic development projects similar to that proposed, including the ability to conduct prudent underwriting, if applicable;

(c) Ability to carry out projects and programs in a timely manner; an applicant must address its performance in spending previously awarded funds, if any, in a timely manner, including, for CDBG entitlement recipients, the extent to which it has met the HUD standard of having no more than 1.5 times its entitlement amount undisbursed (see 24 CFR 570.902(a)(1)(i); and,

(d) If applicable, capacity to manage projects under this program section of the SuperNOFA along with any federal funds awarded as a result of a federal urban Empowerment Zone/Enterprise Community designation (including Enhanced Enterprise Community (EEC) designation).

(2) An applicant that has previously received an EDI or BEDI grant award must describe the status of the implementation of those project(s) assisted with EDI or BEDI funds, any delays that have been encountered and the actions it is taking to overcome any such delays to carry out the project in a timely manner. For such previously funded EDI or BEDI grant projects, HUD will award more rating points for applications providing evidence of achievement of specific measurable outcomes in carrying out activities funded with previous EDI or BEDI grant funds and the associated Section 108 guaranteed loan funds.

(3) Experience and performance of subrecipients, nonprofit organizations and other entities that have a role in implementing the proposed program should be included in this review. Experience will be judged in terms of recent and successful performance of activities relevant to those proposed in the EDI application. The more recent and extensive the experience, the greater the number of points that will be awarded for this Factor.

(4) In addition to the application, HUD also may rely on information from performance reports, financial status information, monitoring reports, audit reports and other available information in making its determination under this factor.

Rating Factor 2: Distress/Extent of the Problem (40 Points)

This Factor addresses the extent to which there is need for funding the proposed activities based on levels of distress, and an indication of the urgency of meeting the need/distress in the applicant's target area. In responding to this Factor, applications will be evaluated on the extent to which the level of distress is documented and compared, vis-a-vis, the target area, the jurisdiction, and national data.

(1) In applying this Factor, HUD will consider current levels of distress for the following areas affected by the project: first, in the area (i.e., Census Tract(s) or Block Groups) immediately surrounding the project site or the target area to be served by the proposed project; second, in the jurisdiction in which the project is to be located; third, relative to the similar measures of distress in the nation. Applicants may also provide data for the overall jurisdiction alongside comparable jurisdictions in the county and state, as appropriate to the activity, in order to demonstrate the various levels of distress in context. This means that an application that provides data that show levels of distress in the project area and the jurisdiction expressed as a percent greater than the national average will be rated higher under this Factor.

Notwithstanding the above, an applicant proposing a project to be located outside the target area could still receive points under the Distress Factor if a clear rationale is provided linking the proposed project location and the benefits to be derived by persons living in more distressed area(s) of the applicant's jurisdiction.

(2) Applicants should provide data that address all indicators of distress, if applicable, as follows:

(a) Poverty rate (20 points)—data should be provided in both absolute and percentage form (i.e., whole numbers and percents) for both the target area(s) and the jurisdiction as a whole; an application that compares the local poverty rate in the following manner to the national average at the time of submission will receive points under this Section as follows:

(i) Equal to but less than twice the national average—5 points;

(ii) Twice but less than three times the national average—10 points;

(iii) Three or more times the national average—20 points.

(b) Unemployment (15 points)—; for both the project area and jurisdiction; an application that compares the local unemployment rate in the following manner to the national average at the time of submission will receive points under this Section as follows:

(i) Equal to but less than twice the national average—2 points;

(ii) Twice but less than three times the national average—4 points;

(iii) Three but less than four times the national average—6 points;

(iv) Four but less than five times the national average—8 points;

(v) Five or more times the national average—10 points.

(c) Other Indicators of social and/or economic decline that best capture the applicant's local situation (5 points)—examples that could be provided under this Section are information demonstrating the jurisdiction's stagnant or falling tax base, including recent commercial or industrial closings, housing conditions, such as the number and percentage of substandard and/or overcrowded units, rent burden (defined as average housing cost divided by average income) for both the target area and jurisdiction, local crime statistics, etc.

(3) To the extent that the applicant's Consolidated Plan, its Analysis of Impediments to Fair Housing choice (AI), and/or its Anti-Poverty Strategy identify the level of distress in the jurisdiction and the neighborhood in which the project is to be carried out, references to such documents should be included in preparing the response to this Factor.

(4) In rating applications under this Factor, HUD reserves the right to consider sources of available objective data other than, or in addition to, those provided by applicants, and to compare such data to those provided by applicants.

(5) HUD requires use of sound and reliable data (e.g., U.S. Census data, State statistical reports, university studies/reports that are verifiable) to support distress levels cited in each application. A source for all information along with the publication or origination date must also be provided. Updated Census data are available as follows for the listed indicators:

(a) Unemployment rate—estimated monthly for counties, with a two-month lag;

(b) Population—estimated for incorporated places and counties, through 1999;

(c) Poverty rate—estimated every two years, with a three-year lag, with 1997 being the most recent available.

Rating Factor 3: Soundness of Approach (25 Points)

This factor addresses the quality and cost-effectiveness of the proposed plan. The relationship between the proposed activities, community needs and purposes of the program funding must be clearly described, as follows, in order to receive points for this factor. In rating this factor, HUD will consider the following:

(1) (5 Points) The quality of the plan/proposal for the use of EDI funds and Section 108 loan funds, including the extent to which the proposed plan for use of EDI grant/Section 108-guaranteed loan funds will address the needs described in Rating Factor 2 above regarding the distress and extent of the problem in the immediate target area and/or jurisdiction. As part of the response to this factor, an applicant should identify the specific eligible activities it will carry out and should fully describe how the project will achieve one of the national objectives under the Community Development Block Grant program. Applications should also demonstrate how the proposed project would mitigate or otherwise address the distress identified in Rating Factor 2 above.

(2) (5 Points) The extent to which the plan is logical, feasible and likely to achieve its stated purpose. HUD's desire is to fund projects and activities which will quickly produce demonstrable results and advance the purposes of the EDI program. The applicant should:

(a) Demonstrate that it has a clear understanding of the steps required to implement its project, including the actions that all parties responsible for implementing the project must complete. For example, applications providing evidence that authority necessary to proceed with the project has been sought and/or received, in the form of any necessary zoning classification, waivers, general permits, special use permits, assessment district designation, public easements and rights-of-way, etc., will receive more points for this Factor.

(b) Provide a specific time schedule for carrying out the project and identify measurable objectives to be accomplished. The timeline form contained in the Appendix A to this program section of the SuperNOFA should be included in the application.

(3) The extent to which the proposed project addresses the Analysis of Impediments and the needs identified in Rating Factor 2; the extent to which such project activities will result in the physical and economic improvement for the residents in the neighborhood in which the project will be carried out; the extent to which the applicant will offer residents an opportunity to relocate to environmentally healthy housing or neighborhoods; or the extent to which residents will benefit from the funded project to enable them to continue to live in a redeveloped or revitalized neighborhood and thus share in the anticipated economic benefits the project is expected to generate.

(4) Financial feasibility. (10 Points) HUD will consider the extent to which the applicant demonstrates that its project is financially feasible. In responding to this subfactor, the applicant must clearly address the question of why the EDI funds are critical to the success of this project. The response should include these items, as applicable:

(a) Project costs and financial requirements. A funding sources and uses statement must be provided, as well as justifications for project costs;

(b) The amount of any debt service or operating reserve accounts that will be established in connection with the economic development project;

(c) The reasonableness of the costs of any credit enhancement paid with EDI grant funds;

(d) The amount of program income (if any) to be received each year during the repayment period for the guaranteed loan;

(e) Interest rates on loans to third parties (other than subrecipients), if any, either as an absolute rate or as a plus/minus spread to the Section 108 rate;

(f) The applicant's underwriting criteria that will be used in determining project feasibility.

(5) The extent to which the project incorporates one or more elements that facilitate a successful transition of welfare recipients from welfare to work, including the number of living wage jobs (i.e., those that are part of career path or apprenticeship programs) to be created by the project and the impact of the project on job creation that will benefit individuals on welfare or low to very low income. Such an element could include, for example, linking the proposed project or loan fund to social and/or other services needed to enable welfare recipients to successfully secure and carry out full-time jobs in the private sector; provision of job training to welfare recipients who might be hired by businesses financed through the proposal; and/or incentives for businesses financed with EDI/section 108 funds to hire and train welfare recipients.

(6) Due to an order of the U.S. District Court for the Northern District of Texas, Dallas Division, with respect to any application submitted by the City of Dallas, Texas, HUD's consideration of the response to this factor, “Soundness of Approach,” will include the extent to which Dallas’ plan for the use of EDI funds and Section 108 loan funds will be used to eradicate the vestiges of racial segregation in the Dallas Housing Authority's programs consistent with the Court's order. Up to two (2) additional points will be awarded to any application submitted by the City of Dallas, Texas, to the extent this subfactor is addressed.

Rating Factor 4: Leveraging Resources (15 Points)

In evaluating this factor, HUD will consider the extent to which the response demonstrates the likelihood that the project will leverage both Section 108 loan and other public or private funds as part of the total project resources. This factor has two subfactors, each with its own maximum point total:

(1) Leverage of Section 108 funds (10 points).

The minimum ratio of Section 108 funds to EDI funds in any project may not be less than 1:1. The extent to which the proposed project leverages an amount of Section 108 funds greater than a 1:1 ratio will result in that application's receiving a higher number of points. If the application has a ratio of 1:1, it will not receive any points under this subfactor. If an application proposes that the EDI funds will leverage additional new Section 108 commitments, it will receive more points under this subfactor.

(2) Leverage of other financial resources (5 points). HUD will evaluate the extent to which other funds (public or private) are leveraged with EDI grant funds and Section 108 guaranteed loan funds, and the extent to which such other funds are firmly committed to the project. This could include the use of CDBG funds, other Federal or state grants or loans, local general funds, project equity or commercial financing provided by private sources or funds from non-profits or other sources. Funds will be considered committed to the project if they meet the requirements of “Firm Commitment” as defined in Section III(A)(1) above, and shall be subject to completion of any environmental review required under 24 CFR part 58 for the project.

Rating Factor 5: Comprehensiveness and Coordination (5 Points)

This factor addresses the extent to which the applicant has coordinated its activities with other known organizations; that it participates or promotes participation in its or the State's Consolidated Planning process; and that it is working towards addressing a need in a comprehensive manner through linkages with other activities in the community.

In evaluating this factor, HUD will consider the extent to which the applicant demonstrates it has:

(1) Coordinated its proposed activities with those of other groups or organizations before submission, in order to best complement, support and coordinate all known activities; and developed specific steps to share information on solutions and outcomes with others. Any written agreements or memoranda of understanding in place, or that will be in place after award, should be described in the application.

(2) Developed linkages, or specific steps to develop linkages with other activities, programs or projects (through meetings, information networks, planning processes or other mechanisms to coordinate activities), so that solutions are holistic and comprehensive. Describe any linkages with other HUD-funded projects/activities outside the scope of those covered by the Consolidated Plan, as well as established linkages and outreach with residents of the project area.

VI. Application Submission Requirements

(A) EDI Funding. An application for funding under the EDI funding allocation under this program section of the SuperNOFA must have the following items to be complete. The standard forms, certifications and assurances that are required for the EDI application (and listed in paragraph (I) below) can be found in Appendix B to the General Section. The remaining application items that are forms (i.e., excluding such items as narratives or letters, etc.), referred to as the “non-standard forms” can be found in Appendix B to this program section of the SuperNOFA.

(B) Transmittal Letter signed by the authorized representative of the eligible applicant indicating that it is submitting the application for funding under the Economic Development Initiative Program and is requesting funding consideration for an EDI project.

(C) Checklist and Submission Table of Contents indicating the page numbers where the submission items can be found in the application (form HUD-40076-EDI/BEDI).

(D) EDI Narrative Statement describing EDI funded eligible activities within the proposed project.

(E) EDI/BEDI/Section 108 Funding Eligibility Statement. A completed EDI/BEDI Section 108 Funding Eligibility Statement (form HUD-40076-EDI/BEDI).

(F) Request for Loan Guarantee Assistance. A request for loan guarantee assistance under Section 108, as further described in Section IV(C) of this program section of the SuperNOFA. Full application guidelines for the Section 108 program are found at 24 CFR 570.704.

(G) Narrative Responses to Factors for Award:

(1) Rating Factor 1: Capacity and Relevant Organizational Experience. Provide a narrative indicating the capacity of your organization and staff to perform the work for which it is requesting funding.

(2) Rating Factor 2: Need Statement Identifying the level of Distress/Extent of the Problem. Provide a narrative statement including any documentation supporting the statement of need. Optional form HUD-40076-EDI/BEDI as a format to respond to this factor for award may also be used.

(3) Rating Factor 3: Soundness of Approach. Include the activities, budget and time frame for conducting activities in the response (see form HUD 40076-EDI/BEDI).

(4) Rating Factor 4: Leveraging Resources. The response should include a completed copy of form HUD-40076-EDI/BEDI, “Rating Factor 4: Leveraging Resources Sources and Uses Statement.”

(5) Rating Factor 5: Comprehensiveness and Coordination. Provide a narrative response to this factor.

(H) Request for Funds. A single application must contain a request for funds for a single EDI/108 project. You may submit more than one application for each additional unrelated EDI/108 project. Each application will be rated and ranked individually. In no event will HUD rate and rank more than one EDI project per application.

(I) Additional Application Forms and Certifications. In addition to any forms that have been submitted in response to the Factors for Award (which may be found at Appendix A, the following forms and certifications must also be submitted:

(1) Application for Federal Assistance (Standard Form (SF) 424);

(2) Federal Assistance Funding Matrix (HUD 424M);

(3) Standard Form for Assurances—Non-Construction Programs (SF 424B) and/or Standard Form for Assurances—Construction Programs (SF 424D)—not applicable for this program section.

(4) Drug-Free Workplace Certification, HUD-50070.

(5) Certification of Payments to Influence Federal Transactions, HUD 50071, (and if applicant and/or participating parties are engaged in lobbying, the Disclosure Form Regarding Lobbying, SF-LLL);

(6) Applicant/Recipient Disclosure/Update Report, HUD-2880;

(7) Certification Regarding Debarment and Suspension, HUD-2992;

(8) Certification of Consistency With EZ/EC Strategic Plan, HUD-2990;

These forms are found in the Appendix B to the General Section of this SuperNOFA. Budget Information on Standard Forms 424B or 424C are not required under this EDI section of the SuperNOFA

In addition to the fair housing and other civil rights assurance described under Section II(B) of the SuperNOFA General Section, applicants for EDI funds must provide assurance that they will comply with Section 109 of the Housing and Community Development Act of 1974, as amended, and must have resolved to HUD's satisfaction any letter of noncompliance findings under Section 109 before the deadline for EDI application submission.

If an applicant wishes to receive an acknowledgment of HUD's receipt of its application, it should submit a completed Acknowledgment of Receipt of Application form.

VII. Corrections to Deficient Applications

The General Section of the SuperNOFA provides the procedures for corrections to deficient applications.

VIII. Environmental Requirements

(A) Environmental Review. After the completion of this competition and after HUD's award of EDI grant funds, pursuant to 24 CFR 570.604, each project or activity assisted under this program is subject to the provisions of 24 CFR part 58, including limitations on the EDI grantee and Section 108 public entity's commitment of HUD and non-HUD funds prior to the completion of environmental review, notification and release of funds. No such assistance will be released by HUD until a request for release of funds is submitted and the requirements of 24 CFR part 58 have been met. All public entities, including nonentitlement public entities, shall submit the request for release of funds and related certification, required pursuant to 24 CFR part 58, to the appropriate HUD field office for each project to be assisted.

(B) Environmental Justice. Executive Order 12898 (Federal Actions to Address Environmental Justice in Minority Populations and Low-Income Populations) directs Federal agencies to develop strategies to address environmental justice. Environmental justice seeks to rectify the disproportionately high burden of environmental pollution that is often borne by low-income, minority, and other disadvantaged communities, and to ensure community involvement in policies and programs addressing this issue.

IX. Authority

Section 108(q), Title I, Housing and Community Development Act of 1974, as amended, (42 U.S.C. 5301-5320); 24 CFR part 570.

Appendix A

The non-standard forms for the EDI application follow.

BILLING CODE 4210-32-P

FUNDING AVAILABILITY FOR THE BROWNFIELDS ECONOMIC DEVELOPMENT INITIATIVE (BEDI)

Program Overview

Purpose of the Program. BEDI funds are used to enhance the security of a loan guaranteed by HUD under Section 108 of the Act (as defined in Section III(A)(1) below) for the same project, or to improve the viability of the project financed with the Section 108-guaranteed loan. HUD intends to make available approximately $25 million in BEDI funds in FY 2001 to stimulate economic development by local governments and private sector parties. HUD desires to see BEDI and Section 108 funds used to finance projects and activities that will provide near-term results and demonstrable economic benefits, such as job creation and increases in the local tax base. A BEDI grant must be used in conjunction with a new Section 108 guaranteed loan commitment. In FY 2001, HUD seeks to increase economic development opportunity for those areas of the country having the greatest distress.

Available Funds. Approximately $25 million. The maximum BEDI grant awards will be in the amount of $2 million.

Eligible Applicants. Any public entity eligible to apply for and receive Section 108 loan guarantee assistance in accordance with 24 CFR 570.702 may apply for BEDI grant assistance under Section 108(q) and this SuperNOFA. (See Section III(B) below for additional information regarding eligible applicants.)

Application Deadline. May 22, 2001.

Additional Information

If you are interested in applying for funding under this program, please review carefully the General Section of this SuperNOFA and the following additional information.

I. Application Due Date, Application Kits, Further Information, and Technical Assistance

Application Due Date. Please submit your completed applications (one original and three copies) on or before 12:00 midnight, Eastern time, on May 22, 2001, to the addresses shown below.

See the General Section of this SuperNOFA for specific procedures governing the form of application submission (e.g., mailed applications, express mail, overnight delivery, or hand carried).

Addresses for Submitting Applications. To HUD Headquarters. Submit your completed application (an original and two copies) to: Processing and Control Unit, Room 7251, Office of Community Planning and Development, Department of Housing and Urban Development, 451 Seventh Street, SW, Washington, DC 20410, Attention: BEDI Grant, by mail or hand delivery.

To the Appropriate CPD Field Office. At the same time the application and copies are submitted to HUD Headquarters, an additional copy should be submitted to the Community Planning and Development Division of the appropriate HUD Field Office for the applicant's jurisdiction.

When submitting your application, please refer to BEDI, and include your name, mailing address (including zip code) and telephone number (include area code), along with the name and phone number of your contact person.

For Application Kits. For an application kit and any supplemental information, please call HUD's SuperNOFA Information line toll free at 1-800-HUD-8929. When requesting an application kit, please refer to BEDI. Please be sure to provide the applicant's name, address (including zip code), and telephone number (including area code), along with the name and phone number of your contact person. Persons with hearing or speech impairments may call the Center's TTY number at 1-800-HUD-2209 to obtain an application kit. The application kit will also be available on the Internet through the HUD web site at http://www.hud.gov/grants.

For Further Information and Technical Assistance. Contact Lisa Peoples, Office of Economic Development, Department of Housing and Urban Development, 451 Seventh Street, SW, Room 7140, Washington, DC 20410, telephone (202) 708-0614 ext. 4456 (this is not a toll-free number). Persons with speech or hearing impairments may access this number via TTY by calling the toll-free Federal Information Relay Service at 1-800-877-8339.

See the General Section of this SuperNOFA for guidance on the provision of technical assistance for EDI grants. The Section 108 Loan Guarantee program is not a competitive program and therefore is not subject to those provisions of the HUD Reform Act pertaining to competitions. HUD staff will be available to provide advice and assistance to develop your Section 108 loan application.

Satellite Broadcast. HUD will hold an information broadcast via satellite for potential applicants to learn more about the program and preparation of BEDI application. For more information about the date and time of the broadcast, you should consult the HUD web site at http://www.hud.gov.

II. Amount Allocated

HUD has available a maximum of $25 million for the BEDI program, as appropriated in the FY 2001 HUD Appropriations Act for the purpose of assisting public entities in the redevelopment of brownfields. The maximum funding amount of a BEDI award is $2 million.

III. Program Description; Eligible Applicants; Eligible Activities

(A) Program Description. BEDI is designed to help cities redevelop abandoned, idled, or underutilized industrial and commercial facilities where expansion or redevelopment is complicated by real or perceived environmental contamination—brownfields. BEDI provides funding to local governments to be used in conjunction with Section 108 loan guarantees to finance redevelopment of brownfields sites. A BEDI grant must be used in conjunction with a new Section 108 guaranteed loan commitment. Both Section 108 loan guarantee proceeds and BEDI grant funds are initially made available by HUD to public entities approved for assistance. Such public entities may re-loan the Section 108 loan proceeds and provide BEDI funds to a business or other entity to carry out an approved brownfield economic development project, or the public entity may carry out the eligible project itself, as provided in the approved application. In either case, BEDI grant funds and the 108 proceeds must be used together to support the same eligible project.

(1) Definitions. Unless otherwise defined herein, terms defined in 24 CFR part 570 and used in this program section of this SuperNOFA shall have the respective meanings given thereto in that part.

Act means Title I, Housing and Community Development Act of 1974, as amended (42 U.S.C. 5301 et seq.).

Application means a single set of documents submitted by an eligible applicant for BEDI grant funds, in accordance with the provisions of this program section of the SuperNOFA to finance a brownfield economic development project. A BEDI application must be accompanied by a Section 108 loan guarantee request, which may consist of either a brief summary of the proposed use of 108 funds, or a full application, which may either be submitted at the same time as the BEDI application or be provided within 60 days of BEDI grant award, as more fully explained in Section IV(C) of this program section. Note that the Section 108 application must be submitted to the appropriate HUD field office concurrently with its submission to Headquarters.

Brownfields means abandoned, idled, or under-used real property (including industrial and commercial facilities) where expansion or redevelopment is complicated by real or perceived contamination.

Brownfields Economic Development Initiative (BEDI) means the competitive award of up to $2 million, as appropriated in the FY 2001 HUD Appropriations Act, for economic development grant assistance under Section 108(q) of the Act for the purpose of assisting public entities in the redevelopment of brownfields.

Brownfields Economic Development (BEDI) project means an activity or activities (including mixed use projects with housing components) that are eligible under the Act and under 24 CFR 570.703, and that increase economic opportunity for persons of low-and moderate-income or that stimulate or retain businesses or jobs or that otherwise lead to economic revitalization in connection with brownfields.

CDBG funds means those funds collectively so defined at 24 CFR 570.3, including grant funds received pursuant to Section 108(q) and this program section of this SuperNOFA.

Economic Development Initiative (EDI) means the provision of economic development grant assistance under Section 108(q) of the Act, as authorized by Section 232 of the Multifamily Housing Property Disposition Reform Act of 1994 (Pub.L. 103-233, approved April 11, 1994).

Empowerment Zone or Enterprise Community means an urban area so designated by the Secretary of HUD pursuant to 24 CFR part 597 or part 598, or a rural area so designated by the Secretary of Agriculture pursuant to 7 CFR part 25, subpart B.

Firm Commitment means either a written agreement or letter of understanding by which an applicant and/or its partner:

(1) Agrees to perform an activity specified in the application, and demonstrates its relationship to the proposed EDI project;

(2) Specifies the amount of the commitment, and demonstrates that it has the financial and organizational capacity to deliver the resources necessary to successfully complete the activity; if the committed activity is to be self-financed, the applicant's partner must evidence its financial capacity through a corporate or personal financial statement or other appropriate means; and

(3) Irrevocably commits the resources to the activity either through cash or in-kind services or contributions; if any portion is to be financed through a grant or loan from another public or private organization, that institution's grant or loan commitment must be firmly committed as well.

Any such agreement or letter of understanding shall be understood as being contingent upon receipt of the EDI grant.

In order for an applicant's commitment of CDBG funds to be counted by HUD, a resolution from the local governing body (e.g., city/borough council) authorizing the amount and permitted use(s) of the funds must be provided. Each agreement or letter of commitment must include the organization's name and proposed total level of commitment and responsibilities as they relate to the proposed EDI project. The commitment must be signed by an official of the organization legally authorized to make commitments on behalf of the organization and have an effective date not earlier than the publication date of this NOFA.

EPA means the U.S. Environmental Protection Agency.

Showcase Community means an applicant chosen by the Federal Government's Brownfields National Partnership for inclusion in the Federal Government's Brownfields Showcase Communities program.

Strategic Plan means a strategy developed and agreed to by the nominating local government(s) and State(s) and submitted in partial fulfillment of the application requirements for an Empowerment Zone or Enterprise Community designated pursuant to 24 CFR part 597 or part 598.

(2) Background. (a) HUD has multiple programs which are intended to stimulate and promote economic and community development and can be effectively employed to address and remedy brownfields conditions. Primary among HUD's resources are the Community Development Block Grant (CDBG) program and the Section 108 loan guarantee program.

The CDBG program provides grant funds ($4.4 billion in FY 2001) by formula to local governments (either directly or through States) to carry out community and economic development activities. The Section 108 loan guarantee program provides local governments with a source of financing for economic development, public facilities, and other eligible large scale physical development projects. HUD is authorized pursuant to Section 108 to guarantee notes issued by CDBG entitlement communities and non-entitlement units of general local government eligible to receive funds under the State CDBG program. The Section 108 program is subject to the regulations of 24 CFR part 570 applicable to the CDBG program as described in 24 CFR part 570, subpart M. BEDI grants must support Section 108 loan guarantees as generally described in this program section of this SuperNOFA.

(c) For FY 2001, the Section 108 program is authorized at $1.26 billion in loan guarantee authority. The full faith and credit of the United States is pledged to the payment of all guarantees made under Section 108. Under this program, communities (and States, as applicable) pledge their continuing CDBG allocations as security for loans guaranteed by HUD. The Section 108 program, however, does not require CDBG funds to be escrowed for loan repayment (unless such an arrangement is specifically negotiated as loan security and included in the applicable “Contract for Loan Guarantee Assistance.”) This means that a community can ordinarily continue to spend its existing allocation for other CDBG purposes, unless needed for loan repayment.

(3) EDI Program. The EDI program was enacted in 1994 and is intended to complement and enhance the Section 108 Loan Guarantee program. A purpose of EDI (and BEDI) grant funds is to reduce grantees' potential loss of future CDBG allocations:

(a) By strengthening the economic feasibility of the projects financed with Section 108 funds (and thereby increasing the probability that the project will generate enough cash to repay the guaranteed loan);

(b) By directly enhancing the security of the guaranteed loan; or

(c) Through a combination of these or other risk mitigation techniques.

(4) BEDI Program. For FY 2001, Congress has made a specific appropriation of $25 million for the BEDI program to assist in financing “brownfields” redevelopment. HUD intends the $25 million in Brownfields (BEDI) funds available pursuant to this program section of this SuperNOFA to be used with a particular emphasis upon the redevelopment of brownfields sites consistent with the statutory purpose of the FY 2001 HUD Appropriations Act. Accordingly, BEDI funds shall be used as the stimulus for local governments and private sector parties to commence redevelopment or continue phased redevelopment efforts on brownfields sites where contamination is known or suspected and a redevelopment plans exist. HUD desires to see BEDI and Section 108 funds used to finance projects and activities that will provide near-term results and demonstrable economic benefits, such as job creation and increases in the local tax base. HUD does not encourage applications whose scope is limited only to site acquisition and/or remediation (i.e., land banking), where there is no immediately planned redevelopment.

(5) Redevelopment Focus. The redevelopment focus for BEDI-assisted projects is also prompted by the need to provide additional security for the Section 108 loan guarantee pursuant to 24 CFR 570.705(b)(3). While public entities are required by the Act to pledge their current and future CDBG funds as a source of security for the Section 108 loan guarantee, the public entity will usually be required to furnish additional collateral which, ideally, will be the assets financed with the Section 108 loan funds. Clearly, a redevelopment focus for the BEDI funds will help achieve this goal by enhancing the value of the assets securing the Section 108 loan.

(6) Integration of Other Government Brownfields Programs. HUD expects and encourages local governments which are designated through (a) the Federal Government's Brownfields Showcase Community program, (b) other Federal brownfields programs (e.g., EPA's Assessment Pilot or Revolving Loan Fund programs), (c) a State-supported brownfields program, or (d) a State or local related economic development program, to integrate efforts arising from those programs in developing projects for assistance under HUD's BEDI and Section 108 programs. Applicants should elaborate upon these ties in their response to the rating factors, where appropriate (e.g. “Capacity of the Applicant,” “Soundness of Approach,” “Leveraging Resources,” or “Comprehensiveness and Coordination,”—Rating Factors 1, 3, 4, and 5 respectively.)

(7) Additional Security for Section 108 Loan Guarantee. Public entities should be mindful of the need to provide additional security for the Section 108 loan guarantee pursuant to 24 CFR 570.705(b)(3). Although a public entity is required by the Act to pledge its current and future CDBG funds as security for the Section 108 loan guarantee, the public entity will usually be required to furnish additional collateral. In most cases, the additional collateral consists (in whole or in part) of the asset financed with the Section 108 loan funds (e.g., a loan made to a business as part of an economic development project). Applications proposing uses for BEDI funding that directly enhance the value of the assets securing the Section 108 loan will help ensure that the project-based asset(s) will satisfy the additional collateral requirements.

(8) Typical Project Structures. Provided that proposals are consistent with other CDBG requirements, including national objectives, HUD envisions that the following project structures could be typical:

(a) Land Writedowns. Local governments may use a combination of Section 108 and BEDI funds to acquire a brownfields site for purposes of reconveying the site to a private developer at a discount from its purchase price. This approach would provide the developer with an asset of enhanced value which could be used as collateral for other sources of funding. Such other sources of financing could be used to finance environmental remediation or other development costs. In theory, the level of BEDI assistance would approximate the difference between the original cost of the site and its remediation in comparison to the market value of the remediated property.

(b) Site Remediation Costs. Local governments may use BEDI funds in any of several ways to address site remediation costs. If the local government used Section 108 funds to acquire real property, BEDI funds could be used to address assessment and site remediation costs as part of demolition, clearance, or site preparation activities. If the local government used Section 108 funds to make a loan to a developer, BEDI funds could be granted to the developer for the purpose of addressing remediation costs as part of an economic development activity.

(c) Funding Reserves. The cash flow generated by an economic development project may be expected to be relatively “thin” in the early stages of the project, i.e. potentially insufficient cash flows to meet operating expenses and debt service obligations. The BEDI grant can make it possible for reserves to be established in a way that enhances the economic feasibility of the project.

(d) Over-Collateralizing the Section 108 Loan.

(i) The use of BEDI grant funds may be structured in appropriate cases so as to improve the likelihood that project-generated cash flow will be sufficient to cover debt service on the Section 108 loan and directly to enhance the guaranteed loan. One technique for accomplishing this approach is over-collateralization of the Section 108 loan.

(ii) An example is the creation of a loan pool funded with both Section 108 and BEDI grant funds. The community would make loans to various businesses from the combined pool at an interest rate equal to or greater than the rate on the Section 108 loan. The total loan portfolio would be pledged to the repayment of the Section 108 loan.

(e) Direct Enhancement of the Security of the Section 108 Loan. The BEDI grant can be used to cover the cost of providing enhanced security. An example of how the BEDI grant can be used for this purpose is by using the grant funds to cover the cost of a standby letter of credit, issued in favor of HUD. This letter of credit will be available to fund amounts due on the Section 108 loan if other sources fail to materialize and thus will serve to protect the public entity's future CDBG funds.

(f) Provision of Financing to For-Profit Businesses at a Below Market Interest Rate.

(i) While the rates on loans guaranteed under Section 108 are only slightly above the rates on comparable U.S. Treasury obligations, they may nonetheless be higher than can be afforded by businesses in severely economically distressed neighborhoods. The BEDI grant can be used to make Section 108 financing affordable.

(ii) BEDI grant funds could serve to “buy down” the interest rate up front, or make full or partial interest payments, allowing the businesses to be financially viable in the early start-up period not otherwise possible with Section 108 alone. This strategy would be particularly useful where a community was undertaking a large commercial/retail project in a distressed neighborhood to act as a catalyst for other development in the area.

(g) Combination of Techniques. An applicant could employ a combination of these or other techniques in order to implement a strategy that carries out a BEDI project

(8) Additional Project Structure. HUD will consider funding a BEDI proposal in which the related Section 108-guaranteed obligation would be used solely as security only under the following conditions:

(a) If BEDI funds are not the first source of funds injected into the project, and

(b) If project funds are disbursed according to a ratio that represents the amount of BEDI funds to the amount of private or public debt that is firmly committed to the project, as required under Rating Factor 4 “Leveraging Resources” below, and

(c) If the grantee maintains in its records a listing of the amount of private funds being distributed by the private party (i.e., the financing institution) to the project.

Grantees are reminded that the BEDI grantee/Section 108 borrower's loan-guaranteed obligation cannot remain undisbursed for more than five years following the year in which the Section 108 commitment is made. Consequently, the borrower's 108-guaranteed obligation cannot have a term that exceeds five years plus the remaining portion of the fiscal year in which the 108 commitment is made.

(B) Eligible Applicants. (1) Any public entity eligible to apply for Section 108 loan guarantee assistance in accordance with 24 CFR 570.702 may apply for BEDI grant assistance under Section 108(q). Eligible applicants are CDBG entitlement units of general local government and non-entitlement units of general local government eligible to receive loan guarantees under 24 CFR part 570, subpart M. Urban Counties, as defined at 24 CFR 570.3 and 570.307, are eligible applicants for BEDI funds; units of general local government which participate in an Urban County program are not independently eligible applicants. For non-entitlement applicants other than those subject to 24 CFR 570, subpart F, applicants will be required to provide evidence in the application from an authorized official of the State agency responsible for administering the State CDBG program) stating its intention to support the related Section 108 loan with a pledge of its CDBG funds pursuant to the requirements of 24 CFR 570.705(b)(2). Such evidence shall take the form of the HUD Certification titled “SECTION 108 LOAN GUARANTEES: State Certifications Related to Nonentitlement Public Entities” which may be obtained either by downloading from the Internet or in the BEDI Application Kit to be published shortly after publication of this SuperNOFA. Note that effective January 25, 1995, non-entitlement public entities in the State of Hawaii were authorized to apply to HUD for Section 108 loans (see 59 FR 47510, December 27, 1994). Thus non-entitlement public entities in all 50 states and Puerto Rico are eligible to participate in the Section 108 and BEDI programs.

(2) Applicants for BEDI projects must comply with the threshold requirements of Section II of the General Section of the SuperNOFA.

(C) Eligible Activities and National Objectives. (1) BEDI grant funds and Section 108 loan guarantee funds may be used for activities listed at 24 CFR 570.703, provided such activities are carried out as part of a BEDI project as described in this BEDI section of this SuperNOFA, including Section III(A) of this program section of the SuperNOFA. You are required to submit applications that seek funding for BEDI projects that will contribute to the redevelopment and revitalization of brownfields. Applications that fail to meet the requirements for a BEDI project as set forth in this SuperNOFA will not be rated by HUD.

(2) Each activity assisted with Section 108 loan guarantee or BEDI funds must meet a national objective of the CDBG program as described in 24 CFR 570.208. Applicants must clearly identify in their narrative statement (as described in Section V(B) of this program section below) the CDBG national objective to be achieved by the proposed project and provide the appropriate CDBG national objective regulatory citation found at 24 CFR 570.208. Applicants must also address, when applicable, how the proposed activities will comply with the public benefit standards of the CDBG program as reflected in the regulation at 24 CFR 570.209 for the Entitlement and Small Cities programs or 24 CFR 570.482 for the State CDBG program.

(3) In the aggregate, a grantee's use of CDBG funds, including any Section 108 loan guarantee proceeds and Section 108(q) (BEDI) funds provided pursuant to this program section of this SuperNOFA, must comply with the CDBG primary objective requirements as described in section 101(c) of the Act and 24 CFR 570.200(a)(3) or 570.484 in the case of State grantees.

IV. Program Requirements

(A) CDBG Program Regulations. In addition to 24 CFR 570.701 (Definitions), § 570.702 (Eligible applicants), and § 570.703 (Eligible activities), as explained in Section III(C) of this program section of the SuperNOFA, the CDBG regulatory requirements cited in 24 CFR 570.707, including subparts J (Grant Administration), K (Other Program Requirements), and O (Performance Reviews) govern the use of BEDI funds, as applicable.

(B) Compliance with Applicable Laws. Applicants are advised that an award of BEDI funding does not in any way relieve the applicant or third party users of BEDI funds from compliance with all applicable Federal, State and local laws, particularly those addressing the environment. Applicants are further advised that HUD may require evidence that any project involving remediation has been or will be carried out in accordance with State law, including voluntary clean up programs.

(C) Related Section 108 Loan Guarantee Request. (1) Each BEDI application must be accompanied by a request for new Section 108 loan guarantee assistance. Notwithstanding the form of your request for new Section 108 loan guarantee assistance under paragraphs (a), (b), (c), or (d) below of this Section IV(C), you must include citations to the specific regulatory subsection supporting activity eligibility and national objectives compliance for the project described in your application. (See Section III(C) of this program section of this SuperNOFA.) Both the BEDI and Section 108 funds must be used in conjunction with the same BEDI project. The request may take any of several forms as defined below.

(a) A full application for new Section 108 loan guarantee(s), including the documents listed at 24 CFR 570.704(b).

(b) A brief description (not to exceed three pages) of the project to be applied for in a new Section 108 loan guarantee application(s). Such 108 application(s) will be submitted within 60 days of written notice of BEDI selection, with HUD reserving the right to extend such period for good cause on a case-by-case basis. BEDI awards will be conditioned on approval of actual Section 108 loan commitments. The application description must be sufficient to support the basic eligibility of the proposed project and activities for Section 108 assistance. (See Section III(C) of this program section of the SuperNOFA.)

(c) A copy of a pending, unapproved Section 108 loan guarantee application, and any proposed amendments to the Section 108 application which are related to the BEDI application. The applicant's submission of such a BEDI/Section 108 application shall be deemed by HUD to constitute a request to suspend separate processing of the Section 108 application. The Section 108 application will not be approved until on or after the date of the related BEDI award.

(d) A request for Section 108 loan guarantee assistance (analogous to Section IV(C)(1)(a) or (b) of this BEDI section of the SuperNOFA) that proposes to increase the amount of a previously approved application. However, any amount of Section 108 loan guarantee authority approved before HUD's announcement of a BEDI grant for the same project is not eligible to be used in conjunction with a BEDI grant under this program section.

(2) Further, a Section 108 loan guarantee amount that is required to be used in conjunction with a prior EDI or BEDI grant award, whether or not the Section 108 loan guarantee has been approved as of the date of this SuperNOFA, is not eligible for a BEDI award under this SuperNOFA. For example, if a public entity has a previously approved Section 108 loan guarantee commitment of $12 million, even if none of the funds have been utilized, or if the public entity had previously been awarded an EDI grant of $1 million and had certified that it will submit a Section 108 loan application for $10 million in support of that EDI grant, the public entity's application under this program section of this SuperNOFA must propose to increase the amount of its total Section 108 loan guarantee commitments beyond those amounts (the $12 million or $10 million in this example) to which it has previously agreed.

(D) Prohibitions on Use of BEDI and Section 108 Funds. Certain restrictions shall apply to the use of BEDI and Section 108 funds:

(1) BEDI grants must not be used as a resource to immediately repay the principal of a loan guaranteed under Section 108. Repayment of principal is only permissible with BEDI grant funds as a matter of security if other sources projected for repayment of principal prove to be unavailable.

(2) Section 108 loan obligations may not be subordinated, directly or indirectly, to federally tax exempt obligations. Pursuant to Office of Management and Budget (OMB) Circular A-129 (Rev.) Appendix A, sections II. 2.c. and d., (Policies for Federal Credit Programs and Non-Tax Receivables), Section 108 guaranteed loan funds may not directly or indirectly support federally tax-exempt obligations.

(3) BEDI grant funds shall not be used in any manner by grantees to provide public or private sector entities with funding to remediate conditions caused by their actions, where the public entity (or other known prospective beneficiary of the proposed BEDI grant) has been determined responsible for causation and remediation by order of a court or a Federal, State, or local regulatory agency, or is responsible for the remediation as part of a settlement approved by such a court or agency.

Applicants may not propose projects on sites which are listed or proposed to be listed on EPA's National Priority List (NPL). Further, applicants are cautioned against proposing projects on sites where the nature and degree of environmental contamination is not well quantified or which are the subject of on-going litigation or environmental enforcement action.

(E) Time-frames. BEDI grant awards will contain conditions requiring grantees to adhere to their stated time-frames for implementing proposed projects and drawing Section 108 and BEDI funds. If the related Section 108 application has not been submitted and approved and the Note guaranteed within fifteen (15) months of written HUD notification of grant award, HUD may deobligate the BEDI funds. If BEDI grant funds and Section 108 loan proceeds have not been disbursed to the applicant within the timeframes specified in the BEDI Grant Agreement and the 108 Contract, HUD reserves the right to recapture the BEDI funds, unless an extension of time has been authorized in writing by HUD, and either award them to the applicant that scored the next highest in that year's competition, provided that such applicant's application remains feasible and appropriate under this program section of the NOFA, or make them available as part of the next BEDI NOFA.

(F) Limitations on Grant Amounts. (1) HUD expects to approve BEDI grant amounts for approvable applications with a range of ratios of BEDI grant funds awarded to new Section 108 loan guarantee commitments but the minimum ratio will be $1 of Section 108 loan guarantee commitments for every $1 of BEDI grant funds. However, if you propose a leverage ratio of 1:1, your application will not receive any points under the Rating Subfactor 4(1): “Leverage of Section 108 Funds.”

For example, if you request a BEDI grant of $1 million, you will be required to leverage a minimum of at least $1 million in new Section 108 loan guarantee commitments. Of course, even though there is a minimum ratio of 1:1, applications with higher ratios will receive more points under Rating Factor 4, “Leveraging Resources” and, all other things being equal, will be more competitive. You are encouraged to propose projects with a greater leverage ratio of new Section 108 to BEDI grant funds (assuming such projects are financially viable). For example $1 million of BEDI could leverage $12 million of new Section 108 loan commitments. HUD intends that the BEDI funds will be used for projects that leverage the greatest possible amount of Section 108 loan guarantee commitments. Because a fundable application is competitive in part because of the applicant's proposed ratio of BEDI funds to funds guaranteed by a Section 108 loan guarantee, HUD will condition a BEDI grant award on the grantee's achievement of that specific ratio. Your failure to meet that condition by obtaining timely HUD approval of a commitment for, and issuance of, the required Section 108 guaranteed obligations ratio may result in the cancellation and recapture of all or a proportionate share of the BEDI grant award.

(2) HUD will cap BEDI awards at a maximum of $2 million. An application in excess of $2 million will be reduced below the amount requested by the applicant to the extent HUD determines that such a reduction is appropriate.

(3) If additional BEDI grant funds become available to HUD (e.g., from recaptures or other appropriations), HUD reserves the right to award grants under this SuperNOFA during FY 2001 whose aggregate total may exceed the $25 million announced in this program of the SuperNOFA, up to the maximum amount authorized by law. In the event you are awarded a BEDI grant that has been reduced below the original request (e.g., your application contained some activities that were ineligible, exceeded the $2 million cap, or there were insufficient funds to fund the last competitive application at the full amount requested), you will be required to modify your project plans and application to conform to the terms of HUD approval before HUD will execute a grant agreement.

(4) HUD also will proportionately reduce or deobligate the BEDI award if you do not submit an approvable Section 108 loan guarantee application and issue Section 108-guaranteed obligations on a timely basis (including any extension authorized by HUD) in the amount required by the BEDI/108 leveraging ratio, which will be approved by HUD as a special condition of the BEDI grant award (see Section IV(E)(1) above of this program section of the SuperNOFA). Any modifications or amendments to your application approved pursuant to this SuperNOFA, whether requested by you or by HUD, must be within the scope of the approved original BEDI application in all respects material to rating the application, unless HUD determines that your revised application remains within the competitive range and is otherwise approvable under this SuperNOFA competition.

(5) In the case of a requested increase in guarantee assistance for a project with a previously approved Section 108 loan guarantee commitment (as further discussed in Section IV(C)(1)(d), above), the BEDI assistance approved with be based on the increased amount of Section 108 loan guarantee assistance.

(6) Pursuant to another portion of this SuperNOFA, HUD is simultaneously announcing the availability of approximately $7.02 million of Economic Development Initiative (EDI) funds. While HUD will permit applicants to pursue BEDI and EDI funds for the same project, HUD requires that the BEDI and EDI applications (and their components) be independent of one another. Thus, each application should have an identifiable amount of Section 108 funding associated with its respective request for EDI and BEDI funds for purposes of determining the leverage of Section 108 funding to the corresponding amount of EDI or BEDI funds requested. Further, the proposed amount of Section 108 borrowing associated with the BEDI or EDI grant shall not be used to determine leverage of other financial resources under Rating Factor 4, paragraph (2). Further, if an applicant seeks both BEDI and EDI funds for the same project, it must include in its response to Rating Factor 3 a discussion of how the project can be financed and implemented if it fails to obtain either BEDI or EDI funds under this SuperNOFA.

(G) Timing of Grant Awards. (1) To the extent you submit a full Section 108 application with the BEDI grant application, HUD will evaluate your Section 108 application concurrently with your request for BEDI grant funds. Note that the 108 application must be submitted to the appropriate HUD field office concurrently with submission to Headquarters. In addition, BEDI grant assistance cannot be used to leverage a Section 108 loan guarantee approved prior to the date of HUD's announcement of a BEDI grant pursuant to this SuperNOFA. However, the BEDI grant may be awarded prior to HUD approval of the Section 108 commitment if HUD determines that such award will further the purposes of the Act.

(2) HUD's notice to you of the amount and conditions of BEDI funds awarded, based upon review of the BEDI application, constitutes an obligation of grant funds, subject to compliance with the conditions of award and execution of a grant agreement. BEDI funds must not be disbursed to the grantee before the issuance of the related Section 108 guaranteed obligations.

(H) Economic Opportunities for Low and Very Low-Income Persons (Section 3). Section 3 of the Housing and Urban Development Act of 1968 (12 U.S.C. 1701u) is applicable to EDI grant recipients. Please see Section II (E) of the General Section of the SuperNOFA.

(I) Nondiscrimination. Section 109 of the Housing and Community Development Act of 1974, as amended (42 U.S.C. 5309), is applicable to BEDI grant recipients. Applicants must therefore adhere to HUD regulations at 24 CFR parts 6 and 570, including, but not limited to, reporting and record-keeping requirements under 24 CFR 570.506 and 570.507.

V. The Application Selection Process

(A) Rating and Ranking. (1) Each rating factor and the maximum number of points is provided below. The maximum number of points to be awarded is 104. To be eligible for funding, an application must have a minimum score of 20 points for Rating Factors 1 (Capacity) and 3 (Soundness of Approach) combined to be considered fundable.

(2) Once scores are assigned, HUD will rank all applications meeting program and threshold requirements in order of points assigned, with the applications receiving more points ranking above those receiving fewer points. Applications will be funded in rank order.

(3) Prior to award, if HUD determines that an application rated, ranked and fundable could be funded at a lesser BEDI grant amount than requested consistent with feasibility of the funded project or activities and the purposes of the Act, HUD reserves the right to reduce the amount of the BEDI award and/or increase the required Section 108 loan guarantee commitment, if necessary, in accordance with such determination. An application in excess of $2 million will be reduced below the amount requested by the applicant to the extent HUD determines that such a reduction is appropriate.

(4) HUD may decide not to award the full amount of BEDI grant funds available under this program section of this SuperNOFA and may make any remaining amounts available under a future SuperNOFA.

(5) In the event two or more applications are given the same score, but there are insufficient funds for all, the application(s) with the highest score(s) on Rating Factor 2 (Distress/Extent of the Problem) shall be selected. If there is still a tie, the following Factors will be considered sequentially as follows, with the application having the high score on that Factor taking precedence until the tie is broken: Rating Factor 3 (Soundness of Approach), Rating Factor 1 (Capacity and Experience), Rating Factor 4 (Leveraging Resources), and Rating Factor 5 (Comprehensiveness and Coordination).

Fundable economic development applications must meet the threshold requirements stipulated in the General Section of this SuperNOFA and be complete as required by the Submission requirements of this program section of the SuperNOFA. Economic development projects will be funded in rank order until the total aggregate amount of the applications funded is equal to the maximum amount available in the competition (subject to the Department's discretion described in Section IV(F) below).

Bonus Points

An additional two points may be awarded for projects that are located either in federally-designated Empowerment Zones, Enterprise Communities or Brownfields Showcase Communities; two points may also be awarded for qualifying projects in Dallas, Texas as mandated by a decision by the U.S. District Court for the Northern District of Texas, for a maximum total of four bonus points. For specific details, please see Section III(C)(1) in the General Section of the SuperNOFA, and Rating Factor 3, paragraph (6) below.

(B) Narrative Statements.

(1) Provide a narrative statement describing the activities that you will carry out with the BEDI grant funds, explaining the nature and extent of the Brownfield's problem(s) affecting the project. Your BEDI narrative statement must not exceed three (3) 8.5″ by 11″ pages, double-spaced.

(2) In the foregoing narrative statement describe how your proposed uses of BEDI funds will meet the national objectives for the CDBG program under 24 CFR 570.208 and qualify as eligible activities under 24 CFR 570.703. Applications must include citations to the specific regulatory subsections supporting activity eligibility and national objectives compliance. (See Section III(C) of this program section of this SuperNOFA.)

(3) The applicant must also provide narrative statements in response to each of the rating factors below.

(4) Print all narrative statements in 12 point type/font, and use sequentially numbered pages.

(C) Factors for Award Used to Evaluate and Rate Applications. HUD will consider your application for selection based on the following factors that demonstrate the quality of your proposed project or activities, and your creativity, capacity and commitment to obtain maximum benefit from the BEDI funds, in accordance with the purposes of the Act.

Responses to Rating Factors 1-5 below shall not exceed fifteen (15) pages combined.

Rating Factor 1: Capacity of the Applicant and Relevant Organizational Experience (15 Points)

This factor addresses the extent to which you have the organizational resources necessary to successfully implement the proposed activities in a timely manner. The rating of the “applicant” or the “applicant's organization and staff” for technical merit or threshold compliance, unless otherwise specified, will include any subcontractors, consultants, subrecipients that are firmly committed (see definition in Section III(A)(1) above) to participate in the activities described in the application. In rating this factor, HUD will consider the following:

(1) With regard to the BEDI/Section 108 project you propose, you must demonstrate that you have the capacity to implement the specific steps required to successfully carry out the proposed BEDI/Section 108 project. Evidence of capacity will be judged by your:

(a) Performance in the administration of your CDBG, HOME or other programs;

(b) Performance and capacity in carrying out economic development projects;

(c) Performance and capacity with respect to Brownfields redevelopment projects similar to that proposed; including the ability to conduct prudent underwriting, if applicable; and

(d) Capacity to carry out your projects and programs in a timely manner; an applicant must address its performance in spending previously awarded funds, if any, in a timely manner, including, for CDBG entitlement recipients, the extent to which the recipient has met the HUD standard of having no more than 1.5 times its entitlement amount undisbursed (see 24 CFR 570.902(a)(1)(i)); and,

(e) If applicable, your capacity to manage projects under this program section of this SuperNOFA along with any federal funds awarded as a result of a federal urban Empowerment Zone/Enterprise Community designation (including Enhanced Enterprise Community (EEC) designations).

(2) An applicant that has previously received an EDI or BEDI grant award(s), you must describe the status of the implementation of those project(s) assisted with EDI or BEDI funds, any delays that have been encountered and the actions you are taking to overcome any such delays in order to carry out the project in a timely manner. For such previously funded EDI or BEDI grant projects, HUD will award more rating points for applications providing evidence of achievement of specific measurable outcomes in carrying out activities funded with previous EDI or BEDI grant funds and the associated Section 108-guaranteed loan funds.

The experience and performance of subrecipients, nonprofit organizations and other entities that have a role in implementing your proposed program will be included in this review.

Experience and performance of subrecipients, nonprofit organizations and other entities that have a role in implementing your proposed program will be included in this review. Experience will be judged in terms of recent and successful performance of activities relevant to those proposed in the BEDI application. The more recent and extensive the experience, the greater the number of points that will be awarded for this Factor.

HUD also may rely on information from performance reports, financial status information, monitoring reports, audit reports and other information available to HUD in making its determination under this factor.

Rating Factor 2: Distress/Extent of the Problem (40 Points)

This factor addresses the extent to which there is need for funding the proposed activities based on levels of distress, and an indication of the urgency of meeting the need/distress in the applicant's target area. In responding to this factor, applications will be evaluated on the extent to which the level of distress is documented and compared, vis-a-vis, the target area, the jurisdiction, and national data.

In applying this factor, HUD will consider current levels of distress for the following areas affected by the project: first, in the area (i.e., Census Tract(s) or Block Groups) immediately surrounding the project site or the target area to be served by the proposed project; second, in the jurisdiction in which the project is to be located; third, relative to the similar measures of distress in the nation. Applicants may also provide data for the overall jurisdiction alongside comparable jurisdictions in the county and state, as appropriate to the activity, in order to demonstrate the various levels of distress in context. This means that an application that provides data that show levels of distress in the project area and the jurisdiction expressed as a percent greater than the national average will be rated higher under this Factor.

Notwithstanding the above, an applicant proposing a project to be located outside the target area could still receive points under the Distress factor if a clear rationale is provided linking the proposed project location and the benefits to be derived by persons living in more distressed area(s) of the applicant's jurisdiction.

Applicants should provide data that address all indicators of distress, if applicable, as follows:

Poverty rate (20 points)—data should be provided in both absolute and percentage form (i.e., whole numbers and percents) for both the target area(s) and the jurisdiction as a whole; an application that compares the local poverty rate in the following manner to the national average at the time of submission will receive points under this section as follows:

Equal to but less than twice the national average | 5 points;
Twice but less than three times the national average | 10 points;
Three or more times the national average | 20 points.

(b) Unemployment (15 points)—for both the project area and jurisdiction; an application that compares the local unemployment rate in the following manner to the national average at the time of submission will receive points under this Section as follows:

Equal to but less than twice the national average | 2 points;
Twice but less than three times the national average | 4 points;
Three but less than four times the national average | 6 points;
Four but less than five times the national average | 8 points;
Five or more times the national average | 10 points.

(c) Other Indicators of social and/or economic decline that best capture the applicant's local situation (5 points)—examples that could be provided under this Section are information demonstrating the jurisdiction's stagnant or falling tax base, including recent commercial or industrial closings, housing conditions, such as the number and percentage of substandard and/or overcrowded units, rent burden (defined as average housing cost divided by average income) for both the target area and county, local crime statistics, etc.

(3) To the extent that the applicant's Consolidated Plan, its Analysis of Impediments to Fair Housing choice (AI), and/or its Anti-Poverty Strategy identify the level of distress in the jurisdiction and the neighborhood in which the project is to be carried out, references to such documents should be included in preparing the response to this Factor

In rating applications under this Factor, HUD reserves the right to consider sources of available objective data other than, or in addition to, those provided by applicants, and to compare such data to those provided by applicants.

HUD requires use of sound and reliable data (e.g., U.S. Census data, State statistical reports, university studies/reports that are verifiable) to support distress levels cited in each application. A source for all information along with the publication or origination date must also be provided.

Updated Census data are available as follows for the listed indicators:

Unemployment rate—estimated monthly for counties, with a two-month lag;

Population—estimated for incorporated places and counties, through 1999;

(d) Poverty rate—estimated every two years, with a three-year lag, with 1997 being the most recent available.

Rating Factor 3: Soundness of Approach (25 Points)

This factor addresses the quality and cost-effectiveness of your proposed plan. There must be a sound relationship between the proposed activities, community needs and purposes of the program funding for you to receive points for this factor. In rating this factor, HUD will consider the following:

(1) (5 Points) The quality of your plan/proposal for using BEDI funds and Section 108 loan funds, including the extent to which your proposed plan for effective use of BEDI grant/Section 108-guaranteed loan funds will address the needs you described in Rating Factor 2 above regarding the distress and extent of the problem in your immediate target area and/or jurisdiction. As part of the response to this factor, you should identify the eligible activities you will carry out and fully describe how your project will achieve a CDBG national objective. You should make substantial efforts to demonstrate how your proposed project would mitigate or otherwise address the distress you identified in Rating Factor 2 above.

(2) (5 Points) The extent to which your plan is logical, feasible, and likely to achieve your stated purpose. HUD's desire is to fund projects and activities that will quickly produce demonstrable results and advance the public interest including the number of jobs to be created by the project. You should demonstrate that you have a clear understanding of the steps required to implement your project, the actions that you and others responsible for implementing the project must complete. For example, the application should provide evidence that authority necessary to proceed with the project has been sought and/or received, in the form of any necessary zoning classification, waivers, general permits, special use permits, assessment district designation, public easements and right-of-way, etc.

(3) You must include a reasonable time schedule for carrying out your project. The application kit contains a timeline form that you must use to indicate your project timing.

(4) The extent to which your response to this factor takes into account certain site selection, planning, and environmental issues. Further, you are cautioned against proposing projects on sites where the nature and degree of environmental contamination is not well quantified or that are the subject of on-going litigation or environmental enforcement. Sites with unknown or exceptionally expensive contamination problems may be beyond the scope of the BEDI program's financial resources, and sites subject to pending and current litigation may not be available for remediation and development in a time frame consistent with HUD's desire for rapid progress in the use of BEDI and Section 108 funds.

(5) The extent to which your projects will integrate environmental justice concerns and provide demonstrable benefits for affected communities and their residents. The BEDI program is intended to promote the clean up and redevelopment of brownfields sites.

(6) Financial Feasibility (10 Points). HUD will consider the extent to which you demonstrate that your project is financially feasible. In responding to this subfactor, you must clearly address the question of why the BEDI funds are critical to the success of your project. This may include factors such as:

(a) Project costs and financial requirements. A funding sources and uses statement must be provided, as well as justifications for project costs;

(b) The amount of any debt service or operating reserve accounts you will establish in connection with your economic development project.

(c) The reasonableness of the costs of any credit enhancement you pay with BEDI grant funds.

(d) The amount of program income (if any) you will receive each year during the repayment period for the guaranteed loan.

(e) Interest rates on loans to third parties, if any, (other than subrecipients) (either as an absolute rate or as a plus/minus spread to the Section 108 rate).

(f) Underwriting criteria that you will use in determining project feasibility.

(7) The extent to which your proposed project addresses your Analysis of Impediments and the needs identified in Rating Factor 2; the extent to which such project activities will result in the physical and economic improvement for the residents in the neighborhood in which your project will be carried out; the extent to which you will offer residents an opportunity to relocate to environmentally healthy housing or neighborhoods; or the extent to which residents will benefit from the funded project to enable them to continue to live in a redeveloped or revitalized neighborhood and thus share in the anticipated economic benefits and environmental improvements your project is expected to generate.

(8) The extent to which your project incorporates one or more elements that facilitate a successful transition of welfare recipients from welfare to work, including the number of living wage jobs to be created by the project and the impact of the project on job creation that will benefit individuals on welfare or low to very low income persons, and that are part of a career path or apprenticeship programs. Such an element could include, for example, linking the proposed project or loan fund to social and/or other services needed to enable welfare recipients to successfully secure and carry out full-time jobs in the private sector; provision of job training to welfare recipients who might be hired by businesses financed through the proposal; and/or incentives for businesses financed with BEDI/Section 108 funds to hire and train welfare recipients.

(9) Due to an order of the U.S. District Court for the Northern District of Texas, Dallas Division, with respect to any application submitted by the City of Dallas, Texas, HUD's consideration of the response to this factor, “Soundness of Approach” will include the extent to which Dallas' plan for BEDI funds and Section 108 loans will speed eradication of the vestiges of racial segregation in the Dallas Housing Authority's programs consistent with the Court's order. Up to two (2) additional points will be awarded to any application submitted by the City of Dallas, Texas, to the extent this subfactor is addressed.

Rating Factor 4: Leveraging Resources (15 Points)

In evaluating this factor, HUD will consider the extent to which your response demonstrates the financial need and feasibility of your project and the leverage ratio of Section 108 loan proceeds to BEDI grant funds. This factor has three subfactors, each with its own maximum point total:

(1) Leverage of Section 108 funds (10 points). [Your response to this subfactor is limited to one (1) page.] The minimum ratio of Section 108 funds to BEDI funds in any project may not be less than 1:1. The extent to which your proposed project leverages an amount of Section 108 funds beyond the 1:1 ratio will be considered a positive factor. If you have a ratio of 1:1, your application will not receive any points under this subfactor. If you use your BEDI grant to leverage more new Section 108 commitments, your application will receive more points under this subfactor.

(2) Leverage of other financial resources (5 points). HUD will evaluate the extent to which other funds (public or private) are leveraged with BEDI grant funds and Section 108-guaranteed loan funds, and the extent to which such other funds are firmly committed to the project. This could include the use of CDBG funds, other Federal or state grants or loans, local general funds, project equity or commercial financing provided by private sources or funds from non-profits or other sources. Funds will be considered committed to the project if they meet the requirements of “Firm Commitment as defined in Section III (A)(1) above, and shall be subject to completion of any environmental review required under 24 CFR part 58 for the project.

Rating Factor 5: Comprehensiveness and Coordination (5 Points)

This factor addresses the extent to which you have coordinated your activities with other known organizations; you participate or promote participation in your or a State's Consolidated Planning process; and you are working towards addressing a need in a comprehensive manner through linkages with other activities in the community.

In evaluating this factor, HUD will consider the extent to which you demonstrate you have:

(1) Coordinated your proposed activities with those of other groups or organizations before submitting your application, in order to best complement, support and coordinate all known activities; and developed specific steps to share information on solutions and outcomes with others. Describe any written agreements or memoranda of understanding in place, or that will be in place after award.

(2) Developed linkages, or specific steps to develop linkages with other activities, programs or projects (through meetings, information networks, planning processes or other mechanisms to coordinate your activities), so that solutions are holistic and comprehensive. Describe any linkages with other HUD-funded projects/activities outside the scope of those covered by the Consolidated Plan, as well as established linkages and outreach with residents of your project area.

(3) Coordinated your efforts with other Federal, State or locally supported activities, including US Army Corps of Engineers, Economic Development Administration, U.S. Department of Treasury, EPA's various Brownfields initiatives, and those proposed or on-going in the community.

VI. Application Submission Requirements

(A) BEDI Funding. An application for funding under the BEDI funding allocation under this program section of the SuperNOFA must have the following items to be complete. The standard forms, certifications and assurances that are required for the BEDI application (and listed in paragraph (J) below) can be found in Appendix B to the General Section. The remaining application items that are forms (i.e., excluding such items as narratives or letters, etc.), referred to as the “non-standard forms” can be found in Appendix B to this program section of the SuperNOFA.

(B) Transmittal Letter signed by the authorized representative of the eligible applicant indicating that it is submitting the application for funding under the Brownfields Economic Development Initiative Program and is requesting funding consideration for an EDI project.

(C) Checklist and Submission Table of Contents indicating the page numbers where the submission items can be found in your application (form HUD-40076-EDI/BEDI).

(D) EDI Narrative Statements describing EDI funded eligible activities within the proposed project.

(E) EDI/BEDI Funding Eligibility Statement. A completed EDI/BEDI Section 108 Funding Eligibility Statement (form HUD-40076-EDI/BEDI).

(F) Request for Loan Guarantee Assistance. A request for loan guarantee assistance under Section 108, as further described in Section IV(C) of this program section of the SuperNOFA. Full application guidelines for the Section 108 program are found at 24 CFR 570.704.

(G) Narrative Response(s) to Factors for Award:

(1) Rating Factor 1: Capacity and Relevant Organizational Experience. Provide a narrative indicating the relevant capacity of your organization and staff to perform the work for which it is requesting funding.

(2) Rating Factor 2: Need Statement Identifying the level of Distress/Extent of the Problem. Provide a narrative statement including any documentation supporting the statement of need. Optional form HUD-40076-EDI/BEDI has a format to respond to this factor for award.

(3) Rating Factor 3: Soundness of Approach. Include the activities, budget and time frame for conducting activities in the response (see form HUD-40076-EDI/BEDI).

(4) Rating Factor 4: Leveraging Resources. Your response should include a completed copy of form HUD-40076-EDI/BEDI, “Rating Factor 4: Leveraging Resources/Sources and Uses Statement.”

(5) Rating Factor 5: Comprehensiveness and Coordination. Provide a narrative response to this factor.

(H) Request for Funds. A single application must contain a request for funds for a single BEDI/108 project. You may submit more than one application for each additional unrelated BEDI/108 project. Each application will be rated and ranked individually. In no event will HUD rate and rank more than one BEDI project per application.

(I) Threshold Requirements. Your application must meet all of the applicable threshold requirements of Section II(B) of the General Section of this SuperNOFA.

(J) Additional Application Forms and Certifications. In addition to any forms that have been submitted in response to the Factors for Award (which may be found at Appendix A), the following forms and certifications must also be submitted:

(1) Application for Federal Assistance (Standard Form (SF) 424);

(2) Federal Assistance Funding Matrix (HUD 424M);

(3) Standard Form for Assurances—Non-Construction Programs (SF 424B) and/or Standard Form for Assurances—Construction Programs (SF 424D)—not applicable for this program section.

(4) Drug-Free Workplace Certification, HUD-50070.

(5) Certification of Payments to Influence Federal Transactions, HUD 50071, (and if applicant and/or participating parties are engaged in lobbying, the Disclosure Form Regarding Lobbying, SF-LLL);

(6) Applicant/Recipient Disclosure/Update Report, HUD-2880;

(7) Certification Regarding Debarment and Suspension, HUD-2992;

(8) Certification of Consistency With EZ/EC Strategic Plan, HUD-2990;

These forms are found in the Appendix B to the General Section of this SuperNOFA. The Budget Information on Standard Forms 424B or 424C is not required under this BEDI section of the SuperNOFA.

In addition to the fair housing and other civil rights assurance described under Section II(B) of the SuperNOFA General Section, applicants for EDI funds must provide assurance that they will comply with Section 109 of the Housing and Community Development Act of 1974, as amended, and must have resolved to HUD's satisfaction any letter of noncompliance findings under Section 109 before the deadline for BEDI application submission.

If an applicant wishes to receive an acknowledgment of HUD's receipt of its application, it should submit a completed Acknowledgment of Receipt of Application form. In addition to the fair housing and other civil rights assurance described under Section II(B) of the SuperNOFA General Section, applicants for BEDI funds must provide assurance that they will comply with Section 109 of the Housing and Community Development Act of 1974, as amended, and must have resolved to HUD's satisfaction any letter of noncompliance findings under Section 109 before the deadline for BEDI application submission.

VII. Corrections to Deficient Applications

The General Section of the SuperNOFA provides the procedures for corrections to deficient applications.

VIII. Environmental Requirements

(A) Environmental Review. After the completion of this competition and after HUD's award of BEDI grant funds, pursuant to 24 CFR 570.604, each project or activity assisted under this program is subject to the provisions of 24 CFR part 58, including limitations on the BEDI grantee and Section 108 public entity's commitment of HUD and non-HUD funds prior to the completion of environmental review, notification and release of funds. HUD will not release such assistance until you submit a request for release of funds and you satisfy the requirements of 24 CFR part 58. All public entities, including nonentitlement public entities, must submit the request for release of funds and related certification, pursuant to 24 CFR part 58, to the appropriate HUD field office for each project to be assisted.

(B) Environmental Justice. (1) Executive Order 12898 (Federal Actions to Address Environmental Justice in Minority Populations and Low-Income Populations) directs Federal agencies to develop strategies to address environmental justice. Environmental justice seeks to rectify the disproportionately high burden of environmental pollution that is often borne by low-income, minority, and other disadvantaged communities, and to ensure community involvement in policies and programs addressing this issue.

(2) Brownfields are often located in distressed neighborhoods, contribute to neighborhood blight, and lower the quality of social, economic, and environmental health of communities. The BEDI program is intended to promote the clean up and redevelopment of brownfields sites and HUD expects that projects presented for BEDI funding will integrate environmental justice concerns and provide demonstrable benefits for affected communities and their residents.

IX. Authority

Section 108(q), title I. Housing and community Development act of 1974, as amended, (42 U.S.C. 5301); 24 CFR part 570.

Appendix A

The non-standard forms for your BEDI application follow.

BILLING CODE 4210-32-P

FUNDING AVAILABILITY FOR SELF-HELP HOMEOWNERSHIP OPPORTUNITY PROGRAM (SHOP)

Program Overview

Purpose of the Program. To facilitate and encourage innovative homeownership opportunities through self-help housing where the homebuyer contributes a significant amount of sweat-equity toward the construction of the new dwelling.

Available Funds. Approximately $20 million.

Eligible Applicants. You must be a nonprofit national or regional organization or consortium.

Application Deadline. May 29, 2001.

Match. None.

Additional Information

If you are interested in applying for funding under this program, please review carefully the General Section of this SuperNOFA and the following additional information:

I. Application Due Date, Standard Forms, Further Information, and Technical Assistance

Application Due Date. Applications for SHOP grants must be physically received by HUD on or before 12:00 midnight, Eastern time on May 29, 2001.

See the General Section of this SuperNOFA for specific procedures governing the form of application submission (e.g., mailed applications, express mail, overnight delivery, or hand carried).

Address for Submitting Applications. Submit one original and two copies of the application to Department of Housing and Urban Development, Office of Community Planning and Development, Processing and Control Unit, 451 Seventh Street, SW, Room 7251, Washington, DC 20410, ATTN: Self-Help Homeownership Opportunity Program.

For Application Forms. There is no separate application kit. This notice contains all the information necessary for submission of your application. Copies of the standard forms are located in the General Section of this SuperNOFA or you may request copies by calling HUD's SuperNOFA Information Center at: 1-800-HUD-8929. If you have a hearing or speech impairment, please call the Center's TTY number at 1-800-HUD-2209. When requesting standard forms, you should refer to SHOP and provide your name and address (including zip code) and telephone number (including area code). See Section VI for application submission requirements. You may also access the application requirements on the Internet through HUD's web site at www.hud.gov.

Further Information and Technical Assistance. You may contact Lou Thompson, Office of Affordable Housing Programs, Department of Housing and Urban Development, Room 7168, 451 Seventh Street, SW, Washington, DC 20410; telephone (202) 708-2684, ext. 4594 (this is not a toll-free number). This number can be accessed via TTY by calling the Federal Information Relay Service Operator at 1-800-877-8339.

Satellite Broadcast. HUD will hold an information broadcast via satellite for potential applicants to learn more about the program and preparation of the application. For more information about the date and time of the broadcast, you should consult the HUD web site at http://www.hud.gov.

II. Amount Allocated

The amount available for this program is approximately $20,000,000.

III. Program Description; Eligible Applicants; Eligible Activities

(A) Program Description. SHOP is intended to facilitate and encourage innovative homeownership opportunities on a national geographically-diverse basis through self-help housing where the homebuyer contributes a significant amount of sweat-equity toward the construction or rehabilitation of the dwelling.

Decent, safe, and sanitary non-luxury dwellings developed under SHOP must be made available to eligible homebuyers at prices below the prevailing market prices. Eligible homebuyers are low-income families (families whose annual incomes do not exceed 80 percent of the median income for the area, as established by HUD) who are unable to purchase a dwelling. Housing assisted under this Notice must involve community participation through the use of homebuyers and/or volunteers in the construction of dwellings and by other activities which involve the community in the project.

(B) Eligible Applicants. You must be a nonprofit national or regional organization or consortium that has the capacity and experience to provide or facilitate self-help housing homeownership opportunities. Local affiliates of national or regional organizations or consortia must apply as part of the national or regional organization or consortia and may not apply for SHOP independently. “Regional” is defined for the purpose of this program section of the SuperNOFA to be a “regional area” such as the Southwest or Northeast which must include at least two or more States (the States need not be contiguous and the operational boundaries of the organization need not precisely conform to State boundaries). If you are a consortium, one organization must be chosen as the lead entity. The lead entity must submit the application and, if selected for funding, will execute the grant agreement and assume primary responsibility for carrying out grant activities in compliance with all program requirements. Other participants in your consortium must be identified in your application.

Your application may not propose a partnership with or funding for any affiliate or consortium member which is also included in another SHOP application. You must assure that any affiliate or consortium member under your FY 2001 application is not also seeking funding from another SHOP applicant for FY 2001 funds.

(C) Eligible Activities. The only eligible activities are: (1) land acquisition (including financing and closing costs), which may include reimbursing an organization, consortium, or affiliate, upon approval of any required environmental review, for nongrant amounts of the organization, consortium, or affiliate advanced to acquire land before completion of the review; (2) infrastructure improvements (installing, extending, constructing, rehabilitating, or otherwise improving utilities and other infrastructure, including removal of environmental hazards); and (3) administration, planning and management development as defined under the HOME Investment Partnerships Program (24 CFR part 92.207), and not to exceed 20 percent of any SHOP grant. Funding of eligible activities may be used for both single-family and multifamily dwellings.

(D) Ineligible Costs: Costs associated with the rehabilitation, improvement, or construction of dwellings are not eligible uses of program funds.

IV. Program Requirements

In addition to the program requirements listed in the General Section of this SuperNOFA, you are subject to the following SHOP requirements:

(A) Statutory Requirements. You must comply with all statutory requirements applicable to SHOP as cited in Section IX of this program section below. There are no regulations for this program. You must be capable of:

(1) Developing, through significant amounts of sweat-equity and volunteer labor, at least 30 dwellings at an average cost of no more than $10,000 per unit in SHOP funds;

(2) Using your grant to leverage other sources of funding, including private or other public funds;

(3) Developing quality dwellings that comply with local building and safety codes and standards and which will be available to homebuyers at prices below the prevailing market price; and

(4) Scheduling activities to expend all grant funds awarded and substantially fulfill your obligations under your grant agreement, including timely development of the appropriate number of dwelling units. Grant funds must be expended within 24 months, except that grant funds provided to affiliates that develop five or more units must expend funds within 36 months.

(B) Economic Opportunities for Low-and Very Low-Income Persons (Section 3). If you fund infrastructure improvements under this program, you are required to comply with section 3 of the Housing and Urban Development Act of 1968, 12 U.S.C. 1701u (Economic Opportunities for Low- and Very Low-Income Persons) and the HUD regulations at 24 CFR part 135, including the reporting requirements in subpart E. Section 3 requires that you provide training, employment and other economic opportunities, to the greatest extent feasible, to: (1) low- and very low-income persons, particularly those who are recipients of government assistance for housing and (2) business concerns which provide economic opportunities to low- and very low-income persons.

V. Application Selection Process

(A) Rating. HUD will review all applications in accordance with the Application Selection Process in the General Section of this SuperNOFA. HUD will review all applications based on the threshold factors listed in Section V(C) of this program section below. Applications which meet all threshold requirements will be rated according to the selection factors in this section of the SuperNOFA. Applications which do not meet all threshold factors will be rejected and not rated.

(B) Ranking and Selection Procedures. Applications that receive a total rating of 60 points or more (without the addition of EZ/EC bonus points) will be eligible for selection, and HUD will place them in rank order. After adding any bonus points for EZ/EC, HUD will consider rank order and funds availability in the selection and funding of applications.

HUD reserves the right to fund less than the full amount requested in any application to ensure a fair distribution of the funds and that dwellings will be developed on a national geographically-diverse basis as required by the statute. HUD will not fund any portion of an application that is ineligible for funding under program statutory requirements, or which does not meet the requirements of the General Section of this SuperNOFA or the requirements in the SHOP section of the SuperNOFA. HUD will not fund any eligible applicant for less than the minimum amount necessary to complete at least 30 homes (at a maximum of $10,000 per home or a lesser amount if lower costs are reflected in the application). If funds remain after all selections have been made, these funds may be available for other competitions.

(C) Threshold Requirements. The following threshold requirements apply specifically to SHOP. You must also be sure to address the threshold requirements listed in Section II(B) of the General Section of the SuperNOFA and must submit all forms, certifications, and assurances identified in Section II(G) of the General Section.

(1) You, the applicant, must be eligible to apply under SHOP (see Section III(B) of this program section of the SuperNOFA).

(2) The amount of funding you request must support no less than 30 self-help units and may not exceed an average amount of $10,000 per unit.

(3) The population you plan to serve must be eligible under SHOP (see Section III(A) of this program section of the SuperNOFA).

(4) You must demonstrate that you have completed at least 30 self-help homeownership units within a national or regional area (where the homebuyers contributed a significant amount of sweat-equity and/or volunteer labor toward the construction of the dwellings) within the 24-month period preceding the publication of this SuperNOFA.

Submission Threshold Requirements:

(1) Evidence of your non-profit status, such as a copy of a current Internal Revenue Service ruling that your organization is exempt from taxation under section 501(c)(3) or 501(c)(4) of the Internal Revenue Code of 1986. Where an IRS ruling is unavailable, you may submit a certified copy of your approved charter, articles of incorporation or bylaws demonstrating that you are established as a nonprofit organization under state law. If you are a consortium, each participant in your consortium must be a nonprofit organization, but only the lead entity should submit evidence of its nonprofit status. However, the lead entity must maintain a copy of the above-described documentation for each participant in your consortium.

Submission threshold requirements (2) through (4) require no additional submissions. These requirements are addressed under the submission requirements for the rating factors listed in Section V(D) of this program section of the SuperNOFA below.

(D) Factors for Award Used to Evaluate Applications. HUD will rate all SHOP applications that successfully complete technical processing using the Rating Factors and the Application Submission Requirements described below. The maximum number of points for this program is 102. This includes two EZ/EC bonus points, as described in the General Section of the SuperNOFA.

Rating Factor 1: Capacity of the Applicant and Relevant Organizational Staff (20 Points)

This factor examines the extent to which you, as a single applicant or as a consortium (including affiliates and/or members of the consortium, if any), have the experience and organizational resources necessary to carry out the proposed activities in a timely manner.

In evaluating this factor, HUD will consider your recent and relevant experience in carrying out the activities you propose, and your administrative ability, and fiscal management ability. HUD may also rely on information from performance reports, financial status information, monitoring reports, audit reports and other information available to HUD in making its determination under this factor. If you are not a current recipient of HUD funds, you may submit evidence of internal or external performance reports or other information which will assist HUD in making this determination.

Submission Requirements for Rating Factor 1.

(1) You must describe your past experience in carrying out activities that are the same as, or similar to, the activities you propose for funding, and demonstrate reasonable success in carrying out those activities. You may demonstrate such reasonable success by showing that your previous activities were carried out as proposed and in a timely manner. You must show that established benchmarks for acquiring properties and completing housing construction were met and performance reports were submitted, as required. You must also describe any delays that were encountered, and the actions you took to overcome such delays to successfully complete your program.

(2) You must demonstrate that you have completed at least 30 self-help homeownership units within a national or regional area (where the homebuyers contributed sweat-equity and/or volunteer labor toward the construction of the dwellings) within the 24-month period preceding the publication of this SuperNOFA.

(3) You must provide a description of your management structure. You must also describe how you will staff and manage your proposed activities.

(4) You must demonstrate your ability to handle financial resources with adequate financial control and accounting procedures. Your existing financial control procedures must meet 24 CFR 84.21, “Standards for Financial Management Systems.” You must provide a copy of your most recent audit (only an audit of the lead entity must be provided with an application for a consortium).

(5) You must demonstrate your experience and ability in constructing and altering homes with accessibility features, when necessary.

Rating Factor 2: Need/Extent of the Problem (15 Points)

This factor examines the extent to which you identify the community need, or problem, or distress that your proposed activities will target, and the urgency of meeting that need.

The purpose of this factor is to make sure that funding is provided where a need for funding exists. Under this factor, you must identify the need or needs in the community that your proposed activities are designed to address or, if you plan to select specific affiliates only after you receive SHOP funding, you must demonstrate how you plan to identify need prior to your selection of affiliates.

Submission Requirements for Rating Factor 2.

(1) Identify the communities or areas in which your proposed activities will be carried out or how you will select communities or projects based on need after you have received an award under SHOP.

(2) Depending on the type of activities proposed, the kind of information you submit to demonstrate the need or needs in the target area may include, but is not limited to, one or more of the following:

(a) Housing market data such as information included in the local Five Year Comprehensive Plan or other data sources;

(b) Data dealing with such factors as housing density, housing affordability, housing age or deterioration, and lack of adequate infrastructure or utilities;

(c) Data on the need for accessible homes in the area;

(d) Evidence of housing discrimination;

(e) Evidence from the local Analysis of Impediments to Fair Housing Choice which shows the need for this program.

Rating Factor 3: Soundness of Approach (40 Points)

This factor examines the quality of your plan of proposed activities. In evaluating this factor HUD will consider:

(1) The specificity in your plan; your established timeline for performance; your schedule for expending funds and completing construction; your proposed budget and the cost effectiveness of your program; and your plans to reach all potentially-eligible homebuyers, including those with disabilities or least likely to apply.

(2) How your planned activities further the Departmental initiatives noted in Section VI of the General Section. These initiatives are:

(i) Promoting healthy homes and educating homeowners on what is a healthy home;

(ii) Providing educational and job training opportunities through Neighborhood Networks, and linking programs to AmeriCorps activities;

(iii) Encouraging universal design when developing housing and when communicating with community residents at public meetings or events;

(iv) Encouraging visitability in new construction and substantial rehabilitation activities; and

(v) Employing the President's Partnership for Advancing Technology in Housing (PATH) technologies to improve the affordability, durability, energy efficiency, environmental protection, disaster resistance and safety of housing. HUD will consider how your planned activities exceed prevailing national building practices by: reducing costs of housing; improving durability, reducing maintenance costs; increasing safety and disaster resistance; and improving energy consumption and reducing environmental impact.

Submission Requirements for Factor 3.

(1) Identify all activities you propose to fund with SHOP.

(2) Provide a timetable for the selection of your participating local affiliates if they are not specified in the application.

(3) Identify the housing type (single family or multifamily) you plan to develop and the form of ownership (fee simple, condominium, cooperative, etc.) you propose to use.

(4) Submit a construction and completion schedule which expends SHOP funds and substantially fulfills your obligations, including the development of the appropriate number of dwelling units, within 24 months, or in the case of affiliates that develop five or more units, within 36 months, and demonstrates that remaining housing construction will be completed within a reasonable period of time.

(5) Submit a timeline listing milestones against which HUD is to measure your performance progress in expending funds, and completing acquisition, infrastructure and housing construction activities within the schedule in Item 4 above. These milestones should be at reasonable intervals (e.g., monthly, quarterly, etc.).

(6) Describe how your proposed activities address the need or needs you have identified under Rating Factor 2, above.

(7) List the long- and short-term benefits from your activities to the community and targeted groups within the community, and describe how you will ascertain and measure the benefits.

(8) Provide a detailed budget with a break-out for each proposed task and each budget category (acquisition, infrastructure improvements, and administration) in the SF-424A.

(9) Demonstrate that projected costs for the proposed activities do not deviate substantially from the norm in the locale in which your activities will take place, will not exceed an average cost of $10,000 per unit in SHOP funds, and your ability to carry out your proposed activities cost effectively.

(10) Describe how the initiatives of the Department are furthered by your proposed activities.

(11) Describe how you will reach potential homebuyers through the use of services and materials that are accessible or visitable to all persons, including persons with disabilities (e.g., languages, formats, locations, distribution, use of minority media to attract those least likely to apply).

(12) Describe how activities will benefit eligible homebuyers and your selection factors for participating homebuyers.

(13) Describe how your proposed activities will yield long-term results and innovative strategies or “best practices” that can be readily disseminated to other organizations, communities, and/or State and local governments.

(14) Describe how your program will provide reasonable accommodations for persons with a variety of disabilities by providing “sweat equity” assignments which can be performed by the client regardless of disability; accessible housing regardless of the nature of the disability of its intended residents; and “visitable” housing for all clients.

Rating Factor 4: Leveraging Resources (15 Points)

This factor addresses your ability to secure other resources that can be combined with HUD's program resources to achieve the purposes of SHOP. HUD will consider the extent to which you document firm commitments of resources in the form of cash funding, in-kind contributions, or personnel from Federal, State, local, and private sources, who are jointly referred to as your leverage partners. HUD will also consider the extent that the applicant's proposed sweat-equity requirements and other leveraged resources will serve to reduce costs to the homebuyers.

Submission Requirements for Factor 4.

(1) Provide a list of amounts and sources of all firm commitments of cash funding, in-kind contributions, or personnel from other Federal, State, local, and private sources which will be available to complete your project. Together with the grant funds, these commitments must be sufficient to develop not less than 30 units.

(2) Provide copies of written evidence to support your list of firm commitments from the source of the commitment. There must be a written agreement identifying the leveraging sources that support your FY 2001 SHOP application. The written agreement may be contingent upon your receiving a grant award.

(3) Provide a description of the individual sweat-equity requirements of your program and how this contribution of labor will serve to reduce the costs of the home to the homebuyer. Reasonable accommodation must be allowed for persons with a variety of disabilities to participate in your program.

Rating Factor 5: Comprehensiveness and Coordination (10 Points)

This factor addresses the extent to which your application reflects a coordinated, comprehensive approach to identifying community needs and addressing them on an ongoing basis. In evaluating this factor, HUD will consider:

(1) The extent to which you demonstrate the support and participation of the community's residents, organizations, businesses, and government in the design and implementation of the proposed activities.

(2) The specific steps you will take to share information on solutions, outcomes, and best practices resulting from the activities, if funded.

(3) The specific steps you have taken or will take to coordinate, through meetings, information networks, planning processes, or other mechanisms, your activities with other proposed or on-going activities in the community funded by Federal, State, local, or private sources.

Submission Requirements for Factor 5.

(1) Describe what role residents, community leaders and organizations, and government and private entities in the targeted community have had, or will have, in planning the activities described in your application and what role they will have in carrying out such activities.

(2) Describe how you will share with others information on solutions and outcomes resulting from the activities, if funded.

(3) Describe the specific steps you have taken or will take to become active in the community's Consolidated Plan and Analysis of Impediments to Fair Housing Choice process; or the community's Indian Housing Plan process; and to address, through these processes, the needs that are the focus of the proposed activities.

(4) Describe the specific steps you have taken, or will take, to coordinate your activities with other proposed or on-going activities in the community funded by Federal, State, local, or private sources (through meetings, information networks, planning processes, or other mechanisms).

VI. Application Requirements and Checklist for Application Submission

Your application consists of the items listed in this Section VI. The standard forms, certifications, and assurances that are applicable to this funding (collectively, referred to as the “standard forms”) can be found in Appendix B to the General Section of the SuperNOFA. The following checklist helps to ensure that all of the required items have been submitted in order to receive consideration for funding:

__Standard Form 424, Application for Federal Assistance (signed by the authorized representative of the organization eligible to receive funds)

__Evidence of Non-Profit status

Narrative Statement Addressing:

__Factor 1—Capacity of the Applicant and Relevant Organizational Staff, including recent audit

__Factor 2—Need/Extent of the Problem

__Factor 3—Soundness of Approach

__Factor 4—Leveraging Resources

__Factor 5—Comprehensiveness and Coordination

Forms, Certifications and Assurances:

__SF 424A, Budget Information, Non-Construction Programs

__SF 424B, Assurances—Non-Construction Programs

__SF 424M, Federal Assistance Funding Matrix

__HUD-50070, Certification for a Drug-Free Workplace

__HUD-50071, Certification of Payment to Influence Federal Transactions

__SF-LLL, Disclosure of Lobbying Activity, as applicable

__HUD-2880, Applicant/Recipient Disclosure/Update Report

__HUD-2990, Certification of Consistency with the EZ/EC Strategic Plan

__HUD-2992, Certification Regarding Debarment and Suspension

__HUD-2993, Acknowledgment of Application Receipt

VII. Corrections to Deficient Applications

The General Section of the SuperNOFA provides the procedures for corrections to deficient applications.

VIII. Environmental Requirements

The provisions contained in Section 305(c) of the Multifamily Housing Property Disposition Reform Act of 1994, Environmental Review, implemented in the Environmental Review regulations at 24 CFR part 58, are applicable to properties assisted with SHOP funds. All SHOP assistance is subject to the National Environmental Policy Act of 1969 and related federal environmental authorities. SHOP grant applicants are cautioned that no federal or non-federal funds or assistance which limits reasonable choices or could produce a significant adverse environmental impact may be committed to a project until all required environmental reviews and notifications have been completed by a unit of general local government, tribe or State and until HUD approves a recipient's request for release of funds under the environmental provisions contained in 24 CFR part 58.

IX. Authority

The funding made available under this program section of the SuperNOFA is authorized by section 11 of the Housing Opportunity Program Extension Act of 1996 (42 U.S.C. 12805 note) (the “Extension Act”).

BILLING CODE 4210-32-P

Funding Availability for the Youthbuild Program

Program Overview

Purpose of the Program. The purpose of the Youthbuild program is to assist disadvantaged young adults in distressed communities to complete their high school education, to provide on-site construction training experiences which also result in the rehabilitation or construction of housing for homeless persons and low- and very low-income families, to foster leadership skills, and to further opportunities for placement in apprenticeship programs and employment in living wage jobs.

Available Funds. Approximately $52,925,000 is available for the Youthbuild Program.

Adjustments to Funding. HUD reserves the right to utilize this year's funding to fund previous year's errors prior to rating and ranking this year's applications. HUD reserves the right to reallocate funds between categories to achieve the maximum allocation of funds.

Eligible Applicants. Eligible applicants are public or private nonprofit agencies, State or local housing agencies or authorities, State or units of local government, or any entity eligible to provide education and employment training under other Federal employment training programs, as further defined in HUD's regulation at 24 CFR 585.4.

Application Deadline. May 30, 2001.

Match. None.

Additional Information

If you are interested in applying for funding under this program, please review carefully the General Section of this SuperNOFA and the following additional information.

I. Application Due Date, and Technical Assistance

Application Due Date. Completed applications (one original and two copies) must be submitted on or before 12:00 midnight, Eastern time, on May 30, 2001 to the HUD Headquarters address shown below. See the General Section of this SuperNOFA for specific procedures that you must follow for the form of application submission (e.g., mailed applications, express mail, overnight delivery, or hand carried).

Addresses for Submitting Applications. Completed applications (one original signed application and two copies) must be submitted to the Processing and Control Unit, Office of Community Planning and Development, Department of Housing and Urban Development, 451 Seventh Street, SW, Room 7255, Washington, DC 20410, Attention: Youthbuild Program. When submitting your application, please include your name and mailing address (including zip code and telephone number and fax number including area code).

For Application Kits. For an application kit and any supplemental material please call the SuperNOFA Information Center at 1-800-HUD-8929. Persons with hearing or speech impairments may call the Center's TTY number at 1-800-HUD-2209. An application kit also will be available on the Internet through the HUD web site at http://www.hud.gov. When requesting an application kit, please refer to Youthbuild and provide your name, address (including zip code), and telephone number (including area code).

For information concerning the HUD Youthbuild program, contact Ms. Donna Clarke, Community Planning and Development Specialist, Office of Rural Housing and Economic Development, Office of Economic Development, Office of Community Planning and Development, Department of Housing and Urban Development, 451 Seventh Street, SW, Room 7136, Washington, DC 20410: telephone (202) 708-2035 (this is not a toll-free number). Persons with speech or hearing impairments may access this number via TTY by calling toll-free Federal Information Relay Service at 1-800-877-8339.

For Technical Assistance. Write or call Peter Twichell, YouthBuild USA, 58 Day Street, Somerville, MA 02144, telephone (617) 623-9900, ext. 1211, under contract with HUD to provide technical assistance. Prior to the application deadline, YouthBuild USA will be available to provide general guidance on the application submission process and location of information, but not guidance in actually preparing the application. HUD Economic Development Specialists located in HUD field offices will also be available to provide technical assistance.

Satellite Broadcast. HUD will hold an information broadcast via satellite for potential applicants to learn more about the program and preparation of an application. For more information about the date and time of this broadcast, you should consult the HUD web site at the web address listed above.

II. Amount Allocated

(A) Available Funds. Approximately $52,925,000 in Fiscal Year (FY) 2001 funding is being made available through this program section of this SuperNOFA for the Youthbuild program. The breakdown of funding is discussed below.

The FY 2001 HUD Appropriations Act. The Department of Veterans Affairs and Housing and Urban Development, and Independent Agencies Appropriations Act, 2001 (Pub. L. 106-377 approved October 27, 2000) (the “FY 2001 HUD Appropriations Act”) made $60,000,000 available of which $52,925,000 is allocated for grants.

(B) Funding Categories. HUD will award up to $52,925,000 on a competitive basis. Funds will be divided between three categories of grants as described in Section II(C) of this program section of the SuperNOFA.

(1) $10,000,000—Grants for up to $400,000 for new applicants that have not previously received grants since the inception of the Program for a period not to exceed 36 months.

(2) $32,925,000—Grants for up to $500,000 for a period not to exceed 36 months.

(3) $10,000,000—Grants for up to $400,000 for underserved and rural areas for a period not to exceed 36 months.

III. Program Description; Eligible Applicants; and Eligible Activities

(A) Program Description. The purposes of the Youthbuild Program are to:

(1) Provide economically-disadvantaged young adults with opportunities to obtain an educational experience that will enhance their employment skills, as a means to achieving self-sufficiency;

(2) Foster the development of leadership skills and commitment to community;

(3) Expand the supply of permanent affordable housing for homeless and low- and very low-income persons by providing implementation grants for carrying out a Youthbuild program;

(4) Provide disadvantaged young adults with meaningful on-site training experiences in housing construction and rehabilitation to enable them to render a service to their communities by helping to meet the housing needs of homeless persons and low-income families; and

(5) Give to the greatest extent feasible, job training, employment, contracting and other economic opportunities to low-income persons.

HUD also focuses on the Youthbuild Program as a way to foster the development of nonprofit organizations which over time can provide the services mentioned above to disadvantaged youth and which at the same time rely less on HUD's financial support to carryout these activities.

(B) Eligible Activities. (1) Work and activities associated with the acquisition, rehabilitation or construction of the housing, as defined in HUD's regulations at 24 CFR 585.309, 585.310, and 585.311; Construction and rehabilitation costs must not exceed 10 percent of the grant award. HUD encourages you to use grant funds for outreach, recruitment, training and other services for the youth participants which facilitates program implementation;

(2) Relocation payments and other assistance required to comply with HUD's regulation at 24 CFR 585.308;

(3) Costs of ongoing training and technical assistance needs related to carrying out a Youthbuild program;

(4) Education, job training, counseling, employment, leadership development services and optional activities that meet the needs of the participants including entrepreneurial training, drivers' education, apprenticeship opportunities and, programs for those with learning disabilities, and in-house staff training;

(5) Outreach to potential participants;

(6) Wages, benefits, and need-based stipends for participants; and

(7) Administrative costs must not to exceed 10 percent of the grant award.

Please refer to HUD's regulation at 24 CFR 585.305 for further details on eligible activities.

IV. Program Requirements

In addition to the program requirements listed in the General Section of this SuperNOFA, as an applicant you must comply with the following Youthbuild program requirements:

(A) Eligible Applicants. Eligible applicants as defined in HUD's regulation at 24 CFR 585.4.

(B) Eligible Participants. Participants in a Youthbuild program must be very low-income high school dropouts between the ages of 16 and 24, inclusive, at the time of enrollment. Up to 25 percent of participants may be above very low-income, but must have educational needs, (such as lack of reading, writing and communication skills) that justify their participation in the program.

(C) Locational Limitations. You may submit more than one application in the current competition if your program's participant recruitment and housing areas are in different jurisdictions. Each application you submit may only propose activities to carry out one Youthbuild program, i.e., to start a new Youthbuild program or to fund new classes of Youthbuild participants for an existing program.

(D) Response to NOFA—Page Limitation. The total narrative response to all factors identified in Section VI(C) of this program NOFA must not exceed 15 pages, and must be submitted on 8.5″ by 11″ paper, using a 12 point size, with lines double spaced and printed only on one side. Please note that submitting pages in excess of the page limit will not disqualify your application. However, HUD will not review or consider the information on any excess pages, which may result in a lower score or failure to meet a threshold.

(E) Youthbuild Program Components. Applications that receive assistance under this Youthbuild Program section of the SuperNOFA must contain the three components described as follows:

(1) Educational and job training services;

(2) Leadership training, counseling, and other support activities;

(3) On-site training through actual housing rehabilitation and/or new construction work, including the provision of alternative training experiences that are necessary as a reasonable accommodation for students with disabilities.

(F) Access to Property. Your application must contain a letter from the property owner or management company(ies) allowing access to the housing site(s) for on-site construction training.

(G) Training Requirement. Each program must be structured so that 50 percent of each participant's time is spent in on-site training and the other 50 percent in educational training.

(H) Economic Opportunities for Low and Very Low-Income Persons (Section 3). Section 3 of the Housing and Urban Development Act of 1968, (12 U.S.C. 1701u) is applicable to the Youthbuild program. Please see Section II of the General Section of the SuperNOFA.

V. Desirable Elements of a Youthbuild Program

You should document the extent to which HUD's initiatives are furthered by the proposed activities. Such initiatives include:

(1) Promoting healthy and safe homes;

(2) Providing opportunities for self-sufficiency, particularly for persons enrolled in welfare to work programs;

(3) Providing educational, apprenticeship and job training opportunities and linking programs to Americorps activities;

(4) Promoting welfare reform

(5) Encouraging visitability in new construction and substantial rehabilitation activities;

(6) Encouraging universal design; and

(7) Participation in Partnership for Advancing Technology in Housing (PATH).

First time applicants. If you are a first time applicant applying for funding under Category 1, HUD recommends that you should have a graduating class of not more than 20 students.

VI. Application Selection Process

You, the applicant, must meet all of the applicable threshold requirements of Section II(B) of the General Section of the SuperNOFA and Section IV(A), (B), (C), (D), (E), (F), (G) and (H), of this program section of the SuperNOFA. HUD will review each application and assign points in accordance with the selection factors described in this section. The maximum number of points is 102 (except for an application submitted by the City of Dallas, Texas, which would be eligible for a maximum of 104 points). HUD will award up to two (2) additional points, as described in the General Section of the SuperNOFA, to any application submitted by the City of Dallas, Texas, to the extent that Factor 3 is addressed. Due to an order of the U.S. District Court for the Northern District of Texas, Dallas Division, with respect to any application submitted by the City of Dallas, Texas, HUD will consider the extent to which the application's proposed activities will eradicate the vestiges of racial segregation in the Dallas Housing Authority's programs consistent with the Court's order. This maximum includes two Empowerment Zone/Enterprise Community (EZ/EC) bonus points as described in the Section III(C) of the SuperNOFA.

(A) Rating and Ranking. (1) General. To review and rate applications, HUD may establish panels including officials from other Federal agencies and outside experts or consultants to obtain certain expertise and other outside points of view.

(2) Rating. All applications for funding will be evaluated against the rating factors described in Section (VI)G of this NOFA.

(3) Ranking. Applications will be ranked separately within each of the 3 funding categories. Applications will be selected for funding in accordance with their rank order in each category.

(4) To be eligible for funding, an application must have a minimum score of 25 points for the total combined number of points for Rating Factors 1 and 3.

If two or more applications are rated fundable, and have the same score, but there are insufficient funds to fund all of them, HUD will select the application(s) with the highest score for Rating Factor 2, Need/Extent of Problem. If two or more applications still have the same score, the highest score in the following factors will be selected sequentially until one highest score can be determined: Rating Factor 3 (Soundness of Approach), Rating Factor 1 (Capacity and Experience), Rating Factor 5 (Comprehensiveness and Coordination), Rating Factor 4 (Leveraging of Resources).

(B) Categories of Grants. HUD will make grants in three categories:

(1) Category 1 Grants. Grants for new applicants that have not previously received funding under the Youthbuild program since the inception of the Program and that have elected not to apply under Category 2 or 3 Grants, below. HUD will make available approximately $10,000,000 to new applicants proposing grant(s) of $400,000 or less for activities not to exceed 36 months.

(2) Category 2 Grants. HUD will make available approximately $32,925,000 to applicants proposing grant(s) of $500,000 or less for activities not to exceed 36 months.

(3) Category 3 Grants. HUD will make available $10,000,000 for applicants proposing grant(s) of $400,000 or less to establish programs in underserved and rural areas not to exceed 36 months. Rural and Underserved areas are defined as follows:

(a) Rural Area. A Rural area is defined in one of five ways:

(i) A place having fewer than 2,500 inhabitants (within or outside of metropolitan areas).

(ii) A county with no urban population of 20,000 inhabitants or more.

(iii) Rural portions of extended cities, as identified by the U.S. Census Bureau.

(iv) Open country which is not part of or associated with an urban area. The United States Department of Agriculture (USDA) describes “open country” as a site separated by open space from any adjacent densely populated urban area. Open space includes undeveloped land, agricultural land or sparsely settled areas but does not include physical barriers (such as rivers and canals), public parks, commercial and industrial developments, small areas reserved for recreational purposes, and open space set aside for future development.

(v) Any place with a population not in excess of 20,000 and not located in a Metropolitan Statistical Area.

(b) Underserved Area. An underserved area is defined as an area comprised of census tracts with the following distress criteria:

(i) A census tract where the unemployment remains high (50 percent or more above the nation's unemployment rate) and

(ii) A census tract where high rates of poverty (50 percent or more above the national average) persists.

(C) Grant Period. You must expend funds awarded within 36 months of the effective date of the grant agreement, or such other period specified.

(D) Maximum Awards. Under the competition established by this Youthbuild Program section of the SuperNOFA, the maximum award for a Youthbuild grant is $500,000. HUD will not make amendments to awards under this competition that will increase previously approved grant amounts.

(E) Potential Environmental Disqualification. HUD reserves the right to disqualify an application where one or more environmental thresholds are exceeded if HUD determines that it cannot conduct the environmental review and satisfactorily complete the review within the HUD application review period. (See 24 CFR 585.307.) Environmental thresholds are explained in Appendix A of this program section of this SuperNOFA. Complete form 2C13a, 2C13b, or 2C13c and form 2C15 only if you are proposing to use Youthbuild funds for new housing construction or rehabilitation.

(F) Notification of Approval or Disapproval. HUD will notify you whether or not you have been selected for an award. If you are selected, HUD's notice to you of the amount of the grant award based on the approved application will constitute HUD's preliminary approval, subject to negotiation and execution of the grant agreement by HUD.

(G) Factors for Award Used To Evaluate and Rate Applications.

Rating Factor 1: Capacity of the Applicant and Relevant Organizational Experience (15 Points)

This factor addresses the extent to which you have the resources necessary to successfully implement the proposed young adult education and training program in accordance with your work plan as further described in Factor 3. HUD will review and evaluate information provided documenting recent capacity. Experience within the last 5 years will be considered recent. In reviewing this rating factor, HUD will review the following categories:

(1) (5 points) Team Member Composition and Experience. Your experience and the experience of your project director, core staff competencies including your day-to-day program manager, consultants and contractors. You must demonstrate that your program manager has the background, experience and capacity to implement all of the program components of the proposed work plan, as evidenced by recent work experience (within the last 5 years) in managing projects of the same or similar size, dollar amount, types of activities and beneficiaries as those proposed in your work plan. If any gaps exist in your experience or organizational structure to carry out the program, describe how you will fill those gaps including the hiring of consultants or other outside parties.

(2) (5 points) Organizational Structure. The structure of your organization, management structure, including reporting relationships of key staff, a system for coordinating with outside contractors or third party service providers, a mechanism for an internal and external auditing relationships, and an accounting system which meets Federal accounting system requirements. You should provide a clear description of how your organizational structure will operate to carry out your work plan.

(3) (5 points) Relevant Experience. The objectives and accomplishments of your past experience in conducting similar activities. You must describe your past project objectives and accomplishments which are similar to those of your proposed work plan to show your effectiveness and timeliness in managing similar projects. If you have received similar grants including previous Youthbuild grants, you must describe your effectiveness of your administration including timeliness and completeness of your compliance in completing reporting requirements and your ability to have resolved problems which presented themselves during the grant period. In addressing timeliness of reports, you must compare when your reports were due with when they were actually submitted. You must describe your achievements, including those of previous Youthbuild grants, of specific measurable outcome objectives. Specific outcome objectives include: number of youth recruited, trained and received GEDs; number of youth obtaining living wage jobs, (i.e. those that are a part of a career path or apprenticeship programs), number of youth participating in apprenticeships and number of housing units rehabilitated or constructed and made available for low and moderate income persons.

HUD will evaluate this Factor based upon your response including letters of commitment from all participating entities for any staffing or other resources to be contributed to the project. The more recent, relevant, and successful the experience of the proposed team members, organization and other participating entities in relation to the work plan, the greater the number of points that you will receive. Applicants that can demonstrate a closer and greater linkage between the expected outcomes and the previously generated outcomes will also receive a higher amount of points for this Factor.

Rating Factor 2: Need/Extent of the Problem (40 Points)

This Factor addresses the extent to which there is need for funding the proposed activities based on levels of distress, and an indication of the urgency of meeting the need/distress in the applicant's target area. In responding to this Factor, applications will be evaluated on the extent to which the level of need for the proposed activity and the urgency in meeting the need are documented and compared, vis-a-vis, the target area, the county and national data.

(1) In applying this Factor, HUD will consider current levels of distress for the following areas affected by the project: first, in the area (i.e., Census Tract(s) or Block Groups) immediately surrounding the project site or the target area to be served by the proposed project; second, in the county in which the project is to be located, and third, in the nation. This means that an application that provides data that show levels of distress in the target area expressed as a percent greater than the national average, will be rated higher under this Factor.

Notwithstanding the above, an applicant proposing a project to be located outside the target area could still receive points under the Distress Factor if a clear, rationale and linkage is provided linking the proposed project location and the benefits to be derived by persons living in more distressed area(s) of the applicant's target area.

(2) Applicants should provide data that address indicators of distress, as follows:

(a) Poverty (15 points)—data should be provided in both absolute and percentage form (i.e., whole numbers and percents) for both the target area(s) and the county; an application that compares the local poverty rate in the following manner to the national average at the time of submission will receive points under this section as follows:

(1) Equal to but less than twice the national average—5 points

(2) Twice but less than three times the national average—10 points

(3) Three or more times the national average—15 points

(b) Unemployment (10 points)—for both the project area and county;

(1) Equal to but less than twice the national average—2 points

(2) Twice but less than three times the national average—4 points

(3) Three but less than four times the national average—6 points

(4) Four but less than five times the national average—8 points

(5) Five or more times the national average—10 points

(c) High School Dropouts (10 points)—for both project area and county;

(1) Equal to but less than twice the national average—2 points

(2) Twice but less than three times the national average—4 points

(3) Three but less than four times the national average—6 points

(4) Four but less than five times the national average—8 points

(5) Five or more times the national average—10 points

(d) Other Indicators of social and/or economic decline that best capture the applicant's local situation (5 points)—examples that could be provided under this section are information on the community's stagnant or falling tax base, including recent commercial or industrial closings, housing conditions, such as the number and percentage of substandard and/or overcrowded units, rent burden (defined as average housing cost divided by average income) for both the target area and county, urgency in addressing problems facing youth, local crime statistics, etc.

(3) In rating applications under this Factor, HUD reserves the right to consider sources of available objective data other than, or in addition to, those provided by applicants, and to compare such data to those provided by applicants and local crime statistics for both the project site and the county, etc.

HUD requires use of sound and reliable data (e.g., U.S. Census data, State statistical reports, university studies/reports that are verifiable) to support distress levels cited in each application. A source for all information along with the publication or origination date must also be provided.

Updated Census data are available as follows for the listed indicators:

(a) Unemployment rate—estimated monthly for counties, with a two-month lag;

(b) Population—estimated for incorporated places and counties, through 1999;

(c) Poverty rate—estimated every two years, with a three-year lag, with 1997 data being the most recent available.

Rating Factor 3: Soundness of Approach (25 Points)

Youthbuild Program Work Plan. This factor addresses the quality and cost-effectiveness of your proposed work plan. There must be a clear relationship between your proposed activities, community needs and the purpose of the Youthbuild program. HUD will consider the overall quality and feasibility of your proposed work plan and budget which must be consistent with the Youthbuild program as measured by your specific activities and outcomes. HUD is also interested in applicants becoming self-sustaining so that activities can continue in the future without relying on further assistance from the Department.

Specifically, HUD will consider the following categories when assessing your proposed work plan:

(1) (10 points) Program components.

(a) Outreach, recruitment and selection activities. HUD will determine the extent to which you demonstrate a clear linkage with the following work plan activities and proposed outcomes and results. Points will be awarded based upon overall quality and feasibility of the outreach, recruitment and selection activities, the number and types of outreach activities, number of youth to be recruited including eligible participants who are harder to reach and comprehensiveness of the local selection process.

Letters describing specific resources or services to be contributed by non-applicant organizations must be included in your application. In evaluating this category, HUD will consider:

(i) Specific steps you will take to attract potential eligible participants who are unlikely to be aware of this program (because of race, ethnicity, sex or disability) and selection strategies;

(ii) Special outreach efforts you will make to recruit eligible young women, young women with dependent children, and persons receiving public assistance; and

(iii) Recruitment arrangements you have made with public agencies, courts, homeless shelters, local school systems, local workforce development systems and one-stop centers, community-based organizations, etc. You will receive a greater number of points if your outreach and recruitment arrangements are consistent with the purpose of the Youthbuild program and your project goals and the resources provided.

(b) Educational and job training services and activities. HUD will evaluate the extent to which you demonstrate a clear linkage with the following work plan activities and proposed outcomes and results.

Letters describing specific resources or services to be contributed by non-applicant organizations must be included in your application. Points will be awarded based upon the quality and feasibility of your proposed curriculum, qualifications of instructors and proposed wages and stipends for youth participants. In evaluating this category, HUD will consider:

(i) The types of in-class academic and vocational instruction you will provide;

(ii) The number and qualifications of program instructors and ratio of instructors to participants;

(iii) Scheduling plan for classroom and on-the-job training needed to meet program requirements and ensure timely completion of your program; and

(iv) Reasonable payments of participants' wages, stipends, and incentives. You will receive a greater number of points if your educational and job training services are consistent with the purpose of the Youthbuild program and your project goals and the resources provided.

(c) Leadership development. HUD will determine the extent to which you demonstrate a clear linkage with work plan activities and proposed outcomes and results. Letters describing specific resources or services to be contributed by non-applicant organizations must be submitted in your application. Points will be awarded based upon the quality and feasibility of your proposed leadership curriculum, qualifications of instructors and the impact of the proposed leadership activities on the target area. You must describe the leadership development training you will offer to participants, and strategies for providing the training to build group cohesion and peer support. You will receive a greater number of points if your leadership development activities are consistent with the purpose of the Youthbuild program and your project goals and the resources provided.

(d) Support services. HUD will determine the extent to which you demonstrate a clear linkage with work plan activities and proposed outcomes and results.

Letters describing specific resources or services to be contributed by non-applicant organizations must be included in your application. Points will be awarded based upon the quality and feasibility of your proposed support services strategy and stipends for youth participants. You must assess the need for counseling and referral services during each stage of program implementation: outreach, recruitment, youth interviewed and not selected for the program, program participants, youth who drop out of the program and graduates of the program. Describe how the participant needs will be addressed, document counseling and referral services to be offered to participants, the type of counseling, social services, and/or need-based stipends you will provide. You will receive a greater number of points if your support service activities are consistent with the purpose of the Youthbuild program and your project goals and the resources provided.

(e) Follow-up assistance and support activities to program graduates. HUD will evaluate the extent to which you provide assistance to Youthbuild program participants after graduation. Letters describing specific resources or services to be contributed by non-applicant organizations must be included in your application. Points will be awarded based upon the quality and feasibility of your proposed strategy. You must describe the type of proposed assistance and support which should be based upon an assessment of the needs of the program graduates and should include continued linkage to the local Youthbuild program, counseling and social service referral services. You will receive a greater number of points if your follow-up assistance and support service activities to program graduates are consistent with the purpose of the Youthbuild program and your project goals and the resources provided.

(f) On-site training. HUD will evaluate the extent to which the work plan provides for quality and comprehensive on-site construction training by addressing the categories below. Letters describing specific resources or services to be contributed by any non-applicant organizations must be included in your application. Points will be awarded based upon the quality and feasibility of your proposed curriculum, experience of proposed instructors, number of youth to be trained and wages or stipends for youth participants. HUD will consider:

(i) The housing construction or rehabilitation activities participants will undertake at the site(s) to be used for the on-site training component of the program as provided in the training curriculum and methodology for carrying out on-site training;

(ii) The qualification and number of on-site supervisors;

(iii) The ratio of trainers to students;

(iv) The number of students per site; and

(v) The amounts, wages, and/or stipends you will pay to participants during on-site work. You will receive a greater number of points if your on-site training plan is consistent with the purpose of the Youthbuild program and your project goals and the resources provided.

(2) (5 points) Strategy for job placement. HUD will evaluate the quality and feasibility of your proposed strategy to place youth participants in permanent jobs.

Letters describing specific resources or services to be contributed by non-applicant organizations must be included in your application. You will be rated on the following factors: (a) proposed number of youth to obtain a living wage job (i.e. those that a part of career paths or apprenticeship programs); (b) proposed number of youth continuing on to be enrolled in post or secondary education; (c) proposed number of youth to receive entrepreneurship training; (d) proposed placement of youth in apprenticeships. Two points of this factor will be awarded based upon the comprehensiveness and feasibility of your strategies and procedures to place youth participants in related apprenticeships and commitments from construction trade unions. You will receive a greater number of points if your strategy for job placement is consistent with the purpose of the Youthbuild program, your proposed project and the resources provided.

(3) (10 points) Expected outcomes. Describe the number of youth to be trained and the number of housing units to be rehabilitated or constructed. As a part of this evaluation, HUD will assess the cost effectiveness of your stated outcomes as compared to the funds that you are requesting in the Youthbuild Grant Budget. You will receive a greater number of points if your proposed outcomes are consistent with the purpose of the Youthbuild program, your proposed project and the resources provided.

Rating Factor 4: Leveraging Resources (15 Points)

This factor addresses the ability of the applicant to secure non-HUD resources. This factor measures the extent to which you have established partnerships with other entities to secure resources for your proposed program. Each commitment described in the narrative for this Factor must have a firm commitment letter.

HUD will evaluate the extent to which firm commitment of resources are obtained from Federal, State, local, and private and nonprofit sources in an amount of at least 50% of the Youthbuild budget. The greater the amount of resources leveraged, the higher the points that will be awarded. In assigning points for this criterion, HUD will consider the level of non-applicant resources obtained for cash or in-kind contributions to cover the following kinds of areas:

(1) Social services (i.e., counseling and training);

(2) Use of existing vocational, adult, and bilingual educational courses;

(3) Donation of labor, resource personnel, supplies, teaching materials, classroom, and/or meeting space;

(4) Hard costs for rehabilitation and construction;

(5) Other commitments.

In rating this element, HUD will consider only those contributions for which current firm commitments have been provided. HUD will evaluate the level of non-applicant resources proposed based on their importance to the total program. Leveraging will only be counted if you have secured a firm financial commitment. A firm commitment letter means the agreement by which an applicant's partner or contributing entity agrees to perform an activity specified in the application and demonstrates the financial capacity to deliver the resources necessary to carry out the activity, and commits the resources to the activity either in cash, through in-kind services or contributions and is irrevocable, subject only to approval and receipt of a FY 2001 Youthbuild grant. Each letter of commitment should include the organization's name, the applicant's name, the proposed program, the proposed total level of commitment and responsibilities as they relate to the proposed program. The commitment must also be signed by an official of the organization legally able to make commitments on behalf of the organization and not earlier than the date that this NOFA is published. In documenting a firm commitment, the applicant's partner or contributing entity must:

(i) Specify the authority by which the commitment is made, the amount of the commitment and the use of funds. If the committed activity is to be self-financed, the applicant's partner or contributing entity must evidence its financial capability through a corporate or personal financial statement or other appropriate means. If any portion of it is to be financed through a lending institution, the participant must evidence the institution's commitment to fund the loan;

(ii) State the amount and use of the commitment, and the relationship of the commitment to the proposed investment; and

(iii) Affirm that its investment is contingent only upon receipt of FY 2001 Youthbuild funds and state a willingness on the part of the signatory to sign a legally binding commitment (conditioned on HUD environmental review and approval of a property, where applicable) upon award of the grant.

Resources from other Federal, State, Local governments or Private Entities. HUD encourages use of existing housing and homeless assistance programs administered by HUD or other Federal, State, local governments, or private and nonprofit housing programs as part of your Youthbuild program. In addition, HUD encourages use of other non-Youthbuild funds available for vocational, adult, and bilingual education programs or for job training under the Workforce Investment Act and the Personal Responsibility and Work Opportunity Reconciliation Act of 1996.

The greater the number of resources leveraged for each of the categories presented below, the applicant will receive a greater number of points.

(1) (8 points) Public sector sources—Federal, State, or local government sources to provide resources to carry out Youthbuild activities.

(2) (7 points) Private or nonprofit sector sources to provide resources to carry out Youthbuild activities.

Rating Factor 5: Comprehensiveness and Coordination (5 Points)

HUD will evaluate the extent to which you:

(1) Have coordinated among third parties dealing with youth issues including community based organizations and partners that provide assistance as you prepared your proposal and Work Plan. Indicate your success in actively participating in the Consolidated Planning process, the Public Housing Authority Five Year Comprehensive Plan process, local Workforce Investment Board Youth Council and other information networks; and

(2) Will maintain your coordinating efforts over the grant period.

The more comprehensive, relevant and successful your coordination activities conducted to date and those projected for the future, the greater points you will receive for this Factor.

VI. Application Submission Requirements

(A) Site Access Submission Requirements. You must submit a schedule for the program, budgets, identification of specific housing sites, and firm evidence of site access.

(1) Guidance on evidence of site access:

(i) If the applicant or joint applicant have a contract or option to purchase the property, you should provide a statement to that effect and include a copy of the contract or option;

(ii) If a third party owns the property or has a contract or option to purchase, that third party must provide a letter to you stating the nature of the ownership and specifically providing you with access to the property for the purposes of the program and the time frame in which the property will be available. In the case of a contract or option, include a copy of the document; and

You must provide the required certification that the proposed activities are consistent with the HUD-approved Consolidated Plan in accordance with 24 CFR part 91 and referenced in Section II of the General Section of the SuperNOFA.

(B) Category 3 applicants only. You must state that the proposed project to be established will be located in an underserved or rural area as defined in Section (V)(B)(3) of this notice.

(C)) Application Items. Your application must contain the items listed in this Section VI(C). These items include the standard forms, certifications, and assurances listed in the General Section of the SuperNOFA that are applicable to this funding (collectively, referred to as the “standard forms”). The standard forms can be found in Appendix B to the General Section of the SuperNOFA. The remaining application items that are forms (i.e., excluding such items as narratives, letters), referred to as the “non-standard forms” can be found as Appendix B to this program section of the SuperNOFA. The items are as follows:

(1) SF-424, Application for Federal Assistance.

(2) HUD-424M, Federal Assistance Funding Matrix.

(3) SF-424A, Budget Information for Non-Construction Programs.

(4) SF-424B, Assurances for Construction Programs.

(5) SF-424C, Budget Information for Construction Programs.

(6) HUD-50070, Certification of Drug-Free Workplace.

(7) HUD-2880, Applicant/Recipient Disclosure/Update Form.

(8) HUD-50071, Certification of Payments to Influence Certain Federal Transactions;

(9) SF-LLL, Disclosure of Lobbying Activities (if applicable);

(10) HUD-2992, Certification Regarding Debarment and Suspension;

(11) Letters from property owners allowing access to the housing site for construction training.

(12) Submission of 501(c)(3) status and/or letter certifying non-profit status if the applicant is a public non-profit organization.

(13) Narrative Response to Factors for Award.

Factor 1—Capacity

Factor 2—Need

Factor 3—Soundness of Approach, including the following non-narrative items: (a) completed Youthbuild Grant Budget (Exhibit 4A), (b) housing site description (Exhibit 2C), (c) Youthbuild Grant individual housing site estimate (Exhibit 2C10), (d) letters from non-applicant resource providers describing contributions or support, (e) documentation necessary to complete environmental review (Exhibit 2C15), and description of relocation, if applicable.

Factor 4—Leveraging, including your letters(s) evidencing the leveraged commitment(s), which will not be counted in the 15 page limitation.

Factor 5—Coordination, include HUD-2991, Certification of Consistency with the Consolidated Plan.

(14) HUD-2990, Certification of Consistency with the EZ/EC Strategic Plan (if applicable);

(D) The total narrative response to all factors identified in Section VI(C)(13) of this program NOFA must not exceed 15 pages, and must be submitted on 8.5″ by 11″ paper, using a 12 point size, with lines double spaced and printed only on one side. Please note that submitting pages in excess of the page limit will not disqualify your application. However, HUD will not review or consider the information on any excess pages, which may result in a lower score or failure to meet a threshold.

VII. Corrections to Deficient Applications

The General Section of the SuperNOFA provides the procedures for corrections to deficient applications.

VIII. Environmental Requirements

Environmental procedures apply to HUD approval of grants when you propose to use Youthbuild funds to cover any costs for the lease, acquisition, rehabilitation, or new construction of real property proposed for housing project development. Environmental procedures do not apply to HUD approval of your application when you propose to use your Youthbuild funds solely to cover costs for classroom and/or on-the-job construction training and support services.

If you propose to use your Youthbuild funds to cover any costs of the lease, acquisition, rehabilitation, or new construction of real property, you must submit all relevant environmental information in your application to support HUD decision making in accordance with the environmental procedures and standards set forth in HUD Regulation 24 CFR 585.307.

IX. Authority

This program is authorized under subtitle D of title IV of the Cranston-Gonzalez National Affordable Housing Act, as added by section 164 of the Housing and Community Development Act of 1992 (Pub.L. 102-550, 106 Stat. 3723, 42 U.S.C. 12899). The Youthbuild Program regulations are found in 24 CFR part 585.

Appendix A—Instructions for Completion of Youthbuild Environmental Requirements (Exhibit 2C(15))

A. Instructions to Applicants

1. If you propose to use Youthbuild funds to cover any costs of the lease, acquisition, rehabilitation, or new construction or real property, you shall submit all relevant environmental information in your application to support HUD decision making in accordance with the environmental procedures and standards set forth in 24 CFR 585.307. For each proposed Youthbuild property for which HUD environmental procedures apply, you are to prepare a separate Exhibit 2C(15) in which you supply HUD with environmental threshold information and letters from qualified data sources (see definition below) which support the information. HUD will review your submission and determine how, if necessary, HUD will comply with any Federal laws and authorities that may be applicable to your property proposed for Youthbuild funding. If environmental procedures apply and Exhibit 2C(15) with supporting documentation is not included then the application will be deemed ineligible.

You are to follow these instructions for preparing Exhibit 2C(15). The instructions advise you on how to obtain and document certain information to be supplied to HUD in this exhibit. Before selecting a property for Youthbuild funding, you should read these instructions and be advised that HUD encourages you to select, to the extent practicable, properties and locations that are free of environmental hazards and problems discussed in these instructions. The responses to the environmental criteria in Exhibit 2C(15) will be used to determine environmental approval or disapproval by HUD of proposals for physical development of properties.

2. After selecting a property for proposed Youthbuild funding, you are to determine the activities to be undertaken with your Youthbuild funds. You are to indicate in Section E whether the Youthbuild funds will be used for:

(a) Lease or purchase of a property;

(b) Minor rehabilitation or

(c) Major rehabilitation; or

(d) New construction of housing.

The activities proposed for Youthbuild funding will determine the kind of data that you will need to obtain from a qualified data source in order to complete Exhibit 2C(15).

3. Once you have selected a property and determined the activities for Youthbuild funding, you are advised to check with your city or county agency that administers HUD's Community Development Block Grant program and performs environmental reviews, or the local planning agency. The reason is that most, if not all, the data needed for preparing Exhibit 2C(15) is readily available from the local community development agency and the local planning agency. You are advised to ask the environmental staff of those agencies the following:

(a) Has the agency ever prepared an environmental review of the proposed Youthbuild property or the neighborhood in which the property is located, and if so, would it provide a copy to the applicant for use by HUD;

(b) Would the agency assist you in completing section G; or if the agency is not able to help complete any item in section G, would the agency advise you which local or State agency is the appropriate qualified data source for obtaining the information.

Also, you should check with the local planning agency before proceeding elsewhere for the information.

You are advised that the cost of preparing information and analyses needed for Exhibit 2C(15) is an eligible cost under the Youthbuild program and is reimbursable if you are approved for a grant.

4. The following definitions are of key terms used in these instructions. Most of the other terms are technical and their definition would be known to qualified data sources.

(a) Qualified data source means any Federal, State or local agency with expertise or experience in environmental protection (e.g., the local community development agency; the land planning agency; the State environmental protection agency; the State Historic Preservation Officer) or any other source qualified to provide reliable information on the particular subject. A letter supporting the information from each qualified data source is to be attached to Exhibit 2C(15).

(b) Minor rehabilitation means proposed fixing and building repair:

(i) Where the estimated cost of the work is less than 75 percent of the property value after completion;

(ii) That does not involve changes in land use from residential to nonresidential, or from nonresidential to residential;

(iii) That does not involve the demolition of one or more buildings, or parts of a building, containing the primary use served by the project; and

(iv) That does not increase unit density by more than 20 percent.

For minor rehabilitation of a building located in a floodplain, the criteria for substantial improvement modify this definition. (See Item B 3 below)

(c) Major rehabilitation means proposed fixing and building repair:

(i) Where the estimated cost of the work is 75 percent or more of the property value after completion; or

(ii) That involves changes in land use from residential to nonresidential, or from nonresidential to residential; or

(iii) That involves the demolition of one or more buildings, or parts of a building, containing the primary use served by the project; or

(iv) That increases unit density by more than 20 percent.

(d) Multifamily housing means any residential building that contains five or more apartments or rooming units.

(e) Single-family housing means any residential building that contains one-to-four dwelling units.

Because each Federal environmental law or authority has compliance requirements that differ according to the type of proposed activity to be funded, you are required to supply information in Exhibit 2C(15) only for the type of activity for which the Youthbuild grant will be used.

(a) If you propose new construction or major rehabilitation of multifamily housing, you must supply complete and reliable environmental threshold information for items 1 through 13 in section G.

(b) If you propose new construction of single family housing, you must supply complete and reliable environmental threshold information for items 1 through 12 in section G.

(c) If you propose minor rehabilitation of multifamily or single-family housing, or the purchase or lease of a property, you must supply complete and reliable environmental threshold information for items 1 through 7 in section G.

5. Applicants subject to HUD's environmental procedures are to submit Exhibit 2C(15) and accompanying documentation to HUD with the applications for grant assistance. Such applicants are prohibited from committing or expending State, local or other funds to undertake property rehabilitation, construction (including demolition), or acquisition (including lease), until HUD and the grantee execute a grant agreement for the proposed Youthbuild project.

6. HUD reserves the right to disqualify any application where one or more environmental thresholds are exceeded if HUD determines that the compliance review cannot be conducted and satisfactorily completed within the HUD review period for Youthbuild applications.

B. Environmental Threshold and Documentation Requirements

The threshold and documentation requirements for each of the Federal environmental laws and authorities are described below, following the same order as they appear in section G.

1. Site within designated coastal barrier resources: Threshold: Youthbuild applicants are prohibited by Federal law from using Federal financial assistance for properties, if the properties are located within designated coastal barriers of the Atlantic Ocean, Gulf of Mexico, and the Great Lakes (Coastal Barrier Resources Act, as amended, 16 U.S.C. 3501).

*Documentation: You are to select either A or B for the condition that best describes the property and report the option selected in item 1 of section G.

A. You state that your program operates in a community that does not contain any shores along the Atlantic Ocean, the Gulf of Mexico, or the Great Lakes.

B. If your program operates in a community that does contain shores along the Atlantic Ocean, the Gulf of Mexico, or the Great Lakes, you must provide HUD with a finding made by a qualified data source stating that the proposed property is not located within a designated coastal barrier resource by citing the map panel number of the official maps issued by the Department of the Interior (DOI) on the basis of which the finding was made.

2. Site contaminated with toxic chemicals and radioactive materials: Threshold: Under HUD policy, as described in HUD Notice 79-33 (Policy Guidance to Address the Problems Posed by Toxic Chemicals and Radioactive Materials), HUD will not approve the provision of financial assistance to residential properties located on contaminated sites. Sites known or suspected to be contaminated by toxic chemicals or radioactive materials include but are not limited to sites: (i) listed on either an EPA Superfund National Priorities List (NPL) or CERCLA (Comprehensive Environmental Response, Compensation, and Liability Act) List, or equivalent State list; (ii) located within 3,000 feet of a toxic or solid waste landfill site; or (iii) with an underground storage tank (which is not a residential fuel tank).

*Documentation: You are to select either A or B for the condition that best describes property and report the option selected in item 2 of section G.

A. You are providing HUD with a finding made by a qualified data source stating that the proposed Youthbuild property and any neighboring properties do not contain any sites known or suspected to be contaminated with toxic chemicals and radioactive materials.

B. You are providing any site contamination data by a qualified data source in your letter for HUD's evaluation of contamination and/or suspicion of any contamination of a proposed property or any neighboring properties.

3. Site affecting a floodplain: Threshold: A property located within a floodplain and proposed for funding is subject to Executive Order 11988, Floodplain Management. The Executive Order directs HUD to avoid, where practicable, proposed financial support for any floodplain property, whenever HUD has options to approve properties in flood-free locations. The Order does not apply to existing single-family properties proposed for purchase or lease except for: (i) Property that is located within a floodway or coastal high hazard area; and (ii) substantial improvement. Substantial improvement for flood hazard purposes means any property rehabilitation which: (a) Increases the unit density of the property; or (b) equals or exceeds 50 percent of the market value of the property before rehabilitation, but excluding the costs for correcting health, sanitary, and safety code violations. Note: Proposed funding for substantial improvement and new construction are subject to the Executive Order decision making process. This may result in a disqualification of your application (refer above to number 7 under “Instructions to Applicants”).

*Documentation: You are to select A or B for the condition that best describes your property and report the option selected in item 3 of section G.

A. You are providing HUD with a finding made by a qualified data source stating that the property is not located within the Special Flood Hazard Area (SFHA).

B. You are providing HUD with a finding made by a qualified data source that the property is located within the Special Flood Hazard Area (SFHA) and indicating if whether the property is located within a floodway or coastal high hazard area.

The information for A and B must provide HUD with the flood map panel number obtained either from the official maps issued for the National Flood Insurance Program or from the property appraisal report used to make the finding.

For all proposed rehabilitation of properties that are located within a SFHA, you must provide HUD with estimates of: (i) The property value before rehabilitation, and (ii) the cost of the proposed rehabilitation. Provide the estimates in section F.

If the property is found to be located within a SFHA, proceed to item 4 on flood insurance protection. Otherwise proceed to item 5.

4. Building requiring flood insurance protection: Threshold: HUD will estimate the amount and period of flood insurance coverage that is to be made a condition of approval of any HUD financial assistance for a building located within a Special Flood Hazard Area (SFHA). The Flood Disaster Protection Act of 1973 requires owners of HUD-assisted buildings to purchase and maintain flood insurance protection as a condition of approval of any HUD financial assistance for the proposed purchase, rehabilitation, or new construction of any SFHA building. The law prescribes the coverage period and dollar amount of flood insurance protection.

Proof of Purchase of Flood Insurance Protection: You must provide HUD with proof of purchase of flood insurance protection for any proposed Youthbuild building located within the SFHA, whenever HUD funding is being used for property purchase, rehabilitation, or new construction. The standard documentation for compliance is the Policy Declarations form issued by the National Flood Insurance Program (NFIP) or issued by any property insurance company offering coverage under the NFIP. Whenever the requirement applies to coverage which extends to future years, the grant agreement will require that the insured has its insurer automatically forward to HUD, in the same manner as to the insured, an information copy of the Policy Declarations form, which is used to verify compliance. The Youthbuild applicants responsibility ceases in cases where a mortgage loan is approved requiring flood insurance as condition of loan approval by a lender (other than the Youthbuild applicant), whose responsibility is to assure flood insurance coverage for the loan.

*Documentation: You are to select either A or B for the condition that best describes your property and report the option selected in item 4 of section G.

A. You already own the property and attach a copy of the Policy Declarations form confirming that a current flood insurance policy is in effect and the policy provides adequate coverage for the building proposed for the Youthbuild project located within the Special Flood Hazard Area.

B. After you have purchased (or constructed, in the case of proposed new construction) the Youthbuild property, you must obtain and maintain flood insurance protection. For the term and amount of coverage prescribed by law, you must provide HUD with a copy of the Policy Declarations form confirming that the flood insurance policy is in effect and the policy provides adequate coverage for the Youthbuild building located within the Special Flood Hazard Area.

5. Site within clear zones or accident potential zones of airports and airfields: Threshold: HUD policy as described in 24 CFR part 51, subpart D applies to HUD approval of financial assistance to: (a) properties located within clear zones; and (b) in the case of new construction or major rehabilitation, properties located within accident potential zones.

(a) Clear zones: New construction and major rehabilitation of a property that is located on a clear zone site is prohibited. HUD financial assistance in a clear zone is allowed only for the proposed lease, purchase, or minor rehabilitation of properties (24 CFR 51.302(a)). For HUD funding approval for any property in a clear zone: (a) HUD will give advance written notice to the prospective property buyer in accord with 24 CFR 51.303(a)(3); and (b) a copy of the HUD notice signed by the prospective property buyer will be placed in the property file. The written notice informs the prospective property buyer of: (i) The potential hazards from airplane accidents which studies have shown more likely to occur within clear zones than in other areas around the airport/airfield; and (ii) the potential acquisition by airport or airfield operators, who may wish to buy the property at some future date as part of a clear zone acquisition program.

(b) Accident potential zones: For properties located within the accident potential zone (APZ), HUD shall determine whether the use of the property is generally consistent with Department of Defense “Land Use Compatibility Guidelines for Accident Potential Zones.”

*Documentation: You are to select either A or B for the condition that best describes your property and report the option selected in item 5 of section G.

A. The property is not located within 3,000 feet of a civil airport or military airfield.

B. If your property is located within 3,000 feet of a civil airport or military airfield, you must provide HUD with a finding from the airport operator stating whether or not the property is located within a runway clear zone at a civil airport, or a clear zone or accident potential zone at a military airfield.

For properties that are located within a runway clear zone or a clear zone or accident potential zone, if you propose to rehabilitate such a property you must provide HUD with estimates of: (i) The cost of the proposed rehabilitation, and (ii) the property value after completion of the rehabilitation. The estimates are to be provided in section F.

6. Site is or affects an historic property: Threshold: Only if a property is proposed for rehabilitation or new construction must HUD in consultation with the State Historic Preservation Officer (SHPO), and following the Department of the Interiors Standards and Guidelines for Evaluation, make a determination whether the property is:

(a) Listed on or formally determined to be eligible for listing on the National Register of Historic Places;

(b) Located within or directly adjacent to an historic district; or

(c) A property whose area of potential effects includes an historic district or property.

Historic properties and districts are subject by law to special protection and historic preservation processing which HUD must perform to comply with the regulations of the Advisory Council on Historic Preservation (ACHP: 36 CFR part 800). Note: If you are using information from the SHPO as a qualified data source you need to allow sufficient time to obtain the information from the SHPO. You may wish to make special arrangements with the SHPO for rapid review of the proposed property where this is practicable. In addition, for properties determined to be historic properties, HUD will require 30 to 90 days in most cases for HUD to perform historic preservation compliance with the ACHP regulations. This may result in a disqualification of the application (refer above to number 7 under “Instructions to Applicants”).

*Documentation: You are to select one of the following options that best describes the condition of your property and report the option selected in item 6 of section G.

A. You propose financial assistance for rehabilitation or new construction, and are providing HUD with a SHPO's finding that the proposed Youthbuild activity:

1. Is located within an area where there are no historic properties; or

2. Will have no effect on historic properties; or

3. Will have an effect on historic properties not considered adverse.

B. You propose financial assistance for rehabilitation or new construction, and are providing HUD with a SHPO's finding that the proposed Youthbuild activity will have an adverse effect on historic properties.

C. You are providing HUD with a copy of a letter from the SHPO stating any reasons for not being able to provide you with the requested information and finding.

7. Site near hazardous industrial operations: Threshold: Properties that are located near hazardous industrial operations handling fuels or chemicals of an explosive or flammable nature are subject to HUD safety standards (24 CFR 51, Subpart C). However, under the Youthbuild program, these standards would apply only if you propose: (i) Construction of a building; (ii) conversion of a non-residential land use to a residential land use including making habitable a building condemned for habitation; or (iii) rehabilitation that increases the density of a residential structure by increasing the number of dwelling or rooming units. In the case of tanks containing common liquid fuels, the requirement for an acceptable separation distance (ASD) calculation only applies to storage tanks that have a capacity of more than 100 gallons.

*Documentation: You are to select one of the following options that best describe the condition of the property, and report the option selected in item 7 of section G.

A. The proposed project does not include: (i) Construction of a building; (ii) conversion of a non-residential land use to a residential land use including making habitable a building condemned for habitation; or (iii) rehabilitation that increases the density of a residential structure by increasing the number of dwelling or rooming units.

B. The proposed project includes: (i) Construction of a building; (ii) conversion of a non-residential land use to a residential land use including making habitable a building condemned for habitation; or (iii) rehabilitation that increases the density of a residential structure by increasing the number of dwelling or rooming units; and you are providing HUD with a finding by a qualified data source that the proposed property is not located within the immediate vicinity of hazardous industrial operations handling fuel or chemicals of an explosive or flammable nature by citing data used and the maps used.

C. The applicant proposes: (i) Construction of a building; (ii) conversion of a non-residential land use to a residential land use including making habitable a building condemned for habitation; or (iii) rehabilitation that increases the density of a residential structure by increasing the number of dwelling or rooming units; and the grantee provides HUD a finding made by a qualified data source stating: (1) That the proposed property is located within the immediate vicinity of hazardous industrial operations handling fuel or chemicals of an explosive or flammable nature; (2) the type and scale of such hazardous industrial operations; (3) the distance of such operations from the proposed property; (4) a preliminary calculation of the acceptable separation distance (ASD) between such operations and the proposed property; and (5) a recommendation as to whether it is safe to use the property in accord with 24 CFR 51, Subpart C.

8. Site near high noise source: Threshold: For new construction which is to occur in high noise areas (i.e. exceeding 65 decibels), applicants shall incorporate noise attenuation features to the extent required by HUD environmental criteria and standards contained in Subpart B (Noise Abatement and Control) of 24 CFR part 51. Approvals in a Normally unacceptable noise zone require a minimum of 5 decibels additional sound attenuation for buildings having noise-sensitive uses if the day-night average sound level is greater than 65 decibels but does not exceed 70 decibels, or a minimum of 10 decibels of additional sound attenuation if the day-night average sound level is greater than 70 decibels but does not exceed 75 decibels.

Proposed housing sites with above 75 decibels are unacceptable and the noise attenuation measures require the approval of the Assistant Secretary for Community Planning and Development. In Unacceptable noise zones, HUD strongly encourages conversion of noise-exposed sites to non-housing land uses compatible with the high noise levels.

For major rehabilitation projects involving five or more dwelling units located in the “Normally Unacceptable” and “Unacceptable” noise zones, HUD actively seeks to have project sponsors incorporate noise attenuation features, given the extent and nature of the rehabilitation being undertaken and the level of exterior noise exposure.

Documentation: You are to select A or B for the condition that best describes their project and report the option selected in item 8 of section G.

A. You are providing HUD with a finding made by a qualified data source stating that the property proposed by the applicant for a major rehabilitation or new construction project involving five or more dwelling units is not located within: (I) 1,000 feet of a major noise source, road, or highway; (ii) 3,000 feet of a railroad; or (iii) 1 mile of a civil or 5 miles of a military airfield.

B. The applicant provides HUD with a finding made by a qualified data source: (i) stating that the plans for the property proposed by the applicant for a major rehabilitation or new construction project involving five or more dwelling units will incorporate noise attenuation features in accord with HUD environmental criteria and standards contained in Subpart B (Noise Abatement and Control) of 24 CFR part 51; (ii) stating whether the property is located within a “Normally Unacceptable” or “Unacceptable” noise zone; and (iii) providing HUD plans and a statement of the anticipated interior noise levels.

9. Site affecting coastal zone management: Threshold: Only for proposed activities involving new construction or major rehabilitation of multifamily housing does the Coastal Zone Management (CZM) authority apply. Projects which can affect the coastal zone must be carried out in a manner consistent with the approved State coastal zone management program under Sec. 307 of the Coastal Zone Management Act of 1972, as amended.

* Documentation: You are to select either A or B for the condition that best describes the project and report the option selected in item 9 of section G.

A. You state that your project is not located within a coastal zone, as defined by the States Coastal Zone Management Plan.

B. If your project is located within a coastal zone, you are providing HUD with a finding made by the State CZM agency that the project proposed by the applicant is consistent with the approved State coastal zone management program.

10. Site affecting a sole source aquifer: Threshold: The sole source aquifer authority applies primarily to activities involving proposed new construction or conversion to housing of non-residential property. Projects which can affect aquifers designated by the Environmental Protection Agency (EPA) must be reviewed for impact on such designated aquifer sources. The Safe Drinking Water Act of 1974 requires protection of drinking water systems which are the sole or principal drinking water source for an area and which, if contaminated, would create a significant hazard to public health.

*Documentation: You are to select either A or B for the condition that best describes their project and report the option selected in item 10 of section G.

A. You are providing HUD with a finding made by a qualified data source stating that the proposed property is not located on nor does it affect a sole source aquifer designated by EPA.

B. If your project proposes new construction or conversion activities that are located on or may affect any sole source aquifer designated by the EPA, you are identifying the aquifer and providing HUD with an explanation of the effect on the aquifer from a qualified data source, and/or a copy of any comments on the proposed project that have been received from the EPA Regional Office as well as from any State or local agency with jurisdiction for protecting the drinking water system.

11. Site affecting endangered species: Threshold: The Endangered Species Protection (ESP) authority applies primarily to activities involving proposed new construction or conversion to housing of a non-residential property. Projects which can affect listed or proposed endangered or threatened species or critical habitats require consultation with the Department of the Interior in compliance with the procedure of Section 7 of the Endangered Species Act of 1973, as amended.

*Documentation: You are to select either A or B for the condition that best describes the property and report the option selected in item 11 of section G.

A. If your project proposes new construction or conversion activities, you are providing HUD with a finding made by a qualified data source that the project is not likely to affect any listed or proposed endangered or threatened species or critical habitat. The finding shall indicate whether the project is located within a critical habitat, and if so, explain why the project is not likely to affect the species or habitat.

B. If your project proposes new construction or conversion activities that are likely to affect listed or proposed endangered or threatened species or critical habitat, you are providing HUD with a statement from a qualified data source explaining the likely affect, and/or a finding made by the Fish and Wildlife Service of the Department of the Interior stating as acceptable the proposed mitigation that you will provide to protect any affected endangered or threatened species or critical habitat.

12. Site affecting a designated wetland: Threshold: New construction or conversion to housing of a non-residential property located within a designated wetland is subject to Executive Order 11990, Protection of Wetlands. This Executive Order directs HUD to avoid, where practicable, financial support for new construction on wetland property. Note: Proposed funding for new construction or conversion is subject to the Executive Order decision making process. This may result in a disqualification of the application (refer above to number 7 under “Instructions to Applicants”).

* Documentation: You are to select A or B for the condition that best describes the property and report the option selected in item 12 of section G.

A. You are providing HUD with a finding made by a qualified data source stating that the property is not located within a designated wetland where new construction or conversion is proposed.

B. You are providing HUD with a finding made by a qualified data source that the property is located within a designated wetland, which applies only to property where new construction or conversion is proposed.

The information for A and B must provide HUD with the wetland panel number obtained from official maps issued by the Department of the Interior on the basis of which the finding was made, or where DOI has not mapped the area, a letter or other documentation from the Army Corps of Engineers or other Federal agency.

13. Significant impact to the human environment: Threshold: HUD must perform an environmental assessment of any property proposed for major rehabilitation or new construction except for a single-family property having one-to-four dwelling units. It is the policy of the Department to reject proposals which have significant adverse environmental impacts and to encourage the modification of projects in order to enhance environmental quality and minimize environmental harm. This policy is authorized by the National Environmental Policy Act (NEPA) and the implementing regulations of the Council on Environmental Quality and HUD's Environmental Rule at 24 CFR part 50.

*Documentation: You are to provide HUD with any information on any adverse environmental impacts that affect the property or that the project would create. You are to report this data on a separate sheet and attach it to Exhibit 2C(15). Examples of adverse impacts are: soil instability and erodibility; natural or person-made hazards and nuisances; air pollution; inadequate infrastructure (e.g., water supply, waste water treatment, storm water management, solid waste collection), inadequate public services (i.e., fire, police, health care, social services, schools, parks) and transportation; and encroachment on prime farmlands and wild and scenic river areas. You are to identify any significant impacts to the human environment.

Appendix B

The non-standard forms, which follow, are required for your Youthbuild application.

BILLING CODE 4210-32-P

FUNDING AVAILABILITY FOR PUBLIC HOUSING RESIDENT OPPORTUNITIES AND SELF SUFFICIENCY (ROSS) PROGRAM

Program Overview

Purpose of Program. The purpose of the Public Housing Resident Opportunities and Self Sufficiency (ROSS) Program is to link services to public housing residents by providing grants for supportive services, resident empowerment activities and activities to assist residents in becoming economically self-sufficient.

Available Funds. Approximately $55 million.

Eligible Applicants. Public Housing Agencies (PHAs), resident management corporations, resident councils, resident organizations, Intermediary Resident Organizations (IROs), City-Wide Resident Organizations (CWROs) and nonprofit entities supported by residents. Indian Tribes (Tribes) and Tribally Designated Housing Entities (TDHEs) are eligible for grants under the Technical Assistance/Training Support for resident organizations and Resident Service Delivery Models (RSDM) funding categories.

Application Deadline. May 24, 2001, for Resident Management and Business Development;

May 24, 2001, for Capacity Building or Conflict Resolution;

June 26, 2001, for Resident Service Delivery Models; and

After publication of this SuperNOFA, Service Coordinator grant renewals under the Service Coordinator category will be accepted until all funds are awarded or June 28, 2001, whichever occurs first.

Match. At least 25% of the grant amount. This match does not have to be a cash match. The match can be in-kind and/or cash contributions.

Additional Information

If you are interested in applying for funding under any of these programs, please review carefully the General Section of this SuperNOFA and the following additional information.

I. Application Due Date, Application Kits, Further Information and Technical Assistance

Application Due Date. Your completed application (one original and two copies) is due on or before 12:00 midnight, Eastern time, on the following application due dates to HUD Headquarters at the address shown below.

May 24, 2001, for Resident Management and Business Development;

May 24, 2001, for Capacity Building or Conflict Resolution;

June 26, 2001, for Resident Service Delivery Models; and

After publication of this SuperNOFA Service Coordinator grant renewals under the Service Coordinator Category will be accepted until all funds are awarded or June 28, 2001, whichever occurs first.

See the General Section of this SuperNOFA for specific procedures governing the form of application submission (e.g., mail application, express mail, overnight delivery, or hand-carried).

Address for Submitting Applications. Submit your completed application (the original and one copy) to Grants Management Center (GMC), 501 School Street, SW, Suite 800, Washington, DC 20024.

In the case of tribes/TDHEs, please submit your completed application (the original and one copy) to ONAP, Denver Program Office, 1999 Broadway, Suite 3390, Denver, CO 80202.

Submit your second copy of your application to the local HUD Field Office with delegated public or assisted housing responsibilities attention: Director, Office of Public Housing. See Appendix A of the SuperNOFA for a list of HUD offices with delegated responsibility. The original application and one copy must be sent to the GMC. You may also call the SuperNOFA Information Center at 1-800-HUD-8929 if you have a question regarding where you should submit your application. Persons with hearing or speech impairments may call the Center's TTY number at 1-800-HUD-2209.

On the application due date, hand carried applications will be accepted until 12:00 midnight in the South Lobby at HUD Headquarters, 451 Seventh Street, SW, Washington DC 20410.

In the case of tribes/TDHEs, please submit your completed application (the original and one copy) to ONAP, Denver Program Office, 1999 Broadway, Suite 3390, Denver, CO 80202. All applications must be received and postmarked by the specific program application due date to the ONAP Denver Program Office before 12:00 midnight, Mountain Standard Time.

For Application Kits. For an application kit and any supplemental material, please call the SuperNOFA Information Center at 1-800-HUD-8929. Persons with hearing or speech impairments may call the Center's TTY number at 1-800-HUD-2209. When requesting an application kit, please refer to the ROSS Program, and provide your name, address (including zip code) and telephone number (including area code). An application kit is also available on the Internet through the HUD web site at http://www.hud.gov/grants.

For Further Information and Technical Assistance. You may contact the local HUD field office where you will be submitting your application or you may call the Public and Indian Housing Information and Resource Center at 1-800-955-2232. In the case of tribes/TDHEs, please contact the Local Area ONAP or Tracy Outlaw, ONAP, Denver Program Office at 1-800-561-5913 or (303)675-1600 (this is not a toll free number).

Satellite Broadcast. HUD will hold an information broadcast via satellite for potential applicants to learn more about the program and preparation of the application. For more information about the date and time of the broadcast, you should consult the HUD web site at http://www.hud.gov/grants.

II. Amount Allocated

(A) Total Amount. For FY 2001, approximately $55 million is available for the Resident Opportunities and Self Sufficiency Program.

(B) Allocation. To the extent that there are a sufficient number of qualified applications, not less than 25 percent of funds available for ROSS shall be provided directly to resident councils, resident organizations, resident management corporations, Intermediary Resident Organizations (IROs), Tribes/TDHEs on behalf of Tribal residents and City-Wide Resident Organizations (CWROs). This requirement will be implemented by the awards made to resident organizations for the Technical Assistance/Training Support for Resident Organizations and the Resident Service Delivery Models funding categories.

(C) Funding Categories and Funds Allocated to Each Category. There are three funding categories under ROSS. The funding categories and the amount allocated for each funding category and any subcategories are as follows:

(1) Technical Assistance/Training Support for Resident Organizations. A total of $11 million is allocated for this first funding category.

(a) Resident Management and Business Development (RMBD). A total of $6 million is allocated for this funding subcategory of which $500,000 is for Tribes/TDHEs that partner with Tribal ROs and Tribal RMCs.

(i) Grants will be made directly to site-based resident associations, Resident Management Corporations (RMCs), CWROs, and to Tribes/TDHEs that partner with Tribal resident organizations (ROs) and Tribal resident management corporations (RMCs) to: increase resident involvement and participation in their housing developments; develop resident management opportunities; provide resident-led business or cooperative development opportunities; and obtain necessary supportive services for self-sufficiency.

(ii) The maximum grant award for this funding category is $100,000 per applicant.

(b) Capacity Building or Conflict Resolution (CB/CR). A total of $5 million is allocated for this funding subcategory, of which $400,000 is for Tribes or TDHEs These are two separate funding categories that are described below:

(i) Capacity Building (CB). Grants to Intermediary Resident Organizations (IROs) and Tribes/TDHEs on behalf of tribal housing residents, Tribal ROs, Tribal RMCs and non-profits which operate associations and networks that administer programs benefiting resident organizations. These grants provide or assistance to site-based resident associations who do not yet have the capacity to administer a welfare-to-work program or conduct management activities. You may apply for funding that will be used to assist public and Tribal housing residents in establishing a new resident organization or you may apply for funds to help or enhance the capacity of existing resident organizations to enable residents to participate in housing agency decision-making, manage all or a portion of their housing developments, and/or apply for and administer grants.

(ii) Conflict Resolution (CR). This funding category is designed to provide grants to Intermediary Resident Organizations (IROs), Tribes/TDHEs on behalf of tribal housing residents, Tribal ROs, Tribal RMCs and non-profits which operate associations and networks administering programs that benefit public housing residents, or resident organizations, and to partner with professional mediators or groups with grass roots intervention experience to resolve conflicts involving public housing residents, and/or site-based resident associations. (See Section IV of this ROSS competition for specific requirements for this funding category).

(iii) The maximum amounts for CB/CR are as follows: $100,000 for City-Wide Resident Organizations (CWROs) per applicant, and $240,000 per applicant for all other eligible applicants in these funding categories. Applicants are required to allocate at least two-thirds of the total grant to direct funding of CB or CR activities for Site-Based Resident Associations (RAs) and/or Tribal ROs. CWROs are required to serve a minimum of 3 RAs and/or Tribal ROs. All other applicants are required to serve a minimum of 10 RAs and/or Tribal ROs.

(2) Resident Service Delivery Models (RSDM). A total of $24 million is allocated for this second category of funding of which $1,200,000 is for Tribes/TDHEs.

(i) The Resident Service Delivery Models (RSDM) funding category provides grants to Public Housing Agencies (PHAs), Tribes/TDHEs or directly to resident management corporations, resident councils, or resident organizations, and nonprofit entities supported by residents. There are two sub-categories of grants under this funding category: Family Grants for program-related activities and supportive services to establish and implement comprehensive programs that achieve resident self-sufficiency for families; and Elderly and Persons with Disabilities Grants for independent living for the elderly and persons with disabilities.

(iii) For RSDM, the maximum grant amounts are as follows:

For PHAs applying for family grants, the maximum grant application award will be based on the number of occupied family conventional public housing units. For PHAs applying for elderly and persons with disabilities grants, the maximum grant application award will be based on the number of occupied elderly and persons with disabilities conventional public housing units.

(B) For the RSDM family category, PHAs must use the number of occupied conventional family public housing units to determine the maximum grant amount in accordance with the categories listed below for families:

—For PHAs with 1 to 780 occupied family units, the maximum grant award is $250,000.

—For PHAs with 781 to 7,300 occupied family units, the maximum grant award is $500,000.

—For PHAs with 7,301 or more occupied family units, the maximum grant award is $1,000,000.

(C) For the Elderly and Persons with Disabilities RSDM Category, PHAs must use the number of occupied elderly conventional public housing units to determine the maximum awards listed below:

—For 1 to 217 units occupied by elderly residents and persons with disabilities, the maximum grant award is $100,000.

—For 218 to 1,155 units occupied by elderly residents and persons with disabilities, the maximum grant award is $200,000.

—For 1,156 or more units occupied by elderly residents and persons with disabilities, the maximum grant award is $300,000.

(D) The maximum grant award is $100,000 for each RA.

(E) Nonprofit entities supported by residents or RAs/ROs are limited to $100,000 for each RA/RO. A non-profit may submit a single application for no more than three different RAs for a maximum grant award of $300,000.

(F) Tribes/TDHEs should use the number of units counted as Formula Current Assisted Stock for Fiscal Year 1999 as defined in 24 CFR 1000.316. Tribes who have not previously received funds from the Department under the 1937 Housing Act should count housing units under management that are owned and operated by the Tribe and are identified in their housing inventory as of September 30, 1998.

(3) Service Coordinator Renewals. A total of $20 million is allocated for this third funding category.

(i) The Service Coordinator Renewal category provides grants to PHAs to address the needs of public housing residents who are elderly and persons with disabilities. Service coordinators help residents obtain supportive services that are needed to maintain independent living. Only renewals of prior FY 1995 Public Housing Elderly and Persons with Disabilities Service Coordinator grants will be funded under this ROSS competition; no applications for new Service Coordinator grants will be accepted.

(ii) These funds may only be used as follows:

—Renewal of existing Service Coordinator (SC) grants from prior years. This limitation is imposed to achieve Congressional intent to renew all service coordinator and congregate services grants. No applications for new elderly Service Coordinator grants will be accepted under this funding category.

—For the Elderly and Persons with Disabilities Service Coordinators category, award amounts cannot be higher than your highest funding and staffing level for any one-year period that was approved for their last funded Service Coordinator Grant. An increase of up to 2 percent over this amount will be allowed if supported by a narrative justification.

(iii) The Service Coordinator renewal application will be accepted until all funds are awarded under this Service Coordinator Category or until June 28, 2001, whichever occurs first. No new Service Coordinator renewal applications will be accepted after June 28, 2001.

(F) Transfer of Funds. If all funds are not awarded in one funding category, funds are transferable to other ROSS funding categories in this competition.

(G) Number of Applications Permitted. You may submit no more than one application under this ROSS competition. The only exception is that PHAs applying for Service Coordinator Renewal grants under this program section of the SuperNOFA may apply for one renewal grant and one additional grant in another category. A PHA, RA, RO or nonprofit may not submit an application to serve the same development. Please read each funding category carefully for additional limitations.

III. Program Description; Eligible Applicants; Eligible Activities

(A) Program Description. The purpose of ROSS is to assist residents to become economically self sufficient by providing supportive services and resident empowerment activities. This program is consistent with the Department's goal to most effectively focus resources on “welfare to work” and on independent living for the elderly and persons with disabilities. HUD is looking for applications which implement practical solutions within the grant term, and result in improved economic self-sufficiency for public or tribal housing residents. HUD seeks holistic solutions that involve the support of the entire community in providing self sufficiency opportunities for residents. Therefore, HUD encourages you to involve elderly and persons with disabilities in activities which support self sufficiency, such as child care, mentoring, or after school care. This philosophy should be reflected in your proposed grant activities for all funding categories within this ROSS competition. A description of each of the funding categories was provided in Section II of this program section. This section describes the eligible applicants and eligible activities of each funding category.

(B) Definitions.

City-Wide Resident Organization consists of members from Resident Councils, Resident Management Corporations, and Resident Organizations who reside in housing developments that are owned and operated by the same PHA within a city.

Community Facility means a non-dwelling structure that provides space for multiple supportive services for the benefit of public housing residents and others eligible for the services provided. Services that may include but are not limited to:

(1) Child care;

(2) After-school activities for youth;

(3) Job training;

(4) Twenty/20 Education Communities (TECs) (formerly Campus of Learners) activities; and

(5) English as a Second Language (ESL) classes.

Contract Administrator means an overall administrator and/or a financial management agent that oversees the financial aspects of a grant and assists in the entire implementation of the grant. A signed Contractor Administrator Partnership Agreement must be included in your application. This agreement may be contingent upon you receiving a grant award and adherence to PHA procurement policies. The contract administrator must assure that the financial management system and procurement procedures fully comply with 24 CFR part 84. The Contract Administrator may be: Local Housing Agencies; community-based organizations such as Community Development Corporations (CDC), churches; non-profits; State/Regional associations and organizations. Troubled PHAs are not eligible to be Contract Administrators.

Firmly Committed means the amount of resources and their dedication to ROSS-funded activities must be explicit and in writing. The writing must be signed by a person authorized to make the commitment or certify the commitment by an authorized body or person. This written agreement may be contingent upon receiving an award.

Elderly person means a person who is at least 62 years of age.

Jurisdiction-Wide Resident Organization means an incorporated nonprofit organization or association that meets the following requirements:

(1) Most of its activities are conducted within the jurisdiction of a single housing agency;

(2) There are no incorporated Resident Councils or Resident Management Corporations within the jurisdiction of the single housing agency;

(3) It has experience in providing start-up and capacity-building training to residents and resident organizations; and

Public housing residents representing unincorporated Resident Councils within the jurisdiction of the single housing agency must comprise the majority of the board of directors.

Tribally Designated Housing Entity (TDHEs) is an entity authorized or established by one or more Indian tribes to act on behalf of each such tribe authorizing or establishing the housing entity.

Indian Tribe means a tribe that is a federally recognized tribe or a State recognized tribe or a Federally recognized tribe means any tribe, band, nation, or other organized group for a community of Indians, including any Alaska native village or regional or village corporation as defined in or established pursuant to the Alaska Native Claims Settlement Act, that is recognized as eligible for the special programs and services provided by the United States to Indians because of their status as Indians pursuant to the Indian Self Determination and Education Act of 1975.

Intermediary Resident Organizations means Jurisdiction-Wide Resident Organizations, City-Wide Resident Organizations, State-Wide Resident Organizations, Regional Resident Organizations, and National Resident Organizations.

National Resident Organization (NRO) means an incorporated nonprofit organization or association for public housing that meets each of the following requirements:

(1) It is national (i.e., conducts activities or provides services in at least two HUD Areas or two States);

(2) It has experience in providing start-up and capacity-building training to residents and resident organizations; and

(3) Public housing residents representing different geographical locations in the country must comprise the majority of the board of directors.

Person with disabilities means a person who:

(1) Has a condition defined as a disability in section 223 of the Social Security Act;

(2) Has a developmental disability as defined in section 102 of the Developmental Disabilities Assistance Bill of Rights Act; or

(3) Is determined to have a physical, mental, or emotional impairment which:

(a) Is expected to be of long-continued and indefinite duration;

(b) Substantially impedes his or her ability to live independently; and

(c) Is of such a nature that such ability could be improved by more suitable housing conditions.

The term “person with disabilities” does not exclude persons who have the disease of acquired immunodeficiency syndrome or any conditions arising from the etiologic agent for acquired immunodeficiency syndrome. In addition, no individual shall be considered a person with disabilities, for purposes of eligibility for low-income housing, solely on the basis of any drug or alcohol dependence.

The definition provided above for persons with disabilities is the proper definition for determining program qualifications. However, the definition of a person with disabilities contained in section 504 of the Rehabilitation Act of 1973 and its implementing regulations must be used for purposes of reasonable accommodations.

Program Coordinator is a person who is responsible for coordinating various proposed activities to ensure that their accomplishment will assist in achieving the overall grant goals and objectives.

Project is the same as “low-income housing project” as defined in section 3(b)(1) of the United States Housing Act of 1937 (42 U.S.C. 1437 et seq.) (1937 Act).

Resident Association (RA) means any or all of the forms of resident organizations as they are defined elsewhere in this Definitions section and includes Resident Councils (RC), Resident Management Corporations (RMC), Regional Resident Organizations (RRO), Statewide Resident Organizations (SRO), Jurisdiction-Wide Resident Organizations, and National Resident Organizations (NRO).

Resident Council (RC) means (as provided in 24 CFR 964.115) an incorporated or unincorporated nonprofit organization or association that shall consist of persons residing in public housing and must meet each of the following requirements in order to receive official recognition from the PHA/HUD, and be eligible to receive funds for RC activities and stipends for officers for their related costs for volunteer work in public housing. (Although 24 CFR part 964 defines an RC as an incorporated or unincorporated nonprofit organization, HUD requires RC applicants for ROSS grants to be registered with the State at the time of application submission.) The following also applies to resident councils:

(1) The RC must adopt written procedures such as by-laws, or a constitution which provides for the election of residents to the governing board by the voting membership of the public housing residents. The elections must be held on a regular basis, but at least once every 3 years. The written procedures must provide for the recall of the resident board by the voting membership. These provisions shall allow for a petition or other expression of the voting membership's desire for a recall election, and set the percentage of voting membership which must be in agreement in order to hold a recall election. This threshold shall not be less than 10 percent of the voting membership.

(2) The RC must have a democratically elected governing board that is elected by the voting membership. At a minimum, the governing board should consist of five elected board members. The voting membership must consist of heads of households (any age) and other residents at least 18 years of age or older and whose name appear on a lease for the unit in the public housing that the resident council represents.

(3) The RC may represent residents residing in:

(a) Scattered site buildings in areas of contiguous row houses;

(b) One or more contiguous buildings;

(c) A development; or

(d) A combination of the buildings or developments described above.

Regional Resident Organization (RRO) means an incorporated nonprofit organization or association for public housing that meets each of the following requirements:

(1) The RRO is regional (i.e., not limited by HUD Areas);

(2) The RRO has experience in providing start-up and capacity-building training to residents and resident organizations; and

(3) Public housing residents representing different geographical locations in the region must comprise the majority of the board of directors.

Resident Management Corporation (RMC) (see 24 CFR 964.7, 964.120) means an entity that consists of residents residing in public housing and must have each of the following characteristics in order to receive official recognition by the PHA and HUD:

(1) The RMC shall be a nonprofit organization that is validly incorporated under the laws of the State in which it is located;

(2) The RMC may be established by more than one RC, so long as each such council:

(a) Approves the establishment of the corporation; and

(b) Has representation on the Board of Directors of the corporation.

(3) The RMC shall have an elected Board of Directors, and elections must be held at least once every 3 years;

(4) The RMC's by-laws shall require the Board of Directors to; include resident representatives of each RC involved in establishing the corporation; include qualifications to run for office, frequency of elections, procedures for recall; and term limits if desired;

(5) The RMC's voting members shall be heads of households (any age) and other residents at least 18 years of age and whose name appears on the lease of a unit in public housing represented by the RMC;

(6) Where an RC already exists for the development, or a portion of the development, the RMC shall be approved by the RC board and a majority of the residents. If there is no RC, a majority of the residents of the public housing development it will represent must approve the establishment of such a corporation for the purposes of managing the project; and

(7) The RMC may serve as both the RMC and the RC, so long as the corporation meets the requirements of 24 CFR part 964 for an RC.

Resident Organization (RO) for tribal entities means an incorporated or nonprofit tribal organization or association that meets each of the following criteria: (1) It shall consist of residents only, and only residents may vote; (2) If it represents residents in more that one development or in all of the developments of the tribal/TDHE community, it shall fairly represent residents from each development that it represents; (3) It shall adopt written procedures providing for the election of specific officers on a regular basis; (4) It shall have democratically elected a governing board. The voting membership of the board shall consist solely of the residents of the development or developments that the tribal RO represents.

Secretary means the Secretary of Housing and Urban Development.

Site-Based Resident Associations means Resident Councils and Resident Management Corporations.

Statewide Resident Organization (SRO) means a Site-Based incorporated nonprofit organization or association for public housing that meets the following requirements:

(1) The SRO is Statewide;

(2) The SRO has experience in providing start-up and capacity-building training to residents and resident organizations; and

(3) Public housing residents representing different geographical locations in the State must comprise the majority of the Board of Directors.

(C) Resident Management and Business Development (RMBD).

(1) Eligible applicants. Site-Based Resident Associations (RAs), Tribes/TDHEs that partner with Tribal ROs or Tribal RMCs and City-Wide Resident Organizations (CWROs). If you are an RA/RO that is a beneficiary or recipient of proposed grant activities by a CWRO/TDHE, then you cannot also apply under this category. You may only submit one application under this funding category.

(2) Eligible participants. Program participants must be residents of conventional public housing. You must provide a certification that at least 51 percent of those served by your proposed activities are residents affected by welfare reform.

(3) Eligible Activities. Funding is limited to the following activities below:

(a) Training related to resident-owned business or cooperative development and technical assistance for job training and placement in housing developments;

(b) Technical assistance and training in resident managed business development through: feasibility and market studies; development of business plans; outreach activities; and innovative financing methods including revolving loan funds and the development of credit unions; and legal advice in establishing a resident-managed business entity or cooperative. Revolving loan funds can not be used for acquisition, disposition, or physical development;

(c) Establishing and funding revolving loan funds. Revolving loan funds can not be used for acquisition, disposition, or physical development;

(d) Training residents, as potential employees of an RMC, in skills directly related to the operation, management, maintenance and financial systems of a development;

(e) Training residents with respect to fair housing requirements; and

(f) Gaining assistance in negotiating management contracts and designing a long-range planning system.

(g) Providing social support needs (such as self sufficiency and youth initiatives) including:

(h) Feasibility studies to determine training and social services needs;

(i) Training in management-related trade skills, computer skills, and similar skills;

(j) Management-related employment training and counseling including job search assistance, job development assistance, job placement assistance, and follow up assistance;

(k) Supportive services including: child care services; educational services, remedial education, literacy training, ESL instruction, assistance in attaining a GED; vocational training including computer training; health care outreach and referral services; meal services for the elderly or persons with disabilities; personal assistance to maintain hygiene/appearance for the elderly or persons with disabilities; housekeeping assistance for the elderly or persons with disabilities; transportation services; congregate services for the elderly or persons with disabilities; and case management;

(l) Training for programs such as child care, early childhood development, parent involvement, volunteer services, parenting skills, before and after school programs;

(m) Training programs on health, nutrition, safety and substance abuse; Food costs that are directly attributable to the nutrition and health training are eligible grant expenditures. These are not food costs associated with entertainment.

(n) Workshops for youth services including: child abuse and neglect prevention, tutorial services, youth leadership skills, youth mentoring, peer pressure reversal, life skills, and goal planning. The workshops can be held in partnership with community-based organizations such as local Boys and Girls Clubs, YMCA/YWCA, Boy/Girl Scouts, Campfire, and Big Brother/Big Sisters;

(o) Training in the development of strategies to successfully implement a youth program. For example, assessing the needs and problems of youth, improving youth initiatives that are currently active, and training youth, housing agency staff, resident management corporations and resident councils or resident organizations on youth initiatives and program activities;

(p) Physical improvements to facilities at public or tribal housing developments to provide space for self-sufficiency activities for residents, i.e. to provide cosmetic improvements and repairs to space to conduct community activities; or to expand existing community space for your proposed ROSS activities or modifications for accessibility for persons with disabilities. Your physical improvements may not exceed 50% of the total grant amount and must be directly related to providing space for self-sufficiency activities for residents. Refer to Office of Management and Budget (OMB) Circular A-87, Cost Principles for State, Local and Indian Tribal Governments;

(i) Renovation, conversion, and repair costs may be essential parts of physical improvements. In addition, architectural, engineering, and related professional services required to prepare architectural plans or drawings, write-ups, specifications or inspections may also be part of the cost components to implement physical improvements.

(ii) The renovation, conversion, or combination of vacant dwelling units in a PHA or tribal development to create common areas to accommodate the provision of supportive services is an eligible activity for physical improvements.

(iii) The renovation of existing common areas in a PHA or tribal development to accommodate the provision of supportive services.

(iv) The renovation or repair of facilities located near the premises of one or more PHA or tribal developments to accommodate the provision of supportive services.

(v) If renovation, conversion, or repair is done off-site, the PHA, tribe or owner must provide documentation that it has control of the proposed property for not less than 2 years and preferably for 4 years or more. Control can be evidenced through a lease agreement, ownership documentation, or other appropriate documentation.

(vi) All renovations must meet appropriate accessibility requirements, including Section 504 requirements at 24 CFR 8, Architectural Barriers Act at 24 CFR 40, the Americans with Disabilities Act and the Fair Housing Act.

(q) Establishing and operating Neighborhood Networks Centers that use computer technology and telecommunications for job training, after-school youth programs, educational, and health activities.

(4) Ineligible Resident Management and Business Development Activities and Costs.

(a) Entertainment, including associated costs such as food and beverages, except normal per diem for meals related to travel performed in connection with implementing the Work Plan. (See HUD Travel Notice 99-24 for more specific guidance.)

(b) Purchase or rental of land.

(c) Activities not directly related to the welfare-to-work initiatives (e.g., lead-based paint testing and abatement and operating capital for economic development activities).

(d) Purchase of any vehicle (car, van, bus, etc.).

(e) Payment of salaries for routine project operations, such as security and maintenance, or for applicant staff, except that a reasonable amount of grant funds may be used to hire a person to coordinate the Resident Management and Business Development grant activities or coordinate on-site social services.

(f) Payment of fees for lobbying services.

(g) Any expenditures that are fraudulent, wasteful or otherwise incurred contrary to HUD or OMB directives.

(h) Any cost otherwise eligible under this program section of the SuperNOFA for which funds are being provided from any other source.

(i) Entertainment equipment such as televisions, radios, stereos, and VCRs. An exception to this item may be granted by the HUD Field Office or Area ONAP Office if funding is being utilized specifically for the purposes of establishing a business directly related to radio, television or film or some other form of technical communication, and equipment is being utilized for training of residents, ROs or RAs. All such exceptions must be authorized in writing by the HUD Field Office or Area ONAP Office before purchases may be made.

(j) The cost of application preparation is not eligible.

(5) Supporting Information. The following information may be useful in developing proposed grant activities and costs:

(a) Training. Training activities may include training on HUD regulations and policies governing the operation of low-income public housing including contracting/procurement regulations; financial management; job and business development training; capacity building to develop the necessary skills to assume management responsibilities at the project and property management; and training in accessing other funding sources.

(b) Hiring trainers or other experts. Resident grantees must ensure that all training is provided by a qualified public housing or management specialist (Consultant/Trainer), HUD Headquarters, Field or ONAP staff, or the local PHA or tribe /TDHE. To ensure the successful implementation of the grant Work Plan activities, you are required to determine the need to contract for outside consulting/training services. You and the PHA or tribe/TDHE must jointly select and approve the consultant/trainer. Your application should make maximum use of your PHA, non profit, or other Federal, State, or local government resources for technical assistance and training needs. The amount allowed for hiring an individual consultant for this purpose shall not exceed 30% of your total grant amount or $30,000, whichever is less. The amount available for all consultants and contracts should not exceed 50% of your grant amount or $50,000 whichever is less. HUD Field or ONAP Offices will monitor this process to ensure compliance with program and OMB requirements, and particularly the requirement for competitive bidding. Where it is necessary to exceed the 50% limitation you must use performance based contracting. Performance based contracts require that fees be paid in exchange for goods and services actually delivered. For example, a trainer would be paid for the number of residents that were trained, i.e. performance, regardless of the maximum dollar amount quoted in the contract.

(c) Stipends. Trainees and program participants of an RA, RO or CWRO, may receive stipends for participating in or receiving training under Resident Management to cover reasonable costs related to participation in training and other activities in your program, subject to the availability of funds. The stipends should be used for additional costs incurred during the training programs, such as child care and transportation costs. The cost of stipends may not exceed $200 per month per trainee without written HUD Field Office authorization.

(d) Reimbursement of Reasonable Expenses. Reimbursement of reasonable expenses incurred by Officers and Board members in the performance of their fiduciary duties and/or training related to the performance of their official duties.

(e) Travel. Travel directly related to the successful completion of your required Work Plan. You must adhere to the travel policy established by HUD Notice 99-24. This policy sets travel costs at a maximum amount of $5,000 per RA or RO without special HUD approval.

(f) Child-Care Expenses. Child care expenses for individual staff, board members, or residents in cases where those who need child care are involved in training-related activities associated with your grant activities.

(g) Costs incurred by a RA or RO in applying for 501(c) tax exempt status with Internal Revenue Service. Please refer to the Internal Revenue Service (IRS) Publication 557, which describes the requirements for section 501(c) tax exempt organizations and list the applicable forms required.

(h) Administrative costs. These costs are necessary for the implementation of your grant activities. Administrative costs are not to exceed 20% of the grant. Appropriate administrative costs include, but are not limited to, the following reasonable costs or activities:

(i) Space and equipment. Maintenance, utility costs, postage, building lease/rental costs, purchase or lease of telephone, computer, printing, copying, and sundry non-dwelling equipment (such as office supplies, software, and furniture). You must justify the need for this equipment or space based on services being delivered in relationship to implementing your approved grant activities.

(ii) Rental or lease of vehicles. Rental or lease of a car, van, or bus by resident grantees to attend training;

(6) Grant term. The grant term for Resident Management and Business Development grants is thirty-six months from the execution date of your grant agreement.

(D) Capacity Building or Conflict Resolution.

(1) Eligible applicants. (a) Intermediary Resident Organizations (IROs) on behalf of public or Indian housing residents, which include Public Housing Site-Based Resident Councils , Resident Organizations and Resident Management Corporations may apply for Capacity Building and/or Conflict Resolution grants. IROs include National Resident Organizations, Statewide Resident Organizations, Regional Resident Organizations, City-Wide Resident Organizations, and Jurisdiction-Wide Resident Organizations.

(b) Eligible applicants cited above may submit either one application for conflict resolution or one application for capacity building under this funding category.

(c) Non-profits that operate as associations or networks that administer programs that benefit public or Indian housing resident organizations are also eligible for this funding category.

(2) Eligible activities. (a) Conflict resolution. Conflict resolution grant activities may include, but are not limited to:

(i) Establishing violence-free zones to enhance the quality of living environment for public housing residents. The eligible activities for your proposed program must address one or more of the following areas: violent crime, youth violence, and/or violent gang activity in your housing development or living environment. These areas must be addressed in your application. You must at a minimum focus on one of these areas, but may include the others where appropriate. Your grant application must include specific processes or techniques to prevent and reduce violent crime that are measurable within the grant term. Implementation strategies may include training at the grass roots level, resident employment; resident partnership with local law enforcement; personal skill-building to strengthen individual character development; and management techniques for preventing violence. You must identify the public housing development(s) that will serve as the focus for proposed grant activities. Any other areas, (e.g., negatively impacted neighborhoods and assisted/insured housing developments) which benefit from your proposed grant activities must be adjacent to the public housing development;

(ii) Training programs on mediation and communication skills;

(iii) Training programs on dispute resolution and reconciliation, including training addressing racial, ethnic and other forms of diversity;

(iv) Workshops for youth services including: child abuse and neglect prevention, tutorial services, youth leadership skills, youth mentoring, peer pressure reversal, life skills, social skills, goal planning, health, wellness and nutrition. The workshops may be held in partnership with community-based organizations such as local Boys and Girls Clubs, YMCA/YWCA, Boy/Girl Scouts, Campfire and Big Brother/Big Sisters, etc. Food costs that are directly attributable to the actual nutrition, wellness and health training are an eligible grant expenditure. These are not food costs associated with entertainment.

(v) Training in the development of strategies to successfully implement a youth program. For example, assessing the needs and problems of youth, improving youth initiatives that are currently active, and training youth, housing agency staff, resident management corporations resident organizations and resident councils on youth initiatives and program activities.

(b) Capacity Building. Eligible activities for CB grants may include, but are not limited to:

(i) Training Board members in community organizing, Board development, and leadership training;

(ii) Conducting the feasibility of training existing resident groups for resident management or for a specific resident management project;

(iii) Assisting in the creation of an RMC, such as consulting and legal assistance to incorporate, preparing by-laws and drafting a corporate charter;

(iv) Developing the management capabilities of existing resident organizations;

(v) Determining the feasibility of homeownership by residents, including assessing the feasibility of other housing (including HUD-owned or held single or multi-family) affordable for purchase by residents.

(3) Ineligible Activities. Ineligible activities are the same as those listed in Section III(C)(4) of this program section of the SuperNOFA, above.

(a) In addition, physical development activities are not eligible for funding under CB or CR grants.

(b) The cost of application preparation is not eligible.

(4) Administrative costs may include, but are not limited to, purchase of furniture, office equipment and supplies, training, quality assurance, travel, and utilities. Administrative costs must not exceed 20% of the total grant costs.

(5) Grant term. The grant term for both Conflict Resolution and Capacity Building grants is thirty-six months from the execution date of the grant agreement.

(E) Resident Service Delivery Models (RSDM).

(1) Eligible Applicants. (a) Family. This funding category provides grants to PHAs, Tribes/TDHEs, resident management corporations, resident councils, resident organizations, and nonprofit entities supported by residents, to enable them to establish and implement comprehensive programs that assist residents in becoming self-sufficient

(b) Elderly and Persons with Disabilities. PHAs, Tribes/TDHEs and non-profits supported by a duly elected resident council are the only eligible applicants in providing supportive services for the elderly and persons with disabilities.

(c) IROs with 501(c)status may apply as non-profit entities under this funding category.

(2) Number of RSDM Applications Permitted. (a) General. PHAs must submit an application either for a family or an elderly grant. ROs or RCs must submit one application for a family grant; and non-profits may submit one application for a family or elderly grant representing up to three public or Indian housing resident groups.

(b) Joint applications. Two or more applicants may join together to submit a joint application for proposed grant activities. Joint applications must designate a lead applicant. All parties in a joint application (lead or non-lead) are considered to be applying for ROSS and are therefore subject to the limit of one ROSS application per applicant, with the exception of those Public Housing Service Coordinator renewal applicants that may also apply in one additional ROSS category. Both lead and non-lead applicants are subject to threshold requirements. Joint applications may include PHAs, RAs, IROs, Tribes/TDHEs, and nonprofit entities on behalf of residents organizations. Joint applications must also provide evidence of resident support. The maximum funding for joint applications cannot exceed the sum of the individual grants as specified above. Any eligible applicant can serve as a lead applicant.

(3) Eligible participants. Program participants must be residents of conventional public or Indian housing. You must provide a certification that at least 51 percent of those served by your proposed activities are residents affected by welfare reform.

(4) Eligible Activities. Funds may be used for the activities described below for the family category.

(a) Program Coordinator. You are encouraged to include a Program Coordinator for either proposed family or elderly RSDM activities for the entire term of your grant. A Program Coordinator is a person who is responsible for coordinating various proposed activities to ensure that their accomplishment will assist in achieving overall grant goals and objectives.

(b) Physical improvements. Physical improvements to provide space for self-sufficiency activities for residents (i.e. to provide cosmetic repairs for space to conduct community activities; or to expand existing community space for proposed ROSS activities) or modification for accessibility for persons with disabilities. Physical improvements may not exceed 50% of the total grant amount and must be directly related to providing space for self-sufficiency activities for residents. Physical improvements include the following:

(i) Renovation, conversion, and repair costs may be essential parts of physical improvements. In addition, architectural, engineering, and related professional services required to prepare architectural plans or drawings, write-ups, specifications or inspections may also be part of the cost components to implement physical improvements;

(ii) The renovation, conversion, or combination of vacant dwelling units in a housing development to create common areas to accommodate the provision of supportive services is an eligible activity for physical improvement;

(iii) The renovation of existing common areas in a housing development to accommodate the provision of supportive services is an eligible activity for physical improvements;

(iv) The renovation or repair of facilities located near the premises of one or more housing developments to accommodate the provision of supportive services is an eligible activity for physical improvements;

(v) If renovation, conversion, or repair is done off-site, you must provide documentation that you have control of the proposed property for not less than 2 years and preferably for 4 years or more. Control can be evidenced through a lease agreement, ownership documentation or other appropriate documentation.

(vi) All renovations must meet appropriate section 504 accessibility requirements.

(c) Entrepreneurship training. Entrepreneurship training includes literacy training, computer skills training, business development planning.

(d) Entrepreneurship development. Entrepreneurship development includes entrepreneurship training curriculum, entrepreneurship courses.

(e) Micro/Loan fund. Developing a strategy for establishing a revolving micro/loan fund and/or capitalizing a loan fund, including licensing, bonding, and insurance needed to operate a business. Revolving loan funds can not be used for acquisition, disposition, or physical development;

(f) Developing credit unions. Developing a strategy to establish and/or create on-site credit union(s) to provide financial and economic development initiatives to PHA residents. (RSDM grant funds cannot be used to capitalize a credit union.) The credit union can support the normal financial management needs of the community (i.e., check cashing, savings, consumer loans, micro-businesses money management, home buyer counseling, educational loans, and other revolving loans).

(g) Individual development accounts. Activities or programs that encourage residents to contribute to matched savings accounts known as Individual Development Accounts (IDAs). These programs include financial counseling and education activities. (RSDM funds cannot be used as matching funds for the actual savings account).

(h) Employment training and counseling (e.g., job training, establishing registered apprenticeship programs, preparation and counseling, job search assistance, job development and placement, and supportive services to support job training and apprenticeship activities.

(i) Employer linkage and job placement.

(j) Family only—supportive services activities. The provision of services to assist eligible residents to become economically self-sufficient, particularly families with children where the head of household would benefit from the receipt of supportive services and is working, seeking work, or is preparing for work by participating in job-training or educational programs. Eligible supportive services may include, but are not limited to:

(i) Child care, of a type that provides sufficient hours of operation and serves appropriate ages as needed to facilitate parental access to education and job opportunities.

(ii) Computer-based educational opportunities, skills training, and entrepreneurial activities.

(iii) Homeownership training and counseling, development of feasibility studies and preparation of homeownership plans/proposals.

(iv) Education including but not limited to: remedial education; computer skills training; career counseling; literacy training; assistance in the attainment of certificates of high school equivalency; two-year college tuition assistance; trade school assistance; youth leadership skills and related activities (activities may include peer leadership roles training for youth counselors, peer pressure reversal, life skills, and goal planning). Academic support shall not be limited to TANF recipients.

(v) Youth mentoring of a type that mobilizes a potential pool of role models to serve as mentors to public housing youth. Mentor activities may include after-school tutoring, help with problem resolution issues, illegal drugs avoidance, job counseling, or mental health counseling.

(vi) Transportation costs, as necessary to enable any participating family member to receive available services to commute to his or her training or supportive services activities or place of employment.

(vii) Personal well-being (e.g., family/parental development counseling, parenting skills training for adult and teenage parents, self-development counseling, support groups/counseling for victims of domestic violence, and/or families with a mentally ill member, etc.).

(viii) Supportive health care services (e.g., outreach and referral services to substance and alcohol abuse treatment and counseling, mental health services, wellness programs). Food costs that are directly attributable to the actual nutrition and health training are an eligible grant expenditures. These are not food costs associated with entertainment.

(ix) Contracting for case management services or employment of case managers, which must ensure confidentiality about resident's disabilities.

(x) Establishing and/or operating Neighborhood Network Centers that use computer technology and telecommunications for job training, after-school youth programs, educational, and health activities .

(xi) Administrative costs may include, but are not limited to, purchase of furniture, office equipment and supplies, quality assurance, travel, and utilities. Administrative costs must not exceed 20% of the total grant costs.

(xii) Stipends. No more than $200 per participant per month of the grant award may be used for stipends for active trainees and program participants to cover the reasonable costs related to participation in training and other activities.

(5) Elderly and persons with disabilities—supportive services activities may include, but are not limited to:

(i) A Program Coordinator (See Section III(E) for a description);

(ii) Meal service adequate to meet nutritional need;

(iii) Assistance with daily activities;

(iv) Housekeeping aid;

(v) Transportation services;

(vi) Wellness programs, preventive health education, referral to community resources;

(vii) Personal emergency response;

(viii) Congregate services—includes supportive services that are provided in a congregate setting at a conventional public housing development; and

(viii) Case management.

(h) Administrative costs. Administrative costs may include, but are not limited to, purchase of furniture, office equipment and supplies, training, quality assurance, travel, and utilities. Administrative costs must not exceed 20% of the total grant costs.

(5) Ineligible Activities. Activities for which costs are ineligible for funding under the RSDM funding category include:

(i) Elderly Service Coordinator salary funding;

(ii) Payment of wages and/or salaries to participants receiving supportive services and/or training programs, except that grant funds under family RSDM may be used to hire a resident(s) as a Program Coordinator or to provide training program activities;

(iii) Purchase or rental of land;

(iv) New construction, materials, costs;

(v) Purchase of vehicles; and

(vi) Cost of application preparation is not eligible.

(6) Grant term. The grant term for Resident Service Delivery Models grants is thirty-six months from the execution date of the grant agreement.

(F) Service Coordinators for Elderly and Persons with Disabilities. (1) Eligible Applicants. This funding category provides grants to PHAs with developments designated for the elderly and persons with disabilities which were initially awarded in FY 1995.

(2) Joint Applications. Two or more PHAs may join together to share a service coordinator and so submit joint applications. Joint applicants must designate a lead applicant. All joint applicants must be existing service coordinator grantees.

(3) Eligible developments. To be eligible, a development must have elderly residents and/or non-elderly residents with disabilities who together total at least 25 percent of the building's residents.

(4) Eligible Activities. Under this funding category, funds may be used for the following activities:

(a) Service Coordinator. To pay for the salary, fringe benefits, and related administrative costs for employing a service coordinator. A service coordinator is a social service staff person hired or contracted by the PHA. The coordinator is responsible for assuring that elderly residents, especially those who are frail or at risk, and those non-elderly residents with disabilities are linked to the supportive services they need to continue living independently in that development. The service coordinator, however, may not require any elderly person or person with disabilities to accept the supportive services. For the purposes of this program, a service coordinator is any person who is responsible for one or more of the following functions:

(i) Working with community service providers to coordinate the provision of services and to tailor the services to the needs and characteristics of eligible residents;

(ii) Establishing a system to monitor and evaluate the delivery, impact, effectiveness and outcomes of supportive services under this program;

(iii) Coordinating this program with other independent living or self-sufficiency, education and employment programs;

(iv) Performing other duties and functions to assist residents to remain independent, and to prevent unnecessary institutionalization; and

(v) Mobilizing other national and local public/private resources and partnerships.

(b) Administrative costs. Administrative costs may include, but are not limited to, purchase of furniture, office equipment and supplies, training, quality assurance, travel, and utilities. Administrative costs must not exceed 20% of the total grant costs.

(5) Ineligible Activities/Costs. (a) Applicants may not use these monies to replace current funding from other sources for a Service Coordinator or for some other staff person who performs service coordinator functions; and

(b) The cost of application preparation is not eligible.

(6) Grant term. The grant term for Elderly or Persons with Disabilities Service Coordinator grants is 12 months.

IV. Program Requirements

The requirements of this section are applicable to all applicants, and grantees under this announcing of funding availability.

(A) Compliance with Fair Housing and Civil Rights Laws. Your application must meet all the applicable threshold requirements found in Section II(B) of the General Section of the SuperNOFA, as well as the following requirements.

(B) Affirmatively Furthering Fair Housing. You must adhere to the requirement as provided in Section II(D) of the General Section of the SuperNOFA.

(C) Section 109. In addition to the fair housing and other civil rights assurances described under Section II(B) of the General Section of the SuperNOFA, applicants for ROSS must provide assurance that they will comply with section 109 of the Housing and Community Development Act of 1974, as amended. Implementing regulations for section 109 are found under 24 CFR part 6 and part 570, including , but not limited to, reporting and record-keeping requirements under 24 CFR 570.506 and 570.507.

(D) Certifications and Assurances. You must comply with the certifications and assurances contained in Section II(G) of the General Section of the SuperNOFA.

(E) Applicant Internet Access. Prior to the initial draw down, all grantees must have secured online access to the Internet as a means to communicate with HUD on grant matters.

(F) ROSS Evaluation and Assessment. All applicants selected for award must be willing to participate in the evaluation and assessment that HUD intends to conduct for the ROSS Program. At grant award HUD will provide additional information on the evaluation and assessment for applicants who receive awards.

V. Application Selection Process

(A) Application Selection Process for Resident Management and Business Development. Applicants for Resident Management and Business Development grants are required to address application submission requirements, but are not required to address selection factors. Eligibility will be determined by applications that meet the threshold requirements of Section VI of this program section of the SuperNOFA. HUD will accept for funding the first five eligible applications from each of the ten federal regions and ONAP on a first-come, first-serve basis for this SuperNOFA. Any funds remaining after making awards to the first five eligible applications from each region and ONAP will be awarded to the next eligible application from each region, then the next, and so forth until funds are exhausted. If sufficient funds are not available in any round to fund an eligible application from each region, the eligible applications will then be funded in the order in which they were received regardless of region. Where physical development activities are proposed, HUD will perform an environmental review, to the extent required by 24 CFR part 50, prior to award. The results of the environmental review may require that proposed activities be modified or proposed sites rejected. If all funds are not awarded in one funding category, funds are transferable to other ROSS funding categories in this ROSS competition.

(B) Application Selection Process for Capacity Building or Conflict Resolution. Applicants for Conflict Resolution or Capacity Building grants are required to address application submission requirements but are not required to address selection factors. Eligibility will be determined by applications that meet the threshold requirements of Section VI of this program section of the SuperNOFA. HUD will accept for funding the first two eligible applications from each of the ten federal regions and ONAP on a first-come, first-serve basis for this SuperNOFA. Any funds remaining after making awards to the first two eligible applications from each region and ONAP will be awarded to the next eligible application from each region, then the next, and so forth until funds are exhausted. If sufficient funds are not available in any round to fund an eligible application from each region, the eligible applications will then be funded in the order in which they were received regardless of region. If all funds are not awarded in one funding category, funds are transferable to the other ROSS funding categories in this ROSS competition.

(C) Application Selection Process for Resident Service Delivery Models. (1) Three types of reviews will be conducted: a screening to determine if your application submission is complete and on time; a threshold review to determine applicant eligibility; and a technical review to rate your application based on the five rating factors provided in this section. A minimum score of 70 is required to be considered for funding. If you are not the PHA, where physical development activities are proposed, HUD will perform an environmental review, to the extent required by 24 CFR part 50, prior to award. The results of the environmental review may require that proposed activities be modified or proposed sites rejected.

(2) The selection process is designed to achieve geographic diversity of grant awards throughout the country. HUD will first select the highest ranked application from each of the ten federal regions and ONAP for funding. After this “round,” HUD will select the second highest ranked application in each of the ten federal regions and ONAP for funding (the second round). HUD will continue this process with the third, fourth, and so on, highest ranked applications in each federal region until the last complete round is selected for funding. If available funds exist to fund some but not all eligible applications in the next round, HUD will make awards to those remaining applications in rank order regardless of region and will fully fund as many as possible with remaining funds. In addition, if all funds are not awarded in this funding category, funds are transferable to other funding categories in this ROSS Competition.

(D) Factors for Award Used to Evaluate and Rate RSDM Applications. The factors for rating and ranking applicants and maximum points for each factor are provided below. The maximum number of points available for this program is 104. This includes two EZ/EC bonus points and two bonus points for apprenticeship programs, as described in the General Section of the SuperNOFA. The application kit contains a certification that must be completed for the applicant to be considered for EZ/EC and apprenticeship program bonus points and a listing of federally designated EZs and ECs. A RSDM application must receive a total of 70 points out of 100 to be eligible for funding.

Rating Factor 1: Capacity of the Applicant and Relevant Organizational Experience (20 Points)

This factor addresses the extent to which the applicant has the organizational resources necessary to successfully implement the proposed activities in a timely manner. In rating this factor HUD will consider the extent to which the proposal demonstrates:

(1) Proposed Program Staffing. (7 Points)

(a) Experience. (4 Points) The knowledge and experience of your proposed project director and staff, including the day-to-day program manager, sub-recipients and partners in planning and managing programs for which funding is being requested. Your experience will be judged in terms of recent, relevant and successful experience to undertake eligible program activities.

(b) Sufficiency. (3 Points) You and your sub-recipients, and partners have sufficient personnel or will be able to quickly access qualified experts or professionals, to deliver the proposed activities in each proposed service area in a timely and effective fashion, including your readiness and ability to immediately begin the proposed work program. To demonstrate sufficiency, you must submit the proposed number of staff years to be allocated to your program by employees and experts, the titles and relevant professional background and experience of each employee and expert proposed to be assigned to your program, and the roles to be performed by each identified employee and expert.

(2) Program Administration and Fiscal Management. (7 Points)

(a) Program Administration. (4 Points) The soundness of the proposed management of your proposed RSDM program. To receive a high score, you must provide a comprehensive description of your project management structure. Your narrative must provide a description of how any co-applicants, sub-grantees, and other partner agencies relate to the program administrator as well as the lines of authority and accountability among all components of your proposed program.

(b) Fiscal Management. (3 Points) The soundness of your proposed fiscal management. To receive a high score you must provide a comprehensive description of the fiscal management structure, including, but not limited to, budgeting, fiscal controls, and accounting. The application must identify the staff responsible for fiscal management, and the processes and timetable for implementation during the proposed grant period.

(3) Applicant/Administrator Track Record. (6 Points) To receive a high score, you must demonstrate your (or your proposed Administrator's) program compliance and successful implementation of any resident self-sufficiency, security or independence oriented grants (including those listed below) awarded to you or overseen by your Administrator. If you or your Administrator has no prior experience in operating programs that foster resident self-sufficiency, security or independence you will receive a score of 0 on this factor. Your past experience may include, but is not limited to, administering the following grants: Family Investment Center Program; Youth Development Initiative under Family Investment Center Program; Youth Apprenticeship Program; Apprenticeship Demonstration in the Construction Trades Program; Urban Youth Corps Program; HOPE I Program; Public Housing Service Coordinator Program; Public Housing Drug Elimination Program; Tenant Opportunities Program; Economic Development and Supportive Services; and Youth Sports Program.

Rating Factor 2: Need/Extent of the Problem (20 Points)

This factor addresses the extent to which there is a need for funding your proposed program activities to address a documented problem in the target area. You will be evaluated on the extent to which they document a critical level of need in the development or your proposed activities in the area where activities will be carried out. In responding to this factor, you will be evaluated on:

(1) A Needs Assessment Document. (18 Points) HUD will award up to 18 points based on the quality and comprehensiveness of the needs assessment document.

(a) To obtain maximum points for Family RSDM applications, this document must contain statistical data which provides:

(i) A thorough socioeconomic profile of the eligible residents to be served by your program, in relationship to PHA-wide and national public and assisted housing data on residents who are on TANF, SSI benefits, or other fixed income arrangements; in job training, entrepreneurship, or community service programs; and employed;

(ii) Specific information on training, contracting, and employment through the PHA.

(iii) An assessment of the current service delivery system as it relates to the needs of the target population, including the number and type of services, the location of services, and community facilities currently in use;

(iv) A description of the goals, objectives, and program strategies that will result in the successful transition of residents from welfare-to-work.

(b) In order to obtain maximum points for Elderly and Persons with Disabilities RSDM applications, the needs assessment document should contain statistical data that provide:

(i) The numbers of residents needing assistance for activities of daily living.

(ii) An assessment of the current service delivery system as it relates to the needs of the target population, including the number and type of services, the location of services, and community facilities currently in use.

(iii) A description of the goals, objectives, and program strategies that will result in increased independence for proposed program participants.

(2) Level of Priority in Consolidated Plan. (2 Points) Documentation of the level of priority the locality's, or in the case of small cities, the State's, Consolidated Plan has placed on addressing the needs. You may also address needs in terms of fulfilling the requirements of court actions or other legal decisions or which expand upon the Analysis of Impediments to Fair Housing Choice (AI) to further fair housing. If you address needs that are in your community's Consolidated Plan, AI, or a court decision, or identify and substantiate needs in addition to those in the AI, you will receive a greater number of points than applicants who do not relate their proposed program to the approved Consolidated Plan or AI or court action. There must be a clear relationship between your proposed activities, community needs and the purpose of the program funding for you to receive points for this factor.

Rating Factor 3: Soundness of Approach (40 Points)

This factor addresses the quality and cost-effectiveness of your proposed work plan. In rating this factor HUD will consider: the viability and comprehensiveness of your strategies to address the needs of residents; budget appropriateness/efficient use of grant; the speed at which you can realistically accomplish the goals of the proposed RSDM program; the soundness of your plan to evaluate the success of your proposed RSDM program at completion and during program implementation; and resident and other partnerships; and policy priorities.

(1) Viability and comprehensiveness of the strategies to address the needs of residents (21 Points) The score under this subfactor will be based on the viability and comprehensiveness of your strategies to address the needs of residents.

(a) Services. (18 Points for Family RSDM applicants and 21 Points for Elderly and Persons with Disabilities RSDM applicants. More points are awarded in the Elderly and Persons with Disabilities RSDM applications to balance other sections of the rating criteria where points are not applicable to an Elderly and Persons with Disabilities RSDM applicant) The score under this subfactor will be based on the following:

(i) For Family RSDM applications, the extent to which your plan provides services that specifically address the successful transition from welfare to work of non-elderly families. To receive a high score, your plan must include case Management/counseling, job training/development/placement (and/or business training/development/startup), child care, and transportation services. If you are not proposing to use RSDM funding for these activities, you must show that you will provide these services with other funds or through specific commitments from partners.

(ii) In order to receive maximum points, the goals and objectives of your proposed plan must represent significant achievements related to welfare-to-work and other self-sufficiency/independence goals. Specifically for those residents affected by welfare reform, we are interested in achievements that are performance outcomes such as the number of residents employed or business started, in addition to, process descriptions, such as the number of residents receiving training.

(iii) For Elderly and/or Persons with Disabilities RSDM applications, services in your plan should include case management, health care, congregate services and transportation. To obtain maximum points, you must describe the goals, objectives, and program strategies that will result in increased independence for proposed program participants; your services must be located in a community facility; and must be available on a 12-hour basis or as needed by the eligible residents.

(b) Resident Contracting and Employment. (3 Points) The score in this factor will be based on the extent to which residents will achieve self-sufficiency through your contracts with resident-owned businesses and through resident employment. A high score will be awarded where there is documentation (a letter or resolution from your governing body) describing your commitment to hire or contract with at least 15% of residents and a narrative describing the number of resident jobs or contracts involved, as well as the training processes related to the comprehensive plan of your application. Elderly and Persons with Disabilities RSDM applications will not be scored on the criterion in this subcategory.

(2) Budget Appropriateness/Efficient Use of Grant. (5 Points) The score in this factor will be based on the following:

(a) Detailed Budget Break-Out. The extent to which your application includes a detailed budget break-out for each budget category in the SF-424A.

(b) Reasonable Administrative Costs. The extent to which your application includes administrative costs at or below the 20% administrative cost ceiling.

(c) Budget Efficiency. The extent to which your application requests funds commensurate with the level of effort necessary to accomplish your goals and anticipated results.

(3) Reasonableness of the Timetable. (2 Points for Family RSDM applicants and 4 Points for Elderly and Persons with Disabilities RSDM applicants. More points are awarded in Elderly and Persons with Disabilities RSDM applications in order to balance other sections of the rating criteria where points are not applicable to an Elderly and Persons with Disabilities RSDM applicant)

The score in this factor will be based on a reasonable response that you can accomplish the goals of your proposed RSDM program. To receive a high score, you must demonstrate that it will make substantial program implementation progress within the first six months after grant execution, including putting staff in place, finalizing partnership arrangements, completing the development of requests for proposals, and achieving other milestones that are prerequisites for implementation of the program. In addition, you must demonstrate that your proposed timetable for all components of the proposed program is feasible considering the size of your award and activities and results that can be accomplished within the 36-month time limit.

(4) Program Assessment. (3 Points for Family RSDM and Elderly and Persons with Disabilities RSDM) The score in this factor will be based on the soundness of your plan to evaluate the success of your proposed RSDM program both at the completion of your program and during program implementation. At a minimum, you must track the goals and objectives of your proposed work plan program, which must include, if applicable, a plan for monitoring your Contract Administrator's performance. Your application should track specific measurable achievements for the use of program funds, such as number of residents employed, salary scales of jobs obtained, persons removed from welfare roles 12 months or longer, number of elderly or persons with disabilities residents receiving supportive services, and number of persons receiving certificates for successful completion of training in careers such as computer technology.

(5) Resident and Other Partnerships (9 Points for Family RSDM applicants and 7 Points for Elderly and Persons with Disabilities RSDM applicants)

(a) Resident Involvement in RSDM Activities (3 Points for Family RSDM applicants and 4 Points for Elderly and Persons with Disabilities RSDM applicants. More points are awarded in Elderly and Persons with Disabilities RSDM applications in order to balance other sections of the rating criteria where points are not applicable to an Elderly and Persons with Disabilities RSDM applicant): The score in this factor will be based on the extent of resident involvement in developing your proposed RSDM program as well as the extent of proposed resident involvement in implementing your proposed RSDM program. To receive a high score on this factor, you must describe the involvement of residents in the planning phase for this program, and a commitment to provide continued involvement in grant implementation. For applicants to receive the maximum number of points, a work plan, must be included.

(b) Other Partnerships. (3 Points) The score in this factor will be based on the successful integration of partners into implementation of the proposed RSDM program. To receive a high score, you must provide a signed Memorandum of Understanding (MOU) or other equivalent signed documentation that delineates the roles and responsibilities of each of the parties in your program and the benefits they will receive. In assessing this subfactor, HUD will examine a number of aspects of the proposed partnership, including:

(i) The division of responsibilities/management structure of your proposed partnership relative to the expertise and resources of your partners;

(ii) The extent to which the partnership as a whole addresses the unmet resident needs; and

(iii) The extent to which the addition of the partners provides the ability to meet needs that the applicant could not meet without the partner(s).

(c) Overall Relationship/Coordination. (3 Points for Family RSDM only) For Family RSDM applicants, the score in this factor will be based on the extent of coordination between your proposed RSDM program and any existing or proposed programs within your jurisdiction. To receive a high score, you must contain an MOU that describes collaboration between the applicant and residents on all of the specific components related to the work plan of the proposed RSDM program. To receive points, at a minimum, you must have a narrative description of this collaboration. Elderly and Persons with Disabilities RSDM applications will not be scored on this criterion.

Rating Factor 4: Leveraging Resources (10 Points)

This factor addresses your ability to secure community resources (note: financing is a community resource) that can be combined with HUD's program resources to achieve program purposes. You must have at least a 25% cash or in-kind match to receive points under this rating factor. Leveraging in excess of the 25% of the grant amount will receive a higher point value. In evaluating this factor HUD will consider:

The extent to which you have partnered with other entities to secure additional resources to increase the effectiveness of your proposed program activities. The budget, the work plan, and commitments for additional resources and services, other than the grant, must show that these resources are firmly committed, will support the proposed grant activities and will, in combined amount (including in-kind contributions of personnel, space and/or equipment, and monetary contributions) equal at least 25% of the RSDM grant amount proposed in this application. “Firmly committed” means there must be a written agreement with the provider of resources, signed by an official legally able to make commitments on behalf of the organization. The signed, written agreement may be contingent upon you receiving a grant award. Other resources and services may include: the value of in-kind services, contributions or administrative costs provided to the applicant; funds from Federal sources (not including RSDM funds); funds from any State or local government sources; and funds from private contributions. You may also partner with other program funding recipients to coordinate the use of resources in your target area.

You must provide evidence of leveraging/partnerships by including in the application letters of firm commitments, Memoranda of Understanding, or agreements to participate from those entities identified as partners in the application. To be firmly committed there must be a written agreement with the provider of resources signed by an official legally able to make commitments on behalf of the organization. This agreement may be contingent upon you receiving a grant award. Each letter of commitment, Memorandum of Understanding, or agreement to participate should include the organization's name, proposed level of commitment and responsibilities as they relate to the proposed program.

Rating Factor 5: Comprehensiveness and Coordination (10 Points)

This factor addresses the extent to which your program reflects a coordinated, community-based process of identifying needs and building a system to address the needs by using available HUD funding resources and other resources available to the community.

In evaluating this factor HUD will consider the extent to which your application addresses:

(1) Coordination with the Consolidated Plan (2 Points for Family RSDM applicants and 6 points for Elderly and Persons with Disabilities RSDM applicants. More points are awarded for Elderly and Persons with Disabilities RSDM applications in order to balance other sections of the rating criteria where points are not applicable to an Elderly and Persons with Disabilities RSDM applicant.) Demonstrates the applicant has reviewed the community's Consolidated Plan and/or Analysis of Impediments to Fair Housing Choice, and has proposed activities that address the priorities, needs, goals or objectives in those documents; or substantially furthers fair housing choice in the community.

(2) For Family RSDM Applications, Coordination with the State and/or Local Welfare Plan (4 Points): Provides evidence that your proposed RSDM program has been coordinated with and supports the PHA's, efforts to increase resident self-sufficiency and is coordinated and consistent with the State, or local Welfare Plan.

(3) Coordination with Other Activities (4 Points) Demonstrates that in carrying out your program activities, you will develop linkages with: other HUD-funded program activities proposed or on-going in the community; or other State, Federal or locally funded activities proposed or on-going in the community which, taken as a whole, support and sustain a comprehensive system to address the needs.

(D) Application Selection Process for Service Coordinators

Applicants for Service Coordinators are required to address application submission requirements but are not required to address selection factors. Eligibility will be determined by applications that meet the threshold requirements of Section IV of this program section of the SuperNOFA.

VI. Application Submission Requirements

(A) All Applications. All applications for assistance under the ROSS competition for all funding categories must include the forms, certifications and assurances listed in Section IV of the General Section of the SuperNOFA (collectively referred to as the “standard forms”). These forms are:

SF-424, Application Federal Assistance;

HUD-424M, Federal Assistance Funding Matrix;

SF-424A, Federal Assistance Budget Information—Non Construction;

SF-424B, Assurances for Non-Construction Programs;

HUD Form 50070, Drug-Free Workplace Certification;

HUD Form 50071, Certification of Payments to Influence Federal Transactions, and if applicable SF-LLL, Disclosure of Lobbying Activities;

HUD Form 2880, Applicant/Recipient Disclosure/Update Report;

HUD Form 2992, Certification of Debarment and Suspension;

HUD Form 2993, Acknowledgment of Application Receipt.

The standard forms can be found in Appendix B to the General Section of the SuperNOFA. The remaining application items that are forms (i.e., excluding such items as narratives), referred to as the “non-standard forms” can be found as Appendix A to this program section of the SuperNOFA.

All applicants must include the following information regardless of the category under which they are applying for funds.

(1) ROSS Application Cover Sheet;

(2) ROSS Fact Sheet;

(3) ROSS Program Summary;

(4) Certification of Consistency and Compliance with threshold requirements of General Section of the SuperNOFA;

(5) You must provide assurance that you will comply under section 109 of the Housing and Community Development Act of 1974 and that you have resolved to the satisfaction of the Department before the application deadline any letter of noncompliance findings under section 109.

(6) Match Requirement. (a) You must supplement grant funds with an in-kind and/or cash match of not less than 25% of the grant amount. This match does not have to be a cash match. The match may include: the value of in-kind services, contributions or administrative costs provided to the applicant; funds from Federal sources (but not ROSS funds); funds from any State or local government sources; and funds from private contributions. Any services, such as child care or mentoring, conducted by elderly or persons with disabilities residents who are not TANF participants, will not be counted toward your match requirement. You may also satisfy the match requirement by establishing the in-kind value of computer and office equipment, software and space used for training in computer technology, education/employment and skills development for self sufficiency training programs such as Twenty/20 Education Communities (TEC Centers) or Neighborhood Networks Centers.

(b) You must demonstrate that the cash or in-kind resources and services, which you will use as match amounts (including resources from a Comprehensive Grant, other governmental units/agencies of any type, and/or private sources, whether for-profit or not-for-profit), are firmly committed and will support the proposed grant activities. “Firmly committed” means there must be a written agreement to provide the resources and services signed by an official legally able to make commitments on behalf of the organization and specifies the cash and/or in-kind assistance to be provided. If offering in-kind assistance, the letter should provide an estimated dollar value for the in-kind services. The written agreement may be contingent upon your receiving a grant award. The following are guidelines for valuing certain types of in-kind contributions:

(c) The value of volunteer time and services shall be computed at a rate of six dollars per hour except that the value of volunteer time and services involving professional and other special skills shall be computed on the basis of the usual and customary hourly rate paid for the service in the community where the activity is located; and

(d) The value of any donated material, equipment, building, or lease shall be computed based on the fair market value at time of donation. Such value shall be documented by bills of sales, advertised prices, appraisals, or other information for comparable property similarly situated not more than one-year old taken from the community where the item or activity is located, as appropriate. You may also satisfy the match requirement by establishing the in-kind value of computer and office equipment, software and space used for training in computer technology, education/employment and skills development for sufficiency training programs such as Twenty/20 Education Communities (TEC Centers) or Neighborhood Networks Centers.

(B) RMBD Applications. Applicants for Resident Management and Business Development grants are required to address application submission requirements, but are not required to address selection factors. A threshold review, and not application submission requirements, will be used for determining eligibility for first-come first serve funding.

All applications for funding under this funding category must contain the following documents and information (Please note that items 1-9 are threshold requirements used to determine awards for this category; items 10-13 will be used for grant administration):

(1) Your application must contain a written certification that at least 51 percent of the public housing residents to be included in the proposed program are currently eligible to receive, are currently receiving, or have received within the preceding four years, assistance or services funded under the TANF, SSI, or food stamp programs.

(2) Your application must contain a signed Memorandum of Understanding (MOU) between the RA and the PHA or the RO/RMC and the Tribe/TDHE which describes the specific roles, responsibilities and activities to be undertaken by all parties to the MOU. Your MOU, at a minimum must identify the principal parties (i.e. the name of the PHA or tribe/TDHE and RA or RO, the terms of agreement), expectations or terms for each party, and indicate that the agreement pertains to the support of your grant application. This document is the basis for the foundation of the relationship between the RA or RO and PHA or tribe/TDHE. The MOU must be precise and outline the specific duties and objectives to be accomplished under the grant. All MOUs must be finalized, dated and signed by duly authorized officials of both the RA or RO and PHA or tribe/TDHE upon submission of the application.

(3) Accessible Community Facility. You must provide written evidence (e.g. through an executed use agreement if the facility is to be provided by an entity other than the PHA or tribe/TDHE) that a majority of the proposed activities will be administered at community facilities within easy transportation access (i.e., walking or by direct (no transfers required), convenient, inexpensive and reliable transportation of the property represented by the PHA or tribe/TDHE. The written agreement must certify that community facilities meet the structural accessibility requirement of section 504 of the Rehabilitation Act of 1973 and the Americans With Disabilities Act of 1990.

(4) Your application must contain letter(s) of support indicating supplemental grant funds of not less than 25% of the grant amount. See Section VI(A)(5) of the program section of this SuperNOFA.

(5) For applicants other than Tribes/TDHEs, you must provide either a signed certification from HUD or an Independent Public Accountant that your financial management system and procurement procedures fully comply with 24 CFR part 84, or your application must contain a signed Contract Administrator Partnership Agreement that you will use the services of a Contract Administrator in administering your grant. Applicants that are troubled PHAs or tribes/TDHEs are required to provide written agreement that a Contract Administrator has been retained for the term of the grant. In cases where the Contract Administrator is the PHA or tribe/TDHE, the Contract Administration responsibilities can be incorporated into the MOU discussed above.

(6) Except for Tribes/TDHEs, if you are a RA/RC/RMC/CWRO you must include evidence that your organization is registered with the State as a nonprofit corporation at the time of application submission or has section 501(c) status with the United States Internal Revenue Service at the time of application. Evidence of State registration shall be a copy of the certificate of incorporation or certificate of good standing from the State Government (i.e. Secretary of State or Secretary of Corporations). Evidence of 501 (c) status shall be a copy of the IRS 501 (c) designation.

(7) Certification of Resident Council Board Elections. If you are a Resident Organization, you must submit certifications of the RA ROs board election as required by HUD, signed by the local PHA or tribe/TDHE and/or an independent third party monitor and notarized;

(8) List of RAs or ROs participating with the City-Wide Resident Organization (CWRO). You must list in your application, the name(s) of RAs or ROs that will receive services and you must submit letters of support from each RA or RO identified in your application;

(9) Physical Improvements. You must submit a description of the renovation or conversion to be conducted along with a budget and timetable for those activities. You must demonstrate a firm commitment of assistance from one or more sources ensuring that supportive services will be provided for not less that 2 years following the completion of renovation, conversion, or repair activities funded under this ROSS competition.

The following are application submission requirements and will not be used for determining eligibility for first-come first serve funding.

(10) Explanations for proposed grant activities must be provided by narrative statements or descriptions;

(11) Resident Management and Business Development grant applications must include a narrative description (two page limit) describing the activities that you will carry out with RMBD grant funds. Your description must include specific goals, objectives and program strategies that will result in successful transition of residents from welfare to work or other proposed grant activities;

(12) Your RMBD application must provide information about the RA or RO, including its history, staff qualifications, and its previous experience (two page limit). For proposed grant staffing, you must include a resume or summary of qualifications for all proposed grant staff:

Chart A—RMBD Program Staffing

Chart B—RMBD Applicant/Administrator Track Record

Chart C—Summary RMBD Budget line Items

(13) You must provide a summary of a proposed work plan to carry out proposed grant activities. This work plan must include tasks, budgeted amounts, and dates for all activities during the grant period.

Chart D—Budget Workplan Summary

(C) Applications for Capacity Building or Conflict Resolution. All applications for funding under this funding category must contain the following documents and information. Only threshold requirements, an not application submission requirements, will be used for determining eligibility for funding. (Please note that items 1-8 are threshold requirements for a threshold review that will be used to determine awards for this category; items 9-13 will not be used to select awardees):

(1) Written Agreement with Mediator. Only conflict Resolution applicants must develop a work plan with a professional mediator or “grass roots” mediation organization (mediation/partner) that outlines the roles and responsibilities of each party. The work plan must specify that the mediation/partner will train grantee staff and/or volunteers such that the grantee will be capable of providing mediation assistance independently by the end of the grant term.

(2) Mediation Experience/Referral Agreement. Only conflict Resolution applicants must provide evidence that their mediator/partner has at least one year of experience in providing mediation services and at least one year of mediation training. Include either one referral agreement with a judicial, law enforcement, or social service agency such as the court system or Welfare Department for mediation of public housing residents, or a narrative description of direct experience with public or assisted housing residents.

(3) Except for Tribes/TDHEs, applicant Nonprofit Status. You must provide evidence that your organization has registered with the State as a nonprofit corporation or has 501(c) nonprofit corporation status with the United States Internal Revenue Service at the time of application submission.

(4) Your application must contain letter(s) of support indicating supplemental grant funds of not less than 25% of the grant amount. See Section VI(A)(5) of this program section of the SuperNOFA.

(5) List of RAs or ROs Receiving Support. In CB and CR applications, you must list in your application the name of the RAs or ROs that will receive training, technical assistance and/or coordinated supportive services and you must submit letters of support from each entity identified in your application.

(6) For applicants other than Tribes/TDHEs, you must provide either a signed certification from HUD or an Independent Public Accountant that your financial management system and procurement procedures fully comply with 24 CFR part 84 or part 85, or your application must contain a signed Contract Administrator Partnership Agreement that you will use the services of a Contract Administrator in administering your grant. Applicants that are troubled PHAs are required to provide written agreement that a Contract Administrator has been retained for the term of the grant. In cases where the Contract Administrator is the PHA the Contract Administration responsibilities can be incorporated into the MOU discussed below.

(7) Your application must contain a signed Memorandum of Understanding (MOU) between the RA or RO and PHA or tribe/TDHE which describes the specific roles, responsibilities and activities to be undertaken by all parties to the MOU. Your MOU, at a minimum must identify the principal parties (i.e. the name of the PHA or tribe/TDHE and IRO/nonprofit, the terms of agreement), expectations or terms for each party, and indicate that the agreement pertains to the support of your grant application. This document is the basis for the foundation of the relationship between the IRO/nonprofit and PHA or tribe/TDHE. The MOU must be precise and outline the specific duties and objectives to be accomplished under the grant. All MOUs must be finalized, dated and signed by duly authorized officials of both the IRO/nonprofit and PHA or tribe/TDHE upon submission of the application.

(8) You must provide written evidence (e.g., through an executed space use agreement if the facility is to be provided by an entity other than the PHA or tribe/TDHE) that proposed CB/CR activities or training will take place. The community facilities must be within easy transportation access (i.e., walking or by direct (no transfers required), convenient, inexpensive and reliable transportation of the property represented by the PHA or tribe/TDHE. The written agreement must certify that community facilities meet the structural accessibility requirement of section 504 of the Rehabilitation Act of 1973 and the Americans With Disabilities Act of 1990.

The following are application submission requirements. Only threshold requirements, and not application submission requirements, will be used to determine eligibility for first-come first serve funding.

(9) Explanations for proposed grant activities must be provided by narrative statements or descriptions as well as the forms indicated below:

(10) Needs Assessment. For the CB and CR grant applications you must provide a narrative description of proposed activities that addresses the following information:

(i) A description of the geographic boundaries of the RAs, ROs or RMCs included in the application;

(ii) A description of the public housing community;

(iii) A detailed description of the issues or problems involved with each RA or RO to be served by the grant; and

(iv) The resources that are currently being devoted to the problem or issue under consideration.

(11) Proposed Program Activities. CB/CR grant applications must include a narrative description describing the activities that you will carry out with CB/CR grant funds. Your description must include specific goals, objectives and program strategies that will result in successful proposed grant activities;

(12) Experience and Staffing. Your CB/CR grant application must provide information about the your organization, including its history, staff qualifications, and its previous experience (two page limit). For proposed grant staffing, you must include a resume or summary of qualifications for all proposed grant staff:

Chart A—CB/CR Program Staffing

Chart B—CB/CR Applicant/Administrator Track Record

Chart C—Summary CB/CR Budget Line Items

(13) Budget and Cost Information. You must provide a summary of your proposed work plan to carry out your proposed grant activities. The work plan must include tasks/activities, budgeted amounts, and start and end dates for all activities during the grant period.

Chart D—Budget Workplan Summary

(D) Application Submission Requirements for Resident Service Delivery Models. All applications for funding under this funding category must contain the following documents and information (Please note that items 1-10 are threshold requirements for a threshold review will be used to determine scoring of rating and ranking factors for this category):

(1) Your application must contain a written certification that at least 51 percent of the public housing residents to be included in the proposed program are currently eligible to receive, are currently receiving, or have received within the preceding four years, assistance or services funded under the TANF, SSI, or food stamp programs.

(2) Elderly and/or Persons with Disabilities Housing Development Certification. A certification that at least 25% of the residents of the development(s) proposed for grant activities are elderly and/or non-elderly people with disabilities at the time of application.

(3) Accessible Community Facility. You must provide evidence (e.g., through an executed use agreement if the facility is to be provided by an entity other than the PHA or tribe/TDHE) that a majority of the proposed activities will be administered at community facilities within easy transportation access (i.e., walking or by direct (no transfers required), convenient, inexpensive and reliable transportation of the property represented by the PHA or tribe/TDHE. The written agreement must certify that the community facilities meet the structural accessibility requirements of section 504 of the Rehabilitation Act of 1973 and the Americans With Disabilities Act of 1990.

(4) Your application must contain letter(s) of support indicating supplemental grant funds of not less than 25% of the grant amount. See Section VI(A)(5) of this program section of the SuperNOFA.

(5) Physical Improvements. You must submit a description of the renovation or conversion to be conducted along with a budget and timetable for those activities. You must demonstrate a firm commitment of assistance from one or more sources ensuring that supportive services will be provided for not less that 2 years following the completion of renovation, conversion, or repair activities funded under this ROSS competition.

(6) Except for PHA's or tribes/TDHEs, you must provide either a signed certification from HUD or an Independent Public Accountant that your financial management system and procurement procedures fully comply with 24 CFR part 84 or 85, or your application must contain a signed Contract Administrator Partnership Agreement that you will use the services of a Contract Administrator in administering your grant. Applicants that are troubled PHAs are required to provide evidence that a Contract Administrator has been retained for the term of the grant. In cases where the Contract Administrator is the PHA the Contract Administration responsibilities can be incorporated into the MOU discussed below.

(7) Applicant Non-Profit Status. Except for PHAs or tribes/TDHEs, you must provide evidence that the applicant is registered with the State as a nonprofit corporation or has 501(c) status with the United States Internal Revenue Service at the time of application submission. Evidence of State registration shall be a copy of the certificate of incorporation or certificate of good standing from the State Government (i.e. Secretary of State or Secretary of Corporations). Evidence of 501(c) status shall be a copy of the IRS 501(c) designation.

(8) Certification of Resident Council Board Elections;

(9) List of RAs or ROs Receiving Support. In RSDM applications you must list in your application the name of the RAs or ROs that will receive training, technical assistance and/or coordinated supportive services and must submit letters of support from each entity identified in your application.

(10) Responses to Factors of Award may be narrative statements or descriptions and the forms indicated below:

Factor 1—Capacity of the Applicant and Relevant Organizational Experience;

Chart A—Program Staffing

Chart B—Applicant/Administrator Track Record

Factor 2—Need/Extent of the Problem;

Chart C—Summary Budget line Items

Chart D—Budget Workplan Summary

Factor 3—Soundness of Approach;

Factor 4—Leveraging Resources; and

Factor 5—Comprehensiveness and Coordination.

Certification of Consistency with the Consolidated Plan

Bonus Points

Certification of Consistency with the EZ/EC Strategic Plan

Certification of an Apprenticeship Program

(E) Application Submission Requirements for Service Coordinators for the Elderly and Persons with Disabilities. All applications for funding under this funding category must contain the following documents and information (Please note that items 1-4 are threshold requirements for a threshold review to be used to determine renewal funding for this category):

(1) Elderly Housing Development Certification. A certification that at least 25% of the residents of the development(s) proposed for grant activities are elderly and/or non-elderly people with disabilities at the time of application.;

(2) Accessible Community Facility. The application must provide evidence (e.g., through an executed use agreement or MOU if the facility is to be provided by an entity other than the PHA. The majority of the proposed activities will be administered at community facilities within easy transportation access, i.e., walking or by direct (no transfers required), convenient, inexpensive and reliable transportation, to the property represented by the PHA. Your executed use agreement or MOU must specifically state that the community facilities meet the structural accessibility requirements of section 504 of the Rehabilitation Act of 1973 and the Americans With Disabilities Act of 1990.

(3) Your application must contain letter(s) of support indicating supplemental grant funds of not less than 25% of the grant amount. See Section VI(A)(5) of this program section of the SuperNOFA.

(4) SC Request Letter Format;

The following are application submission requirements. Only threshold requirements, and not application submission requirements, will be used for determining eligibility for renewal funding.

(5) Evidence of comparable salaries in local area;

(6) Lead Agency letter format (if appropriate);

VII. Corrections to Deficient Applications

The General Section of the SuperNOFA provides the procedures for corrections to deficient applications.

VIII. Environmental Requirements

It is anticipated that most activities under this ROSS funding will be categorically excluded under 24 CFR 58.34(a)(3) or (a)(9), 58.35(b)(2) or (b) (4), 50.19(b)(3), (b)(9), (b)(12), or (b)(14). An applicant proposing any acquisition, including long-term leasing, disposition, or physical development activities is prohibited from rehabilitating, converting, leasing, repairing or constructing property, or committing or expending HUD or non-HUD funds for these types of program activities, until one of the following has occurred:

(1) If the grantee is not a PHA or tribes/TDHEs, HUD has completed an environmental review to the extent required by 24 CFR part 50, prior to grant award.

(2) If the grantee is a PHA or tribe/TDHE, HUD has approved the grantee's Request for Release of Funds (HUD Form 7015.15) following a Responsible Entity's completion of an environmental review under 24 CFR part 58, where required, or if HUD has determined in accordance with § 58.11 to perform the environmental review itself under part 50, HUD has completed the environmental review.

IX. Authority

Section 34 of the U.S. Housing Act of 1937 and 24 CFR 964.

Appendix A

The non-standard forms, which follow, are required for the ROSS application.

BILLING CODE 4210-32-P

FUNDING AVAILABILITY FOR THE RURAL HOUSING AND ECONOMIC DEVELOPMENT PROGRAM

Program Overview

Purpose of Program: The purpose of the Rural Housing and Economic Development (RHED) program is to build capacity at the State and local level for rural housing and economic development and to support innovative housing and economic development activities in rural areas. The funds made available under this program will be awarded competitively, through a selection process conducted by HUD in consultation with the United States Department of Agriculture (USDA).

Available Funds: Approximately $24 million in Fiscal Year (FY) 2001 funding. Adjustments to Funding. HUD reserves the right to utilize this year's funding to fund previous year's errors prior to rating and ranking this year's applications. HUD reserves the right to reallocate funds between categories to achieve the maximum allocation of funds in both categories.

Eligible Applicants: Local rural non-profit organizations, community development corporations, Indian tribes, State housing finance agencies, and State economic development or community development agencies.

Application Deadline: April 6, 2001.

Match: None.

Additional Information

If you are interested in applying for funding under this program, please review carefully the General Section of this SuperNOFA and application submission requirements. You should note that the total narrative response to all rating factors described under Section V(C) should not exceed 15 pages, and must be submitted on 8.5″ by 11″ paper using a 12 point size, with lines double spaced and printed only on one side. Please note that although submitting pages in excess of the page limit will not disqualify your application, HUD will not consider the information on any excess pages, which may result in a lower score or failure to meet a threshold. In addition, please review the following information:

I. Application Due Date, Further Information and Technical Assistance

Application Due Date: Completed applications (one original and two copies) must be submitted on or before 12:00 midnight, Eastern time, on April 6, 2001, to the HUD Headquarters address shown below.

See the General Section of this SuperNOFA for specific procedures governing the form of application submission (e.g. mailed applications, express mail, overnight delivery, or hand carried).

Address for Submitting Applications: Completed applications (one original and two copies) must be submitted to: Processing and Control Unit, Room 7255, Office of Community Planning and Development, Department of Housing and Urban Development, 451 Seventh Street, SW, Washington, DC 20410; ATTN: Office of Rural Housing and Economic Development. When submitting your application, please include your name, mailing address (including zip code), telephone number, and fax number (including area code).

For Application Kits. An application kit is not necessary for submitting an application in response to this announcement. This announcement contains all the information necessary for the submission of your application for the Rural Housing and Economic Development Program.

For Further Information and Technical Assistance. All information and materials required to submit an application for funding under the HUD Rural Housing and Economic Development program are included in the Appendix to this NOFA.

For information concerning the HUD Rural Housing and Economic Development program, contact Mr. Marty Horwath, Community Planning and Development Specialist, Office of Rural Housing and Economic Development (RHED), Office of Economic Development, Office of Community Planning and Development (CPD), Department of Housing and Urban Development, 451 7th Street, SW, Room 7136, Washington, DC 20410; telephone (202) 708-2035 (this is not a toll-free number). Persons with speech or hearing impairments may access this number via TTY by calling the toll-free Federal Information Relay Service at 1-800-877-8339.

Satellite Broadcast. HUD will hold an information broadcast via satellite for potential applicants to learn more about the program and preparation of an application. For more information about the date and time of this broadcast, you should consult the HUD web site at http://www.hud.gov.

Prior to the application deadline, HUD staff at the numbers above and local CPD field office Economic Development (ED) Specialists will be available to provide general guidance, but not guidance in actually preparing the application. Following selection, but prior to award, HUD staff will be available to assist in clarifying or confirming information that is a prerequisite to the offer of an award by HUD.

II. Amount Allocated

(A) Available Funds. Approximately $24 million in Fiscal Year (FY) 2001 funding is being made available through this program section of the SuperNOFA. The breakdown for this funding is discussed below.

(B) The FY 2001 HUD Appropriations Act. The Departments of Veterans Affairs and Housing and Urban Development, and Independent Agencies Appropriations Act, 2001 (Pub. L. 106-377 approved October 27, 2000 ) (the “FY 2001 HUD Appropriations Act”) made $25 million in FY 2001 funds available under the Rural Housing and Economic Development program.

(C) Funding Categories/ Maximum Award Amounts. HUD will award up to approximately $24 million on a competitive basis in the following funding categories.

(1) Capacity Building. HUD will award up to approximately $12 million to build capacity. This amount will go directly to local rural nonprofits, community development corporations (CDCs) and Indian tribes to support innovative housing and economic development activities to increase capacity. The maximum amount awarded to a successful applicant in this category will be $150,000. If you received a RHED grant in either FY 1999 or FY 2000 for capacity building, the maximum amount you can receive in this category will be $100,000.

(2) Support for Innovative Housing and Economic Development Activities. HUD will award up to approximately $12 million to Indian tribes, State Housing Finance Agencies (HFA)s, state community and/or economic development agencies, local rural non-profits and CDCs to support innovative housing and economic development activities in rural areas. The maximum amount awarded to a successful applicant in this category will be $400,000.

III. Program Description; Eligible Applicants; Eligible Activities

(A) Program Description. (1) Background. There is a great need for expanding the supply of housing in rural America, particularly affordable housing for low income families and individuals. There are a number of rural areas which have experienced rapid in-migration as a result of a growth in employment opportunities, but which have a shortage of affordable housing. In addition, because of out-migration from rural areas, and other factors causing economic dislocation, many rural areas suffer from severe economic distress. There has been a growing national recognition of the need to enhance the capacity of Indian tribes, local rural nonprofits, CDCs, and State community and economic development agencies to expand the supply of affordable housing and to engage in economic development activities in rural areas.

A number of resources are available from the Federal government to address these problems, including programs of the United States Department of Agriculture (USDA), the Economic Development Administration (EDA), the Appalachian Regional Commission (ARC), the Department of Interior (for Indian Tribes) and HUD. The Rural Housing and Economic Development program has been developed to supplement these resources and to focus specifically on capacity building and innovative approaches to housing and economic development in rural areas. In administering these funds, HUD will encourage coordination between all Federal agencies in support of the program objectives.

(2) Definitions. Appalachia's Distressed Counties means those counties in Appalachia that the Appalachian Regional Commission (ARC) has determined to have unemployment and poverty rates that are 150 percent of the respective U.S. rates and per capita income that is less than 67 percent of the U.S. per capita income, and counties with 200 percent of the U.S. poverty rate and one other indicator. Appendix B to this notice identifies the ARC's list of distressed counties.

Colonia means any identifiable community that:

(i) Is located in the State of Arizona, California, New Mexico, or Texas;

(ii) Is located in the U.S.-Mexico border region (that is, within 150 miles of the border between the U.S. and Mexico);

(iii) Meets objective criteria, including lack of potable water supply, lack of adequate sewage systems, and lack of decent, safe, sanitary, and accessible housing

Farmworker means a farm employee of an owner, tenant, labor contractor, or other operator raising or harvesting agricultural or aquacultural commodities; or a worker in the employment of a farm operator, handling, planting, drying, packing, grading, storing, delivering to storage or market, or carrying to market agricultural or aquacultural commodities produced by the operator. Seasonal farmworkers are those farm employees who typically do not have a constant year round salary. Migrant farmworkers are those farm employees whose work requires travel that prevents the employee from returning to his or her permanent place of residence within the same day.

A firm commitment means the agreement by which an applicant's partner agrees to perform an activity specified in the application and demonstrates the financial capacity to deliver the resources necessary to carry out the activity, and commits the resources to the activity either in cash or through in-kind contributions and is irrevocable, subject only to approval and receipt of a FY 2001 RHED grant. Each letter of commitment should include the organization's name, the applicant's name, the proposed program, the proposed total level of commitment and responsibilities as they relate to the proposed program. The commitment must also be signed by an official of the organization legally able to make commitments on behalf of the organization and dated not earlier than the date of publication of this NOFA. In documenting a firm commitment, the applicant's partner must:

(i) Specify the authority by which the commitment is made, the amount of the commitment and the use of funds. If the committed activity is to be self-financed, the applicant's partner must evidence its financial capability through a corporate or personal financial statement or other appropriate means. If any portion of it is to be financed through a lending institution, the participant must evidence the institution's commitment to fund the loan;

(ii) State the amount and use of the commitment, and the relationship of the commitment to the proposed investment; and

(iii) Affirm that the commitment is not contingent upon another program or other pending commitments, and state a willingness on the part of the signatory to sign a legally binding commitment (conditioned on HUD environmental review and approval of a property, where applicable) upon award of the grant.

Indian tribe means any entity eligible to apply for funding under the Indian Community Development Block Grant (ICDBG) program (see 24 CFR 1003.5(a)). The list of federally recognized Indian tribes can be found notice published by the Department of the Interior on March 13, 2000, at 65 FR 13299, and is also available from HUD.

Innovative housing activities means projects, techniques, methods, combinations of assistance, construction materials, and financing institutions or sources new to the eligible area, or its population. The innovative activities can also build upon and enhance a model that already exists.

Local rural non-profit or community development corporation means either:

(i) Any private entity with tax exempt status recognized by the Internal Revenue Service (IRS) which serves the eligible rural area involved in the application (including local affiliates of national organizations that provide technical and capacity building assistance in rural areas); or

(ii) Any public non-profit such as a Council of Governments that will serve specific local non-profit organizations in the eligible area.

Lower Mississippi Delta Region means the seven state, 219 county/parish region defined by Congress in the Lower Mississippi Delta Development Act, Pub.L. 100-460. Appendix C to this notice identifies the counties referenced in the Act.

Rural area may be defined in one of five ways:

(i) A place having fewer than 2,500 inhabitants (within or outside of metropolitan areas).

(ii) A county with no urban population of 20,000 inhabitants or more.

(iii) Territory, persons, and housing units in the rural portions of “extended cities.” The U.S. Census Bureau identifies the rural portions of extended cities in the United States.

(iv) Open country which is not part of or associated with an urban area. The United States Department of Agriculture (USDA) describes “open country”as a site separated by open space from any adjacent densely populated urban area. Open space includes undeveloped land, agricultural land, or sparsely settled areas, but does not include physical barriers (such as rivers and canals), public parks, commercial and industrial developments, small areas reserved for recreational purposes, and open space set aside for future development.

(v) Any place with a population not in excess of 20,000 and not located in a Metropolitan Statistical Area.

State economic development or community development agency means any state agency which has promotion of statewide or local community/economic development as its primary purpose.

State Housing Finance Agency means any state agency created to assist local communities and housing providers with financing assistance for development of housing in rural areas, particularly for low and moderate income people.

(3) Eligible applicants. Eligible applicants for each of the funding categories are as follows:

(a) For capacity building funding. If you are a local rural non-profit, CDC, or Indian tribe, you are eligible for capacity building funding to carry out innovative housing and economic development activities which may also enable an applicant to become self-sustaining in the future.

(b) For support for innovative housing and economic development activities funding. If you are a local rural non-profit, CDC, Indian tribe, State HFA, or State economic development or community development agency, you may apply for funding to support innovative housing and economic development activities in rural areas.

(4) Eligible activities. The following are examples of eligible activities under the Rural Housing and Economic Development program. These examples are illustrative and are not meant to limit the activities that you may propose in your application. Any activity that meets the objective of the Rural Housing and Economic Development program will be considered eligible.

(a) For capacity building funding. Capacity building for innovative rural housing and economic development involves the enhancement of existing organizations to carry out new functions and/or perform more effectively existing functions. For organizations, this could also include “up front” money for acquiring space and support facilities, as well as other types of administrative expenses. This should also focus on activities which enable the applicant to become self-sustaining in the future.

Activities in connection with strengthening existing organizations include hiring qualified staff, supporting and training existing staff, providing software and other tools to provide networking and research capability, and obtaining expertise from outside sources. They also include training to improve management capability, including development of accounting systems, Management Information Systems (MIS) support, apprenticeship programs and related activities. Eligible activities also include arranging for technical assistance to conduct need assessments, conduct asset inventories, and develop strategic plans. These activities also include the promotion of fair housing by training specific local organizations and residents in fair housing issues, and by helping them to file fair housing complaints with HUD, when warranted.

(b) For support of innovative housing and economic development activities. (i) This category is intended to support, but not be limited to, other costs for innovative housing and economic development activities. Eligible activities include preparation of plans, architectural and engineering drawings and reports, financial assistance for acquisition of land and buildings, demolition, provision of infrastructure, purchase of materials, construction costs, the use of local labor markets, and job training.

Additionally, eligible activities include homeownership counseling, application of innovative construction methods encouraging building design which reflects terrain, weather, and availability of indigenous materials. Besides meeting applicable civil rights requirements such as the Americans with Disabilities Act, section 504 of the Rehabilitation Act of 1973, and the Federal Fair Housing Act (42 U.S.C. 3601 et seq.), HUD also strongly recommends that all housing designs be made “accessible and visitable.” In addition, HUD encourages the use of universal design in designing and constructing units so that the housing can meet the needs of the largest number of individuals.

(ii) Other eligible activities include establishing Community Development Financial Institutions (CDFIs), lines of credit, revolving loan funds, microenterprises, small business incubators, provision of direct financial assistance to homeowners/businesses/developers, etc. This can be in the form of establishing default reserves, pooling/securitization mechanisms, loans, grants, etc. Grantees should demonstrate that their activities will continue to serve the populations that are in need and that beneficiaries will have a choice of innovative housing and economic development opportunities as a result of these activities.

IV. Program Requirements

(A) General. To be eligible for funding under this program section of this SuperNOFA, you must meet the requirements and procedures applicable to all programs set forth in Section II of the General Section of the SuperNOFA, and particularly the civil rights threshold requirements set forth in Section II(B) of the General Section. In addition to these general requirements, you must meet the following program specific requirements.

(B) Accounting System Requirements. RHED requires that successful applicants have in place an accounting system that meets the policies, guidance, and requirements as described in the following applicable OMB Circulars and Code of Federal Regulations:

(1) OMB Circular No. A-87 (Cost Principles Applicable to Grants, Contracts and Other Agreements with State and Local Governments);

(2) OMB Circular No. A-122 (Cost Principles for Nonprofit Organizations), OMB Circular No. A-133 (Audits of States, Local Governments, and Non-Profit Organizations);

(3) 24 CFR part 84 (Grants and Agreements with Institutions of Higher Education, Hospitals, and other Non-Profit Organizations); and

(4) 24 CFR part 85 (Administrative Requirements for Grants and Cooperative Agreements to State, Local, and Federally recognized Indian tribal governments).

These documents apply to the award, acceptance and use of assistance under the Rural Housing and Economic Development program NOFA, and to the remedies for noncompliance, except when inconsistent with the provisions of the FY 2001 HUD Appropriations Act, other Federal statutes or the provisions of this NOFA.

(C) Environmental Review. Selection for award does not constitute approval of any proposed sites. Following selection for award, HUD will perform an environmental review of activities proposed for assistance under this part, in accordance with 24 CFR part 50. The results of the environmental review may require that proposed activities be modified or that proposed sites be rejected. Applicants are particularly cautioned not to undertake or commit funds for acquisition or development of proposed properties (including establishing lines of credit that permit financing of such activities or making commitments for loans that would finance such activities from a revolving loan fund capitalized from funds under this NOFA) prior to HUD approval of specific properties or areas. Each application shall contain an assurance that you, the applicant, will assist HUD to comply with part 50; will supply HUD with all available, relevant information to perform an environmental review for each proposed property; will carry out mitigating measures required by HUD or select alternate property; and will not acquire, rehabilitate, convert, lease, repair or construct property, not commit or expend HUD or local funds for these program activities with respect to any eligible property, until HUD approval of the property is received. In supplying HUD with environmental information, grantees are to use the same guidance as provided in the HUD Handbook entitled “Field Environmental Review Processing for HUD Colonias Initiative (HCI) grants” issued January 27, 1998.

(D) Grant Period. Recipients will have 36 months from the date of funding to complete all project activities except the final evaluation and reporting, fulfillment and audit requirements and final project close-out.

(E) Lead-Based Paint Hazard Control. All property assisted under the Rural Housing and Economic Development program is covered by the Lead-Based Paint Poisoning Prevention Act (42 U.S.C. 4821-4846) and HUD's implementing regulations at 24 CFR part 35.

V. Application Selection Process

(A) Rating and Ranking. (1) General. To review and rate applications, HUD may establish panels including outside experts or consultants to obtain certain expertise and outside points of view, including views from other Federal agencies.

(2) Rating. All applicants for funding will be evaluated against the criteria below.

(3) Ranking. Applicants will be ranked separately within each of the two funding categories. Applicants will be selected for funding in accordance with their rank order in each category. If two or more applications are rated fundable and have the same score, but there are insufficient funds to fund all of them, the applications(s) with the highest score for Rating Factor 2 (Need and Extent of the Problem) shall be selected. If applications still have the same score, the highest score in the following factors will be selected sequentially until one highest score can be determined, Rating Factor 3 (Soundness of Approach), Rating Factor 1 (Capacity and Experience), Rating Factor 5 (Comprehensiveness and Coordination) and Rating Factor 4 (Leveraging of Resources). To be eligible for funding in the Innovative category, an application must have a minimum score of 25 points for the total combined number of points for Rating Factors 1 and 3. To be eligible for funding in the Capacity Building category, an application must have a minimum score of 20 points for Rating Factor 3.

(B) Initial screening. During the period immediately following the application deadline, HUD will screen each application to determine eligibility. Applications will be rejected if they:

(1) Are submitted by ineligible applicants (including applicants and subrecipients that do not meet the fair housing and civil rights threshold requirement described in Section II(B) of the General Section of the SuperNOFA);

(2) Do not serve an eligible rural area; or

(3) Propose a program for which significant activities are ineligible. Such activities may include, but are not limited to, use of RHED grant funds for income payments to subsidize individuals or families, political activities, or general governmental expenses other than expenses related to the administrative cost of the grant.

(C) Rating Factors for Award Used to Evaluate and Rate Applications. The factors for rating and ranking applicants, and maximum points for each factor, are provided below. The maximum number of points for this program is 102. This includes two EZ/EC bonus points, as described in the General Section of the SuperNOFA.

(D) Notification of Approval and Disapproval. HUD will notify you whether or not you have been selected for an award. If you are selected, HUD's notice to you of the amount of the grant award based on the approved application will constitute HUD's preliminary approval, subject to negotiation and execution of the grant agreement by HUD.

Rating Factor 1—Capacity of the Applicant and Relevant Organizational Experience (15 points)

This rating factor addresses the extent to which you have the organizational resources necessary to successfully implement your proposed work plan as further described in Rating Factor 3 in a timely manner within the 36 month award period.

Rating standards applicable to individual funding categories. The two funding categories have different objectives. Accordingly, in addition to the generally applicable rating standard discussed above, different standards will be used to judge the experience and qualifications of the applicants and any partners for each of the two funding categories. HUD fully supports emerging organizations who desire to develop internal capacity. Therefore, the following categories will be evaluated:

(1) For Capacity Building. (15 points) Team members, composition, experience, organizational structure and management capacity. HUD will evaluate the experience of your project director, core staff, any outside consultants, contractors, subrecipients, and members of coalitions to implement all of the work activities in your workplan as they relate to innovative housing and economic development activities. In evaluating your capacity to do the work, HUD will assess the recent and relevancy of the prior work experience of each of the parties listed above to execute the prescribed activities; the services the consultants or other parties will provide which fill gaps in your staffing structure to enable you to carry out the proposed workplan; the experience of your project director in managing projects of similar size, scope, and dollar amount; the lines of authority and procedures that you have in place for ensuring that consultants and workplan goals and objectives are being met and that beneficiaries are being adequately served. In judging your response to this factor, HUD will only consider work experience gained within the last 3 years. When responding, please be sure to provide the dates, job titles and relevancy of the past experience to work undertaken by the employee or contractor under your proposed RHED application. The more recent, relevant, and successful the experience is of your team members in relationship to the workplan activities, the greater the number of points that you will receive.

(2) For Support for Innovative Rural Housing and Economic Development Activities. (15 points)

(a) (5 points) Team members, composition, and experience. HUD will evaluate the experience of your project director, core staff, any outside consultants, contractors, subrecipients, and members of coalitions to implement all of the work activities in your workplan. In evaluating your capacity to do the work, HUD will assess the recent and relevancy of the prior work experience of each of the parties listed above, to execute the prescribed activities; the services the consultants or other parties will provide which fill gaps in your staffing structure to enable you to carry out the proposed workplan; the experience of your project director in managing projects of similar size, scope, and dollar amount; the lines of authority and procedures that you have in place for ensuring that consultants and workplan goals and objectives are being met and that beneficiaries are being adequately served. In judging your response to this factor, HUD will only consider work experience gained within the last 7 years. When responding, please be sure to provide the dates, job titles and relevancy of the past experience to work undertaken by the employee or contractor under your proposed RHED application. The more recent, relevant, and successful the experience is of your team members in relationship to the workplan activities, the greater the number of points that you will receive.

(b) (5 points) Organizational structure and management capacity. HUD will evaluate the extent to which you can demonstrate your ability to manage a workforce composed of full time and/or part-time staff as well as consultant staff and your ability to work with community-based groups or organizations in resolving issues related to affordable housing and economic development. In evaluating this sub-factor, HUD will take into account your experience in working with community-based organizations to design and implement programs which address the above housing and economic development issues. The more recent, relevant, and successful the experience is of your organization and any participating entities, the greater the number of points that you will receive.

(c) (5 points) Experience with performance based funding requirements. HUD will evaluate your experience in producing timely products and reports in any previous grant programs undertaken with HUD funds or other Federal, state, local or non-profit or for-profit organization funds. In assessing points for this sub-factor, HUD reserves the right to take into account your past performance in meeting performance and reporting goals on any previous HUD awards. Specific outcomes will be measured in terms of the number of living wage jobs created or retained, housing units rehabilitated or constructed and made available for low and moderate income persons, or other relevant objective performance measures related to your previous job experience and/or grant programs. Applicants that can demonstrate a closer and greater linkage between the expected outcomes and the previously generated outcomes will receive higher points for this sub-factor.

Rating Factor 2—Need and Extent of the Problem (40 points)

The Rural Housing and Economic Development program has been designed to address the problems of rural poverty, inadequate housing and lack of economic opportunity. This Factor addresses the extent to which there is need for funding the proposed activities based on levels of distress, and an indication of the urgency of meeting the need/distress in the applicant's target area. In responding to this Factor, applications will be evaluated on the extent to which the level of need for the proposed activity and the urgency in meeting the need are documented and compared, vis-à-vis, the target area, the county(ies) and national data.

(1) In applying this Factor, HUD will compare current levels of need for the following areas affected by the project: first, in the area (i.e. Census Tract(s) or Block Groups), immediately surrounding the project site or the target area to be served by the proposed project; second, in the county in which the project is to be located, and third, in the nation. This means that an application that provides data that show levels of need in the project area and the county, expressed as a percent greater than the national average, will be rated higher under this Factor. Notwithstanding the above, an applicant proposing a project to be located outside the target area could still receive points under the Need Factor if a clear rationale and linkage is provided linking the proposed project location and the benefits to be derived by persons living in more distressed area(s) of the applicant's target area.

(2) Applicants should provide data that address indicators of need as follows:

(a) Poverty Rate (15 points)—data should be provided in both absolute and percentage form (i.e., whole numbers and percents) for both the target area(s) and the county; an application that compares the local poverty rate in the following manner to the national average at the time of submission will receive points under this section as follows:

(i) Equal to but less than twice the national average = 5 points;

(ii) Twice but less than three times the national average = 10 points;

(iii) Three or more times the national average = 15 points.

(b) Unemployment (10 points)—for both the target area and county:

(i) Equal to but less than twice the national average = 2 points;

(ii) Twice but less than three times the national average = 4 points;

(iii) Three but less than four times the national average = 6 points;

(iv) Four but less than five times the national average = 8 points;

(v) Five or more times the national average = 10 points.

(c) Other indicators of social and/or economic decline that best capture the applicant's local situation (5 points)—examples that could be provided under this section are information on the community's stagnant or falling tax base, including recent commercial or industrial closings, housing conditions, such as the number and percentage of substandard and/or overcrowded units, rent burden (defined as average housing cost divided by average income) for both the target area and county, local crime statistics, etc. To the extent that the applicant's Consolidated Plan, its Analysis of Impediments to Fair Housing choice (AI), and/or its Anti-Poverty Strategy identify the level of distress in the community and the neighborhood in which the project is to be carried out, references to such documents should be included in preparing the response to this Factor.

(3) In rating applications under this Factor, HUD reserves the right to consider sources of available objective data other than, or in addition to, those provided by applicants, and to compare such data to those provided by applicants and local crime statistics for both the project site and the county, etc.

(a) HUD requires use of sound and reliable data (e.g., U.S. Census data, State statistical reports, university studies/reports that are verifiable) to support distress levels cited in each application. A source for all information along with the publication or origination date must also be provided.

(b) Updated Census data are available as follows for the listed indicators:

(i) Unemployment rate—estimated monthly for counties, with a two-month lag;

(ii) Population—estimated for incorporated places and counties, through 1999;

(c) Poverty rate—estimated every two years, with a three-year lag, with 1997 data being the most recent available.

(d) Demographics of Distress—Special Factors (10 points). Because of the concern of HUD with meeting the needs of certain underserved areas, you will be awarded a total of ten points if you are located in or propose to serve one or more of the following populations, your application demonstrates that 100 percent of the beneficiaries as supported by RHED funds are one or more of the following populations, and you specifically identify how they will be served, provided that the proposed service area meets the definition of “eligible rural area” as described in Section III(A)(2) of this NOFA:

(i) Areas with very small populations in non-urban areas (2,500 population or less);

(ii) Migrant and seasonal farmworkers;

(iii) Indian Tribes;

(iv) Colonias;

(v) Appalachia's Distressed Counties; or

(vi) the Lower Mississippi Delta Region (7 States and 219 counties/parishes). For these underserved areas, you should ensure that the populations that you serve and the documentation that you provide is consistent with the information described in the above paragraphs under this rating factor.

Rating Factor 3—Soundness of Approach (30 points)

This factor addresses the overall quality of your proposed workplan, taking into account the project and the activities proposed to be undertaken; the cost-effectiveness of your proposed program; and the linkages between identified needs, the purposes of this program and your proposed activities and tasks. In addition, this factor addresses your ability to ensure that a clear linkage exists between innovative rural housing and economic development. In assessing cost-effectiveness, HUD will take into account staffing levels, beneficiaries to be served, a timetable for delivery of products and reports and anticipated products. HUD is also interested in applicants becoming self-sustaining so that activities can continue in the future without relying on further assistance from the Department. You will receive a greater number of points if your workplan is consistent with the purpose of the RHED program, your program goals and the resources provided.

(a) (10 points) Management Plan. A clearly defined management plan which identifies each of the projects and activities you will carry out to further the objectives of this program; describes the linkage between rural housing and economic development activities; and addresses the needs identified in Factor 2, including needs that had been previously identified in a statewide or local Analysis of Impediments to Fair Housing Choice (AI) or Consolidated Plan. The populations which were described in demographics that documented need should be the same populations which will receive the primary benefit of the activities, both immediately and in the long run. You should address the timetable with measurable goals and objectives for carrying out these activities; the method you will use for evaluating and monitoring program progress on the activities and ensuring that the activities will be completed on time and within your proposed budget estimates. Applicants that have a clearly defined management plan and which can produce results in less than 36 months will receive higher rating points for this sub-factor. Your management plan should include the budget breakout for each line item. You are required to provide documented projected cost estimates from outside sources. Applicants should submit their workplan on a spreadsheet showing each project, activities under the project, and tasks (to the extent necessary or appropriate) in your workplan with your associated budget estimate per activity/task. Your workplan should provide the rationale for your proposed activities and any assumptions used in determining your project timeline and budget estimates. Failure to provide your rationale may result in an application receiving zero points for lack of clarity in the proposed management plan. Applicants that propose as part of their workplan activities that address and support HUD's policy priority areas for using technology advances in the construction or design of homes produced with these funds, incorporates accessibility, visitability and universal design principles in the design, construction, or rehabilitation of home produced with these funds; or creates and uses apprenticeship programs to create long term career path opportunities for community residents, will receive higher rating points under this sub-factor.

(b) (10 points) Expected Outcomes. HUD will be assessing outcomes resulting from your proposed workplan for the likelihood it will result in measurable and achievable outcomes that will alleviate or address the needs described in Rating Factor 2. You must include in this sub-factor a qualitative or quantitative description of estimated outcomes in order to receive points for this sub-factor. Outcomes may be described in terms of the estimated number of new units constructed or units rehabilitated; jobs retained or created with accompanying living wages; loans financed; individuals trained, counseled or assisted; and/or number of persons on welfare or under-employed trained in a career path or apprenticeship program. The exact nature of the expected outcomes will vary according to your proposed workplan. Applicants that can demonstrate clearly identified outcomes and the means for ensuring that outcomes will be tracked and are likely to be achieved will receive a greater number of points. Applicants that propose activities to increase their capacity to carry out innovative rural housing and economic development activities should include among their projected outcomes performance measures for maintaining the financial health and integrity of the organization. Your proposed workplan and budget should demonstrate a decreasing amount of RHED program funds over the life of your program as a percentage of the total operating budget and should include alternate sources of funding for producing desired outcomes. Applicants that demonstrate a reduced dependence on RHED funding over the life of their award will receive a greater number of rating points for this sub-factor.

(c) (10 points) Self-monitoring and Program Evaluation. Your workplan will be evaluated to ensure that you have a mechanism for monitoring and self-assessing your progress in meeting program goals and objectives, ensuring that the integrity of the use of funds is in accordance with OMB Cost Principles and record-keeping requirements and the approved program budget. Therefore, your workplan should describe and identify the specific steps that you will take to carry out a self-monitoring function that meets these requirements. Applicants that clearly define roles and responsibilities and steps to be taken to meet this requirement will receive a greater number of rating points in the evaluation.

Rating Factor 4—Leveraging Resources (10 points)

This factor addresses the extent to which applicants for any of the two funding categories have obtained firm commitments of financial or in-kind resources from other Federal, State, local, and private sources in an amount of at least fifty percent (50%) of the total project budget. For every RHED dollar anticipated, you should provide the specific amount of dollars leveraged. In assigning points for this criterion, HUD will consider the level of outside resources obtained for cash or in-kind services that support activities proposed in your application. Fewer points will be awarded depending on the extent of the percentage of leveraging in comparison with the total project budget. This criterion is applicable to both funding categories under this NOFA. The level of outside resources for which commitments are obtained will be evaluated based on their importance to the total program. You must provide evidence of leveraging by including in the application letters of firm commitment to participate from any entity, including your own organization, that will be providing matching funds to the project. Each commitment described in the narrative of this factor must be in accordance with the definition of “firm commitment” as defined in Section III(A)(2) of this NOFA.

Rating Factor 5—Comprehensiveness and Coordination (5 points)

This factor addresses the extent to which your proposed program is coordinated with other ongoing and related activities in the area you propose to serve as well as your future strategy for continuing this activity. The purpose of this factor is to ensure that whenever possible, activities are not operated in isolation, but rather are linked with related activities and organizations to improve the overall effectiveness of all efforts being undertaken as part of your total effort. In evaluating this factor, HUD will consider the extent to which you have coordinated your activities with other known organizations, have participated or promoted participation in the state or relevant jurisdiction's Consolidated Planning process and/or a statewide or local Analysis of Impediments to Fair Housing Choice, and have addressed your described need in a holistic and comprehensive manner through linkages with other activities in the area or approved plans and programs funded by other local organizations, state or local governments, national non-profits or foundations. The more comprehensive and relevant your activities are coordinated with other ongoing and related innovative rural housing and economic development activities in your service area, the more points you will receive.

(a) (3 points) Describe the coordination of your proposed plan of activities or future strategies for this proposed project with other groups or organizations in order to best complement and mutually support others' ongoing efforts or programs.

(b) (2 points) Identify specific actions that have been taken or will be taken to coordinate comprehensive solutions through meetings, outreach efforts, information networks, planning processes and other mechanisms with:

(i) Other HUD funded projects/activities; and

(ii) Other Federal, State or locally funded activities, including those proposed or ongoing in the area.

EZ/EC Bonus Points (2 points)

HUD will award two bonus points to all applications that include documentation stating that the proposed eligible activities/projects will be located in and serve Federally designated Rural Empowerment Zones or Enterprise Communities (Rural EZs/ECs). A listing of Federally designated Rural EZs and ECs is available on the Internet at http://www.ezec.gov.

VI. Application Submission Requirements

(A) Form of Application. You must submit a separate and distinct application for each funding category for which you are applying under this NOFA. All pages of the application shall be numbered sequentially. Your application must include an original and two copies of the items listed below.

(B) Application Items. Your application must contain the items listed in this section. These items include the standard forms, certifications, and assurances listed in Section II(G) of the General Section of the SuperNOFA that are applicable to this funding (collectively, referred to as the “standard forms”). The remaining application items are forms (i.e., excluding such items as narratives), referred to as the “nonstandard” forms, that can be found in the Appendices to this program section of the SuperNOFA. The items are as follows:

(1) A transmittal letter;

(2) A table of contents;

(3) A signed SF-424 (application form);

(4) A budget for all funds (Federal and Non-Federal) and a breakdown of all Federal funds requested, in the format provided in the Appendix to this NOFA;

(5) Documentation of funds pledged in support of Rating Factor 4—“Leveraging Resources” (which will not be counted in the 15 page limitation);

(6) The required certifications (signed, as appropriate, and attached as an Appendix);

(7) Acknowledgment of the Application Receipt form (submitted with application and returned to you as verification of timely receipt).

(8) If you are a private nonprofit organization, a copy of your organization's IRS ruling providing tax-exempt status under section 501 of the IRS Code of 1986, as amended.

(9) The attached forms specifying:

(a) Which category of funds, as described in Section II(C), you are applying for. You must submit a separate and distinct application in each category for which you applied;

(b) Which of the five definitions of the term “rural area” set forth in Section III(A)(2) of this NOFA applies to the proposed service area and accompanying documentation as indicated on the form; and

(c) Which special populations, as set forth in Rating Factor 2(d), you intend to serve.

(10) The Environmental Review Assurance.

(11) Narrative Response to Factors for Award.

(a) You must describe your organization and the assignment of responsibilities for the work to be carried out under the grant (Rating Factor 1).

(b) You must describe the need and extent of the problem (Rating Factor 2).

(i) If you propose to create a new organization or institution under the capacity building funding category, you must provide evidence documenting that no existing organization or institution exists which serves the need identified in the area.

(c) You must submit a workplan which describes your soundness of approach and the clear linkage between rural housing and economic development (Rating Factor 3). In addressing this submission requirement, you must:

(i) Describe the activities you propose to undertake to address the needs which have been identified, the linkage between rural housing and economic development, and describe the specific outcomes you expect to achieve.

(ii) Include a management plan which identifies the specific actions you will take to complete the proposed activities on time and a budget in the format provided which explains the uses of both Federal and non-Federal funds and the period of performance under the grant and your ability to be self-sustaining, should you not be funded by HUD in future RHED competitions.

(iii) Include a discussion of the process by which the work accomplished with the grant will be evaluated to determine if the objectives of the grant were met. Be specific regarding the qualifications of the evaluator and the process to be used.

(d) You must identify the resources which will be leveraged by the amount of this grant's funding that you are requesting and explain their importance to the program (Rating Factor 4). To receive the maximum number of points under Rating Factor 4 you must provide evidence of firm commitments. The commitment can be contingent upon HUD site approval following environmental review.

(e) You must describe the extent to which your program reflects a coordinated, community based process of identifying needs and building a system to address these needs (Rating Factor 5).

The total narrative response to all factors should not exceed 15 pages and must be submitted on 8.5″ by 11″ paper, using a 12 point size, with lines double spaced and printed only on one side. Please note that although submitting pages in excess of the page limit will not disqualify your application, HUD will not consider or review the information on any excess pages, which may result in a lower score or failure to meet a threshold.

VII. Corrections to Deficient Applications

The General Section of the SuperNOFA provides the procedures for corrections to deficient applications.

VIII. Environmental Requirements

Applications under this program NOFA are subject to the National Environmental Policy Act of 1969 and applicable related Federal environmental authorities. (See 24 CFR part 50, as applicable). An environmental review will be completed by HUD before the award of any grant under this program.

IX. Authority

The Departments of Veterans Affairs and Housing and Urban Development, and Independent Agencies Appropriations Act, 2001 Pub. L. 106-377, approved October 27, 2000).

Appendix A

The non-standard forms, which follow are required for your RHED application.

BILLING CODE 4210-32-P

FUNDING AVAILABILITY FOR CONTINUUM OF CARE HOMELESS ASSISTANCE PROGRAMS—SUPPORTIVE HOUSING PROGRAM (SHP), SHELTER PLUS CARE (S+C), SECTION 8 MODERATE REHABILITATION SINGLE ROOM OCCUPANCY PROGRAM FOR HOMELESS INDIVIDUALS (SRO)

Program Overview

Purpose of the Programs. The purpose of the Continuum of Care Homeless Assistance Programs is to fund projects that will fill gaps in locally developed Continuum of Care systems to assist homeless persons to move to self-sufficiency and permanent housing.

Available Funds. Approximately $850 million.

Eligible Applicants. The chart in the Appendix A to this program section of this SuperNOFA identifies the eligible applicants for each of the three programs under the Continuum of Care.

Application Deadline. May 31, 2001.

Match. Yes.

Additional Information

If you are interested in applying for funding under any of the Continuum of Care Homeless Assistance programs, please review carefully the General Section of the SuperNOFA and the following additional information.

I. Application Due Date, Application Kits, Further Information, and Technical Assistance

Application Due Date. Your completed application (an original containing the signed documentation and two copies) is due on or before 12:00 midnight, Eastern time, on May 31, 2001 to the addresses shown below.

See the General Section of this SuperNOFA for specific procedures that you must follow for the form of application submissions (e.g., mailed applications, express mail, overnight delivery, or hand carried).

Addresses for Submitting Applications. To HUD Headquarters. Submit your original completed application (the application with the original signed documentation) to: Room 7270, Office of Community Planning and Development, Department of Housing and Urban Development, 451 Seventh Street, SW, Washington, DC 20410, Attention: Continuum of Care Programs.

To the Appropriate CPD Field Office. Also submit two copies of your completed application to the Community Planning and Development Division of the appropriate HUD Field Office for your jurisdiction. The HUD Field Office must receive the two copies of your application by the deadline date as well. The determination, however, that your application was received on time will be made solely on receipt of the application at HUD Headquarters in Washington. Reviews will be based upon the contents of the application submitted to HUD Headquarters.

For Application Kits. For an application kit, please call the SuperNOFA Information Center at 1-800-HUD-8929 (voice) or 1-800-HUD-2209 (TTY), or you may download an application by Internet at http://www.HUD.gov.

For Further Information. You may contact the HUD Field Office serving your area, at the telephone number shown in Appendix A to the General Section of the SuperNOFA, or you may contact the Community Connections Information Center at 1-800-998-9999 (voice) or 1-800-HUD-2209 (TTY) or by Internet at: http://www.comcon.org/ccprog.html.

For Technical Assistance. Before the application deadline, HUD staff will be available to provide you with general guidance. HUD staff, however, cannot provide you with guidance in actually preparing your application. HUD Field Office staff also will be available to help you identify organizations in your community that are involved in developing the Continuum of Care system. Following conditional selection of applications, HUD staff will be available to assist selected applicants in clarifying or confirming information that is a prerequisite to the offer of a grant agreement or Annual Contributions Contract by HUD. However, between the application deadline and the announcement of conditional selections, HUD will accept no information that would improve the substantive quality of your application pertinent to HUD's funding decision.

Satellite Broadcast. HUD will hold an information broadcast via satellite for potential applicants to learn more about the program and preparation of the application. For more information about the date and time of the broadcast, you should consult the HUD web site at http://www.hud.gov.

II. Amount Allocated

Approximately $850 million is available for this competition in FY 2001. Any unobligated funds from previous competitions or additional funds that may become available as a result of deobligations or recaptures from previous awards or budget transfers may be used in addition to 2001 appropriations to fund applications submitted in response to this program section of this SuperNOFA. The funds available for the Continuum of Care program can be used under any of three programs that can assist in creating community systems for combating homelessness. The three programs are:

(1) Supportive Housing;

(2) Shelter Plus Care; and

(3) Section 8 Moderate Rehabilitation for Single Room Occupancy Dwellings for Homeless Individuals.

The chart in the Appendix A to this program section of this SuperNOFA summarizes key aspects of the programs, and also provides the citations for the statutes and regulations that authorize these programs. The regulations listed in the chart provide more detailed descriptions of each of the programs.

As in previous funding availability announcements for the Continuum of Care Homeless Assistance Programs, HUD will not specify amounts for each of the three programs this year. Instead, the distribution of funds among the three programs will depend largely on locally determined priorities and overall demand. Local priorities notwithstanding, due to Congressional action, not less than 30 percent of this year's total Homeless Assistance Grants appropriation of $1.025 billion must be used for permanent housing projects. (See Sections V(A)(4)(b) and V(A)(7) of this program section of the SuperNOFA for additional information.) Since this permanent housing set-aside requirement is expected to continue to be part of future competitions and may affect project funding selections as described below, you are strongly encouraged to begin planning as soon as possible for new permanent housing projects to be included as part of your submission in this and future competitions.

In addition, Congress has established a fund separate from the 2001 Homeless Assistance Grants appropriation for the purpose of renewing for one year eligible Shelter Plus Care Program grants whose five-year terms are expiring in FY2002 and Shelter Plus Care Program grants that have been extended beyond their original five-year terms but which are projected to run out of funds in FY 2002. For Shelter Plus Care Program renewal grants expiring or, if having had its grant term extended, running out of funds, during the period October 1 through December 31, 2002 (the first quarter of FY 2003), it is anticipated that the FY 2002 HUD appropriation will again establish a separate fund to renew them non-competitively. However, if such a separate fund is not established or is insufficient, then some or all of these renewal grant requests will be included in and subject to all rules pertaining to this competition. In order to meet the expressed Congressional intent not to divorce these Shelter Plus Care renewals from the accountability requirements that are needed to preserve the financial integrity of the projects, and to ensure that these projects continue to meet the needs of the homeless, all Shelter Plus Care renewals must be submitted as part of a community's Continuum of Care submission. However, these S+C renewal projects will not count against your continuum's pro rata need amount. On the other hand, no S+C renewal adjustment will be made to a Continuum of Care's pro rata need amount since these projects are being funded outside of the competition. Please be advised that Shelter Plus Care renewal applications which are not submitted as part of either a “consolidated” or “associated” Continuum of Care application will not be considered as eligible for funding. (See Section VI for a description of the three options for submitting applications.)

Should Congress pass and the President sign legislation prior to this year's grant announcement permitting eligible SHP permanent housing component renewals selected for funding in the 2001 competition to be funded non-competitively, HUD reserves the right to exercise this authority. Should this authority be exercised, HUD will skip over the SHP permanent housing renewals in choosing projects from Continuum of Care priority lists for funding in this year's competition. These non-competitively funded SHP permanent housing renewals will not count against your continuum's pro rata need amount, thus increasing the funds available for other projects. You should plan for this eventuality when developing your Continuum of Care priority list. SHP permanent housing renewal applications which are not submitted as part of either a “consolidated” or “associated” Continuum of Care application will not be considered as eligible for non-competitive funding under this authority, should it be exercised.

III. Program Description; Eligible Applicants; Eligible Activities

(A) Program Description. (1) Developing Continuum of Care Systems. The purpose of the Continuum of Care Homeless Assistance Programs is to fund projects that will fill gaps in locally developed Continuum of Care systems to assist homeless persons to move to self-sufficiency and permanent housing. The process of developing a Continuum of Care system to assist homeless persons is part of the community's larger effort of developing a Consolidated Plan. For a community to successfully address its often complex and interrelated problems, including homelessness, the community must marshall its varied resources—community and economic development resources, social service resources, housing and homeless assistance resources—and use them in a coordinated and effective manner. The Consolidated Plan, including the Analysis of Impediments to Fair Housing Choice, serves as the vehicle for a community to comprehensively identify each of its needs and to coordinate a plan of action for addressing them.

A Continuum of Care system consists of four basic components:

(a) A system of outreach and assessment for determining the needs and conditions of an individual or family who is homeless;

(b) Emergency shelters with appropriate supportive services to help ensure that homeless individuals and families receive adequate emergency shelter and referral to necessary service providers or housing finders;

(c) Transitional housing with appropriate supportive services to help those homeless individuals and families who are not prepared to make the transition to permanent housing and independent living; and

(d) Permanent housing, or permanent supportive housing, to help meet the long-term needs of homeless individuals and families.

A Continuum of Care system is developed through a community-wide or region-wide process involving nonprofit organizations (including those representing persons with disabilities), government agencies, other homeless providers, housing developers and service providers, private businesses and foundations, and homeless or formerly homeless persons. A Continuum of Care system should address the specific needs of each homeless subpopulation: The jobless, veterans, persons with serious mental illnesses, persons with substance abuse issues, persons with HIV/AIDS, persons with multiple diagnoses, victims of domestic violence, youth, and any others. The term “multiple diagnoses” may include diagnoses of multiple physical disabilities or multiple mental disabilities or a combination of these two types.

As an applicant, the community process you use in developing a Continuum of Care system should include interested veteran service organizations. To ensure that the Continuum of Care system addresses the needs of homeless veterans, it is particularly important that you involve veteran service organizations with specific experience in serving homeless veterans. In addition, given the large number of youths aging out of the Foster Care system each year who will be homeless, you should seek to include persons knowledgeable on this issue in the planning process.

Your application is more likely to be given a high score under the Continuum of Care scoring factors if the application demonstrates the achievement of three basic goals:

• That you have provided maximum participation by non-profit providers of housing and services; homeless and formerly homeless persons; state and local governments and agencies; veteran service organizations; organizations representing persons with disabilities; the private sector; housing developers; foundations and other community organizations.

• That you have created, maintained and built upon a community-wide inventory of housing and services for homeless families and individuals; identified the full spectrum of needs of homeless families and individuals; and coordinated efforts to fill gaps between the current inventory and existing needs. This coordinated effort must appropriately address all aspects of the continuum, especially permanent housing.

• That you have instituted a Continuum of Care-wide strategy to coordinate homeless assistance with mainstream health, social services and employment programs for which homeless individuals and families may be eligible. These mainstream programs include Medicaid, Children's Health Insurance Program, Temporary Assistance for Needy Families, Food Stamps, and services funding through the Mental Health Block Grant and Substance Abuse Block Grant, Workforce Investment Act and the Welfare-to-Work grant program.

Should HUD determine, in its sole discretion, that sufficient evidence exists to confirm that the entity responsible for convening and managing the Continuum of Care process in a community has failed to follow locally established or accepted procedures governing the conduct of that process or has failed to provide for a fair process, including a project priority selection process that gives equal consideration to projects proposed by non profit organizations, HUD reserves the authority to impose sanctions up to and including a prohibition on that entity and the individuals comprising that entity from participating in that capacity in the future. In making this determination, HUD will consider as evidence court proceedings and decisions, or the determinations of other independent and impartial review bodies. This authority cannot be exercised until after a description of procedural safeguards, including an opportunity for comment and appeal, and the specific process and procedures for imposing a prohibition or debarment, have been published in the Federal Register.

In deciding the geographic area you will cover in your Continuum of Care strategy, you should be aware that the single most important factor in being awarded funding under this competition will be the strength of your Continuum of Care strategy when measured against the Continuum of Care rating factors described in this SuperNOFA. When you determine what jurisdictions to include in your Continuum of Care strategy area, include only those jurisdictions that are involved in the development and implementation of the Continuum of Care strategy.

The more jurisdictions you include in the Continuum of Care strategy area, the larger the pro rata need share that will be allocated to the strategy area (as described in Section V(A)(4) of this program section of the SuperNOFA). However, it would be a mistake to include jurisdictions that are not fully involved in the development and implementation of the Continuum of Care strategy since this would adversely affect the Continuum of Care score. If you are a rural county, you may wish to consider working with larger groups of contiguous counties to develop a region-wide or multi-county Continuum of Care strategy covering the combined service areas of these counties.

Since the basic concept of a Continuum of Care strategy is to create a single, coordinated, inclusive homeless assistance system for an area, the areas covered by Continuum of Care strategies should not overlap. If your Continuum of Care strategy geographically overlaps to the extent that it essentially competes with another, projects in the application/Continuum of Care that receives the highest score out of the possible 60 points for Continuum of Care will be eligible for up to 40 points under Need. Projects in the competing applications/Continuum of Care with the less effective Continuum of Care strategy will be eligible for only 10 points under Need. In no case will the same geographical area be used more than one time in assigning Need points. The local HUD Field Office can help you determine if any of the areas proposed for inclusion by your Continuum of Care system is also likely to be claimed under another Continuum of Care system in this competition.

(2) Prioritizing. In HUD's view, project priority decisions are best made through a local process, which includes nonprofit organizations, and are key to the ultimate goal of reducing homelessness. Again this year, you must list all projects proposed for funding in priority order from the highest priority to the lowest. Generally, this priority order will mean, for example, that if HUD has funds available only to award 8 of 10 proposed projects, then it will award funding to the first eight eligible projects listed, except as may be necessary to achieve the 30 percent overall permanent housing requirement—in which case higher priority non-permanent housing projects may be skipped over to fund lower priority permanent housing projects. Please be advised that since you are now able to closely calculate your Continuum of Care's total pro rata need amount using information provided to you from HUD, and now that you no longer need to carry the large cost burden imposed by Shelter Plus Care five-year renewals, the tiering of projects (splitting into two or more projects by year or by units) on your priority list is no longer permitted.

To promote permanent housing, a special incentive is being provided to Continuum of Care systems that place an eligible, new permanent housing project in the number one priority slot on the priority list. See Section V(A)(4)(b) of this program section of the SuperNOFA for a description of this incentive.

HUD will use this priority list to award up to 40 points per project under the “Need” scoring factors. Higher priority projects will receive more points under Need than lower priority projects. A project priority chart is included in the application kit and you should complete and submit it. If you do not submit clear project priority designations for the continuum, or if HUD, at its sole discretion, cannot determine priority designations, then HUD will give all projects the lowest score for Need.

Project renewals. If your Supportive Housing or Shelter Plus Care grant will be expiring in calendar year 2002, or if your Shelter Plus Care Program grant has been extended beyond its original five-year term and is projected to run out of funds in FY 2002, you must apply under this Continuum of Care program section of the SuperNOFA to get continued funding.

Your local needs analysis process must consider the need to continue funding for projects expiring in calendar year 2002, and you must assign a priority to those SHP projects requesting competitive renewal. HUD will not fund competitive renewals out of order on the priority list except as may be necessary to achieve the 30 percent overall permanent housing requirement. HUD reserves the authority to use FY 2002 funds, if available, to conditionally select for one year of funding lower-rated eligible SHP renewal projects that are assigned 40 need points in continuum of care systems that would not otherwise receive funding for these projects.

Regardless of the priority assigned to expiring projects, you should fully consider how persons currently being served by those projects will continue to be served, and address this issue in your gaps analysis. To the extent your community desires to have SHP projects renewed, you should give them the top priorities on the priority projects listing in the application. It is also important that they and Shelter Plus Care non-competitive renewals meet minimum project eligibility and capacity standards identified in this program section of the SuperNOFA or they will be rejected from consideration for either competitive or non-competitive funding.

For the renewal of a Supportive Housing Program project, you may request funding for one (1), two (2) or three (3) years. For the renewal of a Shelter Plus Care project, the grant term will be one (1) year as specified by Congress. For S+C renewals, you may request up to the amount determined by multiplying the number of units under lease at the time of your application for renewal funding by the applicable current Fair Market Rent(s) by 12 months, except that for Shelter Plus Care grants having been awarded one-year of renewal funding in 2000, the number of units requested for renewal this year may not exceed the number of units funded in 2000. While full funding of existing grants may be requested, there is no guarantee that the entire amount will be awarded. As is the case with SHP, HUD will recapture Shelter Plus Care grant funds remaining unspent at the end of the previous grant period when it renews a grant. The one-year term of non-competitively awarded Shelter Plus Care renewal projects may not be extended.

This program section of the SuperNOFA is not applicable to the renewal of funding under the SRO program. For further guidance on SRO renewals, please contact your local HUD Field Office.

As a project applicant, you are eligible to apply for renewal of a grant only if you have executed a grant agreement for the project directly with HUD. If you are a project sponsor or subrecipient who has not signed such an agreement, you are not eligible to apply for renewal of these projects. HUD will reject applications for renewal submitted by ineligible applicants. If you have questions about your eligibility to apply for project renewal, contact the local HUD field office. To be considered an applicant when applying as part of a “consolidated” application, you must submit an originally signed HUD Form SF-424 and the necessary certifications and assurances. (See Section VI for a description of the three options for submitting an application.) Only public housing authorities and private nonprofits are eligible applicants for the Section 8 Moderate Rehabilitation for Single Room Occupancy program. If you are a unit of general local government acting as an applicant for a consolidated application and plan to include a request for Section 8 SRO funds, you must have a public housing authority or nonprofit listed as the Section 8 SRO applicant and they must submit a signed HUD Form SF-424, along with all necessary certifications and assurances applicable to the Section 8 SRO project.

(B) Eligible Applicants. See Appendix A.

(C) Eligible Activities. See Appendix A.

IV. Program Requirements

(A) Statutory and Regulatory Requirements. If your project is selected for funding as a result of the competition, you will be required to coordinate and integrate your homeless program with other mainstream health, social services, and employment programs for which homeless populations may be eligible, including Medicaid, Children's Health Insurance Program, Temporary Assistance for Needy Families, Food Stamps, and services funding through the Mental Health Block Grant and Substance Abuse Block Grant, Workforce Investment Act and the Welfare-to-Work grant program. In addition, as a condition for award, any governmental entity serving as an applicant must agree to develop and implement, to the maximum extent practicable and where appropriate, policies and protocols for the discharge of persons from publicly funded institutions or systems of care (such as health care facilities, foster care or other youth facilities, or correction programs and institutions) in order to prevent such discharge from immediately resulting in homelessness for such persons. This condition for award is intended to emphasize that States and units of general local government are primarily responsible for the care of these individuals, and to forestall attempts to use scarce McKinney-Vento Act funds to assist such persons in lieu of State and local resources. Program specific requirements follow:

(1) SRO Program. As an applicant, you need know that the following limitations apply to the Section 8 SRO program:

• Under section 8(e)(2) of the United States Housing Act of 1937, no single project may contain more than 100 assisted units;

• Under 24 CFR 882.802, applicants that are private nonprofit organizations must subcontract with a Public Housing Authority to administer the SRO assistance;

• Under section 8(e)(2) of the United States Housing Act of 1937 and 24 CFR 882.802, rehabilitation must involve a minimum expenditure of $3,000 for a unit, including its prorated share of work to be accomplished on common areas or systems, to upgrade conditions to comply with the Housing Quality Standards.

• Under section 441(e) of the McKinney-Vento Act and 24 CFR 882.805(d)(1), HUD publishes the SRO per unit rehabilitation cost limit each year to take into account changes in construction costs. This cost limitation applies to rehabilitation that is compensated for in a Housing Assistance Payments Contract. For purposes of Fiscal Year 2001 funding, the cost limitation is raised from $17,850 to $18,200 per unit to take into account increases in construction costs during the past 12-month period.

• The SRO Program is subject to the Federal labor standards provisions at 24 CFR Part 882, subpart H.

• Individuals assisted through the SRO Program must meet the definition of homeless individual found at Section 103 of the McKinney-Vento Act.

(2) Shelter Plus Care/SRO Component. With regard to the SRO component of the Shelter Plus Care program, if you are a State or a unit of general local government, you must subcontract with a Public Housing Authority to administer the Shelter Plus Care assistance. Also with regard to this component, no single project may contain more than 100 units.

(3) Supportive Housing Program. Please be advised that where an applicant for Supportive Housing Program funding is a State or unit of general local government that utilizes one or more nonprofit organizations to administer the homeless assistance project(s), administrative funds provided as part of the SHP grant must be passed on to the nonprofit organization(s) in proportion to the administrative burden borne by them for the SHP project(s). HUD will consider States or units of general local government that pass on at least 50 percent of the administrative funds made available under the grant as having met this requirement which was contained in the congressional committees' report accompanying the FY 2001 HUD Appropriations Act. This requirement does not apply to either the SRO Program, since no administrative funds are provided as part of the grant, or to the S+C Program, since paying the costs associated with the administration of these grants is ineligible by regulation.

(B) Match. You must match Supportive Housing Program funds provided for acquisition, rehabilitation, and new construction with an equal amount of funds from other sources; for operating costs, since by law SHP can pay no more than 75% of the total operating budget for supportive housing, you must provide at least 25% of the annual operating costs. In addition, you must provide a 25% match of all SHP funding for supportive services. The cash source may be you, the Federal Government, State and local governments, or private resources. You must match rental assistance provided through the Shelter Plus Care Program in the aggregate with supportive services.

(C) Linking Housing and Supportive Services. Many of the clients who will be served by the HUD programs covered by this Continuum of Care NOFA may need services in addition to housing. It is important that potential grantees design programs which enhance access to those needed services. While HUD recognizes that there are many ways to ensure that clients receive the services they need, to the extent possible, the Department encourages providers to develop housing programs which do not require participation in services as a part of their occupancy requirements while ensuring that, in the case of Shelter Plus Care, the supportive service match requirement is met.

(D) Timeliness Standards. As an applicant, you are expected to initiate your approved projects promptly. HUD may take action if you fail to satisfy the following timeliness standards:

(1) Supportive Housing Program

• HUD will deobligate SHP funds if you have not demonstrated site control within one (1) year after you were initially notified of the grant award, as provided in 24 CFR 583.320(a), subject to the exceptions noted in that regulation.

• Except where HUD finds that delay was due to factors beyond your control, HUD may deobligate SHP funds if you do not meet the following additional timeliness standards:

—You must begin construction activities within eighteen (18) months after initial notification of your grant award and complete them within thirty-six (36) months after that notification.

—For activities that cannot begin until construction activities are completed, such as supportive service or operating activities that will be conducted within the building being rehabilitated or newly constructed, you must begin these activities within three (3) months after you complete construction.

—You must begin all activities that may proceed independent of construction activities within twelve (12) months after initial notification of your grant award.

(2) Shelter Plus Care Program Components Except SRO Component. Except where HUD finds that delay was due to factors beyond your control, HUD will deobligate S+C funds if you do not meet the following timeliness standards:

• For Tenant-based Rental Assistance, for Sponsor-based Rental Assistance, and for Project-based Rental Assistance without rehabilitation, you must start the rental assistance within twelve (12) months of the initial announcement of the grant award.

• For Project-based Rental Assistance with rehabilitation, you must complete the rehabilitation within twelve (12) months of initial notification of your grant award.

(3) SRO Program and SRO Component of the Shelter Plus Care Program.

For projects carried out under the SRO program and the SRO component of the S+C program, the rehabilitation work must be completed and the Housing Assistance Payments contract executed within twelve (12) months of execution of the Annual Contributions Contract. HUD may reduce the number of units or the amount of the annual contribution commitment if, in HUD's determination, the Public Housing Authority fails to demonstrate a good faith effort to adhere to this schedule.

V. Application Selection Process

(A) Review, Rating and Conditional Selection. HUD will use the same review, rating, and conditional selection process for all three programs (S+C, SRO, and SHP). The standard factors for award identified in the General Section of this SuperNOFA have been modified in this program section as described below. Only the factors described in this program section—Continuum of Care and Need—will be used to assign points. To review and rate applications, HUD may establish panels. In order to obtain certain expertise and outside points of view, including views from other Federal agencies, these panels may include persons not currently employed by HUD. Two types of reviews will be conducted. Paragraphs (1) and (2) below describe threshold reviews and paragraphs (3) and (4) describe factors—Continuum of Care and Need—that will be used to assign points. Up to 104 points (including bonus points and points for the court-ordered consideration described in Section III(C)(1) and (2) of the General Section of the SuperNOFA) will be assigned using these factors.

(1) Applicant and sponsor eligibility and capacity. HUD will review your capacity as the applicant and project sponsor to ensure the eligibility and capacity standards in this section are met. If HUD determines these standards are not met, the project will be rejected from the competition. The eligibility and capacity standards are:

• You must be eligible to apply for the specific program;

• You must demonstrate ability to carry out the project(s). With respect to each proposed project, this means that in addition to knowledge of and experience with homelessness in general, the organization carrying out the project, its employees, or its partners, must have the necessary experience and knowledge to carry out the specific activities proposed, such as housing development, housing management, and service delivery;

• If you or the project sponsors are current or past recipients of assistance under a HUD McKinney-Vento Act program, there must have been no delay in implementing projects exceeding applicable program timeliness standards that HUD determines is within your or the project sponsor's control, unresolved HUD finding, or outstanding audit finding of a material nature regarding the administration of the program; and

• You and the project sponsors must be in compliance with applicable civil rights laws and Executive Orders, and must meet the threshold requirements of Section II(B) of the General Section of the SuperNOFA.

(2) Project eligibility and quality. HUD will review projects to determine if they meet the following eligibility and quality standards. If HUD determines the following standards are not met by a specific project or activity, the project or activity will be rejected from the competition.

• The population to be served must meet the eligibility requirements of the specific program, as described in this program section;

• At least one of the activities for which assistance is requested must be eligible under the specific program, as described in the program regulations;

• The housing and services proposed must be appropriate to the needs of the persons to be served. HUD may find a project to be inappropriate if:

—The type and scale of the housing or services clearly does not fit the needs of the proposed participants;

—Participant safety in the proposed housing is not ensured;

—The housing or services are clearly designed to principally meet emergency needs rather than helping participants achieve self-sufficiency;

—Transportation and community amenities are not available and accessible; or

—Housing accessibility for persons with disabilities is not provided as required by applicable laws;

An SHP or S+C project renewal will be considered as having met this requirement through its previously approved grant application.

• The project must be cost-effective in HUD's opinion, including costs associated with construction, operations, and administration, with such costs not deviating substantially from the norm in that locale for the type of structure or kind of activity;

• Supportive services only projects, and all others, must show how participants will be helped to access permanent housing and achieve self-sufficiency. An SHP or S+C project renewal will be considered as having met this requirement through its previously approved grant application;

• For the Section 8 SRO program, at least 25 percent of the units to be assisted at any one site must be vacant at the time of application. Tenants returning after having vacated their units during the rehabilitation period are not eligible to receive rental assistance under the SRO Program since they do not meet the McKinney-Vento Act definition of homeless individual; and

• For those projects proposed under the SHP innovative category: Whether or not a project is considered innovative will be determined on the basis that the particular approach proposed is new within its geographic area, and can be replicated.

(3) Continuum of Care. HUD will award up to 60 points as follows:

(a) Process and Strategy. HUD will award up to 30 points based on the extent to which your application demonstrates:

• The existence of a coordinated and inclusive community process, including organizational structure(s), for developing and implementing a Continuum of Care strategy which includes nonprofit organizations (such as veterans service organizations, organizations representing persons with disabilities, and other groups serving homeless persons), State and local governmental agencies, other homeless providers, housing developers and service providers, private foundations, local businesses and the banking community, and homeless or formerly homeless persons; and

• That a well-defined and comprehensive strategy has been developed which addresses the components of a Continuum of Care system (i.e., outreach, intake, and assessment; emergency shelter; transitional housing; permanent and permanent supportive housing) and that strategy has been designed to serve all homeless subpopulations in the community (e.g., seriously mentally ill, persons with multiple diagnoses, veterans, persons with HIV/AIDS), including those persons living in emergency shelters, supportive housing for homeless persons, or in places not designed for, or ordinarily used as, a regular sleeping accommodation for human beings.

(b) Gaps and Priorities. HUD will award up to 20 points based on the extent to which your application:

• Describes the gap analysis performed, uses reliable information and sources that are presented completely and accurately, and establishes the relative priority of homeless needs identified in the Continuum of Care strategy; and

• Proposes projects that are consistent with the priority analysis described in the Continuum of Care strategy, describes a fair project selection process, explains how gaps identified through the analysis are being addressed, and correctly completes the priority chart.

When HUD reviews a community's Continuum of Care to determine the points to assign, HUD will consider whether the community took its renewal needs into account in preparing its project priority list. (See discussion on renewals in Section III(A)(2) of this NOFA.)

(c) Supplemental Resources. HUD will award up to 10 points based on the extent to which your application incorporates mainstream resources and demonstrates leveraging of funds requested under this program section of the SuperNOFA with other resources, including private, other public, and mainstream services and housing programs. To achieve the highest rating for this factor, applicants must evidence explicit Continuum of Care-wide strategies to coordinate homeless assistance with mainstream health, social services and employment programs for which homeless populations may be eligible. These include Medicaid, Children's Health Insurance Program, Temporary Assistance for Needy Families, Food Stamps, and services funding through the Mental Health Block Grant and Substance Abuse Block Grant, Workforce Investment Act and the Welfare-to-Work grant program.

(d) EZ/EC bonus points. As provided for in Section III(C)(1) of the General Section of this SuperNOFA, HUD will add a bonus of up to 2 points to the Continuum of Care score when: (1) At least one proposed homeless assistance project will be located within the boundaries and/or will principally serve the residents of a federal Empowerment Zone, Enterprise Community, Enhanced Enterprise Community, or Strategic Planning Communities (collectively “EZ/EC”); and (2) if priority placement will be given by the project(s) to homeless persons living on the streets or in shelters within the EZ/EC, or whose last known address was within the EZ/EC. In addition, and in order for a Continuum of Care system to receive any of the bonus points, the applicant must specifically state how it meets the requirements for the two EZ/EC bonus points, and provide a narrative describing the extent of the linkages and coordination between proposed projects and the EZ/EC. Examples of such coordination include having common board or committee membership (EZ/EC and Continuum of Care), and having EZ/EC resources directed toward Continuum of Care activities. The greater the extent of EZ/EC involvement in and coordination with the implementation strategy for the Continuum of Care system and projects, the greater the likelihood that bonus points will be awarded.

(e) Court-ordered consideration. Section III(C)(2) of the General Section is applicable to this program.

(4) Need. HUD will award up to 40 points for need. There is a three-step approach to determining the need scores to be awarded to projects:

(a) Determining relative need: To determine the homeless assistance need of a particular jurisdiction, HUD will use nationally available data, including the following factors as used in the Emergency Shelter Grants program: data on poverty, housing overcrowding, population, age of housing, and growth lag. Applying those factors to a particular jurisdiction provides an estimate of the relative need index for that jurisdiction compared to other jurisdictions applying for assistance under this program section of the SuperNOFA.

(b) Applying relative need: HUD will then apply that relative need index to the total amount of funding estimated to be available under this program section of the SuperNOFA to determine a jurisdiction's pro rata need. However, in order to promote permanent housing for the homeless, if a Continuum of Care's number one priority project qualifies as an eligible, new permanent housing project, then the full amount of that project's eligible activities, up to $500,000 will be added to the final pro rata need amount for the Continuum. HUD also reserves the right to adjust pro rata need, if necessary, to address SHP project renewals and any Shelter Plus Care renewal projects funded under competitive rules.

(c) Awarding need points to projects: Once the pro rata need is established, it is applied against the priority project list in the application. Starting from the highest priority project, HUD proceeds down the list to award need points to each project. An eligible project will receive the full 40 points for need if at least one half of its requested amount falls within the pro rata need amount for that Continuum of Care (COC). Thereafter, HUD proceeds further down the priority project list and awards 15 points for need to each project if at least one half of its requested amount falls within the “second tier” of pro rata need amount for that Continuum of Care. The “second tier” is the amount between the pro rata need and twice the pro rata need for the COC. Remaining projects each receive 10 points. If projects are not prioritized for the Continuum, then all projects will receive 10 points for Need.

In the case of competing applications from a single jurisdiction or service area, projects in the application that received the highest score out of the possible 60 points for Continuum of Care are eligible for up to 40 points under Need. Projects in the competing applications with lower Continuum of Care scores are eligible for only 10 points under Need.

(5) Ranking. HUD will add the score for Continuum of Care to the Need score and EZ/EC bonus points, if any, to obtain a total score for each project. The projects will then be ranked from highest to lowest according to the total combined score.

(6) Conditional Selection and Adjustments to Funding.

(a) Conditional Selection. Whether a project is conditionally selected, as described in Section V(B) below, will depend on its overall ranking compared to others, except that HUD reserves the right to select lower rated eligible projects in order to meet the 30 percent overall permanent housing requirement. (See V(A)(7) for additional selection information.)

When insufficient funds remain to fund all projects in the competition having the same total score, HUD will first fund permanent housing projects if necessary to achieve the 30 percent overall permanent housing requirement. HUD will then break ties among the remaining projects with the same total score by comparing scores received by the projects for each of the following scoring factors, in the order shown: Need, Overall Continuum of Care (COC) score, COC Process and Strategy, COC Gaps and Priorities, and COC Supplemental Resources. The final tie-breaking factor is the priority number of the competing projects on the applicable COC priority list(s).

(b) Adjustments to Funding. The Secretary of HUD has determined that geographic diversity is appropriate to carrying out homeless assistance programs in an effective manner. HUD believes that geographic diversity can be achieved best by awarding grants to as many COCs as possible. To this end, in instances where any of the 50 States, the District of Columbia, the Commonwealth of Puerto Rico, Guam, the Northern Mariana Islands, the Virgin Islands, and American Samoa does not have at least one funded COC, HUD reserves the right to fund eligible project(s) receiving 40 Need points in the COC with the highest total score in that jurisdiction. To qualify for funding, the total score for these first tier projects on the COC priority list must be at least 70 points. In the case of two or more COCs with the same total score, HUD will use the tie-breaking rules described above. In addition, if the highest priority project passing threshold requirements within a COC fails to meet the criteria for receiving 40 Need points, HUD reserves the right to reduce the total requested amount for that project to allow it to qualify for 40 Need points. HUD may otherwise adjust funding of applications in accordance with the provisions of Section III(E) of the General Section of the SuperNOFA. In addition, HUD reserves the right to ensure that a project that is applying for, and eligible for, selection under this competition is not awarded funds that duplicate activities.

(7) Additional selection considerations. HUD also will apply the limitations on funding described below in making conditional selections.

In accordance with the appropriation for homeless assistance grants in the Fiscal Year 2001 Appropriation Act for HUD (Pub.L. 106-377, approved October 27, 2000; 114 Stat. 1441), HUD will use not less than 30 percent of the total FY 2001 Homeless Assistance Grants appropriation to fund projects that meet the definition of permanent housing. Projects meeting the definition of permanent housing for this purpose are: (1) New Shelter Plus Care projects, (2) Section 8 SRO projects, and (3) new and renewal projects designated as permanent housing for homeless persons with disabilities under the Supportive Housing Program, that, in addition, have been assigned at least 15 Need points, and which are submitted as part of either a “consolidated” or “associated” Continuum of Care application receiving at least 20 points under the Continuum of Care scoring factor. However, no Continuum of Care application may receive more than 20 percent of its pro rata need, up to $3 million, for “second-tier” permanent housing projects assigned 15 Need points that are selected for funding under this procedure. (See Section V(A)(4)(c) for definition of “second-tier”.) Since the FY 2001 Homeless Assistance Grants appropriation is $1.025 billion, not less than $307.5 million, plus carry over from the FY 2000 competition, must be awarded to permanent housing projects unless an insufficient number of approvable permanent housing projects is submitted. This permanent housing funding requirement may result in higher scoring non-permanent housing projects being skipped over to fund lower scoring permanent housing projects or, within a continuum, higher priority non-permanent housing projects being skipped over to fund lower priority permanent housing projects. HUD will first skip over new non-permanent housing projects when making project selections in order to meet the 30 percent requirement. If the 30 percent requirement has not been met after skipping over the new non-permanent housing projects, then HUD will skip over non-permanent housing renewal projects. In skipping over new non-permanent housing projects, HUD will begin with the lowest rated, eligible new non-permanent project at the funding line and continue up the ranking until the 30 percent requirement is met. If HUD is required to skip over non-permanent housing renewal projects, HUD will proceed in the same way.

In accordance with section 429 of the McKinney-Vento Act, HUD will award Supportive Housing funds as follows: not less than 25 percent for projects that primarily serve homeless families with children; not less than 25 percent for projects that primarily serve homeless persons with disabilities; and not less than 10 percent for supportive services not provided in conjunction with supportive housing. After projects are rated and ranked, based on the factors described above, HUD will determine if the conditionally selected projects achieve these minimum percentages. If not, HUD will skip higher-ranked projects in order to achieve these minimum percentages.

In accordance with section 463(a) of the McKinney-Vento Act, as amended by the Housing and Community Development Act of 1992, at least 10 percent of Shelter Plus Care funds will be awarded for each of the four components of the program: Tenant-based Rental Assistance; Sponsor-based Rental Assistance; Project-based Rental Assistance; and Section 8 Moderate Rehabilitation of Single Room Occupancy Dwellings for Homeless Individuals (provided there are sufficient numbers of approvable projects to achieve these percentages). After projects are rated and ranked, based on the factors described above, HUD will determine if the conditionally selected projects achieve these minimum percentages. If necessary, HUD will skip higher-ranked projects in order to achieve these minimum percentages.

In accordance with section 455(b) of the McKinney-Vento Act, no more than 10 percent of the assistance made available for Shelter Plus Care in any fiscal year may be used for programs located within any one unit of general local government. In accordance with section 441(c) of the McKinney-Vento Act, no city or urban county may have Section 8 SRO projects receiving a total of more than 10 percent of the assistance made available under this program. HUD is defining the 10 percent availability this fiscal year as $10 million for Shelter Plus Care and $10 million for Section 8 SRO. However, if the amount awarded under either of these two programs exceeds $100 million, then the amount awarded to any one unit of general local government (for purposes of the Shelter Plus Care program) or city or urban county (for the purposes of the SRO program) could be up to 10 percent of the actual total amount awarded for that program.

Lastly, HUD reserves the right to reduce the amount of a grant if necessary to ensure that no more than 10 percent of assistance made available under this program section of the SuperNOFA will be awarded for projects located within any one unit of general local government or within the geographic area covered by any one Continuum of Care. If HUD exercises a right it has reserved under this program section of the SuperNOFA, that right will be exercised uniformly across all applications received in response to this program section of the SuperNOFA.

(B) Action on Conditionally Selected Applications. HUD will notify conditionally selected applicants in writing. As necessary, HUD will subsequently request them to submit additional project information, which may include documentation to show the project is financially feasible; documentation of firm commitments for cash match; documentation showing site control; information necessary for HUD to perform an environmental review, where applicable; and such other documentation as specified by HUD in writing to the applicant, that confirms or clarifies information provided in the application. HUD will notify SHP, SRO, S+C and S+C/SRO applicants of the deadline for submission of such information. If an applicant is unable to meet any conditions for fund award within the specified timeframe, HUD reserves the right not to award funds to the applicant, but instead to either: use them to select the next highest ranked application(s) from the original competition for which there are sufficient funds available; or add them to funds available for the next competition for the applicable program.

VI. Application Submission Requirements

The application kit provides the application materials, including Form SF-424 and certifications, that must be used in applying for homeless assistance under this SuperNOFA. These application materials substitute for the forms, certifications, and assurances listed in Section II(G) of the General Section of the SuperNOFA (collectively, the “standard” forms).

In addition to the required narratives, the items that you must submit to HUD as part of the application for homeless assistance funding are the following:

1. 2001 Application Summary Form

2. Continuum of Care and Project Exhibits

3. Gaps Analysis Form

4. Project Priorities Form

5. Project Leveraging Form

6. EZ/EC Certification

7. SF-424

8. Applicant Certifications

9. Consolidated Plan Certification(s)

The standard forms can be found in Appendix B to the General Section of the SuperNOFA. The remaining forms (i.e., excluding such items as narratives), referred to as the non-standard forms, can be found in Appendix B to this program section of the SuperNOFA).

The application requires a description of the Continuum of Care system and the proposed project(s). To ensure that no applicant is afforded an advantage in the rating of the Continuum of Care element (described in Section V(A)(3) above), HUD is establishing a limitation of 25 pages, excluding required multiple page tables or charts but including any attachments, on the length of Exhibit 1 of any application submitted in response to this NOFA. HUD will not consider the contents of any pages exceeding this limit when rating the Continuum of Care element of any application. The application kit also contains certifications that the applicant will comply with fair housing and civil rights requirements, program regulations, and other Federal requirements, and (where applicable) that the proposed activities are consistent with the HUD-approved Consolidated Plan of the applicable State or unit of general local government, including the Analysis of Impediments to Fair Housing Choice and the Action Plan to address these impediments. Projects funded under this SuperNOFA shall operate in a fashion that does not deprive any individual of any right protected by the Fair Housing Act (42 U.S.C. 3601-19), section 504 of the Rehabilitation Act of 1973 (29 U.S.C. 794), the Americans with Disabilities Act of 1990 (42 U.S.C. 12101 et seq.), Title VI of the Civil Rights Act of 1964 (42 U.S.C. 2000d), Section 109 of the Housing and Community Development Act of 1974 (42 U.S.C. 5301) or the Age Discrimination Act of 1974 (42 U.S.C. 6101). Section II(D) of the General Section of this SuperNOFA regarding Affirmatively Furthering Fair Housing does not apply to the Continuum of Care Homeless Assistance programs.

There are three options for submitting an application under this program section of the SuperNOFA.

One: A “Consolidated Application” is submitted when a jurisdiction (or a consortium of jurisdictions) submits a single application encompassing a Continuum of Care strategy and containing all the projects within that strategy for which funding is being requested. Individual projects are contained within the one consolidated application. Grant funding may go to one entity which then administers all funded projects submitted in the application, or under this option, grant funding may go to all or any of the projects individually. Your application will specify the grantee for each project.

Two: “Associated Applications” are submitted when applicants plan and organize a single Continuum of Care strategy which is adopted by project sponsors or operators who choose to submit separate applications for projects while including the identical Continuum of Care strategy. In this case, project funding would go to each successful applicant individually and each would be responsible to HUD for administering its separate grant.

Three: A “Solo Application” is submitted when an applicant applies for a project exclusive of participation in any community-wide or region-wide Continuum of Care development process.

Options one and two are not substantively different and will be considered equally competitive. Applicants are advised that projects that are not a part of a Continuum of Care strategy will receive few, if any, points under the Continuum of Care rating factors.

VII. Corrections to Deficient Applications

The General Section of the SuperNOFA provides the procedures for corrections to deficient applications (See Section V of the General Section).

VIII. Environmental, Local Resident Employment, and Relocation Requirements

(A) Environmental Requirements. All Continuum of Care assistance is subject to the National Environmental Policy Act and applicable related Federal environmental authorities. Section 208 of Public Law 106-377 (114 Stat. 1441, approved October 27, 2000) amended Section 443 of the Stewart B. McKinney-Vento Homeless Assistance Act to provide that for purposes of environmental review, Continuum of Care projects shall be treated as assistance for special projects that are subject to Section 305(c) of the Multifamily Housing Property Disposition Reform Act of 1994, and shall be subject to HUD's regulations implementing that section. The effect of this provision is that environmental reviews for Continuum of Care activities are to be completed by responsible entities (States or units of general local government) in accordance with 24 CFR Part 58, whether or not the applicant is itself a State or a unit of general local government. Applicants (such as PHAs or nonprofit organizations) that are not States or units of general local government must request the unit of general local government to perform the environmental review. This statutory provision supersedes those portions of 24 CFR 582.230 and 583.230 that provide for automatic HUD environmental review in the case of application from such entities. With this exception, conditional selection of projects under the Continuum of Care Program is subject to the environmental review requirements of 24 CFR 582.230, 583.230, and 882.804(c), as applicable. Recipients may not commit or expend any Continuum of Care assistance or nonfederal funds on project activities (other than those listed in 24 CFR 58.34 or 58.35(b)) until HUD has approved a Request for Release of Funds and environmental certification from the responsible entity. The expenditure or commitment of Continuum of Care assistance or nonfederal funds for such activities prior to this HUD approval may result in the denial of assistance for the project under consideration.

(B) Local Resident Employment. To the extent that any housing assistance (including rental assistance) funded through this program section of the SuperNOFA is used for housing rehabilitation (including reduction and abatement of lead-based paint hazards, but excluding routine maintenance, repair, and replacement) or housing construction, then it is subject to section 3 of the Housing and Urban Rehabilitation Act of 1968, and the implementing regulations at 24 CFR part 135. Section 3, as amended, requires that economic opportunities generated by certain HUD financial assistance for housing and community development programs shall, to the greatest extent feasible, be given to low- and very low-income persons, particularly those who are recipients of government assistance for housing, and to businesses that provide economic opportunities for these persons.

(C) Relocation. The SHP, S+C, and SRO programs are subject to the requirements of the Uniform Relocation Assistance and Real Property Acquisition Policies Act of 1970, as amended (URA). These requirements are explained in HUD Handbook 1378, Tenant Assistance, Relocation and Real Property Acquisition. Any person or family that moves, even temporarily, as a direct result of acquisition, rehabilitation or demolition for a project that is assisted through one of these programs (whether or not HUD funded the acquisition, rehabilitation or demolition) is entitled to relocation assistance. Displacement that results from leasing a unit in a structure may also trigger relocation requirements. Relocation assistance can be expensive. To avoid unnecessary costs, it is important to provide occupants with timely information notices, including a general information notice to be sent at the time the application is submitted to HUD. HUD Handbook 1378 contains guideform information notices. The HUD field office can provide a copy of the handbook and copies of appropriate information booklets to be provided to occupants. Accordingly, if the site is occupied, the applicant should contact the HUD field office in the planning stage to obtain advice, including help in estimating the cost of required relocation assistance.

IX. Authority

The Supportive Housing Program is authorized by title IV, subtitle C, of the Stewart B. McKinney-Vento Homeless Assistance Act (McKinney-Vento Act), 42 U.S.C. 11381. Funds made available under this program section of the SuperNOFA for the Supportive Housing Program are subject to the program regulations at 24 CFR part 583.

The Shelter Plus Care program is authorized by title IV, subtitle F, of the McKinney-Vento Act, 42 U.S.C. 11403. Funds made available under this program section of the SuperNOFA for the Shelter Plus Care program are subject to the program regulations at 24 CFR part 582.

The Section 8 Moderate Rehabilitation Program for Single Room Occupancy Dwellings for Homeless Individuals (SRO) is authorized by section 441 of the McKinney-Vento Act, 42 U.S.C. 11401. Funds made available under this NOFA for the SRO program are subject to the program regulations at 24 CFR part 882, subpart H.

BILLING CODE 4210-32-P

FUNDING AVAILABILITY FOR THE HOUSING OPPORTUNITIES FOR PERSONS WITH AIDS (HOPWA) PROGRAM

Program Overview

Purpose of the Program. To provide States and localities with the resources and incentives to devise long-term comprehensive strategies for meeting the housing and related supportive service needs of persons with HIV/AIDS and their families.

Available funds. Approximately $25,542,000 (and under a related part of this SuperNOFA, up to $2,580,000 for technical assistance for the HOPWA program). As required by statute, the renewal of existing grants that will be expiring in 2001 or 2002, will be given priority in selection for funding as provided in Part A of the HOPWA section of this notice; if funds remain, new proposals will be selected under Part B.

Eligible Applicants. (1) States, units of general local government, and nonprofit organizations for grants for Special Projects of National Significance (SPNS) grants.

(2) States and units of general local government may apply for projects under the Long-Term category of grants, if activities will serve areas that were not eligible for HOPWA formula allocations in Fiscal Year 2001. Appendix C in this program section of the SuperNOFA identifies the formula areas.

Application Deadline. April 24, 2001 for renewal requests under Part A; and June 13, 2001 for new proposal under Part B.

Match. None.

Additional Information

If you are interested in applying for funding under this program, please review carefully the General Section of this SuperNOFA and the following additional information.

Part A. Renewal of Existing Grants that are Expiring

I. General Policies on Renewals—Purpose

Under the provisions of the HUD Appropriation Act for FY2001, the Secretary is required to renew all expiring grants that were funded under prior HOPWA competitions, if the grant meets all program requirements, before awarding funds for new grants and activities under the HOPWA competition.

II. Eligibility of Applicants and Activities

To implement this new requirement, HUD provides the following guidance to existing HOPWA competitive grantees:

(A) Eligible Applicant for Renewals. To be eligible, the applicant must be the same entity, State, local government or nonprofit organization that was selected for funding in the prior competition. The project should also continue with the same project sponsors, although HUD will consider the merits for changing a project sponsor if the new sponsor evidences the capacity to enhance the project operations or improve responsiveness to clients. Such examples for changing a project sponsor may be that a new project sponsor has greater capacity to conduct program activities, a prior project sponsor is no longer in operation or has merged with another entity, or HUD approved such a sponsor change through a grant amendment.

(B) Definition of Expiring Grant. The HOPWA grant must be expiring in the Federal Fiscal Year 2001 or 2002 and the project will not have sufficient funds to continue activities in 2002, if not awarded additional Federal funds. All funds awarded in an existing HOPWA competitive grant must be expended during the Federal Fiscal Year 2001 or 2002 (as measured by reimbursements filed with HUD under the financial system, PAS). In addition, if the grant expired in the Federal Fiscal Year 2000 or earlier, i.e. all funds were expended (as measured by PAS) by September 30, 2000, or only a residual amount that is less than one percent of the amount of the prior grant remains, you are not eligible to apply for renewal funding under this notice.

(C) Eligible Renewal Activities. The activities to be renewed must be on-going forms of support for HOPWA-eligible persons, such as rental assistance, short-term rent, mortgage and utility payments, operating costs for housing facilities, such as community residences and SRO dwellings, leasing, maintenance costs, supportive service costs, housing information services, and resource identification/technical assistance for community residences activities. If a prior grant was awarded funds for the acquisition of a site or building, for new construction or for rehabilitation costs, these capital development activities are not on-going or available for additional sites and funding for these cannot be renewed under Part A. Projects that seek to undertake additional capital development activities or to add funding for new HOPWA activities, such as operating costs and services, must apply under Part B as a new project.

(D) Amount of Renewals. Renewal projects may only request renewal funds for continuing a previously approved project at the same level of housing and/or services provided in the previous grant. Proposals to expand or significantly alter a funded-project must apply under Part B for new projects for the new activities or the expanded part of the project. The level of renewal funding must not exceed an amount that is comparable (i.e. not more than 120% of an activity) or may be less than the amount originally awarded by HUD for the HOPWA activity, including any amendments affecting this amount that were approved by HUD prior to FY2001. As an applicant for renewal funding, you must specify the annual amount needed to continue each activity and specify the number of years, up to three, for your request by completing the HOPWA Renewal Budget Form (Appendix A). You should describe your plan for continued operations in the Executive Summary section of your application, including any significant reduction to your prior award level. HUD will allow you to request up to the same amount as previously awarded per activity, with the allowance that projects may add up to 20 percent more by activity, except that activity costs may not exceed $1,200,000 in total. The limits on administrative costs, three percent for grantees and seven percent for project sponsors, continue to apply. In addition, renewal grantees may add, or HUD may add, up to $50,000 to the renewal award for the purpose of the collection of data on program outcomes.

(E) Ineligible Prior Grants. Grants awarded under the 1992-1995 HOPWA competitions are not eligible to seek renewals as these projects were required to operate and complete activities under the requirement that funds be used within three years of the grant agreement. Grants selected in 1996 were required to operate and complete activities before the end of Fiscal Year 2000. Similarly, these 1996 grants are not eligible for renewal, unless the grantee documents that HUD approved a grant extension of the project that would allow for its continued operations in the Federal Fiscal Year 2001 or 2002.

It is HUD's expectation that Part A renewals will be awarded to HOPWA grants that were awarded funds in 1997, 1998 and 1999. Such projects should be in operation and expect to complete activities in the Federal Fiscal Year 2001 or 2002 to qualify for renewal.

(F) Failing or Weak Performance. Grantees that were subject to deobligation or other sanctions by HUD or that evidence weak performance in carrying out activities will not be eligible for renewal grants. HUD will consider that weak performance is evidenced if there are unresolved monitoring findings during the active competitive period, from the date of this notice until the selection of grants, or other HUD knowledge of unresolved problems, for example, that planned activities remain delayed in their implementation, a significant number of units are vacant, or annual progress reports were not filed with HUD at the time of the due date for renewals, or significant citizen complaints are unresolved or not responded to with justified reasons. HUD will also consider that weak performance is evident if more than 50 percent of grant funds remain unexpended at that beginning of the month for the due date for renewals (as measured by reimbursements filed with HUD's financial system, PAS).

III. Selection Criteria and Process

(A) Selection Process. The Department will select for funding all renewal requests from applicants that meet program requirements and pass a threshold review for a need for renewal to the degree that funds are available. In the case that the amount requested for renewal is less than the amount available under this notice, HUD will apply the remaining funds to new projects that will be selected under Part B. If the amount of the request for renewal activities is greater than the amount made available by this notice, HUD will select all of the approvable applications and allocate awards to each based on a prorata reduction to the amount available under this notice to ensure that all eligible and performing renewal projects receive funding that allows their continued operation.

(B) Selection Criteria and Application Contents. Renewal applicants must comply with the requirements noted above in Part A, Section II, for example in establishing the amount of their request to continue approved activities for one to three additional years, and meet the due date requirement. Applicants must also use the Need for Renewal narrative to demonstrate program performance in carrying out activities in a timely manner, in response to client needs, in meeting program requirements, such as filing annual progress reports, and in meeting benchmarks that were established by the notice for their original grant. Further, the applicant must provide the documentation of any amendment or other program adjustment that was approved by HUD prior to 2001, in carrying out the previously approved activities. HUD will review all renewal applications based on the following criteria:

(1) Eligibility: HUD will review your eligibility to apply for renewal funding under this program as described above under Part A, Section II, Eligibility of Applicants and Activities.

(2) Organizational Capacity: If a new project sponsor is added, HUD will review the project sponsor's capacity to conduct program activities as described under Rating Factor 1: Capacity of Applicant and Project Sponsors and Relevant Organizational Experience (Part B, Section V).

(3) Need for Renewal: HUD will conduct a threshold review on your need for renewal, as described below in Part A, Section III(D), and how this project has operated with measurable progress. A project will pass this threshold if it demonstrates measurable progress. Measurable progress is defined as not failing or not evidencing weak performance in (i) meeting performance benchmarks, as appropriate, in program development and operation, (ii) meeting project goals and objectives, such as, that the number of persons assisted is comparable to the number that was planned at the time of the application, (iii) submitting timely performance reports, and; (iv) expending over 50% of prior funding at the beginning of the month for the due date for renewals (as measured by reimbursements filed with HUD's financial system, PAS.).

(4) Threshold Requirements: HUD will also review your application to ensure that your project meets the standard eligibility threshold requirements as described in Part B, Section V(A) of this program NOFA. Such as, completing the Consolidated Plan Certification.

Applicants are requested to submit the following information:

(1) The renewal application should include the items A (SF-424) and F (Statutory Certifications) as described under Part B, Section VI, Application Submission Requirements.

(2) Executive Summary and Synopsis: On no more than five (5) double spaced pages, please provide an Executive Summary of the renewal project. In the Executive Summary, please provide the name of the grantee and any project sponsors. Include at the beginning of the Executive Summary a two to three sentence synopsis of the renewal project.

(3) Narrative Statements. Your application must include the following narrative statements:

(a) Organizational Capacity Narrative: If a new project sponsor(s) is added to the proposal, please describe the capacity of the project sponsor(s) to conduct program activities as described under Rating Factor 1: Capacity of Applicant and Project Sponsors and Relevant Organizational Experience (Part B, Section V). Please provide this information on no more than three double-spaced typed pages. If you are adding more than one Project Sponsor, you may add two (2) additional pages per Project Sponsor.

(b) Need for Renewal Narrative: Please address the following on no more than five (5) double-spaced pages. Please demonstrate the need for renewal funding and how this project has operated with measurable progress. Measurable progress is defined as not failing or not evidencing weak performance in (i) meeting performance benchmarks, as appropriate, in program development and operation, (ii) meeting project goals and objectives, such as, that the number of persons assisted is comparable to the number that was planned at the time of the application, (iii) submitting timely performance reports; (iv) expending over 50% of prior funding at the beginning of the month for the due date for renewals (as measured by reimbursements filed with HUD's financial system, PAS.). Additionally, you should complete the HOPWA Need for Renewal Chart, as described below in Part A, Section III(C) and found in Appendix A.

(4) HOPWA Renewal Budget: Please complete the HOPWA Renewal Budget Form (Appendix A). See Part A, Section II(D), Amount of Renewals, for details on renewal funding.

(5) HOPWA Renewal Project Form (Appendix A). Complete the form including the following:

(a) Project Sponsor: You must identify any organization that will receive HOPWA funds as a project sponsor and the amount of funds to be received.

(b) Non-profit Status: If not previously submitted to HUD through the prior HOPWA application or if a change occurred in non-profit status, non-profit grantees or project sponsors must submit documentation verifying your non-profit status, as outlined under Part B, Section III, Eligible Applicants and Project Sponsors, in this program section of the SuperNOFA.

(c) Service Areas. Your application must identify the area(s) in which you are proposing to offer housing and other assistance.

After your entire application is assembled, please mark each exhibit with an appropriately numbered tab and number every page of the application sequentially. Complete the HOPWA Renewal Application Checklist found in Appendix A to this program section of the SuperNOFA. Attached the HOPWA Renewal Application Checklist to the front of your application.

(C) Need for Renewal. The application must demonstrate that prior grant funds will expire in the Federal Fiscal year 2001 or 2002. You must complete the HOPWA Need for Renewal Chart (Appendix A), as described below:

Line 1. Indicate the amount of the prior HOPWA award: ____

Line 2. Indicate the amount expended as of 9-30-00: ____

Line 3. Subtotal: subtract line 2 from line 1: ____

Line 4. Indicate the amount to be expended in FY2001: ____

Line 5. Indicate the amount to be expended in FY2002: ____

Line 6. Subtotal: subtract lines 4 and 5 from line 3: ____

Notes: If the subtotal on Line 6 is greater than zero, you are not eligible to apply for renewal funding under this notice. Also note that continued use of prior funds may require that you file an extension request with the area CPD Field Office. Further if the subtotal on Line 3 is zero or a residual amount that is less than one percent of the amount on Line 1, you are not eligible to apply for renewal funding under this notice. In reviewing the information that you provide in this chart, HUD will determine your eligibility for renewal funding based on financial records for reimbursement of expenditures that are filed under HUD's financial system (PAS).

(D) Example of potential renewal request, XYZ Nonprofit. In this case, a 1998 grant to the XYZ nonprofit involved the award of HOPWA competitive funds for a community residence for persons living with AIDS (PLWAs), with $300,000 for acquisition of the residence, $200,000 for facility operations, $250,000 for supportive services and $100,000 planned for rental assistance for clients who transition out of the facility, and grant administration $25,500 (total of $875,500). Under this notice, the following is eligible for renewal funding for XYZ: Facility operations, supportive services, rental assistance, grant administration, data collection on project outcomes (added). Funds for additional acquisition are not eligible for renewal. Also, if the site now needs rehabilitation, the grantee must apply under Part B for a new project for that activity or seek other public or private funding. To calculate the amount for this renewal request, XYZ could ask for these maximum amounts or less to continue for three more years:

Facility Operations—base of $200,000 + 20% for renewal grant = $240,000

Supportive Services—$250,000 + 20% = 300,000

Rental assistance—$100,000 + 20% = 120,000

Subtotal for renewal funding: 660,000

Grantee administrative costs (3%) based on subtotal: 19,800

Data collection on outcomes—(added): 50,000

Total potential amount for renewal request for XYZ: $729,800

Notes: Alternatively, XYZ may have found that clients did not leave and the rental assistance component is too large, based on actual utilization. XYZ should have requested HUD approval to reassign the excess rental assistance amount to some other eligible activity, such as maintenance and repair costs, prior to FY2001 and provide a copy of this documentation in its application. If in this alternative example, only $20,000 is needed, than the amendment to move $80,000 to repair costs could have been filed with the area HUD office. In this alternative example, the XYZ request must be adjusted downward based on the actual experience of this grant and the subtotal, administrative cost, and total would be decreased, accordingly. The reassigned $80,000 in repair costs would not be eligible for a renewal request.

IV. Additional Renewal Information

(A) Application Kits, Further Information, and Technical Assistance. You must send your renewal application on or before 12:00 midnight, Eastern Time, consistent with the specific due date for renewal applications as stated in the Program Overview section of this program NOFA, to HUD Headquarters. See the General Section of this SuperNOFA for specific procedures governing the form of application submission (e.g., mailed applications, express mail, overnight delivery, or hand carried). In addition, please see Part B, Section I for the following information: address and instructions for submitting renewal applications, application kits, technical assistance, and technical assistance broadcasts. Please note HOPWA renewal information will be provided along with HOPWA competitive program information in the HOPWA Application Kit.

(B) Award Modifications. See Part B, Section II(B) for a description of the process for award modifications.

(C) Availability of Other Funds and Use of Technical Assistance. Applicants seeking renewal are encouraged to read Part B, Section IV(D) on the availability of formula funding. In addition, the paragraphs addressing (E) the availability of HOPWA technical assistance and (F) the prohibition on the use of TA funds to draft applications apply to renewal applications.

(D) Applicable Provisions of Part B. The following sections of Part B of this program NOFA apply to applicants of renewal funding: Part B, Section VII (Corrections to Deficient Applications), Section VIII (Other Requirements), and Section IX (Authority).

Part B. New Projects

If funds remain after the selection of renewal grants under Part A, HUD will consider applications under this part.

I. Application Kits, Further Information, and Technical Assistance

Where to Send Your Application. You must send your application on or before 12:00 midnight, Eastern time, consistent with the specific due date for new projects as stated in the Program Overview of this program NOFA, to HUD Headquarters.

See the General Section of this SuperNOFA for specific procedures governing the form of application submission (e.g., mailed applications, express mail, overnight delivery, or hand carried).

Address for Submitting Applications. Your completed application consists of an original signed application and three copies. Submit the original application and one copy to: Department of Housing and Urban Development, 451 Seventh Street, SW, Room 7251, Washington, DC 20410. The original application submitted to HUD headquarters is considered the official application.

Submit the additional two (2) copies of your application to the area CPD Field Office or Offices that serve the area in which activities are proposed. For multi-state efforts you must submit two copies of your application to the Field Office that serves your main office. The list of addresses for area CPD Field Offices is provided as Appendix B of this program section of this SuperNOFA. If you propose nationwide activities, you must send all copies to the HUD headquarters office. When submitting your applications, please refer to HOPWA, and include your name, mailing address (including zip code), facsimile, email , and telephone number (including area code).

For Application Kits. Although you may begin working on your application with the materials provided in this program section of the SuperNOFA and its appendixes, for an application kit, please call the SuperNOFA Information Center at 1-800-HUD-8929 (1-800-483-8929). Persons with hearing or speech impairments may call the Center's TTY number at 1-800-HUD-2209 (1-800-483-2209). The application kit also will be available on the Internet through the HUD web site at http://www.hud.gov/grants.

For Further Information and Technical Assistance. You may call the HUD Field Office serving your area, at the telephone number shown in the application kit for this program, or you may contact the Office of HIV/AIDS Housing, HUD at (202) 708-1934. HUD staff may assist with program questions, but may not assist in preparing your application.

Satellite Broadcast. HUD will hold an information broadcast via satellite for potential applicants to learn more about the program and preparation of the application. For more information about the date and time of the broadcast, you should consult the HUD web site at http://www.hud.gov/grants.

II. Amount Allocated

Approximately $ 25,542,000 is being made available for funding under this program section of the SuperNOFA. Additional funds may be awarded if funds are recaptured, deobligated, appropriated or otherwise made available during the fiscal year.

(A) Maximum Grant Amounts. The maximum amount that you may receive is $1,200,000 for program activities (e.g., activities that directly benefit low-income persons living with HIV/AIDS and their families), irrespective of the number of applications that you submit. You may also add-on up to 3 percent of this program activities amount for grantee administrative costs and, if your program involves project sponsors, add-on up to 7 percent of the amount that they receive for their administrative costs. In addition, up to $50,000 may be requested to collect data on project outcomes. HUD reserves the right to reduce the amount requested for data collection on project outcomes in relation the amount requested for program activities. Additionally, after rating each application HUD reserves the right to add up to $50,000 to a HOPWA application for the purposes of the collection of data on program outcomes, if an applicant fails to request this level of funding for this activity.

(B) Award Modifications. See the General Section of this SuperNOFA for information with regard to adjustments to funding. HUD also reserves the right to ensure that activities funded under the FY 2001 Continuum of Care will not duplicate activities funded under this competition.

III. Program Description; Eligible Applicants; Eligible Activities

(A) Program Description. Funds under this program are to be used to support the Department's national goal of increasing the availability of decent, safe, and affordable housing in American communities. The statutory purpose of the HOPWA program is “for meeting the housing needs of persons” with HIV/AIDS and their families and planned activities must address this purpose. HOPWA funds projects to provide housing and related supportive services for low-income persons with HIV/AIDS and their families under two categories of assistance:

(1) Grants for Special Projects of National Significance (SPNS) that, due to their innovative nature or their potential for replication, are likely to serve as effective models in addressing the housing and related supportive service needs of low-income persons living with HIV/AIDS and their families. Under this program section of the SuperNOFA, HUD will set-aside up to 40% of the funds allocated to SPNS to projects targeting underserved populations as defined in Section (D); and

(2) Grants for projects that are part of Long-Term Comprehensive Strategies (Long-Term) which provide housing and related supportive services for low-income persons living with HIV/AIDS and their families in areas that are not eligible for HOPWA FY 2001 formula allocations found in Appendix C of this program section of this SuperNOFA.

(B) Eligible Applicants and Project Sponsors. (1) States, units of general local government, and nonprofit organizations may apply for grants for Special Projects of National Significance;

(2) States and units of general local government may apply for grants for projects under the Long-Term category of grants, if proposed activities will serve areas that were not eligible to receive HOPWA formula allocations in Fiscal Year 2001. A list of the formula areas and a list of the areas not eligible to receive HOPWA Formula funds, can be found in Appendix C of this program section of this SuperNOFA. Nonprofit organizations are not eligible to apply directly for the Long-Term grants but may serve as a project sponsor for an eligible State or local government grantee. You must identify your project sponsors in your application. Project Sponsors can not be identified at a later date through such processes as an RFP or other selection process.

(3) Nonprofit organizations must have appropriate credentials, in accordance with HOPWA regulations at 24 CFR 574.3. If you are a nonprofit organization, to be an eligible applicant or project sponsor, you must either:

—Have, by the application due date, an IRS ruling that grants you tax exempt status under section 501(c)(3) of the Internal Revenue Code; or

—Provide documentation that shows that your organization satisfies the criteria in the statutory definition of nonprofit organization in 42 U.S.C. 12902(13).

The statutory definition reads:

The term “nonprofit organization” means any nonprofit organization (including a State or locally chartered, nonprofit organization) that— (i) is organized under State or local laws; (ii) has no part of its net earnings inuring to the benefit of any member, founder, contributor, or individual; (iii) complies with standards of financial accountability acceptable to the Secretary; and (iv) has among its purposes significant activities related to providing services or housing to persons with acquired immunodeficiency syndrome or related diseases.

HUD interprets the use of the term “related diseases” in this definition to include HIV infection.

Adequate documentation of nonprofit status includes the following:

(a) In lieu of an IRS exemption for nonprofits in Puerto Rico, a ruling from the Treasury Department of the Commonwealth of Puerto Rico granting income tax exemption under section 101 of the Income Tax Act of 1954, as amended (13 LPRA 3101);

(b) In lieu of documentation under section 501(c)(3), documentation of an IRS ruling of tax exempt status under section 501(c)(4), (6), (7), (9), or (19);

(c) Documentation of satisfying the statutory criteria by submitting the following four items:

(i) Certification by an appropriate official of the jurisdiction under whose laws the nonprofit organization was organized that your organization was so organized and is in good standing;

(ii) Documentation that your organization is a certified United Way member agency or other documentation that shows that no inurement of benefits to the managers of your organization occurs;

(iii) Documentation from a CPA or Public Accountant that your organization has a functioning accounting system that is operated in accordance with generally acceptable accounting principles or that a qualifying entity is designated for that activity, or the United Way member agency certification noted in item (ii); and

(iv) A certified copy of your nonprofit organization's articles of incorporation, by-laws, statement of purposes, board of director's resolution or a similar document that includes a provision demonstrating its purpose regarding significant activities for persons living with HIV/AIDS.

If your organization does not provide the requested documentation, you are not eligible to receive funds and serve as the grantee or as a project sponsor. However, you may collaborate with eligible nonprofit organizations or with a government agency that applies for the grant and assist them, for example, in planning for the proposed activities, identifying needs in your community and identifying clients who will be assisted. In addition, you may do work under contract with a grantee for services funded by this grant.

(C) Eligible Activities. (1) The following eligible activities are subject to standards and limitations found in 24 CFR part 574.

(a) Housing information services (including fair housing counseling).

(b) Project-based or tenant-based rental assistance.

(c) New construction of a community residence or SRO dwelling.

(d) Acquisition, rehabilitation, conversion, lease or repair of facilities to provide housing and services.

(e) Operating costs for housing.

(f) Short-term rent, mortgage and utility payments to prevent homelessness.

(g) Supportive services. Many of the clients who will be served by the HUD program covered by this NOFA may need services in addition to housing. It is important that you design programs which enhance access to those needed services, including access to health-care, AIDS drug assistance, and other services funded through the Ryan White CARE Act or other Federal, State, local or private funds. While HUD recognizes that there are many ways to ensure that clients receive the services they need, to the extent possible, the Department encourages you to develop housing programs which do not require participation in services as a part of your or your project sponsor's tenancy requirements.

(h) Administrative expenses (see limits for grantees and sponsors).

(i) Resource identification to establish, coordinate and develop housing assistance resources and technical assistance in establishing and operating a community residence. HUD will not select under this notice an application that is primarily directed at providing these activities, since national HOPWA technical assistance funds are being made available under the Community Development Technical Assistance (CDTA) part of this notice for this purpose. You may propose a resource identification or technical assistance component in your application, if the amount of funds designated for these activities are less than 20 percent of the proposed program activity costs; and

(j) As authorized by the statute, you may propose other activities in your application, if approved by HUD, including data collection on project outcomes, as described below in paragraph (2). HUD will not approve proposals that depend on future decisions on how funds are to be used, for example, a proposal to establish a local request-for-proposal process to select activities or project sponsors. You must identify your project sponsors at the time of the application.

(2) You may request up to $50,000 to collect information and report to HUD, or a third party designated by HUD, on project outcomes. If you requested these funds, you must propose data collection activities in your application. The persons who will conduct these activities may include an expert third-party. Project outcome activities include:

(a) Defining monitoring questions that will be addressed and examined during the project period;

(b) Specifying outcome measures;

(c) Developing instruments to assess project outcomes and systems outcomes;

(d) Training project staff in the collection of data;

(e) Monitoring data collection activities to assure that submissions are complete and accurate, including data coding and entry;

(f) Summarizing data collected; and

(g) Preparing reports summarizing findings, including the standard HOPWA Annual Progress Report.

(D) Targeting Resources to Underserved Populations. The Department has been advised by persons living with HIV/AIDS, HIV/AIDS housing providers, and national organizations, of the continuing disparity in accessing health-care and HIV/AIDS treatment among underserved populations, such as, racial and ethnic minority populations, women, persons living in rural areas, youth and post-incarcerated populations. One example of this disparity is found in our experience in assisting HIV-infected young people. A report from the Office of National AIDS Policy, Youth and HIV/AIDS 2000: A New American Agenda, released on October 2, 2000, notes that:

Beyond medical care, stable housing is one of the most important parts of the safety net for persons living with HIV and AIDS and their families. Youth who are homeless or who run away from home are at greater behavioral risk of HIV infection. Youth who are infected with HIV are more likely to be able to follow complex treatment regimens if they have a reliable address where they can be reached by care providers, a safe place to keep medications, refrigeration for drugs that require it, and other necessities that many of us take for granted. * * * [T]wo tragic realities have not changed. Some 20,000 young people are still becoming infected every year, and most of them are not receiving the medical care they need. The programs that provide HIV prevention, care and support services to youth must be broader in vision, larger in scope, and better coordinated.

The report also recommended that “Federal agencies should use existing resources to expand youth-specific initiatives.”

The Department encourages you to develop an initiative on youth under this notice. In an effort to meet this need to reach and serve persons who are part of populations that have been underserved by past efforts and to diversify the number and type of organizations that have traditionally received HOPWA funding, the Department is encouraging collaborations among community-based organizations for providing housing assistance and/or technical assistance to better serve underserved populations on a national, regional, or local level.

Collaborations pair grantees and a project sponsor(s) that are experienced in developing or operating housing facilities and housing assistance programs with community-based organizations, serving as project sponsors, that provide services or use culturally-sensitive efforts to reach persons in underserved communities, but may have little or no experience in meeting the housing needs of persons living with HIV/AIDS. This team approach is expected to: (1) strengthen the organization—improve capacity to develop, operate, manage, and evaluate housing assistance programs for persons living with HIV/AIDS; (2) serve underserved populations—help reach underserved populations in areas that lack housing and health care infrastructure; and (3) increase planning—develop holistic community approaches to better coordinate housing and related services in communities impacted by HIV and AIDS. Note: All assistance provided to targeted underserved communities must be in accordance with the requirements of the Fair Housing Act. In order to support these collaborations and to encourage new collaborations to receive HOPWA funding, up to 40% of the funds targeted toward SPNS applications will be awarded to applications with these collaborations to serve underserved populations and HUD reserves the right to include in these awards at least one application that targets unmet needs in an underserved youth population.

To be considered as a collaboration, in your application you must:

(1) Identify and evidence the experience of all collaborating organizations, either as grantee or project sponsor(s), as detailed under Rating Factor 1 of this program section of the SuperNOFA in the Capacity of the Applicant and Project Sponsors and Relevant Organizational Experience section of your application;

(2) Identify the underserved population and evidence in the Description of Unmet Need section of your application as detailed under Rating Factor 2 that substantial housing and related service needs of the identified underserved population living with HIV/AIDS and their families are not being met in the area. For the purposes of this program NOFA, the Department has defined underserved populations as low-income populations living with HIV/AIDS and their families, such as racial or ethnic minority groups, women, persons living in rural areas, youth, post-incarcerated populations, or other underserved groups as determined by your service area, whose housing and related service needs are not currently being met in the service area. To meet the program definition of underserved group, you must show the unmet need in the provision of housing and related supportive services for the identified underserved population in your service area by presenting reliable statistics and data sources (i.e. Census, health department statistics, research, scientific studies, and Needs Analysis of Consolidated Plan and/or Continuum of Care documentation). HUD will consider your presentation of statistics and data sources based on soundness and reliability and the specificity of information to the underserved population and the area to be served; and

(3) Evidence the method, by which your plans will, as defined above, strengthen the organization, serve underserved populations, increase planning, and support fair housing in the Soundness of Approach section of your application as detailed under Rating Factor 3 of this program section of the SuperNOFA.

If HUD determines that the application fails to meet the above considerations, the application will not be considered for funding under the 40 percent of SPNS funds allocated for collaborative projects targeting underserved populations. HUD will consider the application under the remaining SPNS category.

IV. Program Requirements

(A) Performance Measures and Project Goals and Objectives. You must use HUD's required performance measures that will show your accomplishments in using HOPWA funds to expand the housing options that benefit low-income persons with HIV/AIDS and their families. You may also establish individual goals and objectives for your proposal. They should be specific, achievable and measured within set time periods. Your individual goals and objectives should result in possible findings on the successes and lessons learned in undertaking your activities that would be shared with other communities. In designing your proposal, please use the following:

(1) Required HOPWA national performance goal. Your proposed activities must increase the amount of housing assistance and related supportive services to low-income persons living with HIV/AIDS and their families to enable them to achieve housing stability and access to health-care and related supportive services.

(2) Measure your performance. After each year of operation, you must report on the number of short-term and permanent housing units that were provided with HOPWA funding, and number of additional persons served with related supportive services. HUD will measure your progress and achievements in evaluating your performance on your HOPWA grant. Examples of reporting performance measures are:

(a) In your community over the last year, a transitional housing facility providing 5 units of housing was operated with HOPWA funds. Residents also received drug and/or alcohol abuse treatment and counseling by qualified staff. During that year, ten persons resided in the facility and benefited from the intense on-site assistance, which also included helping them develop and follow a plan to find permanent housing and continue treatment after leaving the facility, including monthly phone contacts or visits by staff; and

(b) Over the last 12 months, a nonprofit organization distributed tenant-based rental assistance vouchers to 15 households within your three-county metropolitan area. The vouchers provided for on-going housing assistance (up to three years) and the program advised the clients on tenant-landlord issues and arranged for housing quality standard inspections of the apartments selected. A case manager who is funded under the Ryan White CARE Act program, advised the tenants and helped them access health-care and other services from providers in this community. During this year, 22 persons received permanent housing assistance with HOPWA funds and for three of these families who were unable to find housing within 30 days, additional efforts were made and an appropriate apartment was located and used.

(B) Performance Benchmarks. Funds received under this competition are expected to be expended within 3 years following the effective date of a grant agreement. You will be expected to meet the following performance benchmarks:

(1) If you acquire or lease a site, you are required to gain site control within one year of your selection (i.e, one year from the date of the signing of your selection letter by HUD);

(2) If you propose to use HOPWA funds to undertake rehabilitation or new construction activities, you are required to begin the rehabilitation or construction within 18 months of your selection and to complete that activity within 3 years from the date of your selection letter by HUD; and

(3) You are requested to provide an initial report to the Field Office and the Headquarters on the startup of the planned activities within six months of your selection. Please outline any accomplishments in implementing the funds along with identifying any barriers or issues for which the Department may provide assistance.

Except as noted in paragraph (2) for rehabilitation or construction activities, you must begin to operate your program within one year from your selection. If a selected project does not meet the appropriate performance benchmark, HUD reserves the right to cancel or withdraw the grant funds.

(C) Descriptive Budget. You must provide a description of each of your requested budget items and how the funds will be used, including each amount of requested funding for you and your project sponsors, and a description of how each line item will relate to eligible HOPWA activities as defined in Section III(C), of this program section of the SuperNOFA. You are expected to match requested funds to specific goals and objectives in your project. See Appendix D of this program section of the SuperNOFA.

(D) Availability of FY 2001 Formula Allocations. You are also encouraged to consider seeking funds for your proposed activities under the formula component of the HOPWA program and from other resources that are made available in communities. Ninety (90) percent of the HOPWA program is allocated by formula and recipient States and cities are required to consult with the public on designing the use of these funds. In FY2001, a total of $229.372 million was allocated by formula to the qualifying cities for 71 eligible metropolitan statistical areas (EMSAs) and to 34 eligible States for areas outside of EMSAs. All HOPWA formula grants are available as part of the jurisdiction's Consolidated Plan, which also includes the Community Development Block Grant, HOME Investment Partnerships program, and Emergency Shelter Grants. Plans are developed through a public process that assesses area needs, creates a multiple-year strategy and proposes an action plan for use of Federal funds and other community resources in a coordinated and comprehensive manner. Information on consolidated planning, including HOPWA formula programs and descriptions of previously awarded competitive grants, is available on the HUD HOME Page at www.hud.gov.

(E) Availability of National HOPWA Technical Assistance. If you are interested in providing technical assistance activities with HOPWA funds, submit an application for funds under the Community Development Technical Assistance (CDTA) part of this notice, which is published elsewhere in this SuperNOFA. The CDTA notice provides up to $2,580,000 in HOPWA funds to organizations for technical assistance support on a national or regional basis.

(F) Seeking Technical Assistance in Developing a HOPWA Application. HOPWA TA providers may not provide technical assistance in the drafting of responses to HUD's NOFA due to the unfair advantage such assistance gives to one organization over another. If HUD determines that HOPWA technical assistance has been used to draft a HOPWA application, HUD reserves that right to reject the application for funding.

V. Application Selection Process

(A) HOPWA Application Reviews. HUD will review your HOPWA application to ensure that:

(1) Your application meets the threshold requirements found in the General Section of the SuperNOFA;

(2) A Certification of Consistency with Consolidated Plans is provided as an appendix to the General Section of the SuperNOFA. Under the HOPWA program, proposed activities that are located in a jurisdiction are required to be consistent with the jurisdiction's current, approved Consolidated Plan, including the Analysis of Impediments to Fair Housing choice and the Action Plan to address these impediments, except that this certification is not required for projects that propose to undertake activities on a national basis; and

(3) You are currently in compliance with the Federal requirements contained in 24 CFR part 574, subpart G, “Other Federal Requirements.”

(B) The HOPWA Competition. This national competition will involve the review, rating, and selection of HOPWA applications under each of the two categories of assistance Special Projects of National Significance (SPNS) and Long-Term Comprehensive Strategies (Long-Term) in areas that do not qualify for HOPWA formula allocations.

(C) Procedures for the Rating of Applications. HUD will rate all HOPWA applications based on the criteria listed below.

(D) Factors For Award Used to Evaluate and Rate Applications. The factors for rating and ranking your application, and the maximum points for each factor, are provided below. The points awarded for the factors total 100. In addition, bonus points for projects in EZ/EC areas and by the City of Dallas may be available under Section III(C)(2) of the General Section of this SuperNOFA apply to this competition. After rating, all applications will be placed in the rank order of their final score for selection within the appropriate category of assistance.

Rating Factor 1: Capacity of the Applicant and Project Sponsors and Relevant Organizational Experience (20 Points)

Please address the following factor on not more than five (5) double-spaced, typed pages. For each project sponsor, you may add two additional pages under this section. This factor addresses the extent to which you and any project sponsor has the organizational resources necessary to successfully implement your proposed activities in a timely manner. If you will be using project sponsor(s) in your project, you must identify each project sponsor in your application. HUD will award up to 20 points based on your and any project sponsor's ability to develop and operate your proposed program, such as housing development, management of housing facilities or units, and service delivery, in relation to which entity is carrying out an activity.

(1) With regard to both you and any project sponsor(s), HUD will consider:

(a) Past experience and knowledge in serving persons with HIV/AIDS and their families;

(b) Past experience and knowledge in programs similar to those proposed in your application;

(c) Experience and knowledge in monitoring and evaluating program performance and disseminating information on project outcomes; and

(d) Past experience as measured by expenditures and measurable progress in achieving the purpose for which funds were provided.

(2) In reviewing the elements of paragraph (1), HUD will consider the extent to which your proposal demonstrates:

(a) The knowledge and experience of the proposed project director and staff, including the day-to-day program manager, consultants and contractors in planning and managing the kind of activities for which you are requesting funds. You and any project sponsor will be judged in terms of recent, relevant and successful experience of staff to undertake eligible program activities, including experience and knowledge in serving persons with HIV/AIDS and their families.

(b) Your and/or the sponsor's experience in managing complex interdisciplinary programs, especially those involving housing and community development programs directly relevant to the work activities proposed and carrying out grant management responsibilities.

(c) If you and/or the sponsor received funding in previous years in the program area for which you are currently seeking funding, you and your sponsor's past experience will be evaluated in terms of the ability to attain demonstrated measurable progress in the implementation of your grant awards. Measurable progress is defined as:

(i) Meeting performance benchmarks, as applicable, in program development and operation;

(ii) Meeting project goals and objectives, such as, that the number of persons assisted was comparable to the number that was planned at the time of application;

(iii) Submitting timely performance reports; and

(iv) Expending prior funding as outlined in the prior proposal with no outstanding audit or monitoring issues.

Rating Factor 2: Need/Extent of the Problem (20 Points)

Please address the following factor on not more than five (5) double-spaced, typed pages. This factor addresses the extent to which there is a need for funding the proposed program activities and an indication of the urgency of meeting the need in the target area. Up to 20 points will be awarded for this factor.

(1) (5 Points) AIDS Cases. Up to five of these points will be determined by the relative numbers of AIDS cases and per capita AIDS incidence within your service area, in metropolitan areas of over 500,000 population and in areas of a State outside of these metropolitan areas, in the State for proposals involving state-wide activities, and in the nation for proposals involving nation-wide activities. Your application must define a planned service area. To determine these points, HUD will obtain AIDS surveillance information from the Director of the Centers for Disease Control and Prevention.

(2) (5 Points) Description of Unmet Need. Up to five of these points will be determined by the extent to which there is a need for funding eligible activities in the area to be served. To receive the highest ratings in this factor, you must demonstrate that substantial housing and related service needs of low-income persons living with HIV/AIDS and their families are not being met in the area and that reliable statistics and data sources (i.e. Census, health department statistics, research, scientific studies, and Needs Analysis of Consolidated Plan and/or Continuum of Care documentation) show this unmet need. To receive the highest number of points, you also must show that your jurisdiction's Consolidated Plan and Analysis of Impediments to Fair Housing Choice, Continuum of Care Homeless Assistance plans (if homeless persons are to be served), and comprehensive HIV/AIDS housing plans are applicable and identify the level of the problem and the urgency of the need. Urgent and unmet needs may be demonstrated, as follows:

(a) If you apply for a proposed Special Project of National Significance, you must describe a need that is not currently addressed by other projects or programs in the area. Also describe any unresolved or emerging issues and the need to provide new or alternative forms of assistance that, if provided, would enhance your area's programs for housing and related care for persons living with HIV/AIDS and their families; or

(b) If you apply for a project that is part of a Long-Term Comprehensive Strategy in an area that does not receive a HOPWA formula allocation, you must describe the need that is not currently addressed by other projects or programs in the area. You must also describe any unresolved or emerging issues and/or the need to provide forms of assistance that enhance the community's strategy for providing housing and related services to eligible persons.

HUD will consider your presentation of statistics and data sources based on soundness, reliability and the specificity of information to the target population and the area to be served. If you propose to serve a subpopulation of eligible persons on the basis that these persons have been traditionally and are currently underserved (e.g., persons with multiple disabilities including AIDS), your application must document the need for this targeted effort through statistics and data sources that support the need of this population in your service area.

(3) (5 Points) Need in Non-Formula Areas. Within the points available under this criterion, HUD will award five points, if your SPNS application proposes to serve clients in an area that does not qualify for HOPWA formula allocation.

(4) (5 Points) Highest Rated in a State or the Nation (for nationwide activities). After the other rating factors have been determined, HUD will award five of the points to help achieve greater geographic diversity in funding activities within a variety of States. Under this criterion, five points will be awarded to the highest rated SPNS and Long-term applications in each State and to the highest rated SPNS application among the applications that propose nationwide activities.

Rating Factor 3: Soundness of Approach: Responsiveness and Model Qualities (40 Points)

Please address the following factor on not more than fifteen (15) double-spaced, typed pages and include the HOPWA Budget Forms following this section. This factor addresses the method by which your plan meets your identified needs. HUD will award up to 40 points based on the extent to which your plan evidences a sound approach in its responsiveness to the persons that you will be assisting and how it offers model qualities in providing supportive housing opportunities for low-income persons living with HIV/AIDS and their families, when compared to other applications and projects funded under previous HOPWA competitions. The points will be awarded as follows:

(1) Responsiveness (20 Points). HUD will award up to 20 points based on how well your project plan responds to the unmet needs of the target population including the specific needs that you identified under the Need Criterion with specific goals and objectives for providing housing and related supportive services for people living with HIV/AIDS and their families. To receive the highest ratings in this element, you must offer a plan that evidences the following:

(a) Your project's goals and objectives. You must describe your project's goals and objectives and how you will measure how the project is performing under the required HOPWA performance goal, i.e. increasing the amount of housing assistance and related supportive services to low-income persons living with HIV/AIDS and their families to enable them to achieve housing stability and access to health-care and supportive services. You are encouraged to review Part B, Section IV(A), Performance Measures and Project Goals and Objectives of this Notice of Funds Available (NOFA) when developing your goals and objectives. To receive the highest rating your goals should address:

(i) The projected numbers of persons to be served through each activity for each year of your program;

(ii) The projected number of housing units to be provided through your project, (unless you are proposing supportive service only activities) and;

(iii) The specific organizations that will provide housing either through an agreement with your organization or through funding from your project.

(b) Your plans for accomplishing these goals and objectives. You must demonstrate your methodology for achieving these goals and objectives by describing the service delivery model that you intend to implement and explain how you will integrate the following items:

(i) Housing. You must demonstrate how the housing needs of clients will be addressed by including: (A) the type and number of units of housing to be provided and/or made more appropriate if currently available in the community; (B) the names of the project sponsors and/or organizations providing housing including their roles and responsibilities; (C) the connection of any emergency or transitional housing in obtaining and maintaining permanent housing; (D) any appropriate site features, including accessibility, visitability, and access to other community amenities; (E) ensuring clients and their families have access to health care and other supportive services; (F) demonstrating how tenants' rights will be observed and addressed by providing safe, decent, and affordable housing through such activities as the delivery of maintenance services, security services, and consistency with local and national fair housing laws; (G) demonstrating clients participation in decision making in project operation and management.

(ii) Supportive Services. You must describe how the supportive service needs of clients will be addressed from HOPWA or other sources by including: (A) the type of supportive services that will be offered and/or how services will be accessed and coordinated; (B) the names of the organizations providing the supportive services; (C) the connection of these services in helping clients obtain and/or maintain housing; (D) the roles and responsibilities of project sponsors and other organizations in undertaking these activities. If you propose to use more than 10% of your HOPWA funds for supportive services, emergency or transitional housing activities, to receive the highest number of rating points, you must address how you will meet your clients' permanent housing needs with HOPWA funds or funds from other sources. You can fulfill this commitment by allocating funds for housing vouchers for HOPWA clients or developing permanent housing with this grant or other sources.

(2) Model Qualities (20 Points). HUD will award up to 20 points based on your service delivery model plan and how well it addresses the ongoing housing and supportive service needs within a replicable operational framework. To receive the highest ratings in this factor, you must offer a plan that evidences a permanent housing arrangement and the following:

(a) Operational Procedures. You must describe your program's outreach, intake, and assessment procedures, as well as how clients will link to services and (if necessary) housing funded from other sources and how your project provides for consistent monitoring of all clients. You must include within this description how a client moves through the program from intake, assessment, service delivery, and finally to termination or linkage to other services.

(b) Project Management and Oversight. You must describe your method for coordinating the project sponsors' services whether for housing or related supportive services with your staff and volunteers, and any other organizations in order to benefit the clients; identify staff members who are responsible for described housing and supportive service tasks; and the ability of your operations to be self-sustaining beyond the life of this grant.

(c) Evaluation. Evaluation is defined as your method for collecting data on HUD program goals related to housing and related supportive services, as well as, your project's unique goals and objectives. HUD will assess your method for reviewing this data and other information on the program's operations and your basis for making relative adjustments based on outcomes and lessons learned from operation of your activities. HUD will provide a greater number of points for programs which will serve as a national model and which provide for the dissemination of information from the lessons learned from your proposed activities.

(d) Innovative Qualities. If you propose a new program, or an alternative method of meeting the needs of your clients, you should describe the innovative qualities of your activities. HUD will rate your applications higher if your justification for these innovations provide strong evidence that they will yield qualities that will benefit or expand our knowledge in offering assistance to persons living with HIV/AIDS and their families, when compared to other applications and HOPWA projects funded in the past. In order to learn about innovative qualities of previously funded and on-going HOPWA projects, please review the HOPWA Executive Summaries for all HOPWA formula and competitive grantees at http://www.hud.gov/cpd/hopwahom.html.

(e) Descriptive Budget. HUD will rate your budget in describing (i) how each amount of requested funding for you and your project sponsors will be used; (ii) how each line item will relate to eligible HOPWA activities as defined in Part B, Section III(C), of this program section of the SuperNOFA; and (iii) how specific line items match with the goals and objectives in your project. You must complete the HOPWA Project Budget Form as described in Part B, Section VI(E). Please note that only the forms are required and an additional narrative under the Model Qualities Section is not required.

Rating Factor 4: Leveraging Resources (10 Points)

This factor addresses your ability to secure community resources which can be combined with HUD's program resources to achieve program purposes. HUD will award up to 10 points based on the extent to which resources from other public or private sources have been committed at the time of application, to support your project. To achieve the highest ratings for this factor, you must evidence commitments of leveraged resources that match or exceed the amount of HOPWA funds that are requested, but not including funds designated for data collection.

In establishing leveraging, HUD will not consider other HOPWA-funded activities, entitlement benefits inuring to eligible persons, or conditioned commitments that depend on future fund-raising or actions. In assessing the use of acceptable leveraged resources, HUD will consider the likelihood that State and local resources will be available and continue during the operating period of your grant. In evaluating this factor HUD will also consider:

(1) The extent to which you document leveraged resources, such as funding and/or in-kind services from governmental entities, private organizations, resident management organizations, educational institutions, or other entities to achieve the purposes of the project for which you are requesting HOPWA funds.

(2) The extent to which the documented resources evidence that you have partnered with other entities to make more effective use of available public or private resources. Partnership arrangements may include funding or in-kind services from local governments or government agencies, nonprofit or for-profit entities, private organizations, educational institutions, or other entities that are willing to partner with you on proposed activities, or partnering with other program funding recipients to make more effective use of resources within the geographic area covered by your award.

To receive highest leveraging points, you must document the cash value of leveraged resources pledged to your project(s). Appropriate language is described below:

(i) Applicant or Third Party Cash Resources. If this proposal is funded, (applicant name or third party name) commits $(amount) (of its own funds, if applicant, or to applicant name, if third party) for (type of activity) to be made available to the HOPWA program. These funds will be available from (date) to (date). (Signature and Title of authorized representative and date)

(ii) Non-Cash Resources. If this proposal is funded, (organization's name) commits to make available (type of resource) valued at $(amount) to the HOPWA program proposed by (applicant name). These resources will be made available to the HOPWA program from (date) to (date). (Signature and Title of authorized representative and date) The donation of a third party professional service should be valued at the professional's customary charge. The value of materials to be contributed to the project by a third party or by the applicant may also be counted as leveraging.

(iii) Volunteer Time. If this proposal is funded, (name of the organization or of self), commits to provide (number of hours) of volunteer time from (date) to (date) to provide (type of activity) to the HOPWA program proposed by (applicant name). The total value of these services, based on $10.00 per hour, is $(amount). (Signature and Title, and date) Time to be contributed to the project by volunteers should be valued at $10.00 per hour. In the case of individuals volunteering their time directly to the applicant, the applicant should list itself as the organization.

(iv) Contribution of a Building. If this proposal is funded, (applicant name) pledges the building at (site address) to the HOPWA program. The building has a fair market value of $(amount). A licensed independent real estate appraiser made this assessment which is based on comparable properties in the area. (Signature of applicants authorized representative and date) Ownership of a building or portion of a building to be used in the project may be counted as leveraging. The fair market value of the building or portion of the building being contributed may be counted. Do not send an appraisal to HUD, but keep documentation of fair market value on file. The contribution of land (as a leveraged resource for new construction) should be treated the same as contribution of a building. You will need to keep documentation of the fair market value on file, particularly if it is improved land and you wish to include the value of the improvements in the contribution.

(v) Contribution of a Building to be Acquired with HOPWA Funds. If this proposal is funded, (applicant name) commits the building at (site address) for the HOPWA program. The building has a fair market value of $(amount). A licensed independent real estate appraiser made this assessment which is based on comparable properties in the area. The HOPWA request for the building is $(amount). Therefore, the contribution is the difference between the fair market value and the HOPWA request, or $(amount). (Signature of applicants authorized representative and date) The difference between the documented fair market value and the portion paid for with HOPWA funds may be counted as leveraging. Maintain documentation of fair rental value on file.

(vi) Contribution of Leasehold Interest. If this proposal is funded, (applicant name) commits the leasehold interest at (site address) for the HOPWA program. The fair rental value of this site is $(amount) annually, and at constant value will amount to $(amount) over (term of the lease, up to three years). An appropriate independent third party made this assessment which is based on comparable properties in the area. The total leasing cost over the term of the lease to be paid with HOPWA funds is $(amount). Therefore, the contribution is the difference between the HOPWA leasing cost and the fair rental value, or $(amount). (Signature of applicants authorized representative and date) The difference between the fair rental value (for a term up to three years) and the cost of the lease to be paid for with HOPWA funds may be counted as leveraging.

Rating Factor 5: Comprehensiveness and Coordination (10 Points)

Please address the following factor on not more than five (5) double-spaced, typed pages. This factor addresses the extent to which you coordinated the specific proposal with other known organizations, consulted prospective clients or persons with HIV/AIDS in designing your proposal, participates or promotes participation in the jurisdiction's Consolidated Planning process, and in a community's Continuum of Care Homeless Assistance planning process (if homeless persons are to be served by proposed activities), and is working towards addressing a need in a holistic and comprehensive manner through linkages with other activities in the community. HUD will award up to 10 points based on your proposal's comprehensiveness and coordination. In order to ensure that resources are used to their maximum effect within the community, it is important that you be involved in HUD's planning processes for community development and homeless assistance resources. If you, your sponsors, or others partnering with you have been involved in these processes, you should describe that involvement under this factor.

HUD will consider the extent to which your activities were planned with community involvement in a larger community or regional plans which links the provision of health care, supportive services, and housing. Also, how planned activities are proposed to be carried out with HOPWA funds and other resources in order to provide a comprehensive and responsive range of housing and related supportive services to meet the changing needs of persons with HIV/AIDS. Your proposal should demonstrate that housing is provided in conjunction with the client's access to health-care and other supportive services in the area to be served, including assistance provided under the Ryan White CARE Act programs.

In evaluating this factor, HUD will consider the extent to which you demonstrate you have:

(1) Coordinated your proposed activities with those of other groups or organizations prior to submission, to best complement, support, and coordinate all known activities; and if funded, the specific steps you will take to share information on solutions and outcomes with others. You should describe any written agreements, memoranda of understanding in place, or that will be in place after award.

(2) Been actively involved in your community's Continuum of Care Homeless Assistance planning process (if homeless persons are to be served by proposed activities), and/or the jurisdiction's Consolidated Planning process established to identify and address a need/problem that is related to the activities you propose to undertake.

In the case of technical assistance providers, you will be evaluated on the specific steps you will take to work with recipients of technical assistance services to inform them of, and get them involved in, the community's Continuum of Care Homeless Assistance planning process and/or the jurisdiction's Consolidated Planning process, as applicable. HUD will review more favorably your application if you can demonstrate you are active or are working with recipients of technical assistance to get them involved in local and State planning processes.

(3) Developed linkages, or specific steps you will take to develop linkages with other activities, programs or projects through meetings, information networks, planning processes, or other mechanisms, to coordinate your activities so solutions are holistic and comprehensive, including linkages with:

(a) Other HUD-funded projects/activities outside the scope of those covered by the Consolidated Plan; and (b) Other activities funded by the Federal, State, or local government, including those proposed or on-going in the community.

(E) Selection of HOPWA Awards. Whether your HOPWA application is conditionally selected will depend on your overall ranking compared to other applications within each of the two categories of assistance. HUD will select applications in rank order in each category of assistance to the extent that funds are available, except as noted below. In allocating amounts to the categories of assistance, HUD reserves the right to ensure that sufficient funds are available for the selection of at least one application with the highest ranking under each category of assistance. In selecting projects that target resources to underserved populations as outlined in Part B, Section III(D) in this program section of the SuperNOFA, HUD will ensure that up to (40) percent of the funds awarded for Special Projects of National Significance (SPNS) grants are awarded to applications with collaborations to serve underserved populations and HUD reserves the right to include in these awards at least one application that targets unmet needs in an underserved youth population.

If there is an insufficient request by applicants for funds targeting underserved populations, HUD will use remaining funds for the next highest ranked SPNS Applications in rank order.

HUD reserves the right to achieve greater diversity in the selection of applications by selecting the highest rated application in a State where no applicant has been the recipient of any prior HOPWA competitive grant or formula allocation over a higher rated application in a State that has received prior HOPWA funding. In selecting a lower rated application, HUD will not select an application that is rated below 50 points.

In the event of a tie between applications in a category of assistance, HUD reserves the right to break the tie: by selecting the proposal that increases geographic diversity as defined in the prior paragraph; and, if greater geographic diversity is not achievable, by selecting the proposal that was scored higher on a rating criterion in the following order: Soundness of Approach: Responsiveness and Model Qualities (Rating Factor 3); Comprehensiveness and Coordination (Rating Factor 5); the Capacity of the Applicant and Relevant Organizational Experience (Rating Factor 1); the Need/Extent of the Problem (Rating Factor 2); and Leveraging Resources (Rating Factor 4).

HUD will notify you in writing if you are conditionally selected. You may be notified subsequently of any modification made by HUD, the additional project information necessary for grant award, and the date of deadline for submission of the required information. In the event that a conditionally-selected applicant is unable to meet any conditions for fund award within the specified, HUD reserves the right not to award funds to the applicant, but use those funds to make awards to the next highest rated applications in this competition; to restore amounts to a funding request that had been reduced in this competition; or to add amounts to funds available for the next competition.

VI. Application Submission Requirements

Your HOPWA application must contain the following items in the order shown below. The standard forms can be found in Appendix B to the General Section of the SuperNOFA.

The remaining application items that are forms (i.e., excluding such items as narratives, letters), referred to as the “non-standard forms” can be found as Appendix D to this program section of the SuperNOFA: The items are as follows:

(A) Application for Federal Assistance (Form SF-424). You should complete Items 1 through 18 with the following additions:

Item 5—Add e-mail address of the contact person;

Item 7—The applicable letters are “A” for State; “B, C, or D” for a unit of local government; or “N” for Nonprofit;

Item 9—Enter U.S. Department of Housing and Urban Development or HUD if not preprinted

Item 10—Enter 14—21 and the title “Housing Opportunities for Persons with AIDS Program” or “HOPWA” for the Catalogue of Federal Domestic Assistance;

Item 15—You must complete the budget on HUD-SF-424M and the HOPWA Project Budget Form. Please make sure that both the Total Amount on HUD-SF-424M and the “Total Budget” section on the HOPWA Project Budget Form are the same. In the event that the total budgets are in conflict, HUD will refer to the HOPWA Project Budget form.

Item 16—Check “No”.

(B) Executive Summary and Synopsis. Please provide a two to three sentence synopsis of the proposed program, followed by an Executive Summary of the proposed project on no more than two double-spaced, typed pages. HUD will use this as a summary if your project is chosen for funding. In your abstract, include your organization's name and the name of any project sponsor.

(C) Narrative Statements. Your application must include narrative statements that address each of the Factors for Award found at Part B, Section V(D) of this program section of the SuperNOFA. Respond to each factor within the stated page limits and do not use a font size smaller than 12 point. Applications failing to submit any of the narrative statements will be rated as zero during the rating process.

(D) Proposed HOPWA Project Information Form. See Appendix D in program section of SuperNOFA. Complete the form including the following:

(1) Project Sponsors. You must identify any organization that will receive HOPWA funds as a project sponsor and the amount of funds to be received.

(2) Non-profit Status. Non-profit grantees or project sponsors must submit documentation verifying your non-profit status, as outlined under Part B, Section III, Eligible Applicants and Project Sponsors, in this program section of the SuperNOFA.

(3) Service Areas. Your application must identify the area(s) in which you are proposing to offer housing and other assistance.

(E) Budget. You must complete the HOPWA Project Budget Form found in Appendix D of this program section of the SuperNOFA which lists the amount of requested HOPWA funds designated for each type of HOPWA-eligible activity. For more information, please see Part B, Section IV(C), Program Requirements, and Paragraph (2)(e) of Rating Factor 3, Soundness of Approach.

(F) Statutory Certifications. HOPWA applicants are not required to provide the forms, certifications, and assurances listed in the General Section of the SuperNOFA unless stated below. Additionally, the requirement to Affirmatively Further Fair Housing does not apply to the HOPWA program. The following certifications are required by law for funding and should be included with your application. All certifications and forms, except those found in the General Section of the SuperNOFA, are included in the appendixes to the program section of this SuperNOFA.

(1) Consolidated Plan Certification. Except as stated below, you must include a Consolidated Plan (hereafter called the plan) certification from the applicable State or local government official responsible for submitting the appropriate plan. If your project will be carried out on a national basis or will be located on a reservation of an Indian tribe, Guam, the Virgin Islands, American Samoa, or the Northern Mariana Islands you are not required to include a Consolidated Plan certification with your application. This certification must be signed by the authorizing official from the State or local government. (See the General Section of the SuperNOFA.)

(2) Certifications. The following certifications are required as stated in Section II(G) of the General Section of the SuperNOFA: HUD-50070, Certification of Drug-Free Workplace; and SF-LLL, Disclosure of Lobbying Activities (if applicable).

(3) HOPWA Applicant Certifications. The required HOPWA certifications cover the following items: (i) fair housing and non-discrimination; (ii) uniform relocation assistance; (iii) environmental law and authorities; (iv) continued use periods for structures assisted; and (v) debarred, suspended and ineligible principals requirements. (See Appendix D to this program section of the SuperNOFA.)

(4) Certification of Consistency with EZ/EC Strategic Plan. This may be submitted as directed in the General Section of the SuperNOFA.

(5) HUD-2880, Applicant/Recipient Disclosure Update Report. This must be signed by you the applicant.

After your entire application is assembled, please mark each exhibit with an appropriately numbered tab and number every page of the application sequentially. Complete the HOPWA Application Checklist found in Appendix D to this program section of the SuperNOFA. Attach the HOPWA Application Checklist to the front of your application.

VII. Corrections to Deficient Applications

The General Section of the SuperNOFA provides the procedures for corrections to deficient applications.

VIII. Other Requirements

(A) Environmental Requirements. All HOPWA assistance is subject to the National Environmental Policy Act and applicable related Federal environmental authorities. In accordance with Section 856(h) of the AIDS Housing Opportunities Act, as added by Section 203 (c) of Public Law 106-377 (114 Stat. 1441, approved October 27, 2000), environmental reviews for HOPWA activities are to be completed by responsible entities (including units of general local government, States, Indian tribes and Alaska Native villages) in accordance with 24 CFR Part 58. Applicants or grantees that are not States or units of general local government must request, the unit of general local government to perform the environmental review. This statutory provision supersedes the environmental provisions in the HOPWA regulation at 24 CFR 57.510. HOPWA grantees and project sponsors may not commit or expend any grant of nonfederal funds on project activities (other than those listed in 24 CFR 58.34 or 58.35 (b)) until HUD has approved a Request for Release of Funds and environmental certification from the responsible entity. The expenditure or commitment of HOPWA or nonfederal funds for such activities prior to this HUD approval may result in the denial of assistance for the project under consideration.

(B) Local Resident Employment (Section 3 Requirements). For grants in excess of $200,000, to the extent that any housing assistance funded through this program section of the SuperNOFA is used for housing rehabilitation (including reduction and abatement of lead-based paint hazards, but excluding routine maintenance, repair, and replacement) or housing construction, then it is subject to section 3 of the Housing and Urban Rehabilitation Act of 1968,as amended, and the implementing regulations at 24 CFR part 135. Section 3 requires that economic opportunities generated by certain HUD financial assistance for housing and community development programs shall, to the greatest extent feasible, be given to low-and very low-income persons, particularly those who are recipients of government assistance for housing, and to businesses that provide economic opportunities for these persons.

(C) Lead-Based Paint Requirement. The grantee and program sponsor must comply with the existing requirements of the Lead Based Paint Poisoning Prevention Act (42 U.S.C. 4821-4846) and implementing regulations at 24 CFR part 35, as applicable.

IX. Authority

This program is authorized under the AIDS Housing Opportunity Act (42 U.S.C. 12901). The regulations for HOPWA are found at 24 CFR part 574.

BILLING CODE 4210-32-P

FUNDING AVAILABILITY FOR SECTION 202 SUPPORTIVE HOUSING FOR THE ELDERLY PROGRAM (SECTION 202 PROGRAM)

Program Overview

Purpose of the Program. This program provides supportive housing for very low-income persons 62 years of age or older.

Available Funds. Approximately $495.9 million.

Eligible Applicants. Private nonprofit organizations and nonprofit consumer cooperatives (see Section III(B) of this NOFA). (See Section IX of this NOFA for information regarding the formation of the Owner corporation).

Eligible Activities. New construction, rehabilitation, or acquisition of housing with or without rehabilitation (see Section III(C) of this NOFA).

Application Deadline. May 25, 2001.

Match Requirements. No.

Additional Information

If you are interested in applying for funding under this program, please review carefully the General Section of this SuperNOFA and the following additional information.

I. Application Due Date, Application Kits, Further Information, and Technical Assistance

Application Due Date. Submit your completed applications on or before 6:00 pm, local time, on May 25, 2001, at the address shown below.

See the General Section of this SuperNOFA for specific procedures governing the form of application submission (e.g., mailed applications, express mail, overnight delivery, or hand carried).

Address for Submitting Applications. Submit your completed application (an original and four copies) to the Director of the appropriate Multifamily Hub Office or Multifamily Program Center as listed in Appendix A to the Section 811 program section of this SuperNOFA with the following exceptions:

1. Applications for projects proposed to be located within the jurisdiction of the Seattle, Washington and the Anchorage, Alaska Offices must be submitted to the Portland, Oregon Office.

2. Applications for projects proposed to be located within the jurisdiction of the Sacramento, California Office must be submitted to the San Francisco, California Office.

3. Applications for projects proposed to be located within the jurisdiction of the Cincinnati, Ohio Office must be submitted to the Columbus, Ohio Office.

4. Applications for projects proposed to be located within the jurisdiction of the Washington, DC Office must be submitted to the Baltimore, Maryland Office.

The application kit also includes a listing of the Multifamily Hubs and Program Centers, their addresses and telephone numbers, including TTY numbers. This information is also available from HUD's SuperNOFA Information Center at 1-800-HUD-8929 and from the Internet through the HUD web site at http://www.hud.gov. Persons with hearing or speech impairments may call the Center's TTY number at 1-800-HUD-2209.

For Application Kits. For an application kit and any supplemental materials, please call HUD's SuperNOFA Information Center at 1-800-HUD-8929. Persons with hearing or speech impairments may call the Center's TTY number at 1-800-HUD-2209. When requesting an application kit, please refer to the Section 202 Program and provide your name, address (including zip code), and telephone number (including area code). The application kit also will be available on the Internet through the HUD web site at http://www.hud.gov and from the appropriate Multifamily Hub or Multifamily Program Center.

For Further Information and Technical Assistance. You may contact the appropriate Multifamily Hub Office or Multifamily Program Center, Evelyn Berry at HUD Headquarters at (202) 708-2866, or access the Internet at http://www.hud.gov.

HUD encourages minority organizations to participate in this program and strongly recommends that prospective applicants attend the local HUD Office workshop. At the workshops, HUD will explain application procedures and requirements as well as address concerns such as local market conditions, building codes and accessibility requirements, historic preservation, floodplain management, displacement and relocation, zoning, and housing costs. If you are interested in attending the workshop, make sure that your name, address and telephone number are on the appropriate HUD Office's mailing list so that you will be informed of the date, time and place of the workshop. Persons with disabilities should call the appropriate HUD Office to ensure that any necessary arrangements can be made to enable your attendance and participation in the workshop.

If you cannot attend the workshop, call the appropriate HUD Office if you have any questions concerning the submission of applications to that particular office and to request any materials distributed at the workshop.

Satellite Broadcast. HUD will hold an information broadcast via satellite for potential applicants to learn more about the program and preparation of the application. For more information about the date and time of the broadcast, you should consult the HUD web site at http://www.hud.gov.

II. Amount Allocated

For FY 2001, $495,915,966 is available for capital advances for the supportive housing for the elderly program. The FY 2001 HUD Appropriations Act (HUD Appropriations Act) provides $679,000,000 for capital advances, including amendments to capital advance contracts, for supportive housing for the elderly as authorized by section 202 of the Housing Act of 1959, and for project rental assistance, and amendments to contracts for project rental assistance, for supportive housing for the elderly under section 202(c)(2) of the Housing Act of 1959. Of this amount, $500,000 shall be transferred to the Working Capital Fund for the development and maintenance of information technology systems.

In accordance with the waiver authority provided in the HUD Appropriations Act, the Secretary is waiving the following statutory and regulatory provision: the term of the project rental assistance contract is reduced from 20 years to 5 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for Section 202 reflects the “relevant characteristics of prospective program participants,” as specified in 24 CFR 791.402(a). The FY 2001 formula consists of one data element: a measure of the number of one and two person renter households with incomes at or below HUD's Very-low Income Limit (50 percent of area median family income, as determined by HUD, with an adjustment for household size), which have housing deficiencies. The counts of elderly renter households with housing deficiencies were taken from a special tabulation of the 1990 Decennial Census. The formula focuses the allocation on targeting the funds based on the unmet needs of elderly renter households with housing problems.

Under Section 202, 85 percent of the total capital advance amount is allocated to metropolitan areas and 15 percent to nonmetropolitan areas. In addition, each HUD Office jurisdiction receives sufficient capital advance funds for a minimum of 20 units in metropolitan areas and 5 units in nonmetropolitan areas. The total amount of capital advance funds to support these minimum set-asides are subtracted from the respective (metropolitan or nonmetropolitan) total capital advance amounts available. The remainder is fair shared to each HUD Office jurisdiction whose fair share exceeds the minimum set-aside based on the allocation formula fair share factors described below. NOTE: The allocations for metropolitan and nonmetropolitan portions of the Multifamily Hub or Program Center jurisdictions reflect the most current definitions of metropolitan and nonmetropolitan areas, as defined by the Office of Management and Budget.

A fair share factor is developed for each metropolitan and nonmetropolitan portion of each local HUD Office jurisdiction by dividing the number of renter households for the jurisdiction by the total number of rental households in the United States. The resulting percentage for each local HUD Office jurisdiction is then adjusted to reflect the relative cost of providing housing among the HUD Office jurisdictions. The adjusted needs percentage for the applicable metropolitan or nonmetropolitan portion of each jurisdiction is then multiplied by the respective total remaining capital advance funds available nationwide.

Based on the allocation formula, HUD has allocated the available capital advance funds as shown on the following chart:

BILLING CODE 4210-32-P

BILLING CODE 4210-32-C

III. Program Description; Eligible Applicants; Eligible Activities

(A) Program Description. HUD provides capital advances and contracts for project rental assistance in accordance with 24 CFR part 891. Capital Advances may be used for the construction or rehabilitation of a structure, or acquisition of a structure with or without rehabilitation (including structures from the Federal Deposit Insurance Corporation (formerly held by the Resolution Trust Corporation (FDIC/RTC)). Capital Advance funds bear no interest and are based on development cost limits published in this SuperNOFA. Repayment of the capital advance is not required as long as the housing remains available for occupancy by very low-income elderly persons for at least 40 years.

Project rental assistance contract (PRAC) funds are used to cover the difference between what the residents pay for rent and the HUD-approved expense to operate the project. Project Rental Assistance Contract funds may also be used to provide supportive services and to hire a service coordinator in those projects serving the frail elderly residents. The supportive services must be appropriate to the category or categories of frail elderly residents to be served.

(B) Eligible Applicants. Private nonprofit organizations and nonprofit consumer cooperatives are the only eligible applicants under this Section 202 Program. Neither a public body nor an instrumentality of a public body is eligible to participate in the program.

A Sponsor or Co-sponsor may not apply for more than 200 units of housing for the elderly in a single Hub or more than 10 percent of the total units allocated to all HUD Offices. Also, no single application may propose more than the number of units allocated to a HUD office or 125 units, whichever is less. Reservations for projects will not be approved for fewer than 5 units. Affiliated entities that submit separate applications are considered to be a single entity for the purpose of these limits.

(C) Eligible Activities. Section 202 capital advance funds must be used to finance the development of housing through new construction, rehabilitation, or acquisition of housing with or without rehabilitation. Capital advance funds may also be used in combination with other non-Section 202 funding sources to develop additional units for a mixed-finance or mixed-used project. Project Rental Assistance funds are provided to cover the difference between the HUD-approved operating costs and the amount the residents pay (each resident pays 30 percent of adjusted income) as well as to provide supportive services to frail elderly residents. In projects principally serving the frail elderly, eligible costs include the salary of a service coordinator.

Note: For purposes of approving Section 202 capital advances, HUD will consider proposals involving mixed-financing or a mixed-use purpose for additional units. However, you must obtain funds to assist the additional units with other than PRAC funds. HUD will not provide PRAC funds for non-Section 202 units.

(D) Ineligible Activities. Section 202 funds may not be used for nursing homes, infirmaries, medical facilities, mobile home projects, community centers, headquarters for organizations for the elderly, nonhousekeeping accommodations, or refinancing of sponsor-owned facilities without rehabilitation.

IV. Program Requirements

In addition to the program requirements listed in the General Section of this SuperNOFA, as an applicant, you must comply with the following requirements:

(A) Statutory and Regulatory Requirements. You must comply with all Section 202 Program statutory and regulatory requirements, as listed in Sections III, IV and X of this program section of the SuperNOFA.

(B) HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS' comments in its review and application selection process.

(C) Development Cost Limits. (1) The following development cost limits, adjusted by locality as described in Section IV(C)(2) of this program section of the SuperNOFA, below, will be used to determine the capital advance amount to be reserved for projects for the elderly:

(a) The total development cost of the property or project attributable to dwelling use (less the incremental development cost and the capitalized operating costs associated with any excess amenities and design features you must pay for) may not exceed:

Nonelevator structures:

$41,238 per family unit without a bedroom;

$47,548 per family unit with one bedroom;

$57,344 per family unit with two bedrooms;

For elevator structures:

$43,398 per family unit without a bedroom;

$49,748 per family unit with one bedroom;

$60,493 per family unit with two bedrooms.

(b) These cost limits reflect those costs reasonable and necessary to develop a project of modest design that complies with HUD minimum property standards; the accessibility requirements of § 891.120(b); and the project design and cost standards of § 891.120 and § 891.210.

(2) Increased development cost limits.

(a) HUD may increase the development cost limits set forth in Section IV(C)(1) of this program section of the SuperNOFA, above, by up to 140 percent in any geographic area where the cost levels require, and may increase the development cost limits by up to 160 percent on a project-by-project basis. This increase may include covering additional costs to make dwelling units accessible through rehabilitation.

(b) If HUD finds that high construction costs in Alaska, Guam, the Virgin Islands, or Hawaii make it infeasible to construct dwellings, without the sacrifice of sound standards of construction, design, and livability, within the development cost limits provided in Section IV(C)(1) of this program section of the SuperNOFA, above, the amount of the capital advances may be increased to compensate for such costs. The increase may not exceed the limits established under this section (including any high cost area adjustment) by more than 50 percent.

(D) Minimum Capital Investment. Selected nonprofit organizations must provide a minimum capital investment of one-half of one percent of the HUD-approved capital advance amount, not to exceed $10,000 in accordance with § 891.145, with the following exception. If you, as Sponsor or Co-Sponsor, have one or more Section 202 or one or more Section 811 project(s) under reservation, construction, or management in two or more different HUD geographical regions (Hubs), the minimum capital investment shall be one half of one percent of the HUD-approved capital advance amount, not to exceed $25,000.

(E) Economic Opportunities for Low and Very Low-Income Persons (Section 3). You must comply with section 3 of the Housing and Urban Development Act of 1968, 12 U.S.C. 1701u (Economic Opportunities for Low and Very Low Income Persons), and its implementing regulations at 24 CFR part 135. You must ensure that training, employment and other economic opportunities shall, to the greatest extent feasible, be directed toward low- and very low-income persons, particularly those who are recipients of government assistance for housing and to business concerns which provide economic opportunities to low and very low income persons. To comply with section 3 requirements, you are required to certify that you will strongly encourage your general contractor and subcontractors to participate in local apprenticeship programs or training programs registered with or certified by the Department of Labor's Bureau of Apprenticeship and Training or recognized State Apprenticeship Agency (see section VI(B)(7)(k)(ii) of this program section of the SuperNOFA).

(F) Applicability of Acquisition of Sites under the Uniform Relocation Assistance and Real Property Acquisition Act of 1970, as amended. The acquisition of sites, with or without existing structures, is subject to the Uniform Relocation Assistance and Real Property Acquisition Act of 1970, as amended (URA). However, you are exempt from complying with the site acquisition requirements of the URA if you do not have the power of eminent domain and prior to entering into a contract of sale, option to purchase or any other method of obtaining site control, you inform the seller of the land (1) that you do not have the power of eminent domain and, therefore, you will not acquire the property if negotiations fail to result in an amicable agreement, and (2) of the estimate of the fair market value of the property. An appraisal is not required to meet this requirement, however, your files must include an explanation, with reasonable evidence, of the basis for the estimate.

V. Application Selection Process

(A) Review for Curable Deficiencies. HUD will screen all applications received by the deadline for curable deficiencies. A curable deficiency is a missing Exhibit or portion of an Exhibit that will not affect the rating of the application. The following is a list of the deficiencies that will be considered curable in a Section 202 application:

Exhibits

(1) Form 92015-CA (Application Form)*

(2)(a) Articles of Incorporation*

(b) By-laws*

(c) IRS tax exemption ruling*

(4)(c)(ii) Energy efficiency

(d)(i) Evidence of site control

(d)(ii) Evidence site is free of limitations, restrictions or reverters

(d)(iii) Evidence of permissive zoning

(d)(vi) Phase I Environmental Site Assessment

(d)(vii) Letter from State Historic Preservation Officer (SHPO)

(5) Applications submitted to other Offices

(6) Relocation

(7)(a) Standard Form 424, Application for Federal Assistance*

(b) HUD-50070, Certification of a Drug-free Workplace

(c) Form-HUD 50071, Certification of Payments to Influence Federal Transactions and Standard Form-LLL, Disclosure of Lobbying Activities

(d) Form-HUD 2880, Applicant/Recipient Disclosure/Update Report

(e) Form-HUD 2992, Certification Regarding Debarment and Suspension

(f) Executive Order 12372 Certification

(g) Form-HUD 2991, Certification of Consistency with Consolidated Plan

(h) Conflict of Interest Resolution

(i) Resolution for Commitment to Project*

(k) Combined Certifications

The HUD Office will notify you in writing if your application is missing any of the exhibits or portions of exhibits and you will be given 14 days from the date of the HUD notification to submit the information required to cure the noted deficiencies. The items identified by an asterisk (*) must be dated on or before the application deadline date.

(B) Rating. HUD will review and rate your application in accordance with the Application Selection Process in the General Section of this SuperNOFA with the following exception. HUD will not reject your application based on technical review without notifying you of that rejection with all the reasons for rejection, and providing you an opportunity to appeal. You will have 14 calendar days from the date of HUD's written notice to appeal a technical rejection to the HUD office. If the rejection is due to the nonsubmission of the following exhibits because of the failure of a third party to provide information under the control of the third party but outside your control (e.g., by contract), and you were not provided the opportunity to cure the deficiency during the curable deficiency period, you can submit the information required to cure the deficiency during the 14 calendar day appeal period:

(1) Exhibit 4(d)(iii), Evidence of permissive zoning, and/or

(2) Exhibit 7(g), Form-HUD 2991, Certification of Consistency with the Consolidated Plan.

The information required to cure the above identified deficiencies includes the deficient Exhibit and documentation showing that the information had been requested from the third party at least 45 days prior to the application deadline date.

The HUD office will make a determination on an appeal before making its selection recommendations. All applications will be either rated or technically rejected at the end of technical review. If your application meets all program eligibility requirements after completion of technical review, it will be rated according to the rating factors in Section V(D) of this Section 202 Program section of the SuperNOFA.

(C) Ranking and Selection Procedures. Applications submitted in response to the advertised metropolitan allocations or nonmetropolitan allocations that have a total base score (without the addition of EC/EZ bonus points) of 60 points or more and meet all of the applicable threshold requirements of Section II(B) of the General Section of the SuperNOFA will be eligible for selection, and HUD will place them in rank order per metropolitan or nonmetropolitan allocation. These applications, after adding any bonus points for EC/EZ, will be selected based on rank order, up to and including the last application that can be funded out of each HUD office's metropolitan or nonmetropolitan allocation. HUD offices must not skip over any applications in order to select one based on the funds remaining. After making the initial selections in each allocation area, however, HUD may use any residual funds to select the next rank-ordered application by reducing the number of units by no more than 10 percent, rounded to the nearest whole number, provided the reduction will not render the project infeasible. For this purpose, however, HUD will not reduce the number of units in projects of five units or less.

Once this process has been completed, HUD offices may combine their unused metropolitan and nonmetropolitan funds in order to select the next ranked application in either category, using the unit reduction policy described above, if necessary.

After the offices have funded all possible projects based on the process above, combined metropolitan and nonmetropolitan residual funds from all HUD Offices in each Multifamily Hub will be combined. These funds will be used first to restore units to projects reduced by HUD offices based on the above instructions. Second, additional applications within each Multifamily Hub will be selected in rank order with only one application selected per HUD Office. More than one application may be selected per HUD Office if there are no approvable applications in other HUD Offices within the Multifamily Hub. This process will continue until there are no more approvable applications within the Multifamily Hub that can be selected with the remaining funds. Applications may not be skipped over to select one based on funds remaining. However, HUD may use any remaining residual funds to select the next rank-ordered application by reducing the number of units by no more than 10 percent rounded to the nearest whole number, provided the reduction will not render the project infeasible or result in the project being less than five units.

Funds remaining after these processes are completed will be returned to Headquarters. HUD Headquarters will use these residual funds first to fund Mercy Charities Housing California, Cathedral City, California, in the jurisdiction of the HUD Los Angeles HUB, a FY 2000 Section 202 application which was not funded due to HUD error. Second, HUD Headquarters will use these funds to restore units to projects reduced by HUD offices as a result of the instructions for using their residual funds. Finally, HUD Headquarters will use these funds for selecting applications based on field offices' rankings beginning with the highest rated application nationwide. However, after restoring units to projects where necessary, priority will be given to those applications for projects in non-metropolitan areas, if necessary to meet the statutory requirement pertaining to Section 202 funding in non-metropolitan areas. Only one application will be selected per HUD office from the national residual amount. If there are no approvable applications in other HUD offices, the process will begin with the selection of the next highest rated application nationwide. This process will continue until all approvable applications are selected using the available remaining funds.

(D) Factors For Award Used To Evaluate and Rate Applications. HUD will rate applications that successfully complete technical processing using the Rating Factors set forth below and in accordance with the application submission requirements identified in Section VI(B) below. The maximum number of points an application may receive under this program is 102. This includes two EZ/EC bonus points, as described in the General Section of the SuperNOFA.

Rating Factor 1: Capacity of the Applicant and Relevant Organizational Staff (25 Points)

This factor addresses the extent to which you have the organizational resources to successfully implement the proposed activities in a timely manner. Submit information responding to this factor in accordance with Application Submission Requirements in paragraphs (B)(2), (B)(3)(a), (B)(3)(b), and (B)(3)(e) of Section VI of this program section of the SuperNOFA.

In rating this factor, HUD will consider the extent to which your application demonstrates your ability to develop and operate the proposed housing on a long-term basis, considering the following:

(a) (15 points) The scope, extent, and quality of your experience in providing housing or related services to those proposed to be served by the project and the scope of the proposed project (i.e., number of units, services, relocation costs, development, and operation) in relationship to your demonstrated development and management capacity as well as your financial management capability; and

(b) (10 points) The scope, extent, and quality of your experience in providing housing or related services to minority persons or families as well as your ties to the community at large and to the minority and elderly communities in particular. For purposes of this program section of the SuperNOFA, “minority” means the basic racial and ethnic categories for Federal statistics and administrative reporting, as defined in OMB's Statistical and Policy Directive No. 15. (See 62 FR 58782, October 30, 1997.).

Rating Factor 2: Need/Extent of the Problem (15 Points)

This factor addresses the extent to which there is a need for funding the proposed activities to address a documented problem in the target area. Submit information responding to this factor in accordance with Application Submission Requirements in paragraphs (B)(4)(a) and (B)(4)(b) of Section VI of this program section of the SuperNOFA. In evaluating this factor, HUD will consider:

The extent of the need for the project in the area based on a determination by the HUD Office. In making this determination, HUD will consider your evidence of need in the area, as well as other economic, demographic, and housing market data available to the HUD office. The data could include information on the number of existing Federally assisted housing units (HUD and RHS) for the elderly in the area and current occupancy in such facilities; Federally assisted housing for the elderly under construction or for which fund reservations have been issued; and in accordance with an agreement between HUD and the RHS, comments from the RHS on the demand for additional assisted housing and the possible harm to existing projects in the same housing market area. The Department will also review more favorably those applications which establish a connection between the proposed project and the community's Analysis of Impediments to Fair Housing Choice (AI) or other planning document that analyzes fair housing issues and is prepared by a local planning or similar organization. You must show how your proposed project will address an impediment to fair housing choice described in the AI or meet a need identified in the other type of planning document.

Rating Factor 3: Soundness of Approach (40 Points)

This factor addresses the quality and effectiveness of your proposal. There must be a clear relationship between your proposed activities, the community's needs and purposes of the program funding for your application to receive points for this factor. Submit information responding to this factor in accordance with Application Submission Requirements in paragraphs (B)(4)(c), (B)(4)(d) and (B)(4)(e) of Section VI of this program section of the SuperNOFA. In evaluating this factor, HUD will consider the following:

(a) (15 points) The proximity or accessibility of the site to shopping, medical facilities, transportation, places of worship, recreational facilities, places of employment, and other necessary services to the intended occupants; adequacy of utilities and streets; freedom of the site from adverse environmental conditions; compliance with site and neighborhood standards (24 CFR 891.125(a), (d) and (e));

(b) (10 points) The suitability of the site from the standpoints of promoting a greater choice of housing opportunities for minority elderly persons/families, and affirmatively furthering fair housing. In reviewing this criterion, HUD will assess whether the site meets the site and neighborhood standards at 24 CFR 891.125(b) and (c) by examining relevant data in your application or in the HUD Office. Where appropriate, HUD may visit the site.

(i) The site will be deemed acceptable if it increases housing choice and opportunity by:

—Expanding housing opportunities in non-minority neighborhoods (if located in such a neighborhood); or

—Contributing to the revitalization of and reinvestment in minority neighborhoods, including improvement of the level, quality and affordability of services furnished to minority elderly. You should refer to the Site and Neighborhood Standards provisions of the regulations governing the Section 202 Supportive Housing for the Elderly program (24 CFR 891.125(b) and (c)) when considering sites for your project.

(ii) For the purpose of this competition, the term “minority neighborhood (area of minority concentration)” is defined as one where any one of the following statistical conditions exists:

—The percentage of persons of a particular racial or ethnic minority is at least 20 points higher than the minority's or combination of minorities' percentage in the housing market as a whole; or,

—The neighborhood's total percentage of minority persons is at least 20 points higher than the total percentage of minorities for the housing market as a whole; or,

—In the case of a metropolitan area, the neighborhood's total percentage of minority persons exceeds 50 percent of its population. The term “nonminority area” is defined as one in which the minority population is lower than 10 percent.

(c) (3 points) The extent to which your proposed design will meet the special physical needs of elderly persons;

(d) (3 points) The extent to which the proposed size and unit mix of the housing will enable you to manage and operate the housing efficiently and ensure that the provision of supportive services will be accomplished in an economical fashion;

(e) (3 points) The extent to which the proposed design of the housing will accommodate the provision of supportive services that are expected to be needed, initially and over the useful life of the housing, by the category or categories of elderly persons the housing is intended to serve;

(f) (3 points) The extent to which the proposed supportive services meet the identified needs of the anticipated residents; and

(g) (3 points) The extent to which you demonstrate that the identified supportive services will be provided on a consistent, long-term basis.

Rating Factor 4: Leveraging Resources (10 Points)

This factor addresses your ability to secure other community resources which can be combined with HUD's program resources to achieve program purposes. Submit information responding to this factor in accordance with Application Submission Requirements in paragraphs (B)(3)(c) and (B)(3)(d) of Section VI of this program section of the SuperNOFA.

(a) (5 points) The extent of local government support (including financial assistance, donation of land, provision of services, etc.) for the project; and

(b) (5 points) The extent of your activities in the community, including previous experience in serving the area where the project is to be located, and your demonstrated ability to enlist volunteers and raise local funds.

Rating Factor 5: Comprehensiveness and Coordination (10 Points)

This factor addresses the extent to which you coordinated your activities with other known organizations, participate or promote participation in the community's Consolidated Planning process, and are working toward addressing a need in a holistic and comprehensive manner through linkages with other activities in the community. Submit information responding to this factor in accordance with Application Submission Requirements in paragraphs (B)(3)(f), (B)(3)(g), (B)(3)(h) and (B)(3)(i) of Section VI of this program section of the SuperNOFA.

(a) (4 points) Your involvement of elderly persons, particularly minority elderly persons, in the development of the application, and your intent to involve elderly persons, particularly minority elderly persons, in the development and operation of the project;

(b) (2 points) The extent to which you coordinated your application with other organizations to complement and/or support the proposed project;

(c) (2 points) The extent to which you demonstrated that you have been actively involved, or if not currently active, the steps you will take to become actively involved in the community's Consolidated Planning process to identify and address a need/problem that is related in whole or part, directly or indirectly to the proposed project;

(d) (2 points) The extent to which you developed or plan to develop linkages with other activities, programs or projects related to the proposed project to coordinate your activities so solutions are holistic and comprehensive; and

Bonus Points

(2 bonus points) Location of proposed site in an EZ/EC area, as described in the General Section of this SuperNOFA. Submit the information responding to the bonus points in accordance with the Application Submission Requirements in paragraph (B)(7)(j) of Section VI of this program section of the SuperNOFA.

VI. Application Submission Requirements

(A) Application. Your application must include all of the information, materials, forms, and exhibits listed in Section VI(B) of this program section of the SuperNOFA (unless you were selected for a Section 202 fund reservation within the last three funding cycles). If you qualify for this exception, you are not required to submit the information described in Sections VI(B)(2)(a), (b), and (c) of this program section of the SuperNOFA (Exhibits 2.a., b., and c. of the application kit), which are the articles of incorporation, (or other organizational documents), by-laws, and the IRS tax exemption, respectively. If there has been a change in any of these documents since your previous HUD approval, you must submit the updated information in your application. HUD offices will verify your indication of previous HUD approval by checking the project number and approval status with the appropriate HUD Office based on the information submitted in response to Section VI(B)(2) below.

In addition to this relief of paperwork burden in preparing applications, you will be able to submit information and exhibits you have previously prepared for prior applications under Section 202, Section 811, or other funding programs. Examples of exhibits that may be readily adapted or amended to decrease the burden of application preparation include, among others, those on previous participation in the Section 202 or Section 811 Programs, your experience in provision of housing and services, supportive services plan, community ties, and experience serving minorities.

(B) General Application Requirements. Your application must contain the items listed in this Section VI(B). These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found as Appendix B to this program section of the SuperNOFA. The items are as follows:

(1) Form HUD-92015-CA, Application for Section 202 Supportive Housing Capital Advance.

(2) Evidence of your and each Co-Sponsor's legal status as a private nonprofit organization or nonprofit consumer cooperative, including the following:

(2)(a) Articles of Incorporation, constitution, or other organizational documents;

(2)(b) By-laws;

(2)(c) IRS tax exemption ruling (this must be submitted by you and each Co-Sponsor, including churches). A consumer cooperative that is tax exempt under State law, has never been liable for payment of Federal income taxes, and does not pay patronage dividends may be exempt from the requirement set out in the previous sentence if it is not eligible for tax exemption.

Note: If you received a section 202 fund reservation within the last three funding cycles, you are not required to submit the documents described in paragraphs (2)(a), (2)(b), and (2)(c), above. Instead, you must submit the project number of the latest application selected and the HUD office to which it was submitted. If there have been any modifications or additions to the subject documents, indicate such, and submit the new material.

(3) A description of your purpose, community ties, and experience, including the following:

(3)(a) A description of your purpose, current activities and how long you have been in existence;

(3)(b) A description of your ties to the community at large and to the minority and elderly communities in particular;

(3)(c) A description of local government support for the project (including financial assistance, donation of land, provision of services, etc.);

(3)(d) Letters of support for your organization and for the proposed project from organizations familiar with the housing and supportive services needs of the elderly that you expect to serve in the proposed project;

(3)(e) A description of your housing and/or supportive services experience. The description should include any rental housing projects and/or supportive services facilities that you have sponsored, owned, and/or operated; your past or current involvement in any programs other than housing that demonstrates your management capabilities (including financial management) and experience; your experience in serving the elderly, including elderly persons with disabilities, and/or families and minorities; and the reasons for receiving any increases in fund reservations for developing and/or operating previously funded Section 202 or Section 811 projects. The description should include data on the facilities and services provided, the racial/ethnic composition of the populations served, if available, and information and testimonials from residents or community leaders on the quality of the activities. Examples of activities that could be described include housing counseling, nutrition and food services, special housing referral, screening and information projects.

(3)(f) A description, if applicable, of your efforts to involve elderly persons, including minority elderly persons, in the development of the application, as well as your intent to involve elderly persons in the development and operation of the project.

(3)(g) A description of the steps you took to identify and coordinate your application with other organizations to complement and/or support the proposed project as well as the steps you will take, if funded, to share information on solutions and outcomes relative to the development of the proposed project.

(3)(h) A description of your involvement in the community's Consolidated Planning process including:

(3)(h)(i) An identification of the lead/facilitating agency that organizes/administers the process;

(3)(h)(ii) An identification of the Consolidated Plan issue areas in which you participate;

(3)(h)(iii) Your level of participation in the process, including active involvement with any neighborhood-based organizations, associations, or any committees that support programs and activities that enhance projects or the lives of residents of the projects, such as the one proposed in your application.

If you are not currently active, describe the specific steps you will take to become active in the Consolidated Planning process. (Consult the local HUD Office for the identification of the Consolidated Plan community process for the appropriate area.)

(3)(i) A description of the linkages that you have developed or plan to develop with other related activities, programs or projects in order that the development of the project provides a comprehensive and holistic solution to the needs of the target population.

(4) Project information, including the following:

(4)(a) Evidence of need for supportive housing. Such evidence would include a description of the category or categories of elderly persons the housing is intended to serve and evidence demonstrating sustained effective demand for supportive housing for that population in the market area to be served, taking into consideration the occupancy and vacancy conditions in existing Federally assisted housing for the elderly (HUD and RHS; e.g., public housing); State or local data on the limitations in activities of daily living among the elderly in the area; aging in place in existing assisted rentals; trends in demographic changes in elderly population and households; the numbers of income eligible elderly households by size, tenure, and housing condition; the types of supportive services arrangements currently available in the area; and the use of such services as evidenced by data from local social service agencies or agencies on aging. Also, a description of how information in the community's Analysis of Impediments to Fair Housing Choice was used in documenting the need for the project.

(4)(b) A description of how the proposed project will benefit the target population and the community in which it will be located.

(4)(c) A description of the project, including the following:

(4)(c)(i) A narrative description of the building design, including a description of the number of units with bedroom distributions, any special design features, amenities, and/or community space, and how this design will facilitate the delivery of services in an economical fashion and accommodate the changing needs of the residents over the next 10-20 years.

Note: If these community spaces, amenities, or features would not comply with the project design and cost standards of 24 CFR 891.120 and the special project standards of 24 CFR 891.210, you must state your ability and willingness to contribute both the incremental development cost and continuing operating cost associated with the community spaces, amenities, or features;

(4)(c)(ii) A description of whether and how the project will promote energy efficiency, and, if applicable, innovative construction or rehabilitation methods or technologies to be used that will promote efficient construction.

(4)(c)(iii) If applicable, a description of any plans and the actions you have taken to create a mixed-finance/mixed-use project by developing additional units (i.e., in addition to the Section 202 units) with the use of Section 202 capital advance funds in combination with other funding sources. Specify the number of Section 202 units and the number of additional units from non-Section 202 funding sources. Provide copies of any letters you have sent seeking outside funding for the non-Section 202 units and any responses thereto. You also must demonstrate your ability to proceed with the development of a Section 202 project that will not involve mixed-financing or a mixed-use purpose, as proposed in your application, in the event you are later unable to obtain the necessary outside funding or HUD disapproves your proposal for mixed-financing or a mixed-use.

Note: Approval of the Section 202 capital advance will not necessarily be approval of the mixed-finance/mixed-use proposal. If approved for a reservation of capital advance funds, you will be required to submit, after reservation of capital advance funds, a detailed proposal outlining how you will fund both development and operation of the additional units in accordance with HUD instructions that will be issued later. Based on the strength of your organization and HUD's prior experience with your projects, as well as your outline of your intentions, at time of making the fund reservation, HUD will determine whether you will be permitted to submit a mixed-finance/mixed-use proposal at a later time. Only those Sponsors that indicate in their application for a fund reservation an intention to propose additional units will be eligible to submit, at a later time, a mixed-finance/mixed-use proposal for additional units. (A mixed-finance/mixed-use project, as used here, does not include the development of Section 202 units using secondary/supplemental financing or the development of a mixed-use project in which the Section 202 units are mortgaged separately from the other uses of the structure).

(4)(d) Evidence that the Sponsor has site control and permissive zoning, including the following:

(4)(d)(i) Acceptable evidence of site control is limited to any one of the following:

(A) Deed or long-term leasehold which evidences that you have title to or a leasehold interest in the site. If a leasehold, the term of the lease must be at least 50 years;

(B) Contract of sale for the site which is free of any limitations affecting ability to deliver ownership to you after you receive and accept a notice of Section 202 capital advance. The only condition for closing on the sale can be your receipt and acceptance of the capital advance. The contract of sale cannot require closing on a date earlier than the Section 202 closing.

(C) Option to purchase or for a long-term leasehold which must remain in effect for six months from the date on which the applications are due, and must state a firm price binding on the seller. The only condition on which the option may be terminated is if you are not awarded a fund reservation. The option must be renewable at the end of the six months option period.

(D) Where the proposed site is subject to a mortgage under a HUD program (e.g., an earlier 202 or an FHA insured mortgage), you must submit evidence that consent to release of the site from that mortgage has been obtained or has been requested from HUD and from the mortgagee, if other than HUD.

(E) For sites to be acquired from a public body, evidence is needed that the public body possesses clear title to the site and has entered into a legally binding agreement to lease or convey the site to you after you receive and accept a notice of Section 202 capital advance. Where HUD determines that time constraints of the funding round will not permit all of the required official actions (e.g., approval of Community Planning Boards) that are necessary to convey publicly-owned sites, a letter in the application from the mayor or director of the appropriate local agency indicating that conveyance or leasing of the site is acceptable without imposition of additional covenants or restrictions and only contingent on the necessary approval action. Such a letter commitment will be considered sufficient evidence of site control.

Note: For this funding cycle, New York City-owned sites that are designated as community gardens will not meet site control requirements due to litigation involving those sites.

(4)(d)(ii) Whether you have title to the site, a contract of sale, an option to purchase, or are acquiring the site from a public body, you must provide evidence (a title policy or other acceptable evidence) that the site is free of any limitations, restrictions, or reverters which could adversely affect the use of the site for the proposed project for the 40-year capital advance period under HUD's regulations and requirements (e.g., reversion to seller if title is transferred). If the title evidence contains restrictions or covenants, copies of such covenants or restrictions must be submitted with the application. If the site is subject to any such limitations, restrictions, or reverters, the application will be rejected. Purchase money mortgages that will be satisfied from capital advance funds are not considered to be limitations or restrictions that would adversely affect the use of the site. If the contract of sale or the option agreement contains provisions that allow a Sponsor not to purchase the property for reasons such as environmental problems, failure of the site to pass inspection, or the appraisal is less than the purchase price, then such provisions are not objectionable and a Sponsor is allowed to terminate the contract of sale or the option agreement.

Note: A proposed project site may not be acquired or optioned from a General Contractor (or its affiliate) that will construct the section 202 project or from any other development team member.

(4)(d)(iii) Evidence that the project as proposed is permissible under applicable zoning ordinances or regulations, or a statement of the proposed action required to make the proposed project permissible and the basis for your belief that the proposed action will be completed successfully before the submission of the firm commitment application (e.g., a summary of the results of any requests for rezoning and/or the procedures for obtaining special or conditional use permits on land in similar zoning classifications and the time required for such rezoning, or preliminary indications of acceptability from zoning bodies, etc.);

(4)(d)(iv) A narrative topographical and demographic description of the suitability of the site and area, and how the site will promote greater housing opportunities for minority elderly and elderly persons with disabilities, thereby affirmatively furthering fair housing; (NOTE: You can best demonstrate your commitment to affirmatively furthering fair housing by describing how your proposed activities will assist the jurisdiction in overcoming impediments to fair housing choice identified in the applicable jurisdictions's Analysis of Impediments to Fair Housing Choice (AI), which is a component of the jurisdiction's Consolidated Plan, or any other planning document that addresses fair housing issues. The applicable Consolidated Plan and AI may be the Community's, the County's, or the State's, to which input should have been provided by local community organizations, agencies in the community, and residents of the community. Alternatively, a document that addresses fair housing issues and remedies to barriers to fair housing in the community that was previously prepared by a local planning, or similar organization, may be used. Applicable impediments could include the need for improved housing quality and services for elderly minority families, lack of affirmative marketing and outreach to minority elderly persons, and the need for quality eldercare services within areas of minority concentration when compared with the type and quality of similar services and housing in nonminority areas.

(4)(d)(v) A map showing the location of the site and the racial composition of the neighborhood, with the area of racial concentration delineated;

(4)(d)(vi) A Phase I Environmental Site Assessment (ESA), in accordance with the American Society for Testing and Material (ASTM) Standards E 1527-97, as amended. The Phase I ESA must be completed and submitted with the application. In order for the Phase I ESA to be acceptable, it must have been completed, or updated, no earlier than six months prior to application deadline date. Therefore, it is important that you start the Phase I ESA process as soon after publication of this SuperNOFA as possible.

If the Phase I ESA indicates the possible presence of contamination and/or hazards, you must decide whether to continue with this site or choose another site. Should you choose another site, the same Phase I ESA process identified above must be followed for the new site. NOTE: You are not limited to acquiring properties from the FDIC/RTC. However, if the property is to be acquired from the FDIC/RTC, include a copy of the FDIC/RTC prepared Transaction Screen Checklist or Phase I ESA, and applicable documentation, per the FDIC/RTC Environmental Guidelines.

If you choose to continue with the original site on which the Phase I ESA indicated contamination or hazards, you must undertake a detailed Phase II Environmental Site Assessment (ESA) by an appropriate professional. If the Phase II ESA reveals site contamination, the extent of the contamination and a plan for clean-up of the site must be submitted to the local HUD office. The plan for clean-up must include a contract for remediation of the problem(s) and an approval letter from the applicable Federal, State, and/or local agency with jurisdiction over the site. In order for the application to be considered for review under this FY 2001 funding competition, you must submit this information to the local HUD office on or before June 25, 2001.

Note: This could be an expensive undertaking. You must pay for the cost of any clean-up and/or remediation.

(4)(d)(vii) A letter from the State Historic Preservation Officer (SHPO) indicating whether the proposed site has any historical significance. If you cannot obtain a letter from the SHPO due to the SHPO not responding to your request or the SHPO responding that it cannot or will not comply with the requirement, you must submit the following:

(A) A letter indicating that you attempted to get the required letter from the SHPO but that the SHPO either had not responded to your request or would not honor or recognize your request;

(B) A copy of your letter to the SHPO requesting the required letter; and,

(C) A copy of the SHPO's response, if available.

(4)(e) Provision of supportive services in the proposed facility:

(4)(e)(i) A detailed description of the supportive services proposed to be provided to the anticipated occupancy;

(4)(e)(ii) A description of public or private sources of assistance that reasonably could be expected to fund the proposed services;

(4)(e)(iii) The manner in which such services will be provided to such persons (i.e., on or off-site), including whether a service coordinator will facilitate the adequate provision of such services, and how the services will meet the identified needs of the residents. NOTE: You may not require residents, as a condition of occupancy, to accept any supportive service.

(4)(e)(iv) A description of how the residents will be afforded opportunities for employment.

(5) A list of the applications, if any, that you have submitted or are planning to submit to any other HUD office in response to this announcement of Section 202 Program funding availability or the announcement of Section 811 Program (Supportive Housing for Persons with Disabilities) funding availability, published elsewhere in this SuperNOFA. Indicate by HUD office, the proposed location by city and State, and the number of units requested for each application. Include a list of all FY 2000 and prior year projects to which you are the Sponsor that have not been finally closed. Such projects must be identified by project number and HUD office.

(6) A statement that:

(6)(a) Identifies all persons (families, individuals, businesses, and nonprofit organizations), by race/minority group, and status as owners or tenants, occupying the property on the date of submission of the application for a capital advance;

(6)(b) Indicates the estimated cost of relocation payments and other services;

(6)(c) Identifies the staff organization that will carry out the relocation activities; and

(6)(d) Identifies all persons that have moved from the site within the past 12 months.

Note: If any of the relocation costs will be funded from sources other than the section 202 capital advance, you must provide evidence of a firm commitment of these funds. When evaluating applications, HUD will consider the total cost of proposals (i.e., cost of site acquisition, relocation, construction, and other project costs).

(7) Certifications and Resolutions. In addition to the certifications and assurances listed in the General Section of this SuperNOFA with the exception of SF-424A, SF-424B, SF-424C, SF-424D, HUD-424M and the OMB Circulars which are not required, you are required to submit signed copies of the following:

(7)(a) Standard Form 424. Application for Federal Assistance and indication of whether you are delinquent on any Federal debt. (See instructions for submitting this form in the Consolidated Application Submission section of the General Section of the SuperNOFA.)

(7)(b) Drug-Free Workplace (HUD-50070). Certification to provide a drug-free workplace.

(7)(c) Payments to Influence Federal Transactions (HUD-50071) and Standard Form LLL, Disclosure of Lobbying Activities. Certification of whether any of the funds received will be used to influence any Federal transactions and disclosure of those activities, if applicable.

(7)(d) Applicant/Recipient Disclosure/Update Report, including Social Security Numbers and Employee Identification Numbers, (HUD-2880). A disclosure of assistance from other government sources received in connection with the project.

(7)(e) Certification Regarding Debarment and Suspension (HUD-2992) (24 CFR 24.510). A certification attesting to the eligibility of your principals.

(7)(f) Executive Order 12372 Certification. A certification that you have submitted a copy of your application, if required, to the State agency (single point of contact) for State review in accordance with Executive Order 12372.

(7)(g) Certification of Consistency with the Consolidated Plan (Plan), Form HUD-2991, for the jurisdiction in which the proposed project will be located. The certification must be made by the unit of general local government if it is required to have, or has, a complete Plan. Otherwise, the certification may be made by the State, or by the unit of general local government if the project will be located within the jurisdiction of the unit of general local government authorized to use an abbreviated strategy, and if it is willing to prepare such a Plan.

All certifications must be made by the public official responsible for submitting the Plan to HUD. The certifications must be submitted as part of the application by the application submission deadline date set forth in this program section of the SuperNOFA. The Plan regulations are published in 24 CFR part 91.

(7)(h) A certified Board Resolution that no officer or director of the Sponsor or Owner has or will have any financial interest in any contract with the Owner or in any firm or corporation that has or will have a contract with the Owner, including a current listing of all duly qualified and sitting officers and directors by title, and the beginning and ending dates of each person's term.

(7)(i) A certified Board Resolution, acknowledging the responsibilities of sponsorship, long-term support of the project(s), your willingness to assist the Owner to develop, own, manage, and provide appropriate services in connection with the proposed project, and that it reflects the will of your membership. Also, the resolution shall indicate your willingness to fund the estimated start-up expenses, the Minimum Capital Investment (one-half of one-percent of the HUD-approved capital advance, not to exceed $10,000, if nonaffiliated with a National Sponsor; one-half of one-percent of the HUD-approved capital advance, not to exceed $25,000, for all other Sponsors;), and the estimated cost of any amenities or features (and operating costs related thereto) that would not be covered by the approved capital advance.

(7)(j) Certification of Consistency with the EZ/EC Strategic Plan HUD-2990). A certification that the project is consistent with the EZ/EC strategic plan, is located within the EZ/EC, and serves EZ/EC residents.

(7)(k) Sponsor's Combined Certifications.

(7)(k)(i) Certification in Connection with the Development and Operation of a Section 202 Project. A certification of compliance with the requirements of the Fair Housing Act, Title VI of the Civil Rights Act, the Age Discrimination Act of 1975, the affirmative fair housing marketing requirements of 24 CFR part 200, subpart M and the implementing regulations at 24 CFR part 108, and other applicable Federal, State and local laws prohibiting discrimination and promoting equal opportunity including affirmatively furthering fair housing.

(7)(k)(ii) Section 3 of the Housing and Urban Development Act of 1968 (12 U.S.C. 1701u). Certification of Compliance with Section 3 of the Housing and Urban Development Act of 1968 (12 U.S.C. 1701u) and implementing regulations at 24 CFR part 135. Certification that you will strongly encourage your general contractor and subcontractors to participate in local apprenticeship programs or training programs registered with or certified by the Department of Labor's Bureau of Apprenticeship and Training or recognized State Apprenticeship Agency.

(7)(k)(iii) Design and Cost Standards. Certification of Compliance with HUD's Section 202 project design and cost standards (24 CFR 891.120 and 891.210), the Uniform Federal Accessibility Standards (24 CFR 40.7), section 504 of the Rehabilitation Act of 1973 and HUD's implementing regulations at 24 CFR part 8, and for covered multifamily dwellings designed and constructed for first occupancy after March 13, 1991, the design and construction requirements of the Fair Housing Act and HUD's implementing regulations at 24 CFR part 100, and the Americans with Disabilities Act of 1990;

(7)(k)(iv) Acquisition and Relocation. Certification of Compliance with the acquisition and relocation requirements of the Uniform Relocation Assistance and Real Property Acquisition Policies Act of 1970, as amended (49 CFR part 24 and 24 CFR part 891.155(e));

(7)(k)(v) Formation of Owner Corporation. Certification that you will form an “Owner” (24 CFR 891.205) after issuance of the capital advance; cause the Owner to file a request for determination of eligibility and a request for capital advance, and provide sufficient resources to the Owner to insure the development and long-term operation of the project, including capitalizing the Owner at firm commitment processing in an amount sufficient to meet its obligations in connection with the project;

(7)(k)(vi) Supportive Services. Certification that you will not require residents to accept any supportive services as a condition of occupancy; and,

(7)(k)(vii) Davis-Bacon. Certification of compliance with the Davis-Bacon requirements and the Contract Work Hours and Safety Standards Act.

VII. Corrections to Deficient Applications

The General Section of the SuperNOFA provides the procedures for corrections to deficient applications.

VIII. Environmental Requirements

In accordance with 24 CFR part 50, all Section 202 assistance is subject to the National Environmental Policy Act of 1969 and applicable related Federal environmental authorities. The environmental review provisions of the Section 202 Program regulations are in 24 CFR 891.155(b).

IX. Formation of Owner Corporation for Development of Section 202 Projects and for Section 202 Projects Involving Mixed-Financing or a Mixed-Use Purpose

Applicant eligibility for purposes of applying for a Section 202 fund reservation under this NOFA has not changed; i.e., all Section 202 Sponsors and Co-Sponsors must be private nonprofit organizations and nonprofit consumer cooperatives. However, the Owner corporation, when later formed by the Sponsor, may be (1) a single-purpose private nonprofit organization that has tax-exempt status under Section 501(c)(3) or Section 501(c)(4) of the Internal Revenue Code of 1986, (2) nonprofit consumer cooperative, OR (3) for purposes of developing a mixed-finance/mixed-use project for developing additional units over and above the Section 202 units, a for-profit limited dividend organization with a nonprofit entity as the sole general partner.

X. Authority

The Section 202 Supportive Housing for the Elderly Program is authorized by section 202 of the Housing Act of 1959 (12 U.S.C. 1701q). See section 801 of the Cranston-Gonzalez National Affordable Housing Act (Pub. L. 101-625; approved November 28, 1990); the Housing and Community Development Act of 1992 (Pub. L. 102-550; approved October 28, 1992), the Rescissions Act (Pub. L. 104-19; enacted on July 27, 1995); and the American Homeownership and Economic Opportunity Act of 2000 (Pub. L. 106-569; approved December 27, 2000).

Appendix A—Addresses for Submitting Applications

Please see Appendix A to the Section 811 Program Section of this SuperNOFA. Submit your completed application (an original and four copies) to the Director of the appropriate Multifamily Hub Office or Multifamily Program Center as listed in Appendix A to the Section 811 program section of this SuperNOFA with the following exceptions:

1. Applications for projects proposed to be located within the jurisdiction of the Seattle, Washington and the Anchorage, Alaska Offices must be submitted to the Portland, Oregon Office.

2. Applications for projects proposed to be located within the jurisdiction of the Sacramento, California Office must be submitted to the San Francisco, California Office.

3. Applications for projects proposed to be located within the jurisdiction of the Cincinnati, Ohio Office must be submitted to the Columbus, Ohio Office.

4. Applications for projects proposed to be located within the jurisdiction of the Washington, DC Office must be submitted to the Baltimore, Maryland Office.

Appendix B

The non-standard forms, which follow, are required for your Section 202 Program application.

FUNDING AVAILABILITY FOR THE SECTION 811 PROGRAM OF SUPPORTIVE HOUSING FOR PERSONS WITH DISABILITIES (SECTION 811 PROGRAM)

Program Overview

Purpose of the Program. This program provides funding for supportive housing for very low-income persons with disabilities who are at least 18 years old. (Please note that funding for a related program, Mainstream Housing Opportunities for Persons with Disabilities, is found elsewhere in this SuperNOFA.)

Available Funds. Approximately $121.2 million.

Eligible Applicants. Nonprofit organizations that have a section 501(c)(3) tax exemption from the Internal Revenue Service (See Section III(A) of this NOFA). (See Section IX of this NOFA for information regarding the formation of the Owner corporation.)

Eligible Activities. New construction, rehabilitation, or acquisition of housing (see Section III(C) of this NOFA).

Application Deadline. May 25, 2001.

Match Requirements. No.

Additional Information

If you are interested in applying for funding under this program, please review carefully the General Section of this SuperNOFA and the following additional information.

I. Application Due Date, Application Kits, Further Information, and Technical Assistance

Application Due Date. Submit your completed application on or before 6:00 pm, local time, on May 25, 2001, at the address shown below.

See the General Section of this SuperNOFA for specific procedures governing the form of application submission (e.g., mailed applications, express mail, overnight delivery, or hand carried).

Address for Submitting Applications. Submit your completed application (an original and four copies) to the Director of the appropriate Multifamily Hub Office or Multifamily Program Center as listed in Appendix A to this program section of the SuperNOFA with the following exceptions:

1. Applications for projects proposed to be located within the jurisdiction of the Seattle, Washington and the Anchorage, Alaska Offices must be submitted to the Portland, Oregon Office.

2. Applications for projects proposed to be located within the jurisdiction of the Sacramento, California Office must be submitted to the San Francisco, California Office.

3. Applications for projects proposed to be located within the jurisdiction of the Cincinnati, Ohio Office must be submitted to the Columbus, Ohio Office.

4. Applications for projects proposed to be located within the jurisdiction of the Washington, DC Office must be submitted to the Baltimore, Maryland Office.

The application kit also includes a listing of the Multifamily Hubs and Program Centers, their addresses and telephone numbers, including TTY numbers. This information is also available from HUD's SuperNOFA Information Center at 1-800-HUD-8929 and from the Internet through the HUD web site at http://www.hud.gov. Persons with hearing or speech impairments may call the Center's TTY number at 1-800-HUD-2209.

For Application Kits. For an application kit and any supplemental information, please call HUD's SuperNOFA Information Center at 1-800-HUD-8929. Persons with hearing or speech impairments may call the Center's TTY number at 1-800-HUD-2209. When requesting an application kit, please refer to the Section 811 Program and provide your name, address (including zip code), and telephone number (including area code). The application kit also will be available on the Internet through the HUD web site at http://www.hud.gov and from the appropriate Multifamily Hub Office or Multifamily Program Center.

For Further Information and Technical Assistance. You may contact the appropriate Multifamily Hub Office or Multifamily Program Center, Gail Williamson at HUD Headquarters at (202) 708-2866, or access the Internet at http://www.hud.gov.

HUD encourages minority organizations to participate in this program and strongly recommends prospective applicants attend the local HUD Office workshop. At the workshops, HUD will explain application procedures and requirements, as well as address concerns such as local market conditions, building codes and accessibility requirements, historic preservation, floodplain management, displacement and relocation, zoning, and housing costs. If you are interested in attending the workshop, make sure that your name, address and telephone number are on the appropriate HUD Office's mailing list so that you will be informed of the date, time and place of the workshop. Persons with disabilities should call the appropriate HUD Office to assure that any necessary arrangements can be made to enable their attendance and participation in the workshop.

If you cannot attend the workshop, call the appropriate HUD Office if you have any questions regarding the submission of applications to that particular office and to request any materials distributed at the workshop.

Satellite Broadcast. HUD will hold an information broadcast via satellite for potential applicants to learn more about the program and preparation of the application. For more information about the date and time of the broadcast, you should consult the HUD web site at http://www.hud.gov.

II. Amount Allocated

For FY 2001 $121,249,712 for capital advances is available for the Section 811 Program of Supportive Housing for Persons with Disabilities. The FY 2001 HUD Appropriations Act (HUD Appropriations Act) provides $217,000,000 for capital advances, including amendments to capital advance contracts; for supportive housing for persons with disabilities, as authorized by section 811 of the National Affordable Housing Act of 1990 (NAHA); and for project rental assistance, including amendments to contracts for project rental assistance, for supportive housing for persons with disabilities under section 811 of the NAHA. Of this amount, $500,000 shall be transferred to the Working Capital Fund for the development and maintenance of information technology systems.

Twenty-five percent (25%) of the $217,000,000 or $54.25 million is being set aside for tenant-based rental assistance for persons with disabilities administered through public housing agencies (PHAs) and nonprofit organizations under the Mainstream Housing Opportunities for Persons with Disabilities Program which is found elsewhere in this SuperNOFA.

In accordance with the waiver authority provided in the HUD Appropriations Act, the Secretary is waiving the following statutory and regulatory provision: The term of the project rental assistance contract is reduced from 20 years to 5 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for Section 811 reflects the “relevant characteristics of prospective program participants,” as specified in 24 CFR 791.402(a). The FY 2001 formula consists of two data elements from the 1990 Decennial Census: (1) the number of non-institutionalized persons age 16 or older with a work disability and a mobility or self-care limitation and (2) the number of non-institutionalized persons age 16 or older having a mobility or self-care limitation but having no work disability.

A work disability is defined as a health condition that had lasted for 6 or more months which limited the kind (restricted the choice of jobs) or amount (not able to work full time) of work a person could do at a job or business. A mobility limitation is defined as a health condition that lasted for 6 or more months, making it difficult for the person to go outside the home alone. This includes outside activities, such as shopping or visiting a doctor's office. A self-care limitation is defined as a health care limitation that had lasted for 6 or more months which made it difficult for the person to take care of his/her own personal needs such as dressing, bathing, or getting around inside the home. Temporary (short term) problems such as broken bones that are expected to heal normally are not considered problems.

Under the Section 811 Program, each HUD Office jurisdiction receives sufficient capital advance funds for a minimum of 10 units. The total amount of capital advance funds to support this minimum set-aside is then subtracted from the total capital advance available. The remainder is fair shared to each HUD Office jurisdiction whose fair share would exceed the set-aside based on the allocation formula fair share factors described below.

The fair share factors were developed by taking the sum of the number of persons in each of the two elements for each state, or state portion, of each local HUD Office jurisdiction as a percent of the sum of the two data elements from the Decennial Census, described above, for the total United States. The resulting percentage for each local HUD Office is then adjusted to reflect the relative cost of providing housing among the local HUD Office jurisdictions. The adjusted needs percentage for each local HUD Office is then multiplied by the total amount of capital advance funds available nationwide.

The Section 811 capital advance funds have been allocated, based on the formula above, to 51 local HUD Offices as shown on the following chart:

BILLING CODE 4210-32-P

BILLING CODE 4210-32-C

III. Program Description; Eligible Applicants; Eligible Activities

(A) Program Description. HUD provides capital advances and contracts for project rental assistance in accordance with 24 CFR part 891. Capital advances may be used to construct, rehabilitate, or acquire structures (including structures from the Federal Deposit Insurance Corporation (formerly held by the Resolution Trust Corporation) (FDIC/RTC)), to be developed into a variety of housing options described in Section III(C) below. Capital advance funds may also be used in combination with other non-Section 811 funding sources to develop additional units for amixed-finance or mixed-use project, provided that the additional units: (1) do not exceed the project size limits for the type of project proposed (unless a request for an exception to the project size limits is requested and approved by HUD), or (2) will house people who do not have a disability. Capital advance funds bear no interest and are based on development cost limits published in this SuperNOFA. Repayment of the capital advance is not required as long as the housing remains available for at least 40 years for occupancy by very low-income persons with disabilities. Project rental assistance contract (PRAC) funds are used to cover the difference between the tenants' contributions toward rent (30 percent of adjusted income) and the HUD-approved cost to operate the project.

Note: For purposes of approving Section 811 capital advances, HUD will consider proposals involving mixed-financing or a mixed-use purpose for additional units. However, you must obtain funds to assist the additional units with other than PRAC funds. HUD will not provide PRAC funds for non-Section 811 units.

(B) Eligible Applicants. Nonprofit organizations with a section 501(c)(3) tax exemption from the Internal Revenue Service are the only eligible applicants for this program. A Sponsor or Co-sponsor may not apply for more than 70 units of housing or 4 projects (whichever is less) for persons with disabilities in a single Hub. In addition, a Sponsor or Co-sponsor may not apply for more units in a given HUD Office than allocated for the Section 811 program in that HUD Office, or for more than 10 percent of the total units allocated in all HUD offices. A single application must propose at least five units, not necessarily in one structure if the project will be an independent living project and two units if the project will be a group home. Affiliated entities that submit separate applications are considered a single entity for the purpose of these limits.

(C) Eligible Activities. The types of housing that can be developed with Section 811 capital advance funds include independent living projects, dwelling units in multifamily housing developments, condominium and cooperative housing and small group homes.

(D) Ineligible Activities. Section 811 funds may not be used for any of the following:

(1) Nursing homes, infirmaries and medical facilities;

(2) Transitional housing facilities;

(3) Manufactured housing facilities;

(4) Intermediate care facilities;

(5) Community centers, with or without special components for use by persons with disabilities;

(6) Sheltered workshops and centers for persons with disabilities;

(7) Headquarters for organizations for persons with disabilities; and

(8) Refinancing of Sponsor-owned facilities without rehabilitation.

IV. Program Requirements

In addition to the program requirements listed in the General Section of this SuperNOFA, you must comply with the following requirements:

(A) Statutory Requirements and Regulatory Requirements. You must comply with all statutory and regulatory requirements listed in Sections III, IV and X of this program section of the SuperNOFA.

(B) HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS comments in its review and application selection process.

(C) Development Cost Limits. (1) The following development cost limits, adjusted by locality as described in Section IV(C)(2) below, must be used to determine the capital advance amount reserved for projects for persons with disabilities:

(a) For independent living projects and dwelling units in multifamily housing developments, condominium and cooperative housing: The total development cost of the project attributable to dwelling use (less the incremental development cost and the capitalized operating costs associated with any excess amenities and design features you will pay for) may not exceed:

Non-elevator structures:

$41,238 per family unit without a bedroom;

$47,548 per family unit with one bedroom;

$57,344 per family unit with two bedrooms;

$73,400 per family unit with three bedrooms;

$81,770 per family unit with four bedrooms.

For elevator structures:

$43,398 per family unit without a bedroom;

$49,748 per family unit with one bedroom;

$60,493 per family unit with two bedrooms;

$78,257 per family unit with three bedrooms;

$85,902 per family unit with four bedrooms.

(b) For group homes only:

Type of Disability
# Residents | Physical/developmental | Chronic mental illness
2 | $166,022 | $160,262
3 | 178,533 | 172,340
4 | 191,045 | 183,069
5 | 203,556 | 193,798
6 | 216,054 | 204,527

(c) These cost limits reflect those costs reasonable and necessary to develop a project of modest design that complies with HUD minimum property standards; the minimum group home requirements of 24 CFR 891.310(a) (if applicable); the accessibility requirements of 24 CFR 891.120(b) and 891.310(b); and the project design and cost standards of 24 CFR 891.120.

(2) Increased development cost limits.

(a) HUD may increase the development cost limits set forth in Section IV(C)(1) of this program section of the SuperNOFA by up to 140 percent in any geographic area where the cost levels require, and may increase the development cost limits by up to 160 percent on a project-by-project basis. This increase may include covering additional costs to make dwelling units accessible through rehabilitation.

(b) If HUD finds that high construction costs in Alaska, Guam, the Virgin Islands or Hawaii make it infeasible to construct dwellings, without the sacrifice of sound standards of construction, design, and livability, within the development cost limits provided in Section IV(C)(1) of this program section of the SuperNOFA, the amount of capital advances may be increased to compensate for such costs. The increase may not exceed the limits established under this section (including any high cost area adjustment) by more than 50 percent.

(c) For group homes only, HUD Offices may approve increases in the development cost limits in Section IV(C)(1)(b), above, in areas where you can provide sufficient documentation that high land costs limit or prohibit project feasibility. An example of acceptable documentation is evidence of at least three land sales which have actually taken place (listed prices for land are not acceptable) within the last two years in the area where your project is to be built. The average cost of the documented sales must exceed ten percent of the development cost limit for your project in order for an increase to be considered.

(D) Sites. (1) NAHA requires you to provide in your application either:

(a) Evidence of site control, or

(b) A reasonable assurance that you will have control of a site within six months of notification of fund reservation.

(2) Accordingly, if you have control of a site at the time you submit your application, you must include evidence of such as described in Section VI(B)(4)(d)(i) of this program section of the SuperNOFA relative to site control and in the application kit. If you do not have site control, you must provide the information required in Section VI(B)(4)(d)(x) of this program section of the SuperNOFA relative to identification of a site and in the application kit for identified sites as a reasonable assurance that site control will be obtained within six months of fund reservation notification.

(3) Under Criterion (a) of Rating Factor 3 in Section V(D), below, related to your proposed site, your application has the potential of earning 17 points. Criterion (a)(i) is related to site approvability and is worth a maximum of 7 points. Five points for Criterion (a)(ii) will be awarded if your project will represent an integrated housing model (e.g., condominium units scattered within one or more buildings or non-contiguous independent living units on scattered sites). Criterion (a)(iii) which is worth five points for site control will be awarded as outlined in Section IV(D)(5) below. Regardless of whether you submit evidence of site control or have identified a site without obtaining control of the site, the site will be evaluated based on its proximity or accessibility to shopping, medical facilities, transportation, places of worship, recreational facilities, places of employment and other necessary services to the intended tenants.

(4) To meet the “proximity” or “accessibility” test, you must demonstrate that community services and amenities described above are either near or accessible to the residents. Sites where the community services and amenities described above are either near or accessible to the residents other than solely by a project residence or private vehicle will be rated more favorably than sites where residents must depend upon the project residence or private vehicle to access such community services and amenities. Your application will also be evaluated to determine whether it complies with the site and neighborhood standards in 24 CFR 891.125.

(5) Criterion (a)(iii) relates to the existence of legally acceptable site control. If you:

(a) Submit evidence of site control for all proposed sites in your application,

(b) The evidence is determined to be legally acceptable for all of the sites, and

(c) All of the sites are approvable (i.e., receive a score of 1 or higher for Criterion (a)(i), your application will receive 5 points for Criterion (a)(iii).

(6) If your application contains evidence of site control where either the evidence or the site is not approvable, your application will not be rejected provided you indicate in your application that you are willing to seek an alternate site and provide an assurance that site control will be obtained within six months of fund reservation notification.

(E) Supportive Services. You are required to include a Supportive Services Plan and a certification from the appropriate State or local agency that the provision of services identified in your Supportive Services Plan is well designed to address the individual health, mental health and other needs of persons with disabilities who will live in your proposed project. Section VI(B)(4)(e) of this program section of the SuperNOFA, below, outlines the information that must be in the Supportive Services Plan. You must submit one copy of your Supportive Services Plan to the appropriate State or local agency well in advance of the application submission deadline date for the State or local agency to review your Supportive Services Plan (Exhibit 4(e) of the application kit) and complete the Supportive Services Certification (Exhibit 7(l) of the application kit) and return it to you so that you can include it in the application you submit to HUD.

(1) HUD will reject your application if the supportive services certification:

(i) Is not submitted with your application and is not submitted to HUD within the 14-day cure period; or

(ii) Indicates that the provision of supportive services is not well designed to address the individual health, mental health and other needs of persons with disabilities who will live in your project; or

(iii) Indicates that the provision of supportive services will not enhance independent living success or promote the dignity of the persons with disabilities who will live in your proposed project.

(2) In addition, if the agency completing the certification will be a major funding or referral source for your proposed project or be responsible for licensing the project, HUD will reject your application if either the agency's supportive services certification indicates—or, where the agency fails to complete item 3 or 4 of the certification, HUD determines that:

(i) You failed to demonstrate that supportive services will be available on a consistent long-term basis; and/or

(ii) The proposed housing is not consistent with State or local agency plans/policies addressing the housing needs of people with disabilities.

Any prospective resident of a Section 811 project who believes he/she needs supportive services must be given the choice to be responsible for acquiring his/her own services or to take part in your Supportive Services Plan which must be designed to meet the individual needs of each resident. Residents or applicants may not be required to accept any supportive service as a condition of occupancy or admission.

(F) Project Size Limits. (1) Independent living project—The minimum number of units that can be applied for in one application is five; not necessarily in one structure. The maximum number of persons with disabilities that can be housed in an independent living project is 18.

(2) Exceptions—If you are submitting an application for an independent living project with site control, you may request an exception to the above project size limit by providing the information required in Section VI(B)(4)(d)(ix) in this program section of the SuperNOFA, below, and in the application kit. Not more than 25 percent of any amounts for capital advances or project rental assistance will be used for independent living projects that exceed 24 units.

(3) Group home—The minimum number of persons with disabilities that can reside in a group home is two, and the maximum number is six. Only one person per bedroom is allowed, unless two residents choose to share one bedroom or a resident determines he/she needs another person to share his/her bedroom.

(G) Minimum Capital Investment. Selected nonprofit organizations must provide a minimum capital investment of one-half of one percent of the HUD-approved capital advance amount not to exceed a maximum of $10,000 in accordance with 24 CFR 891.145.

(H) Economic Opportunities for Low and Very Low Income Persons. You must comply with section 3 of the Housing and Urban Development Act of 1968, 12 U.S.C. 1701u (Economic Opportunities for Low and Very Low Income Persons) and its implementing regulations at 24 CFR part 135. To comply, you must ensure that training, employment and other economic opportunities are directed, to the greatest extent feasible, toward low and very low income persons, particularly those who are recipients of government assistance for housing; and to business concerns which provide economic opportunities to low and very low income persons. To comply with section 3 requirements, you are required to certify that you will strongly encourage the general contractor and subcontractors to participate in local apprenticeship programs or training programs registered with or certified by the Department of Labor's Bureau of Apprenticeship and Training or recognized State Apprenticeship Agency (see section VI(B)(7)(k)(ii) of this program section of the SuperNOFA).

(I) Applicability of Acquisition of Sites under the Uniform Relocation Assistance and Real Property Acquisition Act of 1970, as amended. The acquisition of sites, with or without existing structures, is subject to the Uniform Relocation Assistance and Real Property Acquisition Act of 1970, as amended (URA). However, you are exempt from complying with the site acquisition requirements of the URA if you do not have the power of eminent domain and prior to entering into a contract of sale, option to purchase or any other method of obtaining site control, you inform the seller of the land (1) that you do not have the power of eminent domain and, therefore, you will not acquire the property if negotiations fail to result in an amicable agreement, and (2) of the estimate of the fair market value of the property. An appraisal is not required to meet this requirement, however, your files must include an explanation, with reasonable evidence of the basis for the estimate.

(J) Accessibility. If you intend to construct, substantially rehabilitate, or acquire, with or without rehabilitation, structures to be used as housing for persons with disabilities, you should note 24 CFR 891.310, which requires that your project meets accessibility requirements. In addition, you should note that 24 CFR 8.4(b)(5) prohibits the selection of a site or location which has the purpose or effect of excluding persons with disabilities from the Federally assisted program or activity. Thus, if you choose an existing structure, make sure that it can be made accessible without resulting in an infeasible project.

V. Application Selection Process

(A) Review for Curable Deficiencies. You should ensure that your application is complete before submitting it to the appropriate HUD office. HUD will screen all applications received by the deadline to determine if there are any curable deficiencies. A curable deficiency is a missing Exhibit or portion of an Exhibit that will not affect the rating of your application. The following is a list of the only deficiencies that will be considered curable in a Section 811 application:

Exhibits

(1) Form 92016-CA (Application Form)*

(2)(a) Articles of Incorporation*

(b) By-laws*

(c) IRS tax exemption ruling*

(c)(ii) Energy efficiency

(d)(vii) Letter from the State Historic Preservation Officer (SHPO)

(d)(viii) Seek alternate site

(d)(ix) Exception to project size limits

(5) Applications submitted to other offices

(6) Relocation

(7)(a) Standard Form 424, Application for Federal Assistance*

(b) Form HUD-50070, Certification of a Drug-Free Workplace

(c) Form HUD-50071, Certification of Payments to Influence Federal Transactions and Standard Form-LLL, Disclosure of Lobbying Activities

(d) Form HUD-2880, Applicant/Recipient Disclosure/Update Report

(e) Form HUD-2992, Certification Regarding Debarment and Suspension

(f) Executive Order 12372 Certification

(g) Form HUD-2991, Certification of Consistency with Consolidated Plan

(h) Conflict of Interest Resolution

(i) Resolution for Commitment to Project*

(k) Combined Certifications

(l) Supportive Services Certification

(m) Lead-Based Paint Certification

(n) Certification for Single Room Occupancy in Section 811 Group

Homes (if project will include a group home)

The HUD Office will notify you in writing if your application is missing any of the above exhibits or portions of exhibits and will give you 14 days from the date of the notification to submit the information required to cure the noted deficiencies. The items identified by an asterisk (*) must be dated on or before the application deadline date.

(B) Rating. HUD will review and rate your application in accordance with the Application Selection Process in the General Section of this SuperNOFA with the following exception. HUD will not reject your application based on technical review without notifying you of the rejection with all the reasons for rejection and providing you an opportunity to appeal. You will have 14 calendar days from the date of HUD's written notice to appeal a technical rejection to the HUD Office. If the rejection is due to the nonsubmission of the following exhibits because of the failure of a third party to provide information under the control of the third party but outside your control (e.g., by contract), and you were not provided the opportunity to cure the deficiency during the curable deficiency period, you can submit the information required to cure the deficiency during the 14 calendar day appeal period:

(1) Exhibit 7(g), Form HUD-2991, Certification of Consistency with the Consolidated Plan; and/or

(2) Exhibit 7(l), Certification for Provision of Supportive Services.

The information required to cure the above identified deficiencies includes the deficient Exhibit and documentation showing that the information had been requested from the third party at least 45 days prior to the application deadline date.

The HUD Office will make a determination on an appeal before making its selection recommendations. Your application(s) will be either rated or technically rejected at the end of technical review. If your application meets all program eligibility requirements after completion of technical review, your application will be rated according to the Rating Factors in Section V(D) below.

(C) Ranking and Selection Procedures. Applications that have a total base score of 60 points or more (without the addition of EC/EZ bonus points) and meet all of the applicable threshold requirements of Section II(B) of the General Section of the SuperNOFA will be eligible for selection and will be placed in rank order. HUD will select applications, after adding any bonus points for EC/EZ, based on rank order, up to and including the last application that can be funded out of each HUD Office's allocation. HUD Offices must not skip over any applications in order to select one based on the funds remaining. After making the initial selections, however, HUD may use any residual funds to select the next rank-ordered application by reducing the number of units by no more than 10 percent rounded to the nearest whole number, provided the reduction will not render the project infeasible. For this purpose, however, HUD will not reduce the number of units in projects of five units or less.

After this process is completed, residual funds from all HUD Offices within each Multifamily Hub will be combined. First, these funds will be used to restore units to projects reduced by HUD Offices based on the above instructions. Second, additional applications within each Multifamily Hub will be selected in rank order with only one application selected per HUD Office. More than one application may be selected per HUD Office if there are no approvable applications in other HUD Offices within the Multifamily Hub. This process will continue until there are no more approvable applications within the Multifamily Hub that can be selected with the remaining funds. Applications may not be skipped over to select one based on funds remaining. However, HUD may use any remaining residual funds, to select the next rank-ordered application by reducing the number of units by no more than 10 percent rounded to the nearest whole number, provided the reduction will not render the project infeasible or result in the project being less than 5 units.

Funds remaining after these processes are completed will be returned to Headquarters. HUD will use these residual funds first to fund United Cerebral Palsy of LA and Ventura, in the jurisdiction of the Los Angeles Multifamily Program Center, a FY 2000 application which was not funded due to HUD error. Second, HUD Headquarters will use these funds to restore units to projects reduced by HUD Offices as a result of the instructions for using their residual funds. Finally, HUD Headquarters will use these funds for selecting applications based on field offices' rankings, beginning with the highest rated application nationwide. Only one application will be selected per HUD Office from the national residual amount, excluding the Los Angeles Multifamily Program Center, already funded. If there are no approvable applications in other HUD Offices, the process will begin again with the selection of the next highest rated application nationwide. This process will continue until all approvable applications are selected using the available remaining funds.

(D) Factors For Award Used To Evaluate and Rate Applications. HUD will rate applications that successfully complete technical processing using the Rating Factors set forth below and in accordance with the application submission requirements in Section VI(B) below. The maximum number of points an application may receive under this program is 102. This includes two (2) EZ/EC bonus points, as described in the General Section of this SuperNOFA.

Rating Factor 1: Capacity of the Applicant and Relevant Organizational Staff (25 Points)

This factor addresses the extent to which you have the organizational resources to successfully implement the proposed activities in a timely manner. Submit information responding to this factor in accordance with Application Submission Requirements in paragraphs (B)(2), (B)(3)(a), (B)(3)(b), and (B)(3)(e) of Section VI of this program section of the SuperNOFA.

In rating this factor, HUD will consider the extent to which your application demonstrates your ability to develop and operate the proposed housing on a long-term basis, considering the following:

(a) (12 points) The scope, extent, and quality of your experience in providing housing or related services to those proposed to be served by the project and the scope of the proposed project (i.e., number of units, services, relocation costs, development, and operation) in relationship to your demonstrated development and management capacity as well as your financial management capability;

(b) (8 points) The scope, extent, and quality of your experience in providing housing or related services to minority persons or families as well as your ties to the community at large and to the minority and disability communities in particular. For purposes of this program section of the SuperNOFA, “minority” means the basic racial and ethnic categories for Federal statistics and administrative reporting, as defined in OMB's Statistical and Policy Directive No. 15. (See 62 FR 58782, October 30, 1997.)

(c) (5 points) You have experience in developing integrated housing (e.g., condominium units scattered within one or more buildings or non-contiguous independent living units on scattered sites).

Rating Factor 2: Need/Extent of the Problem (15 Points)

This factor addresses the extent to which there is a need for funding the proposed activities to address a documented problem in the target area. Submit information responding to this factor in accordance with Application Submission Requirements in paragraphs (B)(4)(a) and (B)(4)(b) of Section VI of this program section of the SuperNOFA. In evaluating this factor, HUD will consider:

The extent of the need for the project in the area based on a determination by the HUD Office. In making this determination, HUD will consider your evidence of need in the area, as well as other economic, demographic, and housing market data available to the HUD Office. The data could include the availability of existing comparable subsidized housing for persons with disabilities and current occupancy in such housing, comparable subsidized housing for persons with disabilities under construction or for which fund reservations have been issued, and, in accordance with an agreement between HUD and RHS, comments from RHS on the demand for additional comparable subsidized housing and the possible harm to existing projects in the same housing market area. The Department also will review more favorably those applications which establish a connection between the proposed project and the community's Analysis of Impediments to Fair Housing Choice (AI) or other planning document that analyzes fair housing issues and is prepared by a local planning or similar organization. You must show how the proposed project will address an impediment to fair housing choice described in the AI or meet a need identified in the other type of planning document.

Rating Factor 3: Soundness of Approach (40 Points)

This factor addresses the quality and effectiveness of your proposal. There must be a clear relationship between the proposed activities, the community's needs and purposes of the program funding for your application to receive points for this factor. Submit information responding to this factor in accordance with Application Submission Requirements in paragraphs (B)(4)(c), (B)(4)(d), and (B)(4)(e) of Section VI of this program section of the SuperNOFA. In evaluating this factor, HUD will consider the following:

(a)(i) (7 points) Site approvability—The proximity or accessibility (other than by sole means of a project residence or private vehicle) of the site to shopping, medical facilities, transportation, places of worship, recreational facilities, places of employment, and other necessary services to the intended tenants; adequacy of utilities and streets, and freedom of the site from adverse environmental conditions (based on site visit for site control projects only); and compliance with site and neighborhood standards in 24 CFR 891.125(a), (d), and (e);

(a)(ii) (5 points) Integrated model—If your project will be an integrated model as described in Section IV(D) above, your application will receive 5 points for this Criterion.

(a)(iii) (5 points) Site control—If your application contains legally acceptable site control for all proposed sites and all of the proposed sites are approvable (i.e., receive a score of 1 or higher on Criterion (a)(i)), your application will receive 5 points for site control;

(b) (8 points) The suitability of the site from the standpoints of promoting a greater choice of housing opportunities for minorities and persons with disabilities and affirmatively furthering fair housing. In reviewing this criterion, HUD will assess whether the site meets the site and neighborhood standards at 24 CFR 891.125(b) and (c) by examining relevant data in your application or in the HUD Office. If appropriate, HUD may visit the site.

(i) The site will be deemed acceptable if it increases housing choice and opportunity by:

—Expanding housing opportunities in non-minority neighborhoods (if located in such a neighborhood); or

—Contributing to the revitalization of and reinvestment in minority neighborhoods, including improvement of the level, quality and affordability of services furnished to minority persons with disabilities. You should refer to the Site and Neighborhood Standards provisions of the regulations governing the Section 811 Supportive Housing Program (24 CFR 891.125(b) and (c)) when considering sites for your projects.

(ii) For the purpose of this competition, the term “minority neighborhood (area of minority concentration)” is defined as one where any one of the following statistical conditions exists:

—The percentage of persons of a particular racial or ethnic minority is at least 20 points higher than the minority's or combination of minorities' percentage in the housing market as a whole; or,

—The neighborhood's total percentage of minority persons is at least 20 points higher than the total percentage of minorities for the housing market area as a whole; or

—In the case of a metropolitan area, the neighborhood's total percentage of minority persons exceeds 50 percent of its population. The term “nonminority area” is defined as one in which the minority population is lower than 10 percent.

(c) (5 points) The extent to which the proposed design of the project, including both the exterior and interior design, will meet the individual needs of persons with disabilities the housing is expected to serve;

(d) (5 points) The extent to which the proposed design of the project and its placement in the neighborhood will facilitate the integration of the residents into the surrounding community and promote the ability of the residents to live as independently as possible; and

(e) (5 points) At least 51% of your board members are persons with disabilities.

Rating Factor 4: Leveraging Resources (10 Points)

This factor addresses your ability to secure other community resources which can be combined with HUD's program resources to achieve program purposes. Submit information responding to this factor in accordance with Application Submission Requirements in paragraphs (B)(3)(c) and (B)(3)(d) of Section VI of this program section of the SuperNOFA.

(a) (5 points) The extent of local government support (including financial assistance, donation of land, provision of services, etc.) for the project; and

(b) (5 points) The extent of your activities in the community, including previous experience in serving the area where the project is to be located, developing integrated housing models and your demonstrated ability to enlist volunteers and raise local funds.

Rating Factor 5: Comprehensiveness and Coordination (10 Points)

This factor addresses the extent to which you coordinated your activities with other known organizations, participate or promote participation in the community's Consolidated Planning process, and are working towards addressing a need in a holistic and comprehensive manner through linkages with other activities in the community. Submit information responding to this factor in accordance with Application Submission Requirements in paragraphs (B)(3)(f), (B)(3)(g), (B)(3)(h), and (B)(3)(i) of Section VI of this program section of the SuperNOFA.

(a) (4 points) You involved persons with disabilities (including minority persons with disabilities) in the development of the application, and will involve persons with disabilities (including minority persons with disabilities) in the development and operation of the project;

(b) (2 points) The extent to which you coordinated your application with other organizations (including local independent living centers; a list of such can be obtained from the local HUD Office) to complement and/or support the proposed project;

(c) (2 points) The extent to which you demonstrated that you have been actively involved, or if not currently active, the steps you will take to become actively involved in the community's Consolidated Planning process to identify and address a need/problem that is related in whole or part, directly or indirectly to the proposed project; and

(d) (2 points) The extent to which you developed or plan to develop linkages with other activities, programs (for example, the Mainstream Housing Opportunities for Persons with Disabilities Program) or projects related to the proposed project to coordinate your activities so solutions are holistic and comprehensive.

Bonus Points

(2 bonus points) Location of proposed site in an EZ/EC area, as described in the General Section of this SuperNOFA. Submit the information responding to the bonus points in accordance with the Application Submission Requirements in paragraph (B)(7)(j) of Section VI of this program section of the SuperNOFA.

VI. Application Submission Requirements

(A) Application. Your application must include all of the information, materials, forms, and exhibits listed in Section VI(B) of this program section of the SuperNOFA (unless you were selected for a Section 811 fund reservation within the last three funding cycles). If you qualify for this exception, you are not required to submit the information described in Section VI(B)(2)(a), (b), and (c), below, of this program section of the SuperNOFA (Exhibits 2.a., b., and c. of the application kit), which are the articles of incorporation (or other organizational documents), by-laws, and the IRS tax exemption, respectively. If there has been a change in any of these documents since your previous HUD approval, you must submit the updated information in your application. The HUD Office will verify your indication of previous HUD approval by checking the project number and approval status with the appropriate HUD Office based on information submitted in Section VI(B)(2) below.

In addition to this relief of paperwork burden in preparing applications, you are able to use information and exhibits previously prepared for prior applications under Section 811, Section 202, or other funding programs. Examples of exhibits that may be readily adapted or amended to decrease the burden of application preparation include, among others, those on previous participation in the Section 202 or Section 811 programs, your experience in the provision of housing and services, supportive services plans, community ties, and experience serving minorities.

(B) General Application Requirements. Your application must contain the items listed in this Section VI(B). These items include the standard forms, certifications, and assurances listed in the General Section of the SuperNOFA that are applicable to this funding (collectively referred to as the “standard forms”). The standard forms can be found in Appendix B to the General Section of the SuperNOFA. The remaining application items that are forms (i.e., excluding such items as narratives), referred to as the “non-standard forms” can be found as Appendix B to this program section of the SuperNOFA. The items are as follows:

Note: You may apply for a scattered site project in one application

(1) Form HUD-92016-CA, Application for Section 811 Supportive Housing Capital Advance.

(2) Evidence of your and each Co-Sponsor's legal status as a nonprofit organization, including the following:

(2)(a) Articles of Incorporation, constitution, or other organizational documents;

(2)(b) By-laws;

(2)(c) IRS section 501(c)(3) tax exemption ruling (this must be submitted by you and all Co-Sponsors, including churches).

Note: If you received a section 811 fund reservation within the last three funding cycles, you are not required to submit the documents described in paragraph (2)(a), (2)(b), and (2)(c), above. Instead, you must submit the project number of the latest application selected and the HUD office to which it was submitted. If there have been any modifications or additions to the subject documents, incicate such, and submit the new material.

(2)(d) The number of people on your board and the number of those people who have disabilities.

(3) A description of your purpose, community ties, and experience, including the following:

(3)(a) A description of your purpose, current activities and how long you have been in existence;

(3)(b) A description of your ties to the community at large and to the minority and disability communities in particular;

(3)(c) A description of local government support for the project (including financial assistance, donation of land, provision of services, etc.);

(3)(d) Letters of support for your organization and for the proposed project from organizations familiar with the housing and supportive services needs of the persons with disabilities that you expect to serve in the proposed project (e.g., the local center for independent living, the Statewide Independent Living Council);

(3)(e) A description of your housing and/or supportive services experience. The description should include any rental housing projects (including integrated housing developments) and/or supportive services facilities that you have sponsored, owned, and/or operated; your past or current involvement in any programs other than housing that demonstrates your management capabilities (including financial management) and experience, and your experience in serving persons with disabilities and minorities; and the reasons for receiving any increases in fund reservations for developing and/or operating any previously funded Section 811 or Section 202 projects. The description should include data on the facilities and services provided, the racial/ethnic composition of the populations served, if available, and information and testimonials from residents or community leaders on the quality of the activities. Examples of activities that could be described include housing counseling, nutrition and food services, special housing referral, screening and information projects.

(3)(f) A description, if applicable, of your efforts to involve persons with disabilities (including minority persons with disabilities) and the local center for independent living in the development of your application and in the development and operation of the project.

(3)(g) A description of the steps you took to identify and coordinate your application with other organizations to complement and/or support your proposed project as well as the steps you will take, if funded, to share information on solutions and outcomes relative to the development of your proposed project.

(3)(h) A description of your involvement in the community's Consolidated Planning process, including:

(3)(h)(i) An identification of the lead/facilitating agency that organizes/administers the process;

(3)(h)(ii) An identification of the Consolidated Plan issue areas in which you participate;

(3)(h)(iii) Your level of participation in the process, including active involvement with any neighborhood-based organizations, associations or any committees that support programs and activities that enhance projects, or the lives of residents of projects, such as the one proposed in your application.

If you are not currently active, describe the specific steps you will take to become active in the Consolidated Planning process. (Consult the local HUD Office for the identification of the Consolidated Plan community process for the appropriate area.)

(3)(i) A description of the linkages that you have developed or plan to develop with other related activities, programs (for example, the Mainstream Housing Opportunities for Persons with Disabilities Program) or projects in order that the development of the project provides a comprehensive and holistic solution to the needs of the target population.

(4) Project information including the following:

(4)(a) Evidence of need for supportive housing. Such evidence would include a description of the proposed population and evidence demonstrating sustained effective demand for supportive housing for the proposed population in the market area to be served, taking into consideration the occupancy and vacancy conditions in existing comparable subsidized housing for persons with disabilities, State or local needs assessments of persons with disabilities in the area, the types of supportive services arrangements currently available in the area, and the use of such services as evidenced by data from local social service agencies. Also, a description of how information in the community's Analysis of Impediments to Fair Housing Choice was used in documenting the need for the project.

(4)(b) A description of how the proposed project will benefit the target population and the community in which it will be located;

(4)(c) A description of the project, including the following:

(4)(c)(i) A narrative description of the building(s) including the number and type of structure(s), number of units with bedroom distribution if independent living units (including dwelling units in multifamily housing developments, condominiums and cooperatives), number of bedrooms if group home, number of residents with disabilities, and any resident manager per structure; an identification of all community spaces, amenities, or features planned for the housing and a description of how the spaces, amenities, or features will be used, and the extent to which they are necessary to accommodate the needs of the proposed residents. If these community spaces, amenities, or features would not comply with the project design and cost standards of § 891.120 and the special project standards of § 891.310, you must demonstrate your ability and willingness to contribute both the incremental development cost and continuing operating cost associated with the community spaces, amenities, or features; and a description of how the design of the proposed project will promote the integration of the residents into the surrounding community and the ability of the residents to live as independently as possible; and

(4)(c)(ii) A description of whether and how the project will promote energy efficiency, and, if applicable, innovative construction or rehabilitation methods or technologies to be used that will promote efficient construction.

(4)(c)(iii) If applicable, a description of any plans and the actions you have taken to create a mixed-finance/mixed-use project by developing additional units (i.e., in addition to the Section 811 units) with the use of Section 811 capital advance funds in combination with other funding sources. See Section III.A. for further informaiton regarding the additional units. sepcify the number of Section 811 units and the number of additional units from non-Section 811 funding sources. Provide copies of any letters you have sent seeking outside funding for the non-Section 811 units and any responses thereto. You must also demonstrate your ability to proceed with the development of a Section 811 project that will not involve mixed-financing or a mixed-use purpose, as proposed in your application, in the event you are later unable to obtain the necessary outside funding, or HUD disapproves your proposal for mixed-financing or mixed-use.

Note: Approval of the Section 811 capital advance will not necessarily be approval of the mixed-finance/mixed-use proposal. If approved for a reservation of capital advance funds, you will be required to submit, after reservation of capital advance funds, a detailed proposal outlining how you will fund both development and operation of the additional units in accordance with HUD instructions that will be issued later. Based on the strength of your organization and HUD's prior experience with your projects, as well as your outline of your intentions, at time of making the fund reservation, HUD will determine whether you will be permitted to submit a mixed-finance/mixed-use proposal at a later time. Only those Sponsors that indicate in their application for a fund reservation an intention to propose additional units will be eligible to submit, at a later time, a mixed-finance/mixed-use proposal for additional units. (A mixed-finance/mixed-use project, as used here, does not include the development of Section 811 units using secondary/supplementary financing or the development of a mixed-use project in which the Section 811 units are mortgage separately from the other uses of the structure).

(4)(d) Evidence of control of an approvable site, OR identification of a site for which you provide a reasonable assurance that you will obtain control within 6 months from the date of fund reservation (if you are approved for funding).

Site control—If you are submitting an application with site control, you must submit the following:

(4)(d)(i) Acceptable evidence that you have site control, which is limited to any one of the following:

(A) Deed or long-term leasehold which evidences that you have title to or a leasehold interest in the site. If a leasehold, the term of the lease must be at least 50 years;

(B) Contract of sale for the site which is free of any limitations affecting ability to deliver ownership to you after you receive and accept a notice of Section 811 capital advance. The only condition for closing on the sale can be your receipt and acceptance of the capital advance. The contract of sale cannot require closing on a date earlier than the Section 811 closing.

(C) Option to purchase or for a long-term leasehold which must remain in effect for six months from the date on which the applications are due and must state a firm price binding on the seller. The only condition on which the option may be terminated is if you are not awarded a fund reservation. The option must be renewable at the end of the six month option period.

(D) Where the proposed site is subject to a mortgage under a HUD program (e.g., an earlier Section 811 or an FHA-insured mortgage), you must submit evidence that consent to release of the site from the mortgage has been obtained or has been requested from HUD and from the mortgagee, if other than HUD.

(E) For sites to be acquired from a public body, evidence is needed that the public body possesses clear title to the site and has entered into a legally binding agreement to lease or convey the site to you after you receive and accept a notice of Section 811 capital advance. If HUD determines that time constraints of the funding round will not permit you to obtain all of the required official actions (e.g., approval of Community Planning Boards) that are necessary to convey publicly-owned sites, you may include in your application a letter from the mayor or director of the appropriate local agency indicating that conveyance or leasing of the site is acceptable without imposition of additional covenants or restrictions, and only contingent on the necessary approval action. Such a letter commitment will be considered sufficient evidence of site control.

Note: For this funding cycle, New York City-owned sites that are designated as community gardens will not meet site control requirements due to litigation involving those sites.

(4)(d)(ii) Whether you have title to the site, a contract of sale, an option to purchase or are acquiring a site from a public body, you must provide evidence (a title policy or other acceptable evidence) that the site is free of any limitations, restrictions, or reverters which could adversely affect the use of the site for the proposed project for the 40-year capital advance period under HUD's regulations and requirements (e.g., reversion to seller if title is transferred). If the title evidence contains restrictions or covenants, copies of the restrictions or covenants must be submitted with the application. If the site is subject to any such limitations, restrictions, or reverters, the site will be rejected. Purchase money mortgages that will be satisfied from capital advance funds are not considered to be limitations or restrictions that would adversely affect the use of the site. If the contract of sale or option agreement contains provisions that allow a Sponsor not to purchase the property for reasons such as environmental problems, failure of the site to pass inspection, or the appraisal is less than the purchase price, then such provisions are not objectionable and a Sponsor is allowed to terminate the contract of sale or the option agreement.

Note: A Proposed Project Site May not be Acquired or Optioned From a General Contractor (or its Affiliate) That Will Construct the Section 811 Project or From any Other Development Team Member.

(4)(d)(iii) Evidence that your project as proposed is permissible under applicable zoning ordinances or regulations, or a statement of the proposed action required to make your proposed project permissible. You must provide the basis for your belief that the proposed action will be completed successfully before the submission of the firm commitment application (e.g., a summary of the results of any requests for rezoning on land in similar zoning classifications and the time required for such rezoning, the procedures for obtaining special or conditional use permits on land in similar zoning classifications and the time required for such rezoning, or preliminary indications of acceptability from zoning bodies, etc.). NOTE: You should be aware that under certain circumstances the Fair Housing Act requires localities to make reasonable accommodations to their zoning ordinances or regulations to offer persons with disabilities an opportunity to live in an area of their choice. If you are relying upon a theory of reasonable accommodation to satisfy the zoning requirement, then you must clearly articulate the basis for your reasonable accommodation theory.

(4)(d)(iv) A narrative topographical and demographic description of the suitability of the site and area as well as a description of the area surrounding the site, the characteristics of the neighborhood, how the site will promote greater housing opportunities for minorities and persons with disabilities thereby affirmatively furthering fair housing. (NOTE: You can best demonstrate your commitment to affirmatively furthering fair housing by describing how proposed activities will assist the jurisdiction in overcoming impediments to fair housing choice identified in the applicable jurisdiction's Analysis of Impediments to Fair Housing Choice (AI), which is a component of the jurisdiction's Consolidated Plan, or any other planning document that addresses fair housing issues. The applicable Consolidated Plan and AI may be the Community's, the County's, or the State's, to which input should have been provided by local community organizations, agencies in the community, and residents of the community. Alternatively, a document that addresses fair housing issues and remedies to barriers to fair housing in the community that was previously prepared by a local planning, or similar organization, may be used. Applicable impediments could include a lack of units that are accessible to persons with disabilities, a lack of transportation services or other assistance that would serve persons with disabilities, or the need for improved housing quality and services for all persons with disabilities.

(4)(d)(v) A map showing the location of the site and the racial composition of the neighborhood, with the area of racial concentration delineated;

(4)(d)(vi) A Phase I Environmental Site Assessment (ESA), in accordance with the American Society for Testing and Material (ASTM) Standards E 1527-97, as amended, in order for the application to be considered as an application with site control. The Phase I ESA must be completed and submitted with the application. In order for the Phase I ESA to be acceptable, it must have been completed or updated no earlier than six months prior to the application deadline date. The Phase I study is not a curable deficiency for the Section 811 Program. Therefore, it is important that you start the Phase I ESA process as soon after publication of this SuperNOFA as possible.

If the Phase I ESA indicates the possible presence of contamination and/or hazards, you must decide whether to continue with this site or choose another site. Should you choose another site, the same Phase I ESA process identified above must be followed for the new site. NOTE: You are not limited to acquiring properties from the FDIC/RTC. However, if the property is to be acquired from the FDIC/RTC, include a copy of the FDIC/RTC prepared Transaction Screen Checklist or Phase I ESA, and applicable documentation, per the FDIC/RTC Environmental Guidelines.

If you choose to continue with the original site on which the Phase I ESA indicated contamination or hazards, you must undertake a detailed Phase II ESA by an appropriate professional. If the Phase II ESA reveals site contamination, the extent of the contamination and a plan for clean-up of the site must be submitted to the local HUD Office. The plan for clean-up must include a contract for remediation of the problem(s) and an approval letter from the applicable Federal, State, and/or local agency with jurisdiction over the site. In order for your application to be considered as an application with site control you must submit this information to the local HUD Office on or before June 25, 2001.

Note: This Could be an Expensive Undertaking. You Must pay for the Cost of any Clean-Up and/or Remediation.

(4)(d)(vii) A letter from the State Historic Preservation Officer (SHPO) indicating whether the proposed site(s) has any historical significance. If you cannot obtain a letter from the SHPO due to the SHPO not responding to your request or the SHPO responding that it cannot or will not comply with the requirement, you must submit the following:

(A) A letter indicating that you attempted to get the required letter from the SHPO but that the SHPO either had not responded to your request or would not honor or recognize your request;

(B) A copy of your letter to the SHPO requesting the required letter; and

(C) A copy of the SHPO's response, if available.

(4)(d)(viii) A statement that you are willing to seek a different site if the preferred site is unapprovable and that site control will be obtained within six months of notification of fund reservation.

(4)(d)(ix) If you are requesting an exception to the project size limits found in Section IV(F) of this program section of the SuperNOFA (for independent living projects only), describe why the site was selected and demonstrate the following:

(A) People with disabilities have indicated their preference to live in housing with as many units/people as proposed for your project;

(B) The increased number of units/people is warranted by the market conditions in the area in which the project is to be located.

(C) Your project is compatible with other residential development and the population density of the area in which your project is to be located;

(D) The increased number of people will not prohibit their successful integration into the community;

(E) Your project is marketable in the community;

(F) The size of your project is consistent with State and/or local policies governing similar housing for the proposed population; and

(G) A statement that you are willing to have your application processed at the project size limit should HUD not approve the exception.

Site identified—If you have identified a site, but do not have it under control, you must submit the following information:

(4)(d)(x) A description of the location of the site, including its street address, its unit number (if condominium), neighborhood/community characteristics (to include racial and ethnic data), amenities, adjacent housing and/or facilities, and how the site will promote greater housing opportunities for minorities and persons with disabilities thereby affirmatively furthering fair housing. You can best demonstrate your commitment to affirmatively furthering fair housing by describing how your proposed activities will assist the jurisdiction in overcoming impediments to fair housing choice identified in the community's AI or any other planning document that addresses fair housing issues. Examples of the applicable impediments include the need for improved housing quality and services for minority persons with disabilities and the need for quality services for persons with disabilities within the type and quality of similar services and housing in minority areas;

(4)(d)(xi) A description of the activities undertaken to identify the site, as well as what actions must be taken to obtain control of the site, if approved for funding;

(4)(xii) An indication as to whether the site is properly zoned. If it is not, an indication of the actions necessary for proper zoning and whether these can be accomplished within six months of fund reservation award, if approved for funding;

(4)(d)(xiii) A status of the sale of the site; and

(4)(d)(xiv) An indication as to whether the site would involve relocation.

Note: If an application is submitted without evidence of site control and does not provide a specific street address for the identified site(s) (e.g, only an indication that the project will be developed in a particular part of town but a site(s) has not been chosen) the application will be rejected.

(4)(e) A supportive services plan (a copy of which must be sent to the appropriate State or local agency as instructed in Section IV(E) of this program section of the SuperNOFA) that includes:

(4)(e)(i) A detailed description of whether the housing is expected to serve persons with physical disabilities, developmental disabilities, chronic mental illness or any combination of the three. Include how and from whom/where persons will be referred to and accepted for occupancy in the project.

(4)(e)(ii) Information concerning limitation of occupancy, if applicable. You may, with the approval of the Secretary, limit occupancy within housing developed under this program section of the SuperNOFA to persons with disabilities who have similar disabilities and require a similar set of supportive services in a supportive housing environment. However, the Owner must permit occupancy by any qualified person with a disability who could benefit from the housing and/or services provided, regardless of the person's disability. If you are requesting approval to limit occupancy in your proposed project(s), you must submit the following:

(A) A description of the population of persons with disabilities to which occupancy will be limited;

(B) An explanation of why it is necessary to limit occupancy of the proposed project(s) to the population described in (4)(e)(ii) above. This should include but is not limited to:

—An explanation of how limiting occupancy to a subcategory of persons with disabilities promotes the goals of the Section 811 Program; and,

—An explanation of why the housing and/or service needs of this population cannot be met in a more integrated setting.

(C) A description of your experience in providing housing and/or supportive services to the proposed occupants; and

(D) A description of how you will ensure that the occupants of the proposed project(s) will be integrated into the neighborhood and surrounding community.

(4)(e)(iii) A detailed description of the supportive service needs of the persons with disabilities that the housing is expected to serve.

(4)(e)(iv) A list of community service providers, including those that are consumer-controlled, and letters of intent to provide services to residents of the proposed project(s) from as many potential service providers as possible. You must make this list available to any residents who wish to be responsible for acquiring their own supportive services. However, a provider may not require residents to accept any particular service.

(4)(e)(v) The evidence of each service provider's capability and experience in providing such supportive services (applicable even if you will be the service provider);

(4)(e)(vi) Identification of the extent of State and/or local agency involvement in the project (i.e., funding for the provision of supportive services, referral of residents, or licensing the project). If there will be any State or local agency involvement, a description of the State or local agency's philosophy/policy concerning housing for the population to be served and a demonstration that your application is consistent with State or local plans and policies governing the development and operation of housing for the same disabled population;

(4)(e)(vii) If you will be making any supportive services available to the residents or will be coordinating the availability of any supportive services, a letter providing:

(A) A description of the supportive services that you will make available to the residents or, if you will be coordinating the availability of any supportive services, a description of the supportive service(s) and how the coordination will be implemented;

(B) An assurance that any supportive services that you will make available to the residents will be based on their individual needs; and

(C) A commitment to make the supportive services available or coordinate their availability for the life of the project.

(4)(e)(viii) A description of how the residents will be afforded opportunities for employment.

(4)(e)(ix) An indication as to whether the project will include a unit for a resident manager; and

(4)(e)(x) A statement that you will not condition occupancy on the resident's acceptance of any supportive services.

(5) A list of the applications, if any, that you have submitted or are planning to submit to any other HUD Office in response to this announcement of section 811 Program funding availability or the announcement of funding availability for the Section 202 Program of Supportive Housing for the Elderly, published elsewhere in this SuperNOFA. Indicate, by HUD Office, the number of units requested and the proposed location by city and State for each application. Include a list of all FY 2000 and prior year projects to which you are a party, identified by project number and HUD Office, which have not been finally closed.

(6) A statement that:

(6)(a) Identifies all persons (families, individuals, businesses, and nonprofit organizations) by race/minority group and status as owners or tenants occupying the property on the date of submission of the application for a capital advance;

(6)(b) Indicates the estimated cost of relocation payments and other services;

(6)(c) Identifies the staff organization that will carry out the relocation activities; and

(6)(d) Identifies all persons that have moved from the site within the last 12 months. (This requirement applies to applications with site control only. Sponsors of applications with identified sites that are selected will be required to submit this information at a later date once they have obtained site control.)

Note: If any of the relocation costs will be funded from sources other than the Section 811 Capital Advance, you must provide evidence of a firm commitment of these funds. When evaluating applications, HUD will consider the total cost of proposals (i.e., cost of site acquisition, relocation, construction and other project costs).

(7) Certifications and Resolutions. In addition to the certifications and assurances listed in the General Section of this SuperNOFA with the exception of SF-424A, SF-424B, SF-424C, SF-424D and the OMB Circulars which are not required, you are required to submit signed copies of the following:

(7)(a) Standard Form 424. Application for Federal Assistance and indication of whether you are delinquent on any Federal debt. (See instructions for submitting this form in the Consolidated Application Submissions section of the General Section of the SuperNOFA.)

(7)(b) Drug-Free Workplace (HUD-50070). Certification to provide a drug-free workplace.

(7)(c) Payments to Influence Federal Transactions (HUD-50071) and Standard Form LLL, Disclosure of Lobbying Activities. Certification of whether any of the funds received will be used to influence any Federal transactions and disclosure of those activities, if applicable.

(7)(d) Applicant/Recipient Disclosure/Update Report, including Social Security Numbers and Employee Identification Numbers, (HUD-2880). A disclosure of assistance from other government sources received in connection with the project.

(7)(e) Certification Regarding Debarment and Suspension (HUD-2992) (24 CFR 24.510)—a certification attesting to the eligibility of your principals.

(7)(f) Executive Order 12372 Certification. A certification that you have submitted a copy of your application, if required, to the State agency (single point of contact) for State review in accordance with Executive Order 12372.

(7)(g) Certification of Consistency with the Consolidated Plan (Plan) (Form HUD-2991) for the jurisdiction in which the proposed project will be located. The certification must be made by the unit of general local government if it is required to have, or has, a complete Plan. Otherwise, the certification may be made by the State, or by the unit of general local government if the project will be located within the jurisdiction of the unit of general local government authorized to use an abbreviated strategy, and if it is willing to prepare such a Plan.

All certifications must be made by the public official responsible for submitting the Plan to HUD. The certifications must be submitted as part of the application by the application submission deadline date set forth in this program section of the SuperNOFA. The Plan regulations are published in 24 CFR part 91.

(7)(h) A certified Board Resolution that no officer or director of the Sponsor or Owner has or will have any financial interest in any contract with the Owner or in any firm or corporation that has or will have a contract with the Owner, including a current listing of all duly qualified and sitting officers and directors by title and the beginning and ending dates of each person's term.

(7)(i) A Certified Board Resolution acknowledging responsibilities of sponsorship, long-term support of the project(s), your willingness to assist the Owner to develop, own, manage and provide appropriate services in connection with the proposed project, and that it reflects the will of your membership. Also, it shall indicate your willingness to fund the estimated start-up expenses, the Minimum Capital Investment (one-half of one-percent of the HUD-approved capital advance, not to exceed $10,000), and the estimated cost of any amenities or features (and operating costs related thereto) that would not be covered by the approved capital advance.

(7)(j) Certification of Consistency with the EZ/EC Strategic Plan (HUD-2990). A certification that the project is consistent with the EZ/EC strategic plan, is located within the EZ/EC, and serves EZ/EC residents.

(7)(k) Sponsor's Combined Certifications.

(7)(k)(i) Certification in Connection with the Development and Operation of a Section 811 Project. A certification of compliance with the requirements of the Fair Housing Act, Title VI of the Civil Rights Act, the Age Discrimination Act of 1975, the affirmative fair housing marketing requirements of 24 CFR part 200, subpart M, and the implementing regulations at 24 CFR part 108, and other applicable Federal, State and local laws prohibiting discrimination and promoting equal opportunity including affirmatively furthering fair housing.

(7)(k)(ii) Section 3 of the Housing and Urban Development Act of 1968 (12 U.S.C. 1701u). Certification of Compliance with Section 3 of the Housing and Urban Development Act of 1968 (12 U.S.C. 1701u) and implementing regulations at 24 CFR part 135. Certification that you will strongly encourage your general contractor and subcontractors to participate in local apprenticeship programs or training programs registered with or certified by the Department of Labor's Bureau of Apprenticeship and Training or recognized State Apprenticeship Agency.

(7)(k)(iii) Design and Cost Standards. Certification of Compliance with HUD's Section 811 project design and cost standards (24 CFR 891.120 and 891.310), the Uniform Federal Accessibility Standards (24 CFR 40.7), section 504 of the Rehabilitation Act of 1973 and HUD's implementing regulations at 24 CFR part 8, and for covered multifamily dwellings designed and constructed for first occupancy after March 13, 1991, the design and construction requirements of the Fair Housing Act and HUD's implementing regulations at 24 CFR part 100, and the Americans with Disabilities Act of 1990.

(7)(k)(iv) Acquisition and Relocation. Certification of Compliance with the acquisition and relocation requirements of the Uniform Relocation Assistance and Real Property Acquisition Policies Act of 1970 (49 CFR part 24 and 24 CFR part 891.155(e)).

(7)(k)(v) Formation of Owner Corporation. Certification that you will form an “Owner” (24 CFR 891.305) after issuance of the capital advance; cause the Owner to file a request for determination of eligibility and a request for capital advance, and provide sufficient resources to the Owner to insure the development and long-term operation of the project, including capitalizing the Owner at firm commitment processing in an amount sufficient to meet its obligations in connection with the project.

(7)(k)(vi) Supportive Services. Certification that you will not require residents to accept any supportive services as a condition of occupancy; and,

(7)(k)(vii) Davis-Bacon. Certification of compliance with the Davis-Bacon requirements and the Contract Work Hours and Safety Standards Act.

(7)(l) Supportive Services Certification. A certification from the appropriate State or local agency identified in the application kit indicating whether the:

(7)(l)(i) Provision of supportive services is well designed to serve the needs of persons with disabilities the housing is expected to serve;

(7)(l)(ii) The provision of supportive services will enhance independent living success and promote the dignity of those who will access your proposed project;

(7)(l)(iii) Supportive services will be available on a consistent, long-term basis; and

(7)(l)(iv) Proposed housing is consistent with State or local plans and policies addressing the housing needs of people with disabilities if the State or local agency will provide funding for the provision of supportive services, refer residents to the project or license the project. (The name, address, and telephone number of the appropriate agency will be identified in the application kit and can also be obtained from the appropriate HUD Office.)

(7)(m) Certification that you will comply with the requirements of the Lead-Based Paint Poisoning Prevention Act (42 U.S.C. 4821-4846) and implementing regulations at 24 CFR part 35.

(7)(n) Single Occupancy Bedrooms in Group Homes. Certification that if you are developing a group home, all bedrooms will be occupied be one person with a disability unless that person chooses to share his/her bedroom with another person with a disability or determines that he/she/ needs another person to share his/her bedroom.

VII. Corrections to Deficient Applications

The General Section of the SuperNOFA provides the procedures for corrections to deficient applications.

VIII. Environmental Requirements

In accordance with 24 CFR part 50, all Section 811 assistance is subject to the National Environmental Policy Act of 1969 and applicable related Federal environmental authorities. The environmental review provisions of the Section 811 Program regulations are in 24 CFR 891.155(b).

IX. Formation of Owner Corporation for Development of Section 811 Projects and for Section 811 Projects Involving Mixed-Financing or a Mixed-Use Purpose

Applicant eligibility for purposes of applying for a Section 811 fund reservation under this NOFA has not changed; i.e., all Section 811 Sponsors and Co-Sponsors must be nonprofit organizations. However, the Owner corporation, when later formed by the Sponsor, may be (1) a single-purpose nonprofit organization that has tax-exempt status under Section 501(c)(3) of the Internal Revenue Code of 1986 OR (2) for purposes of developing a mixed-finance/mixed-use project for developing additional units over and above the Section 811 units, a for-profit limited dividend organization with the nonprofit entity as the sole general partner.

X. Authority

Section 811 of the Cranston-Gonzalez National Affordable Housing Act (Pub. L. 101-625, approved November 28, 1990), as amended by the Housing and Community Development Act of 1992) (Pub. L. 102-550, approved October 28, 1992); the Rescissions Act (Pub. L. 104-19, approved July 27, 1995); and the America Homeownership and Economic Opportunity Act of 2000 (Pub. L. 106-569, approved December 27, 2000) authorized a new supportive housing program for persons with disabilities, and replaced assistance for persons with disabilities previously covered by section 202 of the Housing Act of 1959 (section 202 continues, as amended by section 801 of the NAHA, and the HCD Act of 1992, to authorize supportive housing for the elderly).

APPENDIX A—Local HUD Offices

Notes: (1) The first line of the mailing address for all offices is Department of Housing and Urban Development. Telephone numbers listed are not toll-free.

(2) Applications for projects proposed to be located within the jurisdiction of the Seattle, Washington and the Anchorage, Alaska Offices must be submitted to the Portland, Oregon Office.

(3) Applications for projects proposed to be located within the jurisdiction of the Sacramento, California Office must be submitted to the San Francisco, California Office.

(4) Applications for projects proposed to be located within the jurisdiction of the Cincinnati, Ohio Office must be submitted to the Columbus, Ohio Office.

(5) Applications proposed to be located within the jurisdiction of the Washington, DC Office must be submitted to the Baltimore, Maryland Office.

HUD—BOSTON HUB

HARTFORD OFFICE

One Corporate Center, 19th Floor, Hartford, CT 06103-3220, (860) 240-4800, TTY Number: (860) 240-4665.

BOSTON OFFICE

Room 301, Thomas P. O'Neill, Jr., Federal Building, 10 Causeway Street, Boston, MA 02222-1092, (617) 994-8500, TTY Number: (617) 565-5453.

MANCHESTER OFFICE

Norris Cotton Federal Building, 275 Chestnut Street, Manchester, NH 03101-2487, (603) 666-7681, TTY Number: (603) 666-7518.

PROVIDENCE OFFICE

Sixth Floor, 10 Weybosset Street, Providence, RI 02903-2808, (401) 528-5230, TTY Number: (401) 528-5403.

HUD—NEW YORK HUB

NEW YORK OFFICE

26 Federal Plaza, New York, NY 10278-0068, (212) 264-8000, TTY Number: (212) 264-0927.

HUD—BUFFALO HUB

BUFFALO OFFICE

Fifth Floor, Lafayette Court, 465 Main Street, Buffalo, NY 14203-1780, (716) 551-5755, TTY Number: (716) 551-5787.

HUD—PHILADELPHIA HUB

PHILADELPHIA OFFICE

The Wanamaker Building, 100 Penn Square East, Philadelphia, PA 19107-3380, (215) 656-0600, TTY Number: (215) 656-3452.

CHARLESTON OFFICE

Suite 708, 405 Capitol Street, Charleston, WV 25301-1795, (304) 347-7000, TTY Number: (304) 347-5332.

NEWARK OFFICE

Thirteenth Floor, One Newark Center, Newark, NJ 07102-5260, (973) 622-7900, TTY Number: (973) 645-3298.

PITTSBURGH OFFICE

339 Sixth Avenue, Sixth Floor, Pittsburgh, PA 15222-2515, (412) 644-6428, TTY Number: (412) 644-5747.

HUD—BALTIMORE HUB

BALTIMORE OFFICE

Fifth Floor, City Crescent Building, 10 South Howard Street, Baltimore, MD 21201-2505, (410) 962-2520, TTY Number: (410) 962-0106.

RICHMOND OFFICE

The 3600 Centre, 3600 West Broad Street, Richmond, VA 23230-4920, (804) 278-4500, TTY Number: (804) 278-4501.

HUD—GREENSBORO HUB

GREENSBORO OFFICE

Koger Building, 2306 West Meadowview Road, Greensboro, NC 27407-3707, (336) 547-4000, TTY Number: (336) 547-4055.

COLUMBIA OFFICE

Strom Thurmond Federal Building, 1835-45 Assembly Street, Columbia, SC 29201-2480, (803) 765-5592, TTY Number: (803) 253-3071.

HUD—ATLANTA HUB

ATLANTA OFFICE

40 Marietta Street—Five Points Plaza, Atlanta, GA 30303-2806, (404) 331-5001, TTY Number: (404) 730-2654.

SAN JUAN OFFICE

Edificio Administracion de Terrenos, 171 Carlos Chardon Avenue, Suite 301, San Juan, PR 00918-0903, (787) 766-5400, TTY Number: (787) 776-5609.

LOUISVILLE OFFICE

601 West Broadway, P.O. Box 1044, Louisville, KY 40201-1044, (502) 582-5251, TTY Number: 1-800-648-6056.

KNOXVILLE OFFICE

Third Floor, John J. Duncan Federal Building, 710 Locust Street, Knoxville, TN 37902-2526, (423) 545-4384, TTY Number: (423) 545-4559.

NASHVILLE OFFICE

Suite 200, 235 Cumberland Bend, Nashville, TN 37228-1803, (615) 736-5213, TTY Number: (615) 736-2886.

HUD—JACKSONVILLE HUB

JACKSONVILLE OFFICE

Suite 2200, Southern Bell Tower, 301 West Bay Street, Jacksonville, FL 32202-5121, (904) 232-2626, TTY Number: (904) 232-2631.

BIRMINGHAM OFFICE

Medical Forum Building, 950 22nd St., North, Suite 900, Birmingham, AL 35203-5301, (205) 731-2630, TTY Number: (205) 731-2624.

JACKSON OFFICE

Suite 910, Doctor A.H. McCoy Federal Building, 100 West Capitol Street, Jackson, MS 39269-1096, (601) 965-4700, TTY Number: (601) 965-4171.

HUD—CHICAGO HUB

CHICAGO OFFICE

Ralph H. Metcalfe Federal Building, 77 West Jackson Boulevard, Chicago, IL 60604-3507, (312) 353-5680, TTY Number: (312) 353-5944.

INDIANAPOLIS OFFICE 151

North Delaware Street, Indianapolis, IN 46204-2526, (317) 226-6303, TTY Number: (317) 226-7081.

HUD—DETROIT HUB

DETROIT OFFICE

Patrick V. McNamara Federal Building, 477 Michigan Avenue, Detroit, MI 48226-2592, (313) 226-7900, TTY Number: (313) 226-6899.

GRAND RAPIDS OFFICE

Trade Center Building, 50 Louis Street, NW, Third Floor, Grand Rapids, MI 49503-2648, (616) 456-2100, TTY Number: (616) 456-2159.

HUD—COLUMBUS HUB

COLUMBUS OFFICE

200 North High Street, 7th Floor, Columbus, OH 43215-2499, (614) 469-2540, TTY Number: (614) 469-6694.

CLEVELAND OFFICE

Renaissance Building, 1350 Euclid Avenue, Suite 500, Cleveland, OH 44115-1815, (216) 522-4058, TTY Number: (216) 522-2261.

HUD—MINNEAPOLIS HUB

MINNEAPOLIS OFFICE

220 Second Street, South Minneapolis, MN 55401-2195, (612) 370-3000, TTY Number: (612) 370-3186.

MILWAUKEE OFFICE

Suite 1380, Henry S. Reuss Federal Plaza, 310 West Wisconsin Avenue, Milwaukee, WI 53203-2289, (414) 297-3214, TTY Number: (414) 297-23.

HUD—FT. WORTH HUB

LITTLE ROCK OFFICE

Suite 900, TCBY Tower, 425 West Capitol Avenue, Little Rock, AR 72201-3488, (501) 324-5931, TTY Number: (501) 324-5931.

NEW ORLEANS OFFICE

Ninth Floor, Hale Boggs Federal Building, 501 Magazine Street, New Orleans, LA 70130-3099, (504) 589-7200, TTY Number: (504) 589-7279.

FT. WORTH OFFICE

801 Cherry Street, P.O. Box 2905, Fort Worth, TX 76113-2905, (817) 978-5965, TTY Number: (817) 978-5595.

HOUSTON OFFICE

Suite 200, Norfolk Tower, 2211 Norfolk, Houston, TX 77098-4096, (713) 313-2274, TTY Number: (713) 834-3274.

SAN ANTONIO OFFICE

Washington Square, 800 Dolorosa Street, San Antonio, TX 78207-4563, (210) 475-6800, TTY Number: (210) 475-6885.

HUD—GREAT PLAINS

DES MOINES OFFICE

Room 239, Federal Building, 210 Walnut Street, Des Moines, IA 50309-2155, (515) 284-4512, TTY Number: (515) 284-4728.

KANSAS CITY OFFICE

Room 200, Gateway Tower II, 400 State Avenue, Kansas City, KS 66101-2406, (913) 551-5462, TTY Number: (913) 551-6972.

OMAHA OFFICE

Executive Tower Centre, 10909 Mill Valley Road, Omaha, NE 68154-3955, (402) 492-3100, TTY Number: (402) 492-3183.

SAINT LOUIS OFFICE

Third Floor, Robert A. Young Federal Building, 1222 Spruce Street, St. Louis, MO 63103-2836, (314) 539-6583, TTY Number: (314) 539-6331.

OKLAHOMA CITY OFFICE

500 West Main Street, Suite 400, Oklahoma City, OK 73102-2233, (405) 553-7401, TTY Number: 1-800-877-8339.

HUD—DENVER HUB

DENVER OFFICE

633 17th Street, Denver, CO 80202-3607, (303) 672-5440, TTY Number: (303) 672-5248.

HUD—SAN FRANCISCO HUB

PHOENIX OFFICE

Suite 1600, Two Arizona Center, 400 North 5th Street, Phoenix, AZ 85004-2361, (602) 379-4434, TTY Number: (602) 379-4464.

SAN FRANCISCO OFFICE

Philip Burton Federal Building and U.S. Courthouse, 450 Golden Gate Avenue, P.O. Box 36003, San Francisco, CA 94102-3448, (415) 436-6550, TTY Number: (415) 436-6594.

HONOLULU OFFICE

Suite 500, 7 Waterfront Plaza, 500 Ala Moana Boulevard, Honolulu, HI 96813-4918, (808) 522-8185, TTY Number: (808) 522-8193.

HUD—LOS ANGELES HUB

LOS ANGELES OFFICE

611 West 6th Street, Suite 800, Los Angeles, CA 90017-3106, (213) 894-8000, TTY Number: (213) 894-8133.

HUD—SEATTLE HUB

PORTLAND OFFICE

400 Southwest Sixth Avenue, Suite 700, Portland, OR 97204-1632, (503) 326-2561, TTY Number: (503) 326-3656

APPENDIX B

The non-standard forms, which follow, are required for your Section 811 Program application

BILLING CODE 4210-32-P

FUNDING AVAILABILITY FOR THE ASSISTED LIVING CONVERSION PROGRAM (ALCP) FOR ELIGIBLE MULTIFAMILY HOUSING PROJECTS

Program Overview

Purpose of the Program. The purpose of this program is to provide grants for the conversion of some or all of the dwelling units in an eligible project into assisted living facilities (ALFs) for frail elderly persons.

Available Funds. Approximately $75 million for conversion of eligible multifamily projects to ALFs. $50 million under Fiscal Year 2001 Appropriation Act and $25 million in carryover funds).

Eligible Applicants. Only nonprofit project owners of eligible developments (as described in Section III of this NOFA) may apply for and become the recipient of a grant.

Application Due Dates. June 21, 2001 for applications to convert eligible multifamily development to ALFs.

February 26, 2001 through June 21, 2001 for applications from nonprofit owners to convert unused or underutilized commercial properties to ALFs. (See additional information on application due dates in “Application Due Date” of Section I below.)

Match. None required.

Additional Information

I. Application Due Date, Application Kits, and Technical Assistance

Application Due Date. If you are an eligible project owner applying to convert your eligible multifamily assisted housing development to an ALF, your completed application (one original and four copies) is due on or before 6:00 pm, local time, on June 21, 2001, at the address shown below. If you are a nonprofit organization applying to convert an unused or underutilized commercial property to an ALF, your completed application (one original and four copies) will be accepted on or before 6:00 pm, local time, beginning on February 26, 2001, and ending on June 21, 2001, at the address shown below.

See the General Section of the SuperNOFA for specific procedures governing the form of application submission (e.g., mailed applications, express mail, overnight delivery, or hand carried).

Addresses for Submitting Applications. The official place for receipt of your application is ONLY in the appropriate Multifamily Hub Office. Submit an original and four copies of the ALCP application to the Director of the appropriate HUD Multifamily Hub Office, as listed in Appendix A of this NOFA, with jurisdiction over your development.

Appendix B to this NOFA lists the 18 Multifamily Hubs with the Program Centers under them, to facilitate applicants knowing the correct location to send the application.

For Application Kits, Further Information, and Technical Assistance. For Application Kits. You may obtain an ALCP application kit and supplemental information by calling the SuperNofa Information Center at (voice) 1-800-HUD-8929 (1-800-483-8929). Persons with hearing or speech impairment may call the Center's TTY number at 1-800-HUD-2209. Please be sure to provide your name, address (including zip code), and telephone number (including area code). The application kit is also available on the Internet through the HUD web site at http://www.hud.gov.

Note: There is a separate application kit for service coordinator funds (which is necessary for those needing to enhance or add service coordination per Section III(B)(14) of this NOFA).

For Further Information and Technical Assistance. You should contact the Multifamily Hub where you will be mailing your ALCP Application. (Please refer to Hub telephone numbers in Appendix A.)

You also may contact Aretha Williams, Director, Grant Policy and Management Division, Room 6138, at (202)-708-2866 x2480 or Faye Norman, Housing Project Manager at (202) 708-2866 x2482 for questions regarding the ALF process. This is not a toll free number. Ms. Williams can be reached, by e:mail, at “aretha_m. williams@hud.gov” and Ms Norman at “faye_l._norman@hud.gov. Both Ms. Williams and Ms. Norman are located at the Department of Housing and Urban Development, 451 Seventh Street, SW, Washington, DC 20410.

If you have a hearing or speech impairment, you may access the telephone number via TTY by calling the Federal Information Relay Service at 1-800-877-8339.

II. Amount Allocated

This NOFA makes available approximately $75,000,000 ($67,500,000 for the physical conversion of eligible multifamily assisted housing projects or portions of projects to ALFs and $7,500,000 for the conversion of up to 3 unused or underutilized commercial properties to ALFs). The FY 2001 funding of $50 million is in the Departments of Veterans Affairs and Housing and Urban Development, and Independent Agencies Appropriations Act. The $75 million includes $25 million in carryover funds. The allocation formula used for the ALCP to fair share the $67,500,000 reflects demographic characteristics of age and incidence of frailty that would be expected for program participants. The Fiscal Year (FY) 2001 formula consists of three data elements from the 1990 decennial census:

(1) The number of non-institutional elderly population aged 75 years or older with a self-care limitation,

(2) The number of non-institutional elderly population aged 75 or older with a mobility limitation, and,

(3) The number of the non-institutional elderly population aged 75 or older with both a mobility limitation and a self-care limitation. The data were taken from the 1990 Census Special Tabulation on Aging, STP-14, sponsored by the Administration on Aging, U.S. Department of Health and Human Services.

A mobility limitation is defined as a health condition that has lasted for six (6) or more months, making it difficult for the person to go outside the home alone. This includes outside activities such as shopping or visiting the doctor's office. A self-care limitation is defined as a health care limitation that has lasted for six (6) months or more which makes it difficult for the person to take care of his/her own personal needs such as dressing, bathing, or getting around in the home.

A fair share factor for each state was developed by taking the sum of the three elements within each state as a percentage of the sum of the three elements for the total United States. The resulting percentage for each state was then adjusted to reflect the relative difference in the cost of providing housing among the states. The total of the grant funds available ($67.5 million) was multiplied by the adjusted fair share percentage for each state, and the resulting funds for each state were totaled for each Hub.

The ALCP grant funds fair share allocations, based on the formula above, to the 18 multifamily Hubs are as shown on the following chart:

Fiscal Year Allocation 2001 for the Assisted Living Conversion Program (ALCP) of Eligible Assisted Multifamily Projects
HUB | Grant authority
Boston | $4,004,982
Buffalo | 1,916,188
New York City | 4,394,919
Philadelphia | 7,727,208
Baltimore | 2,669,073
Greensboro | 2,781,980
Atlanta | 4,763,164
Jacksonville | 6,167,612
Chicago | 4,904,037
Columbus | 2,572,294
Detroit | 2,371,122
Minneapolis | 2,333,387
Fort Worth | 5,244,696
Kansas City | 4,052,235
Denver | 1,325,512
Los Angeles | 4,108,700
San Francisco | 4,072,910
Seattle | 2,089,981
Total | 67,500,000

III. Program Description; Eligible and Ineligible Applicants, Developments, and Activities

(A) Program Description. Assisted living facilities (ALF) are designed to accommodate frail elderly persons and people with disabilities who need certain support services (e.g., assistance with eating, bathing, grooming, dressing and home management activities). ALFs must provide support services such as personal care, transportation, meals, housekeeping, and laundry. Frail elderly person means an individual 62 years of age or older who is unable to perform at least three activities of daily living (ADLs) as defined by the regulations for HUD's Section 202 Program (Supportive Housing for the Elderly) at 24 CFR 891.205.

Assisted living is defined in section 232(b)(6) of the National Housing Act (12 U.S.C. 1715w). The ALCP provides funding for the physical costs of converting some or all of the units of an eligible multifamily development into an ALF, including the unit configuration, common and services space and any necessary remodeling, consistent with HUD or the State's statute/regulations (whichever is more stringent).

Typical funding will cover basic physical conversion of existing project units, common and services space. There must be sufficient community space to accommodate a central kitchen or dining facility, lounges, recreation and other multiple-areas available to all residents of the project, or office/staff spaces in the ALF. When food is prepared at an off-site location, the preparation area of the facility must be of sufficient size to allow for the installation of a full kitchen, if necessary. You must provide supportive services for the residents either directly or through a third party. Your application must include a firm commitment for the supportive services to be offered within the ALF as part of the application. You may charge assisted living residents for meals and/or service fees. Residents may contract with third party agencies directly for nursing, therapy or other services not offered by the ALF.

(B) Program Requirements. The following program requirements apply: (Note: For applications requesting funds to convert commercial facilities, except (3), (8)(a) and (b), and (12):

(1) Your ALF facility must be licensed and regulated by the State (or if there is no State law providing such licensing and regulation, by the municipality or other subdivision in which the facility is located). Each assisted living unit must include its own kitchen, bathroom, living/dining area (1 bedroom unit) or bedroom/living/dining area (efficiency unit) and must meet the state and/or local licensing, building, zoning and other requirements for an ALF.

(2) Your ALF must be available to qualified elderly persons and persons with disabilities, consistent with the rules and payment plans of the State, who need and want the supportive services in order to remain independent and avoid premature institutionalization.

(3) Your ALF's residents must be tenants or residents of the multifamily project and must comply with the requirements applicable to the project. Thus, you cannot charge additional rent over what is charged to residents in the non-ALF portion of the project. All admissions to the ALF must be through the applicable project admissions office. However, persons accepted into the ALF also must sign an ALF admissions agreement which shall be an addendum to the applicable project lease.

(4) At a minimum, your ALF must provide room, board (as defined in Section III(B)(6)) of this NOFA) and continuous protective oversight (CPO). CPO involves a range of activities and services that may include such things as awareness by management and staff of the occupant's condition and location as well as an ability to intervene in a crisis for dependent and relatively independent occupants on a 24-hour basis. The two occupant groups in an ALF are:

(a) Independent Occupants: Awareness by management and staff of the occupant's condition and whereabouts as well as the availability of assistance for the occupants as needed.

(b) Dependent occupants: Supervision of nutrition, assistance with medication and continuous responsibility for the occupants' welfare.

(5) Anyone moving into an ALF unit must agree to accept as a condition of occupancy the board and services required for the purpose of complying with state and local law and regulation. However, occupancy in an ALF unit may not be conditioned on receipt of other services or board not required by state or local requirements.

(6) Your ALF must offer three meals per day to each resident.

(a) Residents in projects which were originally constructed without kitchens in their units must take such meals as required by their mandatory meals agreement, or by the state's mandated requirements if more stringent (e.g., 2 meals, 2 snacks daily).

(b) Residents whose apartments have kitchens must take at least the number of meals a day provided by the facility, per their mandatory meals requirement, or as required by state or local rules, if more stringent. If the facility does not have a mandatory meals plan, then state and local rules govern.

In either case, ALF management must coordinate meals requirements with the needs of residents who are out part of the day, e.g., in day care. The meals program may not be operated at a profit by the project owner.

(7) Your ALF's operation must be part of the project owner's management organization. Some or all of its functions may be contracted out. The ALF must predicate its budget on a two-tiered structure under which board and supportive service income and expenses must be maintained separately and independently from the regular income and expenses of the applicable project. The two components of ALF costs are:

(a) Charges/payment for board, which may be on a sliding scale or any other equitable fee system; and

(b) Charges/payment for necessary supportive services, which may include a combination of resident fees, Medicaid and/or other third party payments.

(8) Priority admissions for ALF units are as follows:

(a) Current residents desiring an ALF unit and meeting the program requirements (no resident can be required to accept an ALF unit).

(b) Qualified individuals or families needing ALF services who are already on the project's waiting list;

(c) Qualified individuals or families in the community needing ALF services wanting to be added to the project's waiting list; and

Note: Qualified physically disabled non-elderly persons needing assisted living services are eligible to occupy these units on the same basis as elderly persons, except for section 202 PRAC projects and unused/underutilized commercial properties.

(9) The management of the project must set up a separate waiting list for ALF units. ALF units must be for eligible residents who meet the admissions/discharge requirements as established for assisted living by State and local licensing, or HUD frailty requirements under 24 CFR 891.205 if more stringent.

(10) Costs of meals and supportive services are NOT covered by this HUD grant. These items must be paid for through other sources, e.g., a mix of resident fees and/or third party providers. Evidence of third party commitment(s) must be included as part of the application. (See Section IV(B) of this NOFA.) The assisted living supportive services program must promote independence and provide personal care assistance based on individual needs in a home-like environment (see Section VI(B)(8)(b) through (c) of this NOFA).

(11) Upon receipt of a grant under this program, all project owners participating in the ALCP must provide a Declaration of Restrictive Covenants (DRC), which will be recorded with the land, to retain the low income character of the housing, and to maintain the project (including the ALF), as a moderate, low, or very low income facility (as appropriate) for at least 20 years beyond the current 40-to-50 year term of the mortgage loan or capital advance. Recipients of grant funds to convert unused or underutilized commercial property must provide a DRC for at least 20 year or for the term of the mortgage on the property whichever is longer.

(12) This program does NOT allow permanent displacement of any resident living in the project at the time the application was submitted to HUD. (HUD will only provide temporary relocation costs for current tenants if they must vacate their unit while conversion work is underway (normal temporary relocation costs include increases in rent, reconnection of telephones, moving costs and appropriate out-of-pocket expenses)).

(13) The ALCP requires service coordination responsible for linking the ALF to services in the community which are available to low income persons. All projects funded under this NOFA must have sufficient service coordination in place, or request additional funds if appropriate, to ensure that services meeting licensing requirements are available to ALF residents on an ongoing basis. Service coordination must be described in the application (see Section VI(B)(8)(b) through (c) of this NOFA). If you need to enhance an existing service coordination program or add one where it does not exist, you may apply for funding through the Service Coordinator NOFA, published elsewhere in this SuperNOFA , and attach a copy of the Form HUD 424M so indicating the request to the ALCP application. Alternatively, you may show evidence that funding for the enhanced service coordination is provided by other sources and indicate such funding on the HUD Form 424M which is exhibit 10(c) of your ALF application. If you are funded under this NOFA and requested new or enhanced service coordination you will be funded first under the service coordinator NOFA.

Note: If you are a Section 202 PRAC project owner or an owner with unused or underutilized commercial properties, you are NOT eligible to request funding under the service coordinator NOFA. Section 202 PRAC owners can pay for the service coordinator out of PRAC funds.

In addition to above requirements, the following applicable guidelines are stated:

(a) The ALF must be staffed either directly or through coordination with local agencies, depending on state regulations or local requirements. These may also serve non-ALF residents of the project on a time available and appropriate fee basis.

(b) The ALF may cater to the special needs of residents depending on the condition or diagnosis, such as Alzheimer's disease. If it does so, the design/environment of such facilities must accommodate those needs, e.g., dementia special care unit. However, the ALF CANNOT provide a service it is not licensed by the State or locality to provide.

Note 1: Owners of section 202/PRAC projects are reminded that they may include a PRAC payment of up to $15/unit/month not to exceed 15% of the total program cost, consistent with 24 CFR 891.225(b)(2) to cover part of the cost of meals and/or supportive services for frail elderly residents, including residents of the ALF.

Note 2: Training for ALF staff is an eligible project cost under existing operating procedures.

For further information on ALFs, please refer to Handbook 4600.1, CHG-1, “Mortgage Insurance for Residential Care Facilities,” Chapter 13. This Handbook and recent ALF program Notices are accessible through HUDCLIPS on HUD's web site. The URL for the HUDCLIPS Database Selection Screen is http://www.hudclips.org/subscriber/cgi/legis.cgi. These notices are in the Handbooks and Notices—Housing Notices database. Enter only the number without the letter prefix (e.g., 99-16) in the “Document number” to retrieve the program notice.

For further guidance on service coordinators, please refer to Handbook 4381.5 REV-2, CHANGE-2, Chapter 8, “The Management Agent's Handbook,” which is also available through the HUDCLIPS database.

(C) Eligible Applicants. Only nonprofit owners of eligible multifamily assisted housing developments specified in Section 683(2) (B), (C), (D), (E), and (F) of the Housing and Community Development Act of 1992 and nonprofit owners of an unused or underutilized commercial property are eligible for funding. To be eligible, project owners must meet the following criteria where applicable:

(1) Must be in compliance with your Loan Agreement, Capital Advance Agreement, Regulatory Agreement, Housing Assistance Payment contract, Project Rental Assistance Contract, Rent Supplement or LMSA contract, or any other HUD grant or contract document.

(2) Must be in compliance with all fair housing and civil rights laws, statutes, regulations, and executive orders as enumerated in 24 CFR 5.105(a). See Section V(B) of this NOFA for further explanation.

Note: If your eligibility status changes during the course of the grant term, making it ineligible to receive the grant (e.g., prepayment of mortgage, sale/TPA of property, or opting out of a Section 8 Housing Assistance Payment (HAP) contract), HUD retains the right to terminate the grant and recover funds made available through this NOFA.

(D) Eligible Developments. (1) Section 202 projects, Section 202 projects receiving rental assistance under Section 8, and Section 202 projects receiving project rental assistance under Section 202(C)(2). Rural housing projects assisted under Section 515 of the Housing Act of 1949 receiving Section 8 rental assistance are also included as are projects receiving project-based rental assistance. Projects receiving project-based rental among others, housing constructed, substantially rehabilitated or receiving moderate rehabilitation assistance under Section 8. Also included are housing financed by a below-market interest rate loan or insured mortgage under Section 221(d)(3) of the National Housing Act of housing insured, assisted or held by HUD or a State or State Agency under Section 236 of the National Housing Act that have been in occupancy for no less than five years since the date of the HUD-2485 Form “permission to occupy” permit and have completed Final Closing. Your project must:

(a) Meet HUD's Uniform Physical Conditions Standards at 24 CFR part 5, subpart G. Meeting these standards as described, means that the project, based on the most recent Real Estate Assessment Center (REAC) physical inspection report and responses thereto, must have a “satisfactory” rating as evidenced by a score of 60 or better or a HUD-approved and on schedule repair plan for developments scoring less than 60. Additionally, the project must have no uncorrected and outstanding Exigent Health and Safety violations. Finally, the project must not have on file a management review with a rating of “minimally satisfactory” or “unsatisfactory” with open and unresolved findings.

(b) Have a residual receipts account separate from the Reserve for Replacement account, or agree to establish this account as a condition for getting the award(s).

(2) Unused and underutilized commercial properties.

(E) Ineligible Applicants. (1) Owners of developments designed specifically for people with disabilities.

(2) Owners of Section 232 developments.

(3) Property management companies and agents of property management companies.

(4) Limited dividend partnerships.

(F) Eligible Conversion Activities. Eligible activities are:

(1) Retrofitting to meet Section 504 accessibility requirements, minimum property standards for accessibility and/or building codes and health and safety standards for ALFs in that jurisdiction. Examples are items such as addition of:

(a) Sprinkler systems;

(b) An elevator or upgrades thereto;

(c) Lighting upgrades;

(d) Major physical or mechanical systems of projects necessary to meet local code or assisted living requirements;

(e) Upgrading to accessible units for the ALF with moveable cabinetry, accessible appliances, sinks, bathroom and kitchen fixtures, closets, hardware and grab bars, widening of doors, etc.

(f) Upgrades to safety and emergency alert systems;

(g) Addition of hallway railings; and,

(h) Medication storage and work stations;

(2) Retrofitting to add, modify and/or outfit common space, office or related space for ALF staff including a service coordinator and file security, and/or a central kitchen/dining facility to support the ALF function (e.g., outfit lounge/common space/dining furniture, kitchen equipment for cooking/serving and dishware).

(3) Retrofitting to upgrade a regular unit to an accessible unit for a person/family with disabilities who is being displaced from an accessible unit in the portion of the project that is being converted to the ALF, where another accessible unit is not available.

(4) Temporary relocation; (Not applicable to commercial property)

(5) Consultant, architectural and legal fees, and,

(6) Vacancy payments not more than 30 days after conversion to an ALF.

(G) Ineligible Activities. You may not use funds available through this NOFA to:

(1) Add additional dwelling units to the existing project; (Not Applicable to commercial property)

(2) Pay the costs of any of the necessary direct supportive services needed to operate the ALF;

(3) Purchase or lease additional land;

(4) Rehabilitate (see definition at 24 CFR 891.105) the project for needs unrelated directly to the conversion of units and common space for assisted living;

(5) Use the ALCP to reduce the number of accessible units in the project that are not part of the ALF; (Not applicable to commercial property);

(6) Permanently relocate any resident out of the project; and,

(7) Increase the management fee.

IV. Program Requirements

Each applicant must comply with the following requirements:

(A) Statutory, Regulatory,and Other Program Requirements. You must comply with all applicable statutory requirements to the projects specified in Section 202(b) and statutory requirements under Section 232(b)(6). Please note that all ALCP projects must conform to the 500-year flood plain limitation (See Section VII of this NOFA.) Construction of ALCP units is considered a “critical action” for purposes of the flood plain requirement.

Excess Residual Receipts (over $500/unit) and Reserve for Replacement (R4R) funds (over $1000/unit) in Project Accounts that are not approved for another use at the time of application to HUD under this NOFA are considered available funds and must be applied towards the cost of conversion activities. Before making this determination, however, HUD staff will consider the extent of repair/replacement needs indicated in the most recent REAC physical inspection and not yet approved and any ongoing commitments such as non-grant-based service coordinator or other funding, where existing, deduct the estimated costs of such items from the R4R and residual receipts balances to determine the extent of available residual receipts and R4R funds for the ALCP. (This paragraph is not applicable to commercial properties.)

If funded, you must also file a HUD Form-2530 for all construction contractors, architects, consultants, and service provider organizations under direct contract with you that will be engaged under this NOFA and comply with all State and local licensing, zoning and building code requirements.

(B) Meals and Supportive Services. You must develop and submit a Supportive Services Plan (SSP) for the services and coordination of the supportive services which will be offered in the ALF to the appropriate State or local organization(s) which are expected to provide those supportive services. (See Section VI(B)(8) of this NOFA below, for the information which must be in the SSP.) You must submit one copy of your SSP to each appropriate State or local service funding organizations well in advance of the application deadline, for appropriate review. The State or local funding organization(s) must return the SSP to you with appropriate comments and indication of funding commitment, which you will then include with the application you submit to HUD.

You must ALSO submit the SSP to the appropriate organization(s) which license ALFs in your jurisdiction. The licensing agency(ies) must approve your plan, and must also certify that the ALF and the proposed supportive services identified in your SSP, are consistent with local statute and regulations and well designed to serve the needs of the frail elderly and people with disabilities who will reside in the ALF portion of your project.

Finally, you must also submit an agreement to pursue appropriate ALF licensing in a timely manner.

(C) Minimum Size Limits for an ALF. An ALF must be economically feasible. Consistent with HUD Handbook 4600.1, CHG-1, the minimum size for an ALF is five units.

(D) Economic Opportunities for Low and Very Low income Persons (Section 3). You must comply with section 3 of the Housing and Urban Development Act of 1968, 12 U.S.C. 1701u (Economic Opportunities for Low and Very Low Income Persons), and its implementing regulations at 24 CFR part 135. You must ensure that training, employment and other economic opportunities shall, to the greatest extent feasible, be directed toward low and very low income persons, particularly those who are recipients of government assistance for housing and to business concerns which provide economic opportunities to low and very low income persons and including people with disabilities.

(E) Compliance with Fair Housing and Civil Rights Laws. If you, the applicant (a) have been charged with a systemic violation of the Fair Housing Act by the Secretary alleging ongoing discrimination; (b) are the defendant in a Fair Housing Act lawsuit filed by the Department of Justice alleging an ongoing pattern or practice of discrimination; or (c) have received a letter of noncompliance findings under Title VI of the Civil Rights Act of 1964, section 504 of the Rehabilitation Act of 1973, or section 109 of the Housing and Community Development Act of 1974, your application will not be evaluated under this NOFA if, the charge, lawsuit, or letter of findings has not been resolved to the satisfaction of the Department before the application deadline, HUD's decision regarding whether a charge, lawsuit, or a letter of findings has been satisfactorily resolved will be based upon whether appropriate actions have been taken to address allegations of ongoing discrimination in the policies or practices involved in the charge, lawsuit, or letter of findings.

(F) Additional Nondiscrimination Requirements. As you will be converting some of your project to an ALF, you should note that 24 CFR 891.120(b) requires you to meet all accessibility requirements. Additionally, you must comply with the section 504 regulations at 24 CFR part 8, the Americans with Disabilities Act and the regulations at 24 CFR part 36, as applicable.

V. Application Selection Process

(A) Review for Curable Deficiencies. You should ensure that your application is complete before submitting it to HUD.

HUD will screen all applications received by the deadline for curable deficiencies. With respect to correction of deficient applications, HUD may not, after the application due date and consistent with HUD's regulations in 24 CFR part 4, subpart B, consider any unsolicited information an applicant may want to provide. HUD may contact an applicant to clarify an item in the application or to correct technical deficiencies. Please note, however, that HUD may not seek clarification of items or responses that improve the substantive quality of a response to any selection factors. In order not to unreasonably exclude applications from being rated and ranked, HUD may contact applicants to ensure proper completion of the application and will do so on a uniform basis for all applicants. Examples of curable (correctable) technical deficiencies include failure to submit the proper certifications or failure to submit an application that contains an original signature by an authorized official. In each case, under this NOFA, the appropriate HUD Multifamily Hub Office will notify you in writing by describing the clarification or technical deficiency. You must submit clarifications or corrections of technical deficiencies in accordance with the information provided by the Hub Office within 14 calendar days of the date of receipt of the HUD notification. (If the due date falls on a Saturday, Sunday, or Federal holiday, your correction must be received by HUD on the next day that is not a Saturday, Sunday, or Federal holiday.) If the deficiency is not corrected within this time period, HUD will reject the application as incomplete, and it will not be considered for funding. The following is a list of the deficiencies that will be considered curable in ALCP applications:

Exhibits

(1)(a) Application Summary Sheet

*(b) Articles of Incorporation, or certification of Articles of Incorporation

*(c) By-laws, or certification of by-laws

3—Evidence of occupancy for at least five years (Not applicable to commercial facilities)

5(c)—Original project plans

5(h)—Relocation (Not applicable to commercial property)

7—Evidence of Permissive Zoning

8(g)—Support Letters from Governmental Agencies that License ALFs

(10) Certifications and Forms

(a) Standard Form 424, Application for Federal Assistance

(b) Standard Form 424D, Assurances Construction Programs

(c) Form HUD 424M, Federal Assistance Funding Matrix

(d) Form HUD-50070, Drug-free Workplace

(e) Form HUD-50071, Payments to Influence Federal Transactions and Standard Form-LLL, Disclosure of Lobbying Activities

(f) Form HUD 2880, Applicant/Recipient Disclosure/Update Report, including Social Security and Employment Identification numbers

(g) Form HUD-2992, Certification Regarding Debarment and Suspension,

(h) Form HUD-2991, Certification of Consistency with the Consolidated Plan (Plan), for the Jurisdiction in which the Proposed ALF will be located.

(i) Executive Order 12372 Certification, a certification that you have submitted a copy of your application, if required, to the State agency (single point of contact) for State review in accordance with Executive Order 12372.

(j) Certification of Residual Receipts Account

(k) Conflict of Interest Certification

(l) Certification for ALF

(m) Combined Certification

The appropriate Hub Office will notify you in writing if your application is missing any of the exhibits listed above and you will be given 14 days from the date of receipt of the HUD notification to submit the information required to cure the noted deficiencies. The exhibits identified by an asterisk (*) must be dated on or before the application deadline date. If not so dated the application will be rejected.

After the completeness review, HUD staff will review your application to determine whether the application meets the threshold requirements listed below. Only if your application meets all the threshold requirements is it eligible to be rated and ranked.

(B) Threshold Review. In order to pass threshold, you must:

(1) Be in compliance with all fair housing and civil rights laws, statutes, regulations, and executive orders as enumerated in 24 CFR 5.105(a), and as noted earlier in this NOFA under Sections III(B)(2) and IV(E).

(2) Be an eligible applicant.

(3) Not request more funds than advertised.

(4) Additionally, HUD will also reject your application if the SSP and/or commitment and support letter(s) from the appropriate funding organizations and the appropriate licensing agency(ies):

(i) Are not submitted with your application;

(ii) Indicate that the ALF units, facilities, meals and supportive services to be provided are not designed to meet the special needs of the residents who will reside in the ALF as defined in this NOFA,

(iii) Do not show commitment for funding the meals and supportive services proposed; or

(iv) Indicate that the project as proposed will not meet the licensing requirements of the appropriate State/local agency(ies).

(C) Review Panels. The Office of Housing's Multifamily Hubs will establish panels to review all eligible applications that have passed threshold. The panels may include knowledgeable persons not currently employed by HUD.

(D) Rating of Applications. (See paragraph below for selection of applications for commercial properties)

HUD staff teams will review and rate ALCP applications in accordance with the Ranking and Selection procedures (see Section V(E) of this NOFA below). All applications will be either rated or technically rejected at the end of technical review. If your application meets all program eligibility requirements after completion of technical review, it will be rated according to the rating selection factors in Section V(F) of this NOFA. HUD reserves the right to reduce the amount requested in the application if any proposed components are ineligible or if the cost of items is not deemed reasonable.

HUD will NOT reject an ALCP application based on technical review without notifying you of that rejection with all the reasons for the rejection, and providing you an opportunity to appeal. As discussed above, you will have 14 calendar days from the date of HUD's written notice to appeal a technical rejection to the Multifamily Hub where the applications were sent originally. HUD staff will make a determination on an appeal before finalizing selection recommendations.

(E) Ranking and Selection Procedures. ((E)(1)-(4) not applicable to applicants of commercial properties)

Applications submitted in response to this NOFA that are eligible, pass threshold and have a total score of 70 points (or more) are eligible for ranking and selection. (Except applications for conversion of commercial properties with a score of at least 70 points will not be ranked but will be submitted to HUD Headquarters for selection.)

(1) Hub staff teams will be established for ALCP review in each Hub to do the application ratings (see Section V(D) above). See list of Hubs in Appendix A of this NOFA.

(2) From within this rank order, Hub staff teams in each of the 18 Hubs will select the highest ranking applications from within that Hub in order, that can be funded from within the dollars available.

(3) After making the initial selections, however, Hubs may use any residual funds to select the next rank-ordered application by reducing the dollars requested by no more than 10 percent (10%) and reducing the number of units proposed, but in no case reducing the number of units below the financial threshold feasibility of five ALF units.

(4) Funds remaining after these processes are completed will be returned to HUD Headquarters. HUD will use these funds to restore units to any project reduced as a result of using the residual grant funds in a Hub. Secondly, HUD will use these funds for selecting one or more additional applications based on the Hubs rating and rankings, beginning with the highest rated application within the 18 Hubs. Only one application will be selected per Hub from the national residual amount. If there are no approvable applications in other Hubs, the process will begin again with the selection of the next highest rated application within the remaining Hubs. This process will continue until all approvable applications are selected using the available remaining funds. If there is a tie score between two or more applications, and there are insufficient residual funds to cover all tied applications, HUD Headquarters staff will choose the winning application(s) by lottery and/or reduction of grant requests consistent with the instructions above.

(5) Up to 3 applications will be selected using the $7.5 million set-aside to provide grant funds to nonprofit applicants proposing to convert unused or underutilized commercial property into assisted living. HUD Multifamily Hubs will review applications for commercial properties for completeness and compliance with the eligibility criteria set forth in Section III of this NOFA. Hub staff will forward applications to Headquarters providing the application was received by the deadline date, meets all eligibility criteria, proposes reasonable costs for eligible activities, and includes all technical corrections by the designated deadline date. Headquarters will select no more than 3 applications on a first-come, first-served basis that can be funded within the $7,500,000 available. Since applications are due from February 26, 2001, to June 21, 2001, selections may be announced and published in the Federal Register prior to June 21, 2001.

Note: Only applications that can be fully funded will be selected. If an application that cannot be fully funded is selected, it will be discarded and another application selected until an applicant is selected that is within the available remaining funds. Any remaining funds after this selection process will be returned to the funds allocated for eligible multifamily assisted projects.

(F) Factors For Award Used To Evaluate and Rate Applications. HUD will rate ALCP applications that successfully complete technical processing using the Rating Factors set forth below and in accordance with the application submission requirements identified in Section VI(B) of this NOFA, below. The maximum number of points an application may receive under this program is 100.

Rating Factor 1: Capacity of the Applicant and Relevant Organizational Staff (15 Points)

This factor addresses your capacity to carry out the conversion in a timely, cost-conscious and effective manner. It also reviews your experience with the supportive services which the ALF intends to provide to elderly residents, especially in such areas as meals, 24-hour staffing and on-site health care. Submit information responding to this factor in accordance with Application Submission Requirements in Section VI(B)(5)(a), (8)(h), and (2)(d) of this NOFA.

In rating this factor, HUD will consider the extent to which your application demonstrates your ability to carry out a successful conversion of the project and to implement the plan to deliver the supportive services on a-long term basis, considering the following:

(1) (7 points) The practicality of your plan and timetable to carry out the physical conversion of the development to the ALF.

(2) (8 points) Your past experience in providing or arranging for supportive services either on or off site for those who are frail. (If you are applying to convert an unused or underutilized commercial facility to assisted living and you do not own or operate a project with frail elderly residents, you must provide information on any past experience in providing or arranging supportive services for those who are frail.) Examples are: Meals delivered to apartment of resident or in a congregate setting (1 point), arranging for or providing personal care (2 points), providing 24-hour staffing (1 point), providing or making available on-site preventive health care (2 points) and other support services (1 point).

Rating Factor 2: Need/Extent of the Problem (25 Points)

This factor addresses the extent to which the conversion is needed by the categories of elderly persons and persons with disabilities that the ALF is intended to serve (very low income elderly persons and people with disabilities who have limitations in three or more activities of daily living). The application must provide evidence of current needs among project residents (not applicable to applications proposing to convert unused or underutilized commercial facilities) and needs of potential residents in the housing market area for such persons including economic and demographic information on very-low income frail elderly and people with disabilities and information on current assisted living resources in the market area.

The factor also addresses your inability to fund the repairs or conversion activities from existing financial resources. In making this determination, HUD will consider project financial information or the organization's financial information for unused or underutilized commercial facilities. The Department will also review more favorably those applications which establish a connection between the proposed ALF and the community's Analysis of Impediments to Fair Housing Choice (AI) or other planning document that analyzes fair housing issues and is prepared by a local planning or similar organization. Submit information responding to this factor in accordance with Application Submission Requirements in Section VI(B)(4)(a) through (d), (2)(c) and (9)(a) through (c) of the NOFA. In evaluating this factor, HUD will consider:

(1) (10 points) The need for assisted living among the elderly and disabled residents of the project taking into consideration those currently in need and the depth of future needs given aging in place. (Not applicable to applications to convert unused or underutilized commercial facilities to assisted living).

(2) (5 points (15 points for applications to convert unused or underutilized commercial facilities to assisted living.)) The need for assisted living among very-low income elderly persons and people with disabilities in the housing market area.

(3) (10 points) Insufficient funding for any needed conversion work, as evidenced by the project's financial statements and specifically the lack of excess reserve for replacement dollars (R4R) and residual receipts. If the available R4R and residual receipts are less than 10% of the total funds needed—10 points; if the available R4R and residual receipts are 10-50% of need = 5 points; and, if the available R4R and residual receipts are 51% or more of the total funds of needed = 0 points). For commercial properties, if the available working capital exceeds 10 percent of the total conversion = 5 points; if the working capital is less than 10 percent of the total conversion = 10 points.

Rating Factor 3: Soundness of Approach (25 Points)

This factor addresses the quality and effectiveness of your proposal in addressing the proposed conversion, effectiveness of service coordination and management planning and the meals and supportive services which the ALF intends to provide. There must be a relationship between the proposed activities, the project's and the community's needs and purposes of the program funding for your application to receive points for this factor. Submit information responding to this factor in accordance with Application Submission Requirements in Section VI(B)(5)(b) through (e) and (h) and (7) and (B)(8))(a) through (e) and (g) and (h) of this NOFA.

In evaluating this factor, HUD will consider the following:

(1) (7 points) The extent to which the proposed ALF design will meet the special physical needs of frail elderly persons or persons with disabilities expected to be served at reasonable cost (consider the ALF design: meets needs = 7 points; ALF design partially meets needs = 3 points; and ALF design does not meet needs = 0 points).

(2) (7 points) The extent to which the ALF's proposed management and operational plan ensures that the provision of both meals and supportive services planned will be accomplished over time. (Consider ALF design/management plan: meets needs of management operations = 7 points; ALF design/management plan partially meets needs of management operations = 3 points; and ALF design/management plan does not meet needs of management operations = 0 points.)

(3) (5 points) The extent to which the proposed supportive services meet the anticipated needs of the frail elderly and disabled residents (consider Yes = 5 points; partially meets needs = 3 points; and, does not meet needs = 0 points); and

(4) (5 points) The extent to which the service coordination function is addressed and explained as onsite and sufficient, onsite and augmented or new, and addresses the ongoing procurement of needed services for the residents of the ALF (does meet = 5 points, partially meets = 3 points, does not meet = 0 points).

(5) (1 point) The extent to which there is an operating philosophy which promotes the autonomy and independence of the frail elderly persons it is intended to serve (is fully addressed = 1 point, no or not addressed = 0 points).

Rating Factor 4: Leveraging Resources (30 Points)

This factor addresses your ability to secure other community resources which can be combined with HUD's grant funds to achieve program purposes. For the ALCP to succeed, you MUST generate local funding for the necessary supportive services to operate the ALF. HUD also encourages local funding for some of necessary conversion work, or other work needed in the project (e.g., general modernization) which is NOT specifically linked to the ALF).

Submit information responding to this factor in accordance with Application Submission Requirements in Section VI(B)(5)(f), (g), and (B)(8)(f) of this NOFA.

(1) (25 points) The extent to which there are commitments for the funding needed for the meals and the supportive services planned for the ALF and that the total cost of the estimated budget of the ALF is covered. Consider 90% or more commitment for the total budget with no more than 10% general support = 25 points; 80-89.9% or more commitment for the total budget with no more than 20% general support = 17 points; 65-79.9% firm commitment with no more than 35% general support = 12 points; 40-64.9% firm commitment for the total budget with no more than 60% general commitment = 7 points; less than 40% firm commitment for the total budget with no more than 60% general support = 0 points.

(2) (3 points) The extent of local organizations' support which is firmly committed to providing at least 50 percent of the total cost of ALF conversion (consider 50% or more = 3 points, 20-49.9% = 2 points, and under 20% = 0 points).

(3) (2 points) The extent of local organizational support which is firmly committed to providing funds for additional repair or retrofit necessary for the project NOT specifically directed to activities eligible under this NOFA (consider yes = 2 points, no = 0 points).

Rating Factor 5: Comprehensiveness and Coordination (5 Points)

This factor addresses the extent to which you have evidenced general support for conversion by participating in your community's Consolidated Planning Process, involving the residents in the planning (not applicable to applications proposing to convert unused or underutilized commercial facilities) and are working toward addressing the need in a holistic and comprehensive manner through linkages with other activities in the community. Submit information responding to this factor in accordance with Application Submission Requirements in Section VI(B)(2)(a) through (d) of this NOFA.

(1) (3 points) The involvement of project residents (including minority residents) or their representatives, in the development of the ALCP application, and your intent to involve residents, in the development and operation of the project and in relocation planning (Minus one (−1) point if not addressed); (If you are applying to convert an unused or underutilized commercial facility to assisted living, provide information on the involvement of elderly persons in the development of the ALCP application, and your intent to involve residents, in the development and operation of the project.)

(2) (1 point) The extent to which you demonstrated that you have been actively involved (or if not currently active, the steps you will take to become actively involved) in your community's Consolidated Planning/AI processes to identify and address a need/problem that is related in whole or part, directly or indirectly to the proposed project;

(3) (1 point) The extent to which you developed linkages with the community at large and the elderly and minority communities in particular and with other activities, programs or projects related to the proposed project to coordinate your activities so solutions are holistic and comprehensive.

VI. Application Submission Requirements

(A) Application—General. Your application must include all of the information, materials, forms, and exhibits listed in Section VI(B). In cases where your (i) articles of incorporation and (ii) by-laws have NOT changed since the project was originally approved by HUD, self-certification to that effect—that the documents on file with HUD are current—is sufficient. Items in Section VI(B) for which self-certification of currency is possible are denoted by a “**”.

In addition to the relief of paperwork burden in preparing applications, you will not have to submit certain new/recent information and exhibits you have previously prepared. See individual item descriptions, below to identify such items. An example of such an item may be the FY 2000 Annual Financial Statement.

(B) General Application Requirements.

(1) Application Summary for the Assisted Living Conversion Program and Evidence that you are a private non-profit organization or nonprofit consumer cooperative and have the legal ability to operate an ALF program, per the following:

(a) Articles of Incorporation, constitution, or other organizational documents, or self-certification of these documents, if there has been no change in the Articles since they were originally filed with HUD;**

(b) By-laws, (for non-profits) or self-certification of by-laws, if there has been no change in the by-laws since they were originally filed with HUD;**

(2) A description of your community ties and established linkages.

(a) A description of your links to the community at large and to the minority and elderly communities in particular; and

(b) A description of your efforts to involve elderly persons, including minority elderly persons and persons with disabilities in:

(i) The development of the application,

(ii) The development of the ALF operating philosophy,

(iii) Review of the application prior to submission to HUD; and

(iv) Your intent to involve elderly persons in the operation of the project or not.

Also, demonstrate that you made the application available to the residents of the project (in their language(s)) AND requested and considered comments from them (in their language(s)). Applicants of converted commercial facilities should indicate that the application will be made available to the residents of the project in their language(s) and will request and consider comments from them in their language(s).

(c) A description of your involvement in your community's Consolidated Planning and Analysis of Impediments to Fair Housing (AI) processes including:

(i) An identification of the lead/facilitating agency(ies) that organizes/administers the processes;

(ii) A listing of the Consolidated Plan/AI issue areas in which you participate;

(iii) The level of your participation in the processes, including active involvement with any neighborhood-based organizations, associations, or any committees that support programs and activities that enhance projects or the lives of residents of the projects, such as the one proposed in your application.

If you are not currently active, describe the specific steps you will take to become active in the Consolidated Planning and AI processes. (Consult the local HUD Office for the identification of the Consolidated Plan community process for the appropriate area.)

(d) A description of the linkages that you have developed with other related activities, programs or projects in order that the development of the project provides a comprehensive and holistic solution to the needs of the target population.

(3) Evidence of your project being in occupancy for at least five years as of the date of application to HUD. (Not applicable to commercial facilities)

(4) A market analysis of the need for the proposed ALF units, including information from both the project and the housing market, containing:

(a) Evidence of need for the ALF by current project residents: (Not applicable to commercial facilities)

(i) A description of the demographic characteristics of the elderly residents currently living in the project, including the current number of residents, distribution of residents by age and sex, an estimate of the number of residents with frailties/limitations in activities of daily living and an estimate of the number of residents in need of assisted living services. (Not applicable to commercial facilities)

(ii) A description of the services which are currently available to the residents and/or provided on or off-site and what services are lacking; (Not applicable to commercial facilities)

(b) Evidence of the need for ALF units by very low income elderly and disabled households in the market area; a description of the trend in elderly and disabled population and household change; data on the demographic characteristics of the very low income elderly in need of assisted living services (age, race, sex, household size and tenure) and extent of residents with frailty/limitations in existed federally-assisted housing for the elderly (HUD and Rural Housing Service): and an estimate of the very low income elderly and disabled in need of assisted living taking into consideration any available State or local data.

(c) A description of the extent, types and availability and cost of alternate care and services locally, such as: home health care, adult day care, housekeeping services, meals programs, visiting nurses, on-call transportation services, health care and providers of supportive services who address the needs of the local low income population.

(d) A description of how information in the community's Analysis of Impediments to Fair Housing Choice was used in documenting the need for the ALF (covering items in Section VI(B)(4)(a) and (b) of this NOFA).

(5) A description of the physical ALF conversion, including the following:

(a) How you propose to carry out the physical conversion (including a timetable and relocation planning).

(b) A short narrative stating the number of units, special design features, community and office space/storage, dining and kitchen facility and staff space and the physical relationship to the rest of the project. Also, you must describe how this design will facilitate the delivery of services in an economical fashion and accommodate the changing needs of the residents over at least the next 10 years.

(c) A copy of the original plans for all units and other areas of the development which will be included in the conversion. (If you are applying to convert an unused or underutilized commercial facility to assisted living, provide a copy of the original plans of the facility).

(d) A description of the conversion must clearly address the following accessibility issues: All door openings must have a minimum clear opening of 32″; and, all bathrooms and kitchens must be accessible to and functional for persons in wheelchairs, according to the “Uniform Federal Accessibility Standards.”

(e) Architectural sketches of the conversion to a scale of ¼ inch to one foot (¼″ = 1′-0″) that indicate the following:

(i) All doors being widened;

(ii) Typical kitchen and bathroom reconfiguration: show all wheelchair clearances, wall reinforcing, grab bars and elevations of counters and work surfaces;

(iii) Bedroom/living/dining area modification, if needed;

(iv) Any reconfigured common space;

(v) Added/reconfigured office and storage space;

(vi) Monitoring stations, and

(vii) The kitchen and dining facility.

All architectural modifications must meet section 504 and ADA requirements as appropriate.

(f) A budget showing at least estimated costs for materials, supplies, fixtures and labor for each of the items listed in Section VI(B)(5)(e), items i through vii, above.

(g) Include firm commitment letters with specific dollar amounts from appropriate organization(s) for conversion needs (within the scope of the ALF conversion NOFA) which will be supported by non-HUD funding.

(h) A description of any relocation of current tenants including a statement that: (Not applicable to commercial property applicants)

(i) Indicates the estimated cost of temporary relocation payments and other related services.

(ii) Identifies the staff organization that will carry out the relocation activities; and

(iii) Identifies all tenants that will have to be temporarily moved to another unit within the development OR from the development during the period that the physical conversion of the project is under way.

Note: If any of the relocation costs will be funded from sources other than the ALCP grant, you must provide evidence of a firm commitment of these funds. When evaluating applications, HUD will consider the total cost of proposals (i.e., cost of conversion, temporary relocation, service coordinator and other project costs).

(6) A description of any retrofit or renovation which will be done at the project (with third party funds) that is separate and distinct from the ALF conversion. With such description, attach firm commitment letters from third party organizations in specific dollar amounts which will cover the cost of any work outside the scope of this NOFA.

(7) Evidence of permissive zoning, showing that the modifications to include the ALF into the project as proposed are permissible under applicable zoning ordinances or regulations, or a statement of the proposed action required to make the proposed project permissible and the basis for your belief that the proposed action will be completed successfully within six months of the date of grant award by HUD. e.g., a summary of the results of any requests for rezoning and/or the procedures for obtaining special or conditional use permits on land in similar zoning classifications and the time required for such rezoning, or preliminary indications of acceptability from zoning bodies, etc.);

(8) A supportive services plan (SSP), a copy of which must be submitted to the appropriate state and/or local agency as instructed in Section IV(B) of this NOFA. For those applicants needing to contact state Medicaid offices, a list is provided on the Internet at “www.hcfa.gov/medicaid/scon1.htm”. The fifth character from the end is the numeral “1”, not the letter “l”. The SSP must include:

(a) A description of the supportive services needed for the frail elderly the ALF is expected to serve. This must include at least (i) meals and such other supportive services required locally or by the State, and (ii) such optional services or care to be offered on an “as needed” basis.

Examples of both mandatory and optional services (which will vary from state to state) are: two meals and two snacks or three meals daily; 24-hour protective oversight; personal care; housekeeping services; personal counseling and transportation.

(b) A description of how you will provide the supportive services to those who are frail and have disabilities (i.e., on or off-site or combination of on or off-site), including an explanation of how the service coordination role will facilitate the adequate provision of such services to ALF residents, and how the services will meet the identified needs of the residents. Also indicate how you intend to fund the service coordinator role.

(c) A description of how the operation of your ALF will work. Address (i) general operating procedures, (ii) ALF philosophy and how it will promote the autonomy and independence of the frail elderly and persons with disabilities, (iii) what will the service coordination function will do and the extent to which this function already exists, or will be augmented or new, (iv) ALF staff training plans, and (v) the degree to which and how the ALF will relate to the day-to-day operations of the rest of the project.

(d) The monthly individual rate for board and supportive services for the ALF listing the total fee and components of the total fee for the items required by State or local licensing AND list the appropriate rate for any optional services you plan to offer to the ALF residents. Provide an estimate of the total annual costs of the required board and supportive services you expect to provide and an estimate of the amount of optional services you expect to provide.

(e) List who will pay for the board and supportive services, e.g., $__for meals by sponsor, $__ for housekeeping services by city government; $__ for personal care by State Department of Health; $__ for __ by state __ program; $__ in fees by tenants; and, $__ by__.

The amounts and commitments from both tenants and/or providers must equal the estimated amounts necessary to cover the monthly rates for the number of people expected to be served. If you include tenant fees in the proposal, list and show any proposed scaling mechanism. All amounts committed/collected must equal the annualized cost of the monthly rates calculated by the expected percentage of units filled.

(f) A support/commitment letter from EACH listed proposed funding source per paragraph (e), above, for the planned meals and supportive services listed in the application. The letter must cover the total planned annual commitment (and multiyear amount total, if different), length of time for the commitment, and the amounts payable for each service covered by the provider/paying organization. There must be a letter from EACH participating organization listed in Section VI(B)(8)(e) of this NOFA, above.

(g) A support letter from EACH governmental agency(ies) which provides licensing for ALFs in that jurisdiction.

(h) A description of your relevant experience in arranging for and/or delivering supportive services to frail residents. (If you are applying to convert an unused to underutilized commercial facility to assisted living, provide information on your relevant experience in arranging for and/or delivering supportive services to frail elderly persons). The description should include any supportive services facilities owned/operated; your past or current involvement in any project-based programs that demonstrates your management capabilities. The description should include data on the facilities and specific meals and/or supportive services provided on a regular basis, the racial/ethnic composition of the populations served, if available, and information and testimonials from residents or community leaders on the quality of the services.

Note: If a funds request for service coordination for the ALF and/or the whole project is included as part of this application, the Form HUD-424M, indicating the dollars requested must be attached as Exhibit 10(c). Do NOT attach the whole service coordinator application.

(9) A description of your project's resources: (Not applicable to applicants of commercial property—(9)(a)-(b))

(a) A copy of the most recent project Repair and Replacement (R4R) account statement, and an R4R analysis showing plans for its use over the next five years, and any approvals received from the HUD field office to date

(b) A copy of the most recent Residual Receipts Account statement. Indicate any approvals for the use of such receipts from the field office for over $500/unit.

(c) Annual Financial Statement (AFS). If your FY 2001 AFS was due to REAC more than 120 days BEFORE the due date June 21, 2001 for this application, in the interest of reducing work burden, only include the date that it was sent to REAC. If the AFS was due to REAC 120 days or less from the due date (June 21, 2001) of this application, you MUST include a paper copy. For commercial properties, the most recent financial statement or annual report.

(10) Forms, Certifications and Resolutions. The following exhibits, forms, certifications and assurances are required:

(a) Standard Form 424, Application for Federal Assistance and indication of whether you are delinquent on any federal debt.

(b) Standard Form 424D, Assurances, Construction Programs

(c) Form HUD-424M, Federal Assistance Funding Matrix.

(d) Form HUD-50070, Drug-free Workplace. Certification to provide a drug-free workplace.

(e) Form HUD-50071, Payments to Influence Federal Transactions and Standard Form-LLL, Disclosure of Lobbying Activities. Certification of whether any of the funds received will be used to influence any federal transactions and disclosure of these activities, if applicable.

(f) Form HUD-2880, Applicant/Recipient Disclosure/Update Report, including Social Security and Employment Identification numbers. A disclosure of assistance from other government sources received in connection with the project.

(g) Certification Regarding Debarment and Suspension (HUD-2992) (24 CFR 24.510).

(h) Form HUD-2991, Certification of Consistency with the Consolidated Plan (Plan), for the jurisdiction in which the proposed ALF will be located. The certification must be made by the unit of general local government if it is required to have, or has, a complete Plan. Otherwise, the certification may be made by the State, or by the unit of general local government if the project will be located within the jurisdiction of the unit of general local government authorized to use an abbreviated strategy, and if it is willing to prepare such a Plan.

All certifications must be made by the public official responsible for submitting the plan to HUD. The certifications must be submitted as part of the application by the application submission deadline date set forth herein. The Plan regulations are published in 24 CFR part 91.

(i) Executive Order 12372 Certification. A certification that you have submitted a copy of your application, if required, to the State agency (single point of contact) for State review in accordance with Executive order 12372.

(j) Certification of Residual Receipts Account. If you do not have an existing residual receipts account you must agree to set up one as soon as there is surplus cash available, as a condition of getting this grant award.

(k) A certified Board Resolution that no officer or director of the Owner has or will have any financial interest in any contract with the Owner or in any firm or corporation that has or will have a contract with the Owner, including a current listing of all duly qualified and sitting officers and directors by title, and the beginning and ending dates of each person's term.

(l) Certification for ALF. Certification that you agree to apply for an ALF license with due diligence and in a timely fashion (and that the conversion will NOT be a nursing home or an Intermediate Care facility).

(m) Owner's Combined Certifications.

(i) A certification of compliance with the requirements of the Fair Housing Act, Title VI of the Civil Rights Act, the Age Discrimination Act of 1975, Section 3 of the Housing and Urban Development Act of 1968 (12 U.S.C. 1701u) and the implementing regulations at 24 CFR part 135, the affirmative fair housing marketing requirements of 24 CFR part 200, subpart M and the implementing regulations at 24 CFR part 108, and other applicable Federal, State and local laws prohibiting discrimination and promoting equal opportunity including affirmatively furthering fair housing, and other certifications listed in the application.

(ii) Certification of Compliance with section 232 of the National Housing Act, as applicable, the Uniform Federal Accessibility Standards (24 CFR 40.7), section 504 of the Rehabilitation Act of 1973 and HUD's implementing regulations at 24 CFR part 8, and the design and construction requirements of the Fair Housing Act and HUD's implementing regulations at 24 CFR part 100, and the Americans with Disabilities Act of 1990 for all portions of the development physically affected by this proposal;

(iii) Davis-Bacon. Certification of compliance with the Davis-Bacon requirements and the Contract Work Hours and Safety Standards Act as applied to this program. While it has been determined that Davis-Bacon does not apply statutorily to the ALCP, the Department has administratively determined that Davis-Bacon standards and overtime rates in accordance with the Contract Work Hours and Safety Standards Act will be adhered to in any ALCP conversion grant in which the total cost of the physical conversion to an ALF (and including any additional renovation work undertaken at the same time) is $500,000 or more (this includes ALCP grant funds, owner funds, or any third party funds loaned or granted in support of the conversion or other renovation for the project associated with this grant), AND in which the ALF portion of the project is 12 units or more.

VII. Environmental Requirements

Your ALCP application is subject to the National Environmental Policy Act of 1969 and applicable related Federal environmental authorities. (See 24 CFR part 50, as applicable.) An environmental review will be completed by HUD before the award of any grant under this program. Pursuant to 24 CFR Part 55, ALCP projects are critical actions for purposes of floodplain management review.

VIII. Authority

The Assisted Living Conversion Program is authorized by Title V, section 522 of the FY 2000 Departments of Veteran's Affairs, HUD and Independent Agencies Appropriations Act, 2000 (12 U.S.C. 1701q-2).

Appendix A.—HUD Field Office List for Mailing Assisted Living Conversion Program Applications

HUD—Boston Hub

Boston Office

Room 301, Thomas P. O'Neill, Jr. Federal Building, 10 Causeway Street, Boston, MA 02222-1092, (617) 565-5234, TTY Number: (617) 565-5453

HUD—New York Hub

New York Office

26 Federal Plaza—32nd Floor, New York, NY 10278-0068, (212) 264-8000, TTY Number: (212) 264-0927

HUD—Buffalo Hub

Buffalo Office

Fifth Floor, Lafayette Court, 465 Main Street, Buffalo, NY 14203-1780, (716) 551-5755, TTY Number: (716) 551-5787

HUD—Philadelphia Hub

Philadelphia Office

The Wanamaker Building, 100 Penn Square East, Philadelphia, PA 19107-3380, (215) 656-0600, TTY Number: (215) 656-3452

HUD—Baltimore Hub

Baltimore Office

Fifth Floor, City Crescent Building, 10 South Howard Street, Baltimore, MD 21201-2505, (410) 962-2520, TTY Number: (410) 962-0106

HUD—Greensboro Hub

Greensboro Office

Koger Building, 2306 West Meadowview Road, Greensboro, NC 27407-3707, (336) 547-4000, TTY Number: (336) 547-4055

HUD—Atlanta Hub

Atlanta Office

40 Marietta Street—Five Points Plaza, Atlanta, GA 30303-2806, (404) 331-5001, TTY Number: (404) 730-2654

HUD—Jacksonville Hub

Jacksonville Office

Suite 2200, Southern Bell Tower, 301 West Bay Street, Jacksonville, FL 32202-5121, (904) 232-2626, TTY Number: (904) 232-2631

HUD—Chicago Hub

Chicago Office

Ralph H. Metcalfe Federal Building, 77 West Jackson Boulevard, Chicago, IL 60604-3507, (312) 353-5680, TTY Number: (312) 353-5944

HUD—Detroit Hub

Detroit Office

Patrick V. McNamara Federal Building, 477 Michigan Avenue—17th Floor, Detroit, MI 48226-2592, (313) 226-7900, TTY Number: (313) 226-6899

HUD—Columbus Hub

Columbus Office

200 North High Street, 7th Floor, Columbus, OH 43215-2499, (614) 469-5737, TTY Number: (614) 469-6694

HUD—Minneapolis Hub

Minneapolis Office

220 Second Street, South, Minneapolis, MN 55401-2195, (612) 370-3000, TTY Number: (612) 370-3186

HUD—Ft. Worth Hub

Ft. Worth Office

801 N. Cherry Street, P.O. Box 2905, Fort Worth, TX 76113-2905, (817) 978-9000, TTY Number: (817) 978-9273

HUD—Kansas City Hub

Kansas City Office

Room 200, Gateway Tower II, 400 State Avenue, Kansas City, KS 66101-2406, (913) 551-5462, TTY Number: (913) 551-6972

HUD—Denver Hub

Denver Office

633 17th Street, Denver, CO 80202-3607, (303) 672-5440, TTY Number: (303) 672-5248

HUD—San Francisco Hub

San Francisco Office

Philip Burton Federal Building and U.S. Courthouse, 450 Golden Gate Avenue, P.O. Box 36003, San Francisco, CA 94102-3448, (415) 436-6550, TTY Number: (415) 436-6594

HUD—Los Angeles Hub

Los Angeles Office

611 West 6th Street, Suite 800, Los Angeles, CA 90017-3106, (213) 894-8000, TTY Number: (213) 894-8133

HUD—Seattle Hub

Seattle Office

Seattle Federal Office Building, 909 1st Avenue, Suite 200, Seattle, WA 98104-1000, (206) 220-5101, TTY Number: (206) 220-5185

Note: The first line of the mailing address for all offices is the U.S. Department of Housing and Urban Development. Telephone numbers listed are not toll free.

Appendix B

HUD—Boston Hub

Hartford Office

One Corporate Center, 19th Floor, Hartford, CT 06103-3220, (860) 240-4800, TTY Number: (860) 240-4665

Boston Office

Room 375, Thomas P. O'Neill, Jr. Federal Building, 10 Causeway Street, Boston, MA 02222-1092, (617) 565-5234, TTY Number: (617) 565-5453

Manchester Office

Norris Cotton Federal Building, 275 Chestnut Street, Manchester, NH 03101-2487, (603) 666-7681, TTY Number: (603) 666-7518

Providence Office

Sixth Floor, 10 Weybosset Street, Providence, RI 02903-2808, (401) 528-5230, TTY Number: (401) 528-5403

HUD—New York Hub

New York Office

26 Federal Plaza, New York, NY 10278-0068, (212) 264-8000, TTY Number: (212) 264-0927

HUD—Buffalo Hub

Buffalo Office

Fifth Floor, Lafayette Court, 465 Main Street, Buffalo, NY 14203-1780, (716) 551-5755, TTY Number: (716) 551-5787

HUD—Philadelphia Hub

Philadelphia Office

The Wanamaker Building, 100 Penn Square East, Philadelphia, PA 19107-3380, (215) 656-0600, TTY Number: (215) 656-3452

Charleston Office

Suite 708, 405 Capitol Street, Charleston, WV 25301-1795, (304) 347-7000, TTY Number: (304) 347-5332

Newark Office

Thirteenth Floor, One Newark Center, Newark, NJ 07102-5260, (973) 622-7900, TTY Number: (973) 645-3298

Pittsburgh Office

339 Sixth Avenue, Sixth Floor, Pittsburgh, PA 15222-2515, (412) 644-6428, TTY Number: (412) 644-5747

HUD—Baltimore Hub

Baltimore Office

Fifth Floor, City Crescent Building, 10 South Howard Street, Baltimore, MD 21201-2505, (410) 962-2520, TTY Number: (410) 962-0106

Washington, DC Office

820 First Street, NE, Suite 300, Washington, D.C. 20002-4205, (202) 275-9200, TTY Number: (202) 275-0772

Richmond Office

The 3600 Centre, 3600 West Broad Street, Richmond, VA 23230-4920, (804) 278-4500, TTY Number: (804) 278-4501

HUD—Greensboro Hub

Greensboro Office

Koger Building, 2306 West Meadowview Road, Greensboro, NC 27407-3707, (336) 547-4000, TTY Number: (336) 547-4055

Columbia Office

Strom Thurmond Federal Building, 1835-45 Assembly Street, Columbia, SC 29201-2480, (803) 765-5592, TTY Number: (803) 253-3071

HUD—Atlanta Hub

Atlanta Office

Richard B. Russell Federal Building, 75 Spring Street, S.W., Suite 600, 40 Marietta Street—Five Points Plaza, Atlanta, GA 30303-3388 2806, (404) 331-5136 5001, TTY Number: (404) 730-2654

San Juan Office

Edificio Administracion de Terrenos, 171 Carlos Chardon Avenue, Suite 301, San Juan, PR 00918-0903, (787) 766-5400, TTY Number: (787) 776-5609

Louisville Office

601 West Broadway, P.O. Box 1044, Louisville, KY 40201-1044, (502) 582-5251, TTY Number: 1-800-648-6056

Knoxville Office

Third Floor, John J. Duncan Federal Building, 710 Locust Street, Knoxville, TN 37902-2526, (423) 545-4384, TTY Number: (423) 545-4559

Nashville Office

Suite 200, 251 Cumberland Bend, Nashville, TN 37228-1803, (615) 736-5213, TTY Number: (615) 736-2886

HUD—Jacksonville Hub

Jacksonville Office

Suite 2200, Southern Bell Tower, 301 West Bay Street, Jacksonville, FL 32202-5121, (904) 232-2626, TTY Number: (904) 232-2631

Birmingham Office

Suite 300, Beacon Ridge Tower, 600 Beacon Parkway, West, Birmingham, AL 35209-3144, (205) 290-7617, TTY Number: (205) 290-7624

Jackson Office

Suite 910, Doctor A.H. McCoy Federal Building, 100 West Capitol Street, Jackson, MS 39269-1096, (601) 965-4700, TTY Number: (601) 965-4171

HUD—Chicago Hub

Chicago Office

Ralph H. Metcalfe Federal Building, 77 West Jackson Boulevard, Chicago, IL 60604-3507, (312) 353-5680, TTY Number: (312) 353-5944

Indianapolis Office

151 North Delaware Street, Indianapolis, IN 46204-2526, (317) 226-6303, TTY Number: (317) 226-7081

HUD—Detroit Hub

Detroit Office

Patrick V. McNamara Federal Building, 477 Michigan Avenue, Detroit, MI 48226-2592, (313) 226-7900, TTY Number: (313) 226-6899

Grand Rapids Office

Trade Center Building, 50 Louis Street, NW, Third Floor, Grand Rapids, MI 49503-2648, (616) 456-2100, TTY Number: (616) 456-2159

HUD—Columbus Hub

Columbus Office

200 North High Street, 7th Floor, Columbus, OH 43215-2499, (614) 469-5737, TTY Number: (614) 469-6694

Cleveland Office

Renaissance Building, 1350 Euclid Avenue, Suite 500, Cleveland, OH 44115-1815, (216) 522-4058, TTY Number: (216) 522-2261

HUD—Minneapolis Hub

Minneapolis Office

220 Second Street, South, Minneapolis, MN 55401-2195, (612) 370-3000, TTY Number: (612) 370-3186

Milwaukee Office

Suite 1380, Henry S. Reuss Federal Plaza, 310 West Wisconsin Avenue, Milwaukee, WI 53203-2289, (414) 297-3214, TTY Number: (414) 297-1423

HUD—Ft. Worth Hub

Little Rock Office

Suite 900, TCBY Tower, 425 West Capitol Avenue, Little Rock, AR 72201-3488, (501) 324-5931, TTY Number: (501) 324-5931

New Orleans Office

Ninth Floor, Hale Boggs Federal Building, 501 Magazine Street, New Orleans, LA 70130-3099, (504) 589-7200, TTY Number: (504) 589-7279

Ft. Worth Office

801 N. Cherry Street, P.O. Box 2905, Fort Worth, TX 76113-2905, (817) 978-9000, TTY Number: (817) 978-9273

Houston Office

Suite 200, Norfolk Tower, 2211 Norfolk, Houston, TX 77098-4096, (713) 313-2274, TTY Number: (713) 834-3274

San Antonio Office

Washington Square, 800 Dolorosa Street, San Antonio, TX 78207-4563, (210) 475-6800, TTY Number: (210) 475-6885

HUD—Great Plains

Des Moines Office

Room 239, Federal Building, 210 Walnut Street, Des Moines, IA 50309-2155, (515) 284-4512, TTY Number: (515) 284-4728

Kansas City Office

Room 200, Gateway Tower II, 400 State Avenue, Kansas City, KS 66101-2406, (913) 551-5462, TTY Number: (913) 551-6972

Omaha Office

Executive Tower Centre, 10909 Mill Valley Road, Omaha, NE 68154-3955, (402) 492-3100, TTY Number: (402) 492-3183

Saint Louis Office

Third Floor, Robert A. Young Federal Building, 1222 Spruce Street, St. Louis, MO 63103-2836, (314) 539-6583, TTY Number: (314) 539-6331

Oklahoma City Office

500 West Main Street, Suite 400, Oklahoma City, OK 73102-2233, (405) 553-7401, TTY Number: 1-800-877-8339

HUD—Denver Hub

Denver Office

633 17th Street, Denver, CO 80202-3607, (303) 672-5440, TTY Number: (303) 672-5248

HUD—San Francisco Hub

Phoenix Office

Suite 1600, Two Arizona Center, 400 North 5th Street, Phoenix, AZ 85004-2361, (602) 379-4434, TTY Number: (602) 379-4464

San Francisco Office

Philip Burton Federal Building and U.S. Courthouse, 450 Golden Gate Avenue, P.O. Box 36003, San Francisco, CA 94102-3448, (415) 436-6550, TTY Number: (415) 436-6594

Honolulu Office

Suite 500, 7 Waterfront Plaza, 500 Ala Moana Boulevard, Honolulu, HI 96813-4918, (808) 522-8185, TTY Number: (808) 522-8193

HUD—Los Angeles Hub

Los Angeles Office

611 West 6th Street, Suite 800, Los Angeles, CA 90017-3106, (213) 894-8000, TTY Number: (213) 894-8133

HUD—Seattle Hub

Portland Office

400 Southwest Sixth Avenue, Suite 700, Portland, OR 97204-1632, (503) 326-2561, TTY Number: (503) 326-3656

Note: The first line of the mailing address for all offices is the U. S. Department of Housing and Urban Development. Telephone numbers listed are not toll free.

Appendix C

The non-standard forms required for the ALCP application.

BILLING CODE 4210-32-P

FUNDING AVAILABILITY FOR SERVICE COORDINATORS IN MULTIFAMILY HOUSING

Program Overview

Purpose of the Program. The purpose of this Service Coordinator program is to allow multifamily housing owners to assist elderly individuals and people with disabilities living in HUD-assisted housing and in the surrounding area to obtain needed supportive services from the community, in order to enable them to continue living as independently as possible in their own homes.

Available Funds. Approximately $24.2 million.

Eligible Applicants. Only owners of eligible developments may apply for and become the recipient of grant funds. Property management companies may administer grant programs but are not eligible applicants. See Section III for more detailed eligibility criteria.

Application Deadline: June 21, 2001.

Match. None.

Additional Information

If you are interested in applying for funding under this program, please review carefully the General Section of this SuperNOFA and the following additional information.

I. Application Due Date, Application Kits, Further Information, and Technical Assistance

Application Due Date. Your completed application (an original and two copies) is due on or before 6:00 pm, local time, on June 21, 2001 at the address shown below.

See the General Section of this SuperNOFA for specific procedures concerning the form of application submission (e.g., mailed applications, express mail, overnight delivery, or hand carried).

Addresses for Submitting Applications. Appendix A to this program section contains a list of HUD Field Offices where you must send your application by the deadline. Please address your application to the Director, Multifamily Housing Hub or Program Center in your local HUD Field Office. You should not submit any copies of your application to HUD Headquarters.

For Application Kits. For an application kit, please call the SuperNOFA Information Center at 1-800-HUD-8929. If you have a hearing or speech impairment, please call the Center's TTY number at 1-800-HUD-2209. When requesting an application kit, please refer to the Multifamily Housing Service Coordinator Program and provide your name, address (including zip code) and telephone number (including area code). An application kit also will be available on the Internet at http://www.hud.gov/grants.

For Further Information and Technical Assistance. You may contact your local HUD Field Office staff for questions you have regarding this program section of the SuperNOFA and your application kit. Please contact the Multifamily Housing Resident Initiatives Specialist or Service Coordinator contact person in your local Office. If you are an owner of a Section 515 development, contact the Multifamily HUB or Multifamily Program Center in the HUD Field Office that normally provides asset management to that development. If you have a question that the Field staff are unable to answer, please call Carissa Janis, Housing Project Manager, Office of Housing Assistance and Grants Administration, Department of Housing and Urban Development, 451 Seventh Street, SW, Room 6146, Washington, DC 20410; (202) 708-2866, extension 2487. (This number is not toll free). If you are hearing or speech impaired, you may access this number via TTY by calling the Federal Information Relay Service at 1-800-877-8339.

Satellite Broadcast. HUD will hold an information broadcast via satellite for potential applicants to learn more about the program and preparation of the application. For more information about the date and time of the broadcast, you should consult the HUD web site at http://www.hud.gov/grants.

II. Amount Allocated

(A) Available Funding. This NOFA makes available approximately $ 24.2 million in Fiscal Year (FY) 2001 funding from the $50 million provided in the Housing for Special Populations account in the Departments of Veterans Affairs and Housing and Urban Development, and Independent Agencies Appropriations Act, 2001 (Pub.L. 106-377, 114 Stat. 1441, approved October 27, 2000).

The amount of available funds has decreased from last year, due to an additional funding action required to correct a HUD error in processing FY 2000 applications. Ten eligible applications submitted to the Denver Multifamily Hub Office were not included in HUD Headquarters' final database of FY 2000 eligible applications. Had they been correctly included, they would have been selected to receive an award. To correct this error, HUD will fund the following ten applications from the current allocation, prior to making new awards:

Recipient name | Development name | City, State | Grant amt.
The Salvation Army, a California Corporation | The Salvation Army Westminster Adams Silvercrest | Denver, CO | $56,427
Redi Corporation | Redi II-V | Denver, CO | 113,709
Sage Tower Retirement Apartments | Sage Tower Retirement Apartments | Billings, MT | 43,566
Skyline Lodge, Inc | Skyline Lodge | Choteau , MT | 62,603
Missoula Manor Homes | Missoula Manor Homes | Missoula, MT | 103,055
Denver Metro Village, Inc | Metro Manor | Denver, CO | 146,430
Martha's Terrace Housing Corporation | Martha's Terrace Apartments | Magna, UT | 39,262
Multi-Ethnic East Housing Corporation | Preston Place | Salt Lake City, UT | 72,914
Multi-Ethnic East Housing Corporation | Multi-Ethnic Senior Citizen Housing | Salt Lake City, UT | 112,175
Converse County Senior Housing, Inc | Payne Plaza | Douglas , WY | 44,308
Total |  |  | 794,449

HUD will use the remaining $25 million appropriated this year to provide one-year extensions to expiring Service Coordinator and Congregate Housing Services Program grants.

HUD will first fund Service Coordinator costs in applications selected to receive an Assisted Living Conversion Program (ALCP) grant award. The Department estimates that approximately $5 million will be needed to fund these programs. The actual amount will be based upon demand and the number of applications that meet threshold criteria in both the ALCP and Service Coordinator programs. HUD will set-aside the requested amount of ALCP/Service Coordinator funds prior to conducting the national lottery. Any funds not used for ALCP Service Coordinator programs will revert to the lottery to fund all other eligible applications submitted under this NOFA.

In FY 2000, HUD awarded 259 grants for a total of $28,374,263. Three of the 259 grants were awarded to ALCP grant recipients, for a total of $504,931.

(B) Maximum Grant Award. There is no maximum grant amount. The grant amount you request must be consistent with the staffing guidelines provided in the application kit and your proposed salary must be supported by evidence of comparable salaries in your area.

(C) Reduction of Requested Grant Amounts. You may be awarded an amount less than requested if:

(1) HUD determines that some elements of your proposed action plan are ineligible for funding;

(2) Insufficient amounts remain under the allocation to fund the full amount you requested, and HUD determines that partial funding is a viable option; or

(3) HUD determines that a reduced grant would prevent duplicative Federal funding.

(D) Alternative Funding for Service Coordinators. Owners may request processing under Housing's Management Agent Handbook 4381.5, REVISION-2, CHANGE-2, Chapter 8. This Handbook provides procedures for requesting funding for a coordinator using residual receipts, the budget-based rent increase process, contract rents adjusted by the Annual Adjustment Factor (AAF) or the Project Rental Assistance Contract (PRAC). Section 8 approvals must be consistent with current policy. Your local HUD Field Office staff may approve budget-based funding for a Service Coordinator at any time, as long as available funds in your budget allow for this increase. You are not required to apply for these grant funds prior to seeking budget-based funding for a Service Coordinator.

III. Program Description; Eligible Applicants; Eligible Activities

(A) Program Description. The Service Coordinator Program provides funding for the employment and support of service coordinators in insured and assisted housing developments that are designed for the elderly and persons with disabilities and continue to operate as such. Service coordinators help residents obtain supportive services from the community that are needed to enable independent living and aging in place.

A service coordinator is a social service staff person hired or contracted by the development's owner or management company. The coordinator is responsible for assuring that elderly residents, especially those who are frail or at risk, and those non-elderly residents with disabilities are linked to the supportive services they need to continue living independently in that development. All services should meet the specific desires and needs of the residents themselves. The service coordinator may not require any elderly individual or person with a disability to accept any specific supportive service(s).

You may want to review the Management Agent Handbook 4381.5 REVISION-2, CHANGE-2, Chapter 8 for further guidance on service coordinators. This Handbook is accessible through HUDCLIPS on HUD's web site at http://www.hudclips.org. The Handbook is in the Handbooks and Notices—Housing Notices database. Enter the Handbook number in the “Document Number” field to retrieve the Handbook.

As was the case in FY 2000, there is no minimum unit number for eligible developments. In proposing a Service Coordinator program at a small development, however, you must be careful to conform to the hiring guidelines provided in the application kit. Funding is also allowed to augment current Service Coordinator programs and to continue programs in cases where current or previous funding sources are no longer available. Please refer to Sections III.D and III.F, below.

The American Homeownership and Economic Opportunity Act of 2000 (signed December 27, 2000) expanded the scope of the Service Coordinator program. This Act now allows owners of eligible developments to provide service coordination to low-income elderly or disabled families living in the vicinity of the development. You have the option to serve such community residents as a part of your proposed program to provide coordination to current residents of an eligible development. The objective of this expanded authority is to help additional low-income elderly and disabled individuals age in place and live independently as long as possible in their current homes. Any reference in this program NOFA or in the application kit to elderly or disabled residents of a development shall be construed to include low-income elderly or disabled families living in the vicinity of such a development.

(B) Eligible Applicants and Developments

To be eligible for funding, you must meet all of the applicable threshold requirements of Section II(B) of the General Section of the SuperNOFA and must be owners of developments assisted under the following programs:

(a) Section 202 and 202/8,

(b) Existing Section 8 project-based and moderate rehabilitation developments (including Rural Housing Service (RHS) Section 515/8 and Section 221(d)(4)),

(c) Section 221(d)(3) below-market interest rate, and 236 developments that are insured or assisted.

(2) Additionally, developments listed in paragraphs 1 (a), (b), and (c) are eligible only if they meet the following criteria:

(a) Have frail or at-risk elderly residents and/or non-elderly residents with disabilities who together total at least 25 percent of the building's residents.

(b) Are designed for the elderly or persons with disabilities and continue to operate as such. This includes any building within a mixed-use development that was designed for occupancy by elderly persons or persons with disabilities at its inception and continues to operate as such, or consistent with title VI, subtitle D of the Housing and Community Development Act of 1992. If not so designed, a development in which the owner gives preferences in tenant selection (with HUD approval) to eligible elderly persons or persons with disabilities, for all units in that development.

(c) You have completed Final Closing on the development.

(d) Are current in mortgage payments or are current under a workout agreement.

(e) Meet HUD's Uniform Physical Conditions Standards (codified in 24 CFR part 5, subpart G), based on the most recent physical inspection report and responses thereto, as evidenced by a score of 60 or better or an approved plan for developments scoring less than 60.

(f) Are in compliance with their regulatory agreement, HAP Contract, and other outstanding directives.

(g) Section 202 developments must have a residual receipts account separate from the Repair and Replacement account, or agree to establish this account. This requirement does not apply to Sections 8, 221(d)(3) below-market interest rate, or 236 developments.

(h) Owners using the AAF rent increase process or who are profit-motivated must provide certification that rental and other income from the development are insufficient to pay for a service coordinator.

If your eligibility status changes during the course of the grant term, making you ineligible to receive a grant (e.g. due to prepayment of mortgage, sale of property, or opting out of a Section 8 Housing Assistance Payment (HAP) contract), HUD has the right to terminate your grant.

(4) If you are applying for an Assisted Living Conversion Program (ALCP) grant, you may apply for new or augmented Service Coordinator costs to serve Assisted Living residents and/or all residents of your development.

(C) Ineligible Applicants and Developments. (1) Property management companies, area agencies on aging, and other like organizations are not eligible applicants for Service Coordinator funds. Such agents may prepare applications and sign application documents if they provide written authorization from the owner corporation as part of the application. In such cases, the owner corporation must be indicated on all forms and documents as the funding recipient.

(2) Developments not designed for the elderly or disabled or those no longer operating as such.

(3) Section 221(d)(4) developments without project-based Section 8 assistance.

(4) Section 202/811 developments with a PRAC. Owners of Section 202 PRAC developments may obtain funding by requesting an increase in their PRAC payment consistent with Handbook 4381.5 REVISION-2, CHANGE-2, Chapter 8.

The American Homeownership and Economic Opportunity Act of 2000 provides authority for Section 202 PRACs to receive Service Coordinator grants as described in this program NOFA and separate from their PRAC funding. However, PRAC funds are a readily accessible funding source for Service Coordinators in Section 202 PRAC developments. Including the Service Coordinator in the PRAC development's operating budget also provides a more stable and permanent source of funding. For these reasons, the Department has chosen to limit funding available through this program NOFA to those eligible housing developments (listed in section III.B(1) of this NOFA) that do not have a readily available source of funding for this position.

There is no statutory authority for service coordinators in Section 811 developments.

(D) Eligible Activities. (1) Service Coordinator Program grant funds may be used to pay for the salary, fringe benefits, and related administrative costs of employing a service coordinator. Administrative costs may include, but are not limited to, purchase of furniture, office equipment and supplies, computer hardware and software, Internet service, training, quality assurance, travel, and utilities.

(2) You may use funds to augment a current Service Coordinator program, by increasing the hours of a currently employed Service Coordinator, or hiring an additional Service Coordinator or aide on a part-or full-time basis.

(3) You may use funds to continue a Service Coordinator program that has previously been funded through other sources. In your application, you must provide evidence that this funding source has already ended or will discontinue within six months following the application deadline date and that no other funding mechanism is available to continue the program. This applies only to funding sources other than the subsidy awards provided by the Department through program Notices beginning in FY 1992. HUD currently provides one-year extensions to these subsidy awards through a separate funding action.

(4) You may propose reasonable costs associated with setting up a confidential office space for the Service Coordinator. Such expenses must be one-time only administrative start-up costs. Such costs may involve acquisition, leasing, rehabilitation, or conversion of space. HUD Field Office staff must approve both the proposed costs and activity and must perform an environmental assessment on such proposed work prior to grant award.

(5) You may provide service coordination to low-income elderly or disabled families living in the vicinity of an eligible development.

(E) Ineligible Activities. (1) You may not use funds available through this NOFA to replace currently available funding from other sources for a service coordinator or for some other staff person who performs service coordinator functions.

(2) Owners with existing service coordinator subsidy awards may not apply for renewal or extension of those programs under this NOFA.

(3) Congregate Housing Services Program (CHSP) grantees may not use these funds to meet statutory program match requirements and may not use these funds to replace current CHSP program funds to continue the employment of a service coordinator.

(4) The cost of application preparation is not eligible.

(5) Grant funds cannot be used to increase a project's management fee.

(6) You cannot hire an additional part of full-time Service Coordinator for the sole purpose of serving low-income elderly or disabled families who live in the vicinity of your development.

IV. Program Requirements

In addition to the requirements listed in Section II of the General Section of this SuperNOFA, you must also meet the requirements in Section IV of this program section of the SuperNOFA. These requirements apply to all activities, programs, and functions used to plan, budget, and evaluate the work funded under your program.

(A) Administrative Costs. HUD has the right to reduce the proposed costs if they appear unreasonable or inappropriate.

(B) Term of Funded Activities. The grant term is three years. Grants will be renewable subject to the availability of funds.

(C) Subgrants and Subcontracting. You may directly hire a Service Coordinator or you may contract with a qualified third party to provide this service.

(D) Forms, Certifications, and Assurances. See the General Section of the SuperNOFA for the applicable forms, certifications, and assurances that you must submit. This includes a certification that you are in compliance with Federal Civil Rights laws, as specified in Section II(G)(7) of the General Section of this SuperNOFA.

(E) Affirmatively Furthering Fair Housing. You must comply with Section II(D) of the General Section of this SuperNOFA.

V. Application Selection Process

(A) General. Service Coordinator Program grant funds will not be awarded through a rating and ranking process. Instead, HUD will hold one national lottery for all approvable applications forwarded from Multifamily HUB or Multifamily Program Centers (a list of these offices is found in the Appendix to this notice).

(B) Threshold Eligibility Review. HUD Multifamily Field Office staff will review applications for completeness and compliance with the eligibility criteria set forth in Section III of this NOFA. Field Office staff will forward application information to Headquarters for entry into the lottery if the application was received by the deadline date, meets all eligibility criteria, proposes reasonable costs for eligible activities, and includes all technical corrections by the designated deadline date.

“Reasonable costs” are generally those that are consistent with salaries and administrative costs of similar programs in the jurisdiction of the HUD Field Office.

(C) Service Coordinators in ALCP projects. The Department will first fund approved Service Coordinator requests in ALCP applications selected to receive an ALCP award. HUD estimates that approximately $5 million will be needed to fund these programs. Any funds not used for ALCP Service Coordinator programs will revert to the national lottery.

(D) The Lottery. HUD staff will use a computer program to randomly select applications. HUD will fully fund as many applications as possible with the given amount of funds. If funds remain after fully funding as many applications as possible, HUD will offer to partially fund the next application chosen in the lottery, in order to use the entire allocation of funds.

VI. Application Submission Requirements

(A) Single Applications. (1) You may submit one application for one or more developments that your corporation owns.

(2) You may submit more than one application to a single Field Office, if you wish to increase your chances of selection in the lottery. Each application must propose a stand-alone program and the development(s) must all be located in the same Field Office jurisdiction.

(3) If you wish to apply on behalf of developments located in different Field Office jurisdictions, you must submit a separate application to each Field Office.

(B) Joint Applications. You may join with one or more other eligible owners to share a Service Coordinator and submit a joint application. In the past, joint applications have been used by small developments who joined together to hire and share a part or full-time Service Coordinator.

(C) There is no maximum grant amount. The grant amount you request must be consistent with the staffing guidelines provided in the application kit and your proposed salary must be supported by evidence of comparable salaries in your area.

(D) Application Submission Requirements for ALCP Applicants. If you are an ALCP applicant and you request new or additional Service Coordinator costs specifically for your proposed Assisted Living Program, you must submit an application containing all required documents and information listed in this NOFA. In addition, you must submit a HUD-424-M “Federal Assistance Funding Matrix and Certifications” with your ALCP application, which indicates the amount of funds you are requesting to cover Service Coordinator costs. HUD Field Office staff will review both applications simultaneously.

ALCP applicants must submit all the required items in the Service Coordinator application listed in Section VI(E) of this NOFA. You may provide a copy of all standard forms in your Service Coordinator application. If you do not provide either an original or copy of these forms, your Service Coordinator application will be incomplete.

If you currently do not have a Service Coordinator working at the development proposed in your ALCP application and your ALCP application is selected to receive an ALCP award, HUD will fund a Service Coordinator to serve either ALCP residents only or all residents of the development dependent upon your request. If your development currently has a Service Coordinator, you may request additional hours for the Service Coordinator to serve the Assisted Living residents. If you request additional hours, you must specify the number of additional hours per week and provide an explanation based on the anticipated needs of the Assisted Living residents. Provide this explanation in your ALCP application as instructed in the ALCP NOFA.

If you request Service Coordinator funding to serve all residents of your development, your request can be entered into the national lottery if your ALCP application is not selected to receive an award. You will be able to indicate this request in the application materials.

Owners applying for ALCP grants may also submit separate Service Coordinator applications for entry into the lottery for other eligible developments they own and that are not included in their ALCP application.

(E) Your application must contain the items listed in this Section VI(E). These items include the standard forms, certifications, and assurances listed in the General Section of the SuperNOFA that are applicable to this funding (collectively, referred to as the “standard forms”). The standard forms can be found in Appendix B to the General Section of the SuperNOFA. The remaining application items that are forms (i.e., excluding such items as narratives, letters), referred to as the “non-standard forms” can be found as Appendix B to this program section of the SuperNOFA. The items are as follows:

Standard Forms

(1) Standard Form for Application for Federal Assistance (SF-424) (which includes civil rights/fair housing certification);

(2) Federal Assistance Funding Matrix and Certifications (HUD-424M);

(3) Standard Form for Assurances—Non-Construction Programs (SF-424B);

(4) Drug Free Workplace Certification (HUD-50070);

(5) Certification of Payments to Influence Federal Transactions (HUD-50071) and if engaged in lobbying, the Disclosure Form Regarding Lobbying (SF-LLL):

(6) Applicant/Recipient Disclosure/Update Report Form (HUD-2880);

(7) Certification Regarding Debarment and Suspension (HUD-2992), and

(8) Acknowledgment of Application Receipt (HUD-2993)

Other Application Items

All applications for funding under the Service Coordinator Program must contain the following documents and information:

(1) Transmittal letter and request, using the designated format provided in the application kit.

(2) (If applicable) Lead agency letter format.

(3) Evidence of comparable salaries in local area.

(4) If quality assurance is included in the proposed budget, a justification and explanation of how this work will be performed.

(5) If you propose to serve low-income elderly or disabled families living in the vicinity of the development(s) included in your application, a narrative description of your plan.

(6) (If applicable) Evidence that prior funding sources for your development's Service Coordinator program are no longer available or will expire on or before December 21, 2001.

(7) A bank statement showing the current residual receipts or surplus cash balance in the development's account.

(8) Applicant Data Input Form.

(9) Service Coordinator Certifications. This includes certifications that you, the applicant, will comply with the following:

(a) The requirements of the Fair Housing Act, Title VI of the Civil Rights Act of 1964, Section 504 of the Rehabilitation Act of 1973, and the Age Discrimination Act of 1975, and that you will affirmatively further fair housing; and

(b) The nondiscrimination in employment requirements of Title VII of the Civil Rights Act of 1964 (42 U.S.C. 2000e et seq.), the Equal Pay Act (29 U.S.C. 206(d)), the Age Discrimination in Employment Act of 1967 (29 U.S.C. 621 et seq.), Title IX of the Education Amendments Act of 1972, and Titles I and V of the Americans with Disabilities Act of 1990 (42 U.S.C. 12101 et seq).

(10)(a) Certification from an Independent Public Accountant or the cognizant government auditor stating that the financial management system employed by the applicant meets proscribed standards for fund control and accountability required by HUD regulations at 24 CFR parts 84 and 85.

(b) Owners applying on behalf of developments using the AAF must also provide certification from the auditor that the development's rental or other income is insufficient to pay the costs of employing a Service Coordinator.

(11) Applicant checklist.

VII. Corrections to Deficient Applications

The General Section of the SuperNOFA provides the procedures for corrections to deficient applications.

VIII. Environmental Requirements

It is anticipated that most activities under this program are categorically excluded from NEPA and related environmental authorities under 24 CFR 50.19(b)(3), (4), (12), or (13). If grant funds will be used to cover the cost of any activities which are not exempted from environmental review requirements—such as acquisition, leasing, construction, or building rehabilitation, HUD will perform an environmental review to the extent required by 24 CFR part 50, prior to grant award.

IX. Authority

Section 808 of the Cranston-Gonzalez National Affordable Housing Act (Pub. L. 101-625, approved November 28, 1990), as amended by sections 671, 674, 676, and 677 of the Housing and Community Development Act of 1992 (Pub. L. 102-550, approved October 28, 1992), and section 851 of the American Homeownership and Economic Opportunity Act of 2000 (Pub. L. 106-569, approved December 27, 2000).

Appendix A—HUD Field Office List for Mailing Service Coordinator Applications

Alabama

Multifamily Housing Program Center, HUD—Birmingham Office, 600 Beacon Parkway West, Rm. 300, Birmingham, AL 35209-3144, OFC Phone: (205) 290-7611, FAX: (205) 290-7632

Alaska

Multifamily Housing Hub, HUD Seattle Office, 909 First Avenue, Suite 190, MS-0AHM, Seattle, WA 98104-1000, OFC Phone: (206) 220-5228 ext. 3250, FAX: (206) 220-5206

Arizona

Multifamily Housing Program Center, HUD Phoenix Office, 400 North Fifth Street, Suite 1600, Phoenix, AZ 85004-2361, OFC Phone: (602) 379-4434, FAX: (602) 379-3985

Arkansas

Multifamily Housing Program Center, HUD Little Rock Office, 425 West Capitol Avenue #900, Little Rock, AR 72201-3488, OFC Phone: (501) 324-5401, FAX: (501) 324-6142

California

Multifamily Housing Hub, HUD—San Francisco Office, 450 Golden Gate Avenue, PO Box 36003, San Francisco, CA 94102-3448, OFC Phone: (415) 436-6505, FAX: (415) 436-8996

Los Angeles Multifamily Hub, 611 West Sixth Street, Suite 800, Los Angeles, CA 90017, OFC Phone: (213) 894-8000 x 3634, Fax: (213) 894-8255

Colorado

Multifamily Housing Hub, HUD Denver Office, 633 17th Street, 11th Floor, Denver, CO 80202-3607, OFC Phone: (303) 672-5343, FAX: (303) 672-5153

Connecticut

Multifamily Housing Program Center, HUD—Hartford Office, One Corporate Center, 19th floor, Hartford, CT 06103-3220, OFC Phone: (860) 240-4800 Ext. 3068, FAX: (860) 240-4850

Delaware

Multifamily Housing Hub, HUD Philadelphia Office, The Wanamaker Building, 100 Penn Square, East, Philadelphia, PA 19107-3380, OFC Phone: (215) 656-0609 Ext. 3533, FAX: (215) 656-3427

District of Columbia

Multifamily Housing Program Center, HUD Washington, DC Office, Suite 300, 820 First Street, NE., Washington, DC 20012-4205, OFC Phone: (202) 275-9200, FAX: (202) 275-9212

Florida

Multifamily Housing Hub, HUD—Jacksonville Office, 301 West Bay Street, Suite 2200, Jacksonville, FL 32202-5121, OFC Phone: (904) 232-1777 x2144, FAX: (904) 232-2731

Georgia

Multifamily Housing Hub, HUD—Atlanta Office, Five Points Plaza Building, 40 Marietta Street, S.W., Atlanta, Georgia 30303-2806, OFC Phone: (404) 331-4976, FAX: (404) 331-4028

Hawaii

Multifamily Housing Program Center, HUD Honolulu Office, 7 Waterfront Plaza, 500 Ala Moana Blvd. #500, Honolulu, HI 96813-4918, OFC Phone: (808) 522-8185 Ext. 244, FAX: (808) 522-8194

Idaho

Multifamily Housing Hub, HUD Seattle Office, 909 First Avenue, Suite 190, MS-0AHM, Seattle, WA 98104-1000, OFC Phone: (206) 220-5228 ext. 3250, FAX: (206) 220-5206

Illinois

Multifamily Housing Hub, HUD—Chicago Office, Ralph Metcalfe Federal Building, 77 West Jackson Boulevard, Chicago, IL 60604-3507, OFC Phone: (312) 353-6236 Ext. 2202, FAX: (312) 886-2729

Indiana

Multifamily Housing Program Center, HUD Indianapolis Office, 151 North Delaware Street, Suite 1200, Indianapolis, IN 46204-2526, OFC Phone: (317) 226-6303, FAX: (317) 226-7308

Iowa

Multifamily Housing Program Center, HUD Des Moines Office, 210 Walnut Street, Room 239, Des Moines, IA 50309-2155, OFC Phone: (515) 284-4736, FAX: (515) 284-4743

Kansas

Multifamily Housing Hub, HUD Kansas City Office, 400 State Avenue, Room 200, Kansas City, KS 66101-2406, OFC Phone: (913) 551-6844, FAX: (913) 551-5469

Kentucky

Multifamily Housing Program Center, HUD—Louisville Office, 601 West Broadway, PO Box 1044, Louisville, KY 40201-1044, OFC Phone: (502) 582-6124, FAX: (502) 582-6547

Louisiana

Multifamily Housing Program Center, HUD New Orleans Office, Hale Boggs Bldg.—501 Magazine Street, 9th Floor, New Orleans, LA 70130-3099, OFC Phone: (504) 589-7236, FAX: (504) 589-6834

Maine

Multifamily Housing Program Center, HUD—Manchester Office, Norris Cotton Federal Bldg., 275 Chestnut Street, Manchester, NH 03101-2487, OFC Phone: (603) 666-7684, FAX: (603) 666-7697

Maryland

Multifamily Housing Hub, HUD Baltimore Office, 5th Floor, 10 South Howard Street, Baltimore, MD 21201-2505, OFC Phone: (410) 962-2520 Ext. 3474, FAX: (410) 962-1849

Massachusetts

Multifamily Housing Hub, HUD—Boston Office, O'Neil Federal Building, 10 Causeway Street, Rm. 375, Boston, MA 02222-1092, OFC Phone: (617) 565-5162, FAX: (617) 565-6557

Michigan

Multifamily Housing Hub, HUD Detroit Office, 477 Michigan Avenue, Detroit, MI 48226-2592, OFC Phone: (313) 226-7900, FAX: (313) 226-5611

Multifamily Housing Program Center, HUD Grand Rapids, Trade Center Building, 50 Louis Street, N.W., Grand Rapids, MI 49503-2648, OFC Phone: (616) 456-2100, FAX: (616) 456-2191

Minnesota

Multifamily Housing Hub, HUD Minneapolis Office, 220 Second Street, South, Minneapolis, MN 55401-2195, OFC Phone: (612) 370-3051 Ext. 0, FAX: (612) 370-3090

Mississippi

Multifamily Housing Program Center, HUD Jackson Office—McCoy Federal Building, 100 W. Capitol Street, Room 910, Jackson, MS 39269-1096, OFC Phone: (601) 965-4738, FAX: (601) 965-4773

Missouri

Multifamily Housing Hub, HUD Kansas City Office, 400 State Avenue, Room 200, Kansas City, KS 66101-2406, OFC Phone: (913) 551-6844, FAX: (913) 551-5469

Multifamily Housing Program Center, HUD St. Louis Office, Robert A. Young Federal Building, 1222 Spruce Street—Third Floor, St. Louis, MO 63103-2836, OFC Phone: (314) 539-6382, FAX: (314) 539-6356

Montana

Multifamily Housing Hub, HUD Denver Office, 633 17th Street, 14th Floor, Denver, CO 80202-3607, OFC Phone: (303) 672-5343, FAX: (303) 672-5153

Nebraska

Multifamily Housing Program Center, HUD Omaha Office, 10909 Mill Valley Road, Suite 100, Omaha, NE 68154-3955, OFC Phone: (402) 492-3113, FAX: (402) 492-3184

Nevada

Multifamily Housing Program Center, HUD Las Vegas Office, 333 N. Rancho Drive—Atrium Bldg. Suite 700, Las Vegas, NV 89106-3714, OFC Phone: (702) 388-6525, FAX: (702) 388-6244

New Hampshire

Multifamily Housing Program Center, HUD—Manchester Office, Norris Cotton Federal Bldg., 275 Chestnut Street, Manchester, NH 03101-2487, OFC Phone: (603) 666-7684, FAX: (603) 666-7697

New Jersey

Multifamily Housing Program Center, HUD—Newark Office—13th Floor, One Newark Center, Newark, NJ 07102-5260, OFC Phone: (973) 622-7900 Ext. 3400, FAX: (973) 645-2271

New Mexico

Multifamily Housing Hub, HUD Ft. Worth Office, 801 Cherry Street, PO Box 2905, Ft. Worth, TX 76102-2905, OFC Phone: (817) 978-5764, FAX: (817) 978-5520

New York

Multifamily Housing Hub, HUD—New York Office, 26 Federal Plaza—Room 3214, New York, NY 10278-0068, OFC Phone: (212) 264-0777 Ext. 3713, FAX: (212) 264-1277

Multifamily Housing Hub, HUD—Buffalo Office, Lafayette Court, 5th Floor, 465 Main Street, Buffalo, NY 14203-1780, OFC Phone: (716) 551-5755 Ext. 5509, FAX: (716) 551-3252

North Carolina

Multifamily Housing Hub, HUD Greensboro Office—Koger Building, 2306 West Meadowview Road, Greensboro, NC 27407, OFC Phone: (336) 547-4034, FAX: (336) 547-4121

North Dakota

Multifamily Housing Hub, HUD Denver Office, 633 17th Street, 14th Floor, Denver, CO 80202-3607, OFC Phone: (303) 672-5343, FAX: (303) 672-5153

Ohio

Multifamily Housing Hub, HUD Columbus Office, 200 North High Street, Columbus, OH 43215-2499, OFC Phone: (614) 469-5737, Ext. 8111, FAX: (614) 469-2432

Multifamily Housing Program Center, HUD Cincinnati Office, 525 Vine Street, Suite 700, Cincinnati, OH 45202-3188, OFC Phone: (513) 684-2350, FAX: (513) 684-6224

Multifamily Housing Program Center, HUD Cleveland Office, 1350 Euclid Avenue, Suite 500, Cleveland, OH 44115-1815, OFC Phone: (216) 522-4058 Ext. 7000, FAX: (216) 522-4067

Oklahoma

Multifamily Housing Program Center, HUD Oklahoma City Office, 500 W. Main Street, Suite 400, Oklahoma City, OK 73102-2233, OFC Phone: (405) 553-7410, FAX: (405) 553-7406

Oregon

Multifamily Housing Hub, HUD Seattle Office, 909 First Avenue, Suite 190, MS-0AHM, Seattle, WA 98104-1000, OFC Phone: (206) 220-5228 ext. 3250, FAX: (206) 220-5206

Pennsylvania

Multifamily Housing Hub, HUD Philadelphia Office, The Wanamaker Building, 100 Penn Square, East, Philadelphia, PA 19107-3380, OFC Phone: (215) 656-0609 Ext. 3533, FAX: (215) 656-3427

Multifamily Housing Program Center, HUD Pittsburgh Office, 339 Sixth Avenue—Sixth Floor, Pittsburgh, PA 15222-2515, OFC Phone: (412) 644-6639, FAX: (412) 644-5872

Puerto Rico

Multifamily Housing Program Center, HUD Caribbean Office, 171 Carlos E. Chardon Avenue, San Juan, PR 00918-0903, OFC Phone: (787) 766-5401, FAX: (787) 766-5522

Rhode Island

Multifamily Housing Program Center, HUD—Providence Office, 10 Weybosset Street, Sixth Floor, Providence, RI 02903-2808, OFC Phone: (401) 528-5230, FAX: (401) 528-5097

South Carolina

Multifamily Housing Program Center, HUD Columbia Office, 1835 Assembly Street, Columbia, SC 29201-2480, OFC Phone: (803) 765-5162, FAX: (803) 253-3043

South Dakota

Multifamily Housing Hub, HUD Denver Office, 633 17th Street, 14th Floor, Denver, CO 80202-3607, OFC Phone: (303) 672-5343, FAX: (303) 672-5153

Tennessee

Multifamily Housing Program Center, HUD—Knoxville Office, 710 Locust Street, SW, Knoxville, TN 37902-2526, OFC Phone: (423) 545-4411, FAX: (423) 545-4578

Multifamily Housing Program Center, HUD—Nashville Office, 251 Cumberland Bend Drive, Suite 200, Nashville, TN 37228-1803, OFC Phone: (615) 736-5748, FAX: (615) 736-2018

Texas

Multifamily Housing Hub, HUD Ft. Worth Office, 801 Cherry Street, PO Box 2905, Ft. Worth, TX 76102-2905, OFC Phone: (817) 978-5764, FAX: (817) 978-5520

Multifamily Housing Program Center, HUD Houston Office, 2211 Norfolk, #200, Houston, TX 77098-4096, OFC Phone: (713) 313-2274 Ext. 7015, FAX: (713) 313-2319

Multifamily Housing Program Center, HUD San Antonio Office, 800 Dolorosa, San Antonio, TX 78207-4563, OFC Phone: (210) 475-6831, FAX: (210) 472-6897

Utah

Multifamily Housing Hub, HUD Denver Office, 633 17th Street, 14th Floor, Denver, CO 80202-3607, OFC Phone: (303) 672-5343, FAX: (303) 672-5153

Vermont

Multifamily Housing Program Center, HUD—Manchester Office, Norris Cotton Federal Bldg., 275 Chestnut Street, Manchester, NH 03101-2487, OFC Phone: (603) 666-7684, FAX: (603) 666-7697

Virginia

Multifamily Housing Hub, HUD Richmond Office, 3600 West Broad Street, Richmond, VA 23230-4920, OFC Phone: (804) 278-4500 Ext. 3146, FAX: (804) 278-4613

Washington

Multifamily Housing Hub, HUD Seattle Office, 909 First Avenue, Suite 190, MS-0AHM, Seattle, WA 98104-1000, OFC Phone: (206) 220-5228 ext. 3250, FAX: (206) 220-5206

West Virginia

Multifamily Housing Program Center, HUD—Charleston Office, 405 Capitol Street, Suite 708, Charleston, WV 25301-1795, OFC Phone: (304) 347-7000 Ext. 103, FAX: (304) 347-7050

Wisconsin

Multifamily Housing Program Center, HUD Milwaukee Office, 310 West Wisconsin Avenue, Room 1380, Milwaukee, WI 53203-2289, OFC Phone: (414) 297-3214 Ext. 8662, FAX: (414) 297-3204

Wyoming

Multifamily Housing Hub, HUD Denver Office, 633 17th Street, 14th Floor, Denver, CO 80202-3607, OFC Phone: (303) 672-5343, FAX: (303) 672-5153

Appendix B

The non-standard forms required for the Service Coordinators in Multifamily Housing application follow:

BILLING CODE 4210-32-P

FUNDING AVAILABILITY FOR MAINSTREAM HOUSING OPPORTUNITIES FOR PERSONS WITH DISABILITIES (MAINSTREAM PROGRAM)

Program Overview

Purpose of the Program. The purpose of this program is to provide vouchers under the Housing Choice Voucher Program to enable persons with disabilities (elderly and non-elderly) to rent affordable private housing.

Available Funds. Approximately $54.1 million in five-year budget authority for approximately 1,900 vouchers is available to public housing agencies (PHAs) and nonprofit disability organizations.

Applications are also being invited from PHAs for one-year budget authority funding (non-Section 811 funds) that HUD anticipates may be available for the Mainstream Program in FY 2001. Specifically, any portion of the $40 million in one-year budget authority contained in FY 2001 appropriations related to designated housing plans; preferences in occupancy for the elderly in certain types of Section 8 project-based developments; or restrictions in occupancy to elderly only in certain types of Section 202, Section 221(d)(3), or Section 236 developments remaining unobligated and not needed to fund approvable applications under these programs will be added to the approximately $54.1 million in five-year budget authority available under this announcement. This one-year budget authority will be used only for non-elderly disabled families.

Eligible Applicants. PHAs and nonprofit disability organizations that provide services to disabled families are eligible to apply for the $54.1 million in five-year budget authority for applications submitted in FY 2001. While PHAs and nonprofit disability organizations are eligible to apply for the $54.1 million in five-year budget authority available under this announcement, only PHAs are eligible to apply for the one-year budget authority that may also be available under this announcement {see Section II(A) of this announcement regarding the possibility of one-year funding also being available for the Mainstream Program}. Indian Housing Authorities (IHAs), Indian tribes and their tribally designated housing entities are not eligible to apply because the Native American Housing Assistance and Self-Determination Act of 1996 does not allow HUD to enter into new housing choice voucher (Section 8) annual contributions contracts (ACC) with IHAs after September 30, 1997.

The vouchers that HUD will provide under this announcement must be made available to eligible disabled families regardless of their type of disability. (See the definition of disabled family in Section IV(E) of this announcement.) The Mainstream Program vouchers must not be issued by the administering agency on the basis of any preference system favoring any particular type of disability over another, nor shall the vouchers be issued solely on the basis of an administering agency's waiting list which is based on that agency's having heretofore served only certain types of disabled persons. The Housing Choice Voucher Program regulations provide at 24 CFR 982.207(c) that a PHA may give preference for admission of families that include a person with disabilities; however, the PHA may not give preference for admission of persons with a specific disability. This regulatory requirement is also applicable to nonprofit disability organizations who receive funding under this announcement as such organizations must comply with the regulatory requirements applicable to the Housing Choice Voucher Program.

Application Deadline. July 20, 2001.

Match. None.

Additional Information

If you are interested in applying for funding under the Mainstream Program, please review carefully the General Section of this SuperNOFA and the following additional information.

I. Application Due Date, Application Kits, Further Information and Technical Assistance

Application Due Date. Submit your completed application (an original and one copy) to HUD on or before 12:00 midnight, Eastern time, on July 20, 2001.

See the General Section of this SuperNOFA for specific procedures concerning the form of application submission (i.e., mailed applications, express mail, overnight delivery, or hand carried).

Address for Submitting Applications. Your completed application consists of one original and one copy. Submit your original application and one copy to: Michael Diggs, Director, Grants Management Center, Department of Housing and Urban Development, 501 School Street, SW, Suite 800, Washington, DC 20024. Applications which are hand carried or sent via overnight delivery service should be delivered to this address. The Grants Management Center is the official place of receipt for all applications in response to this announcement of funding availability. Your application will be accepted at this address until 6:00 pm, Eastern time, on the application deadline.

After 6:00 pm on the application deadline date, applications will be accepted in the South Lobby of HUD Headquarters, 451 Seventh Street, SW, Washington, DC 20410, until 12:00 midnight Eastern time.

A copy of the application is not required to be submitted to the local HUD Field Office. For ease of reference, the term “local HUD Field Office” will be used in this announcement to mean the local HUD Field Office Hub and the local HUD Field Office Program Center. A listing of HUD Field Offices is attached to the General Section of this SuperNOFA.

For Application Kits. An application kit is not necessary for submitting an application in response to this announcement. This announcement contains all the information necessary for the submission of your application for voucher funding for the Mainstream Program.

For Further Information and Technical Assistance. Prior to the application due date, you may contact George C. Hendrickson, Housing Program Specialist, Room 4216, Office of Public and Assisted Housing Delivery, Department of Housing and Urban Development, 451 Seventh Street, SW, Washington, DC 20410; telephone (202) 708-1872, ext. 4064. Subsequent to application submission, you may contact the Grants Management Center at (202) 358-0338. (These are not toll-free numbers.) Persons with hearing or speech impairments may access these numbers via TTY (text telephone) by calling the Federal Information Relay Service at 1-800-877-8339 (this is a toll-free number).

Satellite Broadcast. HUD will hold an information broadcast via satellite for potential applicants to learn more about the program and preparation of an application. For more information about the date and time of this broadcast, you should consult the HUD web site at www.hud.gov.

II. Amount Allocated

(A) Available Funding for Mainstream Program. Approximately $54.1 million in five-year funding is available for approximately 1,900 vouchers. This allocation is consistent with the FY 2001 HUD Appropriations Act. The FY 2001 HUD Appropriations Act provides that the Secretary of HUD may designate up to 25 percent of the amounts earmarked for capital advances including amendments to the capital advance contracts for supportive housing for persons with disabilities as authorized by section 811 of the Cranston-Gonzalez National Affordable Housing Act (NAHA), for project rental assistance, for amendments to contracts for project rental assistance and supportive services associated with the housing of persons with disabilities as authorized by section 811 of NAHA. The FY 2001 HUD Appropriations Act made $217 million available for the Section 811 Program. The $54.1 million made available to applicants under this Mainstream Program funding announcement is no more than 25 percent of this $217 million.

All of the approximately $54.1 million in funding is for use in the housing of elderly and non-elderly disabled families. HUD will supplement the Mainstream Program funding with additional funding, up to as much as $40 million in one-year budget authority for housing choice vouchers for non-elderly disabled families in support of designated housing plans, for non-elderly disabled families who are not currently receiving housing assistance in certain Section 8 project-based developments due to the owners establishing preferences for the admission of elderly families, and for nonelderly disabled families not being housed in certain section 202, section 221(d)(3) and section 236 developments (or portions thereof) where the owners have restricted occupancy to elderly families. The FY 2001 HUD Appropriations Act states that to the extent the Secretary determines that the FY 2001 appropriations related to designated housing plans and certain types of Section 8 project-based developments and certain types of section 202, section 221(d)(3) and section 236 developments are not needed to fund applications, the funds may be used for other non-elderly disabled families. Any such remaining funds will be used to supplement funding for the Mainstream Program. As a result, as much as $40 million in one-year budget authority may be available in additional funding in FY 2001 for the Mainstream Program.

(B) Funding for the Section 811 Program. The Section 811 Program of Supportive Housing for Persons With Disabilities provides capital advances and project rental assistance in FY 2001 elsewhere in this SuperNOFA. The Section 811 Program of Supportive Housing for Persons With Disabilities will provide funding to nonprofit organizations (sponsors) for the development and operation of small, scattered-site housing to enable adults with disabilities to live as independently as possible in the community. The capital advance does not need to be repaid as long as the housing is used for its intended purpose for at least 40 years. The project rental assistance funds cover the difference between the HUD-approved operating expenses of the housing and the tenant's contribution towards rent which is 30 percent of adjusted income. The types of housing that are typically developed through the program are small group homes for no more than six persons, independent living projects containing individual apartment units for no more than 18 persons, and condominium units. Sponsors are required to ensure that residents have access to any necessary supportive services but cannot require the acceptance of such as a condition of occupancy.

(C) Housing Choice Voucher Funding. (1) Lottery. HUD will select approvable applications for funding by lottery in the event approvable applications are received for more funding than is available under this Mainstream Program announcement. In such event, a separate lottery will be held first to select applications for funding for the $54.1 million available in five-year budget authority available under this announcement, and a separate lottery will be held to select applications for funding for whatever amount of one-year budget authority may be available during FY 2001 for the Mainstream Program. PHAs should clearly indicate in their applications if they are applying for both five-year and one-year funding in order to ensure their inclusion in both lotteries. This would allow the last selected application (if a PHA) under the five-year funding lottery to be automatically funded with one-year budget authority for the remaining number of vouchers requested, but for which there was insufficient five-year budget authority at the point the PHA was selected in the five-year funding lottery. This would also allow a PHA to be automatically included in the lottery for one-year budget authority funding if not fortunate enough to be selected for any funding in the five-year budget authority lottery. PHAs applying for one-year funding must make it clear in their applications that they have a sufficient number of non-elderly disabled families to support the number of vouchers being requested. As indicated earlier in this announcement, one-year budget authority funding is for use by PHAs solely for non-elderly disabled families, whereas five-year budget authority is for use by PHAs and nonprofit disability organizations for both elderly and non-elderly disabled families.

(2) Maximum Voucher Request. There is a limit on the number of vouchers that may be requested. An eligible applicant may apply for a maximum of 75 vouchers. No more than a grand total of 75 vouchers will be awarded to any applicant under the FY 2001 Mainstream Program.

(3) Determination of Funding Amount for the Applicant's Requested Number of Vouchers. HUD will determine the amount of funding that an applicant will be awarded under this announcement based upon an actual annual per unit cost {except that for Moving to Work (MTW) agencies the per unit cost will be calculated in accordance with the agency's MTW Agreement for MTW units} using the following three step process:

(a) HUD will extract the total expenditures for all the PHA's housing choice voucher and certificate programs and the unit months leased information from the most recent approved year end statement (Form HUD-52681) that the PHA has filed with HUD. HUD will divide the total expenditures for all of the PHA's housing choice voucher and certificate programs by the unit months leased to derive an average monthly per unit cost.

(b) HUD will multiply the monthly per unit cost by 12 (months) to obtain an annual per unit cost.

(c) HUD will multiply the annual per unit costs derived under paragraph (b) above by the Housing Choice Voucher (Section 8) Housing Assistance Payments Program Contract Rent Annual Adjustment Factor (with the highest cost utility included) to generate an adjusted annual per unit cost. For a PHA whose jurisdiction spans multiple annual adjustment factor areas, HUD will use the highest applicable annual adjustment factor.

Note: Applicants who do not currently administer a housing choice voucher or certificate program shall have their voucher funding based upon the annual actual per unit costs of the PHA in their most immediate area administering a housing choice voucher or certificate program, using the three step process described immediately above.

(4) Preliminary Fee. A preliminary fee of up to $500 per unit for preliminary (start-up) expenses will be paid to applicants that have not previously administered their own housing choice voucher or certificate program that are selected for funding under this announcement. The preliminary fee will be provided to such applicants only in their first year administering housing choice vouchers.

(e) Underfunding Corrections. If prior to the award of Mainstream Program funding under this announcement, HUD determines that any awardees under the FY 2000 Mainstream Program funding announcement have been underfunded due to an error attributable to HUD, funding will be increased to the amount that the awardee should have received.

III. Program Description, Eligible Applicants and Eligible Participants

(A) Program Description. The Secretary has established a Mainstream Housing Opportunities for Persons with Disabilities Program (Mainstream Program) to provide vouchers to enable persons with disabilities to rent affordable private housing of their choice.

The Mainstream Program will assist PHAs and non-profit disability organizations in providing housing choice vouchers to a segment of the population recognized by HUD's housing research as having one of the worst housing needs of any group in the United States; i.e., very low-income households with adults with disabilities. In addition, the Mainstream Program will assist persons with disabilities who often face difficulties in locating suitable and accessible housing on the private market.

(B) Eligible Applicants. Public housing agencies (PHAs) and nonprofit disability organizations that provide services to the disabled {as defined in Section IV(E) of this announcement} are eligible applicants. Indian Housing Authorities (IHAs), Indian tribes and their tribally designated housing entities are not eligible to apply for new increments of housing choice voucher funding because the Native American Housing Assistance and Self-Determination Act of 1996 does not allow HUD to enter into new housing choice voucher annual contributions contracts (ACC) with IHAs after September 30, 1997.

(1) PHAs. (a) A PHA established pursuant to State law may apply for funding under this announcement. A regional (multi-county) or State PHA is also eligible to apply for funding. A PHA may submit only one application under this announcement. This one application per PHA limit applies regardless of whether or not the PHA is a State or regional PHA, except in those instances where such a PHA has more than one PHA code number due to its operating under the jurisdiction of more than one HUD Field Office. In such instance, a separate application under each code shall be considered for funding, with the cumulative total of vouchers applied for under the applications not to exceed the maximum number of vouchers the PHA is eligible to apply for under section II(C)(2) of this announcement; i.e., no more than the number of vouchers the same PHA would be eligible to apply for if it only had one PHA code number.

Two or more divisions within State government comprising separate PHAs shall require the State to determine which division shall submit an application to HUD under this funding announcement. As with other PHAs, only one application per PHA shall be considered (see sole exception referenced immediately above).

(b) PHAs are encouraged to involve nonprofit disability organizations that provide services to disabled families, as defined in Section III(B)(2) of this announcement, in the administration of the Mainstream Program's vouchers.

(i) Such nonprofit disability organizations could function as either a contract administrator for the PHA's Mainstream vouchers, or as a subcontractor responsible for providing case management services or assisting disabled families to locate suitable housing, gain access to supportive services, or identify private funding sources to cover the costs of unit modifications needed as a reasonable accommodation.

(ii) Such contractual arrangements must, however, ensure equal opportunity among the wide variety of disabled populations in the PHA's service area. PHAs are being encouraged to seek out nonprofit disability organizations to assist in the administration of the Mainstream vouchers due to such organizations' capacity for assisting disabled families, as well as their in-depth knowledge of the disability community.

(c) Some PHAs currently administering the housing choice voucher and certificate programs have, at the time of publication of this SuperNOFA, major program management findings from Inspector General audits, HUD management reviews, or independent public accountant (IPA) audits that are open and unresolved or other significant program compliance problems. HUD will not accept applications for additional funding from these applicants as contract administrators if, on the application due date, the findings are either not closed, or sufficient progress toward closing the findings has not been made to HUD's satisfaction. The PHA must also, to HUD's satisfaction, be making satisfactory progress in addressing any program compliance problems. If the PHA wants to apply for funding under this announcement, the PHA must submit an application that designates another housing agency, nonprofit agency, or contractor, that is acceptable to HUD. The PHA's application must include an agreement by the other housing agency, nonprofit agency, or contractor to administer the new funding increment on behalf of the PHA, and a statement that outlines the steps the PHA is taking to resolve the program findings and program compliance problems. Immediately after the publication of this SuperNOFA, the Office of Public Housing in the local HUD Field Office will notify, in writing, those PHAs that are not eligible to apply without such an agreement. Concurrently, the local HUD Field Office will provide a copy of each such written notification to the Grants Management Center. The PHA may appeal the decision in writing, if HUD has mistakenly classified the PHA as having outstanding management or compliance problems. Any appeal must be accompanied by conclusive evidence of HUD's error (i.e., documentation showing that the finding has been cleared or satisfactory progress toward closing the findings or addressing compliance problems has been made) and must be received prior to the application deadline. The appeal should be submitted to the local HUD Field Office where a final determination shall be made. The local HUD Field Office shall, concurrent with its response to the PHA, provide the Grants Management Center with a copy of its written response to the appeal, along with a copy of the PHA's written appeal. Major program management findings are those that would cast doubt on the capacity of the PHA to effectively administer any new housing choice voucher funding in accordance with applicable HUD regulatory and statutory requirements.

(2) Nonprofit Disability Organization. A private organization, no part of the net earnings of which inures to the benefit of any member, founder, contributor, or individual, that provides services to persons with disabilities and has received a federal tax-exempt designation from the U.S. Internal Revenue Service.

(a) The nonprofit entity must:

(i) Have a voluntary board;

(ii) Be authorized by its charter or State law to enter into a contract with the Federal Government to provide housing assistance;

(iii) Have a functioning accounting system that is operated in accordance with generally accepted accounting principles, or designate an entity that will maintain a functioning accounting system for the organization in accordance with generally accepted accounting principles; and

(iv) Practice nondiscrimination in the provision of assistance.

(b) A nonprofit disability organization meeting the definition of a nonprofit disability organization as defined in this Section III(B)(2), and wishing to apply for the funding available under this announcement must have the capacity to:

(i) Comply with the Housing Choice Voucher Program (Section 8) Management Assessment Program (SEMAP) certification requirements under 24 CFR part 985.

(ii) Carry out such housing choice voucher and SEMAP specific related activities as making determinations as to rent reasonableness, performing housing quality standards (HQS) inspections and enforcement, conducting annual reexaminations of participant families, as well as otherwise meeting housing choice voucher program requirements under 24 CFR part 982.

(iii) Manage the Mainstream Program vouchers in a manner equivalent to an overall performance rating under SEMAP (24 CFR part 985) of “standard” during the first fiscal year of its receiving Mainstream Program funding.

(iv) Administer rental housing programs or manage rental housing, as demonstrated by a specific list of rental housing programs the nonprofit disability organization has administered or the rental housing the organization has managed (e.g. private rental housing, HUD or State-related housing programs, etc.).

Nonprofit disability organizations are encouraged to seek out PHAs in their geographic area to develop cooperative contractual relationships under the Mainstream Program, and to enhance services to disabled families. In addition to contacting local PHAs, nonprofit disability organizations may also wish to contact regional (multi-county), or state-wide PHAs who may be applying for Mainstream Program funding.

(C) Eligible Participants. Only a disabled family that is income eligible under 24 CFR 982.201(b)(1), as well as otherwise eligible under the regulations at 24 CFR 982.201(b), may receive a voucher awarded under the Mainstream Program. While elderly and non-elderly disabled families are eligible to receive a voucher awarded to a PHA or nonprofit disability organization using five-year budget authority under this announcement, only non-elderly disabled families are eligible to receive a voucher awarded to a PHA using one-year budget authority that may be available for the Mainstream Program under this announcement. Applicants with disabilities will be selected from the PHA's or nonprofit disability organization's housing choice voucher waiting list.

IV. Program Requirements and Definitions

In addition to the civil rights compliance and nondiscrimination requirements listed in the General Section of this SuperNOFA, grantees must meet the following program requirements:

(A) Affirmatively Furthering Fair Housing. Each successful applicant will have a duty to affirmatively further fair housing. Applicants will be required to identify the specific steps that they will take to:

(1) Examine its own programs or proposed programs, including an identification of any impediments to fair housing (identified in the jurisdiction's Analysis of Impediments (AI) to Fair Housing Choice in the Consolidated Plan); develop a plan to (a) address those impediments in a reasonable fashion in view of the resources available; and (b) work with the local jurisdictions to implement any of the jurisdictions' initiatives to affirmatively further fair housing; and maintain records reflecting these analyses and actions;

(2) Remedy discrimination in housing; or

(3) Promote fair housing rights and fair housing choice.

Further, applicants have a duty to carry out the specific activities cited in their responses under this announcement to address affirmatively furthering fair housing.

(B) Certifications and Assurances. Each applicant is required to submit signed copies of Assurances and Certifications. The standard Assurances and Certifications are on Form HUD-52515, Funding Application, which includes the Equal Opportunity Certification, Certification Regarding Lobbying, and Certification Regarding Drug-Free Workplace Requirements.

(C) Voucher Assistance Requirements.

(1) Housing Choice Voucher Program Regulations. Applicants must administer the Mainstream Program in accordance with HUD regulations and requirements governing the Housing Choice Voucher Program.

(2) Housing Choice Voucher Program Admission Requirements. Housing choice voucher assistance must be provided to eligible applicants in conformity with regulations and requirements governing the Housing Choice Voucher Program and the PHA's administrative plan.

If there is ever an insufficient pool of disabled families on the PHA's or nonprofit disability organization's housing choice voucher waiting list, the PHA or nonprofit disability organization shall conduct outreach to encourage eligible persons to apply for this special allocation of vouchers. Outreach may include contacting independent living centers, advocacy organizations for persons with disabilities, and medical, mental health, and social service providers for referrals of persons receiving such services who would benefit from housing choice voucher assistance. If the PHA's or nonprofit disability organization's housing choice voucher waiting list is closed, and if the PHA or nonprofit disability organization has insufficient applicants on its housing choice voucher waiting list to use all awarded vouchers under this announcement, the PHA or nonprofit disability organization shall open the waiting list for applications from disabled families.

(3) Turnover. When a voucher under this announcement becomes available for reissue (e.g., the family initially selected for the program drops out of the program or is unsuccessful in the search for a unit), the rental assistance may be used only for another individual or family eligible for assistance under this announcement for five years for the five-year funding or for one year for the one-year funding under this announcement from the date the rental assistance is placed under an annual contributions contract (ACC).

(D) PHA and Nonprofit Disability Organization Responsibilities. In addition to the responsibilities under the Housing Choice Voucher Program and HUD regulations concerning nondiscrimination based on disability (24 CFR 8.28) and to affirmatively further fair housing, PHAs and nonprofit disability organizations that receive voucher funding shall:

(1) Where requested by an individual, assist program participants to gain access to supportive services available within the community, but not require eligible applicants or participants to accept supportive services as a condition of participation or continued occupancy in the program.

(2) Identify public and private funding sources to assist participants in covering the costs of modifications that need to be made to their units as a reasonable accommodation for their disabilities.

(3) Not deny persons who qualify for rental assistance under this program other housing opportunities, or otherwise restrict access to PHA or nonprofit disability organization programs to eligible applicants who choose not to participate.

(4) Provide housing choice voucher search assistance.

(5) In accordance with regulatory guidance, provide higher rents to owners necessary for the provision of accessible units and structural modifications for persons with disabilities.

(6) Provide technical assistance to owners for making reasonable accommodations or making units accessible to persons with disabilities.

(E) Definitions. The following definitions apply.

(1) Disabled Family. A family whose head, spouse, or sole member is a person with disabilities. The term “disabled family” may include two or more persons with disabilities living together, and one or more persons with disabilities living with one or more live-in aides. A disabled family may include a person with disabilities who is elderly. {Note: This definition applies to the approximately $54.1 million in five-year budget authority available under the Mainstream Program, as well as to any one-year budget authority that may be available. This definition shall be modified, however, to be limited solely to non-elderly disabled families (families whose head, spouse or sole member is disabled and under the age of 62) regarding any funding available and awarded from the approximately $40 million in FY 2000 for designated housing allocation plans, or in connection with certain Section 8 project-based developments or certain section 202, section 221(d)(3) or section 236 developments. See Section II(A) of this announcement regarding the possibility of additional Mainstream Program funding during FY 2001 beyond the approximately $54.1 million available as announced under this announcement.}

(2) Person with disabilities. A person who—

(a) Has a disability as defined in section 223 of the Social Security Act (42 U.S.C. 423), or

(b) Is determined to have a physical, mental or emotional impairment that:

(i) Is expected to be of long-continued and indefinite duration;

(ii) Substantially impedes his or her ability to live independently; and

(iii) Is of such a nature that such ability could be improved by more suitable housing conditions, or

(c) Has a developmental disability as defined in section 102 of the Developmental Disabilities Assistance and Bill of Rights Act (42 U.S.C. 6001(5)).

The term “person with disabilities” does not exclude persons who have the disease of acquired immunodeficiency syndrome (AIDS) or any conditions arising from the etiologic agent for acquired immunodeficiency syndrome (HIV).

Note: While the above definition of a “person with disabilities” is to be used for purposes of determining a family's eligibility for a voucher under this announcement, the definition of a person with disabilities contained in section 504 of the Rehabilitation Act of 1973 and its implementing regulations must be used for purposes of reasonable accommodations.

No individual shall be considered a person with disabilities for the purpose of determining eligibility solely on the basis of any drug or alcohol dependence.

(3) Housing choice voucher search assistance. Assistance to increase access by program participants to housing units in a variety of neighborhoods (including areas with low poverty concentrations) and to locate and obtain units suited to their needs.

V. Application Selection Process

After the Grants Management Center has screened and disapproved any applications found unacceptable for further processing, the Grants Management Center will review all acceptable applications to ensure that they are technically adequate and responsive to the requirements of this announcement. HUD Headquarters will fund all applications from PHAs and nonprofit disability organizations that are recommended for funding by the Grants Management Center unless HUD receives approvable applications for more funds than are available. If HUD receives approvable applications for more funds than are available, HUD will select applicants to be funded by lottery. A separate lottery will be held first for those PHAs and nonprofit disability organizations seeking funding under the five-year budget authority available under this announcement, and a separate lottery will next be held for those PHAs seeking funding under the one-year budget authority that may be available under this announcement. (Nonprofit disability organizations are not eligible to apply for the one-year budget authority that may be available under this announcement.) All applicants identified by the Grants Management Center as having submitted technically adequate and responsive applications will be included in the lottery. As applicants are selected, the cost of funding the applications will be subtracted from the funds available. In order to achieve geographic diversity, HUD Headquarters will limit the number of applications selected for funding from any State to 10 percent of the budget authority available for the Mainstream Program. The 10 percent limit shall be applied first during the lottery for the five-year funding and shall continue over into the lottery for any one-year funding that may be available. This, for instance, may result in a State reaching the 10 percent limit prior to the start of the lottery for any one-year funding that may be available, and therefore any PHAs from that State would not be eligible for any further Mainstream funding. If establishing this geographic limit would result, however, in unreserved budget authority, HUD may modify this limit to assure that all available funds are used.

Applications will be funded for the total number of units requested by the applicant and recommended for approval by the Grants Management Center (not to exceed 75 units) in accordance with this announcement. When remaining budget authority is insufficient to fund the last selected application in full, HUD Headquarters will fund that application to the extent of the funding available, unless the applicant indicates that it will only accept a higher number of units. In that event, the next selected application shall be one that has indicated a willingness to accept the lesser amount of funding for the units available.

VI. Application Submission Requirements

(A) Form HUD-52515. All applicants must complete and submit Form HUD-52515, Funding Application, for the Housing Choice Voucher Program (Section 8), (dated January 1996). This form includes all necessary certifications for Fair Housing, Drug Free Workplace and Lobbying Activities. PHAs are requested to enter their housing authority code (for example, CT002), telephone number, facsimile number and electronic mail address in the same space at the top of the form where they are also to enter the PHA's name and mailing address. Section C of the form should be left blank. A copy of Form HUD-52515 is included in the forms found in Appendix B to the General Section of the SuperNOFA. Copies of the form may also be downloaded from the HUD Home page site on the Internet's world wide web (http://www.HUD.gov). (On the HUD website click on “handbooks and forms,” then click on “forms,” then click on “HUD-5” and click on “HUD-52515.” The form must be completed in its entirety, with the exception of Section C, signed and dated.

In the instance of a nonprofit disability organization that does not currently manage a housing choice voucher or certificate program, the nonprofit disability organization shall fill in Section B, Proposed Assisted Dwelling Units, of the form HUD-52515, by either basing the numbers the organization enters in this section on information requested from the nearest public housing agency, based upon its housing choice voucher waiting list, or based upon information from local advocacy groups and local public and private service agencies familiar with the needs of elderly and non-elderly persons with disabilities, census data, and pertinent information from the Consolidated Plan applicable to the applicant's jurisdiction. Section C, Average Monthly Adjusted Income, should be left blank. Section F, New HA Information, requires information on Financial and Administrative Capability and Qualification as a HA. For Financial and Administrative Capability, a nonprofit disability organization may reference that part of its application addressing the requirements of section VI(E) of this announcement. For Qualification as a HA, the nonprofit disability organization should submit information validating its qualifications as a nonprofit disability organization as defined in Section III(B)(2) of this announcement. The submission of enabling legislation is not required, but a legal opinion supportive of the applicant's status as a nonprofit disability organization, as delineated in Section III(B)(2) of this announcement, is required.

(B) Letter of Intent and Narrative. The applicant must state in its cover letter to the application whether it is a PHA applying for five-year and/or one-year funding, or a nonprofit disability organization applying for five-year funding. The applicant must also indicate the number of vouchers being requested, whether it will accept a reduction in the number of vouchers, and the minimum number of vouchers the applicant will accept, since the funding is limited and HUD may only have enough funds to approve a smaller amount than the number of vouchers requested. The maximum number of vouchers that an applicant may apply for under this announcement is limited to 75.

(C) Description of Need for Mainstream Program Vouchers. The PHA's and nonprofit disability organization's application must demonstrate a need for Mainstream Program vouchers by providing information documenting that the demand for housing for non-elderly and elderly persons with disabilities in connection with a request for five-year funding under this announcement would equal or exceed the requested number of vouchers. If the PHA is requesting one-year funding, the demand for housing for non-elderly disabled persons must be demonstrated as equalling or exceeding the number of vouchers being requested. The applicant must assess and document the housing need for elderly and non-elderly persons with disabilities using a range of sources including, but not limited to: census data, information from the applicant's waiting list (both public housing and housing choice voucher), statistics on recent public housing admissions and housing choice voucher and certificate use, data from local advocacy groups and local public and private service agencies familiar with the housing needs of elderly and non-elderly persons with disabilities, and pertinent information from the Consolidated Plan [including the Analysis of Impediments to Fair Housing Choice (AI)] applicable to the applicant's jurisdiction. (See 24 CFR 91.205(d).) The applicant's demonstrated need for vouchers must clearly support need on the basis of only non-elderly disabled families when requesting one-year funding. This distinction is important, as any FY 2001 Mainstream Program funding that may be available beyond the approximately $54.1 million under this announcement, must be used to assist only non-elderly disabled families and will be available only to PHAs. (See Section II(A) of this announcement regarding the possibility of substantially more Mainstream Program funding being available beyond the approximately $54.1 million.)

(D) Mainstream Program Operating Plan. The application must include a description of an adequate plan for operating a program to serve eligible disabled families, including:

(1) A description of how the applicant will carry out its responsibilities under 24 CFR 8.28 to assist recipients in locating units with needed accessibility features; and

(2) A description of how the applicant will identify private or public funding sources to help participants cover the costs of modifications that need to be made to their units as reasonable accommodations to their disabilities.

(3) A description of how the applicant will use a nonprofit disability organization or PHA (if any) under a contract to administer the Mainstream Program vouchers, or to otherwise provide services.

(E) Certification Applicable to Nonprofit Disability Organizations. A nonprofit disability organization applying for funding available under this announcement must provide a certification stating that the applicant can meet the capacity requirements applicable to a nonprofit disability organization delineated in Section III(B)(2)(b) of this announcement. The certification must specifically list the four capacity requirements from that paragraph, and must specifically list the rental housing programs the nonprofit disability organization has administered or the rental housing the nonprofit disability organization has managed.

(F) Statement Regarding the Steps the PHA Will Take to Affirmatively Further Fair Housing. The areas to be addressed in the PHA's statement should include, but not necessarily be limited to:

(1) The examination of the PHA's own programs or proposed programs, including an identification of any impediments to fair housing (identified in the jurisdiction's Analysis of Impediments (AI) to Fair Housing Choice in its Consolidated Plan); and a description of a plan to (a) address those impediments in a reasonable fashion in view of the resources available; and (b) work with local jurisdictions to implement any of the jurisdictions' initiatives to affirmatively further fair housing; and the maintenance of records reflecting this analyses and actions;

(2) Remedy discrimination in housing for persons with disabilities regardless of race, color, religion, sex, familial status, national origin, or nature of disability; or

(3) Promote fair housing rights and fair housing choice.

(G) Moving to Work (MTW) PHA Information and Certification. See Section VII(B)(2)(c) regarding the information to be submitted by an MTW PHA required to report under the Section 8 Management Assessment Program (SEMAP) but not meeting the 95 percent lease-up or budget authority utilization requirements, or the lease-up or budget authority utilization certification to be submitted by an MTW PHA not required to report under SEMAP.

(H) Multifamily Tenant Characteristics System (MTCS) Reporting Certification. In order to be eligible to submit an application under this announcement, the PHA must have had a minimum reporting rate of not less than 85 percent for housing choice voucher and certificate resident records to HUD's MTCS (see 24 CFR part 908 and Notices PIH 98-30, 99-2 and 2000-13) for the period ending December 1999, and must submit a certification with its application certifying to having met this requirement. In the event a PHA received less than an 85 percent rate of reporting under MTCS for this period, the PHA will still be considered to have passed the threshold requirement if: (1) it subsequently achieved a minimum reporting rate of not less than 85 percent for public housing resident records under the MTCS as of the December 2000 reporting period; or (2) the PHA was granted forbearance by HUD under the applicable procedures under PIH Notice 2000-13 for the semi-annual assessment period ending December 2000. In this latter instance, the PHA must submit a certification with its application indicating that it has either achieved such a minimum reporting rate as of the December 2000 reporting period, or that it has obtained a forbearance from HUD for the semi-annual assessment period ending December 2000.

VII. Corrections to Deficient Applications

(A) Acceptable Applications. The application must include all of the information specified in section VI, Application Submission Requirements, of this announcement. The General Section of the SuperNOFA provides the procedures for corrections to deficient applications.

(B) Unacceptable Applications. (1) After the 14-calendar day technical deficiency correction period, the Grants Management Center will disapprove all PHA applications that the Grants Management Center determines are not acceptable for processing. The Grant Management Center's notification of rejection letter must state the basis for the decision.

(2) Applications from PHAs that fall into any of the following categories will not be processed:

(a) Applications that do not meet the fair housing and civil rights compliance threshold requirements of Section II(B) of the General Section of the SuperNOFA.

(b) If the applicant is a PHA and the PHA has major program management findings in an Inspector General audit, HUD management review, or independent public accountant (IPA) audit for its voucher or certificate programs that are not closed or on which satisfactory progress in resolving the findings is not being made; or program compliance problems for its voucher or certificate programs on which satisfactory progress is not being made. The only exception to this category is if the PHA has been identified under the policy established in Section III(B)(1)(c) of this announcement and the PHA makes application with a designated contract administrator. Major program management findings are those that would cast doubt on the capacity of the PHA to effectively administer any new housing choice voucher funding in accordance with applicable HUD regulatory and statutory requirements.

(c) If the applicant is a PHA and the PHA has failed to achieve a lease-up rate of 95 percent for its combined certificate and voucher units under contract for its fiscal year ending in 1999. Category (c) may be passed, however, if the PHA achieved a combined certificate and voucher budget authority utilization rate of 95 percent or greater for its fiscal year ending in 1999. In the event the PHA is unable to meet either of these percentage requirements, the PHA may still pass category (c) if the PHA submits information to the Grants Management Center, as part of its application, demonstrating that the PHA was able to either increase its combined certificate and voucher lease-up rate to 95 percent or greater for its fiscal year ending in 2000, or was able to increase combined certificate and voucher budget authority utilization to 95 percent or more for its fiscal year ending in 2000. PHAs that have been determined by HUD to have passed either the 95 percent lease-up, or 95 percent budget authority utilization requirement for their fiscal year ending in 1999 will be listed on a HUD website: (www.hud.gov/grants), along with this funding announcement. A PHA not listed must either submit information (following the format of Appendix A of this announcement) in its application supportive of its 95 percent lease-up or 95 percent budget authority utilization performance for its fiscal year ending in 2000, or submit information (following the format of Appendix A of this announcement) as part of its application supportive of its contention that it should have been included among those PHAs HUD listed on the HUD website as having achieved either a 95 percent lease-up rate or 95 percent budget authority utilization rate for fiscal years ending in 1999. Appendix A to this program section indicates the methodology and data sources used by HUD to calculate the lease-up and budget authority utilization percentage rates for PHAs with fiscal years ending in 1999. Any PHA wishing to submit information to the Grants Management Center in connection with its 1999 fiscal year or 2000 fiscal year for the purposes described immediately above (so as to be eligible under category (c) to submit an application) will be required to use the same methodology and data sources indicated in Appendix A.

Moving to Work (MTW) agencies that are required to report under the Section 8 Management Assessment Program (SEMAP) shall be held to the 95 percent lease-up and budget authority utilization requirements referenced above, except where such an MTW agency provides information in its application demonstrating to HUD that a lower percentage is the result of the implementation of specific aspects of its program under its MTW Agreement with HUD. MTW agencies which are not required to report under SEMAP must submit a certification with their application certifying that they are not required to report under SEMAP, and that they meet the 95 percent lease-up or budget authority utilization requirements.

PHAs not currently administering a certificate or voucher program, or who received voucher funding for the first time for FY 2000 will not be subject to the 95 percent lease-up or budget authority utilization requirements of this section (c).

(d) The PHA or nonprofit disability organization is involved in litigation and HUD determines that the litigation may seriously impede the ability of the PHA to administer the vouchers.

(e) An application that does not comply with the requirements of 24 CFR 982.102 and this program section after the expiration of the 14-calendar day technical deficiency correction period will be rejected from processing.

(f) The application was submitted after the application due date.

(g) The application was not submitted to the official place of receipt as indicated in the paragraph entitled “Address for Submitting Applications” at the beginning of this announcement.

(h) The applicant has been debarred or otherwise disqualified from providing assistance under the program.

(i) The applicant has failed to achieve a minimum 85 percent submission rate for housing choice voucher and certificate resident records to HUD's Multifamily Tenant Characteristics System (MTCS), (see 24 CFR part 908 and Notices PIH 98-30 and 2000-13), for the period ending December 1999, and December 2000, and did not receive HUD forbearance.

VIII. Environmental Requirements

In accordance with 24 CFR 50.19(b)(11) of the HUD regulations, tenant-based rental activities under this program are categorically excluded from the requirements of the National Environmental Policy Act of 1969 (NEPA) and are not subject to environmental review under the related laws and authorities.

IX. Authority

Authority for this program is found in the Departments of Veteran's Affairs and Housing and Urban Development, and Independent Agencies Appropriations Act, FY 2001 (Pub. L. 106-377, approved October 27, 2000). This FY 2001 Appropriations Act authorized appropriations for housing choice vouchers to assist non-elderly disabled families affected by the establishment of preferences in accordance with section 651 of the Housing and Community Development Act of 1992, or the restriction of occupancy to elderly families in accordance with section 658 of the Act. The FY 2000 Appropriations Act also allows the Secretary to transfer any unobligated funds for this purpose to assist non-elderly disabled families to the extent they are not needed under Sections 651 and 658 for such families. Therefore, any funds remaining unobligated under this program section of this SuperNOFA will be used first to fund any approvable applications under the Rental Assistance for Non-Elderly Persons With Disabilities in Support of Designated Housing Plans program for which there are insufficient funds. Thereafter, any funds still remaining unobligated will be used to fund applications under the Mainstream Program in the SuperNOFA.

Appendix A—Methodology for Determining Lease-UP and Budget Authority Utilization Percentage Rates

Using data from the HUDCAPS system, HUD determined which PHAs met the 95% budget authority utilization or 95% lease-up criteria. The data used in the determination was based on PHA fiscal years ending in 1999. The budget authority utilization and lease-up rates were determined based upon the methodology indicated below.

Budget Authority Utilization

Percentage of budget authority utilization was determined by comparing the total contributions required to the annual budget authority (ABA) available for the PHA 1999 year combining the certificate and voucher programs.

Total contributions required were determined based on the combined actual costs approved by HUD on the form HUD-52681, Year End Settlement Statement. The components which make up the total contributions required are the total of housing assistance payments, ongoing administrative fees earned, hard to house fees earned, and IPA audit costs. From this total any interest earned on administrative fees is subtracted. The net amount is the total contributions required.

ABA is the prorated portion applicable to the PHA 1999 year for each funding increment which had an active contract term during all or a portion of the PHA year.

Example

PHA ABC Fiscal Year 10/1/98 Through 9/30/99
[HUD 52681 Approved Data]
HAP | $2,500,000
Administrative Fee | 250,000
Hard to House Fee | 1,000
Audit | 2,000
Total | 2,753,000
Interest earned on administrative fee | (2,500)
Total contributions required | 2,750,500

Calculation of Annual Budget Authority
Increments and contract term | Total BA | ABA
001 11/01/98-10/31/99 | $1,300,000 | $1,191,667
002 01/01/99-12/31/99 | 1,200,000 | 900,000
003 04/01/99-03/31/00 | 950,000 | 475,000
004 07/01/99-06/30/00 | 1,500,000 | 375,000
Totals | 4,950,000 | 2,941,667 (budget authority)
Utilization:
Total contributions required divided by | 2,750,000
Annual budget authority equals | 2,941,667 |
Budget authority utilization (percent) | 93.5 |

Lease-up Rate

The lease-up rate was determined by comparing the contract units (funding increments active as of the end of the PHA 1999 year) to the unit months leased (divided by 12) reported on the combined HUD 52681, Year End Settlement Statement(s) for 1999.

Active funding increments awarded by HUD for special purposes such as litigation, relocation/replacement, housing conversions, Welfare to Work, and new units awarded to the PHA during the last 12 months were excluded from the contract units as the Department recognizes that many of these unit allocations have special requirements which require extended periods of time to achieve lease-up.

Example

Increments contract term | Units
001 11/01/98-10/31/99 | 242
002 01/01/99-12/31/99 | 224
003 04/01/99-03/31/00 | 178
004 07/01/99-06/30/00 | 280 | Totals | 924
Increment 003 litigation | (178)
Adjusted contract units | 746
Unit months leased reported by PHA | 8,726
divided by 12 | 727
Units Leased | 727
Lease-up rate:
Units leased | 727
divided by adjusted contract units | 746
equals
Lease-up rate (percent) | 97.4

BILLING CODE 4210-32-P

FUNDING AVAILABILITY FOR RENTAL ASSISTANCE FOR NON-ELDERLY PERSONS WITH DISABILITIES RELATED TO CERTAIN TYPES OF SECTION 8 PROJECT-BASED DEVELOPMENTS AND SECTIONS 202, 221(d)(3) AND 236 DEVELOPMENTS

Program Overview

Purpose of the Program. The purpose of this program is to provide housing choice vouchers to non-elderly disabled families who are not currently receiving housing assistance in certain Section 8 project-based developments due to the owners establishing preferences for the admission of elderly families, or in certain types of Section 202, Section 221(d)(3), or Section 236 developments where the owners are restricting occupancy in the developments (or portions thereof) to elderly families. The vouchers will enable non-elderly disabled families to rent affordable housing.

Available Funds. Approximately $20 million in one-year budget authority for approximately 3,500 Section 8 vouchers.

Eligible Applicants. Public housing agencies (PHAs). Indian Housing Authorities (IHAs), Indian tribes and their tribally designated housing entities are not eligible to apply because the Native American Housing Assistance and Self-Determination Act of 1996 does not allow HUD to enter into new Section 8 annual contributions contracts (ACC) with IHAs after September 30, 1997.

Application Deadline. June 15, 2001.

Match. None.

Additional Information

If you are interested in applying for funding under this program, please review carefully the General Section of this SuperNOFA and the following additional information.

I. Application Due Date, Application Kits, Further Information and Technical Assistance

Application Due Date. Submit your original and two copies of your completed application to HUD on or before 12:00 midnight, Eastern time, on June 15, 2001.

See the General Section of this SuperNOFA for specific procedures concerning the form of application submission (e.g., mailed applications, express mail, overnight delivery, or hand carried).

Address for Submitting Applications. Your completed application consists of an original and one copy. Submit your original application and one copy to: Michael Diggs, Director, Grants Management Center, Department of Housing and Urban Development, 501 School Street, SW, Suite 800, Washington, DC 20024. Applications which are hand carried or sent via overnight delivery service should be delivered to this address. The Grants Management Center is the official place of receipt for all applications in response to this announcement of funding availability. Your application will be accepted at this address on the application deadline until 6:00 pm Eastern time. After 6:00 pm on the application deadline, applications will be accepted in the South Lobby of HUD Headquarters, 451 Seventh Street, SW, Washington, DC 20410, until 12:00 midnight Eastern time.

A copy of your application is not required to be submitted to the local HUD Field Office. For ease of reference, the term “local HUD Field Office” will be used in this announcement to mean the local HUD Field Office Hub and local HUD Field Office Program Center. A listing of HUD Field Offices is attached to the General Section of this SuperNOFA.

For Application Kits. An application kit is not necessary for submitting an application in response to this announcement. This announcement contains all the information necessary for the submission of your application for voucher funding under this announcement.

For Further Information and Technical Assistance. Prior to the application due date, you may contact George C. Hendrickson, Housing Program Specialist, Room 4216, Office of Public and Assisted Housing Delivery, Department of Housing and Urban Development, 451 Seventh Street, SW, Washington, DC 20410; telephone (202) 708-1872, ext. 4064. Subsequent to application submission, you may contact the Grants Management Center at (202) 358-0338. (These are not toll-free numbers.) Persons with hearing or speech impairments may access these numbers via TTY (text telephone) by calling the Federal Information Relay Service at 1-800-877-8339 (this is a toll-free number).

Satellite Broadcast. HUD will hold an information broadcast via satellite for potential applicants to learn more about the program and preparation of an application. For more information about the date and time of this broadcast, you should consult the HUD web site at www.hud.gov.

II. Amount Allocated

(A) Available Funding. Approximately $20 million in one-year budget authority is available to provide assistance to approximately 3,500 non-elderly disabled families (who are not currently receiving housing assistance in certain Section 8 project-based developments due to the owners establishing a preference for the admission of elderly families, and for non-elderly disabled families not being housed in certain Section 202, Section 221(d)(3) and Section 236 developments or portions thereof where the owners have restricted occupancy to elderly families).

In the event approvable applications are received for more than the approximately $20 million announced as available under this announcement, funds will be transferred from the approximately $20 million available under the funding announcement for Rental Assistance for Non-Elderly Persons with Disabilities in Support of Designated Housing Plans program to the extent funds remain unobligated after funding all approvable applications under that announcement.

Any funding remaining unobligated under this announcement providing assistance for non-elderly persons with disabilities related to certain developments will be used first to fund any approvable applications under the announcement for Rental Assistance for Non-Elderly Persons with Disabilities in Support of Designated Housing Plans, for which there may be insufficient funds. Any funds still remaining unobligated will be used to fund any approvable applications under the announcement for Mainstream Housing Opportunities for Persons with Disabilities for which there are insufficient funds.

(B) Voucher Funding, Preliminary Fees and Underfunding Corrections.

(1) Voucher Funding.

(a) Maximum Voucher Request. PHAs are limited to applying for no more than a maximum of 200 units (vouchers). A PHA may apply only for the number of units needed to house:

(i) Those non-elderly disabled families who are on the waiting list of an owner of a Section 8 project-based development identified in Section III(A)(1) of this announcement where the owner elected to provide preferences to elderly families and to house other non-elderly disabled families residing in the community who would qualify for one- or zero-bedroom units; and/or

(ii) Those non-elderly disabled families who are on the waiting list of an assisted housing development identified in Section III(A)(2) of this announcement, or are otherwise residing in the community, but in either instance are not being housed in these assisted housing developments where the owners have restricted occupancy in the developments (or portion thereof) to elderly. Non-elderly disabled families in this second category would also need to qualify for one- or zero- bedroom units.

Note: The PHA may apply for a two-bedroom unit under this Section II(B) in such instances where a non-elderly disabled family requires the extra bedroom for purposes of a live-in aide, or for medical equipment.

(b) Determination of Funding Amount for the PHA's Requested Number of Vouchers. HUD will determine the amount of funding that you will be awarded under this announcement based upon an actual annual per unit cost {except that for Moving to Work (MTW) agencies the per unit cost will be calculated in accordance with the agency's MTW Agreement for MTW units} using the following three step process:

(i) HUD will extract the total expenditures for all your housing choice (Section 8) programs and the unit months leased information from the most recent approved year end statement (form HUD-52681) that the PHA has filed with HUD. HUD will divide the total expenditures for all of your housing choice (Section 8) programs by the unit months leased to derive an average monthly per unit cost.

(ii) HUD will multiply the monthly per unit cost by 12 (months) to obtain an annual per unit cost.

(iii) HUD will multiply the annual per unit cost derived under paragraph (ii) above by the Housing Choice Voucher (Section 8) Housing Assistance Payments Program Contract Rent Annual Adjustment Factor (with the highest utility included) to generate an adjusted annual per unit cost. For a PHA whose jurisdiction spans multiple annual adjustment factor areas, HUD will use the highest applicable annual adjustment factor.

Note: If you do not currently administer a housing choice certificate or voucher program, your voucher funding will be based upon the annual actual per unit costs of a PHA in your most immediate area administering a housing choice certificate or voucher program, using the three step process described immediately above.

(2) Preliminary Fee. A preliminary fee of up to $500 per unit for preliminary (start-up) expenses will be paid to PHAs that have not previously administered their own housing choice program that are selected for funding under this announcement. The preliminary fee will be provided to such PHAs only in their first year administering housing choice vouchers.

(3) Underfunding Corrections. If prior to the award of funding HUD determines that any awardees under the FY 2000 NOFA for the same purpose have been underfunded due to an error attributable to HUD, funding will be increased to the amount that the awardee should have received.

III. Program Description, Eligible Applicants, and Eligible Participants

(A) Program Description. This program provides housing choice vouchers to non-elderly disabled families who are not currently receiving housing assistance in certain Section 8 project-based developments due to the owners establishing preferences for the admission of elderly families, or in certain types of Section 202, Section 221(d)(3), or Section 236 developments where the owners are restricting occupancy in the developments (or portions thereof) to elderly families. The vouchers will enable non-elderly disabled families to rent affordable housing. The specific types of developments covered under these two broad categories are as follows:

(1) Section 651 of the Housing and Community Development Act of 1992 (42 U.S.C. 13611 allowed owners of the following covered Section 8 project-based developments (limited to only such developments originally designed primarily for occupancy by elderly families) to provide preferences to elderly families in selecting tenants for available assisted units in those projects:

(a) Section 8 New Construction Program, 24 CFR part 880;

(b) Section 8 Substantial Rehabilitation Program, 24 CFR part 881;

(c) State Housing Agencies Program (insofar as involving new construction and substantial rehabilitation), 24 CFR part 883;

(d) New Construction Set-Aside for Section 515 Rural Rental Housing Projects Program, 24 CFR part 884; and

(e) Section 8 Housing Assistance Program for the Disposition of HUD-Owned Projects (insofar as involving substantial rehabilitation), 24 CFR part 886, subpart C.

(2) Section 658 of the 1992 Act provides that an owner of a Federally assisted project (or portion thereof) that was designed for occupancy for elderly families may continue to restrict occupancy in such project (or portion) to elderly families in accordance with the rules, standards, and agreements governing occupancy in such housing in effect at the time of the development of the housing. The three types of assisted housing developments covered by Section 658 are as follows:

(a) Housing assisted under section 202 of the Housing Act of 1959, as such section existed before the enactment of the National Affordable Housing Act (NAHA);

(b) Housing financed by a loan or mortgage insured under section 221(d)(3) of the National Housing Act that bears an interest rate determined under section 221(d)(5); and

(c) Housing insured, assisted or held by the Secretary or a State or State Agency under section 236 of the National Housing Act.

(B) Eligible Applicants.

(1) A PHA established pursuant to State law may apply for funding under this announcement. A regional (multi-county) or State PHA is also eligible to apply for funding. A PHA may submit only one application. This one application per PHA limit applies regardless of whether or not the PHA is a State or regional PHA, except in those instances where such a PHA has been assigned more than one PHA code number due to its operating under the jurisdiction of more than one HUD Field Office. In such instance, a separate application under each code shall be considered for funding, with the cumulative total of vouchers applied for under the applications not to exceed the maximum number of vouchers the PHA is eligible to apply for under Section II(B)(1)(a) of this announcement; i.e., no more than the number of vouchers the same PHA would be eligible to apply for if it only had one PHA code number.

Two or more divisions within State government comprising separate PHAs shall require the State to determine which division shall submit an application to HUD under this funding announcement. As with other PHAs, only one application per PHA shall be considered (see sole exception referenced immediately above).

Indian Housing Authorities (IHAs), Indian tribes and their tribally designated housing entities are not eligible to apply because the Native American Housing Assistance and Self-Determination Act of 1996 does not allow HUD to enter into new housing choice voucher (Section 8) annual contributions contracts (ACC) with IHAs after September 30, 1997.

(2) Some PHAs currently administering the housing choice voucher and certificate programs have, at the time of publication of this SuperNOFA, major program management findings from Inspector General audits, HUD management reviews, or independent public accountant (IPA) audits that are open and unresolved or other significant program compliance problems. HUD will not accept applications for additional funding from these PHAs as contract administrators if, on the application due date, the findings are either not closed, or sufficient progress toward closing the findings has not been made to HUD's satisfaction. The PHA must also, to HUD's satisfaction, be making satisfactory progress in addressing any program compliance problems. If the PHA wants to apply for funding under this announcement, the PHA must submit an application that designates another housing agency, nonprofit agency, or contractor, that is acceptable to HUD. The PHA's application must include an agreement with the other housing agency, nonprofit agency, or contractor to administer the new funding increment on behalf of the PHA, and a statement that outlines the steps the PHA is taking to resolve the program findings and the program compliance problems. Immediately after the publication of this SuperNOFA, the local HUD Field Office will notify, in writing, those PHAs that are not eligible to apply without such an agreement. Concurrently, the local HUD Field Office will provide a copy of each such written notification to the Grants Management Center. The PHA may appeal the decision in writing, if HUD has mistakenly classified the PHA as having outstanding management or compliance problems. Any appeal must be accompanied by conclusive evidence of HUD's error (i.e., documentation showing that the finding has been cleared or satisfactory progress toward closing the findings or addressing compliance problems has been made) and must be received prior to the application deadline. The appeal should be submitted to the local HUD Field Office where a final determination shall be made. Concurrently, the local HUD Field Office shall provide the Grants Management Center with a copy of its written response to the appeal, along with a copy of the PHA's written appeal. Major program management findings are those that would cast doubt on the capacity of the PHA to effectively administer any new housing choice voucher funding in accordance with applicable HUD regulatory and statutory requirements.

(C) Eligible Participants. Eligible participants include non-elderly disabled families who were on the waiting list (at the time of the PHA's application) of a covered development identified in this announcement where the owner had exercised a preference for the admission of elderly families, or restricted occupancy to elderly families, respectively, at the time the PHA received the names of these families from the owner of the development(s) for purposes of requesting housing choice vouchers in response to this announcement. These non-elderly disabled families need not be listed on the PHA's housing choice voucher waiting list in order to be offered and receive housing choice voucher assistance; i.e., it is sufficient that their names are on the waiting list for a covered development at the time their names are provided to the PHA by the owner. Eligible participants also include other non-elderly disabled families residing in the community who would qualify for a one- or zero-bedroom unit. (See the note in this announcement at the end of Section II(B)(1)(a) for those limited instances in which a PHA could also apply for funding for a two-bedroom unit.) Non-elderly disabled families must be income eligible under 24 CFR 982.201(b)(1) in order to receive a rental voucher, as well as otherwise eligible for assistance under the regulations at 24 CFR part 982.201(b).

IV. Program Requirements and Operations

In addition to the civil rights compliance and nondiscrimination requirements listed in the General Section of this SuperNOFA, grantees must meet the following program requirements:

(A) Affirmatively Furthering Fair Housing. Each successful applicant will have a duty to affirmatively further fair housing. Applicants will be required to identify the specific steps that they will take to:

(1) Examine the PHA's own programs or proposed programs, including an identification of any impediments to fair housing (identified in the jurisdiction's Analysis of Impediments (AI) to Fair Housing Choice in its Consolidated Plan); develop a plan to (a) address those impediments in a reasonable fashion in view of the resources available; and (b) work with the local jurisdictions to implement any of the jurisdictions' initiatives to affirmatively further fair housing; and maintain records reflecting these analyses and actions;

(2) Remedy discrimination in housing; or

(3) Promote fair housing rights and fair housing choice.

Further, applicants have a duty to carry out the specific activities cited in their responses under this announcement to address affirmatively furthering fair housing.

(B) Certifications and Assurances. Each applicant is required to submit signed copies of Assurances and Certifications. The standard Assurances and Certifications are on Form HUD-52515, Funding Application, which includes the Equal Opportunity Certification, Certification Regarding Lobbying, and Certification Regarding Drug-Free Workplace Requirements.

(C) Voucher Assistance Requirements.

(1) Housing Choice Voucher Program regulations. PHAs must administer the housing choice vouchers received under this announcement in accordance with HUD regulations and requirements governing the Housing Choice Voucher Program.

(2) Housing Choice Voucher admission requirements. Housing choice vouchers must be provided to eligible applicants in conformity with regulations and requirements governing the Housing Choice Voucher Program and the PHA's administrative plan.

(3) Turnover. When a voucher under this announcement becomes available for reissue (e.g., the family initially selected for the program drops out of the program or is unsuccessful in the search for a unit), the voucher may be used only for another individual or family eligible for assistance under this announcement subject to appropriations for renewal funding, from the date the voucher funding is placed under an annual contributions contract (ACC).

If there is ever an insufficient pool of disabled families on the PHA's housing choice voucher waiting list, the PHA shall conduct outreach to encourage eligible persons to apply for this special allocation of vouchers. Outreach may include contacting independent living centers, advocacy organizations for persons with disabilities, and medical, mental health, and social service providers for referrals of persons receiving such services who would benefit from housing choice voucher assistance. If the PHA's housing choice voucher waiting list is closed, and if the PHA has insufficient applicants on its housing choice voucher waiting list to use all awarded vouchers under this announcement, the PHA shall open the waiting list for applications from disabled families.

(D) PHA Responsibilities. In addition to PHA responsibilities under the Housing Choice Voucher Program and HUD regulations concerning nondiscrimination based on disability (24 CFR 8.28) and to affirmatively further fair housing, PHAs that receive voucher funding shall:

(1) Where requested by an individual, assist program participants to gain access to supportive services available within the community, but not require eligible applicants or participants to accept supportive services as a condition of participation or continued occupancy in the program.

(2) Identify public and private funding sources to assist participants with disabilities in covering the costs of modifications that need to be made to their units as a reasonable accommodation for their disabilities.

(3) Not deny persons who qualify for a housing choice voucher under this program other housing opportunities, or otherwise restrict access to PHA programs to eligible applicants who choose not to participate.

(4) Provide housing choice voucher search assistance.

(5) In accordance with regulatory guidance, provide higher rent to owners necessary for the provision of accessible units and structural modifications for persons with disabilities.

(6) Provide technical assistance to owners for making reasonable accommodations or making units accessible to persons with disabilities.

PHAs are encouraged to coordinate with/involve nonprofit disability organizations in their meeting the requirements of paragraphs 1, 2, 4 and 6 immediately above. PHAs are encouraged to seek out nonprofit disability organizations in this regard due to such organizations' capacity for assisting disabled families, and their in-depth knowledge of the disability community and the available resources to assist disabled persons.

(E) Definitions.

(1) Elderly Family. A family whose head of household, spouse, or sole member is 62 years or older.

(2) Non-elderly Disabled Family. A family who is not elderly, and whose head, spouse, or sole member is a person with disabilities. The term “non-elderly disabled family” may include two or more such persons with disabilities living together, and one or more such persons with disabilities living with one or more persons who are determined essential to the care and well-being of the person or persons with disabilities (live-in aides).

(3) Person with Disabilities. A person who—

(a) Has a disability as defined in section 223 of the Social Security Act (42 U.S.C. 423), or

(b) Is determined to have a physical, mental or emotional impairment that:

(i) Is expected to be of long-continued and indefinite duration;

(ii) Substantially impedes his or her ability to live independently; and

(iii) Is of such a nature that such ability could be improved by more suitable housing conditions, or

(c) Has a developmental disability as defined in section 102 of the Developmental Disabilities Assistance and Bill of Rights Act (42 U.S.C. 6001(5)).

The term “person with disabilities” does not exclude persons who have the disease of acquired immunodeficiency syndrome (AIDS) or any conditions arising from the etiologic agent for acquired immunodeficiency syndrome (HIV).

Note: While the above definition of a “person with disabilities” is to be used for purposes of determining a family's eligibility for a housing choice voucher under this announcement, the definition of a person with disabilities contained in section 504 of the Rehabilitation Act of 1973 and its implementing regulations must be used for purposes of meeting the requirements of Fair Housing laws, including providing reasonable accommodations.

No individual shall be considered a person with disabilities for the purpose of determining eligibility solely on the basis of any drug or alcohol dependence.

(4) Housing Choice Voucher Search Assistance. Assistance to increase access by program participants to housing units in a variety of neighborhoods (including areas with low poverty concentrations) and to locate and obtain units suited to their needs.

V. Application Selection Process

After the Grants Management Center has screened all applications and disapproved any found unacceptable for further processing, the Grants Management Center will review all remaining applications to ensure that they are technically adequate and responsive to the requirements identified in this program section of this SuperNOFA.

HUD Headquarters will fund on a first-come, first-serve basis all approvable applications that are recommended for funding by the Grants Management Center, based upon the date and time the application is received in the Grants Management Center. As applications are selected, the cost of funding the applications will be subtracted from the funds available. In the event approvable applications are received for more than the approximately $20 million available, funds will be transferred from the approximately $20 million available under the Rental Assistance for Non-elderly Persons with Disabilities in Support of Designated Housing Plans program to the extent such funds have not been obligated under that program for approvable applications. Applications will be funded for the total number of units requested and recommended for approval by the Grants Management Center. When remaining budget authority is insufficient to fund the last selected application in full the Grants Management Center will fund that application to the extent of the funding available, unless the application indicates that the PHA will only accept a higher number of units. In that event, HUD will fund the next selected application that has indicated a willingness to accept the lesser amount of funding for units available.

VI. Application Submission Requirements

(A) Form HUD-52515. All PHAs must complete and submit form HUD-52515, Funding Application, for the Housing Choice Voucher Program (Section 8), (dated January 1996). This form includes all necessary certifications for Fair Housing, Drug Free Workplace and Lobbying Activities. PHAs are requested to enter their housing authority code number (for example, CT002), telephone number, facsimile number, and electronic mail address in the same space at the top of the form where they also enter the PHA's name and mailing address. Section C of the form should be left blank. A copy of Form HUD-52515 is included in the forms found in Appendix B to the General Section of the SuperNOFA. Copies of the form may also be downloaded from the HUD Home page site on the Internet's world wide web (http://www.HUD.gov). (On the HUD website click on “handbooks and forms,” then click on “forms,” then click on “HUD-5” and click on “HUD-52515.” The form must be completed in its entirety, with the exception of Section C, signed and dated.

(B) Letter of Intent and Narrative. The PHA must state in its cover letter to the application whether the PHA will accept a reduction in the number of vouchers, and the minimum number of vouchers the PHA will accept, since the funding is limited and HUD may only have enough funds to approve a smaller amount than the number of vouchers requested. The maximum number of vouchers that a PHA may apply for under this announcement is limited to 200.

(C) Demonstration of Need: Certification/Waiting List Information and Other Non-Elderly Disabled Families Residing in the Community. In order to support the number of vouchers being requested on the form HUD-52515, the PHA's application must include:

(1) A certification from the owner of a covered development (see the different types of covered developments listed in Section III(A)(1) and (2) of this announcement), stating the specific type of covered development, preferences are provided to elderly families in selecting tenants (Section 8 project-based developments) or occupancy in the development (or portion thereof) is restricted to elderly families (assisted housing developments), and the number of non-elderly disabled families on the owner's waiting list for the development. (PHAs may contact the local HUD Field Office's Director, Multifamily Division, to get the names, addresses and telephone numbers of the developments falling under Section III(A)(1) and (2) in this announcement. The PHA will then need to contact the management/owners of these developments within their jurisdiction to verify that the development is a covered development. Owners of covered developments are encouraged to cooperate with PHAs and provide the required certification (if applicable) in a timely manner, along with the names, addresses and telephone numbers of those families on the development's waiting list that are non-elderly disabled families.)

(2) PHAs must also submit information supportive of the number of other non-elderly disabled families residing in the community who would qualify for one-bedroom or zero-bedroom units (not on the waiting lists of covered developments). (See the note at the end of Section II(B)(1)(a) of this announcement which identifies those limited instances in which a PHA may apply for funding for a two-bedroom unit.) The application must demonstrate a need for vouchers by providing information documenting that the demand for housing for non-elderly disabled families would equal or exceed the requested number of vouchers (not to exceed 200). The PHA must assess and document the need using a range of sources including, but not limited to: census data, information from the PHA's waiting list (both public housing and housing choice voucher), statistics on recent public housing admissions and certificate and voucher use, data from local advocacy groups and local public and private service agencies familiar with the housing needs of non-elderly disabled families, and pertinent information from the Consolidated Plan (including the Analysis of Impediments to Fair Housing Choice) applicable to the PHA's jurisdiction. (See 24 CFR 91.205(d).)

(D) Statement Regarding the Steps the PHA Will Take to Affirmatively Further Fair Housing. The areas to be addressed in the PHA's statement should include, but not necessarily be limited to:

(1) The examination of the PHA's own programs or proposed programs, including an identification of any impediments to fair housing (identified in the jurisdiction's Analysis of Impediments (AI) to Fair Housing Choice in its Consolidated Plan); and a description of a plan developed to (a) address those impediments in a reasonable fashion in view of the resources available; and (b) work with local jurisdictions to implement any of the jurisdictions' initiatives to affirmatively further fair housing; and the maintenance of records reflecting this analysis and actions;

(2) Remedy discrimination in housing for persons with disabilities regardless of race, color, religion, sex, familial status, national origin, or nature of disability; or

(3) Promote fair housing rights and fair housing choice.

(E) Moving to Work (MTW) PHA Information and Certification. See Section VII(B)(2)(c) regarding the information to be submitted by an MTW PHA required to report under the Section 8 Management Assessment Program (SEMAP) but not meeting the 95 percent lease-up or budget authority utilization requirements, or the lease-up or budget authority utilization certification to be submitted by an MTW PHA not required to report under SEMAP.

(F) Multifamily Tenant Characteristics System (MTCS) Reporting Certification. In order to be eligible to submit an application under this announcement, the PHA must have had a minimum reporting rate of not less than 85 percent for housing choice voucher and certificate resident records to HUD's MTCS (see 24 CFR Part 908 and Notices PIH 98-30, 99-2 and 2000-13) for the period ending December 1999, and must submit a certification with its application certifying to having met this requirement. In the event a PHA received less than an 85 percent rate of reporting under MTCS for this period, the PHA will still be considered to have passed the threshold requirement if: (1) it subsequently achieved a minimum reporting rate of not less than 85 percent for public housing resident records under the MTCS as of the December 2000 reporting period; or (2) the PHA was granted forbearance by HUD under the applicable procedures under PIH Notices 2000-13 for the semi-annual assessment period ending December, 2000. In this latter instance, the PHA must submit a certification with its application indicating that it has either achieved such a minimum reporting rate as of the December 2000 reporting period, or that it has obtained a forbearance from HUD for the semi-annual assessment period ending December 2000.

VII. Corrections to Deficient Applications

(A) Acceptable Applications. The application must include all of the information specified in Section VI, Application Submission Requirements, of this announcement. The General Section of the SuperNOFA provides the procedures for corrections to deficient applications.

(B) Unacceptable Applications. (1) After the 14-calendar day technical deficiency correction period (as provided in the General Section), the Grants Management Center will disapprove all applications that the Grants Management Center determines are not acceptable for processing. The notification of rejection letter will state the basis for the decision.

(2) Applications that fall into any of the following categories will not be processed:

(a) Applications that do not meet the threshold fair housing and civil rights compliance requirements of Section II(B) of the General Section of the SuperNOFA.

(b) The PHA has major program management findings in an Inspector General audit, HUD management review, or independent public accountant (IPA) audit for its voucher or certificate programs that are not closed or on which satisfactory progress in resolving the findings is not being made; or program compliance problems for its voucher or certificate programs on which satisfactory progress is not being made. The only exception to this category is if the PHA has been identified under the policy established in Section III(B)(2) of this announcement and the PHA makes application with a designated contract administrator. Major program management findings are those that would cast doubt on the capacity of the PHA to effectively administer any new housing choice voucher funding in accordance with applicable HUD regulatory and statutory requirements.

(c) The PHA has failed to achieve a lease-up rate of 95 percent for its combined certificate and voucher units under contract for its fiscal year ending in 1999. Category (c) may be passed, however, if the PHA achieved a combined certificate and voucher budget authority utilization rate of 95 percent or greater for its fiscal year ending in 1999. In the event the PHA is unable to meet either of these percentage requirements, it may still pass category (c) if it submits information to the GMC, as part of its application, demonstrating that it was able to either increase its combined certificate and voucher lease-up rate to 95 percent or greater for its fiscal year ending in 2000, or was able to increase combined certificate and voucher budget authority utilization to 95 percent or more for its fiscal year ending in 2000. PHAs that have been determined by HUD to have passed either the 95 percent lease-up, or 95 percent budget authority utilization requirement for their fiscal year ending in 1999 will be listed with this funding announcement on a HUD website: (www.hud.gov/grants). A PHA not listed must either submit information (following the format of Appendix A of this NOFA) in its application supportive of its 95 percent lease-up or 95 percent budget authority utilization performance for its fiscal year ending in 2000, or submit information (following the format of Appendix A of this NOFA) as part of its application supportive of its contention that it should have been included among those PHAs HUD listed on the HUD website as having achieved either a 95 percent lease-up rate or 95 percent funding utilization rate for fiscal years ending in 1999. Appendix A of this NOFA indicates the methodology and data sources used by HUD to calculate the lease-up and budget authority utilization percentage rates for PHAs with fiscal years ending in 1999. Any PHA wishing to submit information to the GMC in connection with its 1999 fiscal year or 2000 fiscal year for the purposes described immediately above (so as to be eligible under category (c) to submit an application) will be required to use the same methodology and data sources indicated in Appendix A.

Moving To Work (MTW) agencies that are required to report under the Section 8 Management Assessment Program (SEMAP) shall be held to the 95 percent lease-up and budget authority utilization requirements referenced above, except where such an MTW agency provides information in its application demonstrating to HUD that a lower percentage is the result of the implementation of specific aspects of its program under its MTW agreement with HUD. MTW agencies which are not required to report under SEMAP must submit a certification with their application certifying that they are not required to report under SEMAP, and that they meet the 95 percent lease-up or budget authority utilization requirements.

PHAs not currently administering a certificate or voucher program, or who received voucher funding for the first time for FY 2000 will not be subject to the 95 percent lease-up or budget authority utilization requirements of this section (c).

(d) The PHA is involved in litigation and HUD determines that the litigation may seriously impede the ability of the PHA to administer the vouchers.

(e) An application that does not comply with the requirements of 24 CFR 982.102 and this program section after the expiration of the 14-calendar day technical deficiency correction period will be rejected from processing.

(f) The application was submitted after the application due date.

(g) The application was not submitted to the official place of receipt as indicated in the paragraph entitled “Address for Submitting Applications” at the beginning of this announcement.

(h) The applicant has been debarred or otherwise disqualified from providing assistance under the program.

(i) The applicant has failed to achieve a minimum 85 percent submission rate for housing choice voucher and certificate resident records to HUD's Multifamily Tenant Characteristics System (MTCS), (see 24 CFR Part 908 and Notices PIH 98-30 and 2000-13), for the period ending December 1999, and December 2000, and did not receive HUD forbearance.

VIII. Environmental Requirements

In accordance with 24 CFR 50.19(b)(11) of the HUD regulations, tenant-based rental activities under this program are categorically excluded from the requirements of the National Environmental Policy Act of 1969 (NEPA) and are not subject to environmental review under the related laws and authorities.

IX. Authority

Authority for this program is found in the Departments of Veteran's Affairs and Housing and Urban Development, and Independent Agencies Appropriations Act, FY 2001 (Pub.L. 106-377, approved October 27, 2000). This FY 2001 Appropriations Act authorized appropriations for housing choice vouchers to assist non-elderly disabled families affected by the establishment of preferences in accordance with section 651 of the Housing and Community Development Act of 1992, or the restriction of occupancy to elderly families in accordance with section 658 of the Act. The FY 2000 Appropriations Act also allows the Secretary to transfer any unobligated funds for this purpose to assist non-elderly disabled families to the extent they are not needed under Sections 651 and 658 for such families. Therefore, any funds remaining unobligated under this program section of this SuperNOFA will be used first to fund any approvable applications under the Rental Assistance for Non-Elderly Persons With Disabilities in Support of Designated Housing Plans program for which there are insufficient funds. Thereafter, any funds still remaining unobligated will be used to fund applications under the Mainstream Program in the SuperNOFA.

Appendix A—Methodology for Determining Lease-up and Budget Authority Utilization Percentage Rates

Using data from the HUDCAPS system, HUD determined which PHAs met the 95% budget authority utilization or 95% lease-up criteria. The data used in the determination was based on PHA fiscal years ending in 1999. The budget authority utilization and lease-up rates were determined based upon the methodology indicated below.

Budget Authority Utilization

Percentage of budget authority utilization was determined by comparing the total contributions required to the annual budget authority (ABA) available for the PHA 1999 year combining the certificate and voucher programs.

Total contributions required were determined based on the combined actual costs approved by HUD on the form HUD-52681, Year End Settlement Statement. The components which make up the total contributions required are the total of housing assistance payments, ongoing administrative fees earned, hard to house fees earned, and IPA audit costs. From this total any interest earned on administrative fees is subtracted. The net amount is the total contributions required.

ABA is the prorated portion applicable to the PHA 1999 year for each funding increment which had an active contract term during all or a portion of the PHA year.

Example

PHA ABC Fiscal Year 10/1/98 Through 9/30/99
[HUD 52681 Approved Data]
HAP | $2,500,000
Administrative fee | 250,000
Hard to house fee | 1,000
Audit | 2,000
Total | 2,753,000
Interest earned on administrative fee | (2,500)
Total contributions required | 2,750,500

Calculation of Annual Budget Authority
Increments and contract term | Total BA | ABA
001 11/01/98-10/31/99 | $1,300,000 | $1,191,667
002 01/01/99-12/31/99 | 1,200,000 | 900,000
003 04/01/99-03/31/00 | 950,000 | 475,000
004 07/01/99-06/30/00 | 1,500,000 | 375,000
Totals | 4,950,000 | 2,941,667
Budget Authority Utilization:
Total contributions required | 2,750,000
divided by
Annual budget authority | 2,941,667
equals
Budget Authority Utilization (percent) | 93.5

Lease-up Rate

The lease-up rate was determined by comparing the contract units (funding increments active as of the end of the PHA 1999 year) to the unit months leased (divided by 12) reported on the combined HUD 52681, Year End Settlement Statement(s) for 1999.

Active funding increments awarded by HUD for special purposes such as litigation, relocation/replacement, housing conversions, Welfare to Work, and new units awarded to the PHA during the last twelve months were excluded from the contract units as the Department recognizes that many of these unit allocations have special requirements which require extended periods of time to achieve lease-up.

Example

Increments and contract term | Units
001 11/01/98-10/31/99 | 242
002 01/01/99-12/31/99 | 224
003 04/01/99-03/31/00 | 178
004 07/01/99-06/30/00 | 280
Totals | 924
Increment 003 litigation | (178)
Adjusted contract units | 746
Unit months leased reported by PHA | 8,726
divided by 12 | 727
Units leased | 727
Lease-up rate:
Units leased | 727
divided by adjusted contract units | 746
equals
Lease-up rate (percent) | 97.4

BILLING CODE 4210-32-P

FUNDING AVAILABILITY FOR RENTAL ASSISTANCE FOR NON-ELDERLY PERSONS WITH DISABILITIES IN SUPPORT OF DESIGNATED HOUSING PLANS

Program Overview

Purpose of the Program. The purpose of the voucher funding being made available under the Housing Choice Voucher Program through this announcement is to enable non-elderly families with disabilities to rent affordable private housing. The vouchers will assist public housing agencies (PHAs) in providing sufficient alternative resources to meet the housing needs of those non-elderly disabled families who would have been housed by the PHA if occupancy in a designated public housing project/building (or portion thereof) were not restricted to elderly households, and assist PHAs who wish to continue to designate their buildings as “mixed elderly and disabled buildings” but can demonstrate a need for alternative resources for non-elderly disabled families.

Available Funds. Approximately $20 million in one-year budget authority for approximately 3,500 housing choice vouchers.

Eligible Applicants. Public housing agencies (PHAs). Indian Housing Authorities, Indian tribes and their tribally designated housing entities are not eligible to apply because the Native American Housing Assistance and Self-Determination Act of 1996 does not allow HUD to enter into new housing choice voucher (Section 8) annual contributions contracts (ACC) with IHAs after September 30, 1997. Further, IHAs would not otherwise have been eligible to apply under this announcement because the requirements of section 7 of the U.S. Housing Act of 1937 (42 U.S.C. 1437e) regarding designated housing plans are not applicable to IHAs.

Application Deadline. The application in its entirety must be submitted to HUD's Grants Management Center by July 24, 2001.

Not later than seventy-five (75) days prior to that date; i.e., by May 16, 2001, the designated housing plan portion of the application must be submitted to HUD's Special Application Center.

Match: None.

Additional Information

If you are interested in applying for funding under this program, please review carefully the General Section of this SuperNOFA and the following additional information.

I. Application Due Dates, Application Kits, Further Information and Technical Assistance

Application Due Dates. Submit your original and one copy of your completed application (including the designated housing plan, as appropriate) to HUD on or before 12:00 midnight, Eastern time, on July 24, 2001.

See the General Section of this SuperNOFA for specific procedures concerning the form of application submission (e.g., mailed applications, express mail, overnight delivery, or hand carried).

Address for Submitting Applications. Your completed application consists of an original and two copies. Submit the original application and one copy to Michael Diggs, Director, Grants Management Center, Department of Housing and Urban Development, 501 School Street, SW, Suite 800, Washington, DC 20024. Applications which are hand carried or sent via overnight delivery service should be delivered to this address. The Grants Management Center is the official place of receipt for all applications in response to this announcement of funding availability. Your application will be accepted at this address until 6:00 pm, Eastern time, on the application deadline.

After 6:00 pm on the application deadline date, applications will be accepted in the South Lobby of HUD Headquarters, 451 Seventh Street, SW, Washington, DC 20410, until 12:00 midnight Eastern time.

Submit one copy of the designated housing plan portion of your application to the Office of Public Housing, Special Application Center (SAC), Room 2401, 77 West Jackson Boulevard, Chicago, IL 60604 (312-886-9754), so as to be received by the SAC by not later than May 16, 2001. Note: The Special Application Center is allowed, by statute, 60 days in which to review a PHA's designated housing plan.

A PHA submitting an application for voucher funding under this announcement shall not be eligible for funding if it does not submit its entire application to the GMC, and the designated housing plan portion of its application (as applicable) to the SAC, by the deadline dates specified above.

A copy of your application is not required to be submitted to the local HUD Field Office. For ease of reference, the term “local HUD Field Office” will be used in this announcement to mean the local HUD Field Office Hub and local HUD Field Office Program Center. A listing of HUD Field Offices is attached to the General Section of this SuperNOFA.

For Application Kits. An application kit is not necessary for submitting an application in response to this announcement. This announcement contains all the information necessary for the submission of your application for voucher funding under this announcement.

For Further Information and Technical Assistance. Prior to the application due date, you may contact George C. Hendrickson, Housing Program Specialist, Room 4216, Office of Public and Assisted Housing Delivery, Department of Housing and Urban Development, 451 Seventh Street, SW, Washington, DC 20410; telephone (202) 708-1872, ext. 4064. Subsequent to application submission, you may contact the Grants Management Center at (202) 358-0338. (These are not toll-free numbers.) Persons with hearing or speech impairments may access these numbers via TTY (text telephone) by calling the Federal Information Relay Service at 1-800-877-8339 (this is a toll-free number).

Satellite Broadcast. HUD will hold an information broadcast via satellite for potential applicants to learn more about the program and preparation of an application. For more information about the date and time of this broadcast, you should consult the HUD web site at www.hud.gov.

II. Amount Allocated

(A) Available Funding. Approximately $20 million in one-year budget authority is available for housing choice vouchers for non-elderly disabled families in support of designated housing plans to designate public housing for occupancy by elderly families only, or elderly families and disabled families only. This funding is expected to provide assistance to approximately 3,500 non-elderly disabled families.

The FY 2001 HUD Appropriations Act allows the Secretary of HUD to transfer any unobligated funds for support of designated housing plans to assist non-elderly disabled families to the extent they are not needed to fund approvable applications related to designated housing plans during FY 2001. Accordingly, any funds remaining unobligated under this announcement will first be used to fund any approvable applications under HUD's announcement for Rental Assistance for Non-Elderly Persons with Disabilities Related to Certain Types of Section 8 Project-Based Developments and Section 202, Section 221(d)(3) and Section 236 Developments, for which there are insufficient funds. Any funds still remaining unobligated under this announcement for funding in support of designated housing plans shall be used to fund any approvable applications under HUD's announcement for Mainstream Housing Opportunities For Persons With Disabilities, for which there are insufficient funds.

(B) Voucher Funding.

(1) Maximum Voucher Request. A PHA may apply for only the number of units needed to house those non-elderly disabled families that otherwise would have been housed if not for the designation of a project/building (or portion thereof) for occupancy by the elderly only. The size of the units applied for must bear a direct relationship to the size of the units designated. PHAs are limited to applying for no more than a maximum of 200 units (vouchers).

(2) Determination of Funding Amount for the PHA's Requested Number of Vouchers. HUD will determine the amount of funding that a PHA will be awarded under this announcement based upon an actual annual per unit cost {except that for Moving to Work (MTW) agencies the per unit cost will be calculated in accordance with the agency's MTW Agreement for MTW units} using the following three step process:

(a) HUD will extract the total expenditures for all the PHA's housing choice (Section 8) programs and the unit months leased information from the most recent approved year end statement (form HUD-52681) that the PHA has filed with HUD. HUD will divide the total expenditures for all of the PHA's housing choice (Section 8) programs by the unit months leased to derive an average monthly per unit cost.

(b) HUD will multiply the monthly per unit cost by 12 (months) to obtain an annual per unit cost.

(c) HUD will multiply the annual per unit cost derived under section (ii) above by the Housing Choice Voucher (Section 8) Housing Assistance Payments Program Contract Rent Annual Adjustment Factor (with the highest cost utility included) to generate an adjusted annual per unit cost. For a PHA whose jurisdiction spans multiple annual adjustment factor areas, HUD will use the highest applicable annual adjustment factor.

Note: Applicants who do not currently administer a housing choice certificate or voucher program shall have their voucher funding based upon the actual annual per unit costs of the PHA in their most immediate area administering a housing choice certificate or voucher program, using the three step process described immediately above.

(3) Preliminary Fee. A preliminary fee of up to $500 per unit for preliminary (start-up) expenses will be paid to PHAs that have not previously administered their own housing choice voucher program and that are selected for funding under this announcement. The preliminary fee will be provided to such PHAs only in their first year administering housing choice vouchers.

(4) Underfunding Corrections. If prior to the award of funding under this Designated Housing announcement, HUD determines that any awardees under the FY 2000 Designated Housing announcement have been underfunded due to an error attributable to HUD, funding will be increased to the amount that the awardee should have received.

III. Program Description, Eligible Applicants, and Eligible Participants

(A) Program Description. This program provides housing choice vouchers to assist non-elderly disabled families who would have been housed by a PHA if occupancy in the designated public housing project/building (or portion thereof) were not restricted to elderly households, and assist PHAs that wish to continue to designate their projects/buildings (or portions thereof) as “mixed elderly and disabled buildings” and can demonstrate a need for alternative housing resources for non-elderly disabled families that is consistent with the jurisdiction's Consolidated Plan and the low-income housing needs of the jurisdiction.

(B) Eligible Applicants. A PHA established pursuant to State law may apply for funding under this announcement. A regional (multi-county) or State PHA is also eligible to apply for funding. A PHA may submit only one application under this announcement. This one application per PHA limit applies regardless of whether the PHA is a State or regional PHA, except in those instances where such a PHA has more than one PHA code number due to its operating under the jurisdiction of more than one HUD Field Office. In such instance, a separate application under each code shall be considered for funding, with the cumulative total of vouchers applied for under the applications not to exceed the maximum number of vouchers the PHA is eligible to apply for under section II(B)(1) of this announcement; i.e., no more than the number of vouchers the same PHA would be eligible to apply for if it only had one PHA code number.

Two or more divisions within State government comprising separate PHAs shall require the State to determine which division shall submit an application to HUD under this funding announcement. As with other PHAs, only one application per PHA shall be considered (see sole exception referenced immediately above).

Indian Housing Authorities (IHAs), Indian tribes and their tribally designated housing entities are not eligible to apply because the Native American Housing Assistance and Self-Determination Act of 1996 does not allow HUD to enter into new Housing Choice Voucher Program (Section 8) annual contributions contracts (ACC) with IHAs after September 30, 1997. Further, IHAs would not otherwise have been eligible to apply under this announcement because the requirements of section 7 of the U.S. Housing Act of 1937 (42 U.S.C. 1437e) regarding designated housing plans are not applicable to IHAs.

Some PHAs currently administering the housing choice voucher and certificate programs have, at the time of publication of this SuperNOFA, major program management findings from Inspector General audits, HUD management reviews, or independent public accountant (IPA) audits that are open and unresolved or other significant program compliance problems. HUD will not accept applications for additional funding from these PHAs as contract administrators if, on the application due date, the findings are either not closed, or sufficient progress toward closing the findings has not been made to HUD's satisfaction. The PHA must also, to HUD's satisfaction, be making satisfactory progress in addressing any program compliance problems. If the PHA wants to apply for funding under this announcement, the PHA must submit an application that designates another housing agency, nonprofit agency, or contractor, that is acceptable to HUD. The PHA's application must include an agreement by the other housing agency, nonprofit agency, or contractor to administer the new funding increment on behalf of the PHA, and a statement that outlines the steps the PHA is taking to resolve the program findings and program compliance problems. Immediately after the publication of this SuperNOFA, the local HUD Field Office will notify, in writing, those PHAs that are not eligible to apply without such an agreement. Concurrently, the local HUD Field Office will provide a copy of each such written notification to the Grants Management Center. The PHA may appeal the decision in writing, if HUD has mistakenly classified the PHA as having outstanding management or compliance problems. Any appeal must be accompanied by conclusive evidence of HUD's error (i.e., documentation showing that the finding has been cleared or satisfactory progress toward closing the findings or addressing compliance problems has been made) and must be received prior to the application deadline. The appeal should be submitted to the local HUD Field Office where a final determination shall be made. Concurrently, the local HUD Field Office shall provide the Grants Management Center with a copy of its written response to the appeal, along with a copy of the PHA's written appeal. Major program management findings are those that would cast doubt on the capacity of the PHA to effectively administer any new housing choice voucher funding in accordance with applicable HUD regulatory and statutory requirements.

(C) Eligible Participants. Only non-elderly disabled families that are income eligible under 24 CFR 982.201(b)(1) and who live in public housing that has been designated for occupancy by the elderly, or non-elderly disabled families who are on the PHA's public housing waiting list, may receive a voucher awarded in conjunction with an approved designated housing plan. Such families need not be listed on the PHA's housing choice voucher waiting list in order to be offered and receive a housing choice voucher. These families may be admitted to the housing choice voucher program as a special admission (24 CFR 982.203).

IV. Program Requirements and Definitions

In addition to the civil rights compliance and nondiscrimination requirements listed in the General Section of this SuperNOFA, grantees must meet the following program requirements:

(A) Affirmatively Furthering Fair Housing. Each successful applicant will have a duty to affirmatively further fair housing. Applicants will be required to identify the specific steps that they will take to:

(1) Examine the PHA's own programs or proposed programs, including an identification of any impediments to fair housing (identified in the jurisdiction's Analysis of Impediments (AI) to Fair Housing Choice in its Consolidated Plan); develop a plan to (a) address those impediments in a reasonable fashion in view of the resources available; and (b) work with the local jurisdictions to implement any of the jurisdictions' initiatives to affirmatively further fair housing; and maintain records reflecting these analyses and actions;

(2) Remedy discrimination in housing; or

(3) Promote fair housing rights and fair housing choice.

Further, applicants have a duty to carry out the specific activities cited in their responses under this announcement to address affirmatively furthering fair housing.

(B) Certifications and Assurances. Each applicant is required to submit signed copies of Assurances and Certifications. The standard Assurances and Certifications are on Form HUD-52515, Funding Application, which includes the Equal Opportunity Certification, Certification Regarding Lobbying, and Certification Regarding Drug-Free Workplace Requirements.

(C) Voucher Assistance Requirements.

(1) Housing Choice Voucher Program regulations. PHAs must administer the housing choice vouchers received under this announcement in accordance with HUD regulations and requirements governing the Housing Choice Voucher Program.

(2) Housing Choice Voucher admission requirements. Housing choice vouchers must be provided to eligible applicants in conformity with regulations and requirements governing the Housing Choice Voucher Program and the PHA's administrative plan.

(3) Turnover. When a voucher under this announcement becomes available for reissue (e.g., the family initially selected for the program drops out of the program or is unsuccessful in the search for a unit), the rental assistance may be used only for another individual or family eligible for assistance under this announcement subject to appropriations for renewal funding, from the date the rental assistance is placed under an annual contributions contract (ACC).

(D) PHA Responsibilities. In addition to PHA responsibilities under the Housing Choice Voucher Program and HUD regulations concerning nondiscrimination based on disability (24 CFR 8.28) and to affirmatively further fair housing, PHAs that receive voucher funding shall:

(1) Where requested by an individual, assist program participants to gain access to supportive services available within the community, but not require eligible applicants or participants to accept supportive services as a condition of participation or continued occupancy in the program.

(2) Identify public and private funding sources to assist participants with disabilities in covering the costs of structural alterations and other accessibility features that are needed as accommodations for their disabilities.

(3) Not deny persons who qualify for a housing choice voucher under this program other housing opportunities, or otherwise restrict access to PHA programs to eligible applicants who choose not to participate.

(4) Provide housing choice voucher search assistance.

(5) In accordance with regulatory guidance, provide higher rent to owners necessary for the provision of accessible units and structural modifications for persons with disabilities.

(6) Provide technical assistance to owners for making reasonable accommodations or making units accessible to persons with disabilities.

PHAs are encouraged to coordinate with/involve nonprofit disability organizations in their meeting the requirements of sections 1, 2, 4 and 6 immediately above. PHAs are encouraged to seek out nonprofit disability organizations in this regard due to such organizations' capacity for assisting disabled families, and their in-depth knowledge of the disability community and the available resources to assist disabled persons.

(E) Definitions.

(1) Designated Housing Plan. A HUD-approved designated housing plan required of PHAs seeking to designate a project/building (or portion thereof) for occupancy by elderly families only, or elderly and disabled families only. See section 10(a) of the Housing Opportunity Extension Act of 1996 (Pub. L. 104-120, approved March 28, 1996) as explained in Notice PIH 97-12 (HA), Requirements for Designation of Public Housing Projects. This Notice was extended by Notice PIH 2000-20 (HA). Section 10(a) amended section 7 of the United States Housing Act of 1937 (42 U.S.C. 1437e).

(2) Elderly Family. A family whose head of household, spouse, or sole member is 62 years or older.

(3) Non-elderly Disabled Family. A family who is not elderly, and whose head, spouse, or sole member is a person with disabilities. The term “non-elderly disabled family” may include two or more such persons with disabilities living together, and one or more such persons with disabilities living with one or more persons who are determined essential to the care and well-being of the person or persons with disabilities (live-in aides).

(4) Person with disabilities. A person who—

(a) Has a disability as defined in section 223 of the Social Security Act (42 U.S.C. 423), or

(b) Is determined to have a physical, mental or emotional impairment that:

(i) Is expected to be of long-continued and indefinite duration;

(ii) Substantially impedes his or her ability to live independently; and

(iii) Is of such a nature that such ability could be improved by more suitable housing conditions, or

(c) Has a developmental disability as defined in section 102 of the Developmental Disabilities Assistance and Bill of Rights Act (42 U.S.C. 6001(5)).

The term “person with disabilities” does not exclude persons who have the disease of acquired immunodeficiency syndrome (AIDS) or any conditions arising from the etiologic agent for acquired immunodeficiency syndrome (HIV).

Note: While the above definition of a “person with disabilities” is to be used for purposes of determining a family's eligibility for a housing choice voucher under this announcement, the definition of a person with disabilities contained in section 504 of the Rehabilitation Act of 1973 and its implementing regulations must be used for purposes of meeting the requirements of Fair Housing laws, including providing reasonable accommodations.

No individual shall be considered a person with disabilities for the purpose of determining eligibility solely on the basis of any drug or alcohol dependence.

(5) Housing Choice Voucher search assistance. Assistance to increase access by program participants to housing units in a variety of neighborhoods (including areas with low poverty concentrations) and to locate and obtain units suited to their needs.

V. Application Selection Process

After the Grants Management Center has screened PHA applications and disapproved any applications found unacceptable for further processing, the Grants Management Center will review all acceptable applications (exclusive of the Designated Housing Plan portion of the application—which is reviewed by the Special Application Center) to ensure that they are technically adequate and responsive to the requirements of this announcement of funding availability.

The Special Application Center will send to the Grants Management Center the following information on each designated housing plan submitted in conjunction with this announcement:

(1) A copy of the letter to the PHA approving or disapproving its designated housing plan.

(2) Special Application Center contact person and telephone number.

HUD Headquarters will fund on a first-come, first-serve basis all approvable applications from PHAs that are recommended for funding by the Grants Management Center and that the Special Application Center advises has an approved designated housing plan, based upon the date and time the application is received in the Grants Management Center. As PHAs are selected, the cost of funding the applications will be subtracted from the funds available. In the event approvable applications are received for more than the approximately $20 million available under this announcement, funds will be transferred from the approximately $20 million available under the announcement for non-elderly disabled families not receiving housing assistance in certain Section 8 project-based developments, or certain Section 202, Section 221(d)(3) or Section 236 developments, to the extent funds are not needed for approvable applications under that announcement. Applications will be funded for the total number of units requested by the PHA and approved by the Grants Management Center in accordance with this funding announcement for support of Designated Housing Plans. When remaining budget authority is insufficient to fund the last selected PHA application in full, however, HUD Headquarters will fund that application to the extent of the funding available, unless the PHA's application indicates that the PHA will only accept a higher number of units. In that event, the next selected application shall be one that has indicated a willingness to accept the lesser amount of funding for the units available.

VI. Application Submission Requirements

(A) Form HUD-52515. All PHAs must complete and submit form HUD-52515, Funding Application, for the Housing Choice Voucher Program (Section 8), (dated January 1996). This form includes all necessary certifications for Fair Housing, Drug Free Workplace and Lobbying Activities. PHAs are requested to enter their housing authority code number (for example, CT002), telephone number, facsimile number, and electronic mail address in the same place at the top of the form where they are also to enter the PHA's name and mailing address. The information entered in Section B of the form for bedroom size and number of requested units must bear a direct relationship to the bedroom size and number of units designated in the PHA's designated housing plan that will no longer be available for the future admission of non-elderly disabled families. Section C of the form should be left blank. A copy of Form HUD-52515 is included in the forms found in Appendix B to the General Section of the SuperNOFA. Copies of the form may also be downloaded from the HUD Home page site on the Internet's world wide web (http://www.HUD.gov). (On the HUD website click on “handbooks and forms,” then click on “forms,” then click on “HUD-5” and click on “HUD-52515.” The form must be completed in its entirety, with the exception of Section C, signed and dated.

(B) Letter of Intent and Narrative. The PHA must state in its cover letter to the application whether the PHA will accept a reduction in the number of vouchers, and the minimum number of vouchers that the PHA will accept, since the funding is limited and HUD may only have enough funds to approve a smaller amount than the number of vouchers requested. The maximum number of vouchers that a PHA may apply for under this announcement is limited to 200.

(C) Approvable Designated Housing Plan. The application must include an approvable plan to designate housing in accordance with section 10(a) of the Housing Opportunities Extension Act of 1996 (Pub. L. 104-120, approved March 28, 1996) as explained in Notice PIH 97-12 (HA), Requirements for Designation of Public Housing Projects. This Notice was extended by Notice PIH 2000-20 (HA), dated May 8, 2000.

PHAs should also bear in mind that the regulations at 24 CFR 903.3(b) require PHAs to submit an Annual Plan which must provide a statement regarding any public housing project (or portion thereof) which the PHA plans to designate as elderly only or mixed elderly and disabled {see 24 CFR 903.7 (h)(2)(i)}. Only those PHAs which are designated by HUD as high performing PHAs, or are small PHAs (less than 250 public housing units) that are not designated as troubled, are excluded from the requirement to address the designation of elderly and disabled public housing units in the Annual Plan. The Special Application Center will not process a designated housing plan if the PHA's intent to designate is not covered in its Annual Plan.

(D) Designated Housing Plan Previously Approved. Any PHA wishing to rely on a designated housing plan previously approved by HUD that did not require housing choice vouchers or certificates for non-elderly disabled families or that now requires more vouchers than previously justified, will require the PHA to submit the information required in sections (A) and (B) immediately above, a copy of the previously HUD-approved designated housing plan, and updated needs data supporting the need now for vouchers not previously deemed necessary as an alternative housing resource. The updated needs data should indicate why the PHA does not have the appropriate resources to carry out the previously approved plan, identify the number of vouchers needed for non-elderly disabled families, and address the housing needs in its Consolidated Plan.

Conversely, any PHA wishing to rely on a designated housing plan previously approved by HUD, contingent upon the PHA's future submission of an application for housing choice vouchers or certificates as an alternative housing resource for non-elderly disabled families, will need to only submit the HUD-approval letter for the designated housing plan in lieu of the plan itself (updated needs data also unnecessary).

(E) Statement Regarding the Steps the PHA Will Take to Affirmatively Further Fair Housing. The areas to be addressed in the PHA's statement should include, but not necessarily be limited to:

(1) The examination of the PHA's own programs or proposed programs, including an identification of any impedimemts to fair housing (identified in the jurisdiction's Analysis of Impediments (AI) to Fair Housing Choice in its Consolidated Plan); and a description of a plan to (a) address those impediments in a reasonable fashion in view of the resources available; and (b) work with local jurisdictions to implement any of the jurisdictions' initiatives to affirmatively further fair housing; and the maintenance of records reflecting these analyses and actions;

(2) Remedy discrimination in housing for persons with disabilities regardless of race, color, religion, sex, familial status, national origin, or nature of disability; or (3) Promote fair housing rights and fair housing choice.

(F) Moving to Work (MTW) PHA Information and Certification. See section VII(B)(2)(c) regarding the information to be submitted by an MTW PHA required to report under the Section 8 Management Assessment Program (SEMAP) but not meeting the 95 percent lease-up or budget authority utilization requirements, or the lease-up or budget authority utilization certification to be submitted by an MTW PHA not required to report under SEMAP.

(G) Multifamily Tenant Characteristics System (MTCS) Reporting Certification. In order to be eligible to submit an application under this announcement, the PHA must have had a minimum reporting rate of not less than 85 percent for housing choice voucher and certificate resident records to HUD's MTCS (see 24 CFR Part 908 and Notices PIH 98-30, 99-2 and 2000-13) for the period ending December 1999, and must submit a certification with its application certifying to having met this requirement. In the event a PHA received less than an 85 percent rate of reporting under MTCS for this period, the PHA will still be considered to have passed the threshold requirement if: (1) it subsequently achieved a minimum reporting rate of not less than 85 percent for public housing resident records under the MTCS as of the December 2000 reporting period; or (2) the PHA was granted forbearance by HUD under the applicable procedures under PIH Notice 2000-13 for the semi-annual assessment period ending December 2000. In this latter instance, the PHA must submit a certification with its application indicating that it has either achieved such a minimum reporting rate as of the December 2000 reporting period, or that it has obtained a forbearance from HUD for the semi-annual assessment period ending December 2000.

VII. Corrections to Deficient Applications

(A) Acceptable Applications. The application must include all of the information specified in section VI, Application Submission Requirements. The General Section of the SuperNOFA provides the procedures for corrections to deficient applications.

(B) Unacceptable Applications.

(1) After the 14-calendar day technical deficiency correction period, the Grants Management Center will disapprove all PHA applications that the Grants Management Center determines are not acceptable for processing. The Grant Management Center's notification of rejection letter must state the basis for the decision.

(2) Applications from PHAs that fall into any of the following categories will not be processed:

(a) Applications that do not meet the fair housing and civil rights compliance threshold requirements of Section II(B) of the General Section of the SuperNOFA.

(b) The PHA has major program management findings in an Inspector General audit, HUD management review, or independent public accountant (IPA) audit for its voucher or certificate programs that are not closed or on which satisfactory progress in resolving the findings is not being made; or program compliance problems for its voucher or certificate programs on which satisfactory progress is not being made. The only exception to this category is if the PHA has been identified under the policy established in Section III(B) of this announcement and the PHA makes application with a designated contract administrator. Major program management findings are those that would cast doubt on the capacity of the PHA to effectively administer any new housing choice voucher funding in accordance with applicable HUD regulatory and statutory requirements.

(c) The PHA has failed to achieve a lease-up rate of 95 percent for its combined certificate and voucher units under contract for its fiscal year ending in 1999. Category (c) may be passed, however, if the PHA achieved a combined certificate and voucher budget authority utilization rate of 95 percent or greater for its fiscal year ending in 1999. In the event the PHA is unable to meet either of these percentage requirements, the PHA may still pass category (c) if the PHA submits information to the Grants Management Center, as part of its application, demonstrating that the PHA was able to either increase its combined certificate and voucher lease-up rate to 95 percent or greater for its fiscal year ending in 2000, or was able to increase combined certificate and voucher budget authority utilization to 95 percent or more for its fiscal year ending in 2000. PHAs that have been determined by HUD to have passed either the 95 percent lease-up, or 95 percent budget authority utilization requirement for their fiscal year ending in 1999 will be listed on a HUD website: (www.hud.gov/grants), along with this funding announcement. A PHA not listed must either submit information (following the format of Appendix A of this announcement) in its application supportive of its 95 percent lease-up or 95 percent budget authority utilization performance for its fiscal year ending in 2000, or submit information (following the format of Appendix A of this announcement) as part of its application supportive of its contention that it should have been included among those PHAs HUD listed on the HUD website as having achieved either a 95 percent lease-up rate or 95 percent budget authority utilization rate for fiscal years ending in 1999. Appendix A to this program section indicates the methodology and data sources used by HUD to calculate the lease-up and budget authority utilization percentage rates for PHAs with fiscal years ending in 1999. Any PHA wishing to submit information to the Grants Management Center in connection with its 1999 fiscal year or 2000 fiscal year for the purposes described immediately above (so as to be eligible under category (c) to submit an application) will be required to use the same methodology and data sources indicated in Appendix A.

Moving To Work (MTW) agencies that are required to report under the Section 8 Management Assessment Program (SEMAP) shall be held to the 95 percent lease-up and budget authority utilization requirements referenced above, except where such an MTW agency provides information in its application demonstrating to HUD that a lower percentage is the result of the implementation of specific aspects of its program under its MTW Agreement with HUD. MTW agencies which are not required to report under SEMAP must submit a certification with their application certifying that they are not required to report under SEMAP, and that they meet the 95 percent lease-up or budget authority utilization requirements.

PHAs not currently administering a certificate or voucher program, or who received voucher funding for the first time for FY 2000 will not be subject to the 95 percent lease-up or budget authority utilization requirements of this section (c).

(d) The PHA is involved in litigation and HUD determines that the litigation may seriously impede the ability of the PHA to administer the vouchers.

(e) An application that does not comply with the requirements of 24 CFR 982.102 and this program section after the expiration of the 14-calendar day technical deficiency correction period will be rejected from processing.

(f) The application was submitted after the application due date.

(g) The application was not submitted to the official place of receipt as indicated in the paragraph entitled “Address for Submitting Applications” at the beginning of this announcement.

(h) The applicant has been debarred or otherwise disqualified from providing assistance under the program.

(i) The applicant has failed to achieve a minimum 85 percent submission rate for housing choice voucher and certificate resident records to HUD's Multifamily Tenant Characteristics System (MTCS), (see 24 CFR Part 908 and Notices PIH 98-30 and 2000-13), for the period ending December 1999, and December 2000, and did not receive HUD forbearance.

VIII. Environmental Requirements

In accordance with 24 CFR 50.19(b)(11) of the HUD regulations, tenant-based rental activities under this program are categorically excluded from the requirements of the National Environmental Policy Act of 1969 (NEPA) and are not subject to environmental review under the related laws and authorities.

IX. Authority

Authority for this program is found in the Departments of Veteran's Affairs and Housing and Urban Development, and Independent Agencies Appropriations Act, FY 2001 (Pub.L. 106-377, approved October 27, 2000). This FY 2001 Appropriations Act authorized appropriations for housing choice vouchers to assist non-elderly disabled families affected by the establishment of preferences in accordance with section 651 of the Housing and Community Development Act of 1992, or the restriction of occupancy to elderly families in accordance with section 658 of the Act. The FY 2000 Appropriations Act also allows the Secretary to transfer any unobligated funds for this purpose to assist non-elderly disabled families to the extent they are not needed under Sections 651 and 658 for such families. Therefore, any funds remaining unobligated under this program section of this SuperNOFA will be used first to fund any approvable applications under the Rental Assistance for Non-Elderly Persons With Disabilities in Support of Designated Housing Plans program for which there are insufficient funds. Thereafter, any funds still remaining unobligated will be used to fund applications under the Mainstream Program in the SuperNOFA.

Appendix A—Methodology for Determining Lease-Up and Budget Authority Utilization Percentage Rates

Using data from the HUDCAPS system, HUD determined which PHAs met the 95% budget authority utilization or 95% lease-up criteria. The data used in the determination was based on PHA fiscal years ending in 1999. The budget authority utilization and lease-up rates were determined based upon the methodology indicated below.

Budget Authority Utilization

Percentage of budget authority utilization was determined by comparing the total contributions required to the annual budget authority (ABA) available for the PHA 1999 year combining the certificate and voucher programs.

Total contributions required were determined based on the combined actual costs approved by HUD on the form HUD-52681, Year End Settlement Statement. The components which make up the total contributions required are the total of housing assistance payments, ongoing administrative fees earned, hard to house fees earned, and IPA audit costs. From this total any interest earned on administrative fees is subtracted. The net amount is the total contributions required.

ABA is the prorated portion applicable to the PHA 1999 year for each funding increment which had an active contract term during all or a portion of the PHA year.

Example

PHA ABC Fiscal Year 10/1/98 Through 9/30/99
[HUD 52681 approved data]
HAP | $2,500,000
Administrative fee | 250,000
Hard to House fee | 1,000
Audit | 2,000
Total | 2,753,000
Interest earned on administrative fee | (2,500)
Total contributions required | 2,750,500

Calculation of Annual Budget Authority
Increments and contract term | Total BA | ABA
001 11/01/98-10/31/99 | $1,300,000 | $1,191,667
002 01/01/99-12/31/99 | 1,200,000 | 900,000
003 04/01/99-03/31/00 | 950,000 | 475,000
004 07/01/99-06/30/00 | 1,500,000 | 375,000
Totals | 4,950,000 | 2,941,667
Budget Authority Utilization:
Total contributions required | 2,750,000
divided by
Annual budget authority | 2,941,667
equals
Budget Authority Utilization (percent) | 93.5

Lease-up Rate

The lease-up rate was determined by comparing the contract units (funding increments active as of the end of the PHA 1999 year) to the unit months leased (divided by 12) reported on the combined HUD 52681, Year End Settlement Statement(s) for 1999.

Active funding increments awarded by HUD for special purposes such as litigation, relocation/replacement, housing conversions, Welfare to Work, and new units awarded to the PHA during the last twelve months were excluded from the contract units as the Department recognizes that many of these unit allocations have special requirements which require extended periods of time to achieve lease-up.

Example

Increments and contract term | Units
001 11/01/98-10/31/99 | 242
002 01/01/99-12/31/99 | 224
003 04/01/99-03/31/00 | 178
004 07/01/99-06/30/00 | 280
Totals | 924
Increment 003 litigation | (178)
Adjusted contract units | 746
Unit months leased reported by PHA | 8,726
divided by 12 | 727
Units leased | 727
Lease-up rate:
Units leased | 727
divided by adjusted contract units | 746
equals
Lease-up rate (percent) | 97.4

BILLING CODE 4210-32-P

FUNDING AVAILABILITY FOR RENTAL CERTIFICATE/HOUSING CHOICE VOUCHER FAMILY SELF-SUFFICIENCY (FSS) PROGRAM COORDINATORS

Program Overview

Purpose of Program. The Rental Certificate/Housing Choice Voucher FSS program (referred to in previous NOFAs as the Section 8 FSS program) is intended to promote the development of local strategies to coordinate the use of assistance under the Rental Certificate and Housing Choice Voucher programs with public and private resources to enable participating families to achieve economic independence and self-sufficiency. An FSS program coordinator assures that program participants are linked to the supportive services they need to achieve self-sufficiency. Funding under this NOFA is not available to pay the salary of an FSS coordinator for a public housing FSS program. Operating subsidy may be used to fund the salary of a public housing FSS coordinator.

Available Funds. This NOFA announces the availability of up to $45 million in Fiscal Year (FY) 2001 to fund Rental Certificate/Housing Choice Voucher FSS program coordinators.

Eligible Applicants. Public housing agencies (PHAs) eligible to receive funding under this NOFA are: (1) those that received funding under the FY 2000 NOFA or one of the FY 1999 NOFAs for Rental Certificate/Housing Choice Voucher FSS Program Coordinators and that continue to operate an FSS program; (2) PHAs that were not funded under one of the FY 1999 or FY 2000 FSS NOFAs that are authorized through their HUD-approved FSS Action Plan to administer a Rental Certificate/Housing Choice Voucher FSS program of at least 25 slots; or, if they are PHAs with HUD approval to administer Rental Certificate/Housing Choice Voucher FSS programs of fewer than 25 slots, they apply jointly with one or more other PHAs so that between or among them they have HUD approval to administer at least 25 Rental Certificate/Housing Choice Voucher FSS slots.

Under this NOFA, both the voluntary Rental Certificate/Housing Choice Voucher FSS slots and the mandatory Rental Certificate/Housing Choice Voucher FSS slots reflected in the PHA's HUD-approved FSS Action Plan are counted in determining the PHA's Rental Certificate/Housing Choice Voucher FSS program size.

All awards are subject to a cap of $60,000 per full time coordinator position funded. Evidence of salary comparability to positions in the local jurisdiction for each position must be kept on file in the PHA office.

There is no maximum Rental Certificate/Housing Choice Voucher program size limit cap for PHAs eligible to apply for funding under this NOFA.

Application Deadline. April 25, 2001.

Match. None

Additional Information

If you are interested in applying for funding for Rental Certificate/Housing Choice Voucher FSS Program Coordinator funding under this NOFA, please review carefully the General Section of this SuperNOFA and the following additional information.

I. Application Due Date, Application Kits, and Technical Assistance

Application Due Date. Submit your completed application (an original and two copies) to HUD on or before 12 midnight, Eastern time, on April 25, 2001.

See the General Section of this SuperNOFA for specific procedures concerning the form of application submission (i.e., mailed applications, express mail, overnight delivery, or hand carried).

Address for Submitting Applications. Your completed application consists of one original and two copies. Submit your original application and one copy with an Acknowledgment of Application Receipt, form HUD-2993, to: Michael E. Diggs, Director, PIH Grants Management Center, U.S. Department of Housing and Urban Development, 501 School Street, Suite 800, Washington, DC 20024. Applications which are hand carried or sent via overnight delivery service should be delivered to this address. The Grants Management Center is the official place of receipt for all applications in response to this announcement of funding availability. Your application will be accepted at this address until 6:00 pm, Eastern time, on the application deadline.

After 6:00 pm on the application deadline date, applications will be accepted in the South Lobby of HUD Headquarters, 451 Seventh Street, SW, Washington, DC 20410, until 12:00 midnight Eastern time.

Submit the second copy of your application to your local HUD Field Office Hub or local HUD Field Office Program Center. A listing of HUD Field Offices is attached to the General Section of this SuperNOFA.

For Application Kits. There is no application kit for this NOFA. This announcement contains all the information necessary for the submission of your application for Rental Certificate/Housing Choice Voucher FSS program coordinator funding.

For Further Information and Technical Assistance. For answers to your questions, you may contact the Public and Indian Housing Resource Center at 1-800-955-2232 or the Hub Director of Public Housing or the Program Center Coordinator in the local HUD Field Office or you may contact the Grants Management Center at (202) 358-0221, extension 118. Hearing-or speech-impaired individuals may call HUD's TTY number 1-800-877-8339, the Federal Information Relay Service TTY, (this is a toll free number). Information can be accessed via the Internet at http://www.hud.gov.

Prior to the application deadline, staff at the numbers given above will be available to provide general guidance, but not guidance in actually preparing the application. Following selection, but prior to award, HUD staff will be available to assist in clarifying or confirming information that is a prerequisite to the offer of an award by HUD.

Satellite Broadcast. HUD plans to hold an information broadcast via satellite for potential applicants to learn more about the program and preparation of an application. For more information about the date and time of this broadcast, you should consult the HUD web site at www.hud.gov.

II. Amount Allocated

For FY 2001, up to $45 million may be made available for PHA administrative fees for Rental Certificate/Housing Choice Voucher FSS program coordinators. This amount is from HUD's Congressional justifications that were submitted in support of the Departments of Veterans Affairs and Housing and Urban Development, and Independent Agencies Appropriations Act, 2001 (Pub.L. 106-377, approved October 27, 2000). This is the eighth fiscal year of funding for Rental Certificate/Housing Choice Voucher FSS program coordinators.

HUD Corrections to Funding Provided Under the FY 2000 NOFA

If prior to award of funding under the FY 2001 Rental Certificate/Housing Choice Voucher FSS NOFA, HUD determines that any PHAs have been underfunded in amounts awarded under the FY 2000 FSS Program Coordinator NOFA, before funding any applications under the FY 2001 NOFA, the Department will increase funding of the FY 2000 awards to the amount that the PHAs should have received under the FY 2000 NOFA with funding available under the FY 2001 FSS NOFA.

III. Program Description; Eligible Applicants; Eligible Activities

(A) Program Description. Through annual NOFAs, HUD has provided funding to PHAs that are operating a Rental Certificate/Housing Choice Voucher FSS program to enable those PHAs to hire a Rental Certificate/Housing Choice Voucher FSS program coordinator.

In this FY 2001 FSS Program Coordinator NOFA, HUD is making sufficient funding available to fund all applicants that received funding under either the FY 1999 or FY 2000 FSS program coordinator NOFAs to allow those PHAs to continue to pay a Rental Certificate/Housing Choice Voucher FSS program coordinator for another year.

Because of the importance of the FSS program in helping families increase earned income and develop assets, HUD is also making a sufficient amount available under this FY 2001 FSS NOFA to enable “new” PHAs that were not funded in FY 1999 or FY 2000 to apply. Each of these “new” PHAs may apply for funding to hire at least one Rental Certificate/Housing Choice Voucher FSS program coordinator for one year at a reasonable cost, as determined by the PHA based on salaries for similar positions in the locality. Under this NOFA, for the first time both new and renewal state and regional PHAs that administer Rental Certificate/Housing Choice Voucher FSS programs in different parts of their jurisdiction may apply for up to one full time Rental Certificate/Housing Choice Voucher FSS program coordinator in each area where they have HUD approval to administer a separate Rental Certificate/Housing Choice Voucher FSS program of at least 25 slots.

Because the workload of a large FSS program is too heavy for a single FSS program coordinator, this NOFA invites each eligible new and renewal PHA with HUD-approval to operate a Rental Certificate/Housing Choice Voucher FSS program of 100 slots in a single jurisdiction to apply for up to one full time coordinator for each 50 HUD-approved slots above their initial 50 Rental Certificate/Housing Choice Voucher FSS program slots. A state or regional agency with HUD approval to operate a Rental Certificate/Housing Choice Voucher FSS program of 100 or more slots in more than one part of its jurisdiction may apply for one or more full time Rental Certificate/Housing Choice Voucher FSS program coordinator for each additional 50 approved FSS slots above the initial 50 Rental Certificate/Housing Choice Voucher slot level in that area.

(B) Eligible Applicants. Subject to the availability of sufficient funding, all PHAs in the following categories are eligible applicants under this NOFA:

(1) PHAs that received funding under one of the FY 1999 NOFAs or the FY 2000 NOFAs for Rental Certificate/Housing Choice Voucher FSS program coordinators that are still operating FSS programs will be funded in FY 2001, except those PHAs submitting applications that are ineligible under Section VII.(B) of this NOFA, provided the PHA continues to operate an FSS program, has hired an FSS program coordinator with funding awarded for that purpose under one of the FY 1999 FSS or FY 2000 FSS program coordinator NOFAs, and has made progress in implementing the FSS program demonstrated by having completed activities in each of the categories in section 2 of the required Attachment A certification of this NOFA. Subject to the availability of funds, the eligible PHAs funded in FY 1999 or FY 2000 will receive 103 percent of the latest of its FY 1999 or FY 2000 funding (not to exceed $60,000) unless the PHA requests a higher or lower amount. All awards are subject to the cap of $60,000 per full time FSS program coordinator position. HUD will not provide FY 2001 funding to any PHA that received Rental Certificate/Housing Choice Voucher FSS Program Coordinator funding in FY 1999 or FY 2000 that does not comply with all of the above requirements.

(2) PHAs, including state and regional PHAs, that did not receive Rental Certificate/Housing Choice Voucher FSS program coordinator funding in either FY 1999 or FY 2000, are eligible to apply under this NOFA if the PHA has a HUD-approved FSS Action Plan authorizing the PHA to administer a Rental Certificate/Housing Choice Voucher FSS program of at least 25 FSS slots. PHAs with HUD approval to administer Rental Certificate/Housing Choice Voucher FSS programs of fewer than 25 slots may also apply if they apply jointly with one or more other PHAs so that between or among the PHAs they have HUD approval to administer at least 25 Rental Certificate/Housing Choice Voucher FSS slots. If PHAs apply jointly, the $60,000 maximum amount that may be requested applies to each full time coordinator position in the application as a whole, not to each PHA separately. Joint applicants must specify a lead co-applicant which will receive and administer the FSS program coordinator funding.

(3) State and regional PHAs that are eligible under (1) or (2) of this section may also apply for up to one additional Rental Certificate/Housing Choice Voucher FSS program coordinator for each portion of their jurisdiction where they have HUD approval to operate a Rental Certificate/Housing Choice Voucher FSS program of at least 25 slots.

(4) PHAs that are eligible applicants under (1), (2) or (3) of this section, with HUD approval to operate a Rental Certificate/Housing Choice Voucher FSS program of 100 or more slots may apply for one Rental Certificate/Housing Choice Voucher FSS program coordinator for each 50 HUD approved Rental Certificate/Housing Choice Voucher FSS slots above the first 50 approved slots in the PHA's Rental Certificate/Housing Choice Voucher FSS program. A state or regional PHA that has applied under this NOFA for FSS coordinators in different parts of its jurisdiction may apply for additional coordinators in any area where it is authorized to operate a Rental Certificate/Housing Choice Voucher program of 100 or more slots. In each of these areas, the PHA may apply for up to one additional coordinator for each 50 HUD approved Rental Certificate/Housing Choice Voucher Program FSS slots above the first 50 slots in the PHA's Rental Certificate/Housing Choice Voucher FSS Program.

(C) Eligible Activities. Funds are available to PHAs under this NOFA to employ or otherwise retain the services of Rental Certificate/Housing Choice Voucher FSS program coordinators for one year. A part-time Rental Certificate/Housing Choice Voucher FSS program coordinator may be retained where appropriate. In the Rental Certificate/Housing Choice Voucher FSS program, PHAs are required to use rental assistance under the Rental Certificate and Housing Choice Voucher programs together with public and private resources to provide supportive services to enable participating families to achieve economic independence and self-sufficiency. Effective delivery of supportive services is a critical element in a successful FSS program. The FSS program supports the Department's objective of helping poor and disadvantaged families and individuals become self-sufficient and develop assets. The program provides critical tools that can be used by communities to support welfare reform and help families develop new skills that will lead to increased wages and self sufficiency.

IV. Program Requirements

(A) Program Coordinator Role. PHAs administering the FSS program use program coordinating committees (PCCs) to assist them to secure resources and implement the FSS program. The PCC is made up of representatives of local government, job training and employment agencies, local welfare agencies, educational institutions, child care providers, nonprofit service providers, and businesses.

An FSS program coordinator works with the PCC and with local service providers to assure that program participants are linked to the supportive services they need to achieve self-sufficiency. The FSS program coordinator may ensure, through case management, that the services included in participants' contracts of participation are provided on a regular, ongoing and satisfactory basis, and that participants are fulfilling their responsibilities under the contracts.

(B) Staffing Guidelines. Under normal circumstances, a full-time FSS program coordinator should be able to serve approximately 50 FSS participants, depending on the coordinator's case management functions.

(C) Other Requirements. In addition to the civil rights compliance and nondiscrimination requirements listed in the General Section of this SuperNOFA, PHAs must meet the following program requirements:

(1) Affirmatively Furthering Fair Housing. Each successful applicant will have a duty to affirmatively further fair housing. After the application is approved, applicants will be required to identify the specific steps that they will take to (a) address the elimination of impediments to fair housing that were identified in the jurisdiction's Analysis of Impediments (AI) to Fair Housing Choice; (b) remedy discrimination in housing; or (c) promote fair housing rights and fair housing choice. Further, applicants have a duty to carry out the specific activities cited in their responses in a manner which will affirmatively further fair housing.

V. Application Selection Process

The funds available under this NOFA are not being awarded on a competitive basis. The Department anticipates that there will be sufficient funds available under the NOFA to fund all applications that meet the NOFA requirements. Applications will be reviewed by the Grants Management Center (GMC) to determine whether or not they are technically adequate based on the NOFA requirements. Categories of applications that will not be funded are stated in section VII(B) of this NOFA.

All technically adequate applications will be funded to the extent funds are available. If HUD receives applications for funding greater than the amount made available under this NOFA, HUD will fund eligible applicants as follows: Applications will be divided into three categories of funding priority:

Priority 1—Applications from PHAs, including state and regional PHAs, for continuation of the position most recently funded under either the FY 1999 for FY 2000 FSS NOFA.

Priority 2—Priority 2 will consist of:

(a) Applications for up to one initial FSS coordinator position from PHAs that were not funded under the FY 1999 and FY 2000 FSS NOFAs including, for state and regional PHAs with HUD approval to operate FSS programs in different parts of their jurisdictions, up to one FSS coordinator position per area where they are authorized to operate a Rental Certificate/Housing Choice Voucher FSS program of at least 25 FSS slots.

(b) Applications from Priority 1 state and regional PHAs for up to one full time FSS program coordinator position in any area where they are authorized to operate a Rental Certificate/Housing Choice Voucher FSS program of at least 25 FSS slots, but have not received funding under this NOFA for a full time FSS program coordinator position for the area.

Priority 3—Applications for one or more additional FSS coordinators submitted by PHAs eligible for funding in Priority 1 and 2 categories above with HUD approval to operate a Rental Certificate/Housing Choice Voucher FSS program of 100 or more slots.

HUD will first fund all eligible Priority 1 applications to continue funding for up to one full time Rental Certificate/Housing Choice Voucher FSS program coordinator. If funding remains, HUD will then provide funding to eligible Priority 2 applicants for up to one Rental Certificate/Housing Choice Voucher FSS program coordinator position per PHA, or in the case of state and regional PHAs up to one full time coordinator for each area where they are authorized to operate a Rental Certificate/Housing Choice Voucher program of at least 25 slots. If there is insufficient funding for all Priority 2 applicants, funding will be awarded to applicants in Rental Certificate/Housing Choice Voucher program size order starting from the PHAs with the smallest total combined Rental Certificate/Housing Choice Voucher programs first. Rental Certificate/Housing Choice Voucher program size will be determined by HUD using baseline data developed by the Department. If there are not sufficient monies to fund all applications from Priority 2 PHAs with the same combined Rental Certificate/Housing Choice Voucher program size, funding will be provided based on the size of the PHA's Rental Certificate/Housing Choice Voucher FSS program, reflected in the PHA's HUD-approved Rental Certificate/Housing Choice Voucher FSS Action Plan, starting with the largest approved Rental Certificate/Housing Choice Voucher FSS program first.

If monies remain after funding all eligible Priority 2 applications, Priority 3 applications will be funded for up to the full number of additional FSS coordinator slots for which the PHA is eligible and which it has requested in its application. If there are not sufficient monies to fund all eligible Priority 3 applicants, applications will be funded in two stages. In stage 1, PHAs will first be sorted into three categories by HUD-approved FSS program size as follows: (a) PHAs with HUD approval to operate Rental Certificate/Housing Choice Voucher FSS programs of 1,000 or more slots; (b) PHAs with HUD approval to operate Rental Certificate/Housing Choice Voucher FSS programs of 500 to 999 slots; and (c) PHAs with approval to operate Rental Certificate/Housing Choice Voucher FSS programs of 100 to 499 slots. In determining the FSS program size of a state or regional PHA that operates FSS programs in more than one area of their jurisdiction, the total number of approved slots for the entire PHA FSS program will be used to determine the appropriate size category for Priority 3 funding. HUD will then determine if there is sufficient funding to provide each eligible PHA with 1,000 or more slots with up to 5 additional coordinators, PHAs with 500 to 999 slots with three additional coordinators and PHAs with 100 to 499 slots with 1 additional coordinator. If not, HUD will begin awarding funding requests from the PHAs with the largest HUD-approved FSS programs first.

If after funding all eligible positions requested in stage 1 funding remains, HUD will begin funding remaining applications in a second stage for up to the full number of positions each PHA is eligible to receive and has requested starting with the PHAs with the largest size HUD-approved FSS program first. In stage 2, state and regional PHAs approved to operate FSS programs may receive the full amount of eligible positions requested in each part of their jurisdiction where they are approved to operate a program of 100 or more FSS slots. If insufficient funding is available to fund for each separate area where the state or regional PHA operates the FSS program, the PHA may decide how the total funding available in stage 2 will be divided among the areas where it operates its FSS program.

If there is insufficient money remaining to fully fund the last application funded in any of the above priority categories, HUD will provide residual funding to that application in an amount less than the amount requested by the PHA, unless the PHA is unwilling to accept the lower amount.

If funding remains after all eligible applications submitted in response to this NOFA are funded, the Grants Management Center will use any funding still available through the end of FY 2001 to fund applications submitted after the due date of this NOFA that meet all other requirements of this NOFA. These applications will be funded on a first-come, first-serve basis through September 30, 2001 as long as funds are available.

VI. Application Submission Requirements

(A) Application Requirement for PHAs that Received FY 1999 or FY 2000 FSS Program Coordinator Funding. Each PHA that received funding for a Rental Certificate/Housing Choice Voucher FSS program coordinator under one of the FY 1999 NOFAs or under the FY 2000 FSS NOFA that wishes to receive funding under this NOFA must complete a certification in the format shown as “Attachment A” of this NOFA, and must include all information required in “Attachment A” of this FSS NOFA. The completed Attachment A certification along with the Fair Housing Certification (Attachment C of this NOFA) and the Certification Regarding Lobbying (Attachment D of this NOFA) constitute the entire PHA application for funding under this section. These certifications must be submitted to the GMC by the due date to be eligible for the initial round of funding under this NOFA.

(B) Request for FSS Program Coordinator Funds by Eligible PHAs that were not Funded in FY 1999 or FY 2000. PHAs that did not receive funding under the FY 1999 or FY 2000 FSS Program Coordinator NOFAs must complete a certification in the format shown as “Attachment B” of this FSS NOFA and must include all information required in Attachment B. The completed Attachment B certification along with the Fair Housing Certification (Attachment C of this NOFA) and the Certification Regarding Lobbying (Attachment D of the NOFA) constitute the entire PHA application for funding under this section. These certifications must be submitted to the GMC by the due date to be considered for funding for the initial round of funding under this NOFA.

(C) Fair Housing Certification and Certification Regarding Lobbying. All PHAs applying for funding under this NOFA must submit the Certification Regarding Fair Housing and Equal Opportunity which is included as Attachment C of this NOFA and the Certification Regarding Lobbying which is Attachment D of this NOFA.

VII. Corrections to Deficient Applications

(A) Acceptable Applications. The General Section of the SuperNOFA provides the procedures for corrections to deficient applications.

(B) Unacceptable Applications

(1) After the 14-calendar day technical deficiency correction period (as provided in the General Section), the GMC will disapprove PHA applications that it determines are not acceptable for processing under the initial round of funding. The HUD notification of rejection letter must state the basis for the decision.

(2) Applications from PHAs that fall into any of the following categories are ineligible for funding under this NOFA and will not be processed:

(a) An application from a PHA that is not an eligible PHA under III.(B) of this NOFA or an application that does not comply with the requirements of VI. of this NOFA.

(b) An application from a PHA that does not meet the requirements of fair housing and civil rights compliance requirements of Section II(B) of the SuperNOFA.

(c) An application from a PHA that at the end of the 14-calendar day technical correction period has not made progress satisfactory to HUD in resolving serious outstanding Inspector General audit findings, or serious outstanding HUD management review or independent public accountant (IPA) audit findings for one or more of the following programs: Housing Choice Voucher, Rental Certificate or Moderate Rehabilitation. Serious program management findings are those that would cast doubt on the capacity of the PHA to administer its Rental Certificate/Housing Choice Voucher programs in accordance with applicable HUD regulatory and statutory requirements.

(d) The application was not submitted to the official place of receipt as indicated in the paragraph entitled “Address for Submitting Applications” at the beginning of this announcement.

(e) The applicant has been debarred or otherwise disqualified from providing assistance under the program.

(3) Otherwise eligible applications that are not received by the due date of this NOFA will not be funded unless funds remain available after all eligible applications received by the due date have been funded. If at that time all the funding under this NOFA has not been awarded, then otherwise eligible applications received after the due date will be funded on a first come, first serve basis through the end of FY 2001, as long as funding remains available. If more than one such application is received at the same date and time, the application from the PHA with the smallest combined Rental Certificate/Housing Choice Voucher program will be funded first.

VIII. Environmental Requirements

No environmental review is required in connection with the award of assistance under this NOFA, because the NOFA only provides funds for employing a coordinator that provides public and supportive services, which are categorically excluded from environmental review under the National Environmental Policy Act of 1969 (42 U.S.C. 4321) and not subject to compliance actions for related environmental authorities under 24 CFR 50.19(b)(4) and (12).

IX. Authority

The Departments of Veterans Affairs and Housing and Urban Development and Independent Agencies Appropriations Act, 2001 (Pub.L. 106-377, approved October 27, 2000) allows funding for program coordinators under the Rental Certificate/Housing Choice Voucher FSS program. As a result, the Department determined to make a sufficient amount available under this NOFA, under Part 984, in accordance with section 984.302(b), to enable PHAs to employ one or more Rental Certificate/Housing Choice Voucher FSS program coordinator for one year at a reasonable cost as determined by the PHA and HUD, based on salaries for similar positions in the locality.

Attachment A—Required Certification Format for FY 2001 Rental Certificate/Housing Choice Voucher FSS Program Coordinator Funding for PHAs That Received Funding Under a FY 1999 or FY 2000 Rental Certificate/Housing Choice Voucher FSS Program Coordinator NOFA

Mr. Michael E. Diggs, Director, Grants Management Center, 501 School Street, Suite 800, Washington, DC 20024

Dear Mr. Diggs: In connection with the FY 2001 NOFA for Rental Certificate/Housing Choice Voucher FSS program coordinators, I hereby certify for the ___ (enter PHA name. For joint applications, please indicate the names of all co-applicants and identify the lead PHA that received and administered funds received under the FY 1999 or FY 2000 NOFA.) that:

(1) The PHA received funding under the FY ___ FSS program coordinator NOFA (enter either FY 1999 or FY 2000 as appropriate), continues to operate an FSS program and has hired (Enter name of coordinator) as its FSS program coordinator at a salary of (Enter salary amount) using HUD funds provided for that purpose on ___ (enter the most recent ACC effective date for funding received by the PHA under the Rental Certificate/Housing Choice Voucher FY 1999 or FY 2000 FSS program coordinator funding increment), and

(2) The PHA has (check all that apply):

__ (a) Formed and convened an FSS program coordinating committee,

__ (b) Obtained HUD approval of its FSS action plan,

__ (c) Executed contracts of participation with FSS participants.

(3) The PHA is/is not (indicate appropriate choice) a state or regional PHA operating separate Rental Certificate/Housing Choice Voucher FSS programs in more than one part of its jurisdiction.

(4) Total number of Rental Certificate/Housing Choice Voucher FSS program slots based on the number of FSS slots (both voluntary and mandatory) identified in the PHA's HUD-approved Action Plan OR, when PHAs are applying jointly, the combined total of Rental Certificate/Housing Choice Voucher FSS program slots in the HUD-approved Action Plans of the PHAs: ___. (A State or regional PHA applying for coordinator positions for programs operated in different parts of its jurisdiction must identify below in (7) each area where it is authorized to operate a program and the number of slots approved for each area.)

(5) Total Number of Rental Certificate/Housing Choice Voucher program coordinator positions requested under the FY 2001 Rental Certificate/Housing Choice Voucher FSS NOFA: ___.

(6) Rental Certificate/Housing Choice Voucher FSS Program Coordinator Salary level requested under this NOFA to continue the FSS program coordinator position that was funded under the FY 1999 or FY 2000 FSS NOFA based on salaries for comparable jobs: ___.

(7) (If applicable) Rental Certificate/Housing Choice Voucher FSS program coordinator salary level for each position requested, based on comparables, for any Rental Certificate/Housing Choice Voucher FSS program coordinator positions other than the position described in (6) above. (State/regional agencies applying for one or more positions in more than one location in their jurisdiction, must provide information in the format below for each location where positions are requested. If positions for the location are at different Salary levels, indicate the number of positions at each Salary level. Location: __ # of approved slots: __ # of positions requested: __ Salary: __)

(8) Evidence demonstrating salary comparability to similar positions in the local jurisdiction for each of the above positions is on file at the PHA.

If there are any questions, please contact ___ at ___

Sincerely,

Executive Director

Attachment B—Required Format for Certification from PHAs that Did Not Receive Rental Certificate/Housing Choice Voucher FSS Program Coordinator Funding under FY 1999 or FY 2000 NOFAs

Mr. Michael E. Diggs, Director, Grants Management Center, 501 School Street, Suite 800, Washington, DC 20024

Dear Mr. Diggs: In connection with the FY 2001 NOFA for FSS program coordinators, this is a request for funds to pay the salary of ___ (Enter number of positions) Rental Certificate/Housing Choice Voucher FSS program coordinators for one year. I hereby certify for the ___ (Enter PHA name. For joint applications, indicate the names of all co-applicants and identify the lead PHA that will receive and administer the funding requested under this NOFA.) that:

1. The total number of HUD-approved Rental Certificate/Housing Choice Voucher FSS program slots (both voluntary and mandatory) identified in the PHAs HUD-Approved FSS Action Plan OR when PHAs are applying jointly, the combined total of Rental Certificate/Housing Choice Voucher FSS program slots in the HUD-approved Action plans of the PHAs: __

2. The PHA is/is not (indicate appropriate choice) a State or regional PHA operating separate Rental Certificate/Housing Choice Voucher FSS programs in more than one part of its jurisdiction.

3. Rental Certificate/Housing Choice Voucher FSS Program Coordinator salary level for each position requested based on salaries for comparable jobs. (If funding is being requested by a state or regional PHA for one or more positions in more than one location in their jurisdiction, the PHA must provide information in the format below for each location where positions are requested. If positions for the location are at different Salary levels, indicate the number of positions at each Salary level. Location: __ # of approved FSS slots: __ # of positions requested: __ Salary: __)

4. Evidence demonstrating salary comparability to similar position in the local jurisdiction is on file in the PHA office.

If there are any questions, please contact __ at __.

Sincerely,

Executive Director

Attachment C—Fair Housing and Equal Opportunity Certifications

The housing agency (PHA) certifies that in administering the funding for the Rental Certificate/Housing Choice Voucher Family Self-Sufficiency program coordinators it will comply with the requirements of the Fair Housing Act, Title VI of the Civil Rights Act of 1964, section 504 of the Rehabilitation Act of 1973, and the Age Discrimination Act of 1975, and will affirmatively further fair housing. CDBG recipients also must certify to compliance with section 109 of the Housing and Community Development Act.

Name of PHA

Signature and Title of PHA Representative

Date

Attachment D—Certification Regarding Lobbying

The undersigned certifies, to the best of his or her knowledge and belief, that:

(1) No Federal appropriated funds have been paid or will be paid, by or on behalf of the undersigned, to any person for influencing or attempting to influence an officer or employee of any agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

(2) If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans and cooperative agreements) and that all subrecipients shall certify and disclose accordingly.

This certification is a material representation of fact upon which reliance was placed when this transaction was made or entered into. Submission of this certification is a prerequisite for making or entering into this transaction imposed by section 1342, title 31, U.S. Code. Any person who fails to file the required certification shall be subject to a civil penalty of not less than $10,000 and not more than $100,000 for each such failure.

Signature of PHA Representative

Name of PHA

Name of Signatory (Print or Type)

Date signed

BILLING CODE 4210-32-P

FUNDING AVAILABILITY FOR EARLY DOCTORAL STUDENT RESEARCH GRANT PROGRAM

Program Overview

Purpose of the Program. To help eligible doctoral students cultivate their research skills through the preparation of research manuscripts that focus on housing and urban development issues.

Available Funds. Approximately $150,000.

Eligible Applicants: Only pre-dissertation Ph.D. students whose studies include urban economics as a major or concentration within another field related to housing and urban development.

Application Deadline. April 26, 2001.

Match. None.

Additional Information

I. Application Due Date, Application Kits, Further Information, and Technical Assistance

Application Due Date. Your completed application is due on or before 12:00 midnight, Eastern Time on April 26, 2001. You should read the General Section of the SuperNOFA because it contains more detailed information about the application due date.

Address for Submitting Applications. Your completed application consists of an original signed application and an electronic copy of the application. If you are submitting your application by mail, you should send it to the following address: University Partnerships Clearinghouse, Aspen Systems Corporation, Mail Stop 5B, 2277 Research Blvd., Rockville, MD 20850. If you are hand-delivering your application on or before the due date, you should deliver it to Room 8110 during normal business hours or to the South Lobby after these hours and before midnight. You should read the General Section of the SuperNOFA because it contains more detailed information on submission deadlines. Please mark on the envelope for your application that it is for the Early Doctoral Student Research Grant Program.

HUD will accept only one application per doctoral student.

For Application Kits. The application requirements are contained in this program NOFA. There is no separate application kit for the program.

For Further Information and Technical Assistance. You may contact Jane Karadbil of HUD's Office of University Partnerships at 202-708-1537, extension 5918. If you have a hearing or speech impairment, you may access this number via TTY by calling the Federal Information Relay Service toll-free at 1-800-877-8339. You may also write to Ms. Karadbil via email at Jane_R._Karadbil@hud.gov.

II. Amount Allocated

Approximately $150,000 in FY 2001 funds is being made available under this SuperNOFA for Early Doctoral Student Research Grant Program (EDSRG).

The maximum grant period is 12 months. The performance period will commence on the effective date of the grant agreement.

The maximum amount to be requested by and awarded to a doctoral student is $15,000. HUD reserves the right to make awards for less than the maximum amount or less than the amount requested in your application.

III. Program Description; Eligible Applicants; Eligible Activities

(A) Program Description. The purpose of the EDSRG is to enable doctoral students to cultivate their research skills through the preparation of research manuscripts that focus on policy-relevant housing and urban development issues. The program will also provide a forum for new scholars to share their research findings through presentation of this research to a scholarly conference and/or publication in a refereed journal. The FY 2001 EDSRG Program seeks to fund research studies that will inform Federal problem-solving and policy making relating to HUD's policy priorities for this year. These priorities are:

(1) Economic development in “untapped” markets—e.g., studies of reinvestment pressures; efforts to create or expand businesses while meeting the needs of under-served inner-city, older suburb, or rural areas; expansion of access to capital; joint ventures with community-based organizations;

(2) Development of inner cities—e.g., studies of reinvestment pressures; theories of capital/land/market failure that explain why vast areas of many cities have essentially lain dormant or suffered depopulation and/or disinvestment; government policies or market interventions that would alleviate these patterns;

(3) Issues in housing finance—e.g., institutional barriers to efficiency in the housing finance system; enabling the housing finance system to better serve low-income and minority borrowers more effectively; the present and future role of FHA in housing finance;

(4) Affordability of rental housing—e.g., policy and program options in tight or “hot” markets; innovative partnerships or finance; impacts on very-low-income families; preservation of existing housing stock;

(5) Homeownership—e.g., relative importance of factors in tenure decisions; estimation of private and social benefits and costs of homeownership; role in household savings and investment decisions; effects of demographics, macro-economic environment, and government policies on homeownership;

(6) Regionalism and “Smart Growth”—e.g., the economic interdependence of cities and suburbs; connecting the disadvantaged to metropolitan resources; sustainable growth attentive to the economy, the environment, and social equity; rehabilitation and infill development; fiscal disparity issues; and regional problem-solving and coalition building;

(7) Housing markets—e.g., factors affecting rents, home values, tenure, vacancy rates, market absorption of new units, construction activity;

(8) Housing stock—e.g., durability of stock; factors determining rehabilitation and remodeling; comparisons with stock in other developed countries;

(9) Workforce development through the roles of place-based initiatives, community-based organizations, educational institutions, and housing providers—e.g., roles; impacts and effectiveness; links to welfare-to-work; emerging models;

(10) Fair housing—e.g., effectiveness of local initiatives; emerging models; links to schooling or other services; zoning and land use; political management and coalition building; NIMBY-ism; effect on low-income families; gentrification; housing choice; environmental justice;

(11) Housing needs of the elderly and persons with disabilities—e.g., availability; design and quality; affordability; accessibility; linked services; aging in place;

(12) Community development and community building—e.g., impacts and effectiveness; faith-based and higher education community building efforts; emerging models; challenges and pitfalls;

(13) Home equity conversion mortgages (HECMs)—e.g., impact of HECMS on social welfare, availability of housing for younger families, effect on optimal aggregate debt to housing equity ratio as the population ages;

(14) Evaluation of existing housing programs—e.g., opting out of Section 8 project-based contracts, cost-benefit analyses of alternative methods for providing housing assistance; and

(15) Evaluation of college/community partnerships focused on community and economic development and methods for institutionalizing these partnerships at colleges and universities.

(B) Eligible Applicants. You must meet the following requirements:

(1) You must be a currently enrolled and full-time student in an accredited doctoral program at an accredited institution of higher education;

(2) You must have urban economics as your major field or as a concentration within a major in another field related to housing and urban development;

(3) You must not have taken your preliminary/comprehensive examinations;

(4) You must have completed at least two semesters or three terms of your doctoral studies program (depending on the course structure of the institution); and

(5) You must have been assigned a faculty advisor to supervise your research manuscript.

You must provide documentation from the chair of your department that you meet all of these conditions and that in his/her opinion it is realistic to believe that the research manuscript can be completed within the one-year grant period. In addition, you and your institution must meet all the applicable threshold requirements found in Section II(B) of the General Section of the SuperNOFA.

(C) Eligible Activities. Your grant must support direct costs incurred in the timely completion of a research manuscript. Eligible costs include stipends, computer software, the purchase of data, travel expenses to collect data; transcription services, and compensation for interviews. Three thousand dollars of the grant will be held back until you have completed your research manuscript and either it has been accepted for presentation at a conference or for publication in a refereed journal by September 30, 2002, or a committee of three faculty members (including your faculty sponsor, as the principal investigator of the grant) has determined and certified to HUD that the manuscript is of high quality and worthy of submission to conferences or journals.

(D) Ineligible Activities. Your grant may not be used to pay for tuition, computer hardware, or meals.

(E) Other Requirements. (1) Support from your university. Support from your university is required. Such support might include tuition waivers, office space, equipment, computer time, or similar items you might need in order to complete your dissertation. This support may not replace support or assistance that your institution would otherwise provide you.

(2) University sponsorship. The university shall enter into a Grant Agreement with HUD that provides for payment of the grant by HUD to the university and from the university to the approved applicant, and that further provides all required certifications and assurances. The university shall agree to provide as the Principal Investigator under the Grant Agreement a dissertation advisor or chair of the applicant's dissertation committee who shall supervise the work of the applicant under the Grant Agreement.

(3) Progress reporting. You will be required to submit a report, half way through your grant, on the progress you have made towards completion of the research manuscript and the likelihood that you will complete it on time.

IV. Application Selection Process

HUD will conduct two types of review: a threshold review to determine your eligibility to apply; and a technical review to rate your application based on the rating factors in this section.

(A) Threshold Factors for Funding Consideration. Under this threshold review, your application can only be rated if the following standards are met:

(1) You are an eligible doctoral student, as defined in Section III(B) above and have provided a letter from your department chair, in the format in Appendix A, confirming this;

(2) You have requested no more than the grant maximum of $15,000; and

(3) Your institution has agreed to provide some support to you as part of this grant.

(B) Factors for Award Used to Evaluate and Rate Applications. The factors for rating and ranking applicants, and maximum points for each factor, are provided below. The maximum number of points for this program is 100.

Rating Factor 1: Relevance of Your Research Manuscript to the Department's Mission and Research Priorities (35 points)

In reviewing this factor, HUD will determine the extent to which your research manuscript will produce policy-relevant information that is directly related to one of the research priorities listed above (i.e., the research that will be produced could have an effect on HUD's strategic goals and HUD's programs and policies to achieve these goals—see the HUD web site at http://www.hud.gov/reform/strpln.html for a discussion of these goals The less directly related to one of these topics your research is, the less points you will receive. For example, a study of minorities' housing choice decisions would have high relevance to HUD's strategic goals; a study of transportation inequities would have medium relevance; and a study of the effects of global warming on urban development would have low relevance.

Rating Factor 2: Quality of Your Research Design (35 points)

In reviewing this factor, HUD will determine the extent to which your research design and methodology are likely to produce data and information that will successfully answer your research hypotheses. HUD will also evaluate the extent to which the methodology you propose to use is sound and generally accepted by the relevant research community. Reviewers will be looking at the extent to which you use standard methodological practices in line with research already completed or existing publications in the field related to your research questions.

Rating Factor 3: Your Skills and Preparation and the Furtherance of Them (20 points)

In reviewing this factor, HUD will determine the extent to which:

(1) Your skills and experience are relevant to your proposed research manuscript (e.g., course work, teaching, research projects, presentations);

(2) You have undertaken appropriate preparation (e.g., preliminary design of the survey collection instruments, pre-clearance on interviews) to undertake the dissertation; and

(3) Your proposed research will help to further your research skills (i.e, it is relevant to the kinds of projects you will continue to work on as you earn your Ph.D.).

Rating Factor 4: Timely Completion and Issuance of Your Research Manuscript (10 points)

In reviewing this factor, HUD will determine the extent to which your research design and methodology and plan for completion of your research manuscript can feasibly be completed within the one-year grant period and the likelihood that, either by September 30, 2002, the manuscript will be presented at a conference or for publication in a refereed journal by September 30, 2002, or a small committee of three faculty members can certify that the manuscript is high quality and worthy of submission to conferences or refereed journals. Applications that propose extremely complex and time-consuming data collection efforts (e.g., major longitudinal studies or a very large number of sites visits within the grant period) will determined to be less feasible of completion within the allowed time frame. For example, if you propose a methodology based on information that may not be publicly available until after the end of the grant period (e.g., Census information), or a data collection plan that will take longer than the time you have allowed for it, you will get a lower score than if you have presented a time line and methodology that show evidence that the research project can be completed within the grant period.

(C) Selections. In order to be funded, you must receive a minimum score of 70 points. HUD will fund applications in rank order, until it has awarded all available funds. If two or more applications have the same number of points, the application with the most points for Factor 1, Relevance to HUD's Mission, shall be selected. If there is still a tie, the application with the most points for Factor 2, Quality of the Research Design, shall be selected.

After all application selections have been made, HUD may require that you participate in negotiations to determine the specific terms of the Statement of Work and the grant budget. In cases where HUD cannot successfully complete negotiations, or you fail to provide HUD with requested information, an award will not be made. In such instances, HUD may elect to offer an award to the next highest ranking applicant, and proceed with negotiations with that applicant.

V. Application Submission Requirements

You should include an original and one computer disk (in Word 6.0 or higher) of the items listed below. In order to be able to recycle paper, please do not submit applications in bound form; binder clips or loose leaf binders are acceptable. Also, please do not use colored paper. Please note the page limits for some of the items listed below and do not exceed them.

Your application must contain the items listed in this section and they must be included in the order shown here. There is no separate application kit for this program. These items include the standard forms, certifications, and assurances listed in the General Section of the SuperNOFA that are applicable to this funding (collectively referred to as the “standard forms”). The standard forms can be found in Appendix B to the General Section of the SuperNOFA. The remaining application, referred to as the “non-standard forms,” can be found as Appendix A to this program section of the SuperNOFA. Sample documents are also included in this appendix. The items are as follows:

(A) SF-424, Application for Federal Assistance. Include the name and address of the person authorized to execute the grant agreement in Block 5. Include the institution's tax ID number in Block 6. The Catalogue of Federal Domestic Assistance number for the program is 14.517. The form should be signed by the appropriate university official.

(B) Table of contents of the application.

(C) Transmittal Letter, from you, containing the following information:

(1) Title of your research project;

(2) Your name, university and home addresses, university and home telephone numbers, facsimile numbers, and email address;

(3) Your university's name, department, mailing address, telephone and facsimile numbers.

(4) Your faculty advisor's name, address, telephone and facsimile numbers—this person will serve as the Principal Investigator for the grant.

(D) A statement from your department chair that you have met all the eligibility criteria described in Section III(B) (see Appendix A for a sample).

(E) A statement from the appropriate official that describes your university's support, as described in Section III(E) (see Appendix B for a sample).

(F) An abstract of 500 words or less that addresses the following topics:

(1) Specific purpose of the dissertation;

(2) Methodology being used; and

(3) How you meet the eligibility criteria.

(G) A narrative of the proposed research, not to exceed 5 double-spaced typed pages. This narrative must include the following items in the following order:

(1) Statement of the problem;

(2) Research design and methodology;

(3) Policy relevance of the research;

(4) Your resume including educational background, research experience, background in statistics and empirical research, computer experience, and background in housing and/or urban studies.

(H) A proposed budget (See Appendix C for a sample).

(I) Certifications. These forms must be signed by the doctoral candidate and can be downloaded from the HUD web site at www.hud.gov.

(1) HUD-2992, Certification regarding debarment and suspension pursuant to 24 CFR part 24.

(2) HUD-50071, Disclosure of lobbying pursuant to 24 CFR part 87.

(3) HUD-50070, Certification of Drug-Free Workplace, pursuant to 24 CFR 24.600 et seq.

(J) Acknowledgment of Receipt of Applications (HUD-2993). If you wish to confirm that HUD received your application, please complete this form. This form is optional.

VI. Environmental Requirements

The provision of assistance under this program is categorically excluded from environmental review under the National Environmental Policy Act of 1969 (42 U.S.C. 4321) and not subject to compliance actions for related environmental authorities under § 50.19(b)(1) and (b)(9).

VII. Authority

This program is being undertaken under HUD's research authority under Title V of the Housing and Urban Development Act of 1970.

Appendices A, B and C

The non-standard sample forms and letters, which follow, are required for your Early Doctoral Student Research Grant application.

Appendix A—Sample Statement From Advisor

March 10, 2001

To Whom It May Concern: Jane Jones is a doctoral student at Northern State University. As of the date of this letter her major field of study is (e.g., planning, public policy, urban studies) with a concentration in urban economics. She has completed three terms of her doctoral coursework and has not yet taken her comprehensive examinations. An advisor has been assigned to her for the work she would do under this grant. It is realistic to expect that the proposed research manuscript will be completed within the one-year grant period and either accepted for presentation at a scholarly conference and/or publication in a refereed journal by September 30, 2002, or certified by a faculty committee that it is worthy of being submitted for presentation or publication.

Sincerely,

Dr. Peter Paul, Professor and Chair, Department of City Planning

Appendix B—Sample Description of University Support

March 9, 2001

To Whom It May Concern: John Grey is a doctoral student in the Planning Department at Eastern University, working on a research manuscript titled “The Economics of Smart Growth.” Office space, computer hardware, software for preparing statistical summaries, a research library, and several bibliographic databases will be available to Mr. Grey without charge to the grant for which he is applying.

Prof. Bradley Street, Department of Geography, Dissertation Committee Chair

Appendix C—Budget Instructions

A sample budget for an application is shown below. The categories of expenses shown do not necessarily apply to all applications, and some applications may have expense categories not shown. The sample is representative, not binding.

“The Economics of Smart Growth”

John Jones, 621 Elm Street, Academia, USA 12345, March 10, 2000

Services:
Applicant (J. Jones):
___days @ $___/day | = | $ | x,xxx
Other professionals:
A. Smith, ___ days @ $___/day | = | $ | xx,xxx
B. Brown, ___days @ $___/day | = | $ | xxx
Clerical:
C. Johnson, ___ days @ $___/day | = | $ | xxx
Subtotal, service | = | $ | xx,xxx
Other:
Travel: ___ trips @ $___/trip | = | $ | x,xxx
Computer usage | = | $ | xxx
Reproduction costs | = | $ | xxx
Phone, mailing, misc. materials | = | $ | xxx
Subtotal, other | = | $ | x,xxx
Total estimated cost | = | $ | xx,xxx

BILLING CODE 4210-32-P

FUNDING AVAILABILITY FOR DOCTORAL DISSERTATION RESEARCH GRANT PROGRAM

Program Overview

Purpose of the Program. To assist Ph.D. candidates complete their research and dissertations on housing and urban development issues.

Available Funds. Approximately $600,000.

Eligible Applicants. Only Ph.D. candidates who have completed all of their doctoral program requirements except the preparation of the dissertation.

Application Deadline. April 26, 2001.

Match. None.

Additional Information

I. Application Due Date, Application Kits, Further Information, and Technical Assistance

Application Due Date. Your completed application is due on or before 12:00 midnight, Eastern Time on April 26, 2001. You should read the general section of the SuperNOFA because it contains more detailed information about the application due date.

Address for Submitting Applications. Your completed application consists of an original signed application and an electronic copy of the application. If you are submitting your application by mail, you should send it to the following address: University Partnerships Clearinghouse, Aspen Systems Corporation, Mail Stop 5B, 2277 Research Blvd., Rockville, MD 20850. If you are hand-delivering your application on or before the due date, you should deliver it to Room 8110 during normal business hours or to the South Lobby after these hours and before midnight. You should read the General Section of the SuperNOFA because it contains more detailed information on submission deadlines. Please mark on the envelope for your application that it is the Doctoral Dissertation Research Grant Program.

HUD will accept only one application per Ph.D. candidate.

For Application Kits. The application requirements are contained in this program NOFA. There is no separate application kit for the program.

For Further Information and Technical Assistance. You may contact Jane Karadbil of HUD's Office of University Partnerships at 202-708-1537, extension 5918. If you have a hearing or speech impairment, you may access this number via TTY by calling the Federal Information Relay Service toll-free at 1-800-877-8339. You may also write to Ms. Karadbil via email at Jane_R._Karadbil@hud.gov.

II. Amount Allocated

Approximately $600,000 in FY 2001 funds is being made available under this SuperNOFA for the Doctoral Dissertation Research Grant Program (DDRG).

The maximum grant period is 24 months. The performance period will commence on the effective date of the grant agreement.

The maximum amount to be requested by and awarded to a Ph.D. candidate is $30,000. HUD reserves the right to make awards for less than the maximum amount or less than the amount requested in your application.

III. Program Description; Eligible Applicants; Eligible Activities

(A) Program Description. The purpose of DDRG is to enable Ph.D. candidates enrolled at accredited institutions of higher education to complete their research and dissertations on HUD-related housing and urban development issues. The FY 2001 DDRG program seeks to fund dissertations that will inform Federal problem-solving and policy making relating to HUD's policy priorities for this year. These priorities are:

(1) Economic development in “untapped” markets—e.g., efforts to create or expand businesses while meeting the needs of under-served inner-city, older suburb, or rural areas; expansion of access to capital; joint ventures with community-based organizations;

(2) Development of inner cities—e.g., studies of reinvestment pressures; theories of capital/land/market failure that explain why vast areas of many cities have essentially lain dormant or suffered depopulation and/or disinvestment patterns; government policies or market interventions that would alleviate these patterns;

(3) Issues in housing finance—e.g., institutional barriers to efficiency in the housing finance system; enabling the housing finance system to better serve low-income and minority borrowers more effectively; the present and future role of FHA in housing finance;

(4) Affordability of rental housing—e.g., policy and program options in tight or “hot” markets; innovative partnerships or finance; impacts on very-low-income families; preservation of existing housing stock;

(5) Homeownership—e.g., relative importance of factors in tenure decisions; estimation of private and social benefits and costs of homeownership; role in household savings and investment decisions; effects of demographics, macro-economic environment, and government policies on homeownership;

(6) Regionalism and “Smart Growth”—e.g., the economic interdependence of cities and suburbs; connecting the disadvantaged to metropolitan resources; sustainable growth attentive to the economy, the environment, and social equity; rehabilitation and infill development; fiscal disparity issues; and regional problem-solving and coalition building;

(7) Housing markets—e.g., factors affecting rents, home values, tenure, vacancy rates, market absorption of new units, construction activity;

(8) Housing stock—e.g., durability of stock; factors determining rehabilitation and remodeling; comparisons with stock in other developed countries;

(9) Workforce development through the roles of place-based initiatives, community-based organizations, educational institutions, and housing providers—e.g., roles; impacts and effectiveness; links to welfare-to-work; emerging models;

(10) Fair housing—e.g., effectiveness of local initiatives; emerging models; links to schooling or other services; zoning and land use; political management and coalition building; NIMBY-ism; effect on low-income families; gentrification; housing choice; environmental justice;

(11) Housing needs of the elderly and persons with disabilities—e.g., availability; design and quality; affordability; accessibility; linked services; aging in place;

(12) Community development and community building—e.g., impacts and effectiveness; faith-based and higher education community building efforts; emerging models; challenges and pitfalls;

(13) Home equity conversion mortgages (HECMs)—e.g., impact of HECMS on social welfare, availability of housing for younger families, effect on optimal aggregate debt to housing equity ratio as the population ages;

(14) Evaluation of existing housing programs—e.g., opting out of Section 8 project-based contracts, cost-benefit analyses of alternative methods for providing housing assistance; and

(15) Evaluation of college/community partnerships focused on community and economic development and methods for institutionalizing these partnerships at colleges and universities.

(B) Eligible Applicants. You must be a currently enrolled and matriculating student who has been accepted into candidacy in an accredited doctoral program at an accredited institution of higher education and have a fully developed and approved dissertation proposal. You must provide documentation from your dissertation committee chair that:

(1) By the application due date, your dissertation proposal has been accepted by your full dissertation committee and you have been assigned a dissertation advisor;

(2) By September 1, 2001, you will have satisfactorily completed all other written and oral Ph.D. requirements, including all your examinations and defense of your proposal, except the dissertation; and

(3) It is realistic to believe that the dissertation can be completed within the two-year grant period.

In addition, you and your institution must meet all the applicable threshold requirements found in Section II(B) of the General Section of the SuperNOFA.

(C) Eligible Activities. Your grant must support direct costs incurred in the timely completion of a dissertation. Eligible costs include stipends, computer software, the purchase of data, travel expenses to collect data; transcription services, and compensation for interviews. Six thousand dollars of the grant will be held back until you have completed your dissertation, had it approved by your committee, and submitted it to HUD.

(D) Ineligible Activities. Your grant may not be used to pay for tuition, computer hardware, or meals.

(E) Other Requirements. (1) Support from your university. Support from your university is required. Such support might include tuition waivers, office space, equipment, computer time, or similar items you might need in order to complete your dissertation. This support may not replace support or assistance that your institution would otherwise provide you.

(2) University sponsorship. The university shall enter into a Grant Agreement with HUD that provides for payment of the grant by HUD to the university and from the university to the approved applicant, and that further provides all required certifications and assurances. The university shall agree to provide as the Principal Investigator under the Grant Agreement a dissertation advisor or chair of the applicant's dissertation committee who shall supervise the work of the applicant under the Grant Agreement.

(3) Progress reporting. You will be required to submit a report, at the end of the first year of your grant, on the progress you have made towards completion of the dissertation and the likelihood that you will complete it on time.

IV. Application Selection Process

HUD will conduct two types of review: a threshold review to determine your eligibility to apply; and a technical review to rate your application based on the rating factors in this section.

(A) Threshold Factors for Funding Consideration. Under this threshold review, your application can only be rated if the following standards are met:

(1) You are an eligible Ph.D. candidate, as defined in Section III(B) above and have provided a letter from your dissertation committee chair, in the format in Appendix A, confirming this;

(2) You have requested no more than the $30,000 grant maximum; and

(3) Your institution has agreed to provide some support to you as part of this grant.

(B) Factors for Award Used to Evaluate and Rate Applications. The factors for rating and ranking applicants, and maximum points for each factor, are provided below. The maximum number of points for this program is 100.

Rating Factor 1: Relevance of Your Dissertation to the Department's Mission and Research Priorities (35 points)

In reviewing this factor, HUD will determine the extent to which your dissertation will produce policy-relevant information that is directly related to one of the research priorities listed above (i.e., the research that will be produced could have an effect on HUD's strategic goals and HUD's programs and policies to achieve these goals—see the HUD web site at http://www.hud.gov/reform/strpln.html for a discussion of these goals). The less directly related to one of these topics your dissertation is, the less points you will receive. For example, a study of minorities' housing choice decisions would have high relevance to HUD's strategic goals; a study of transportation inequities would have medium relevance; and a study of the effects of global warming on urban development would have low relevance.

Rating Factor 2: Quality of Your Research Design (35 points)

In reviewing this factor, HUD will determine the extent to which your research design and methodology are likely to produce data and information that will successfully answer your research hypotheses. HUD will also evaluate the extent to which the methodology you propose to use is sound and generally accepted by the relevant research community. Reviewers will be looking at the extent to which you use standard methodological practices in line with research already completed or existing publications in the field related to your research questions.

Rating Factor 3: Your Skills and Preparation (20 points)

In reviewing this factor, HUD will determine the extent to which your skills and experience are relevant to your proposed dissertation (e.g., course work, teaching, research projects, presentations). HUD will determine the extent to which you have undertaken appropriate preparation (e.g., selecting sites for data collection, identifying potential interviewees and categories of interviewees, pre-clearance on interviews) to undertake the dissertation. HUD will also determine the extent to which your previous research experience (e.g., graduate-level research projects, presentations at conferences, publications, etc.) is relevant to and supportive of your proposed dissertation

Rating Factor 4: Timely Completion of Your Dissertation (10 points)

In reviewing this factor, HUD will determine the extent to which your research design and methodology and plan for completion of the dissertation can be completed within the two-year grant period. Applications that propose extremely complex and time-consuming data collection efforts (e.g., major longitudinal studies or a very large number of sites visits within the two year grant period) will be determined to be less feasible of completion within the allowed time frame. For example, if you propose a methodology based on information that may not be publicly available until after the end of the two-year grant period (e.g., Census information), or a data collection plan that will take longer than the time you have allowed for it, you will get a lower score than if you have presented a time line and methodology that show evidence that the dissertation can be completed within the grant period.

(C) Selections. In order to be funded, you must receive a minimum score of 70 points. HUD will fund applications in rank order, until it has awarded all available funds. If two or more applications have the same number of points, the application with the most points for Factor 1, Relevance to HUD's Mission, shall be selected. If there is still a tie, the application with the most points for Factor 2, Quality of the Research Design, shall be selected.

After all application selections have been made, HUD may require that you participate in negotiations to determine the specific terms of the Statement of Work and the grant budget. In cases where HUD cannot successfully complete negotiations, or you fail to provide HUD with requested information, an award will not be made. In such instances, HUD may elect to offer an award to the next highest ranking applicant, and proceed with negotiations with that applicant.

V. Application Submission Requirements

You should include an original and one computer disk (in Word 6.0 or higher) of the items listed below. In order to be able to recycle paper, please do not submit applications in bound form; binder clips or loose leaf binders are acceptable. Also, please do not use colored paper. Please note the page limits for some of the items listed below and do not exceed them.

Your application must contain the items listed in this section and they must be included in the order shown here. There is no separate application kit for this program. These items include the standard forms, certifications, and assurances listed in the General Section of the SuperNOFA that are applicable to this funding (collectively referred to as the “standard forms”). The standard forms can be found in Appendix B to the General Section of the SuperNOFA. The remaining application, referred to as the “non-standard forms,” can be found as Appendix A to this program section of the SuperNOFA. Sample documents are also included in this appendix. The items are as follows:

(A) SF-424, Application for Federal Assistance. Include the name and address of the person authorized to execute the grant agreement in Block 5. Include the institution's tax ID number in Block 6. The Catalogue of Federal Domestic Assistance number for the program is 14.516. The form should be signed by the appropriate university official.

(B) Table of contents of the application.

(C) Transmittal Letter, from you, containing the following information:

(1) Title of your dissertation;

(2) Your name, university and home addresses, university and home telephone and facsimile numbers, and email address;

(3) Your university's name, department, mailing address, telephone and facsimile numbers.

(4) Your dissertation advisor's name, address, telephone and facsimile numbers—this person will serve as the Principal Investigator for the grant.

(D) A statement from your dissertation advisor or chair of the dissertation committee that you have met all the eligibility criteria described in Section III(B) (see Appendix A for a sample).

(E) A statement from the appropriate official that describes your university's support, as described in Section III(E) (see Appendix B for a sample).

(F) An abstract of 500 words or less that addresses the following topics:

(1) Specific purpose of the dissertation;

(2) Methodology being used; and

(3) How you meet the eligibility criteria.

(G) A narrative of the proposed research, not to exceed 10 double-spaced typed pages. Do not submit your dissertation proposal itself. This narrative must include the following in the following order:

(1) Statement of the problem;

(2) Research design and methodology;

(3) Policy relevance of the research;

(4) Your resume including educational background, research experience, publications, background in statistics and empirical research, computer experience, and background in housing and/or urban studies.

(H) A proposed budget (See Appendix C for a sample).

(I) Certifications. These forms must be signed by the doctoral candidate and can be downloaded from the HUD web site at www.hud.gov.

(1) HUD-2992, Certification regarding debarment and suspension pursuant to 24 CFR part 24.

(2) HUD-50071, Disclosure of lobbying pursuant to 24 CFR part 87.

(3) HUD-50070, Certification of Drug-Free Workplace, pursuant to 24 CFR 24.600 et seq.

(J) Acknowledgment of Receipt of Applications (HUD-2993). If you wish to confirm that HUD received your application, please complete this form. This form is optional.

VI. Environmental Requirements

The provision of assistance under this program is categorically excluded from environmental review under the National Environmental Policy Act of 1969 (42 U.S.C. 4321) and not subject to compliance actions for related environmental authorities under § 50.19(b)(1) and (b)(9).

VII. Authority

This program is being undertaken under HUD's research authority under Title V of the Housing and Urban Development Act of 1970.

Appendices A, B and C

The non-standard sample forms and letters, which follow are required for your Doctoral Dissertation Research Grant application.

Appendix A—Sample Statement From Advisor

March 10, 2001

To Whom It May Concern: John Jones, Ph.D. candidate in urban studies at Northern State University, as of the date of this letter, he will have defended his dissertation proposal, it has been formally approved by the dissertation committee, and a dissertation advisor has been assigned to him. In addition, he will have completed all written and oral Ph.D. examination requirements by September 1, 2001. It is realistic to believe that Mr. Jones' dissertation can be completed within a two-year period.

Sincerely,

Dr. Peter Paul, Professor of Urban Studies and Chairman of John Jones' Dissertation Committee

Appendix B—Sample Description of University Support

March 9, 2001

To Whom It May Concern: Sarah Grey is a Ph.D. student in the Geography Department of Eastern University, working on a dissertation titled “Redevelopment Practices in Lower Manhattan.” Office space, computer hardware, software for preparing statistical summaries, a research library, and several bibliographic databases will be available to Ms. Grey without charge to the grant for which she is applying.

Sincerely,

Prof. Bradley Street, Department of Geography, Dissertation Committee Chair

Appendix C—Budget Instructions

A sample budget for an application is shown below. The categories of expenses shown do not necessarily apply to all applications, and some applications may have expense categories not shown. The sample is representative, not binding.

“A Study of Faith-Based Organizations's Effectiveness in Local Community Development Projects”

John Jones, 621 Elm Street, Academia, USA 12345, March 10, 2000

Services:
Applicant (J. Jones):
___days @ $___/day | = | $ | x,xxx
Other Professionals:
A. Smith,___days @ $___/day | = | $ | xx,xxx
B. Brown,___days @ $___/day | = | $ | xxx
Clerical:
C. Johnson,___days @ $___/day | = | $ | xxx
Subtotal, service | = | $ | xx,xxx
Other:
Travel:___trips @ $___/day | = | $ | x,xxx
Computer usage | = | $ | xxx
Reproduction costs | = | $ | xxx
Phone, mailing, misc. materials | = | $ | xxx
Subtotal, Other | = | $ | x,xxx
Total Estimated Cost | = | $ | xx,xxx

BILLING CODE 4210-32-P

FUNDING AVAILABILITY FOR HUD URBAN SCHOLARS FELLOWSHIP PROGRAM

Program Overview

Purpose of the Program. To provide encouragement to new scholars to undertake research now, and throughout their careers, on research topics of interest to HUD.

Available Funds. Approximately $550,000.

Eligible Applicants: Only Ph.D.s who have an academic appointment at an institution of higher education and have received their Ph.D.s no earlier than January 1, 1996.

Application Deadline. June 5, 2001.

Match. University support in terms of course load reductions, indirect costs waived, space, etc. are required.

Additional Information

I. Application Due Date, Application Kits, Further Information, and Technical Assistance

Application Due Date. Your completed application must be received on or before 5:00 pm Eastern time, on June 5, 2001.

Address for Submitting Applications. Your completed application consists of an original signed application, which can be submitted in hard copy or electronically. Submit your completed application to the following address: The Fellowship Office/HUD TJ 2041, National Research Council, 2101 Constitution Avenue, N.W., Washington, DC 20418. Please mark on the envelope for your application that it is the HUD Urban Scholars Fellowship Program.

HUD will accept only one application for an applicant.

For Application Kits. An application kit can be obtained by calling or writing the Fellowship Office/HUD, TJ 2041, National Research Council, 2101 Constitution Avenue, N.W., Washington DC 20418, telephone number 202-334-2872 and facsimile number 202-334-3419. The application kit can be downloaded from the Internet at

http://national-academies.org/osep/fo.

For Further Information and Technical Assistance. You may call the above number. You may also write to NAS via e-mail at infofell@nas.edu.

II. Amount Allocated

Approximately $550,000 in FY 2001 funds is being made available under this SuperNOFA for the HUD Urban Scholars Fellowship Program.

The maximum grant period is 15 months. The performance period will commence on the effective date of the grant agreement.

The maximum amount to be requested by and awarded to an applicant is $55,000. NAS reserves the right to make awards for less than the maximum amount or less than the amount requested in your application.

III. Program Description; Eligible Applicants; Eligible Activities

(A) Program Description. The purposes of the HUD Urban Scholars Program are to:

(1) Fund research relevant to HUD priorities and issues;

(2) Provide encouragement to new scholars to undertake research now, and for the rest of their careers, on research topics of interest to HUD; and

(3) Have an impact on the academic context in which these scholars work so that this kind of research becomes highly valued. The research priorities for the HUD Urban Scholars Program are designed to inform Federal problem-solving and policy making relating to HUD's strategic goals for this year.

Listed below are these goals and examples of research topics. Proposals are not limited to these example topics but should, in any case, relate to one of the HUD strategic goals listed below.

Goal #1, Improving Community Quality of Life and Economic Vitality

(1) Economic development in “untapped” markets—e.g., efforts to create or expand businesses while meeting the needs of under-served inner-city, older suburb, or rural areas; expansion of access to capital; joint ventures with community-based organizations.

(2) Evaluation of college/community partnerships focused on community and economic development and methods for institutionalizing these partnerships at colleges and universities.

(3) Development of inner cities—e.g., studies of reinvestment pressures; theories of capital/land/market failure that explain why vast areas of many cities have essentially lain dormant or suffered depopulation or disinvesment; government policies or market interventions that would alleviate these patterns.

(4) Regionalism and “Smart Growth—e.g., the economic interdependence of cities and suburbs; connecting the disadvantaged to metropolitan resources; sustainable growth attentive to the economy, the environment, and social equity; rehabilitation and infill development; fiscal disparity issues; and regional problem-solving and coalition building.

(5) Community development and community building—e.g., impacts and effectiveness; faith-based and higher education community building efforts; emerging models; challenges and pitfalls.

(6) Understanding the basic processes of urban demographic, social, and/or political change.

Goal #2, Promoting Self-sufficiency and Asset Development by Families and Individuals

(1) Workforce development through the roles of placed-based initiatives, education providers, community-based organizations, educational institutions, and housing providers—e.g., roles; impacts and effectiveness; links to welfare-to-work; one-stop shops; emerging models.

(2) Home equity conversion mortgages (HECMs)—e.g., impact of HECMS on social welfare, availability of housing for younger families, effect on optimal aggregate debt to housing equity ratio as the population ages.

(3) Strategies to combat homelessness—e.g., effective models, causes; links to welfare-to-work and affordable housing; issues of and responses to youth homelessness.

Goal #3, Increasing the Availability of Decent, Safe, and Affordable Housing in American Communities

(1) Housing finance—e.g., institutional barriers to efficiency in the housing finance system; enabling the housing finance system to better serve low-income and minority borrowers more effectively; the present and future role of FHA in housing finance.

(2) Affordability of rental housing—e.g., policy and program options in tight or “hot” markets; innovative partnerships or finance; impacts on very-low-income families; preservation of existing housing stock.

(3) Homeownership—e.g., relative importance of factors in tenure decisions; estimation of private and social benefits and costs of homeownership; role in employment, household savings, and investment decisions; effects of demographics, macro-economic environment, and government policies on homeownership.

(4) Housing markets—e.g., factors affecting rents, home values, tenure, vacancy rates, market absorption of new units, construction activity.

(5) Housing stock—e.g., durability of stock; factors determining rehabilitation and remodeling; comparisons with stock in other developed countries.

(6) Housing needs of the elderly and persons with disabilities—e.g., availability; design and quality; affordability; accessibility; linked services; aging in place.

(7) Evaluation of existing housing programs—e.g., opting out of Section 8 project-based contracts, cost-benefit analyses of alternative methods for providing housing assistance.

Goal #4, Ensuring Equal Opportunity in Housing for All Americans

(1) Fair housing—e.g., effectiveness of local initiatives; emerging models; links to schooling or other services; gentrification; housing choice; environmental justice; zoning and land use; political management and coalition building; NIMBY-ism; effect on low-income families.

(2) Discrimination in housing and lending—e.g., methods to detect discrimination; systemic patterns and practices.

(3) Concentration of poverty—e.g., impact of housing strategies; effective strategies to promote deconcentration.

(B) Eligible Applicants. You must have your Ph.D. and meet the following conditions:

(1) You must have an academic appointment with an institution of higher education. This means that you must either be on a tenure track or be on a term (teaching or research) appointment that will extend beyond the 15-month duration of this fellowship;

(2) You must have received your Ph.D. no earlier than January 1, 1996;

(3) It is realistic to believe that your proposed research project can be completed within the 15-month fellowship period; and

(4) You must have support from your institution as attested to in the letter described below in Section III(E)(1).

In addition, you must meet all the applicable threshold requirements found in Section II(B) of the General Section of the SuperNOFA.

(C) Eligible Activities. Your grant must support costs related to completion of your research project. Eligible costs include, but are not limited to, your salary for two summers, graduate assistants to work on the project, up to $2,500 per course for the cost of employing a replacement for the course(s) your university relieves you from teaching, computer software, survey development and administration, the purchase of data, travel expenses to collect data or to make presentations at meetings on your findings; transcription services, compensation for interviews; and no more than eight (8) percent of the university's indirect costs.

(D) Ineligible Activities. Your grant may not be used to pay for tuition, computer hardware, meals, relocation costs, or other costs not directly related to your research project. Fellowship funding cannot be used to substitute for university funding.

(E) Other Requirements. (1) Support from your university. Support from your university is required. Institutions will be required to contribute, at a minimum, the following:

(a) Designating a faculty advisor to monitor your progress on your research project;

(b) Office space, computer usage, etc.; and

(c) Waived indirect costs above the eight percent allowed to be covered by this fellowship. In addition, your application will be viewed more favorably if your institution agrees to reduce your course load by at least one course per term or semester, but to continue paying you your full salary.

(2) Progress reporting. You will be required to submit a report, halfway through your fellowship, on the progress you have made towards completion of the research project and the likelihood that you will complete it on time.

(3) Mentors. You will be required to work with a mentor on your research project. The mentor, who can be someone in your institution or elsewhere, should be a well-respected scholar in the area of your research topic. The mentor will be expected to provide you with advice and direction on substantive research issues. The mentor and the faculty monitor described above can be, but do not have to be, the same person.

IV. Application Selection Process

The competition and selection process for this program will be run by the National Academy of Sciences (NAS). NAS will conduct two types of review: a threshold review to determine your eligibility to apply; and a technical review to rate your application based on the rating factors in this section.

(A) Threshold Factors for Funding Consideration. Under this threshold review, your application can only be rated if the following standards are met:

(1) You are eligible to apply for this program, as defined in Section III(B) above and have provided a letter from department chair confirming this;

(2) You have obtained a mentor and have included a letter from this person confirming this and describing his/her role in your research;

(3) Your institution has agreed to provide some support to you, above that provided by this funding, as part of this grant.

(B) Factors for Award Used to Evaluate and Rate Applications. The factors for rating and ranking applicants, and maximum points for each factor, are provided below. The maximum number of points for this program is 100.

Rating Factor 1: Appropriateness of Your Methodology and Approach to the Topic (25 points)

In reviewing this factor, NAS will determine the extent to which your research design and methodology are likely to produce data and information that will successfully answer your research hypotheses. NAS will also evaluate the extent to which the methodology you propose to use is sound and generally accepted by the relevant research community. Reviewers will be looking at the extent to which you use standard methodological practices in line with research already completed or existing publications in the field related to your research questions.

Rating Factor 2: Ability of Your Research Project To Add to the Knowledge Base of the Topic To Be Studied (20 points)

In reviewing this factor, NAS will determine the extent to which your proposed project undertakes research on an area not covered by previous research or proposes to look at a previously studied research topic in a new and different way. Reviewers will look the clarity and compellingness of the case the applicant makes for this project in the context of the existing literature and knowledge base for that topic.

Rating Factor 3: Relevance of Your Research to HUD's Strategic Goals (15 points)

In reviewing this factor, NAS will determine the extent to which your proposed research project will produce policy-relevant information that is directly related to one of the strategic goals listed above (i.e., the research could have an effect on one of the goals and on HUD's programs and policies to achieve these goals). More information can be found about these goals by going to the HUD web site at http://www.hud.gov/reform/strpln.html. The less directly related to one of these goals your research project is, the less points you will receive. For example, a study of minorities' housing choice decisions would have high relevance to HUD's strategic goals; a study of transportation inequities would have medium relevance; and a study of the effects of global warming on urban development would have low relevance.

Rating Factor 4: Your Skills and Preparation (15 points)

In reviewing this factor, NAS will determine the extent to which your training, past employment, and past written work, such as your dissertation, teaching, coursework, and previously completed research papers that were accepted for presentation or publication, lay a foundation for this proposed work.

Rating Factor 5: Commitment of the University (10 points)

In reviewing this factor, NAS will determine the extent of the commitment of your university, beyond that required in Section III(E)(1). The quality of your institution's commitment, in terms of its furthering your research project will also be evaluated under this factor. For example, your university could propose to cover the cost of a graduate assistant to work on your research project in order to demonstrate its commitment beyond what is required of it. The larger the commitment, translated into dollar terms, the higher the points. Full points can only be received if your institution agrees to reduce your course load by one course a semester or term but to continue paying you your full salary.

Rating Factor 6: Timely Completion of Your Research Project (10 points)

In reviewing this factor, NAS will determine the extent to which your research design and methodology and plan for completion of your research project can feasibly be completed within the fifteen-month fellowship period. Applications that propose extremely complex and time-consuming data collection efforts (e.g., major longitudinal studies or a very large number of sites visits within the grant period) will determined to be less feasible of completion within the allowed time frame. For example, if you propose a methodology based on information that may not be publicly available until after the end of the grant period (e.g., Census information), or a data collection plan that will take longer than the time you have allowed for it, you will get a lower score than if you have presented a time line and methodology that show evidence that the research project can be completed within the grant period.

Rating Factor 7: Quality of the Mentoring Plan (5 points)

In reviewing this factor, NAS will determine the appropriateness of the person chosen to be your mentor (in terms of his/her previous work (e.g., research, publications, presentations, standing in the research community) and availability) and the role the mentor has agreed to play in your project. The higher the time commitment the mentor makes to you, the higher points your will receive.

(C) Selections. NAS will fund applications in rank order, until it has awarded all available funds. However, as noted in Section II, NAS reserves the right to make awards for less than the amount requested in your application. After all application selections have been made, NAS may require that you participate in negotiations to determine the specific terms of the fellowship and the grant budget. In cases where NAS cannot successfully complete negotiations, or you fail to provide NAS with requested information, an award will not be made. In such instances, NAS may elect to offer an award to the next highest ranking applicant, and proceed with negotiations with that applicant.

V. Application Submission Requirements

You should include an original or electronic copy of your application. Please note the page limits for some of the items listed below and do not exceed them.

The application kit made available by NAS will include, but may not be limited to, the following items:

(A) Applicant information including:

(1) Title of your research project;

(2) Your name, university and home addresses, university and home telephone and facsimile numbers, and e-mail address;

(3) Your university's name, department, mailing address, telephone and facsimile numbers.

(4) Your advisor's name, address, telephone and facsimile number, and e-mail address;

(5) Your mentor's name, address, telephone and facsimile number, and e-mail address;

(6) Evidence of being eligible to apply because you received your Ph.D. no earlier than January 1, 1996;

(7) Your graduate and post-graduate educational background.

(B) A letter from the chair of your department that you have met all the eligibility criteria described in Section III(B).

(C) A letter from the appropriate official that describes your university's support, as described in Section III(E).

(D) A letter from your mentor stating his/her qualifications to be your mentor, his/her proposed role in your research project, and his/her availability to be your mentor.

(E) A one-page abstract of your research project.

(F) A narrative of the proposed research, not to exceed 10 double-spaced typed pages. This narrative must include the following in the following order:

(1) Statement of the problem;

(2) Research design and methodology;

(3) Policy relevance of the research;

(4) How the research will add to the current knowledge base.

(G) A working bibliography of your proposed project.

(H) An annotated bibliography, e.g., a two- or three-sentence annotation for ten to twelve key sources in your working bibliography.

(I) List of your publications: books, refereed journal articles, chapters contributed to books, articles in published proceedings, and any other articles.

(J) List of text and poster presentations made during the last five years.

(K) A one-page abstract of your dissertation.

(L) Grants and awards received during the last five years.

(M) Teaching load during the last five years.

(N) Two letters of reference.

(O) A proposed budget.

(P) Certifications. These forms must be signed by the applicant and can be downloaded from the HUD web site at www.hud.gov.

(1) HUD-2992, Certification regarding debarment and suspension pursuant to 24 CFR part 24.

(2) HUD-50071, Disclosure of lobbying pursuant to 24 CFR part 87.

(3) HUD-50070, Certification of Drug-Free Workplace, pursuant to 24 CFR 24.600 et seq.

VI. Environmental Requirements

The provision of assistance under this program is categorically excluded from environmental review under the National Environmental Policy Act of 1969 (42 U.S.C. 4321) and not subject to compliance under related environmental authorities under 24 CFR 50.19(b)(1) and (b)(9).

VII. Authority

This program is being undertaken under HUD's research authority under Title V of the Housing and Urban Development Act of 1970 (Pub.L. 91-609).

[FR Doc. 01-4310 Filed 2-23-01; 8:45 am]

BILLING CODE 4210-32-P